DEPARTMENT OF THE TREASURY

Office of Foreign Assets Control

31 CFR Chapter V

Alphabetical Listing of Blocked Persons, Specially Designated Nationals, Specially Designated Terrorists, Specially Designated Global Terrorists, Foreign Terrorist Organizations, and Specially Designated Narcotics Traffickers

AGENCY: Office of Foreign Assets Control, Treasury.

ACTION: Amendment of final rule.

SUMMARY: The Treasury Department is amending appendix A to 31 CFR chapter V to (1) reflect the addition or removal, since it was last published, of the names of individuals and entities subject to the various economic sanctions programs administered by the Treasury's Office of Foreign Assets Control and (2) provide updated identifying and clarifying information for certain individuals and entities included in the appendix. The Treasury Department also is amending the notes to the appendices to 31 CFR chapter V to reflect the revisions to appendix A and changes in the status of several programs.

DATES: Effective Date: May 20, 2004.

FOR FURTHER INFORMATION CONTACT: Office of Foreign Assets Control, Department of the Treasury, Washington, DC 20220, tel.: 202/622-2520.

SUPPLEMENTARY INFORMATION:

Electronic and Facsimile Availability

This file is available for download without charge in ASCII and Adobe Acrobat readable (*.PDF) formats at GPO Access. GPO Access supports HTTP, FTP, and Telnet at fedbbs.access.gpo.gov. It may also be accessed by modem dialup at 202/512-1387 followed by typing “/GO/FAC.” Paper copies of this document can be obtained by calling the Government Printing Office at 202-512-1530. Additional information concerning the programs of the Office of Foreign Assets Control is available for download from the Office's Internet Home Page at: http://www.treas.gov/ofac or via FTP at ofacftp.treas.gov. Facsimiles of information are available through the Office's 24-hour fax-on-demand service: call 202/622-0077 using a fax machine, a fax modem, or (within the United States) a touch-tone telephone.

Background

Appendix A to 31 CFR chapter V contains the names of blocked persons, specially designated nationals, specially designated terrorists, specially designated global terrorists, foreign terrorist organizations, and specially designated narcotics traffickers designated pursuant to the various economic sanctions programs administered by the Office of Foreign Assets Control (“OFAC”). This appendix is periodically amended to reflect the names of individuals and entities added to, or removed from, the list. This appendix also is periodically amended to provide updated identifying and clarifying information, as well as alternative spellings and additional aliases, for certain individuals and entities included on the list.

Note 7 to the appendices to chapter V of Title 31 of the Code of Federal Regulations states, in relevant part, that frequently updated information on OFAC designations is provided for examination or downloading on OFAC's Internet site (http://www.treas.gov/ofac). Among other data, the internet site posts changes in designations and identifying information, and provides country-by-country lists of names. Information is also available by fax through OFAC's fax-on-demand system at 202/622-0077 and on various information systems serviced by OFAC. Updated information on OFAC designations should be consulted before engaging in transactions subject to the economic sanctions programs in chapter V.

Appendix A of chapter V of Title 31 of the Code of Federal Regulations conforms to the format used on OFAC's website to present the information on Specially Designated Nationals and Blocked Persons. This amendment reflects the complete list of persons identified in OFAC's Specially Designated Nationals and Blocked Persons list as of April 13, 2004. Changes after that date are not reflected in this document.

Because the regulations involve a foreign affairs function, Executive Order 12866 and the provisions of the Administrative Procedure Act (5 U.S.C. 553), requiring notice of proposed rulemaking, opportunity for public participation, and delay in effective date, are inapplicable. Because no notice of proposed rulemaking is required for this rule, the Regulatory Flexibility Act (5 U.S.C. 601-612) does not apply.

For the reasons set forth in the preamble, and under the authority of 3 U.S.C. 301; 50 App. U.S.C. 1-44; 21 U.S.C. 1901-1908; 8 U.S.C. 1189; 18 U.S.C. 2339B; 22 U.S.C. 287c; 31 U.S.C. 321(b); 50 U.S.C. 1601-1651; 50 U.S.C. 1701-1706; E.O. 12543, 51 FR 875, 3 CFR, 1986 Comp., p. 181; E.O. 12544, 51 FR 1235, 3 CFR, 1986 Comp., p. 183; E.O. 12722, 55 FR 31803, 3 CFR, 1990 Comp., p. 294; E.O. 12724, 55 FR 33089, 3 CFR, 1990 Comp., p. 297; E.O. 12865, 58 FR 51005, 3 CFR, 1993 Comp., p. 636; E.O. 12947, 60 FR 5079, 3 CFR, 1995 Comp., p. 319; E.O. 12978, 60 FR 54579, 3 CFR, 1995 Comp., p. 415; E.O. 13067, 62 FR 59989, 3 CFR, 1997 Comp., p. 230; E.O. 13088, 63 FR 32109, 3 CFR, 1998 Comp., p. 191; E.O. 13098, 63 FR 44771, 3 CFR, 1998 Comp., p. 206; E.O. 13099, 63 FR 45167, 3 CFR, 1998 Comp., p. 208; E.O. 13219, 66 FR 34777, 3 CFR, 2001 Comp., p. 778; E.O. 13224, 66 FR 49079, 3 CFR, 2001 Comp., p. 786; E.O. 13268, 67 FR 44751, 2002 Comp., p. 240; E.O. 13288, 68 FR 11457, March 10, 2003; E.O. 13304, 68 FR 32315, May 29, 2003; E.O. 13310, 68 FR 44853, July 30, 2003; E.O. 13315, 68 FR 52315, Sept. 3, 2003; the notes to the Appendices to 31 CFR chapter V and Appendix A to 31 CFR chapter V are amended as set forth below:

1. The notes to the Appendices to 31 CFR chapter V are amended by revising note 6 to read as follows:

Appendices to Chapter V

* * * * *

6. References to regulatory parts in chapter V or other authorities:

[BALKANS]: Western Balkans Stabilization Regulations, part 588;

[BURMA]: Executive Order 13310, 68 FR 44853, July 30, 2003;

[CUBA]: Cuban Assets Control Regulations, part 515;

[FTO]: Foreign Terrorist Organizations Sanctions Regulations, part 597;

[IRAQ]: Iraqi Sanctions Regulations, part 575;

[IRAQ2]: Executive Order 13315, 68 FR 52315, Sept. 3, 2003;

[LIBYA]: Libyan Sanctions Regulations, part 550;

[NKOREA]: Foreign Assets Control Regulations, part 500;

[SDGT]: Global Terrorism Sanctions Regulations, part 594;

[SDNT]: Narcotics Trafficking Sanctions Regulations, part 536;

[SDNTK]: Foreign Narcotics Kingpin Sanctions Regulations, part 598;

[SDT]: Terrorism Sanctions Regulations, part 596;

[SUDAN]: Sudanese Sanctions Regulations, part 538;

[ZIMB]: Executive Order 13288, 68 FR 11457, Mar. 10, 2003.

* * * * *

Appendix A—[Amended]

2. Appendix A to 31 CFR chapter V is revised to read as set forth below:

Appendix A to Chapter V—Alphabetical Listing of Blocked Persons, Specially Designated Nationals, Specially Designated Terrorists, Specially Designated Global Terrorists, Foreign Terrorist Organizations, and Specially Designated Narcotics Traffickers (as of April 13, 2004)

7TH APRIL CARD BOARD FACTORY, Tajoura, Libya [LIBYA]

17 NOVEMBER (a.k.a. REVOLUTIONARY ORGANIZATION 17 NOVEMBER; a.k.a. EPANASTATIKI ORGANOSI 17 NOEMVRI) [FTO][SDGT]

32 COUNTY SOVEREIGNTY COMMITTEE (a.k.a. 32 COUNTY SOVEREIGNTY MOVEMENT; a.k.a. IRISH REPUBLICAN PRISONERS WELFARE ASSOCIATION; a.k.a. REAL IRA; a.k.a. REAL IRISH REPUBLICAN ARMY; a.k.a. REAL OGLAIGH NA HEIREANN; a.k.a. RIRA) [FTO][SDGT]

32 COUNTY SOVEREIGNTY MOVEMENT (a.k.a. 32 COUNTY SOVEREIGNTY COMMITTEE; a.k.a. IRISH REPUBLICAN PRISONERS WELFARE ASSOCIATION; REAL IRA; a.k.a. REAL IRISH REPUBLICAN ARMY; a.k.a. REAL OGLAIGH NA HEIREANN; a.k.a. RIRA) [FTO][SDGT]

2000 DOSE E.U. (a.k.a. DOMA E M), Calle 31 No. 1-34, Cali, Colombia; NIT # 805015749-3 (Colombia) [SDNT]

2000-DODGE S.L., Calle Gran Via 80, Madrid, Madrid, Spain; C.I.F. B83149955 (Spain) [SDNT]

2904977 CANADA, INC. (a.k.a. CARIBE SOL; a.k.a. HAVANTUR CANADA INC.), 818 rue Sherbrooke East, Montreal, Quebec H2L 1K3, Canada [CUBA]

A RAHMAN, Mohamad Iqbal (a.k.a. ABDURRAHMAN, Abu Jibril; a.k.a. ABDURRAHMAN, Mohamad Iqbal; a.k.a. ABU JIBRIL; a.k.a. RAHMAN, Mohamad Iqbal; a.k.a. MUQTI, Fihiruddin; a.k.a. MUQTI, Fikiruddin); POB Tirpas-Selong Village, East Lombok, Indonesia; nationality Indonesian (individual) [SDGT]

A. BORTOLOTTI & CO. S.P.A. (a.k.a. BORTOLOTTI), Cremona, Italy [LIBYA]

A. BORTOLOTTI & CO. S.P.A. (a.k.a. BORTOLOTTI), Via Predore, 59, 24067 Sarnico, Bergamo, Italy [LIBYA]

A.I.C. COMPREHENSIVE RESEARCH INSTITUTE (a.k.a. AUM SHINRIKYO; a.k.a. A.I.C. SOGO KENKYUSHO; a.k.a. ALEPH; a.k.a. AUM SUPREME TRUTH) [FTO][SDGT]

A.I.C. SOGO KENKYUSHO (a.k.a. AUM SHINRIKYO; a.k.a. A.I.C. COMPREHENSIVE RESEARCH INSTITUTE; a.k.a. ALEPH; a.k.a. AUM SUPREME TRUTH) [FTO][SDGT]

A.T.E. INTERNATIONAL LTD. (f.k.a. RWR INTERNATIONAL COMMODITIES), 3 Mandeville Place, London, England [IRAQ]

A.W.A. ENGINEERING LIMITED, 3 Mandeville Place, London, England [IRAQ]

ABAS, Nasir (a.k.a. “Khairuddin;” a.k.a. “Soliman;” a.k.a. ABAS, Mohamad Nasir; a.k.a. BIN ABAS, Mohammed Nasir; a.k.a. BIN ABAS, Sulaiman); DOB 6 May 1969; nationality Malaysian (individual) [SDGT]

ABASTECEDORA NAVAL Y INDUSTRIAL, S.A. (a.k.a. ANAINSA), Panama [CUBA]

ABAUNZA MARTINEZ, Javier; member ETA; DOB 1 Jan 1965; POB Guernica (Vizcaya Province), Spain; D.N.I. 78.865.882 (individual) [SDGT]

ABBAS, Abdul Hussein, Italy (individual) [IRAQ]

ABBAS, Abu (a.k.a. ZAYDAN, Muhammad); Director of PALESTINE LIBERATION FRONT—ABU ABBAS FACTION; DOB 10 Dec 1948 (individual) [SDT]

ABBAS, Kassim, Lerchesbergring, 23A, D-60598 Frankfurt, Germany; DOB 7 Aug 1956; POB Baghdad, Iraq (individual) [IRAQ]

ABBES, Moustafa, Via Padova, 82, Milan, Italy; DOB 5 Feb 1962; POB Osniers, Algeria (individual) [SDGT]

ABBES, Youcef (a.k.a. “GIUSEPPE”), Via Padova 82, Milan, Italy; Via Manzoni, 33, Cinisello Balsamo, Milan, Italy; DOB 5 Jan 1965; POB Bab El Aoued, Algeria (individual) [SDGT]

'ABD AL-KARIM (a.k.a. ABU AL-MU'TAZ; a.k.a. AL-HABIB; a.k.a. AL-KHALAYLAH, Ahmad Fadil Nazzal; a.k.a. AL-MUHAJIR; a.k.a. AL-ZARQAWI, Abu Mus'Ab; a.k.a. GHARIB; a.k.a. KHALAILAH, Ahmed Fadeel; a.k.a. KHALAYLEH, Fedel Nazzel; a.k.a. “MOUHANAD;” a.k.a. “MOUHANNAD;” a.k.a. “MUHANNAD;” a.k.a. “RASHID”); DOB 20 Oct 1966; POB Zarqa, Jordan; Passport No. Z264968 (Jordan); citizen Jordan; National No. 9661031030 (Jordan) (individual) [SDGT]

'ABD AL-RAHMAN, Humam 'abd al-Khaliq (a.k.a. ABD-AL-GHAFUR, Humam abd-al-Khaliq; a.k.a. ABD AL-GHAFUR, Humam Abd al-Khaliq; a.k.a. GHAFUR, Humam Abdel Khaleq Abdel; a.k.a. RASHID, Humam 'abd al-Khaliq); DOB 1945; POB ar-Ramadi, Iraq; Minister of Higher Education and Research; Passport No. M0018061/104 (Iraq) issued 12 Sep 1993; nationality Iraqi (individual) [IRAQ][IRAQ2]

'ABD ALLAH, 'Issam 'Ali Muhammad (a.k.a. 'ABD-AL-'IZ; a.k.a. ABD-AL-WAHAB, Abd-al-Hai Ahmad; a.k.a. ABU YASIR; a.k.a. AL-KAMEL, Salah 'Ali; a.k.a. MUSA, Rifa'i Ahmad Taha; a.k.a. TAHA, Rifa'i Ahmad; a.k.a. TAHA MUSA, Rifa'i Ahmad; a.k.a. THABIT 'IZ); DOB 24 Jun 1954; POB Egypt; Passport No. 83860 (Sudan), 30455 (Egypt), 1046403 (Egypt) (individual) [SDT]

'ABD-AL-'IZ (a.k.a. ABD-AL-WAHAB, Abd-al-Hai Ahmad; a.k.a. ABU YASIR; a.k.a. 'ABD ALLAH, 'Issam 'Ali Muhammad; a.k.a. AL-KAMEL, Salah 'Ali; a.k.a. MUSA, Rifa'i Ahmad Taha; a.k.a. TAHA, Rifa'i Ahmad; a.k.a. TAHA MUSA, Rifa'i Ahmad; a.k.a. THABIT 'IZ); DOB 24 Jun 1954; POB Egypt; Passport No. 83860 (Sudan), 30455 (Egypt), 1046403 (Egypt) (individual) [SDT]

ABD AL HADI (a.k.a. BENDEBKA, L'Hadi; a.k.a. HADI), Via Garibaldi, 70, San Zenone al Po, Pavia, Italy; Via Manzoni, 33, Cinisello Balsamo, Milan, Italy; DOB 17 Nov 1963; POB Algiers Algeria (individual) [SDGT]

ABD AL HAFIZ, Abd Al Wahab (a.k.a. FERDJANI, Mouloud; a.k.a. “MOURAD;” a.k.a. “RABAH DI ROMA”), Via Lungotevere Dante, Rome, Italy; DOB 7 Sep 1967; POB Algiers, Algeria (individual) [SDGT]

ABD AL-GHAFAR, Sundus, Iraq; DOB c. 1967; POB Kirkuk, Iraq; nationality Iraqi; wife of Izzat Ibrahim Al-Duri (individual) [IRAQ2]

ABD AL-GHAFUR, Humam Abd al-Khaliq (a.k.a. ABD-AL-GHAFUR, Humam abd-al-Khaliq; a.k.a. 'ABD AL-RAHMAN, Humam 'abd al-Khaliq; a.k.a. GHAFUR, Humam Abdel Khaleq Abdel; a.k.a. RASHID, Humam 'abd al-Khaliq) DOB 1945; POB ar-Ramadi, Iraq; Minister of Higher Education and Research; Passport No. M0018061/104 (Iraq) issued 12 Sep 1993; nationality Iraqi (individual) [IRAQ][IRAQ2]

ABD-AL-GHAFUR, Humam abd-al-Khaliq (a.k.a. 'ABD AL-RAHMAN, Humam 'abd al-Khaliq; a.k.a. ABD AL-GHAFUR, Humam Abd al-Khaliq; a.k.a. GHAFUR, Humam Abdel Khaleq Abdel; a.k.a. RASHID, Humam 'abd al-Khaliq); DOB 1945; POB ar-Ramadi, Iraq; Minister of Higher Education and Research; Passport No. M0018061/104 issued 12 Sep 1993; nationality Iraqi (individual) [IRAQ][IRAQ2]

ABD-AL-WAHAB, Abd-al-Hai Ahmad (a.k.a. 'ABD-AL-'IZ; a.k.a. ABU YASIR; a.k.a. 'ABD ALLAH, 'Issam 'Ali Muhammad; a.k.a. AL-KAMEL, Salah 'Ali; a.k.a. MUSA, Rifa'i Ahmad Taha; a.k.a. TAHA, Rifa'i Ahmad; a.k.a. TAHA MUSA, Rifa'i Ahmad; a.k.a. THABIT 'IZ); DOB 24 Jun 1954; POB Egypt; Passport No. 83860 (Sudan), 30455 (Egypt), 1046403 (Egypt) (individual) [SDT]

ABDALLA, Fazul (a.k.a. MOHAMMED, Fazul Abdullah; a.k.a. ADBALLAH, Fazul; a.k.a. AISHA, Abu; a.k.a. AL SUDANI, Abu Seif; a.k.a. ALI, Fadel Abdallah Mohammed; a.k.a. FAZUL, Abdalla; a.k.a. FAZUL, Abdallah; a.k.a. FAZUL, Abdallah Mohammed; a.k.a. FAZUL, Haroon; a.k.a. FAZUL, Harun; a.k.a. HAROON; a.k.a. HAROUN, Fadhil; a.k.a. HARUN; a.k.a. LUQMAN, Abu; a.k.a. MOHAMMED, Fazul; a.k.a. MOHAMMED, Fazul Abdilahi; a.k.a. MOHAMMED, Fouad; a.k.a. MUHAMAD, Fadil Abdallah); DOB 25 Aug 1972; alt. DOB 25 Dec 1974; alt. DOB 25 Feb 1974; POB Moroni, Comoros Islands; citizen Comoros; alt. citizen Kenya (individual) [SDGT]

ABDALLAH, Kamal Mustafa (a.k.a. AL-TIKRITI, Kamal Mustafa Abdallah Sultan; a.k.a. AL-TIKRITI, Kamal Mustafa Sultan Abdallah); DOB 1952; alt. DOB 4 May 1955; POB Tikrit, Iraq; Republican Guard Secretary; led Special Republican Guard and commanded both Republican Guard corps; nationality Iraqi (individual) [IRAQ][IRAQ2]

ABDALLAH, Ramadan (a.k.a. ABDULLAH, Dr. Ramadan; a.k.a. SHALLAH, Dr. Ramadan Abdullah; a.k.a. SHALLAH, Ramadan Abdalla Mohamed), Damascus, Syria; Secretary General of the PALESTINIAN ISLAMIC JIHAD; DOB 01 Jan 1958; POB Gaza City, Gaza Strip; SSN 589-17-6824 (U.S.A.); Passport No. 265 216 (Egypt) (individual) [SDT]

ABDALLAH, Shabdi (a.k.a. ABDELHADI, Emad; a.k.a. “Al Falistini;” a.k.a. “Emad the Palestinian;” a.k.a. “Zidan”), “last known address,” George-C-Marshall-Strasse 200, 47 809 Krefeld, Germany; DOB 27 Sep 1976; POB Irbid, Jordan; nationality stateless or possibly Palestinian; arrested 23 Apr 2002 (individual) [SDGT]

ABDALLAH, Tarwat Salah (a.k.a. SHIHATA, Thirwat Salah; a.k.a. THIRWAT, Salah Shihata; a.k.a. THIRWAT, Shahata); DOB 29 Jun 60; POB Egypt (individual) [SDGT]

ABDAOUI, Youssef (a.k.a. “Abu Abdullah;” a.k.a. “Abdallah;” a.k.a. “Abdullah”), Piazza Giovane Italia n.2, Varese, Italy; DOB 4 Jun 1966; POB Kairouan, Tunisia (individual) [SDGT]

ABDEL RAHMAN (a.k.a. ATWAH, Muhsin Musa Matwalli; a.k.a. ABDUL RAHMAN; a.k.a. AL-MUHAJIR, Abdul Rahman; a.k.a. AL-NAMER, Mohammed K.A.), Afghanistan; DOB 19 Jun 1964; POB Egypt; citizen Egypt (individual) [SDGT]

ABDELHADI, Emad (a.k.a. ABDALLAH, Shabdi; a.k.a. “Al Falistini;” a.k.a. “Emad the Palestinian;” a.k.a. “Zidan”), “last known address,” George-C-Marshall-Strasse 200, 47 809 Krefeld, Germany; DOB 27 Sep 1976; POB Irbid, Jordan; nationality stateless or possibly Palestinian; arrested 23 Apr 2002 (individual) [SDGT]

ABDELMULLA, Yousef Abd-El-Razegh (a.k.a. ABDULMOLA, Yousef Abd-El-Razegh), P.O. Box 4538, Maidan Masif El Baladi, Tripoli, Libya (individual) [LIBYA]

ABDELNUR, Nury de Jesus, Panama (individual) [CUBA]

ABDUL JAWAD, Mohammed (a.k.a. ABDULJAWAD, Muhammed I.), Tripoli, Libya (individual) [LIBYA]

ABDUL RAHMAN (a.k.a. ATWAH, Muhsin Musa Matwalli; a.k.a. ABDEL RAHMAN; a.k.a. AL-MUHAJIR, Abdul Rahman; a.k.a. AL-NAMER, Mohammed K.A.), Afghanistan; DOB 19 Jun 1964; POB Egypt; citizen Egypt (individual) [SDGT]

ABDULJAWAD, Muhammed I. (a.k.a. ABDUL JAWAD, Mohammed), Tripoli, Libya (individual) [LIBYA]

ABDULLAH, Abdullah Ahmed (a.k.a. ABU MARIAM; a.k.a. AL-MASRI, Abu Mohamed; a.k.a. SALEH), Afghanistan; DOB 1963; POB Egypt; citizen Egypt (individual) [SDGT]

ABDULLAH, Dr. Ramadan (a.k.a. ABDALLAH, Ramadan; a.k.a. SHALLAH, Dr. Ramadan Abdullah; a.k.a. SHALLAH, Ramadan Abdalla Mohamed), Damascus, Syria; Secretary General of the PALESTINIAN ISLAMIC JIHAD; DOB 01 Jan 1958; POB Gaza City, Gaza Strip; SSN 589-17-6824 (U.S.A.); Passport No. 265 216 (Egypt) (individual) [SDT]

ABDULLAH, Sheikh Taysir (a.k.a. AL-MASRI, Abu Hafs; a.k.a. ABU HAFS; a.k.a. ABU SITTA, Subhi; a.k.a. ATEF, Muhammad; a.k.a. ATIF, Mohamed; a.k.a. ATIF, Muhammad; a.k.a. EL KHABIR, Abu Hafs el Masry; a.k.a. TAYSIR); DOB 1951; Alt. DOB 1956; Alt. DOB 1944; POB Alexandria, Egypt (individual) [SDT] [SDGT]

ABDULLKADIR, Hussein Mahamud, Florence, Italy (individual) [SDGT]

ABDULMALIK, Abdul Hameed (a.k.a. MALIK, Assim Mohammed Rafiq Abdul; a.k.a. RAFIQ, Assem), 14 Almotaz Sad Al Deen Street, Al Nozha, Cairo, Egypt (individual) [IRAQ]

ABDULMOLA, Yousef Abd-El-Razegh (a.k.a. ABDELMULLA, Yousef Abd-El-Razegh), P.O. Box 4538, Maidan Masif El Baladi, Tripoli, Libya (individual) [LIBYA]

ABDUREHMAN, Ahmed Mohammed (a.k.a. ALI, Ahmed Mohammed Hamed; a.k.a. ABU FATIMA; a.k.a. ABU ISLAM; a.k.a. ABU KHADIIJAH; a.k.a. AHMED HAMED; a.k.a. Ahmed The Egyptian; a.k.a. AHMED, Ahmed; a.k.a. AL-MASRI, Ahmad; a.k.a. AL-SURIR, Abu Islam; a.k.a. ALI, Ahmed Mohammed; a.k.a. ALI, Hamed; a.k.a. HEMED, Ahmed; a.k.a. SHIEB, Ahmed; a.k.a. SHUAIB), Afghanistan; DOB 1965; POB Egypt; citizen Egypt (individual) [SDGT]

ABDURRAHMAN, Abu Jibril (a.k.a. A RAHMAN, Mohamad Iqbal; a.k.a. ABDURRAHMAN, Mohamad Iqbal; a.k.a. ABU JIBRIL; a.k.a. RAHMAN, Mohamad Iqbal; a.k.a. MUQTI, Fihiruddin; a.k.a. MUQTI, Fikiruddin); POB Tirpas-Selong Village, East Lombok, Indonesia; nationality Indonesian (individual) [SDGT]

ABDURRAHMAN, Mohamad Iqbal (a.k.a. A RAHMAN, Mohamad Iqbal; a.k.a. ABDURRAHMAN, Abu Jibril; a.k.a. ABU JIBRIL; a.k.a. RAHMAN, Mohamad Iqbal; a.k.a. MUQTI, Fihiruddin; a.k.a. MUQTI, Fikiruddin); POB Tirpas-Selong Village, East Lombok, Indonesia; nationality Indonesian (individual) [SDGT]

ABO GHAITH, Sulaiman Jassem; DOB 14 Dec 1965; POB Kuwait (individual) [SDGT]

Abou Anis (a.k.a. SAADI, Nassim), “last known address,” Via Monte Grappa 15, Arluno (Milan), Italy; DOB 30 Nov 1974; POB Haidra, Tunisia; nationality Tunisian; arrested 30 Sep 2002 (individual) [SDGT]

Abou Djarrah (a.k.a. TRABELSI, Mourad), “last known address,” Via Geromini 15, Cremona, Italy; DOB 20 May 1969; POB Menzel Temine, Tunisia; nationality Tunisian; arrested 1 Apr 2003 (individual) [SDGT]

Abou Salman (a.k.a. BEN ABDELHAKIM, Cherif Said; a.k.a. “Djallal;” a.k.a. “Youcef”), “last known address,” Corso Lodi 59, Milan, Italy; DOB 25 Jan 1970; POB Menzel Temine, Tunisia; nationality Tunisian; arrested 30 Sep 2002 (individual) [SDGT]

ABOU ZEINAB (a.k.a. SAYADI, Nabil Abdul Salam), 69 Rue des Bataves, 1040 Etterbeek, Brussels, Belgium; Vaatjesstraat 29, 2580 Putte, Belgium; DOB 01 Jan 1966; POB Tripoli, Lebanon; National No. 660000 73767 (Belgium); Public Security and Immigration No. 98.805; Passport No. 1091875 (Lebanon) (individual) [SDGT]

ABRIL CORTEZ, Oliverio (f.k.a. CORTEZ, Oliverio Abril), Calle 18A No. 8A-20, Jamundi, Colombia; c/o AGROPECUARIA BETANIA LTDA., Cali, Colombia; c/o CONSTRUCTORA DIMISA LTDA., Cali, Colombia; c/o INVERSIONES EL GRAN CRISOL LTDA., Cali, Colombia; c/o INVERSIONES EL PENON S.A., Cali, Colombia; c/o INVERSIONES GEMINIS S.A., Cali, Colombia; c/o VALLADARES LTDA., Cali, Colombia; c/o W. HERRERA Y CIA. S. EN C., Cali, Colombia; Cedula No. 3002003 (Colombia) (individual) [SDNT]

ABRIL RAMIREZ, Wilson Arcadio, c/o COOPCREAR, Bogota, Colombia; c/o COOPERATIVA MULTIACTIVA DE COLOMBIA FOMENTAMOS, Bogota, Colombia; DOB 25 Jul 1972; Passport 79643115 (Colombia); Cedula No. 79643115 (Colombia) (individual) [SDNT]

Abu Ahmad (a.k.a. Abu Brays; a.k.a. AL-DURI, Izzat Ibrahim); DOB circa 1942; POB al-Dur, Iraq; Deputy Commander-in-Chief of Iraqi military; Deputy Secretary, Ba'th party regional command; Vice Chairman, Revolutionary Command Council; nationality Iraqi (individual) [IRAQ][IRAQ2]

Abu Ali (a.k.a. AL-TIKRITI, Saddam Hussein; a.k.a. HUSAYN, Saddam; a.k.a. HUSSAIN, Saddam; a.k.a. HUSSEIN, Saddam); DOB 28 Apr 1937; POB al-Awja, near Tikrit, Iraq; President since 1979; named in UNSCR 1483; nationality Iraqi (individual) [IRAQ][IRAQ2]

Abu Brays (a.k.a. Abu Ahmad; a.k.a. AL-DURI, Izzat Ibrahim); DOB circa 1942; POB al-Dur, Iraq; Deputy Commander-in-Chief of Iraqi military; Deputy Secretary, Ba'th party regional command; Vice Chairman, Revolutionary Command Council; nationality Iraqi (individual) [IRAQ][IRAQ2]

Abu Walid (a.k.a. AL-TIKRITI, Rukan Razuki abd-al-Ghafur Sulaiman; a.k.a. AL-MAJID, Rukan abd al-Gafur; a.k.a. AL-MAJID, Rukan abdal-Ghaffur Sulayman; a.k.a. AL-MAJID, Rukan Razuqi abd al-Gahfur; a.k.a. AL-TIKRITI, Rukan 'abd al-Ghaffur al-Majid; a.k.a. AL-TIKRITI, Rukan abd al-Ghaffur al-Majid); POB 1956, DOB Tikrit, Iraq; head of Tribal Affairs Office in Presidential Office; nationality Iraqi (individual) [IRAQ][IRAQ2]

ABU ABDALLAH (a.k.a. AL-IRAQI, Abd al-Hadi; a.k.a. AL-IRAQI, Abdal al-Hadi) (individual) [SDGT]

ABU AL-MU'TAZ (a.k.a. 'ABD AL-KARIM; a.k.a. AL-HABIB; a.k.a. AL-KHALAYLAH, Ahmad Fadil Nazzal; a.k.a. AL-MUHAJIR; a.k.a. AL-ZARQAWI, Abu Mus'Ab; a.k.a. GHARIB; a.k.a. KHALAILAH, Ahmed Fadeel; a.k.a. KHALAYLEH, Fedel Nazzel; a.k.a. “MOUHANAD;” a.k.a. “MOUHANNAD;” a.k.a. “MUHANNAD;” a.k.a. “RASHID”); DOB 20 Oct 1966; POB Zarqa, Jordan; Passport No. Z264968 (Jordan); citizen Jordan; National No. 9661031030 (Jordan) (individual) [SDGT]

ABU BAKR, Ibrahim Ali Muhammad (a.k.a. AL-LIBI, Abd al-Muhsin) (individual) [SDGT]

ABU DHESS, Mohamed (a.k.a. “Abu Ali;” a.k.a. HASSAN, Yaser), “last known address,” Holdenweg 76, 45143, Essen, Germany; DOB 1 Feb 1966; POB Hashmija, Iraq; nationality possibly Palestinian; arrested 23 Apr 2002 (individual) [SDGT]

ABU FATIMA (a.k.a. ALI, Ahmed Mohammed Hamed; a.k.a. ABDUREHMAN, Ahmed Mohammed; a.k.a. ABU ISLAM; a.k.a. ABU KHADIIJAH; a.k.a. AHMED HAMED; a.k.a. Ahmed The Egyptian; a.k.a. AHMED, Ahmed; a.k.a. AL-MASRI, Ahmad; a.k.a. AL-SURIR, Abu Islam; a.k.a. ALI, Ahmed Mohammed; a.k.a. ALI, Hamed; a.k.a. HEMED, Ahmed; a.k.a. SHIEB, Ahmed; a.k.a. SHUAIB), Afghanistan; DOB 1965; POB Egypt; citizen Egypt (individual) [SDGT]

ABU GHUNAYM SQUAD OF THE HIZBALLAH BAYT AL-MAQDIS (a.k.a. PALESTINE ISLAMIC JIHAD—SHAQAQI FACTION; a.k.a. AL-AWDAH BRIGADES; a.k.a. AL-QUDS BRIGADES; a.k.a. AL-QUDS SQUADS; a.k.a. ISLAMIC JIHAD IN PALESTINE; a.k.a. ISLAMIC JIHAD OF PALESTINE; a.k.a. PALESTINIAN ISLAMIC JIHAD; a.k.a. PIJ; a.k.a. PIJ-SHALLAH FACTION; a.k.a. PIJ-SHAQAQI FACTION; a.k.a. SAYARA AL-QUDS) [SDT] [FTO][SDGT]

ABU HAFS (a.k.a. AL-MASRI, Abu Hafs; a.k.a. ABDULLAH, Sheikh Taysir; a.k.a. ABU SITTA, Subhi; a.k.a. ATEF, Muhammad; a.k.a. ATIF, Mohamed; a.k.a. ATIF, Muhammad; a.k.a. EL KHABIR, Abu Hafs el Masry; a.k.a. TAYSIR); DOB 1951; Alt. DOB 1956; Alt. DOB 1944; POB Alexandria, Egypt (individual) [SDT] [SDGT]

ABU HAFS THE MAURITANIAN (a.k.a. AL-SHANQITI, Khalid; a.k.a. AL-WALID, Mafouz Walad; a.k.a. AL-WALID, Mahfouz Ould; a.k.a. SLAHI, Mahamedou Ould); DOB 1 Jan 75 (individual) [SDGT]

ABU ISLAM (a.k.a. ALI, Ahmed Mohammed Hamed; a.k.a. ABDUREHMAN, Ahmed Mohammed; a.k.a. ABU FATIMA; a.k.a. ABU KHADIIJAH; a.k.a. AHMED HAMED; a.k.a. Ahmed The Egyptian; a.k.a. AHMED, Ahmed; a.k.a. AL-MASRI, Ahmad; a.k.a. AL-SURIR, Abu Islam; a.k.a. ALI, Ahmed Mohammed; a.k.a. ALI, Hamed; a.k.a. HEMED, Ahmed; a.k.a. SHIEB, Ahmed; a.k.a. SHUAIB), Afghanistan; DOB 1965; POB Egypt; citizen Egypt (individual) [SDGT]

ABU ISMAIL (a.k.a. ABU UMAR, Abu Omar; a.k.a. AL-FILISTINI, Abu Qatada; a.k.a. TAKFIRI, Abu 'Umr; a.k.a. UMAR, Abu Umar; a.k.a. UTHMAN, Ali-Samman; a.k.a. UTHMAN, Omar Mahmoud; a.k.a. UTHMAN, Umar), London, England; DOB 30 Dec 1960; alt. DOB 13 Dec 1960 (individual) [SDGT]

ABU JIBRIL (a.k.a. A RAHMAN, Mohamad Iqbal; a.k.a. ABDURRAHMAN, Abu Jibril; a.k.a. ABDURRAHMAN, Mohamad Iqbal; a.k.a. RAHMAN, Mohamad Iqbal; a.k.a. MUQTI, Fihiruddin; a.k.a. MUQTI, Fikiruddin); POB Tirpas-Selong Village, East Lombok, Indonesia; nationalityIndonesian (individual) [SDGT]

ABU KHADIIJAH (a.k.a. ALI, Ahmed Mohammed Hamed; a.k.a. ABDUREHMAN, Ahmed Mohammed; a.k.a. ABU FATIMA; a.k.a. ABU ISLAM; a.k.a. AHMED HAMED; a.k.a. Ahmed The Egyptian; a.k.a. AHMED, Ahmed; a.k.a. AL-MASRI, Ahmad; a.k.a. AL-SURIR, Abu Islam; a.k.a. ALI, Ahmed Mohammed; a.k.a. ALI, Hamed; a.k.a. HEMED, Ahmed; a.k.a. SHIEB, Ahmed; a.k.a. SHUAIB), Afghanistan; DOB 1965; POB Egypt; citizen Egypt (individual) [SDGT]

ABU MARIAM (a.k.a. ABDULLAH, Abdullah Ahmed; a.k.a. AL-MASRI, Abu Mohamed; a.k.a. SALEH), Afghanistan; DOB 1963; POB Egypt; citizen Egypt (individual) [SDGT]

ABU MARZOOK, Mousa Mohammed (a.k.a. ABU-MARZUQ, Dr. Musa; a.k.a. ABU-MARZUQ, Sa'id; a.k.a. ABU-'UMAR; a.k.a. MARZOOK, Mousa Mohamed Abou; a.k.a. MARZOUK, Musa Abu; a.k.a. MARZUK, Musa Abu), Leader in Amman, Jordan and Damascus, Syria for HAMAS; DOB 09 Feb 1951; POB Gaza, Egypt; SSN 523-33-8386 (U.S.A.); Passport No. 92/664 (Egypt) (individual) [SDT][SDGT]

ABU MUAMAR (a.k.a. “Abu Seta;” a.k.a. “Mahmud;” a.k.a. MOCHTAR, Yasin Mahmud; a.k.a. MUBAROK, Muhamad; a.k.a. SYAWAL, Muhammad; a.k.a. SYAWAL, Yassin; a.k.a. YASIN, Abdul Hadi; a.k.a. YASIN, Salim); DOB c. 1972; nationality Indonesian (individual) [SDGT]

ABU NIDAL ORGANIZATION (a.k.a. ANO; a.k.a. BLACK SEPTEMBER; a.k.a. FATAH REVOLUTIONARY COUNCIL; a.k.a. ARAB REVOLUTIONARY COUNCIL; a.k.a. ARAB REVOLUTIONARY BRIGADES; a.k.a. REVOLUTIONARY ORGANIZATION OF SOCIALIST MUSLIMS) [SDT][FTO][SDGT]

ABU OMRAN (a.k.a. AL-MUGHASSIL, Ahmad Ibrahim; a.k.a. AL-MUGHASSIL, Ahmed Ibrahim); DOB 26 Jun 1967; POB Qatif-Bab al Shamal, Saudi Arabia; citizen Saudi Arabia (individual) [SDGT]

ABU SAYYAF GROUP (a.k.a. AL HARAKAT AL ISLAMIYYA) [FTO] [SDGT]

ABU SHANAB METALS ESTABLISHMENT (a.k.a. AMIN ABU SHANAB & SONS CO; a.k.a. SHANAB METALS ESTABLISHMENT; a.k.a. TARIQ ABU SHANAB EST.; a.k.a. TARIQ ABU SHANAB EST. FOR TRADE & COMMERCE; a.k.a. TARIQ ABU SHANAB METALS ESTABLISHMENT), Musherfeh, P.O. Box 766, Zarka, Jordan [IRAQ]

ABU SITTA, Subhi (a.k.a. AL-MASRI, Abu Hafs; a.k.a. ABDULLAH, Sheikh Taysir; a.k.a. ABU HAFS; a.k.a. ATEF, Muhammad; a.k.a. ATIF, Mohamed; a.k.a. ATIF, Muhammad; a.k.a. EL KHABIR, Abu Hafs el Masry; a.k.a. TAYSIR); DOB 1951; Alt. DOB 1956; Alt. DOB 1944; POB Alexandria, Egypt (individual) [SDT] [SDGT]

ABU UMAR, Abu Omar (a.k.a. ABU ISMAIL; a.k.a. AL-FILISTINI, Abu Qatada; a.k.a. TAKFIRI, Abu 'Umr; a.k.a. UMAR, Abu Umar; a.k.a. UTHMAN, Omar Mahmoud; a.k.a. UTHMAN, Al-Samman; a.k.a. UTHMAN, Umar), London, England; DOB 30 Dec 1960; DOB 13 Dec 1960 (individual) [SDGT]

ABU YASIR (a.k.a. 'ABD-AL-'IZ; a.k.a. ABD-AL-WAHAB, Abd-al-Hai Ahmad; a.k.a. 'ABD ALLAH, 'Issam 'Ali Muhammad; a.k.a. AL-KAMEL, Salah 'Ali; a.k.a. MUSA, Rifa'i Ahmad Taha; a.k.a. TAHA, Rifa'i Ahmad; a.k.a. TAHA MUSA, Rifa'i Ahmad; a.k.a. THABIT 'IZ); DOB 24 Jun 1954; POB Egypt; Passport No. 83860 (Sudan), 30455 (Egypt), 1046403 (Egypt) (individual) [SDT]

ABU ZUBAIDA (a.k.a. ABU ZUBAYDAH; a.k.a. AL-WAHAB, Abd Al-Hadi; a.k.a. HUSAIN, Zain Al-Abidin Muhahhad; a.k.a. HUSAYN, Zayn al-Abidin Muhammad; a.k.a. TARIQ); DOB 12 Mar 71; POB Riyadh, Saudi Arabia (individual) [SDGT]

ABU ZUBAYDAH (a.k.a. ABU ZUBAIDA; a.k.a. AL-WAHAB, Abd Al-Hadi; a.k.a. HUSAIN, Zain Al-Abidin Muhahhad; a.k.a. HUSAYN, Zayn al-Abidin Muhammad; a.k.a. TARIQ); DOB 12 Mar 71; POB Riyadh, Saudi Arabia (individual) [SDGT]

ABU-'UMAR (a.k.a. ABU MARZOOK, Mousa Mohammed; a.k.a. MARZOUK, Musa Abu; a.k.a. ABU-MARZUQ, Dr. Musa; a.k.a. ABU-MARZUQ, Sa'id; a.k.a. MARZOOK, Mousa Mohamed Abou; a.k.a. MARZUK, Musa Abu), Leader in Amman, Jordan and Damascus, Syria for HAMAS; DOB 09 Feb 1951; POB Gaza, Egypt; SSN 523-33-8386 (U.S.A.); Passport No. 92/664 (Egypt) (individual) [SDT][SDGT]

ABU-MARZUQ, Dr. Musa (a.k.a. ABU MARZOOK, Mousa Mohammed; a.k.a. ABU-MARZUQ, Sa'id; a.k.a. ABU-'UMAR; a.k.a. MARZOOK, Mousa Mohamed Abou; a.k.a. MARZOUK, Musa Abu; a.k.a. MARZUK, Musa Abu), Leader in Amman, Jordan and Damascus, Syria for HAMAS; DOB 09 Feb 1951; POB Gaza, Egypt; SSN 523-33-8386 (U.S.A.); Passport No. 92/664 (Egypt) (individual) [SDT][SDGT]

ABU-MARZUQ, Sa'id (a.k.a. ABU MARZOOK, Mousa Mohammed; a.k.a. ABU-MARZUQ, Dr. Musa; a.k.a. ABU-'UMAR; a.k.a. MARZOOK, Mousa Mohamed Abou; a.k.a. MARZOUK, Musa Abu; a.k.a. MARZUK, Musa Abu), Leader in Amman, Jordan and Damascus, Syria for HAMAS; DOB 09 Feb 1951; POB Gaza, Egypt; SSN 523-33-8386 (U.S.A.); Passport No. 92/664 (Egypt) (individual) [SDT][SDGT]

ACCESOS ELECTRONICOS, S.A. de C.V., Blvd. Cuauhtemoc 1711, Oficina 305, Colonia Zona Rio, Tijuana, Baja California, Mexico; Avenida Cuauhtemoc 1209, CP 22290, Colonia Zona Rio, Tijuana, Baja California, Mexico; David Alfaro 25, CP 22320, Tijuana, Baja California, Mexico [SDNTK]

ACCOUNTS AND ELECTRONICS EQUIPMENTS, c/o ENGINEERING EQUIPMENT CORPORATION, P.O. Box 97, Khartoum, Sudan [SUDAN]

ACE INDIC NAVIGATION CO., LTD., c/o ANGLO-CARIBBEAN SHIPPING CO. LTD., 4th Floor, South Phase 2, South Quay Plaza II, 183, March Wall, London, England [CUBA]

ACECHILLY NAVIGATION CO., LTD., c/o ANGLO-CARIBBEAN SHIPPING CO. LTD., 4th Floor, South Phase 2, South Quay Plaza II, 183, March Wall, London, England [CUBA]

ACEFROSTY SHIPPING CO., LTD., 171 Old Bakery Street, Valletta, Malta [CUBA]

ACERO, Cesar Augusto, Avenida 7N No. 17A-48, Cali, Colombia; c/o AGROPECUARIA LA ROBLEDA S.A., Cali, Colombia; Cedula No. 70564947 (Colombia) (individual) [SDNT]

ACEVEDO P., Francisco Luis, Carrera 1 No. 18-52 Cali, Colombia; c/o INVERSIONES INVERVALLE S.A., Cali, Colombia; Cedula No. 71660070 (Colombia) (individual) [SDNT]

ACHOUR, Ali (a.k.a. AIDER, Farid), Via Milanese, 5, 20099 Sesto San Giovanni, Milan, Italy; DOB 12 Oct 1964; POB Algiers, Algeria; Italian Fiscal Code: DRAFRD64R12Z301C (individual) [SDGT]

ACHURY VARILA, Hernan Augusto (a.k.a. ACHURY VARILLA, Hernan Augusto), c/o COOPCREAR, Bogota, Colombia; c/o COOPERATIVAMULTIACTIVA DE COLOMBIA FOMENTAMOS, Bogota, Colombia; DOB 14 Feb 1980; Passport 80226706 (Colombia); Cedula No. 80226706 (Colombia) (individual) [SDNT]

ACHURY VARILLA, Hernan Augusto (a.k.a. ACHURY VARILA, Hernan Augusto), c/o COOPCREAR, Bogota, Colombia; c/o COOPERATIVA MULTIACTIVA DE COLOMBIA FOMENTAMOS, Bogota, Colombia; DOB 14 Feb 1980; Passport 80226706 (Colombia); Cedula No. 80226706 (Colombia) (individual) [SDNT]

AD-DAR AL JAMAHIRIYA FOR PUBLISHING DISTRIBUTION & ADVERTISING, P.O. Box 20108, Sebha, Libya [LIBYA]

AD-DAR AL JAMAHIRIYA FOR PUBLISHING DISTRIBUTION & ADVERTISING, P.O. Box 547, Valletta, Malta [LIBYA]

AD-DAR AL JAMAHIRIYA FOR PUBLISHING DISTRIBUTION & ADVERTISING, P.O. Box 15977, Casablanca, Morocco [LIBYA]

AD-DAR AL JAMAHIRIYA FOR PUBLISHING DISTRIBUTION & ADVERTISING, P.O. Box 17459, Misurata, Libya [LIBYA]

AD-DAR AL JAMAHIRIYA FOR PUBLISHING DISTRIBUTION & ADVERTISING, P.O. Box 959, Tripoli, Libya [LIBYA]

AD-DAR AL JAMAHIRIYA FOR PUBLISHING DISTRIBUTION & ADVERTISING, P.O. Box 321, Benghazi, Libya [LIBYA]

ADBALLAH, Fazul (a.k.a. MOHAMMED, Fazul Abdullah; a.k.a. ABDALLA, Fazul; a.k.a. AISHA, Abu; a.k.a. AL SUDANI, Abu Seif; a.k.a. ALI, Fadel Abdallah Mohammed; a.k.a. FAZUL, Abdalla; a.k.a. FAZUL, Abdallah; a.k.a. FAZUL, Abdallah Mohammed; a.k.a. FAZUL, Haroon; a.k.a. FAZUL, Harun; a.k.a. HAROON; a.k.a. HAROUN, Fadhil; a.k.a. HARUN; a.k.a. LUQMAN, Abu; a.k.a. MOHAMMED, Fazul; a.k.a. MOHAMMED, Fazul Abdilahi; a.k.a. MOHAMMED, Fouad; a.k.a. MUHAMAD, Fadil Abdallah); DOB 25 Aug 1972; alt. DOB 25 Dec 1974; alt. DOB 25 Feb 1974; POB Moroni, Comoros Islands; citizen Comoros; alt. citizen Kenya (individual) [SDGT]

ADEMI, Rahim; DOB 30 Jan 1954; POB Karac, Serbia and Montenegro; ICTY indictee (individual) [BALKANS]

ADEMI, Xhevat; DOB 8 Dec 1962; POB Tetovo, Macedonia (individual) [BALKANS]

ADEMULERO, Babestan Oluwole (a.k.a. BABESTAN, Wole A.; a.k.a. OGUNGBUYI, Oluwole A.; a.k.a. OGUNGBUYI, Wally; a.k.a. OGUNGBUYI, Wole A.; a.k.a. SHOFESO, Olatude I.; a.k.a. SHOFESO, Olatunde Irewole), DOB 4 Mar 1953; POB Nigeria (individual) [SDNTK]

ADILI, Gafur; DOB 5 Jan 1959; POB Kicevo, Macedonia (individual) [BALKANS]

ADMACOOP (a.k.a. COOPERATIVA MULTIACTIVA DE ADMINISTRACION Y MANEJO ADMACOOP), Calle 12B No. 28-58, Bogota, Colombia; Carrera 28A No. 14-29, Bogota, Colombia; NIT # 830030933-6 (Colombia) [SDNT]

ADMINCHECK LIMITED, 1 Old Burlington Street, London, England [IRAQ]

ADMINISTRACION INMOBILIARIA BOLIVAR S.A., Avenida 2CN No. 24N-92, Cali, Colombia; Calle 17N No. 6N-28, Cali, Colombia; NIT # 800149060-5 (Colombia) [SDNT]

ADMINISTRADORA DE INMUEBLES VIDA, S.A. de C.V., Blvd. Agua Caliente 1381, Colonia Revolucion, Tijuana, Baja California, Mexico [SDNTK]

ADMINISTRADORA DE SERVICIOS VARIOS CALIMA S.A., Calle 10 No. 4-47, piso 18, Cali, Colombia; Carrera 29A No. 9B-47, Cali, Colombia; NIT # 805007874-2 (Colombia) [SDNT]

ADP, S.C., Tijuana, Baja California, Mexico [SDNTK]

ADVANCED ELECTRONICS DEVELOPMENT, LTD., 3 Mandeville Place, London, England [IRAQ]

AERO-CARIBBEAN (a.k.a. AEROCARIBBEAN AIRLINES), Havana, Cuba [CUBA]

AEROCARIBBEAN AIRLINES (a.k.a. AERO-CARIBBEAN), Havana, Cuba [CUBA]

AEROTAXI EJECUTIVO, S.A., Managua, Nicaragua [CUBA]

AFGHAN, Shear (a.k.a. AFGHAN, Sher; a.k.a. AFGHAN, Shir; a.k.a. AZIZ, Mohammad; a.k.a. KHAN, Abdullah) DOB 1962; alt. DOB 1959; POB Pakistan (individual) [SDNTK]

AFGHAN, Sher (a.k.a. AFGHAN, Shear; a.k.a. AFGHAN, Shir; a.k.a. AZIZ, Mohammad; a.k.a. KHAN, Abdullah) DOB 1962; alt. DOB 1959; POB Pakistan (individual) [SDNTK]

AFGHAN, Shir (a.k.a. AFGHAN, Shear; a.k.a. AFGHAN, Sher; a.k.a. AZIZ, Mohammad; a.k.a. KHAN, Abdullah) DOB 1962; alt. DOB 1959; POB Pakistan (individual) [SDNTK]

AFGHAN SUPPORT COMMITTEE (ASC) (a.k.a. AHYA UL TURAS; a.k.a. JAMIAT AYAT-UR-RHAS AL ISLAMIA; a.k.a. JAMIAT IHYA UL TURATH AL ISLAMIA; a.k.a. LAJNAT UL MASA EIDATUL AFGHANIA) Grand Trunk Road, near Pushtoon Garhi Pabbi, Peshawar, Pakistan; Cheprahar Hadda, Mia Omar Sabaqah School, Jalalabad, Afghanistan [SDGT]

AFRICAN DRILLING COMPANY, Khartoum, Sudan [SUDAN]

AFRICAN OIL CORPORATION, P.O. Box 1, Khartoum North, Sudan [SUDAN]

AGENCIA DE VIAJES GUAMA (a.k.a. VIAJES GUAMA TOURS; a.k.a. GUAMATUR, S.A.; a.k.a. GUAMA TOUR), Bal Harbour Shopping Center, Via Italia, Panama City, Panama [CUBA]

AGHA, Haji Abdul Manan (a.k.a. SAIYID, Abd Al-Man'am), Pakistan (individual) [SDGT]

AGHIL, Yousef I., Libya (individual) [LIBYA]

AGIP (N.A.M.E.) LIMITED (a.k.a. AGIP NORTH AFRICA AND MIDDLE EAST OIL COMPANY), Benghazi Office, P.O. Box 4120, Benghazi, Libya (Designation applies only to joint venture located in Libya) [LIBYA]

AGIP (N.A.M.E.) LIMITED (a.k.a. AGIP NORTH AFRICA AND MIDDLE EAST OIL COMPANY), Adahr, P.O. Box 346, Sciara Giakarta, Tripoli, Libya [LIBYA]

AGIP NORTH AFRICA AND MIDDLE EAST OIL COMPANY (a.k.a. AGIP (N.A.M.E.) LIMITED), Benghazi Office, P.O. Box 4120, Benghazi, Libya (Designation applies only to joint venture located in Libya) [LIBYA]

AGIP NORTH AFRICA AND MIDDLE EAST OIL COMPANY (a.k.a. AGIP (N.A.M.E.) LIMITED), Adahr, P.O. Box 346, Sciara Giakarta, Tripoli, Libya [LIBYA]

AGOCO (a.k.a. ARABIAN GULF OIL COMPANY), P.O. Box 263, Al Kish, Benghazi, Libya [LIBYA]

AGOCO (a.k.a. ARABIAN GULF OIL COMPANY), P.O. Box 693-325, Ben Ashour Street, Tripoli, Libya [LIBYA]

AGOCO (a.k.a. ARABIAN GULF OIL COMPANY), Sarir Field, Libya [LIBYA]

AGOCO (a.k.a. ARABIAN GULF OIL COMPANY), Windsor House, 42-50 Victoria Street, London SW1H 0NW, England [LIBYA]

AGRICOLA DOIMA DEL NORTE DEL VALLE LTDA., Carrera 4 No. 12-20 of. 206, Cartago, Valle, Colombia; Km 12 Via Santa Ana Molina, Hacienda Doima, Cartago, Colombia; NIT # 800144713-3 (Colombia) [SDNT]

AGRICOLA GANADERA HENAO GONZALEZ Y CIA. S.C.S., Carrera 4A No. 16-04 apt. 303, Cartago, Colombia; Km. 5 Via Aeropuerto, Cartago, Colombia; Carrera 1 No. 13-08, Cartago, Colombia; NIT # 800021615-1 (Colombia) [SDNT]

AGRICOLA HUMYAMI LTDA., Apartado Aereo 30352, Cali, Colombia [SDNT]

AGRICOLA SONGO LTDA., Calle 74 No. 53-30, Barranquilla, Colombia; NIT # 890115794-3 (Colombia) [SDNT]

AGRICULTURAL BANK OF SUDAN, P.O. Box 1363, Khartoum, Sudan [SUDAN]

AGRICULTURAL BANK, THE (a.k.a. LIBYAN AGRICULTURAL BANK; a.k.a. NATIONAL AGRICULTURAL BANK OF LIBYA), 52, Omar El Mokhtar Street, P.O. Box 1100, Tripoli, Libya [LIBYA]

AGRICULTURAL BANK, THE (a.k.a. LIBYAN AGRICULTURAL BANK; a.k.a. NATIONAL AGRICULTURAL BANK OF LIBYA), (1 city branch and 27 branches in Libya) [LIBYA]

AGRICULTURAL CO-OPERATIVE BANK, Rashid St, Baghdad, Iraq [IRAQ]

AGRICULTURAL ENGINEERING COMPANY, Libya [LIBYA]

AGRO MASCOTAS S.A. (a.k.a. AGROPECUARIA 100%; a.k.a. AGROPECUARIA EL ARBOLITO; a.k.a. AGROPECUARIA EL GALLO; a.k.a. AGROPECUARIA LA COLMENA; a.k.a. AGROPECUARIA LA HORMIGA; a.k.a. AGROTODO; a.k.a. AGROTORO), Avenida 3 Bis No. 23CN-13, Cali, Colombia; Calle 19 No. 12-36, Tunja, Colombia; Calle 1N No. 4-36, Popayan, Colombia; Calle 28 No. 27-06, Palmira, Colombia; Calle 3 No. 11-104, Santander de Quilichao, Colombia; Calle 35 No. 27-69, Villavicencio, Colombia; Calle 35 No. 27-83, Villavicencio, Colombia; Carrera 1 No. 14-41, Ibague, Colombia; Carrera 10 No. 11-14 Esq., Jamundi, Colombia; Carrera 10 No. 12-02 Esq., Girardot, Colombia; Carrera 10 No. 18-02, Pereira, Colombia; Carrera 13 No. 13-41, Bogota, Colombia; Carrera 13 No. 15-42, Santa Rosa, Colombia; Carrera 14 No. 18-51, Armenia, Colombia; Carrera 16 No. 43-15, Dos Quebradas, Colombia; Carrera 18 No. 22-17, Manizales, Colombia; Carrera 19 No. 11-52, Dutaima, Colombia; Carrera 2 No. 13-17, Puerto Boyaca, Colombia; Carrera 23 No. 29-03, Tulua, Colombia; Carrera 2A No. 15-10, Dorada, Colombia; Carrera 33 No. 19-35, Villavicencio, Colombia; Carrera 4 No. 16-87, Soacha, Colombia; Carrera 7 No. 12-58, Cartago, Colombia; Transversal 29 No. 39-92, Bogota, Colombia; NIT # 815002808-1 (Colombia) [SDNT]

AGROINVERSORA URDINOLA HENAO Y CIA. S.C.S., Calle 5 No. 22-39 of. 205, Cali, Colombia; Calle 52 No. 28E-30, Cali, Colombia; NIT # 800042180-1 (Colombia) [SDNT]

AGROPECUARIA 100% (a.k.a. AGRO MASCOTAS S.A.; a.k.a. AGROPECUARIA EL ARBOLITO; a.k.a. AGROPECUARIA EL GALLO; a.k.a. AGROPECUARIA LA COLMENA; a.k.a. AGROPECUARIA LA HORMIGA; a.k.a. AGROTODO; a.k.a. AGROTORO), Avenida 3 Bis No. 23CN-13, Cali, Colombia; Calle 19 No. 12-36, Tunja, Colombia; Calle 1N No. 4-36, Popayan, Colombia; Calle 28 No. 27-06, Palmira, Colombia; Calle 3 No. 11-104, Santander de Quilichao, Colombia; Calle 35 No. 27-69, Villavicencio, Colombia; Calle 35 No. 27-83, Villavicencio, Colombia; Carrera 1 No. 14-41, Ibague, Colombia; Carrera 10 No. 11-14 Esq., Jamundi, Colombia; Carrera 10 No. 12-02 Esq., Girardot, Colombia; Carrera 10 No. 18-02, Pereira, Colombia; Carrera 13 No. 13-41, Bogota, Colombia; Carrera 13 No. 15-42, Santa Rosa, Colombia; Carrera 14 No. 18-51, Armenia, Colombia; Carrera 16 No. 43-15, Dos Quebradas, Colombia; Carrera 18 No. 22-17, Manizales, Colombia; Carrera 19 No. 11-52, Dutaima, Colombia; Carrera 2 No. 13-17, Puerto Boyaca, Colombia; Carrera 23 No. 29-03, Tulua, Colombia; Carrera 2A No. 15-10, Dorada, Colombia; Carrera 33 No. 19-35, Villavicencio, Colombia; Carrera 4 No. 16-87, Soacha, Colombia; Carrera 7 No. 12-58, Cartago, Colombia; Transversal 29 No. 39-92, Bogota, Colombia; NIT # 815002808-1 (Colombia) [SDNT]

AGROPECUARIA BETANIA LTDA. (n.k.a. VALLADARES LTDA.), Calle 70N No. 14-31, Cali, Colombia; Carrera 61 No. 11-58, Cali, Colombia; NIT # 890329123-0 (Colombia) [SDNT]

AGROPECUARIA EL ARBOLITO (a.k.a. AGRO MASCOTAS S.A.; a.k.a. AGROPECUARIA 100%; a.k.a. AGROPECUARIA EL GALLO; a.k.a. AGROPECUARIA LA COLMENA; a.k.a. AGROPECUARIA LA HORMIGA; a.k.a. AGROTODO; a.k.a. AGROTORO), Avenida 3 Bis No. 23CN-13, Cali, Colombia; Calle 19 No. 12-36, Tunja, Colombia; Calle 1N No. 4-36, Popayan, Colombia; Calle 28 No. 27-06, Palmira, Colombia; Calle 3 No. 11-104, Santander de Quilichao, Colombia; Calle 35 No. 27-69, Villavicencio, Colombia; Calle 35 No. 27-83, Villavicencio, Colombia; Carrera 1 No. 14-41, Ibague, Colombia; Carrera 10 No. 11-14 Esq., Jamundi, Colombia; Carrera 10 No. 12-02 Esq., Girardot, Colombia; Carrera 10 No. 18-02, Pereira, Colombia; Carrera 13 No. 13-41, Bogota, Colombia; Carrera 13 No. 15-42, Santa Rosa, Colombia; Carrera 14 No. 18-51, Armenia, Colombia; Carrera 16 No. 43-15, Dos Quebradas, Colombia; Carrera 18 No. 22-17, Manizales, Colombia; Carrera 19 No. 11-52, Dutaima, Colombia; Carrera 2 No. 13-17, Puerto Boyaca, Colombia; Carrera 23 No. 29-03, Tulua, Colombia; Carrera 2A No. 15-10, Dorada, Colombia; Carrera 33 No. 19-35, Villavicencio, Colombia; Carrera 4 No. 16-87, Soacha, Colombia; Carrera 7 No. 12-58, Cartago, Colombia; Transversal 29 No. 39-92, Bogota, Colombia; NIT # 815002808-1 (Colombia) [SDNT]

AGROPECUARIA EL GALLO (a.k.a. AGRO MASCOTAS S.A.; a.k.a. AGROPECUARIA 100%; a.k.a. AGROPECUARIA EL ARBOLITO; a.k.a. AGROPECUARIA LA COLMENA; a.k.a. AGROPECUARIA LA HORMIGA; a.k.a. AGROTODO; a.k.a. AGROTORO), Avenida 3 Bis No. 23CN-13, Cali, Colombia; Calle 19 No. 12-36, Tunja, Colombia; Calle 1N No. 4-36, Popayan, Colombia; Calle 28 No. 27-06, Palmira, Colombia; Calle 3 No. 11-104, Santander de Quilichao, Colombia; Calle 35 No. 27-69, Villavicencio, Colombia; Calle 35 No. 27-83, Villavicencio, Colombia; Carrera 1 No. 14-41, Ibague, Colombia; Carrera 10 No. 11-14 Esq., Jamundi, Colombia; Carrera 10 No. 12-02 Esq., Girardot, Colombia; Carrera 10 No. 18-02, Pereira, Colombia; Carrera 13 No. 13-41, Bogota, Colombia; Carrera 13 No. 15-42, Santa Rosa, Colombia; Carrera 14 No. 18-51, Armenia, Colombia; Carrera 16 No. 43-15, Dos Quebradas, Colombia; Carrera 18 No. 22-17, Manizales, Colombia; Carrera 19 No. 11-52, Dutaima, Colombia; Carrera 2 No. 13-17, Puerto Boyaca, Colombia; Carrera 23 No. 29-03, Tulua, Colombia; Carrera 2A No. 15-10, Dorada, Colombia; Carrera 33 No. 19-35, Villavicencio, Colombia; Carrera 4 No. 16-87, Soacha, Colombia; Carrera 7 No. 12-58, Cartago, Colombia; Transversal 29 No. 39-92, Bogota, Colombia; NIT # 815002808-1 (Colombia) [SDNT]

AGROPECUARIA LA COLMENA (a.k.a. AGRO MASCOTAS S.A.; a.k.a. AGROPECUARIA 100%; a.k.a. AGROPECUARIA EL ARBOLITO; a.k.a. AGROPECUARIA EL GALLO; a.k.a. AGROPECUARIA LA HORMIGA; a.k.a. AGROTODO; a.k.a. AGROTORO), Avenida 3 Bis No. 23CN-13, Cali, Colombia; Calle 19 No. 12-36, Tunja, Colombia; Calle 1N No. 4-36, Popayan, Colombia; Calle 28 No. 27-06, Palmira, Colombia; Calle 3 No. 11-104, Santander de Quilichao, Colombia; Calle 35 No. 27-69, Villavicencio, Colombia; Calle 35 No. 27-83, Villavicencio, Colombia; Carrera 1 No. 14-41, Ibague, Colombia; Carrera 10 No. 11-14 Esq., Jamundi, Colombia; Carrera 10 No. 12-02 Esq., Girardot, Colombia; Carrera 10 No. 18-02, Pereira, Colombia; Carrera 13 No. 13-41, Bogota, Colombia; Carrera 13 No. 15-42, Santa Rosa, Colombia; Carrera 14 No. 18-51, Armenia, Colombia; Carrera 16 No. 43-15, Dos Quebradas, Colombia; Carrera 18 No. 22-17, Manizales, Colombia; Carrera 19 No. 11-52, Dutaima, Colombia; Carrera 2 No. 13-17, Puerto Boyaca, Colombia; Carrera 23 No. 29-03, Tulua, Colombia; Carrera 2A No. 15-10, Dorada, Colombia; Carrera 33 No. 19-35, Villavicencio, Colombia; Carrera 4 No. 16-87, Soacha, Colombia; Carrera 7 No. 12-58, Cartago, Colombia; Transversal 29 No. 39-92, Bogota, Colombia; NIT # 815002808-1 (Colombia) [SDNT]

AGROPECUARIA LA HORMIGA (a.k.a. AGRO MASCOTAS S.A.; a.k.a. AGROPECUARIA 100%; a.k.a. AGROPECUARIA EL ARBOLITO; a.k.a. AGROPECUARIA EL GALLO; a.k.a. AGROPECUARIA LA COLMENA; a.k.a. AGROTODO; a.k.a. AGROTORO), Avenida 3 Bis No. 23CN-13, Cali, Colombia; Calle 19 No. 12-36, Tunja, Colombia; Calle 1N No. 4-36, Popayan, Colombia; Calle 28 No. 27-06, Palmira, Colombia; Calle 3 No. 11-104, Santander de Quilichao, Colombia; Calle 35 No. 27-69, Villavicencio, Colombia; Calle 35 No. 27-83, Villavicencio, Colombia; Carrera 1 No. 14-41, Ibague, Colombia; Carrera 10 No. 11-14 Esq., Jamundi, Colombia; Carrera 10 No. 12-02 Esq., Girardot, Colombia; Carrera 10 No. 18-02, Pereira, Colombia; Carrera 13 No. 13-41, Bogota, Colombia; Carrera 13 No. 15-42, Santa Rosa, Colombia; Carrera 14 No. 18-51, Armenia, Colombia; Carrera 16 No. 43-15, Dos Quebradas, Colombia; Carrera 18 No. 22-17, Manizales, Colombia; Carrera 19 No. 11-52, Dutaima, Colombia; Carrera 2 No. 13-17, Puerto Boyaca, Colombia; Carrera 23 No. 29-03, Tulua, Colombia; Carrera 2A No. 15-10, Dorada, Colombia; Carrera 33 No. 19-35, Villavicencio, Colombia; Carrera 4 No. 16-87, Soacha, Colombia; Carrera 7 No. 12-58, Cartago, Colombia; Transversal 29 No. 39-92, Bogota, Colombia; NIT # 815002808-1 (Colombia) [SDNT]

AGROPECUARIA LA ROBLEDA S.A. (n.k.a. MANAURE S.A.), Avenida 2D Norte No. 24N-76, Cali, Colombia; Carrera 61 No. 11-58, Cali, Colombia; NIT # 800160353-2 (Colombia) [SDNT]

AGROPECUARIA MIRALINDO S.A., Carrera 8N No. 17A-12, Cartago, Colombia; NIT # 836000446-4 (Colombia) [SDNT]

AGROPECUARIA Y REFORESTADORA HERREBE LTDA., Avenida 2N No. 7N-55 of. 501, Cali, Colombia [SDNT]

AGROTODO (a.k.a. AGRO MASCOTAS S.A.; a.k.a. AGROPECUARIA 100%; a.k.a. AGROPECUARIA EL ARBOLITO; a.k.a. AGROPECUARIA EL GALLO; a.k.a. AGROPECUARIA LA COLMENA; a.k.a. AGROPECUARIA LA HORMIGA; a.k.a. AGROTORO), Avenida 3 Bis No. 23CN-13, Cali, Colombia; Calle 19 No. 12-36, Tunja, Colombia; Calle 1N No. 4-36, Popayan, Colombia; Calle 28 No. 27-06, Palmira, Colombia; Calle 3 No. 11-104, Santander de Quilichao, Colombia; Calle 35 No. 27-69, Villavicencio, Colombia; Calle 35 No. 27-83, Villavicencio, Colombia; Carrera 1 No. 14-41, Ibague, Colombia; Carrera 10 No. 11-14 Esq., Jamundi, Colombia; Carrera 10 No. 12-02 Esq., Girardot, Colombia; Carrera 10 No. 18-02, Pereira, Colombia; Carrera 13 No. 13-41, Bogota, Colombia; Carrera 13 No. 15-42, Santa Rosa, Colombia; Carrera 14 No. 18-51, Armenia, Colombia; Carrera 16 No. 43-15, Dos Quebradas, Colombia; Carrera 18 No. 22-17, Manizales, Colombia; Carrera 19 No. 11-52, Dutaima, Colombia; Carrera 2 No. 13-17, Puerto Boyaca, Colombia; Carrera 23 No. 29-03, Tulua, Colombia; Carrera 2A No. 15-10, Dorada, Colombia; Carrera 33 No. 19-35, Villavicencio, Colombia; Carrera 4 No. 16-87, Soacha, Colombia; Carrera 7 No. 12-58, Cartago, Colombia; Transversal 29 No. 39-92, Bogota, Colombia; NIT # 815002808-1 (Colombia) [SDNT]

AGROTORO (a.k.a. AGRO MASCOTAS S.A.; a.k.a. AGROPECUARIA 100%; a.k.a. AGROPECUARIA EL ARBOLITO; a.k.a. AGROPECUARIA EL GALLO; a.k.a. AGROPECUARIA LA COLMENA; a.k.a. AGROPECUARIA LA HORMIGA; a.k.a. AGROTODO), Avenida 3 Bis No. 23CN-13, Cali, Colombia; Calle 19 No. 12-36, Tunja, Colombia; Calle 1N No. 4-36, Popayan, Colombia; Calle 28 No. 27-06, Palmira, Colombia; Calle 3 No. 11-104, Santander de Quilichao, Colombia; Calle 35 No. 27-69, Villavicencio, Colombia; Calle 35 No. 27-83, Villavicencio, Colombia; Carrera 1 No. 14-41, Ibague, Colombia; Carrera 10 No. 11-14 Esq., Jamundi, Colombia; Carrera 10 No. 12-02 Esq., Girardot, Colombia; Carrera 10 No. 18-02, Pereira, Colombia; Carrera 13 No. 13-41, Bogota, Colombia; Carrera 13 No. 15-42, Santa Rosa, Colombia; Carrera 14 No. 18-51, Armenia, Colombia; Carrera 16 No. 43-15, Dos Quebradas, Colombia; Carrera 18 No. 22-17, Manizales, Colombia; Carrera 19 No. 11-52, Dutaima, Colombia; Carrera 2 No. 13-17, Puerto Boyaca, Colombia; Carrera 23 No. 29-03, Tulua, Colombia; Carrera 2A No. 15-10, Dorada, Colombia; Carrera 33 No. 19-35, Villavicencio, Colombia; Carrera 4 No. 16-87, Soacha, Colombia; Carrera 7 No. 12-58, Cartago, Colombia; Transversal 29 No. 39-92, Bogota, Colombia; NIT # 815002808-1 (Colombia) [SDNT]

AGROVETERINARIA EL TORO (a.k.a. AGROVETERINARIA EL TORO #2; a.k.a. INVERSIONES BOMBAY S.A.), Transversal 29 No. 39-92, Bogota, Colombia; Calle 12B No. 28-50, Bogota, Colombia; Avenida 3 Bis Norte No. 23CN-69, Cali, Colombia; Calle 7 No. 25-69, Cali, Colombia; NIT # 830019226-2 (Colombia) [SDNT]

AGROVETERINARIA EL TORO #2 (a.k.a. AGROVETERINARIA EL TORO; a.k.a. INVERSIONES BOMBAY S.A.), Transversal 29 No. 39-92, Bogota, Colombia; Calle 12B No. 28-50, Bogota, Colombia; Avenida 3 Bis Norte No. 23CN-69, Cali, Colombia; Calle 7 No. 25-69, Cali, Colombia; NIT # 830019226-2 (Colombia) [SDNT]

AGUADO ORTIZ, Luis Jamerson, c/o D'CACHE S.A., Cali, Colombia; c/o DISTRIBUIDORA MIGIL LTDA., Cali, Colombia; c/o FLEXOEMPAQUES LTDA., Cali, Colombia; c/o INVERSIONES Y CONSTRUCCIONES COSMOVALLE LTDA., Cali, Colombia; c/o PLASTICOS CONDOR LTDA., Cali, Colombia; Cedula No. 2935839 (Colombia) (individual) [SDNT]

AGUAS LOZADA, Rafael, c/o COSMEPOP, Bogota, Colombia; c/o DROGAS LA REBAJA BOGOTA S.A., Bogota, Colombia; c/o LABORATORIOS BLAIMAR DE COLOMBIA S.A., Bogota, Colombia; Cedula No. 11385426 (Colombia) (individual) [SDNT]

AGUDELO, Ivan de Jesus, Avenida 6N No. 47-197 17, Cali, Colombia; c/o INDUSTRIA MADERERA ARCA LTDA., Cali, Colombia (individual) [SDNT]

AGUIAR, Raul, Director, Banco Nacional de Cuba, Avenida de Concha, Espina 8, E-28036 Madrid, Spain (individual) [CUBA]

AGUILAR AMAO, Miguel, Avenida Del Sol 4551, Fraccionamiento La Escondida, Tijuana, Baja California, Mexico; Avenida Del Sol 4551-2, Fraccionamiento La Escondida 22440, Tijuana, Baja California, Mexico; c/o DISTRIBUIDORA IMPERIAL DE BAJA CALIFORNIA, S.A. de C.V., Tijuana, Baja California, Mexico; c/o ADP, S.C., Tijuana, Baja California, Mexico; DOB 29 Sep 1953; POB Santa Agueda, Baja California Sur, Mexico; Credencial electoral No. 101924629544 (Mexico); R.F.C.# AUAM-530929 (Mexico) (individual) [SDNTK]

AGUILAR BERNAL, Sonia, Calle 14C No. 29B-24, Cali, Colombia; c/o COMPANIA DE FOMENTO MERCANTIL S.A., Cali, Colombia; c/o CONSTRUCCIONES PROGRESO DEL PUERTO S.A., Puerto Tejada, Colombia; c/o CRIADERO LA LUISA E.U., Cali, Colombia; c/o GESTORA MERCANTIL S.A., Cali, Colombia; Passport 31988264 (Colombia); Cedula No. 31988264 (Colombia) (individual) [SDNT]

AGUILAR ROJAS, Luz Elena, c/o GEOPLASTICOS S.A., Cali, Colombia; c/o PARQUE INDUSTRIAL PROGRESO S.A., Yumbo, Colombia; DOB 14 Mar 1966; POB Cali, Valle, Colombia; Passport 31940893 (Colombia); Cedula No. 31940893 (Colombia) (individual) [SDNT]

AGUILERA QUIJANO, Harold, c/o ASESORIAS COSMOS LTDA., Cali, Colombia; Cedula No. 16594227 (Colombia) (individual) [SDNT]

AGUIRRE GALINDO, Manuel, c/o COMPLEJO TURISTICO OASIS, S.A. de C.V. Rosarito, Baja California Norte, Mexico; DOB 2 Nov 1950; R.F.C.# AUGM-501102-PM3 (Mexico) (individual) [SDNTK]

AH HAQ, Dr. Amin (a.k.a. AL-HAQ, Amin; a.k.a. AMIN, Muhammad; a.k.a. UL-HAQ, Dr. Amin); DOB 1960; POB Nangahar Province, Afghanistan (individual) [SDGT]

AHLYA BUILDING MATERIALS CO., P.O. Box 8545, Jumhouriya Street, Tripoli, Libya; (branch) P.O. Box 1351, Benghazi, Libya [LIBYA]

AHMAD, Abu (a.k.a. AHMED, Abu; a.k.a. SALAH, Mohammad Abd El-Hamid Khalil; a.k.a. SALAH, Mohammad Abdel Hamid Halil; a.k.a. SALAH, Muhammad A.), 9229 South Thomas, Bridgeview, Illinois 60455, U.S.A.; P.O. Box 2578, Bridgeview, Illinois 60455, U.S.A.; P.O. Box 2616, Bridgeview, Illinois 60455-6616, U.S.A.; Israel; DOB 30 May 1953; SSN 342-52-7612; Passport No. 024296248 (U.S.A.) (individual) [SDT]

AHMAD, Abu Bakr (a.k.a. GHAILANI, Ahmed Khalfan; a.k.a. “AHMED THE TANZANIAN;” a.k.a. “FOOPIE;” a.k.a. “FUPI;” a.k.a. AHMED, A.; a.k.a. AHMED, Abubakar; a.k.a. AHMED, Abubakar K.; a.k.a. AHMED, Abubakar Khalfan; a.k.a. AHMED, Abubakary K.; a.k.a. AHMED, Ahmed Khalfan; a.k.a. AL TANZANI, Ahmad; a.k.a. ALI, Ahmed Khalfan; a.k.a. BAKR, Abu; a.k.a. GHAILANI, Abubakary Khalfan Ahmed; a.k.a. GHAILANI, Ahmed; a.k.a. GHILANI, Ahmad Khalafan; a.k.a. HUSSEIN, Mahafudh Abubakar Ahmed Abdallah; a.k.a. KHABAR, Abu; a.k.a. KHALFAN, Ahmed; a.k.a. MOHAMMED, Shariff Omar); DOB 14 Mar 1974; alt. DOB 13 Apr 1974; alt. DOB 14 Apr 1974; alt. DOB 1 Aug 1970; POB Zanzibar, Tanzania; citizen Tanzania (individual) [SDGT]

AHMAD, Mufti Rasheed (a.k.a. LADEHYANOY, Mufti Rashid Ahmad; a.k.a. LUDHIANVI, Mufti Rashid Ahmad; a.k.a. WADEHYANOY, Mufti Rashid Ahmad), Karachi, Pakistan (individual) [SDGT]

AHMAD, Mustafa Muhammad (a.k.a. SAI'ID, Shaykh); POB Egypt (individual) [SDGT]

AHMAD QASSEM AND SONS CO., Libya [LIBYA]

AHMAD, Rasem, P.O. Box 1318, Amman, Jordan (individual) [IRAQ]

AHMAD, Tariq Anwar al-Sayyid (a.k.a. FARAG, Hamdi Ahmad; a.k.a. FATHI, Amr Al-Fatih); DOB 15 Mar 63; POB Alexandria, Egypt (individual) [SDGT]

AHMAD, Wallid Issa, Iraq (individual) [IRAQ]

Ahmed the Tall (a.k.a. SWEDAN, Sheikh Ahmed Salim; a.k.a. ALLY, Ahmed; a.k.a. BAHAMAD; a.k.a. BAHAMAD, Sheik; a.k.a. BAHAMADI, Sheikh; a.k.a. SUWEIDAN, Sheikh Ahmad Salem; a.k.a. SWEDAN, Sheikh; a.k.a. SWEDAN, Sheikh Ahmed Salem); DOB 9 Apr 1969; alt. DOB 9 Apr 1960; POB Mombasa, Kenya; citizen Kenya (individual) [SDGT]

Ahmed The Egyptian (a.k.a. ALI, Ahmed Mohammed Hamed; a.k.a. ABDUREHMAN, Ahmed Mohammed; a.k.a. ABU FATIMA; a.k.a. ABU ISLAM; a.k.a. ABU KHADIIJAH; a.k.a. AHMED HAMED; a.k.a. AHMED, Ahmed; a.k.a. AL-MASRI, Ahmad; a.k.a. AL-SURIR, Abu Islam; a.k.a. ALI, Ahmed Mohammed; a.k.a. ALI, Hamed; a.k.a. HEMED, Ahmed; a.k.a. SHIEB, Ahmed; a.k.a. SHUAIB), Afghanistan; DOB 1965; POB Egypt; citizen Egypt (individual) [SDGT]

AHMED, A. (a.k.a. GHAILANI, Ahmed Khalfan; a.k.a. “AHMED THE TANZANIAN;” a.k.a. “FOOPIE;” a.k.a. “FUPI;” a.k.a. AHMAD, Abu Bakr; a.k.a. AHMED, Abubakar; a.k.a. AHMED, Abubakar K.; a.k.a. AHMED, Abubakar Khalfan; a.k.a. AHMED, Abubakary K.; a.k.a. AHMED, Ahmed Khalfan; a.k.a. AL TANZANI, Ahmad; a.k.a. ALI, Ahmed Khalfan; a.k.a. BAKR, Abu; a.k.a. GHAILANI, Abubakary Khalfan Ahmed; a.k.a. GHAILANI, Ahmed; a.k.a. GHILANI, Ahmad Khalafan; a.k.a. HUSSEIN, Mahafudh Abubakar Ahmed Abdallah; a.k.a. KHABAR, Abu; a.k.a. KHALFAN, Ahmed; a.k.a. MOHAMMED, Shariff Omar); DOB 14 Mar 1974; alt. DOB 13 Apr 1974; alt. DOB 14 Apr 1974; alt. DOB 1 Aug 1970; POB Zanzibar, Tanzania; citizen Tanzania (individual) [SDGT]

AHMED, Abu (a.k.a. AHMAD, Abu; a.k.a. SALAH, Mohammad Abd El-Hamid Khalil; a.k.a. SALAH, Mohammad Abdel Hamid Halil; a.k.a. SALAH, Muhammad A.), 9229 South Thomas, Bridgeview, Illinois 60455, U.S.A.; P.O. Box 2578, Bridgeview, Illinois 60455, U.S.A.; P.O. Box 2616, Bridgeview, Illinois 60455-6616, U.S.A.; Israel; DOB 30 May 1953; SSN 342-52-7612; Passport No. 024296248 (U.S.A.) (individual) [SDT]

AHMED, Abubakar (a.k.a. GHAILANI, Ahmed Khalfan; a.k.a. “AHMED THE TANZANIAN;” a.k.a. “FOOPIE;” a.k.a. “FUPI;” a.k.a. AHMAD, Abu Bakr; a.k.a. AHMED, A.; a.k.a. AHMED, Abubakar K.; a.k.a. AHMED, Abubakar Khalfan; a.k.a. AHMED, Abubakary K.; a.k.a. AHMED, Ahmed Khalfan; a.k.a. AL TANZANI, Ahmad; a.k.a. ALI, Ahmed Khalfan; a.k.a. BAKR, Abu; a.k.a. GHAILANI, Abubakary Khalfan Ahmed; a.k.a. GHAILANI, Ahmed; a.k.a. GHILANI, Ahmad Khalafan; a.k.a. HUSSEIN, Mahafudh Abubakar Ahmed Abdallah; a.k.a. KHABAR, Abu; a.k.a. KHALFAN, Ahmed; a.k.a. MOHAMMED, Shariff Omar); DOB 14 Mar 1974; alt. DOB 13 Apr 1974; alt. DOB 14 Apr 1974; alt. DOB 1 Aug 1970; POB Zanzibar, Tanzania; citizen Tanzania (individual) [SDGT]

AHMED, Abubakar K. (a.k.a. GHAILANI, Ahmed Khalfan; a.k.a. “AHMED THE TANZANIAN;” a.k.a. “FOOPIE;” a.k.a. “FUPI;” a.k.a. AHMAD, Abu Bakr; a.k.a. AHMED, A.; a.k.a. AHMED, Abubakar; a.k.a. AHMED, Abubakar Khalfan; a.k.a. AHMED, Abubakary K.; a.k.a. AHMED, Ahmed Khalfan; a.k.a. AL TANZANI, Ahmad; a.k.a. ALI, Ahmed Khalfan; a.k.a. BAKR, Abu; a.k.a. GHAILANI, Abubakary Khalfan Ahmed; a.k.a. GHAILANI, Ahmed; a.k.a. GHILANI, Ahmad Khalafan; a.k.a. HUSSEIN, Mahafudh Abubakar Ahmed Abdallah; a.k.a. KHABAR, Abu; a.k.a. KHALFAN, Ahmed; a.k.a. MOHAMMED, Shariff Omar); DOB 14 Mar 1974; alt. DOB 13 Apr 1974; alt. DOB 14 Apr 1974; alt. DOB 1 Aug 1970; POB Zanzibar, Tanzania; citizen Tanzania (individual) [SDGT]

AHMED, Abubakar Khalfan (a.k.a. GHAILANI, Ahmed Khalfan; a.k.a. “AHMED THE TANZANIAN;” a.k.a. “FOOPIE;” a.k.a. “FUPI;” a.k.a. AHMAD, Abu Bakr; a.k.a. AHMED, A.; a.k.a. AHMED, Abubakar; a.k.a. AHMED, Abubakar K.; a.k.a. AHMED, Abubakary K.; a.k.a. AHMED, Ahmed Khalfan; a.k.a. AL TANZANI, Ahmad; a.k.a. ALI, Ahmed Khalfan; a.k.a. BAKR, Abu; a.k.a. GHAILANI, Abubakary Khalfan Ahmed; a.k.a. GHAILANI, Ahmed; a.k.a. GHILANI, Ahmad Khalafan; a.k.a. HUSSEIN, Mahafudh Abubakar Ahmed Abdallah; a.k.a. KHABAR, Abu; a.k.a. KHALFAN, Ahmed; a.k.a. MOHAMMED, Shariff Omar); DOB 14 Mar 1974; alt. DOB 13 Apr 1974; alt. DOB 14 Apr 1974; alt. DOB 1 Aug 1970; POB Zanzibar, Tanzania; citizen Tanzania (individual) [SDGT]

AHMED, Abubakary K. (a.k.a. GHAILANI, Ahmed Khalfan; a.k.a. “AHMED THE TANZANIAN;” a.k.a. “FOOPIE;” a.k.a. “FUPI;” a.k.a. AHMAD, Abu Bakr; a.k.a. AHMED, A.; a.k.a. AHMED, Abubakar; a.k.a. AHMED, Abubakar K.; a.k.a. AHMED, Abubakar Khalfan; a.k.a. AHMED, Ahmed Khalfan; a.k.a. AL TANZANI, Ahmad; a.k.a. ALI, Ahmed Khalfan; a.k.a. BAKR, Abu; a.k.a. GHAILANI, Abubakary Khalfan Ahmed; a.k.a. GHAILANI, Ahmed; a.k.a. GHILANI, Ahmad Khalafan; a.k.a. HUSSEIN, Mahafudh Abubakar Ahmed Abdallah; a.k.a. KHABAR, Abu; a.k.a. KHALFAN, Ahmed; a.k.a. MOHAMMED, Shariff Omar); DOB 14 Mar 1974; alt. DOB 13 Apr 1974; alt. DOB 14 Apr 1974; alt. DOB 1 Aug 1970; POB Zanzibar, Tanzania; citizen Tanzania (individual) [SDGT]

AHMED, Ahmed (a.k.a. ALI, Ahmed Mohammed Hamed; a.k.a. ABDUREHMAN, Ahmed Mohammed; a.k.a. ABU FATIMA; a.k.a. ABU ISLAM; a.k.a. ABU KHADIIJAH; a.k.a. AHMED HAMED; a.k.a. Ahmed The Egyptian; a.k.a. AL-MASRI, Ahmad; a.k.a. AL-SURIR, Abu Islam; a.k.a. ALI, Ahmed Mohammed; a.k.a. ALI, Hamed; a.k.a. HEMED, Ahmed; a.k.a. SHIEB, Ahmed; a.k.a. SHUAIB), Afghanistan; DOB 1965; POB Egypt; citizen Egypt (individual) [SDGT]

AHMED, Ahmed Khalfan (a.k.a. GHAILANI, Ahmed Khalfan; a.k.a. “AHMED THE TANZANIAN;” a.k.a. “FOOPIE;” a.k.a. “FUPI;” a.k.a. AHMAD, Abu Bakr; a.k.a. AHMED, A.; a.k.a. AHMED, Abubakar; a.k.a. AHMED, Abubakar K.; a.k.a. AHMED, Abubakar Khalfan; a.k.a. AHMED, Abubakary K.; a.k.a. AL TANZANI, Ahmad; a.k.a. ALI, Ahmed Khalfan; a.k.a. BAKR, Abu; a.k.a. GHAILANI, Abubakary Khalfan Ahmed; a.k.a. GHAILANI, Ahmed; a.k.a. GHILANI, Ahmad Khalafan; a.k.a. HUSSEIN, Mahafudh Abubakar Ahmed Abdallah; a.k.a. KHABAR, Abu; a.k.a. KHALFAN, Ahmed; a.k.a. MOHAMMED, Shariff Omar); DOB 14 Mar 1974; alt. DOB 13 Apr 1974; alt. DOB 14 Apr 1974; alt. DOB 1 Aug 1970; POB Zanzibar, Tanzania; citizen Tanzania (individual) [SDGT]

AHMED HAMED (a.k.a. ALI, Ahmed Mohammed Hamed; a.k.a. ABDUREHMAN, Ahmed Mohammed; a.k.a. ABU FATIMA; a.k.a. ABU ISLAM; a.k.a. ABU KHADIIJAH; a.k.a. Ahmed The Egyptian; a.k.a. AHMED, Ahmed; a.k.a. AL-MASRI, Ahmad; a.k.a. AL-SURIR, Abu Islam; a.k.a. ALI, Ahmed Mohammed; a.k.a. ALI, Hamed; a.k.a. HEMED, Ahmed; a.k.a. SHIEB, Ahmed; a.k.a. SHUAIB), Afghanistan; DOB 1965; POB Egypt; citizen Egypt (individual) [SDGT]

AHMED NACER, Yacine (a.k.a. YACINE DI ANNABA), Rue Mohamed Khemisti, 6, Annaba, Algeria; Via Genova, 121, Naples, Italy; Vicolo Duchessa, 16, Naples, Italy; DOB 2 Dec 1967; POB Annaba, Algeria (individual) [SDGT]

AHMED, Saeed (a.k.a. AKMAN, Saeed; a.k.a. MURAD, Abdul Hakim Al Hashim; a.k.a. MURAD, Abdul Hakim; a.k.a. MURAD, Adbul Hakim Ali Hashim; a.k.a. MURAD, Abdul Hakim Hasim), currently incarcerated in the U.S.; DOB 4 Jan 1968; POB Kuwait; nationality Pakistani (individual) [SDGT]

AHYA UL TURAS (a.k.a. AFGHAN SUPPORT COMMITTEE (ASC); a.k.a. JAMIAT AYAT-UR-RHAS AL ISLAMIA; a.k.a. JAMIAT IHYA UL TURATH AL ISLAMIA; a.k.a. LAJNAT UL MASA EIDATUL AFGHANIA) Grand Trunk Road, near Pushtoon Garhi Pabbi, Peshawar, Pakistan; Cheprahar Hadda, Mia Omar Sabaqah School, Jalalabad, Afghanistan [SDGT]

AIADI, Ben Muhammad (a.k.a. AIADY, Ben Muhammad; a.k.a. AYADI CHAFIK, Ben Muhammad; a.k.a. AYADI SHAFIQ, Ben Muhammad; a.k.a. BIN MUHAMMAD, Ayadi Chafiq), Helene Meyer Ring 10-1415-80809, Munich, Germany; 129 Park Road, NW8, London, England; 28 Chaussee de Lille, Mouscron, Belgium; Darvingasse 1/2/58-60, Vienna, Austria; Tunisia; DOB 21 Jan 1963; POB Safais (Sfax), Tunisia (individual) [SDGT]

AIADY, Ben Muhammad (a.k.a. AIADI, Ben Muhammad; a.k.a. AYADI CHAFIK, Ben Muhammad; a.k.a. AYADI SHAFIQ, Ben Muhammad; a.k.a. BIN MUHAMMAD, Ayadi Chafiq), Helene Meyer Ring 10-1415-80809, Munich, Germany; 129 Park Road, NW8, London, England; 28 Chaussee de Lille, Mouscron, Belgium; Darvingasse 1/2/58-60, Vienna, Austria; Tunisia; DOB 21 Jan 1963; POB Safais (Sfax), Tunisia (individual) [SDGT]

AIAI (a.k.a. AL-ITIHAAD AL-ISLAMIYA) [SDGT]

AIDER, Farid (a.k.a. ACHOUR, Ali), Via Milanese, 5, 20099 Sesto San Giovanni, Milan, Italy; DOB 12 Oct 1964; POB Algiers, Algeria; Italian Fiscal Code: DRAFRD64R12Z301C (individual) [SDGT]

AIMOROS SHIPPING CO. LTD., (a.k.a. AIRMORES SHIPPING CO. LTD.), c/o MELFI MARINE CORPORATION S.A., Oficina 7, Edificio Senorial, Calle 50, Apartado 31, Panama City 5, Panama [CUBA]

AIRMORES SHIPPING CO. LTD., (a.k.a. AIMOROS SHIPPING CO. LTD.), c/o MELFI MARINE CORPORATION S.A., Oficina 7, Edificio Senorial, Calle 50, Apartado 31, Panama City 5, Panama [CUBA]

AISHA, Abu (a.k.a. MOHAMMED, Fazul Abdullah; a.k.a. ABDALLA, Fazul; a.k.a. ADBALLAH, Fazul; a.k.a. AL SUDANI, Abu Seif; a.k.a. ALI, Fadel Abdallah Mohammed; a.k.a. FAZUL, Abdalla; a.k.a. FAZUL, Abdallah; a.k.a. FAZUL, Abdallah Mohammed; a.k.a. FAZUL, Haroon; a.k.a. FAZUL, Harun; a.k.a. HAROON; a.k.a. HAROUN, Fadhil; a.k.a. HARUN; a.k.a. LUQMAN, Abu; a.k.a. MOHAMMED, Fazul; a.k.a. MOHAMMED, Fazul Abdilahi; a.k.a. MOHAMMED, Fouad; a.k.a. MUHAMAD, Fadil Abdallah); DOB 25 Aug 1972; alt. DOB 25 Dec 1974; alt. DOB 25 Feb 1974; POB Moroni, Comoros Islands; citizen Comoros; alt. citizen Kenya (individual) [SDGT]

AKHTARABAD MEDICAL CAMP (a.k.a. AL-AKHTAR TRUST INTERNATIONAL), Spin Boldak, Afghanistan [SDGT]

AKIDA BANK PRIVATE LIMITED (f.k.a. AKIDA ISLAMIC BANK INTERNATIONAL LIMITED; f.k.a. IKSIR INTERNATIONAL BANK LIMITED), c/o Arthur D. Hanna & Company; 10 Deveaux Street, Nassau, Bahamas; P.O. Box N-4877, Nassau, Bahamas [SDGT]

AKIDA BANK PRIVATE LIMITED (n.k.a. AKIDA INVESTMENT CO. LTD.; n.k.a. AKIDA INVESTMENT COMPANY LIMITED), c/o Arthur D. Hanna & Company, 10 Deveaux Street, Nassau, Bahamas; P.O. Box N-4877, Nassau, Bahamas [SDGT]

AKIDA INVESTMENT CO. LTD. (a.k.a. AKIDA INVESTMENT COMPANY LIMITED; f.k.a. AKIDA BANK PRIVATE LIMITED), c/o Arthur D. Hanna & Company, 10 Deveaux Street, Nassau, Bahamas; P.O. Box N-4877, Nassau, Bahamas [SDGT]

AKIDA INVESTMENT COMPANY LIMITED (a.k.a. AKIDA INVESTMENT CO. LTD.; f.k.a. AKIDA BANK PRIVATE LIMITED), c/o Arthur D. Hanna & Company, 10 Deveaux Street, Nassau, Bahamas; P.O. Box N-4877, Nassau, Bahamas [SDGT]

AKIDA ISLAMIC BANK INTERNATIONAL LIMITED (a.k.a. IKSIR INTERNATIONAL BANK LIMITED; n.k.a. AKIDA BANK PRIVATE LIMITED), c/o Arthur D. Hanna & Company; 10 Deveaux Street, Nassau, Bahamas; P.O. Box N-4877, Nassau, Bahamas [SDGT]

AKLI, Mohamed Amine (a.k.a. “Elias;” a.k.a. “Kali Sami;” a.k.a. “Killech Shamir”) DOB 30 Mar 1972; POB Abordj El Kiffani, Algeria (individual) [SDGT]

AKMAN, Saeed (a.k.a. AHMED, Saeed; a.k.a. MURAD, Abdul Hakim; a.k.a. MURAD, Abdul Hakim Al Hashim; a.k.a. MURAD, Adbul Hakim Ali Hashim; a.k.a. MURAD, Abdul Hakim Hasim), currently incarcerated in the U.S.; DOB 4 Jan 1968; POB Kuwait; nationality Pakistani (individual) [SDGT]

AKSH (a.k.a. ALBANIAN NATIONAL ARMY; a.k.a. ANA) [BALKANS]

AL ABIAR FODDER PLANT, Libya [LIBYA]

AL AHLIYA CO. FOR TRADING AND MANUFACTURE OF CLOTHING, P.O. Box 4152, Benghazi, Libya; (branch) P.O. Box 15182, Tripoli, Libya [LIBYA]

AL AMAL CO. FOR TRADING AND MANUFACTURING OF CLOTHING, Libya [LIBYA]

AL AQSA ASSISTANCE CHARITABLE COUNCIL (a.k.a. AL-LAJNA AL-KHAYRIYYA LIL MUNASARA AL-AQSA; a.k.a. BENEVOLENCE COMMITTEE FOR SOLDARITY WITH PALESTINE; a.k.a. BENEVOLENT COMMITTEE FOR SUPPORT OF PALESTINE; a.k.a. CBSP; a.k.a. CHARITABLE COMMITTEE FOR PALESTINE; a.k.a. CHARITABLE COMMITTEE FOR SOLIDARITY WITH PALESTINE; a.k.a. CHARITABLE COMMITTEE FOR SUPPORTING PALESTINE; a.k.a. CHARITABLE ORGANIZATION IN SUPPORT OF PALESTINE; n.k.a. COMITE' DE BIENFAISANCE ET DE SECOURS AUX PALESTINIENS; f.k.a. COMITE' DE BIENFAISANCE POUR LA SOLIDARITE' AVEC LA PALESTINE; a.k.a. COMMITTEE FOR AID AND SOLIDARITY WITH PALESTINE; a.k.a. COMMITTEE FOR ASSISTANCE AND SOLIDARITY WITH PALESTINE; a.k.a. COMMITTEE FOR CHARITY AND SOLIDARITY WITH PALESTINE; a.k.a. COMPANIE BENIFICENT DE SOLIDARITE AVEC PALESTINE; a.k.a. COUNCIL OF CHARITY AND SOLIDARITY; a.k.a. DE BIENFAISANCE ET DE COMMITE LE SOLIDARITE AVEC LA PALESTINE; a.k.a. RELIEF COMMITTEE FOR SOLIDARITY WITH PALESTINE), 68 Rue Jules Guesde, 59000 Lille, France; 10 Rue Notre Dame, 69006 Lyon, France; 37 Rue de la Chapelle, 75018 Paris, France [SDGT]

AL BANNA, Sabri Khalil Abd Al Qadir (a.k.a. NIDAL, Abu); Founder and Secretary General of ABU NIDAL ORGANIZATION; DOB May 1937 or 1940; POB Jaffa, Israel (individual) [SDT]

AL BARAKA EXCHANGE LLC, P.O. Box 20066, Dubai, U.A.E.; P.O. Box 3313, Deira, Dubai, U.A.E. [SDGT]

AL BIR AL DAWALIA (a.k.a. BENEVOLENCE INTERNATIONAL FOUNDATION; a.k.a. BIF; a.k.a. BIF-USA; a.k.a. MEZHDUNARODNYJ BLAGOTVORITEL'NYJ FOND), 8820 Mobile Avenue, 1A, Oak Lawn, IL 60453, U.S.A.; P.O. Box 548, Worth, IL 60482, U.S.A.; formerly at 9838 S. Roberts Road, Suite 1W, Palos Hills, IL 60465, U.S.A.; formerly at 20-24 Branford Place, Suite 705, Newark, NJ 07102, U.S.A.; Bashir Safar Ugli 69, Baku, Azerbaijan; 69 Boshir Safaroglu St., Baku, Azerbaijan; Sarajevo, Bosnia-Herzegovina; Zenica, Bosnia-Herzegovina; “last known address,” 3 King Street, South Waterloo, Ontario, N2J 3Z6 Canada; “last known address,” P.O. Box 1508 Station B, Mississauga, Ontario, L4Y 4G2 Canada; “last known address,” 2465 Cawthra Rd., #203, Mississauga, Ontario, L5A 3P2 Canada; Ottawa, Canada; Grozny, Chechnya; 91 Paihonggou, Lanzhou, Gansu, China 730000; Hrvatov 30, 41000, Zagreb, Croatia; Makhachkala, Daghestan; Duisi, Georgia; Tbilisi, Georgia; Nazran, Ingushetia; Burgemeester Kessensingel 40, Maastricht, Netherlands; House 111, First Floor, Street 64, F-10/3, Islamabad, Pakistan; P.O. Box 1055, Peshawar, Pakistan; Azovskaya 6, km. 3, off. 401, Moscow, Russia 113149; Ulitsa Oktyabr'skaya, dom. 89, Moscow, Russia 127521; P.O. Box 1937, Khartoum, Sudan; P.O. Box 7600, Jeddah 21472, Saudi Arabia; P.O. Box 10845, Riyadh 11442, Saudi Arabia; Dushanbe, Tajikistan; United Kingdom; Afghanistan; Bangladesh; Bosnia-Herzegovina; Gaza Strip; Yemen; U.S. FEIN: 36-3823186 [SDGT]

AL FAWWAZ, Khaled (a.k.a. AL-FAUWAZ, Khaled; a.k.a. AL-FAUWAZ, Khaled A.; a.k.a. AL-FAWAZ, Khalid; a.k.a. AL-FAWWAZ, Khalid; a.k.a. AL FAWWAZ, Khalid; a.k.a. AL-FAWWAZ, Khaled), 55 Hawarden Hill, Brooke Road, London, NW2 7BR, England; DOB 25 Aug 1962 (individual) [SDGT]

AL FAWWAZ, Khalid (a.k.a. AL-FAUWAZ, Khaled; a.k.a. AL-FAUWAZ, Khaled A.; a.k.a. AL-FAWAZ, Khalid; a.k.a. AL-FAWWAZ, Khalid; a.k.a. AL FAWWAZ, Khaled; a.k.a. AL-FAWWAZ, Khaled), 55 Hawarden Hill, Brooke Road, London, NW2 7BR, England; DOB 25 Aug 1962 (individual) [SDGT]

AL GAZEERA BENGHAZI, P.O. Box 2456, Benghazi, Libya [LIBYA]

AL GHOZI, Fathur Rahman (a.k.a. “Abu Sa'ad;” a.k.a. “Abu Saad;” a.k.a. AL GHOZI, Fathur Rohman; a.k.a. AL-GHOZI, Fathur Rahman; a.k.a. AL-GHOZI, Fathur Rohman; a.k.a. AL-GOZHI, Fathur Rahman; a.k.a. AL-GOZHI, Fathur Rohman; a.k.a. AL-GOZI, Fathur Rahman; a.k.a. AL-GOZI, Fathur Rohman; a.k.a. ALGHOZI, Fathur Rahman; a.k.a. ALGHOZI, Fathur Rohman; a.k.a. ALI, Randy; a.k.a. ALIH, Randy; a.k.a. ALIH, Randy Adam; a.k.a. AZAD, Rony; a.k.a. BIN AHAD, Rony Azad; a.k.a. BIN AHMAD, Rony Azad; a.k.a. BIN AMAD, Rony Azad; a.k.a. EDRIS, Anwar Rodin; a.k.a. “Freedom Fighter;” a.k.a. JAMIL, Sammy Sali; a.k.a. JAMIL, Sammy Salih; a.k.a. RANDY, Alih); DOB 17 Feb 1971; POB Madiun, East Java, Indonesia; Passport No. GG 672613 (Philippines); nationality Indonesian (individual) [SDGT]

AL GHOZI, Fathur Rohman (a.k.a. “Abu Sa'ad;” a.k.a. “Abu Saad;” a.k.a. AL GHOZI, Fathur Rahman; a.k.a. AL-GHOZI, Fathur Rahman; a.k.a. AL-GHOZI, Fathur Rohman; a.k.a. AL-GOZHI, Fathur Rahman; a.k.a. AL-GOZHI, Fathur Rohman; a.k.a. AL-GOZI, Fathur Rahman; a.k.a. AL-GOZI, Fathur Rohman; a.k.a. ALGHOZI, Fathur Rahman; a.k.a. ALGHOZI, Fathur Rohman; a.k.a. ALI, Randy; a.k.a. ALIH, Randy; a.k.a. ALIH, Randy Adam; a.k.a. AZAD, Rony; a.k.a. BIN AHAD, Rony Azad; a.k.a. BIN AHMAD, Rony Azad; a.k.a. BIN AMAD, Rony Azad; a.k.a. EDRIS, Anwar Rodin; a.k.a. “Freedom Fighter;” a.k.a. JAMIL, Sammy Sali; a.k.a. JAMIL, Sammy Salih; a.k.a. RANDY, Alih); DOB 17 Feb 1971; POB Madiun, East Java, Indonesia; Passport No. GG 672613 (Philippines); nationality Indonesian (individual) [SDGT]

AL HAMBRA HOLDING COMPANY, Madrid, Spain [LIBYA]

AL HARAKAT AL ISLAMIYYA (a.k.a. ABU SAYYAF GROUP) [FTO] [SDGT]

AL HARAMAIN (a.k.a. AL-HARAMAIN: Indonesia Branch; a.k.a. AL-HARAMAIN FOUNDATION; a.k.a. YAYASAN AL HARAMAIN; a.k.a. YAYASAN AL HARAMAINI; a.k.a. YAYASAN AL-MANAHIL-INDONESIA), Jalan Laut Sulawesi Blok DII/4, Kavling Angkatan Laut Duren Sawit, Jakarta Timur 13440 Indonesia [SDGT]

AL HARAMAIN FOUNDATION, INC. (a.k.a. AL-HARAMAIN: United States Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 1257 Siskiyou Boulevard, Ashland, OR 97520, U.S.A.; 3800 Highway 99S., Ashland, OR 97520-8718, U.S.A.; 2151 E. Division Street, Springfield, MO 65803, U.S.A. [BPI-PA]

AL JAMAL TRADING EST. (BENGHAZI), Benghazi, Libya [LIBYA]

AL KABIR, 1 Giaddet Omar Mokhtar, P.O. Box 685, Tripoli, Libya (individual) [LIBYA]

AL MANSOOREEN (a.k.a. AL MANSOORIAN; a.k.a. ARMY OF THE PURE; a.k.a. ARMY OF THE PURE AND RIGHTEOUS; a.k.a. ARMY OF THE RIGHTEOUS; a.k.a. LASHKAR E-TAYYIBA; a.k.a. LASHKAR E-TOIBA; a.k.a. LASHKAR-I-TAIBA), Pakistan [FTO] [SDGT]

AL MANSOORIAN (a.k.a. AL MANSOOREEN; a.k.a. ARMY OF THE PURE; a.k.a. ARMY OF THE PURE AND RIGHTEOUS; a.k.a. ARMY OF THE RIGHTEOUS; a.k.a. LASHKAR E-TAYYIBA; a.k.a. LASHKAR E-TOIBA; a.k.a. LASHKAR-I-TAIBA), Pakistan [FTO] [SDGT]

AL MASRI, Abd Al Wakil (a.k.a. FADHIL, Mustafa Mohamed; a.k.a. AL-NUBI, Abu; a.k.a. ALI, Hassan; a.k.a. ANIS, Abu; a.k.a. ELBISHY, Moustafa Ali; a.k.a. FADIL, Mustafa Muhamad; a.k.a. FAZUL, Mustafa; a.k.a. HUSSEIN; a.k.a. JIHAD, Abu; a.k.a. KHALID; a.k.a. MAN, Nu; a.k.a. MOHAMMED, Mustafa; a.k.a. YUSSRR, Abu); DOB 23 Jun 1976; POB Cairo, Egypt; citizen Egypt; alt. citizen Kenya; Kenyan ID No. 12773667; Serial No. 201735161 (individual) [SDGT]

AL MUKHLAS, Ali Gufron (a.k.a. “Sofwan;” a.k.a. GHUFRON, Ali; a.k.a. GUFRON, Ali; a.k.a. HAQ, Huda bin Abdul; a.k.a. Muchlas; a.k.a. Mukhlas; a.k.a. Muklas); DOB 9 Feb 1960; alt. DOB 2 Feb 1960; POB Solokuro subdistrict, Lamongan district, East Java province, Indonesia; nationality Indonesian (individual) [SDGT]

AL PETRA COMPANY FOR GOODS TRANSPORT LTD., (a.k.a. PETRA NAVIGATION AND INTERNATIONAL TRADING CO. LTD.) Hai Al Wahda Mahalat 906, 906 Zulak 50, House 14 Baghdad, Iraq [IRAQ]

AL QA'IDA (a.k.a. AL QAEDA; a.k.a. AL QAIDA; a.k.a. AL-JIHAD; a.k.a. EGYPTIAN AL-JIHAD; a.k.a. EGYPTIAN ISLAMIC JIHAD; a.k.a. INTERNATIONAL FRONT FOR FIGHTING JEWS AND CRUSADES; a.k.a. ISLAMIC ARMY FOR THE LIBERATION OF HOLY SITES; a.k.a. ISLAMIC ARMY; a.k.a. ISLAMIC SALVATION FOUNDATION; a.k.a. NEW JIHAD; a.k.a. THE GROUP FOR THE PRESERVATION OF THE HOLY SITES; a.k.a. THE ISLAMIC ARMY FOR THE LIBERATION OF THE HOLY PLACES; a.k.a. THE JIHAD GROUP; a.k.a. THE WORLD ISLAMIC FRONT FOR JIHAD AGAINST JEWS AND CRUSADERS; a.k.a. USAMA BIN LADEN NETWORK; a.k.a. USAMA BIN LADEN ORGANIZATION; a.k.a. “THE BASE”) [SDT][FTO][SDGT]

AL QAEDA (a.k.a. AL QA'IDA; a.k.a. AL QAIDA; a.k.a. AL-JIHAD; a.k.a. EGYPTIAN AL-JIHAD; a.k.a. EGYPTIAN ISLAMIC JIHAD; a.k.a. INTERNATIONAL FRONT FOR FIGHTING JEWS AND CRUSADES; a.k.a. ISLAMIC ARMY FOR THE LIBERATION OF HOLY SITES; a.k.a. ISLAMIC ARMY; a.k.a. ISLAMIC SALVATION FOUNDATION; a.k.a. NEW JIHAD; a.k.a. THE GROUP FOR THE PRESERVATION OF THE HOLY SITES; a.k.a. THE ISLAMIC ARMY FOR THE LIBERATION OF THE HOLY PLACES; a.k.a. THE JIHAD GROUP; a.k.a. THE WORLD ISLAMIC FRONT FOR JIHAD AGAINST JEWS AND CRUSADERS; a.k.a. USAMA BIN LADEN NETWORK; a.k.a. USAMA BIN LADEN ORGANIZATION; a.k.a. “THE BASE”) [SDT][FTO][SDGT]

AL QAIDA (a.k.a. AL QA'IDA; a.k.a. AL QAEDA; a.k.a. AL-JIHAD; a.k.a. THE JIHAD GROUP; a.k.a. EGYPTIAN AL-JIHAD; a.k.a. EGYPTIAN ISLAMIC JIHAD; a.k.a. INTERNATIONAL FRONT FOR FIGHTING JEWS AND CRUSADES; a.k.a. ISLAMIC ARMY FOR THE LIBERATION OF HOLY SITES; a.k.a. ISLAMIC ARMY; a.k.a. ISLAMIC SALVATION FOUNDATION; a.k.a. NEW JIHAD; a.k.a. THE GROUP FOR THE PRESERVATION OF THE HOLY SITES; a.k.a. THE ISLAMIC ARMY FOR THE LIBERATION OF THE HOLY PLACES; a.k.a. THE WORLD ISLAMIC FRONT FOR JIHAD AGAINST JEWS AND CRUSADERS; a.k.a. USAMA BIN LADEN NETWORK; a.k.a. USAMA BIN LADEN ORGANIZATION; a.k.a. “THE BASE”) [SDT][FTO][SDGT]

AL RAHMAN, Shaykh Umar Abd; Chief Ideological Figure of ISLAMIC GAMA'AT; DOB 03 May 1938; POB Egypt (individual) [SDT]

AL RASHEED TRUST (a.k.a. AL RASHID TRUST; a.k.a. AL-RASHEED TRUST; a.k.a. AL-RASHID TRUST; a.k.a. THE AID ORGANIZATION OF THE ULEMA), Kitab Ghar, Darul Ifta Wal Irshad, Nazimabad No. 4, Karachi, Pakistan; Office Dha'rb-i-M'unin, opposite Khyber Bank, Abbottabad Road, Mansehra, Pakistan; Office Dha'rb-i-M'unin, Z.R. Brothers, Katchehry Road, Chowk Yadgaar, Peshawar, Pakistan; Office Dha'rb-i-M'unin, Room no. 3, Third Floor, Moti Plaza, near Liaquat Bagh, Murree Road, Rawalpindi, Pakistan; Office Dha'rb-i-M'unin, Top Floor, Dr. Dawa Khan Dental Clinic Surgeon, Main Baxar, Mingora, Swat, Pakistan <Operations in Afghanistan: Herat, Jalalabad, Kabul, Kandahar, Mazar Sharif. Also operations in: Kosovo, Chechnya>; 302b-40, Good Earth Court, Opposite Pia Planitarium, Block 13a, Gulshan -I Iqbal, Karachi, Pakistan; 617 Clifton Center, Block 5, 6th Floor, Clifton, Karachi, Pakistan; 605 Landmark Plaza, 11 Chundrigar Road, Opposite Jang Building, Karachi, Pakistan; Jamia Masjid, Sulaiman Park, Begum Pura, Lahore, Pakistan [SDGT]

AL RASHID TRUST (a.k.a. AL RASHEED TRUST; a.k.a. AL-RASHEED TRUST; a.k.a. AL-RASHID TRUST; a.k.a. THE AID ORGANIZATION OF THE ULEMA), Kitab Ghar, Darul Ifta Wal Irshad, Nazimabad No. 4, Karachi, Pakistan; Office Dha'rb-i-M'unin, opposite Khyber Bank, Abbottabad Road, Mansehra, Pakistan; Office Dha'rb-i-M'unin, Z.R. Brothers, Katchehry Road, Chowk Yadgaar, Peshawar, Pakistan; Office Dha'rb-i-M'unin, Room no. 3, Third Floor, Moti Plaza, near Liaquat Bagh, Murree Road, Rawalpindi, Pakistan; Office Dha'rb-i-M'unin, Top Floor, Dr. Dawa Khan Dental Clinic Surgeon, Main Baxar, Mingora, Swat, Pakistan <Operations in Afghanistan: Herat, Jalalabad, Kabul, Kandahar, Mazar Sharif. Also operations in: Kosovo, Chechnya>; 302b-40, Good Earth Court, Opposite Pia Planitarium, Block 13a, Gulshan -I Iqbal, Karachi, Pakistan; 617 Clifton Center, Block 5, 6th Floor, Clifton, Karachi, Pakistan; 605 Landmark Plaza, 11 Chundrigar Road, Opposite Jang Building, Karachi, Pakistan; Jamia Masjid, Sulaiman Park, Begum Pura, Lahore, Pakistan [SDGT]

AL SAADI, Faraj Farj Hassan (a.k.a. Imad Mouhamed Abdellah; a.k.a. Mohamded Abdulla Imad; a.k.a. Muhamad Abdullah Imad; a.k.a. “Hamza Al Libi”), “last known address,” Viale Bligny 42, Milan, Italy; DOB 28 Nov 1980; POB Libya; alt. POB Gaza; alt. POB Jordan; alt. POB Palestine; nationality Libyan; alt. nationality Palestinian; alt. nationality Jordanian; arrested United Kingdom (individual) [SDGT]

AL SANABIL (a.k.a. AL-SANBAL; a.k.a. ASANABIL; a.k.a. JA'MIA SANBLE LLAGHATHA WA ALTINMIA; a.k.a. JAMI'A SANABIL; a.k.a. JAMI'A SANABIL LIL IGATHA WA AL-TANMIYZ; a.k.a. SANABAL; a.k.a. SANABEL; a.k.a. SANABIL; a.k.a. SANABIL AL-AQSA; a.k.a. SANABIL ASSOCIATION FOR RELIEF AND DEVELOPMENT; a.k.a. SANABIL FOR AID AND DEVELOPMENT; a.k.a. SANABIL FOR RELIEF AND DEVELOPMENT; a.k.a. SANABIL GROUP FOR RELIEF AND DEVELOPMENT; a.k.a. SANIBAL; a.k.a. SANNABIL; a.k.a. SANNIBIL; a.k.a. SINABUL), Sidon, Lebanon [SDGT]

AL SUDANI, Abu Seif (a.k.a. MOHAMMED, Fazul Abdullah; a.k.a. ABDALLA, Fazul; a.k.a. ADBALLAH, Fazul; a.k.a. AISHA, Abu; a.k.a. ALI, Fadel Abdallah Mohammed; a.k.a. FAZUL, Abdalla; a.k.a. FAZUL, Abdallah; a.k.a. FAZUL, Abdallah Mohammed; a.k.a. FAZUL, Haroon; a.k.a. FAZUL, Harun; a.k.a. HAROON; a.k.a. HAROUN, Fadhil; a.k.a. HARUN; a.k.a. LUQMAN, Abu; a.k.a. MOHAMMED, Fazul; a.k.a. MOHAMMED, Fazul Abdilahi; a.k.a. MOHAMMED, Fouad; a.k.a. MUHAMAD, Fadil Abdallah); DOB 25 Aug 1972; alt. DOB 25 Dec 1974; alt. DOB 25 Feb 1974; POB Moroni, Comoros Islands; citizen Comoros; alt. citizen Kenya (individual) [SDGT]

AL TANZANI, Ahmad (a.k.a. GHAILANI, Ahmed Khalfan; a.k.a. “AHMED THE TANZANIAN;” a.k.a. “FOOPIE;” a.k.a. “FUPI;” a.k.a. AHMAD, Abu Bakr; a.k.a. AHMED, A.; a.k.a. AHMED, Abubakar; a.k.a. AHMED, Abubakar K.; a.k.a. AHMED, Abubakar Khalfan; a.k.a. AHMED,Abubakary K.; a.k.a. AHMED, Ahmed Khalfan; a.k.a. ALI, Ahmed Khalfan; a.k.a. BAKR, Abu; a.k.a. GHAILANI, Abubakary Khalfan Ahmed; a.k.a. GHAILANI, Ahmed; a.k.a. GHILANI, Ahmad Khalafan; a.k.a. HUSSEIN, Mahafudh Abubakar Ahmed Abdallah; a.k.a. KHABAR, Abu; a.k.a. KHALFAN, Ahmed; a.k.a. MOHAMMED, Shariff Omar); DOB 14 Mar 1974; alt. DOB 13 Apr 1974; alt. DOB 14 Apr 1974; alt. DOB 1 Aug 1970; POB Zanzibar, Tanzania; citizen Tanzania (individual) [SDGT]

AL TAQWA BANK (a.k.a. BANK AL TAQWA; BANK AL TAQWA LIMITED), c/o Arthur D. Hanna & Company, 10 Deveaux Street, Nassau, Bahamas; P.O. Box N-4877, Nassau, Bahamas [SDGT]

AL TAQWA MANAGEMENT ORGANIZATION SA (n.k.a. NADA MANAGEMENT ORGANIZATION SA), Viale Stefano Franscini 22, Lugano CH-6900 TI, Switzerland [SDGT]

AL TAQWA TRADE, PROPERTY AND INDUSTRY (a.k.a. AL TAQWA TRADE, PROPERTY AND INDUSTRY COMPANY LIMITED; a.k.a. AL TAQWA TRADE, PROPERTY AND INDUSTRY ESTABLISHMENT; a.k.a. HIMMAT ESTABLISHMENT; n.k.a. WALDENBERG, AG), c/o Asat Trust Reg., Altenbach 8, Vaduz 9490, Liechtenstein; Via Posero, 2, 22060 Campione d'Italia, Italy [SDGT]

AL TAQWA TRADE, PROPERTY AND INDUSTRY COMPANY LIMITED (a.k.a. AL TAQWA TRADE, PROPERTY AND INDUSTRY; a.k.a. AL TAQWA TRADE, PROPERTY AND INDUSTRY ESTABLISHMENT; a.k.a. HIMMAT ESTABLISHMENT; n.k.a. WALDENBERG, AG), c/o Asat Trust Reg., Altenbach 8, Vaduz 9490, Liechtenstein; Via Posero, 2, 22060 Campione d'Italia, Italy [SDGT]

AL TAQWA TRADE, PROPERTY AND INDUSTRY ESTABLISHMENT (a.k.a. AL TAQWA TRADE, PROPERTY AND INDUSTRY; a.k.a. AL TAQWA TRADE, PROPERTY AND INDUSTRY COMPANY LIMITED; a.k.a. HIMMAT ESTABLISHMENT; n.k.a. WALDENBERG, AG), c/o Asat Trust Reg., Altenbach 8, Vaduz 9490, Liechtenstein; Via Posero, 2, 22060 Campione d'Italia, Italy [SDGT]

AL WAFA (a.k.a. WAFA HUMANITARIAN ORGANIZATION; a.k.a. AL WAFA ORGANIZATION; a.k.a. WAFA AL-IGATHA AL-ISLAMIA) [SDGT]

AL WAFA ORGANIZATION (a.k.a. WAFA HUMANITARIAN ORGANIZATION; a.k.a. AL WAFA; a.k.a. WAFA AL-IGATHA AL-ISLAMIA) [SDGT]

AL ZAWAHIRI, Dr. Ayman (a.k.a. AL-ZAWAHIRI, Aiman Muhammad Rabi; a.k.a. AL-ZAWAHIRI, Ayman; a.k.a. SALIM, Ahmad Fuad), Operational and Military Leader of JIHAD GROUP; DOB 19 Jun 1951; POB Giza, Egypt; Passport No. 1084010 (Egypt), Alt. No. 19820215 (individual) [SDT] [SDGT]

AL-'ADIL, Saif (a.k.a. AL-ADL, Sayf); DOB 1963; POB Egypt (individual) [SDGT]

AL-ADL, Sayf (a.k.a. AL-'ADIL, Saif); DOB 1963; POB Egypt (individual) [SDGT]

AL-AGELI, Dr. Muktar Ali (a.k.a. EL-AGELI, Dr. Mukhtar Ali; a.k.a. EL-AGELI, Dr. Muktar Ali), Apartment 10, Maida Vale, Little Venice, London, England; 15/17 Lodge Road, St. Johns Wood, London NW8 7JA, England; DOB 23 Jul 44 (individual) [LIBYA]

AL-AHDAL, Mohammad Hamdi Sadiq (a.k.a. AL-HAMATI, Muhammad; a.k.a. AL-MAKKI, Abu Asim), Yemen (individual) [SDGT]

AL-AHMAD, Mahmoud Dhiyab (a.k.a. AL-AHMAD, Mahmud Dhiyab; a.k.a. AL-AHMAD, Mahmoud Diab); DOB 1953; POB Mosul or Baghdad,Iraq; Minister of Interior; nationality Iraqi (individual) [IRAQ][IRAQ2]

AL-AHMAD, Mahmoud Diab (a.k.a. AL-AHMAD, Mahmud Dhiyab; a.k.a. AL-AHMAD, Mahmoud Dhiyab); DOB 1953; POB Mosul or Baghdad,Iraq; Minister of Interior; nationality Iraqi (individual) [IRAQ][IRAQ2]

AL-AHMAD, Mahmud Dhiyab (a.k.a. AL-AHMAD, Mahmoud Dhiyab; a.k.a. AL-AHMAD, Mahmoud Diab); DOB 1953; POB Mosul or Baghdad, Iraq; Minister of Interior; nationality Iraqi (individual) [IRAQ][IRAQ2]

AL-AKHTAR MEDICAL CENTRE (a.k.a. AL-AKHTAR TRUST INTERNATIONAL), Gulistan-e-Jauhar, Block 12, Karachi, Pakistan [SDGT]

AL-AKHTAR TRUST INTERNATIONAL (a.k.a. AKHTARABAD MEDICAL CAMP; a.k.a. AL-AKHTAR MEDICAL CENTRE), ST-1/A, Gulshan-e-Iqbal, Block 2, Karachi 75300, Pakistan; Bahawalpur, Pakistan; Bawalnagar, Pakistan; Gilgit, Pakistan; Gulistan-e-Jauhar, Block 12, Karachi, Pakistan; Islamabad, Pakistan; Mirpur Khas, Pakistan; Spin Boldak, Afghanistan; Tando-Jan-Muhammad, Pakistan; and all other offices worldwide [SDGT]

AL-ALAMI, Imad Khalil; DOB 1956; POB Gaza (individual) [SDGT]

AL-AMIRI, Adnan Talib Hassim, 43 Palace Mansions, Hammersmith, London, England (individual) [IRAQ]

AL-AMRIKI, Abu-Ahmad (a.k.a. AL-HAWEN, Abu-Ahmad; a.k.a. AL-MAGHRIBI, Rashid; a.k.a. AL-SHAHID, Abu-Ahmad; a.k.a. HIJAZI, Raed M.; a.k.a. HIJAZI, Riad), Jordan; DOB 1968; POB California, U.S.A.; SSN: 548-91-5411 (USA) (individual) [SDGT]

AL-AQSA (ASBL) (a.k.a. AL-AQSA SPANMAL STIFTELSE; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), BD Leopold II 71, 1080 Brussels, Belgium [SDGT]

AL-AQSA AL-ISLAMI BANK (a.k.a. AL-AQSA ISLAMIC BANK), P.O. Box 3753 al-Beireh, West Bank; Ramallah II 970, West Bank [SDT] [SDGT]

AL-AQSA ASBL (a.k.a. AL-AQSA E.V.; a.k.a. AL-AQSA SPANMAL STIFTELSE; a.k.a. AL-AQSA CHARITABLE FOUNDATION; a.k.a. AL-AQSA CHARITABLE ORGANIZATION; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), Kappellenstrasse 36, D-52066, Aachen, Germany [SDGT]

AL-AQSA ASBL (a.k.a. AL-AQSA FOUNDATION; a.k.a. AL-AQSA SPANMAL STIFTELSE; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 2364, Islamabad, Pakistan [SDGT]

AL-AQSA ASBL (a.k.a. AL-AQSA FOUNDATION; a.k.a. AL-AQSA SPANMAL STIFTELSE; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 421082, 2nd Floor, Amoco Gardens, 40 Mint Road, Fordsburg 2033, Johannesburg, South Africa; P.O. Box 421083, 2nd Floor, Amoco Gardens, 40 Mint Road, Fordsburg 2033, Johannesburg, South Africa [SDGT]

AL-AQSA ASBL (a.k.a. AL-AQSA FOUNDATION; a.k.a. AL-AQSA SPANMAL STIFTELSE; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.) [SDGT]

AL-AQSA ASBL (a.k.a. AL-AQSA FOUNDATION; a.k.a. AL-AQSA SPANMAL STIFTELSE; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), Nobelvagen 79 NB, 21433 Malmo, Sweden; Noblev 79 NB, 21433 Malmo, Sweden [SDGT]

AL-AQSA ASBL (a.k.a. AQSSA SOCIETY YEMEN; a.k.a. AL-AQSA SPANMAL STIFTELSE; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 14101, San'a, Yemen [SDGT]

AL-AQSA ASBL (a.k.a. FORENINGEN AL-AQSA; a.k.a. AL-AQSA SPANMAL STIFTELSE; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 6222200KBKN, Copenhagen, Denmark [SDGT]

AL-AQSA ASBL (a.k.a. STICHTING AL-AQSA; a.k.a. AL-AQSA SPANMAL STIFTELSE; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. SWEDISH CHARITABLE AQSA EST.), Gerrit V/D Lindestraat 103 E, 03022 TH, Rotterdam, Holland; Gerrit V/D Lindestraat 103 A, 3022 TH, Rotterdam, Holland [SDGT]

AL-AQSA CHARITABLE FOUNDATION (a.k.a. AL-AQSA (ASBL); a.k.a. AL-AQSA SPANMAL STIFTELSE; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), BD Leopold II 71, 1080 Brussels, Belgium [SDGT]

AL-AQSA CHARITABLE FOUNDATION (a.k.a. AL-AQSA E.V.; a.k.a. AL-AQSA SPANMAL STIFTELSE; a.k.a. AL-AQSA ASBL; a.k.a. AL-AQSA CHARITABLE ORGANIZATION; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), Kappellenstrasse 36, D-52066, Aachen, Germany [SDGT]

AL-AQSA CHARITABLE FOUNDATION (a.k.a. AL-AQSA FOUNDATION; a.k.a. AL-AQSA SPANMAL STIFTELSE; a.k.a. AL-AQSA ASBL; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), Nobelvagen 79 NB, 21433 Malmo, Sweden; Noblev 79 NB, 21433 Malmo, Sweden [SDGT]

AL-AQSA CHARITABLE FOUNDATION (a.k.a. AL-AQSA FOUNDATION; a.k.a. AL-AQSA SPANMAL STIFTELSE; a.k.a. AL-AQSA ASBL; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 421082, 2nd Floor, Amoco Gardens, 40 Mint Road, Fordsburg 2033, Johannesburg, South Africa; P.O. Box 421083, 2nd Floor, Amoco Gardens, 40 Mint Road, Fordsburg 2033, Johannesburg, South Africa [SDGT]

AL-AQSA CHARITABLE FOUNDATION (a.k.a. AL-AQSA FOUNDATION; a.k.a. AL-AQSA SPANMAL STIFTELSE; a.k.a. AL-AQSA ASBL; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 2364, Islamabad, Pakistan [SDGT]

AL-AQSA CHARITABLE FOUNDATION (a.k.a. AL-AQSA FOUNDATION; a.k.a. AL-AQSA SPANMAL STIFTELSE; a.k.a. AL-AQSA ASBL; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.) [SDGT]

AL-AQSA CHARITABLE FOUNDATION (a.k.a. AQSSA SOCIETY YEMEN; a.k.a. AL-AQSA SPANMAL STIFTELSE; a.k.a. AL-AQSA ASBL; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 14101, San'a, Yemen [SDGT]

AL-AQSA CHARITABLE FOUNDATION (a.k.a. FORENINGEN AL-AQSA; a.k.a. AL-AQSA SPANMAL STIFTELSE; a.k.a. AL-AQSA ASBL; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 6222200KBKN, Copenhagen, Denmark [SDGT]

AL-AQSA CHARITABLE FOUNDATION (a.k.a. STICHTING AL-AQSA; a.k.a. AL-AQSA SPANMAL STIFTELSE; a.k.a. AL-AQSA ASBL; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. SWEDISH CHARITABLE AQSA EST.), Gerrit V/D Lindestraat 103 E, 03022 TH, Rotterdam, Holland; Gerrit V/D Lindestraat 103 A, 3022 TH, Rotterdam, Holland [SDGT]

AL-AQSA CHARITABLE ORGANIZATION (a.k.a. AL-AQSA (ASBL); a.k.a. AL-AQSA SPANMAL STIFTELSE; a.k.a. AL-AQSA CHARITABLE FOUNDATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), BD Leopold II 71, 1080 Brussels, Belgium [SDGT]

AL-AQSA CHARITABLE ORGANIZATION (a.k.a. AL-AQSA E.V.; a.k.a. AL-AQSA SPANMAL STIFTELSE; a.k.a. AL-AQSA ASBL; a.k.a. AL-AQSA CHARITABLE FOUNDATION; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), Kappellenstrasse 36, D-52066, Aachen, Germany [SDGT]

AL-AQSA CHARITABLE ORGANIZATION (a.k.a. AL-AQSA FOUNDATION; a.k.a. AL-AQSA SPANMAL STIFTELSE; a.k.a. AL-AQSA ASBL; a.k.a. AL-AQSA CHARITABLE FOUNDATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 421082, 2nd Floor, Amoco Gardens, 40 Mint Road, Fordsburg 2033, Johannesburg, South Africa; P.O. Box 421083, 2nd Floor, Amoco Gardens, 40 Mint Road, Fordsburg 2033, Johannesburg, South Africa [SDGT]

AL-AQSA CHARITABLE ORGANIZATION (a.k.a. AL-AQSA FOUNDATION; a.k.a. AL-AQSA SPANMAL STIFTELSE; a.k.a. AL-AQSA ASBL; a.k.a. AL-AQSA CHARITABLE FOUNDATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), Nobelvagen 79 NB, 21433 Malmo, Sweden; Noblev 79 NB, 21433 Malmo, Sweden [SDGT]

AL-AQSA CHARITABLE ORGANIZATION (a.k.a. AL-AQSA FOUNDATION; a.k.a. AL-AQSA SPANMAL STIFTELSE; a.k.a. AL-AQSA ASBL; a.k.a. AL-AQSA CHARITABLE FOUNDATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.) [SDGT]

AL-AQSA CHARITABLE ORGANIZATION (a.k.a. AL-AQSA FOUNDATION; a.k.a. AL-AQSA SPANMAL STIFTELSE; a.k.a. AL-AQSA ASBL; a.k.a. AL-AQSA CHARITABLE FOUNDATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 2364, Islamabad, Pakistan [SDGT]

AL-AQSA CHARITABLE ORGANIZATION (a.k.a. AQSSA SOCIETY YEMEN; a.k.a. AL-AQSA SPANMAL STIFTELSE; a.k.a. AL-AQSA ASBL; a.k.a. AL-AQSA CHARITABLE FOUNDATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 14101, San'a, Yemen [SDGT]

AL-AQSA CHARITABLE ORGANIZATION (a.k.a. FORENINGEN AL-AQSA; a.k.a. AL-AQSA SPANMAL STIFTELSE; a.k.a. AL-AQSA ASBL; a.k.a. AL-AQSA CHARITABLE FOUNDATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 6222200KBKN, Copenhagen, Denmark [SDGT]

AL-AQSA CHARITABLE ORGANIZATION (a.k.a. STICHTING AL-AQSA; a.k.a. AL-AQSA SPANMAL STIFTELSE; a.k.a. AL-AQSA ASBL; a.k.a. AL-AQSA CHARITABLE FOUNDATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. SWEDISH CHARITABLE AQSA EST.), Gerrit V/D Lindestraat 103 E, 03022 TH, Rotterdam, Holland; Gerrit V/D Lindestraat 103 A, 3022 TH, Rotterdam, Holland [SDGT]

AL-AQSA E.V. (a.k.a. AL-AQSA (ASBL); a.k.a. AL-AQSA SPANMAL STIFTELSE; a.k.a. AL-AQSA CHARITABLE FOUNDATION; a.k.a. AL-AQSA CHARITABLE ORGANIZATION; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), BD Leopold II 71, 1080 Brussels, Belgium [SDGT]

AL-AQSA E.V. (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 421082, 2nd Floor, Amoco Gardens, 40 Mint Road, Fordsburg 2033, Johannesburg, South Africa; P.O. Box 421083, 2nd Floor, Amoco Gardens, 40 Mint Road, Fordsburg 2033, Johannesburg, South Africa [SDGT]

AL-AQSA E.V. (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), Nobelvagen 79 NB, 21433 Malmo, Sweden; Noblev 79 NB, 21433 Malmo, Sweden [SDGT]

AL-AQSA E.V. (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 2364, Islamabad, Pakistan [SDGT]

AL-AQSA E.V. (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.) [SDGT]

AL-AQSA E.V. (a.k.a. AL-AQSA SPANMAL STIFTELSE; a.k.a. AL-AQSA ASBL; a.k.a. AL-AQSA CHARITABLE FOUNDATION; a.k.a. AL-AQSA CHARITABLE ORGANIZATION; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), Kappellenstrasse 36, D-52066, Aachen, Germany [SDGT]

AL-AQSA E.V. (a.k.a. AQSSA SOCIETY YEMEN; a.k.a. AL-AQSA SPANMAL STIFTELSE; a.k.a. AL-AQSA ASBL; a.k.a. AL-AQSA CHARITABLE FOUNDATION; a.k.a. AL-AQSA CHARITABLE ORGANIZATION; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 14101, San'a, Yemen [SDGT]

AL-AQSA E.V. (a.k.a. FORENINGEN AL-AQSA; a.k.a. AL-AQSA SPANMAL STIFTELSE; a.k.a. AL-AQSA ASBL; a.k.a. AL-AQSA CHARITABLE FOUNDATION; a.k.a. AL-AQSA CHARITABLE ORGANIZATION; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 6222200KBKN, Copenhagen, Denmark [SDGT]

AL-AQSA E.V. (a.k.a. STICHTING AL-AQSA; a.k.a. AL-AQSA SPANMAL STIFTELSE; a.k.a. AL-AQSA ASBL; a.k.a. AL-AQSA CHARITABLEFOUNDATION; a.k.a. AL-AQSA CHARITABLE ORGANIZATION; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. SWEDISH CHARITABLE AQSA EST.), Gerrit V/D Lindestraat 103 E, 03022 TH, Rotterdam, Holland; Gerrit V/D Lindestraat 103 A, 3022 TH, Rotterdam, Holland [SDGT]

AL-AQSA FOUNDATION (a.k.a. AL-AQSA (ASBL); a.k.a. AL-AQSA SPANMAL STIFTELSE; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), BD Leopold II 71, 1080 Brussels, Belgium [SDGT]

AL-AQSA FOUNDATION (a.k.a. AL-AQSA E.V.; a.k.a. AL-AQSA SPANMAL STIFTELSE; a.k.a. AL-AQSA ASBL; a.k.a. AL-AQSA CHARITABLE FOUNDATION; a.k.a. AL-AQSA CHARITABLE ORGANIZATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), Kappellenstrasse 36, D-52066, Aachen, Germany [SDGT]

AL-AQSA FOUNDATION (a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), Nobelvagen 79 NB, 21433 Malmo, Sweden; Noblev 79 NB, 21433 Malmo, Sweden [SDGT]

AL-AQSA FOUNDATION (a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 2364, Islamabad, Pakistan [SDGT]

AL-AQSA FOUNDATION (a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 421082, 2nd Floor, Amoco Gardens, 40 Mint Road, Fordsburg 2033, Johannesburg, South Africa; P.O. Box 421083, 2nd Floor, Amoco Gardens, 40 Mint Road, Fordsburg 2033, Johannesburg, South Africa [SDGT]

AL-AQSA FOUNDATION (a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.) [SDGT]

AL-AQSA FOUNDATION (a.k.a. AQSSA SOCIETY YEMEN; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 14101, San'a, Yemen [SDGT]

AL-AQSA FOUNDATION (a.k.a. FORENINGEN AL-AQSA; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 6222200KBKN, Copenhagen, Denmark [SDGT]

AL-AQSA FOUNDATION (a.k.a. STICHTING AL-AQSA; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. SWEDISH CHARITABLE AQSA EST.), Gerrit V/D Lindestraat 103 E, 03022 TH, Rotterdam, Holland; Gerrit V/D Lindestraat 103 A, 3022 TH, Rotterdam, Holland [SDGT]

AL-AQSA INTERNATIONAL FOUNDATION (a.k.a. AL-AQSA (ASBL); a.k.a. AL-AQSA SPANMAL STIFTELSE; a.k.a. AL-AQSA CHARITABLE FOUNDATION; a.k.a. AL-AQSA CHARITABLE ORGANIZATION; a.k.a. AL-AQSA E.V.; a.k.a. AL-AQSA FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), BD Leopold II 71, 1080 Brussels, Belgium [SDGT]

AL-AQSA INTERNATIONAL FOUNDATION (a.k.a. AL-AQSA E.V.; a.k.a. AL-AQSA SPANMAL STIFTELSE; a.k.a. AL-AQSA ASBL; a.k.a. AL-AQSA CHARITABLE FOUNDATION; a.k.a. AL-AQSA CHARITABLE ORGANIZATION; a.k.a. AL-AQSA FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), Kappellenstrasse 36, D-52066, Aachen, Germany [SDGT]

AL-AQSA INTERNATIONAL FOUNDATION (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 2364, Islamabad, Pakistan [SDGT]

AL-AQSA INTERNATIONAL FOUNDATION (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 421082, 2nd Floor, Amoco Gardens, 40 Mint Road, Fordsburg 2033, Johannesburg, South Africa; P.O. Box 421083, 2nd Floor, Amoco Gardens, 40 Mint Road, Fordsburg 2033, Johannesburg, South Africa [SDGT]

AL-AQSA INTERNATIONAL FOUNDATION (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), Nobelvagen 79 NB, 21433 Malmo, Sweden; Noblev 79 NB, 21433 Malmo, Sweden [SDGT]

AL-AQSA INTERNATIONAL FOUNDATION (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.) [SDGT]

AL-AQSA INTERNATIONAL FOUNDATION (a.k.a. AQSSA SOCIETY YEMEN; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 14101, San'a, Yemen [SDGT]

AL-AQSA INTERNATIONAL FOUNDATION (a.k.a. FORENINGEN AL-AQSA; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 6222200KBKN, Copenhagen, Denmark [SDGT]

AL-AQSA INTERNATIONAL FOUNDATION (a.k.a. STICHTING AL-AQSA; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. SWEDISH CHARITABLE AQSA EST.), Gerrit V/D Lindestraat 103 E, 03022 TH, Rotterdam, Holland; Gerrit V/D Lindestraat 103 A, 3022 TH, Rotterdam, Holland [SDGT]

AL-AQSA ISLAMIC BANK (a.k.a. AL-AQSA AL-ISLAMI BANK), P.O. Box 3753 al-Beireh, West Bank; Ramallah II 970, West Bank [SDT] [SDGT]

AL-AQSA ISLAMIC CHARITABLE SOCIETY (a.k.a. AL-AQSA (ASBL); a.k.a. AL-AQSA SPANMAL STIFTELSE; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), BD Leopold II 71, 1080 Brussels, Belgium [SDGT]

AL-AQSA ISLAMIC CHARITABLE SOCIETY (a.k.a. AL-AQSA E.V.; a.k.a. AL-AQSA SPANMAL STIFTELSE; a.k.a. AL-AQSA ASBL; a.k.a. AL-AQSA CHARITABLE FOUNDATION; a.k.a. AL-AQSA CHARITABLE ORGANIZATION; a.k.a. AL-AQSA FOUNDATION; a.k.a. AL-AQSA INTERNATIONAL FOUNDATION; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), Kappellenstrasse 36, D-52066, Aachen, Germany [SDGT]

AL-AQSA ISLAMIC CHARITABLE SOCIETY (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), Nobelvagen 79 NB, 21433 Malmo, Sweden; Noblev 79 NB, 21433 Malmo, Sweden [SDGT]

AL-AQSA ISLAMIC CHARITABLE SOCIETY (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 2364, Islamabad, Pakistan [SDGT]

AL-AQSA ISLAMIC CHARITABLE SOCIETY (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 421082, 2nd Floor, Amoco Gardens, 40 Mint Road, Fordsburg 2033, Johannesburg, South Africa; P.O. Box 421083, 2nd Floor, Amoco Gardens, 40 Mint Road, Fordsburg 2033, Johannesburg, South Africa [SDGT]

AL-AQSA ISLAMIC CHARITABLE SOCIETY (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.) [SDGT]

AL-AQSA ISLAMIC CHARITABLE SOCIETY (a.k.a. AQSSA SOCIETY YEMEN; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA SINABIL ESTABLISHMENT; a.k.a. AL-AQSA SPANM I STIFTELSE; a.k.a. AQSSA SOCIETY; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 14101, San'a, Yemen [SDGT]

AL-AQSA ISLAMIC CHARITABLE SOCIETY (a.k.a. FORENINGEN AL-AQSA; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 6222200KBKN, Copenhagen, Denmark [SDGT]

AL-AQSA ISLAMIC CHARITABLE SOCIETY (a.k.a. STICHTING AL-AQSA; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. SWEDISH CHARITABLE AQSA EST.), Gerrit V/D Lindestraat 103 E, 03022 TH, Rotterdam, Holland; Gerrit V/D Lindestraat 103 A, 3022 TH, Rotterdam, Holland [SDGT]

AL-AQSA MARTYRS BATTALION (a.k.a. AL-AQSA MARTYRS BRIGADE) [SDT] [FTO] [SDGT]

AL-AQSA MARTYRS BRIGADE (a.k.a. AL-AQSA MARTYRS BATTALION) [SDGT] [FTO]

AL-AQSA MARTYRS BRIGADE (a.k.a. AL-AQSA MARTYRS BATTALION) [SDT] [FTO] [SDGT]

AL-AQSA SINABIL ESTABLISHMENT (a.k.a. AL-AQSA (ASBL); a.k.a. AL-AQSA SPANMAL STIFTELSE; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), BD Leopold II 71, 1080 Brussels, Belgium [SDGT]

AL-AQSA SINABIL ESTABLISHMENT (a.k.a. AL-AQSA E.V.; a.k.a. AL-AQSA SPANMAL STIFTELSE; a.k.a. AL-AQSA ASBL; a.k.a. AL-AQSA CHARITABLE FOUNDATION; a.k.a. AL-AQSA CHARITABLE ORGANIZATION; a.k.a. AL-AQSA FOUNDATION; a.k.a. AL-AQSA INTERNATIONAL FOUNDATION; a.k.a. AL-AQSA ISLAMIC CHARITABLE SOCIETY; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), Kappellenstrasse 36, D-52066, Aachen, Germany [SDGT]

AL-AQSA SINABIL ESTABLISHMENT (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.) [SDGT]

AL-AQSA SINABIL ESTABLISHMENT (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 2364, Islamabad, Pakistan [SDGT]

AL-AQSA SINABIL ESTABLISHMENT (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 421082, 2nd Floor, Amoco Gardens, 40 Mint Road, Fordsburg 2033, Johannesburg, South Africa; P.O. Box 421083, 2nd Floor, Amoco Gardens, 40 Mint Road, Fordsburg 2033, Johannesburg, South Africa [SDGT]

AL-AQSA SINABIL ESTABLISHMENT (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), Nobelvagen 79 NB, 21433 Malmo, Sweden; Noblev 79 NB, 21433 Malmo, Sweden [SDGT]

AL-AQSA SINABIL ESTABLISHMENT (a.k.a. AQSSA SOCIETY YEMEN; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SPANM I STIFTELSE; a.k.a. AQSSA SOCIETY; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 14101, San'a, Yemen [SDGT]

AQSA SINABIL ESTABLISHMENT (a.k.a. FORENINGEN AL-AQSA; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 6222200KBKN, Copenhagen, Denmark [SDGT]

AL-AQSA SINABIL ESTABLISHMENT (a.k.a. STICHTING AL-AQSA; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. SWEDISH CHARITABLE AQSA EST.), Gerrit V/D Lindestraat 103 E, 03022 TH, Rotterdam, Holland; Gerrit V/D Lindestraat 103 A, 3022 TH, Rotterdam, Holland [SDGT]

AL-AQSA SPANM I STIFTELSE (a.k.a. AL-AQSA (ASBL); a.k.a. AL-AQSA SPANMAL STIFTELSE; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), BD Leopold II 71, 1080 Brussels, Belgium [SDGT]

AL-AQSA SPANM I STIFTELSE (a.k.a. AL-AQSA E.V.; a.k.a. AL-AQSA SPANMAL STIFTELSE; a.k.a. AL-AQSA ASBL; a.k.a. AL-AQSA CHARITABLE FOUNDATION; a.k.a. AL-AQSA CHARITABLE ORGANIZATION; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), Kappellenstrasse 36, D-52066, Aachen, Germany [SDGT]

AL-AQSA SPANM I STIFTELSE (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), Nobelvagen 79 NB, 21433 Malmo, Sweden; Noblev 79 NB, 21433 Malmo, Sweden [SDGT]

AL-AQSA SPANM I STIFTELSE (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 2364, Islamabad, Pakistan [SDGT]

AL-AQSA SPANM I STIFTELSE (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.) [SDGT]

AL-AQSA SPANM I STIFTELSE (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 421082, 2nd Floor, Amoco Gardens, 40 Mint Road, Fordsburg 2033, Johannesburg, South Africa; P.O. Box 421083, 2nd Floor, Amoco Gardens, 40 Mint Road, Fordsburg 2033, Johannesburg, South Africa [SDGT]

AL-AQSA SPANM I STIFTELSE (a.k.a. AQSSA SOCIETY YEMEN; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AQSSA SOCIETY; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 14101, San'a, Yemen [SDGT]

AL-AQSA SPANM I STIFTELSE (a.k.a. FORENINGEN AL-AQSA; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 6222200KBKN, Copenhagen, Denmark [SDGT]

AL-AQSA SPANM I STIFTELSE (a.k.a. STICHTING AL-AQSA; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. SWEDISH CHARITABLE AQSA EST.), Gerrit V/D Lindestraat 103 E, 03022 TH, Rotterdam, Holland; Gerrit V/D Lindestraat 103 A, 3022 TH, Rotterdam, Holland [SDGT]

AL-AQSA SPANMAL STIFTELSE (a.k.a. AL-AQSA (ASBL); a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), BD Leopold II 71, 1080 Brussels, Belgium [SDGT]

AL-AQSA SPANMAL STIFTELSE (a.k.a. AL-AQSA E.V.; a.k.a. AL-AQSA ASBL; a.k.a. AL-AQSA CHARITABLE FOUNDATION; a.k.a. AL-AQSA CHARITABLE ORGANIZATION; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), Kappellenstrasse 36, D-52066, Aachen, Germany [SDGT]

AL-AQSA SPANMAL STIFTELSE (a.k.a. AL-AQSA FOUNDATION; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 421082, 2nd Floor, Amoco Gardens, 40 Mint Road, Fordsburg 2033, Johannesburg, South Africa; P.O. Box 421083, 2nd Floor, Amoco Gardens, 40 Mint Road, Fordsburg 2033, Johannesburg, South Africa [SDGT]

AL-AQSA SPANMAL STIFTELSE (a.k.a. AL-AQSA FOUNDATION; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), Nobelvagen 79 NB, 21433 Malmo, Sweden; Noblev 79 NB, 21433 Malmo, Sweden [SDGT]

AL-AQSA SPANMAL STIFTELSE (a.k.a. AL-AQSA FOUNDATION; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.) [SDGT]

AL-AQSA SPANMAL STIFTELSE (a.k.a. AL-AQSA FOUNDATION; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 2364, Islamabad, Pakistan [SDGT]

AL-AQSA SPANMAL STIFTELSE (a.k.a. AQSSA SOCIETY YEMEN; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 14101, San'a, Yemen [SDGT]

AL-AQSA SPANMAL STIFTELSE (a.k.a. FORENINGEN AL-AQSA; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 6222200KBKN, Copenhagen, Denmark [SDGT]

AL-AQSA SPANMAL STIFTELSE (a.k.a. STICHTING AL-AQSA; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. SWEDISH CHARITABLE AQSA EST.), Gerrit V/D Lindestraat 103 E, 03022 TH, Rotterdam, Holland; Gerrit V/D Lindestraat 103 A, 3022 TH, Rotterdam, Holland [SDGT]

AL-ARABI TRADING COMPANY LIMITED, Lane 11, Hai Babil, Baghdad District 929, Iraq [IRAQ]

AL-ATRUSH, Abd al-Wahhab Umar Mirza (a.k.a. AL-ATRUSHI Abdel Wahab), a minister of state; DOB 1936; Iraq (individual) [IRAQ]

AL-ATRUSHI, Abdel Wahab (a.k.a. AL-ATRUSHI Abd al-Wahhab Umar Mirza), a minister of state; DOB 1936; Iraq (individual) [IRAQ]

AL-AWADI, Qaid Hussein; Ba'th Party Regional Command Chairman, Ninawa; nationality Iraqi (individual) [IRAQ][IRAQ2]

AL-AWDAH BRIGADES (a.k.a. PALESTINE ISLAMIC JIHAD—SHAQAQI FACTION; a.k.a. ABU GHUNAYM SQUAD OF THE HIZBALLAH BAYT AL-MAQDIS; a.k.a. AL-QUDS BRIGADES; a.k.a. AL-QUDS SQUADS; a.k.a. ISLAMIC JIHAD IN PALESTINE; a.k.a. ISLAMIC JIHAD OF PALESTINE; a.k.a. PALESTINIAN ISLAMIC JIHAD; a.k.a. PIJ; a.k.a. PIJ-SHALLAH FACTION; a.k.a. PIJ-SHAQAQI FACTION; a.k.a. SAYARA AL-QUDS) [SDT] [FTO][SDGT]

AL-AZAWI, Dafir, Iraq (individual) [IRAQ]

AL-AZZAWI, Hikmat Mizban Ibrahim; DOB 1934; POB Diyala, Iraq; Deputy Prime Minister and Finance Minister; nationality Iraqi (individual) [IRAQ][IRAQ2]

AL-BAKOUN ALA AL-AHD ORGANIZATION (a.k.a. FAITHFUL TO THE OATH), Algeria [SDGT]

AL-BARAKAAT BANK, Mogadishu, Somalia [SDGT]

AL-BARAKAAT BANK OF SOMALIA (a.k.a. BARAKAAT BANK OF SOMALIA; a.k.a. BBS), Bossaso, Somalia; Mogadishu, Somalia [SDGT]

AL-BARAKAAT GROUP OF COMPANIES SOMALIA LIMITED (a.k.a. AL-BARAKAT FINANCIAL COMPANY), Mogadishu, Somalia; P.O. Box 3313, Dubai, U.A.E. [SDGT]

AL-BARAKAAT, Mogadishu, Somalia; Dubai, U.A.E. [SDGT]

AL-BARAKAAT WIRING SERVICE, 2940 Pillsbury Avenue, Suite 4, Minneapolis, Minnesota 55408, U.S.A. [SDGT]

AL-BARAKAT FINANCE GROUP, Dubai, UAE; Mogadishu, Somalia [SDGT]

AL-BARAKAT FINANCIAL COMPANY (a.k.a. AL-BARAKAAT GROUP OF COMPANIES SOMALIA LIMITED), Mogadishu, Somalia; P.O. Box 3313, Dubai, U.A.E. [SDGT]

AL-BARAKAT FINANCIAL HOLDING COMPANY, Dubai, UAE; Mogadishu, Somalia [SDGT]

AL-BARAKAT GLOBAL TELECOMMUNICATIONS (a.k.a. BARAKAAT GLOBETELCOMPANY), Hargeysa, Somalia; Mogadishu, Somalia; P.O. Box 3313, Dubai, U.A.E. [SDGT]

AL-BARAKAT INTERNATIONAL (a.k.a. BARACO CO.), Box 2923, Dubai, U.A.E. [SDGT]

AL-BARAKAT INVESTMENTS, P.O. Box 3313, Deira, Dubai, U.A.E. [SDGT]

AL-BAZAZ, Hikmat Abdullah (a.k.a. AL-BAZZAZ Hikmat Abdallah), Minister of Education; Iraq (individual) [IRAQ]

AL-BAZZAZ, Hikmat Abdallah (a.k.a. AL-BAZAZ Hikmat Abdullah), Minister of Education; Iraq (individual) [IRAQ]

AL-DAGMA, Aschraf (a.k.a. “Noor”), “last known address,” Clemens-August Strasse 10, Kolpinghaus 59269 Beckum, Germany; Leipziger Strasse 64, 04600 Altenburg, Germany; DOB 28 Apr 1969; POB Abasan, Gaza Strip; nationality possibly Palestinian; arrested 23 Apr 2002 (individual) [SDGT]

AL-DAJANI, Leila N.S., P.O. Box 1318, Amman, Jordan (individual) [IRAQ]

AL-DAJANI, Nadim S., P.O. Box 1318, Amman, Jordan (individual) [IRAQ]

AL-DAJANI, Sa'ad, P.O. Box 1318, Amman, Jordan (individual) [IRAQ]

AL-DULAIMI, Khalaf M. M., Baghdad, Iraq (individual) [IRAQ]

AL-DULAYMI, Latif Nusayyif Jasim; DOB circa 1941; POB Ar-Rashidiya suburbof Baghdad, Iraq; Ba'ath Party Military Bureau Deputy Chairman; nationality Iraqi (individual) [IRAQ][IRAQ2]

AL-DURI, Izzat Ibrahim (a.k.a. Abu Ahmad; a.k.a. Abu Brays); DOB circa 1942; POB al-Dur, Iraq; Deputy Commander-in-Chief of Iraqi Military; Deputy Secretary, Ba'th Party Regional Command; Vice Chairman, Revolutionary Command Council; nationality Iraqi (individual) [IRAQ][IRAQ2]

AL-DURI, Jawhar Majid, Iraq; DOB c. 1942; POB Al-Dur, Iraq; nationality Iraqi; wife of Izzat Ibrahim Al-Duri (individual) [IRAQ2]

AL-FARAN (a.k.a. HARAKAT UL-MUJAHIDEEN; a.k.a. AL-HADID; a.k.a. AL-HADITH; a.k.a. HARAKAT UL-ANSAR; a.k.a. HARAKAT UL-MUJAHIDIN; a.k.a. HUA; a.k.a. HUM; a.k.a. JAMIAT UL-ANSAR) [FTO][SDGT]

AL-FAUWAZ, Khaled (a.k.a. AL-FAUWAZ, Khaled A.; a.k.a. AL-FAWAZ, Khalid; a.k.a. AL-FAWWAZ, Khalid; a.k.a. AL FAWWAZ, Khalid; a.k.a. AL FAWWAZ, Khaled; a.k.a. AL-FAWWAZ, Khaled), 55 Hawarden Hill, Brooke Road, London, NW2 7BR, England; DOB 25 Aug 1962 (individual) [SDGT]

AL-FAUWAZ, Khaled A. (a.k.a. AL-FAUWAZ, Khaled; a.k.a. AL-FAWAZ, Khalid; a.k.a. AL-FAWWAZ, Khalid; a.k.a. AL FAWWAZ, Khalid; a.k.a. AL FAWWAZ, Khaled; a.k.a. AL-FAWWAZ, Khaled), 55 Hawarden Hill, Brooke Road, London, NW2 7BR, England; DOB 25 Aug 1962 (individual) [SDGT]

AL-FAWAZ, Khalid (a.k.a. AL-FAUWAZ, Khaled; a.k.a. AL-FAUWAZ, Khaled A.; a.k.a. AL-FAWWAZ, Khalid; a.k.a. AL FAWWAZ, Khalid; a.k.a. AL FAWWAZ, Khaled; a.k.a. AL-FAWWAZ, Khaled), 55 Hawarden Hill, Brooke Road, London, NW2 7BR, England; DOB 25 Aug 1962 (individual) [SDGT]

AL-FAWWAZ, Khaled (a.k.a. AL-FAUWAZ, Khaled; a.k.a. AL-FAUWAZ, Khaled A.; a.k.a. AL-FAWAZ, Khalid; a.k.a. AL-FAWWAZ, Khalid; a.k.a. AL FAWWAZ, Khalid; a.k.a. AL FAWWAZ, Khaled), 55 Hawarden Hill, Brooke Road, London, NW2 7BR, England; DOB 25 Aug 1962 (individual) [SDGT]

AL-FAWWAZ, Khalid (a.k.a. AL-FAUWAZ, Khaled; a.k.a. AL-FAUWAZ, Khaled A.; a.k.a. AL-FAWAZ, Khalid; a.k.a. AL FAWWAZ, Khalid; a.k.a. AL FAWWAZ, Khaled; a.k.a. AL-FAWWAZ, Khaled), 55 Hawarden Hill, Brooke Road, London, NW2 7BR, England; DOB 25 Aug 1962 (individual) [SDGT]

AL-FILISTINI, Abu Qatada (a.k.a. ABU ISMAIL; a.k.a. ABU UMAR, Abu Omar; a.k.a. TAKFIRI, Abu 'Umr; a.k.a. UMAR, Abu Umar; a.k.a. UTHMAN, Al-Samman; a.k.a. UTHMAN, Omar Mahmoud; a.k.a. UTHMAN, Umar), London, England; DOB 30 Dec 1960; alt. DOB 13 Dec 1960 (individual) [SDGT]

AL-GAMA'AT (a.k.a. GI; a.k.a. ISLAMIC GROUP; a.k.a. IG; a.k.a. EGYPTIAN AL-GAMA'AT AL-ISLAMIYYA; a.k.a. ISLAMIC GAMA'AT; a.k.a. GAMA'A AL-ISLAMIYYA) [SDT][FTO][SDGT]

AL-GHAFUR, Barzan Razuki abd (a.k.a. AL-TIKRITI, Barzan abd al-Ghafur Sulaiman Majid); DOB 1960; POB Salah al-Din, Iraq; commander, Special Republican Guard; nationality Iraqi (individual) [IRAQ][IRAQ2]

AL-GHOZI, Fathur Rahman (a.k.a. “Abu Sa'ad;” a.k.a. “Abu Saad;” a.k.a. AL GHOZI, Fathur Rahman; a.k.a. AL GHOZI, Fathur Rohman; a.k.a. AL-GHOZI, Fathur Rohman; a.k.a. AL-GOZHI, Fathur Rahman; a.k.a. AL-GOZHI, Fathur Rohman; a.k.a. AL-GOZI, Fathur Rahman; a.k.a. AL-GOZI, Fathur Rohman; a.k.a. ALGHOZI, Fathur Rahman; a.k.a. ALGHOZI, Fathur Rohman; a.k.a. ALI, Randy; a.k.a. ALIH, Randy; a.k.a. ALIH, Randy Adam; a.k.a. AZAD, Rony; a.k.a. BIN AHAD, Rony Azad; a.k.a. BIN AHMAD, Rony Azad; a.k.a. BIN AMAD, Rony Azad; a.k.a. EDRIS, Anwar Rodin; a.k.a. “Freedom Fighter;” a.k.a. JAMIL, Sammy Sali; a.k.a. JAMIL, Sammy Salih; a.k.a. RANDY, Alih); DOB 17 Feb 1971; POB Madiun, East Java, Indonesia; Passport No. GG 672613 (Philippines); nationality Indonesian (individual) [SDGT]

AL-GHOZI, Fathur Rohman (a.k.a. “Abu Sa'ad;” a.k.a. “Abu Saad;” a.k.a. AL GHOZI, Fathur Rahman; a.k.a. AL GHOZI, Fathur Rohman; a.k.a. AL-GHOZI, Fathur Rahman; a.k.a. AL-GOZHI, Fathur Rahman; a.k.a. AL-GOZHI, Fathur Rohman; a.k.a. AL-GOZI, Fathur Rahman; a.k.a. AL-GOZI, Fathur Rohman; a.k.a. ALGHOZI, Fathur Rahman; a.k.a. ALGHOZI, Fathur Rohman; a.k.a. ALI, Randy; a.k.a. ALIH, Randy; a.k.a. ALIH, Randy Adam; a.k.a. AZAD, Rony; a.k.a. BIN AHAD, Rony Azad; a.k.a. BIN AHMAD, Rony Azad; a.k.a. BIN AMAD, Rony Azad; a.k.a. EDRIS, Anwar Rodin; a.k.a. “Freedom Fighter;” a.k.a. JAMIL, Sammy Sali; a.k.a. JAMIL, Sammy Salih; a.k.a. RANDY, Alih); DOB 17 Feb 1971; POB Madiun, East Java, Indonesia; Passport No. GG 672613 (Philippines); nationality Indonesian (individual) [SDGT]

AL-GOZHI, Fathur Rahman (a.k.a. “Abu Sa'ad;” a.k.a. “Abu Saad;” a.k.a. AL GHOZI, Fathur Rahman; a.k.a. AL GHOZI, Fathur Rohman; a.k.a. AL-GHOZI, Fathur Rahman; a.k.a. AL-GHOZI, Fathur Rohman; a.k.a. AL-GOZHI, Fathur Rohman; a.k.a. AL-GOZI, Fathur Rahman; a.k.a. AL-GOZI, Fathur Rohman; a.k.a. ALGHOZI, Fathur Rahman; a.k.a. ALGHOZI, Fathur Rohman; a.k.a. ALI, Randy; a.k.a. ALIH, Randy; a.k.a. ALIH, Randy Adam; a.k.a. AZAD, Rony; a.k.a. BIN AHAD, Rony Azad; a.k.a. BIN AHMAD, Rony Azad; a.k.a. BIN AMAD, Rony Azad; a.k.a. EDRIS, Anwar Rodin; a.k.a. “Freedom Fighter;” a.k.a. JAMIL, Sammy Sali; a.k.a. JAMIL, Sammy Salih; a.k.a. RANDY, Alih); DOB 17 Feb 1971; POB Madiun, East Java, Indonesia; Passport No. GG 672613 (Philippines); nationality Indonesian (individual) [SDGT]

AL-GOZHI, Fathur Rohman (a.k.a. “Abu Sa'ad;” a.k.a. “Abu Saad;” a.k.a. AL GHOZI, Fathur Rahman; a.k.a. AL GHOZI, Fathur Rohman; a.k.a. AL-GHOZI, Fathur Rahman; a.k.a. AL-GHOZI, Fathur Rohman; a.k.a. AL-GOZHI, Fathur Rahman; a.k.a. AL-GOZI, Fathur Rahman; a.k.a. AL-GOZI, Fathur Rohman; a.k.a. ALGHOZI, Fathur Rahman; a.k.a. ALGHOZI, Fathur Rohman; a.k.a. ALI, Randy; a.k.a. ALIH, Randy; a.k.a. ALIH, Randy Adam; a.k.a. AZAD, Rony; a.k.a. BIN AHAD, Rony Azad; a.k.a. BIN AHMAD, Rony Azad; a.k.a. BIN AMAD, Rony Azad; a.k.a. EDRIS, Anwar Rodin; a.k.a. “Freedom Fighter;” a.k.a. JAMIL, Sammy Sali; a.k.a. JAMIL, Sammy Salih; a.k.a. RANDY, Alih); DOB 17 Feb 1971; POB Madiun, East Java, Indonesia; Passport No. GG 672613 (Philippines); nationality Indonesian (individual) [SDGT]

AL-GOZI, Fathur Rahman (a.k.a. “Abu Sa'ad;” a.k.a. “Abu Saad;” a.k.a. AL GHOZI, Fathur Rahman; a.k.a. AL GHOZI, Fathur Rohman; a.k.a. AL-GHOZI, Fathur Rahman; a.k.a. AL-GHOZI, Fathur Rohman; a.k.a. AL-GOZHI, Fathur Rahman; a.k.a. AL-GOZHI, Fathur Rohman; a.k.a. AL-GOZI, Fathur Rohman; a.k.a. ALGHOZI, Fathur Rahman; a.k.a. ALGHOZI, Fathur Rohman; a.k.a. ALI, Randy; a.k.a. ALIH, Randy; a.k.a. ALIH, Randy Adam; a.k.a. AZAD, Rony; a.k.a. BIN AHAD, Rony Azad; a.k.a. BIN AHMAD, Rony Azad; a.k.a. BIN AMAD, Rony Azad; a.k.a. EDRIS, Anwar Rodin; a.k.a. “Freedom Fighter;” a.k.a. JAMIL, Sammy Sali; a.k.a. JAMIL, Sammy Salih; a.k.a. RANDY, Alih); DOB 17 Feb 1971; POB Madiun, East Java, Indonesia; Passport No. GG 672613 (Philippines); nationality Indonesian (individual) [SDGT]

AL-GOZI, Fathur Rohman (a.k.a. “Abu Sa'ad;” a.k.a. “Abu Saad;” a.k.a. AL GHOZI, Fathur Rahman; a.k.a. AL GHOZI, Fathur Rohman; a.k.a. AL-GHOZI, Fathur Rahman; a.k.a. AL-GHOZI, Fathur Rohman; a.k.a. AL-GOZHI, Fathur Rahman; a.k.a. AL-GOZHI, Fathur Rohman; a.k.a. AL-GOZI, Fathur Rahman; a.k.a. ALGHOZI, Fathur Rahman; a.k.a. ALGHOZI, Fathur Rohman; a.k.a. ALI, Randy; a.k.a. ALIH, Randy; a.k.a. ALIH, Randy Adam; a.k.a. AZAD, Rony; a.k.a. BIN AHAD, Rony Azad; a.k.a. BIN AHMAD, Rony Azad; a.k.a. BIN AMAD, Rony Azad; a.k.a. EDRIS, Anwar Rodin; a.k.a. “Freedom Fighter;” a.k.a. JAMIL, Sammy Sali; a.k.a. JAMIL, Sammy Salih; a.k.a. RANDY, Alih); DOB 17 Feb 1971; POB Madiun, East Java, Indonesia; Passport No. GG 672613 (Philippines); nationality Indonesian (individual) [SDGT]

AL-HABIB (a.k.a. 'ABD AL-KARIM; a.k.a. ABU AL-MU'TAZ; a.k.a. AL-KHALAYLAH, Ahmad Fadil Nazzal; a.k.a. AL-MUHAJIR; a.k.a. AL-ZARQAWI, Abu Mus'Ab; a.k.a. GHARIB; a.k.a. KHALAILAH, Ahmed Fadeel; a.k.a. KHALAYLEH, Fedel Nazzel; a.k.a. “MOUHANAD;” a.k.a. “MOUHANNAD;” a.k.a. “MUHANNAD;” a.k.a. “RASHID”); DOB 20 Oct 1966; POB Zarqa, Jordan; Passport No. Z264968 (Jordan); citizen Jordan; National No. 9661031030 (Jordan) (individual) [SDGT]

AL-HABOBI, Dr. Safa (a.k.a. AL-HABUBI, Dr. Safa Hadi Jawad; a.k.a. JAWAD, Dr. Safa Hadi; a.k.a. HABUBI, Dr. Safa Jawad; a.k.a. AL-HABOBI, Dr. Safa Haji J.); Minister of Oil; DOB 01 Jul 46; Flat 4D Thorney Court, Palace Gate, Kensington, England; Iraq (individual) [IRAQ]

AL-HABOBI, Dr. Safa Haji J. (a.k.a. AL-HABUBI, Dr. Safa Hadi Jawad; a.k.a. JAWAD, Dr. Safa Hadi; a.k.a. AL-HABOBI, Dr. Safa; a.k.a. HABUBI, Dr. Safa Hadi Jawad), Minister of Oil; DOB 01 Jul 46; Flat 4D Thorney Court, Palace Gate, Kensington, England; Iraq (individual) [IRAQ]

AL-HABUBI, Dr. Safa Hadi Jawad (a.k.a. HABUBI, Dr. Safa Hadi Jawad; a.k.a. JAWAD, Dr. Safa Hadi; a.k.a. HABUBI, Dr Safa Jawad; or a.k.a. AL-HABOBI, Dr. Safa; a.k.a. AL-HABOBI, Dr. Safa Haji J.), Minister of Oil; DOB 01 Jul 46; Flat 4D Thorney Court, Palace Gate, Kensington, England; Iraq (individual) [IRAQ]

AL-HADID (a.k.a. HARAKAT UL-MUJAHIDEEN; a.k.a. AL-FARAN; a.k.a. AL-HADITH; a.k.a. HARAKAT UL-ANSAR; a.k.a. HARAKAT UL-MUJAHIDIN; a.k.a. HUA; a.k.a. HUM; a.k.a. JAMIAT UL-ANSAR) [FTO][SDGT]

AL-HADITH (a.k.a. HARAKAT UL-MUJAHIDEEN; a.k.a. AL-FARAN; a.k.a. AL-HADID; a.k.a. HARAKAT UL-ANSAR; a.k.a. HARAKAT UL-MUJAHIDIN; a.k.a. HUA; a.k.a. HUM; a.k.a. JAMIAT UL-ANSAR) [FTO][SDGT]

AL-HAMATI, Muhammad (a.k.a. AL-AHDAL, Mohammad Hamdi Sadiq; a.k.a. AL-MAKKI, Abu Asim), Yemen (individual) [SDGT]

AL-HAMATI SWEETS BAKERIES, Al-Mukallah, Hadhramawt Governorate, Yemen [SDGT]

AL-HAMMADI, Hamid Yusif (a.k.a. HAMADI Hamed Yussef), Minister of Culture and Information; Iraq (individual) [IRAQ]

AL-HAQ, Amin (a.k.a. AH HAQ, Dr. Amin; a.k.a. AMIN, Muhammad; a.k.a. UL-HAQ, Dr. Amin); DOB 1960; POB Nangahar Province, Afghanistan (individual) [SDGT]

AL-HARAMAIN: Indonesia Branch (a.k.a. AL HARAMAIN; a.k.a. AL-HARAMAIN FOUNDATION; a.k.a. YAYASAN AL HARAMAIN; a.k.a. YAYASAN AL HARAMAINI; a.k.a. YAYASAN AL-MANAHIL-INDONESIA), Jalan Laut Sulawesi Blok DII/4, Kavling Angkatan Laut Duren Sawit, Jakarta Timur 13440 Indonesia [SDGT]

AL-HARAMAIN: Kenya Branch (a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Daddb, Kenya; Garissa, Kenya; Nairobi, Kenya [SDGT]

AL-HARAMAIN: Kenya Branch (a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Daddb, Kenya; Garissa, Kenya; Nairobi, Kenya [SDGT]

AL-HARAMAIN: Pakistan Branch (a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin Road, F-10/1, Islamabad, Pakistan [SDGT]

AL-HARAMAIN: Pakistan Branch (a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin Road, F-10/1, Islamabad, Pakistan [SDGT]

AL-HARAMAIN: Tanzania Branch (a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), P.O. Box 3616, Dar es Salaam, Tanzania; Singida, Tanzania; Tanga, Tanzania [SDGT]

AL-HARAMAIN: Tanzania Branch (a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), P.O. Box 3616, Dar es Salaam, Tanzania; Singida, Tanzania; Tanga, Tanzania [SDGT]

AL-HARAMAIN: United States Branch (a.k.a. AL HARAMAIN FOUNDATION, INC.; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 1257 Siskiyou Boulevard, Ashland, OR 97520, U.S.A.; 3800 Highway 99S., Ashland, OR 97520-8718, U.S.A.; 2151 E. Division Street, Springfield, MO 65803, U.S.A. [BPI-PA]

AL-HARAMAIN (a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 64 Poturmahala, Travnik, Bosnia-Herzegovina; Somalia [SDGT]

AL-HARAMAIN FOUNDATION (a.k.a. AL HARAMAIN; a.k.a. AL-HARAMAIN: Indonesia Branch; a.k.a. YAYASAN AL HARAMAIN; a.k.a. YAYASAN AL HARAMAINI; a.k.a. YAYASAN AL-MANAHIL-INDONESIA), Jalan Laut Sulawesi Blok DII/4, Kavling Angkatan Laut Duren Sawit, Jakarta Timur 13440 Indonesia [SDGT]

AL-HARAMAIN FOUNDATION (a.k.a. AL-HARAMAIN: Kenya Branch; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Daddb, Kenya; Garissa, Kenya; Nairobi, Kenya [SDGT]

AL-HARAMAIN FOUNDATION (a.k.a. AL-HARAMAIN: Pakistan Branch; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin Road, F-10/1, Islamabad, Pakistan [SDGT]

AL-HARAMAIN FOUNDATION (a.k.a. AL-HARAMAIN: Tanzania Branch; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), P.O. Box 3616, Dar es Salaam, Tanzania; Singida, Tanzania; Tanga, Tanzania [SDGT]

AL-HARAMAIN FOUNDATION (a.k.a. AL-HARAMAIN: United States Branch; a.k.a. AL HARAMAIN FOUNDATION, INC.; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 1257 Siskiyou Boulevard, Ashland, OR 97520, U.S.A.; 3800 Highway 99S., Ashland, OR 97520-8718, U.S.A.; 2151 E. Division Street, Springfield, MO 65803, U.S.A. [BPI-PA]

AL-HARAMAIN FOUNDATION (a.k.a. AL-HARAMAIN; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 64 Poturmahala, Travnik, Bosnia-Herzegovina; Somalia [SDGT]

AL-HARAMAIN HUMANITARIAN FOUNDATION (a.k.a. AL-HARAMAIN: Kenya Branch; a.k.a. AL-HARAMAIN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Daddb, Kenya; Garissa, Kenya; Nairobi, Kenya [SDGT]

AL-HARAMAIN HUMANITARIAN FOUNDATION (a.k.a. AL-HARAMAIN: Pakistan Branch; a.k.a. AL-HARAMAIN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin Road, F-10/1, Islamabad, Pakistan [SDGT]

AL-HARAMAIN HUMANITARIAN FOUNDATION (a.k.a. AL-HARAMAIN: Tanzania Branch; a.k.a. AL-HARAMAIN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), P.O. Box 3616, Dar es Salaam, Tanzania; Singida, Tanzania; Tanga, Tanzania [SDGT]

AL-HARAMAIN HUMANITARIAN FOUNDATION (a.k.a. AL-HARAMAIN: United States Branch; a.k.a. AL HARAMAIN FOUNDATION, INC.; a.k.a. AL-HARAMAIN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 1257 Siskiyou Boulevard, Ashland, OR 97520, U.S.A.; 3800 Highway 99S., Ashland, OR 97520-8718, U.S.A.; 2151 E. Division Street, Springfield, MO 65803, U.S.A. [BPI-PA]

AL-HARAMAIN HUMANITARIAN FOUNDATION (a.k.a. AL-HARAMAIN; a.k.a. AL-HARAMAIN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 64 Poturmahala, Travnik, Bosnia-Herzegovina; Somalia [SDGT]

AL-HARAMAIN ISLAMIC FOUNDATION (a.k.a. AL-HARAMAIN: Kenya Branch; a.k.a. AL-HARAMAIN FOUNDATION; a.k.a. AL-HARAMAIN HUMANITARIAN FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Daddb, Kenya; Garissa, Kenya; Nairobi, Kenya [SDGT]

AL-HARAMAIN ISLAMIC FOUNDATION (a.k.a. AL-HARAMAIN: Pakistan Branch; a.k.a. AL-HARAMAIN FOUNDATION; a.k.a. AL-HARAMAIN HUMANITARIAN FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin Road, F-10/1, Islamabad, Pakistan [SDGT]

AL-HARAMAIN ISLAMIC FOUNDATION (a.k.a. AL-HARAMAIN: Tanzania Branch; a.k.a. AL-HARAMAIN FOUNDATION; a.k.a. AL-HARAMAIN HUMANITARIAN FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), P.O. Box 3616, Dar es Salaam, Tanzania; Singida, Tanzania; Tanga, Tanzania [SDGT]

AL-HARAMAIN ISLAMIC FOUNDATION (a.k.a. AL-HARAMAIN: United States Branch; a.k.a. AL HARAMAIN FOUNDATION, INC.; a.k.a. AL-HARAMAIN FOUNDATION; a.k.a. AL-HARAMAIN HUMANITARIAN FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 1257 Siskiyou Boulevard, Ashland, OR 97520, U.S.A.; 3800 Highway 99S., Ashland, OR 97520-8718, U.S.A.; 2151 E. Division Street, Springfield, MO 65803, U.S.A. [BPI-PA]

AL-HARAMAIN ISLAMIC FOUNDATION (a.k.a. AL-HARAMAIN; a.k.a. AL-HARAMAIN FOUNDATION; a.k.a. AL-HARAMAIN HUMANITARIAN FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 64 Poturmahala, Travnik, Bosnia-Herzegovina; Somalia [SDGT]

AL-HARAMAYN (a.k.a. AL-HARAMAIN: Kenya Branch; a.k.a. AL-HARAMAIN FOUNDATION; a.k.a. AL-HARAMAIN HUMANITARIAN FOUNDATION; a.k.a. AL-HARAMAIN ISLAMIC FOUNDATION; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Daddb, Kenya; Garissa, Kenya; Nairobi, Kenya [SDGT]

AL-HARAMAYN (a.k.a. AL-HARAMAIN: Pakistan Branch; a.k.a. AL-HARAMAIN FOUNDATION; a.k.a. AL-HARAMAIN HUMANITARIAN FOUNDATION; a.k.a. AL-HARAMAIN ISLAMIC FOUNDATION; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin Road, F-10/1, Islamabad, Pakistan [SDGT]

AL-HARAMAYN (a.k.a. AL-HARAMAIN: Tanzania Branch; a.k.a. AL-HARAMAIN FOUNDATION; a.k.a. AL-HARAMAIN HUMANITARIAN FOUNDATION; a.k.a. AL-HARAMAIN ISLAMIC FOUNDATION; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), P.O. Box 3616, Dar es Salaam, Tanzania; Singida, Tanzania; Tanga, Tanzania [SDGT]

AL-HARAMAYN (a.k.a. AL-HARAMAIN: United States Branch; a.k.a. AL HARAMAIN FOUNDATION, INC.; a.k.a. AL-HARAMAIN FOUNDATION; a.k.a. AL-HARAMAIN HUMANITARIAN FOUNDATION; a.k.a. AL-HARAMAIN ISLAMIC FOUNDATION; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 1257 Siskiyou Boulevard, Ashland, OR 97520, U.S.A.; 3800 Highway 99S., Ashland, OR 97520-8718, U.S.A; 2151 E. Division Street, Springfield, MO 65803, U.S.A. [BPI-PA]

AL-HARAMAYN (a.k.a. AL-HARAMAIN; a.k.a. AL-HARAMAIN FOUNDATION; a.k.a. AL-HARAMAIN HUMANITARIAN FOUNDATION; a.k.a. AL-HARAMAIN ISLAMIC FOUNDATION; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 64 Poturmahala, Travnik, Bosnia-Herzegovina; Somalia [SDGT]

AL-HARAMAYN FOUNDATION (a.k.a. AL-HARAMAIN: Kenya Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Daddb, Kenya; Garissa, Kenya; Nairobi, Kenya [SDGT]

AL-HARAMAYN FOUNDATION (a.k.a. AL-HARAMAIN: Pakistan Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin Road, F-10/1, Islamabad, Pakistan [SDGT]

AL-HARAMAYN FOUNDATION (a.k.a. AL-HARAMAIN: Tanzania Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), P.O. Box 3616, Dar es Salaam, Tanzania; Singida, Tanzania; Tanga, Tanzania [SDGT]

AL-HARAMAYN FOUNDATION (a.k.a. AL-HARAMAIN: United States Branch; a.k.a. AL HARAMAIN FOUNDATION, INC.; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 1257 Siskiyou Boulevard, Ashland, OR 97520, U.S.A.; 3800 Highway 99S., Ashland, OR 97520-8718, U.S.A.; 2151 E. Division Street, Springfield, MO 65803, U.S.A. [BPI-PA]

AL-HARAMAYN FOUNDATION (a.k.a. AL-HARAMAIN; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 64 Poturmahala, Travnik, Bosnia-Herzegovina; Somalia [SDGT]

AL-HARAMAYN HUMANITARIAN FOUNDATION (a.k.a. AL-HARAMAIN: Kenya Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Daddb, Kenya; Garissa, Kenya; Nairobi, Kenya [SDGT]

AL-HARAMAYN HUMANITARIAN FOUNDATION (a.k.a. AL-HARAMAIN: Pakistan Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin Road, F-10/1, Islamabad, Pakistan [SDGT]

AL-HARAMAYN HUMANITARIAN FOUNDATION (a.k.a. AL-HARAMAIN: Tanzania Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), P.O. Box 3616, Dar es Salaam, Tanzania; Singida, Tanzania; Tanga, Tanzania [SDGT]

AL-HARAMAYN HUMANITARIAN FOUNDATION (a.k.a. AL-HARAMAIN: United States Branch; a.k.a. AL HARAMAIN FOUNDATION, INC.; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 1257 Siskiyou Boulevard, Ashland, OR 97520, U.S.A.; 3800 Highway 99S., Ashland, OR 97520-8718, U.S.A.; 2151 E. Division Street, Springfield, MO 65803, U.S.A. [BPI-PA]

AL-HARAMAYN HUMANITARIAN FOUNDATION (a.k.a. AL-HARAMAIN; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 64 Poturmahala, Travnik, Bosnia-Herzegovina; Somalia [SDGT]

AL-HARAMAYN ISLAMIC FOUNDATION (a.k.a. AL-HARAMAIN: Kenya Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Daddb, Kenya; Garissa, Kenya; Nairobi, Kenya [SDGT]

AL-HARAMAYN ISLAMIC FOUNDATION (a.k.a. AL-HARAMAIN: Pakistan Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin Road, F-10/1, Islamabad, Pakistan [SDGT]

AL-HARAMAYN ISLAMIC FOUNDATION (a.k.a. AL-HARAMAIN: Tanzania Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), P.O. Box 3616, Dar es Salaam, Tanzania; Singida, Tanzania; Tanga, Tanzania [SDGT]

AL-HARAMAYN ISLAMIC FOUNDATION (a.k.a. AL-HARAMAIN: United States Branch; a.k.a. AL HARAMAIN FOUNDATION, INC.; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 1257 Siskiyou Boulevard, Ashland, OR 97520, U.S.A.; 3800 Highway 99S., Ashland, OR 97520-8718, U.S.A.; 2151 E. Division Street, Springfield, MO 65803, U.S.A. [BPI-PA]

AL-HARAMAYN ISLAMIC FOUNDATION (a.k.a. AL-HARAMAIN; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 64 Poturmahala, Travnik, Bosnia-Herzegovina; Somalia [SDGT]

AL-HARAMEIN (a.k.a. AL-HARAMAIN: Kenya Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Daddb, Kenya; Garissa, Kenya; Nairobi, Kenya [SDGT]

AL-HARAMEIN (a.k.a. AL-HARAMAIN: Pakistan Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin Road, F-10/1, Islamabad, Pakistan [SDGT]

AL-HARAMEIN (a.k.a. AL-HARAMAIN: Tanzania Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), P.O. Box 3616, Dar es Salaam, Tanzania; Singida, Tanzania; Tanga, Tanzania [SDGT]

AL-HARAMEIN (a.k.a. AL-HARAMAIN: United States Branch; a.k.a. AL HARAMAIN FOUNDATION, INC.; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 1257 Siskiyou Boulevard, Ashland, OR 97520, U.S.A.; 3800 Highway 99S., Ashland, OR 97520-8718, U.S.A.; 2151 E. Division Street, Springfield, MO 65803, U.S.A. [BPI-PA]

AL-HARAMEIN (a.k.a. AL-HARAMAIN; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 64 Poturmahala, Travnik, Bosnia-Herzegovina; Somalia [SDGT]

AL-HARAMEIN FOUNDATION (a.k.a. AL-HARAMAIN: Kenya Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Daddb, Kenya; Garissa, Kenya; Nairobi, Kenya [SDGT]

AL-HARAMEIN FOUNDATION (a.k.a. AL-HARAMAIN: Pakistan Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin Road, F-10/1, Islamabad, Pakistan [SDGT]

AL-HARAMEIN FOUNDATION (a.k.a. AL-HARAMAIN: Tanzania Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), P.O. Box 3616, Dar es Salaam, Tanzania; Singida, Tanzania; Tanga, Tanzania [SDGT]

AL-HARAMEIN FOUNDATION (a.k.a. AL-HARAMAIN: United States Branch; a.k.a. AL HARAMAIN FOUNDATION, INC.; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 1257 Siskiyou Boulevard, Ashland, OR 97520, U.S.A.; 3800 Highway 99S., Ashland, OR 97520-8718, U.S.A.; 2151 E. Division Street, Springfield, MO 65803, U.S.A. [BPI-PA]

AL-HARAMEIN FOUNDATION (a.k.a. AL-HARAMAIN; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 64 Poturmahala, Travnik, Bosnia-Herzegovina; Somalia [SDGT]

AL-HARAMEIN HUMANITARIAN FOUNDATION (a.k.a. AL-HARAMAIN: Kenya Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Daddb, Kenya; Garissa, Kenya; Nairobi, Kenya [SDGT]

AL-HARAMEIN HUMANITARIAN FOUNDATION (a.k.a. AL-HARAMAIN: Pakistan Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin Road, F-10/1, Islamabad, Pakistan [SDGT]

AL-HARAMEIN HUMANITARIAN FOUNDATION (a.k.a. AL-HARAMAIN: Tanzania Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), P.O. Box 3616, Dar es Salaam, Tanzania; Singida, Tanzania; Tanga, Tanzania [SDGT]

AL-HARAMEIN HUMANITARIAN FOUNDATION (a.k.a. AL-HARAMAIN: United States Branch; a.k.a. AL HARAMAIN FOUNDATION, INC.; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 1257 Siskiyou Boulevard, Ashland, OR 97520, U.S.A.; 3800 Highway 99S., Ashland, OR 97520-8718, U.S.A.; 2151 E. Division Street, Springfield, MO 65803, U.S.A. [BPI-PA]

AL-HARAMEIN HUMANITARIAN FOUNDATION (a.k.a. AL-HARAMAIN; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 64 Poturmahala, Travnik, Bosnia-Herzegovina; Somalia [SDGT]

AL-HARAMEIN ISLAMIC FOUNDATION (a.k.a. AL-HARAMAIN: Kenya Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Daddb, Kenya; Garissa, Kenya; Nairobi, Kenya [SDGT]

AL-HARAMEIN ISLAMIC FOUNDATION (a.k.a. AL-HARAMAIN: Pakistan Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin Road, F-10/1, Islamabad, Pakistan [SDGT]

AL-HARAMEIN ISLAMIC FOUNDATION (a.k.a. AL-HARAMAIN: Tanzania Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), P.O. Box 3616, Dar es Salaam, Tanzania; Singida, Tanzania; Tanga, Tanzania [SDGT]

AL-HARAMEIN ISLAMIC FOUNDATION (a.k.a. AL-HARAMAIN: United States Branch; a.k.a. AL HARAMAIN FOUNDATION, INC.; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 1257 Siskiyou Boulevard, Ashland, OR 97520, U.S.A.; 3800 Highway 99S., Ashland, OR 97520-8718, U.S.A.; 2151 E. Division Street, Springfield, MO 65803, U.S.A. [BPI-PA]

AL-HARAMEIN ISLAMIC FOUNDATION (a.k.a. AL-HARAMAIN; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 64 Poturmahala, Travnik, Bosnia-Herzegovina; Somalia [SDGT]

AL-HASSAN, Anas Malik Dohan (a.k.a. AL-HASSAN, Anas; a.k.a. DOHAN, Anas; a.k.a. DOHAN, Anas Malik; a.k.a. MALIK, Anas), Baghdad, Iraq (individual) [IRAQ]

AL-HASSAN, Anas Malik Dohan (a.k.a. AL-HASSAN, Anas; a.k.a. DOHAN, Anas; a.k.a. DOHAN, Anas Malik; a.k.a. MALIK, Anas), Jordan (individual) [IRAQ]

AL-HASSAN, Watab Ibrahim (a.k.a. AL-TIKRITI, Watban Ibrahim Hassan; a.k.a. AL-TAKRITI, Watban; a.k.a. AL-TIKRITI, Watban Ibrahim al-Hasan); DOB 1952; POB Tikrit, Iraq; Presidential Advisor; half-brother of Saddam Hussein al-Tikriti; nationality Iraqi (individual) [IRAQ][IRAQ2]

AL-HAWEN, Abu-Ahmad (a.k.a. AL-AMRIKI, Abu-Ahmad; a.k.a. AL-MAGHRIBI, Rashid; a.k.a. AL-SHAHID, Abu-Ahmad; a.k.a. HIJAZI, Raed M.; a.k.a. HIJAZI, Riad), Jordan; DOB 1968; POB California, U.S.A.; SSN: 548-91-5411 (USA) (individual) [SDGT]

AL-HIJAZI, Mahmud, Secretary of Justice and Public Security of the Government of Libya, Libya; DOB 1944 (Place of birth: Batta, Libya) (individual) [LIBYA]

AL-HINSHIRI, Izz Al-Din Al-Muhammad, Secretary of Communications and Transport of the Government of Libya, Libya; DOB 6 Oct 51 (individual) [LIBYA]

AL-HOURI, Ali Saed Bin Ali (a.k.a. EL-HOORIE, Ali Saed Bin Ali; a.k.a. EL-HOURI, Ali Saed Bin Ali); DOB 10 Jul 1965; alt. DOB 11 Jul 1965; POB El Dibabiya, Saudi Arabia; citizen Saudi Arabia (individual) [SDGT]

AL-HUWAYSH, Isam Rashid, Governor of the Central Bank; Iraq (individual) [IRAQ]

AL-IRAQI, Abd al-Hadi (a.k.a. ABU ABDALLAH; a.k.a. AL-IRAQI, Abdal al-Hadi) (individual) [SDGT]

AL-IRAQI, Abdal al-Hadi (a.k.a. AL-IRAQI, Abd al-Hadi; a.k.a. ABU ABDALLAH) (individual) [SDGT]

AL-ITIHAAD AL-ISLAMIYA (a.k.a. AIAI) [SDGT]

AL-JABBURI, Sadi Tuma Abbas, Adviser to the President for Military Affairs; DOB 1939; Iraq (individual) [IRAQ]

AL-JADAWI, Saqar; DOB 1965 (individual) [SDGT]

AL-JAMA'AH AL-ISLAMIYAH AL-MUSALLAH (a.k.a. ARMED ISLAMIC GROUP; a.k.a. GIA; a.k.a. GROUPEMENT ISLAMIQUE ARME) [FTO] [SDGT]

AL-JAZIRI, Abu Bakr; Peshawar, Pakistan; nationality Algerian (individual) [SDGT]

AL-JIHAD (a.k.a. AL QAEDA; a.k.a. AL QAIDA; a.k.a. AL QA'IDA; a.k.a. EGYPTIAN AL-JIHAD; a.k.a. EGYPTIAN ISLAMIC JIHAD; a.k.a. INTERNATIONAL FRONT FOR FIGHTING JEWS AND CRUSADES; a.k.a. ISLAMIC ARMY FOR THE LIBERATION OF HOLY SITES; a.k.a. ISLAMIC ARMY; a.k.a. ISLAMIC SALVATION FOUNDATION; a.k.a. NEW JIHAD; a.k.a. THE GROUP FOR THE PRESERVATION OF THE HOLY SITES; a.k.a. THE ISLAMIC ARMY FOR THE LIBERATION OF THE HOLY PLACES; a.k.a. THE JIHAD GROUP; a.k.a. THE WORLD ISLAMIC FRONT FOR JIHAD AGAINST JEWS AND CRUSADERS; a.k.a. USAMA BIN LADEN NETWORK; a.k.a. USAMA BIN LADEN ORGANIZATION; a.k.a. “THE BASE”) [SDT][FTO][SDGT]

AL-JIHAD (a.k.a. EGYPTIAN AL-JIHAD; a.k.a. EGYPTIAN ISLAMIC JIHAD; a.k.a. JIHAD GROUP; a.k.a. NEW JIHAD) [SDT] [FTO] [SDGT]

AL-JIHIMI, Tahir, Secretary of Economy and Trade of the Government of Libya, Libya (individual) [LIBYA]

AL-JIZRAWI, Taha Yassin Ramadan (a.k.a. RAMADAN, Taha Yasin; a.k.a. RAMADAN, Taha Yassin); DOB circa 1938; Vice President since 1991; nationality Iraqi (individual) [IRAQ][IRAQ2]

AL-KADR, Ahmad Sa'id (a.k.a. AL-KANADI, Abu Abd Al-Rahman); DOB 01 Mar 1948; POB Cairo, Egypt (individual) [SDGT]

AL-KAFI, Isa Abd, Secretary of Agrarian Reform, Land Reclamation, and Animal Resources of the Government of Libya, Libya (individual) [LIBYA]

AL-KAMEL, Salah 'Ali (a.k.a. 'ABD-AL-'IZ; a.k.a. ABD-AL-WAHAB, Abd-al-Hai Ahmad; a.k.a. ABU YASIR; a.k.a. 'ABD ALLAH, 'Issam 'Ali Muhammad; a.k.a. MUSA, Rifa'i Ahmad Taha; a.k.a. TAHA, Rifa'i Ahmad; a.k.a. TAHA MUSA, Rifa'i Ahmad; a.k.a. THABIT 'IZ); DOB 24 Jun 1954; POB Egypt; Passport No. 83860 (Sudan), 30455 (Egypt), 1046403 (Egypt) (individual) [SDT]

AL-KANADI, Abu Abd Al-Rahman (a.k.a. AL-KADR, Ahmad Sa'id); DOB 01 Mar 1948; POB Cairo, Egypt (individual) [SDGT]

AL-KHAFAJI, Muhsin Khadr; Ba'th Party Regional Command Chairman, al-Qadisiyah; nationality Iraqi (individual) [IRAQ][IRAQ2]

AL-KHAFAJI, Sabah, 254 Rue Adolphe Pajeaud, 92160 Antony, France (individual) [IRAQ]

AL-KHALAYLAH, Ahmad Fadil Nazzal (a.k.a. 'ABD AL-KARIM; a.k.a. ABU AL-MU'TAZ; a.k.a. AL-HABIB; a.k.a. AL-MUHAJIR; a.k.a. AL-ZARQAWI, Abu Mus'Ab; a.k.a. GHARIB; a.k.a. KHALAILAH, Ahmed Fadeel; a.k.a. KHALAYLEH, Fedel Nazzel; a.k.a. “MOUHANAD;” a.k.a. “MOUHANNAD;” a.k.a. “MUHANNAD;” a.k.a. “RASHID”); DOB 20 Oct 1966; POB Zarqa, Jordan; Passport No. Z264968 (Jordan); citizen Jordan; National No. 9661031030 (Jordan) (individual) [SDGT]

AL-KHODAIR Ahmad Hussein (a.k.a. SAMARRAI, Ahmad Husayn Khudayir), Minister of Finance; DOB 1941; Iraq (individual) [IRAQ]

al-Kimawi (a.k.a. AL-TIKRITI, Ali Hassan al-Majid; a.k.a. AL-MAJID, General Ali Hasan; a.k.a. AL-MAJID, General Ali Hassan); DOB 1943; alt. DOB 1941; POB al-Awja, near Tikrit, Iraq; Presidential Advisor and senior member of Revolutionary Command Council; nationality Iraqi (individual) [IRAQ][IRAQ2]

AL-KINI, Usama (a.k.a. MSALAM, Fahid Mohammed Ally; a.k.a. ALLY, Fahid Mohammed; a.k.a. MSALAM, Fahad Ally; a.k.a. MSALAM, Fahid Mohammed Ali; a.k.a. MSALAM, Mohammed Ally; a.k.a. MUSALAAM, Fahid Mohammed Ali; a.k.a. SALEM, Fahid Muhamad Ali); DOB 19 Feb 1976; POB Mombasa, Kenya; citizen Kenya (individual) [SDGT]

AL-KUBAYSI, Ugla Abid Saqar (a.k.a. Saqr al-Kabisi abd Aqala); DOB 1944; POB Kubaisi, al-Anbar Governorate, Iraq; Ba'th Party Regional Command Chairman, Maysan; nationality Iraqi (individual) [IRAQ][IRAQ2]

AL-LAJNA AL-KHAYRIYYA LIL MUNASARA AL-AQSA (a.k.a. AL AQSA ASSISTANCE CHARITABLE COUNCIL; a.k.a. BENEVOLENCE COMMITTEE FOR SOLDARITY WITH PALESTINE; a.k.a. BENEVOLENT COMMITTEE FOR SUPPORT OF PALESTINE; a.k.a. CBSP; a.k.a. CHARITABLE COMMITTEE FOR PALESTINE; a.k.a. CHARITABLE COMMITTEE FOR SOLIDARITY WITH PALESTINE; a.k.a. CHARITABLE COMMITTEE FOR SUPPORTING PALESTINE; a.k.a. CHARITABLE ORGANIZATION IN SUPPORT OF PALESTINE; n.k.a. COMITE' DE BIENFAISANCE ET DE SECOURS AUX PALESTINIENS; f.k.a. COMITE' DE BIENFAISANCE POUR LA SOLIDARITE' AVEC LA PALESTINE; a.k.a. COMMITTEE FOR AID AND SOLIDARITY WITH PALESTINE; a.k.a. COMMITTEE FOR ASSISTANCE AND SOLIDARITY WITH PALESTINE; a.k.a. COMMITTEE FOR CHARITY AND SOLIDARITY WITH PALESTINE; a.k.a. COMPANIE BENIFICENT DE SOLIDARITE AVEC PALESTINE; a.k.a. COUNCIL OF CHARITY AND SOLIDARITY; a.k.a. DE BIENFAISANCE ET DE COMMITE LE SOLIDARITE AVEC LA PALESTINE; a.k.a. RELIEF COMMITTEE FOR SOLIDARITY WITH PALESTINE), 68 Rue Jules Guesde, 59000 Lille, France; 10 Rue Notre Dame, 69006 Lyon, France; 37 Rue de la Chapelle, 75018 Paris, France [SDGT]

AL-LIBI, Abd al-Muhsin (a.k.a. ABU BAKR, Ibrahim Ali Muhammad) (individual) [SDGT]

AL-LIBI, Anas (a.k.a. AL-LIBY, Anas; a.k.a. AL-RAGHIE, Nazih; a.k.a. AL-RAGHIE, Nazih Abdul Hamed; a.k.a. AL-SABAI, Anas), Afghanistan; DOB 30 Mar 1964; alt. DOB 14 May 1964; POB Tripoli, Libya; citizen Libya (individual) [SDGT]

AL-LIBI, Ibn Al-Shaykh (individual) [SDGT]

AL-LIBY, Anas (a.k.a. AL-LIBI, Anas; a.k.a. AL-RAGHIE, Nazih; a.k.a. AL-RAGHIE, Nazih Abdul Hamed; a.k.a. AL-SABAI, Anas), Afghanistan; DOB 30 Mar 1964; alt. DOB 14 May 1964; POB Tripoli, Libya; citizen Libya (individual) [SDGT]

AL-MAGHRIBI, Rashid (a.k.a. AL-AMRIKI, Abu-Ahmad; a.k.a. AL-HAWEN, Abu-Ahmad; a.k.a. AL-SHAHID, Abu-Ahmad; a.k.a. HIJAZI, Raed M.; a.k.a. HIJAZI, Riad), Jordan; DOB 1968; POB California, U.S.A.; SSN: 548-91-5411 (USA) (individual) [SDGT]

AL-MAHMUDI, Baghdadi, Secretary of Health and Social Security of the Government of Libya, Libya (individual) [LIBYA]

AL-MAJID, General Ali Hasan (a.k.a. AL-TIKRITI, Ali Hassan al-Majid; a.k.a. al-Kimawi; a.k.a. AL-MAJID, General Ali Hassan); DOB 1943; alt. DOB 1941; POB al-Awja, near Tikrit, Iraq; Presidential Advisor and senior member of Revolutionary Command Council; nationality Iraqi (individual) [IRAQ][IRAQ2]

AL-MAJID, General Ali Hassan (a.k.a. AL-TIKRITI, Ali Hassan al-Majid; a.k.a. al-Kimawi; a.k.a. AL-MAJID, General Ali Hasan) DOB 1943; alt. DOB 1941; POB al-Awja, near Tikrit, Iraq; Presidential Advisor and senior member of Revolutionary Command Council; nationality Iraqi (individual) [IRAQ][IRAQ2]

AL-MAJID, Husayn Kamil Hasan (a.k.a. AL-MAJID Hussein Kamel Hassan), Minister of Industry and Minerals and Advisor to the President; DOB 1955; Baghdad, Iraq (individual) [IRAQ]

AL-MAJID, Hussein Kamel Hassan (a.k.a. AL-MAJID Husayn Kamil Hasan), Minister of Industry and Minerals and Advisor to the President; DOB 1955; Baghdad, Iraq (individual) [IRAQ]

AL-MAJID, Rukan abd al-Gafur (a.k.a. AL-TIKRITI, Rukan Razuki abd-al-Ghafur Sulaiman; a.k.a. Abu Walid; a.k.a. AL-MAJID, Rukan abdal-Ghaffur Sulayman; a.k.a. AL-MAJID, Rukan Razuqi abd al-Gahfur; a.k.a. AL-TIKRITI, Rukan 'abd al-Ghaffur al-Majid; a.k.a. AL-TIKRITI, Rukan abd al-Ghaffur al-Majid); DOB 1956; POB Tikrit, Iraq; head of Tribal Affairs Office in Presidential Office; nationality Iraqi (individual) [IRAQ][IRAQ2]

AL-MAJID, Rukan abdal-Ghaffur Sulayman (a.k.a. AL-TIKRITI, Rukan Razuki abd-al-Ghafur Sulaiman; a.k.a. Abu Walid; a.k.a. AL-MAJID, Rukan abd al-Gafur; a.k.a. AL-MAJID, Rukan Razuqi abd al-Gahfur; a.k.a. AL-TIKRITI, Rukan 'abd al-Ghaffur al-Majid; a.k.a. AL-TIKRITI, Rukan abd al-Ghaffur al-Majid); DOB 1956; POB Tikrit, Iraq; head of Tribal Affairs Office in Presidential Office; nationality Iraqi (individual) [IRAQ][IRAQ2]

AL-MAJID, Rukan Razuqi abd al-Gahfur (a.k.a. AL-TIKRITI, Rukan Razuki abd-al-Ghafur Sulaiman; a.k.a. Abu Walid; a.k.a. AL-MAJID, Rukan abd al-Gafur; a.k.a. AL-MAJID, Rukan abdal-Ghaffur Sulayman; a.k.a. AL-TIKRITI, Rukan 'abd al-Ghaffur al-Majid; a.k.a. AL-TIKRITI, Rukan abd al-Ghaffur al-Majid); POB 1956, DOB Tikrit, Iraq; head of Tribal Affairs Office in Presidential Office; nationality Iraqi (individual) [IRAQ][IRAQ2]

AL-MAKKI, Abu Asim (a.k.a. AL-AHDAL, Mohammad Hamdi Sadiq; a.k.a. AL-HAMATI, Muhammad), Yemen (individual) [SDGT]

AL-MAL, Muhammad Bayt, Secretary of Planning and Finance of the Government of Libya, Libya (individual) [LIBYA]

AL-MALEKI, Shebib Lazim (a.k.a. AL-MALIKI Shabib Lazem), Minister of Justice; DOB 1936; Iraq (individual) [IRAQ]

AL-MALIKI, Shabib Lazem (a.k.a. AL-MALEKI Shebib Lazim), Minister of Justice; DOB 1936; Iraq (individual) [IRAQ]

AL-MANSOUR, Dr. Mohamed (a.k.a. MANSOUR, Mohamed), Ob. Heslibachstr. 20, Kusnacht, Switzerland; Zurich, Switzerland; DOB 1928; POB U.A.E.; alt. POB Egypt (individual) [SDGT]

AL-MASHAIKHI, Gharib Muhammad Fazel (a.k.a. GHARIB, Fadil Mahmud) (DOB 1944; POB Dujail, Iraq; Ba'th Party Regional Command Chairman, Babil; Chairman, General Federation of Iraqi Trade Unions; nationality Iraqi (individual) [IRAQ][IRAQ2]

AL-MASHHADANI, Saif-al-Din; DOB 1956; POB Baghdad, Iraq; Ba'th Party Regional Command Chairman, al-Muthanna; nationality Iraqi (individual) [IRAQ][IRAQ2]

AL-MASRI, Abu Hafs (a.k.a. ABDULLAH, Sheikh Taysir; a.k.a. ABU HAFS; a.k.a. ABU SITTA, Subhi; a.k.a. ATEF, Muhammad; a.k.a. ATIF, Mohamed; a.k.a. ATIF, Muhammad; a.k.a. EL KHABIR, Abu Hafs el Masry; a.k.a. TAYSIR); DOB 1951; Alt. DOB 1956; Alt. DOB 1944; POB Alexandria, Egypt (individual) [SDT] [SDGT]

AL-MASRI, Abu Hamza (a.k.a. AL-MISRI, Abu Hamza; a.k.a. EMAN, Adam Ramsey; a.k.a. MUSTAFA. Mustafa Kamel; a.k.a. KAMEL, Mustafa), 9 Albourne Road, Shepherds Bush, London, W12 OLW, England; 8 Adie Road, Hammersmith, London, W6 OPW, England; DOB 15 Apr 1958 (individual) [SDGT]

AL-MASRI, Abu Mohamed (a.k.a. ABDULLAH, Abdullah Ahmed; a.k.a. ABU MARIAM; a.k.a. SALEH), Afghanistan; DOB 1963; POB Egypt; citizen Egypt (individual) [SDGT]

AL-MASRI, Ahmad (a.k.a. ALI, Ahmed Mohammed Hamed; a.k.a. ABDUREHMAN, Ahmed Mohammed; a.k.a. ABU FATIMA; a.k.a. ABU ISLAM; a.k.a. ABU KHADIIJAH; a.k.a. AHMED HAMED; a.k.a. Ahmed The Egyptian; a.k.a. AHMED, Ahmed; a.k.a. AL-SURIR, Abu Islam; a.k.a. ALI, Ahmed Mohammed; a.k.a. ALI, Hamed; a.k.a. HEMED, Ahmed; a.k.a. SHIEB, Ahmed; a.k.a. SHUAIB), Afghanistan; DOB 1965; POB Egypt; citizen Egypt (individual) [SDGT]

AL-MISRI, Abu Hamza (a.k.a. AL-MASRI, Abu Hamza; a.k.a. EMAN, Adam Ramsey; a.k.a. MUSTAFA, Mustafa Kamel; a.k.a. KAMEL, Mustafa), 9 Albourne Road, Shepherds Bush, London, W12 OLW, England; 8 Adie Road, Hammersmith, London, W6 OPW, England; DOB 15 Apr 1958 (individual) [SDGT]

AL-MUGHASSIL, Ahmad Ibrahim (a.k.a. ABU OMRAN; a.k.a. AL-MUGHASSIL, Ahmed Ibrahim); DOB 26 Jun 1967; POB Qatif-Bab al Shamal, Saudi Arabia; citizen Saudi Arabia (individual) [SDGT]

AL-MUGHASSIL, Ahmed Ibrahim (a.k.a. AL-MUGHASSIL, Ahmad Ibrahim; a.k.a. ABU OMRAN); DOB 26 Jun 1967; POB Qatif-Bab al Shamal, Saudi Arabia; citizen Saudi Arabia (individual) [SDGT]

AL-MUHAJIR (a.k.a. 'ABD AL-KARIM; a.k.a. ABU AL-MU'TAZ; a.k.a. AL-HABIB; a.k.a. AL-KHALAYLAH, Ahmad Fadil Nazzal; a.k.a. AL-ZARQAWI, Abu Mus'Ab; a.k.a. GHARIB; a.k.a. KHALAILAH, Ahmed Fadeel; a.k.a. KHALAYLEH, Fedel Nazzel; a.k.a. “MOUHANAD;” a.k.a. “MOUHANNAD;” a.k.a. “MUHANNAD;” a.k.a. “RASHID”); DOB 20 Oct 1966; POB Zarqa, Jordan; Passport No. Z264968 (Jordan); citizen Jordan; National No. 9661031030 (Jordan) (individual) [SDGT]

AL-MUHAJIR, Abdul Rahman (a.k.a. ATWAH, Muhsin Musa Matwalli; a.k.a. ABDEL RAHMAN; a.k.a. ABDUL RAHMAN; a.k.a. AL-NAMER, Mohammed K.A.), Afghanistan; DOB 19 Jun 1964; POB Egypt; citizen Egypt (individual) [SDGT]

AL-MUHAMMAD, Khamis Sirhan (a.k.a. Dr. Khamis); Ba'th Party Regional Command Chairman, Karbala; nationality Iraqi (individual) [IRAQ][IRAQ2]

AL-MUNTASIR, Umar Mustafa, Secretary of People's External Liaison and International Cooperation Bureau of the Government of Libya, Libya; DOB 1939 (Place of birth: Misurata, Libya) (individual) [LIBYA]

AL-NAJIM, Samir abd al-Aziz; DOB 1937; POB 1938, Baghdad, Iraq; Ba'th Party Regional Command Chairman, East Baghdad; nationality Iraqi (individual) [IRAQ][IRAQ2]

AL-NAMER, Mohammed K.A. (a.k.a. ATWAH, Muhsin Musa Matwalli; a.k.a. ABDEL RAHMAN; a.k.a. ABDUL RAHMAN; a.k.a. AL-MUHAJIR, Abdul Rahman), Afghanistan; DOB 19 Jun 1964; POB Egypt; citizen Egypt (individual) [SDGT]

AL-NAQIB, Zuhair Talib abd-al-Sattar; DOB circa 1948; Director, Military Intelligence; nationality Iraqi (individual) [IRAQ][IRAQ2]

AL-NASIRI, Walid Hamid Tawfiq (a.k.a. AL-TIKRITI, Walid Hamid Tawfiq); DOB circa 1950; POB Tikrit,Iraq; Governor of Basrah; nationality Iraqi (individual) [IRAQ][IRAQ2]

AL-NASSER, Abdelkarim Hussein Mohamed; POB Al Ihsa, Saudi Arabia; citizen Saudi Arabia (individual) [SDGT]

AL-NUBI, Abu (a.k.a. FADHIL, Mustafa Mohamed; a.k.a. AL MASRI, Abd Al Wakil; a.k.a. ALI, Hassan; a.k.a. ANIS, Abu; a.k.a. ELBISHY, Moustafa Ali; a.k.a. FADIL, Mustafa Muhamad; a.k.a. FAZUL, Mustafa; a.k.a. HUSSEIN; a.k.a. JIHAD, Abu; a.k.a. KHALID; a.k.a. MAN, Nu; a.k.a. MOHAMMED, Mustafa; a.k.a. YUSSRR, Abu); DOB 23 Jun 1976; POB Cairo, Egypt; citizen Egypt; alt. citizen Kenya; Kenyan ID No. 12773667; Serial No. 201735161 (individual) [SDGT]

AL-NUMAN, Aziz Salih; DOB 1941; DOB 1945; POB An Nasiriyah, Iraq; Ba'th Party Regional Command Chairman; nationality Iraqi (individual) [IRAQ][IRAQ2]

AL-NUR HONEY CENTER (a.k.a. AL-NUR HONEY PRESS SHOPS), Sanaa, Yemen [SDGT]

AL-NUR HONEY PRESS SHOPS (a.k.a. AL-NUR HONEY CENTER), Sanaa, Yemen [SDGT]

AL-QA'UD, Abd Al Majid, Secretary of Libya's General People's Committee, Libya; DOB 1943 (Place of birth: Ghariar, Libya) (individual) [LIBYA]

AL-QADHAFI, Muammar Abu Minyar, head of the Libyan Government and de facto Chief of State, Libya; DOB 1942 (Place of birth: Sirte, Libya) (individual) [LIBYA]

AL-QADI, Yasin (a.k.a. KADI, Shaykh Yassin Abdullah; a.k.a. KAHDI, Yasin), Jeddah, Saudi Arabia (individual) [SDGT]

AL-QASIR, Nazar Jumah Ali (a.k.a. AL-QASSIR Nizar Jomaa Ali), Minister of Irrigation; Iraq (individual) [IRAQ]

AL-QASSIR, Nizar Jomaa Ali (a.k.a. AL-QASIR Nazar Jumah Ali), Minister of Irrigation; Iraq (individual) [IRAQ]

AL-QUDS BRIGADES (a.k.a. PALESTINE ISLAMIC JIHAD—SHAQAQI FACTION; a.k.a. ABU GHUNAYM SQUAD OF THE HIZBALLAH BAYT AL-MAQDIS; a.k.a. AL-AWDAH BRIGADES; a.k.a. AL-QUDS SQUADS; a.k.a. ISLAMIC JIHAD IN PALESTINE; a.k.a. ISLAMIC JIHAD OF PALESTINE; a.k.a. PALESTINIAN ISLAMIC JIHAD; a.k.a. PIJ; a.k.a. PIJ-SHALLAH FACTION; a.k.a. PIJ-SHAQAQI FACTION; a.k.a. SAYARA AL-QUDS) [SDT] [FTO][SDGT]

AL-QUDS SQUADS (a.k.a. PALESTINE ISLAMIC JIHAD—SHAQAQI FACTION; a.k.a. ABU GHUNAYM SQUAD OF THE HIZBALLAH BAYT AL-MAQDIS; a.k.a. AL-AWDAH BRIGADES; a.k.a. AL-QUDS BRIGADES; a.k.a. ISLAMIC JIHAD IN PALESTINE; a.k.a. ISLAMIC JIHAD OF PALESTINE; a.k.a. PALESTINIAN ISLAMIC JIHAD; a.k.a. PIJ; a.k.a. PIJ-SHALLAH FACTION; a.k.a. PIJ-SHAQAQI FACTION; a.k.a. SAYARA AL-QUDS) [SDT] [FTO][SDGT]

AL-RABI'I, Nidal, Iraq; DOB c. 1965; POB Al-Dur, Iraq; nationality Iraqi; wife of Izzat Ibrahim Al-Duri (individual) [IRAQ2]

AL-RAFIDAIN SHIPPING COMPANY, Bombay, India [IRAQ]

AL-RAGHIE, Nazih (a.k.a. AL-LIBY, Anas; a.k.a. AL-LIBI, Anas; a.k.a. AL-RAGHIE, Nazih Abdul Hamed; a.k.a. AL-SABAI, Anas), Afghanistan; DOB 30 Mar 1964; alt. DOB 14 May 1964; POB Tripoli, Libya; citizen Libya (individual) [SDGT]

AL-RAGHIE, Nazih Abdul Hamed (a.k.a. AL-LIBY, Anas; a.k.a. AL-LIBI, Anas; a.k.a. AL-RAGHIE, Nazih; a.k.a. AL-SABAI, Anas), Afghanistan; DOB 30 Mar 1964; alt. DOB 14 May 1964; POB Tripoli, Libya; citizen Libya (individual) [SDGT]

AL-RASHEED BANK (a.k.a. AL-RASHID BANK; a.k.a. RASHEED BANK), P.O. Box 7177, Haifa Street, Baghdad, Iraq (including, but not limited to, branches located in: Al-Rusafi Branch, No. 505, Al-Masarif Street, Baghdad, Iraq; Credit Commercial Branch, No. 506, Khalid bin Alwaleed Street, Baghdad, Iraq; Basrah Branch, Al Thawrah Street, No. 88, P.O. Box 116, Basrah, Iraq; Mosul Branch, No. 3, P.O. Box 183, Mosul, Iraq) [IRAQ]

AL-RASHEED TRUST (a.k.a. AL RASHID TRUST; a.k.a. AL RASHEED TRUST; a.k.a. AL-RASHID TRUST; a.k.a. THE AID ORGANIZATION OF THE ULEMA), Kitab Ghar, Darul Ifta Wal Irshad, Nazimabad No. 4, Karachi, Pakistan; Office Dha'rb-i-M'unin, opposite Khyber Bank, Abbottabad Road, Mansehra, Pakistan; Office Dha'rb-i-M'unin, Z.R. Brothers, Katchehry Road, Chowk Yadgaar, Peshawar, Pakistan; Office Dha'rb-i-M'unin, Room no. 3, Third Floor, Moti Plaza, near Liaquat Bagh, Murree Road, Rawalpindi, Pakistan; Office Dha'rb-i-M'unin, Top Floor, Dr. Dawa Khan Dental Clinic Surgeon, Main Baxar, Mingora, Swat, Pakistan <Operations in Afghanistan: Herat, Jalalabad, Kabul, Kandahar, Mazar Sharif. Also operations in: Kosovo, Chechnya>; 302b-40, Good Earth Court, Opposite Pia Planitarium, Block 13a, Gulshan -I Iqbal, Karachi, Pakistan; 617 Clifton Center, Block 5, 6th Floor, Clifton, Karachi, Pakistan; 605 Landmark Plaza, 11 Chundrigar Road, Opposite Jang Building, Karachi, Pakistan; Jamia Masjid, Sulaiman Park, Begum Pura, Lahore, Pakistan [SDGT]

AL-RASHID BANK (a.k.a. RASHEED BANK; a.k.a. AL-RASHEED BANK), P.O. Box 7177, Haifa Street, Baghdad, Iraq (including, but not limited to, branches located in: Al-Rusafi Branch, No. 505, Al-Masarif Street, Baghdad, Iraq; Credit Commercial Branch, No. 506, Khalid bin Alwaleed Street, Baghdad, Iraq; Basrah Branch, Al Thawrah Street, No. 88, P.O. Box 116, Basrah, Iraq; Mosul Branch, No. 3, P.O. Box 183, Mosul, Iraq) [IRAQ]

AL-RASHID TRUST (a.k.a. AL RASHID TRUST; a.k.a. AL RASHEED TRUST; a.k.a. AL-RASHEED TRUST; a.k.a. THE AID ORGANIZATION OF THE ULEMA), Kitab Ghar, Darul Ifta Wal Irshad, Nazimabad No. 4, Karachi, Pakistan; Office Dha'rb-i-M'unin, opposite Khyber Bank, Abbottabad Road, Mansehra, Pakistan; Office Dha'rb-i-M'unin, Z.R. Brothers, Katchehry Road, Chowk Yadgaar, Peshawar, Pakistan; Office Dha'rb-i-M'unin, Room no. 3, Third Floor, Moti Plaza, near Liaquat Bagh, Murree Road, Rawalpindi, Pakistan; Office Dha'rb-i-M'unin, Top Floor, Dr. Dawa Khan Dental Clinic Surgeon, Main Baxar, Mingora, Swat, Pakistan <Operations in Afghanistan: Herat, Jalalabad, Kabul, Kandahar, Mazar Sharif. Also operations in: Kosovo, Chechnya>; 302b-40, Good Earth Court, Opposite Pia Planitarium, Block 13a, Gulshan -I Iqbal, Karachi, Pakistan; 617 Clifton Center, Block 5, 6th Floor, Clifton, Karachi, Pakistan; 605 Landmark Plaza, 11 Chundrigar Road, Opposite Jang Building, Karachi, Pakistan; Jamia Masjid, Sulaiman Park, Begum Pura, Lahore, Pakistan [SDGT]

AL-RAWI, Ayad Futayyih (a.k.a. AL-RAWI, Saif-al-Din Fulayyih Hassan Taha); DOB 1953; POB Ar Ramadi, al-Anbar Governorate, Iraq; Republican Guard Chief of Staff; nationality Iraqi (individual) [IRAQ][IRAQ2]

AL-RAWI, Ayad Futayyih Khalifa; DOB 1942; POB Rawah, Iraq; QudsForce Chief of Staff; nationality Iraqi (individual) [IRAQ][IRAQ2]

AL-RAWI, Saif-al-Din Fulayyih Hassan Taha (a.k.a. AL-RAWI, Ayad Futayyih); DOB 1953; POB Ar Ramadi, al-Anbar Governorate, Iraq; Republican Guard Chief of Staff; nationality Iraqi (individual) [IRAQ][IRAQ2]

AL-RIDA, Karim Hasan (a.k.a. RIDA Karim Hassan), Minister of Agriculture; DOB 1944; Iraq (individual) [IRAQ]

AL-RUBA, Dr. Khadim, Managing Director of REAL ESTATE BANK; Iraq (individual) [IRAQ]

AL-SA'DI, Amir Hamudi Hassan; DOB 5 Apr 1938; POB Baghdad, Iraq; presidential scientific advisor; Passport No. NO33301/862 (Iraq) issued 17 Oct 1997, expires 1 Oct 2005; Passport No. M0003264580 (Iraq); Passport No. H0100009 (Iraq) issued 1 May 2002; nationality Iraqi (individual) [IRAQ][IRAQ2]

AL-SA'DUN, Muhammad Zimam abd-al-Razzaq; DOB 1942; POB Suq ash-Shuyukh District,Dhi-Qar, Iraq; Ba'th Party Regional Chairman, at-Tamim; nationality Iraqi (individual) [IRAQ][IRAQ2]

AL-SABAI, Anas (a.k.a. AL-LIBY, Anas; a.k.a. AL-LIBI, Anas; a.k.a. AL-RAGHIE, Nazih; a.k.a. AL-RAGHIE, Nazih Abdul Hamed), Afghanistan; DOB 30 Mar 1964; alt. DOB 14 May 1964; POB Tripoli, Libya; citizen Libya (individual) [SDGT]

AL-SAD'UN, Abd-al-Baqi abd-al-Karim Abdallah; DOB 1947; Ba'th Party Regional Command Chairman, Diyala; nationality Iraqi (individual) [IRAQ][IRAQ2]

AL-SAHAF, Mohammed Said (a.k.a. AL-SAHHAF Muhammad Said Kazim), Minister of Foreign Affairs; DOB 1940; Iraq (individual) [IRAQ]

AL-SAHHAF, Muhammad Said Kazim (a.k.a. AL-SAHAF Mohammed Said), Minister of Foreign Affairs; DOB 1940; Iraq (individual) [IRAQ]

AL-SALIH, Muhammad Mahdi (a.k.a. SALEH, Mohammed Mahdi); DOB 1947; alt. DOB 1949; POB al-Anbar Governorate, Iraq; Minister of Trade; nationality Iraqi (individual) [IRAQ][IRAQ2]

AL-SANBAL (a.k.a. AL SANABIL; a.k.a. ASANABIL; a.k.a. JA'MIA SANBLE LLAGHATHA WA ALTINMIA; a.k.a. JAMI'A SANABIL; a.k.a. JAMI'A SANABIL LIL IGATHA WA AL-TANMIYZ; a.k.a. SANABAL; a.k.a. SANABEL; a.k.a. SANABIL; a.k.a. SANABIL AL-AQSA; a.k.a. SANABIL ASSOCIATION FOR RELIEF AND DEVELOPMENT; a.k.a. SANABIL FOR AID AND DEVELOPMENT; a.k.a. SANABIL FOR RELIEF AND DEVELOPMENT; a.k.a. SANABIL GROUP FOR RELIEF AND DEVELOPMENT; a.k.a. SANIBAL; a.k.a. SANNABIL; a.k.a. SANNIBIL; a.k.a. SINABUL), Sidon, Lebanon [SDGT]

AL-SANDUQ AL-FILISTINI LIL-IGHATHA (a.k.a. AL-SANDUQ AL-FILISTINI LIL-IGHATHA WA AL-TANMIYA; a.k.a. INTERPAL; a.k.a. PALESTINE AND LEBANON RELIEF FUND; a.k.a. PALESTINE DEVELOPMENT AND RELIEF FUND; a.k.a. PALESTINE RELIEF AND DEVELOPMENT FUND; a.k.a. PALESTINE RELIEF FUND; a.k.a. PALESTINIAN AID AND SUPPORT FUND; a.k.a. PALESTINIAN RELIEF AND DEVELOPMENT FUND; a.k.a. PALESTINIAN RELIEF FUND; a.k.a. PRDF; a.k.a. RELIEF AND DEVELOPMENT FUND FOR PALESTINE; a.k.a. WELFARE AND DEVELOPMENT FUND FOR PALESTINE; a.k.a. WELFARE AND DEVELOPMENT FUND OF PALESTINE), P.O. Box 3333, London, NW6 1RW, England; Registered Charity No: 1040094 [SDGT]

AL-SANDUQ AL-FILISTINI LIL-IGHATHA WA AL-TANMIYA (a.k.a. AL-SANDUQ AL-FILISTINI LIL-IGHATHA; a.k.a. INTERPAL; a.k.a. PALESTINE AND LEBANON RELIEF FUND; a.k.a. PALESTINE DEVELOPMENT AND RELIEF FUND; a.k.a. PALESTINE RELIEF AND DEVELOPMENT FUND; a.k.a. PALESTINE RELIEF FUND; a.k.a. PALESTINIAN AID AND SUPPORT FUND; a.k.a. PALESTINIAN RELIEF AND DEVELOPMENT FUND; a.k.a. PALESTINIAN RELIEF FUND; a.k.a. PRDF; a.k.a. RELIEF AND DEVELOPMENT FUND FOR PALESTINE; a.k.a. WELFARE AND DEVELOPMENT FUND FOR PALESTINE; a.k.a. WELFARE AND DEVELOPMENT FUND OF PALESTINE), P.O. Box 3333, London, NW6 1RW, England; Registered Charity No: 1040094 [SDGT]

AL-SHAHID, Abu-Ahmad (a.k.a. AL-AMRIKI, Abu-Ahmad; a.k.a. AL-HAWEN, Abu-Ahmad; a.k.a. AL-MAGHRIBI, Rashid; a.k.a. HIJAZI, Raed M.; a.k.a. HIJAZI, Riad), Jordan; DOB 1968; POB California, U.S.A.; SSN: 548-91-5411 (USA) (individual) [SDGT]

AL-SHAMIKH, Mubarak, Secretary of Housing and Utilities of the Government of Libya, Libya; DOB 1950 (individual) [LIBYA]

AL-SHANQITI, Khalid (a.k.a. ABU HAFS THE MAURITANIAN; a.k.a. AL-WALID, Mafouz Walad; a.k.a. AL-WALID, Mahfouz Ould; a.k.a. SLAHI, Mahamedou Ould); DOB 1 Jan 75 (individual) [SDGT]

AL-SHARIF, Sa'd; DOB 1969; POB Saudi Arabia (individual) [SDGT]

AL-SHIFA' HONEY PRESS FOR INDUSTRY AND COMMERCE, P.O. Box 8089, Al-Hasabah, Sanaa, Yemen; by the Shrine Next to the Gas Station, Jamal Street, Ta'iz, Yemen; Al-'Arudh Square, Khur Maksar, Aden, Yemen; Al-Nasr Street, Doha, Qatar [SDGT]

AL-SURIR, Abu Islam (a.k.a. ALI, Ahmed Mohammed Hamed; a.k.a. ABDUREHMAN, Ahmed Mohammed; a.k.a. ABU FATIMA; a.k.a. ABU ISLAM; a.k.a. ABU KHADIIJAH; a.k.a. AHMED HAMED; a.k.a. Ahmed The Egyptian; a.k.a. AHMED, Ahmed; a.k.a. AL-MASRI, Ahmad; a.k.a. ALI, Ahmed Mohammed; a.k.a. ALI, Hamed; a.k.a. HEMED, Ahmed; a.k.a. SHIEB, Ahmed; a.k.a. SHUAIB), Afghanistan; DOB 1965; POB Egypt; citizen Egypt (individual) [SDGT]

AL-TAI, Sultan Hashim Ahmad; DOB circa 1944; POB Mosul, Iraq; Minister of Defense; nationality Iraqi (individual) [IRAQ][IRAQ2]

AL-TAKRITI, Barzan Ibrahim Hassan (a.k.a. AL-TIKRITI, Barzan Ibrahim Hassan; a.k.a. AL-TIKRITI, Barzan Ibrahim Hasan), Geneva, Switzerland; DOB 17 Feb 1951; POB Tikrit, Iraq; Presidential Advisor; half-brother of Saddam Hussein al-Tikriti; Passport No. M0001666/970 (Iraq); Passport No. NM0000860/114 (Iraq); Passport No. M0009851/1 (Iraq); nationality Iraqi (individual) [IRAQ][IRAQ2]

AL-TAKRITI, Sabawi Ibrahim Hassan (a.k.a. AL-TIKRITI, Sab'awi Ibrahim Hassan); DOB 1947; POB Tikrit, Iraq; Presidential Advisor; half-brother of Saddam Hussein al-Tikriti; nationality Iraqi (individual) [IRAQ][IRAQ2]

AL-TAKRITI, Watban (a.k.a. AL-TIKRITI, Watban Ibrahim Hassan; a.k.a. AL-HASSAN, Watab Ibrahim; a.k.a. AL-TIKRITI, Watban Ibrahim al-Hasan); DOB 1952; POB Tikrit, Iraq; Presidential Advisor; half-brother of Saddam Hussein al Tikriti; nationality Iraqi (individual) [IRAQ][IRAQ2]

AL-TIKRITI, Abid Hamid Mahmud (a.k.a. HAMMUD, Abed Mahmoud; a.k.a. MAHMOUD, Col. Abdel Hamid; a.k.a. MAHMUD, Abid Hamid bid Hamid); DOB circa 1957; POB al-Awja, near Tikrit, Iraq; Saddam Hussein al-Tikriti's Presidential Secretary and key advisor; nationality Iraqi (individual) [IRAQ][IRAQ2]

AL-TIKRITI, Ali Barzan Ibrahim Hasan, Geneva, Switzerland; DOB 18 Apr 1981; nationality Iraqi; son of Barzan Ibrahim Hasan al-Tikriti (individual) [IRAQ2]

AL-TIKRITI, Ali Hassan al-Majid (a.k.a. al-Kimawi; a.k.a. AL-MAJID, General Ali Hasan; a.k.a. AL-MAJID, General Ali Hassan); DOB 1943; alt. DOB 1941; POB al-Awja, near Tikrit, Iraq; Presidential Advisor and senior member of Revolutionary Command Council; nationality Iraqi (individual) [IRAQ][IRAQ2]

AL-TIKRITI, Ali Saddam Hussein (a.k.a. HASSAN); DOB 1980; alt. DOB 1983; POB Iraq; nationality Iraqi; son of Saddam Hussein al-Tikriti (individual) [IRAQ2]

AL-TIKRITI, Barzan abd al-Ghafur Sulaiman Majid (a.k.a. AL-GHAFUR, Barzan Razuki abd); DOB 1960; POB Salah al-Din, Iraq; commander, Special Republican Guard; nationality Iraqi (individual) [IRAQ][IRAQ2]

AL-TIKRITI, Barzan Ibrahim Hasan (a.k.a. AL-TIKRITI, Barzan Ibrahim Hassan; a.k.a. AL-TAKRITI, Barzan Ibrahim Hassan), Geneva, Switzerland; DOB 17 Feb 1951; POB Tikrit, Iraq; presidential advisor; half-brother of Saddam Hussein al-Tikriti; Passport No. M0001666/970 (Iarq); Passport No. NM0000860/114 (Iraq); Passport No. M0009851/1 (Iraq); nationality Iraqi (individual) [IRAQ][IRAQ2]

AL-TIKRITI, Barzan Ibrahim Hassan (a.k.a. AL-TAKRITI, Barzan Ibrahim Hassan; a.k.a. AL-TIKRITI, Barzan Ibrahim Hasan), Geneva, Switzerland; DOB 17 Feb 1951; POB Tikrit, Iraq; Presidential Advisor; half-brother of Saddam Hussein al-Tikriti; Passport No. M0001666/970 (Iraq); Passport No. NM0000860/114 (Iraq); Passport No. M0009851/1 (Iraq); nationality Iraqi (individual) [IRAQ][IRAQ2]

AL-TIKRITI, Hala Saddam Hussein; DOB 1972; POB Iraq; nationality Iraqi; daughter of Saddam Hussein al-Tikriti (individual) [IRAQ2]

AL-TIKRITI, Hamid Raja Shalah (a.k.a. AL-TIKRITI, Hamid Raja Shalah Hassan; a.k.a. AL-TIKRITI, Hamid Raja-Shalah Hassum); DOB 1950; POB Bayji, Salah al-Din Governorate, Iraq; Air Force Commander; nationality Iraqi (individual) [IRAQ][IRAQ2]

AL-TIKRITI, Hamid Raja Shalah Hassan (a.k.a. AL-TIKRITI, Hamid Raja Shalah; a.k.a. AL-TIKRITI, Hamid Raja-Shalah Hassum); DOB 1950; POB Bayji, Salah al-Din Governorate, Iraq; Air Force Commander; nationality Iraqi (individual) [IRAQ][IRAQ2]

AL-TIKRITI, Hamid Raja-Shalah Hassum (a.k.a. AL-TIKRITI, Hamid Raja Shalah; a.k.a. AL-TIKRITI, Hamid Raja Shalah Hassan); DOB 1950; POB Bayji, Salah al-Din Governorate, Iraq; Air Force Commander; nationality Iraqi (individual) [IRAQ][IRAQ2]

AL-TIKRITI, Hani abd-al-Latif Tilfah; DOB circa 1962; POB al-Awja, near Tikrit, Iraq; #2 in Special Security Organization; nationality Iraqi (individual) [IRAQ][IRAQ2]

AL-TIKRITI, Ibrahim Ahmad abd al-Sattar Muhammed; DOB 1943; alt. DOB 1950; alt. DOB 1952; POB Ba'qubah or al-Sumayda/Shirqat, Iraq; Armed Forces Chief of Staff; nationality Iraqi (individual) [IRAQ][IRAQ2]

AL-TIKRITI, Jamal Mustafa Abdallah Sultan; DOB 4 May 1955; POB al-Samnah, near Tikrit, Iraq; Deputy Head of Tribal Affairs in Presidential Office; nationality Iraqi (individual) [IRAQ][IRAQ2]

AL-TIKRITI, Kamal Mustafa Abdallah Sultan (a.k.a. ABDALLAH, Kamal Mustafa; a.k.a. AL-TIKRITI, Kamal Mustafa Sultan Abdallah); DOB 1952; alt. DOB 4 May 1955, Tikrit, Iraq; Republican Guard Secretary; led Special Republican Guard and commanded both Republican Guard corps; nationality Iraqi (individual) [IRAQ][IRAQ2]

AL-TIKRITI, Kamal Mustafa Sultan Abdallah (a.k.a. ABDALLAH, Kamal Mustafa; a.k.a. AL-TIKRITI, Kamal Mustafa Abdallah Sultan); DOB 1952; alt. DOB 4 May 1955; POB Tikrit, Iraq; Republican Guard Secretary; led Special Republican Guard and commanded both Republican Guard corps; nationality Iraqi (individual) [IRAQ][IRAQ2]

AL-TIKRITI, Khawla Barzan Ibrahim Hasan, Geneva, Switzerland; DOB 3 Dec 1986; nationality Iraqi; daughter of Barzan Ibrahim Hasan al-Tikriti (individual) [IRAQ2]

AL-TIKRITI, Mohammad Barzan Ibrahim Hasan, Geneva, Switzerland; DOB 2 Nov 1972; nationality Iraqi; son of Barzan Ibrahim Hasan al-Tikriti (individual) [IRAQ2]

AL-TIKRITI, Muzahim Sa'b Hassan; DOB circa 1946; alt. DOB 1949; POB al-Awja, near Tikrit, Iraq; led Iraq's Air Defense Forces; Deputy Director, Organization of Military Industrialization; nationality Iraqi) (individual) [IRAQ][IRAQ2]

AL-TIKRITI, Noor Barzan Ibrahim Hasan, Geneva, Switzerland; DOB 2 Nov 1983; nationality Iraqi; daughter of Barzan Ibrahim Hasan al-Tikriti (individual) [IRAQ2]

AL-TIKRITI, Qusay Saddam Hussein; DOB 1965; alt. DOB 1966; POB Baghdad, Iraq; Saddam Hussein al-Tikriti's second son; oversaw Special Republican Guard, Special Security Organization, and Republican Guard; nationality Iraqi (individual) [IRAQ][IRAQ2]

AL-TIKRITI, Rafi abd-al-Latif Tilfah; DOB circa 1954; POB Tikrit, Iraq; Director, Directorate of General Security; nationality Iraqi (individual) [IRAQ][IRAQ2]

AL-TIKRITI, Raghad Saddam Hussein, Amman, Jordan; DOB 1967; POB Iraq; nationality Iraqi; daughter of Saddam Hussein al-Tikriti (individual) [IRAQ2]

AL-TIKRITI, Rana Saddam Hussein, Amman, Jordan; DOB 1969; POB Iraq; nationality Iraqi; daughter of Saddam Hussein al-Tikriti (individual) [IRAQ2]

AL-TIKRITI, Rukan 'abd al-Ghaffur al-Majid (a.k.a. AL-TIKRITI, Rukan Razuki abd-al-Ghafur Sulaiman; a.k.a. Abu Walid; a.k.a. AL-MAJID, Rukan abd al-Gafur; a.k.a. AL-MAJID, Rukan abdal-Ghaffur Sulayman; a.k.a. AL-MAJID, Rukan Razuqi abd al-Gahfur; a.k.a. AL-TIKRITI, Rukan abd al-Ghaffur al-Majid); POB 1956, DOB Tikrit, Iraq; head of Tribal Affairs Office in presidential office; nationality Iraqi) (individual) [IRAQ][IRAQ2]

AL-TIKRITI, Rukan abd al-Ghaffur al-Majid (a.k.a. AL-TIKRITI, Rukan Razuki abd-al-Ghafur Sulaiman; a.k.a. Abu Walid; a.k.a. AL-MAJID, Rukan abd al-Gafur; a.k.a. AL-MAJID, Rukan abdal-Ghaffur Sulayman; a.k.a. AL-MAJID, Rukan Razuqi abd al-Gahfur; a.k.a. AL-TIKRITI, Rukan 'abd al-Ghaffur al-Majid); POB 1956, DOB Tikrit, Iraq; head of Tribal Affairs Office in presidential office; nationality Iraqi (individual) [IRAQ][IRAQ2]

AL-TIKRITI, Rukan Razuki abd-al-Ghafur Sulaiman (a.k.a. Abu Walid; a.k.a. AL-MAJID, Rukan abd al-Gafur; a.k.a. AL-MAJID, Rukan abdal-Ghaffur Sulayman; a.k.a. AL-MAJID, Rukan Razuqi abd al-Gahfur; a.k.a. AL-TIKRITI, Rukan 'abd al-Ghaffur al-Majid; a.k.a. AL-TIKRITI, Rukan abd al-Ghaffur al-Majid); POB 1956; DOB Tikrit, Iraq; head of Tribal Affairs Office in presidential office; nationality Iraqi (individual) [IRAQ][IRAQ2]

AL-TIKRITI, Sa'd abd-al-Majid al-Faysal; DOB 1944; POB Tikrit, Iraq; Ba'th Party Regional Command Chairman, Salah al-Din; nationality Iraqi (individual) [IRAQ][IRAQ2]

AL-TIKRITI, Sab'awi Ibrahim Hassan (a.k.a. AL-TAKRITI, Sabawi Ibrahim Hassan); DOB 1947; POB Tikrit, Iraq; Presidential Advisor; half-brother of Saddam Hussein al-Tikriti; nationality Iraqi (individual) [IRAQ][IRAQ2]

AL-TIKRITI, Saddam Hussein (a.k.a. Abu Ali; a.k.a. HUSAYN, Saddam; a.k.a. HUSSAIN, Saddam; a.k.a. HUSSEIN, Saddam); DOB 28 Apr 1937; POB al-Awja, near Tikrit, Iraq; President since 1979; named in UNSCR 1483; nationality Iraqi (individual) [IRAQ][IRAQ2]

AL-TIKRITI, Saja Barzan Ibrahim Hasan, Geneva, Switzerland; DOB 1 Jan 1978; nationality Iraqi; daughter of Barzan Ibrahim Hasan al-Tikriti (individual) [IRAQ2]

AL-TIKRITI, Tahir Jalil Habbush; DOB 1950; POB Tikrit, Iraq; director of Iraqi Intelligence Service; nationality Iraqi (individual) [IRAQ][IRAQ2]

AL-TIKRITI, Thoraya Barzan Ibrahim Hasan, Iraq; DOB 19 Dec 1980; alt. DOB 19 Jan 1980; nationality Iraqi; daughter of Barzan Ibrahim Hasan al-Tikriti (individual) [IRAQ2]

AL-TIKRITI, Uday Saddam Hussein (a.k.a. HUSSEIN, Udai Saddam); DOB 1964; alt. DOB 1967; POB Baghdad, Iraq; Saddam Hussein al-Tikriti's eldest son; leader of paramilitary organization Fedayeen Saddam; nationality Iraqi (individual) [IRAQ][IRAQ2]

AL-TIKRITI, Walid Hamid Tawfiq (a.k.a. AL-NASIRI, Walid Hamid Tawfiq); DOB circa 1950; POB Tikrit,Iraq; Governor of Basrah; nationality Iraqi (individual) [IRAQ][IRAQ2]

AL-TIKRITI, Watban Ibrahim al-Hasan (a.k.a. AL-TIKRITI, Watban Ibrahim Hassan; a.k.a. AL-HASSAN, Watab Ibrahim; a.k.a. AL-TAKRITI, Watban); DOB 1952; POB Tikrit, Iraq; presidential advisor; half-brother of Saddam Hussein al-Tikriti; nationality Iraqi (individual) [IRAQ][IRAQ2]

AL-TIKRITI, Watban Ibrahim Hassan (a.k.a. AL-HASSAN, Watab Ibrahim; a.k.a. AL-TAKRITI, Watban; a.k.a. AL-TIKRITI, Watban Ibrahim al-Hasan); DOB 1952; POB Tikrit, Iraq; Presidential Advisor; half-brother of Saddam Hussein al Tikriti; nationality Iraqi (individual) [IRAQ][IRAQ2]

AL-UBAIDI, Amir Rashid Muhammad; DOB 1939; POB Baghdad, Iraq; Minister of Oil; nationality Iraqi (individual) [IRAQ][IRAQ2]

AL-UBAIDI, Ghazi Hammud; DOB 1944; POB Baghdad, Iraq; Ba'th party regional command chairman, Wasit; nationality Iraqi (individual) [IRAQ][IRAQ2]

AL-UBAIDI, Yahia Abdallah; Ba'th Party Regional Command Chairman, al-Basrah; nationality Iraqi (individual) [IRAQ][IRAQ2]

AL-UBAYDI, Intissar, Iraq; DOB c. 1974; nationality Iraqi; wife of Izzat Ibrahim Al-Duri (individual) [IRAQ2]

AL-WAHAB, Abd Al-Hadi (a.k.a. ABU ZUBAYDAH; a.k.a. ABU ZUBAIDA; a.k.a. HUSAIN, Zain Al-Abidin Muhahhad; a.k.a. HUSAYN, Zayn al-Abidin Muhammad; a.k.a. TARIQ); DOB 12 Mar 71; POB Riyadh, Saudi Arabia (individual) [SDGT]

AL-WALID, Mafouz Walad (a.k.a. ABU HAFS THE MAURITANIAN; a.k.a. AL-SHANQITI, Khalid; a.k.a. AL-WALID, Mahfouz Ould; a.k.a. SLAHI, Mahamedou Ould); DOB 1 Jan 75 (individual) [SDGT]

AL-WALID, Mahfouz Ould (a.k.a. ABU HAFS THE MAURITANIAN; a.k.a. AL-SHANQITI, Khalid; a.k.a. AL-WALID, Mafouz Walad; a.k.a. SLAHI, Mahamedou Ould); DOB 1 Jan 75 (individual) [SDGT]

AL-YACOUB, Ibrahim Salih Mohammed; DOB 16 Oct 1966; POB Tarut, Saudi Arabia; citizen Saudi Arabia (individual) [SDGT]

AL-YASSIN, Husam Muhammad Amin; DOB 1953; alt. DOB 1958; POB Tikrit, Iraq; Head, National Monitoring Directorate; nationality Iraqi (individual) [IRAQ][IRAQ2]

AL-ZANATI, Muhammad, Secretary of the General People's Congress of Libya, Libya (individual) [LIBYA]

AL-ZARQAWI, Abu Mus'Ab (a.k.a. 'ABD AL-KARIM; a.k.a. ABU AL-MU'TAZ; a.k.a. AL-HABIB; a.k.a. AL-KHALAYLAH, Ahmad Fadil Nazzal; a.k.a. AL-MUHAJIR; a.k.a. GHARIB; a.k.a. KHALAILAH, Ahmed Fadeel; a.k.a. KHALAYLEH, Fedel Nazzel; a.k.a. “MOUHANAD;” a.k.a. “MOUHANNAD;” a.k.a. “MUHANNAD;” a.k.a. “RASHID”); DOB 20 Oct 1966; POB Zarqa, Jordan; Passport No. Z264968 (Jordan); citizen Jordan; National No. 9661031030 (Jordan) (individual) [SDGT]

AL-ZAWAHIRI, Aiman Muhammad Rabi (a.k.a. AL ZAWAHIRI, Dr. Ayman; a.k.a. AL-ZAWAHIRI, Ayman; a.k.a. SALIM, Ahmad Fuad), Operational and Military Leader of JIHAD GROUP; DOB 19 Jun 1951; POB Giza, Egypt; Passport No. 1084010 (Egypt), Alt. No. 19820215 (individual) [SDT] [SDGT]

AL-ZAWAHIRI, Ayman (a.k.a. AL ZAWAHIRI, Dr. Ayman; a.k.a. AL-ZAWAHIRI, Aiman Muhammad Rabi; a.k.a. SALIM, Ahmad Fuad), Operational and Military Leader of JIHAD GROUP; DOB 19 Jun 1951; POB Giza, Egypt; Passport No. 1084010 (Egypt); Alt. No. 19820215 (individual) [SDT] [SDGT]

AL-ZIBARI, Arshad Muhammad Ahmad Muhammad, a minister of state; DOB 1942; Iraq (individual) [IRAQ]

AL-ZINDANI, Abdelmajid (a.k.a. AL-ZINDANI, Shaykh Abd-al-Majid; a.k.a. AL-ZINDANI, Shaykh 'Abd Al-Majid); DOB c. 1950; POB Yemen; Passport No. A005487 (Yemen) issued on 13 Aug 1995; nationality Yemeni (individual) [SDGT]

AL-ZINDANI, Shaykh 'Abd Al-Majid (a.k.a. AL-ZINDANI, Abdelmajid; a.k.a. AL-ZINDANI, Shaykh Abd-al-Majid); DOB c. 1950; POB Yemen; Passport No. A005487 (Yemen) issued on 13 Aug 1995; nationality Yemeni (individual) [SDGT]

AL-ZINDANI, Shaykh Abd-al-Majid (a.k.a. AL-ZINDANI, Abdelmajid; a.k.a. AL-ZINDANI, Shaykh 'Abd Al-Majid); DOB c. 1950; POB Yemen; Passport No. A005487 (Yemen) issued on 13 Aug 1995; nationality Yemeni (individual) [SDGT]

AL-ZUBAIDI, Mohammed Hamza (a.k.a. ZUBAIDI, Muhammad Hamza; a.k.a. AL-ZUBAYDI, Muhammad Hamsa); DOB 1938; POB Babylon, Babil Governorate, Iraq; former Prime Minister; nationality Iraqi (individual) [IRAQ][IRAQ2]

AL-ZUBAYDI, Muhammad Hamsa (a.k.a. ZUBAIDI, Muhammad Hamza; a.k.a. AL-ZUBAIDI, Mohammed Hamza); DOB 1938; POB Babylon, Babil Governorate, Iraq; former Prime Minister; nationality Iraqi (individual) [IRAQ][IRAQ2]

AL-ZUMAR, Abbud (a.k.a. ZUMAR, Colonel Abbud); Factional Leader of JIHAD GROUP; Egypt; POB Egypt (individual) [SDT]

ALAKTAN COTTON TRADING COMPANY (a.k.a. ALAKTAN TRADING COMPANY), P.O. Box 2067, Khartoum, Sudan [SUDAN]

ALAKTAN TRADING COMPANY (a.k.a. ALAKTAN COTTON TRADING COMPANY), P.O. Box 2067, Khartoum, Sudan [SUDAN]

ALAWI Abdel-Salam Abdel-Rahman (a.k.a. ALLAWI, Salam), General Manager of INDUSTRIAL BANK OF IRAQ; Iraq (individual) [IRAQ]

ALBA CERDA, Salvador, Avenida Pacifico No. 2834, Seccion Costa de Oro Fraccionamiento Playas de Tijuana 22250, Tijuana, Baja California, Mexico; Avenida Pacifico No. 2408, Seccion Costa de Oro Fraccionamiento Playas de Tijuana 22250, Tijuana, Baja California, Mexico; c/o FARMACIA VIDA SUPREMA, S.A. DE C.V., Tijuana, Baja California, Mexico; c/o DISTRIBUIDORA IMPERIAL DE BAJA CALIFORNIA, S.A. de C.V., Tijuana, Baja California, Mexico; c/o ADP, S.C., Tijuana, Baja California, Mexico; DOB 25 Dec 1947; POB Patzcuaro, Michoacan, Mexico; Credencial electoral No. 125324910951 (Mexico) (individual) [SDNTK]

ALBAN BURBANO, Luis Alberto (a.k.a. ALBAN URBANO, Luis Alberto; a.k.a. CALARCA, Marco Leon; a.k.a. CALARCA, Marcos Leon); DOB 16 Aug 1957; POB Cali, Valle, Colombia; Cedula No. 16588328 (Colombia) (individual) [SDNTK]

ALBAN URBANO, Luis Alberto (a.k.a. ALBAN BURBANO, Luis Alberto; a.k.a. CALARCA, Marco Leon; a.k.a. CALARCA, Marcos Leon); DOB 16 Aug 1957; POB Cali, Valle, Colombia; Cedula No. 16588328 (Colombia) (individual) [SDNTK]

ALBANIAN NATIONAL ARMY (a.k.a. AKSH; a.k.a. ANA) [BALKANS]

ALBERDI URANGA, Itziar; member ETA; DOB 7 Oct 1963; POB Durango (Vizcaya Province), Spain; D.N.I. 78.865.693 (individual) [SDGT]

ALBISU IRIARTE, Miguel; member ETA; DOB 7 Jun 1961; POB San Sebastian (Guizpucoa Province), Spain; D.N.I. 15.954.596 (individual) [SDGT]

ALCALDE LINARES, Angel; member ETA; DOB 2 May 1943; POB Portugalete (Vizcaya Province), Spain; D.N.I. 15.390.353 (individual) [SDGT]

ALCIDES MAGANA, Ramon (a.k.a. ALCIDES MAGANE, Ramon; a.k.a. ALCIDES MAYENA, Ramon; a.k.a. ALCIDEZ MAGANA, Ramon; a.k.a. GONZALEZ QUIONES, Jorge; a.k.a. MAGANA ALCIDES, Ramon; a.k.a. MAGANA, Jorge; a.k.a. MAGNA ALCIDEDES, Ramon; a.k.a. MATA, Alcides; a.k.a. RAMON MAGANA, Alcedis; a.k.a. RAMON MAGANA, Alcides; a.k.a. ROMERO, Antonio); DOB 4 Sep 1957 (individual) [SDNTK]

ALCIDES MAGANE, Ramon (a.k.a. ALCIDES MAGANA, Ramon; a.k.a. ALCIDES MAYENA, Ramon; a.k.a. ALCIDEZ MAGANA, Ramon; a.k.a. GONZALEZ QUIONES, Jorge; a.k.a. MAGANA ALCIDES, Ramon; a.k.a. MAGANA, Jorge; a.k.a. MAGNA ALCIDEDES, Ramon; a.k.a. MATA, Alcides; a.k.a. RAMON MAGANA, Alcedis; a.k.a. RAMON MAGANA, Alcides; a.k.a. ROMERO, Antonio); DOB 4 Sep 1957 (individual) [SDNTK]

ALCIDES MAYENA, Ramon (a.k.a. ALCIDES MAGANA, Ramon; a.k.a. ALCIDES MAGANE, Ramon; a.k.a. ALCIDEZ MAGANA, Ramon; a.k.a. GONZALEZ QUIONES, Jorge; a.k.a. MAGANA ALCIDES, Ramon; a.k.a. MAGANA, Jorge; a.k.a. MAGNA ALCIDEDES, Ramon; a.k.a. MATA, Alcides; a.k.a. RAMON MAGANA, Alcedis; a.k.a. RAMON MAGANA, Alcides; a.k.a. ROMERO, Antonio); DOB 4 Sep 1957 (individual) [SDNTK]

ALCIDEZ MAGANA, Ramon (a.k.a. ALCIDES MAGANA, Ramon; a.k.a. ALCIDES MAGANE, Ramon; a.k.a. ALCIDES MAYENA, Ramon; a.k.a. GONZALEZ QUIONES, Jorge; a.k.a. MAGANA ALCIDES, Ramon; a.k.a. MAGANA, Jorge; a.k.a. MAGNA ALCIDEDES, Ramon; a.k.a. MATA, Alcides; a.k.a. RAMON MAGANA, Alcedis; a.k.a. RAMON MAGANA, Alcides; a.k.a. ROMERO, Antonio); DOB 4 Sep 1957 (individual) [SDNTK]

ALDANA JUNCA, Jose Tiberio, c/o LATINFARMACOS S.A., Quito, Ecuador; c/o RIONAP S.A., Quito, Ecuador; DOB 13 Jul 1973; Passport 79609622 (Colombia); Cedula No. 79609622 (Colombia) (individual) [SDNT]

ALEPH (a.k.a. AUM SHINRIKYO; a.k.a. A.I.C. COMPREHENSIVE RESEARCH INSTITUTE; a.k.a. A.I.C. SOGO KENKYUSHO; a.k.a. AUM SUPREME TRUTH) [FTO][SDGT]

ALFA PHARMA S.A., Diagonal 17 No. 28A-80, Bogota, Colombia [SDNT]

ALFONSO, Carlos (a.k.a. Carlos Alfonso GONZALEZ), Panama (individual) [CUBA]

ALGHOZI, Fathur Rahman (a.k.a. “Abu Sa'ad;” a.k.a. “Abu Saad;” a.k.a. AL GHOZI, Fathur Rahman; a.k.a. AL GHOZI, Fathur Rohman; a.k.a. AL-GHOZI, Fathur Rahman; a.k.a. AL-GHOZI, Fathur Rohman; a.k.a. AL-GOZHI, Fathur Rahman; a.k.a. AL-GOZHI, Fathur Rohman; a.k.a. AL-GOZI, Fathur Rahman; a.k.a. AL-GOZI, Fathur Rohman; a.k.a. ALGHOZI, Fathur Rohman; a.k.a. ALI, Randy; a.k.a. ALIH, Randy; a.k.a. ALIH, Randy Adam; a.k.a. AZAD, Rony; a.k.a. BIN AHAD, Rony Azad; a.k.a. BIN AHMAD, Rony Azad; a.k.a. BIN AMAD, Rony Azad; a.k.a. EDRIS, Anwar Rodin; a.k.a. “Freedom Fighter;” a.k.a. JAMIL, Sammy Sali; a.k.a. JAMIL, Sammy Salih; a.k.a. RANDY, Alih); DOB 17 Feb 1971; POB Madiun, East Java, Indonesia; Passport No. GG 672613 (Philippines); nationality Indonesian (individual) [SDGT]

ALGHOZI, Fathur Rohman (a.k.a. “Abu Sa'ad;” a.k.a. “Abu Saad;” a.k.a. AL GHOZI, Fathur Rahman; a.k.a. AL GHOZI, Fathur Rohman; a.k.a. AL-GHOZI, Fathur Rahman; a.k.a. AL-GHOZI, Fathur Rohman; a.k.a. AL-GOZHI, Fathur Rahman; a.k.a. AL-GOZHI, Fathur Rohman; a.k.a. AL-GOZI, Fathur Rahman; a.k.a. AL-GOZI, Fathur Rohman; a.k.a. ALGHOZI, Fathur Rahman; a.k.a. ALI, Randy; a.k.a. ALIH, Randy; a.k.a. ALIH, Randy Adam; a.k.a. AZAD, Rony; a.k.a. BIN AHAD, Rony Azad; a.k.a. BIN AHMAD, Rony Azad; a.k.a. BIN AMAD, Rony Azad; a.k.a. EDRIS, Anwar Rodin; a.k.a. “Freedom Fighter;” a.k.a. JAMIL, Sammy Sali; a.k.a. JAMIL, Sammy Salih; a.k.a. RANDY, Alih); DOB 17 Feb 1971; POB Madiun, East Java, Indonesia; Passport No. GG 672613 (Philippines); nationality Indonesian (individual) [SDGT]

ALHARAMAIN (a.k.a. AL-HARAMAIN: Kenya Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Daddb, Kenya; Garissa, Kenya; Nairobi, Kenya [SDGT]

ALHARAMAIN (a.k.a. AL-HARAMAIN: Pakistan Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin Road, F-10/1, Islamabad, Pakistan [SDGT]

ALHARAMAIN (a.k.a. AL-HARAMAIN: Tanzania Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), P.O. Box 3616, Dar es Salaam, Tanzania; Singida, Tanzania; Tanga, Tanzania [SDGT]

ALHARAMAIN (a.k.a. AL-HARAMAIN: United States Branch; a.k.a. AL HARAMAIN FOUNDATION, INC.; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 1257 Siskiyou Boulevard, Ashland, OR 97520, U.S.A.; 3800 Highway 99S., Ashland, OR 97520-8718, U.S.A.; 2151 E. Division Street, Springfield, MO 65803, U.S.A. [BPI-PA]

ALHARAMAIN (a.k.a. AL-HARAMAIN; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 64 Poturmahala, Travnik, Bosnia-Herzegovina; Somalia [SDGT]

ALHARAMAIN FOUNDATION (a.k.a. AL-HARAMAIN: Kenya Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Daddb, Kenya; Garissa, Kenya; Nairobi, Kenya [SDGT]

ALHARAMAIN FOUNDATION (a.k.a. AL-HARAMAIN: Pakistan Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin Road, F-10/1, Islamabad, Pakistan [SDGT]

ALHARAMAIN FOUNDATION (a.k.a. AL-HARAMAIN: Tanzania Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), P.O. Box 3616, Dar es Salaam, Tanzania; Singida, Tanzania; Tanga, Tanzania [SDGT]

ALHARAMAIN FOUNDATION (a.k.a. AL-HARAMAIN: United States Branch; a.k.a. AL HARAMAIN FOUNDATION, INC.; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 1257 Siskiyou Boulevard, Ashland, OR 97520, U.S.A.; 3800 Highway 99S., Ashland, OR 97520-8718, U.S.A.; 2151 E. Division Street, Springfield, MO 65803, U.S.A. [BPI-PA]

ALHARAMAIN FOUNDATION (a.k.a. AL-HARAMAIN; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 64 Poturmahala, Travnik, Bosnia-Herzegovina; Somalia [SDGT]

ALHARAMAIN HUMANITARIAN FOUNDATION (a.k.a. AL-HARAMAIN: Kenya Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Daddb, Kenya; Garissa, Kenya; Nairobi, Kenya [SDGT]

ALHARAMAIN HUMANITARIAN FOUNDATION (a.k.a. AL-HARAMAIN: Pakistan Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin Road, F-10/1, Islamabad, Pakistan [SDGT]

ALHARAMAIN HUMANITARIAN FOUNDATION (a.k.a. AL-HARAMAIN: Tanzania Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), P.O. Box 3616, Dar es Salaam, Tanzania; Singida, Tanzania; Tanga, Tanzania [SDGT]

ALHARAMAIN HUMANITARIAN FOUNDATION (a.k.a. AL-HARAMAIN: United States Branch; a.k.a. AL HARAMAIN FOUNDATION, INC.; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 1257 Siskiyou Boulevard, Ashland, OR 97520, U.S.A.; 3800 Highway 99S., Ashland, OR 97520-8718, U.S.A.; 2151 E. Division Street, Springfield, MO 65803, U.S.A. [BPI-PA]

ALHARAMAIN HUMANITARIAN FOUNDATION (a.k.a. AL-HARAMAIN; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 64 Poturmahala, Travnik, Bosnia-Herzegovina; Somalia [SDGT]

ALHARAMAIN ISLAMIC FOUNDATION (a.k.a. AL-HARAMAIN: Kenya Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Daddb, Kenya; Garissa, Kenya; Nairobi, Kenya [SDGT]

ALHARAMAIN ISLAMIC FOUNDATION (a.k.a. AL-HARAMAIN: Pakistan Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin Road, F-10/1, Islamabad, Pakistan [SDGT]

ALHARAMAIN ISLAMIC FOUNDATION (a.k.a. AL-HARAMAIN: Tanzania Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), P.O. Box 3616, Dar es Salaam, Tanzania; Singida, Tanzania; Tanga, Tanzania [SDGT]

ALHARAMAIN ISLAMIC FOUNDATION (a.k.a. AL-HARAMAIN: United States Branch; a.k.a. AL HARAMAIN FOUNDATION, INC.; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 1257 Siskiyou Boulevard, Ashland, OR 97520, U.S.A.; 3800 Highway 99S., Ashland, OR 97520-8718, U.S.A.; 2151 E. Division Street, Springfield, MO 65803, U.S.A. [BPI-PA]

ALHARAMAIN ISLAMIC FOUNDATION (a.k.a. AL-HARAMAIN; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 64 Poturmahala, Travnik, Bosnia-Herzegovina; Somalia [SDGT]

ALHARAMAYN (a.k.a. AL-HARAMAIN: Kenya Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Daddb, Kenya; Garissa, Kenya; Nairobi, Kenya [SDGT]

ALHARAMAYN (a.k.a. AL-HARAMAIN: Pakistan Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin Road, F-10/1, Islamabad, Pakistan [SDGT]

ALHARAMAYN (a.k.a. AL-HARAMAIN: Tanzania Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), P.O. Box 3616, Dar es Salaam, Tanzania; Singida, Tanzania; Tanga, Tanzania [SDGT]

ALHARAMAYN (a.k.a. AL-HARAMAIN: United States Branch; a.k.a. AL HARAMAIN FOUNDATION, INC.; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 1257 Siskiyou Boulevard, Ashland, OR 97520, U.S.A.; 3800 Highway 99S., Ashland, OR 97520-8718, U.S.A.; 2151 E. Division Street, Springfield, MO 65803, U.S.A. [BPI-PA]

ALHARAMAYN (a.k.a. AL-HARAMAIN; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 64 Poturmahala, Travnik, Bosnia-Herzegovina; Somalia [SDGT]

ALHARAMAYN FOUNDATION (a.k.a. AL-HARAMAIN: Kenya Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Daddb, Kenya; Garissa, Kenya; Nairobi, Kenya [SDGT]

ALHARAMAYN FOUNDATION (a.k.a. AL-HARAMAIN: Pakistan Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin Road, F-10/1, Islamabad, Pakistan [SDGT]

ALHARAMAYN FOUNDATION (a.k.a. AL-HARAMAIN: Tanzania Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), P.O. Box 3616, Dar es Salaam, Tanzania; Singida, Tanzania; Tanga, Tanzania [SDGT]

ALHARAMAYN FOUNDATION (a.k.a. AL-HARAMAIN: United States Branch; a.k.a. AL HARAMAIN FOUNDATION, INC.; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 1257 Siskiyou Boulevard, Ashland, OR 97520, U.S.A.; 3800 Highway 99S., Ashland, OR 97520-8718, U.S.A.; 2151 E. Division Street, Springfield, MO 65803, U.S.A. [BPI-PA]

ALHARAMAYN FOUNDATION (a.k.a. AL-HARAMAIN; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 64 Poturmahala, Travnik, Bosnia-Herzegovina; Somalia [SDGT]

ALHARAMAYN HUMANITARIAN FOUNDATION (a.k.a. AL-HARAMAIN: Kenya Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Daddb, Kenya; Garissa, Kenya; Nairobi, Kenya [SDGT]

ALHARAMAYN HUMANITARIAN FOUNDATION (a.k.a. AL-HARAMAIN: Pakistan Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin Road, F-10/1, Islamabad, Pakistan [SDGT]

ALHARAMAYN HUMANITARIAN FOUNDATION (a.k.a. AL-HARAMAIN: Tanzania Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), P.O. Box 3616, Dar es Salaam, Tanzania; Singida, Tanzania; Tanga, Tanzania [SDGT]

ALHARAMAYN HUMANITARIAN FOUNDATION (a.k.a. AL-HARAMAIN: United States Branch; a.k.a. AL HARAMAIN FOUNDATION, INC.; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 1257 Siskiyou Boulevard, Ashland, OR 97520, U.S.A.; 3800 Highway 99S., Ashland, OR 97520-8718, U.S.A.; 2151 E. Division Street, Springfield, MO 65803, U.S.A. [BPI-PA]

ALHARAMAYN HUMANITARIAN FOUNDATION (a.k.a. AL-HARAMAIN; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 64 Poturmahala, Travnik, Bosnia-Herzegovina; Somalia [SDGT]

ALHARAMAYN ISLAMIC FOUNDATION (a.k.a. AL-HARAMAIN: Kenya Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Daddb, Kenya; Garissa, Kenya; Nairobi, Kenya [SDGT]

ALHARAMAYN ISLAMIC FOUNDATION (a.k.a. AL-HARAMAIN: Pakistan Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin Road, F-10/1, Islamabad, Pakistan [SDGT]

ALHARAMAYN ISLAMIC FOUNDATION (a.k.a. AL-HARAMAIN: Tanzania Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), P.O. Box 3616, Dar es Salaam, Tanzania; Singida, Tanzania; Tanga, Tanzania [SDGT]

ALHARAMAYN ISLAMIC FOUNDATION (a.k.a. AL-HARAMAIN: United States Branch; a.k.a. AL HARAMAIN FOUNDATION, INC.; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 1257 Siskiyou Boulevard, Ashland, OR 97520, U.S.A.; 3800 Highway 99S., Ashland, OR 97520-8718, U.S.A.; 2151 E. Division Street, Springfield, MO 65803, U.S.A. [BPI-PA]

ALHARAMAYN ISLAMIC FOUNDATION (a.k.a. AL-HARAMAIN; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMEIN; a.k.a. ALHARAMEIN FOUNDATION; a.k.a. ALHARAMEIN HUMANITATIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 64 Poturmahala, Travnik, Bosnia-Herzegovina; Somalia [SDGT]

ALHARAMEIN (a.k.a. AL-HARAMAIN: Kenya Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Daddb, Kenya; Garissa, Kenya; Nairobi, Kenya [SDGT]

ALHARAMEIN (a.k.a. AL-HARAMAIN: Pakistan Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin Road, F-10/1, Islamabad, Pakistan [SDGT]

ALHARAMEIN (a.k.a. AL-HARAMAIN: Tanzania Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), P.O. Box 3616, Dar es Salaam, Tanzania; Singida, Tanzania; Tanga, Tanzania [SDGT]

ALHARAMEIN (a.k.a. AL-HARAMAIN: United States Branch; a.k.a. AL HARAMAIN FOUNDATION, INC.; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 1257 Siskiyou Boulevard, Ashland, OR 97520, U.S.A.; 3800 Highway 99S., Ashland, OR 97520-8718, U.S.A.; 2151 E. Division Street, Springfield, MO 65803, U.S.A. [BPI-PA]

ALHARAMEIN (a.k.a. AL-HARAMAIN; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 64 Poturmahala, Travnik, Bosnia-Herzegovina; Somalia [SDGT]

ALHARAMEIN FOUNDATION (a.k.a. AL-HARAMAIN: Kenya Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Daddb, Kenya; Garissa, Kenya; Nairobi, Kenya [SDGT]

ALHARAMEIN FOUNDATION (a.k.a. AL-HARAMAIN: Pakistan Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin Road, F-10/1, Islamabad, Pakistan [SDGT]

ALHARAMEIN FOUNDATION (a.k.a. AL-HARAMAIN: Tanzania Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), P.O. Box 3616, Dar es Salaam, Tanzania; Singida, Tanzania; Tanga, Tanzania [SDGT]

ALHARAMEIN FOUNDATION (a.k.a. AL-HARAMAIN: United States Branch; a.k.a. AL HARAMAIN FOUNDATION, INC.; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 1257 Siskiyou Boulevard, Ashland, OR 97520, U.S.A.; 3800 Highway 99S., Ashland, OR 97520-8718, U.S.A.; 2151 E. Division Street, Springfield, MO 65803, U.S.A. [BPI-PA]

ALHARAMEIN FOUNDATION (a.k.a. AL-HARAMAIN; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 64 Poturmahala, Travnik, Bosnia-Herzegovina; Somalia [SDGT]

ALHARAMEIN HUMANITARIAN FOUNDATION (a.k.a. AL-HARAMAIN: Kenya Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Daddb, Kenya; Garissa, Kenya; Nairobi, Kenya [SDGT]

ALHARAMEIN HUMANITARIAN FOUNDATION (a.k.a. AL-HARAMAIN: Pakistan Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin Road, F-10/1, Islamabad, Pakistan [SDGT]

ALHARAMEIN HUMANITARIAN FOUNDATION (a.k.a. AL-HARAMAIN: Tanzania Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), P.O. Box 3616, Dar es Salaam, Tanzania; Singida, Tanzania; Tanga, Tanzania [SDGT]

ALHARAMEIN HUMANITARIAN FOUNDATION (a.k.a. AL-HARAMAIN: United States Branch; a.k.a. AL HARAMAIN FOUNDATION, INC.; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 1257 Siskiyou Boulevard, Ashland, OR 97520, U.S.A.; 3800 Highway 99S., Ashland, OR 97520-8718, U.S.A.; 2151 E. Division Street, Springfield, MO 65803, U.S.A. [BPI-PA]

ALHARAMEIN HUMANITARIAN FOUNDATION (a.k.a. AL-HARAMAIN; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 64 Poturmahala, Travnik, Bosnia-Herzegovina; Somalia [SDGT]

ALHARAMEIN ISLAMIC FOUNDATION (a.k.a. AL-HARAMAIN: Kenya Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), Daddb, Kenya; Garissa, Kenya; Nairobi, Kenya [SDGT]

ALHARAMEIN ISLAMIC FOUNDATION (a.k.a. AL-HARAMAIN: Pakistan Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), House #279, Nazimuddin Road, F-10/1, Islamabad, Pakistan [SDGT]

ALHARAMEIN ISLAMIC FOUNDATION (a.k.a. AL-HARAMAIN: Tanzania Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), P.O. Box 3616, Dar es Salaam, Tanzania; Singida, Tanzania; Tanga, Tanzania [SDGT]

ALHARAMEIN ISLAMIC FOUNDATION (a.k.a. AL-HARAMAIN: United States Branch; a.k.a. AL HARAMAIN FOUNDATION, INC.; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 1257 Siskiyou Boulevard, Ashland, OR 97520, U.S.A.; 3800 Highway 99S., Ashland, OR 97520-8718, U.S.A.; 2151 E. Division Street, Springfield, MO 65803, U.S.A. [BPI-PA]

ALHARAMEIN ISLAMIC FOUNDATION (a.k.a. AL-HARAMAIN; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; ALHAMAREIN HUMANITARIAN FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR; a.k.a. VEZIR), 64 Poturmahala, Travnik, Bosnia-Herzegovina; Somalia [SDGT]

ALI, Abbas Abdi, Mogadishu, Somalia (individual) [SDGT]

ALI, Ahmed Khalfan (a.k.a. GHAILANI, Ahmed Khalfan; a.k.a. “AHMED THE TANZANIAN;” a.k.a. “FOOPIE;” a.k.a. “FUPI;” a.k.a. AHMAD, Abu Bakr; a.k.a. AHMED, A.; a.k.a. AHMED, Abubakar; a.k.a. AHMED, Abubakar K.; a.k.a. AHMED, Abubakar Khalfan; a.k.a. AHMED, Abubakary K.; a.k.a. AHMED, Ahmed Khalfan; a.k.a. AL TANZANI, Ahmad; a.k.a. BAKR, Abu; a.k.a. GHAILANI, Abubakary Khalfan Ahmed; a.k.a. GHAILANI, Ahmed; a.k.a. GHILANI, Ahmad Khalafan; a.k.a. HUSSEIN, Mahafudh Abubakar Ahmed Abdallah; a.k.a. KHABAR, Abu; a.k.a. KHALFAN, Ahmed; a.k.a. MOHAMMED, Shariff Omar); DOB 14 Mar 1974; alt. DOB 13 Apr 1974; alt. DOB 14 Apr 1974; alt. DOB 1 Aug 1970; POB Zanzibar, Tanzania; citizen Tanzania (individual) [SDGT]

ALI, Ahmed Mohammed (a.k.a. ALI, Ahmed Mohammed Hamed; a.k.a. ABDUREHMAN, Ahmed Mohammed; a.k.a. ABU FATIMA; a.k.a. ABU ISLAM; a.k.a. ABU KHADIIJAH; a.k.a. AHMED HAMED; a.k.a. Ahmed The Egyptian; a.k.a. AHMED, Ahmed; a.k.a. AL-MASRI, Ahmad; a.k.a. AL-SURIR, Abu Islam; a.k.a. ALI, Hamed; a.k.a. HEMED, Ahmed; a.k.a. SHIEB, Ahmed; a.k.a. SHUAIB), Afghanistan; DOB 1965; POB Egypt; citizen Egypt (individual) [SDGT]

ALI, Ahmed Mohammed Hamed (a.k.a. ABDUREHMAN, Ahmed Mohammed; a.k.a. ABU FATIMA; a.k.a. ABU ISLAM; a.k.a. ABU KHADIIJAH; a.k.a. AHMED HAMED; a.k.a. Ahmed The Egyptian; a.k.a. AHMED, Ahmed; a.k.a. AL-MASRI, Ahmad; a.k.a. AL-SURIR, Abu Islam; a.k.a. ALI, Ahmed Mohammed; a.k.a. ALI, Hamed; a.k.a. HEMED, Ahmed; a.k.a. SHIEB, Ahmed; a.k.a. SHUAIB), Afghanistan; DOB 1965; POB Egypt; citizen Egypt (individual) [SDGT]

ALI, Ali Abdul Mutalib, Germany (individual) [IRAQ]

ALI, Fadel Abdallah Mohammed (a.k.a. MOHAMMED, Fazul Abdullah; a.k.a. ABDALLA, Fazul; a.k.a. ADBALLAH, Fazul; a.k.a. AISHA, Abu; a.k.a. AL SUDANI, Abu Seif; a.k.a. FAZUL, Abdalla; a.k.a. FAZUL, Abdallah; a.k.a. FAZUL, Abdallah Mohammed; a.k.a. FAZUL, Haroon; a.k.a. FAZUL, Harun; a.k.a. HAROON; a.k.a. HAROUN, Fadhil; a.k.a. HARUN; a.k.a. LUQMAN, Abu; a.k.a. MOHAMMED, Fazul; a.k.a. MOHAMMED, Fazul Abdilahi; a.k.a. MOHAMMED, Fouad; a.k.a. MUHAMAD, Fadil Abdallah); DOB 25 Aug 1972; alt. DOB 25 Dec 1974; alt. DOB 25 Feb 1974; POB Moroni, Comoros Islands; citizen Comoros; alt. citizen Kenya (individual) [SDGT]

ALI, Hamed (a.k.a. ALI, Ahmed Mohammed Hamed; a.k.a. ABDUREHMAN, Ahmed Mohammed; a.k.a. ABU FATIMA; a.k.a. ABU ISLAM; a.k.a. ABU KHADIIJAH; a.k.a. AHMED HAMED; a.k.a. Ahmed The Egyptian; a.k.a. AHMED, Ahmed; a.k.a. AL-MASRI, Ahmad; a.k.a. AL-SURIR, Abu Islam; a.k.a. ALI, Ahmed Mohammed; a.k.a. HEMED, Ahmed; a.k.a. SHIEB, Ahmed; a.k.a. SHUAIB), Afghanistan; DOB 1965; POB Egypt; citizen Egypt (individual) [SDGT]

ALI, Hassan (a.k.a. FADHIL, Mustafa Mohamed; a.k.a. AL MASRI, Abd Al Wakil; a.k.a. AL-NUBI, Abu; a.k.a. ANIS, Abu; a.k.a. ELBISHY, Moustafa Ali; a.k.a. FADIL, Mustafa Muhamad; a.k.a. FAZUL, Mustafa; a.k.a. HUSSEIN; a.k.a. JIHAD, Abu; a.k.a. KHALID; a.k.a. MAN, Nu; a.k.a. MOHAMMED, Mustafa; a.k.a. YUSSRR, Abu); DOB 23 Jun 1976; POB Cairo, Egypt; citizen Egypt; alt. citizen Kenya; Kenyan ID No. 12773667; Serial No. 201735161 (individual) [SDGT]

ALI, Randy (a.k.a. “Abu Sa'ad;” a.k.a. “Abu Saad;” a.k.a. AL GHOZI, Fathur Rahman; a.k.a. AL GHOZI, Fathur Rohman; a.k.a. AL-GHOZI, Fathur Rahman; a.k.a. AL-GHOZI, Fathur Rohman; a.k.a. AL-GOZHI, Fathur Rahman; a.k.a. AL-GOZHI, Fathur Rohman; a.k.a. AL-GOZI, Fathur Rahman; a.k.a. AL-GOZI, Fathur Rohman; a.k.a. ALGHOZI, Fathur Rahman; a.k.a. ALGHOZI, Fathur Rohman; a.k.a. ALIH, Randy; a.k.a. ALIH, Randy Adam; a.k.a. AZAD, Rony; a.k.a. BIN AHAD, Rony Azad; a.k.a. BIN AHMAD, Rony Azad; a.k.a. BIN AMAD, Rony Azad; a.k.a. EDRIS, Anwar Rodin; a.k.a. “Freedom Fighter;” a.k.a. JAMIL, Sammy Sali; a.k.a. JAMIL, Sammy Salih; a.k.a. RANDY, Alih); DOB 17 Feb 1971; POB Madiun, East Java, Indonesia; Passport No. GG 672613 (Philippines); nationality Indonesian (individual) [SDGT]

ALI, Salem (a.k.a. MOHAMMED, Khalid Shaikh; a.k.a. BIN KHALID, Fahd Bin Adballah; a.k.a. HENIN, Ashraf Refaat Nabith; a.k.a. WADOOD, Khalid Adbul); DOB 14 Apr 1965; alt. DOB 1 Mar 1964; POB Kuwait; citizen Kuwait (individual) [SDGT]

ALI, Sheikh Hassan Dahir Aweys (a.k.a. AWES, Shaykh Hassan Dahir; a.k.a. AWEYS, Hassan Dahir), DOB 1935; citizen Somalia (individual) [SDGT]

ALI, Yusaf Ahmed, Hallbybacken 15, Spanga 70, Sweden; DOB 20 Nov 1974 (individual) [SDGT]

ALIH, Randy (a.k.a. “Abu Sa'ad;” a.k.a. “Abu Saad;” a.k.a. AL GHOZI, Fathur Rahman; a.k.a. AL GHOZI, Fathur Rohman; a.k.a. AL-GHOZI, Fathur Rahman; a.k.a. AL-GHOZI, Fathur Rohman; a.k.a. AL-GOZHI, Fathur Rahman; a.k.a. AL-GOZHI, Fathur Rohman; a.k.a. AL-GOZI, Fathur Rahman; a.k.a. AL-GOZI, Fathur Rohman; a.k.a. ALGHOZI, Fathur Rahman; a.k.a. ALGHOZI, Fathur Rohman; a.k.a. ALI, Randy; a.k.a. ALIH, Randy Adam; a.k.a. AZAD, Rony; a.k.a. BIN AHAD, Rony Azad; a.k.a. BIN AHMAD, Rony Azad; a.k.a. BIN AMAD, Rony Azad; a.k.a. EDRIS, Anwar Rodin; a.k.a. “Freedom Fighter;” a.k.a. JAMIL, Sammy Sali; a.k.a. JAMIL, Sammy Salih; a.k.a. RANDY, Alih); DOB 17 Feb 1971; POB Madiun, East Java, Indonesia; Passport No. GG 672613 (Philippines); nationality Indonesian (individual) [SDGT]

ALIH, Randy Adam (a.k.a. “Abu Sa'ad;” a.k.a. “Abu Saad;” a.k.a. AL GHOZI, Fathur Rahman; a.k.a. AL GHOZI, Fathur Rohman; a.k.a. AL-GHOZI, Fathur Rahman; a.k.a. AL-GHOZI, Fathur Rohman; a.k.a. AL-GOZHI, Fathur Rahman; a.k.a. AL-GOZHI, Fathur Rohman; a.k.a. AL-GOZI, Fathur Rahman; a.k.a. AL-GOZI, Fathur Rohman; a.k.a. ALGHOZI, Fathur Rahman; a.k.a. ALGHOZI, Fathur Rohman; a.k.a. ALI, Randy; a.k.a. ALIH, Randy; a.k.a. AZAD, Rony; a.k.a. BIN AHAD, Rony Azad; a.k.a. BIN AHMAD, Rony Azad; a.k.a. BIN AMAD, Rony Azad; a.k.a. EDRIS, Anwar Rodin; a.k.a. “Freedom Fighter;” a.k.a. JAMIL, Sammy Sali; a.k.a. JAMIL, Sammy Salih; a.k.a. RANDY, Alih); DOB 17 Feb 1971; POB Madiun, East Java, Indonesia; Passport No. GG 672613 (Philippines); nationality Indonesian (individual) [SDGT]

ALISPAHIC, Bakir; DOB 1 Oct 1956; POB Ahatovici, Bosnia-Herzegovina (individual) [BALKANS]

ALKALA ASOCIADOS S.A. (f.k.a. INVHERESA S.A.), Calle 1A No. 62A-130, Cali, Colombia; Calle 1A No. 62A-120, Cali, Colombia; Avenida 2N No. 7N-55 of. 501, Cali, Colombia; Calle 70N No. 14-31, Cali, Colombia; NIT # 800108121-0 (Colombia) [SDNT]

ALKHAYOUN, Dhiah H., Chairman and General Manager of RASHEED BANK; Iraq (individual) [IRAQ]

ALLAWI, Salam, (a.k.a. ALAWI Abdel-Salam Abdel-Rahman), General Manager of INDUSTRIAL BANK OF IRAQ; Iraq (individual) [IRAQ]

ALLY, Ahmed (a.k.a. SWEDAN, Sheikh Ahmed Salim; a.k.a. Ahmed the Tall; a.k.a. BAHAMAD; a.k.a. BAHAMAD, Sheik; a.k.a. BAHAMADI, Sheikh; a.k.a. SUWEIDAN, Sheikh Ahmad Salem; a.k.a. SWEDAN, Sheikh; a.k.a. SWEDAN, Sheikh Ahmed Salem); DOB 9 Apr 1969; alt. DOB 9 Apr 1960; POB Mombasa, Kenya; citizen Kenya (individual) [SDGT]

ALLY, Fahid Mohammed (a.k.a. MSALAM, Fahid Mohammed Ally; a.k.a. AL-KINI, Usama; a.k.a. MSALAM, Fahad Ally; a.k.a. MSALAM, Fahid Mohammed Ali; a.k.a. MSALAM, Mohammed Ally; a.k.a. MUSALAAM, Fahid Mohammed Ali; a.k.a. SALEM, Fahid Muhamad Ali); DOB 19 Feb 1976; POB Mombasa, Kenya; citizen Kenya (individual) [SDGT]

ALMANZA CANON, Nohora Juliana, c/o COSMEPOP, Bogota, Colombia; Cedula No. 52557912 (Colombia) (individual) [SDNT]

ALOARDI, Carlo Giovanni, Milan, Italy (individual) [CUBA]

ALUBAF ARAB INTERNATIONAL BANK E.C. (a.k.a. ALUBAF), UGB Tower, Diplomatic Area, P.O. Box 12529, Manama, Bahrain [LIBYA]

ALUBAF INTERNATIONAL BANK—TUNIS (a.k.a. ALUBAF—TUNIS), 90-92 Avenue Hedi Chaker, P.O. Box 51, 1002 Tunis Belvedere, Tunisia [LIBYA]

ALVARADO BONILLA, Alejandro, c/o DROGAS LA REBAJA BOGOTA S.A., Bogota, Colombia; Cedula No. 79641039 (Colombia) (individual) [SDNT]

ALVAREZ DE LA TORRE, Mario Andres, c/o AMERICANA DE COSMETICOS S.A., Bogota, Colombia; c/o COSMEPOP, Bogota, Colombia; DOB 6 Mar 1972; Cedula No. 232594 (Colombia) (individual) [SDNT]

ALVAREZ GAVIRIA, Jaime Antonio, c/o EXPORT CAFE LTDA., Cali, Colombia; DOB 17 Aug 1947; Cedula No. 10060853 (Colombia) (individual) [SDNT]

ALVAREZ, Manuel (AGUIRRE), Panama (individual) [CUBA]

ALVAREZ TOSTADO, Jose (a.k.a. CASTELLANOS ALVAREZ TOSTADO, Juan Jose; a.k.a. GONZALEZ, Jose); DOB 27 Aug 1955; POB Mexico (individual) [SDNTK]

ALWAN, Allaidin Hussain (a.k.a. ALWAN, Alla Idin Hussain), Baghdad, Iraq (individual) [IRAQ]

ALZATE SALAZAR, Luis Alfredo, c/o COINTERCOS S.A., Bogota, Colombia; c/o DEPOSITO POPULAR DE DROGAS S.A., Bogota, Colombia; c/o DROGAS LA REBAJA BOGOTA S.A., Bogota, Colombia; c/o LABORATORIOS KRESSFOR DE COLOMBIA S.A., Bogota, Colombia; Cedula No. 16595689 (Colombia) (individual) [SDNT]

AMAN CO. FOR TYRES AND BATTERIES, Tajura Km. 19, P.O. Box 30737, Tripoli, Libya; (branch) P.O. Box 2394, Bengazi, Libya; (branch) Tripoli, Libya; (branch) P.O. Box 17757, Misurata, Libya; (branch) Sabha, Libya [LIBYA]

AMAYA OROZCO, Luis Alberto, Calle 18N No. 9-46, Cali, Colombia; c/o COMERCIALIZADORA DE CARNES DEL PACIFICO LTDA., Cali, Colombia; Cedula No. 4882167 (Colombia) (individual) [SDNT]

AMD CO. LTD AGENCY, Al-Tahrir Car Parking Building, Tahrir Sq., Floor 3, Office 33, P.O. Box 8044, Baghdad, Iraq [IRAQ]

AMDOUNI, Mehrez (a.k.a. “Abu Thale;” a.k.a. FUSCO, Fabio; a.k.a. HASSAN, Mohamed) DOB 18 Dec 1969; POB Tunis, Tunisia (individual) [SDGT]

AMERICAN AIR WAYS CHARTERS, INC., 1840 West 49th Street, Hialeah, Florida, U.S.A. [CUBA]

AMERICAN FRIENDS OF THE UNITED YESHIVA MOVEMENT (a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH LEGION; a.k.a. JUDEA POLICE; a.k.a. JUDEAN CONGRESS; a.k.a. KACH; a.k.a. KAHANE CHAI; a.k.a. KAHANE LIVES; a.k.a. KAHANE TZADAK; a.k.a. KAHANE.NET; a.k.a. KAHANE.ORG; a.k.a. KAHANE; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [SDT][FTO][SDGT]

AMERICAN FRIENDS OF YESHIVAT RAV MEIR (a.k.a. AMERICAN FRIENDS OF THE UNITED YESHIVA MOVEMENT; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH LEGION; a.k.a. JUDEA POLICE; a.k.a. JUDEAN CONGRESS; a.k.a. KACH; a.k.a. KAHANE CHAI; a.k.a. KAHANE LIVES; a.k.a. KAHANE TZADAK; a.k.a. KAHANE.NET; a.k.a. KAHANE.ORG; a.k.a. KAHANE; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [SDT][FTO][SDGT]

AMERICANA DE COSMETICOS S.A., Calle 12B No. 27-39, Bogota, Colombia; Calle 12B No. 27-40, Int. 4 of., Bogota, Colombia; Carrera 12 No. 71-53 of. 502, Bogota, Colombia; Carrera 28 No. 11-65 of. 707, Bogota, Colombia; Carrera 70 No. 54-30, Bogota, Colombia; NIT # 830028750-9 (Colombia) [SDNT]

AMESCUA, Chuey (a.k.a. AMEZCUA, Chuy; a.k.a. AMEZCUA CONTRERAS, Jesus; a.k.a. AMEZCUA CONTRERAS, Jose de Jesus; a.k.a. AMEZCUA, Jose de Jesus; a.k.a. HERNANDEZ, Adan), DOB 31 Jul 1963; alt. DOB 31 Jul 1964; alt. DOB 31 Jul 1965; POB Mexico (individual) [SDNTK]

AMEZCUA, Chuy (a.k.a. AMESCUA, Chuey; a.k.a. AMEZCUA CONTRERAS, Jesus; a.k.a. AMEZCUA CONTRERAS, Jose de Jesus; a.k.a. AMEZCUA, Jose de Jesus; a.k.a. HERNANDEZ, Adan), DOB 31 Jul 1963; alt. DOB 31 Jul 1964; alt. DOB 31 Jul 1965; POB Mexico (individual) [SDNTK]

AMEZCUA CONTRERAS, Jesus (a.k.a. AMESCUA, Chuey; a.k.a. AMEZCUA, Chuy; a.k.a. AMEZCUA CONTRERAS, Jose de Jesus; a.k.a. AMEZCUA, Jose de Jesus; a.k.a. HERNANDEZ, Adan), DOB 31 Jul 1963; alt. DOB 31 Jul 1964; alt. DOB 31 Jul 1965; POB Mexico (individual) [SDNTK]

AMEZCUA CONTRERAS, Jose de Jesus (a.k.a. AMESCUA, Chuey; a.k.a. AMEZCUA, Chuy; a.k.a. AMEZCUA CONTRERAS, Jesus; a.k.a. AMEZCUA, Jose de Jesus; a.k.a. HERNANDEZ, Adan), DOB 31 Jul 1963; alt. DOB 31 Jul 1964; alt. DOB 31 Jul 1965; POB Mexico (individual) [SDNTK]

AMEZCUA CONTRERAS, Luis Ignacio (a.k.a. AMEZCUA, Luis; a.k.a. CONTRERAS, Luis C.; a.k.a. LOPEZ, Luis; a.k.a. LOZANO, Eduardo; a.k.a. OCHOA, Salvador; a.k.a. RODRIGUEZ LOPEZ, Sergio), DOB 22 Feb 1964; alt. DOB 21 Feb 1964; alt. DOB 21 Feb 1974; POB Mexico (individual) [SDNTK]

AMEZCUA, Jose de Jesus (a.k.a. AMESCUA, Chuey; a.k.a. AMEZCUA, Chuy; a.k.a. AMEZCUA CONTRERAS, Jesus; a.k.a. AMEZCUA CONTRERAS, Jose de Jesus; a.k.a. HERNANDEZ, Adan), DOB 31 Jul 1963; alt. DOB 31 Jul 1964; alt. DOB 31 Jul 1965; POB Mexico (individual) [SDNTK]

AMEZCUA, Luis (a.k.a. AMEZCUA CONTRERAS, Luis Ignacio; a.k.a. CONTRERAS, Luis C.; a.k.a. LOPEZ, Luis; a.k.a. LOZANO, Eduardo; a.k.a. OCHOA, Salvador; a.k.a. RODRIGUEZ LOPEZ, Sergio), DOB 22 Feb 1964; alt. DOB 21 Feb 1964; alt. DOB 21 Feb 1974; POB Mexico (individual) [SDNTK]

AMEZQUITA MENESES, Salustio, c/o INVERSIONES GEMINIS S.A., Cali, Colombia; c/o INMOBILIARIA U.M.V. S.A., Cali, Colombia; Cedula No. 14943885 (Colombia) (individual) [SDNT]

AMIN ABU SHANAB & SONS CO (a.k.a. ABU SHANAB METALS ESTABLISHMENT; a.k.a. SHANAB METALS ESTABLISHMENT; a.k.a. TARIQ ABU SHANAB EST.; a.k.a. TARIQ ABU SHANAB EST. FOR TRADE & COMMERCE; a.k.a. TARIQ ABU SHANAB METALS ESTABLISHMENT), Musherfeh, P.O. Box 766, Zarka, Jordan [IRAQ]

AMIN EL GEZAI COMPANY (a.k.a. EL AMIN EL GEZAI COMPANY), Khartoum, Sudan [SUDAN]

AMIN, Muhammad (a.k.a. AH HAQ, Dr. Amin; a.k.a. AL-HAQ, Amin; a.k.a. UL-HAQ, Dr. Amin); DOB 1960; POB Nangahar Province, Afghanistan (individual) [SDGT]

AMMARI, Saifi (a.k.a. “Abdalarak;” a.k.a. “Abderrezak Le Para;” a.k.a. “Abderrezak Zaimeche;” a.k.a. “Abdul Rasak ammane Abu Haidra;” a.k.a. “Abou Haidara;” a.k.a. “El Ourassi;” a.k.a. “El Para”); DOB 1 Jan 1968; POB Kef Rih, Algeria; nationality Algerian (individual) [SDGT]

AMMASH, Huda Salih Mahdi; DOB 1953; POB Baghdad, Iraq; member, Ba'ath Party Regional Command; nationality Iraqi (individual) [IRAQ][IRAQ2]

AMPARO RODRIGUEZ DE GIL Y CIA. S. EN C., Avenida 4N No. 5N-20, Cali, Colombia [SDNT]

ANA (a.k.a. AKSH; a.k.a. ALBANIAN NATIONAL ARMY) [BALKANS]

ANAINSA (a.k.a. ABASTECEDORA NAVAL Y INDUSTRIAL, S.A), Panama [CUBA]

ANDINA DE CONSTRUCCIONES S.A. (n.k.a. INTERAMERICANA DE CONSTRUCCIONES S.A.), Calle 12 Norte No. 9N-56, Cali, Colombia; NIT # 800237404-2 (Colombia) [SDNT]

ANDRADE MENDEZ, Gerardo, c/o ADMINISTRADORA DE SERVICIOS VARIOS CALIMA S.A., Cali Colombia; c/o CHAMARTIN S.A., Cali, Colombia; DOB 17 Jul 1962; Passport 12189130 (Colombia); Cedula No. 12189130 (Colombia) (individual) [SDNT]

ANDRADE QUINTERO, Ancizar, c/o INMOBILIARIA BOLIVAR LTDA., Cali, Colombia; c/o INMOBILIARIA U.M.V. S.A., Cali, Colombia; c/o SERVICIOS INMOBILIARIAS LTDA., Cali, Colombia; Cedula No. 16672464 (Colombia) (individual) [SDNT]

ANGELINI, Alejandro Abood, Panama (individual) [CUBA]

ANGLO-CARIBBEAN CO., LTD. (a.k.a. AVIA IMPORT), Ibex House, The Minories, London EC3N 1DY, England [CUBA]

ANGULO OROBIO, Jose Francisco, Avenida 4N No. 17-43 apt. 801, Cali, Colombia; c/o INVERSIONES Y CONSTRUCCIONES VALLE S.A., Cali, Colombia; Cedula No. 16706561 (Colombia) (individual) [SDNT]

ANIS, Abu (a.k.a. FADHIL, Mustafa Mohamed; a.k.a. AL MASRI, Abd Al Wakil; a.k.a. AL-NUBI, Abu; a.k.a. ALI, Hassan; a.k.a. ELBISHY, Moustafa Ali; a.k.a. FADIL, Mustafa Muhamad; a.k.a. FAZUL, Mustafa; a.k.a. HUSSEIN; a.k.a. JIHAD, Abu; a.k.a. KHALID; a.k.a. MAN, Nu; a.k.a. MOHAMMED, Mustafa; a.k.a. YUSSRR, Abu); DOB 23 Jun 1976; POB Cairo, Egypt; citizen Egypt; alt. citizen Kenya; Kenyan ID No. 12773667; Serial No. 201735161 (individual) [SDGT]

ANO (a.k.a. ABU NIDAL ORGANIZATION; a.k.a. BLACK SEPTEMBER; a.k.a. FATAH REVOLUTIONARY COUNCIL; a.k.a. ARAB REVOLUTIONARY COUNCIL; a.k.a. ARAB REVOLUTIONARY BRIGADES; a.k.a. REVOLUTIONARY ORGANIZATION OF SOCIALIST MUSLIMS) [SDT][FTO][SDGT]

ANSAR AL-ISLAM (a.k.a. ANSAR AL-SUNNA; a.k.a. ANSAR AL-SUNNA ARMY; a.k.a. “DEVOTEES OF ISLAM;” a.k.a. “FOLLOWERS OF ISLAM IN KURDISTAN;” a.k.a. “HELPERS OF ISLAM;” a.k.a. JAISH ANSAR AL-SUNNA; a.k.a. JUND AL-ISLAM; a.k.a. “KURDISTAN SUPPORTERS OF ISLAM;” a.k.a. “KURDISH TALIBAN;” a.k.a. “PARTISANS OF ISLAM;” a.k.a. “SOLDIERS OF GOD;” a.k.a. “SOLDIERS OF ISLAM;” a.k.a. “SUPPORTERS OF ISLAM IN KURDISTAN”), Iraq [SDGT][FTO]

ANSAR ALLAH (a.k.a. HIZBALLAH; a.k.a. ISLAMIC JIHAD; a.k.a. ISLAMIC JIHAD ORGANIZATION; a.k.a. REVOLUTIONARY JUSTICE ORGANIZATION; a.k.a. ORGANIZATION OF THE OPPRESSED ON EARTH; a.k.a. ISLAMIC JIHAD FOR THE LIBERATION OF PALESTINE; a.k.a. ORGANIZATION OF RIGHT AGAINST WRONG; a.k.a. PARTY OF GOD; a.k.a. FOLLOWERS OF THE PROPHET MUHAMMED) [SDT][FTO][SDGT]

ANSAR AL-SUNNA (a.k.a. ANSAR AL-ISLAM; a.k.a. ANSAR AL-SUNNA ARMY; a.k.a. “DEVOTEES OF ISLAM;” a.k.a. “FOLLOWERS OF ISLAM IN KURDISTAN;” a.k.a. “HELPERS OF ISLAM;” a.k.a. JAISH ANSAR AL-SUNNA; a.k.a. JUND AL-ISLAM; a.k.a. “KURDISTAN SUPPORTERS OF ISLAM;” a.k.a. “KURDISH TALIBAN;” a.k.a. “PARTISANS OF ISLAM;” a.k.a. “SOLDIERS OF GOD;” a.k.a. “SOLDIERS OF ISLAM;” a.k.a. “SUPPORTERS OF ISLAM IN KURDISTAN”), Iraq [SDGT][FTO]

ANSAR AL-SUNNA ARMY (a.k.a. ANSAR AL-ISLAM; a.k.a. ANSAR AL-SUNNA; a.k.a. “DEVOTEES OF ISLAM;” a.k.a. “FOLLOWERS OF ISLAM IN KURDISTAN;” a.k.a. “HELPERS OF ISLAM;” a.k.a. JAISH ANSAR AL-SUNNA; a.k.a. JUND AL-ISLAM; a.k.a. “KURDISTAN SUPPORTERS OF ISLAM;” a.k.a. “KURDISH TALIBAN;” a.k.a. “PARTISANS OF ISLAM;” a.k.a. “SOLDIERS OF GOD;” a.k.a. “SOLDIERS OF ISLAM;” a.k.a. “SUPPORTERS OF ISLAM IN KURDISTAN”), Iraq [SDGT][FTO]

ANTAMALLO SHIPPING CO., LTD. (a.k.a. ATAMALLO SHIPPING CO. LTD.), c/o EMPRESA DE NAVEGACION MAMBISA, Apartado 543, San Ignacio 104, Havana, Cuba [CUBA]

ANTIA SIERRA, Diurny Lorena, c/o COOPERATIVA MERCANTIL COLOMBIANA COOMERCOL, Cali, Colombia; DOB 28 Sep 1975; Passport 66877933 (Colombia); Cedula No. 66877933 (Colombia) (individual) [SDNT]

ANTILLANA SALVAGE CO., LTD., c/o EMPRESA ANTILLANA DE SALVAMENTO, 4th Floor, Lonja del Comercio, Havana Vieja, Havana, Cuba [CUBA]

AOUADI, Mohamed Ben Belgacem (a.k.a. AOUADI, Mohamed Ben Belkacem), Via A. Masina n.7, Milano, Italy; DOB 11 Dec 1974; POB Tunisia; Italian Fiscal Code: DAOMMD74T11Z352Z (individual) [SDGT]

AOUADI, Mohamed Ben Belkacem (a.k.a. AOUADI, Mohamed Ben Belgacem), Via A. Masina n.7, Milano, Italy; DOB 11 Dec 1974; POB Tunisia; Italian Fiscal Code: DAOMMD74T11Z352Z (individual) [SDGT]

APABO (a.k.a. ARAB HELLENIC BANK, S.A.), 80-88 Syngrou Avenue, GR-117 41 Athens, Greece; P.O. Box 19126, GR-117 10 Athens, Greece; 43 Penepistimiou Street, GR-105 64 Athens, Greece [LIBYA]

APAOLAZA SANCHO, Ivan; member ETA; DOB 10 Nov 1971; POB Beasain (Guipuzcoa Province), Spain; D.N.I. 44.129.178 (individual) [SDGT]

AQSSA SOCIETY (a.k.a. AL-AQSA (ASBL); a.k.a. AL-AQSA SPANMAL STIFTELSE; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), BD Leopold II 71, 1080 Brussels, Belgium [SDGT]

AQSSA SOCIETY (a.k.a. AL-AQSA E.V.; a.k.a. AL-AQSA SPANMAL STIFTELSE; a.k.a. AL-AQSA ASBL; a.k.a. AL-AQSA CHARITABLE FOUNDATION; a.k.a. AL-AQSA CHARITABLE ORGANIZATION; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), Kappellenstrasse 36, D-52066, Aachen, Germany [SDGT]

AQSSA SOCIETY (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 421082, 2nd Floor, Amoco Gardens, 40 Mint Road, Fordsburg 2033, Johannesburg, South Africa; P.O. Box 421083, 2nd Floor, Amoco Gardens, 40 Mint Road, Fordsburg 2033, Johannesburg, South Africa [SDGT]

AQSSA SOCIETY (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), Nobelvagen 79 NB, 21433 Malmo, Sweden; Noblev 79 NB, 21433 Malmo, Sweden [SDGT]

AQSSA SOCIETY (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 2364, Islamabad, Pakistan [SDGT]

AQSSA SOCIETY (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.) [SDGT]

AQSSA SOCIETY (a.k.a. AQSSA SOCIETY YEMEN; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 14101, San'a, Yemen [SDGT]

AQSSA SOCIETY (a.k.a. FORENINGEN AL-AQSA; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 6222200KBKN, Copenhagen, Denmark [SDGT]

AQSSA SOCIETY (a.k.a. STICHTING AL-AQSA; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. SWEDISH CHARITABLE AQSA EST.), Gerrit V/D Lindestraat 103 E, 03022 TH, Rotterdam, Holland; Gerrit V/D Lindestraat 103 A, 3022 TH, Rotterdam, Holland [SDGT]

AQSSA SOCIETY YEMEN (a.k.a. AL-AQSA (ASBL); a.k.a. AL-AQSA SPANMAL STIFTELSE; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), BD Leopold II 71, 1080 Brussels, Belgium [SDGT]

AQSSA SOCIETY YEMEN (a.k.a. AL-AQSA E.V.; a.k.a. AL-AQSA SPANMAL STIFTELSE; a.k.a. AL-AQSA ASBL; a.k.a. AL-AQSA CHARITABLE FOUNDATION; a.k.a. AL-AQSA CHARITABLE ORGANIZATION; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), Kappellenstrasse 36, D-52066, Aachen, Germany [SDGT]

AQSSA SOCIETY YEMEN (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.) [SDGT]

AQSSA SOCIETY YEMEN (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 2364, Islamabad, Pakistan [SDGT]

AQSSA SOCIETY YEMEN (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), Nobelvagen 79 NB, 21433 Malmo, Sweden; Noblev 79 NB, 21433 Malmo, Sweden [SDGT]

AQSSA SOCIETY YEMEN (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 421082, 2nd Floor, Amoco Gardens, 40 Mint Road, Fordsburg 2033, Johannesburg, South Africa; P.O. Box 421083, 2nd Floor, Amoco Gardens, 40 Mint Road, Fordsburg 2033, Johannesburg, South Africa [SDGT]

AQSSA SOCIETY YEMEN (a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 14101, San'a, Yemen [SDGT]

AQSSA SOCIETY YEMEN (a.k.a. FORENINGEN AL-AQSA; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. CHARITABLE AL-AQSA ESTABLISHMENT; a.k.a. CHARITABLE SOCIETY TO HELP THE NOBLE AL-AQSA; a.k.a. NUSRAT AL-AQSA AL-SHARIF; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 6222200KBKN, Copenhagen, Denmark [SDGT]

AQSSA SOCIETY YEMEN (a.k.a. STICHTING AL-AQSA; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. SWEDISH CHARITABLE AQSA EST.), Gerrit V/D Lindestraat 103 E, 03022 TH, Rotterdam, Holland; Gerrit V/D Lindestraat 103 A, 3022 TH, Rotterdam, Holland [SDGT]

AQUITAINE LIBYE, Omar El Mokhtar Street, P.O. Box 282, Tripoli, Libya (Designation applies only to joint venture located in Libya) [LIBYA]

ARAB BANK FOR INVESTMENT AND FOREIGN TRADE (a.k.a. ARBIFT), Head Office, ARBIFT Building, Sheikh Hamdan Street, P.O. Box 2484, Abu Dhabi, U.A.E. [LIBYA]

ARAB BANK FOR INVESTMENT AND FOREIGN TRADE (a.k.a. ARBIFT), Al Masood Building, Khalifa Street, P.O. Box 7588, Abu Dhabi, U.A.E. [LIBYA]

ARAB BANK FOR INVESTMENT AND FOREIGN TRADE (a.k.a. ARBIFT), Khalfan Bin Rakan Building, Khalifa Street, P.O. Box 16003, Al Ain, U.A.E. [LIBYA]

ARAB BANK FOR INVESTMENT AND FOREIGN TRADE (a.k.a. ARBIFT), ARBIFT Tower, Baniyas Street, P.O. Box 5549, Deira, Dubai, U.A.E. [LIBYA]

ARAB CEMENT COMPANY, Durdeib, Sudan; P.O. Box 6180, Khartoum, Sudan [SUDAN]

ARAB CO. FOR IMPORTATION AND MANUFACTURE OF CLOTHING AND TEXTILES, Libya [LIBYA]

ARAB COMMERCIAL INSURANCE COMPANY, Channel Islands [LIBYA]

ARAB HELLENIC BANK, S.A. (a.k.a. APABO), 80-88 Syngrou Avenue, GR-117 41 Athens, Greece; P.O. Box 19126, GR-117 10 Athens, Greece; 43 Penepistimiou Street, GR-105 64 Athens, Greece [LIBYA]

ARAB LIBYAN SYRIAN INDUSTRIAL & AGRICULTURAL INVESTMENT COMPANY (a.k.a. SYLICO; a.k.a. SYRIAN LIBYAN COMPANY—INDUSTRIAL & AGRICULTURAL INVESTMENTS), 9 Mazze, Autostrade, Damascus, Syria [LIBYA]

ARAB LIBYAN TUNISIAN BANK S.A.L. (n.k.a. NORTH AFRICA COMMERCIAL BANK S.A.L.), P.O. Box 9575/11, 1st Floor, Piccadily Centre, Hamra Street, Beirut, Lebanon [LIBYA]

ARAB PALESTINIAN BEIT EL-MAL COMPANY (a.k.a. BEIT AL MAL HOLDINGS; a.k.a. BEIT EL MAL AL-PHALASTINI AL-ARABI AL-MUSHIMA AL-AAMA AL-MAHADUDA LTD.; a.k.a. BEIT EL-MAL HOLDINGS; a.k.a. PALESTINIAN ARAB BEIT EL MAL CORPORATION, LTD.), P.O. Box 662, Ramallah, West Bank [SDT] [SDGT]

ARAB PETROLEUM ENGINEERING COMPANY LTD., Amman, Jordan [IRAQ]

ARAB PROJECTS COMPANY S.A. LTD., P.O. Box 1318, Amman, Jordan [IRAQ]

ARAB PROJECTS COMPANY S.A. LTD., P.O. Box 1972, Riyadh, Saudi Arabia [IRAQ]

ARAB PROJECTS COMPANY S.A. LTD., P.O. Box 7939, Beirut, Lebanon [IRAQ]

ARAB REAL ESTATE COMPANY (a.k.a. ARESCO), Beirut, Lebanon [LIBYA]

ARAB REVOLUTIONARY BRIGADES (a.k.a. ANO; a.k.a. BLACK SEPTEMBER; a.k.a. FATAH REVOLUTIONARY COUNCIL; a.k.a. ARAB REVOLUTIONARY COUNCIL; a.k.a. ABU NIDAL ORGANIZATION; a.k.a. REVOLUTIONARY ORGANIZATION OF SOCIALIST MUSLIMS) [SDT][FTO][SDGT]

ARAB REVOLUTIONARY COUNCIL (a.k.a. ANO; a.k.a. BLACK SEPTEMBER; a.k.a. FATAH REVOLUTIONARY COUNCIL; a.k.a. ABU NIDAL ORGANIZATION; a.k.a. ARAB REVOLUTIONARY BRIGADES; a.k.a. REVOLUTIONARY ORGANIZATION OF SOCIALIST MUSLIMS) [SDT][FTO][SDGT]

ARAB TURKISH BANK (a.k.a. ARAP TURK BANKASI A.S.; a.k.a. ATB), P.O. Box 380, 80223 Sisli, Istanbul, Turkey [LIBYA]

ARAB TURKISH BANK (a.k.a. ARAP TURK BANKASI A.S.; a.k.a. ATB), P.O. Box 38, 06552 Cankaya, Ankara, Turkey [LIBYA]

ARAB TURKISH BANK (a.k.a. ARAP TURK BANKASI A.S.; a.k.a. ATB), Ziyapasa Bulvari No. 14/A, 01130 Adana, Turkey [LIBYA]

ARAB TURKISH BANK (a.k.a. ARAP TURK BANKASI A.S.; a.k.a. ATB), Havuzlu Sok. No. 3, 06540 Asagi Ayranci, Ankara, Turkey [LIBYA]

ARAB TURKISH BANK (a.k.a. ARAP TURK BANKASI A.S.; a.k.a. ATB), Vali Konagi Cad. No. 10, 80200 Nistantas, Istanbul, Turkey [LIBYA]

ARAB TURKISH BANK (a.k.a. ARAP TURK BANKASI A.S.; a.k.a. ATB), P.O. Box 11, 01321 Adana, Turkey [LIBYA]

ARAB TURKISH BANK (a.k.a. ARAP TURK BANKASI A.S.; a.k.a. ATB), Gaziosmanpasa Bulvari No. 10/1, 35210 Alsancak, Izmir, Turkey [LIBYA]

ARAB TURKISH BANK (a.k.a. ARAP TURK BANKASI A.S.; a.k.a. ATB), P.O. Box 52, 35212 Pasaport, Izmir, Turkey [LIBYA]

ARAB UNION CONTRACTING CO., Al Fatih Tower, Floor 22, Tripoli, Libya; P.O. Box 3475, Tripoli, Libya [LIBYA]

ARABIAN GULF OIL COMPANY (a.k.a. AGOCO), P.O. Box 263, Al Kish, Benghazi, Libya [LIBYA]

ARABIAN GULF OIL COMPANY (a.k.a. AGOCO), P.O. Box 693-325 Ben Ashour Street, Tripoli, Libya [LIBYA]

ARABIAN GULF OIL COMPANY (a.k.a. AGOCO), Sarir Field, Libya [LIBYA]

ARABIAN GULF OIL COMPANY (a.k.a. AGOCO), Windsor House, 42-50 Victoria Street, London SW1H 0NW, England [LIBYA]

ARANA MARIA, Jairo Abraham, Calle 74 No. 53-30, Barranquilla, Colombia; c/o DESARROLLOS URBANOS “DESARROLLAR” LTDA., Barranquilla, Colombia; c/o EDIFICACIONES DEL CARIBE LTDA., Barranquilla, Colombia; c/o GRAN COMPANIA DE HOTELES LTDA., Barranquilla, Colombia; c/o HOTELES E INMUEBLES DE COLOMBIA LTDA., Barranquilla, Colombia; c/o INMOBILIARIA DEL CARIBE LTDA., Barranquilla, Colombia; c/o INMOBILIARIA HOTELERA DEL CARIBE LTDA., Barranquilla, Colombia; c/o INVERSIONES HOTELERAS DEL LITORAL LTDA., Barranquilla, Colombia; c/o INVERSIONES PRADO TRADE CENTER LTDA., Barranquilla, Colombia; c/o NEGOCIOS Y PROPIEDADES DEL CARIBE LTDA., Barranquilla, Colombia; c/o SURAMERICANA DE HOTELES LTDA., Barranquilla, Colombia; DOB 8 Feb 1953; alt. DOB 2 May 1946; alt. DOB 21 May 1946; Passport Z4966601 (Colombia); Passport K1030420 (Colombia); Cedula No. 7450538 (Colombia) (individual) [SDNT]

ARAP TURK BANKASI A.S. (a.k.a. ARAB TURKISH BANK; a.k.a. ATB), Ziyapasa Bulvari No. 14/A, 01130 Adana, Turkey [LIBYA]

ARAP TURK BANKASI A.S. (a.k.a. ARAB TURKISH BANK; a.k.a. ATB), Gaziosmanpasa Bulvari No. 10/1, 35210 Alsancak, Izmir, Turkey [LIBYA]

ARAP TURK BANKASI A.S. (a.k.a. ARAB TURKISH BANK; a.k.a. ATB), P.O. Box 380, 80223 Sisli, Istanbul, Turkey [LIBYA]

ARAP TURK BANKASI A.S. (a.k.a. ARAB TURKISH BANK; a.k.a. ATB), P.O. Box 52, 35212 Pasaport, Izmir, Turkey [LIBYA]

ARAP TURK BANKASI A.S. (a.k.a. ARAB TURKISH BANK; a.k.a. ATB), Havuzlu Sok. No. 3, 06540 Asagi Ayranci, Ankara, Turkey [LIBYA]

ARAP TURK BANKASI A.S. (a.k.a. ARAB TURKISH BANK; a.k.a. ATB), Vali Konagi Cad. No. 10, 80200 Nistantas, Istanbul, Turkey [LIBYA]

ARAP TURK BANKASI A.S. (a.k.a. ARAB TURKISH BANK; a.k.a. ATB), P.O. Box 11, 01321 Adana, Turkey [LIBYA]

ARAP TURK BANKASI A.S. (a.k.a. ARAB TURKISH BANK; a.k.a. ATB), P.O. Box 38, 06552 Cankaya, Ankara, Turkey [LIBYA]

ARBELAEZ GALLON, Gladys, c/o SERVICIOS INMOBILIARIOS LTDA., Cali, Colombia; Cedula No. 31858038 (Colombia) (individual) [SDNT]

ARBELAEZ PARDO, Amparo, Casa No. 19, Avenida Lago, Ciudad Jardin, Cali, Colombia; c/o CREDIREBAJA S.A., Cali, Colombia; c/o DECAFARMA S.A., Bogota, Colombia; c/o INTERAMERICANA DE CONSTRUCCIONES S.A., Cali, Colombia; c/o INVERSIONES ARA LTDA., Cali, Colombia; c/o LABORATORIOS KRESSFOR DE COLOMBIA S.A., Bogota, Colombia; c/o VALORES MOBILIARIOS DE OCCIDENTE, Bogota, Colombia; DOB 9 Aug 1950; Passports AC568973 (Colombia), PE001850 (Colombia); Cedula No. 31218903 (Colombia) (individual) [SDNT]

ARBIFT (a.k.a. ARAB BANK FOR INVESTMENT AND FOREIGN TRADE), Khalfan Bin Rakan Building, Khalifa Street, P.O. Box 16003, Al Ain, U.A.E. [LIBYA]

ARBIFT (a.k.a. ARAB BANK FOR INVESTMENT AND FOREIGN TRADE), Head Office, ARBIFT Building, Sheikh Hamdan Street, P.O. Box 2484, Abu Dhabi, U.A.E. [LIBYA]

ARBIFT (a.k.a. ARAB BANK FOR INVESTMENT AND FOREIGN TRADE), ARBIFT Tower, Baniyas Street, P.O. Box 5549, Deira, Dubai, U.A.E. [LIBYA]

ARBIFT (a.k.a. ARAB BANK FOR INVESTMENT AND FOREIGN TRADE), Al Masood Building, Khalifa Street, P.O. Box 7588, Abu Dhabi, U.A.E. [LIBYA]

ARBOLEDA ARROYAVE, Pedro Nicholas (Nicolas), c/o CREDIREBAJA S.A., Cali, Colombia; c/o D'CACHE S.A., Cali, Colombia; c/o DEPOSITO POPULAR DE DROGAS S.A., Cali, Colombia; c/o DISTRIBUIDORA DE DROGAS CONDOR LTDA., Bogota, Colombia; c/o FUNDASER, Cali, Colombia; DOB 23 Jun 1957; Cedula No. 16602372 (Colombia) (individual) [SDNT]

ARBOLEDA, Julio, c/o INVERSIONES BETANIA LTDA., Cali, Colombia; c/o INVERSIONES EL PENON S.A., Cali, Colombia; Cedula No. 16205508 (Colombia) (individual) [SDNT]

ARCE GARCIA, Rodrigo Alberto, c/o AGRO MASCOTAS S.A., Bogota, Colombia; DOB 9 Jun 1963; Passport 16699556 (Colombia); Cedula No. 16699556 (Colombia) (individual) [SDNT]

ARCHI CENTRE I.C.E. LIMITED, 3 Mandeville Place, London, England [IRAQ]

ARCHICONSULT LIMITED, 128 Buckingham Place, London 5, England [IRAQ]

ARDILA HUYO, Jorge Armando, c/o INTERNACIONAL DE DIVISAS S.A., Cali, Colombia; c/o INTERNACIONAL DE DIVISAS S.A., LLC, Miami, Florida, U.S.A.; c/o OBURSATILES S.A., Cali, Colombia; DOB 7 Feb 1960; Passport 16448389 (Colombia); Cedula No. 16448389 (Colombia) (individual) [SDNT]

ARDILA HUYO, Luis Alejandro, c/o ARDILA-MARMOLEJO, LTD., Nassau, Bahamas; c/o INTERNACIONAL DE DIVISAS S.A., Cali, Colombia; c/o INTERNACIONAL DE DIVISAS S.A., LLC, Miami, Florida, U.S.A.; c/o OBURSATILES S.A., Cali, Colombia; DOB 4 Jan 1962; Passport AF924686 (Colombia); Cedula No. 16670574 (Colombia) (individual) [SDNT]

ARDILA-MARMOLEJO, LTD. (f.k.a. HUYO-GIRALDO, LTD.), Nassau, Bahamas; Business Registration No. 88,046 B (Bahamas) [SDNT]

AREGON, Max (a.k.a. CARO RODRIGUEZ, Gilberto; a.k.a. GUIERREZ LOERA, Jose Luis; a.k.a. GUMAN LOERAL, Joaquin; a.k.a. GUZMAN, Achivaldo; a.k.a. GUZMAN, Archibaldo; a.k.a. GUZMAN, Aureliano; a.k.a. GUZMAN, Chapo; a.k.a. GUZMAN FERNANDEZ, Joaquin; a.k.a. GUZMAN, Joaquin Chapo; a.k.a. GUZMAN LOEIA, Joaguin; a.k.a. GUZMAN LOERA, Joaquin; a.k.a. GUZMAN LOESA, Joaquin; a.k.a. GUZMAN LOREA, Chapo; a.k.a. GUZMAN PADILLA, Joaquin; a.k.a. ORTEGA, Miguel; a.k.a. OSUNA, Gilberto; a.k.a. RAMIREZ, Joise Luis; a.k.a. RAMOX PEREZ, Jorge) DOB 25 Dec 1954; POB Mexico (individual) [SDNTK]

ARELLANO FELIX, Benjamin Alberto, DOB 12 Mar 1952; alt. DOB 8 Nov 1953; alt. DOB 11 Aug 1955; POB Mexico (individual) [SDNTK]

ARELLANO FELIX DE TOLEDO, Enedina (a.k.a. ARELLANO FELIX, Enedina), c/o FARMACIA VIDA SUPREMA, S.A. DE C.V., Tijuana, Baja California, Mexico; DOB 12 Apr 1961 (individual) [SDNTK]

ARELLANO FELIX, Enedina (a.k.a. ARELLANO FELIX DE TOLEDO, Enedina), c/o FARMACIA VIDA SUPREMA, S.A. DE C.V., Tijuana, Baja California, Mexico; DOB 12 Apr 1961 (individual) [SDNTK]

ARELLANO FELIX, Ramon Eduardo (a.k.a. COMACHO RODRIGUES, Gilberto; a.k.a. TORRES MENDEZ, Ramon), DOB 31 Aug 1964; POB Mexico (individual) [SDNTK]

ARENAS OSORIO, Martha Cecilia, c/o INVERSIETE S.A., Cali, Colombia; DOB 24 May 1965; Passport 25160258 (Colombia); Cedula No. 25160258 (Colombia) (individual) [SDNT]

ARESCO (a.k.a. ARAB REAL ESTATE COMPANY), Beirut, Lebanon [LIBYA]

ARI (a.k.a. ARMY OF THE REPUBLIC OF ILIRIDA) [BALKANS]

ARIAS CASTRO, Libardo (a.k.a. CASTRO ARIAS, Libardo), c/o BONOMERCAD S.A., Bogota, Colombia; c/o COMEDICAMENTOS S.A., Bogota, Colombia; c/o DECAFARMA S.A., Bogota, Colombia; c/o FOGENSA S.A., Bogota, Colombia; c/o GLAJAN S.A., Bogota, Colombia; c/o SHARPER S.A., Bogota, Colombia; c/o SHARVET S.A., Bogota, Colombia; DOB 13 Oct 1933; Passport 2312291 (Colombia); Cedula No. 2312291 (Colombia) (individual) [SDNT]

ARIAS DE RESTREPO, Mariella, c/o AGRO MASCOTAS S.A., Bogota, Colombia; c/o DISTRIBUIDORA AGROPECUARIA COLOMBIANA S.A., Cali, Colombia; c/o MATERIAS PRIMAS Y SUMINISTROS S.A., Bogota, Colombia; DOB 19 Nov 1958; Cedula No. 38437571 (Colombia) (individual) [SDNT]

ARIAS RAMIREZ, Jhon Helmer, c/o IMPORTADORA Y COMERCIALIZADORA LTDA., Cali, Colombia; Cedula No. 16796537 (Colombia) (individual) [SDNT]

ARIFI, Dr. Nagmeddin Abdalla (a.k.a. ARIFI, Dr. Najmeddine Abdalla), P.O. Box 2134, Tripoli, Libya; DOB 21 Nov 47 (individual) [LIBYA]

ARIFI, Dr. Najmeddine Abdalla (a.k.a. ARIFI, Dr. Nagmeddin Abdalla), P.O. Box 2134, Tripoli, Libya; DOB 21 Nov 47 (individual) [LIBYA]

ARION SHIPPING CO., LTD., 60 South Street, Valletta, Malta [CUBA]

ARISTIZABAL ATEHORTUA, Jaime Alberto, c/o COLOR 89.5 FM STEREO, Cali, Colombia; c/o DERECHO INTEGRAL Y CIA. LTDA., Cali, Colombia; c/o INVERSIONES MIGUEL RODRIGUEZ E HIJO, Cali, Colombia; c/o RADIO UNIDAS FM S.A., Cali, Colombia; c/o REVISTA DEL AMERICA LTDA., Cali, Colombia; Cedula No. 16756325 (Colombia) (individual) [SDNT]

ARIZA CHAVEZ, Elder, c/o SUPERGEN LTDA., Bucaramanga, Colombia; DOB 22 Jul 1972; Passport 79183205 (Colombia); Cedula No. 79183205 (Colombia) (individual) [SDNT]

ARIZABALETA ARZAYUS, Phanor (Fanor), Avenida 39 No. 15-22, Bogota, Colombia; Calle 110 No. 30-45, Bogota, Colombia; Carrera 9 No. 9S-35, Buga, Colombia; Carrera 4 No. 12-41 of. 710, Cali, Colombia; c/o CONSTRUCTORA ALTOS DE RETIRO LTDA., Bogota, Colombia; c/o INVERSIONES ARIO LTDA., Cali, Colombia; DOB 12 May 1938; Cedula No. 2879530 (Colombia) (individual) [SDNT]

ARIZONA S.A., Carrera 8N No. 17A-12, Cartago, Colombia NIT # 836000489-0 (Colombia) [SDNT]

ARJONA ALVARADO, Rafael, c/o ALPHA PHARMA S.A., Bogota, Colombia; c/o FARMATODO S.A., Bogota, Colombia; c/o LABORATORIOS BLAIMAR, Bogota, Colombia; c/o LABORATORIOS KRESSFOR DE COLOMBIA S.A., Bogota, Colombia; Cedula No. 19442698 (Colombia) (individual) [SDNT]

ARLONE FACELLI, Roberto, c/o DISTRIBUIDORA DE DROGAS CONDOR S.A., Bogota, Colombia; Cedula No. 16632415 (Colombia) (individual) [SDNT]

ARMANI, Dino, Via San Francesco d'Assisi 10, Milan, Italy; Via Abruzzi 94, Milan, Italy; Viale Abbruzzi 24, Milan, Italy; DOB 20 Sep 20 (individual) [LIBYA]

ARMANI, Giampiero, Viale Abruzzi 94, Milan, Italy; DOB 15 Sep 32 (individual) [LIBYA]

ARMED ISLAMIC GROUP (a.k.a. AL-JAMA'AH AL-ISLAMIYAH AL-MUSALLAH; a.k.a. GIA; a.k.a. GROUPEMENT ISLAMIQUE ARME) [FTO] [SDGT]

ARMERO RIASCOS, Jose Eliecer, Carrera 5 No. 8-00, Buenaventura, Colombia; c/o INDUSTRIA DE PESCA SOBRE EL PACIFICO S.A., Buenaventura, Colombia; Cedula No. 16471549 (Colombia) (individual) [SDNT]

ARMY OF MOHAMMED (a.k.a. JAISH-I-MOHAMMED; a.k.a. JAISH-E-MOHAMMED; a.k.a. KHUDAMUL ISLAM; a.k.a. KHUDDAM-UL-ISLAM; a.k.a. KUDDAM E ISLAMI; a.k.a. MOHAMMED'S ARMY; a.k.a. TEHRIK UL-FURQAAN), Pakistan [FTO] [SDGT]

ARMY OF THE PURE (a.k.a. AL MANSOOREEN; a.k.a. AL MANSOORIAN; a.k.a. ARMY OF THE PURE AND RIGHTEOUS; a.k.a. ARMY OF THE RIGHTEOUS; a.k.a. LASHKAR E-TAYYIBA; a.k.a. LASHKAR E-TOIBA; a.k.a. LASHKAR-I-TAIBA), Pakistan [FTO] [SDGT]

ARMY OF THE PURE AND RIGHTEOUS (a.k.a. AL MANSOOREEN; a.k.a. AL MANSOORIAN; a.k.a. ARMY OF THE PURE; a.k.a. ARMY OF THE RIGHTEOUS; a.k.a. LASHKAR E-TAYYIBA; a.k.a. LASHKAR E-TOIBA; a.k.a. LASHKAR-I-TAIBA), Pakistan [FTO] [SDGT]

ARMY OF THE REPUBLIC OF ILIRIDA (a.k.a. ARI) [BALKANS]

ARMY OF THE RIGHTEOUS (a.k.a. AL MANSOOREEN; a.k.a. AL MANSOORIAN; a.k.a. ARMY OF THE PURE; a.k.a. ARMY OF THE PURE AND RIGHTEOUS; a.k.a. LASHKAR E-TAYYIBA; a.k.a. LASHKAR E-TOIBA; a.k.a. LASHKAR-I-TAIBA), Pakistan [FTO] [SDGT]

ARROYAVE RUIZ, Elkin Alberto (a.k.a. LOPEZ, Cesar), Carrera 9 No. 71D-10, Cali, Colombia; DOB 3 Sep 1968; POB Caucasia, Antioquia, Colombia; Cedula No. 4652820 (Colombia) (individual) [SDNTK]

ARSENOVIC, Djojo; DOB 6 Jan 1952; POB Donje Crnjelovo, Bosnia-Herzegovina (individual) [BALKANS]

ARZALLUS TAPIA, Eusebio; member ETA; DOB 8 Nov 1957; POB Regil (Guipuzcoa Province), Spain; D.N.I. 15.927.207 (individual) [SDGT]

ASANABIL (a.k.a. AL SANABIL; a.k.a. AL-SANBAL; a.k.a. JA'MIA SANBLE LLAGHATHA WA ALTINMIA; a.k.a. JAMI'A SANABIL; a.k.a. JAMI'A SANABIL LIL IGATHA WA AL-TANMIYZ; a.k.a. SANABAL; a.k.a. SANABEL; a.k.a. SANABIL; a.k.a. SANABIL AL-AQSA; a.k.a. SANABIL ASSOCIATION FOR RELIEF AND DEVELOPMENT; a.k.a. SANABIL FOR AID AND DEVELOPMENT; a.k.a. SANABIL FOR RELIEF AND DEVELOPMENT; a.k.a. SANABIL GROUP FOR RELIEF AND DEVELOPMENT; a.k.a. SANIBAL; a.k.a. SANNABIL; a.k.a. SANNIBIL; a.k.a. SINABUL), Sidon, Lebanon [SDGT]

ASAT TRUST REG., Altenbach 8, Vaduz 9490, Liechtenstein [SDGT]

ASBAT AL-ANSAR [SDGT] [FTO]

ASEMS E.U. (a.k.a. ASESORIAS ECONOMICAS MUNOZ SANTACOLOMA E.U.), Calle 18 No. 106-98 of. 207, Cali, Colombia; NIT # 805012381-3 (Colombia) [SDNT]

ASESORIAS COSMOS LTDA., Carrera 40 No. 6-50 apt. 13-01, Cali, Colombia [SDNT]

ASESORIAS DE INGENIERIA EMPRESA UNIPERSONAL (a.k.a. ASING E.U.), Calle 29 Norte No. 6N-43, Cali, Colombia; NIT # 805005185-7 (Colombia) [SDNT]

ASESORIAS ECONOMICAS MUNOZ SANTACOLOMA E.U. (a.k.a. ASEMS E.U.), Calle 18 No. 106-98 of. 207, Cali, Colombia; NIT # 805012381-3 (Colombia) [SDNT]

ASESORIAS PROFESIONALES ESPECIALIZADAS EN NEGOCIOS E.U. (a.k.a. ASPEN E.U.), Calle 9 No. 46-69, Cali, Colombia; NIT # 805020437-0 (Colombia) [SDNT]

ASH TRADING, INC., 14420 NW 16TH St., Pembroke Pines, Florida 33028, U.S.A.; Business Registration Document # P01000078571 (Florida, U.S.A.); U.S. FEIN: 65-1128351 [SDNT]

ASING E.U. (a.k.a. ASESORIAS DE INGENIERIA EMPRESA UNIPERSONAL), Calle 29 Norte No. 6N-43, Cali, Colombia; NIT # 805005185-7 (Colombia) [SDNT]

ASISTENCIA PROFESIONAL ESPECIALIZADA EN COLOMBIA LIMITADA (a.k.a. ASPRECOL LIMITADA), Avenida 11 Norte No. 7N-201 of. 202, Edificio Aleph, Cali, Colombia; NIT # 805021375-7 (Colombia) [SDNT]

ASKATASUNA (a.k.a. BASQUE FATHERLAND AND LIBERTY; a.k.a. BATASUNA; a.k.a. EKIN; a.k.a. ETA; a.k.a. EUSKAL HERRITARROK; a.k.a. EUZKADI TA ASKATASUNA; a.k.a. HERRI BATASUNA; a.k.a. JARRAI-HAIKA-SEGI; a.k.a. K.A.S.; a.k.a. XAKI) [FTO][SDGT]

ASKATASUNA (f.k.a. GESTORAS PRO-AMNISTIA), Spain [SDGT]

ASP (a.k.a. ASSOCIATION DE SECOURS PALESTINIENS; a.k.a. ASSOCIATION FOR PALESTINIAN AID; a.k.a. ASSOCIATION SECOUR PALESTINIEN; a.k.a. HUMANITARE HILFSORGANISATION FUR PALASTINA; a.k.a. LAJNA AL-IGHATHA AL-FILISTINI; a.k.a. PALESTINE RELIEF COMMITTEE; a.k.a. PALESTINIAN AID COUNCIL; a.k.a. PALESTINIAN AID ORGANIZATION; a.k.a. PALESTINIAN RELIEF SOCIETY; a.k.a. RELIEF ASSOCIATION FOR PALESTINE), c/o Faical Yaakoubi, 7 rue de l'Ancien Port, CH-1201 Geneva, Switzerland; Gartnerstrasse 55, CH-4019 Basel, Switzerland; Postfach 406, CH-4019 Basel, Switzerland [SDGT]

ASPEN E.U. (a.k.a. ASESORIAS PROFESIONALES ESPECIALIZADAS EN NEGOCIOS E.U.), Calle 9 No. 46-69, Cali, Colombia; NIT # 805020437-0 (Colombia) [SDNT]

ASPOIR DEL PACIFICO Y CIA. LTDA., Cali, Colombia [SDNT]

ASPRECOL LIMITADA (a.k.a. ASISTENCIA PROFESIONAL ESPECIALIZADA EN COLOMBIA LIMITADA), Avenida 11 Norte No. 7N-201 of. 202, Edificio Aleph, Cali, Colombia; NIT # 805021375-7 (Colombia) [SDNT]

ASSOCIATED ENGINEERS, England [IRAQ]

ASSOCIATION DE SECOURS PALESTINIENS (a.k.a. ASP; a.k.a. ASSOCIATION FOR PALESTINIAN AID; a.k.a. ASSOCIATION SECOUR PALESTINIEN; a.k.a. HUMANITARE HILFSORGANISATION FUR PALASTINA; a.k.a. LAJNA AL-IGHATHA AL-FILISTINI; a.k.a. PALESTINE RELIEF COMMITTEE; a.k.a. PALESTINIAN AID COUNCIL; a.k.a. PALESTINIAN AID ORGANIZATION; a.k.a. PALESTINIAN RELIEF SOCIETY; a.k.a. RELIEF ASSOCIATION FOR PALESTINE), c/o Faical Yaakoubi, 7 rue de l'Ancien Port, CH-1201 Geneva, Switzerland; Gartnerstrasse 55, CH-4019 Basel, Switzerland; Postfach 406, CH-4019 Basel, Switzerland [SDGT]

ASSOCIATION DE SECOURS PALESTINIENS (a.k.a. ASP; a.k.a. ASSOCIATION SECOUR PALESTINIEN; a.k.a. ASSOCIATION FOR PALESTINIAN AID; a.k.a. HUMANITARE HILFSORGANISATION FUR PALASTINA; a.k.a. LAJNA AL-IGHATHA AL-FILISTINI; a.k.a. PALESTINE RELIEF COMMITTEE; a.k.a. PALESTINIAN AID COUNCIL; a.k.a. PALESTINIAN AID ORGANIZATION; a.k.a. PALESTINIAN RELIEF SOCIETY; a.k.a. RELIEF ASSOCIATION FOR PALESTINE), c/o Faical Yaakoubi, 7 rue de l'Ancien Port, CH-1201 Geneva, Switzerland; Gartnerstrasse 55, CH-4019 Basel, Switzerland; Postfach 406, CH-4019 Basel, Switzerland [SDGT]

ASSOCIATION FOR PALESTINIAN AID (a.k.a. ASP; a.k.a. ASSOCIATION DE SECOURS PALESTINIENS; a.k.a. ASSOCIATION SECOUR PALESTINIEN; a.k.a. HUMANITARE HILFSORGANISATION FUR PALASTINA; a.k.a. LAJNA AL-IGHATHA AL-FILISTINI; a.k.a. PALESTINE RELIEF COMMITTEE; a.k.a. PALESTINIAN AID COUNCIL; a.k.a. PALESTINIAN AID ORGANIZATION; a.k.a. PALESTINIAN RELIEF SOCIETY; a.k.a. RELIEF ASSOCIATION FOR PALESTINE), c/o Faical Yaakoubi, 7 rue de l'Ancien Port, CH-1201 Geneva, Switzerland; Gartnerstrasse 55, CH-4019 Basel, Switzerland; Postfach 406, CH-4019 Basel, Switzerland [SDGT]

ASSOCIATION SECOUR PALESTINIEN (a.k.a. ASP; a.k.a. ASSOCIATION DE SECOURS PALESTINIENS; a.k.a. ASSOCIATION FOR PALESTINIAN AID; a.k.a. HUMANITARE HILFSORGANISATION FUR PALASTINA; a.k.a. LAJNA AL-IGHATHA AL-FILISTINI; a.k.a. PALESTINE RELIEF COMMITTEE; a.k.a. PALESTINIAN AID COUNCIL; a.k.a. PALESTINIAN AID ORGANIZATION; a.k.a. PALESTINIAN RELIEF SOCIETY; a.k.a. RELIEF ASSOCIATION FOR PALESTINE), c/o Faical Yaakoubi, 7 rue de l'Ancien Port, CH-1201 Geneva, Switzerland; Gartnerstrasse 55, CH-4019 Basel, Switzerland; Postfach 406, CH-4019 Basel, Switzerland [SDGT]

ASTAIZA TACUMA, Luz Marina, c/o COMPANIA DE FOMENTO MERCANTIL S.A., Cali, Colombia; c/o GEOPLASTICOS S.A., Cali, Colombia; c/o GESTORA MERCANTIL S.A., Cali, Colombia; DOB 10 Nov 1957; POB Cali, Valle, Colombia; Passport 31271034 (Colombia); Cedula No. 31271034 (Colombia) (individual) [SDNT]

ASTERIS S.A. INDUSTRIAL & COMMERCIAL CORPORATION, Athens, Greece [LIBYA]

ATAMALLO SHIPPING CO. LTD. (a.k.a. ANTAMALLO SHIPPING CO., LTD.), c/o EMPRESA DE NAVEGACION MAMBISA, Apartado 543, San Ignacio 104, Havana, Cuba [CUBA]

ATB (a.k.a. ARAP TURK BANKASI A.S.; a.k.a. ARAB TURKISH BANK), Gaziosmanpasa Bulvari No. 10/1, 35210 Alsancak, Izmir, Turkey [LIBYA]

ATB (a.k.a. ARAP TURK BANKASI A.S.; a.k.a. ARAB TURKISH BANK), P.O. Box 38, 06552 Cankaya, Ankara, Turkey [LIBYA]

ATB (a.k.a. ARAP TURK BANKASI A.S.; a.k.a. ARAB TURKISH BANK), P.O. Box 380, 80223 Sisli, Istanbul, Turkey [LIBYA]

ATB (a.k.a. ARAP TURK BANKASI A.S.; a.k.a. ARAB TURKISH BANK), Havuzlu Sok. No. 3, 06540 Asagi Ayranci, Ankara, Turkey [LIBYA]

ATB (a.k.a. ARAP TURK BANKASI A.S.; a.k.a. ARAB TURKISH BANK), Ziyapasa Bulvari No. 14/A, 01130 Adana, Turkey [LIBYA]

ATB (a.k.a. ARAP TURK BANKASI A.S.; a.k.a. ARAB TURKISH BANK), P.O. Box 52, 35212 Pasaport, Izmir, Turkey [LIBYA]

ATB (a.k.a. ARAP TURK BANKASI A.S.; a.k.a. ARAB TURKISH BANK), Vali Konagi Cad. No. 10, 80200 Nistantas, Istanbul, Turkey [LIBYA]

ATB (a.k.a. ARAP TURK BANKASI A.S.; a.k.a. ARAB TURKISH BANK), P.O. Box 11, 01321 Adana, Turkey [LIBYA]

ATBARA CEMENT COMPANY LIMITED, P.O. Box 36, Atbara, Sudan [SUDAN]

ATEF, Muhammad (a.k.a. AL-MASRI, Abu Hafs; a.k.a. ABDULLAH, Sheikh Taysir; a.k.a. ABU HAFS; a.k.a. ABU SITTA, Subhi; a.k.a. ATIF, Mohamed; a.k.a. ATIF, Muhammad; a.k.a. EL KHABIR, Abu Hafs el Masry; a.k.a. TAYSIR); DOB 1951; Alt. DOB 1956; Alt. DOB 1944; POB Alexandria, Egypt (individual) [SDT] [SDGT]

ATENCIA PITALUA, Rafael Dario, c/o FUNDACION PARA LA PAZ DE CORDOBA, Monteria, Cordoba, Colombia; DOB 4 Feb 1963; Cedula No. 6889653 (Colombia) (individual) [SDNTK]

ATIA, Hachim K., 2 Stratford Place, London W1N 9AE, England (individual) [IRAQ]

ATIA, Hachim K., Hay Al-Adil, Mahala-645, Zukak-8, No.-39, Baghdad, Iraq (individual) [IRAQ]

ATIA, Hachim K., Lane 15, Area 902, Hai Al-Wahda, Baghdad, Iraq (individual) [IRAQ]

ATIF, Mohamed (a.k.a. AL-MASRI, Abu Hafs; a.k.a. ABDULLAH, Sheikh Taysir; a.k.a. ABU HAFS; a.k.a. ABU SITTA, Subhi; a.k.a. ATEF, Muhammad; a.k.a. ATIF, Muhammad; a.k.a. EL KHABIR, Abu Hafs el Masry; a.k.a. TAYSIR); DOB 1951; Alt. DOB 1956; Alt. DOB 1944; POB Alexandria, Egypt (individual) [SDT] [SDGT]

ATIF, Muhammad (a.k.a. AL-MASRI, Abu Hafs; a.k.a. ABDULLAH, Sheikh Taysir; a.k.a. ABU HAFS; a.k.a. ABU SITTA, Subhi; a.k.a. ATEF, Muhammad; a.k.a. ATIF, Mohamed; a.k.a. EL KHABIR, Abu Hafs el Masry; a.k.a. TAYSIR); DOB 1951; Alt. DOB 1956; Alt. DOB 1944; POB Alexandria, Egypt (individual) [SDT] [SDGT]

ATLAS AIR CONDITIONING COMPANY LIMITED, 55 Roebuck House, Palace Street, London, England [IRAQ]

ATLAS EQUIPMENT COMPANY LIMITED, 55 Roebuck House, Palace Street, London, England [IRAQ]

ATWA, Ali (a.k.a. BOUSLIM, Ammar Mansour; a.k.a. SALIM, Hassan Rostom), Lebanon; DOB 1960; POB Lebanon; citizen Lebanon (individual) [SDGT]

ATWAH, Muhsin Musa Matwalli (a.k.a. ABDEL RAHMAN; a.k.a. ABDUL RAHMAN; a.k.a. AL-MUHAJIR, Abdul Rahman; a.k.a. AL-NAMER, Mohammed K.A.), Afghanistan; DOB 19 Jun 1964; POB Egypt; citizen Egypt (individual) [SDGT]

AUC (a.k.a. AUTODEFENSAS UNIDAS DE COLOMBIA; a.k.a. UNITED SELF-DEFENSE FORCES OF COLOMBIA) [FTO][SDGT][SDNTK]

AUM SHINRIKYO (a.k.a. A.I.C. COMPREHENSIVE RESEARCH INSTITUTE; a.k.a. A.I.C. SOGO KENKYUSHO; a.k.a. ALEPH; a.k.a. AUM SUPREME TRUTH) [FTO][SDGT]

AUM SUPREME TRUTH (a.k.a. AUM SHINRIKYO; a.k.a. A.I.C. COMPREHENSIVE RESEARCH INSTITUTE; a.k.a. A.I.C. SOGO KENKYUSHO; a.k.a. ALEPH) [FTO][SDGT]

AUREAL INMOBILIARIA LTDA., Avenida 7 No. 112-38 of. 104, Bogota, Colombia [SDNT]

AUTO BATTERY PLANT, Libya [LIBYA]

AUTODEFENSAS UNIDAS DE COLOMBIA (a.k.a. AUC; a.k.a. UNITED SELF-DEFENSE FORCES OF COLOMBIA) [FTO][SDGT][SDNTK]

AUTOMOBILE CORPORATION, Khartoum, Sudan [SUDAN]

AUTOSERVICIO CIUDAD JARDIN (a.k.a. AUTOSERVICIO PENON; DISTRIBUCIONES GLOMIL LTDA.), Carrera 2 Oeste No. 2-54 ap. 201, Cali, Colombia; Carrera 105 No. 15A-53, Cali, Colombia; Avenida Colombia No. 2-45, Cali, Colombia; NIT # 805008233-6 (Colombia) [SDNT]

AUTOSERVICIO PENON (a.k.a. AUTOSERVICIO CIUDAD JARDIN; a.k.a. DISTRIBUCIONES GLOMIL LTDA.), Carrera 2 Oeste No. 2-54 ap. 201, Cali, Colombia; Carrera 105 No. 15A-53, Cali, Colombia; Avenida Colombia No. 2-45, Cali, Colombia; NIT # 805008233-6 (Colombia) [SDNT]

AVALON, S.A., Colon Free Zone, Panama [CUBA]

AVENDANO GUTIERREZ, Francisco Eduardo, Carrera 8 No. 66-21 apt. 204, Bogota, Colombia; Transversal 1A No. 69-54 apt. 502, Bogota, Colombia; c/o CONSTRUCCIONES AVENDANO GUTIERREZ Y CIA. LTDA., Bogota, Colombia; c/o LABORATORIOS GENERICOS VETERINARIOS, Bogota, Colombia; Cedula No. 16645182 (Colombia) (individual) [SDNT]

AVIA IMPORT (a.k.a. ANGLO-CARIBBEAN CO., LTD.), Ibex House, The Minories, London, EC3N 1DY, England [CUBA]

AVILA DE MONDRAGON, Ana Dolores, c/o COMPAX LTDA., Cali, Colombia; c/o INVERSIONES Y CONSTRUCCIONES ABC S.A., Cali, Colombia; c/o INVERSIONES Y CONSTRUCCIONES COSMOVALLE LTDA., Cali, Colombia; Cedula No. 29183223 (Colombia) (individual) [SDNT]

AVILA GONZALEZ, Humberto, c/o ADMINISTRADORA DE SERVICIOS VARIOS CALIMA S.A., Cali Colombia; c/o CHAMARTIN S.A., Cali, Colombia; DOB 2 Apr 1960; Passport 14882052 (Colombia); Cedula No. 14882052 (Colombia) (individual) [SDNT]

AVILA LOPEZ, Gabriel, c/o ADMINISTRADORA DE SERVICIOS VARIOS CALIMA S.A., Cali Colombia; c/o CHAMARTIN S.A., Cali, Colombia; DOB 3 Aug 1963; Passport 16689631 (Colombia); Cedula No. 16689631 (Colombia) (individual) [SDNT]

AVILA MIRANDA, Jorge A., Calle 52N No. 2D-29, Cali, Colombia; c/o CAUCALITO LTDA., Cali, Colombia; Cedula No. 12534286 (Colombia) (individual) [SDNT]

AWDA, Abd Al Aziz; Chief Ideological Figure of PALESTINIAN ISLAMIC JIHAD—SHIQAQI; DOB 1946 (individual) [SDT]

AWES, Shaykh Hassan Dahir (a.k.a. ALI, Sheikh Hassan Dahir Aweys; a.k.a. AWEYS, Hassan Dahir), DOB 1935; citizen Somalia (individual) [SDGT]

AWEYS, Dahir Ubeidullahi, Via Cipriano Facchinetti 84, Rome, Italy (individual) [SDGT]

AWEYS, Hassan Dahir (a.k.a. ALI, Sheikh Hassan Dahir Aweys; a.k.a. AWES, Shaykh Hassan Dahir), DOB 1935; citizen Somalia (individual) [SDGT]

AYADI CHAFIK, Ben Muhammad (a.k.a. AIADI, Ben Muhammad; a.k.a. AIADY, Ben Muhammad; a.k.a. AYADI SHAFIQ, Ben Muhammad; a.k.a. BIN MUHAMMAD, Ayadi Chafiq), Helene Meyer Ring 10-1415-80809, Munich, Germany; 129 Park Road, NW8, London, England; 28 Chaussee de Lille, Mouscron, Belgium; Darvingasse 1/2/58-60, Vienna, Austria; Tunisia; DOB 21 Jan 1963; POB Safais (Sfax), Tunisia (individual) [SDGT]

AYADI SHAFIQ, Ben Muhammad (a.k.a. AIADI, Ben Muhammad; a.k.a. AIADY, Ben Muhammad; a.k.a. AYADI CHAFIK, Ben Muhammad; a.k.a. BIN MUHAMMAD, Ayadi Chafiq), Helene Meyer Ring 10-1415-80809, Munich, Germany; 129 Park Road, NW8, London, England; 28 Chaussee de Lille, Mouscron, Belgium; Darvingasse 1/2/58-60, Vienna, Austria; Tunisia; DOB 21 Jan 1963; POB Safais (Sfax), Tunisia (individual) [SDGT]

AYALA BURBANO, Vilma Eddy, c/o COOPERATIVA MERCANTIL DEL SUR LTDA., Pasto, Colombia; Passport 30730438 (Colombia); Cedula No. 30730438 (Colombia) (individual) [SDNT]

AYARI, Chiheb Ben Mohamed (a.k.a. “Hichem Abu Hchem”), Via di Saliceto n.51/9, Bologna, Italy; DOB 19 Dec 1965; POB Tunis, Tunisia (individual) [SDGT]

AZAD, Rony (a.k.a. “Abu Sa'ad;” a.k.a. “Abu Saad;” a.k.a. AL GHOZI, Fathur Rahman; a.k.a. AL GHOZI, Fathur Rohman; a.k.a. AL-GHOZI, Fathur Rahman; a.k.a. AL-GHOZI, Fathur Rohman; a.k.a. AL-GOZHI, Fathur Rahman; a.k.a. AL-GOZHI, Fathur Rohman; a.k.a. AL-GOZI, Fathur Rahman; a.k.a. AL-GOZI, Fathur Rohman; a.k.a. ALGHOZI, Fathur Rahman; a.k.a. ALGHOZI, Fathur Rohman; a.k.a. ALI, Randy; a.k.a. ALIH, Randy; a.k.a. ALIH, Randy Adam; a.k.a. BIN AHAD, Rony Azad; a.k.a. BIN AHMAD, Rony Azad; a.k.a. BIN AMAD, Rony Azad; a.k.a. EDRIS, Anwar Rodin; a.k.a. “Freedom Fighter;” a.k.a. JAMIL, Sammy Sali; a.k.a. JAMIL, Sammy Salih; a.k.a. RANDY, Alih); DOB 17 Feb 1971; POB Madiun, East Java, Indonesia; Passport No. GG 672613 (Philippines); nationality Indonesian (individual) [SDGT]

AZIZ, Fouad Hamza, Praca Pio X, 54-10o Andar, CEP 20091, Rio de Janeiro, Brazil (individual) [IRAQ]

AZIZ, Mohammad (a.k.a. AFGHAN, Shear; a.k.a. AFGHAN, Sher; a.k.a. AFGHAN, Shir; a.k.a. KHAN, Abdullah) DOB 1962; alt. DOB 1959; POB Pakistan (individual) [SDNTK]

AZIZ, Tariq (a.k.a. AZIZ, Tariq Mikhail); DOB 1 Jul 1936; POB Mosul or Baghdad, Iraq; Deputy Prime Minister; Passport No. NO34409/129 (Iraq) issued Jul 1997; nationality Iraqi (individual) [IRAQ][IRAQ2]

AZIZ, Tariq Mikhail (a.k.a. AZIZ, Tariq); DOB 1 Jul 1936; POB Mosul or Baghdad, Iraq; Deputy Prime Minister; Passport No. NO34409/129 (Iraq) issued Jul 1997); nationality Iraqi (individual) [IRAQ][IRAQ2]

AZIZIA BOTTLE PLANT, Libya [LIBYA]

AZRAK S.A., Panama [CUBA]

AZZAWIYA OIL REFINING COMPANY, Benghazi Asphalt Plant Office, Benghazi, Libya [LIBYA]

AZZAWIYA OIL REFINING COMPANY, P.O. Box 6451, Tripoli, Libya [LIBYA]

BA TAQWA FOR COMMERCE AND REAL ESTATE COMPANY LIMITED (n.k.a. HOCHBURG, AG), Vaduz, Liechtenstein; formerly c/o Asat Trust reg., Vaduz, Liechtenstein [SDGT]

BAAZAOUI, Mondher (a.k.a. “Hamza”), Via di Saliceto n.51/9, Bologna, Italy; DOB 18 Mar 1967; POB Kairouan, Tunisia (individual) [SDGT]

BABANOUSA MILK PRODUCTS FACTORY, P.O. Box 16, Babanousa, Sudan [SUDAN]

BABBAR KHALSA INTERNATIONAL [SDGT]

BABESTAN, Abeni O. (a.k.a. OGUNGBUYI, Abeni O.; a.k.a. SHOFESO, Olatutu Temitope), DOB 30 Jun 1952; POB Nigeria (individual) [SDNTK]

BABESTAN, Wole A. (a.k.a. ADEMULERO, Babestan Oluwole; a.k.a. OGUNGBUYI, Oluwole A.; a.k.a. OGUNGBUYI, Wally; a.k.a. OGUNGBUYI, Wole A.; a.k.a. SHOFESO, Olatude I.; a.k.a. SHOFESO, Olatunde Irewole), DOB 4 Mar 1953; POB Nigeria (individual) [SDNTK]

BABIL INTERNATIONAL, Aeroport D'Orly, 94390 Orly Aerogare, France [IRAQ]

BADI, Mahmud, Secretary of People's Control and Follow-up of the Government of Libya, Libya (individual) [LIBYA]

BAEZA MOLINA, Carlos Alberto, c/o DERECHO INTEGRAL Y CIA. LTDA., Cali, Colombia; c/o INVERSIONES MIGUEL RODRIGUEZ E HIJO, Cali, Colombia; Cedula No. 16621765 (Colombia) (individual) [SDNT]

BAHAJI, Said, Bunatwiete #23, 21073 Hamburg, Germany; Marienstr #54, 21073 Hamburg, Germany; Wiesendamm #135, 22303 Hamburg, Germany; 12 Rue Descartes, Meknes, Morocco; DOB 15 Jul 1975; POB Haselunne, Lower Saxony, Germany; nationality Moroccan and German (individual) [SDGT]

BAHAMAD (a.k.a. SWEDAN, Sheikh Ahmed Salim; a.k.a. Ahmed the Tall; a.k.a. ALLY, Ahmed; a.k.a. BAHAMAD, Sheik; a.k.a. BAHAMADI, Sheikh; a.k.a. SUWEIDAN, Sheikh Ahmad Salem; a.k.a. SWEDAN, Sheikh; a.k.a. SWEDAN, Sheikh Ahmed Salem); DOB 9 Apr 1969; alt. DOB 9 Apr 1960; POB Mombasa, Kenya; citizen Kenya (individual) [SDGT]

BAHAMAD, Sheik (a.k.a. SWEDAN, Sheikh Ahmed Salim; a.k.a. Ahmed the Tall; a.k.a. ALLY, Ahmed; a.k.a. BAHAMAD; a.k.a. BAHAMADI, Sheikh; a.k.a. SUWEIDAN, Sheikh Ahmad Salem; a.k.a. SWEDAN, Sheikh; a.k.a. SWEDAN, Sheikh Ahmed Salem); DOB 9 Apr 1969; alt. DOB 9 Apr 1960; POB Mombasa, Kenya; citizen Kenya (individual) [SDGT]

BAHAMADI, Sheikh (a.k.a. SWEDAN, Sheikh Ahmed Salim; a.k.a. Ahmed the Tall; a.k.a. ALLY, Ahmed; a.k.a. BAHAMAD; a.k.a. BAHAMAD, Sheik; a.k.a. SUWEIDAN, Sheikh Ahmad Salem; a.k.a. SWEDAN, Sheikh; a.k.a. SWEDAN, Sheikh Ahmed Salem); DOB 9 Apr 1969; alt. DOB 9 Apr 1960; POB Mombasa, Kenya; citizen Kenya (individual) [SDGT]

BAJAGIC, Zvonko “Duga Puska;” DOB 6 Sep 1953; POB Vlasenica, Bosnia-Herzegovina (individual) [BALKANS]

BAKR, Abu (a.k.a. GHAILANI, Ahmed Khalfan; a.k.a. “AHMED THE TANZANIAN;” a.k.a. “FOOPIE;” a.k.a. “FUPI;” a.k.a. AHMAD, Abu Bakr; a.k.a. AHMED, A.; a.k.a. AHMED, Abubakar; a.k.a. AHMED, Abubakar K.; a.k.a. AHMED, Abubakar Khalfan; a.k.a. AHMED, Abubakary K.; a.k.a. AHMED, Ahmed Khalfan; a.k.a. AL TANZANI, Ahmad; a.k.a. ALI, Ahmed Khalfan; a.k.a. GHAILANI, Abubakary Khalfan Ahmed; a.k.a. GHAILANI, Ahmed; a.k.a. GHILANI, Ahmad Khalafan; a.k.a. HUSSEIN, Mahafudh Abubakar Ahmed Abdallah; a.k.a. KHABAR, Abu; a.k.a. KHALFAN, Ahmed; a.k.a. MOHAMMED, Shariff Omar); DOB 14 Mar 1974; alt. DOB 13 Apr 1974; alt. DOB 14 Apr 1974; alt. DOB 1 Aug 1970; POB Zanzibar, Tanzania; citizen Tanzania (individual) [SDGT]

BALA, Haradin; DOB 10 Jun 1957; POB Gornja Koretica, Serbia and Montenegro; ICTY indictee (individual) [BALKANS]

BALIMA (a.k.a. BANQUE ARABE LIBYENNE MALIENNE POUR LE COMMERCE EXTERIEUR ET LE DEVELOPPEMENT; a.k.a. BANQUE COMMERCIALE DU SAHEL), P.O. Box 2372, Bamako, Mali [LIBYA]

BALINEX (a.k.a. BANQUE ARABE LIBYENNE NIGERIENNE POUR LE COMMERCE EXTERIEUR ET LE DEVELOPPEMENT; a.k.a. BANQUE COMMERCIALE DU NIGER; a.k.a. BCN), P.O. Box 11363, Niamey, Niger [LIBYA]

BALM (a.k.a. BANQUE ARABE LIBYENNE MAURITANIENNE POUR LE COMMERCE EXTERIEUR ET LE DEVELOPPEMENT; a.k.a. CHINGUETTY BANK), Jamal Abdulnasser Street, P.O. Box 262, Nouakchott, Mauritania [LIBYA]

BALTEX (a.k.a. BANQUE ARABE LIBYENNE TOGOLAISE DU COMMERCE EXTERIEUR; a.k.a. SOCIETE INTERAFFRICAINE DU BANQUE), P.O. Box 4874, Lome, Togo [LIBYA]

BANAGRICOLA S.A. (a.k.a. BANANERA AGRICOLA S.A.), Carrera 2B No. 26-12, Santa Marta, Colombia; NIT # 800142651-6 (Colombia) [SDNT]

BANANERA AGRICOLA S.A. (a.k.a. BANAGRICOLA S.A.), Carrera 2B No. 26-12, Santa Marta, Colombia; NIT # 800142651-6 (Colombia) [SDNT]

BANCO NACIONAL DE CUBA (a.k.a. BNC; a.k.a. NATIONAL BANK OF CUBA), Avenida de Concha Espina 8, E-28036 Madrid, Spain [CUBA]

BANCO NACIONAL DE CUBA (a.k.a. BNC; a.k.a. NATIONAL BANK OF CUBA), Federico Boyd Avenue & 51 Street, Panama City, Panama [CUBA]

BANCO NACIONAL DE CUBA (a.k.a. BNC; a.k.a. NATIONAL BANK OF CUBA), Zweierstrasse 35, CH-8022 Zurich, Switzerland) [CUBA]

BANCO NACIONAL DE CUBA (a.k.a. BNC; a.k.a. NATIONAL BANK OF CUBA), Dai-Ichi Bldg. 6th Floor, 10-2 Nihombashi, 2-chome, Chuo-ku, Tokyo 103, Japan [CUBA]

BANDERAS, Aracelly, c/o AGROPECUARIA LA ROBLEDA S.A., Cali, Colombia (individual) [SDNT]

BANK AL TAQWA (a.k.a. AL TAQWA BANK; a.k.a. BANK AL TAQWA LIMITED), c/o Arthur D. Hanna & Company, 10 Deveaux Street, Nassau, Bahamas; P.O. Box N-4877, Nassau, Bahamas [SDGT]

BANK AL TAQWA LIMITED (a.k.a. AL TAQWA BANK; a.k.a. BANK AL TAQWA), c/o Arthur D. Hanna & Company, 10 Deveaux Street, Nassau, Bahamas; P.O. Box N-4877, Nassau, Bahamas [SDGT]

BANK OF KHARTOUM (a.k.a. BANK OF KHARTOUM GROUP), P.O. Box 1008, Khartoum, Sudan; P.O. Box 312, Khartoum, Sudan; P.O. Box 880, Khartoum, Sudan; P.O. Box 2732, Khartoum, Sudan; P.O. Box 408, Barlaman Ave., Khartoum, Sudan; P.O. Box 67, Omdurman, Sudan; P.O. Box 241, Port Sudan, Sudan; P.O. Box 131, Wad Medani, Sudan; Abu Hammad, Sudan; Abugaouta, Sudan; Assalaya, Sudan; P.O. Box 89, Atbara, Sudan; Berber, Sudan; Dongola, Sudan; El Daba, Sudan; El Dain, Sudan; El Damazeen, Sudan; El Damer, Sudan; El Dilling, Sudan; El Dinder, Sudan; El Fashir, Sudan; El Fow, Sudan; El Gadarit, Sudan; El Garia, Sudan; El Ghadder, Sudan; El Managil, Sudan; El Mazmoum, Sudan; P.O. Box 220, El Obeid, Sudan; El Rahad, Sudan; El Roseirs, Sudan; El Suk el Shabi, Sudan; Halfa el Gadida, Sudan; Karima, Sudan; Karkoug, Sudan; Kassala, Sudan; Omdurman P.O. Square, P.O. Box 341, Khartoum, Sudan; Sharia el Barlaman, P.O. Box 922, Khartoum, Sudan; Sharia el Gama'a, P.O. Box 880, Khartoum, Sudan; Sharia el Gamhoria, P.O. Box 312, Khartoum, Sudan; Sharia el Murada, Khartoum, Sudan; Tayar Murad, P.O. Box 922, Khartoum, Sudan; Suk el Arabi, P.O. Box 4160, Khartoum, Sudan; University of Khartoum, Khartoum, Sudan; P.O. Box 12, Kosti, Sudan; P.O. Box 135, Nyala, Sudan; Rabak, Sudan; Rufaa, Sudan; Sawakin, Sudan; Shendi, Sudan; Singa, Sudan; Tamboul, Sudan; Tandalti, Sudan; Tokar, Sudan; Wadi Halfa, Sudan [SUDAN]

BANK OF KHARTOUM GROUP (a.k.a. BANK OF KHARTOUM), P.O. Box 1008, Khartoum, Sudan; P.O. Box 312, Khartoum, Sudan; P.O. Box 880, Khartoum, Sudan; P.O. Box 2732, Khartoum, Sudan; P.O. Box 408, Barlaman Ave., Khartoum, Sudan; P.O. Box 67, Omdurman, Sudan; P.O. Box 241, Port Sudan, Sudan; P.O. Box 131, Wad Medani, Sudan; Abu Hammad, Sudan; Abugaouta, Sudan; Assalaya, Sudan; P.O. Box 89, Atbara, Sudan; Berber, Sudan; Dongola, Sudan; El Daba, Sudan; El Dain, Sudan; El Damazeen, Sudan; El Damer, Sudan; El Dilling, Sudan; El Dinder, Sudan; El Fashir, Sudan; El Fow, Sudan; El Gadarit, Sudan; El Garia, Sudan; El Ghadder, Sudan; El Managil, Sudan; El Mazmoum, Sudan; P.O. Box 220, El Obeid, Sudan; El Rahad, Sudan; El Roseirs, Sudan; El Suk el Shabi, Sudan; Halfa el Gadida, Sudan; Karima, Sudan; Karkoug, Sudan; Kassala, Sudan; Omdurman P.O. Square, P.O. Box 341, Khartoum, Sudan; Sharia el Barlaman, P.O. Box 922, Khartoum, Sudan; Sharia el Gama'a, P.O. Box 880, Khartoum, Sudan; Sharia el Gamhoria, P.O. Box 312, Khartoum, Sudan; Sharia el Murada, Khartoum, Sudan; Tayar Murad, P.O. Box 922, Khartoum, Sudan; Suk el Arabi, P.O. Box 4160, Khartoum, Sudan; University of Khartoum, Khartoum, Sudan; P.O. Box 12, Kosti, Sudan; P.O. Box 135, Nyala, Sudan; Rabak, Sudan; Rufaa, Sudan; Sawakin, Sudan; Shendi, Sudan; Singa, Sudan; Tamboul, Sudan; Tandalti, Sudan; Tokar, Sudan; Wadi Halfa, Sudan [SUDAN]

BANK OF SUDAN, Sharia El Gamaa, P.O. Box 313, Khartoum, Sudan; Atbara, Sudan; P.O. Box 27, El Obeid, Sudan; P.O. Box 136, Juba, Sudan; P.O. Box 73, Kosti, Sudan; Nyala, Sudan; P.O. Box 34, Port Sudan, Sudan; Wad Medani, Sudan; Wau, Sudan [SUDAN]

BANOVIC, Predrag; DOB 28 Oct 1969; POB Prijedor, Bosnia-Herzegovina; ICTY indictee in custody (individual) [BALKANS]

BANQUE ARABE D'AFRIQUE DU NORD [BAAN] (a.k.a. BANQUE ARABE DU NORD-BAAN; a.k.a. N.A.I.B.; a.k.a. NORTH AFRICA INTERNATIONAL BANK; a.k.a. NORTH AFRICAN INTERNATIONAL BANK), P.O. Box 102, Le Belvedere, 1002 Tunis, Tunisia [LIBYA]

BANQUE ARABE D'AFRIQUE DU NORD [BAAN] (a.k.a. BANQUE ARABE DU NORD-BAAN; a.k.a. N.A.I.B.; a.k.a. NORTH AFRICA INTERNATIONAL BANK; a.k.a. NORTH AFRICAN INTERNATIONAL BANK), Avenue Kheireddine Pacha 25, Tunis, Tunisia [LIBYA]

BANQUE ARABE D'AFRIQUE DU NORD [BAAN] (a.k.a. BANQUE ARABE DU NORD-BAAN; a.k.a. N.A.I.B.; a.k.a. NORTH AFRICA INTERNATIONAL BANK; a.k.a. NORTH AFRICAN INTERNATIONAL BANK), 25 Avenue Khereddine Pacha, Tunis, Tunisia [LIBYA]

BANQUE ARABE D'AFRIQUE DU NORD [BAAN] (a.k.a. BANQUE ARABE DU NORD-BAAN; a.k.a. N.A.I.B.; a.k.a. NORTH AFRICA INTERNATIONAL BANK; a.k.a. NORTH AFRICAN INTERNATIONAL BANK), P.O. Box 485, 1080 Tunis Cedex, Tunisia [LIBYA]

BANQUE ARABE DU NORD-BAAN (a.k.a. BANQUE ARABE D'AFRIQUE DU NORD [BAAN]; a.k.a. N.A.I.B.; a.k.a. NORTH AFRICA INTERNATIONAL BANK; a.k.a. NORTH AFRICAN INTERNATIONAL BANK), P.O. Box 485, 1080 Tunis Cedex, Tunisia [LIBYA]

BANQUE ARABE DU NORD-BAAN (a.k.a. BANQUE ARABE D'AFRIQUE DU NORD [BAAN]; a.k.a. N.A.I.B.; a.k.a. NORTH AFRICA INTERNATIONAL BANK; a.k.a. NORTH AFRICAN INTERNATIONAL BANK), P.O. Box 102, Le Belvedere, 1002 Tunis, Tunisia [LIBYA]

BANQUE ARABE DU NORD-BAAN (a.k.a. BANQUE ARABE D'AFRIQUE DU NORD [BAAN]; a.k.a. N.A.I.B.; a.k.a. NORTH AFRICA INTERNATIONAL BANK; a.k.a. NORTH AFRICAN INTERNATIONAL BANK), Avenue Kheireddine Pacha 25, Tunis, Tunisia [LIBYA]

BANQUE ARABE DU NORD-BAAN (a.k.a. BANQUE ARABE D'AFRIQUE DU NORD [BAAN]; a.k.a. N.A.I.B.; a.k.a. NORTH AFRICA INTERNATIONAL BANK; a.k.a. NORTH AFRICAN INTERNATIONAL BANK), 25 Avenue Khereddine Pacha, Tunis, Tunisia [LIBYA]

BANQUE ARABE LIBYENNE BURKINABE POUR LE COMMERCE EXTERIEUR ET LE DEVELOPPEMENT, 1336 Avenue Nelson Mandela, Ouagadougou, Burkina Faso [LIBYA]

BANQUE ARABE LIBYENNE MALIENNE POUR LE COMMERCE EXTERIEUR ET LE DEVELOPPEMENT (a.k.a. BALIMA; a.k.a. BANQUE COMMERCIALE DU SAHEL; a.k.a. CHINGUETTY BANK), P.O. Box 2372, Bamako, Mali [LIBYA]

BANQUE ARABE LIBYENNE MAURITANIENNE POUR LE COMMERCE EXTERIEUR ET LE DEVELOPPEMENT (a.k.a. BALM), Jamal Abdulnasser Street, P.O. Box 262, Nouakchott, Mauritania [LIBYA]

BANQUE ARABE LIBYENNE NIGERIENNE POUR LE COMMERCE EXTERIEUR ET LE DEVELOPPEMENT (a.k.a. BALINEX; a.k.a. BANQUE COMMERCIALE DU NIGER; a.k.a. BCN), P.O. Box 11363, Niamey, Niger [LIBYA]

BANQUE ARABE LIBYENNE TOGOLAISE DU COMMERCE EXTERIEUR (a.k.a. BALTEX; a.k.a. SOCIETE INTERAFFRICAINE DU BANQUE), P.O. Box 4874, Lome, Togo [LIBYA]

BANQUE ARABE TUNISO-LIBYENNE DE DEVELOPPEMENT ET DE COMMERCE EXTERIEUR (a.k.a. B.T.L.), 25 Avenue Kheireddine Pacha, P.O. Box 102, 1002 Le Belvedere, Tunis, Tunisia [LIBYA]

BANQUE COMMERCIALE DU NIGER (a.k.a. BALINEX; a.k.a. BANQUE ARABE LIBYENNE NIGERIENNE POUR LE COMMERCE EXTERIEUR ET LE DEVELOPPEMENT; a.k.a. BCN), P.O. Box 11363, Niamey, Niger [LIBYA]

BANQUE COMMERCIALE DU SAHEL (a.k.a. BALIMA; a.k.a. BANQUE ARABE LIBYENNE MALIENNE POUR LE COMMERCE EXTERIEUR ET LE DEVELOPPEMENT), P.O. Box 2372, Bamako, Mali [LIBYA]

BANQUE INTERCONTINENTALE ARABE, 67, Avenue Franklin Roosevelt, 75008 Paris, France [LIBYA]

BANQUE TCHADO ARABE LIBYENNE, P.O. Box 104, N'Djamena, Chad [LIBYA]

BARACO CO. (a.k.a. AL-BARAKAT INTERNATIONAL), Box 2923, Dubai, U.A.E. [SDGT]

BARAKA TRADING COMPANY, P.O. Box 3313, Dubai, U.A.E. [SDGT]

BARAKAAT BANK OF SOMALIA (a.k.a. AL-BARAKAAT BANK OF SOMALIA; a.k.a. BBS), Bossaso, Somalia; Mogadishu, Somalia [SDGT]

BARAKAAT BOSTON, 266 Neponset Ave., Apt 43, Dorchester, Massachusetts 02122-3224, U.S.A. [SDGT]

BARAKAAT CONSTRUCTION COMPANY, P.O. Box 3313, Dubai, U.A.E. [SDGT]

BARAKAAT GLOBETELCOMPANY (a.k.a. AL-BARAKAT GLOBAL TELECOMMUNICATIONS), Hargeysa, Somalia; Mogadishu, Somalia; P.O. Box 3313, Dubai, U.A.E. [SDGT]

BARAKAAT GROUP OF COMPANIES, Mogadishu, Somalia; P.O. Box 3313, Dubai, U.A.E. [SDGT]

BARAKAAT INTERNATIONAL COMPANIES (BICO), Mogadishu, Somalia; Dubai, U.A.E. [SDGT]

BARAKAAT INTERNATIONAL FOUNDATION, P.O. Box 4036, Spanga, Sweden; Rinkebytorget 1, Spanga 04, Sweden [SDGT]

BARAKAAT INTERNATIONAL, Hallbybacken 15, Spanga 70, Sweden [SDGT]

BARAKAAT INTERNATIONAL, INC., 1929 South 5th Street, Suite 205, Minneapolis, Minnesota, U.S.A. [SDGT]

BARAKAAT NORTH AMERICA, INC., 2019 Bank St., Ottawa, Ontario, Canada; 925 Washington St., Dorchester, Massachusetts, U.S.A. [SDGT]

BARAKAAT RED SEA TELECOMMUNICATIONS, Ala Aamin, Somalia; Bossaso, Somalia; Bubaarag, Somalia; Carafaat, Somalia; Gufure, Somalia; Guureeye, Somalia; Huruuse, Somalia; Kowthar, Somalia; Najax, Somalia; Nakhiil, Somalia; Noobir, Somalia; Raxmo, Somalia; Ticis, Somalia; Xuuxuule, Somalia [SDGT]

BARAKAAT TELECOMMUNICATIONS COMPANY LIMITED (a.k.a. BTELCO), Bakara Market, Dar Salaam Buildings, Mogadishu, Somalia; last known address, The Netherlands [SDGT]

BARAKAAT TELECOMMUNICATIONS COMPANY SOMALIA, LIMITED, P.O. Box 3313, Dubai, U.A.E. [SDGT]

BARAKAT BANK AND REMITTANCES, Mogadishu, Somalia; Dubai, U.A.E. [SDGT]

BARAKAT COMPUTER CONSULTING (BCC), Mogadishu, Somalia [SDGT]

BARAKAT COMSULTING GROUP (BCG), Mogadishu, Somalia [SDGT]

BARAKAT GLOBAL TELEPHONE COMPANY, Mogadishu, Somalia; Dubai, U.A.E. [SDGT]

BARAKAT POST EXPRESS (BPE), Mogadishu, Somalia [SDGT]

BARAKAT REFRESHMENT COMPANY, Mogadishu, Somalia; Dubai, U.A.E. [SDGT]

BARAKAT WIRE TRANSFER COMPANY, 4419 S. Brandon St., Seattle, Washington, U.S.A. [SDGT]

BARAKO TRADING COMPANY LLC, P.O. Box 3313, Dubai, U.A.E. [SDGT]

BARCO RUIZ, Eduardo, c/o FOGENSA S.A., Bogota, Colombia; DOB 26 May 1945; Passport 5562182 (Colombia); Cedula No. 5562182 (Colombia) (individual) [SDNT]

BARON DIAZ, Carlos Arturo, c/o DISTRIBUIDORA MIGIL LTDA., Cali, Colombia; c/o GRACADAL S.A., Cali, Colombia; Cedula No. 49994 (Colombia) (individual) [SDNT]

BARONA, Fernando, c/o DISMERCOOP, Cali, Colombia; Cedula No. 16688872 (Colombia) (individual) [SDNT]

BAROON SHIPPING COMPANY LIMITED, Haven Court, 5 Library Ramp, Gibraltar [IRAQ]

BARRIOS, Alba Lucia, Los Alcazares Bloq. 93 Ap. 402, Cali, Colombia; c/o CREDIREBAJA S.A., Cali, Colombia; c/o POLIEMPAQUES S.A., Cali, Colombia; c/o SONAR F.M. E.U. DIETER MURRLE, Cali, Colombia; c/o SONAR F.M. S.A., Cali, Colombia; Cedula No. 38853130 (Colombia) (individual) [SDNT]

BARRIOS SENIOR, Jario Ascanio, c/o PENTACOOP LTDA., Bogota, Colombia; Cedula No. 8723099 (Colombia) (individual) [SDNT]

BASAYEV, Shamil Salmanovich; DOB 14 Jan 1965; POB Dyshni-Vedeno, Chechnya; Passport No. 623334 (Russia) (individual) [SDGT]

BASEVIC, Dragan; DOB 2 Mar 1976; POB Belgrade, Serbia (individual) [BALKANS]

BASQUE FATHERLAND AND LIBERTY (a.k.a. ASKATASUNA; a.k.a. BATASUNA; a.k.a. EKIN; a.k.a. ETA; a.k.a. EUSKAL HERRITARROK; a.k.a. EUZKADI TA ASKATASUNA; a.k.a. HERRI BATASUNA; a.k.a. JARRAI-HAIKA-SEGI; a.k.a. K.A.S.; a.k.a. XAKI) [FTO][SDGT]

BATASUNA (a.k.a. ASKATASUNA; a.k.a. BASQUE FATHERLAND AND LIBERTY; a.k.a. EKIN; a.k.a. ETA; a.k.a. EUSKAL HERRITARROK; a.k.a. EUZKADI TA ASKATASUNA; a.k.a. HERRI BATASUNA; a.k.a. JARRAI-HAIKA-SEGI; a.k.a. K.A.S.; a.k.a. XAKI) [FTO][SDGT]

BATISTA, Miguel, Panama (individual) [CUBA]

BAY INDUSTRIES, INC., 10100 Santa Monica Boulevard, Santa Monica, California, U.S.A. [IRAQ]

BBS (a.k.a. AL-BARAKAAT BANK OF SOMALIA; BARAKAAT BANK OF SOMALIA), Bossaso, Somalia; Mogadishu, Somalia [SDGT]

BCN (a.k.a. BALINEX; a.k.a. BANQUE ARABE LIBYENNE NIGERIENNE POUR LE COMMERCE EXTERIEUR ET LE DEVELOPPEMENT; a.k.a. BANQUE COMMERCIALE DU NIGER; a.k.a. BCN), P.O. Box 11363, Niamey, Niger [LIBYA]

BECERRA BECERRA, Alvaro, c/o AGROPECUARIA LA ROBLEDA LTDA., Cali, Colombia; Cedula No. 2730788 (Colombia) (individual) [SDNT]

BECERRA, Martin (a.k.a. BECERRA MIRELES, Martin; a.k.a. MACHERBE, Oscar; a.k.a. MAHERBE, Oscar; a.k.a. MAHLERBE, Oscar; a.k.a. MAHLERBE, Polo; a.k.a. MALARBE, Oscar; a.k.a. MALERBE, Oscar; a.k.a. MALERHBE DE LEON, Oscar; a.k.a. MALERVA, Oscar; a.k.a. MALHARBE DE LEON, Oscar; a.k.a. MALHERBE DE LEON, Oscar; a.k.a. MALHERBE DELEON, Oscar; a.k.a. MALMERBE, Oscar; a.k.a. MELARBE, Oscar; a.k.a. NALHERBE, Oscar; a.k.a. QALHARBE DE LEON, Oscar; a.k.a. VARGAS, Jorge); DOB 10 Jan 1964; POB Mexico (individual) [SDNTK]

BECERRA MIRELES, Martin (a.k.a. BECERRA, Martin; a.k.a. MACHERBE, Oscar; a.k.a. MAHERBE, Oscar; a.k.a. MAHLERBE, Oscar; a.k.a. MAHLERBE, Polo; a.k.a. MALARBE, Oscar; a.k.a. MALERBE, Oscar; a.k.a. MALERHBE DE LEON, Oscar; a.k.a. MALERVA, Oscar; a.k.a. MALHARBE DE LEON, Oscar; a.k.a. MALHERBE DE LEON, Oscar; a.k.a. MALHERBE DELEON, Oscar; a.k.a. MALMERBE, Oscar; a.k.a. MELARBE, Oscar; a.k.a. NALHERBE, Oscar; a.k.a. QALHARBE DE LEON, Oscar; a.k.a. VARGAS, Jorge); DOB 10 Jan 1964; POB Mexico (individual) [SDNTK]

BECF CHARITABLE EDUCATIONAL CENTER (a.k.a. BENEVOLENCE EDUCATIONAL CENTER; a.k.a. BIF-BOSNIA; a.k.a. BOSANSKA IDEALNA FUTURA; a.k.a. BOSNIAN IDEAL FUTURE), Salke Lagumdzije 12, 71000 Sarajevo, Bosnia-Herzegovina; Hadzije Mazica Put 16F, 72000 Zenica, Bosnia-Herzegovina; Sehidska Street, Breza, Bosnia-Herzegovina; Kanal 1, 72000 Zenica, Bosnia-Herzegovina; Hamze Celenke 35, Ilidza, Sarajevo, Bosnia-Herzegovina [SDGT]

BECHARA SIMANCA, Salim, c/o SOCOVALLE, Cali, Colombia; DOB 26 Jul 1950; Cedula No. 19163957 (Colombia) (individual) [SDNT]

BEDOYA DE SANCLEMENTE, Maria Ninive, c/o DISTRIBUCIONES GLOMIL LTDA., Cali, Colombia; DOB 13 Jul 1938; Passport 29645304 (Colombia); NIT # 29645304-8 (Colombia); Cedula No. 29645304 (Colombia) (individual) [SDNT]

BEIRA-MAR, Fernandinho (a.k.a. DA COSTA, Luis Fernando); DOB 4 Jul 1967; POB Rio de Janeiro, Brazil (individual) [SDNTK]

BEIT AL MAL HOLDINGS (a.k.a. ARAB PALESTINIAN BEIT EL-MAL COMPANY; a.k.a. BEIT EL MAL AL-PHALASTINI AL-ARABI AL-MUSHIMA AL-AAMA AL-MAHADUDA LTD.; a.k.a. BEIT EL-MAL HOLDINGS; a.k.a. PALESTINIAN ARAB BEIT EL MAL CORPORATION, LTD.), P.O. Box 662, Ramallah, West Bank [SDT] [SDGT]

BEIT EL MAL AL-PHALASTINI AL-ARABI AL-MUSHIMA AL-AAMA AL-MAHADUDA LTD. (a.k.a. ARAB PALESTINIAN BEIT EL-MAL COMPANY; a.k.a. BEIT AL MAL HOLDINGS; a.k.a. BEIT EL-MAL HOLDINGS; a.k.a. PALESTINIAN ARAB BEIT EL MAL CORPORATION, LTD.), P.O. Box 662, Ramallah, West Bank [SDT] [SDGT]

BEIT EL-MAL HOLDINGS (a.k.a. ARAB PALESTINIAN BEIT EL-MAL COMPANY; a.k.a. BEIT AL MAL HOLDINGS; a.k.a. BEIT EL MAL AL-PHALASTINI AL-ARABI AL-MUSHIMA AL-AAMA AL-MAHADUDA LTD.; a.k.a. PALESTINIAN ARAB BEIT EL MAL CORPORATION, LTD.), P.O. Box 662, Ramallah, West Bank [SDT] [SDGT]

BELMEX IMPORT EXPORT CO., LTD., 24 Corner Regent and Kings Streets, Belize City, Belize [CUBA]

BELMOKHTAR, Mokhtar; DOB 1 Jun 1972; POB Ghardaia, Algeria (individual) [SDGT]

BELTRAN RODRIGUEZ, Alvaro, c/o CAJA SOLIDARIA, Bogota, Colombia; c/o COOPCREAR, Bogota, Colombia; DOB 10 Aug 1970; Passport 79139759 (Colombia); Cedula No. 79139759 (Colombia) (individual) [SDNT]

BEN ABDELHAKIM, Cherif Said (a.k.a. Abou Salman; a.k.a. “Djallal;” a.k.a. “Youcef”), “last known address,” Corso Lodi 59, Milan, Italy; DOB 25 Jan 1970; POB Menzel Temine, Tunisia; nationality Tunisian; arrested 30 Sep 2002 (individual) [SDGT]

BEN HENI, Lased; DOB 5 Feb 1969; POB Libya (individual) [SDGT]

BEN SOLTANE, Adel, Via Latisana n. 6, Milan, Italy; DOB 14 Jul 1970; POB Tunis, Tunisia; Italian Fiscal Code: BNSDLA70L14Z352B (individual) [SDGT]

BENATTIA, Nabil; DOB 11 May 1966; POB Tunis, Tunisia (individual) [SDGT]

BENAVIDEZ CHAVEZ, Alvaro Higinio, Carrera 8N No. 17A-12, Cartago, Colombia; c/o AGROPECUARIA MIRALINDO S.A., Cartago, Colombia; c/o ARIZONA S.A., Cartago, Colombia; DOB 1 Feb 1971; Passport 94295393 (Colombia); Cedula No. 94295393 (Colombia) (individual) [SDNT]

BENDEBKA, L'Hadi (a.k.a. ABD AL HADI; a.k.a. HADI), Via Garibaldi, 70, San Zenone al Po, Pavia, Italy; Via Manzoni, 33, Cinisello Balsamo, Milan, Italy; DOB 17 Nov 1963; POB Algiers Algeria (individual) [SDGT]

BENEVOLENCE COMMITTEE FOR SOLDARITY WITH PALESTINE (a.k.a. AL AQSA ASSISTANCE CHARITABLE COUNCIL; a.k.a. AL-LAJNA AL-KHAYRIYYA LIL MUNASARA AL-AQSA; a.k.a. BENEVOLENT COMMITTEE FOR SUPPORT OF PALESTINE; a.k.a. CBSP; a.k.a. CHARITABLE COMMITTEE FOR PALESTINE; a.k.a. CHARITABLE COMMITTEE FOR SOLIDARITY WITH PALESTINE; a.k.a. CHARITABLE COMMITTEE FOR SUPPORTING PALESTINE; a.k.a. CHARITABLE ORGANIZATION IN SUPPORT OF PALESTINE; n.k.a. COMITE' DE BIENFAISANCE ET DE SECOURS AUX PALESTINIENS; f.k.a. COMITE' DE BIENFAISANCE POUR LA SOLIDARITE' AVEC LA PALESTINE; a.k.a. COMMITTEE FOR AID AND SOLIDARITY WITH PALESTINE; a.k.a. COMMITTEE FOR ASSISTANCE AND SOLIDARITY WITH PALESTINE; a.k.a. COMMITTEE FOR CHARITY AND SOLIDARITY WITH PALESTINE; a.k.a. COMPANIE BENIFICENT DE SOLIDARITE AVEC PALESTINE; a.k.a. COUNCIL OF CHARITY AND SOLIDARITY; a.k.a. DE BIENFAISANCE ET DE COMMITE LE SOLIDARITE AVEC LA PALESTINE; a.k.a. RELIEF COMMITTEE FOR SOLIDARITY WITH PALESTINE), 68 Rue Jules Guesde, 59000 Lille, France; 10 Rue Notre Dame, 69006 Lyon, France; 37 Rue de la Chapelle, 75018 Paris, France [SDGT]

BENEVOLENCE EDUCATIONAL CENTER (a.k.a. BECF CHARITABLE EDUCATIONAL CENTER; a.k.a. BIF-BOSNIA; a.k.a. BOSANSKA IDEALNA FUTURA; a.k.a. BOSNIAN IDEAL FUTURE), Salke Lagumdzije 12, 71000 Sarajevo, Bosnia-Herzegovina; Hadzije Mazica Put 16F, 72000 Zenica, Bosnia-Herzegovina; Sehidska Street, Breza, Bosnia-Herzegovina; Kanal 1, 72000 Zenica, Bosnia-Herzegovina; Hamze Celenke 35, Ilidza, Sarajevo, Bosnia-Herzegovina [SDGT]

BENEVOLENCE INTERNATIONAL FOUNDATION (a.k.a. AL BIR AL DAWALIA; a.k.a. BIF; a.k.a. BIF-USA; a.k.a. MEZHDUNARODNYJ BLAGOTVORITEL'NYJ FOND), 8820 Mobile Avenue, 1A, Oak Lawn, IL 60453, U.S.A.; P.O. Box 548, Worth, IL 60482, U.S.A.; formerly at 9838 S. Roberts Road, Suite 1W, Palos Hills, IL 60465, U.S.A.; formerly at 20-24 Branford Place, Suite 705, Newark, NJ 07102, U.S.A.; Bashir Safar Ugli 69, Baku, Azerbaijan; 69 Boshir Safaroglu St., Baku, Azerbaijan; Sarajevo, Bosnia-Herzegovina; Zenica, Bosnia-Herzegovina; “last known address,” 3 King Street, South Waterloo, Ontario, N2J 3Z6 Canada; “last known address,” P.O. Box 1508 Station B, Mississauga, Ontario, L4Y 4G2 Canada; “last known address,” 2465 Cawthra Rd., #203, Mississauga, Ontario, L5A 3P2 Canada; Ottawa, Canada; Grozny, Chechnya; 91 Paihonggou, Lanzhou, Gansu, China 730000; Hrvatov 30, 41000, Zagreb, Croatia; Makhachkala, Daghestan; Duisi, Georgia; Tbilisi, Georgia; Nazran, Ingushetia; Burgemeester Kessensingel 40, Maastricht, Netherlands; House 111, First Floor, Street 64, F-10/3, Islamabad, Pakistan; P.O. Box 1055, Peshawar, Pakistan; Azovskaya 6, km. 3, off. 401, Moscow, Russia 113149; Ulitsa Oktyabr'skaya, dom. 89, Moscow, Russia 127521; P.O. Box 1937, Khartoum, Sudan; P.O. Box 7600, Jeddah 21472, Saudi Arabia; P.O. Box 10845, Riyadh 11442, Saudi Arabia; Dushanbe, Tajikistan; United Kingdom; Afghanistan; Bangladesh; Bosnia-Herzegovina; Gaza Strip; Yemen; U.S. FEIN: 36-3823186 [SDGT]

BENEVOLENCE INTERNATIONAL FUND (a.k.a. BENEVOLENT INTERNATIONAL FUND; a.k.a. BIF-CANADA), “last known address,” 2465 Cawthra Rd., Unit 203, Mississauga, Ontario, L5A 3P2 Canada; “last known address,” P.O. Box 1508, Station B, Mississauga, Ontario, L4Y 4G2 Canada; “last known address,” P.O. Box 40015, 75 King Street South, Waterloo, Ontario, N2J 4V1 Canada; “last known address,” 92 King Street, 201, Waterloo, Ontario, N2J 1P5 Canada [SDGT]

BENEVOLENCE INTERNATIONAL NEDERLAND (a.k.a. STG. BENEVOLENCE INTERNATIONAL NEDERLAND; a.k.a. STICHTING BENEVOLENCE INTERNATIONAL NEDERLAND), Radeborg 14 B, 6228CV Maastricht, Netherlands; Postbus 1149, 6201BC Maastricht, Netherlands; Registration No. 14063277 [SDGT]

BENEVOLENT COMMITTEE FOR SUPPORT OF PALESTINE (a.k.a. AL AQSA ASSISTANCE CHARITABLE COUNCIL; a.k.a. AL-LAJNA AL-KHAYRIYYA LIL MUNASARA AL-AQSA; a.k.a. BENEVOLENCE COMMITTEE FOR SOLDARITY WITH PALESTINE; a.k.a. CBSP; a.k.a. CHARITABLE COMMITTEE FOR PALESTINE; a.k.a. CHARITABLE COMMITTEE FOR SOLIDARITY WITH PALESTINE; a.k.a. CHARITABLE COMMITTEE FOR SUPPORTING PALESTINE; a.k.a. CHARITABLE ORGANIZATION IN SUPPORT OF PALESTINE; n.k.a. COMITE' DE BIENFAISANCE ET DE SECOURS AUX PALESTINIENS; f.k.a. COMITE' DE BIENFAISANCE POUR LA SOLIDARITE' AVEC LA PALESTINE; a.k.a. COMMITTEE FOR AID AND SOLIDARITY WITH PALESTINE; a.k.a. COMMITTEE FOR ASSISTANCE AND SOLIDARITY WITH PALESTINE; a.k.a. COMMITTEE FOR CHARITY AND SOLIDARITY WITH PALESTINE; a.k.a. COMPANIE BENIFICENT DE SOLIDARITE AVEC PALESTINE; a.k.a. COUNCIL OF CHARITY AND SOLIDARITY; a.k.a. DE BIENFAISANCE ET DE COMMITE LE SOLIDARITE AVEC LA PALESTINE; a.k.a. RELIEF COMMITTEE FOR SOLIDARITY WITH PALESTINE), 68 Rue Jules Guesde, 59000 Lille, France; 10 Rue Notre Dame, 69006 Lyon, France; 37 Rue de la Chapelle, 75018 Paris, France [SDGT]

BENEVOLENT INTERNATIONAL FUND (a.k.a. BENEVOLENCE INTERNATIONAL FUND; a.k.a. BIF-CANADA), “last known address,” 2465 Cawthra Rd., Unit 203, Mississauga, Ontario, L5A 3P2 Canada; “last known address,” P.O. Box 1508, Station B, Mississauga, Ontario, L4Y 4G2 Canada; “last known address,” P.O. Box 40015, 75 King Street South, Waterloo, Ontario, N2J 4V1 Canada; “last known address,” 92 King Street, 201, Waterloo, Ontario, N2J 1P5 Canada [SDGT]

BENGHAZI CEMENT PLANT, Libya [LIBYA]

BENGHAZI EST. FOR BUILDING AND CONSTRUCTION, P.O. Box 2118, Benghazi, Libya [LIBYA]

BENGHAZI LIME PLANT, Libya [LIBYA]

BENGHAZI PAPER BAGS PLANT, Libya [LIBYA]

BENGHAZI TANNERY, Libya [LIBYA]

BENITEZ CASTELLANOS, Cesar Tulio, Carrera 65 No. 13B-82, Cali, Colombia; c/o COMUNICACION VISUAL LTDA., Cali, Colombia; c/o D'CACHE S.A., Cali, Colombia; c/o DROGAS LA REBAJA, Cali, Colombia; c/o INVERSIONES MONDRAGON Y CIA. S.C.S., Cali, Colombia; c/o INVERSIONES Y CONSTRUCCIONES ABC S.A., Cali, Colombia; c/o RIONAP COMERCIOS Y REPRESENTACIONES S.A., Quito, Ecuador; Cedula No. 14969366 (Colombia) (individual) [SDNT]

BENITEZ SANCHEZ, Jose Arturo, c/o AMERICANA DE COSMETICOS S.A., Bogota, Colombia; c/o COSMEPOP, Bogota, Colombia; c/o DISTRIEXPORT S.A., Bogota, Colombia; c/o MAPRI DE COLOMBIA LTDA., Bogota, Colombia; Passport 10276819 (Colombia); Cedula No. 10276819 (Colombia) (individual) [SDNT]

BEQIRI, Hidajet (a.k.a. BEQIRI, Idajet); DOB 20 Feb 1951; POB Mallakaster Fier, Albania (individual) [BALKANS]

BEQIRI, Idajet (a.k.a. BEQIRI, Hidajet); DOB 20 Feb 1951; POB Mallakaster Fier, Albania (individual) [BALKANS]

BERASATEGUI ESCUDERO, Ismael; member ETA; DOB 15 Jun 1969; POB Eibar (Guipuzcoa Province), Spain; D.N.I. 15.379.555 (individual) [SDGT]

BERRUIEN, Dr. Nuri Abdalla, c/o ARABIAN GULF OIL COMPANY, P.O. Box 263, Benghazi, Libya; DOB 18 Mar 46 (individual) [LIBYA]

BETTINA SHIPPING CO., LTD., c/o EMPRESA DE NAVIGACION MAMBISA, Apartado 543, San Ignacio 104, Havana, Cuba [CUBA]

BEWELL CORPORATION, INC., Panama [CUBA]

BEXHETI, Nuri; DOB 1962; POB Tetovo, Macedonia (individual) [BALKANS]

BIF (a.k.a. AL BIR AL DAWALIA; a.k.a. BENEVOLENCE INTERNATIONAL FOUNDATION; a.k.a. BIF-USA; a.k.a. MEZHDUNARODNYJ BLAGOTVORITEL'NYJ FOND), 8820 Mobile Avenue, 1A, Oak Lawn, IL 60453, U.S.A.; P.O. Box 548, Worth, IL 60482, U.S.A.; formerly at 9838 S. Roberts Road, Suite 1W, Palos Hills, IL 60465, U.S.A.; formerly at 20-24 Branford Place, Suite 705, Newark, NJ 07102, U.S.A.; Bashir Safar Ugli 69, Baku, Azerbaijan; 69 Boshir Safaroglu St., Baku, Azerbaijan; Sarajevo, Bosnia-Herzegovina; Zenica, Bosnia-Herzegovina; “last known address,” 3 King Street, South Waterloo, Ontario, N2J 3Z6 Canada; “last known address,” P.O. Box 1508 Station B, Mississauga, Ontario, L4Y 4G2 Canada; “last known address,” 2465 Cawthra Rd., #203, Mississauga, Ontario, L5A 3P2 Canada; Ottawa, Canada; Grozny, Chechnya; 91 Paihonggou, Lanzhou, Gansu, China 730000; Hrvatov 30, 41000, Zagreb, Croatia; Makhachkala, Daghestan; Duisi, Georgia; Tbilisi, Georgia; Nazran, Ingushetia; Burgemeester Kessensingel 40, Maastricht, Netherlands; House 111, First Floor, Street 64, F-10/3, Islamabad, Pakistan; P.O. Box 1055, Peshawar, Pakistan; Azovskaya 6, km. 3, off. 401, Moscow, Russia 113149; Ulitsa Oktyabr'skaya, dom. 89, Moscow, Russia 127521; P.O. Box 1937, Khartoum, Sudan; P.O. Box 7600, Jeddah 21472, Saudi Arabia; P.O. Box 10845, Riyadh 11442, Saudi Arabia; Dushanbe, Tajikistan; United Kingdom; Afghanistan; Bangladesh; Bosnia-Herzegovina; Gaza Strip; Yemen; U.S. FEIN: 36-3823186 [SDGT]

BIF-BOSNIA (a.k.a. BECF CHARITABLE EDUCATIONAL CENTER; a.k.a. BENEVOLENCE EDUCATIONAL CENTER; a.k.a. BOSANSKA IDEALNA FUTURA; a.k.a. BOSNIAN IDEAL FUTURE), Salke Lagumdzije 12, 71000 Sarajevo, Bosnia-Herzegovina; Hadzije Mazica Put 16F, 72000 Zenica, Bosnia-Herzegovina; Sehidska Street, Breza, Bosnia-Herzegovina; Kanal 1, 72000 Zenica, Bosnia-Herzegovina; Hamze Celenke 35, Ilidza, Sarajevo, Bosnia-Herzegovina [SDGT]

BIF-CANADA (a.k.a. BENEVOLENCE INTERNATIONAL FUND; a.k.a. BENEVOLENT INTERNATIONAL FUND), “last known address,” 2465 Cawthra Rd., Unit 203, Mississauga, Ontario, L5A 3P2 Canada; “last known address,” P.O. Box 1508, Station B, Mississauga, Ontario, L4Y 4G2 Canada; “last known address,” P.O. Box 40015, 75 King Street South, Waterloo, Ontario, N2J 4V1 Canada; “last known address,” 92 King Street, 201, Waterloo, Ontario, N2J 1P5 Canada [SDGT]

BIF-USA (a.k.a. AL BIR AL DAWALIA; a.k.a. BENEVOLENCE INTERNATIONAL FOUNDATION; a.k.a. BIF; a.k.a. MEZHDUNARODNYJ BLAGOTVORITEL'NYJ FOND), 8820 Mobile Avenue, 1A, Oak Lawn, IL 60453, U.S.A.; P.O. Box 548, Worth, IL 60482, U.S.A.; formerly at 9838 S. Roberts Road, Suite 1W, Palos Hills, IL 60465, U.S.A.; formerly at 20-24 Branford Place, Suite 705, Newark, NJ 07102, U.S.A.; Bashir Safar Ugli 69, Baku, Azerbaijan; 69 Boshir Safaroglu St., Baku, Azerbaijan; Sarajevo, Bosnia-Herzegovina; Zenica, Bosnia-Herzegovina; “last known address,” 3 King Street, South Waterloo, Ontario, N2J 3Z6 Canada; “last known address,” P.O. Box 1508 Station B, Mississauga, Ontario, L4Y 4G2 Canada; “last known address,” 2465 Cawthra Rd., #203, Mississauga, Ontario, L5A 3P2 Canada; Ottawa, Canada; Grozny, Chechnya; 91 Paihonggou, Lanzhou, Gansu, China 730000; Hrvatov 30, 41000, Zagreb, Croatia; Makhachkala, Daghestan; Duisi, Georgia; Tbilisi, Georgia; Nazran, Ingushetia; Burgemeester Kessensingel 40, Maastricht, Netherlands; House 111, First Floor, Street 64, F-10/3, Islamabad, Pakistan; P.O. Box 1055, Peshawar, Pakistan; Azovskaya 6, km. 3, off. 401, Moscow, Russia 113149; Ulitsa Oktyabr'skaya, dom. 89, Moscow, Russia 127521; P.O. Box 1937, Khartoum, Sudan; P.O. Box 7600, Jeddah 21472, Saudi Arabia; P.O. Box 10845, Riyadh 11442, Saudi Arabia; Dushanbe, Tajikistan; United Kingdom; Afghanistan; Bangladesh; Bosnia-Herzegovina; Gaza Strip; Yemen; U.S. FEIN: 36-3823186 [SDGT]

BIN ABAS, Mohammed Nasir (a.k.a. “Khairuddin;” a.k.a. “Soliman;” a.k.a. ABAS, Mohamad Nasir; a.k.a. ABAS, Nasir; a.k.a. BIN ABAS, Sulaiman); DOB 6 May 1969; nationality Malaysian (individual) [SDGT]

BIN ABAS, Sulaiman (a.k.a. “Khairuddin;” a.k.a. “Soliman;” a.k.a. ABAS, Mohamad Nasir; a.k.a. ABAS, Nasir; a.k.a. BIN ABAS, Mohammed Nasir); DOB 6 May 1969; nationality Malaysian (individual) [SDGT]

BIN AHAD, Rony Azad (a.k.a. “Abu Sa'ad;” a.k.a. “Abu Saad;” a.k.a. AL GHOZI, Fathur Rahman; a.k.a. AL GHOZI, Fathur Rohman; a.k.a. AL-GHOZI, Fathur Rahman; a.k.a. AL-GHOZI, Fathur Rohman; a.k.a. AL-GOZHI, Fathur Rahman; a.k.a. AL-GOZHI, Fathur Rohman; a.k.a. AL-GOZI, Fathur Rahman; a.k.a. AL-GOZI, Fathur Rohman; a.k.a. ALGHOZI, Fathur Rahman; a.k.a. ALGHOZI, Fathur Rohman; a.k.a. ALI, Randy; a.k.a. ALIH, Randy; a.k.a. ALIH, Randy Adam; a.k.a. AZAD, Rony; a.k.a. BIN AHMAD, Rony Azad; a.k.a. BIN AMAD, Rony Azad; a.k.a. EDRIS, Anwar Rodin; a.k.a. “Freedom Fighter;” a.k.a. JAMIL, Sammy Sali; a.k.a. JAMIL, Sammy Salih; a.k.a. RANDY, Alih); DOB 17 Feb 1971; POB Madiun, East Java, Indonesia; Passport No. GG 672613 (Philippines); nationality Indonesian (individual) [SDGT]

BIN AHMAD, Rony Azad (a.k.a. “Abu Sa'ad;” a.k.a. “Abu Saad;” a.k.a. AL GHOZI, Fathur Rahman; a.k.a. AL GHOZI, Fathur Rohman; a.k.a. AL-GHOZI, Fathur Rahman; a.k.a. AL-GHOZI, Fathur Rohman; a.k.a. AL-GOZHI, Fathur Rahman; a.k.a. AL-GOZHI, Fathur Rohman; a.k.a. AL-GOZI, Fathur Rahman; a.k.a. AL-GOZI, Fathur Rohman; a.k.a. ALGHOZI, Fathur Rahman; a.k.a. ALGHOZI, Fathur Rohman; a.k.a. ALI, Randy; a.k.a. ALIH, Randy; a.k.a. ALIH, Randy Adam; a.k.a. AZAD, Rony; a.k.a. BIN AHAD, Rony Azad; a.k.a. BIN AMAD, Rony Azad; a.k.a. EDRIS, Anwar Rodin; a.k.a. “Freedom Fighter;” a.k.a. JAMIL, Sammy Sali; a.k.a. JAMIL, Sammy Salih; a.k.a. RANDY, Alih); DOB 17 Feb 1971; POB Madiun, East Java, Indonesia; Passport No. GG 672613 (Philippines); nationality Indonesian (individual) [SDGT]

BIN AL SHIBH, Ramzi (a.k.a. BINALSHEIDAH, Ramzi Mohamed Abdullah; BINALSHIBH, Ramzi Mohammed Abdullah; a.k.a. OMAR, Ramzi Mohammed Abdellah), Billstedter Hauptstr Apt 14, 22111 Hamburg, Germany; Emil Anderson Strasse 5, 22073 Hamburg, Germany; Letzte Heller #109 Hamburg University, 22111 Hamburg, Germany; Marienstr #54, 21073 Hamburg, Germany; Schleemer Ring 2, 22117 Hamburg, Germany; DOB 16 Sep 1973; alt. DOB 1 May 1972; POB Khartoum, Sudan; alt. POB Hadramawt, Yemen; Passport Nos. A755350 (Saudi Arabia), R85243 (Yemen), 00085243 (Yemen); nationality Yemeni (individual) [SDGT]

BIN AMAD, Rony Azad (a.k.a. “Abu Sa'ad;” a.k.a. “Abu Saad;” a.k.a. AL GHOZI, Fathur Rahman; a.k.a. AL GHOZI, Fathur Rohman; a.k.a. AL-GHOZI, Fathur Rahman; a.k.a. AL-GHOZI, Fathur Rohman; a.k.a. AL-GOZHI, Fathur Rahman; a.k.a. AL-GOZHI, Fathur Rohman; a.k.a. AL-GOZI, Fathur Rahman; a.k.a. AL-GOZI, Fathur Rohman; a.k.a. ALGHOZI, Fathur Rahman; a.k.a. ALGHOZI, Fathur Rohman; a.k.a. ALI, Randy; a.k.a. ALIH, Randy; a.k.a. ALIH, Randy Adam; a.k.a. AZAD, Rony; a.k.a. BIN AHAD, Rony Azad; a.k.a. BIN AHMAD, Rony Azad; a.k.a. EDRIS, Anwar Rodin; a.k.a. “Freedom Fighter;” a.k.a. JAMIL, Sammy Sali; a.k.a. JAMIL, Sammy Salih; a.k.a. RANDY, Alih); DOB 17 Feb 1971; POB Madiun, East Java, Indonesia; Passport No. GG 672613 (Philippines); nationality Indonesian (individual) [SDGT]

BIN HUSAN, Azahari (a.k.a. BIN HUSIN, Azahari; a.k.a. HUSIN, Azahari); DOB 14 Sep 1957; POB Malaysia; nationality Malaysian (individual) [SDGT]

BIN HUSIN, Azahari (a.k.a. BIN HUSAN, Azahari; a.k.a. HUSIN, Azahari); DOB 14 Sep 1957; POB Malaysia; nationality Malaysian (individual) [SDGT]

BIN KHALID, Fahd Bin Adballah (a.k.a. MOHAMMED, Khalid Shaikh; a.k.a. ALI, Salem; a.k.a. HENIN, Ashraf Refaat Nabith; a.k.a. WADOOD, Khalid Adbul); DOB 14 Apr 1965; alt. DOB 1 Mar 1964; POB Kuwait; citizen Kuwait (individual) [SDGT]

BIN LADEN, Osama (a.k.a. BIN LADIN, Usama bin Muhammad bin Awad; a.k.a. BIN LADEN, Usama; a.k.a. BIN LADIN, Osama; a.k.a. BIN LADIN, Osama bin Muhammad bin Awad; a.k.a. BIN LADIN, Usama), Afghanistan; DOB 30 Jul 57; Alt. DOB 1958; POB Jeddah, Saudi Arabia; Alt. POB Yemen (individual) [SDT] [SDGT]

BIN LADEN, Usama (a.k.a. BIN LADIN, Usama bin Muhammad bin Awad; a.k.a. BIN LADEN, Osama; a.k.a. BIN LADIN, Osama; a.k.a. BIN LADIN, Osama bin Muhammad bin Awad; a.k.a. BIN LADIN, Usama), Afghanistan; DOB 30 Jul 57; Alt. DOB 1958; POB Jeddah, Saudi Arabia; Alt. POB Yemen (individual) [SDT] [SDGT]

BIN LADIN, Osama (a.k.a. BIN LADIN, Usama bin Muhammad bin Awad; a.k.a. BIN LADEN, Osama; a.k.a. BIN LADEN, Usama; a.k.a. BIN LADIN, Osama bin Muhammad bin Awad; a.k.a. BIN LADIN, Usama), Afghanistan; DOB 30 Jul 57; Alt. DOB 1958; POB Jeddah, Saudi Arabia; Alt. POB Yemen (individual) [SDT] [SDGT]

BIN LADIN, Osama bin Muhammad bin Awad (a.k.a. BIN LADIN, Usama bin Muhammad bin Awad; a.k.a. BIN LADEN, Osama; a.k.a. BIN LADEN, Usama; a.k.a. BIN LADIN, Osama; a.k.a. BIN LADIN, Usama), Afghanistan; DOB 30 Jul 57; Alt. DOB 1958; POB Jeddah, Saudi Arabia; Alt. POB Yemen (individual) [SDT] [SDGT]

BIN LADIN, Usama (a.k.a. BIN LADIN, Usama bin Muhammad bin Awad; a.k.a. BIN LADEN, Osama; a.k.a. BIN LADEN, Usama; a.k.a. BIN LADIN, Osama; a.k.a. BIN LADIN, Osama bin Muhammad bin Awad); DOB 30 Jul 57; Alt. DOB 1958; POB Jeddah, Saudi Arabia; Alt. POB Yemen (individual) [SDT] [SDGT]

BIN LADIN, Usama bin Muhammad bin Awad (a.k.a. BIN LADEN, Osama; a.k.a. BIN LADEN, Usama; a.k.a. BIN LADIN, Osama; a.k.a. BIN LADIN, Osama bin Muhammad bin Awad; a.k.a. BIN LADIN, Usama); DOB 30 Jul 57; Alt. DOB 1958; POB Jeddah, Saudi Arabia; Alt. POB Yemen (individual) [SDT] [SDGT]

BIN MANSOR, Amran (a.k.a. BIN MANSOR, Henry; a.k.a. BIN MANSOUR, Amran; a.k.a. MANSOR, Amran); DOB 25 May 1965; POB Malaysia (individual) [SDGT]

BIN MANSOR, Henry (a.k.a. BIN MANSOR, Amran; BIN MANSOUR, Amran; a.k.a. MANSOR, Amran); DOB 25 May 1965; POB Malaysia (individual) [SDGT]

BIN MANSOUR, Amran (a.k.a. BIN MANSOR, Amran; a.k.a. BIN MANSOR, Henry; a.k.a. MANSOR, Amran); DOB 25 May 1965; POB Malaysia (individual) [SDGT]

BIN MARWAN, Bilal; DOB 1947 (individual) [SDGT]

BIN MARZUKI, Zulkifli (a.k.a. BIN ZUKEPLI, Marzuki; a.k.a. MARZUKI, Zulkepli; a.k.a. MARZUKI, Zulkifli; a.k.a. ZUKIPLI; a.k.a. ZULKIFLI); DOB 3 Jul 1968; POB Malaysia; nationality Malaysian (individual) [SDGT]

BIN MUHAMMAD, Ayadi Chafiq (a.k.a. AIADI, Ben Muhammad; a.k.a. AIADY, Ben Muhammad; a.k.a. AYADI CHAFIK, Ben Muhammad; a.k.a. AYADI SHAFIQ, Ben Muhammad), Helene Meyer Ring 10-1415-80809, Munich, Germany; 129 Park Road, NW8, London, England; 28 Chaussee de Lille, Mouscron, Belgium; Darvingasse 1/2/58-60, Vienna, Austria; Tunisia; DOB 21 Jan 1963; POB Safais (Sfax), Tunisia (individual) [SDGT]

BIN SIHABUDIN, Abdul Aziz (a.k.a. “Abdul Aziz;” a.k.a. “Abu Omar;” a.k.a. “Fatih;” a.k.a. “Hendri;” a.k.a. “Heri;” a.k.a. “Kudama;” a.k.a. SAMUDRA, Imam; a.k.a. YUNSHAR, Faiz); DOB 14 Jan 1970; POB Serang, Banten, Indonesia (individual) [SDGT]

BIN SUFAAT, Yazud (a.k.a. SHUFAAT, Yazid; a.k.a. SUFAAT, Yazid); DOB 20 Jan 1964; POB Johor, Malaysia; nationality Malaysian; Passport No. A10472263 (Malaysia) (individual) [SDGT]

BIN ZUKEPLI, Marzuki (a.k.a. BIN MARZUKI, Zulkifli; a.k.a. MARZUKI, Zulkepli; a.k.a. MARZUKI, Zulkifli; a.k.a. ZUKIPLI; a.k.a. ZULKIFLI); DOB 3 Jul 1968; POB Malaysia; nationality Malaysian (individual) [SDGT]

BINALSHEIDAH, Ramzi Mohamed Abdullah (a.k.a. BIN AL SHIBH, Ramzi; a.k.a. BINALSHIBH, Ramzi Mohammed Abdullah; a.k.a. OMAR, Ramzi Mohammed Abdellah), Billstedter Hauptstr Apt 14, 22111 Hamburg, Germany; Emil Anderson Strasse 5, 22073 Hamburg, Germany; Letzte Heller #109 Hamburg University, 22111 Hamburg, Germany; Marienstr #54, 21073 Hamburg, Germany; Schleemer Ring 2, 22117 Hamburg, Germany; DOB 16 Sep 1973; alt. DOB 1 May 1972; POB Khartoum, Sudan; alt. POB Hadramawt, Yemen; Passport Nos. A755350 (Saudi Arabia), R85243 (Yemen), 00085243 (Yemen); nationality Yemeni (individual) [SDGT]

BINALSHIBH, Ramzi Mohammed Abdullah (a.k.a. BIN AL SHIBH, Ramzi; a.k.a. BINALSHEIDAH, Ramzi Mohamed Abdullah; a.k.a. OMAR, Ramzi Mohammed Abdellah), Billstedter Hauptstr Apt 14, 22111 Hamburg, Germany; Emil Anderson Strasse 5, 22073 Hamburg, Germany; Letzte Heller #109 Hamburg University, 22111 Hamburg, Germany; Marienstr #54, 21073 Hamburg, Germany; Schleemer Ring 2, 22117 Hamburg, Germany; DOB 16 Sep 1973; alt. DOB 1 May 1972; POB Khartoum, Sudan; alt. POB Hadramawt, Yemen; Passport Nos. A755350 (Saudi Arabia), R85243 (Yemen), 00085243 (Yemen); nationality Yemeni (individual) [SDGT]

BIO CORPORATION (a.k.a. BOSNIAN INVESTMENT ORGANIZATION), Sarajevo, Bosnia-Herzegovina [BALKANS]

BJELICA, Milovan “Cicko,” Starine Novaka Street BB, Sokolac, Republika Srpska, Bosnia-Herzegovina; DOB 19 Oct 1958; POB Rogatica, Bosnia-Herzegovina; National ID No. 1910958130007 (individual) [BALKANS]

BLACK SEPTEMBER (a.k.a. ANO; a.k.a. ABU NIDAL ORGANIZATION; a.k.a. FATAH REVOLUTIONARY COUNCIL; a.k.a. ARAB REVOLUTIONARY COUNCIL; a.k.a. ARAB REVOLUTIONARY BRIGADES; a.k.a. REVOLUTIONARY ORGANIZATION OF SOCIALIST MUSLIMS) [SDT][FTO][SDGT]

BLAGOJEVIC, Vidoje; DOB 22 Jun 1950; POB Bratunac, Bosnia-Herzegovina; ICTY indictee (individual) [BALKANS]

BLAIMAR (n.k.a. COINTERCOS S.A.; n.k.a. CIA. INTERAMERICANA DE COSMETICOS S.A.; f.k.a. LABORATORIOS BLAIMAR DE COLOMBIA S.A.), Calle 12B No. 27-39, Bogota, Colombia; Apartado Aereo 33248, Bogota, Colombia; NIT # 860511578-8 (Colombia) [SDNT]

BLAIMAR (n.k.a. COOPERATIVA DE COSMETICOS Y POPULARES COSMEPOP; n.k.a. COSMEPOP; a.k.a. CIA. INTERAMERICANA DE COSMETICOS S.A.; a.k.a. COINTERCOS S.A.; a.k.a. LABORATORIOS BLAIMAR DE COLOMBIA S.A.; a.k.a. LABORATORIOS BLANCO PHARMA S.A.), Calle 12A No. 27-72, Bogota, Colombia; A.A. 55538, Bogota, Colombia; Calle 12B No. 27-37/39, Bogota, Colombia; Calle 26 Sur No. 7-30 Este, Bogota, Colombia; Carrera 99 y 100 No. 46A-10, Bodega 4, Bogota, Colombia; NIT # 800251322-5 (Colombia) [SDNT]

BLANCO ORTEGA, Marylin, c/o COOPDISAN, Bucaramanga, Colombia; c/o DROGAS LA REBAJA BUCARAMANGA S.A., Bucaramanga, Colombia; Passport 63332075 (Colombia); Cedula No. 63332075 (Colombia) (individual) [SDNT]

BLANCO PHARMA S.A. (n.k.a. COSMEPOP; n.k.a. COOPERATIVA DE COSMETICOS Y POPULARES COSMEPOP; f.k.a. LABORATORIOS BLANCO PHARMA S.A.), A.A. 55538, Bogota, Colombia; Calle 12B No. 27-37/39, Bogota, Colombia; Calle 26 Sur No. 7-30 Este, Bogota, Colombia; Carrera 99 y 100 No. 46A-10, Bodega 4, Bogota, Colombia; NIT # 800251322-5 (Colombia) [SDNT]

BLANCO PUERTA, Edgar Fernando; DOB 19 Jun 1946; POB Medellin, Antioquia, Colombia; Cedula No. 13224238 (Colombia) (individual) [SDNTK]

BLASKIC, Tihomir; DOB 2 Nov 1960; POB Brestovsko, Bosnia-Herzegovina; ICTY indictee (individual) [BALKANS]

BLUE NILE BREWERY, P.O. Box 1408, Khartoum, Sudan [SUDAN]

BLUE NILE PACKING CORPORATION, P.O. Box 385, Khartoum, Sudan [SUDAN]

BNC (a.k.a. BANCO NACIONAL DE CUBA; a.k.a. NATIONAL BANK OF CUBA) Dai-Ichi Bldg. 6th Floor, 10-2 Nihombashi, 2-chome, Chuo-ku, Tokyo 103, Japan [CUBA]

BNC (a.k.a. BANCO NACIONAL DE CUBA; a.k.a. NATIONAL BANK OF CUBA) Federico Boyd Avenue & 51 Street, Panama City, Panama [CUBA]

BNC (a.k.a. BANCO NACIONAL DE CUBA; a.k.a. NATIONAL BANK OF CUBA) Zweierstrasse 35, CH-8022 Zurich, Switzerland [CUBA]

BNC (a.k.a. BANCO NACIONAL DE CUBA; a.k.a. NATIONAL BANK OF CUBA) Avenida de Concha Espina 8, E-28036 Madrid, Spain [CUBA]

BOCOTA AGUABLANCA, Gustavo (a.k.a. BOGOTA, Gustavo; a.k.a. “Estevan;” a.k.a. “Tribisu”); DOB 28 Aug 1966; Cedula No. 9466199 (Colombia); alt. Cedula No. 9466833 (Colombia) (individual) [SDNTK]

BOGOTA, Gustavo (a.k.a. BOCOTA AGUABLANCA, Gustavo; a.k.a. “Estevan;” a.k.a. “Tribisu”); DOB 28 Aug 1966; Cedula No. 9466199 (Colombia); alt. Cedula No. 9466833 (Colombia) (individual) [SDNTK]

BOILEAU, Pierre, 1078 Rue Champigny, Duvernay, Quebec, Canada (individual) [CUBA]

BOLSAK E.U. (a.k.a. BOLSAK S.A.), Calle 15 No. 25-400 Urbanizacion Industrial Acopi, Yumbo, Colombia; NIT # Provisional (Colombia) [SDNT]

BOLSAK S.A. (a.k.a. BOLSAK E.U.), Calle 15 No. 25-400 Urbanizacion Industrial Acopi, Yumbo, Colombia; NIT # Provisional (Colombia) [SDNT]

BONOMERCAD S.A. (f.k.a. DECACOOP S.A.), Transversal 29 No. 39-92, Bogota, Colombia; NIT # 830018919-3 (Colombia) [SDNT]

BORAVCANIN, Ljubomir; DOB 27 Feb 1960; POB Han Pijesak, Bosnia-Herzegovina; ICTY indictee (individual) [BALKANS]

BOROVCANIN, Veljko; DOB 25 Sep 1957; POB Sarajevo, Bosnia-Herzegovina (individual) [BALKANS]

BOROVNICA, Goran; DOB 15 Aug 1965; ICTY indictee at large (individual) [BALKANS]

BORRERO Q., Hector Fabio, c/o INMOBILIARIA SAMARIA LTDA., Cali, Colombia; c/o INVERSIONES SANTA LTDA., Cali, Colombia; c/o SOCIEDAD CONSTRUCTORA LA CASCADA S.A., Cali, Colombia (individual) [SDNT]

BORTOLOTTI (a.k.a. A. BORTOLOTTI & CO. S.P.A.), Cremona, Italy [LIBYA]

BORTOLOTTI (a.k.a. A. BORTOLOTTI & CO. S.P.A.), Via Predore, 59, 24067 Sarnico, Bergamo, Italy [LIBYA]

BORTOLOTTI PETROLI S.p.A., Via San Desiderio, 11, 25020 Flero, Italy; Magazzino con Vendita Ingrosso, Via Garibaldi, 51, 25030 Paratico, Italy; Deposito, Via Zette, 14/A, 25087, Salo, Italy [LIBYA]

BOSANSKA IDEALNA FUTURA (a.k.a. BECF CHARITABLE EDUCATIONAL CENTER; a.k.a. BENEVOLENCE EDUCATIONAL CENTER; a.k.a. BIF-BOSNIA; a.k.a. BOSNIAN IDEAL FUTURE), Salke Lagumdzije 12, 71000 Sarajevo, Bosnia-Herzegovina; Hadzije Mazica Put 16F, 72000 Zenica, Bosnia-Herzegovina; Sehidska Street, Breza, Bosnia-Herzegovina; Kanal 1, 72000 Zenica, Bosnia-Herzegovina; Hamze Celenke 35, Ilidza, Sarajevo, Bosnia-Herzegovina [SDGT]

BOSKOVSKI, Ljube; DOB 24 Oct 1960 (individual) [BALKANS]

BOSNIAN IDEAL FUTURE (a.k.a. BECF CHARITABLE EDUCATIONAL CENTER; a.k.a. BENEVOLENCE EDUCATIONAL CENTER; a.k.a. BIF-BOSNIA; BOSANSKA IDEALNA FUTURA), Salke Lagumdzije 12, 71000 Sarajevo, Bosnia-Herzegovina; Hadzije Mazica Put 16F, 72000 Zenica, Bosnia-Herzegovina; Sehidska Street, Breza, Bosnia-Herzegovina; Kanal 1, 72000 Zenica, Bosnia-Herzegovina; Hamze Celenke 35, Ilidza, Sarajevo, Bosnia-Herzegovina [SDGT]

BOSNIAN INVESTMENT ORGANIZATION (a.k.a. BIO CORPORATION), Sarajevo, Bosnia-Herzegovina [BALKANS]

BOUCHOUCHA, Mokhtar (a.k.a. BUSHUSHA, Mokhtar), Via Milano n.38, Spinadesco (CR), Italy; DOB 13 Oct 1969; POB Tunisia; Italian Fiscal Code: BCHMHT69R13Z352T (individual) [SDGT]

BOUSLIM, Ammar Mansour (a.k.a. ATWA, Ali; a.k.a. SALIM, Hassan Rostom), Lebanon; DOB 1960; POB Lebanon; citizen Lebanon (individual) [SDGT]

BOUTIQUE LA MAISON, 42 Via Brasil, Panama City, Panama [CUBA]

BOUYAHIA, Hamadi (a.k.a. Gamel Mohamed), “last known address,” Corso XXII Marzo 39, Milan, Italy; DOB 22 May 1966; POB Tunisia; nationality Tunisian; arrested 30 Sep 2002 (individual) [SDGT]

BRADFIELD MARITIME CORP., INC., c/o EMPRESA DE NAVIGACION MAMBISA, Apartado 543, San Ignacio 104, Havana, Cuba [CUBA]

BRDJANIN, Radoslav; DOB 9 Feb 1948; POB Popovac, Bosnia-Herzegovina; ICTY indictee (individual) [BALKANS]

BREGA INTERNATIONAL MARKETING COMPANY, Al Nassar Street, P.O. Box 4768, Tripoli, Libya [LIBYA]

BREGA PETROLEUM MARKETING COMPANY, Alnaser Street, P.O. Box 402, Tripoli, Libya [LIBYA]

BREGA PETROLEUM MARKETING COMPANY, Azzawiya Km. 50, P.O. Box 402, Tripoli, Libya [LIBYA]

BREGA PETROLEUM MARKETING COMPANY, P.O. Box 1278, Benghazi, Libya [LIBYA]

BREGA PETROLEUM MARKETING COMPANY, Sayedi Street, P.O. Box 402, Tripoli, Libya [LIBYA]

BRICENO SUAREZ, German (a.k.a. “Granobles;” a.k.a. SUAREZ ROJAS, Noe); DOB 15 Dec 1953; Cedula No. 347943 (Colombia) (individual) [SDNTK]

BRICENO SUAREZ, Jorge (a.k.a. BRICENO SUAREZ, Jorge Enrique; a.k.a. “Mono Jojoy;” a.k.a. “Oscar Riano;” a.k.a. SUAREZ, Luis; a.k.a. SUAREZ ROJAS, Victor Julio); DOB Jan 1953; alt. DOB 1 Feb 1949; alt. DOB 2 Jan 1951; alt. DOB 5 Feb 1953; POB Santa Marta, Magdalena, Colombia; alt. POB Cabrera, Cundinamarca, Colombia; Cedula No. 12536519 (Colombia); alt. Cedula No. 19208210 (Colombia); alt. Cedula No. 17708695 (Colombia); may also be using Cedula No. 70753211 (Colombia) (individual) [SDNTK]

BRICENO SUAREZ, Jorge Enrique (a.k.a. BRICENO SUAREZ, Jorge; a.k.a. “Mono Jojoy;” a.k.a. “Oscar Riano;” a.k.a. SUAREZ, Luis; a.k.a. SUAREZ ROJAS, Victor Julio); DOB Jan 1953; alt. DOB 1 Feb 1949; alt. DOB 2 Jan 1951; alt. DOB 5 Feb 1953; POB Santa Marta, Magdalena, Colombia; alt. POB Cabrera, Cundinamarca, Colombia; Cedula No. 12536519 (Colombia); alt. Cedula No. 19208210 (Colombia); alt. Cedula No. 17708695 (Colombia); may also be using Cedula No. 70753211 (Colombia) (individual) [SDNTK]

BROUGERE, Jacques (a.k.a. “Abou Hamza;” a.k.a. “Abou Hanza;” a.k.a. a.k.a. “Abu Khamza;” a.k.a. “Bilal Kumkal;” a.k.a. “Bilal;” a.k.a. BRUGERE, Jacques; a.k.a. DUMONT, Lionel; a.k.a. “Hamza;” a.k.a. “Koumal;” a.k.a. “Lajonel Dimon”); DOB 21 Jan 1971; alt. DOB 19 Jan 1971; alt. DOB 29 Jan 1975); POB Roubaix, France (individual) [SDGT]

BRUGERE, Jacques (a.k.a. “Abou Hamza;” a.k.a. “Abou Hanza;” a.k.a. a.k.a. “Abu Khamza;” a.k.a. “Bilal Kumkal;” a.k.a. “Bilal;” a.k.a. BROUGERE, Jacques; a.k.a. DUMONT, Lionel; a.k.a. “Hamza;” a.k.a. “Koumal;” a.k.a. “Lajonel Dimon”); DOB 21 Jan 1971; alt. DOB 19 Jan 1971; alt. DOB 29 Jan 1975); POB Roubaix, France (individual) [SDGT]

BTELCO (a.k.a. BARAKAAT TELECOMMUNICATIONS COMPANY LIMITED), Bakara Market, Dar Salaam Buildings, Mogadishu, Somalia; last known address, The Netherlands [SDGT]

BUENDIA CUELLAR, Luis Alfonso, c/o GALAPAGOS S.A., Cali, Colombia; Cedula No. 6044411 (Colombia) (individual) [SDNT]

BUENO RAMIREZ, Pompeyo, c/o ADMACOOP, Bogota, Colombia; c/o COMERCIALIZADORA DIGLO LTDA., Bogota, Colombia; c/o CREDISOL, Bogota, Colombia; c/o DROCARD S.A., Bogota, Colombia; c/o FARMACOOP, Bogota, Colombia; Passport 13354747 (Colombia); Cedula No. 13354747 (Colombia) (individual) [SDNT]

BUHLER, Bruno, 57 Rue du Rhone, CH-1204 Geneva, Switzerland (individual) [IRAQ]

BUILDING MATERIALS AND REFRACTORIES CORPORATION, P.O. Box 2241, Khartoum, Sudan [SUDAN]

BUITRAGO DE HERRERA, Luz Mery, c/o AGROPECUARIA BETANIA LTDA., Cali, Colombia; c/o AGROPECUARIA Y REFORESTADORA HERREBE LTDA., Cali, Colombia; c/o CONSTRUEXITO S.A., Cali, Colombia; c/o INVERSIONES BETANIA LTDA., Cali, Colombia; c/o INVERSIONES EL GRAN CRISOL LTDA., Cali, Colombia; c/o INVERSIONES GEMINIS S.A., Cali, Colombia; c/o INVERSIONES HERREBE LTDA., Cali, Colombia; c/o INVERSIONES INVERVALLE S.A., Cali, Colombia; c/o SOCOVALLE, Cali, Colombia; c/o VALLADARES LTDA., Cali, Colombia; c/o W. HERRERA Y CIA., Cali, Colombia; Cedula No. 29641219 (Colombia) (individual) [SDNT]

BUITRAGO MARIN, Adiela, c/o CONSTRUEXITO S.A., Cali, Colombia; c/o INDUSTRIA AVICOLA PALMASECA S.A., Cali, Colombia; Cedula No. 31137617 (Colombia) (individual) [SDNT]

BUITRAGO MARIN, Nubia, c/o INMOBILIARIA U.M.V. S.A., Cali, Colombia; Cedula No. 31132922 (Colombia) (individual) [SDNT]

BUITRAGO PARADA, Hector German (a.k.a. “Martin Llanos”); DOB 21 Jan 1968; POB Monterrey, Casanare, Colombia; Cedula No. 79436816 (Colombia) (individual) [SDNTK]

BUITRAGO, Sulay (a.k.a. HERRERA BUITRAGO, Sulay), c/o AGROPECUARIA Y REFORESTADORA HERREBE LTDA., Cali, Colombia; c/o CONSTRUEXITO S.A., Cali, Colombia; c/o INDUSTRIA AVICOLA PALMASECA S.A., Cali, Colombia; c/o INVERSIONES HERREBE LTDA., Cali, Colombia (individual) [SDNT]

BUKA, Flora, Minister of State for Land Reform of Zimbabwe; DOB 25 Feb 1968 (individual) [ZIMB]

BURGAN INTERNATIONAL, Kuwait [CUBA]

BUSENTI, Marcantonio (a.k.a. BUSENTI, Marcello), Via Alatri 14, Rome, Italy; DOB 30 May 38 (individual) [LIBYA]

BUSENTI, Marcello (a.k.a. BUSENTI, Marcantonio), Via Alatri 14, Rome, Italy; DOB 30 May 38 (individual) [LIBYA]

BUSHUSHA, Mokhtar (a.k.a. BOUCHOUCHA, Mokhtar), Via Milano n.38, Spinadesco (CR), Italy; DOB 13 Oct 1969; POB Tunisia; Italian Fiscal Code: BCHMHT69R13Z352T (individual) [SDGT]

BUSHWESHA, Abdullah (individual) [LIBYA]

BUTKA, Spiro; DOB 29 May 1949 (individual) [BALKANS]

C A V J CORPORATION LTDA., Calle 166 No. 38-50, Bogota, Colombia; NIT # 830101426-9 (Colombia) [SDNT]

C Y S MEDIOS E.U., Calle 18 No. 106-98 of. 305, Cali, Colombia; NIT # 805015105-0 (Colombia) [SDNT]

C.A. V.J. CORPORATION, Avenida 20 (detras del Country Club), Edificio Drcenca Barquisimeto, Lara, Venezuela; Calle 14, Zona Industrial 1, Intercomunal de Cabudare Barquisimeto, Lara, Venezuela; Calle 18, Zona Industrial 1, Intercomunal de Cabudare Barquisimeto, Lara, Venezuela; RIF # J-30460672-9 (Venezuela) [SDNT]

C.C.V. LTDA. (a.k.a. CONSTRUCTORA CENTRAL DEL VALLE LTDA.), Calle 10 No. 44A-26, Cali, Colombia; NIT # 800144098-1 (Colombia) [SDNT]

C.E.V. S.A. (a.k.a. CLINICA ESPECIALIZADA DEL VALLE S.A.), Calle 10 No. 44A-26, Cali, Colombia; Apartado Aereo 32412, Cali, Colombia; Carrera 46 No. 9C-85, Cali, Colombia; Carrera 40 No. 6-50, Of. 1501, Cali, Colombia; NIT # 800134099-6 (Colombia) [SDNT]

C.I. COMERCIALIZADORA INTERNACIONAL POSEIDON S.A. (n.k.a. C.I. POSEIDON S.A.; n.k.a. SOCIEDAD DE COMERCIALIZACION INTERNACIONAL POSEIDON S.A.), Calle 79 Sur No. 48B-56, Sabaneta, Antioquia, Colombia; NIT # 800173090-7 (Colombia) [SDNTK]

C.I. POSEIDON S.A. (a.k.a. SOCIEDAD DE COMERCIALIZACION INTERNACIONAL POSEIDON S.A.; f.k.a. C.I. COMERCIALIZADORA INTERNACIONAL POSEIDON S.A.), Calle 79 Sur No. 48B-56, Sabaneta, Antioquia, Colombia; NIT # 800173090-7 (Colombia) [SDNTK]

C.N.A. PUBLICIDAD LTDA., Calle 74 No. 53-30, Barranquilla, Colombia; NIT # 802002664-9 (Colombia) [SDNT]

CABDULLAAH, Ciise Maxamed, “last known address,” Mosque in Via Quaranta, Milan, Italy; DOB 8 Oct 1974; POB Somalia; nationality Somalian; arrested 31 Mar 2003 (individual) [SDGT]

CABRERA CUEVAS, Jose Benito (a.k.a. CABRERA, Jose Benito; a.k.a. “El Mono Fabian;” a.k.a. “Fabian Ramirez”); DOB 6 Jul 1963; alt. DOB 5 Jul 1965; POB El Paujil, Caqueta, Colombia; Cedula No. 96329309 (Colombia) (individual) [SDNTK]

CABRERA, Jose Benito (a.k.a. CABRERA CUEVAS, Jose Benito; a.k.a. “El Mono Fabian;” a.k.a. “Fabian Ramirez”); DOB 6 Jul 1963; alt. DOB 5 Jul 1965; POB El Paujil, Caqueta, Colombia; Cedula No. 96329309 (Colombia) (individual) [SDNTK]

CAFE ANDINO S.L., Calla Cochabamba 2, Madrid, Madrid, Spain; C.I.F. B81891244 (Spain) [SDNT]

CAICEDO VERGARA, Nohemi, (a.k.a. CAICEDO VERGARA, Nohemy), Km. 4 El Pinal, Buenaventura, Colombia; c/o INDUSTRIA DE PESCA SOBRE EL PACIFICO S.A., Buenaventura, Colombia; Cedula No. 31375185 (Colombia) (individual) [SDNT]

CAICEDO VERGARA, Nohemy, (a.k.a. CAICEDO VERGARA, Nohemi), Km. 4 El Pinal, Buenaventura, Colombia; c/o INDUSTRIA DE PESCA SOBRE EL PACIFICO S.A., Buenaventura, Colombia; Cedula No. 31375185 (Colombia) (individual) [SDNT]

CAJA SOLIDARIA (a.k.a. COOPERATIVA DE AHORRO Y CREDITO DE COLOMBIA; a.k.a. COOPERATIVA MULTIACTIVA DE COMERCIALIZACION Y SERVICIOS), Avenida 22 No. 40-77 of. 202, Bogota, Colombia; Avenida 22 No. 44-70 of. 202, Bogota, Colombia; Calle 12B No. 27-39, Bogota, Colombia; Carrera 13A No. 89-38 of. 713, Bogota, Colombia; Carrera 13A No. 28-38 of. 216 Parque, Bogota, Colombia; Transversal 29 No. 35A-29, Bogota, Colombia; NIT # 830033942-6 (Colombia) [SDNT]

CALARCA, Marco Leon (a.k.a. ALBAN BURBANO, Luis Alberto; a.k.a. ALBAN URBANO, Luis Alberto; a.k.a. CALARCA, Marcos Leon); DOB 16 Aug 1957; POB Cali, Valle, Colombia; Cedula No. 16588328 (Colombia) (individual) [SDNTK]

CALARCA, Marcos Leon (a.k.a. ALBAN BURBANO, Luis Alberto; a.k.a. ALBAN URBANO, Luis Alberto; a.k.a. CALARCA, Marco Leon); DOB 16 Aug 1957; POB Cali, Valle, Colombia; Cedula No. 16588328 (Colombia) (individual) [SDNTK]

CALDERON COLLAZOS, Gonzalo, c/o BANANERA AGRICOLA S.A., Santa Marta, Colombia; c/o COMPANIA DE FOMENTO MERCANTIL S.A., Cali, Colombia; c/o CONSTRUCCIONES PROGRESO DEL PUERTO S.A., Puerto Tejada, Colombia; c/o GEOPLASTICOS S.A., Cali, Colombia; DOB 29 Sep 1952; POB Cali, Valle, Colombia; Passport 14989778 (Colombia); Cedula No. 14989778 (Colombia) (individual) [SDNT]

CALDERON RODRIGUEZ, Solange, c/o INMOBILIARIA AURORA LTDA., Cali, Colombia; c/o INVERSIONES SANTA LTDA., Cali, Colombia; c/o SOCIEDAD CONSTRUCTORA LA CASCADA S.A., Cali, Colombia (individual) [SDNT]

CALTRAM (a.k.a. COMPAGNIE ALGERO-LIBYENNE DE TRANSPORT MARITIME), 21 Rue des Freres Bouadou, Birmandreis, Algiers, Algeria [LIBYA]

CAMACHO RIOS, Jaime, c/o CONSTRUCCIONES ASTRO S.A., Cali, Colombia; Cedula No. 14950781 (Colombia) (individual) [SDNT]

CAMPO VERDE LTDA., Carrera 54 No. 75-97 piso 2, Barranquilla, Colombia; NIT # 800204479-2 (Colombia) [SDNT]

CANAPEL, S.A. (a.k.a. CANIPEL S.A.), c/o EMPRESA DE NAVIGACION MAMBISA, Apartado 543, San Ignacio 104, Havana, Cuba [CUBA]

CANIPEL, S.A. (a.k.a. CANAPEL S.A.), c/o EMPRESA DE NAVIGACION MAMBISA, Apartado 543, San Ignacio 104, Havana, Cuba [CUBA]

CARACAS VIVEROS, Oscar (a.k.a. “El Negro Oscar”); DOB 15 Nov 1967; POB Colombia; Cedula No. 96351739 (Colombia) (individual) [SDNTK]

CARBONICA, S.A., Panama [CUBA]

CARDENAS CASTILLO, Osiel (a.k.a. CARDENAS GILLEN, Osiel; a.k.a. CARDENAS GUILLEN, Ociel; a.k.a. CARDENAS GUILLEN, Oscar; a.k.a. CARDENAS GUILLEN, Osiel; a.k.a. CARDENAS GUILLEN, Oziel; a.k.a. CARDENAS GULLEN, Osiel; a.k.a. CARDENAS TUILLEN, Osiel; a.k.a. SALINA AGUILAR, Jorge; a.k.a. SALINAS AGUILAR, Jorge) DOB 18 May 1967; POB Mexico (individual) [SDNTK]

CARDENAS GILLEN, Osiel (a.k.a. CARDENAS CASTILLO, Osiel; a.k.a. ; a.k.a. CARDENAS GUILLEN, Ociel; a.k.a. CARDENAS GUILLEN, Oscar; a.k.a. CARDENAS GUILLEN, Osiel; a.k.a. CARDENAS GUILLEN, Oziel; a.k.a. CARDENAS GULLEN, Osiel; a.k.a. CARDENAS TUILLEN, Osiel; a.k.a. SALINA AGUILAR, Jorge; a.k.a. SALINAS AGUILAR, Jorge) DOB 18 May 1967; POB Mexico (individual) [SDNTK]

CARDENAS GUILLEN, Ociel (a.k.a. CARDENAS CASTILLO, Osiel; a.k.a. CARDENAS GILLEN, Osiel; a.k.a. CARDENAS GUILLEN, Oscar; a.k.a. CARDENAS GUILLEN, Osiel; a.k.a. CARDENAS GUILLEN, Oziel; a.k.a. CARDENAS GULLEN, Osiel; a.k.a. CARDENAS TUILLEN, Osiel; a.k.a. SALINA AGUILAR, Jorge; a.k.a. SALINAS AGUILAR, Jorge) DOB 18 May 1967; POB Mexico (individual) [SDNTK]

CARDENAS GUILLEN, Oscar (a.k.a. CARDENAS CASTILLO, Osiel; a.k.a. CARDENAS GILLEN, Osiel; a.k.a. CARDENAS GUILLEN, Ociel; a.k.a. CARDENAS GUILLEN, Osiel; a.k.a. CARDENAS GUILLEN, Oziel; a.k.a. CARDENAS GULLEN, Osiel; a.k.a. CARDENAS TUILLEN, Osiel; a.k.a. SALINA AGUILAR, Jorge; a.k.a. SALINAS AGUILAR, Jorge) DOB 18 May 1967; POB Mexico (individual) [SDNTK]

CARDENAS GUILLEN, Osiel (a.k.a. CARDENAS CASTILLO, Osiel; a.k.a. CARDENAS GILLEN, Osiel; a.k.a. CARDENAS GUILLEN, Ociel; a.k.a. CARDENAS GUILLEN, Oscar; a.k.a. CARDENAS GUILLEN, Oziel; a.k.a. CARDENAS GULLEN, Osiel; a.k.a. CARDENAS TUILLEN, Osiel; a.k.a. SALINA AGUILAR, Jorge; a.k.a. SALINAS AGUILAR, Jorge) DOB 18 May 1967; POB Mexico (individual) [SDNTK]

CARDENAS GUILLEN, Oziel (a.k.a. CARDENAS CASTILLO, Osiel; a.k.a. CARDENAS GILLEN, Osiel; a.k.a. CARDENAS GUILLEN, Ociel; a.k.a. CARDENAS GUILLEN, Oscar; a.k.a. CARDENAS GUILLEN, Osiel; a.k.a. CARDENAS GULLEN, Osiel; a.k.a. CARDENAS TUILLEN, Osiel; a.k.a. SALINA AGUILAR, Jorge; a.k.a. SALINAS AGUILAR, Jorge) DOB 18 May 1967; POB Mexico (individual) [SDNTK]

CARDENAS GULLEN, Osiel (a.k.a. CARDENAS CASTILLO, Osiel; a.k.a. CARDENAS GILLEN, Osiel; a.k.a. CARDENAS GUILLEN, Ociel; a.k.a. CARDENAS GUILLEN, Oscar; a.k.a. CARDENAS GUILLEN, Osiel; a.k.a. CARDENAS GUILLEN, Oziel; a.k.a. CARDENAS TUILLEN, Osiel; a.k.a. SALINA AGUILAR, Jorge; a.k.a. SALINAS AGUILAR, Jorge) DOB 18 May 1967; POB Mexico (individual) [SDNTK]

CARDENAS TUILLEN, Osiel (a.k.a. CARDENAS CASTILLO, Osiel; a.k.a. CARDENAS GILLEN, Osiel; a.k.a. CARDENAS GUILLEN, Ociel; a.k.a. CARDENAS GUILLEN, Oscar; a.k.a. CARDENAS GUILLEN, Osiel; a.k.a. CARDENAS GUILLEN, Oziel; a.k.a. CARDENAS GULLEN, Osiel; a.k.a. ; a.k.a. SALINA AGUILAR, Jorge; a.k.a. SALINAS AGUILAR, Jorge) DOB 18 May 1967; POB Mexico (individual) [SDNTK]

CARDONA GARCIA, Diomiro, Carrera 1 No. 12-53, Cartago, Valle, Colombia; Carrera 4 No. 12-20 of. 206, Cartago, Valle, Colombia; c/o AGRICOLA DOIMA DEL NORTE DEL VALLE LTDA., Cartago, Valle, Colombia; c/o GANADERIA EL VERGEL LTDA., Cartago, Valle, Colombia; c/o GANADERIAS BILBAO LTDA., Cartago, Valle, Colombia; c/o INMOBILIARIA EL ESCORIAL LTDA., Cartago, Valle, Colombia; c/o INMOBILIARIA LINARES LTDA., Cartago, Valle, Colombia; c/o INMOBILIARIA PASADENA LTDA., Cartago, Valle, Colombia; c/o ORGANIZACION LUIS HERNANDO GOMEZ BUSTAMANTE Y CIA. S.C.S., Cartago, Valle, Colombia; c/o VISCAYA LTDA., Cartago, Valle, Colombia; Passport 6233272 (Colombia); Cedula No. 6233272 (Colombia) (individual) [SDNT]

CARDONA OCHOA, Carlos Julio, c/o AUREAL INMOBILIARIA LTDA., Bogota, Colombia; c/o GRUPO SANTA LTDA., Cali, Colombia; Cedula No. 7524996 (Colombia) (individual) [SDNT]

CARDONA RUEDA, Fernando Ivan, c/o COINTERCOS S.A., Bogota, Colombia; c/o DROGAS LA REBAJA BOGOTA S.A., Bogota, Colombia; c/o LABORATORIOS KRESSFOR DE COLOMBIA S.A., Bogota, Colombia; Cedula No. 16607447 (Colombia) (individual) [SDNT]

CARIBBEAN EXPORT ENTERPRISE (a.k.a. CARIBEX; a.k.a. EMPRESA CUBANA DE PESCADOS Y MARISCOS) Milan, Italy [CUBA]

CARIBBEAN EXPORT ENTERPRISE (a.k.a. CARIBEX; a.k.a. EMPRESA CUBANA DE PESCADOS Y MARISCOS) Paris, France [CUBA]

CARIBBEAN EXPORT ENTERPRISE (a.k.a. CARIBEX; a.k.a. EMPRESA CUBANA DE PESCADOS Y MARISCOS) Moscow, Russia [CUBA]

CARIBBEAN EXPORT ENTERPRISE (a.k.a. CARIBEX; a.k.a. EMPRESA CUBANA DE PESCADOS Y MARISCOS) Cologne, Germany [CUBA]

CARIBBEAN EXPORT ENTERPRISE (a.k.a. CARIBEX; a.k.a. EMPRESA CUBANA DE PESCADOS Y MARISCOS) Tokyo, Japan [CUBA]

CARIBBEAN EXPORT ENTERPRISE (a.k.a. CARIBEX; a.k.a. EMPRESA CUBANA DE PESCADOS Y MARISCOS) Madrid, Spain [CUBA]

CARIBBEAN EXPORT ENTERPRISE (a.k.a. CARIBEX; a.k.a. EMPRESA CUBANA DE PESCADOS Y MARISCOS) Downsview, Ontario, Canada [CUBA]

CARIBBEAN HAPPY LINES (a.k.a. CARIBBEAN HAPPY LINES CO.), Panama [CUBA]

CARIBBEAN PRINCESS SHIPPING, LTD., c/o EMPRESA DE NAVEGACION MAMBISA, Apartado 543, San Ignacio 104, Havana, Cuba [CUBA]

CARIBBEAN QUEEN SHIPPING LTD., c/o EMPRESA DE NAVIGACION MAMBISA, Apartado 543, San Ignacio 104, Havana, Cuba [CUBA]

CARIBE SOL (a.k.a. 2904977 CANADA, INC.; a.k.a. HAVANTUR CANADA INC.), 818 rue Sherbrooke East, Montreal, Quebec H2L 1K3, Canada [CUBA]

CARIBERIA, S.A., Spain [CUBA]

CARIBEX (a.k.a. CARIBBEAN EXPORT ENTERPRISE; a.k.a. EMPRESA CUBANA DE PESCADOS Y MARISCOS) Tokyo, Japan [CUBA]

CARIBEX (a.k.a. CARIBBEAN EXPORT ENTERPRISE; a.k.a. EMPRESA CUBANA DE PESCADOS Y MARISCOS) Paris, France [CUBA]

CARIBEX (a.k.a. CARIBBEAN EXPORT ENTERPRISE; a.k.a. EMPRESA CUBANA DE PESCADOS Y MARISCOS) Madrid, Spain [CUBA]

CARIBEX (a.k.a. CARIBBEAN EXPORT ENTERPRISE; a.k.a. EMPRESA CUBANA DE PESCADOS Y MARISCOS) Milan, Italy [CUBA]

CARIBEX (a.k.a. CARIBBEAN EXPORT ENTERPRISE; a.k.a. EMPRESA CUBANA DE PESCADOS Y MARISCOS) Downsview, Ontario, Canada [CUBA]

CARIBEX (a.k.a. CARIBBEAN EXPORT ENTERPRISE; a.k.a. EMPRESA CUBANA DE PESCADOS Y MARISCOS) Cologne, Germany [CUBA]

CARIBEX (a.k.a. CARIBBEAN EXPORT ENTERPRISE; a.k.a. EMPRESA CUBANA DE PESCADOS Y MARISCOS) Moscow, Russia [CUBA]

CARIBSUGAR INTERNATIONAL TRADERS, S.A., 125-133 Camden High Street, London, NW1 7JR, England [CUBA]

CARIBSUGAR, S.A., Panama [CUBA]

CARISUB, S.A., Panama [CUBA]

CARMONA, Juan Manuel, c/o INVERSIONES ARA LTDA., Cali, Colombia; c/o INVERSIONES RODRIGUEZ ARBELAEZ, Cali, Colombia; c/o INVERSIONES RODRIGUEZ MORENO, Cali, Colombia (individual) [SDNT]

CARO MORENO, Arcadio, c/o COOPDISAN, Bucaramanga, Colombia; c/o DROGAS LA REBAJA BUCARAMANGA S.A., Bucaramanga, Colombia; Passport 91207732 (Colombia); Cedula No. 91207732 (Colombia) (individual) [SDNT]

CARO PEREZ, Maria Eugenia, c/o COMEDICAMENTOS S.A., Bogota, Colombia; c/o FOGENSA S.A., Bogota, Colombia; c/o GLAJAN S.A., Bogota, Colombia; DOB 17 Sep 1971; Passport 52583651 (Colombia); Cedula No. 52583651 (Colombia) (individual) [SDNT]

CARO QUINTERO, Miguel Angel; DOB 9 Mar 1963; POB Mexico (individual) [SDNTK]

CARO QUINTERO, Rafael (a.k.a. CARO QUINTERO, Raphael), DOB 12 Dec 1952; alt. DOB 24 Nov 1955; alt. DOB. 24 Oct 1955, POB Mexico (individual) [SDNTK]

CARO QUINTERO, Raphael (a.k.a. CARO QUINTERO, Rafael), DOB 12 Dec 1952; alt. DOB 24 Nov 1955; alt. DOB. 24 Oct 1955, POB Mexico (individual) [SDNTK]

CARO RODRIGUEZ, Gilberto (a.k.a. AREGON, Max; a.k.a. ; a.k.a. GUIERREZ LOERA, Jose Luis; a.k.a. GUMAN LOERAL, Joaquin; a.k.a. GUZMAN, Achivaldo; a.k.a. GUZMAN, Archibaldo; a.k.a. GUZMAN, Aureliano; a.k.a. GUZMAN, Chapo; a.k.a. GUZMAN FERNANDEZ, Joaquin; a.k.a. GUZMAN, Joaquin Chapo; a.k.a. GUZMAN LOEIA, Joaguin; a.k.a. GUZMAN LOERA, Joaquin; a.k.a. GUZMAN LOESA, Joaquin; a.k.a. GUZMAN LOREA, Chapo; a.k.a. GUZMAN PADILLA, Joaquin; a.k.a. ORTEGA, Miguel; a.k.a. OSUNA, Gilberto; a.k.a. RAMIREZ, Joise Luis; a.k.a. RAMOX PEREZ, Jorge) DOB 25 Dec 1954; POB Mexico (individual) [SDNTK]

CARRERO BURBANO, Emma Alexandra, c/o DROMARCA Y CIA. S.C.S., Bogota, Colombia; c/o FARMACOOP, Bogota, Colombia; c/o LABORATORIOS KRESSFOR DE COLOMBIA S.A., Bogota, Colombia; Cedula No. 52362326 (Colombia) (individual) [SDNT]

CARRILLO FUENTES, Andres (a.k.a. CARRILLO FUENTES, Vicente), DOB 16 Oct 1962; POB Mexico (individual) [SDNTK]

CARRILLO FUENTES, Vicente (a.k.a. CARRILLO FUENTES, Andres), DOB 16 Oct 1962; POB Mexico (individual) [SDNTK]

CARRILLO QUINTERO, Eugenio, c/o BONOMERCAD S.A., Bogota, Colombia; c/o CODISA, Bogota, Colombia; c/o DECAFARMA S.A., Bogota, Colombia; c/o DISTRIBUIDORA AGROPECUARIA COLOMBIANA S.A., Cali, Colombia; c/o PATENTES MARCAS Y REGISTROS S.A., Bogota, Colombia; c/o SHARPER S.A., Bogota, Colombia; c/o SHARVET S.A., Bogota, Colombia; DOB 30 Nov 1960; Cedula No. 73094061 (Colombia) (individual) [SDNT]

CARRILLO SILVA, Armando, c/o ASESORIAS DE INGENIERIA EMPRESA UNIPERSONAL, Cali, Colombia; c/o DISTRIBUIDORA DEL VALLE E.U., Cali, Colombia; c/o DISTRIBUIDORA SANAR DE COLOMBIA S.A., Cali, Colombia; c/o DROGAS LA REBAJA, Cali, Colombia; c/o GRACADAL S.A., Cali, Colombia; c/o INTERAMERICANA DE CONSTRUCCIONES S.A., Cali, Colombia; c/o INVERSIONES CAMINO REAL S.A., Cali, Colombia; c/o PROSPECTIVA EMPRESA UNIPERSONAL, Cali, Colombia; c/o PROVIDA E.U., Cali, Colombia; c/o TECNICAS CONTABLES Y ADMINISTRATIVAS, Cali, Colombia; DOB 11 Feb 1949; Passport 16242828 (Colombia); Cedula No. 16242828 (Colombia) (individual) [SDNT]

CARRION JIMENEZ, Jose Alonso, c/o BONOMERCAD S.A., Bogota, Colombia; c/o DROCARD S.A., Bogota, Colombia; c/o FARMA 3.000 LIMITADA, Barranquilla, Colombia; c/o FOGENSA S.A., Bogota, Colombia; c/o GLAJAN S.A., Bogota, Colombia; c/o SHARPER S.A., Bogota, Colombia; DOB 2 Aug 1958; Passport 79000519 (Colombia); Cedula No. 79000519 (Colombia) (individual) [SDNT]

CARS & CARS LTDA. (a.k.a. CENTRO COMERCIAL DEL AUTOMOVIL; a.k.a. COMERCIALIZADORA INTEGRAL LTDA.; a.k.a. PROYECTO CARS & CARS), Avenida Roosevelt entre carreras 38 y 38A esquinas, Cali, Colombia [SDNT]

CARTAGENA AVILA, Tito, c/o COOPERATIVA MERCANTIL COLOMBIANA COOMERCOL, Cali, Colombia; c/o COPSERVIR LTDA., Bogota, Colombia; DOB 6 Jun 1961; Passport 16659672 (Colombia); Cedula No. 16659672 (Colombia) (individual) [SDNT]

CARVAJAL SUAREZ, Luz Mary, c/o DISMERCOOP, Cali, Colombia; Cedula No. 24626230 (Colombia) (individual) [SDNT]

CARVAJAL TAFURT, Hector Fabio (a.k.a. MONTOYA SANCHEZ, Eugenio), Diagonal 27 No. 27-104, Cali, Colombia; Calle 7 No. 45-25, Cali, Colombia; c/o LADRILLERA LA CANDELARIA LTDA., Cali, Colombia; DOB 17 Apr 1970, alt. DOB 15 Apr 1972; POB Trujillo, Valle, Colombia; Passports AC814028 (Colombia), 94307307 (Colombia) 16836750 (Colombia); Cedula No. 94307307 (Colombia), 16836750 (Colombia) (individual) [SDNT]

CASA DE CUBA, Mexico; Spain [CUBA]

CASA DEL REPUESTO, Panama City, Panama [CUBA]

CASQUETE VARGAS, Orlando, c/o ALFA PHARMA S.A., Bogota, Colombia; c/o LABORATORIOS GENERICOS VETERINARIOS, Bogota, Colombia; c/o LABORATORIOS KRESSFOR, Bogota, Colombia; c/o PENTA PHARMA DE COLOMBIA S.A., Bogota, Colombia; Cedula No. 19270159 (Colombia) (individual) [SDNT]

CASTANEDA BLANCO, Carlos Julio, c/o COSMEPOP, Bogota, Colombia; Cedula No. 79390781 (Colombia) (individual) [SDNT]

CASTANEDA QUINTERO, Luis Alberto, c/o DECAFARMA S.A., Bogota, Colombia; c/o FARMACOOP, Bogota, Colombia, c/o PENTACOOP LTDA., Bogota, Colombia, c/o LABORATORIOS KRESSFOR DE COLOMBIA S.A., Bogota, Colombia, c/o PENTA PHARMA DE COLOMBIA S.A., Bogota, Colombia; DOB 12 Feb 1938; Cedula No. 6064977 (Colombia) (individual) [SDNT]

CASTANEDA RAMIREZ, Lorena Constanza, c/o DECAFARMA S.A., Bogota, Colombia; c/o DROCARD S.A., Bogota, Colombia; c/o DROMARCA Y CIA. S.C.S., Bogota, Colombia; c/o MATERIAS PRIMAS Y SUMINISTROS S.A., Bogota, Colombia; c/o PENTACOOP LTDA., Bogota, Colombia; c/o PENTA PHARMA DE COLOMBIA S.A., Bogota, Colombia; DOB 13 May 1971; Passport 52071011 (Colombia); Cedula No. 52071011 (Colombia) (individual) [SDNT]

CASTANO ARANGO, Fernando, c/o AGROPECUARIA LA ROBLEDA S.A., Cali, Colombia; c/o INDUSTRIA AVICOLA PALMASECA S.A., Cali, Colombia; Cedula No. 14953602 (Colombia) (individual) [SDNT]

CASTANO CASTANO, Consuelo, Carrera 20 No. 66-34, Bogota, Colombia; c/o TODOBOLSAS Y COLSOBRES, Bogota, Colombia; DOB 25 Feb 1951; POB Pereira, Risaralda, Colombia; Passport 24943435 (Colombia); Cedula No. 29493435 (Colombia) (individual) [SDNT]

CASTANO GIL, Carlos; DOB 15 May 1965; POB Amalfi, Antioquia, Colombia; Cedula No. 70564150 (Colombia) (individual) [SDNTK]

CASTANO GIL, Hector; DOB 24 Mar 1959; POB Amalfi, Antioquia, Colombia; Cedula No. 3371328 (Colombia) (individual) [SDNTK]

CASTANO GIL, Jose Vicente; DOB 2 Jul 1957; Cedula No. 3370637 (Colombia) (individual) [SDNTK]

CASTANO PATINO, Maria Janet, c/o CONSTRUVIDA S.A., Cali, Colombia; Cedula No. 31149394 (Colombia) (individual) [SDNT]

CASTELL, Osvaldo Antonio (VALDEZ), Panama (individual) [CUBA]

CASTELLANOS ALVAREZ TOSTADO, Juan Jose (a.k.a. ALVAREZ TOSTADO, Jose; a.k.a. GONZALEZ, Jose); DOB 27 Aug 1955; POB Mexico (individual) [SDNTK]

CASTELLANOS GARZON, Henry (a.k.a. “Comandante Romana;” a.k.a. “Edison Romana;” a.k.a. “Romana”); DOB 20 Mar 1965; POB San Martin, Meta, Colombia; Cedula No. 17353695 (Colombia) (individual) [SDNTK]

CASTILLO CORTES, Miguel Angel (a.k.a. “Arturo Guevara;” a.k.a. “El Patron;” a.k.a. “Jorge Medina;” a.k.a. MEDINA CARACAS, Tomas; a.k.a. MOLINA CARACAS, Tomas; a.k.a. “Negro Acacio”); DOB 15 Mar 1965; POB Lopez De Micay, Cauca, Colombia (individual) [SDNTK]

CASTRILLON CRUZ, Maria Leonor, c/o AGROPECUARIA LA ROBLEDA S.A., Cali, Colombia (individual) [SDNT]

CASTRO ARIAS, Libardo (a.k.a. ARIAS CASTRO, Libardo), c/o BONOMERCAD S.A., Bogota, Colombia; c/o COMEDICAMENTOS S.A., Bogota, Colombia; c/o DECAFARMA S.A., Bogota, Colombia; c/o FOGENSA S.A., Bogota, Colombia; c/o GLAJAN S.A., Bogota, Colombia; c/o SHARPER S.A., Bogota, Colombia; c/o SHARVET S.A., Bogota, Colombia; DOB 13 Oct 1933; Passport 2312291 (Colombia); Cedula No. 2312291 (Colombia) (individual) [SDNT]

CASTRO CABAL, Maria Beatriz, c/o CONTACTEL COMUNICACIONES S.A., Cali, Colombia; c/o COPSERVIR LTDA., Bogota, Colombia; DOB 11 May 1974; Passport 66772109 (Colombia); Cedula No. 66772109 (Colombia) (individual) [SDNT]

CASTRO DE SANTACRUZ, Amparo, c/o COMERCIALIZACION Y FINANCIACION DE AUTOMOTORES S.A., Cali, Colombia; c/o INMOBILIARIA SAMARIA LTDA., Cali, Colombia; c/o INVERSIONES EL PASO LTDA., Cali, Colombia; c/o INVERSIONES INTEGRAL LTDA., Cali, Colombia; c/o INVERSIONES SANTA LTDA., Cali, Colombia; c/o MIRALUNA LTDA., Cali, Colombia; c/o SAMARIA LTDA., Cali, Colombia; c/o URBANIZACIONES Y CONSTRUCCIONES LTDA. DE CALI, Cali, Colombia; DOB 13 Jan 1948; alt. DOBs 13 Jan 1946, 14 Apr 1959; Passports PE027370 (Colombia), AA429676 (Colombia); Cedula No. 38983611 (Colombia) (individual) [SDNT]

CASTRO SANCHEZ, Nelson, c/o ADMACOOP, Bogota, Colombia; c/o CODISA, Bogota, Colombia; c/o FARMACOOP, Bogota, Colombia; DOB 18 May 1953; Passport 19308824 (Colombia); Cedula No. 19308824 (Colombia) (individual) [SDNT]

CASTRO VERGARA, Sandra, c/o INVERSIONES EL PENON S.A., Cali, Colombia; Cedula No. 31924082 (Colombia) (individual) [SDNT]

CAUCALITO LTDA. (f.k.a. GANADERA LTDA.; f.k.a. GANADERIA), Apartado Aereo 10077, Cali, Colombia; Carrera 4 No. 12-41 of. 1403, Edificio Seguros Bolivar, Cali, Colombia; NIT # 800029160-9 (Colombia) [SDNT]

CAVIEDES CRUZ, Leonardo, Calle 21 Norte No. 3N-84, Cali, Colombia; c/o CAVIEDES DILEO Y CIA S.C.S., Cali, Colombia; c/o INVERSIONES SANTA LTDA., Cali, Colombia; DOB: 23 Nov 1952; Passports AB151486 (Colombia), AC444270 (Colombia), OC444290 (Colombia); Cedula No. 16593470 (Colombia) (individual) [SDNT]

CAVIEDES DILEO Y CIA. S.C.S, Calle 21 Norte No. 3N-64, Cali, Colombia; NIT # 800113437-2 (Colombia) [SDNT]

CAVIEDES LOPEZ, Gloria Ines, c/o DISTRIBUCIONES GLOMIL LTDA., Cali, Colombia; DOB 20 Oct 1959; Passport 42002286 (Colombia); Cedula No. 42002286 (Colombia) (individual) [SDNT]

CBSP (a.k.a. AL AQSA ASSISTANCE CHARITABLE COUNCIL; a.k.a. AL-LAJNA AL-KHAYRIYYA LIL MUNASARA AL-AQSA; a.k.a. BENEVOLENCE COMMITTEE FOR SOLDARITY WITH PALESTINE; a.k.a. BENEVOLENT COMMITTEE FOR SUPPORT OF PALESTINE; a.k.a. CHARITABLE COMMITTEE FOR PALESTINE; a.k.a. CHARITABLE COMMITTEE FOR SOLIDARITY WITH PALESTINE; a.k.a. CHARITABLE COMMITTEE FOR SUPPORTING PALESTINE; a.k.a. CHARITABLE ORGANIZATION IN SUPPORT OF PALESTINE; n.k.a. COMITE' DE BIENFAISANCE ET DE SECOURS AUX PALESTINIENS; f.k.a. COMITE' DE BIENFAISANCE POUR LA SOLIDARITE' AVEC LA PALESTINE; a.k.a. COMMITTEE FOR AID AND SOLIDARITY WITH PALESTINE; a.k.a. COMMITTEE FOR ASSISTANCE AND SOLIDARITY WITH PALESTINE; a.k.a. COMMITTEE FOR CHARITY AND SOLIDARITY WITH PALESTINE; a.k.a. COMPANIE BENIFICENT DE SOLIDARITE AVEC PALESTINE; a.k.a. COUNCIL OF CHARITY AND SOLIDARITY; a.k.a. DE BIENFAISANCE ET DE COMMITE LE SOLIDARITE AVEC LA PALESTINE; a.k.a. RELIEF COMMITTEE FOR SOLIDARITY WITH PALESTINE), 68 Rue Jules Guesde, 59000 Lille, France; 10 Rue Notre Dame, 69006 Lyon, France; 37 Rue de la Chapelle, 75018 Paris, France [SDGT]

CECOEX, S.A., Panama City, Panama [CUBA]

CELIS PEREZ, Alexander, c/o DROCARD S.A., Bogota, Colombia; DOB 16 Feb 1973; Cedula No. 79620931 (Colombia) (individual) [SDNT]

CENGIC, Hasan; DOB 3 Aug 1957; POB Odzak, Bosnia-Herzegovina (individual) [BALKANS]

CENTRAL BANK OF LIBYA, Al-Fatah Street, P.O. Box 1103, Tripoli, Libya [LIBYA]

CENTRAL BANK OF LIBYA, Benghazi, Libya [LIBYA]

CENTRAL BANK OF LIBYA, Sebha, Libya [LIBYA]

CENTRAL ELECTRICITY AND WATER CORPORATION (a.k.a. PUBLIC ELECTRICITY AND WATER CORPORATION), P.O. Box 1380, Khartoum, Sudan [SUDAN]

CENTRO COMERCIAL DEL AUTOMOVIL (a.k.a. CARS & CARS LTDA.; a.k.a. COMERCIALIZADORA INTEGRAL LTDA.; a.k.a. PROYECTO CARS & CARS), Avenida Roosevelt entre carreras 38 y 38A esquinas, Cali, Colombia [SDNT]

CERKEZ, Mario; DOB 27 Mar 1959; POB Rijeka, Bosnia-Herzegovina; ICTY indictee (individual) [BALKANS]

CESIC, Ranko; DOB 5 Sep 1964; POB Drvar, Bosnia-Herzegovina; ICTY indictee in custody (individual) [BALKANS]

CESIC-ROJS, Ljubo; DOB 20 Feb 1958; POB Posulje, Bosnia-Herzegovina (individual) [BALKANS]

CETNIK RAVNAGORSKI POKRET (a.k.a. CRP) [BALKANS]

CHACON PACHON, Rodolfo, c/o COSMEPOP, Bogota, Colombia; c/o DISTRIBUIDORA DE DROGAS CONDOR S.A., Bogota, Colombia; Cedula No. 79538033 (Colombia) (individual) [SDNT]

CHADIAN (a.k.a. SHAHBANDAR, Samira); DOB 1946; POB Baghdad, Iraq; nationality Iraqi; wife of Saddam Hussein al-Tikriti (individual) [IRAQ2]

CHALO (a.k.a. PRADO CUERO, Salomon), Avenida 26 No. 42B-89 Bogota, Colombia; Carrera 101B No. 11B-50 Cali, Colombia; c/o COLOR 89.5 FM STEREO, Cali, Colombia; DOB 1 Aug 1948 (individual) [SDNT]

CHAMARTIN S.A., Calle 10 No. 4-47, piso 18, Cali, Colombia; NIT # 805024137-4 (Colombia) [SDNT]

CHAMET IMPORT, S.A., Panama [CUBA]

CHAN, Changtrakul (a.k.a. Khun Sa; a.k.a. CHANG, Chi Fu; a.k.a. CHANG, Shi-Fu; a.k.a. CHANG, Xifu; a.k.a. CHANGTRAKUL, Chan), DOB 17 Feb 1933; alt. DOB 7 Jan 1932; alt. DOB 12 Feb 1932; POB Burma (individual) [SDNTK]

CHANG BARRERO, Pedro Antonio, c/o DISTRIBUIDORA MIGIL LTDA., Cali, Colombia; c/o RADIO UNIDAS FM S.A., Cali, Colombia; Cedula No. 14960909 (Colombia) (individual) [SDNT]

CHANG, Chi Fu (a.k.a. Khun Sa; a.k.a. CHAN, Changtrakul; a.k.a. CHANG, Shi-Fu; a.k.a. CHANG, Xifu; a.k.a. CHANGTRAKUL, Chan), DOB 17 Feb 1933; alt. DOB 7 Jan 1932; alt. DOB 12 Feb 1932; POB Burma (individual) [SDNTK]

CHANG, Ping Yun (a.k.a KHUN, Saeng); DOB 7 Jan 1940; POB Burma (individual) [SDNTK]

CHANG, Shi-Fu (a.k.a. Khun Sa; a.k.a. CHAN, Changtrakul; a.k.a. CHANG, Chi Fu; a.k.a. CHANG, Xifu; a.k.a. CHANGTRAKUL, Chan), DOB 17 Feb 1933; alt. DOB 7 Jan 1932; alt. DOB 12 Feb 1932; POB Burma (individual) [SDNTK]

CHANG, Xifu (a.k.a. Khun Sa; a.k.a. CHAN, Changtrakul; a.k.a. CHANG, Chi Fu; a.k.a. CHANG, Shi-Fu; a.k.a. CHANGTRAKUL, Chan), DOB 17 Feb 1933; alt. DOB 7 Jan 1932; alt. DOB 12 Feb 1932; POB Burma (individual) [SDNTK]

CHANGTRAKUL, Chan (a.k.a. Khun Sa; a.k.a. CHAN, Changtrakul; a.k.a. CHANG, Chi Fu; a.k.a. CHANG, Shi-Fu; a.k.a. CHANG, Xifu), DOB 17 Feb 1933; alt. DOB 7 Jan 1932; alt. DOB 12 Feb 1932; POB Burma (individual) [SDNTK]

CHAO, Lazaro R., Executive Director, Havana International Bank, 20 Ironmonger Lane, London EC2V 8EY, England (individual) [CUBA]

CHAPARRO MARTINEZ, Elizabeth, c/o ADMINISTRADORA DE SERVICIOS VARIOS CALIMA S.A., Cali, Colombia; DOB 5 May 1968; Passport 31973372 (Colombia); Cedula No. 31973372 (Colombia) (individual) [SDNT]

CHARAABI, Tarek (a.k.a. SHARAABI, Tarek), Viale Bligny n.42, Milano, Italy; DOB 31 Mar 1970; POB Tunisia; Italian Fiscal Code: CHRTRK70C31Z352U (individual) [SDGT]

CHARALAMBIDES, Kypros, Cyprus (individual) [LIBYA]

CHARAMBA, George, Permanent Secretary, Zimbabwean Ministry of Information; DOB 4 Apr 1963 (individual) [ZIMB]

CHARITABLE AL-AQSA ESTABLISHMENT (a.k.a. AL-AQSA (ASBL); a.k.a. AL-AQSA SPANMAL STIFTELSE; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), BD Leopold II 71, 1080 Brussels, Belgium [SDGT]

CHARITABLE AL-AQSA ESTABLISHMENT (a.k.a. AL-AQSA E.V.; a.k.a. AL-AQSA SPANMAL STIFTELSE; a.k.a. AL-AQSA ASBL; a.k.a. AL-AQSA CHARITABLE FOUNDATION; a.k.a. AL-AQSA CHARITABLE ORGANIZATION; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), Kappellenstrasse 36, D-52066, Aachen, Germany [SDGT]

CHARITABLE AL-AQSA ESTABLISHMENT (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 421082, 2nd Floor, Amoco Gardens, 40 Mint Road, Fordsburg 2033, Johannesburg, South Africa; P.O. Box 421083, 2nd Floor, Amoco Gardens, 40 Mint Road, Fordsburg 2033, Johannesburg, South Africa [SDGT]

CHARITABLE AL-AQSA ESTABLISHMENT (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.) [SDGT]

CHARITABLE AL-AQSA ESTABLISHMENT (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 2364, Islamabad, Pakistan [SDGT]

CHARITABLE AL-AQSA ESTABLISHMENT (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), Nobelvagen 79 NB, 21433 Malmo, Sweden; Noblev 79 NB, 21433 Malmo, Sweden [SDGT]

CHARITABLE AL-AQSA ESTABLISHMENT (a.k.a. AQSSA SOCIETY YEMEN; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 14101, San'a, Yemen [SDGT]

CHARITABLE AL-AQSA ESTABLISHMENT (a.k.a. FORENINGEN AL-AQSA; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE SOCIETY TO HELP THE NOBLE AL-AQSA; a.k.a. NUSRAT AL-AQSA AL-SHARIF; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 6222200KBKN, Copenhagen, Denmark [SDGT]

CHARITABLE AL-AQSA ESTABLISHMENT (a.k.a. STICHTING AL-AQSA; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. SWEDISH CHARITABLE AQSA EST.), Gerrit V/D Lindestraat 103 E, 03022 TH, Rotterdam, Holland; Gerrit V/D Lindestraat 103 A, 3022 TH, Rotterdam, Holland [SDGT]

CHARITABLE COMMITTEE FOR PALESTINE (a.k.a. AL AQSA ASSISTANCE CHARITABLE COUNCIL; a.k.a. AL-LAJNA AL-KHAYRIYYA LIL MUNASARA AL-AQSA; a.k.a. BENEVOLENCE COMMITTEE FOR SOLDARITY WITH PALESTINE; a.k.a. BENEVOLENT COMMITTEE FOR SUPPORT OF PALESTINE; a.k.a. CBSP; a.k.a. CHARITABLE COMMITTEE FOR SOLIDARITY WITH PALESTINE; a.k.a. CHARITABLE COMMITTEE FOR SUPPORTING PALESTINE; a.k.a. CHARITABLE ORGANIZATION IN SUPPORT OF PALESTINE; n.k.a. COMITE' DE BIENFAISANCE ET DE SECOURS AUX PALESTINIENS; f.k.a. COMITE' DE BIENFAISANCE POUR LA SOLIDARITE' AVEC LA PALESTINE; a.k.a. COMMITTEE FOR AID AND SOLIDARITY WITH PALESTINE; a.k.a. COMMITTEE FOR ASSISTANCE AND SOLIDARITY WITH PALESTINE; a.k.a. COMMITTEE FOR CHARITY AND SOLIDARITY WITH PALESTINE; a.k.a. COMPANIE BENIFICENT DE SOLIDARITE AVEC PALESTINE; a.k.a. COUNCIL OF CHARITY AND SOLIDARITY; a.k.a. DE BIENFAISANCE ET DE COMMITE LE SOLIDARITE AVEC LA PALESTINE; a.k.a. RELIEF COMMITTEE FOR SOLIDARITY WITH PALESTINE), 68 Rue Jules Guesde, 59000 Lille, France; 10 Rue Notre Dame, 69006 Lyon, France; 37 Rue de la Chapelle, 75018 Paris, France [SDGT]

CHARITABLE COMMITTEE FOR SOLIDARITY WITH PALESTINE (a.k.a. AL AQSA ASSISTANCE CHARITABLE COUNCIL; a.k.a. AL-LAJNA AL-KHAYRIYYA LIL MUNASARA AL-AQSA; a.k.a. BENEVOLENCE COMMITTEE FOR SOLDARITY WITH PALESTINE; a.k.a. BENEVOLENT COMMITTEE FOR SUPPORT OF PALESTINE; a.k.a. CBSP; a.k.a. CHARITABLE COMMITTEE FOR PALESTINE; a.k.a. CHARITABLE COMMITTEE FOR SUPPORTING PALESTINE; a.k.a. CHARITABLE ORGANIZATION IN SUPPORT OF PALESTINE; n.k.a. COMITE' DE BIENFAISANCE ET DE SECOURS AUX PALESTINIENS; f.k.a. COMITE' DE BIENFAISANCE POUR LA SOLIDARITE' AVEC LA PALESTINE; a.k.a. COMMITTEE FOR AID AND SOLIDARITY WITH PALESTINE; a.k.a. COMMITTEE FOR ASSISTANCE AND SOLIDARITY WITH PALESTINE; a.k.a. COMMITTEE FOR CHARITY AND SOLIDARITY WITH PALESTINE; a.k.a. COMPANIE BENIFICENT DE SOLIDARITE AVEC PALESTINE; a.k.a. COUNCIL OF CHARITY AND SOLIDARITY; a.k.a. DE BIENFAISANCE ET DE COMMITE LE SOLIDARITE AVEC LA PALESTINE; a.k.a. RELIEF COMMITTEE FOR SOLIDARITY WITH PALESTINE), 68 Rue Jules Guesde, 59000 Lille, France; 10 Rue Notre Dame, 69006 Lyon, France; 37 Rue de la Chapelle, 75018 Paris, France [SDGT]

CHARITABLE COMMITTEE FOR SUPPORTING PALESTINE (a.k.a. AL AQSA ASSISTANCE CHARITABLE COUNCIL; a.k.a. AL-LAJNA AL-KHAYRIYYA LIL MUNASARA AL-AQSA; a.k.a. BENEVOLENCE COMMITTEE FOR SOLDARITY WITH PALESTINE; a.k.a. BENEVOLENT COMMITTEE FOR SUPPORT OF PALESTINE; a.k.a. CBSP; a.k.a. CHARITABLE COMMITTEE FOR PALESTINE; a.k.a. CHARITABLE COMMITTEE FOR SOLIDARITY WITH PALESTINE; a.k.a. CHARITABLE ORGANIZATION IN SUPPORT OF PALESTINE; n.k.a. COMITE' DE BIENFAISANCE ET DE SECOURS AUX PALESTINIENS; f.k.a. COMITE' DE BIENFAISANCE POUR LA SOLIDARITE' AVEC LA PALESTINE; a.k.a. COMMITTEE FOR AID AND SOLIDARITY WITH PALESTINE; a.k.a. COMMITTEE FOR ASSISTANCE AND SOLIDARITY WITH PALESTINE; a.k.a. COMMITTEE FOR CHARITY AND SOLIDARITY WITH PALESTINE; a.k.a. COMPANIE BENIFICENT DE SOLIDARITE AVEC PALESTINE; a.k.a. COUNCIL OF CHARITY AND SOLIDARITY; a.k.a. DE BIENFAISANCE ET DE COMMITE LE SOLIDARITE AVEC LA PALESTINE; a.k.a. RELIEF COMMITTEE FOR SOLIDARITY WITH PALESTINE), 68 Rue Jules Guesde, 59000 Lille, France; 10 Rue Notre Dame, 69006 Lyon, France; 37 Rue de la Chapelle, 75018 Paris, France [SDGT]

CHARITABLE ORGANIZATION IN SUPPORT OF PALESTINE (a.k.a. AL AQSA ASSISTANCE CHARITABLE COUNCIL; a.k.a. AL-LAJNA AL-KHAYRIYYA LIL MUNASARA AL-AQSA; a.k.a. BENEVOLENCE COMMITTEE FOR SOLDARITY WITH PALESTINE; a.k.a. BENEVOLENT COMMITTEE FOR SUPPORT OF PALESTINE; a.k.a. CBSP; a.k.a. CHARITABLE COMMITTEE FOR PALESTINE; a.k.a. CHARITABLE COMMITTEE FOR SOLIDARITY WITH PALESTINE; a.k.a. CHARITABLE COMMITTEE FOR SUPPORTING PALESTINE; n.k.a. COMITE' DE BIENFAISANCE ET DE SECOURS AUX PALESTINIENS; f.k.a. COMITE' DE BIENFAISANCE POUR LA SOLIDARITE' AVEC LA PALESTINE; a.k.a. COMMITTEE FOR AID AND SOLIDARITY WITH PALESTINE; a.k.a. COMMITTEE FOR ASSISTANCE AND SOLIDARITY WITH PALESTINE; a.k.a. COMMITTEE FOR CHARITY AND SOLIDARITY WITH PALESTINE; a.k.a. COMPANIE BENIFICENT DE SOLIDARITE AVEC PALESTINE; a.k.a. COUNCIL OF CHARITY AND SOLIDARITY; a.k.a. DE BIENFAISANCE ET DE COMMITE LE SOLIDARITE AVEC LA PALESTINE; a.k.a. RELIEF COMMITTEE FOR SOLIDARITY WITH PALESTINE), 68 Rue Jules Guesde, 59000 Lille, France; 10 Rue Notre Dame, 69006 Lyon, France; 37 Rue de la Chapelle, 75018 Paris, France [SDGT]

CHARITABLE SOCIETY TO HELP THE NOBLE AL-AQSA (a.k.a. AL-AQSA (ASBL); a.k.a. AL-AQSA SPANMAL STIFTELSE; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), BD Leopold II 71, 1080 Brussels, Belgium [SDGT]

CHARITABLE SOCIETY TO HELP THE NOBLE AL-AQSA (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 2364, Islamabad, Pakistan [SDGT]

CHARITABLE SOCIETY TO HELP THE NOBLE AL-AQSA (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.) [SDGT]

CHARITABLE SOCIETY TO HELP THE NOBLE AL-AQSA (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; ; a.k.a. NUSRAT AL-AQSA AL-SHARIF; a.k.a. SANABIL AL-AQSA CHARITABLE FOUNDATION; a.k.a. STICHTING AL-AQSA; a.k.a. SWEDISH CHARITABLE AQSA EST.), P.O. Box 421082, 2nd Floor, Amoco Gardens, 40 Mint Road, Fordsburg 2033, Johannesburg, South Africa; P.O. Box 421083, 2nd Floor, Amoco Gardens, 40 Mint Road, Fordsburg 2033, Johannesburg, South Africa [SDGT]

CHARITABLE SOCIETY TO HELP THE NOBLE AL-AQSA (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Nobelvagen 79 NB, 21433 Malmo, Sweden; Noblev 79 NB, 21433 Malmo, Sweden [SDGT]

CHARITABLE SOCIETY TO HELP THE NOBLE AL-AQSA (a.k.a. AQSSA SOCIETY YEMEN; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. CHARITABLE AL-AQSA ESTABLISHMENT; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 14101, San'a, Yemen [SDGT]

CHARITABLE SOCIETY TO HELP THE NOBLE AL-AQSA (a.k.a. FORENINGEN AL-AQSA; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. ISLAMIC CHARITABLE SOCIETY FOR AL-AQSA; a.k.a. MU'ASA AL-AQSA AL-KHAYRIYYA; a.k.a. MU'ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), P.O. Box 6222200KBKN, Copenhagen, Denmark [SDGT]

CHARITABLE SOCIETY TO HELP THE NOBLE AL-AQSA (a.k.a. STICHTING AL-AQSA; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. NUSRAT AL-AQSA AL-SHARIF; a.k.a. SANABIL AL-AQSA CHARITABLE FOUNDATION; a.k.a. SWEDISH CHARITABLE AQSA EST.), Gerrit V/D Lindestraat 103 E, 03022 TH, Rotterdam, Holland; Gerrit V/D Lindestraat 103 A, 3022 TH, Rotterdam, Holland [SDGT]

CHARITABLE SOCIETY TO HELP THE NOBLE AL-AQSA; a.k.a. NUSRAT AL-AQSA AL-SHARIF (a.k.a. AL-AQSA E.V.; a.k.a. AL-AQSA SPANMAL STIFTELSE; a.k.a. AL-AQSA ASBL; a.k.a. AL-AQSA CHARITABLE FOUNDATION; a.k.a. AL-AQSA CHARITABLE ORGANIZATION; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. NUSRAT AL-AQSA AL-SHARIF; a.k.a. SANABIL AL-AQSA CHARITABLE FOUNDATION; a.k.a. STICHTING AL-AQSA; a.k.a. SWEDISH CHARITABLE AQSA EST.), Kappellenstrasse 36, D-52066, Aachen, Germany [SDGT]

CHARNCHAI, Chiwinnitipanya (a.k.a. CHEEWINNITTIPANYA, Prasit; a.k.a. CHIVINNITIPANYA, Prasit; a.k.a. CHIWINNITIPANYA, Charnchai; a.k.a. PRASIT, Cheewinnittipanya; a.k.a. PRASIT, Chivinnitipanya; a.k.a. WEI, Hsueh Kang; a.k.a. WEI, Shao-Kang; a.k.a. WEI, Sia-Kang; a.k.a. WEI, Xuekang), DOB 29 Jun 1952; alt. DOB 29 May 1952; Passports Q081061, E091929 (Thailand) (individual) [SDNTK]

CHARRIS MORALES, Geny Maria (a.k.a. CHARRYS MORALES, Geny Maria), c/o REPRESENTACIONES Y DISTRIBUCIONES HUERTAS Y ASOCIADOS S.A., Bogota, Colombia; c/o COOPERATIVA MULTIACTIVA DE COLOMBIA FOMENTAMOS, Bogota, Colombia; DOB 24 Feb 1961; Passport 51606354 (Colombia); Cedula No. 51606354 (Colombia) (individual) [SDNT]

CHARRYS MORALES, Geny Maria (a.k.a. CHARRIS MORALES, Geny Maria), c/o REPRESENTACIONES Y DISTRIBUCIONES HUERTAS Y ASOCIADOS S.A., Bogota, Colombia; c/o COOPERATIVA MULTIACTIVA DE COLOMBIA FOMENTAMOS, Bogota, Colombia; DOB 24 Feb 1961; Passport 51606354 (Colombia); Cedula No. 51606354 (Colombia) (individual) [SDNT]

CHARUMBIRA, Fortune, Deputy Minister for Local Government, Public Works, and National Housing of Zimbabwe; DOB 10 Jun 1962 (individual) [ZIMB]

CHAVARRO, Hector Fabio, c/o AGROPECUARIA BETANIA LTDA., Cali, Colombia; c/o INVERSIONES VILLA PAZ S.A., Cali, Colombia; c/o VALLADARES LTDA., Cali, Colombia; Cedula No. 16263212 (Colombia) (individual) [SDNT]

CHEEWINNITTIPANYA, Prasit (a.k.a. CHARNCHAI, Chiwinnitipanya; a.k.a. CHIVINNITIPANYA, Prasit; a.k.a. CHIWINNITIPANYA, Charnchai; a.k.a. PRASIT, Cheewinnittipanya; a.k.a. PRASIT, Chivinnitipanya; a.k.a. WEI, Hsueh Kang; a.k.a. WEI, Shao-Kang; a.k.a. WEI, Sia-Kang; a.k.a. WEI, Xuekang), DOB 29 Jun 1952; alt. DOB 29 May 1952; Passports Q081061, E091929 (Thailand) (individual) [SDNTK]

CHEKKOURI, Yassine; DOB 6 Oct 1966; POB Safi, Morocco (individual) [SDGT]

CHEMPETROL (a.k.a. CHEMPETROL INTERNATIONAL), 145, Flat 9, Tower Road, Sliema, Malta [LIBYA]

CHEMPETROL INTERNATIONAL (a.k.a. CHEMPETROL), 145, Flat 9, Tower Road, Sliema, Malta [LIBYA]

CHEMPETROL INTERNATIONAL LTD., 28 Lincoln's Inn Fields, London WC2A 3HH, England [LIBYA]

CHEMPETROL INTERNATIONAL LTD., 5th Floor, Quality Court, Chancery Lane, London WC2A 1HP, England [LIBYA]

CHIGWEDERE, Aeneas, Minister of Education, Sports and Culture of Zimbabwe; DOB 25 Nov 1939 (individual) [ZIMB]

CHIHURI, Augustine, Zimbabwean Police Commissioner; DOB 10 Mar 1953 (individual) [ZIMB]

CHIKOWORE, Enos, Politburo Secretary for Land and Resettlement of Zimbabwe; DOB 17 July 1942 (individual) [ZIMB]

CHINAMASA, Patrick, Minister of Justice of Zimbabwe; DOB 25 Jan 1947 (individual) [ZIMB]

CHINDORI-CHININGA, Edward, Minister of Mines of Zimbabwe; DOB 14 Mar 1955 (individual) [ZIMB]

CHINGUETTY BANK (a.k.a. BALM; BANQUE ARABE LIBYENNE MAURITANIENNE POUR LE COMMERCE EXTERIEUR ET LE DEVELOPPEMENT), Jamal Abdulnasser Street, P.O. Box 262, Nouakchott, Mauritania [LIBYA]

CHIVINNITIPANYA, Prasit (a.k.a. CHARNCHAI, Chiwinnitipanya; a.k.a. CHEEWINNITTIPANYA, Prasit; a.k.a. CHIWINNITIPANYA, Charnchai; a.k.a. PRASIT, Cheewinnittipanya; a.k.a. PRASIT, Chivinnitipanya; a.k.a. WEI, Hsueh Kang; a.k.a. WEI, Shao-Kang; a.k.a. WEI, Sia-Kang; a.k.a. WEI, Xuekang), DOB 29 Jun 1952; alt. DOB 29 May 1952; Passports Q081061, E091929 (Thailand) (individual) [SDNTK]

CHIWENGA, Constantine, Lt. General, Commander of the Zimbabwean Army; DOB 25 Aug 1956 (individual) [ZIMB]

CHIWEWE, Willard, Senior Secretary, Ministry of Foreign Affairs of Zimbabwe; DOB 19 Mar 1949 (individual) [ZIMB]

CHIWINNITIPANYA, Charnchai (a.k.a. CHARNCHAI, Chiwinnitipanya; a.k.a. CHEEWINNITTIPANYA, Prasit; a.k.a. CHIVINNITIPANYA, Prasit; a.k.a. PRASIT, Cheewinnittipanya; a.k.a. PRASIT, Chivinnitipanya; a.k.a. WEI, Hsueh Kang; a.k.a. WEI, Shao-Kang; a.k.a. WEI, Sia-Kang; a.k.a. WEI, Xuekang), DOB 29 Jun 1952; alt. DOB 29 May 1952; Passports Q081061, E091929 (Thailand) (individual) [SDNTK]

CHOMBO, Ignatius, Minister of Local Government of Zimbabwe; DOB 1 Aug 1952 (individual) [ZIMB]

CIA. ANDINA DE EMPAQUES LTDA. (a.k.a. COEMPAQUES LTDA.), Carrera 4 No. 11-45 Ofc. 503, Cali, Colombia; Carrera 17 G No. 25-72, Cali, Colombia; NIT # 800018562-9 (Colombia) [SDNT]

CIA. INTERAMERICANA DE COSMETICOS S.A. (a.k.a. COINTERCOS S.A.; f.k.a. BLAIMAR; f.k.a. LABORATORIOS BLAIMAR DE COLOMBIA S.A.), Calle 12B No. 27-39, Bogota, Colombia; Apartado Aereo 33248, Bogota, Colombia; NIT # 860511578-8 (Colombia) [SDNT]

CIA. INTERAMERICANA DE COSMETICOS S.A. (n.k.a. COOPERATIVA DE COSMETICOS Y POPULARES COSMEPOP; n.k.a. COSMEPOP; a.k.a. BLAIMAR; a.k.a. COINTERCOS S.A.; a.k.a. LABORATORIOS BLAIMAR DE COLOMBIA S.A.; a.k.a. LABORATORIOS BLANCO PHARMA S.A.), Calle 12A No. 27-72, Bogota, Colombia; A.A. 55538, Bogota, Colombia; Calle 12B No. 27-37/39, Bogota, Colombia; Calle 26 Sur No. 7-30 Este, Bogota, Colombia; Carrera 99 y 100 No. 46A-10, Bodega 4, Bogota, Colombia; NIT # 800251322-5 (Colombia) [SDNT]

CIA. MINERA DAPA S.A., Carrera 16 No. 93-38 Ofc. 104, Bogota, Colombia; NIT # 800181373-1 (Colombia) [SDNT]

CIDECO (a.k.a. CORPORACION IBEROAMERICANA DEL COMERCIO), Spain [CUBA]

CIFUENTES GALINDO, Luis Eduardo (a.k.a. “El Aguila”); DOB 16 Mar 1960; Cedula No. 3254362 (Colombia) (individual) [SDNTK]

CIMECO, SRL, Milan, Italy [CUBA]

CIMEX (a.k.a. CIMEX CUBA; a.k.a. COMERCIO INTERIOR, MERCADO EXTERIOR; a.k.a. CORPORACION CIMEX S.A.), Edificio Sierra Maestra, Avenida Primera entre 0 y 2, Miramar Playa, Ciudad de la Habana, Cuba; and all other locations worldwide [CUBA]

CIMEX (a.k.a. COMPANIA DE IMPORTACION Y EXPORTACION IBERIA), Spain [CUBA]

CIMEX CUBA (a.k.a. CIMEX; a.k.a. COMERCIO INTERIOR, MERCADO EXTERIOR; a.k.a. CORPORACION CIMEX S.A.), Edificio Sierra Maestra, Avenida Primera entre 0 y 2, Miramar Playa, Ciudad de la Habana, Cuba; and all other locations worldwide [CUBA]

CIMEX, Emerson No. 148 Piso 7, 11570 Mexico, D.F. [CUBA]

CIMEX IBERICA, Spain [CUBA]

CIMEX, S.A., Panama [CUBA]

CIVIL AVIATION AUTHORITY, Sharia El Saidi, Tripoli, Libya [LIBYA]

CLAUDIA PILAR RODRIGUEZ Y CIA. S.C.S., Calle 17A No. 28A-43, Bogota, Colombia; NIT # 830007201-7 (Colombia) [SDNT]

CLAVIJO GARCIA, Hector Augusto, c/o GANADERIAS DEL VALLE, Cali, Colombia; Cedula No. 16613930 (Colombia) (individual) [SDNT]

CLINICA ESPECIALIZADA DEL VALLE S.A. (a.k.a. C.E.V. S.A.), Calle 10 No. 44A-26, Cali, Colombia; Apartado Aereo 32412, Cali, Colombia; Carrera 46 No. 9C-85, Cali, Colombia; Carrera 40 No. 6-50, Of. 1501, Cali, Colombia; NIT # 800134099-6 (Colombia) [SDNT]

CLUB AMERICA DE CALI (a.k.a. CLUB DEPORTIVO AMERICA; a.k.a. CORPORACION DEPORTIVA AMERICA), Carrera 56 No. 2-70, Cali, Colombia; Avenida Guadalupe No. 2-70, Cali, Colombia; Calle 24N No. 5BN-22, Cali, Colombia; Calle 13 Carrera 70, Cali, Colombia; Sede Cascajal, Cali, Colombia; Sede Naranjal, Cali, Colombia; NIT # 890305773-4 (Colombia) [SDNT]

CLUB DEPORTIVO AMERICA (a.k.a. CLUB AMERICA DE CALI; a.k.a. CORPORACION DEPORTIVA AMERICA), Carrera 56 No. 2-70, Cali, Colombia; Avenida Guadalupe No. 2-70, Cali, Colombia; Calle 24N No. 5BN-22, Cali, Colombia; Calle 13 Carrera 70, Cali, Colombia; Sede Cascajal, Cali, Colombia; Sede Naranjal, Cali, Colombia; NIT # 890305773-4 (Colombia) [SDNT]

CLUB DEPORTIVO LUZ MERY TRISTAN WORLD CLASS (a.k.a. LUZ MERY TRISTAN E.U.; a.k.a. LUZ MERY TRISTAN WORLD CLASS), Carrera 125 No. 19-275, Cali, Colombia; Diagonal 32 No. 37-125, Cali, Colombia; Holguines Trade Center L-239, Cali, Colombia; Calle 5B 4 No. 37-125, Cali, Colombia; Avenida 6 Norte No. 17-92 Apt. 508, Cali, Colombia; NIT # 805449310-7 (Colombia); NIT # 805012268-9 (Colombia) [SDNT]

COBALT REFINERY CO. INC., Fort Saskatchewan, AB, Canada [CUBA]

CODISA (a.k.a. COOPERATIVA MULTIACTIVA DE DISTRIBUCION Y SERVICIOS ADMINISTRATIVOS), Calle 17A No. 28A-43, Bogota, Colombia; Calle 23 No. 19-75, Bogota, Colombia; NIT # 860524476-1 (Colombia) [SDNT]

COEMPAQUES LTDA. (a.k.a. CIA. ANDINA DE EMPAQUES LTDA.), Carrera 4 No. 11-45 Ofc. 503, Cali, Colombia; Carrera 17 G No. 25-72, Cali, Colombia; NIT # 800018562-9 (Colombia) [SDNT]

COIBA (a.k.a. COMERCIAL IBEROAMERICANA, S.A.), Spain [CUBA]

COINTERCOS S.A. (a.k.a. CIA. INTERAMERICANA DE COSMETICOS S.A.; f.k.a. BLAIMAR; f.k.a. LABORATORIOS BLAIMAR DE COLOMBIA S.A.), Calle 12B No. 27-39, Bogota, Colombia; Apartado Aereo 33248, Bogota, Colombia; NIT # 860511578-8 (Colombia) [SDNT]

COINTERCOS S.A. (n.k.a. COOPERATIVA DE COSMETICOS Y POPULARES COSMEPOP; n.k.a. COSMEPOP; a.k.a. BLAIMAR; a.k.a. CIA. INTERAMERICANA DE COSMETICOS S.A.; a.k.a. LABORATORIOS BLAIMAR DE COLOMBIA S.A.; a.k.a. LABORATORIOS BLANCO PHARMA S.A.), Calle 12A No. 27-72, Bogota, Colombia; A.A. 55538, Bogota, Colombia; Calle 12B No. 27-37/39, Bogota, Colombia; Calle 26 Sur No. 7-30 Este, Bogota, Colombia; Carrera 99 y 100 No. 46A-10, Bodega 4, Bogota, Colombia; NIT # 800251322-5 (Colombia) [SDNT]

COLCERDOS LTDA. (a.k.a. COLOMBIANA DE CERDOS LTDA.), Km. 3 Via Marsella Parque Industrial, Pereira, Colombia; Apartado Aereo 3786, Pereira, Colombia; NIT # 800018928-0 (Colombia) [SDNT]

COLFARMA PERU S.A., Av. Los Plateros 145 piso 2, Urb. El Artesano Ate, Lima, Peru; RUC # 2033645155 (Peru) [SDNT]

COLIMEX LTDA., Calle 29 Norte No. 6N-43, Cali, Colombia; NIT # 800256902-1 (Colombia) [SDNT]

COLL, Gabriel (PRADO), Panama (individual) [CUBA]

COLLOMBEY REFINERY (a.k.a. RSO; a.k.a. RAFFINERIE DU SUD-OUEST), Collombey, Valais, Switzerland [LIBYA]

COLOMBIANA DE BOLSAS S.A. (n.k.a. GEOPLASTICOS S.A.), Calle 24 No. 4-31, Cali, Colombia; NIT # 890931876-9 (Colombia) [SDNT]

COLOMBIANA DE CERDOS LTDA. (a.k.a. COLCERDOS LTDA.), Km. 3 Via Marsella Parque Industrial, Pereira, Colombia; Apartado Aereo 3786, Pereira, Colombia; NIT # 800018928-0 (Colombia) [SDNT]

COLON, Eduardo (BETANCOURT), Panama (individual) [CUBA]

COLONY TRADING, S.A., Panama [CUBA]

COLOR 89.5 FM STEREO, Calle 15N No. 6N-34 piso 15, Edificio Alcazar, Cali, Colombia; Calle 19N No. 2N-29, Cali, Colombia [SDNT]

COLOR STEREO S.A. (a.k.a. COLOR'S S.A.; a.k.a. RADIO UNIDAS FM S.A.; n.k.a. SONAR F.M. S.A.), Calle 15 Norte No. 6N-34 piso 15 Edificio Alcazar, Cali, Colombia; Calle 19N No. 2N-29 piso 10 Sur, Cali, Colombia; NIT # 800163602-5 (Colombia) [SDNT]

COLOR'S S.A. (a.k.a. COLOR STEREO S.A.; a.k.a. RADIO UNIDAS FM S.A.; n.k.a. SONAR F.M. S.A.), Calle 15 Norte No. 6N-34 piso 15 Edificio Alcazar, Cali, Colombia; Calle 19N No. 2N-29 piso 10 Sur, Cali, Colombia; NIT # 800163602-5 (Colombia) [SDNT]

COLPHAR S.A. (a.k.a. COMERCIALIZADORA DE LINEAS PHARMACEUTICAS S.A.), Calle 39 Bis A No. 27-16, Bogota, Colombia; Calle 94A No. 13-91 of. 402, Bogota, Colombia; NIT # 830074552-2(Colombia) [SDNT]

COMACHO RODRIGUES, Gilberto (a.k.a. ARELLANO FELIX, Ramon Eduardo; a.k.a. TORRES MENDEZ, Ramon), DOB 31 Aug 1964; POB Mexico (individual) [SDNTK]

COMECARNES LTDA. (a.k.a. COMERCIALIZADORA DE CARNES LTDA.), Km. 3 Via Marsella, Pereira, Colombia; NIT # 800076369-0 (Colombia) [SDNT]

COMEDICAMENTOS S.A., Transversal 29 No. 39-92, Bogota, Colombia; NIT # 830030803-7 (Colombia) [SDNT]

COMERCIAL CIMEX, S.A., Panama [CUBA]

COMERCIAL DE NEGOCIOS CLARIDAD Y CIA., Avenida Caracas No. 59-77 of. 201A, 401B y 405B, Bogota, Colombia; NIT # 800080719-0 (Colombia) [SDNT]

COMERCIAL DE RODAJES Y MAQUINARIA, S.A. (a.k.a. CRYMSA), Jose Lazaro Galdeano 6-6, 28016 Madrid, Spain [CUBA]

COMERCIAL IBEROAMERICANA, S.A. (COIBA), Spain [CUBA]

COMERCIAL MURALLA, S.A. (a.k.a. MURALLA, S.A.), Panama City, Panama [CUBA]

COMERCIALIZACION DE PRODUCTOS VARIOS (a.k.a. COPROVA; a.k.a. COPROVA SARL), Paris, France [CUBA]

COMERCIALIZACION Y FINANCIACION DE AUTOMOTORES S.A. (a.k.a. COMFIAUTOS S.A.), Carrera 4 No. 11-33 of. 303, Cali, Colombia; Avenida 2N No. 7N-55 of. 609, Cali, Colombia; NIT # 800086115-1 (Colombia) [SDNT]

COMERCIALIZADORA AUTOMOTRIZ S.A. (n.k.a. CREDISA S.A.), Avenida 7 Norte No. 23N-81, Cali, Colombia; Avenida 7 Norte No. 23-77, Cali, Colombia; Carrera 7D Bis No. 68-58, Cali, Colombia; NIT # 800065773-6 (Colombia) [SDNT]

COMERCIALIZADORA DE CARNES DEL PACIFICO LTDA., Calle 25 No. 8-54, Cali, Colombia [SDNT]

COMERCIALIZADORA DE CARNES LTDA. (a.k.a. COMECARNES LTDA.), Km. 3 Via Marsella, Pereira, Colombia; NIT # 800076369-0 (Colombia) [SDNT]

COMERCIALIZADORA DE LINEAS PHARMACEUTICAS S.A. (a.k.a. COLPHAR S.A.), Calle 39 Bis A No. 27-16, Bogota, Colombia; Calle 94A No. 13-91 of. 402, Bogota, Colombia; NIT # 830074552-2(Colombia) [SDNT]

COMERCIALIZADORA DE PRODUCTOS FARMACEUTICOS LTDA., Manzana 48 Casa 12 Etapa 2 Simon Bolivar, Ibague, Colombia; NIT # 809010102-0 (Colombia) [SDNT]

COMERCIALIZADORA DIGLO LTDA., Calle 23 No. 19-75, Bogota, Colombia; NIT # 800789578-3 (Colombia) [SDNT]

COMERCIALIZADORA EXPERTA Y CIA. S. EN C., Avenida Caracas No. 59-77 of. 201A, 401B, 405B y 407B, Bogota, Colombia; NIT # 800075687-3 (Colombia) [SDNT]

COMERCIALIZADORA INTEGRAL LTDA. (a.k.a. CARS & CARS LTDA.; a.k.a. CENTRO COMERCIAL DEL AUTOMOVIL; a.k.a. PROYECTO CARS & CARS), Avenida Roosevelt entre carreras 38 y 38A esquinas, Cali, Colombia [SDNT]

COMERCIALIZADORA INTERNACIONAL VALLE DE ORO S.A. (a.k.a. PROCESADORA DE POLLOS SUPERIOR S.A.), A.A. 1689, Cali, Colombia; Avenida 2N No. 7N-55, of. 521, Cali, Colombia; Carrera 3 No. 12-40, Cali, Colombia; Km 17 Recta Cali-Palmira, Palmira, Colombia; NIT # 800074991-3 (Colombia) [SDNT]

COMERCIALIZADORA INTERTEL S.A., Calle 18 No. 106-98 of. 207, 302, 303, Cali, Colombia; Calle 19 No. 9-50 of. 1501, Cali, Colombia; Carrera 42 No. 9D-49, Cali, Colombia; NIT # 805015152-7 (Colombia) [SDNT]

COMERCIALIZADORA OROBANCA (a.k.a. SOCIR S.A.), Calle 36A No. 3GN-07 of. 302, Edificio El Parque, Cali, Colombia; Calle 22N No. 5A-75 of. 702, Edificio Via Veneto, Cali, Colombia [SDNT]

COMERCIO INTERIOR, MERCADO EXTERIOR (a.k.a. CIMEX; a.k.a. CIMEX CUBA; a.k.a. CORPORACION CIMEX S.A.), Edificio Sierra Maestra, Avenida Primera entre 0 y 2, Miramar Playa, Ciudad de la Habana, Cuba; and all other locations worldwide [CUBA]

COMFIAUTOS S.A. (a.k.a. COMERCIALIZACION Y FINANCIACION DE AUTOMOTORES S.A.), Carrera 4 No. 11-33 of. 303, Cali, Colombia; Avenida 2N No. 7N-55 of. 609, Cali, Colombia; NIT # 800086115-1 (Colombia) [SDNT]

COMITE' DE BIENFAISANCE ET DE SECOURS AUX PALESTINIENS (a.k.a. AL AQSA ASSISTANCE CHARITABLE COUNCIL; a.k.a. AL-LAJNA AL-KHAYRIYYA LIL MUNASARA AL-AQSA; a.k.a. BENEVOLENCE COMMITTEE FOR SOLIDARITY WITH PALESTINE; a.k.a. BENEVOLENT COMMITTEE FOR SUPPORT OF PALESTINE; a.k.a. CBSP; a.k.a. CHARITABLE COMMITTEE FOR PALESTINE; a.k.a. CHARITABLE COMMITTEE FOR SOLIDARITY WITH PALESTINE; a.k.a. CHARITABLE COMMITTEE FOR SUPPORTING PALESTINE; a.k.a. CHARITABLE ORGANIZATION IN SUPPORT OF PALESTINE; f.k.a. COMITE' DE BIENFAISANCE POUR LA SOLIDARITE' AVEC LA PALESTINE; a.k.a. COMMITTEE FOR AID AND SOLIDARITY WITH PALESTINE; a.k.a. COMMITTEE FOR ASSISTANCE AND SOLIDARITY WITH PALESTINE; a.k.a. COMMITTEE FOR CHARITY AND SOLIDARITY WITH PALESTINE; a.k.a. COMPANIE BENIFICENT DE SOLIDARITE AVEC PALESTINE; a.k.a. COUNCIL OF CHARITY AND SOLIDARITY; a.k.a. DE BIENFAISANCE ET DE COMMITE LE SOLIDARITE AVEC LA PALESTINE; a.k.a. RELIEF COMMITTEE FOR SOLIDARITY WITH PALESTINE), 68 Rue Jules Guesde, 59000 Lille, France; 10 Rue Notre Dame, 69006 Lyon, France; 37 Rue de la Chapelle, 75018 Paris, France [SDGT]

COMITE' DE BIENFAISANCE POUR LA SOLIDARITE' AVEC LA PALESTINE (a.k.a. AL AQSA ASSISTANCE CHARITABLE COUNCIL; a.k.a. AL-LAJNA AL-KHAYRIYYA LIL MUNASARA AL-AQSA; a.k.a. BENEVOLENCE COMMITTEE FOR SOLDARITY WITH PALESTINE; a.k.a. BENEVOLENT COMMITTEE FOR SUPPORT OF PALESTINE; a.k.a. CBSP; a.k.a. CHARITABLE COMMITTEE FOR PALESTINE; a.k.a. CHARITABLE COMMITTEE FOR SOLIDARITY WITH PALESTINE; a.k.a. CHARITABLE COMMITTEE FOR SUPPORTING PALESTINE; a.k.a. CHARITABLE ORGANIZATION IN SUPPORT OF PALESTINE; n.k.a. COMITE' DE BIENFAISANCE ET DE SECOURS AUX PALESTINIENS; a.k.a. COMMITTEE FOR AID AND SOLIDARITY WITH PALESTINE; a.k.a. COMMITTEE FOR ASSISTANCE AND SOLIDARITY WITH PALESTINE; a.k.a. COMMITTEE FOR CHARITY AND SOLIDARITY WITH PALESTINE; a.k.a. COMPANIE BENIFICENT DE SOLIDARITE AVEC PALESTINE; a.k.a. COUNCIL OF CHARITY AND SOLIDARITY; a.k.a. DE BIENFAISANCE ET DE COMMITE LE SOLIDARITE AVEC LA PALESTINE; a.k.a. RELIEF COMMITTEE FOR SOLIDARITY WITH PALESTINE), 68 Rue Jules Guesde, 59000 Lille, France; 10 Rue Notre Dame, 69006 Lyon, France; 37 Rue de la Chapelle, 75018 Paris, France [SDGT]

COMMITTEE FOR AID AND SOLIDARITY WITH PALESTINE (a.k.a. AL AQSA ASSISTANCE CHARITABLE COUNCIL; a.k.a. AL-LAJNA AL-KHAYRIYYA LIL MUNASARA AL-AQSA; a.k.a. BENEVOLENCE COMMITTEE FOR SOLDARITY WITH PALESTINE; a.k.a. BENEVOLENT COMMITTEE FOR SUPPORT OF PALESTINE; a.k.a. CBSP; a.k.a. CHARITABLE COMMITTEE FOR PALESTINE; a.k.a. CHARITABLE COMMITTEE FOR SOLIDARITY WITH PALESTINE; a.k.a. CHARITABLE COMMITTEE FOR SUPPORTING PALESTINE; a.k.a. CHARITABLE ORGANIZATION IN SUPPORT OF PALESTINE; n.k.a. COMITE' DE BIENFAISANCE ET DE SECOURS AUX PALESTINIENS; f.k.a. COMITE' DE BIENFAISANCE POUR LA SOLIDARITE' AVEC LA PALESTINE; a.k.a. COMMITTEE FOR ASSISTANCE AND SOLIDARITY WITH PALESTINE; a.k.a. COMMITTEE FOR CHARITY AND SOLIDARITY WITH PALESTINE; a.k.a. COMPANIE BENIFICENT DE SOLIDARITE AVEC PALESTINE; a.k.a. COUNCIL OF CHARITY AND SOLIDARITY; a.k.a. DE BIENFAISANCE ET DE COMMITE LE SOLIDARITE AVEC LA PALESTINE; a.k.a. RELIEF COMMITTEE FOR SOLIDARITY WITH PALESTINE), 68 Rue Jules Guesde, 59000 Lille, France; 10 Rue Notre Dame, 69006 Lyon, France; 37 Rue de la Chapelle, 75018 Paris, France [SDGT]

COMMITTEE FOR ASSISTANCE AND SOLIDARITY WITH PALESTINE (a.k.a. AL AQSA ASSISTANCE CHARITABLE COUNCIL; a.k.a. AL-LAJNA AL-KHAYRIYYA LIL MUNASARA AL-AQSA; a.k.a. BENEVOLENCE COMMITTEE FOR SOLDARITY WITH PALESTINE; a.k.a. BENEVOLENT COMMITTEE FOR SUPPORT OF PALESTINE; a.k.a. CBSP; a.k.a. CHARITABLE COMMITTEE FOR PALESTINE; a.k.a. CHARITABLE COMMITTEE FOR SOLIDARITY WITH PALESTINE; a.k.a. CHARITABLE COMMITTEE FOR SUPPORTING PALESTINE; a.k.a. CHARITABLE ORGANIZATION IN SUPPORT OF PALESTINE; n.k.a. COMITE' DE BIENFAISANCE ET DE SECOURS AUX PALESTINIENS; f.k.a. COMITE' DE BIENFAISANCE POUR LA SOLIDARITE' AVEC LA PALESTINE; a.k.a. COMMITTEE FOR AID AND SOLIDARITY WITH PALESTINE; a.k.a. COMMITTEE FOR CHARITY AND SOLIDARITY WITH PALESTINE; a.k.a. COMPANIE BENIFICENT DE SOLIDARITE AVEC PALESTINE; a.k.a. COUNCIL OF CHARITY AND SOLIDARITY; a.k.a. DE BIENFAISANCE ET DE COMMITE LE SOLIDARITE AVEC LA PALESTINE; a.k.a. RELIEF COMMITTEE FOR SOLIDARITY WITH PALESTINE), 68 Rue Jules Guesde, 59000 Lille, France; 10 Rue Notre Dame, 69006 Lyon, France; 37 Rue de la Chapelle, 75018 Paris, France [SDGT]

COMMITTEE FOR CHARITY AND SOLIDARITY WITH PALESTINE (a.k.a. AL AQSA ASSISTANCE CHARITABLE COUNCIL; a.k.a. AL-LAJNA AL-KHAYRIYYA LIL MUNASARA AL-AQSA; a.k.a. BENEVOLENCE COMMITTEE FOR SOLDARITY WITH PALESTINE; a.k.a. BENEVOLENT COMMITTEE FOR SUPPORT OF PALESTINE; a.k.a. CBSP; a.k.a. CHARITABLE COMMITTEE FOR PALESTINE; a.k.a. CHARITABLE COMMITTEE FOR SOLIDARITY WITH PALESTINE; a.k.a. CHARITABLE COMMITTEE FOR SUPPORTING PALESTINE; a.k.a. CHARITABLE ORGANIZATION IN SUPPORT OF PALESTINE; n.k.a. COMITE' DE BIENFAISANCE ET DE SECOURS AUX PALESTINIENS; f.k.a. COMITE' DE BIENFAISANCE POUR LA SOLIDARITE' AVEC LA PALESTINE; a.k.a. COMMITTEE FOR AID AND SOLIDARITY WITH PALESTINE; a.k.a. COMMITTEE FOR ASSISTANCE AND SOLIDARITY WITH PALESTINE; a.k.a. COMPANIE BENIFICENT DE SOLIDARITE AVEC PALESTINE; a.k.a. COUNCIL OF CHARITY AND SOLIDARITY; a.k.a. DE BIENFAISANCE ET DE COMMITE LE SOLIDARITE AVEC LA PALESTINE; a.k.a. RELIEF COMMITTEE FOR SOLIDARITY WITH PALESTINE), 68 Rue Jules Guesde, 59000 Lille, France; 10 Rue Notre Dame, 69006 Lyon, France; 37 Rue de la Chapelle, 75018 Paris, France [SDGT]

COMMITTEE FOR THE SAFETY OF THE ROADS (a.k.a. AMERICAN FRIENDS OF THE UNITED YESHIVA MOVEMENT; a.k.a. AMERICAN FRIENDS OF YESHIVAT RAV MEIR; a.k.a. DIKUY BOGDIM; a.k.a. DOV; a.k.a. FOREFRONT OF THE IDEA; a.k.a. FRIENDS OF THE JEWISH IDEA YESHIVA; a.k.a. JEWISH LEGION; a.k.a. JUDEA POLICE; a.k.a. JUDEAN CONGRESS; a.k.a. KACH; a.k.a. KAHANE CHAI; a.k.a. KAHANE LIVES; a.k.a. KAHANE TZADAK; a.k.a. KAHANE.NET; a.k.a. KAHANE.ORG; a.k.a. KAHANE; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [SDT][FTO][SDGT]

COMMUNIST PARTY OF NEPAL (MAOIST) (a.k.a. CPN (M); a.k.a. THE PEOPLE'S LIBERATION ARMY OF NEPAL; a.k.a. UNITED REVOLUTIONARY PEOPLE'S COUNCIL) [SDGT]

COMMUNIST PARTY OF THE PHILIPPINES (a.k.a. CPP; a.k.a. NEW PEOPLE'S ARMY; a.k.a. NEW PEOPLE'S ARMY/COMMUNIST PARTY OF THE PHILIPPINES; a.k.a. NPA; a.k.a. NPA/CPP) [FTO] [SDGT]

COMPAGNIE ALGERO-LIBYENNE DE TRANSPORT MARITIME (a.k.a. CALTRAM), 21 Rue des Freres Bouadou, Birmandreis, Algiers, Algeria [LIBYA]

COMPANIA ADMINISTRADORA DE VIVIENDA S.A. (f.k.a. INVERSIONES GEMINIS S.A.), Carrera 40 No. 6-24 of. 402B, Cali, Colombia; Carrera 41 No. 6-15/35, Cali, Colombia; NIT # 800032419-1 (Colombia) [SDNT]

COMPANIA AGROINVERSORA HENAGRO LTDA., Carrera 1 No. 13-08, Cartago, Colombia; Hacienda Coque, Cartago, Colombia; Km. 5 Via Aeropuerto, Cartago, Colombia; NIT # 800084326-8 (Colombia) [SDNT]

COMPANIA DE FOMENTO MERCANTIL S.A., Avenida 7 Norte No. 23N-81, Cali, Colombia; NIT # 800124589-0 (Colombia) [SDNT]

COMPANIA DE IMPORTACION Y EXPORTACION IBERIA (a.k.a. CIMEX), Spain [CUBA]

COMPANIA FENIX INTERNACIONAL, S.A., Caracas, Venezuela [CUBA]

COMPANIA PESQUERA INTERNACIONAL, S.A., Panama [CUBA]

COMPANIE BENIFICENT DE SOLIDARITE AVEC PALESTINE (a.k.a. AL AQSA ASSISTANCE CHARITABLE COUNCIL; a.k.a. AL-LAJNA AL-KHAYRIYYA LIL MUNASARA AL-AQSA; a.k.a. BENEVOLENCE COMMITTEE FOR SOLDARITY WITH PALESTINE; a.k.a. BENEVOLENT COMMITTEE FOR SUPPORT OF PALESTINE; a.k.a. CBSP; a.k.a. CHARITABLE COMMITTEE FOR PALESTINE; a.k.a. CHARITABLE COMMITTEE FOR SOLIDARITY WITH PALESTINE; a.k.a. CHARITABLE COMMITTEE FOR SUPPORTING PALESTINE; a.k.a. CHARITABLE ORGANIZATION IN SUPPORT OF PALESTINE; n.k.a. COMITE' DE BIENFAISANCE ET DE SECOURS AUX PALESTINIENS; f.k.a. COMITE' DE BIENFAISANCE POUR LA SOLIDARITE' AVEC LA PALESTINE; a.k.a. COMMITTEE FOR AID AND SOLIDARITY WITH PALESTINE; a.k.a. COMMITTEE FOR ASSISTANCE AND SOLIDARITY WITH PALESTINE; a.k.a. COMMITTEE FOR CHARITY AND SOLIDARITY WITH PALESTINE; a.k.a. COUNCIL OF CHARITY AND SOLIDARITY; a.k.a. DE BIENFAISANCE ET DE COMMITE LE SOLIDARITE AVEC LA PALESTINE; a.k.a. RELIEF COMMITTEE FOR SOLIDARITY WITH PALESTINE), 68 Rue Jules Guesde, 59000 Lille, France; 10 Rue Notre Dame, 69006 Lyon, France; 37 Rue de la Chapelle, 75018 Paris, France [SDGT]

COMPAX LTDA. (n.k.a. COSMOVALLE; n.k.a. INVERSIONES Y CONSTRUCCIONES COSMOVALLE LTDA.; f.k.a. INVERSIONES Y DISTRIBUCIONES COMPAX LTDA.), Calle 10 No. 4-47 piso 19, Cali, Colombia; NIT # 800102403-5 (Colombia) [SDNT]

COMPLEJO TURISTICO OASIS, S.A. de C.V. (a.k.a. OASIS BEACH RESORT & CONVENTION CENTER), Km 25 Carr. Tijuana-Ensenada, Colonia Leyes de Reforma, CP 22710, Playas de Rosarito, Baja California Norte, Mexico; R.F.C.# CTO-880909-R38 (Mexico) [SDNTK]

COMPRESSED LEATHER BOARD FIBRE PLANT, Tajoura, Libya [LIBYA]

COMTECO LTDA. (a.k.a. COMUNICACIONES TECNICAS DE COLOMBIA LIMITADA), Calle 44 Norte No. 2BN-08, Cali, Colombia; Calle 12N No. 9N-58, Cali, Colombia; NIT # 800113514-1 (Colombia) [SDNT]

COMUNICACION VISUAL LTDA. (a.k.a. COMVIS LTDA.), Calle 11 No. 19-44, Cali, Colombia [SDNT]

COMUNICACIONES TECNICAS DE COLOMBIA LIMITADA (a.k.a. COMTECO LTDA.), Calle 44 Norte No. 2BN-08, Cali, Colombia; Calle 12N No. 9N-58, Cali, Colombia; NIT # 800113514-1 (Colombia) [SDNT]

COMVIS LTDA. (a.k.a. COMUNICACION VISUAL LTDA.), Calle 11 No. 19-44, Cali, Colombia [SDNT]

CONAGE LTDA. (a.k.a. CONSTRUCCIONES AVENDANO GUTIERREZ Y CIA. LTDA.), Carrera 71 No. 57-07, Bogota, Colombia; NIT # 800211560-0 (Colombia) [SDNT]

CONCRETOS CALI S.A., Calle 7 No. 82-65, Cali, Colombia [SDNT]

CONDOR (a.k.a. DISTRIBUIDORA DE DROGAS CONDOR LTDA.), Calle 10 No. 32A-64, Bogota, Colombia; Calle 68 52-05, Bogota, Colombia [SDNT]

CONE S.A. (n.k.a. CONSTRUCTORA EL NOGAL S.A.; a.k.a. CONSTRUEXITO S.A.), Avenida 2N No. 7N-55 of. 501, Cali, Colombia; Calle 2A No. 65A-110, apto. 501 B3, Cali, Colombia; NIT # 800051378-9 (Colombia) [SDNT]

CONPUERTO S.A. (a.k.a. CONSTRUCCIONES PROGRESO DEL PUERTO S.A.), Calle 12A No. 26-22, Puerto Tejada, Colombia; NIT # 817000779-2 (Colombia) [SDNT]

CONSTRUCCIONES ASTRO S.A. (f.k.a. CONSTRUCTORA CASCADA; f.k.a. SOCIEDAD CONSTRUCTORA LA CASCADA S.A.), Apartado Aereo 10077, Cali, Colombia; Calle 1A 62A-120, Cali, Colombia; Calle 1A 62A-120 B2 108, Cali, Colombia; Calle 1A 62A-120 2305, Cali, Colombia; Calle 1A 62A-120 2418, Cali, Colombia; Calle 1A 62A-120 4114, Cali, Colombia; Calle 1A 62A-120 6245, Cali, Colombia; Calle 13 3-22 piso 12 y piso 14, Cali, Colombia; Carrera 4 No. 12-41 of. 1401, Cali, Colombia; Carrera 4 No. 12-41 of. 1402, Edificio Seguros Bolivar, Cali, Colombia; Carrera 4 No. 12-41 of. 1403, Cali, Colombia; Carrera 64 1C-63, Cali, Colombia; Carrera 64 1B-83, Cali, Colombia; NIT # 890307311-4 (Colombia) [SDNT]

CONSTRUCCIONES AVENDANO GUTIERREZ Y CIA. LTDA. (a.k.a. CONAGE LTDA.), Carrera 71 No. 57-07, Bogota, Colombia; NIT # 800211560-0 (Colombia) [SDNT]

CONSTRUCCIONES COLOMBO-ANDINAS LTDA., Carrera 8 No. 16-79 of. 504, Bogota, Colombia; Calle 29 No. 36-61, Bogota, Colombia; NIT # 860505252-8 (Colombia) [SDNT]

CONSTRUCCIONES PROGRESO DEL PUERTO S.A. (a.k.a. CONPUERTO S.A.), Calle 12A No. 26-22, Puerto Tejada, Colombia; NIT # 817000779-2 (Colombia) [SDNT]

CONSTRUCTORA ALTOS DEL RETIRO LTDA., Carrera 4 No. 86-88, Bogota, Colombia; Carrera 7 No. 72-28 of. 301, Bogota, Colombia; Transversal 3 No. 85-10 apt. 401 Interior 1, Bogota, Colombia; NIT # 890329139-8 (Colombia) [SDNT]

CONSTRUCTORA CASCADA (n.k.a. CONSTRUCCIONES ASTRO S.A.; f.k.a. SOCIEDAD CONSTRUCTORA LA CASCADA S.A.), Apartado Aereo 10077, Cali, Colombia; Calle 1A 62A-120, Cali, Colombia; Calle 1A 62A-120 B2 108, Cali, Colombia; Calle 1A 62A-120 2305, Cali, Colombia; Calle 1A 62A-120 2418, Cali, Colombia; Calle 1A 62A-120 4114, Cali, Colombia; Calle 1A 62A-120 6245, Cali, Colombia; Calle 13 3-22 piso 12 y piso 14, Cali, Colombia; Carrera 4 No. 12-41 of. 1401, Cali, Colombia; Carrera 4 No. 12-41 of. 1402, Edificio Seguros Bolivar, Cali, Colombia; Carrera 4 No. 12-41 of. 1403, Cali, Colombia; Carrera 64 1C-63, Cali, Colombia; Carrera 64 1B-83, Cali, Colombia; NIT # 890307311-4 (Colombia) [SDNT]

CONSTRUCTORA CENTRAL DEL VALLE LTDA. (a.k.a. C.C.V. LTDA.), Calle 10 No. 44A-26, Cali, Colombia; NIT # 800144098-1 (Colombia) [SDNT]

CONSTRUCTORA DIMISA LTDA., Calle 70N No. 14-31, Cali, Colombia [SDNT]

CONSTRUCTORA E INMOBILIARIA URVALLE CIA. LTDA., Carrera 9 No. 9-49 of. 902, Cali, Colombia; NIT # 800094652-7 (Colombia) [SDNT]

CONSTRUCTORA EL NOGAL S.A. (f.k.a. CONE S.A.; f.k.a. CONSTRUEXITO S.A.), Avenida 2 N No. 7NN-55 of. 501, Cali, Colombia; Calle 2A No. 65A-110, apto. 501 B3, Cali, Colombia; NIT # 800051378-9 (Colombia) [SDNT]

CONSTRUCTORA GOPEVA LTDA., Avenida 3A No. 51-15, Cali, Colombia [SDNT]

CONSTRUCTORA PYNZAR LTDA., Avenida 3 No. 21-50, Cali, Colombia; Avenida 3 No. 21-50 Apt. 800, Cali, Colombia; Avenida 3 Norte No. 21-44, Cali, Colombia; NIT # 800240723-8 (Colombia) [SDNT]

CONSTRUCTORA TREMI LTDA., Carrera 1A Oeste No. 68-75, Cali, Colombia [SDNT]

CONSTRUCTORA UNIVERSAL LTDA., Carrera 50 No. 9B-20 of. 07, Cali, Colombia; Calle 52 No. 28E-30, Cali, Colombia; NIT # 800112051-9 (Colombia) [SDNT]

CONSTRUEXITO S.A. (n.k.a. CONSTRUCTORA EL NOGAL S.A.; a.k.a. CONE S.A.), Avenida 2N No. 7N-55 of. 501, Cali, Colombia; Calle 2A No. 65A-110, apto. 501 B3, Cali, Colombia; NIT # 800051378-9 (Colombia) [SDNT]

CONSTRUVIDA S.A., Avenida 2N No. 7N-55 of. 521, Cali, Colombia; Calle 70N No. 14-31, Cali, Colombia; Carrera 68 No. 13B-61 of. 104B, Cali, Colombia; NIT # 800108122-8 (Colombia) [SDNT]

CONSULTORIA EMPRESARIAL ESPECIALIZADA LTDA., Avenida 2N No. 7N-55 of. 421, Cali, Colombia; NIT # 800109042-1 (Colombia) [SDNT]

CONSULTORIA SANTAFE E.U., Carrera 13A No. 89-38 of. 713, Bogota, Colombia; NIT # 830043033-9 (Colombia) [SDNT]

CONTACTEL COMUNICACIONES S.A., Calle 5 No. 46-83 local 218, Cali, Colombia; Calle 18 No. 106-98 of. 302, 303, Cali, Colombia; NIT # 805020429-1 (Colombia) [SDNT]

CONTEX, S.A., Panama [CUBA]

CONTINUITY IRA (CIRA); United Kingdom [SDGT]

CONTRERAS, Luis C. (a.k.a. AMEZCUA CONTRERAS, Luis Ignacio; a.k.a. AMEZCUA, Luis; a.k.a. LOPEZ, Luis; a.k.a. LOZANO, Eduardo; a.k.a. OCHOA, Salvador; a.k.a. RODRIGUEZ LOPEZ, Sergio), DOB 22 Feb 1964; alt. DOB 21 Feb 1964; alt. DOB 21 Feb 1974; POB Mexico (individual) [SDNTK]

CONTRERAS, Miria (a.k.a. Miria Contreras ROPERT), Paris, France (individual) [CUBA]

COOBAR, Hadi N., Manama, Bahrain (individual) [LIBYA]

COOBAR, Hadi N., Tripoli, Libya (individual) [LIBYA]

COOMERCOL (a.k.a. COOPERATIVA MERCANTIL COLOMBIANA COOMERCOL), Diagonal 24 Transv. 11-99, Cali, Colombia; Calle 8 No. 31-11 Local 2, Cali, Colombia; Pereira, Colombia; NIT # 805010372-8 (Colombia) [SDNT]

COOMERSUR (a.k.a. COOPERATIVA MERCANTIL DEL SUR LTDA.; a.k.a. COOPMERSUR), Carrera 43 No. 16A-19 La Colina, Pasto, Colombia; NIT # 814002508-1 (Colombia) [SDNT]

COOPCREAR (a.k.a. COOPERATIVA DE TRABAJO ASOCIADO DE COLOMBIA), Avenida 13 No. 78-54, Cali, Colombia; Calle 13 No. 78-54, Cali, Colombia; Transversal 29 No. 35A-29, Bogota, Colombia; NIT # 830066040-1 (Colombia) [SDNT]

COOPDISAN (a.k.a. COOPERATIVA MULTIACTIVA DISTRIBUIDORA DE SANTANDER COOPDISAN), Calle 45 No. 9 Occ-04, Bucaramanga, Colombia; Calle 52 No. 31-148 of. 201, Bucaramanga, Colombia; Calle 52 No. 31-148, Bucaramanga, Colombia; Carrera 27 No. 65-60 La Victoria, Bucaramanga, Colombia; Carrera 33 No. 108-49, Floridablanca, Colombia; NIT # 804005384-2 (Colombia) [SDNT]

COOPERATIVA DE AHORRO Y CREDITO DE COLOMBIA (a.k.a. CAJA SOLIDARIA; a.k.a. COOPERATIVA MULTIACTIVA DE COMERCIALIZACION Y SERVICIOS), Avenida 22 No. 40-77 of. 202, Bogota, Colombia; Avenida 22 No. 44-70 of. 202, Bogota, Colombia; Calle 12B No. 27-39, Bogota, Colombia; Carrera 13A No. 89-38 of. 713, Bogota, Colombia; Carrera 13A No. 28-38 of. 216 Parque, Bogota, Colombia; Transversal 29 No. 35A-29, Bogota, Colombia; NIT # 830033942-6 (Colombia) [SDNT]

COOPERATIVA DE AHORRO Y CREDITO PARA EL PROGRESO SOCIAL (a.k.a. COOPERATIVA MULTIACTIVA CREDISOL; a.k.a. CREDISOL), Calle 39 Bis A No. 27-16, Bogota, Colombia; Transversal 29 No. 39-92, Bogota, Colombia; NIT # 830033943-3 (Colombia) [SDNT]

COOPERATIVA DE COSMETICOS Y POPULARES COSMEPOP (a.k.a. COSMEPOP; f.k.a. BLAIMAR; f.k.a. CIA. INTERAMERICANA DE COSMETICOS S.A.; f.k.a. COINTERCOS S.A.; f.k.a. LABORATORIOS BLAIMAR DE COLOMBIA S.A.; f.k.a. LABORATORIOS BLANCO PHARMA S.A.), Calle 12A No. 27-72, Bogota, Colombia; A.A. 55538, Bogota, Colombia; Calle 12B No. 27-37/39, Bogota, Colombia; Calle 26 Sur No. 7-30 Este, Bogota, Colombia; Carrera 99 y 100 No. 46A-10, Bodega 4, Bogota, Colombia; NIT # 800251322-5 (Colombia) [SDNT]

COOPERATIVA DE TRABAJO ASOCIADO DE COLOMBIA (a.k.a. COOPCREAR), Avenida 13 No. 78-54, Cali, Colombia; Calle 13 No. 78-54, Cali, Colombia; Transversal 29 No. 35A-29, Bogota, Colombia; NIT # 830066040-1 (Colombia) [SDNT]

COOPERATIVA MERCANTIL COLOMBIANA COOMERCOL (a.k.a. COOMERCOL), Diagonal 24 Transv. 11-99, Cali, Colombia; Calle 8 No. 31-11 Local 2, Cali, Colombia; Pereira, Colombia; NIT # 805010372-8 (Colombia) [SDNT]

COOPERATIVA MERCANTIL DEL SUR LTDA. (a.k.a. COOMERSUR; a.k.a. COOPMERSUR), Carrera 43 No. 16A-19 La Colina, Pasto, Colombia; NIT # 814002508-1 (Colombia) [SDNT]

COOPERATIVA MULTIACTIVA CREDISOL (a.k.a. COOPERATIVA DE AHORRO Y CREDITO PARA EL PROGRESO SOCIAL; a.k.a. CREDISOL), Calle 39 Bis A No. 27-16, Bogota, Colombia; Transversal 29 No. 39-92, Bogota, Colombia; NIT # 830033943-3 (Colombia) [SDNT]

COOPERATIVA MULTIACTIVA DE ADMINISTRACION Y MANEJO ADMACOOP (a.k.a. ADMACOOP), Calle 12B No. 28-58, Bogota, Colombia; Carrera 28A No. 14-29, Bogota, Colombia; NIT # 830030933-6 (Colombia) [SDNT]

COOPERATIVA MULTIACTIVA DE COLOMBIA FOMENTAMOS (a.k.a. FOMENTAMOS), Transversal 29 No. 35A-29, Bogota, Colombia; NIT # 830060914-4 (Colombia) [SDNT]

COOPERATIVA MULTIACTIVA DE COMERC. DROGUISTA Y FARMACEUTICA DROFARCO (a.k.a. DROFARCO), Calle 110 No. 6-336, Barranquilla, Colombia; Metroparque Bodega Mz. 3, Barranquilla, Colombia; Via Circunvalar, Bodega M-A-3, Barranquilla, Colombia; NIT # 802012877-3 (Colombia) [SDNT]

COOPERATIVA MULTIACTIVA DE COMERCIALIZACION Y SERVICIOS (a.k.a. CAJA SOLIDARIA; a.k.a. COOPERATIVA DE AHORRO Y CREDITO DE COLOMBIA), Avenida 22 No. 40-77 of. 202, Bogota, Colombia; Avenida 22 No. 44-70 of. 202, Bogota, Colombia; Calle 12B No. 27-39, Bogota, Colombia; Carrera 13A No. 89-38 of. 713, Bogota, Colombia; Carrera 13A No. 28-38 of. 216 Parque, Bogota, Colombia; Transversal 29 No. 35A-29, Bogota, Colombia; NIT # 830033942-6 (Colombia) [SDNT]

COOPERATIVA MULTIACTIVA DE COMERCIALIZACION Y SERVICIOS FARMACOOP (a.k.a. FARMACOOP; f.k.a. KRESSFOR; f.k.a. LABORATORIOS KRESSFOR DE COLOMBIA S.A.), A.A. 18491, Bogota, Colombia; Calle 16 28A 51, Bogota, Colombia; Calle 16 28A 57, Bogota, Colombia; Calle 17A 28A 43, Bogota, Colombia; Calle 17A 28 43, Bogota, Colombia; NIT # 830010878-3 (Colombia) [SDNT]

COOPERATIVA MULTIACTIVA DE DISTRIBUCION Y SERVICIOS ADMINISTRATIVOS (a.k.a. CODISA), Calle 17A No. 28A-43, Bogota, Colombia; Calle 23 No. 19-75, Bogota, Colombia; NIT # 860524476-1 (Colombia) [SDNT]

COOPERATIVA MULTIACTIVA DE EMPLEADOS DE DISTRIBUIDORES DE DROGAS COPSERVIR LTDA. (a.k.a. COPSERVIR LTDA.; f.k.a. DISTRIBUIDORA DE DROGAS LA REBAJA S.A.; f.k.a. DISTRIBUIDORA DE DROGAS LA REBAJA PRINCIPAL S.A.; f.k.a. DROGAS LA REBAJA), Calle 4 No. 22-24, Bogota, Colombia; Calle 10 No. 4-47 Piso 19, Cali, Colombia; Calle 14 6-66, Cali, Colombia; Calle 18 No. 121-130 Avenida Canasgordas Pance, Cali, Colombia; Carrera 7 13-132 piso 4, Cali, Colombia; Carrera 7A 14-25 piso 2, Cali, Colombia; Carrera 10 11-71, Cali, Colombia; Carrera 66A No. 53-47 piso 3, Bogota, Colombia; Carrera 99 No. 46 A-10 Bdg 6 y 8, Bogota, Colombia; NIT # 830011670-3 (Colombia) [SDNT]

COOPERATIVA MULTIACTIVA DE EMPLEADOS DE SUPERMERCADOS Y AFINES (a.k.a. DISMERCOOP; f.k.a. DISTRIBUIDORA MIGIL LTDA.; f.k.a. DISTRIBUIDORA MIGIL BOGOTA LTDA.; f.k.a. DISTRIBUIDORA MIGIL CALI S.A.; f.k.a. GRACADAL S.A.; f.k.a. MIGIL), Calle 5C No. 41-30, Cali, Colombia; Carrera 26 No. 5B-65, Cali, Colombia; Carrera 30 No. 5-12, Cali, Colombia; NIT # 805003637-5 (Colombia) [SDNT]

COOPERATIVA MULTIACTIVA DISTRIBUIDORA DE SANTANDER COOPDISAN (a.k.a. COOPDISAN), Calle 45 No. 9 Occ-04, Bucaramanga, Colombia; Calle 52 No. 31-148 of. 201, Bucaramanga, Colombia; Calle 52 No. 31-148, Bucaramanga, Colombia; Carrera 27 No. 65-60 La Victoria, Bucaramanga, Colombia; Carrera 33 No. 108-49, Floridablanca, Colombia; NIT # 804005384-2 (Colombia) [SDNT]

COOPMERSUR (a.k.a. COOMERSUR; a.k.a. COOPERATIVA MERCANTIL DEL SUR LTDA.), Carrera 43 No. 16A-19 La Colina, Pasto, Colombia; NIT # 814002508-1 (Colombia) [SDNT]

COPIA, S.A. (a.k.a. CORPORACION ARGENTINA DE INGENIERIA Y ARQUITECTURA, S.A.), San Martin 323, 4th Floor, Buenos Aires, Argentina [CUBA]

COPROVA (a.k.a. COPROVA SARL; a.k.a. COMERCIALIZACION DE PRODUCTOS VARIOS), Paris, France [CUBA]

COPROVA SARL (a.k.a. COPROVA; a.k.a. COMERCIALIZACION DE PRODUCTOS VARIOS), Paris, France [CUBA]

COPSERVIR LTDA. (a.k.a. COOPERATIVA MULTIACTIVA DE EMPLEADOS DE DISTRIBUIDORES DE DROGAS COPSERVIR LTDA.; f.k.a. DISTRIBUIDORA DE DROGAS LA REBAJA S.A.; f.k.a. DISTRIBUIDORA DE DROGAS LA REBAJA PRINCIPAL S.A.; f.k.a. DROGAS LA REBAJA), Calle 4 No. 22-24, Bogota, Colombia; Calle 10 No. 4-47 Piso 19, Cali, Colombia; Calle 14 6-66, Cali, Colombia; Calle 18 No. 121-130 Avenida Canasgordas Pance, Cali, Colombia; Carrera 7 13-132 piso 4, Cali, Colombia; Carrera 7A 14-25 piso 2, Cali, Colombia; Carrera 10 11-71, Cali, Colombia; Carrera 66A No. 53-47 piso 3, Bogota, Colombia; Carrera 99 No. 46 A-10 Bdg 6 y 8, Bogota, Colombia; NIT # 830011670-3 (Colombia) [SDNT]

COPTRADE COMPANY LIMITED (PHARMACEUTICAL AND CHEMICAL DIVISION), P.O. Box 246, Khartoum, Sudan; Port Sudan, Sudan [SUDAN]

COPTRADE ENG AND AUTOMOBILE SERVICES CO LTD. (f.k.a. KORDOFAN AUTOMOBILE COMPANY), P.O. Box 97, Khartoum, Sudan [SUDAN]

CORDOBA VALENCIA, Juan Ramon, c/o BONOMERCAD S.A., Bogota, Colombia; c/o PATENTES MARCAS Y REGISTROS S.A., Bogota, Colombia; c/o SHARPER S.A., Bogota, Colombia; Cedula No. 19273511 (Colombia) (individual) [SDNT]

CORIC, Valentin; DOB 23 Jun 1956; POB Citluk, Bosnia-Herzegovina (individual) [BALKANS]

CORINTHIA GROUP OF COMPANIES, Head Office, 22, Europa Centre, Floriana, Malta [LIBYA]

CORINTHIA PALACE HOTEL COMPANY LIMITED, De Paula Avenue, Attard, Malta [LIBYA]

CORPORACION ARGENTINA DE INGENIERIA Y ARQUITECTURA, S.A. (a.k.a. COPIA), San Martin 323, 4th Floor, Buenos Aires, Argentina [CUBA]

CORPORACION CIMEX S.A. (a.k.a. CIMEX; a.k.a. CIMEX CUBA; a.k.a. COMERCIO INTERIOR, MERCADO EXTERIOR), Edificio Sierra Maestra, Avenida Primera entre 0 y 2, Miramar Playa, Ciudad de la Habana, Cuba; and all other locations worldwide [CUBA]

CORPORACION CIMEX, S.A., Panama [CUBA]

CORPORACION DEPORTIVA AMERICA (a.k.a. CLUB AMERICA DE CALI; a.k.a. CLUB DEPORTIVO AMERICA), Carrera 56 No. 2-70, Cali, Colombia; Avenida Guadalupe No. 2-70, Cali, Colombia; Calle 24N No. 5BN-22, Cali, Colombia; Calle 13 Carrera 70, Cali, Colombia; Sede Cascajal, Cali, Colombia; Sede Naranjal, Cali, Colombia; NIT # 890305773-4 (Colombia) [SDNT]

CORPORACION IBEROAMERICANA DEL COMERCIO (a.k.a. CIDECO), Spain [CUBA]

CORREA CANCINO, Gustavo Alberto, c/o C A V J CORPORATION LTDA., Bogota, Colombia; c/o DROMARCA Y CIA. S.C.S., Bogota, Colombia; Passport 19137414 (Colombia); Cedula No. 19137414 (Colombia) (individual) [SDNT]

CORREA PULGARIN, Ernesto, c/o AGROPECUARIA LA ROBLEDA S.A., Cali, Colombia; Cedula No. 2510585 (Colombia) (individual) [SDNT]

CORTES, Polania Raquel, c/o MAPRI DE COLOMBIA LTDA., Bogota, Colombia; DOB 5 Nov 1965; Passport 55150515 (Colombia); Cedula No. 55150515 (Colombia) (individual) [SDNT]

CORTES QUINTERO, Sandra, c/o COMPANIA DE FOMENTO MERCANTIL S.A., Cali, Colombia; c/o CONSTRUCCIONES PROGRESO DEL PUERTO S.A., Puerto Tejada, Colombia; c/o CREDISA S.A., Cali, Colombia; c/o UNIDAS S.A., Cali, Colombia; DOB 21 Jun 1971; POB Cali, Valle, Colombia; Passport 66827003 (Colombia); Cedula No. 66827003 (Colombia) (individual) [SDNT]

CORTEZ, Oliverio Abril (n.k.a. ABRIL CORTEZ, Oliverio), Calle 18A No. 8A-20, Jamundi, Colombia; c/o AGROPECUARIA BETANIA LTDA., Cali, Colombia; c/o CONSTRUCTORA DIMISA LTDA., Cali, Colombia; c/o INVERSIONES EL GRAN CRISOL LTDA., Cali, Colombia; c/o INVERSIONES EL PENON S.A., Cali, Colombia; c/o INVERSIONES GEMINIS S.A., Cali, Colombia; c/o VALLADARES LTDA., Cali, Colombia; c/o W. HERRERA Y CIA. S. EN C., Cali, Colombia; Cedula No. 3002003 (Colombia) (individual) [SDNT]

COSMEPOP (a.k.a. COOPERATIVA DE COSMETICOS Y POPULARES COSMEPOP; f.k.a. BLAIMAR; f.k.a. CIA. INTERAMERICANA DE COSMETICOS S.A.; f.k.a. COINTERCOS S.A.; f.k.a. LABORATORIOS BLAIMAR DE COLOMBIA S.A.; f.k.a. LABORATORIOS BLANCO PHARMA S.A.), Calle 12A No. 27-72, Bogota, Colombia; A.A. 55538, Bogota, Colombia; Calle 12B No. 27-37/39, Bogota, Colombia; Calle 26 Sur No. 7-30 Este, Bogota, Colombia; Carrera 99 y 100 No. 46A-10, Bodega 4, Bogota, Colombia; NIT # 800251322-5 (Colombia) [SDNT]

COSMOVALLE (a.k.a. INVERSIONES Y CONSTRUCCIONES COSMOVALLE LTDA.; f.k.a. COMPAX LTDA.; f.k.a. INVERSIONES Y DISTRIBUCIONES COMPAX LTDA.), Calle 10 No. 4-47 piso 19, Cali, Colombia; NIT # 800102403-5 (Colombia) [SDNT]

COTEI, Milan, Italy [CUBA]

COTRINO TRUJILLO, Olga, c/o FARMA XXI LTDA., Neiva, Huila, Colombia; Passport 36183653 (Colombia); Cedula No. 36183653 (Colombia) (individual) [SDNT]

COUNCIL OF CHARITY AND SOLIDARITY (a.k.a. AL AQSA ASSISTANCE CHARITABLE COUNCIL; a.k.a. AL-LAJNA AL-KHAYRIYYA LIL MUNASARA AL-AQSA; a.k.a. BENEVOLENCE COMMITTEE FOR SOLDARITY WITH PALESTINE; a.k.a. BENEVOLENT COMMITTEE FOR SUPPORT OF PALESTINE; a.k.a. CBSP; a.k.a. CHARITABLE COMMITTEE FOR PALESTINE; a.k.a. CHARITABLE COMMITTEE FOR SOLIDARITY WITH PALESTINE; a.k.a. CHARITABLE COMMITTEE FOR SUPPORTING PALESTINE; a.k.a. CHARITABLE ORGANIZATION IN SUPPORT OF PALESTINE; n.k.a. COMITE' DE BIENFAISANCE ET DE SECOURS AUX PALESTINIENS; f.k.a. COMITE' DE BIENFAISANCE POUR LA SOLIDARITE' AVEC LA PALESTINE; a.k.a. COMMITTEE FOR AID AND SOLIDARITY WITH PALESTINE; a.k.a. COMMITTEE FOR ASSISTANCE AND SOLIDARITY WITH PALESTINE; a.k.a. COMMITTEE FOR CHARITY AND SOLIDARITY WITH PALESTINE; a.k.a. COMPANIE BENIFICENT DE SOLIDARITE AVEC PALESTINE; a.k.a. DE BIENFAISANCE ET DE COMMITE LE SOLIDARITE AVEC LA PALESTINE; a.k.a. RELIEF COMMITTEE FOR SOLIDARITY WITH PALESTINE), 68 Rue Jules Guesde, 59000 Lille, France; 10 Rue Notre Dame, 69006 Lyon, France; 37 Rue de la Chapelle, 75018 Paris, France [SDGT]

CPN (M) (a.k.a. COMMUNIST PARTY OF NEPAL (MAOIST); a.k.a. THE PEOPLE'S LIBERATION ARMY OF NEPAL; a.k.a. UNITED REVOLUTIONARY PEOPLE'S COUNCIL) [SDGT]

CPP (a.k.a. COMMUNIST PARTY OF THE PHILIPPINES; a.k.a. NEW PEOPLE'S ARMY; a.k.a. NEW PEOPLE'S ARMY/COMMUNIST PARTY OF THE PHILIPPINES; a.k.a. NPA; a.k.a. NPA/CPP) [FTO] [SDGT]

CPV SISTEMAS GRAFICOS S.L., Rodriguez San Pedro 2, 28015 Madrid, Madrid, Spain; C.I.F. B82201039 (Spain) [SDNT]

CRASESORIAS E.U., Avenida 11 Norte No. 7N-201, Cali, Colombia; NIT # 805016474-8 (Colombia) [SDNT]

CREACIONES DEPORTIVAS WILLINGTON LTDA., Cosmocentro, Local 130, Cali, Colombia; Calle 5 No. 25-65, Cali, Colombia [SDNT]

CREDIREBAJA S.A., Calle 16 No. 100-88, Cali, Colombia; Calle 19 No. 2-29 of. 3001, Cali, Colombia; NIT # 805001030-6 (Colombia) [SDNT]

CREDISA S.A. (f.k.a. COMERCIALIZADORA AUTOMOTRIZ S.A.), Avenida 7 Norte No. 23N-81, Cali, Colombia; Avenida 7 Norte No. 23-77, Cali, Colombia; Carrera 7D Bis No. 68-58, Cali, Colombia; NIT # 800065773-6 (Colombia) [SDNT]

CREDISOL (a.k.a. COOPERATIVA DE AHORRO Y CREDITO PARA EL PROGRESO SOCIAL; a.k.a. COOPERATIVA MULTIACTIVA CREDISOL), Calle 39 Bis A No. 27-16, Bogota, Colombia; Transversal 29 No. 39-92, Bogota, Colombia; NIT # 830033943-3 (Colombia) [SDNT]

CREDIVIDA, Calle 16 No. 100-88, Cali, Colombia; Cedula No. 31919241 (Colombia) [SDNT]

CRIADERO DE POLLOS EL ROSAL S.A. (f.k.a. INDUSTRIA AVICOLA PALMASECA S.A.), Carrera 61 No. 11-58, Cali, Colombia; Carretera Central via Aeropuerto Palmaseca, Colombia; NIT # 800146749-7 (Colombia) [SDNT]

CRIADERO LA LUISA E.U. (f.k.a. INDUSTRIA AGROPECUARIA SANTA ELENA LTDA.), Avenida 7 Norte No. 23N-81, Cali, Colombia; Avenida 7 Norte No. 23-77, Cali, Colombia; Calle 15 No. 26-400, Cali, Colombia; Jamundi, Valle, Colombia; NIT # 860503330-5 (Colombia) [SDNT]

CRP (a.k.a. CETNIK RAVNAGORSKI POKRET) [BALKANS]

CRUZ, Antonio Pedro (REYES), Milan, Italy (individual) [CUBA]

CRUZ, Juan M. de la, Director, Banco Nacional de Cuba, Dai-Ichi Bldg. 6th Floor, 10-2 Nihombashi, 2-chome, Chuo-ku, Tokyo 103, Japan (individual) [CUBA]

CRYMSA (a.k.a. COMERCIAL DE RODAJES Y MAQUINARIA, S.A.), Jose Lazaro Galdeano 6-6, 28016 Madrid, Spain [CUBA]

CRYMSA—ARGENTINA, S.A., Buenos Aires, Argentina [CUBA]

CUARTES MORALES, Juan Carlos, c/o INVERSIONES Y CONSTRUCCIONES VALLE S.A., Cali, Colombia; Cedula No. 16757375 (Colombia) (individual) [SDNT]

CUATRO FRIO (a.k.a. HIELO CRISTAL Y REFRIGERACION LTDA.), Carrera 8 No. 32-16, Cali, Colombia; Carrera 44A No. 9C-85, Bogota, Colombia; NIT # 890303017-5 (Colombia) [SDNT]

CUBACANCUN CIGARS AND GIFT SHOPS, Cancun, Mexico [CUBA]

CUBAEXPORT, Spain [CUBA]

CUBAFRUTAS, Spain [CUBA]

CUBAN CIGARS TRADE, Italy [CUBA]

CUBAN FREIGHT ENTERPRISE (a.k.a. CUFLET; a.k.a. LA EMPRESA CUBANA DE FLETES), Syczecin, Poland [CUBA]

CUBAN FREIGHT ENTERPRISE (a.k.a. CUFLET; a.k.a. LA EMPRESA CUBANA DE FLETES), Rotterdam, Netherlands [CUBA]

CUBAN FREIGHT ENTERPRISE (a.k.a. CUFLET; a.k.a. LA EMPRESA CUBANA DE FLETES), Montreal, Canada [CUBA]

CUBAN FREIGHT ENTERPRISE (a.k.a. CUFLET; a.k.a. LA EMPRESA CUBANA DE FLETES), Moscow, Russia [CUBA]

CUBAN FREIGHT ENTERPRISE (a.k.a. CUFLET; a.k.a. LA EMPRESA CUBANA DE FLETES), Barcelona, Spain [CUBA]

CUBAN FREIGHT ENTERPRISE (a.k.a. CUFLET; a.k.a. LA EMPRESA CUBANA DE FLETES), Mexico [CUBA]

CUBAN FREIGHT ENTERPRISE (a.k.a. CUFLET; a.k.a. LA EMPRESA CUBANA DE FLETES), Varna, Bulgaria [CUBA]

CUBAN FREIGHT ENTERPRISE (a.k.a. CUFLET; a.k.a. LA EMPRESA CUBANA DE FLETES), Buenos Aires, Argentina [CUBA]

CUBAN FREIGHT ENTERPRISE (a.k.a. CUFLET; a.k.a. LA EMPRESA CUBANA DE FLETES), Pyongyang, Korea (Peoples Democratic Republic) [CUBA]

CUBAN FREIGHT ENTERPRISE (a.k.a. CUFLET; a.k.a. LA EMPRESA CUBANA DE FLETES), Rostock, Germany [CUBA]

CUBAN FREIGHT ENTERPRISE (a.k.a. CUFLET; a.k.a. LA EMPRESA CUBANA DE FLETES), Genoa, Italy [CUBA]

CUBANA AIRLINES (a.k.a. EMPRESA CUBANA DE AVIACION), 1 Place Ville Marie, Suite 3431, Montreal, Canada [CUBA]

CUBANA AIRLINES (a.k.a. EMPRESA CUBANA DE AVIACION), 24 Rue Du Quatre Septembre, Paris, France [CUBA]

CUBANA AIRLINES (a.k.a. EMPRESA CUBANA DE AVIACION), 32 Main Street, Georgetown, Guyana [CUBA]

CUBANA AIRLINES (a.k.a. EMPRESA CUBANA DE AVIACION), Belas Airport, Luanda, Angola [CUBA]

CUBANA AIRLINES (a.k.a. EMPRESA CUBANA DE AVIACION), c/o Anglo-Caribbean Shipping Co. Ltd., Ibex House, The Minories, London EC3N 1DY, England [CUBA]

CUBANA AIRLINES (a.k.a. EMPRESA CUBANA DE AVIACION), Calle 29 y Avda Justo Arosemena, Panama City, Panama [CUBA]

CUBANA AIRLINES (a.k.a. EMPRESA CUBANA DE AVIACION), Corrientes 545 Primer Piso, Buenos Aires, Argentina [CUBA]

CUBANA AIRLINES (a.k.a. EMPRESA CUBANA DE AVIACION), Dobrininskaya No. 7, Sec 5, Moscow, Russia [CUBA]

CUBANA AIRLINES (a.k.a. EMPRESA CUBANA DE AVIACION), Frankfurter TOR 8-A, Berlin, Germany [CUBA]

CUBANA AIRLINES (a.k.a. EMPRESA CUBANA DE AVIACION), Grantley Adams Airport, Christ Church, Barbados [CUBA]

CUBANA AIRLINES (a.k.a. EMPRESA CUBANA DE AVIACION), Madrid, Spain [CUBA]

CUBANA AIRLINES (a.k.a. EMPRESA CUBANA DE AVIACION), Melchor Ocampo 469, 5DF Mexico City, Mexico [CUBA]

CUBANA AIRLINES (a.k.a. EMPRESA CUBANA DE AVIACION), Norman Manley International Airport, Kingston, Jamaica [CUBA]

CUBANA AIRLINES (a.k.a. EMPRESA CUBANA DE AVIACION), Parizska 17, Prague, Czech Republic [CUBA]

CUBANA AIRLINES (a.k.a. EMPRESA CUBANA DE AVIACION), Paseo de la Republica 126, Lima, Peru [CUBA]

CUBANA AIRLINES (a.k.a. EMPRESA CUBANA DE AVIACION), Piarco Airport, Port au Prince, Haiti [CUBA]

CUBANACAN (a.k.a. CUBANACAN GROUP; a.k.a. EL GRUPO CUBANACAN), Calle 68 e/5ta A, Apartado 16046, Ciudad de La Habana, Cuba [CUBA]

CUBANACAN GROUP (a.k.a. CUBANACAN; a.k.a. EL GRUPO CUBANACAN), Calle 68 e/5ta A, Apartado 16046, Ciudad de La Habana, Cuba [CUBA]

CUBANACAN INTERNATIONAL B.V., Visseringlaan 24, 2288 ER Rijswijk, Zevenhuizen, The Netherlands; Registration ID 27134614 (The Netherlands) [CUBA]

CUBANACAN U.K. LIMITED, Unit 49 Skylines Village, Limeharbour, Docklands, London E14 9TS United Kingdom; Registration ID 2720485 (United Kingdom) [CUBA]

CUBANATUR, Baja California 255, Edificio B. Oficina 103, Condesa 06500, Mexico, D.F. [CUBA]

CUBATABACO, Spain [CUBA]

CUBATUR (a.k.a. EMPRESA DE TURISMO NACIONAL Y INTERNACIONAL), Buenos Aires, Argentina [CUBA]

CUECA V., Miguel A., c/o ADMACOOP, Bogota, Colombia; c/o FARMACOOP, Bogota, Colombia; c/o LABORATORIOS KRESSFOR DE COLOMBIA S.A., Bogota, Colombia; Cedula No. 11386978 (Colombia) (individual) [SDNT]

CUECA VILLARAGA, Hernan, c/o DROGAS LA REBAJA BOGOTA S.A., Bogota, Colombia; Cedula No. 11352426 (Colombia) (individual) [SDNT]

CUENCA, Ramon Cesar, Panama [CUBA]

CUERO MARTINEZ, Otalvaro, c/o ALKALA ASOCIADOS S.A., Cali, Colombia; c/o INVHERESA S.A., Cali, Colombia; Cedula No. 16599979 (Colombia) (individual) [SDNT]

CUFLET (a.k.a. LA EMPRESA CUBANA DE FLETES; a.k.a. THE CUBAN FREIGHT ENTERPRISE), Rotterdam, Netherlands [CUBA]

CUFLET (a.k.a. LA EMPRESA CUBANA DE FLETES; a.k.a. THE CUBAN FREIGHT ENTERPRISE), Mexico [CUBA]

CUFLET (a.k.a. LA EMPRESA CUBANA DE FLETES; a.k.a. THE CUBAN FREIGHT ENTERPRISE), Montreal, Canada [CUBA]

CUFLET (a.k.a. LA EMPRESA CUBANA DE FLETES; a.k.a. THE CUBAN FREIGHT ENTERPRISE), Barcelona, Spain [CUBA]

CUFLET (a.k.a. LA EMPRESA CUBANA DE FLETES; a.k.a. THE CUBAN FREIGHT ENTERPRISE), Moscow, Russia [CUBA]

CUFLET (a.k.a. LA EMPRESA CUBANA DE FLETES; a.k.a. THE CUBAN FREIGHT ENTERPRISE), Varna, Bulgaria [CUBA]

CUFLET (a.k.a. LA EMPRESA CUBANA DE FLETES; a.k.a. THE CUBAN FREIGHT ENTERPRISE), Buenos Aires, Argentina [CUBA]

CUFLET (a.k.a. LA EMPRESA CUBANA DE FLETES; a.k.a. THE CUBAN FREIGHT ENTERPRISE), Rostock, Germany [CUBA]

CUFLET (a.k.a. LA EMPRESA CUBANA DE FLETES; a.k.a. THE CUBAN FREIGHT ENTERPRISE), Pyongyang, Korea (Peoples Democratic Republic) [CUBA]

CUFLET (a.k.a. LA EMPRESA CUBANA DE FLETES; a.k.a. THE CUBAN FREIGHT ENTERPRISE), Rostock, Germany [CUBA]

CUFLET (a.k.a. LA EMPRESA CUBANA DE FLETES; a.k.a. THE CUBAN FREIGHT ENTERPRISE), Syczecin, Poland [CUBA]

CUJAR DE FORERO, Claudia, c/o BONOMERCAD S.A., Bogota, Colombia; c/o DISTRIBUIDORA AGROPECUARIA COLOMBIANA S.A., Cali, Colombia; Cedula No. 20198740 (Colombia) (individual) [SDNT]

CULZAT LUGSIR, Rafael Alberto, Calle 7 Oeste No. 2-228, Cali, Colombia; Transveral 3 No. 86-73, Bogota, Colombia; c/o CONSTRUCTORA ALTOS DEL RETIRO LTDA., Bogota, Colombia; c/o INVERSIONES CULZAT GUEVARA Y CIA. S.C.S., Cali, Colombia; DOB 23 Oct 1940; Passport P551220 (Colombia); Cedula No. 14962523 (Colombia) (individual) [SDNT]

CUMEXINT, S.A., 1649 Adolfo Prieto, Colonia del Valle, Mexico City, Mexico [CUBA]

CUREF METAL PROCESSING BV, Boezembolcht 23, Rotterdam, Netherlands [CUBA]

CUSTOMER NETWORKS S.L., Ronda Manuel Granero 69, 28043 Madrid, Madrid, Spain; Serrano 166, 28002 Madrid, Madrid, Spain; C.I.F. B82998543 (Spain) [SDNT]

D.C.M. CONSULTORIA E.U. (a.k.a. DIRECCION COMERCIAL Y MARKETING CONSULTORIA EMPRESA UNIPERSONAL), Calle 12B No. 27-39, Bogota, Colombia; Transversal 4 No. 110A-08, Bogota, Colombia; NIT # 800934781-4 (Colombia) [SDNT]

D'CACHE S.A., Calle 25N No. 3AN-39, Cali, Colombia; NIT # 800149284-8 (Colombia) [SDNT]

D'ELCON S.A. (a.k.a. DISTRIBUIDORA DE ELEMENTOS PARA LA CONSTRUCCION S.A.), Carrera 23D No. 13B-59, Cali, Colombia; NIT # 800117780-2 (Colombia) [SDNT]

DA COSTA, Luis Fernando (a.k.a. BEIRA-MAR, Fernandinho); DOB 4 Jul 1967; POB Rio de Janeiro, Brazil (individual) [SDNTK]

DABENGWA, Dumiso, Politburo Senior Committee Member of Zimbabwe; DOB 6 Dec 1939 (individual) [ZIMB]

DAGHIR, Ali Ashour, 2 Western Road, Western Green, Thames Ditton, Surrey, England (individual) [IRAQ]

DAHAIM, Ayad S., Vali Konagi Cad. No. 10, 80200 Nistantas, Istanbul, Turkey (individual) [LIBYA]

DALIPI, Tahir; DOB 1958; POB Ilince, Serbia and Montenegro (individual) [BALKANS]

DARKAZANLI COMPANY (a.k.a. MAMOUN DARKAZANLI IMPORT-EXPORT COMPANY; a.k.a. DARKAZANLI EXPORT-IMPORT SONDERPOSTEN), Uhlenhorsterweg 34 11, Hamburg, Germany [SDGT]

DARKAZANLI EXPORT-IMPORT SONDERPOSTEN (a.k.a. MAMOUN DARKAZANLI IMPORT-EXPORT COMPANY; a.k.a. DARKAZANLI COMPANY), Uhlenhorsterweg 34 11, Hamburg, Germany [SDGT]

DARKAZANLI, Mamoun, Uhlenhorsterweg 34 11, Hamburg, 22085 Germany; DOB 4 Aug 1958; POB Aleppo, Syria; Passport No. 1310636262 (Germany) (individual) [SDGT]

DAZA QUIROGA, Hugo Carlos, c/o DISTRIBUIDORA DE DROGAS CONDOR LTDA., Bogota, Colombia; c/o DISTRIBUIDORA MYRAMIREZ S.A., Bogota, Colombia; c/o LABORATORIOS GENERICOS VETERINARIOS S.A., Bogota, Colombia; c/o LABORATORIOS KRESSFOR DE COLOMBIA S.A., Bogota, Colombia; Cedula No. 19236485 (Colombia) (individual) [SDNT]

DAZA RIVERA, Pablo Emilio, c/o BLANCO PHARMA S.A., Bogota,Colombia; c/o COLOR 89.5 FM STEREO, Cali, Colombia; c/o DISTRIBUIDORA MYRAMIZEZ S.A., Bogota, Colombia; c/o DROGAS LA REBAJA, Cali, Colombia; c/o FARMATODO S.A., Bogota, Colombia; c/o INVERSIONES Y CONSTRUCCIONES ABC S.A., Cali, Colombia; c/o LABORATORIOS KRESSFOR, Bogota, Colombia; c/o RIONAP COMERCIO Y REPRESENTACIONES S.A., Quito, Ecuador; Cedula No. 4904545 (Colombia) (individual) [SDNT]

DE BIENFAISANCE ET DE COMMITE LE SOLIDARITE AVEC LA PALESTINE (a.k.a. AL AQSA ASSISTANCE CHARITABLE COUNCIL; a.k.a. AL-LAJNA AL-KHAYRIYYA LIL MUNASARA AL-AQSA; a.k.a. BENEVOLENCE COMMITTEE FOR SOLDARITY WITH PALESTINE; a.k.a. BENEVOLENT COMMITTEE FOR SUPPORT OF PALESTINE; a.k.a. CBSP; a.k.a. CHARITABLE COMMITTEE FOR PALESTINE; a.k.a. CHARITABLE COMMITTEE FOR SOLIDARITY WITH PALESTINE; a.k.a. CHARITABLE COMMITTEE FOR SUPPORTING PALESTINE; a.k.a. CHARITABLE ORGANIZATION IN SUPPORT OF PALESTINE; n.k.a. COMITE' DE BIENFAISANCE ET DE SECOURS AUX PALESTINIENS; f.k.a. COMITE' DE BIENFAISANCE POUR LA SOLIDARITE' AVEC LA PALESTINE; a.k.a. COMMITTEE FOR AID AND SOLIDARITY WITH PALESTINE; a.k.a. COMMITTEE FOR ASSISTANCE AND SOLIDARITY WITH PALESTINE; a.k.a. COMMITTEE FOR CHARITY AND SOLIDARITY WITH PALESTINE; a.k.a. COMPANIE BENIFICENT DE SOLIDARITE AVEC PALESTINE; a.k.a. COUNCIL OF CHARITY AND SOLIDARITY; a.k.a. RELIEF COMMITTEE FOR SOLIDARITY WITH PALESTINE), 68 Rue Jules Guesde, 59000 Lille, France; 10 Rue Notre Dame, 69006 Lyon, France; 37 Rue de la Chapelle, 75018 Paris, France [SDGT]

DE FRANCE, Naomi A., Cubanatur, Baja California 255, Edificio B., Oficina 103, Condesa 06500, Mexico, D.F. (individual) [CUBA]

DECACOOP S.A. (n.k.a. BONOMERCAD S.A.), Transversal 29 No. 39-92, Bogota, Colombia; NIT # 830018919-3 (Colombia) [SDNT]

DECAFARMA S.A., Transversal 29 No. 39-92, Bogota, Colombia; NIT # 800241240-7 (Colombia) [SDNT]

DEL VASTO CERON, Luis Mario, c/o ADMINISTRADORA DE SERVICIOS VARIOS CALIMA S.A., Cali, Colombia; DOB 26 Jul 1947; Passport 17181655 (Colombia); Cedula No. 17181655 (Colombia) (individual) [SDNT]

DELGADO, Antonio (ARSENIO), Panama (individual) [CUBA]

DELGADO GUTIERREZ, Luis Alvaro, c/o TAURA S.A., Cali, Colombia; Cedula No. 16718474 (Colombia) (individual) [SDNT]

DELGADO, Jorge Armando, c/o ALFA PHARMA S.A., Bogota, Colombia; c/o COINTERCOS S.A., Bogota, Colombia; c/o COPSERVIR LTDA., Bogota, Colombia; c/o COSMEPOP, Bogota, Colombia; c/o DISTRIBUIDORA MYRAMIREZ S.A., Bogota, Colombia; c/o FARMATODO S.A., Bogota, Colombia; c/o LABORATORIOS BLAIMAR DE COLOMBIA S.A., Bogota, Colombia; c/o LABORATORIOS BLANCO PHARMA DE COLOMBIA S.A., Bogota, Colombia; c/o LABORATORIOS KRESSFOR DE COLOMBIA S.A., Bogota, Colombia; Cedula No. 19354318 (Colombia) (individual) [SDNT]

DELGADO PRIETO, Roberto, c/o COLPHAR S.A., Bogota, Colombia; Passport 13921914 (Colombia); Cedula No. 13921914 (Colombia) (individual) [SDNT]

DELIC, Hazim; DOB 13 May 1964; ICTY indictee (individual) [BALKANS]

DELVEST HOLDING, S.A. (a.k.a. DELVEST HOLDING COMPANY), Case Postale 236, 10 Bis Rue Du Vieux College 12-11, Geneva, Switzerland [CUBA]

DEMOCRATIC FRONT FOR THE LIBERATION OF PALESTINE (a.k.a. DEMOCRATIC FRONT FOR THE LIBERATION OF PALESTINE—HAWATMEH FACTION; a.k.a. DFLP; a.k.a. RED STAR FORCES; a.k.a. RED STAR BATTALIONS) [SDT]

DEMOCRATIC FRONT FOR THE LIBERATION OF PALESTINE—HAWATMEH FACTION (a.k.a. DEMOCRATIC FRONT FOR THE LIBERATION OF PALESTINE; a.k.a. DFLP; a.k.a. RED STAR FORCES; a.k.a. RED STAR BATTALIONS) [SDT]

DEPOSITO POPULAR DE DROGAS S.A., Carrera 6 No. 24-77, Cali, Colombia [SDNT]

DEPROSA, S.A. (a.k.a. DESARROLLO DE PROYECTOS, S.A.), Panama City, Panama [CUBA]

DERAMCHI, Othman (a.k.a. YOUSSEF, Abou), Via Milanese, 5, 20099 Sesto San Giovanni, Milan, Italy; Piazza Trieste, 11, Mortara, Italy; DOB 7 Jun 1954; POB Tighennif, Algeria; Italian Fiscal Code: DRMTMN54H07Z301T (individual) [SDGT]

DERECHO INTEGRAL Y CIA. LTDA., Calle 22N No. 5A-75 piso 5, Cali, Colombia [SDNT]

DERONJIC, Miroslav; DOB 6 June 1945; POB Bratunac, Bosnia-Herzegovina; ICTY indictee (individual) [BALKANS]

DESARROLLAR LTDA. (a.k.a. DESARROLLOS URBANOS “DESARROLLAR” LTDA.), Calle 74 No. 53-30, Barranquilla, Colombia; NIT # 890108104-2 (Colombia) [SDNT]

DESARROLLO DE PROYECTOS, S.A. (a.k.a. DEPROSA, S.A.), Panama City, Panama [CUBA]

DESARROLLO INDUSTRIAL CUBANO ESPANOL, S.A. (a.k.a. DICESA), Jose Lazaro Caldeano, 6-6, 28016 Madrid, Spain [CUBA]

DESARROLLO INDUSTRIAL CUBANO ESPANOL, S.A. (a.k.a. DICESA), Paseo De La Castellana 157, Madrid, Spain [CUBA]

DESARROLLOS COMERCIALES E INDUSTRIALES HENAO GONZALEZ Y CIA. S.C.S., Carrera 4A No. 16-04 apt. 303, Cartago, Colombia; NIT # 800160475-2 (Colombia) [SDNT]

DESARROLLOS URBANOS “DESARROLLAR” LTDA. (a.k.a. DESARROLLAR LTDA.), Calle 74 No. 53-30, Barranquilla, Colombia; NIT # 890108104-2 (Colombia) [SDNT]

DEV SOL (a.k.a. DEVRIMCI HALK KURTULUS PARTISI-CEPHESI; a.k.a. DHKP/C; a.k.a. DEVRIMCI SOL; a.k.a. REVOLUTIONARY LEFT; a.k.a. REVOLUTIONARY PEOPLE'S LIBERATION PARTY/FRONT; a.k.a. DEV SOL SILAHLI DEVRIMCI BIRLIKLERI; a.k.a. DEV SOL SDB; a.k.a. DEV SOL ARMED REVOLUTIONARY UNITS) [FTO][SDGT]

DEV SOL ARMED REVOLUTIONARY UNITS (a.k.a. DEVRIMCI HALK KURTULUS PARTISI-CEPHESI; a.k.a. DHKP/C; a.k.a. DEVRIMCI SOL; a.k.a. REVOLUTIONARY LEFT; a.k.a. DEV SOL; a.k.a. DEV SOL SILAHLI DEVRIMCI BIRLIKLERI; a.k.a. DEV SOL SDB; a.k.a. REVOLUTIONARY PEOPLE'S LIBERATION PARTY/FRONT) [FTO][SDGT]

DEV SOL SDB (a.k.a. DEVRIMCI HALK KURTULUS PARTISI-CEPHESI; a.k.a. DHKP/C; a.k.a. DEVRIMCI SOL; a.k.a. REVOLUTIONARY LEFT; a.k.a. DEV SOL; a.k.a. DEV SOL SILAHLI DEVRIMCI BIRLIKLERI; a.k.a. REVOLUTIONARY PEOPLE'S LIBERATION PARTY/FRONT; a.k.a. DEV SOL ARMED REVOLUTIONARY UNITS) [FTO][SDGT]

DEV SOL SILAHLI DEVRIMCI BIRLIKLERI (a.k.a. DEVRIMCI HALK KURTULUS PARTISI-CEPHESI; a.k.a. DHKP/C; a.k.a. DEVRIMCI SOL; a.k.a. REVOLUTIONARY LEFT; a.k.a. DEV SOL; a.k.a. REVOLUTIONARY PEOPLE'S LIBERATION PARTY/FRONT; a.k.a. DEV SOL SDB; a.k.a. DEV SOL ARMED REVOLUTIONARY UNITS) [FTO][SDGT]

DEVIA SILVA, Luis Edgar (a.k.a. “Raul Reyes”); DOB 30 Sep 1948; POB La Plata, Huila, Colombia; Cedula No. 14871281 (Colombia) (individual) [SDNTK]

DEVRIMCI HALK KURTULUS PARTISI-CEPHESI (a.k.a. REVOLUTIONARY PEOPLE'S LIBERATION PARTY/FRONT; a.k.a. DHKP/C; a.k.a. DEVRIMCI SOL; a.k.a. REVOLUTIONARY LEFT; a.k.a. DEV SOL; a.k.a. DEV SOL SILAHLI DEVRIMCI BIRLIKLERI; a.k.a. DEV SOL SDB; a.k.a. DEV SOL ARMED REVOLUTIONARY UNITS) [FTO][SDGT]

DEVRIMCI SOL (a.k.a. DEVRIMCI HALK KURTULUS PARTISI-CEPHESI; a.k.a. DHKP/C; a.k.a. REVOLUTIONARY PEOPLE'S LIBERATION PARTY/FRONT; a.k.a. REVOLUTIONARY LEFT; a.k.a. DEV SOL; a.k.a. DEV SOL SILAHLI DEVRIMCI BIRLIKLERI; a.k.a. DEV SOL SDB; a.k.a. DEV SOL ARMED REVOLUTIONARY UNITS) [FTO][SDGT]

DFLP (a.k.a. DEMOCRATIC FRONT FOR THE LIBERATION OF PALESTINE; a.k.a. DEMOCRATIC FRONT FOR THE LIBERATION OF PALESTINE—HAWATMEH FACTION; a.k.a. RED STAR FORCES; a.k.a. RED STAR BATTALIONS) [SDT]

DHAMAT HOUMET DAAWA SALAFIA (a.k.a. DJAMAAT HOUMAT ED DAAWA ES SALAFIYA; a.k.a. DJAMAAT HOUMAT EDDAWA ESSALAFIA; a.k.a. DJAMAATT HOUMAT ED DAAWA ES SALAFIYA; a.k.a. EL-AHOUAL BATTALION; a.k.a. GROUP OF SUPPORTERS OF THE SALAFIST TREND; a.k.a. GROUP OF SUPPORTERS OF THE SALAFISTE TREND; a.k.a. GROUP PROTECTORS OF SALAFIST PREACHING; a.k.a. HOUMAT ED DAAWA ES SALIFIYA; a.k.a. HOUMAT ED-DAAOUA ES-SALAFIA; a.k.a. HOUMATE ED-DAAWA ES-SALAFIA; a.k.a. HOUMATE EL DA'AWAA ES-SALAFIYYA; a.k.a. KATIBAT EL AHOUAL; a.k.a. KATIBAT EL AHOUEL; a.k.a. PROTECTORS OF THE SALAFIST CALL; a.k.a. PROTECTORS OF THE SALAFIST PREDICATION; a.k.a. SALAFIST CALL PROTECTORS; a.k.a. THE HORROR SQUADRON), Algeria [SDGT]

DHKP/C (a.k.a. DEVRIMCI HALK KURTULUS PARTISI-CEPHESI; a.k.a. REVOLUTIONARY PEOPLE'S LIBERATION PARTY/FRONT; a.k.a. DEVRIMCI SOL; a.k.a. REVOLUTIONARY LEFT; a.k.a. DEV SOL; a.k.a. DEV SOL SILAHLI DEVRIMCI BIRLIKLERI; a.k.a. DEV SOL SDB; a.k.a. DEV SOL ARMED REVOLUTIONARY UNITS) [FTO][SDGT]

DIAGNOSTICENTRO LA GARANTIA (a.k.a. SERVIAUTOS UNO A 1A LIMITADA), Calle 34 No. 5A-25, Cali, Colombia; Carrera 15 No. 44-68, Cali, Colombia; NIT # 800032413-8 (Colombia) [SDNT]

DIAGROCOL S.A. (a.k.a. DISTRIBUIDORA AGROPECUARIA COLOMBIANA S.A.), Avenida 3 Bis Norte No. 23C-69, Cali, Colombia; NIT # 805011649-7 (Colombia) [SDNT]

DIAS DE MENDONCA, Leonardo (a.k.a. DIAS MENDONA, Leonardo; a.k.a. DIAZ MENDONCA, Leonardo); DOB 12 Jan 1963; alt. DOB 21 Nov 1963; alt. DOB 01 Dec 1963; POB Brazil (individual) [SDNTK]

DIAS MENDONA, Leonardo (a.k.a. DIAS DE MENDONCA, Leonardo; a.k.a. DIAZ MENDONCA, Leonardo); DOB 12 Jan 1963; alt. DOB 21 Nov 1963; alt. DOB 01 Dec 1963; POB Brazil (individual) [SDNTK]

DIAZ, Manuel, c/o COMERCIAL DE NEGOCIOS CLARIDAD Y CIA., Bogota, Colombia; c/o COMERCIALIZADORA EXPERTA Y CIA. S. EN C., Bogota, Colombia; c/o INMOBILIARIA GALES LTDA, Bogota, Colombia; Cedula No. 396358 (Colombia) (individual) [SDNT]

DIAZ MATIZ, Maria Cecilia, c/o LEMOFAR LTDA., Bogota, Colombia; DOB 16 May 1950; Passport 41510904 (Colombia); Cedula No. 41510904 (Colombia) (individual) [SDNT]

DIAZ MENDONCA, Leonardo (a.k.a. DIAS DE MENDONCA, Leonardo; a.k.a. DIAS MENDONA, Leonardo); DOB 12 Jan 1963; alt. DOB 21 Nov 1963; alt. DOB 01 Dec 1963; POB Brazil (individual) [SDNTK]

DIAZ PONTON, Gonzalo, c/o COOPDISAN, Bucaramanga, Colombia; c/o DROGAS LA REBAJA BUCARAMANGA S.A., Bucaramanga, Colombia; Passport 18938771 (Colombia); Cedula No. 18938771 (Colombia) (individual) [SDNT]

DIAZ, Rolando (GONZALEZ), Frankfurt, Germany (individual) [CUBA]

DIAZ, Rosa Isabel, c/o INVHERESA S.A., Cali, Colombia (individual) [SDNT]

DIAZ SANCHEZ, Alberto, Carrera 66 No. 5-23, Cali, Colombia; c/o CONCRETOS CALI S.A., Cali, Colombia; c/o CONSTRUCTORA DIMISA LTDA., Cali, Colombia; c/o INMOBILIARIA U.M.V. S.A., Cali, Colombia; DOB Jan 1956; Cedula No. 16259623 (Colombia) (individual) [SDNT]

DIBC (a.k.a. DISTRIBUIDORA IMPERIAL; a.k.a. DISTRIBUIDORA IMPERIAL DE BAJA CALIFORNIA, S.A. de C.V.), Blvd. Agua Caliente 1381, Colonia Revolucion, Tijuana, Baja California, Mexico; Avenida Rio Nazas 10202, Tijuana, Baja California, Mexico; Heroes de Nacozari 3213 Colonia Maya, Culiacan, Sinaloa, Mexico; Lerdo de Tejada 1879 Sector Juarez, Guadalajara, Jalisco, Mexico; Ramon Morales No. 732 Colonia El Mirador, Guadalajara, Jalisco, Mexico; Rio Balsas 1579 Los Nogales, Ciudad Juarez, Chihuahua, Mexico; Luz Savinon 718-C Colonia del Valle, Mexico City, Distrito Federal, Mexico; P.O. Box 434440, San Ysidro, California 92173, U.S.A.; R.F.C.# DIB-771110-HQ1 (Mexico) [SDNTK]

DICESA (a.k.a. DESARROLLO INDUSTRIAL CUBANO ESPANOL, S.A.), Jose Lazaro Caldeano, 6-6, 28016, Madrid, Spain [CUBA]

DICESA (a.k.a. DESARROLLO INDUSTRIAL CUBANO ESPANOL, S.A.), Paseo De La Castellana 157, Madrid, Spain [CUBA]

DIKUY BOGDIM (a.k.a. AMERICAN FRIENDS OF THE UNITED YESHIVA MOVEMENT; a.k.a. AMERICAN FRIENDS OF YESHIVAT RAV MEIR; a.k.a. COMMITTEE FOR THE SAFETY OF THE ROADS; a.k.a. DOV; a.k.a. FOREFRONT OF THE IDEA; a.k.a. FRIENDS OF THE JEWISH IDEA YESHIVA; a.k.a. JEWISH LEGION; a.k.a. JUDEA POLICE; a.k.a. JUDEAN CONGRESS; a.k.a. KACH; a.k.a. KAHANE CHAI; a.k.a. KAHANE LIVES; a.k.a. KAHANE TZADAK; a.k.a. KAHANE.NET; a.k.a. KAHANE.ORG; a.k.a. KAHANE; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [SDT][FTO][SDGT]

DIRECCION COMERCIAL Y MARKETING CONSULTORIA EMPRESA UNIPERSONAL (a.k.a. D.C.M. CONSULTORIA E.U.), Calle 12B No. 27-39, Bogota, Colombia; Transversal 4 No. 110A-08, Bogota, Colombia; NIT # 800934781-4 (Colombia) [SDNT]

DISMERCOOP (a.k.a. COOPERATIVA MULTIACTIVA DE EMPLEADOS DE SUPERMERCADOS Y AFINES; f.k.a. DISTRIBUIDORA MIGIL LTDA.; f.k.a. DISTRIBUIDORA MIGIL BOGOTA LTDA.; f.k.a. DISTRIBUIDORA MIGIL CALI S.A.; f.k.a. GRACADAL S.A.; f.k.a. MIGIL), Calle 5C No. 41-30, Cali, Colombia; Carrera 26 No. 5B-65, Cali, Colombia; Carrera 30 No. 5-12, Cali, Colombia; NIT # 805003637-5 (Colombia) [SDNT]

DISTRIBUCIONES GLOMIL LTDA. (a.k.a. AUTOSERVICIO CIUDAD JARDIN; a.k.a. AUTOSERVICIO PENON), Carrera 2 Oeste No. 2-54 ap. 201, Cali, Colombia; Carrera 105 No. 15A-53, Cali, Colombia; Avenida Colombia No. 2-45, Cali, Colombia; NIT # 805008233-6 (Colombia) [SDNT]

DISTRIBUIDORA AGROPECUARIA COLOMBIANA S.A., (a.k.a. DIAGROCOL S.A.), Avenida 3 Bis Norte No. 23C-69, Cali, Colombia; NIT # 805011649-7 (Colombia) [SDNT]

DISTRIBUIDORA DE DROGAS CONDOR LTDA. (a.k.a. CONDOR), Calle 10 No. 32A-64, Bogota, Colombia; Calle 68 52-05, Bogota, Colombia [SDNT]

DISTRIBUIDORA DE DROGAS LA REBAJA PRINCIPAL S.A. (n.k.a. COPSERVIR LTDA.; n.k.a. COOPERATIVA MULTIACTIVA DE EMPLEADOS DE DISTRIBUIDORES DE DROGAS COPSERVIR LTDA.; f.k.a. DISTRIBUIDORA DE DROGAS LA REBAJA S.A.; f.k.a. DROGAS LA REBAJA), Calle 4 No. 22-24, Bogota, Colombia; Calle 10 No. 4-47 Piso 19, Cali, Colombia; Calle 14 6-66, Cali, Colombia; Calle 18 No. 121-130 Avenida Canasgordas Pance, Cali, Colombia; Carrera 7 13-132 piso 4, Cali, Colombia; Carrera 7A 14-25 piso 2, Cali, Colombia; Carrera 10 11-71, Cali, Colombia; Carrera 66A No. 53-47 piso 3, Bogota, Colombia; Carrera 99 No. 46 A-10 Bdg 6 y 8, Bogota, Colombia; NIT # 830011670-3 (Colombia) [SDNT]

DISTRIBUIDORA DE DROGAS LA REBAJA S.A. (n.k.a. COPSERVIR LTDA.; n.k.a. COOPERATIVA MULTIACTIVA DE EMPLEADOS DE DISTRIBUIDORES DE DROGAS COPSERVIR LTDA.; f.k.a. DISTRIBUIDORA DE DROGAS LA REBAJA PRINCIPAL S.A.; f.k.a. DROGAS LA REBAJA), Calle 4 No. 22-24, Bogota, Colombia; Calle 10 No. 4-47 Piso 19, Cali, Colombia; Calle 14 6-66, Cali, Colombia; Calle 18 No. 121-130 Avenida Canasgordas Pance, Cali, Colombia; Carrera 7 13-132 piso 4, Cali, Colombia; Carrera 7A 14-25 piso 2, Cali, Colombia; Carrera 10 11-71, Cali, Colombia; Carrera 66A No. 53-47 piso 3, Bogota, Colombia; Carrera 99 No. 46 A-10 Bdg 6 y 8, Bogota, Colombia; NIT # 830011670-3 (Colombia) [SDNT]

DISTRIBUIDORA DE ELEMENTOS PARA LA CONSTRUCCION S.A. (a.k.a. D'ELCON S.A.), Carrera 23D No. 13B-59, Cali, Colombia; NIT # 800117780-2 (Colombia) [SDNT]

DISTRIBUIDORA DEL VALLE E.U., Calle 18 No. 106-98 of. 303, Cali, Colombia; Diag. 23 Tr. 10-99, Cali, Colombia; NIT # 805007212-7 (Colombia) [SDNT]

DISTRIBUIDORA IMPERIAL (a.k.a. DIBC; a.k.a. DISTRIBUIDORA IMPERIAL DE BAJA CALIFORNIA, S.A. de C.V.), Blvd. Agua Caliente 1381, Colonia Revolucion, Tijuana, Baja California, Mexico; Avenida Rio Nazas 10202, Tijuana, Baja California, Mexico; Heroes de Nacozari 3213 Colonia Maya, Culiacan, Sinaloa, Mexico; Lerdo de Tejada 1879 Sector Juarez, Guadalajara, Jalisco, Mexico; Ramon Morales No. 732 Colonia El Mirador, Guadalajara, Jalisco, Mexico; Rio Balsas 1579 Los Nogales, Ciudad Juarez, Chihuahua, Mexico; Luz Savinon 718-C Colonia del Valle, Mexico City, Distrito Federal, Mexico; P.O. Box 434440, San Ysidro, California 92173, U.S.A.; R.F.C.# DIB-771110-HQ1 (Mexico) [SDNTK]

DISTRIBUIDORA IMPERIAL DE BAJA CALIFORNIA, S.A. de C.V. (a.k.a. DIBC; a.k.a. DISTRIBUIDORA IMPERIAL), Blvd. Agua Caliente 1381, Colonia Revolucion, Tijuana, Baja California, Mexico; Avenida Rio Nazas 10202, Tijuana, Baja California, Mexico; Heroes de Nacozari 3213 Colonia Maya, Culiacan, Sinaloa, Mexico; Lerdo de Tejada 1879 Sector Juarez, Guadalajara, Jalisco, Mexico; Ramon Morales No. 732 Colonia El Mirador, Guadalajara, Jalisco, Mexico; Rio Balsas 1579 Los Nogales, Ciudad Juarez, Chihuahua, Mexico; Luz Savinon 718-C Colonia del Valle, Mexico City, Distrito Federal, Mexico; P.O. Box 434440, San Ysidro, California 92173, U.S.A.; R.F.C.# DIB-771110-HQ1 (Mexico) [SDNTK]

DISTRIBUIDORA MIGIL BOGOTA LTDA. (n.k.a. COOPERATIVA MULTIACTIVA DE EMPLEADOS DE SUPERMERCADOS Y AFINES; n.k.a. DISMERCOOP; f.k.a. DISTRIBUIDORA MIGIL LTDA.; f.k.a. DISTRIBUIDORA MIGIL CALI S.A.; f.k.a. GRACADAL S.A.; f.k.a. MIGIL), Calle 5C No. 41-30, Cali, Colombia; Carrera 26 No. 5B-65, Cali, Colombia; Carrera 30 No. 5-12, Cali, Colombia; NIT # 805003637-5 (Colombia) [SDNT]

DISTRIBUIDORA MIGIL CALI S.A. (n.k.a. DISMERCOOP; n.k.a. COOPERATIVA MULTIACTIVA DE EMPLEADOS DE SUPERMERCADOS Y AFINES; f.k.a. DISTRIBUIDORA MIGIL LTDA.; f.k.a. DISTRIBUIDORA MIGIL BOGOTA LTDA.; f.k.a. GRACADAL S.A.; f.k.a. MIGIL), Calle 5C No. 41-30, Cali, Colombia; Carrera 26 No. 5B-65, Cali, Colombia; Carrera 30 No. 5-12, Cali, Colombia; NIT # 805003637-5 (Colombia) [SDNT]

DISTRIBUIDORA MIGIL LTDA. (n.k.a. DISMERCOOP; n.k.a. COOPERATIVA MULTIACTIVA DE EMPLEADOS DE SUPERMERCADOS Y AFINES; f.k.a. DISTRIBUIDORA MIGIL BOGOTA LTDA.; f.k.a. DISTRIBUIDORA MIGIL CALI S.A.; f.k.a. GRACADAL S.A.; f.k.a. MIGIL), Calle 5C No. 41-30, Cali, Colombia; Carrera 26 No. 5B-65, Cali, Colombia; Carrera 30 No. 5-12, Cali, Colombia; NIT # 805003637-5 (Colombia) [SDNT]

DISTRIBUIDORA MYRAMIREZ S.A., Calle 33BN No. 2BN-49 apt. 503A, Cali, Colombia; Carrera 69A No. 49A-49, Bogota, Colombia [SDNT]

DISTRIBUIDORA SANAR DE COLOMBIA S.A., Calle 18 No. 106-98 of. 206, 207, 302 and 303, Cali, Colombia; Carrera 3 No. 11-32 of. 939, Cali, Colombia; Carrera 13A No. 89-38, of. 713, Bogota, Colombia; NIT # 805011728-0 (Colombia) [SDNT]

DISTRIEXPORT C.I. S.A. (a.k.a. DISTRIEXPORT COMERCIALIZADORA INTERNACIONAL S.A.; a.k.a. DISTRIEXPORT S.A.), Calle 12B No. 27-39, Bogota, Colombia; Calle 12B No. 27-40, Int. 4 of., Bogota, Colombia; Carrera 12 No. 71-53 of. 502, Bogota, Colombia; Carrera 28 No. 11-65 of. 712, Bogota, Colombia; Carrera 70 No. 54-30, Bogota, Colombia; NIT # 830047057-3 (Colombia) [SDNT]

DISTRIEXPORT COMERCIALIZADORA INTERNACIONAL S.A. (a.k.a. DISTRIEXPORT C.I. S.A.; a.k.a. DISTRIEXPORT S.A.), Calle 12B No. 27-39, Bogota, Colombia; Calle 12B No. 27-40, Int. 4 of., Bogota, Colombia; Carrera 12 No. 71-53 of. 502, Bogota, Colombia; Carrera 28 No. 11-65 of. 712, Bogota, Colombia; Carrera 70 No. 54-30, Bogota, Colombia; NIT # 830047057-3 (Colombia) [SDNT]

DISTRIEXPORT S.A. (a.k.a. DISTRIEXPORT C.I. S.A.; a.k.a. DISTRIEXPORT COMERCIALIZADORA INTERNACIONAL S.A.), Calle 12B No. 27-39, Bogota, Colombia; Calle 12B No. 27-40, Int. 4 of., Bogota, Colombia; Carrera 12 No. 71-53 of. 502, Bogota, Colombia; Carrera 28 No. 11-65 of. 712, Bogota, Colombia; Carrera 70 No. 54-30, Bogota, Colombia; NIT # 830047057-3 (Colombia) [SDNT]

DJAMAAT HOUMAT ED DAAWA ES SALAFIYA (a.k.a. DHAMAT HOUMET DAAWA SALAFIA; a.k.a. DJAMAAT HOUMAT EDDAWA ESSALAFIA; a.k.a. DJAMAATT HOUMAT ED DAAWA ES SALAFIYA; a.k.a. EL-AHOUAL BATTALION; a.k.a. GROUP OF SUPPORTERS OF THE SALAFIST TREND; a.k.a. GROUP OF SUPPORTERS OF THE SALAFISTE TREND; a.k.a. GROUP PROTECTORS OF SALAFIST PREACHING; a.k.a. HOUMAT ED DAAWA ES SALIFIYA; a.k.a. HOUMAT ED-DAAOUA ES-SALAFIA; a.k.a. HOUMATE ED-DAAWA ES-SALAFIA; a.k.a. HOUMATE EL DA'AWAA ES-SALAFIYYA; a.k.a. KATIBAT EL AHOUAL; a.k.a. KATIBAT EL AHOUEL; a.k.a. PROTECTORS OF THE SALAFIST CALL; a.k.a. PROTECTORS OF THE SALAFIST PREDICATION; a.k.a. SALAFIST CALL PROTECTORS; a.k.a. THE HORROR SQUADRON), Algeria [SDGT]

DJAMAAT HOUMAT EDDAWA ESSALAFIA (a.k.a. DHAMAT HOUMET DAAWA SALAFIA; a.k.a. DJAMAAT HOUMAT ED DAAWA ES SALAFIYA; a.k.a. DJAMAATT HOUMAT ED DAAWA ES SALAFIYA; a.k.a. EL-AHOUAL BATTALION; a.k.a. GROUP OF SUPPORTERS OF THE SALAFIST TREND; a.k.a. GROUP OF SUPPORTERS OF THE SALAFISTE TREND; a.k.a. GROUP PROTECTORS OF SALAFIST PREACHING; a.k.a. HOUMAT ED DAAWA ES SALIFIYA; a.k.a. HOUMAT ED-DAAOUA ES-SALAFIA; a.k.a. HOUMATE ED-DAAWA ES-SALAFIA; a.k.a. HOUMATE EL DA'AWAA ES-SALAFIYYA; a.k.a. KATIBAT EL AHOUAL; a.k.a. KATIBAT EL AHOUEL; a.k.a. PROTECTORS OF THE SALAFIST CALL; a.k.a. PROTECTORS OF THE SALAFIST PREDICATION; a.k.a. SALAFIST CALL PROTECTORS; a.k.a. THE HORROR SQUADRON), Algeria [SDGT]

DJAMAATT HOUMAT ED DAAWA ES SALAFIYA (a.k.a. DHAMAT HOUMET DAAWA SALAFIA; a.k.a. DJAMAAT HOUMAT ED DAAWA ES SALAFIYA; a.k.a. DJAMAAT HOUMAT EDDAWA ESSALAFIA; a.k.a. EL-AHOUAL BATTALION; a.k.a. GROUP OF SUPPORTERS OF THE SALAFIST TREND; a.k.a. GROUP OF SUPPORTERS OF THE SALAFISTE TREND; a.k.a. GROUP PROTECTORS OF SALAFIST PREACHING; a.k.a. HOUMAT ED DAAWA ES SALIFIYA; a.k.a. HOUMAT ED-DAAOUA ES-SALAFIA; a.k.a. HOUMATE ED-DAAWA ES-SALAFIA; a.k.a. HOUMATE EL DA'AWAA ES-SALAFIYYA; a.k.a. KATIBAT EL AHOUAL; a.k.a. KATIBAT EL AHOUEL; a.k.a. PROTECTORS OF THE SALAFIST CALL; a.k.a. PROTECTORS OF THE SALAFIST PREDICATION; a.k.a. SALAFIST CALL PROTECTORS; a.k.a. THE HORROR SQUADRON), Algeria [SDGT]

DJOGO, Jovan; DOB Kalinovik, Bosnia-Herzegovina (individual) [BALKANS]

DJORDA, Samojko; DOB 13 Jun 1959; POB Sarajevo, Bosnia-Herzegovina (individual) [BALKANS]

DOHAN, Anas Malik (a.k.a. AL-HASSAN, Anas; a.k.a. AL-HASSAN, Anas Malik Dohan; a.k.a. DOHAN, Anas; a.k.a. MALIK, Anas), Baghdad, Iraq (individual) [IRAQ]

DOHAN, Anas Malik (a.k.a. AL-HASSAN, Anas; a.k.a. AL-HASSAN, Anas Malik Dohan; a.k.a. DOHAN, Anas; a.k.a. MALIK, Anas), Jordan (individual) [IRAQ]

DOMA E M (a.k.a. 2000 DOSE E.U.), Calle 31 No. 1-34, Cali, Colombia; NIT # 805015749-3 (Colombia) [SDNT]

DOMINGUEZ, Carlos, Vinales Tours, Oaxaca 80, Roma, Mexico, D.F. (individual) [CUBA]

DOMINGUEZ, Fernando, c/o DISMERCOOP, Cali, Colombia; Cedula No. 16701778 (Colombia) (individual) [SDNT]

DOMINGUEZ GARIBELLO (GARIVELLO), Freddy Orlando, c/o INDUSTRIA AVICOLA PALMASECA S.A., Cali, Colombia; Cedula No. 16659634 (Colombia) (individual) [SDNT]

DOMINION INTERNATIONAL, England [IRAQ]

DOOLEY, Michael P., Panama (individual) [CUBA]

DORNELES DE MENEZES, Francisco (a.k.a. “Carlos Bolas;” a.k.a. VARGAS PERDOMO, Eugenio); DOB 19 Nov 1969; POB Puerto Lopez, Meta, Colombia; Cedula No. 17344616 (Colombia) (individual) [SDNTK]

DOSEN, Damir; DOB 7 Apr 1967; POB Cirkin Polje, Bosnia-Herzegovina; ICTY indictee (individual) [BALKANS]

DOV (a.k.a. AMERICAN FRIENDS OF THE UNITED YESHIVA MOVEMENT; a.k.a. AMERICAN FRIENDS OF YESHIVAT RAV MEIR; a.k.a. COMMITTEE FOR THE SAFETY OF THE ROADS; a.k.a. DIKUY BOGDIM; a.k.a. FOREFRONT OF THE IDEA; a.k.a. FRIENDS OF THE JEWISH IDEA YESHIVA; a.k.a. JEWISH LEGION; a.k.a. JUDEA POLICE; a.k.a. JUDEAN CONGRESS; a.k.a. KACH; a.k.a. KAHANE CHAI; a.k.a. KAHANE LIVES; a.k.a. KAHANE TZADAK; a.k.a. KAHANE.NET; a.k.a. KAHANE.ORG; a.k.a. KAHANE; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [SDT][FTO][SDGT]

Dr. Khamis (a.k.a. AL-MUHAMMAD, Khamis Sirhan); Ba'th Party Regional Command Chairman, Karbala; nationality Iraqi (individual) [IRAQ][IRAQ2]

DRAGADOS Y MUELLES GAVIOTA LTDA., Km. 5 Carretera Simon Bolivar, Buenaventura, Colombia; NIT # 800173053-4 (Colombia) [SDNT]

DRISSI, Noureddine, “last known address,” Via Plebiscito 3, Cremona, Italy; DOB 30 Apr 1969; POB Tunisi, Tunisia; nationality Tunisian; arrested 1 Apr 2003 (individual) [SDGT]

DROBLAM S.A. (a.k.a. LABORATORIOS Y COMERCIALIZADORA DE MEDICAMENTOS DROBLAM S.A.), Carrera 21 No. 13B-33, Cali, Colombia; NIT # 805014078-5 (Colombia) [SDNT]

DROCARD S.A., Calle 39 Bis A No. 27-16, Bogota, Colombia; Transversal 29 No. 39-92, Bogota, Colombia; NIT # 830059716-0 (Colombia) [SDNT]

DROFARCO (a.k.a. COOPERATIVA MULTIACTIVA DE COMERC. DROGUISTA Y FARMACEUTICA DROFARCO), Calle 110 No. 6-336, Barranquilla, Colombia; Metroparque Bodega Mz. 3, Barranquilla, Colombia; Via Circunvalar, Bodega M-A-3, Barranquilla, Colombia; NIT # 802012877-3 (Colombia) [SDNT]

DROGAS LA REBAJA (n.k.a. COPSERVIR LTDA.; n.k.a. COOPERATIVA MULTIACTIVA DE EMPLEADOS DE DISTRIBUIDORES DE DROGAS COPSERVIR LTDA.; f.k.a. DISTRIBUIDORA DE DROGAS LA REBAJA S.A.; f.k.a. DISTRIBUIDORA DE DROGAS LA REBAJA PRINCIPAL S.A.), Calle 4 No. 22-24, Bogota, Colombia; Calle 10 No. 4-47 Piso 19, Cali, Colombia; Calle 14 6-66, Cali, Colombia; Calle 18 No. 121-130 Avenida Canasgordas Pance, Cali, Colombia; Carrera 7 13-132 piso 4, Cali, Colombia; Carrera 7A 14-25 piso 2, Cali, Colombia; Carrera 10 11-71, Cali, Colombia; Carrera 66A No. 53-47 piso 3, Bogota, Colombia; Carrera 99 No. 46 A-10 Bdg 6 y 8, Bogota, Colombia; NIT # 830011670-3 (Colombia) [SDNT]

DROGAS LA REBAJA BARRANQUILLA S.A., Avenida Pedro Heredia, Barranquilla, Colombia; Local Cerete, Barranquilla, Colombia; Local de Riohacha, Barranquilla, Colombia [SDNT]

DROGAS LA REBAJA BUCARAMANGA S.A., Local No. 1, Bucaramanga, Colombia; Local No. 1, Cucuta, Colombia; Local No. 2, Cucuta, Colombia; Local No. 6, Cucuta, Colombia; Local No. 7, Cucuta, Colombia; Local No. 9, Cucuta, Colombia; Local 201, Valledupar, Colombia [SDNT]

DROGAS LA REBAJA CALI S.A., Barrio Siloe, Cali, Colombia; Calle 13 #6-85, Cali, Colombia; Calle 3 #4-02 B/Ventura, Cali, Colombia; Local Comuneros No. 20, Cali, Colombia; Local del Poblado No. 17, Cali, Colombia; Santander de Quilichao, Cali, Colombia [SDNT]

DROGAS LA REBAJA NEIVA S.A., Neiva, Colombia [SDNT]

DROGAS LA REBAJA PASTO S.A., Calle 18 #26-40, Pasto, Colombia; Local No. 6, Pasto, Colombia; Local No. 13, Puerto Asis, Colombia [SDNT]

DROGAS LA REBAJA PEREIRA S.A., Local Cajamarca, Pereira, Colombia; Local Dos Quebradas, Pereira, Colombia; Local Santa Rosa de Cabal, Pereira, Colombia; Local la Virginia, Pereira, Colombia [SDNT]

DROGUERIA FARMAHOGAR (a.k.a. FARMAHOGAR; a.k.a. FARMAHOGAR COPSERVIR 19), Carrera 7 No. 118-38, Bogota, Colombia; Avenida 7 No. 118-46, Bogota, Colombia; NIT # 830011670-3 (Colombia) [SDNT]

DROMARCA Y CIA. S.C.S., Calle 39 Bis A No. 27-169, Bogota, Colombia; Calle 12B No. 28-58, Bogota, Colombia; NIT # 800225556-1 (Colombia) [SDNT]

DRY BATTERY PLANT, Libya [LIBYA]

DUARTE FAJARDO, Maria del Carmen, c/o MAGEN LTDA., Bogota, Colombia; DOB 12 Oct 1975; Passport 63436645 (Colombia); Cedula No. 63436645 (Colombia) (individual) [SDNT]

DUMONT, Lionel (a.k.a. “Abou Hamza;” a.k.a. “Abou Hanza;” a.k.a. a.k.a. “Abu Khamza;” a.k.a. “Bilal Kumkal;” a.k.a. “Bilal;” a.k.a. BROUGERE, Jacques; a.k.a. BRUGERE, Jacques; a.k.a. “Hamza;” a.k.a. “Koumal;” a.k.a. “Lajonel Dimon”); DOB 21 Jan 1971; alt. DOB 19 Jan 1971; alt. DOB 29 Jan 1975); POB Roubaix, France (individual) [SDGT]

DUQUE BOTERO, Jorge Alirio, Calle 5 No. 5A-49, Buenaventura, Colombia; c/o INDUSTRIA DE PESCA SOBRE EL PACIFICO S.A., Buenaventura, Colombia; Cedula No. 616084 (Colombia) (individual) [SDNT]

DUQUE, Carlos Jaen, Panama (individual) [CUBA]

DUQUE GAVIRIA, Ivan Roberto (a.k.a. “Ernesto Baez”); DOB 9 May 1955; POB Aguadas, Caldas, Colombia; Cedula No. 10241940 (Colombia) (individual) [SDNTK]

DUQUE MARTINEZ, Carmen Lucia, c/o COMEDICAMENTOS S.A., Bogota, Colombia; c/o FOGENSA S.A., Bogota, Colombia; c/o GLAJAN S.A., Bogota, Colombia; c/o PATENTES MARCAS Y REGISTROS S.A., Bogota, Colombia; DOB 16 Jul 1966; Passport 51988916 (Colombia); Cedula No. 51988916 (Colombia) (individual) [SDNT]

DUQUE MARTINEZ, Diego Fernando, c/o GENERICOS ESPECIALES S.A., Bogota, Colombia; DOB 31 Jan 1972; Passport 8191760 (Colombia); Cedula No. 8191760 (Colombia) (individual) [SDNT]

DUQUE MARTINEZ, Maria Consuelo, c/o FARMACOOP, Bogota, Colombia; c/o LABORATORIOS KRESSFOR DE COLOMBIA S.A., Bogota, Colombia; Cedula No. 41716296 (Colombia) (individual) [SDNT]

DURAN DAZA, Diego, c/o COPSERVIR LTDA., Bogota, Colombia; c/o PROSALUD S.A. Y BIENESTAR S.A., Cali, Colombia; DOB 25 Oct 1958; Passport 16260356 (Colombia); Cedula No. 16260356 (Colombia) (individual) [SDNT]

DURAN RAMIREZ, Pompilio, Carrera 4 No. 12-20 of. 206, Cartago, Valle, Colombia; c/o AGRICOLA DOIMA DEL NORTE DEL VALLE LTDA., Cartago, Valle, Colombia; c/o GANADERIA EL VERGEL LTDA., Cartago, Valle, Colombia; c/o GANADERIAS BILBAO LTDA., Cartago, Valle, Colombia; c/o INMOBILIARIA EL ESCORIAL LTDA., Cartago, Valle, Colombia; c/o INMOBILIARIA LINARES LTDA., Cartago, Valle, Colombia; c/o INMOBILIARIA PASADENA LTDA., Cartago, Valle, Colombia; c/o ORGANIZACION LUIS HERNANDO GOMEZ BUSTAMANTE Y CIA. S.C.S., Cartago, Valle, Colombia; c/o VISCAYA LTDA., Cartago, Valle, Colombia; Passport 2534945 (Colombia); Cedula No. 2534945 (Colombia) (individual) [SDNT]

DURAND PROPERTIES LIMITED, Haven Court, 5 Library Ramp, Gibraltar [IRAQ]

DURDA, Abu Zayd Umar, Assistant Secretary of Libya's General People's Congress, Libya (individual) [LIBYA]

DURGACO, London, England [CUBA]

DURGUTI, Safet (a.k.a. “Abu-Sumaya”); DOB 10 May 1967; POB Orahovac, Kosovo; Passport No. 1144602 (Bosnia-Herzegovina); Bosnian Personal ID No. 1005967953038 (individual) [SDGT]

DUTY FREE SHOPS CORPORATION, P.O. Box 1789, Khartoum, Sudan [SUDAN]

DWIKARNA, Agus, currently incarcerated in the Philippines; DOB 11 Aug 1964; POB Makassar, South Sulawesi, Indonesia; nationality Indonesian (individual) [SDGT]

EAST ISLAND SHIPPING CO., LTD., c/o EMPRESA DE NAVIGACION MAMBISA, Apartado 543, San Ignacio 104, Havana, Cuba [CUBA]

EASTERN TURKISTAN ISLAMIC MOVEMENT (a.k.a. EASTERN TURKISTAN ISLAMIC PARTY; a.k.a. ETIM; a.k.a. ETIP) [SDGT]

EASTERN TURKISTAN ISLAMIC PARTY (a.k.a. EASTERN TURKISTAN ISLAMIC MOVEMENT; a.k.a. ETIM; a.k.a. ETIP) [SDGT]

EBRAHIM, Dawood (a.k.a. HASSAN, Sheikh Dawood; IBRAHIM, Dawood), Karachi, Pakistan; Passport No. G869537 (Pakistan) (individual) [SDGT]

ECHEBERRIA SIMARRO, Leire; member ETA; DOB 20 Dec 1977; POB Basauri (Vizcaya Province), Spain; D.N.I. 45.625.646 (individual) [SDGT]

ECHEGARAY ACHIRICA, Alfonso; member ETA; DOB 10 Jan 1958; POB Plencia (Vizcaya Province), Spain; D.N.I. 16.027.051 (individual) [SDGT]

ECHEVERRI, German, Panama (individual) [CUBA]

ECHEVERRI HERRERA, Hernando, (a.k.a. ECHEVERRY HERRERA, Hernando), c/o INDUSTRIA DE PESCA SOBRE EL PACIFICO S.A., Buenaventura, Colombia; Cedula No. 1625525 (Colombia) (individual) [SDNT]

ECHEVERRY HERRERA, Hernando, (a.k.a. ECHEVERRI HERRERA, Hernando), c/o INDUSTRIA DE PESCA SOBRE EL PACIFICO S.A., Buenaventura, Colombia; Cedula No. 1625525 (Colombia) (individual) [SDNT]

ECHEVERRY TRUJILLO, Martha Lucia, c/o CORPORACION DEPORTIVA AMERICA, Cali, Colombia; c/o M C M Y CIA. LTDA., Cali, Colombia; c/o M.O.C. ECHEVERRY HERMANOS LTDA., Cali, Colombia; c/o REVISTA DEL AMERICA LTDA., Cali, Colombia; Cedula No. 31151067 (Colombia) (individual) [SDNT]

ECHEVERRY TRUJILLO, Oscar Alberto, Avenida 4N No. 17-23 piso 1, Cali, Colombia; Calle 43N No. 4-05, Cali, Colombia; c/o COLOR 89.5 FM STEREO, Cali, Colombia; c/o M.O.C. ECHEVERRY HERMANOS LTDA., Cali, Colombia; Cedula No. 16272989 (Colombia) (individual) [SDNT]

ECIM, Ljuban; DOB 6 Jan 1964; POB Sviljanac, Bosnia-Herzegovina; National ID No. 601964100083 (Bosnia-Herzegovina) (individual) [BALKANS]

EDICIONES CUBANAS, Spain [CUBA]

EDIFICACIONES DEL CARIBE LTDA. (a.k.a. EDIFICAR), Calle 74 No. 53-30, Barranquilla, Colombia; NIT # 890108103-5 (Colombia) [SDNT]

EDIFICAR (a.k.a. EDIFICACIONES DEL CARIBE LTDA.), Calle 74 No. 53-30, Barranquilla, Colombia; NIT # 890108103-5 (Colombia) [SDNT]

EDRIS, Anwar Rodin (a.k.a. “Abu Sa'ad;” a.k.a. “Abu Saad;” a.k.a. AL GHOZI, Fathur Rahman; a.k.a. AL GHOZI, Fathur Rohman; a.k.a. AL-GHOZI, Fathur Rahman; a.k.a. AL-GHOZI, Fathur Rohman; a.k.a. AL-GOZHI, Fathur Rahman; a.k.a. AL-GOZHI, Fathur Rohman; a.k.a. AL-GOZI, Fathur Rahman; a.k.a. AL-GOZI, Fathur Rohman; a.k.a. ALGHOZI, Fathur Rahman; a.k.a. ALGHOZI, Fathur Rohman; a.k.a. ALI, Randy; a.k.a. ALIH, Randy; a.k.a. ALIH, Randy Adam; a.k.a. AZAD, Rony; a.k.a. BIN AHAD, Rony Azad; a.k.a. BIN AHMAD, Rony Azad; a.k.a. BIN AMAD, Rony Azad; a.k.a. “Freedom Fighter;” a.k.a. JAMIL, Sammy Sali; a.k.a. JAMIL, Sammy Salih; a.k.a. RANDY, Alih); DOB 17 Feb 1971; POB Madiun, East Java, Indonesia; Passport No. GG 672613 (Philippines); nationality Indonesian (individual) [SDGT]

EDYJU, S.A., Panama [CUBA]

EGGLETON, Wilfred, Director General, Cubanatur, Baja California 255, Edificio B., Oficina 103, Condesa 06500, Mexico, D.F. (individual) [CUBA]

EGP (a.k.a. SENDERO LUMINOSO; a.k.a. SL; a.k.a. PARTIDO COMUNISTA DEL PERU EN EL SENDERO LUMINOSO DE JOSE CARLOS MARIATEGUI (COMMUNIST PARTY OF PERU ON THE SHINING PATH OF JOSE CARLOS MARIATEGUI); a.k.a. PARTIDO COMUNISTA DEL PERU (COMMUNIST PARTY OF PERU); a.k.a. PCP; a.k.a. SOCORRO POPULAR DEL PERU (PEOPLE'S AID OF PERU); a.k.a. SPP; a.k.a EJERCITO GUERRILLERO POPULAR (PEOPLE'S GUERRILLA ARMY); a.k.a. SHINING PATH; a.k.a. EJERCITO POPULAR DE LIBERACION (PEOPLE'S LIBERATION ARMY); a.k.a. EPL) [FTO][SDGT]

EGYPTIAN AL-GAMA'AT AL-ISLAMIYYA (a.k.a. GI; a.k.a. ISLAMIC GROUP; a.k.a. IG; a.k.a. AL-GAMA'AT; a.k.a. ISLAMIC GAMA'AT; a.k.a. GAMA'A AL-ISLAMIYYA) [SDT][FTO][SDGT]

EGYPTIAN AL-JIHAD (a.k.a. AL QAEDA; a.k.a. AL QA'IDA; a.k.a. AL QAIDA; a.k.a. AL-JIHAD; a.k.a. EGYPTIAN ISLAMIC JIHAD; a.k.a. INTERNATIONAL FRONT FOR FIGHTING JEWS AND CRUSADES; a.k.a. ISLAMIC ARMY FOR THE LIBERATION OF HOLY SITES; a.k.a. ISLAMIC ARMY; a.k.a. ISLAMIC SALVATION FOUNDATION; a.k.a. NEW JIHAD; a.k.a. THE GROUP FOR THE PRESERVATION OF THE HOLY SITES; a.k.a. THE ISLAMIC ARMY FOR THE LIBERATION OF THE HOLY PLACES; a.k.a. THE JIHAD GROUP; a.k.a. THE WORLD ISLAMIC FRONT FOR JIHAD AGAINST JEWS AND CRUSADERS; a.k.a. USAMA BIN LADEN NETWORK; a.k.a. USAMA BIN LADEN ORGANIZATION; a.k.a. “THE BASE”) [SDT][FTO][SDGT]

EGYPTIAN AL-JIHAD (a.k.a. AL-JIHAD; a.k.a. EGYPTIAN ISLAMIC JIHAD; a.k.a. JIHAD GROUP; a.k.a. NEW JIHAD) [SDT] [FTO] [SDGT]

EGYPTIAN ISLAMIC JIHAD (a.k.a. AL QAEDA; a.k.a. AL QAIDA; a.k.a. AL QA'IDA; a.k.a. AL-JIHAD; a.k.a. EGYPTIAN AL-JIHAD; a.k.a. INTERNATIONAL FRONT FOR FIGHTING JEWS AND CRUSADES; a.k.a. ISLAMIC ARMY FOR THE LIBERATION OF HOLY SITES; a.k.a. ISLAMIC ARMY; a.k.a. ISLAMIC SALVATION FOUNDATION; a.k.a. NEW JIHAD; a.k.a. THE GROUP FOR THE PRESERVATION OF THE HOLY SITES; a.k.a. THE ISLAMIC ARMY FOR THE LIBERATION OF THE HOLY PLACES; a.k.a. THE JIHAD GROUP; a.k.a. THE WORLD ISLAMIC FRONT FOR JIHAD AGAINST JEWS AND CRUSADERS; a.k.a. USAMA BIN LADEN NETWORK; a.k.a. USAMA BIN LADEN ORGANIZATION; a.k.a. “THE BASE”) [SDT][FTO][SDGT]

EGYPTIAN ISLAMIC JIHAD (a.k.a. AL-JIHAD; a.k.a. EGYPTIAN AL-JIHAD; a.k.a. JIHAD GROUP; a.k.a. NEW JIHAD) [SDT] [FTO] [SDGT]

EJERCITO DE LIBERACION NACIONAL (a.k.a. NATIONAL LIBERATION ARMY; a.k.a. ELN) [FTO][SDGT]

EJERCITO GUERRILLERO POPULAR (PEOPLE'S GUERRILLA ARMY) (a.k.a. SENDERO LUMINOSO; a.k.a. SL; a.k.a. PARTIDO COMUNISTA DEL PERU EN EL SENDERO LUMINOSO DE JOSE CARLOS MARIATEGUI (COMMUNIST PARTY OF PERU ON THE SHINING PATH OF JOSE CARLOS MARIATEGUI); a.k.a. PARTIDO COMUNISTA DEL PERU (COMMUNIST PARTY OF PERU); a.k.a. PCP; a.k.a. SOCORRO POPULAR DEL PERU (PEOPLE'S AID OF PERU); a.k.a. SPP; a.k.a SHINING PATH; a.k.a. EGP; a.k.a. EJERCITO POPULAR DE LIBERACION (PEOPLE'S LIBERATION ARMY); a.k.a. EPL) [FTO][SDGT]

EJERCITO POPULAR DE LIBERACION (PEOPLE'S LIBERATION ARMY) (a.k.a. SENDERO LUMINOSO; a.k.a. SL; a.k.a. PARTIDO COMUNISTA DEL PERU EN EL SENDERO LUMINOSO DE JOSE CARLOS MARIATEGUI (COMMUNIST PARTY OF PERU ON THE SHINING PATH OF JOSE CARLOS MARIATEGUI); a.k.a. PARTIDO COMUNISTA DEL PERU (COMMUNIST PARTY OF PERU); a.k.a. PCP; a.k.a. SOCORRO POPULAR DEL PERU (PEOPLE'S AID OF PERU); a.k.a. SPP; a.k.a EJERCITO GUERRILLERO POPULAR (PEOPLE'S GUERRILLA ARMY); a.k.a. EGP; a.k.a. SHINING PATH ; a.k.a. EPL) [FTO][SDGT]

EKIN (a.k.a. ASKATASUNA; a.k.a. BASQUE FATHERLAND AND LIBERTY; a.k.a. BATASUNA; a.k.a. ETA; a.k.a. EUSKAL HERRITARROK; a.k.a. EUZKADI TA ASKATASUNA; a.k.a. HERRI BATASUNA; a.k.a. JARRAI-HAIKA-SEGI; a.k.a. K.A.S.; a.k.a. XAKI) [FTO][SDGT]

EL AMIN EL GEZAI COMPANY (a.k.a. AMIN EL GEZAI COMPANY), Khartoum, Sudan [SUDAN]

EL AMIR, Bahjat Fadel, 5 Rowsham Dell, Gifford Park, Milton Keynes Bucks MK14 5JS, England; DOB 01 Jan 42 (individual) [LIBYA]

EL AYASHI, Radi Abd El Samie Abou El Yazid (a.k.a. “Mera'I”), “last known address,” Via Cilea 40, Milan, Italy; DOB 2 Jan 1972; POB El Gharbia, Egypt; nationality Egyptian; arrested 31 Mar 2003 (individual) [SDGT]

EL BADRI, Abdullah Salim, Tripoli, Libya (individual) [LIBYA]

EL BAIDA ROADS AND UTILITIES CO., P.O. Box 232/561, El Baida, Libya [LIBYA]

EL FATAH AGENCY, P.O. Box 233, Tripoli, Libya [LIBYA]

EL FERJANI, Abdalla M., Libya; DOB 03 Jun 52 (individual) [LIBYA]

EL GEZIRA AUTOMOBILE COMPANY (a.k.a. GEZIRA AUTOMOBILE COMPANY), P.O. Box 232, Khartoum, Sudan [SUDAN]

EL GHRABLI, Abdudayem, Libya (individual) [LIBYA]

EL GRUPO CUBANACAN (a.k.a. CUBANACAN; a.k.a. CUBANACAN GROUP), Calle 68 e/5ta A, Apartado 16046, Ciudad de La Habana, Cuba [CUBA]

EL HADI, Mustapha Nasri Ait; DOB: 5 Mar 1962; POB Tunis, Tunisia (individual) [SDGT]

EL HEIT, Ali (a.k.a. “ALI DI ROMA;” a.k.a. KAMEL, Mohamed), Via D. Fringuello, 20, Rome, Italy; Milan; DOB 20 Mar 1970; alt. DOB 30 Jan 1971; POB Rouba, Algeria (individual) [SDGT]

EL HUWEIJ, Mohamed A., Tripoli, Libya (individual) [LIBYA]

EL KEBIR, Mahmoud I., Libya; DOB 24 Dec 48 (individual) [LIBYA]

EL KHABIR, Abu Hafs el Masry (a.k.a. AL-MASRI, Abu Hafs; a.k.a. ABDULLAH, Sheikh Taysir; a.k.a. ABU HAFS; a.k.a. ABU SITTA, Subhi; a.k.a. ATEF, Muhammad; a.k.a. ATIF, Mohamed; a.k.a. ATIF, Muhammad; a.k.a. TAYSIR); DOB 1951; Alt. DOB 1956; Alt. DOB 1944; POB Alexandria, Egypt (individual) [SDT] [SDGT]

EL MAMOURA FOOD COMPANY, P.O. Box 15058, Tripoli, Libya; (branch) Tripoli, Libya; (branch) Benghazi, Libya [LIBYA]

EL MOTASSADEQ, Mounir, Goschenstasse 13, 21073 Hamburg, Germany; DOB 3 Apr 1974; POB Marrakesh, Morocco; nationality Moroccan (individual) [SDGT]

EL NAILI, Smeida El-Hosh, 21 Redlands Drive, Loughton, Milton Keynes Bucks MK5 8EJ, England; DOB 19 Feb 44 (individual) [LIBYA]

EL NILEIN BANK (n.k.a. EL NILEIN INDUSTRIAL DEVELOPMENT BANK {SUDAN☐; n.k.a. EL NILEIN INDUSTRIAL DEVELOPMENT BANK GROUP; n.k.a. NILEIN INDUSTRIAL DEVELOPMENT BANK {SUDAN☐), P.O. Box 466/1722, United Nations Square, Khartoum, Sudan; Parliament Street, P.O. Box 466, Khartoum, Sudan; P.O. Box 6013, Abu Dhabi City, U.A.E. [SUDAN]

EL NILEIN INDUSTRIAL DEVELOPMENT BANK (SUDAN) (a.k.a. EL NILEIN INDUSTRIAL DEVELOPMENT BANK GROUP; a.k.a. NILEIN INDUSTRIAL DEVELOPMENT BANK {SUDAN☐; f.k.a. EL NILEIN BANK; f.k.a. INDUSTRIAL BANK OF SUDAN), P.O. Box 466/1722, United Nations Square, Khartoum, Sudan; Parliament Street, P.O. Box 466, Khartoum, Sudan; P.O. Box 6013, Abu Dhabi City, U.A.E. [SUDAN]

EL NILEIN INDUSTRIAL DEVELOPMENT BANK GROUP (a.k.a. EL NILEIN INDUSTRIAL DEVELOPMENT BANK {SUDAN☐; a.k.a. NILEIN INDUSTRIAL DEVELOPMENT BANK {SUDAN☐; f.k.a. EL NILEIN BANK; f.k.a. INDUSTRIAL BANK OF SUDAN), P.O. Box 466/1722, United Nations Square, Khartoum, Sudan; Parliament Street, P.O. Box 466, Khartoum, Sudan; P.O. Box 6013, Abu Dhabi City, U.A.E. [SUDAN]

EL PASO LTDA. (n.k.a. MIRALUNA LTDA.), Carrera 4 No. 12-41 of. 1403, 1501, Cali, Colombia; NIT # 890328836-9 (Colombia) [SDNT]

EL TAHEER PERFUMERY CORPORATION (a.k.a. TAHEER PERFUMERY CORPORATION), P.O. Box 2241, Khartoum, Sudan [SUDAN]

EL TAHREER PERFUMERY CORPORATION (a.k.a. TAHREER PERFUMERY CORPORATION), Omdurman, Sudan [SUDAN]

EL TAKA AUTOMOBILE COMPANY (a.k.a. TAKA AUTOMOBILE COMPANY, EL), P.O. Box 221, Khartoum, Sudan [SUDAN]

EL-AGELI, Dr. Mukhtar Ali (a.k.a. AL-AGELI, Dr. Muktar Ali; a.k.a. EL-AGELI, Dr. Muktar Ali), Apartment 10, Maida Vale, Little Venice, London, England; 15/17 Lodge Road, St. Johns Wood, London NW8 7JA, England; DOB 23 Jul 44 (individual) [LIBYA]

EL-AHOUAL BATTALION (a.k.a. DHAMAT HOUMET DAAWA SALAFIA; a.k.a. DJAMAAT HOUMAT ED DAAWA ES SALAFIYA; a.k.a. DJAMAAT HOUMAT EDDAWA ESSALAFIA; a.k.a. DJAMAATT HOUMAT ED DAAWA ES SALAFIYA; a.k.a. GROUP OF SUPPORTERS OF THE SALAFIST TREND; a.k.a. GROUP OF SUPPORTERS OF THE SALAFISTE TREND; a.k.a. GROUP PROTECTORS OF SALAFIST PREACHING; a.k.a. HOUMAT ED DAAWA ES SALIFIYA; a.k.a. HOUMAT ED-DAAOUA ES-SALAFIA; a.k.a. HOUMATE ED-DAAWA ES-SALAFIA; a.k.a. HOUMATE EL DA'AWAA ES-SALAFIYYA; a.k.a. KATIBAT EL AHOUAL; a.k.a. KATIBAT EL AHOUEL; a.k.a. PROTECTORS OF THE SALAFIST CALL; a.k.a. PROTECTORS OF THE SALAFIST PREDICATION; a.k.a. SALAFIST CALL PROTECTORS; a.k.a. THE HORROR SQUADRON), Algeria [SDGT]

EL-FIGHI, El Hadi M., Jamal Abdulnasser Street, P.O. Box 262, Nouakchott, Mauritania (individual) [LIBYA]

EL-FIGHI, El Hadi M., P.O. Box 1114, Diplomatic Area, Manama, Bahrain (individual) [LIBYA]

EL-HOORIE, Ali Saed Bin Ali (a.k.a. AL-HOURI, Ali Saed Bin Ali; a.k.a. EL-HOURI, Ali Saed Bin Ali); DOB 10 Jul 1965; alt. DOB 11 Jul 1965; POB El Dibabiya, Saudi Arabia; citizen Saudi Arabia (individual) [SDGT]

EL-HOURI, Ali Saed Bin Ali (a.k.a. EL-HOORIE, Ali Saed Bin Ali; a.k.a. AL-HOURI, Ali Saed Bin Ali); DOB 10 Jul 1965; alt. DOB 11 Jul 1965; POB El Dibabiya, Saudi Arabia; citizen Saudi Arabia (individual) [SDGT]

EL-KHALLAS, Kamel, Vali Konagi Cad. No. 10, 80200 Nistantas, Istanbul, Turkey (individual) [LIBYA]

EL-KHOJA, Mustapha Ali, Saied Ibnu Zeid, Tripoli, Libya (individual) [LIBYA]

EL-KIB, Abdullatif, Manama, Bahrain (individual) [LIBYA]

EL-KIB, Abdullatif, Tripoli, Libya (individual) [LIBYA]

ELA (a.k.a. EPANASTATIKI PIRINES; a.k.a. EPANASTATIKOS LAIKOS AGONAS; a.k.a. JUNE 78; a.k.a. LIBERATION STRUGGLE; a.k.a. ORGANIZATION OF REVOLUTIONARY INTERNATIONALIST SOLIDARITY; a.k.a. POPULAR REVOLUTIONARY STRUGGLE; a.k.a. REVOLUTIONARY CELLS; a.k.a. REVOLUTIONARY NUCLEI; a.k.a. REVOLUTIONARY PEOPLE'S STRUGGLE; a.k.a. REVOLUTIONARY POPULAR STRUGGLE) [FTO][SDGT]

ELBISHY, Moustafa Ali (a.k.a. FADHIL, Mustafa Mohamed; a.k.a. AL MASRI, Abd Al Wakil; a.k.a. AL-NUBI, Abu; a.k.a. ALI, Hassan; a.k.a. ANIS, Abu; a.k.a. FADIL, Mustafa Muhamad; a.k.a. FAZUL, Mustafa; a.k.a. HUSSEIN; a.k.a. JIHAD, Abu; a.k.a. KHALID; a.k.a. MAN, Nu; a.k.a. MOHAMMED, Mustafa; a.k.a. YUSSRR, Abu); DOB 23 Jun 1976; POB Cairo, Egypt; citizen Egypt; alt. citizen Kenya; Kenyan ID No. 12773667; Serial No. 201735161 (individual) [SDGT]

ELCORO AYASTUY, Paulo; member ETA; DOB 22 Oct 1973; POB Vergara (Guipuzcoa Province), Spain; D.N.I. 15.394.062 (individual) [SDGT]

ELECTRIC WIRES AND CABLES PLANT, Libya [LIBYA]

ELECTRICAL CONSTRUCTION CO., P.O. Box 5309, Tripoli, Libya; (branch) Benghazi, Libya; (branch) Misurata, Libya; (branch) Sebha, India; (branch) Dehli, India [LIBYA]

ELKHALEGE GENERAL CONSTRUCTION CO., P.O. Box 445, Agedabia, Libya; Sirti Office, P.O. Box 105, Sirti, Libya; Benghazi Office, Benghazi, Libya [LIBYA]

ELLALAN FORCE (a.k.a. LIBERATION TIGERS OF TAMIL EELAM; a.k.a. LTTE; a.k.a. TAMIL TIGERS) [FTO][SDGT]

ELN (a.k.a. NATIONAL LIBERATION ARMY; a.k.a. EJERCITO DE LIBERACION NACIONAL) [FTO][SDGT]

ELSHANI, Gafur; DOB 29 Mar 1958; POB Suva Reka, Serbia and Montenegro (individual) [BALKANS]

EMAN, Adam Ramsey (a.k.a. AL-MASRI, Abu Hamza; a.k.a. AL-MISRI, Abu Hamza; a.k.a. MUSTAFA, Mustafa Kamel; a.k.a. KAMEL, Mustafa), 9 Albourne Road, Shepherds Bush, London, W12 OLW, England; 8 Adie Road, Hammersmith, London, W6 OPW, England; DOB 15 Apr 1958 (individual) [SDGT]

EMIRATES AND SUDAN INVESTMENT COMPANY LIMITED, P.O. Box 7036, Khartoum, Sudan; Port Sudan, Sudan [SUDAN]

EMNUHOOD EST. FOR CONTRACTS, P.O. Box 1380, Benghazi, Libya [LIBYA]

EMPRESA CUBANA DE AVIACION (a.k.a. CUBANA AIRLINES), 1 Place Ville Marie, Suite 3431, Montreal, Canada [CUBA]

EMPRESA CUBANA DE AVIACION (a.k.a. CUBANA AIRLINES), 24 Rue Du Quatre Septembre, Paris, France [CUBA]

EMPRESA CUBANA DE AVIACION (a.k.a. CUBANA AIRLINES), 32 Main Street, Georgetown, Guyana [CUBA]

EMPRESA CUBANA DE AVIACION (a.k.a. CUBANA AIRLINES), Belas Airport, Luanda, Angola [CUBA]

EMPRESA CUBANA DE AVIACION (a.k.a. CUBANA AIRLINES), c/o Anglo-Caribbean Shipping Co. Ltd., Ibex House, The Minories, London EC3N 1DY, England [CUBA]

EMPRESA CUBANA DE AVIACION (a.k.a. CUBANA AIRLINES), Calle 29 y Avda Justo Arosemena, Panama City, Panama [CUBA]

EMPRESA CUBANA DE AVIACION (a.k.a. CUBANA AIRLINES), Corrientes 545 Primer Piso, Buenos Aires, Argentina [CUBA]

EMPRESA CUBANA DE AVIACION (a.k.a. CUBANA AIRLINES), Dobrininskaya No. 7, Sec 5, Moscow, Russia [CUBA]

EMPRESA CUBANA DE AVIACION (a.k.a. CUBANA AIRLINES), Frankfurter TOR 8-A, Berlin, Germany [CUBA]

EMPRESA CUBANA DE AVIACION (a.k.a. CUBANA AIRLINES), Grantley Adams Airport, Christ Church, Barbados [CUBA]

EMPRESA CUBANA DE AVIACION (a.k.a. CUBANA AIRLINES), Madrid, Spain [CUBA]

EMPRESA CUBANA DE AVIACION (a.k.a. CUBANA AIRLINES), Melchor Ocampo 469, 5DF Mexico City, Mexico [CUBA]

EMPRESA CUBANA DE AVIACION (a.k.a. CUBANA AIRLINES), Norman Manley International Airport, Kingston, Jamaica [CUBA]

EMPRESA CUBANA DE AVIACION (a.k.a. CUBANA AIRLINES), Parizska 17, Prague, Czech Republic [CUBA]

EMPRESA CUBANA DE AVIACION (a.k.a. CUBANA AIRLINES), Paseo de la Republica 126, Lima, Peru [CUBA]

EMPRESA CUBANA DE AVIACION (a.k.a. CUBANA AIRLINES), Piarco Airport, Port au Prince, Haiti [CUBA]

EMPRESA CUBANA DE PESCADOS Y MARISCOS (a.k.a. CARIBEX; a.k.a. CARIBBEAN EXPORT ENTERPRISE) Cologne, Germany [CUBA]

EMPRESA CUBANA DE PESCADOS Y MARISCOS (a.k.a. CARIBEX; a.k.a. CARIBBEAN EXPORT ENTERPRISE) Paris, France [CUBA]

EMPRESA CUBANA DE PESCADOS Y MARISCOS (a.k.a. CARIBEX; a.k.a. CARIBBEAN EXPORT ENTERPRISE) Tokyo, Japan [CUBA]

EMPRESA CUBANA DE PESCADOS Y MARISCOS (a.k.a. CARIBEX; a.k.a. CARIBBEAN EXPORT ENTERPRISE) Milan, Italy [CUBA]

EMPRESA CUBANA DE PESCADOS Y MARISCOS (a.k.a. CARIBEX; a.k.a. CARIBBEAN EXPORT ENTERPRISE) Madrid, Spain [CUBA]

EMPRESA CUBANA DE PESCADOS Y MARISCOS (a.k.a. CARIBEX; a.k.a. CARIBBEAN EXPORT ENTERPRISE) Downsview, Ontario, Canada [CUBA]

EMPRESA CUBANA DE PESCADOS Y MARISCOS (a.k.a. CARIBEX; a.k.a. CARIBBEAN EXPORT ENTERPRISE) Moscow, Russia [CUBA]

EMPRESA DE TURISMO NACIONAL Y INTERNACIONAL (a.k.a. CUBATUR), Buenos Aires, Argentina [CUBA]

ENDSHIRE EXPORT MARKETING, England [IRAQ]

ENGINEERING EQUIPMENT COMPANY, c/o ENGINEERING EQUIPMENT CORPORATION, P.O. Box 97, Khartoum, Sudan [SUDAN]

ENGINEERING EQUIPMENT CORPORATION, P.O. Box 97, Khartoum, Sudan [SUDAN]

EPAMAC SHIPPING CO., LTD., c/o EMPRESA DE NAVIGACION MAMBISA, Apartado 543, San Ignacio 104, Havana, Cuba [CUBA]

EPANASTATIKI ORGANOSI 17 NOEMVRI (a.k.a. REVOLUTIONARY ORGANIZATION 17 NOVEMBER; a.k.a. 17 NOVEMBER) [FTO][SDGT]

EPANASTATIKI PIRINES (a.k.a. ELA; a.k.a. EPANASTATIKOS LAIKOS AGONAS; a.k.a. JUNE 78; a.k.a. LIBERATION STRUGGLE; a.k.a. ORGANIZATION OF REVOLUTIONARY INTERNATIONALIST SOLIDARITY; a.k.a. POPULAR REVOLUTIONARY STRUGGLE; a.k.a. REVOLUTIONARY CELLS; a.k.a. REVOLUTIONARY NUCLEI; a.k.a. REVOLUTIONARY PEOPLE'S STRUGGLE; a.k.a. REVOLUTIONARY POPULAR STRUGGLE) [FTO][SDGT]

EPANASTATIKOS LAIKOS AGONAS (a.k.a. ELA; a.k.a. EPANASTATIKI PIRINES; a.k.a. JUNE 78; a.k.a. LIBERATION STRUGGLE; a.k.a. ORGANIZATION OF REVOLUTIONARY INTERNATIONALIST SOLIDARITY; a.k.a. POPULAR REVOLUTIONARY STRUGGLE; a.k.a. REVOLUTIONARY CELLS; a.k.a. REVOLUTIONARY NUCLEI; a.k.a. REVOLUTIONARY PEOPLE'S STRUGGLE; a.k.a. REVOLUTIONARY POPULAR STRUGGLE) [FTO][SDGT]

EPL (a.k.a. SENDERO LUMINOSO; a.k.a. SL; a.k.a. PARTIDO COMUNISTA DEL PERU EN EL SENDERO LUMINOSO DE JOSE CARLOS MARIATEGUI (COMMUNIST PARTY OF PERU ON THE SHINING PATH OF JOSE CARLOS MARIATEGUI); a.k.a. PARTIDO COMUNISTA DEL PERU (COMMUNIST PARTY OF PERU); a.k.a. PCP; a.k.a. SOCORRO POPULAR DEL PERU (PEOPLE'S AID OF PERU); a.k.a. SPP; a.k.a EJERCITO GUERRILLERO POPULAR (PEOPLE'S GUERRILLA ARMY); a.k.a. EGP; a.k.a. EJERCITO POPULAR DE LIBERACION (PEOPLE'S LIBERATION ARMY); a.k.a. SHINING PATH) [FTO][SDGT]

ES SAYED, Abdelkader Mahmoud (a.k.a. ES SAYED, Kader), Via del Fosso di Centocelle n.66, Roma, Italy; DOB 26 Dec 1962; POB Egypt; Italian Fiscal Code: SSYBLK62T26Z336L (individual) [SDGT]

ES SAYED, Kader (a.k.a. ES SAYED, Abdelkader Mahmoud), Via del Fosso di Centocelle n.66, Roma, Italy; DOB 26 Dec 1962; POB Egypt; Italian Fiscal Code: SSYBLK62T26Z336L (individual) [SDGT]

ESCALONA, Victor Julio, c/o C A V J CORPORATION LTDA., Bogota, Colombia; c/o C.A. V.J. CORPORATION, Barquisimeto, Lara, Venezuela; c/o VOL PHARMACYA LTDA., Cucuta, Colombia; Passport A0229910 (Venezuela); C.I.N. 7353289 (Venezuela) (individual) [SDNT]

ESCOBAR BUITRAGO, Walter, c/o INMOBILIARIA BOLIVAR LTDA., Cali, Colombia; c/o SERVIAUTOS UNO A 1A LIMITADA, Cali, Colombia; DOB 18 Feb 1971; Cedula No. 16785833 (Colombia) (individual) [SDNT]

ESPANA CUELLAR, Irlena, c/o COLPHAR S.A., Bogota, Colombia; DOB 28 Feb 1965; Passport 40764759 (Colombia); Cedula No. 40764759 (Colombia) (individual) [SDNT]

ESPARRAGOZA MORENO, Juan Jose; DOB 03 Feb 1949; alt DOB 02 Mar 1949; POB Sinaloa, Mexico (individual) [SDNTK]

ESPIBENA COMERCIALIZADORA DE MEDICAMENTOS GENERICOS S.A. (a.k.a. ESPIBENA S.A.), Luis Cordero 1154 y Juan Leon Mera, Edificio Gabriela Mistral, Quito, Ecuador; RUC # 1791706420001 (Ecuador) [SDNT]

ESPIBENA S.A. (a.k.a. ESPIBENA COMERCIALIZADORA DE MEDICAMENTOS GENERICOS S.A.), Luis Cordero 1154 y Juan Leon Mera, Edificio Gabriela Mistral, Quito, Ecuador; RUC # 1791706420001 (Ecuador) [SDNT]

ESPITIA PERILLA, Ruben Nowerfaby, c/o ADMACOOP, Bogota, Colombia; c/o DROMARCA Y CIA. S.C.S., Bogota, Colombia; c/o LABORATORIOS KRESSFOR DE COLOMBIA S.A., Bogota, Colombia; Cedula No. 79280623 (Colombia) (individual) [SDNT]

ESQUIVEL PENA, William, c/o BANANERA AGRICOLA S.A., Santa Marta, Colombia; c/o J. FREDDY MAFLA Y CIA. S.C.S., Cali, Colombia; c/o UNIPAPEL S.A., Cali, Colombia; Passport 16641631 (Colombia); Cedula No. 16641631 (Colombia) (individual) [SDNT]

ESSAADI, Moussa Ben Amor (a.k.a. “Dah Dah;” a.k.a. “Abdelrahmman;” a.k.a. “Bechir”), Via Milano n.108, Brescia, Italy; DOB 4 Dec 1964; POB Tabarka, Tunisia (individual) [SDGT]

ESSABAR, Zakariya (a.k.a. ESSABAR, Zakarya), Dortmunder Strasse 38, 22419 Hamburg; DOB 13 Apr 1977; POB Essaouria, Morocco (individual) [SDGT]

ESSABAR, Zakarya (a.k.a. ESSABAR, Zakariya), Dortmunder Strasse 38, 22419 Hamburg; DOB 13 Apr 1977; POB Essaouria, Morocco (individual) [SDGT]

ESSID, Sami Ben Khemais, Via Dubini n.3, Gallarate (VA), Italy; DOB 10 Feb 1968; POB Tunisia; Italian Fiscal Code: SSDSBN68B10Z352F (individual) [SDGT]

ESTELA ELVIRA, Adrian Fernando, c/o COOPERATIVA MULTIACTIVA DE COLOMBIA FOMENTAMOS, Bogota, Colombia; c/o COPSERVIR LTDA., Bogota, Colombia; DOB 10 Apr 1968; Passport 76306726 (Colombia); Cedula No. 76306726 (Colombia) (individual) [SDNT]

ESTRADA RAMIREZ, Jose Arnoldo, Calle 39 No. 1H-31, Cali, Colombia; Carrera 1H No. 39-56, Cali, Colombia; c/o CLINICA ESPECIALIZADA DEL VALLE S.A., Cali, Colombia; c/o CONSTRUCTORA CENTRAL DEL VALLE LTDA., Cali, Colombia; c/o HIELO CRISTAL Y REFRIGERACION LTDA., Cali, Colombia; c/o INVERSIONES JAER LTDA., Cali, Colombia; c/o INVERSIONES SAN JOSE LTDA., Cali, Colombia; c/o MARIN ESTRADA Y CIA S. EN C.S., Cali, Colombia; c/o PARQUE INDUSTRIAL LAS DELICIAS LTDA., Cali, Colombia; DOB 14 July 1947; Cedula No. 16200018 (Colombia) (individual) [SDNT]

ESTRADA URIBE, Octavio, c/o GRUPO SANTA LTDA., Cali, Colombia; c/o SOCIEDAD CONSTRUCTORA LA CASCADA S.A., Cali, Colombia (individual) [SDNT]

ETA (a.k.a. ASKATASUNA; a.k.a. BASQUE FATHERLAND AND LIBERTY; a.k.a. BATASUNA; a.k.a. EKIN; a.k.a. EUSKAL HERRITARROK; a.k.a. EUZKADI TA ASKATASUNA; a.k.a. HERRI BATASUNA; a.k.a. JARRAI-HAIKA-SEGI; a.k.a. K.A.S.; a.k.a. XAKI) [FTO][SDGT]

ETCO INTERNATIONAL COMMODITIES LTD., Devonshire House, 1 Devonshire Street, London, England [CUBA]

ETCO INTERNATIONAL COMPANY, LIMITED, Kawabe Building, 1-5 Kanda Nishiki-Cho, Chiyoda-Ku, Tokyo, Japan [CUBA]

ETIM (a.k.a. EASTERN TURKISTAN ISLAMIC MOVEMENT; a.k.a. EASTERN TURKISTAN ISLAMIC PARTY; a.k.a. ETIP) [SDGT]

ETIP (a.k.a. EASTERN TURKISTAN ISLAMIC MOVEMENT; a.k.a. EASTERN TURKISTAN ISLAMIC PARTY; a.k.a. ETIM) [SDGT]

EUROMAC EUROPEAN MANUFACTURER CENTER SRL, Via Ampere 5, 20052 Monza, Italy [IRAQ]

EUROMAC, LTD., 4 Bishops Avenue, Northwood, Middlesex, England [IRAQ]

EUROMAC TRANSPORTI INTERNATIONAL SRL, Via Ampere 5, 20052 Monza, Italy [IRAQ]

EUSKAL HERRITARROK (a.k.a. ASKATASUNA; a.k.a. BASQUE FATHERLAND AND LIBERTY; a.k.a. BATASUNA; a.k.a. EKIN; a.k.a. ETA; a.k.a. EUZKADI TA ASKATASUNA; a.k.a. HERRI BATASUNA; a.k.a. JARRAI-HAIKA-SEGI; a.k.a. K.A.S.; a.k.a. XAKI) [FTO][SDGT]

EUZKADI TA ASKATASUNA (a.k.a. ASKATASUNA; a.k.a. BASQUE FATHERLAND AND LIBERTY; a.k.a. BATASUNA; a.k.a. EKIN; a.k.a. ETA; a.k.a. EUSKAL HERRITARROK; a.k.a. HERRI BATASUNA; a.k.a. JARRAI-HAIKA-SEGI; a.k.a. K.A.S.; a.k.a. XAKI) [FTO][SDGT]

EXAGAN (a.k.a. EXPLOTACIONES AGRICOLAS Y GANADERAS LA LORENA S.C.S.), Calle 5 No. 22-39 of. 205, Cali, Colombia; Calle 52 No. 28E-30, Cali, Colombia; NIT # 800083192-3 (Colombia) [SDNT]

EXPLORATION AND PRODUCTION AUTHORITY (SUDAN), Kuwait Building, Nile Avenue, Khartoum, Sudan; P.O. Box 2986, Khartoum, Sudan [SUDAN]

EXPLOTACIONES AGRICOLAS Y GANADERAS LA LORENA S.C.S. (a.k.a. EXAGAN), Calle 5 No. 22-39 of. 205, Cali, Colombia; Calle 52 No. 28E-30, Cali, Colombia; NIT # 800083192-3 (Colombia) [SDNT]

EXPORT CAFE LTDA., Carrera 7 No. 11-22 of. 413, Cali, Colombia [SDNT]

EXPORTADORA DEL CARIBE, Medira, Mexico [CUBA]

F.A. PETROLI S.P.A., Italy [LIBYA]

F.V.M. (a.k.a. FUNDACION VIVIR MEJOR), Calle 8 No. 22-60, Cali, Colombia; NIT # 805002213-1 (Colombia) [SDNT]

FABRO INVESTMENT, INC., Panama [CUBA]

FACOBATA, Panama [CUBA]

FADHIL, Mustafa Mohamed (a.k.a. AL MASRI, Abd Al Wakil; a.k.a. AL-NUBI, Abu; a.k.a. ALI, Hassan; a.k.a. ANIS, Abu; a.k.a. ELBISHY, Moustafa Ali; a.k.a. FADIL, Mustafa Muhamad; a.k.a. FAZUL, Mustafa; a.k.a. HUSSEIN; a.k.a. JIHAD, Abu; a.k.a. KHALID; a.k.a. MAN, Nu; a.k.a. MOHAMMED, Mustafa; a.k.a. YUSSRR, Abu); DOB 23 Jun 1976; POB Cairo, Egypt; citizen Egypt; alt. citizen Kenya; Kenyan ID No. 12773667; Serial No. 201735161 (individual) [SDGT]

FADIL, Mustafa Muhamad (a.k.a. FADHIL, Mustafa Mohamed; a.k.a. AL MASRI, Abd Al Wakil; a.k.a. AL-NUBI, Abu; a.k.a. ALI, Hassan; a.k.a. ANIS, Abu; a.k.a. ELBISHY, Moustafa Ali; a.k.a. FAZUL, Mustafa; a.k.a. HUSSEIN; a.k.a. JIHAD, Abu; a.k.a. KHALID; a.k.a. MAN, Nu; a.k.a. MOHAMMED, Mustafa; a.k.a. YUSSRR, Abu); DOB 23 Jun 1976; POB Cairo, Egypt; citizen Egypt; alt. citizen Kenya; Kenyan ID No. 12773667; Serial No. 201735161 (individual) [SDGT]

FADLALLAH, Shaykh Muhammad Husayn; Leading Ideological Figure of HIZBALLAH; DOB 1938 or 1936; POB Najf Al Ashraf (Najaf), Iraq (individual) [SDT]

FAITHFUL TO THE OATH (a.k.a. AL-BAKOUN ALA AL-AHD ORGANIZATION), Algeria [SDGT]

FAJARDO CUELLAR, Jairo, c/o ADMINISTRADORA DE SERVICIOS VARIOS CALIMA S.A., Cali Colombia; c/o CHAMARTIN S.A., Cali, Colombia; Passport 1619282 (Colombia); Cedula No. 1619282 (Colombia) (individual) [SDNT]

FALCON SYSTEMS, England [IRAQ]

FAMESA INTERNATIONAL, S.A., Panama [CUBA]

FARAG, Hamdi Ahmad (a.k.a. AHMAD, Tariq Anwar al-Sayyid; a.k.a. FATHI, Amr Al-Fatih); DOB 15 Mar 63; POB Alexandria, Egypt (individual) [SDGT]

FARAJ, Samal Majid, Minister of Planning; Iraq (individual) [IRAQ]

FARALLONES STEREO 91.5 FM, Calle 15N No. 6N-34 piso 15, Edificio Alcazar, Cali, Colombia [SDNT]

FARC (a.k.a. REVOLUTIONARY ARMED FORCES OF COLOMBIA; a.k.a. FUERZAS ARMADAS REVOLUCIONARIAS DE COLOMBIA) [FTO][SDGT][SDNTK]

FARMA 3.000 LIMITADA Calle 12B No. 27-39 of. 203, Bogota, Colombia; Calle 39 BIS A No. 27-16 and 27-20, Bogota, Colombia; Via Circunvalar, Bodega M-A-3, Barranquilla, Colombia; NIT # 802012873-4 (Colombia) [SDNT]

FARMA XXI LTDA., Calle 12 No. 5-07 of. 301, Neiva, Huila, Colombia; Calle 39 BIS A No. 27-16 and 27-20, Bogota, Colombia; NIT # 813006330-2 (Colombia) [SDNT]

FARMACIA AMAZONAS (a.k.a. FARMACIA DORAL; a.k.a. FARMACIA JARDIN SUR; a.k.a. FARMACIA LA COLINA; a.k.a. FARMACIA PROVIDA; a.k.a. LATINFARMACOS S.A.; a.k.a. LATINOAMERICANA DE FARMACOS S.A.), Ambato, Ecuador; Av. 10 de Agosto 2753 y Gral. Vicente Aguirre, Edificio Freile Ardiani, Quito, Ecuador; Av. Amazonas 1134 y General Foch, Quito, Ecaudor; Av. Amazonas 244 y Jorge Washington, Quito, Ecuador; Av. Rodrigo de Chavez 387, Quito, Ecaudor; Cayambe, Ecuador; El Carmen, Ecuador; Gualberto Perez 633 y Andres Perez, Quito, Ecuador; Michelena y Mariscal Sucre, Quito, Ecuador; Quito, Ecuador; Tres de Julio y Cuenca, Santo Domingo, Ecuador; Tulcan, Ecuador; RUC # 1791286812001 (Ecuador) [SDNT]

FARMACIA DORAL (a.k.a. FARMACIA AMAZONAS; a.k.a. ; a.k.a. FARMACIA JARDIN SUR; a.k.a. FARMACIA LA COLINA; a.k.a. FARMACIA PROVIDA; a.k.a. LATINFARMACOS S.A.; a.k.a. LATINOAMERICANA DE FARMACOS S.A.), Ambato, Ecuador; Av. 10 de Agosto 2753 y Gral. Vicente Aguirre, Edificio Freile Ardiani, Quito, Ecuador; Av. Amazonas 1134 y General Foch, Quito, Ecaudor; Av. Amazonas 244 y Jorge Washington, Quito, Ecuador; Av. Rodrigo de Chavez 387, Quito, Ecaudor; Cayambe, Ecuador; El Carmen, Ecuador; Gualberto Perez 633 y Andres Perez, Quito, Ecuador; Michelena y Mariscal Sucre, Quito, Ecuador; Quito, Ecuador; Tres de Julio y Cuenca, Santo Domingo, Ecuador; Tulcan, Ecuador; RUC # 1791286812001 (Ecuador) [SDNT]

FARMACIA JARDIN SUR (a.k.a. FARMACIA AMAZONAS; a.k.a. FARMACIA DORAL; a.k.a. FARMACIA LA COLINA; a.k.a. FARMACIA PROVIDA; a.k.a. LATINFARMACOS S.A.; a.k.a. LATINOAMERICANA DE FARMACOS S.A.), Ambato, Ecuador; Av. 10 de Agosto 2753 y Gral. Vicente Aguirre, Edificio Freile Ardiani, Quito, Ecuador; Av. Amazonas 1134 y General Foch, Quito, Ecaudor; Av. Amazonas 244 y Jorge Washington, Quito, Ecuador; Av. Rodrigo de Chavez 387, Quito, Ecaudor; Cayambe, Ecuador; El Carmen, Ecuador; Gualberto Perez 633 y Andres Perez, Quito, Ecuador; Michelena y Mariscal Sucre, Quito, Ecuador; Quito, Ecuador; Tres de Julio y Cuenca, Santo Domingo, Ecuador; Tulcan, Ecuador; RUC # 1791286812001 (Ecuador) [SDNT]

FARMACIA LA COLINA (a.k.a. FARMACIA AMAZONAS; a.k.a. FARMACIA DORAL; a.k.a. FARMACIA JARDIN SUR; a.k.a. FARMACIA PROVIDA; a.k.a. LATINFARMACOS S.A.; LATINOAMERICANA DE FARMACOS S.A.), Ambato, Ecuador; Av. 10 de Agosto 2753 y Gral. Vicente Aguirre, Edificio Freile Ardiani, Quito, Ecuador; Av. Amazonas 1134 y General Foch, Quito, Ecaudor; Av. Amazonas 244 y Jorge Washington, Quito, Ecuador; Av. Rodrigo de Chavez 387, Quito, Ecaudor; Cayambe, Ecuador; El Carmen, Ecuador; Gualberto Perez 633 y Andres Perez, Quito, Ecuador; Michelena y Mariscal Sucre, Quito, Ecuador; Quito, Ecuador; Tres de Julio y Cuenca, Santo Domingo, Ecuador; Tulcan, Ecuador; RUC # 1791286812001 (Ecuador) [SDNT]

FARMACIA PROVIDA (a.k.a. FARMACIA AMAZONAS; a.k.a. FARMACIA DORAL; a.k.a. FARMACIA JARDIN SUR; a.k.a. FARMACIA LA COLINA; a.k.a. LATINFARMACOS S.A.; a.k.a. LATINOAMERICANA DE FARMACOS S.A.), Ambato, Ecuador; Av. 10 de Agosto 2753 y Gral. Vicente Aguirre, Edificio Freile Ardiani, Quito, Ecuador; Av. Amazonas 1134 y General Foch, Quito, Ecaudor; Av. Amazonas 244 y Jorge Washington, Quito, Ecuador; Av. Rodrigo de Chavez 387, Quito, Ecaudor; Cayambe, Ecuador; El Carmen, Ecuador; Gualberto Perez 633 y Andres Perez, Quito, Ecuador; Michelena y Mariscal Sucre, Quito, Ecuador; Quito, Ecuador; Tres de Julio y Cuenca, Santo Domingo, Ecuador; Tulcan, Ecuador; RUC # 1791286812001 (Ecuador) [SDNT]

FARMACIA VIDA (a.k.a. FARMACIA VIDA SUPREMA, S.A. de C.V.; a.k.a. FARMACIAS VIDA), Blvd. Agua Caliente 1381, Colonia Revolucion, Tijuana, Baja California, Mexico; Avenida Constitucion No. 1300,Tijuana, Baja California, Mexico; Avenida Negrete No. 1200, Tijuana, Baja California, Mexico; Avenida Segunda No. 1702, Tijuana, Baja California, Mexico; Avenida 16 de Septiembre No. 1100, Tijuana, Baja California, Mexico; Calle 4ta. 1339 y “G,” Tijuana, Baja California, Mexico; Blvd. D. Ordaz No. 700-316, Tijuana, Baja California, Mexico; Avenida Benito Juarez No. 16-2, Rosarito, Baja California, Mexico; Avenida Las Americas, Int. Casa Ley, Tijuana, Baja California, Mexico; Avenida Constitucion y 10ma., Tijuana, Baja California, Mexico; Avenida Constitucion 823, Tijuana, Baja California, Mexico; Calle Benito Juarez 1941, Tijuana, Baja California, Mexico; Calle 4ta. Y Ninos Heroes 1802, Tijuana, Baja California, Mexico; Calle Benito Juarez 1890-A, Tijuana, Baja California, Mexico; Blvd. Benito Juarez 20000, Rosarito, Baja California, Mexico; Blvd. Diaz Ordaz 915, La Mesa, Tijuana, Baja California, Mexico; Blvd. Fundadores 8417, Fraccionamiento El Rubi, Tijuana, Baja California, Mexico; Avenida Tecnologico 15300-308, Centro Comercial Otay Universidad Tijuana, Baja California, Mexico; Avenida Revolucion 651, Zona Centro, Tijuana, Baja California, Mexico; Blvd. Sanchez Taboada 4002, Zona Rio, Tijuana, Baja California, Mexico; Paseo Estrella del Mar 1075-B, Placita Coronado, Playas de Tijuana, Baja California, Mexico; Avenida Jose Lopez Portillo 131-B, Modulos Otay Tijuana, Baja California, Mexico; Avenida Braulio Maldonado No. 1409-C, Local 3, Fraccionamiento Soler, Tijuana, Baja California, Mexico; Toribio Ortega No. 6072-1 Colonia Fco. Villa, Tijuana, Baja California, Mexico; Blvd. Diaz Ordaz No. 1159-101, Tijuana, Baja California, Mexico; Plaza del Norte, M. Matamoros No. 10402, Frac. M. Matamoros, Tijuana, Baja California, Mexico; Calle Carrillo Puerto (3ra.) No. 1434-131, Tijuana, Baja California, Mexico; Blvd. Ejido Matamoros No. 402-1 Lomas Granjas la Espanola Tijuana, Baja California, Mexico; Calz. Cucapah 20665-1B Colonia Buenos Aires Norte, Tijuana, Baja California, Mexico; R.F.C.# FVS-870610-LX3 (Mexico) [SDNTK]

FARMACIA VIDA SUPREMA, S.A. de C.V. (a.k.a. FARMACIA VIDA; a.k.a. FARMACIAS VIDA), Blvd. Agua Caliente 1381, Colonia Revolucion, Tijuana, Baja California, Mexico; Avenida Constitucion No. 1300,Tijuana, Baja California, Mexico; Avenida Negrete No. 1200, Tijuana, Baja California, Mexico; Avenida Segunda No. 1702, Tijuana, Baja California, Mexico; Avenida 16 de Septiembre No. 1100, Tijuana, Baja California, Mexico; Calle 4ta. 1339 y “G,” Tijuana, Baja California, Mexico; Blvd. D. Ordaz No. 700-316, Tijuana, Baja California, Mexico; Avenida Benito Juarez No. 16-2, Rosarito, Baja California, Mexico; Avenida Las Americas, Int. Casa Ley, Tijuana, Baja California, Mexico; Avenida Constitucion y 10ma., Tijuana, Baja California, Mexico; Avenida Constitucion 823, Tijuana, Baja California, Mexico; Calle Benito Juarez 1941, Tijuana, Baja California, Mexico; Calle 4ta. Y Ninos Heroes 1802, Tijuana, Baja California, Mexico; Calle Benito Juarez 1890-A, Tijuana, Baja California, Mexico; Blvd. Benito Juarez 20000, Rosarito, Baja California, Mexico; Blvd. Diaz Ordaz 915, La Mesa, Tijuana, Baja California, Mexico; Blvd. Fundadores 8417, Fraccionamiento El Rubi, Tijuana, Baja California, Mexico; Avenida Tecnologico 15300-308, Centro Comercial Otay Universidad Tijuana, Baja California, Mexico; Avenida Revolucion 651, Zona Centro, Tijuana, Baja California, Mexico; Blvd. Sanchez Taboada 4002, Zona Rio, Tijuana, Baja California, Mexico; Paseo Estrella del Mar 1075-B, Placita Coronado, Playas de Tijuana, Baja California, Mexico; Avenida Jose Lopez Portillo 131-B, Modulos Otay Tijuana, Baja California, Mexico; Avenida Braulio Maldonado No. 1409-C, Local 3, Fraccionamiento Soler, Tijuana, Baja California, Mexico; Toribio Ortega No. 6072-1 Colonia Fco. Villa, Tijuana, Baja California, Mexico; Blvd. Diaz Ordaz No. 1159-101, Tijuana, Baja California, Mexico; Plaza del Norte, M. Matamoros No. 10402, Frac. M. Matamoros, Tijuana, Baja California, Mexico; Calle Carrillo Puerto (3ra.) No. 1434-131, Tijuana, Baja California, Mexico; Blvd. Ejido Matamoros No. 402-1 Lomas Granjas la Espanola Tijuana, Baja California, Mexico; Calz. Cucapah 20665-1B Colonia Buenos Aires Norte, Tijuana, Baja California, Mexico; R.F.C.# FVS-870610-LX3 (Mexico) [SDNTK]

FARMACIAS VIDA (a.k.a. FARMACIA VIDA; a.k.a. FARMACIA VIDA SUPREMA, S.A. de C.V.), Blvd. Agua Caliente 1381, Colonia Revolucion, Tijuana, Baja California, Mexico; Avenida Constitucion No. 1300,Tijuana, Baja California, Mexico; Avenida Negrete No. 1200, Tijuana, Baja California, Mexico; Avenida Segunda No. 1702, Tijuana, Baja California, Mexico; Avenida 16 de Septiembre No. 1100, Tijuana, Baja California, Mexico; Calle 4ta. 1339 y “G,” Tijuana, Baja California, Mexico; Blvd. D. Ordaz No. 700-316, Tijuana, Baja California, Mexico; Avenida Benito Juarez No. 16-2, Rosarito, Baja California, Mexico; Avenida Las Americas, Int. Casa Ley, Tijuana, Baja California, Mexico; Avenida Constitucion y 10ma., Tijuana, Baja California, Mexico; Avenida Constitucion 823, Tijuana, Baja California, Mexico; Calle Benito Juarez 1941, Tijuana, Baja California, Mexico; Calle 4ta. Y Ninos Heroes 1802, Tijuana, Baja California, Mexico; Calle Benito Juarez 1890-A, Tijuana, Baja California, Mexico; Blvd. Benito Juarez 20000, Rosarito, Baja California, Mexico; Blvd. Diaz Ordaz 915, La Mesa, Tijuana, Baja California, Mexico; Blvd. Fundadores 8417, Fraccionamiento El Rubi, Tijuana, Baja California, Mexico; Avenida Tecnologico 15300-308, Centro Comercial Otay Universidad Tijuana, Baja California, Mexico; Avenida Revolucion 651, Zona Centro, Tijuana, Baja California, Mexico; Blvd. Sanchez Taboada 4002, Zona Rio, Tijuana, Baja California, Mexico; Paseo Estrella del Mar 1075-B, Placita Coronado, Playas de Tijuana, Baja California, Mexico; Avenida Jose Lopez Portillo 131-B, Modulos Otay Tijuana, Baja California, Mexico; Avenida Braulio Maldonado No. 1409-C, Local 3, Fraccionamiento Soler, Tijuana, Baja California, Mexico; Toribio Ortega No. 6072-1 Colonia Fco. Villa, Tijuana, Baja California, Mexico; Blvd. Diaz Ordaz No. 1159-101, Tijuana, Baja California, Mexico; Plaza del Norte, M. Matamoros No. 10402, Frac. M. Matamoros, Tijuana, Baja California, Mexico; Calle Carrillo Puerto (3ra.) No. 1434-131, Tijuana, Baja California, Mexico; Blvd. Ejido Matamoros No. 402-1 Lomas Granjas la Espanola Tijuana, Baja California, Mexico; Calz. Cucapah 20665-1B Colonia Buenos Aires Norte, Tijuana, Baja California, Mexico; R.F.C.# FVS-870610-LX3 (Mexico) [SDNTK]

FARMACOOP (a.k.a. COOPERATIVA MULTIACTIVA DE COMERCIALIZACION Y SERVICIOS FARMACOOP; f.k.a. KRESSFOR; f.k.a. LABORATORIOS KRESSFOR DE COLOMBIA S.A.), A.A. 18491, Bogota, Colombia; Calle 16 28A 51, Bogota, Colombia; Calle 16 28A 57, Bogota, Colombia; Calle 17A 28A 43, Bogota, Colombia; Calle 17A 28 43, Bogota, Colombia; NIT # 830010878-3 (Colombia) [SDNT]

FARMAHOGAR (a.k.a. DROGUERIA FARMAHOGAR; a.k.a. FARMAHOGAR COPSERVIR 19), Carrera 7 No. 118-38, Bogota, Colombia; Avenida 7 No. 118-46, Bogota, Colombia; NIT # 830011670-3 (Colombia) [SDNT]

FARMAHOGAR COPSERVIR 19 (a.k.a. DROGUERIA FARMAHOGAR; a.k.a. FARMAHOGAR), Carrera 7 No. 118-38, Bogota, Colombia; Avenida 7 No. 118-46, Bogota, Colombia; NIT # 830011670-3 (Colombia) [SDNT]

FARMATEL E.U. (a.k.a. TELEFARMA E.U.), Calle 93 No. 16-75, Bogota, Colombia [SDNT]

FARMATODO S.A., Diagonal 17 No. 28A-39, Bogota, Colombia; Diagonal 17 No. 28A-80, Bogota, Colombia [SDNT]

FARMERS BANK FOR INVESTMENT & RURAL DEVELOPMENT, Khartoum, Sudan [SUDAN]

FARTRADE HOLDINGS S.A., Switzerland [IRAQ]

FATAH REVOLUTIONARY COUNCIL (a.k.a. ANO; a.k.a. BLACK SEPTEMBER; a.k.a. ABU NIDAL ORGANIZATION a.k.a. ARAB REVOLUTIONARY COUNCIL; a.k.a. ARAB REVOLUTIONARY BRIGADES; a.k.a. REVOLUTIONARY ORGANIZATION OF SOCIALIST MUSLIMS) [SDT][FTO][SDGT]

FATHI, Amr Al-Fatih (a.k.a. AHMAD, Tariq Anwar al-Sayyid; a.k.a. FARAG, Hamdi Ahmad); DOB 15 Mar 63; POB Alexandria, Egypt (individual) [SDGT]

FATTAH, Jum'a Abdul, P.O. Box 1318, Amman, Jordan (individual) [IRAQ]

FAZANI, Juma, Secretary of Arab Unity of the Government of Libya, Libya (individual) [LIBYA]

FAZUL, Abdalla (a.k.a. MOHAMMED, Fazul Abdullah; a.k.a. ABDALLA, Fazul; a.k.a. ADBALLAH, Fazul; a.k.a. AISHA, Abu; a.k.a. AL SUDANI, Abu Seif; a.k.a. ALI, Fadel Abdallah Mohammed; a.k.a. FAZUL, Abdallah; a.k.a. FAZUL, Abdallah Mohammed; a.k.a. FAZUL, Haroon; a.k.a. FAZUL, Harun; a.k.a. HAROON; a.k.a. HAROUN, Fadhil; a.k.a. HARUN; a.k.a. LUQMAN, Abu; a.k.a. MOHAMMED, Fazul; a.k.a. MOHAMMED, Fazul Abdilahi; a.k.a. MOHAMMED, Fouad; a.k.a. MUHAMAD, Fadil Abdallah); DOB 25 Aug 1972; alt. DOB 25 Dec 1974; alt. DOB 25 Feb 1974; POB Moroni, Comoros Islands; citizen Comoros; alt. citizen Kenya (individual) [SDGT]

FAZUL, Abdallah (a.k.a. MOHAMMED, Fazul Abdullah; a.k.a. ABDALLA, Fazul; a.k.a. ADBALLAH, Fazul; a.k.a. AISHA, Abu; a.k.a. AL SUDANI, Abu Seif; a.k.a. ALI, Fadel Abdallah Mohammed; a.k.a. FAZUL, Abdalla; a.k.a. FAZUL, Abdallah Mohammed; a.k.a. FAZUL, Haroon; a.k.a. FAZUL, Harun; a.k.a. HAROON; a.k.a. HAROUN, Fadhil; a.k.a. HARUN; a.k.a. LUQMAN, Abu; a.k.a. MOHAMMED, Fazul; a.k.a. MOHAMMED, Fazul Abdilahi; a.k.a. MOHAMMED, Fouad; a.k.a. MUHAMAD, Fadil Abdallah); DOB 25 Aug 1972; alt. DOB 25 Dec 1974; alt. DOB 25 Feb 1974; POB Moroni, Comoros Islands; citizen Comoros; alt. citizen Kenya (individual) [SDGT]

FAZUL, Abdallah Mohammed (a.k.a. MOHAMMED, Fazul Abdullah; a.k.a. ABDALLA, Fazul; a.k.a. ADBALLAH, Fazul; a.k.a. AISHA, Abu; a.k.a. AL SUDANI, Abu Seif; a.k.a. ALI, Fadel Abdallah Mohammed; a.k.a. FAZUL, Abdalla; a.k.a. FAZUL, Abdallah; a.k.a. FAZUL, Haroon; a.k.a. FAZUL, Harun; a.k.a. HAROON; a.k.a. HAROUN, Fadhil; a.k.a. HARUN; a.k.a. LUQMAN, Abu; a.k.a. MOHAMMED, Fazul; a.k.a. MOHAMMED, Fazul Abdilahi; a.k.a. MOHAMMED, Fouad; a.k.a. MUHAMAD, Fadil Abdallah); DOB 25 Aug 1972; alt. DOB 25 Dec 1974; alt. DOB 25 Feb 1974; POB Moroni, Comoros Islands; citizen Comoros; alt. citizen Kenya (individual) [SDGT]

FAZUL, Haroon (a.k.a. MOHAMMED, Fazul Abdullah; a.k.a. ABDALLA, Fazul; a.k.a. ADBALLAH, Fazul; a.k.a. AISHA, Abu; a.k.a. AL SUDANI, Abu Seif; a.k.a. ALI, Fadel Abdallah Mohammed; a.k.a. FAZUL, Abdalla; a.k.a. FAZUL, Abdallah; a.k.a. FAZUL, Abdallah Mohammed; a.k.a. FAZUL, Harun; a.k.a. HAROON; a.k.a. HAROUN, Fadhil; a.k.a. HARUN; a.k.a. LUQMAN, Abu; a.k.a. MOHAMMED, Fazul; a.k.a. MOHAMMED, Fazul Abdilahi; a.k.a. MOHAMMED, Fouad; a.k.a. MUHAMAD, Fadil Abdallah); DOB 25 Aug 1972; alt. DOB 25 Dec 1974; alt. DOB 25 Feb 1974; POB Moroni, Comoros Islands; citizen Comoros; alt. citizen Kenya (individual) [SDGT]

FAZUL, Harun (a.k.a. MOHAMMED, Fazul Abdullah; a.k.a. ABDALLA, Fazul; a.k.a. ADBALLAH, Fazul; a.k.a. AISHA, Abu; a.k.a. AL SUDANI, Abu Seif; a.k.a. ALI, Fadel Abdallah Mohammed; a.k.a. FAZUL, Abdalla; a.k.a. FAZUL, Abdallah; a.k.a. FAZUL, Abdallah Mohammed; a.k.a. FAZUL, Haroon; a.k.a. HAROON; a.k.a. HAROUN, Fadhil; a.k.a. HARUN; a.k.a. LUQMAN, Abu; a.k.a. MOHAMMED, Fazul; a.k.a. MOHAMMED, Fazul Abdilahi; a.k.a. MOHAMMED, Fouad; a.k.a. MUHAMAD, Fadil Abdallah); DOB 25 Aug 1972; alt. DOB 25 Dec 1974; alt. DOB 25 Feb 1974; POB Moroni, Comoros Islands; citizen Comoros; alt. citizen Kenya (individual) [SDGT]

FAZUL, Mustafa (a.k.a. FADHIL, Mustafa Mohamed; a.k.a. AL MASRI, Abd Al Wakil; a.k.a. AL-NUBI, Abu; a.k.a. ALI, Hassan; a.k.a. ANIS, Abu; a.k.a. ELBISHY, Moustafa Ali; a.k.a. FADIL, Mustafa Muhamad; a.k.a. HUSSEIN; a.k.a. JIHAD, Abu; a.k.a. KHALID; a.k.a. MAN, Nu; a.k.a. MOHAMMED, Mustafa; a.k.a. YUSSRR, Abu); DOB 23 Jun 1976; POB Cairo, Egypt; citizen Egypt; alt. citizen Kenya; Kenyan ID No. 12773667; Serial No. 201735161 (individual) [SDGT]

FBKSH (a.k.a. FRONT FOR ALBANIAN NATIONAL UNITY) [BALKANS]

FC9063 LIMITED (n.k.a. TEKNICA (UK) LIMITED), Holborn Tower, 137 High Holborn, London WC1V 6PW, England; 15/17 Lodge Road, St. Johns Wood, London NW8 7JA, England; Avon House, 360-366 Oxford Street, London W1N 9HA, England; Tripoli, Libya [LIBYA]

FERDJANI, Mouloud (a.k.a. ABD AL HAFIZ, Abd Al Wahab; a.k.a. “MOURAD;” a.k.a. “RABAH DI ROMA”), Via Lungotevere Dante, Rome, Italy; DOB 7 Sep 1967; POB Algiers, Algeria (individual) [SDGT]

FERJANI, A.S.A., Tripoli, Libya (individual) [LIBYA]

FERNANDEZ LUNA, Tiberio, c/o COPSERVIR LTDA., Bogota, Colombia; c/o DISTRIBUIDORA DE DROGAS CONDOR S.A., Bogota, Colombia; c/o LABORATORIOS BLANCO PHARMA DE COLOMBIA S.A., Bogota, Colombia; Cedula No. 93286690 (Colombia) (individual) [SDNT]

FETHI, Alic (a.k.a MNASRI, Fethi Ben Rebai; a.k.a. “Amor;” a.k.a. “Abu Omar”), Via Toscana n.46, Bologna, Italy; Via di Saliceto n.51/9, Bologna, Italy; DOB 06 Mar 1969; POB Nefza, Tunisia (individual) [SDGT]

FETTAR, Rachid (a.k.a. “Amine del Belgio;” a.k.a. “Djaffar”), Via degli Apuli n.5, Milan, Italy; DOB 16 Apr 1969; POB Boulogin, Algeria (individual) [SDGT]

FIDUSER LTDA., Calle 12A No. 27-72, Bogota, Colombia; NIT # 830013160-8 (Colombia) [SDNT]

FIESTA STEREO 91.5 F.M. (a.k.a. PRISMA STEREO 89.5 F.M.; a.k.a. SONAR F.M. E.U. DIETER MURRLE), Calle 15 Norte No. 6N-34 of. 1003, Cali, Colombia; Calle 43A No. 1-29 Urb. Sta. Maria del Palmar, Palmira, Colombia; NIT # 805006273-1 (Colombia) [SDNT]

FIGAL ARRANZ, Antonio Agustin; member ETA; DOB 2 Dec 1972; POB Baracaldo (Vizcaya Province), Spain; D.N.I. 20.172.692 (individual) [SDGT]

FIGUEROA DE BRUSATIN, Dacier, c/o INVERSIONES EL GRAN CRISOL LTDA., Cali, Colombia; c/o W. HERRERA Y CIA. S. EN C., Cali, Colombia; Cedula No. 29076093 (Colombia) (individual) [SDNT]

FINANCIERA DE INVERSIONES LTDA. (n.k.a. FINVE S.A.), Calle 93A No. 14-17 Ofc. 711, Bogota, Colombia; Calle 93N No. 14-20 Ofc. 601, Bogota, Colombia; NIT # 860074650-5 (Colombia) [SDNT]

FINVE S.A. (f.k.a. FINANCIERA DE INVERSIONES LTDA.), Calle 93A No. 14-17 Ofc. 711, Bogota, Colombia; Calle 93N No. 14-20 Ofc. 601, Bogota, Colombia; NIT # 860074650-5 (Colombia) [SDNT]

FIORILLO BAPTISTE, Lester Raul, Calle 27 Norte No. 6AN-43, Cali, Colombia; c/o CONSTRUCCIONES PROGRESO DEL PUERTO S.A., Puerto Tejada, Colombia; Passport 14987352 (Colombia); Cedula No. 14987352 (Colombia) (individual) [SDNT]

FIRST OF OCTOBER ANTIFASCIST RESISTANCE GROUP (GRAPO); Spain [SDGT]

FLEXOEMPAQUES LTDA. (f.k.a. PLASTICOS CONDOR LTDA.), Carrera 13 No. 16-62, Cali, Colombia; NIT # 800044167-2 (Colombia) [SDNT]

FLIGHT DRAGON SHIPPING, LTD., c/o ANGLO-CARIBBEAN SHIPPING CO. LTD., 4th Floor, South Phase 2, South Quay Plaza II, 183, March Wall, London, England [CUBA]

FLOREZ GRAJALES, Yudi Lorena (a.k.a. FLOREZ GRAJALES, Yudy Lorena), Carrera 78 No. 3-46, Cali, Colombia; Carrera 8N No. 17A-12, Cartago, Colombia; c/o AGROPECUARIA MIRALINDO S.A., Cartago, Colombia; c/o ARIZONA S.A., Cartago, Colombia; DOB 26 Jun 1978; Passport 32180561 (Colombia); Cedula No. 32180561 (Colombia) (individual) [SDNT]

FLOREZ GRAJALES, Yudy Lorena (a.k.a. FLOREZ GRAJALES, Yudi Lorena), Carrera 78 No. 3-46, Cali, Colombia; Carrera 8N No. 17A-12, Cartago, Colombia; c/o AGROPECUARIA MIRALINDO S.A., Cartago, Colombia; c/o ARIZONA S.A., Cartago, Colombia; DOB 26 Jun 1978; Passport 32180561 (Colombia); Cedula No. 32180561 (Colombia) (individual) [SDNT]

FLOREZ SARAMA, Jorge Humberto, c/o ADMINISTRADORA DE SERVICIOS VARIOS CALIMA S.A., Cali Colombia; c/o ASESORIAS DE INGENIERIA EMPRESA UNIPERSONAL, Cali, Colombia; c/o CHAMARTIN S.A., Cali, Colombia; c/o SERVICIOS DE LA SABANA E.U., Bogota, Colombia; Passport 13007449 (Colombia); Cedula No. 13007449 (Colombia) (individual) [SDNT]

FOGENSA S.A. (a.k.a. FORMAS GENERICAS FARMACEUTICAS S.A.), Carrera 42C No. 22C-36, Bogota, Colombia; Calle 53 No. 31-52, Bucaramanga, Colombia; Calle 53 No. 31-69, Bucaramanga, Colombia; NIT # 804005325-8 (Colombia) [SDNT]

FOLLOWERS OF THE PROPHET MUHAMMED (a.k.a. HIZBALLAH; a.k.a. ISLAMIC JIHAD; a.k.a. ISLAMIC JIHAD ORGANIZATION; a.k.a. REVOLUTIONARY JUSTICE ORGANIZATION; a.k.a. ORGANIZATION OF THE OPPRESSED ON EARTH; a.k.a. ISLAMIC JIHAD FOR THE LIBERATION OF PALESTINE; a.k.a. ORGANIZATION OF RIGHT AGAINST WRONG; a.k.a. PARTY OF GOD; a.k.a. ANSAR ALLAH) [SDT][FTO][SDGT]

FOMENTAMOS (a.k.a. COOPERATIVA MULTIACTIVA DE COLOMBIA FOMENTAMOS), Transversal 29 No. 35A-29, Bogota, Colombia; NIT # 830060914-4 (Colombia) [SDNT]

FOMEQUE BLANCO, Amparo, Mz. 21 Casa 5 Barrio San Fernando, Pereira, Colombia; c/o INDUSTRIA DE PESCA SOBRE EL PACIFICO S.A., Buenaventura, Colombia; Cedula No. 31206092 (Colombia) (individual) [SDNT]

FOMEQUE CAMPO, Daysy (a.k.a. FOMEQUE CAMPO, Deicy), Avenida 4N No. 10N-100, Cali, Colombia; c/o INDUSTRIA DE PESCA SOBRE EL PACIFICO S.A., Buenaventura, Colombia; Cedula No. 38650034 (Colombia) (individual) [SDNT]

FOMEQUE CAMPO, Deicy (a.k.a. FOMEQUE CAMPO, Daysy), Avenida 4N No. 10N-100, Cali, Colombia; c/o INDUSTRIA DE PESCA SOBRE EL PACIFICO S.A., Buenaventura, Colombia; Cedula No. 38650034 (Colombia) (individual) [SDNT]

FONDATION SECOURS MONDIAL “WORLD RELIEF” (a.k.a. FONDATION SECOURS MONDIAL A.S.B.L.; a.k.a. FONDATION SECOURS MONDIAL—BELGIQUE A.S.B.L.; a.k.a. FONDATION SECOURS MONDIAL—KOSOVA; a.k.a. FONDATION SECOURS MONDIAL VZW; a.k.a. FSM; a.k.a. GLOBAL RELIEF FOUNDATION, INC.; a.k.a. SECOURS MONDIAL DE FRANCE; a.k.a. STICHTING WERELDHULP—BELGIE, V.Z.W.), Rruga e Kavajes, Building No. 3, Apartment No. 61, P.O. Box 2892, Tirana, Albania; Vaatjesstraat, 29, 2580 Putte, Belgium; Rue des Bataves 69, 1040 Etterbeek, Brussels, Belgium; P.O. Box 6, 1040 Etterbeek 2, Brussels, Belgium; Mula Mustafe Baseskije Street No. 72, Sarajevo, Bosnia; Put Mladih Muslimana Street 30/A, Sarajevo, Bosnia; 49 rue du Lazaret, 67100 Strasbourg, France; Rr. Skenderbeu 76, Lagjja Sefa, Gjakova, Kosovo; Ylli Morina Road, Djakovica, Kosovo; House 267 Street No. 54, Sector F-11/4, Islamabad, Pakistan; Saray Cad. No. 37 B Blok, Yesilyurt Apt. 2/4, Sirinevler, Turkey; Afghanistan; Azerbaijan; Bangladesh; Chechnya, Russia; China; Eritrea; Ethiopia; Georgia; India; Ingushetia, Russia; Iraq; Jordan; Kashmir; Lebanon; Sierra Leone; Somalia; Syria; West Bank and Gaza; V.A.T. Number: BE 454,419,759 [SDGT]

FONDATION SECOURS MONDIAL A.S.B.L. (a.k.a. FONDATION SECOURS MONDIAL—BELGIQUE A.S.B.L.; a.k.a. FONDATION SECOURS MONDIAL—KOSOVA; a.k.a. FONDATION SECOURS MONDIAL VZW; a.k.a. FONDATION SECOURS MONDIAL “WORLD RELIEF;” a.k.a. FSM; a.k.a. GLOBAL RELIEF FOUNDATION, INC.; a.k.a. SECOURS MONDIAL DE FRANCE; a.k.a. STICHTING WERELDHULP—BELGIE, V.Z.W.), Rruga e Kavajes, Building No. 3, Apartment No. 61, P.O. Box 2892, Tirana, Albania; Vaatjesstraat, 29, 2580 Putte, Belgium; Rue des Bataves 69, 1040 Etterbeek, Brussels, Belgium; P.O. Box 6, 1040 Etterbeek 2, Brussels, Belgium; Mula Mustafe Baseskije Street No. 72, Sarajevo, Bosnia; Put Mladih Muslimana Street 30/A, Sarajevo, Bosnia; 49 rue du Lazaret, 67100 Strasbourg, France; Rr. Skenderbeu 76, Lagjja Sefa, Gjakova, Kosovo; Ylli Morina Road, Djakovica, Kosovo; House 267 Street No. 54, Sector F-11/4, Islamabad, Pakistan; Saray Cad. No. 37 B Blok, Yesilyurt Apt. 2/4, Sirinevler, Turkey; Afghanistan; Azerbaijan; Bangladesh; Chechnya, Russia; China; Eritrea; Ethiopia; Georgia; India; Ingushetia, Russia; Iraq; Jordan; Kashmir; Lebanon; Sierra Leone; Somalia; Syria; West Bank and Gaza; V.A.T. Number: BE 454,419,759 [SDGT]

FONDATION SECOURS MONDIAL—BELGIQUE A.S.B.L. (a.k.a. FONDATION SECOURS MONDIAL A.S.B.L.; a.k.a. FONDATION SECOURS MONDIAL -KOSOVA; a.k.a. FONDATION SECOURS MONDIAL VZW; a.k.a. FONDATION SECOURS MONDIAL “WORLD RELIEF;” a.k.a. FSM; a.k.a. GLOBAL RELIEF FOUNDATION, INC.; a.k.a. SECOURS MONDIAL DE FRANCE; a.k.a. STICHTING WERELDHULP—BELGIE, V.Z.W.), Rruga e Kavajes, Building No. 3, Apartment No. 61, P.O. Box 2892, Tirana, Albania; Vaatjesstraat, 29, 2580 Putte, Belgium; Rue des Bataves 69, 1040 Etterbeek, Brussels, Belgium; P.O. Box 6, 1040 Etterbeek 2, Brussels, Belgium; Mula Mustafe Baseskije Street No. 72, Sarajevo, Bosnia; Put Mladih Muslimana Street 30/A, Sarajevo, Bosnia; 49 rue du Lazaret, 67100 Strasbourg, France; Rr. Skenderbeu 76, Lagjja Sefa, Gjakova, Kosovo; Ylli Morina Road, Djakovica, Kosovo; House 267 Street No. 54, Sector F-11/4, Islamabad, Pakistan; Saray Cad. No. 37 B Blok, Yesilyurt Apt. 2/4, Sirinevler, Turkey; Afghanistan; Azerbaijan; Bangladesh; Chechnya, Russia; China; Eritrea; Ethiopia; Georgia; India; Ingushetia, Russia; Iraq; Jordan; Kashmir; Lebanon; Sierra Leone; Somalia; Syria; West Bank and Gaza; V.A.T. Number: BE 454,419,759 [SDGT]

FONDATION SECOURS MONDIAL—KOSOVA (a.k.a. FONDATION SECOURS MONDIAL A.S.B.L.; a.k.a. FONDATION SECOURS MONDIAL—BELGIQUE A.S.B.L.; a.k.a. FONDATION SECOURS MONDIAL VZW; a.k.a. FONDATION SECOURS MONDIAL “WORLD RELIEF;” a.k.a. FSM; a.k.a. GLOBAL RELIEF FOUNDATION, INC.; a.k.a. SECOURS MONDIAL DE FRANCE; a.k.a. STICHTING WERELDHULP—BELGIE, V.Z.W.), Rruga e Kavajes, Building No. 3, Apartment No. 61, P.O. Box 2892, Tirana, Albania; Vaatjesstraat, 29, 2580 Putte, Belgium; Rue des Bataves 69, 1040 Etterbeek, Brussels, Belgium; P.O. Box 6, 1040 Etterbeek 2, Brussels, Belgium; Mula Mustafe Baseskije Street No. 72, Sarajevo, Bosnia; Put Mladih Muslimana Street 30/A, Sarajevo, Bosnia; 49 rue du Lazaret, 67100 Strasbourg, France; Rr. Skenderbeu 76, Lagjja Sefa, Gjakova, Kosovo; Ylli Morina Road, Djakovica, Kosovo; House 267 Street No. 54, Sector F-11/4, Islamabad, Pakistan; Saray Cad. No. 37 B Blok, Yesilyurt Apt. 2/4, Sirinevler, Turkey; Afghanistan; Azerbaijan; Bangladesh; Chechnya, Russia; China; Eritrea; Ethiopia; Georgia; India; Ingushetia, Russia; Iraq; Jordan; Kashmir; Lebanon; Sierra Leone; Somalia; Syria; West Bank and Gaza; V.A.T. Number: BE 454,419,759 [SDGT]

FONDATION SECOURS MONDIAL VZW (a.k.a. FONDATION SECOURS MONDIAL A.S.B.L.; a.k.a. FONDATION SECOURS MONDIAL—BELGIQUE A.S.B.L.; a.k.a. FONDATION SECOURS MONDIAL—KOSOVA; a.k.a. FONDATION SECOURS MONDIAL “WORLD RELIEF;” a.k.a. FSM; a.k.a. GLOBAL RELIEF FOUNDATION, INC.; a.k.a. SECOURS MONDIAL DE FRANCE; a.k.a. STICHTING WERELDHULP—BELGIE, V.Z.W.), Rruga e Kavajes, Building No. 3, Apartment No. 61, P.O. Box 2892, Tirana, Albania; Vaatjesstraat, 29, 2580 Putte, Belgium; Rue des Bataves 69, 1040 Etterbeek, Brussels, Belgium; P.O. Box 6, 1040 Etterbeek 2, Brussels, Belgium; Mula Mustafe Baseskije Street No. 72, Sarajevo, Bosnia; Put Mladih Muslimana Street 30/A, Sarajevo, Bosnia; 49 rue du Lazaret, 67100 Strasbourg, France; Rr. Skenderbeu 76, Lagjja Sefa, Gjakova, Kosovo; Ylli Morina Road, Djakovica, Kosovo; House 267 Street No. 54, Sector F-11/4, Islamabad, Pakistan; Saray Cad. No. 37 B Blok, Yesilyurt Apt. 2/4, Sirinevler, Turkey; Afghanistan; Azerbaijan; Bangladesh; Chechnya, Russia; China; Eritrea; Ethiopia; Georgia; India; Ingushetia, Russia; Iraq; Jordan; Kashmir; Lebanon; Sierra Leone; Somalia; Syria; West Bank and Gaza; V.A.T. Number: BE 454,419,759 [SDGT]

FONSECA DELGADO, Luis Jairo, c/o DROCARD S.A., Bogota, Colombia; c/o FARMACOOP, Bogota, Colombia; c/o GENERICOS ESPECIALES S.A., Bogota, Colombia; DOB 12 Aug 1962; Passport 19493765 (Colombia); Cedula No. 19493765 (Colombia) (individual) [SDNT]

FONSECA PARAMO, Luisa Fernanda, c/o REPRESENTACIONES Y DISTRIBUCIONES HUERTAS Y ASOCIADOS S.A., Bogota, Colombia; DOB 18 Nov 1978; Passport 30400266 (Colombia); Cedula No. 30400266 (Colombia) (individual) [SDNT]

FOOD INDUSTRIES CORPORATION, P.O. Box 2341, Khartoum, Sudan [SUDAN]

FOOTWEAR PLANT, Misurata, Libya [LIBYA]

FOREFRONT OF THE IDEA (a.k.a. AMERICAN FRIENDS OF THE UNITED YESHIVA MOVEMENT; a.k.a. AMERICAN FRIENDS OF YESHIVAT RAV MEIR; a.k.a. COMMITTEE FOR THE SAFETY OF THE ROADS; a.k.a. DIKUY BOGDIM; a.k.a. DOV; a.k.a. FRIENDS OF THE JEWISH IDEA YESHIVA; a.k.a. JEWISH LEGION; a.k.a. JUDEA POLICE; a.k.a. JUDEAN CONGRESS; a.k.a. KACH; a.k.a. KAHANE CHAI; a.k.a. KAHANE LIVES; a.k.a. KAHANE TZADAK; a.k.a. KAHANE.NET; a.k.a. KAHANE.ORG; a.k.a. KAHANE; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [SDT][FTO][SDGT]

FOREIGN PETROLEUM INVESTMENT CORPORATION (a.k.a. OILINVEST; a.k.a. LIBYAN OIL INVESTMENTS INTERNATIONAL COMPANY; a.k.a. OIIC; a.k.a. OILINVEST INTERNATIONAL N.V.), Netherlands Antilles [LIBYA]

FOREIGN PETROLEUM INVESTMENT CORPORATION (a.k.a. OILINVEST; a.k.a. LIBYAN OIL INVESTMENTS INTERNATIONAL COMPANY; a.k.a. OIIC; a.k.a. OILINVEST INTERNATIONAL N.V.), Tripoli, Libya [LIBYA]

FORENINGEN AL-AQSA (a.k.a. AL-AQSA (ASBL); a.k.a. AL-AQSA SPANMAL STIFTELSE; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), BD Leopold II 71, 1080 Brussels, Belgium [SDGT]

FORENINGEN AL-AQSA (a.k.a. AL-AQSA E.V.; a.k.a. AL-AQSA SPANMAL STIFTELSE; a.k.a. AL-AQSA ASBL; a.k.a. AL-AQSA CHARITABLE FOUNDATION; a.k.a. AL-AQSA CHARITABLE ORGANIZATION; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), Kappellenstrasse 36, D-52066, Aachen, Germany [SDGT]

FORENINGEN AL-AQSA (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 421082, 2nd Floor, Amoco Gardens, 40 Mint Road, Fordsburg 2033, Johannesburg, South Africa; P.O. Box 421083, 2nd Floor, Amoco Gardens, 40 Mint Road, Fordsburg 2033, Johannesburg, South Africa [SDGT]

FORENINGEN AL-AQSA (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), Nobelvagen 79 NB, 21433 Malmo, Sweden; Noblev 79 NB, 21433 Malmo, Sweden [SDGT]

FORENINGEN AL-AQSA (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.) [SDGT]

FORENINGEN AL-AQSA (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 2364, Islamabad, Pakistan [SDGT]

FORENINGEN AL-AQSA (a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 6222200KBKN, Copenhagen, Denmark [SDGT]

FORENINGEN AL-AQSA (a.k.a. AQSSA SOCIETY YEMEN; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. CHARITABLE AL-AQSA ESTABLISHMENT; a.k.a. CHARITABLE SOCIETY TO HELP THE NOBLE AL-AQSA; a.k.a. NUSRAT AL-AQSA AL-SHARIF; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 14101, San'a, Yemen [SDGT]

FORENINGEN AL-AQSA (a.k.a. STICHTING AL-AQSA; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. SWEDISH CHARITABLE AQSA EST.), Gerrit V/D Lindestraat 103 E, 03022 TH, Rotterdam, Holland; Gerrit V/D Lindestraat 103 A, 3022 TH, Rotterdam, Holland [SDGT]

FORERO FERNANDEZ, Alberto Mario, c/o HAPPY DAYS S. de H., Barranquilla, Colombia; Cedula No. 8715143 (Colombia) (individual) [SDNT]

FORERO SALAMANCA, Sonia Viviana, c/o COPSERVIR LTDA., Bogota, Colombia; c/o CREDIREBAJA S.A., Cali, Colombia; c/o INTERFARMA S.A., San Jose, Costa Rica; c/o JOMAGA DE COSTA RICA S.A., San Jose, Costa Rica; DOB 16 Oct 1975; Passport 52342283 (Colombia); Cedula No. 52342283 (Colombia) (individual) [SDNT]

FORMAS GENERICAS FARMACEUTICAS S.A. (a.k.a. FOGENSA S.A.), Carrera 42C No. 22C-36, Bogota, Colombia; Calle 53 No. 31-52, Bucaramanga, Colombia; Calle 53 No. 31-69, Bucaramanga, Colombia; NIT # 804005325-8 (Colombia) [SDNT]

FORPRES, S.C., Tijuana, Baja California, Mexico [SDNTK]

FOUNDATION FOR CONSTRUCTION (a.k.a. UMMAH TAMEER E-NAU (UTN); a.k.a. NATION BUILDING; a.k.a. RECONSTRUCTION FOUNDATION; a.k.a. RECONSTRUCTION OF THE ISLAMIC COMMUNITY; a.k.a. RECONSTRUCTION OF THE MUSLIM UMMAH; a.k.a. UMMAH TAMEER I-NAU; a.k.a. UMMAH TAMIR E-NAU; a.k.a. UMMAH TAMIR I-NAU; a.k.a. UMMAT TAMIR E-NAU; a.k.a. UMMAT TAMIR-I-PAU), Street 13, Wazir Akbar Khan, Kabul, Afghanistan; 60-C, Nazim Ud Din Road, Islamabad F 8/4, Pakistan [SDGT]

FRANCO BELTRAN, Luis Fernando, c/o DROCARD S.A., Bogota, Colombia; c/o FARMACOOP, Bogota, Colombia; DOB 12 Aug 1953; Passport 230809 (Colombia); Cedula No. 230809 (Colombia) (individual) [SDNT]

FRANCO MUNOZ, Francisco, Calle 10 Bis No. 67A-51, Cali, Colombia; c/o GRAN MUELLE S.A., Buenaventura, Colombia; POB Facatativa, Cundinamarca, Colombia; Passport 03014999 (Colombia); Cedula No. 03014999 (Colombia) (individual) [SDNT]

FRANCO VALENCIA, Fabio Hernan, Carrera 4 No. 11-45 Ofc. 506, Cali, Colombia; c/o CIA. ANDINA DE EMPAQUES LTDA., Cali, Colombia; c/o CIA. MINERA DAPA S.A., Bogota, Colombia; c/o COMPANIA DE FOMENTO MERCANTIL S.A., Cali, Colombia; c/o GEOPLASTICOS S.A., Cali, Colombia; c/o OCCIDENTAL DE PAPELES LTDA., Cali, Colombia; DOB 06 Dec 1940; POB Cali, Valle, Colombia; Passport 6076743 (Colombia); Cedula No. 6076743 (Colombia) (individual) [SDNT]

FREEDOM AND DEMOCRACY CONGRESS OF KURDISTAN (a.k.a. HALU MESRU SAVUNMA KUVVETI (HSK); a.k.a. KADEK; a.k.a. KONGRA-GEL; a.k.a. KURDISTAN FREEDOM AND DEMOCRACY CONGRESS; a.k.a. KURDISTAN PEOPLE'S CONGRESS (KHK); a.k.a. KURDISTAN WORKERS' PARTY; a.k.a. PARTIYA KARKERAN KURDISTAN; a.k.a. PEOPLE'S CONGRESS OF KURDISTAN; a.k.a. PKK; a.k.a. THE PEOPLE'S DEFENSE FORCE) [FTO][SDGT]

FREGOSO AMEZQUITA, Maria Antonieta, Calle Jerez 538, Fraccionamiento Chapultepec, Tijuana, Baja California, Mexico; Calle Jerez 552-B, Fraccionamiento Chapultepec, CP 22420, Tijuana, Baja California, Mexico; c/o ADMINISTRADORA DE INMUEBLES VIDA, S.A. de C.V., Tijuana, Baja California, Mexico; c/o ADP, S.C., Tijuana, Baja California, Mexico; c/o FORPRES, S.C., Tijuana, Baja California, Mexico; c/o ACCESOS ELECTRONICOS, S.A. de C.V., Tijuana, Baja California, Mexico; c/o OPERADORA VALPARK, S.A. de C.V., Tijuana, Baja California, Mexico; DOB 29 Oct 1952; POB Guadalajara, Jalisco, Mexico; Driver's License No. 180839 (Mexico); Credencial electoral No. 088455751391 (Mexico); R.F.C.# AEL-980417-S51 (Mexico) (individual) [SDNTK]

FREIGHT MOVERS INTERNATIONAL [Offices in St. Kitts & Nevis, West Indies ONLY], Airport Road, Basseterre, St. Kitts & Nevis, West Indies; Church Street, Basseterre, St. Kitts & Nevis, West Indies [SDNTK]

FRIENDS OF THE JEWISH IDEA YESHIVA (a.k.a. AMERICAN FRIENDS OF THE UNITED YESHIVA MOVEMENT; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. JEWISH LEGION; a.k.a. JUDEA POLICE; a.k.a. JUDEAN CONGRESS; a.k.a. KACH; a.k.a. KAHANE CHAI; a.k.a. KAHANE LIVES; a.k.a. KAHANE TZADAK; a.k.a. KAHANE.NET; a.k.a. KAHANE.ORG; a.k.a. KAHANE; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [SDT][FTO][SDGT]

FRIENDSHIP SPINNING FACTORY, Hassaheisa, Sudan [SUDAN]

FRONT FOR ALBANIAN NATIONAL UNITY (a.k.a. FBKSH) [BALKANS]

FRUNI TRADING CO., c/o MELFI MARINE CORPORATION S.A., Oficina 7, Edificio Senorial, Calle 50, Apartado 31, Panama City 5, Panama [CUBA]

FSM (a.k.a. FONDATION SECOURS MONDIAL A.S.B.L.; a.k.a. FONDATION SECOURS MONDIAL—BELGIQUE A.S.B.L.; a.k.a. FONDATION SECOURS MONDIAL—KOSOVA; a.k.a. FONDATION SECOURS MONDIAL VZW; a.k.a. FONDATION SECOURS MONDIAL “WORLD RELIEF;” a.k.a. GLOBAL RELIEF FOUNDATION, INC.; a.k.a. SECOURS MONDIAL DE FRANCE; a.k.a. STICHTING WERELDHULP—BELGIE, V.Z.W.), Rruga e Kavajes, Building No. 3, Apartment No. 61, P.O. Box 2892, Tirana, Albania; Vaatjesstraat, 29, 2580 Putte, Belgium; Rue des Bataves 69, 1040 Etterbeek, Brussels, Belgium; P.O. Box 6, 1040 Etterbeek 2, Brussels, Belgium; Mula Mustafe Baseskije Street No. 72, Sarajevo, Bosnia; Put Mladih Muslimana Street 30/A, Sarajevo, Bosnia; 49 rue du Lazaret, 67100 Strasbourg, France; Rr. Skenderbeu 76, Lagjja Sefa, Gjakova, Kosovo; Ylli Morina Road, Djakovica, Kosovo; House 267 Street No. 54, Sector F-11/4, Islamabad, Pakistan; Saray Cad. No. 37 B Blok, Yesilyurt Apt. 2/4, Sirinevler, Turkey; Afghanistan; Azerbaijan; Bangladesh; Chechnya, Russia; China; Eritrea; Ethiopia; Georgia; India; Ingushetia, Russia; Iraq; Jordan; Kashmir; Lebanon; Sierra Leone; Somalia; Syria; West Bank and Gaza; V.A.T. Number: BE 454,419,759 [SDGT]

FUENTES, Fernando (COBA), Cozumel, Mexico (individual) [CUBA]

FUERZAS ARMADAS REVOLUCIONARIAS DE COLOMBIA (a.k.a. REVOLUTIONARY ARMED FORCES OF COLOMBIA; a.k.a. FARC) [FTO][SDGT][SDNTK]

FUNDACION DE CALI PARA EL DESARROLLO HUMANO (a.k.a. FUNDACION PARA EL SERVICIO DEL SER INTEGRAL; a.k.a. FUNDASER; a.k.a. FUNDECALI), Calle 2 No. 4-14 of. 101, Cali, Colombia; Calle 29 Norte No. 6N-43, Cali, Colombia; NIT # 800243417-2 (Colombia) [SDNT]

FUNDACION PARA EL SERVICIO DEL SER INTEGRAL (a.k.a. FUNDACION DE CALI PARA EL DESARROLLO HUMANO; a.k.a. FUNDASER; a.k.a. FUNDECALI), Calle 2 No. 4-14 of. 101, Cali, Colombia; Calle 29 Norte No. 6N-43, Cali, Colombia; NIT # 800243417-2 (Colombia) [SDNT]

FUNDACION PARA LA PAZ DE CORDOBA (a.k.a. FUNDACION POR LA PAS DE CORDOBA; a.k.a. FUNDAZCOR; a.k.a. FUNPAZCOR), Carrera 6 No. 29-12, Monteria, Cordoba, Colombia; NIT # 830054536-9 (Colombia) [SDNTK]

FUNDACION POR LA PAS DE CORDOBA (a.k.a. FUNDACION PARA LA PAZ DE CORDOBA; a.k.a. FUNDAZCOR; a.k.a. FUNPAZCOR), Carrera 6 No. 29-12, Monteria, Cordoba, Colombia; NIT # 830054536-9 (Colombia) [SDNTK]

FUNDACION VIVIR MEJOR (a.k.a. F.V.M.), Calle 8 No. 22-60, Cali, Colombia; NIT # 805002213-1 (Colombia) [SDNT]

FUNDASER (a.k.a. FUNDACION DE CALI PARA EL DESARROLLO HUMANO; a.k.a. FUNDACION PARA EL SERVICIO DEL SER INTEGRAL; a.k.a. FUNDECALI), Calle 2 No. 4-14 of. 101, Cali, Colombia; Calle 29 Norte No. 6N-43, Cali, Colombia; NIT # 800243417-2 (Colombia) [SDNT]

FUNDAZCOR (a.k.a. FUNDACION PARA LA PAZ DE CORDOBA; a.k.a. FUNDACION POR LA PAS DE CORDOBA; a.k.a. FUNPAZCOR), Carrera 6 No. 29-12, Monteria, Cordoba, Colombia; NIT # 830054536-9 (Colombia) [SDNTK]

FUNDECALI (a.k.a. FUNDACION DE CALI PARA EL DESARROLLO HUMANO; a.k.a. FUNDACION PARA EL SERVICIO DEL SER INTEGRAL; a.k.a. FUNDASER), Calle 2 No. 4-14 of. 101, Cali, Colombia; Calle 29 Norte No. 6N-43, Cali, Colombia; NIT # 800243417-2 (Colombia) [SDNT]

FUNPAZCOR (a.k.a. FUNDACION PARA LA PAZ DE CORDOBA; a.k.a. FUNDACION POR LA PAS DE CORDOBA; a.k.a. FUNDAZCOR), Carrera 6 No. 29-12, Monteria, Cordoba, Colombia; NIT # 830054536-9 (Colombia) [SDNTK]

FURUNDZIJA, Anto; DOB 8 Jul 1969; POB Travnik, Bosnia-Herzegovina; ICTY indictee (individual) [BALKANS]

FUSCO, Fabio (a.k.a. “Abu Thale;” a.k.a. AMDOUNI, Mehrez; a.k.a. HASSAN, Mohamed) DOB 18 Dec 1969; POB Tunis, Tunisia (individual) [SDGT]

FUSTAR, Dusan; DOB 29 Jun 1954; POB Prijedor, Bosnia-Herzegovina; ICTY indictee in custody (individual) [BALKANS]

G M C GRUPO MAQUILACION COLOMBIANO, Calle 68B No. 105F-80, Bogota, Colombia; Carrera 66A No. 48-91, Bogota, Colombia; NIT # 41322501 (Colombia) [SDNT]

GAAC (a.k.a. GAAE; a.k.a. GENERAL ARAB AFRICAN COMPANY; a.k.a. GENERAL ARAB AFRICAN ENTERPRISE), Nasser Street, Benghazi, Libya [LIBYA]

GAAC (a.k.a. GAAE; a.k.a. GENERAL ARAB AFRICAN COMPANY; a.k.a. GENERAL ARAB AFRICAN ENTERPRISE), P.O. Box 8059, 219 Mohammed El Megarief Street, Tripoli, Libya [LIBYA]

GAAE (a.k.a. GAAC; a.k.a. GENERAL ARAB AFRICAN COMPANY; a.k.a. GENERAL ARAB AFRICAN ENTERPRISE), P.O. Box 8059, 219 Mohammed El Megarief Street, Tripoli, Libya [LIBYA]

GAAE (a.k.a. GAAC; a.k.a. GENERAL ARAB AFRICAN COMPANY; a.k.a. GENERAL ARAB AFRICAN ENTERPRISE), Nasser Street, Benghazi, Libya [LIBYA]

GAJIC-MILOSEVIC, Milica; DOB 1970; daughter-in-law of Slobodan Milosevic (individual) [BALKANS]

GALAPAGOS S.A., Calle 24N No. 6AN-15, Cali, Colombia; Carrera 115 No. 16B-121, Cali, Colombia; NIT # 800183712-2 (Colombia) [SDNT]

GALAX INC. (a.k.a. GALAX TRADING CO., LTD.), 5250 Ferrier Street, Montreal, Quebec [CUBA]

GALAX TRADING CO., LTD. (a.k.a. GALAX INC.), 5250 Ferrier Street, Montreal, Quebec [CUBA]

GALEANO CUBILLOS, Mario Nelson, c/o TERAPIAS VETERINARIA LIMITADA, Bogota, Colombia; Passport 17125384 (Colombia); Cedula No. 17125384 (Colombia) (individual) [SDNT]

GALERIA DE PORTALES, S.A., Jose Serrano 166, 28019 Madrid, Spain; Miguel Yuste 48, 28037 Madrid, Spain; C.I.F. A82464934 (Spain) [SDNT]

GALIC, Stanislav; DOB 12 Mar 1943; POB Goles, Bosnia-Herzegovina; ICTY indictee (individual) [BALKANS]

GALINDO CARDOZO, Diego Fernando, c/o COOPCREAR, Bogota, Colombia; c/o COOPERATIVA MULTIACTIVA DE COLOMBIA FOMENTAMOS, Bogota, Colombia; DOB 2 Nov 1974; Passport 94320862 (Colombia); Cedula No. 94320862 (Colombia) (individual) [SDNT]

GALINDO, Gilmer Antonio (a.k.a. GUZMAN TRUJILLO, Carlos Arturo), Carrera 4C No. 53-40 apt. 307, Cali, Colombia; c/o COMERCIAL DE NEGOCIOS CLARIDAD Y CIA. S. EN C., Bogota, Colombia; c/o COMERCIALIZADORA EXPERTA Y CIA. S. EN C., Bogota, Colombia; c/o CONSTRUEXITO S.A., Cali, Colombia; c/o INDUSTRIA AVICOLA PALMASECA S.A., Cali, Colombia; c/o INMOBILIARIA GALES LTDA, Bogota, Colombia; Cedula No. 16245188 (Colombia) (individual) [SDNT]

GALINDO HERRERA, Diana Paola, c/o AGROPECUARIA Y REFORESTADORA HERREBE LTDA., Cali, Colombia; c/o COMERCIAL DE NEGOCIOS CLARIDAD Y CIA., Bogota, Colombia; c/o COMERCIALIZADORA EXPERTA Y CIA. S. EN C., Bogota, Colombia; c/o CONSTRUEXITO S.A., Cali, Colombia; c/o INDUSTRIA AVICOLA PALMASECA S.A., Cali, Colombia; c/o INMOBILIARIA GALES LTDA., Bogota, Colombia; c/o INVERSIONES HERREBE, LTDA., Cali, Colombia (individual) [SDNT]

GALINDO HERRERA, Diego Alexander, c/o AGROPECUARIA Y REFORESTADORA HERREBE LTDA., Cali, Colombia; c/o COMERCIAL DE NEGOCIOS CLARIDAD Y CIA., Bogota, Colombia; c/o COMERCIALIZADORA EXPERTA Y CIA. S. EN C., Bogota, Colombia; c/o CONSTRUEXITO S.A., Cali, Colombia; c/o INDUSTRIA AVICOLA PALMASECA S.A., Cali, Colombia; c/o INMOBILIARIA GALES LTDA., Bogota, Colombia; c/o INVERSIONES HERREBE LTDA., Cali, Colombia (individual) [SDNT]

GALINDO LEYVA, Esperanza, c/o COMPLEJO TURISTICO OASIS, S.A. de C.V., Playas de Rosarito, Baja California Norte, Mexico; DOB 16 Aug 1920; R.F.C.# GALE-200816-6IA (Mexico) (individual) [SDNTK]

GALLASTEGUI SODUPE, Lexuri; member ETA; DOB 18 Jun 1969; POB Bilbao (Vizcaya Province), Spain; D.N.I. 16.047.113 (individual) [SDGT]

GALLEGO BERRIO, Elizabeth, c/o CONCRETOS CALI S.A., Cali, Colombia; Cedula No. 34529671 (Colombia) (individual) [SDNT]

GALLEGO SANCHEZ, Isaac, c/o DISMERCOOP, Cali, Colombia, c/o GRACADAL S.A., Cali, Colombia; Cedula No. 6457399 (Colombia) (individual) [SDNT]

GALLEGO SOSSA, Rosa Esperanza, Calle 24AN No. 42BN-61, Cali, Colombia; c/o CONCRETOS CALI S.A., Cali, Colombia; c/o CONSTRUCTORA DIMISA LTDA., Cali, Colombia; Cedula No. 43059188 (Colombia) (individual) [SDNT]

GALLO IMPORT, Panama [CUBA]

GALVEZ RODRIGUEZ, Luz Marina, c/o PRODUCTOS GALO Y CIA. LTDA., Bogota, Colombia; c/o REPRESENTACIONES Y DISTRIBUCIONES HUERTAS Y ASOCIADOS S.A., Bogota, Colombia; DOB 15 Mar 1953; Passport 41589020 (Colombia); Cedula No. 41589020 (Colombia) (individual) [SDNT]

GALVEZ RODRIGUEZ, Nancy, c/o CAJA SOLIDARIA, Bogota, Colombia; c/o COOPCREAR, Bogota, Colombia; c/o COPSERVIR LTDA., Bogota, Colombia; c/o COSMEPOP, Bogota, Colombia; c/o DISTRIBUIDORA DE DROGAS CONDOR S.A., Bogota, Colombia; DOB 2 Dec 1954; Passport 41703406 (Colombia); Cedula No. 41703406 (Colombia) (individual) [SDNT]

GAMA'A AL-ISLAMIYYA (a.k.a. GI; a.k.a. ISLAMIC GROUP; a.k.a. IG; a.k.a. AL-GAMA'AT; a.k.a. ISLAMIC GAMA'AT; a.k.a. EGYPTIAN AL-GAMA'AT AL-ISLAMIYYA) [SDT][FTO][SDGT]

GAMBA SANCHEZ, Fernando, c/o DISTRIBUIDORA DE DROGAS CONDOR S.A., Bogota, Colombia; Cedula No. 19494919 (Colombia) (individual) [SDNT]

Gamel Mohamed (a.k.a. BOUYAHIA, Hamadi), “last known address,” Corso XXII Marzo 39, Milan, Italy; DOB 22 May 1966; POB Tunisia; nationality Tunisian; arrested 30 Sep 2002 (individual) [SDGT]

GAMEZ CIFUENTES, Norma Lucero, c/o DROCARD S.A., Bogota, Colombia; DOB 22 Jan 1958; Passport 41674484 (Colombia); Cedula No. 41674484 (Colombia) (individual) [SDNT]

GAMOENNS CONTRACTS AND UTILITIES EST., P.O. Box 3038, Benghazi, Libya [LIBYA]

GANADERA LTDA. (n.k.a. CAUCALITO LTDA.; f.k.a. GANADERIA), Apartado Aereo 10077, Cali, Colombia; Carrera 4 No. 12-41 of. 1403, Edificio Seguros Bolivar, Cali, Colombia; NIT # 800029160-9 (Colombia) [SDNT]

GANADERIA (n.k.a. CAUCALITO LTDA.; f.k.a. GANADERA LTDA.), Apartado Aereo 10077, Cali, Colombia; Carrera 4 No. 12-41 of. 1403, Edificio Seguros Bolivar, Cali, Colombia; NIT # 800029160-9 (Colombia) [SDNT]

GANADERIA EL VERGEL LTDA., Carrera 4 No. 12-20 of. 206, Cartago, Valle, Colombia; Km 7 Via Cartago-Obando, Hacienda El Vergel, Cartago, Valle, Colombia; NIT # 800146295-5 (Colombia) [SDNT]

GANADERIAS BILBAO LTDA., Carrera 4 No. 12-20 of. 206, Cartago, Valle, Colombia; Km 7 Via Cartago-Obando, Hacienda El Vergel, Cartago, Valle, Colombia; NIT # 800146290-9 (Colombia) [SDNT]

GANADERIAS DEL VALLE S.A., Avenida 2FN No. 24N-92, Cali, Colombia; Carrera 61 No. 11-58, Cali, Colombia; Carrera 83 No. 6-50, Cali, Colombia; NIT # 800119808-9 (Colombia) [SDNT]

GARABULLI FODDER PLANT, Libya [LIBYA]

GARAVITO, Doris Amelia, c/o GALAPAGOS S.A., Cali, Colombia; Cedula No. 31233463 (Colombia) (individual) [SDNT]

GARBAYA, AHMED (a.k.a. IZZ-AL-DIN, Hasan; a.k.a. SA-ID; a.k.a. SALWWAN, Samir), Lebanon; DOB 1963; POB Lebanon; citizen Lebanon (individual) [SDGT]

GARCES GARCIA, Carlos, c/o SISTEMAS INTEGRALES DEL VALLE LTDA., Cali, Colombia; Passport 14949883 (Colombia); Cedula No. 14949883 (Colombia) (individual) [SDNT]

GARCES VARGAS, Elmo, c/o INVERSIONES BETANIA LTDA., Cali, Colombia; c/o INVERSIONES EL PENON S.A., Cali, Colombia; c/o SOCOVALLE, Cali, Colombia; Cedula No. 16581793 (Colombia) (individual) [SDNT]

GARCIA, Daniel, Manager, Promociones Artisticas (PROARTE), Avenida Insurgentes Sur No. 421, Bloque B Despacho 404, C.P. 06100, Mexico, D.F. (individual) [CUBA]

GARCIA DE LA FUENTE ARRIAGA, Ignacio, c/o CUSTOMER NETWORKS S.L., Madrid, Spain; c/o GALERIA DE PORTALES S.A., Madrid, Spain; c/o SOCIEDAD INVERSORA EN PROYECTOS DE INTERNET S.A., Madrid, Spain; D.N.I. 27340558-K (Spain) (individual) [SDNT]

GARCIA DUQUE, Gustavo, Carrera 4 No. 12-20 of. 206, Cartago, Valle, Colombia; c/o INMOBILIARIA EL ESCORIAL LTDA., Cartago, Valle, Colombia; c/o INMOBILIARIA LINARES LTDA., Cartago, Valle, Colombia; DOB 30 Jun 1961; Passport 16213736 (Colombia); Cedula No. 16213736 (Colombia) (individual) [SDNT]

GARCIA, Freddy (Fredy), c/o PROCESADORA DE POLLOS SUPERIOR S.A., Palmira, Colombia (individual) [SDNT]

GARCIA GARCIA, Gabriel Alfonso, Carrera 4 No. 12-20 of. 206, Cartago, Valle, Colombia; c/o AGRICOLA DOIMA DEL NORTE DEL VALLE LTDA., Cartago, Valle, Colombia; c/o GANADERIA EL VERGEL LTDA., Cartago, Valle, Colombia; c/o GANADERIAS BILBAO LTDA., Cartago, Valle, Colombia; DOB 7 Jun 1976; Passport 16230989 (Colombia); Cedula No. 16230989 (Colombia) (individual) [SDNT]

GARCIA HERNANDEZ, Javier (a.k.a. HIGUERA RENTERIA, Ismael; a.k.a. LOAIZA AVENDANO, Jesus; a.k.a. ZAMBADA, El Mayo; a.k.a. ZAMBADA GARCIA, Ismael; a.k.a. ZAMBADA GARCIA, Ismael Mario); DOB 1 Jan 1948; POB Sinaloa, Mexico (individual) [SDNTK]

GARCIA MANTILLA, Edgar Alberto (a.k.a. GARCIA MOGAR, Edgar; a.k.a. GARCIA MONTELLA, Edgar Alberto; a.k.a. GARCIA MONTILLA, Edgar Alberto), c/o COMERCIALIZACION Y FINANCIACION DE AUTOMOTORES S.A., Cali, Colombia; c/o LABORATORIOS KRESSFOR DE COLOMBIA S.A., Bogota, Colombia; c/o REVISTA DEL AMERICA LTDA., Cali, Colombia; DOB 28 Nov 1946; Passports AC365457 (Colombia), PE008603 (Colombia), PO564495 (Colombia), AA294885 (Colombia); Cedula No. 14936775 (Colombia) (individual) [SDNT]

GARCIA MOGAR, Edgar (a.k.a. GARCIA MANTILLA, Edgar Alberto; a.k.a.; a.k.a. GARCIA MONTELLA, Edgar Alberto; GARCIA MONTILLA, Edgar Alberto), c/o COMERCIALIZACION Y FINANCIACION DE AUTOMOTORES S.A., Cali, Colombia; c/o LABORATORIOS KRESSFOR DE COLOMBIA S.A., Bogota, Colombia; c/o REVISTA DEL AMERICA LTDA., Cali, Colombia; DOB 28 Nov 1946; Passports AC365457 (Colombia), PE008603 (Colombia), PO564495 (Colombia), AA294885 (Colombia); Cedula No. 14936775 (Colombia) (individual) [SDNT]

GARCIA MONTELLA, Edgar Alberto (a.k.a. GARCIA MANTILLA, Edgar Alberto; a.k.a. GARCIA MOGAR, Edgar; a.k.a. GARCIA MONTILLA, Edgar Alberto), c/o COMERCIALIZACION Y FINANCIACION DE AUTOMOTORES S.A., Cali, Colombia; c/o LABORATORIOS KRESSFOR DE COLOMBIA S.A., Bogota, Colombia; c/o REVISTA DEL AMERICA LTDA., Cali, Colombia; DOB 28 Nov 1946; Passports AC365457 (Colombia), PE008603 (Colombia), PO564495 (Colombia), AA294885 (Colombia); Cedula No. 14936775 (Colombia) (individual) [SDNT]

GARCIA MONTILLA, Edgar Alberto (a.k.a. GARCIA MANTILLA, Edgar Alberto; a.k.a. GARCIA MOGAR, Edgar; a.k.a. GARCIA MONTELLA, Edgar Alberto), c/o COMERCIALIZACION Y FINANCIACION DE AUTOMOTORES S.A., Cali, Colombia; c/o LABORATORIOS KRESSFOR DE COLOMBIA S.A., Bogota, Colombia; c/o REVISTA DEL AMERICA LTDA., Cali, Colombia; DOB 28 Nov 1946; Passports AC365457 (Colombia), PE008603 (Colombia), PO564495 (Colombia), AA294885 (Colombia); Cedula No. 14936775 (Colombia) (individual) [SDNT]

GARCIA PIZARRO, Gentil Velez, c/o GALAPAGOS S.A., Cali, Colombia; Cedula No. 6616986 (Colombia) (individual) [SDNT]

GARCIA ROMERO, Audra Yamile, c/o ALKALA ASOCIADOS S.A., Cali, Colombia; c/o INVHERESA S.A., Cali, Colombia; Cedula No. 66765096 (Colombia) (individual) [SDNT]

GARCIA SANTAMARINA de la TORRE, Alfredo Rafael (a.k.a. SANTAMARINA DE LA TORRE, Rafael Garcia) Panama (individual) [CUBA]

GARCIA VARELA, Luis Fernando, c/o TAURA S.A., Cali, Colombia; Cedula No. 16282923 (Colombia) (individual) [SDNT]

GARCIA VASQUEZ, Omaira, Avenida 2 Norte No. 2N-36, Edif. Campanari Ofc. 340, Cali, Colombia; c/o FINVE S.A., Bogota, Colombia; c/o UNIDAS S.A., Cali, Colombia; DOB 26 Jan 1961; POB Cali, Valle, Colombia; Passport 31870497 (Colombia); Cedula No. 31870497 (Colombia) (individual) [SDNT]

GARZON HERNANDEZ, Rodrigo, c/o DROGAS LA REBAJA, Cali, Colombia (individual) [SDNT]

GARZON RESTREPO, Juan Leonardo, Carrera 7P No. 76-90, Cali, Colombia; Diagonal 53 No. 38A-20 apt. 103, Bogota, Colombia; c/o ALFA PHARMA S.A., Bogota, Colombia; c/o BLANCO PHARMA S.A., Bogota, Colombia; c/o DISTRIBUIDORA MYRAMIREZ S.A., Cali, Colombia; c/o DROGAS LA REBAJA, Cali, Colombia; c/o FARMATODO S.A., Bogota, Colombia; c/o INVERSIONES ARA LTDA., Cali, Colombia; c/o LABORATORIOS GENERICOS VETERINARIOS DE COLOMBIA S.A., Bogota, Colombia; c/o LABORATORIOS KRESSFOR DE COLOMBIA S.A., Bogota, Colombia; c/o PENTACOOP LTDA., Bogota, Colombia; c/o PENTA PHARMA DE COLOMBIA S.A., Bogota, Colombia; c/o VALORES MOBILIARIOS DE OCCIDENTE S.A., Bogota, Colombia; DOB 14 Jan 1962; Cedula No. 16663709 (Colombia) (individual) [SDNT]

GASHI, Sabit; DOB 30 Dec 1967; POB Suva Reka, Serbia and Montenegro (individual) [BALKANS]

GATOIL SUISSE S.A. (n.k.a. TAMOIL SUISSE S.A.; n.k.a. TAMOIL SWITZERLAND), see listings, Switzerland [LIBYA]

GAVIRIA PRICE, Juan Pablo, Carrera 4 No. 11-33 Ofc. 710, Cali, Colombia; c/o CRIADERO LA LUISA E.U., Cali, Colombia; DOB 09 Jul 1960; POB Cali, Valle, Colombia; Passport 16639081 (Colombia); Cedula No. 16639081 (Colombia) (individual) [SDNT]

GCT (a.k.a. GROUPE COMBATTANT TUNISIEN; a.k.a. JAMA'A COMBATTANTE TUNISIEN; a.k.a. JCT; a.k.a. TUNISIAN COMBAT GROUP; a.k.a. TUNISIAN COMBATANT GROUP) [SDGT]

GEMEX AUSSENHANDELS GMBH, Hanauer Landstr. 126-128, D-6000, Frankfurt, Main 1, Germany [CUBA]

GENEGA LTDA. (a.k.a. GENERAL DE NEGOCIOS Y ADMINISTRACION LTDA.), Calle 10 No. 4-47 piso 18, Cali, Colombia; Carrera 3 No. 11-32 of. 939, Cali, Colombia; NIT # 805006744-9 (Colombia) [SDNT]

GENERAL ARAB AFRICAN COMPANY (a.k.a. GAAC; a.k.a. GAAE; a.k.a. GENERAL ARAB AFRICAN ENTERPRISE), P.O. Box 8059, 219 Mohammed El Megarief Street, Tripoli, Libya [LIBYA]

GENERAL ARAB AFRICAN COMPANY (a.k.a. GAAC; a.k.a. GAAE; a.k.a. GENERAL ARAB AFRICAN ENTERPRISE), Nasser Street, Benghazi, Libya [LIBYA]

GENERAL ARAB AFRICAN ENTERPRISE (a.k.a. GAAC; a.k.a. GAAE; a.k.a. GENERAL ARAB AFRICAN COMPANY), Nasser Street, Benghazi, Libya [LIBYA]

GENERAL ARAB AFRICAN ENTERPRISE (a.k.a. GAAC; a.k.a. GAAE; a.k.a. GENERAL ARAB AFRICAN COMPANY), P.O. Box 8059, 219 Mohammed El Megarief Street, Tripoli, Libya [LIBYA]

GENERAL CATERING CORPORATION, P.O. Box 491, Tripoli, Libya [LIBYA]

GENERAL CLEANING COMPANY, P.O. Box 920, Tripoli, Libya [LIBYA]

GENERAL CO. FOR AGRICULTURAL MACHINERY AND NECESSITIES, P.O. Box 324, Tripoli, Libya; (branch) Alziraia, Libya; Benghazi Office, P.O. Box 2094, Benghazi, Libya; (branch) Sebha, Libya; (branch) Zawia, Libya [LIBYA]

GENERAL CO. FOR AGRICULTURAL PROJECTS, P.O. Box 2284, Tripoli, Libya; (branch) P.O. Box 265, Gharian, Libya [LIBYA]

GENERAL CO. FOR CERAMIC AND GLASS PRODUCTS, Aziza, Amiri Bldg, Suani Ben Adam, P.O. Box 12581, Dhara-Tripoli, Libya [LIBYA]

GENERAL CO. FOR CIVIL WORKS, P.O. Box 3306, Tripoli, Libya; (branch) P.O. Box 1299, Benghazi, Libya [LIBYA]

GENERAL CO. FOR CONSTRUCTION AND EDUCATIONAL BUILDINGS, P.O. Box 1186, Tripoli, Libya; (branch) P.O. Box 4087, Benghazi, Libya [LIBYA]

GENERAL CO. FOR ELECTRIC WIRES AND PRODUCTS, P.O. Box 1177, Benghazi, Libya; (branch) P.O. Box 12629, Tripoli, Libya [LIBYA]

GENERAL CO. FOR LAND RECLAMATION, P.O. Box 307, Souani Road, Tripoli, Libya [LIBYA]

GENERAL CO. FOR LEATHER PRODUCTS AND MANUFACTURE, P.O. Box 2319, Tripoli, Libya; (branch) P.O. Box 152, Benghazi, Libya [LIBYA]

GENERAL CO. FOR MARKETING AND AGRICULTURAL PRODUCTION, P.O. Box 2897, Hadba Al Khadra, Tripoli, Libya; (branch) P.O. Box 4251, Benghazi, Libya [LIBYA]

GENERAL CO. FOR TEXTILES, P.O. Box 1816, Benghazi, Libya; (branch) P.O. Box 3257, Tripoli, Libya [LIBYA]

GENERAL CO. FOR TOYS AND SPORT EQUIPMENT, P.O. Box 3270, Tripoli, Libya [LIBYA]

GENERAL COMPANY FOR CHEMICAL INDUSTRIES, P.O. Box 100/411, 100/071, Zuara, Libya [LIBYA]

GENERAL CONSTRUCTION COMPANY, P.O. Box 8636, Tripoli, Libya; (branch) Gharian Office, P.O. Box 178, Gharian, Libya [LIBYA]

GENERAL CORPORATION FOR PUBLIC TRANSPORT, 2175 Sharla Magaryef, Tatanaka Bldg, P.O. Box 4875, Tripoli, Libya; (branch) P.O. Box 9528, Benghazi, Libya [LIBYA]

GENERAL DAIRIES AND PRODUCTS CO., P.O. Box 5318, Tripoli, Libya; (branch) P.O. Box 9118, Benghazi, Libya; Tripoli Factory, Tripoli, Libya; Benghazi Factory, Benghazi, Libya; Khoms Factory, Khoms, Libya; Jebel Akhdar Factory, Jebel Akhdar, Libya [LIBYA]

GENERAL DE NEGOCIOS Y ADMINISTRACION LTDA. (a.k.a. GENEGA LTDA.), Calle 10 No. 4-47 piso 18, Cali, Colombia; Carrera 3 No. 11-32 of. 939, Cali, Colombia; NIT # 805006744-9 (Colombia) [SDNT]

GENERAL ELECTRICITY CORPORATION, P.O. Box 3047, Benghazi, Libya; (branch) P.O. Box 668, Tripoli, Libya [LIBYA]

GENERAL ELECTRONICS CO., P.O. Box 12580, Tripoli, Libya; (branch) P.O. Box 2068, Benghazi [LIBYA]

GENERAL EST. FOR PUBLICATION DISTRIBUTION & ADVERTISING, P.O. Box 113, Beirut, Lebanon [LIBYA]

GENERAL FURNITURE CO., Suani Road, Km. 15, P.O. Box 12655, Tripoli, Libya [LIBYA]

GENERAL LIBYAN CO. FOR ROAD CONSTRUCTION AND MAINTENANCE, P.O. Box 2676, Swani Road, Tripoli, Libya [LIBYA]

GENERAL NATIONAL CO. FOR FLOUR MILLS AND FODDER, Bab Bin Ghashir, P.O. Box 984, Tripoli, Libya; Benghazi Office, Gamel Abdumaser Street, P.O. Box 209, Benghazi, Libya [LIBYA]

GENERAL NATIONAL CO. FOR INDUSTRIAL CONSTRUCTION, P.O. Box 953, Beida, Libya; Tripoli Branch, P.O. Box 295, Tripoli, Libya; Benghazi Branch, Gamal Abd El Naser Street, P.O. Box 9502, Benghazi, Libya [LIBYA]

GENERAL NATIONAL MARITIME TRANSPORT CO. (a.k.a. THE NATIONAL LINE OF LIBYA), P.O. Box 80173, 2 Ahmed Sharif Street, Tripoli, Libya (and at all Libyan ports); (branch) P.O. Box 2450, Benghazi, Libya [LIBYA]

GENERAL NATIONAL ORGANISATION FOR INDUSTRIALIZATION, Shaira Sana'a, P.O. Box 4388, Tripoli, Libya; (branch) P.O. Box 2779, Benghazi, Libya [LIBYA]

GENERAL NICKEL SA (a.k.a. LA COMPANIA GENERAL DE NIQUEL), Cuba [CUBA]

GENERAL ORGANISATION FOR TOURISM AND FAIRS, P.O. Box 891, Sharia Haiti, Tripoli, Libya [LIBYA]

GENERAL PAPER AND PRINTING CO., P.O. Box 8096, Tripoli, Libya; (branch) Benghazi, Libya; (branch) Sebha, Libya [LIBYA]

GENERAL POST AND TELECOMMUNICATIONS CORP., Maidan al Jazair, Tripoli, Libya [LIBYA]

GENERAL RAHILA AUTOMOBILE CO., Libya [LIBYA]

GENERAL TOBACCO COMPANY, Gorji Road Km. 6, P.O. Box 696, Tripoli, Libya; (branch) Benghazi, Libya; (branch) Sebha, Libya; (branch) Zavia, Libya; (branch) Garian, Libya; (branch) Khoms, Libya [LIBYA]

GENERAL WATER WELL DRILLING CO., P.O. Box 2532, Sharia Omar Muktar, Mormesh Bldg., Tripoli, Libya; (branch) P.O. Box 2532, Benghazi, Libya [LIBYA]

GENERICOS ESPECIALES S.A. (a.k.a. GENES S.A.), Carrera 42C No. 22C-36, Bogota, Colombia; NIT # 830050661-3 (Colombia) [SDNT]

GENES S.A. (a.k.a. GENERICOS ESPECIALES S.A.), Carrera 42C No. 22C-36, Bogota, Colombia; NIT # 830050661-3 (Colombia) [SDNT]

GEOPLASTICOS S.A. (f.k.a. COLOMBIANA DE BOLSAS S.A.), Calle 24 No. 4-31, Cali, Colombia; NIT # 890931876-9 (Colombia) [SDNT]

GESTORA MERCANTIL S.A., Avenida 7 Norte No. 23N-81, Cali, Colombia; Avenida 7 Norte No. 23-77, Cali, Colombia; NIT # 800154869-6 (Colombia) [SDNT]

GESTORAS PRO-AMNISTIA (n.k.a. ASKATASUNA), Spain [SDGT]

GEX EXPLORE S. de R.L. de C.V., Avenida David Alfaro Siqueiros 2789-102, Colonia Zona Rio, Tijuana, Baja California, Mexico; Avenida David Alfaro 25, CP 22320, Tijuana, Baja California, Mexico; Calle Nezahualcoyotyl No. 1660, CP 22320, Colonia Zona Rio, Tijuana, Baja California, Mexico [SDNTK]

GEZIRA AUTOMOBILE COMPANY (a.k.a. EL GEZIRA AUTOMOBILE COMPANY), P.O. Box 232, Khartoum, Sudan [SUDAN]

GEZIRA TANNERY, Gezira, Sudan [SUDAN]

GEZIRA TRADE & SERVICES COMPANY LIMITED, P.O. Box 215, Khartoum, Sudan; P.O. Box 17, Port Sudan, Sudan; El Obeid, Sudan; Gedarit, Sudan; Juba, Sudan; Kosti, Sudan; Sennar, Sudan; Wad Medani, Sudan [SUDAN]

GHADAMSI, Bashir, Italy (individual) [LIBYA]

GHADBAN, Mohammed Mustafa, P.O. Box 452, Fadiel Abu Omar Square, El-Berkha, Benghazi, Libya (individual) [LIBYA]

GHADBAN, Mohammed Mustafa, P.O. Box 4647, Shuhada Square, Tripoli, Libya (individual) [LIBYA]

GHADBAN, Mohammed Mustafa, Vali Konagi Cad. No. 10, 80200 Nistantas, Istanbul, Turkey (individual) [LIBYA]

GHAFUR, Humam Abdel Khaleq Abdel (a.k.a. ABD-AL-GHAFUR, Humam abd-al-Khaliq; a.k.a. 'ABD AL-RAHMAN, Humam 'abd al-Khaliq; a.k.a. ABD AL-GHAFUR, Humam Abd al-Khaliq; a.k.a. RASHID, Humam 'abd al-Khaliq); DOB 1945; POB ar-Ramadi, Iraq; Ministerof Higher Education and Research; Passport No. M0018061/104 (Iraq) issued 12 Sep 1993; nationality Iraqi (individual) [IRAQ][IRAQ2]

GHAILANI, Abubakary Khalfan Ahmed (a.k.a. GHAILANI, Ahmed Khalfan; a.k.a. “AHMED THE TANZANIAN;” a.k.a. “FOOPIE;” a.k.a. “FUPI;” a.k.a. AHMAD, Abu Bakr; a.k.a. AHMED, A.; a.k.a. AHMED, Abubakar; a.k.a. AHMED, Abubakar K.; a.k.a. AHMED, Abubakar Khalfan; a.k.a. AHMED, Abubakary K.; a.k.a. AHMED, Ahmed Khalfan; a.k.a. AL TANZANI, Ahmad; a.k.a. ALI, Ahmed Khalfan; a.k.a. BAKR, Abu; a.k.a. GHAILANI, Ahmed; a.k.a. GHILANI, Ahmad Khalafan; a.k.a. HUSSEIN, Mahafudh Abubakar Ahmed Abdallah; a.k.a. KHABAR, Abu; a.k.a. KHALFAN, Ahmed; a.k.a. MOHAMMED, Shariff Omar); DOB 14 Mar 1974; alt. DOB 13 Apr 1974; alt. DOB 14 Apr 1974; alt. DOB 1 Aug 1970; POB Zanzibar, Tanzania; citizen Tanzania (individual) [SDGT]

GHAILANI, Ahmed (a.k.a. GHAILANI, Ahmed Khalfan; a.k.a. “AHMED THE TANZANIAN;” a.k.a. “FOOPIE;” a.k.a. “FUPI;” a.k.a. AHMAD, Abu Bakr; a.k.a. AHMED, A.; a.k.a. AHMED, Abubakar; a.k.a. AHMED, Abubakar K.; a.k.a. AHMED, Abubakar Khalfan; a.k.a. AHMED, Abubakary K.; a.k.a. AHMED, Ahmed Khalfan; a.k.a. AL TANZANI, Ahmad; a.k.a. ALI, Ahmed Khalfan; a.k.a. BAKR, Abu; a.k.a. GHAILANI, Abubakary Khalfan Ahmed; a.k.a. GHILANI, Ahmad Khalafan; a.k.a. HUSSEIN, Mahafudh Abubakar Ahmed Abdallah; a.k.a. KHABAR, Abu; a.k.a. KHALFAN, Ahmed; a.k.a. MOHAMMED, Shariff Omar); DOB 14 Mar 1974; alt. DOB 13 Apr 1974; alt. DOB 14 Apr 1974; alt. DOB 1 Aug 1970; POB Zanzibar, Tanzania; citizen Tanzania (individual) [SDGT]

GHAILANI, Ahmed Khalfan (a.k.a. “AHMED THE TANZANIAN;” a.k.a. “FOOPIE;” a.k.a. “FUPI;” a.k.a. AHMAD, Abu Bakr; a.k.a. AHMED, A.; a.k.a. AHMED, Abubakar; a.k.a. AHMED, Abubakar K.; a.k.a. AHMED, Abubakar Khalfan; a.k.a. AHMED, Abubakary K.; a.k.a. AHMED, Ahmed Khalfan; a.k.a. AL TANZANI, Ahmad; a.k.a. ALI, Ahmed Khalfan; a.k.a. BAKR, Abu; a.k.a. GHAILANI, Abubakary Khalfan Ahmed; a.k.a. GHAILANI, Ahmed; a.k.a. GHILANI, Ahmad Khalafan; a.k.a. HUSSEIN, Mahafudh Abubakar Ahmed Abdallah; a.k.a. KHABAR, Abu; a.k.a. KHALFAN, Ahmed; a.k.a. MOHAMMED, Shariff Omar); DOB 14 Mar 1974; alt. DOB 13 Apr 1974; alt. DOB 14 Apr 1974; alt. DOB 1 Aug 1970; POB Zanzibar, Tanzania; citizen Tanzania (individual) [SDGT]

GHALIB, Nayif Shindakh Thamir; Ba'th Party Regional Command Chairman, an-Najaf; member Iraqi National Assembly; nationality Iraqi (individual) [IRAQ][IRAQ2]

GHARIB (a.k.a. 'ABD AL-KARIM; a.k.a. ABU AL-MU'TAZ; a.k.a. AL-HABIB; a.k.a. AL-KHALAYLAH, Ahmad Fadil Nazzal; a.k.a. AL-MUHAJIR; a.k.a. AL-ZARQAWI, Abu Mus'Ab; a.k.a. KHALAILAH, Ahmed Fadeel; a.k.a. KHALAYLEH, Fedel Nazzel; a.k.a. “MOUHANAD;” a.k.a. “MOUHANNAD;” a.k.a. “MUHANNAD;” a.k.a. “RASHID”); DOB 20 Oct 1966; POB Zarqa, Jordan; Passport No. Z264968 (Jordan); citizen Jordan; National No. 9661031030 (Jordan) (individual) [SDGT]

GHARIB, Fadil Mahmud (a.k.a. AL-MASHAIKHI, Gharib Muhammad Fazel); DOB 1944; POB Dujail, Iraq; Ba'th Party Regional Command Chairman, Babil; Chairman, General Federation of Iraqi Trade Unions; nationality Iraqi (individual) [IRAQ][IRAQ2]

GHILANI, Ahmad Khalafan (a.k.a. GHAILANI, Ahmed Khalfan; a.k.a. “AHMED THE TANZANIAN;” a.k.a. “FOOPIE;” a.k.a. “FUPI;” a.k.a. AHMAD, Abu Bakr; a.k.a. AHMED, A.; a.k.a. AHMED, Abubakar; a.k.a. AHMED, Abubakar K.; a.k.a. AHMED, Abubakar Khalfan; a.k.a. AHMED, Abubakary K.; a.k.a. AHMED, Ahmed Khalfan; a.k.a. AL TANZANI, Ahmad; a.k.a. ALI, Ahmed Khalfan; a.k.a. BAKR, Abu; a.k.a. GHAILANI, Abubakary Khalfan Ahmed; a.k.a. GHAILANI, Ahmed; a.k.a. HUSSEIN, Mahafudh Abubakar Ahmed Abdallah; a.k.a. KHABAR, Abu; a.k.a. KHALFAN, Ahmed; a.k.a. MOHAMMED, Shariff Omar); DOB 14 Mar 1974; alt. DOB 13 Apr 1974; alt. DOB 14 Apr 1974; alt. DOB 1 Aug 1970; POB Zanzibar, Tanzania; citizen Tanzania (individual) [SDGT]

GHUFRON, Ali (a.k.a. “Sofwan;” a.k.a. AL MUKHLAS, Ali Gufron; a.k.a. GUFRON, Ali; a.k.a. HAQ, Huda bin Abdul; a.k.a. Muchlas; a.k.a. Mukhlas; a.k.a. Muklas); DOB 9 Feb 1960; alt. DOB 2 Feb 1960; POB Solokuro subdistrict, Lamongan district, East Java province, Indonesia; nationality Indonesian (individual) [SDGT]

GI (a.k.a. AL-GAMA'AT; a.k.a. ISLAMIC GROUP; a.k.a. IG; a.k.a. EGYPTIAN AL-GAMA'AT AL-ISLAMIYYA; a.k.a. ISLAMIC GAMA'AT; a.k.a. GAMA'A AL-ISLAMIYYA) [SDT][FTO][SDGT]

GIA (a.k.a. ARMED ISLAMIC GROUP; a.k.a. AL-JAMA'AH AL-ISLAMIYAH AL-MUSALLAH; a.k.a. GROUPEMENT ISLAMIQUE ARME) [FTO] [SDGT]

GIBRIL, Mustafa Saleh, P.O. Box 3224, Martyr Street, Megrief, Tripoli, Libya (individual) [LIBYA]

GICM (a.k.a. GROUPE ISLAMIQUE COMBATTANT MAROCAIN; a.k.a. MOROCCAN ISLAMIC COMBATANT GROUP) [SDGT]

GIL GARCIA, Jose Alejandro, Avenida Ejercito Trigarante 7865-J, Infonavit Cuchanilla 22680, Tijuana, Baja California, Mexico; Avenida Altabrisa 15401, Fraccionamiento Altabrisa, Otay Universidad, Tijuana, Baja California, Mexico; c/o FARMACIA VIDA SUPREMA, S.A. DE C.V., Tijuana Baja California, Mexico; c/o DISTRIBUIDORA IMPERIAL DE BAJA CALIFORNIA, S.A. de C.V., Tijuana, Baja California, Mexico; c/o ADMINISTRADORA DE INMUEBLES VIDA, S.A. de C.V., Tijuana, Baja California, Mexico; c/o ADP, S.C., Tijuana, Baja California, Mexico; DOB 22 Jan 1952; POB Culiacan, Sinaloa, Mexico; Credencial electoral No. 103624690069 (Mexico); R.F.C.# GIGA-520122 (Mexico) (individual) [SDNTK]

GIL, Josef (a.k.a. GILBERT, Joseph; a.k.a. GILBOA, Joseph; a.k.a. GILBOA, Joseph Papzian; a.k.a. GILBOA, Yosef); DOB 8 Apr 1943; POB Israel (individual) [SDNTK]

GIL OSORIO, Alfonso, c/o BLANCO PHARMA S.A., Bogota, Colombia; c/o D'CACHE S.A., Cali, Colombia; c/o DEPOSITO POPULAR DE DROGAS S.A., Cali, Colombia; c/o DISTRIBUIDORA DE DROGAS CONDOR LTDA., Bogota, Colombia; c/o DISTRIBUIDORA DE DROGAS LA REBAJA S.A., Bogota, Colombia; c/o DISTRIBUIDORA MIGIL LTDA., Cali, Colombia; c/o FARMATODO S.A., Bogota, Colombia; c/o LABORATORIOS BLAIMAR DE COLOMBIA S.A., Bogota, Colombia; c/o LABORATORIOS KRESSFOR DE COLOMBIA S.A., Bogota, Colombia; c/o SERVICIOS SOCIALES LTDA., Barranquilla, Colombia; DOB 17 Dec 1946; alt. DOB 17 Dec 1940; Passports 14949229 (Colombia), 14949279 (Colombia), 14949289 (Colombia), AC342060 (Colombia); Cedula No. 14949279 (Colombia) (individual) [SDNT]

GIL RODRIGUEZ, Ana Maria, c/o AMPARO R. DE GIL Y CIA. S.C.S., Cali, Colombia; c/o DROBLAM S.A., Cali, Colombia; DOB 24 Aug 1978; Passport 67020296 (Colombia); Cedula No. 67020296 (Colombia) (individual) [SDNT]

GIL RODRIGUEZ, Angela Maria, c/o AMPARO R. DE GIL Y CIA. S.C.S., Cali, Colombia; c/o DROBLAM S.A., Cali, Colombia; DOB 21 Feb 1980; Passport 52721666 (Colombia); Cedula No. 52721666 (Colombia) (individual) [SDNT]

GIL RODRIGUEZ, Juan Felipe, c/o AMPARO R. DE GIL Y CIA. S.C.S., Cali, Colombia; c/o DROBLAM S.A., Cali, Colombia; DOB 7 Apr 1975; Passport 94446642 (Colombia); Cedula No. 94446642 (Colombia) (individual) [SDNT]

GILBERT, Joseph (a.k.a. GIL, Josef; a.k.a. GILBOA, Joseph; a.k.a. GILBOA, Joseph Papzian; a.k.a. GILBOA, Yosef); DOB 8 Apr 1943; POB Israel (individual) [SDNTK]

GILBOA, Joseph (a.k.a. GIL, Josef; a.k.a. GILBERT, Joseph; a.k.a. GILBOA, Joseph Papzian; a.k.a. GILBOA, Yosef); DOB 8 Apr 1943; POB Israel (individual) [SDNTK]

GILBOA, Joseph Papzian (a.k.a. GIL, Josef; a.k.a. GILBERT, Joseph; a.k.a. GILBOA, Joseph; a.k.a. GILBOA, Yosef); DOB 8 Apr 1943; POB Israel (individual) [SDNTK]

GILBOA, Yosef (a.k.a. GIL, Josef; a.k.a. GILBERT, Joseph; a.k.a. GILBOA, Joseph; a.k.a. GILBOA, Joseph Papzian); DOB 8 Apr 1943; POB Israel (individual) [SDNTK]

GILMAN FRANCO, Maria, c/o TAURA S.A., Cali, Colombia; Cedula No. 22103099 (Colombia) (individual) [SDNT]

GINEID SUGAR FACTORY, P.O. Box 1, Gineid, Sudan [SUDAN]

GIRALDO ARBELAEZ, Fernando, c/o INMOBILIARIA U.M.V. S.A., Cali, Colombia; Cedula No. 16249351 (Colombia) (individual) [SDNT]

GIRALDO JARAMILLO, Clara Stella, Avenida 2N No. 19-73 apt. 302, Cali, Colombia; c/o CONCRETOS CALI S.A., Cali, Colombia; c/o CONSTRUCTORA DIMISA LTDA., Cali, Colombia; Cedula No. 31855785 (Colombia) (individual) [SDNT]

GIRALDO RUBIO, Marleni, c/o MAGEN LTDA., Bogota, Colombia; Passport 51760752 (Colombia); Cedula No. 51760752 (Colombia) (individual) [SDNT]

GIRALDO SARRIA, Octavio, c/o INMOBILIARIA U.M.V. S.A., Cali, Colombia (individual) [SDNT]

GIRALDO SARRIA, Rosa Amelia, c/o INMOBILIARIA U.M.V. S.A., Cali, Colombia (individual) [SDNT]

GIRALDO SERNA, Hernan; DOB 16 Oct 1948; Cedula No. 12531356 (Colombia) (individual) [SDNTK]

GLAJAN S.A., Transversal 29 No. 39-92, Bogota, Colombia; NIT # 830023266-2 (Colombia) [SDNT]

GLOBAL MARINE OVERSEAS, INC., Panama [CUBA]

GLOBAL RELIEF FOUNDATION, INC. (a.k.a. FONDATION SECOURS MONDIAL A.S.B.L.; a.k.a. FONDATION SECOURS MONDIAL—BELGIQUE A.S.B.L.; a.k.a. FONDATION SECOURS MONDIAL—KOSOVA; a.k.a. FONDATION SECOURS MONDIAL VZW; a.k.a. FONDATION SECOURS MONDIAL “WORLD RELIEF;” a.k.a. FSM; a.k.a. SECOURS MONDIAL DE FRANCE; a.k.a. STICHTING WERELDHULP—BELGIE, V.Z.W.), Rruga e Kavajes, Building No. 3, Apartment No. 61, P.O. Box 2892, Tirana, Albania; Vaatjesstraat, 29, 2580 Putte, Belgium; Rue des Bataves 69, 1040 Etterbeek, Brussels, Belgium; P.O. Box 6, 1040 Etterbeek 2, Brussels, Belgium; Mula Mustafe Baseskije Street No. 72, Sarajevo, Bosnia; Put Mladih Muslimana Street 30/A, Sarajevo, Bosnia; 49 rue du Lazaret, 67100 Strasbourg, France; Rr. Skenderbeu 76, Lagjja Sefa, Gjakova, Kosovo; Ylli Morina Road, Djakovica, Kosovo; House 267 Street No. 54, Sector F-11/4, Islamabad, Pakistan; Saray Cad. No. 37 B Blok, Yesilyurt Apt. 2/4, Sirinevler, Turkey; Afghanistan; Azerbaijan; Bangladesh; Chechnya, Russia; China; Eritrea; Ethiopia; Georgia; India; Ingushetia, Russia; Iraq; Jordan; Kashmir; Lebanon; Sierra Leone; Somalia; Syria; West Bank and Gaza; V.A.T. Number: BE 454,419,759 [SDGT]

GLOBAL RELIEF FOUNDATION, INC., P.O. Box 1406, Bridgeview, IL 60455, U.S.A.; U.S. FEIN: 36-3804626 [SDGT]

GNPOC (a.k.a. GREATER NILE PETROLEUM OPERATING COMPANY LIMITED), Hotel Palace, Room 420, El Nil Avenue, Khartoum, Sudan; El Harr Oilfield, Muglad Basin, Sudan; El Nar Oilfield, Muglad Basin, Sudan; El Toor Oilfield, Muglad Basin, Sudan; Heglig Oilfield, Muglad Basin, Sudan; Heglig Processing Facility, Muglad Basin, Sudan; Kaikang Oilfield, Muglad Basin, Sudan; Toma South Oilfield, Muglad Basin, Sudan; Unity Oilfield, Muglad Basin, Sudan; Pipeline, Heglig via El-Obeid to Port Sudan, Sudan; Red Sea Export Terminal, Marsa al-Basha'ir, Sudan [SUDAN]

GOCHE, Nicholas, Minister of State for National Security of Zimbabwe; DOB 1 Aug 1946 (individual) [ZIMB]

GOGEASCOECHEA ARRONATEGUI, Eneko; member ETA; DOB 29 Apr 1967; POB Guernica (Vizcaya Province), Spain; D.N.I. 44.556.097 (individual) [SDGT]

GOIRICELAYA GONZALEZ, Cristina; member ETA; DOB 23 Dec 1967; POB Vergara (Guipuzcoa Province), Spain; D.N.I. 16.282.556 (individual) [SDGT]

GOLDEN COMET NAVIGATION CO. LTD., c/o EMPRESA DE NAVEGACION MAMBISA, Apartado 543, San Ignacio 104, Havana, Cuba [CUBA]

GOMEZ ALVAREZ, Sor Teresa, c/o FUNDACION PARA LA PAZ DE CORDOBA, Monteria, Cordoba, Colombia; DOB 27 Jun 1956; POB Amalfi, Antioquia, Colombia; Passport 21446537 (Colombia); Cedula No. 21446537 (Colombia) (individual) [SDNTK]

GOMEZ APONTE, Laura Victoria, Carrera 4A No. 63N-29, Cali, Colombia; c/o LADRILLERA LA CANDELARIA LTDA., Cali, Colombia; DOB 31 Oct 1965; POB Cali, Valle, Colombia; Passport 31937650(Colombia); Cedula No. 31937650 (Colombia) (individual) [SDNT]

GOMEZ BELTRAN, Jorge, c/o LABORATORIOS GENERICOS VETERINARIOS, Bogota, Colombia; Cedula No. 19091811 (Colombia) (individual) [SDNT]

GOMEZ BERRIO, Olmes (Holmes) de Jesus, Carrera 1 No. 18-52, Cali, Colombia; c/o INVERSIONES INVERVALLE S.A., Cali, Colombia; c/o INVERSIONES Y CONSTRUCCIONES VALLE S.A., Cali, Colombia; Cedula No. 73105133 (Colombia) (individual) [SDNT]

GOMEZ BUSTAMANTE, Luis Hernando, Km 7 Via Cartago-Obando, Hacienda El Vergel, Cartago, Colombia; Km 12 Via Santa Ana Molina, Hacienda Doima, Cartago, Colombia; c/o AGRICOLA DOIMA DEL NORTE DEL VALLE LTDA., Cartago, Valle, Colombia; c/o GANADERIA EL VERGEL LTDA., Cartago, Valle, Colombia; c/o GANADERIAS BILBAO LTDA., Cartago, Valle, Colombia; c/o INMOBILIARIA EL ESCORIAL LTDA., Cartago, Valle, Colombia; c/o INMOBILIARIA LINARES LTDA., Cartago, Valle, Colombia; c/o INMOBILIARIA PASADENA LTDA., Cartago, Valle, Colombia; c/o ORGANIZACION LUIS HERNANDO GOMEZ BUSTAMANTE Y CIA. S.C.S., Cartago, Valle, Colombia; c/o VISCAYA LTDA., Cartago, Valle, Colombia; DOB 14 Mar 1958; POB El Aguila, Valle, Colombia; Passport 16209410 (Colombia); Cedula No. 16209410 (Colombia) (individual) [SDNT]

GOMEZ CHAVEZ, Gabriel (a.k.a. GONZALEZ LOPEZ, Gregorio; a.k.a. GONZALEZ QUIRARTE, Eduardo; a.k.a. GONZALES QUIRARTE, Jose; a.k.a. GONZALEZ QUIRARTE, Lalo; a.k.a. ORELLANA ERAZO, Hector Manuel); DOB 28 Aug 1962; alt. DOB 20 Aug 1962; POB Jalisco, Mexico; Passport No. 96140045817 (Mexico), Passport No. 97380018185 (Mexico); SSN 550-63-9593 (U.S.A.) (individual) [SDNTK]

GOMEZ GALINDO, Omaira, Apartado Aereo 38028, Cali, Colombia; Avenida 6N No. 38-90, Cali, Colombia; c/o CONSTRUCTORA GOPEVA LTDA., Cali, Colombia; Cedula No. 31299825 (Colombia) (individual) [SDNT]

GOMEZ GOMEZ, Viviana, Carrera 4 No. 12-20 of. 206, Cartago, Valle, Colombia; c/o AGRICOLA DOIMA DEL NORTE DEL VALLE LTDA., Cartago, Valle, Colombia; c/o INMOBILIARIA PASADENA LTDA., Cartago, Valle, Colombia; c/o ORGANIZACION LUIS HERNANDO GOMEZ BUSTAMANTE Y CIA. S.C.S., Cartago, Valle, Colombia; c/o VISCAYA LTDA., Cartago, Valle, Colombia; DOB 17 Oct 1982; NIT # 681946748-1 (Colombia) (individual) [SDNT]

GOMEZ J., Luis Fernando, c/o INMOBILIARIA U.M.V. S.A., Cali, Colombia; Cedula No. 16716914 (Colombia) (individual) [SDNT]

GOMEZ JARAMILLO, Olga Cecilia, Carrera 4 No. 12-20 of. 206, Cartago, Valle, Colombia; c/o AGRICOLA DOIMA DEL NORTE DEL VALLE LTDA., Cartago, Valle, Colombia; c/o GANADERIA EL VERGEL LTDA., Cartago, Valle, Colombia; c/o INMOBILIARIA EL ESCORIAL LTDA., Cartago, Valle, Colombia; c/o INMOBILIARIA LINARES LTDA., Cartago, Valle, Colombia; c/o INMOBILIARIA PASADENA LTDA., Cartago, Valle, Colombia; c/o ORGANIZACION LUIS HERNANDO GOMEZ BUSTAMANTE Y CIA. S.C.S., Cartago, Valle, Colombia; c/o VISCAYA LTDA., Cartago, Valle, Colombia; DOB 29 Feb 1956; Passport 31398070 (Colombia); Cedula No. 31398070 (Colombia) (individual) [SDNT]

GOMEZ, Julio Humberto, c/o LABORATORIOS GENERICOS VETERINARIOS, Bogota, Colombia; Cedula No. 19092817 (Colombia) (individual) [SDNT]

GOMEZ MORA, Ricardo, c/o INVERSIONES GEELE LTDA., Bogota, Colombia; c/o LABORATORIOS GENERICOS VETERINARIOS, Bogota, Colombia; Cedula No. 3249673 (Colombia) (individual) [SDNT]

GOMEZ POVEDA, Gustavo, c/o C A V J CORPORATION LTDA., Bogota, Colombia; DOB 8 Nov 1960; Passport 19416811 (Colombia); Cedula No. 19416811 (Colombia) (individual) [SDNT]

GOMEZ SUAREZ, Jose Alonso, c/o COOPDISAN, Bucaramanga, Colombia; c/o DROGAS LA REBAJA BUCARAMANGA S.A., Bucaramanga, Colombia; DOB 8 Jan 1956; Passport 91066409 (Colombia); Cedula No. 91066409 (Colombia) (individual) [SDNT]

GOMEZ V., Manuel Antonio, c/o GANADERA LTDA., Cali, Colombia, Cedula No. 7921814 (Colombia) (individual) [SDNT]

GONGORA ALARCON, Hernando, c/o TAURA S.A., Cali, Colombia; Cedula No. 19298944 (Colombia) (individual) [SDNT]

GONZALES QUIRARTE, Jose (a.k.a. GOMEZ CHAVEZ, Gabriel; a.k.a. GONZALEZ LOPEZ, Gregorio; a.k.a. GONZALEZ QUIRARTE, Eduardo; a.k.a. GONZALEZ QUIRARTE, Lalo; a.k.a. ORELLANA ERAZO, Hector Manuel); DOB 28 Aug 1962; alt. DOB 20 Aug 1962; POB Jalisco, Mexico; Passport No. 96140045817 (Mexico), Passport No. 97380018185 (Mexico); SSN 550-63-9593 (U.S.A.) (individual) [SDNTK]

GONZALEZ ALARCON, Sandra Judith, c/o CODISA, Bogota, Colombia; c/o FARMACOOP, Bogota, Colombia; DOB 7 Jul 1970; Passport 52551222 (Colombia); Cedula No. 52551222 (Colombia) (individual) [SDNT]

GONZALEZ BENITEZ, Olga Patricia, Hacienda Coque, Cartago, Colombia; Carrera 4 No. 16-04 apt. 303, Cartago, Colombia; Avenida 4 Oeste No. 5-97 Apt. 1001, Cali, Colombia; c/o AGRICOLA GANADERA HENAO GONZALEZ Y CIA. S.C.S., Cartago, Colombia; c/o COMPANIA AGROINVERSORA HENAGRO LTDA., Cartago, Colombia; c/o DESARROLLOS COMERCIALES E INDUSTRIALES HENAO GONZALEZ Y CIA. S.C.S., Cartago, Colombia; DOB 4 Aug 1965; POB Cartago, Valle, Colombia; Passports AH567983 (Colombia), 29503761 (Colombia); Cedula No. 29503761 (Colombia) (individual) [SDNT]

GONZALEZ, Carlos Alfonso (a.k.a. Carlos ALFONSO), Panama (individual) [CUBA]

GONZALEZ, Jose (a.k.a. ALVAREZ TOSTADO, Jose; a.k.a. CASTELLANOS ALVAREZ TOSTADO, Juan Jose); DOB 27 Aug 1955; POB Mexico (individual) [SDNTK]

GONZALEZ LOPEZ, Gregorio (a.k.a. GOMEZ CHAVEZ, Gabriel; a.k.a. GONZALEZ QUIRARTE, Eduardo; a.k.a. GONZALES QUIRARTE, Jose; a.k.a. GONZALEZ QUIRARTE, Lalo; a.k.a. ORELLANA ERAZO, Hector Manuel); DOB 28 Aug 1962; alt. DOB 20 Aug 1962; POB Jalisco, Mexico; Passport No. 96140045817 (Mexico), Passport No. 97380018185 (Mexico); SSN 550-63-9593 (U.S.A.) (individual) [SDNTK]

GONZALEZ, Maria Lorena, c/o INVERSIONES Y CONSTRUCCIONES ATLAS LTDA., Cali, Colombia; Cedula No. 31992548 (Colombia) (individual) [SDNT]

GONZALEZ MARTINEZ, Francisco Javier, c/o ADMINISTRADORA DE SERVICIOS VARIOS CALIMA S.A., Cali Colombia; c/o CHAMARTIN S.A., Cali, Colombia; c/o SERVICIOS DE LA SABANA E.U., Bogota, Colombia; Passport 16693353 (Colombia); Cedula No. 16693353 (Colombia) (individual) [SDNT]

GONZALEZ QUINTERO, Melba Patricia, c/o AMERICANA DE COSMETICOS S.A., Bogota, Colombia; c/o COINTERCOS S.A., Bogota, Colombia; c/o COSMEPOP, Bogota, Colombia; c/o DISTRIBUIDORA DE DROGAS CONDOR S.A., Bogota, Colombia; c/o FIDUSER LTDA., Bogota, Colombia; c/o LATINA DE COSMETICOS Y DISTRIBUCIONES S.A., Bogota, Colombia; DOB 24 Dec 1971; Passport 35415232 (Colombia); Cedula No. 35415232 (Colombia) (individual) [SDNT]

GONZALEZ QUIONES, Jorge (a.k.a. ALCIDES MAGANA, Ramon; a.k.a. ALCIDES MAGANE, Ramon; a.k.a. ALCIDES MAYENA, Ramon; a.k.a. ALCIDEZ MAGANA, Ramon; a.k.a. MAGANA ALCIDES, Ramon; a.k.a. MAGANA, Jorge; a.k.a. MAGNA ALCIDEDES, Ramon; a.k.a. MATA, Alcides; a.k.a. RAMON MAGANA, Alcedis; a.k.a. RAMON MAGANA, Alcides; a.k.a. ROMERO, Antonio); DOB 4 Sep 1957 (individual) [SDNTK]

GONZALEZ QUIRARTE, Eduardo (a.k.a. GOMEZ CHAVEZ, Gabriel; a.k.a. GONZALEZ LOPEZ, Gregorio; a.k.a. GONZALES QUIRARTE, Jose; a.k.a. GONZALEZ QUIRARTE, Lalo; a.k.a. ORELLANA ERAZO, Hector Manuel); DOB 28 Aug 1962; alt. DOB 20 Aug 1962; POB Jalisco, Mexico; Passport No. 96140045817 (Mexico), Passport No. 97380018185 (Mexico); SSN 550-63-9593 (U.S.A.) (individual) [SDNTK]

GONZALEZ QUIRARTE, Lalo (a.k.a. GOMEZ CHAVEZ, Gabriel; a.k.a. GONZALEZ LOPEZ, Gregorio; a.k.a. GONZALEZ QUIRARTE, Eduardo; a.k.a. GONZALES QUIRARTE, Jose; a.k.a. ORELLANA ERAZO, Hector Manuel); DOB 28 Aug 1962; alt. DOB 20 Aug 1962; POB Jalisco, Mexico; Passport No. 96140045817 (Mexico), Passport No. 97380018185 (Mexico); SSN 550-63-9593 (U.S.A.) (individual) [SDNTK]

GONZALEZ ROBLEDO, Julio Cesar, c/o LABORATORIOS GENERICOS VETERINARIOS, Bogota, Colombia; Cedula No. 2905977 (Colombia) (individual) [SDNT]

GOTOVINA, Ante; DOB 12 Oct 1955; POB Pasman, Croatia; ICTY indictee (individual) [BALKANS]

GRACADAL S.A. (n.k.a. DISMERCOOP; n.k.a. COOPERATIVA MULTIACTIVA DE EMPLEADOS DE SUPERMERCADOS Y AFINES; f.k.a. DISTRIBUIDORA MIGIL LTDA.; f.k.a. DISTRIBUIDORA MIGIL BOGOTA LTDA.; f.k.a. DISTRIBUIDORA MIGIL CALI S.A.; f.k.a. MIGIL), Calle 5C No. 41-30, Cali, Colombia; Carrera 26 No. 5B-65, Cali, Colombia; Carrera 30 No. 5-12, Cali, Colombia; NIT # 805003637-5 (Colombia) [SDNT]

GRAN COMPANIA DE HOTELES LTDA. (a.k.a. GRANCO), Calle 74 No. 53-30, Barranquilla, Colombia; NIT # 800011606-2 (Colombia) [SDNT]

GRAN MUELLE S.A., Carrera 3 No. 7-32 Piso 3, Buenaventura, Colombia; Carrera 3 No. 7-42, Buenaventura, Colombia; Calle 6 Km 5 Kennedy, Buenaventura, Colombia; Calle 7A No. 3-73 Piso 3, Buenaventura, Colombia; Av. Simon Bolivar Km 4 El Pinal, Buenaventura, Colombia; Av. Simon Bolivar Km 5, Buenaventura, Colombia; Av. Portuaria Edif. Colfecar B-B Modulo 38, Buenaventura, Colombia; NIT # 800173054-1 (Colombia) [SDNT]

GRANCO (a.k.a. GRAN COMPANIA DE HOTELES LTDA.), Calle 74 No. 53-30, Barranquilla, Colombia; NIT # 800011606-2 (Colombia) [SDNT]

GRANJA LA SIERRA LTDA., Carrera 85C No. 43-22, Cali, Colombia; Callejon El Dinamo V/Gorgona, Candelaria, Colombia; NIT # 800253142-5 (Colombia) [SDNT]

GREATER NILE PETROLEUM OPERATING COMPANY LIMITED (a.k.a. GNPOC), Hotel Palace, Room 420, El Nil Avenue, Khartoum, Sudan; El Harr Oilfield, Muglad Basin, Sudan; El Nar Oilfield, Muglad Basin, Sudan; El Toor Oilfield, Muglad Basin, Sudan; Heglig Oilfield, Muglad Basin, Sudan; Heglig Processing Facility, Muglad Basin, Sudan; Kaikang Oilfield, Muglad Basin, Sudan; Toma South Oilfield, Muglad Basin, Sudan; Unity Oilfield, Muglad Basin, Sudan; Pipeline, Heglig via El-Obeid to Port Sudan, Sudan; Red Sea Export Terminal, Marsa al-Basha'ir, Sudan [SUDAN]

GRETE SHIPPING CO. S.A., c/o EMPRESA DE NAVEGACION CARIBE, Edificio Lonja del Comercio, Lamparilla 2, Caja Postal 1784, Havana 1, Cuba [CUBA]

GROUP OF SUPPORTERS OF THE SALAFIST TREND (a.k.a. DHAMAT HOUMET DAAWA SALAFIA; a.k.a. DJAMAAT HOUMAT ED DAAWA ES SALAFIYA; a.k.a. DJAMAAT HOUMAT EDDAWA ESSALAFIA; a.k.a. DJAMAATT HOUMAT ED DAAWA ES SALAFIYA; a.k.a. EL-AHOUAL BATTALION; a.k.a. GROUP OF SUPPORTERS OF THE SALAFISTE TREND; a.k.a. GROUP PROTECTORS OF SALAFIST PREACHING; a.k.a. HOUMAT ED DAAWA ES SALIFIYA; a.k.a. HOUMAT ED-DAAOUA ES-SALAFIA; a.k.a. HOUMATE ED-DAAWA ES-SALAFIA; a.k.a. HOUMATE EL DA'AWAA ES-SALAFIYYA; a.k.a. KATIBAT EL AHOUAL; a.k.a. KATIBAT EL AHOUEL; a.k.a. PROTECTORS OF THE SALAFIST CALL; a.k.a. PROTECTORS OF THE SALAFIST PREDICATION; a.k.a. SALAFIST CALL PROTECTORS; a.k.a. THE HORROR SQUADRON), Algeria [SDGT]

GROUP OF SUPPORTERS OF THE SALAFISTE TREND (a.k.a. DHAMAT HOUMET DAAWA SALAFIA; a.k.a. DJAMAAT HOUMAT ED DAAWA ES SALAFIYA; a.k.a. DJAMAAT HOUMAT EDDAWA ESSALAFIA; a.k.a. DJAMAATT HOUMAT ED DAAWA ES SALAFIYA; a.k.a. EL-AHOUAL BATTALION; a.k.a. GROUP OF SUPPORTERS OF THE SALAFIST TREND; a.k.a. GROUP PROTECTORS OF SALAFIST PREACHING; a.k.a. HOUMAT ED DAAWA ES SALIFIYA; a.k.a. HOUMAT ED-DAAOUA ES-SALAFIA; a.k.a. HOUMATE ED-DAAWA ES-SALAFIA; a.k.a. HOUMATE EL DA'AWAA ES-SALAFIYYA; a.k.a. KATIBAT EL AHOUAL; a.k.a. KATIBAT EL AHOUEL; a.k.a. PROTECTORS OF THE SALAFIST CALL; a.k.a. PROTECTORS OF THE SALAFIST PREDICATION; a.k.a. SALAFIST CALL PROTECTORS; a.k.a. THE HORROR SQUADRON), Algeria [SDGT]

GROUP PROTECTORS OF SALAFIST PREACHING (a.k.a. DHAMAT HOUMET DAAWA SALAFIA; a.k.a. DJAMAAT HOUMAT ED DAAWA ES SALAFIYA; a.k.a. DJAMAAT HOUMAT EDDAWA ESSALAFIA; a.k.a. DJAMAATT HOUMAT ED DAAWA ES SALAFIYA; a.k.a. EL-AHOUAL BATTALION; a.k.a. GROUP OF SUPPORTERS OF THE SALAFIST TREND; a.k.a. GROUP OF SUPPORTERS OF THE SALAFISTE TREND; a.k.a. HOUMAT ED DAAWA ES SALIFIYA; a.k.a. HOUMAT ED-DAAOUA ES-SALAFIA; a.k.a. HOUMATE ED-DAAWA ES-SALAFIA; a.k.a. HOUMATE EL DA'AWAA ES-SALAFIYYA; a.k.a. KATIBAT EL AHOUAL; a.k.a. KATIBAT EL AHOUEL; a.k.a. PROTECTORS OF THE SALAFIST CALL; a.k.a. PROTECTORS OF THE SALAFIST PREDICATION; a.k.a. SALAFIST CALL PROTECTORS; a.k.a. THE HORROR SQUADRON), Algeria [SDGT]

GROUPE COMBATTANT TUNISIEN (a.k.a. GCT; a.k.a. JAMA'A COMBATTANTE TUNISIEN; a.k.a. JCT; a.k.a. TUNISIAN COMBAT GROUP; a.k.a. TUNISIAN COMBATANT GROUP) [SDGT]

GROUPE ISLAMIQUE COMBATTANT MAROCAIN (a.k.a. GICM; a.k.a. MOROCCAN ISLAMIC COMBATANT GROUP) [SDGT]

GROUPED INDUSTRIES CORPORATION, P.O. Box 2241, Khartoum, Sudan [SUDAN]

GROUPEMENT ISLAMIQUE ARME (a.k.a. ARMED ISLAMIC GROUP; a.k.a. AL-JAMA'AH AL-ISLAMIYAH AL-MUSALLAH; a.k.a. GIA) [FTO] [SDGT]

GRUBAN, Momcilo; DOB 19 Jun 1961; Bosnian Serb; ICTY indictee in custody (individual) [BALKANS]

GRUESO, Alexei, c/o INCOMMERCE S.A., Cali, Colombia; Passport 16607352 (Colombia); Cedula No. 16607352 (Colombia) (individual) [SDNT]

GRUESO HURTADO, Adriana, c/o INCOMMERCE S.A., Cali, Colombia; DOB 10 Oct 1974; Passport 66922311 (Colombia); Cedula No. 66922311 (Colombia) (individual) [SDNT]

GRUESO HURTADO, Ximena, c/o INCOMMERCE S.A., Cali, Colombia; DOB 19 Nov 1980; Passport 66968767 (Colombia); Cedula No. 66968767 (Colombia) (individual) [SDNT]

GRUPO SANTA LTDA., Calle 18 106-98 of. 201/202, Cali, Colombia; Carrera 4 12-41 piso 14 y 15, Edificio Seguros Bolivar, Cali, Colombia; Carrera 84 17-29, Cali, Colombia [SDNT]

GSPC (a.k.a. LE GROUPE SALAFISTE POUR LA PREDICATION ET LE COMBAT; a.k.a. SALAFIST GROUP FOR CALL AND COMBAT; a.k.a. SALAFIST GROUP FOR PREACHING AND COMBAT) [SDGT] [FTO]

GUACA EXPORT, Panama [CUBA]

GUAMA TOUR (a.k.a. AGENCIA DE VIAJES GUAMA; a.k.a. VIAJES GUAMA TOURS; a.k.a. GUAMATUR, S.A.), Bal Harbour Shopping Center, Via Italia, Panama City, Panama [CUBA]

GUAMAR SHIPPING CO. S.A., c/o EMPRESA DE NAVEGACION CARIBE, Edificio Lonja del Comercio, Lamparilla 2, Caja Postal 1784, Havana 1, Cuba [CUBA]

GUAMATUR, Buenos Aires, Argentina [CUBA]

GUAMATUR, S.A. (a.k.a. AGENCIA DE VIAJES GUAMA; a.k.a. VIAJES GUAMA TOURS; a.k.a. GUAMA TOUR), Bal Harbour Shopping Center, Via Italia, Panama City, Panama [CUBA]

GUAMATUR S.A. (n.k.a. HAVANATUR CHILE S.A.), Avenue 11 de Septiembre 2155, Edificio Panoramico, Torre C, Oficina 805, Providencia, Santiago, Chile [CUBA]

GUFRON, Ali (a.k.a. “Sofwan;” a.k.a. AL MUKHLAS, Ali Gufron; a.k.a. GHUFRON, Ali; a.k.a. HAQ, Huda bin Abdul; a.k.a. Muchlas; a.k.a. Mukhlas; a.k.a. Muklas); DOB 9 Feb 1960; alt. DOB 2 Feb 1960; POB Solokuro subdistrict, Lamongan district, East Java province, Indonesia; nationality Indonesian (individual) [SDGT]

GUIERREZ LOERA, Jose Luis (a.k.a. AREGON, Max; a.k.a. CARO RODRIGUEZ, Gilberto; a.k.a. GUMAN LOERAL, Joaquin; a.k.a. GUZMAN, Achivaldo; a.k.a. GUZMAN, Archibaldo; a.k.a. GUZMAN, Aureliano; a.k.a. GUZMAN, Chapo; a.k.a. GUZMAN FERNANDEZ, Joaquin; a.k.a. GUZMAN, Joaquin Chapo; a.k.a. GUZMAN LOEIA, Joaguin; a.k.a. GUZMAN LOERA, Joaquin; a.k.a. GUZMAN LOESA, Joaquin; a.k.a. GUZMAN LOREA, Chapo; a.k.a. GUZMAN PADILLA, Joaquin; a.k.a. ORTEGA, Miguel; a.k.a. OSUNA, Gilberto; a.k.a. RAMIREZ, Joise Luis; a.k.a. RAMOX PEREZ, Jorge) DOB 25 Dec 1954; POB Mexico (individual) [SDNTK]

GULF CENTER S.R.L., Corso Sempione 69, 20149 Milan, Italy; Italian Fiscal Code: 07341170152; V.A.T. Number: IT 07341170152 [SDGT]

GULF OFFICE ASSOC. PER LO SVILUPPO COMM. IND. E TURIS. FRA GLI STATI ARABI DEL GOLFO E LA SVIZZERA (n.k.a. MIGA-MALAYSIAN SWISS, GULF AND AFRICAN CHAMBER), Via Maggio 21, 6900 Lugano TI, Switzerland [SDGT]

GUMAN LOERAL, Joaquin (a.k.a. AREGON, Max; a.k.a. CARO RODRIGUEZ, Gilberto; a.k.a. GUIERREZ LOERA, Jose Luis; a.k.a. GUZMAN, Achivaldo; a.k.a. GUZMAN, Archibaldo; a.k.a. GUZMAN, Aureliano; a.k.a. GUZMAN, Chapo; a.k.a. GUZMAN FERNANDEZ, Joaquin; a.k.a. GUZMAN, Joaquin Chapo; a.k.a. GUZMAN LOEIA, Joaguin; a.k.a. GUZMAN LOERA, Joaquin; a.k.a. GUZMAN LOESA, Joaquin; a.k.a. GUZMAN LOREA, Chapo; a.k.a. GUZMAN PADILLA, Joaquin; a.k.a. ORTEGA, Miguel; a.k.a. OSUNA, Gilberto; a.k.a. RAMIREZ, Joise Luis; a.k.a. RAMOX PEREZ, Jorge) DOB 25 Dec 1954; POB Mexico (individual) [SDNTK]

GUMBO, Rugare, Deputy Minister for Home Affairs of Zimbabwe; DOB 8 Mar 1940 (individual) [ZIMB]

GUTIERRES CERDAS, Alvaro (a.k.a. GUTIERREZ CERDAS, Alvaro), c/o DISTRIBUIDORA DE DROGAS CONDOR LTDA., Bogota, Colombia; DOB: 9 May 1942; Cedula No. 14966562 (Colombia) (individual) [SDNT]

GUTIERREZ ARDILA, Eduardo, c/o EXPORT CAFE LTDA., Cali, Colombia; DOB 8 Aug 1958; Cedula No. 16642433 (Colombia) (individual) [SDNT]

GUTIERREZ BURAGLIA, German, c/o PENTACOOP LTDA., Bogota, Colombia; Cedula No. 19439177 (Colombia) (individual) [SDNT]

GUTIERREZ CANCINO, Fernando Antonio, c/o ALFA PHARMA S.A., Bogota, Colombia; c/o BLANCO PHARMA S.A., Bogota, Colombia; c/o BONOMERCAD S.A., Bogota, Colombia; c/o CREACIONES DEPORTIVAS WILLINGTON LTDA., Cali, Colombia; c/o DECAFARMA S.A., Bogota, Colombia; c/o DISTRIBUIDORA DE DROGAS LA REBAJA, S.A., Bogota, Colombia; c/o DROCARD S.A., Bogota, Colombia; c/o FARMATODO S.A., Bogota, Colombia; c/o INVERSIONES GEELE LTDA., Bogota, Colombia; c/o LABORATORIOS BLAIMAR DE COLOMBIA S.A., Bogota, Colombia; c/o LABORATORIOS GENERICOS VETERINARIOS DE COLOMBIA S.A., Bogota, Colombia; c/o LABORATORIOS KRESSFOR DE COLOMBIA S.A., Bogota, Colombia; c/o PENTA PHARMA DE COLOMBIA S.A., Bogota, Colombia; c/o SERVICIOS SOCIALES LTDA., Cali, Colombia; DOB 4 Dec 1941; Passport 6089071 (Colombia); Cedula No. 6089071 (Colombia) (individual) [SDNT]

GUTIERREZ CERDAS, Alvaro (a.k.a. GUTIERRES CERDAS, Alvaro), c/o DISTRIBUIDORA DE DROGAS CONDOR LTDA., Bogota, Colombia; DOB: 9 May 1942; Cedula No. 14966562 (Colombia) (individual) [SDNT]

GUTIERREZ LOZANO, Ana Maria, c/o BLANCO PHARMA S.A., Bogota, Colombia; c/o INVERSIONES GEELE LTDA., Bogota, Colombia; c/o INVERSIONES KANTON LTDA., Cucuta, Norte de Santander, Colombia; c/o LABORATORIOS GENERICOS VETERINARIOS DE COLOMBIA S.A., Bogota, Colombia; c/o LABORATORIOS KRESSFOR DE COLOMBIA S.A., Bogota, Colombia; c/o SERVICIOS SOCIALES LTDA., Barranquilla, Colombia; DOB 22 Apr 1970; Passport 39783954 (Colombia); Cedula No. 39783954 (Colombia) (individual) [SDNT]

GUTIERREZ LOZANO, Juan Pablo, c/o BLANCO PHARMA S.A., Bogota, Colombia; c/o INVERSIONES GEELE LTDA., Bogota, Colombia; c/o INVERSIONES KANTON LTDA., Cucuta, Norte de Santander, Colombia; c/o LABORATORIOS GENERICOS VETERINARIOS DE COLOMBIA S.A., Bogota, Colombia; c/o LABORATORIOS KRESSFOR DE COLOMBIA S.A., Bogota, Colombia; c/o SERVICIOS SOCIALES LTDA., Barranquilla, Colombia; DOB 11 Apr 1972; Passports 79570028 (Colombia), AC480604 (Colombia); Cedula No. 79570028 (Colombia) (individual) [SDNT]

GUTIERREZ MANCIPE, Hernando, c/o CODISA, Bogota, Colombia; c/o COMERCIALIZADORA DE PRODUCTOS FARMACEUTICOS LTDA., Ibague Colombia; c/o MACROFARMA S.A., Cali, Colombia; c/o MATERIAS PRIMAS Y SUMINISTROS S.A., Bogota, Colombia; Passport 2898335 (Colombia); Cedula No. 2898335 (Colombia) (individual) [SDNT]

GUTIERREZ PADILLA, Clara Ines, c/o ADMACOOP, Bogota, Colombia; c/o CREDISOL, Bogota, Colombia; c/o DECAFARMA S.A., Bogota, Colombia; c/o FARMACOOP, Bogota, Colombia; c/o INVERSIONES DOBLE CERO E.U., Bogota, Colombia; c/o INVERSIONES NUEVO DIA E.U., Bogota, Colombia; c/o INVERSIONES SAMPLA E.U., Bogota, Colombia; DOB 16 Feb 1961; Cedula No. 51583831 (Colombia) (individual) [SDNT]

GUTIERREZ PARDO, Elvira Patricia, c/o ADMACOOP, Bogota, Colombia; c/o BONOMERCAD S.A., Bogota, Colombia; c/o COMEDICAMENTOS S.A., Bogota, Colombia; c/o PATENTES MARCAS Y REGISTROS S.A., Bogota, Colombia; Cedula No. 39612308 (Colombia) (individual) [SDNT]

GUTIERREZ PEREZ, Eliana Patricia, c/o ADMACOOP, Bogota, Colombia; c/o CODISA, Bogota, Colombia; DOB 12 Jan 1954; Passport 41631893 (Colombia); Cedula No. 41631893 (Colombia) (individual) [SDNT]

GUTIERREZ REYES, Jose, Vinales Tours, Oaxaca 80, Roma, Mexico, D.F. (individual) [CUBA]

GUZMAN, Achivaldo (a.k.a. AREGON, Max; a.k.a. CARO RODRIGUEZ, Gilberto; a.k.a. GUIERREZ LOERA, Jose Luis; a.k.a. GUMAN LOERAL, Joaquin; a.k.a. GUZMAN, Archibaldo; a.k.a. GUZMAN, Aureliano; a.k.a. GUZMAN, Chapo; a.k.a. GUZMAN FERNANDEZ, Joaquin; a.k.a. GUZMAN, Joaquin Chapo; a.k.a. GUZMAN LOEIA, Joaguin; a.k.a. GUZMAN LOERA, Joaquin; a.k.a. GUZMAN LOESA, Joaquin; a.k.a. GUZMAN LOREA, Chapo; a.k.a. GUZMAN PADILLA, Joaquin; a.k.a. ORTEGA, Miguel; a.k.a. OSUNA, Gilberto; a.k.a. RAMIREZ, Joise Luis; a.k.a. RAMOX PEREZ, Jorge) DOB 25 Dec 1954; POB Mexico (individual) [SDNTK]

GUZMAN, Archibaldo (a.k.a. AREGON, Max; a.k.a. CARO RODRIGUEZ, Gilberto; a.k.a. GUIERREZ LOERA, Jose Luis; a.k.a. GUMAN LOERAL, Joaquin; a.k.a. GUZMAN, Achivaldo; a.k.a. GUZMAN, Aureliano; a.k.a. GUZMAN, Chapo; a.k.a. GUZMAN FERNANDEZ, Joaquin; a.k.a. GUZMAN, Joaquin Chapo; a.k.a. GUZMAN LOEIA, Joaguin; a.k.a. GUZMAN LOERA, Joaquin; a.k.a. GUZMAN LOESA, Joaquin; a.k.a. GUZMAN LOREA, Chapo; a.k.a. GUZMAN PADILLA, Joaquin; a.k.a. ORTEGA, Miguel; a.k.a. OSUNA, Gilberto; a.k.a. RAMIREZ, Joise Luis; a.k.a. RAMOX PEREZ, Jorge) DOB 25 Dec 1954; POB Mexico (individual) [SDNTK]

GUZMAN, Aureliano (a.k.a. AREGON, Max; a.k.a. CARO RODRIGUEZ, Gilberto; a.k.a. GUIERREZ LOERA, Jose Luis; a.k.a. GUMAN LOERAL, Joaquin; a.k.a. GUZMAN, Achivaldo; a.k.a. GUZMAN, Archibaldo; a.k.a. GUZMAN, Chapo; a.k.a. GUZMAN FERNANDEZ, Joaquin; a.k.a. GUZMAN, Joaquin Chapo; a.k.a. GUZMAN LOEIA, Joaguin; a.k.a. GUZMAN LOERA, Joaquin; a.k.a. GUZMAN LOESA, Joaquin; a.k.a. GUZMAN LOREA, Chapo; a.k.a. GUZMAN PADILLA, Joaquin; a.k.a. ORTEGA, Miguel; a.k.a. OSUNA, Gilberto; a.k.a. RAMIREZ, Joise Luis; a.k.a. RAMOX PEREZ, Jorge) DOB 25 Dec 1954; POB Mexico (individual) [SDNTK]

GUZMAN, Chapo (a.k.a. AREGON, Max; a.k.a. CARO RODRIGUEZ, Gilberto; a.k.a. GUIERREZ LOERA, Jose Luis; a.k.a. GUMAN LOERAL, Joaquin; a.k.a. GUZMAN, Achivaldo; a.k.a. GUZMAN, Archibaldo; a.k.a. GUZMAN, Aureliano; a.k.a. GUZMAN FERNANDEZ, Joaquin; a.k.a. GUZMAN, Joaquin Chapo; a.k.a. GUZMAN LOEIA, Joaguin; a.k.a. GUZMAN LOERA, Joaquin; a.k.a. GUZMAN LOESA, Joaquin; a.k.a. GUZMAN LOREA, Chapo; a.k.a. GUZMAN PADILLA, Joaquin; a.k.a. ORTEGA, Miguel; a.k.a. OSUNA, Gilberto; a.k.a. RAMIREZ, Joise Luis; a.k.a. RAMOX PEREZ, Jorge) DOB 25 Dec 1954; POB Mexico (individual) [SDNTK]

GUZMAN FERNANDEZ, Joaquin (a.k.a. AREGON, Max; a.k.a. CARO RODRIGUEZ, Gilberto; a.k.a. GUIERREZ LOERA, Jose Luis; a.k.a. GUMAN LOERAL, Joaquin; a.k.a. GUZMAN, Achivaldo; a.k.a. GUZMAN, Archibaldo; a.k.a. GUZMAN, Aureliano; a.k.a. GUZMAN, Chapo; a.k.a. GUZMAN, Joaquin Chapo; a.k.a. GUZMAN LOEIA, Joaguin; a.k.a. GUZMAN LOERA, Joaquin; a.k.a. GUZMAN LOESA, Joaquin; a.k.a. GUZMAN LOREA, Chapo; a.k.a. GUZMAN PADILLA, Joaquin; a.k.a. ORTEGA, Miguel; a.k.a. OSUNA, Gilberto; a.k.a. RAMIREZ, Joise Luis; a.k.a. RAMOX PEREZ, Jorge) DOB 25 Dec 1954; POB Mexico (individual) [SDNTK]

GUZMAN, Joaquin Chapo (a.k.a. AREGON, Max; a.k.a. CARO RODRIGUEZ, Gilberto; a.k.a. GUIERREZ LOERA, Jose Luis; a.k.a. GUMAN LOERAL, Joaquin; a.k.a. GUZMAN, Achivaldo; a.k.a. GUZMAN, Archibaldo; a.k.a. GUZMAN, Aureliano; a.k.a. GUZMAN, Chapo; a.k.a. GUZMAN FERNANDEZ, Joaquin; a.k.a. GUZMAN LOEIA, Joaguin; a.k.a. GUZMAN LOERA, Joaquin; a.k.a. GUZMAN LOESA, Joaquin; a.k.a. GUZMAN LOREA, Chapo; a.k.a. GUZMAN PADILLA, Joaquin; a.k.a. ORTEGA, Miguel; a.k.a. OSUNA, Gilberto; a.k.a. RAMIREZ, Joise Luis; a.k.a. RAMOX PEREZ, Jorge) DOB 25 Dec 1954; POB Mexico (individual) [SDNTK]

GUZMAN LOEIA, Joaguin (a.k.a. AREGON, Max; a.k.a. CARO RODRIGUEZ, Gilberto; a.k.a. GUIERREZ LOERA, Jose Luis; a.k.a. GUMAN LOERAL, Joaquin; a.k.a. GUZMAN, Achivaldo; a.k.a. GUZMAN, Archibaldo; a.k.a. GUZMAN, Aureliano; a.k.a. GUZMAN, Chapo; a.k.a. GUZMAN FERNANDEZ, Joaquin; a.k.a. GUZMAN, Joaquin Chapo; a.k.a. GUZMAN LOERA, Joaquin; a.k.a. GUZMAN LOESA, Joaquin; a.k.a. GUZMAN LOREA, Chapo; a.k.a. GUZMAN PADILLA, Joaquin; a.k.a. ORTEGA, Miguel; a.k.a. OSUNA, Gilberto; a.k.a. RAMIREZ, Joise Luis; a.k.a. RAMOX PEREZ, Jorge) DOB 25 Dec 1954; POB Mexico (individual) [SDNTK]

GUZMAN LOERA, Joaquin (a.k.a. AREGON, Max; a.k.a. CARO RODRIGUEZ, Gilberto; a.k.a. GUIERREZ LOERA, Jose Luis; a.k.a. GUMAN LOERAL, Joaquin; a.k.a. GUZMAN, Achivaldo; a.k.a. GUZMAN, Archibaldo; a.k.a. GUZMAN, Aureliano; a.k.a. GUZMAN, Chapo; a.k.a. GUZMAN FERNANDEZ, Joaquin; a.k.a. GUZMAN, Joaquin Chapo; a.k.a. GUZMAN LOEIA, Joaguin; a.k.a. GUZMAN LOESA, Joaquin; a.k.a. GUZMAN LOREA, Chapo; a.k.a. GUZMAN PADILLA, Joaquin; a.k.a. ORTEGA, Miguel; a.k.a. OSUNA, Gilberto; a.k.a. RAMIREZ, Joise Luis; a.k.a. RAMOX PEREZ, Jorge) DOB 25 Dec 1954; POB Mexico (individual) [SDNTK]

GUZMAN LOESA, Joaquin (a.k.a. AREGON, Max; a.k.a. CARO RODRIGUEZ, Gilberto; a.k.a. GUIERREZ LOERA, Jose Luis; a.k.a. GUMAN LOERAL, Joaquin; a.k.a. GUZMAN, Achivaldo; a.k.a. GUZMAN, Archibaldo; a.k.a. GUZMAN, Aureliano; a.k.a. GUZMAN, Chapo; a.k.a. GUZMAN FERNANDEZ, Joaquin; a.k.a. GUZMAN, Joaquin Chapo; a.k.a. GUZMAN LOEIA, Joaguin; a.k.a. GUZMAN LOERA, Joaquin; a.k.a. GUZMAN LOREA, Chapo; a.k.a. GUZMAN PADILLA, Joaquin; a.k.a. ORTEGA, Miguel; a.k.a. OSUNA, Gilberto; a.k.a. RAMIREZ, Joise Luis; a.k.a. RAMOX PEREZ, Jorge) DOB 25 Dec 1954; POB Mexico (individual) [SDNTK]

GUZMAN LOREA, Chapo (a.k.a. AREGON, Max; a.k.a. CARO RODRIGUEZ, Gilberto; a.k.a. GUIERREZ LOERA, Jose Luis; a.k.a. GUMAN LOERAL, Joaquin; a.k.a. GUZMAN, Achivaldo; a.k.a. GUZMAN, Archibaldo; a.k.a. GUZMAN, Aureliano; a.k.a. GUZMAN, Chapo; a.k.a. GUZMAN FERNANDEZ, Joaquin; a.k.a. GUZMAN, Joaquin Chapo; a.k.a. GUZMAN LOEIA, Joaguin; a.k.a. GUZMAN LOERA, Joaquin; a.k.a. GUZMAN LOESA, Joaquin; a.k.a. GUZMAN PADILLA, Joaquin; a.k.a. ORTEGA, Miguel; a.k.a. OSUNA, Gilberto; a.k.a. RAMIREZ, Joise Luis; a.k.a. RAMOX PEREZ, Jorge) DOB 25 Dec 1954; POB Mexico (individual) [SDNTK]

GUZMAN PADILLA, Joaquin (a.k.a. AREGON, Max; a.k.a. CARO RODRIGUEZ, Gilberto; a.k.a. GUIERREZ LOERA, Jose Luis; a.k.a. GUMAN LOERAL, Joaquin; a.k.a. GUZMAN, Achivaldo; a.k.a. GUZMAN, Archibaldo; a.k.a. GUZMAN, Aureliano; a.k.a. GUZMAN, Chapo; a.k.a. GUZMAN FERNANDEZ, Joaquin; a.k.a. GUZMAN, Joaquin Chapo; a.k.a. GUZMAN LOEIA, Joaguin; a.k.a. GUZMAN LOERA, Joaquin; a.k.a. GUZMAN LOESA, Joaquin; a.k.a. GUZMAN LOREA, Chapo; a.k.a. ORTEGA, Miguel; a.k.a. OSUNA, Gilberto; a.k.a. RAMIREZ, Joise Luis; a.k.a. RAMOX PEREZ, Jorge) DOB 25 Dec 1954; POB Mexico (individual) [SDNTK]

GUZMAN TRUJILLO, Carlos Arturo (a.k.a. GALINDO, Gilmer Antonio), Carrera 4C No. 53-40 apt. 307, Cali, Colombia; c/o COMERCIAL DE NEGOCIOS CLARIDAD Y CIA. S. EN C., Bogota, Colombia; c/o COMERCIALIZADORA EXPERTA Y CIA. S. EN C., Bogota, Colombia; c/o CONSTRUEXITO S.A., Cali, Colombia; c/o INDUSTRIA AVICOLA PALMASECA S.A., Cali, Colombia; c/o INMOBILIARIA GALES LTDA, Bogota, Colombia; Cedula No. 16245188 (Colombia) (individual) [SDNT]

GUZMAN VELASQUEZ, Luz Marcela, c/o TAURA S.A., Cali, Colombia; Cedula No. 43568327 (Colombia) (individual) [SDNT]

H & H METALFORM GMBH, Postfach 1160, Strontianitstrasse 5, 4406 Drensteinfurt, Germany [IRAQ]

HABANOS TRADING, Geneva, Switzerland [CUBA]

HABASH, George (a.k.a. HABBASH, George); Secretary General of POPULAR FRONT FOR THE LIBERATION OF PALESTINE (individual) [SDT]

HABBASH, George (a.k.a. HABASH, George); Secretary General of POPULAR FRONT FOR THE LIBERATION OF PALESTINE (individual) [SDT]

HABIB, Mohammed Turki, Baghdad, Iraq (individual) [IRAQ]

HABIBI, Skender; DOB 13 Jul 1968; POB Vitina, Serbia and Montenegro (individual) [BALKANS]

HABUBI, Dr. Safa Hadi Jawad (a.k.a. AL-HABUBI, Dr. Safa Hadi Jawad; a.k.a. JAWAD, Dr. Safa Hadi; a.k.a. HABUBI, Dr Safa Jawad; or a.k.a. AL-HABOBI, Dr. Safa; a.k.a. AL-HABOBI, Dr. Safa Haji J.), Minister of Oil; DOB 01 Jul 46; Flat 4D Thorney Court, Palace Gate, Kensington, England; Iraq (individual) [IRAQ]

HABUBI, Dr. Safa Jawad (a.k.a. AL-HABUBI, Dr. Safa Hadi Jawad; a.k.a. JAWAD, Dr. Safa Hadi; a.k.a. HABUBI, Dr. Safa Hadi Jawad; or a.k.a. AL-HABOBI, Dr. Safa; a.k.a. AL-HABOBI, Dr. Safa Haji J.), Minister of Oil; DOB 01 Jul 46; Flat 4D Thorney Court, Palace Gate, Kensington, England; Iraq (individual) [IRAQ]

HACHITO SANCHEZ, Angel Alberto, c/o COPSERVIR LTDA., Bogota, Colombia; DOB: 09 Nov 1962; Cedula No. 17634454 (Colombia) (individual) [SDNT]

HACIENDA LA NOVILLERA (a.k.a. NOVILLERA; a.k.a. NOVILLERA GANADERA), Carrera 4 12-41 piso 15, Edificio Seguros Bolivar, Cali, Colombia; Paso de la Bolsa, Jamundi, Valle del Cauca, Colombia [SDNT]

HACIENDA SANDRANA (a.k.a. SANDRANA; a.k.a. SANDRANA GANADERA), Carrera 4 12-41 piso 15, Edificio Seguros Bolivar, Cali, Colombia; San Pedro, Valle del Cauca, Colombia [SDNT]

HADDAD, Fethi Ben Assen, Via Fulvio Testi, 184, Cinisello Balsamo, Milan, Italy; Via Porte Giove, 1, Mortara, Pavia, Italy; DOB 28 Mar 1963; alt. DOB 28 Jun 1963; POB Tataouene, Tunisia; Italian Fiscal Code: HDDFTH63H28Z352V (individual) [SDGT]

HADI (a.k.a. ABD AL HADI; a.k.a. BENDEBKA, L'Hadi), Via Garibaldi, 70, San Zenone al Po, Pavia, Italy; Via Manzoni, 33, Cinisello Balsamo, Milan, Italy; DOB 17 Nov 1963; POB Algiers Algeria (individual) [SDGT]

HADI, Mizban Khadr; DOB 1938; POB Mandali District, Diyala,Iraq; member, Ba'th Party Regional Command and Revolutionary Command Council since 1991; nationality Iraqi (individual) [IRAQ][IRAQ2]

HADZIHASANOVIC, Enver; DOB 7 Jul 1950; POB Zvornik, Bosnia-Herzegovina; ICTY indictee (individual) [BALKANS]

HAGGAR ASSALAYA SUGAR FACTORY, Haggar Assalaya, Sudan [SUDAN]

HALHUL GANG (a.k.a. POPULAR FRONT FOR THE LIBERATION OF PALESTINE; a.k.a. HALHUL SQUAD; a.k.a. MARTYR ABU-ALI MUSTAFA BATTALION; a.k.a. PALESTINIAN POPULAR RESISTANCE FORCES; a.k.a. PFLP; a.k.a. PPRF; a.k.a. RED EAGLE GANG; a.k.a. RED EAGLE GROUP; a.k.a. RED EAGLES) [SDT][FTO][SDGT]

HALHUL SQUAD (a.k.a. POPULAR FRONT FOR THE LIBERATION OF PALESTINE; a.k.a. HALHUL GANG; a.k.a. MARTYR ABU-ALI MUSTAFA BATTALION; a.k.a. PALESTINIAN POPULAR RESISTANCE FORCES; a.k.a. PFLP; a.k.a. PPRF; a.k.a. RED EAGLE GANG; a.k.a. RED EAGLE GROUP; a.k.a. RED EAGLES) [SDT][FTO][SDGT]

HALILI, Nevzat; DOB 15 Sep 1946; POB Poroj, Macedonia (individual) [BALKANS]

HALILOVIC, Sefer; DOB 6 Jan 1952; POB Prijepolje, Serbia and Montenegro; ICTY indictee (individual) [BALKANS]

HALU MESRU SAVUNMA KUVVETI (HSK) (a.k.a. FREEDOM AND DEMOCRACY CONGRESS OF KURDISTAN; a.k.a. KADEK; a.k.a. KONGRA-GEL; a.k.a. KURDISTAN FREEDOM AND DEMOCRACY CONGRESS; a.k.a. KURDISTAN PEOPLE'S CONGRESS (KHK); a.k.a. KURDISTAN WORKERS' PARTY; a.k.a. PARTIYA KARKERAN KURDISTAN; a.k.a. PEOPLE'S CONGRESS OF KURDISTAN; a.k.a. PKK; a.k.a. THE PEOPLE'S DEFENSE FORCE) [FTO][SDGT]

HAMADI, Hamed Yussef (a.k.a. AL-HAMMADI Hamid Yusif), Minister of Culture and Information; Iraq (individual) [IRAQ]

HAMAMI, Brahim Ben Hedili, Via de' Carracci n.l5, Casalecchio di Reno (Bologna), Italy; DOB 20 Nov 1971; POB Goubellat, Tunisia (individual) [SDGT]

HAMAS (a.k.a. ISLAMIC RESISTANCE MOVEMENT; a.k.a. HARAKAT AL-MUQAWAMA AL-ISLAMIYA; a.k.a. STUDENTS OF AYYASH; a.k.a. STUDENTS OF THE ENGINEER; a.k.a. YAHYA AYYASH UNITS; a.k.a. IZZ AL-DIN AL-QASSIM BRIGADES; a.k.a. IZZ AL-DIN AL-QASSIM FORCES; a.k.a. IZZ AL-DIN AL-QASSIM BATTALIONS; a.k.a. IZZ AL-DIN AL QASSAM BRIGADES; a.k.a. IZZ AL-DIN AL QASSAM FORCES; a.k.a. IZZ AL-DIN AL QASSAM BATTALIONS) [SDT][FTO][SDGT]

HAMBALI (a.k.a. ISAMUDDIN, Nurjaman Riduan; a.k.a. ISOMUDDIN, Riduan; a.k.a. NURJAMAN; a.k.a. NURJAMAN, Encep); DOB 04 Apr 1964, alt. DOB 01 Apr 1964; POB Cianjur, West Java, Indonesia; nationality Indonesian (individual) [SDGT]

HAMDAN, Usama, Haret Hreik, Lebanon (individual) [SDGT]

HAMEIAH, Jamel (a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMEIAH, Jamil (a.k.a. HAMEIAH, Jamel; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMEIAH, Mamil (a.k.a. HAMEIAH, Jamel; a.k.a. HAMEIAH, Jamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMEIEH, Jamil (a.k.a. HAMEIAH, Jamel; a.k.a. HAMEIAH, Jamil; a.k.a. HAMEIAH, Mamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMEIH, Jamill (a.k.a. HAMEIAH, Jamel; a.k.a. HAMEIAH, Jamil; a.k.a. HAMEIAH, Mamil; a.k.a. HAMEIEH, Jamil; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMER, Jamil (a.k.a. HAMEIAH, Jamel; a.k.a. HAMEIAH, Jamil; a.k.a. HAMEIAH, Mamil; a.k.a. HAMEIEH, Jamil; a.k.a. HAMEIH, Jamill; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMIAEH, Jamil (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMIAH, Jamiel (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMIE, Jamil (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMIE, Jamil Abdulkarim (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMIE, Jamile (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMIEAH, Jamiel (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMIEAH, Jamil (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMIEH, Jamal (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMIEH, Jamiel (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMIEH, Jamil (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMIEH, Mamil (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMIEL, Jamil (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMIEYE, Jamil (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMIEYYEH, Jamil (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMIL, Jamil (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMIYA, Abdul Jamil (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMIYE, Jamil (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMIYYAH, Jamil (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMIYYEH, Jamil (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMYH, Jamil; a.k.a. KARIM, Jamil Abdul; a.k.a. NAZIM, Abou; a.k.a. NEZAM, Abu; a.k.a. NIZAM, Abou); DOB Sep 1938 (individual) [SDNTK]

HAMMID, Mohammed Tahir (a.k.a. “Abdelhamid Al Kurdi”), “last known address,” Via della Martinella 132, Parma, Italy; DOB 1 Nov 1975; POB Poshok, Iraq; nationality Iraqi (Kurdish); arrested 31 Mar 2003 (individual) [SDGT]

HAMMUD, Abed Mahmoud (a.k.a. AL-TIKRITI, Abid Hamid Mahmud; a.k.a. MAHMOUD, Col. Abdel Hamid; a.k.a. MAHMUD, Abid Hamid bid Hamid); DOB circa 1957; POB al-Awja, near Tikrit, Iraq; Saddam Hussein al-Tikriti's Presidential Secretary and key advisor; nationality Iraqi (individual) [IRAQ][IRAQ2]

HAMRAOUI, Kamel Ben Mouldi (a.k.a. “Kamel;” a.k.a. “Kimo”), “last known address,” Via Bertesi 27, Cremona, Italy; DOB 21 Oct 1977; POB Beja, Tunisia; nationality Tunisian; arrested 1 Apr 2003 (individual) [SDGT]

HAMYH, Jamil (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. KARIM, Jamil Abdul; a.k.a. NAZIM, Abou; a.k.a. NEZAM, Abu; a.k.a. NIZAM, Abou); DOB Sep 1938 (individual) [SDNTK]

HAPPY DAYS (a.k.a. M C M Y CIA. LTDA.), Calle 25 Norte No. 3AN-39, Cali, Colombia; Calle 22 Norte No. 5A-75, Cali, Colombia; NIT # 800204288-2 (Colombia) [SDNT]

HAPPY DAYS S. de H., Calle 78 No. 53-70, Locales 315 y 316, Barranquilla, Colombia; NIT # 802003826-1 (Colombia) [SDNT]

HAQ, Huda bin Abdul (a.k.a. “Sofwan;” a.k.a. AL MUKHLAS, Ali Gufron; a.k.a. GHUFRON, Ali; a.k.a. GUFRON, Ali; a.k.a. Muchlas; a.k.a. Mukhlas; a.k.a. Muklas); DOB 9 Feb 1960; alt. DOB 2 Feb 1960; POB Solokuro subdistrict, Lamongan district, East Java province, Indonesia; nationality Indonesian (individual) [SDGT]

HARADINAJ, Daut; DOB 6 Apr 1978; POB Glodjane, Serbia and Montenegro (individual) [BALKANS]

HARAKAT AL-MUQAWAMA AL-ISLAMIYA (a.k.a. ISLAMIC RESISTANCE MOVEMENT; a.k.a. HAMAS; a.k.a. STUDENTS OF AYYASH; a.k.a. STUDENTS OF THE ENGINEER; a.k.a. YAHYA AYYASH UNITS; a.k.a. IZZ AL-DIN AL-QASSIM BRIGADES; a.k.a. IZZ AL-DIN AL-QASSIM FORCES; a.k.a. IZZ AL-DIN AL-QASSIM BATTALIONS; a.k.a. IZZ AL-DIN AL QASSAM BRIGADES; a.k.a. IZZ AL-DIN AL QASSAM FORCES; a.k.a. IZZ AL-DIN AL QASSAM BATTALIONS) [SDT][FTO][SDGT]

HARAKAT UL-ANSAR (a.k.a. AL-FARAN; a.k.a. AL-HADID; a.k.a. AL-HADITH; a.k.a. HARAKAT UL-MUJAHIDEEN; a.k.a. HARAKAT UL-MUJAHIDIN; a.k.a. HUA; a.k.a. HUM; a.k.a. JAMIAT UL-ANSAR) [FTO][SDGT]

HARAKAT UL-MUJAHIDEEN (a.k.a. AL-FARAN; a.k.a. AL-HADID; a.k.a. AL-HADITH; a.k.a. HARAKAT UL-ANSAR; a.k.a. HARAKAT UL-MUJAHIDIN; a.k.a. HUA; a.k.a. HUM; a.k.a. JAMIAT UL-ANSAR) [FTO][SDGT]

HARAKAT UL-MUJAHIDIN (a.k.a. AL-FARAN; a.k.a. AL-HADID; a.k.a. AL-HADITH; a.k.a. HARAKAT UL-MUJAHIDEEN; a.k.a. HARAKAT UL-ANSAR; a.k.a. HUA; a.k.a. HUM; a.k.a. JAMIAT UL-ANSAR) [FTO][SDGT]

HAROON (a.k.a. MOHAMMED, Fazul Abdullah; a.k.a. ABDALLA, Fazul; a.k.a. ADBALLAH, Fazul; a.k.a. AISHA, Abu; a.k.a. AL SUDANI, Abu Seif; a.k.a. ALI, Fadel Abdallah Mohammed; a.k.a. FAZUL, Abdalla; a.k.a. FAZUL, Abdallah; a.k.a. FAZUL, Abdallah Mohammed; a.k.a. FAZUL, Haroon; a.k.a. FAZUL, Harun; a.k.a. HAROUN, Fadhil; a.k.a. HARUN; a.k.a. LUQMAN, Abu; a.k.a. MOHAMMED, Fazul; a.k.a. MOHAMMED, Fazul Abdilahi; a.k.a. MOHAMMED, Fouad; a.k.a. MUHAMAD, Fadil Abdallah); DOB 25 Aug 1972; alt. DOB 25 Dec 1974; alt. DOB 25 Feb 1974; POB Moroni, Comoros Islands; citizen Comoros; alt. citizen Kenya (individual) [SDGT]

HAROUN, Fadhil (a.k.a. MOHAMMED, Fazul Abdullah; a.k.a. ABDALLA, Fazul; a.k.a. ADBALLAH, Fazul; a.k.a. AISHA, Abu; a.k.a. AL SUDANI, Abu Seif; a.k.a. ALI, Fadel Abdallah Mohammed; a.k.a. FAZUL, Abdalla; a.k.a. FAZUL, Abdallah; a.k.a. FAZUL, Abdallah Mohammed; a.k.a. FAZUL, Haroon; a.k.a. FAZUL, Harun; a.k.a. HAROON; a.k.a. HARUN; a.k.a. LUQMAN, Abu; a.k.a. MOHAMMED, Fazul; a.k.a. MOHAMMED, Fazul Abdilahi; a.k.a. MOHAMMED, Fouad; a.k.a. MUHAMAD, Fadil Abdallah); DOB 25 Aug 1972; alt. DOB 25 Dec 1974; alt. DOB 25 Feb 1974; POB Moroni, Comoros Islands; citizen Comoros; alt. citizen Kenya (individual) [SDGT]

HARUN (a.k.a. MOHAMMED, Fazul Abdullah; a.k.a. ABDALLA, Fazul; a.k.a. ADBALLAH, Fazul; a.k.a. AISHA, Abu; a.k.a. AL SUDANI, Abu Seif; a.k.a. ALI, Fadel Abdallah Mohammed; a.k.a. FAZUL, Abdalla; a.k.a. FAZUL, Abdallah; a.k.a. FAZUL, Abdallah Mohammed; a.k.a. FAZUL, Haroon; a.k.a. FAZUL, Harun; a.k.a. HAROON; a.k.a. HAROUN, Fadhil; a.k.a. LUQMAN, Abu; a.k.a. MOHAMMED, Fazul; a.k.a. MOHAMMED, Fazul Abdilahi; a.k.a. MOHAMMED, Fouad; a.k.a. MUHAMAD, Fadil Abdallah); DOB 25 Aug 1972; alt. DOB 25 Dec 1974; alt. DOB 25 Feb 1974; POB Moroni, Comoros Islands; citizen Comoros; alt. citizen Kenya (individual) [SDGT]

HASANAYN, Nasr Fahmi Nasr (a.k.a. SALAH, Muhammad) (individual) [SDGT]

HASANI, Zhavit; DOB 5 May 1957; POB Tanusevci, Macedonia (individual) [BALKANS]

HASSAN (a.k.a. AL-TIKRITI, Ali Saddam Hussein); DOB 1980; alt. DOB 1983; POB Iraq; nationality Iraqi; son of Saddam Hussein al-Tikriti (individual) [IRAQ2]

HASSAN, Mohamed (a.k.a. “Abu Thale;” a.k.a. AMDOUNI, Mehrez; a.k.a. FUSCO, Fabio) DOB 18 Dec 1969; POB Tunis, Tunisia (individual) [SDGT]

HASSAN, Sheikh Dawood (a.k.a. EBRAHIM, Dawood; a.k.a. IBRAHIM, Dawood), Karachi, Pakistan; Passport No. G869537 (Pakistan) (individual) [SDGT]

HASSAN, Yaser (a.k.a. “Abu Ali;” a.k.a. ABU DHESS, Mohamed), “last known address,” Holdenweg 76, 45143, Essen, Germany; DOB 1 Feb 1966; POB Hashmija, Iraq; nationality possibly Palestinian; arrested 23 Apr 2002 (individual) [SDGT]

HAVANA INTERNATIONAL BANK, LTD., 20 Ironmonger Lane, London EC2V 8EY, England [CUBA]

HAVANATUR, 54 Rue Richelieu, Paris, France [CUBA]

HAVANATUR BAHAMAS LTD., East Bay Street, Nassau, Bahamas [CUBA]

HAVANATUR CHILE S.A. (f.k.a. GUAMATUR S.A.), Avenue 11 de Septiembre 2155, Edificio Panoramico, Torre C, Oficina 805, Providencia, Santiago, Chile [CUBA]

HAVANATUR S.A., Gerardo Medina No. 633, e/Avenue Borregos y Carretera de Vinales, Pinar del Rio, Cuba; Edificio Sierra Maestra, Calle 1era e/ 0 y 2, Miramar, Playa, Ciudad Habana, Cuba; Avenue 3era e/ 33 y 34, Varadero, Cuba; Avenue 40 esq. 41 #4101, Cienfuegos, Cuba; 1ra. Rotonda Cayo Coco, Moron, Ciego de Avila, Cuba; Monteagudo e/Cuba y Carretera Central, Camaguey, Cuba; Frexes no. 172 e/Morales Lemus y Narciso Lopez, Holguin, Cuba; Calle 8 no. 56 e/1era. y 3ra. Rpto., Vista Allegre, Santiago de Cuba, Cuba [CUBA]

HAVANATUR, S.A., Hialeah, Florida, U.S.A. [CUBA]

HAVANATUR S.A., Maipu 464, Piso 10, 1006 Buenos Aires, Argentina; CUIT 30-68074603-2 (Argentina) [CUBA]

HAVANATUR, S.A., Panama City, Panama [CUBA]

HAVANTUR CANADA INC. (a.k.a. 2904977 CANADA, INC.; a.k.a. CARIBE SOL), 818 rue Sherbrooke East, Montreal, Quebec H2L 1K3, Canada [CUBA]

HAVINPEX, S.A. (a.k.a. TRANSOVER, S.A.) Panama City, Panama [CUBA]

HAWATMA, Nayif (a.k.a. HAWATMEH, Nayif; a.k.a. HAWATMAH, Nayif; a.k.a. KHALID, Abu); Secretary General of DEMOCRATIC FRONT FOR THE LIBERATION OF PALESTINE—HAWATMEH FACTION; DOB 1933 (individual) [SDT]

HAWATMAH, Nayif (a.k.a. HAWATMA, Nayif; a.k.a. HAWATMEH, Nayif; a.k.a. KHALID, Abu); Secretary General of DEMOCRATIC FRONT FOR THE LIBERATION OF PALESTINE—HAWATMEH FACTION; DOB 1933 (individual) [SDT]

HAWATMEH, Nayif (a.k.a. HAWATMA, Nayif; a.k.a. HAWATMAH, Nayif; a.k.a. KHALID, Abu); Secretary General of DEMOCRATIC FRONT FOR THE LIBERATION OF PALESTINE—HAWATMEH FACTION; DOB 1933 (individual) [SDT]

HAXHIREXHA, Kastriot; DOB 9 May 1961; POB Debar, Macedonia (individual) [BALKANS]

HAYA, Francisco, Panama (individual) [CUBA]

HAYDEE DE MUNOZ Y CIA. S. EN C., Avenida 6N No. 23DN-16, Cali, Colombia; Avenida 4N No. 5N-20, Cali, Colombia [SDNT]

HEATH, Noel Timothy (a.k.a. ZAMBA, Noel Heath; a.k.a. ZAMBO, Noel Heath), Cardin Avenue, St. Kitts; DOB 16 Dec 1949; POB St. Kitts and Nevis; Passport 03574 (Great Britain) (individual) [SDNTK]

HEKHMARTYAR, Gulbuddin (a.k.a. HEKMATIAR, Gulbuddin; a.k.a. HEKMATYAR, Gulabudin; a.k.a. HEKMATYAR, Gulbuddin; a.k.a. HEKMETYAR, Gulbudin; a.k.a. HIKMETYAR, Golboddin; a.k.a. KHEKMATIYAR, Gulbuddin), last known address, Iran; DOB 1 Aug 1949; POB Konduz Province, Afghanistan (individual) [SDGT]

HEKMATIAR, Gulbuddin (a.k.a. HEKHMARTYAR, Gulbuddin; a.k.a. HEKMATYAR, Gulabudin; a.k.a. HEKMATYAR, Gulbuddin; a.k.a. HEKMETYAR, Gulbudin; a.k.a. HIKMETYAR, Golboddin; a.k.a. KHEKMATIYAR, Gulbuddin), last known address, Iran; DOB 1 Aug 1949; POB Konduz Province, Afghanistan (individual) [SDGT]

HEKMATYAR, Gulabudin (a.k.a. HEKHMARTYAR, Gulbuddin; a.k.a. HEKMATIAR, Gulbuddin; a.k.a. HEKMATYAR, Gulbuddin; a.k.a. HEKMETYAR, Gulbudin; a.k.a. HIKMETYAR, Golboddin; a.k.a. KHEKMATIYAR, Gulbuddin), last known address, Iran; DOB 1 Aug 1949; POB Konduz Province, Afghanistan (individual) [SDGT]

HEKMATYAR, Gulbuddin (a.k.a. HEKHMARTYAR, Gulbuddin; a.k.a. HEKMATIAR, Gulbuddin; a.k.a. HEKMATYAR, Gulabudin; a.k.a. HEKMETYAR, Gulbudin; a.k.a. HIKMETYAR, Golboddin; a.k.a. KHEKMATIYAR, Gulbuddin), last known address, Iran; DOB 1 Aug 1949; POB Konduz Province, Afghanistan (individual) [SDGT]

HEKMETYAR, Gulbudin (a.k.a. HEKHMARTYAR, Gulbuddin; a.k.a. HEKMATIAR, Gulbuddin; a.k.a. HEKMATYAR, Gulabudin; a.k.a. HEKMATYAR, Gulbuddin; a.k.a. HIKMETYAR, Golboddin; a.k.a. KHEKMATIYAR, Gulbuddin), last known address, Iran; DOB 1 Aug 1949; POB Konduz Province, Afghanistan (individual) [SDGT]

HELFORD DIRECTORS LIMITED, Haven Court, 5 Library Ramp, Gibraltar [IRAQ]

HEMCL (a.k.a. HOLBORN EUROPEAN MARKETING COMPANY LIMITED), Hofplein 33, 3011 AJ Rotterdam, Netherlands [LIBYA]

HEMCL (a.k.a. HOLBORN EUROPEAN MARKETING COMPANY LIMITED), Miranda Court No. 1, Ipirou Street, P.O. Box 897, Larnaca, Cyprus [LIBYA]

HEMED, Ahmed (a.k.a. ALI, Ahmed Mohammed Hamed; a.k.a. ABDUREHMAN, Ahmed Mohammed; a.k.a. ABU FATIMA; a.k.a. ABU ISLAM; a.k.a. ABU KHADIIJAH; a.k.a. AHMED HAMED; a.k.a. Ahmed The Egyptian; a.k.a. AHMED, Ahmed; a.k.a. AL-MASRI, Ahmad; a.k.a. AL-SURIR, Abu Islam; a.k.a. ALI, Ahmed Mohammed; a.k.a. ALI, Hamed; a.k.a. SHIEB, Ahmed; a.k.a. SHUAIB), Afghanistan; DOB 1965; POB Egypt; citizen Egypt (individual) [SDGT]

HENAO, Alberto Lopez (a.k.a. HENAO LOPEZ, Alberto), c/o ALFA PHARMA S.A., Bogota, Colombia; Cedula No. 2630951 (Colombia) (individual) [SDNT]

HENAO DE SANCHEZ, Hortensia, c/o ALFA PHARMA S.A., Bogota, Colombia; Cedula No. 29013554 (Colombia) (individual) [SDNT]

HENAO GONZALEZ, Carlos Andres, Carrera 8N No. 17A-12, Cartago, Colombia; c/o AGRICOLA GANADERA HENAO GONZALEZ Y CIA. S.C.S., Cartago, Colombia; c/o AGROPECUARIA MIRALINDO S.A., Cartago, Colombia; c/o ARIZONA S.A., Cartago, Colombia; c/o COMPANIA AGROINVERSORA HENAGRO LTDA., Cartago, Colombia; c/o DESARROLLOS COMERCIALES E INDUSTRIALES HENAO GONZALEZ Y CIA. S.C.S., Cartago, Colombia; c/o ORGANIZACION EMPRESARIAL A DE J HENAO M E HIJOS Y CIA. S.C.S., Cartago, Colombia; DOB 27 Nov 1980; Passport 75096405 (Colombia); Cedula No. 75096405 (Colombia) (individual) [SDNT]

HENAO GONZALEZ, Lina Marcela, Avenida 4 Oeste No. 5-97, Apt. 1001, Cali, Colombia; c/o AGRICOLA GANADERA HENAO GONZALEZ Y CIA. S.C.S., Cartago, Colombia; c/o COMPANIA AGROINVERSORA HENAGRO LTDA., Cartago, Colombia; c/o DESARROLLOS COMERCIALES E INDUSTRIALES HENAO GONZALEZ Y CIA. S.C.S., Cartago, Colombia; c/o ORGANIZACION EMPRESARIAL A DE J HENAO M E HIJOS Y CIA. S.C.S., Cartago, Colombia; DOB 10 May 1985; POB Cali, Valle, Colombia; Passports AF228090 (Colombia), TI-85051037834 (Colombia); NIT # 650000091-9 (Colombia); Cedula No. TI-85051037834 (Colombia) (individual) [SDNT]

HENAO GONZALEZ, Olga Patricia, Avenida 4 Oeste No. 5-97, Apt. 1001, Cali, Colombia; c/o AGRICOLA GANADERA HENAO GONZALEZ Y CIA. S.C.S., Cartago, Colombia; c/o COMPANIA AGROINVERSORA HENAGRO LTDA., Cartago, Colombia; c/o DESARROLLOS COMERCIALES E INDUSTRIALES HENAO GONZALEZ Y CIA. S.C.S., Cartago, Colombia; c/o ORGANIZACION EMPRESARIAL A DE J HENAO M E HIJOS Y CIA. S.C.S., Cartago, Colombia; DOB 18 Jan 1988; POB Cali, Valle, Colombia; Passports AG762459 (Colombia), RN12524986 (Colombia); NIT # 600018532-2 (Colombia); Cedula No. RN12524986 (Colombia) (individual) [SDNT]

HENAO LOPEZ, Alberto (a.k.a. HENAO, Alberto Lopez), c/o ALFA PHARMA S.A., Bogota, Colombia; Cedula No. 2630951 (Colombia) (individual) [SDNT]

HENAO, Maria Nohelia, c/o INVHERESA S.A., Cali, Colombia; Cedula No. 26271587 (Colombia) (individual) [SDNT]

HENAO MONTOYA, Arcangel de Jesus, Hacienda Coque, Cartago, Colombia; Carrera 4 No. 16-04 apt. 303, Cartago, Colombia; Carrera 8N No. 17A-12, Cartago, Colombia; Carrera 42 No. 5B-81, Cali, Colombia; c/o AGRICOLA GANADERA HENAO GONZALEZ Y CIA. S.C.S., Cartago, Colombia; c/o AGROPECUARIA MIRALINDO S.A., Cartago, Colombia; c/o ARIZONA S.A., Cartago, Colombia; c/o COMPANIA AGROINVERSORA HENAGRO LTDA., Cartago, Colombia; c/o DESARROLLOS COMERCIALES E INDUSTRIALES HENAO GONZALEZ Y CIA. S.C.S., Cartago, Colombia; c/o MAQUINARIA TECNICA Y TIERRAS LTDA., Cartago, Colombia; c/o ORGANIZACION EMPRESARIAL A DE J HENAO M E HIJOS Y CIA. S.C.S., Cartago, Colombia; DOB 7 Oct 1954; POB Cartago, Valle, Colombia; Passport 16215230 (Colombia); NIT # 16215230-1 (Colombia); Cedula No. 16215230 (Colombia) (individual) [SDNT]

HENAO MONTOYA, Lorena, Calle 52 No. 28E-30, Cali, Colombia; Calle 8 No. 39-79 of. 201, Cali, Colombia; c/o AGROINVERSORA URDINOLA HENAO Y CIA. S.C.S., Cali, Colombia; c/o CONSTRUCTORA UNIVERSAL LTDA., Cali, Colombia; c/o EXPLOTACIONES AGRICOLAS Y GANADERAS LA LORENA S.C.S., Cali, Colombia; c/o INDUSTRIAS AGROPECUARIAS DEL VALLE LTDA., Cali, Colombia; c/o INVERSIONES EL EDEN S.C.S., Cali, Colombia; DOB 9 Oct 1968; Cedula No. 31981533 (Colombia) (individual) [SDNT]

HENAO VDA. DE BOTERO, Maria Yolanda, c/o ALFA PHARMA S.A., Bogota, Colombia; Cedula No. 29070489 (Colombia) (individual) [SDNT]

HENIN, Ashraf Refaat Nabith (a.k.a. MOHAMMED, Khalid Shaikh; a.k.a. ALI, Salem; a.k.a. BIN KHALID, Fahd Bin Adballah; a.k.a. WADOOD, Khalid Adbul); DOB 14 Apr 1965; alt. DOB 1 Mar 1964; POB Kuwait; citizen Kuwait (individual) [SDGT]

HER (a.k.a. HOLBORN EUROPA RAFFINERIE GmbH), Moorburger Strasse 16, D-2100 Hamburg 90, Germany [LIBYA]

HER (a.k.a. HOLBORN EUROPA RAFFINERIE GmbH), Rothenbaumchaussee 5, 4th Floor, D-2000 Hamburg 13, Germany [LIBYA]

HERMANN SHIPPING CORP., INC., Panama [CUBA]

HERNANDEZ, Adan (a.k.a. AMESCUA, Chuey; a.k.a. AMEZCUA, Chuy; a.k.a. AMEZCUA CONTRERAS, Jesus; a.k.a. AMEZCUA CONTRERAS, Jose de Jesus; a.k.a. AMEZCUA, Jose de Jesus), DOB 31 Jul 1963; alt. DOB 31 Jul 1964; alt. DOB 31 Jul 1965; POB Mexico (individual) [SDNTK]

HERNANDEZ, Alexis Eneilo (CARBALLOSA), Milan, Italy (individual) [CUBA]

HERNANDEZ C., Hector Fabio, c/o INVERSIONES BETANIA LTDA., Cali, Colombia; c/o INVERSIONES EL PENON S.A., Cali, Colombia; Cedula No. 16615804 (Colombia) (individual) [SDNT]

HERNANDEZ, Oscar, Mz. 21 Casa 5 Barrio San Fernando, Pereira, Colombia; c/o TAURA S.A., Cali, Colombia; Cedula No. 6157940 (Colombia) (individual) [SDNT]

HERNANDEZ PULIDO, Maria Elda, Calle Juan de Dios Peza 1015, Colonia Mexico 22150, Tijuana, Baja California, Mexico; c/o FARMACIA VIDA SUPREMA, S.A. DE C.V., Tijuana, Baja California, Mexico; c/o DISTRIBUIDORA IMPERIAL DE BAJA CALIFORNIA, S.A. de C.V., Tijuana, Baja California, Mexico; DOB 18 Aug 1971; POB Baja California Norte, Mexico (individual) [SDNTK]

HERRAN SAAVEDRA, Victor Hugo, c/o GALAPAGOS S.A., Cali, Colombia; Cedula No. 16447166 (Colombia) (individual) [SDNT]

HERRERA AGUILERA, Gabriel, c/o COOPDISAN, Bucaramanga, Colombia; c/o DROGAS LA REBAJA BUCARAMANGA S.A., Bucaramanga, Colombia; Passport 91236347 (Colombia); Cedula No. 91236347 (Colombia) (individual) [SDNT]

HERRERA BUITRAGO, Alvaro, Avenida 6N No. 25-14, Cali, Colombia; c/o INDUSTRIA AVICOLA PALMASECA S.A., Cali, Colombia; DOB 10 Oct 1955; Cedula No. 16258303 (Colombia) (individual) [SDNT]

HERRERA BUITRAGO, Helmer (a.k.a. “Pacho”; a.k.a. “H7”), Cali, Colombia; DOB 24 Aug 1951; alt. DOB 5 Jul 1951; Passport J287011 (Colombia); Cedula No. 16247821 (Colombia) (individual) [SDNT]

HERRERA BUITRAGO, Stella, Avenida 1B Oeste No. 1-44 apt. 602, Medeira Building, Cali, Colombia; c/o AGROPECUARIA Y REFORESTADORA HERREBE LTDA., Cali, Colombia; c/o COMERCIAL DE NEGOCIOS CLARIDAD Y CIA., Bogota, Colombia; c/o COMERCIALIZADORA EXPERTA Y CIA. S. EN C., Bogota, Colombia; c/o CONCRETOS CALI, Cali, Colombia; c/o CONSTRUCTORA DIMISA LTDA., Cali, Colombia; c/o INDUSTRIA AVICOLA PALMASECA S.A., Cali, Colombia; c/o INMOBILIARIA GALES LTDA., Bogota, Colombia; c/o INVERSIONES GEMINIS S.A., Cali, Colombia; c/o INVERSIONES HERREBE LTDA., Cali, Colombia; c/o SOCOVALLE LTDA., Cali, Colombia; DOB 7 Oct (year unknown); Cedula No. 31143871 (Colombia) (individual) [SDNT]

HERRERA BUITRAGO, Sulay (a.k.a. BUITRAGO, Sulay), c/o AGROPECUARIA Y REFORESTADORA HERREBE LTDA., Cali, Colombia; c/o CONSTRUEXITO S.A., Cali, Colombia; c/o INDUSTRIA AVICOLA PALMASECA S.A., Cali, Colombia; c/o INVERSIONES HERREBE LTDA., Cali, Colombia (individual) [SDNT]

HERRERA BUITRAGO, William, c/o W. HERRERA Y CIA. S. EN C., Cali, Colombia; DOB 29 Nov 1964; Passport P046550 (Colombia); Cedula No. 16716887 (Colombia) (individual) [SDNT]

HERRERA INFANTE, Alberto, c/o CONSTRUCTORA DIMISA LTDA., Cali, Colombia; c/o INDUSTRIA AVICOLA PALMASECA S.A., Cali, Colombia; Cedula No. 16637518 (Colombia) (individual) [SDNT]

HERRERA RAMIREZ, Giselle, c/o AGROPECUARIA Y REFORESTADORA HERREBE LTDA., Cali, Colombia; c/o INDUSTRIA AVICOLA PALMASECA S.A., Cali, Colombia; c/o INVERSIONES HERREBE LTDA., Cali, Colombia (individual) [SDNT]

HERRERA RAMIREZ, Linda Nicolle, c/o INDUSTRIA AVICOLA PALMASECA S.A., Cali, Colombia (individual) [SDNT]

HERRERA TOBON, Maria Cecilia, c/o LABORATORIOS GENERICOS VETERINARIOS, Bogota, Colombia; Cedula No. 31397821 (Colombia) (individual) [SDNT]

HERRI BATASUNA (a.k.a. ASKATASUNA; a.k.a. BASQUE FATHERLAND AND LIBERTY; a.k.a. BATASUNA; a.k.a. EKIN; a.k.a. ETA; a.k.a. EUSKAL HERRITARROK; a.k.a. EUZKADI TA ASKATASUNA; a.k.a. JARRAI-HAIKA-SEGI; a.k.a. K.A.S.; a.k.a. XAKI) [FTO][SDGT]

HEYATUL ULYA, Mogadishu, Somalia [SDGT]

HEYWOOD NAVIGATION CORPORATION, c/o MELFI MARINE CORPORATION S.A., Oficina 7, Edificio Senorial, Calle 50, Apartado 31, Panama City 5, Panama [CUBA]

HICL (a.k.a. HOLBORN INVESTMENT COMPANY LIMITED), Miranda Court No. 1, Ipirou Street, P.O. Box 897, Larnaca, Cyprus [LIBYA]

HIELO CRISTAL Y REFRIGERACION LTDA. (a.k.a. CUATRO FRIO), Carrera 8 No. 32-16, Cali, Colombia; Carrera 44A No. 9C-85, Bogota, Colombia; NIT # 890303017-5 (Colombia) [SDNT]

HIGUERA GUERRERO, Ismael; DOB 17 Mar 1961; POB Mexico (individual) [SDNTK]

HIGUERA RENTERIA, Ismael (a.k.a. GARCIA HERNANDEZ, Javier; a.k.a. LOAIZA AVENDANO, Jesus; a.k.a. ZAMBADA, El Mayo; a.k.a. ZAMBADA GARCIA, Ismael; a.k.a. ZAMBADA GARCIA, Ismael Mario); DOB 1 Jan 1948; POB Sinaloa, Mexico (individual) [SDNTK]

HIJAZI, Raed M. (a.k.a. AL-AMRIKI, Abu-Ahmad; a.k.a. AL-HAWEN, Abu-Ahmad; a.k.a. AL-MAGHRIBI, Rashid; a.k.a. AL-SHAHID, Abu-Ahmad; a.k.a. HIJAZI, Riad), Jordan; DOB 1968; POB California, U.S.A.; SSN: 548-91-5411 (USA) (individual) [SDGT]

HIJAZI, Riad (a.k.a. AL-AMRIKI, Abu-Ahmad; a.k.a. AL-HAWEN, Abu-Ahmad; a.k.a. AL-MAGHRIBI, Rashid; a.k.a. AL-SHAHID, Abu-Ahmad; a.k.a. HIJAZI, Raed M.), Jordan; DOB 1968; POB California, U.S.A.; SSN: 548-91-5411 (USA) (individual) [SDGT]

HIKMETYAR, Golboddin (a.k.a. HEKHMARTYAR, Gulbuddin; a.k.a. HEKMATIAR, Gulbuddin; a.k.a. HEKMATYAR, Gulbuddin; a.k.a. HEKMATYAR, Gulabudin; a.k.a. HEKMETYAR, Gulbudin; a.k.a. KHEKMATIYAR, Gulbuddin), last known address, Iran; DOB 1 Aug 1949; POB Konduz Province, Afghanistan (individual) [SDGT]

HIMMAT, Ali Ghaleb, Via Posero 2, Campione d'Italia CH-6911, Switzerland; DOB 16 Jun 1938; POB Damascus, Syria; citizen Switzerland; alt. citizen Tunisia (individual) [SDGT]

HIMMAT ESTABLISHMENT (a.k.a. AL TAQWA TRADE, PROPERTY AND INDUSTRY; a.k.a. AL TAQWA TRADE, PROPERTY AND INDUSTRY COMPANY LIMITED; a.k.a. AL TAQWA TRADE, PROPERTY AND INDUSTRY ESTABLISHMENT; n.k.a. WALDENBERG, AG), c/o Asat Trust Reg., Altenbach 8, Vaduz 9490, Liechtenstein; Via Posero, 2, 22060 Campione d'Italia, Italy [SDGT]

HIR, Musa Abdul (a.k.a. “Musa Abdul;” a.k.a. HIR, Zulkifli Abdul; a.k.a. HIR, Zulkifli Bin Abdul; a.k.a. ZULKIFLI, Abdul Hir bin; a.k.a. ZULKIFLI, Bin Abdul Hir); DOB 5 Jan 1966; alt. DOB 5 Oct 1966; POB Malaysia (individual) [SDGT]

HIR, Zulkifli Abdul (a.k.a. “Musa Abdul;” a.k.a. HIR, Musa Abdul; a.k.a. HIR, Zulkifli Bin Abdul; a.k.a. ZULKIFLI, Abdul Hir bin; a.k.a. ZULKIFLI, Bin Abdul Hir); DOB 5 Jan 1966; alt. DOB 5 Oct 1966; POB Malaysia (individual) [SDGT]

HIR, Zulkifli Bin Abdul (a.k.a. “Musa Abdul;” a.k.a. HIR, Musa Abdul; a.k.a. HIR, Zulkifli Abdul; a.k.a. ZULKIFLI, Abdul Hir bin; a.k.a. ZULKIFLI, Bin Abdul Hir); DOB 5 Jan 1966; alt. DOB 5 Oct 1966; POB Malaysia (individual) [SDGT]

HIZBALLAH (a.k.a. PARTY OF GOD; a.k.a. ISLAMIC JIHAD; a.k.a. ISLAMIC JIHAD ORGANIZATION; a.k.a. REVOLUTIONARY JUSTICE ORGANIZATION; a.k.a. ORGANIZATION OF THE OPPRESSED ON EARTH; a.k.a. ISLAMIC JIHAD FOR THE LIBERATION OF PALESTINE; a.k.a. ORGANIZATION OF RIGHT AGAINST WRONG; a.k.a. ANSAR ALLAH; a.k.a. FOLLOWERS OF THE PROPHET MUHAMMED) [SDT][FTO][SDGT]

HOCHBURG, AG (f.k.a. BA TAQWA FOR COMMERCE AND REAL ESTATE COMPANY LIMITED), Vaduz, Liechtenstein; formerly c/o Asat Trust reg., Vaduz, Liechtenstein [SDGT]

HOLA SUN HOLIDAYS LIMITED, 146 West Beaver Creek Road, Richmond Hill, Ontario L4B 1C2, Canada [CUBA]

HOLBORN EUROPA RAFFINERIE GmbH (a.k.a. HER), Moorburger Strasse 16, D-2100 Hamburg 90, Germany [LIBYA]

HOLBORN EUROPA RAFFINERIE GmbH (a.k.a. HER), Rothenbaumchaussee 5, 4th Floor, D-2000 Hamburg 13, Germany [LIBYA]

HOLBORN EUROPEAN MARKETING COMPANY LIMITED (a.k.a. HEMCL), Hofplein 33, 3011 AJ Rotterdam, Netherlands [LIBYA]

HOLBORN EUROPEAN MARKETING COMPANY LIMITED (a.k.a. HEMCL), Miranda Court No. 1, Ipirou Street, P.O. Box 897, Larnaca, Cyprus [LIBYA]

HOLBORN INVESTMENT COMPANY LIMITED (a.k.a. HICL), Miranda Court No. 1, Ipirou Street, P.O. Box 897, Larnaca, Cyprus [LIBYA]

HOLGUIN SARRIA, Alvaro, c/o DEPOSITO POPULAR DE DROGAS S.A., Cali, Colombia; c/o DERECHO INTEGRAL Y CIA. LTDA., Cali, Colombia; c/o DISTRIBUIDORA DE DROGAS CONDOR LTDA., Bogota, Colombia; c/o DISTRIBUIDORA MIGIL LTDA., Cali, Colombia; Cedula No. 14950269 (Colombia) (individual) [SDNT]

HOLY LAND FOUNDATION FOR RELIEF AND DEVELOPMENT (f.k.a. OCCUPIED LAND FUND), 525 International Parkway, Suite 509, Richardson, Texas 75081, U.S.A.; P.O. Box 832390, Richardson, Texas 75083, U.S.A.; 9250 S. Harlem Avenue, Bridgeview, Illinois, U.S.A.; 345 E. Railway Avenue, Paterson, New Jersey 07503, U.S.A.; 12798 Rancho Penasquitos Blvd., Suite F, San Diego, California 92128 U.S.A.; Hebron, West Bank; Jenin, West Bank; Shurta Street, 'Amira al-Ramuna, 4th Floor, Ramallah, West Bank; Shaykh Radwan, Gaza Strip; and other locations within the United States; U.S. FEIN: 95-4227517 [SDT] [SDGT]

HOTEL MILANO DUE, Gzira, Malta [LIBYA]

HOTELES E INMUEBLES DE COLOMBIA LTDA. (a.k.a. HOTINCOL), Calle 74 No. 53-30, Barranquilla, Colombia; NIT # 800013139-3 (Colombia) [SDNT]

HOTINCOL (a.k.a. HOTELES E INMUEBLES DE COLOMBIA LTDA.), Calle 74 No. 53-30, Barranquilla, Colombia; NIT # 800013139-3 (Colombia) [SDNT]

HOUMAT ED DAAWA ES SALIFIYA (a.k.a. DHAMAT HOUMET DAAWA SALAFIA; a.k.a. DJAMAAT HOUMAT ED DAAWA ES SALAFIYA; a.k.a. DJAMAAT HOUMAT EDDAWA ESSALAFIA; a.k.a. DJAMAATT HOUMAT ED DAAWA ES SALAFIYA; a.k.a. EL-AHOUAL BATTALION; a.k.a. GROUP OF SUPPORTERS OF THE SALAFIST TREND; a.k.a. GROUP OF SUPPORTERS OF THE SALAFISTE TREND; a.k.a. GROUP PROTECTORS OF SALAFIST PREACHING; a.k.a. HOUMAT ED-DAAOUA ES-SALAFIA; a.k.a. HOUMATE ED-DAAWA ES-SALAFIA; a.k.a. HOUMATE EL DA'AWAA ES-SALAFIYYA; a.k.a. KATIBAT EL AHOUAL; a.k.a. KATIBAT EL AHOUEL; a.k.a. PROTECTORS OF THE SALAFIST CALL; a.k.a. PROTECTORS OF THE SALAFIST PREDICATION; a.k.a. SALAFIST CALL PROTECTORS; a.k.a. THE HORROR SQUADRON), Algeria [SDGT]

HOUMAT ED-DAAOUA ES-SALAFIA (a.k.a. DHAMAT HOUMET DAAWA SALAFIA; a.k.a. DJAMAAT HOUMAT ED DAAWA ES SALAFIYA; a.k.a. DJAMAAT HOUMAT EDDAWA ESSALAFIA; a.k.a. DJAMAATT HOUMAT ED DAAWA ES SALAFIYA; a.k.a. EL-AHOUAL BATTALION; a.k.a. GROUP OF SUPPORTERS OF THE SALAFIST TREND; a.k.a. GROUP OF SUPPORTERS OF THE SALAFISTE TREND; a.k.a. GROUP PROTECTORS OF SALAFIST PREACHING; a.k.a. HOUMAT ED DAAWA ES SALIFIYA; a.k.a. HOUMATE ED-DAAWA ES-SALAFIA; a.k.a. HOUMATE EL DA'AWAA ES-SALAFIYYA; a.k.a. KATIBAT EL AHOUAL; a.k.a. KATIBAT EL AHOUEL; a.k.a. PROTECTORS OF THE SALAFIST CALL; a.k.a. PROTECTORS OF THE SALAFIST PREDICATION; a.k.a. SALAFIST CALL PROTECTORS; a.k.a. THE HORROR SQUADRON), Algeria [SDGT]

HOUMATE ED-DAAWA ES-SALAFIA (a.k.a. DHAMAT HOUMET DAAWA SALAFIA; a.k.a. DJAMAAT HOUMAT ED DAAWA ES SALAFIYA; a.k.a. DJAMAAT HOUMAT EDDAWA ESSALAFIA; a.k.a. DJAMAATT HOUMAT ED DAAWA ES SALAFIYA; a.k.a. EL-AHOUAL BATTALION; a.k.a. GROUP OF SUPPORTERS OF THE SALAFIST TREND; a.k.a. GROUP OF SUPPORTERS OF THE SALAFISTE TREND; a.k.a. GROUP PROTECTORS OF SALAFIST PREACHING; a.k.a. HOUMAT ED DAAWA ES SALIFIYA; a.k.a. HOUMAT ED-DAAOUA ES-SALAFIA; a.k.a. HOUMATE EL DA'AWAA ES-SALAFIYYA; a.k.a. KATIBAT EL AHOUAL; a.k.a. KATIBAT EL AHOUEL; a.k.a. PROTECTORS OF THE SALAFIST CALL; a.k.a. PROTECTORS OF THE SALAFIST PREDICATION; a.k.a. SALAFIST CALL PROTECTORS; a.k.a. THE HORROR SQUADRON), Algeria [SDGT]

HOUMATE EL DA'AWAA ES-SALAFIYYA (a.k.a. DHAMAT HOUMET DAAWA SALAFIA; a.k.a. DJAMAAT HOUMAT ED DAAWA ES SALAFIYA; a.k.a. DJAMAAT HOUMAT EDDAWA ESSALAFIA; a.k.a. DJAMAATT HOUMAT ED DAAWA ES SALAFIYA; a.k.a. EL-AHOUAL BATTALION; a.k.a. GROUP OF SUPPORTERS OF THE SALAFIST TREND; a.k.a. GROUP OF SUPPORTERS OF THE SALAFISTE TREND; a.k.a. GROUP PROTECTORS OF SALAFIST PREACHING; a.k.a. HOUMAT ED DAAWA ES SALIFIYA; a.k.a. HOUMAT ED-DAAOUA ES-SALAFIA; a.k.a. HOUMATE ED-DAAWA ES-SALAFIA; a.k.a. KATIBAT EL AHOUAL; a.k.a. KATIBAT EL AHOUEL; a.k.a. PROTECTORS OF THE SALAFIST CALL; a.k.a. PROTECTORS OF THE SALAFIST PREDICATION; a.k.a. SALAFIST CALL PROTECTORS; a.k.a. THE HORROR SQUADRON), Algeria [SDGT]

HOVE, Richard, Politburo Secretary for Economic Affairs of Zimbabwe; DOB 23 Sep 1939 (individual) [ZIMB]

HUA (a.k.a. AL-FARAN; a.k.a. AL-HADID; a.k.a. AL-HADITH; a.k.a. HARAKAT UL-MUJAHIDEEN; a.k.a. HARAKAT UL-ANSAR; a.k.a. HARAKAT UL-MUJAHIDIN; a.k.a. HUM; a.k.a. JAMIAT UL-ANSAR) [FTO][SDGT]

HUBER, Ahmed (a.k.a. HUBER, Albert Friedrich Armand), Mettmenstetten, Switzerland; DOB 1927 (individual) [SDGT]

HUBER, Albert Friedrich Armand (a.k.a. HUBER, Ahmed), Mettmenstetten, Switzerland; DOB 1927 (individual) [SDGT]

HUERTAS RAMIREZ, Jorge Luis, c/o REPRESENTACIONES Y DISTRIBUCIONES HUERTAS Y ASOCIADOS S.A., Bogota, Colombia; c/o DECAFARMA S.A., Bogota, Colombia; c/o LABORATORIOS KRESSFOR DE COLOMBIA S.A., Bogota, Colombia; c/o PRODUCTOS GALO Y CIA. LTDA., Bogota, Colombia; DOB 2 Apr 1951; Passport 19134241 (Colombia); Cedula No. 19134241 (Colombia) (individual) [SDNT]

HUM (a.k.a. AL-FARAN; a.k.a. AL-HADID; a.k.a. AL-HADITH; a.k.a. HARAKAT UL-MUJAHIDEEN; a.k.a. HARAKAT UL-ANSAR; a.k.a. HARAKAT UL-MUJAHIDIN; a.k.a. HUA; a.k.a. JAMIAT UL-ANSAR) [FTO][SDGT]

HUMANITARE HILFSORGANISATION FUR PALASTINA (a.k.a. ASP; a.k.a. ASSOCIATION DE SECOURS PALESTINIENS; a.k.a. ASSOCIATION FOR PALESTINIAN AID; a.k.a. ASSOCIATION SECOUR PALESTINIEN; a.k.a. LAJNA AL-IGHATHA AL-FILISTINI; a.k.a. PALESTINE RELIEF COMMITTEE; a.k.a. PALESTINIAN AID COUNCIL; a.k.a. PALESTINIAN AID ORGANIZATION; a.k.a. PALESTINIAN RELIEF SOCIETY; a.k.a. RELIEF ASSOCIATION FOR PALESTINE), c/o Faical Yaakoubi, 7 rue de l'Ancien Port, CH-1201 Geneva, Switzerland; Gartnerstrasse 55, CH-4019 Basel, Switzerland; Postfach 406, CH-4019 Basel, Switzerland [SDGT]

HUNTSLAND NAVIGATION CO., LTD., c/o NIPPON CARIBBEAN SHIPPING CO. LTD., 8th Floor, Tsukiji Hosoda Building, 2-1, Tsukiji 2-chome, Chuo-ku, Tokyo, Japan [CUBA]

HUNTSVILLE NAVIGATION CO., LTD., c/o NIPPON CARIBBEAN SHIPPING CO. LTD., 8th Floor, Tsukiji Hosoda Building, 2-1, Tsukiji 2-chome, Chuo-ku, Tokyo, Japan [CUBA]

HURTADO ROMERO, Jairo Jose, Carrera 42 No. 5B-81, Cali, Colombia; Carrera 8N No. 17A-12, Cartago, Colombia; c/o ARIZONA S.A., Cartago, Colombia; c/o MAQUINARIA TECNICA Y TIERRAS LTDA., Cali, Colombia; Passport 13809079 (Colombia); Cedula No. 13809079 (Colombia) (individual) [SDNT]

HUSAIN, Zain Al-Abidin Muhahhad (a.k.a. ABU ZUBAYDAH; a.k.a. ABU ZUBAIDA; a.k.a. AL-WAHAB, Abd Al-Hadi; a.k.a. HUSAYN, Zayn al-Abidin Muhammad; a.k.a. TARIQ); DOB 12 Mar 71; POB Riyadh, Saudi Arabia (individual) [SDGT]

HUSAYN, Saddam (a.k.a. AL-TIKRITI, Saddam Hussein; a.k.a. Abu Ali; a.k.a. HUSSAIN, Saddam; a.k.a. HUSSEIN, Saddam); DOB 28 Apr 1937; POB al-Awja, near Tikrit, Iraq; President since 1979; named in UNSCR 1483; nationality Iraqi (individual) [IRAQ][IRAQ2]

HUSAYN, Zayn al-Abidin Muhammad (a.k.a. UBAYDAH; a.k.a. UBAIDA; a.k.a. AL-WAHAB, Abd Al-Hadi; a.k.a. HUSAIN, Zain Al-Abidin Muhahhad; a.k.a. TARIQ); DOB 12 Mar 71; POB Riyadh, Saudi Arabia (individual) [SDGT]

HUSIN, Azahari (a.k.a. BIN HUSAN, Azahari; a.k.a. BIN HUSIN, Azahari); DOB 14 Sep 1957; POB Malaysia; nationality Malaysian (individual) [SDGT]

HUSSAIN, Saddam (a.k.a. AL-TIKRITI, Saddam Hussein; a.k.a. Abu Ali; a.k.a. HUSAYN, Saddam; a.k.a. HUSSEIN, Saddam); DOB 28 Apr 1937, POB al-Awja, near Tikrit, Iraq; President since 1979; named in UNSCR 1483; nationality Iraqi (individual)[IRAQ][IRAQ2]

HUSSEIN (a.k.a. FADHIL, Mustafa Mohamed; a.k.a. AL MASRI, Abd Al Wakil; a.k.a. AL-NUBI, Abu; a.k.a. ALI, Hassan; a.k.a. ANIS, Abu; a.k.a. ELBISHY, Moustafa Ali; a.k.a. FADIL, Mustafa Muhamad; a.k.a. FAZUL, Mustafa; a.k.a. JIHAD, Abu; a.k.a. KHALID; a.k.a. MAN, Nu; a.k.a. MOHAMMED, Mustafa; a.k.a. YUSSRR, Abu); DOB 23 Jun 1976; POB Cairo, Egypt; citizen Egypt; alt. citizen Kenya; Kenyan ID No. 12773667; Serial No. 201735161 (individual) [SDGT]

HUSSEIN, Mahafudh Abubakar Ahmed Abdallah (a.k.a. GHAILANI, Ahmed Khalfan; a.k.a. “AHMED THE TANZANIAN;” a.k.a. “FOOPIE;” a.k.a. “FUPI;” a.k.a. AHMAD, Abu Bakr; a.k.a. AHMED, A.; a.k.a. AHMED, Abubakar; a.k.a. AHMED, Abubakar K.; a.k.a. AHMED, Abubakar Khalfan; a.k.a. AHMED, Abubakary K.; a.k.a. AHMED, Ahmed Khalfan; a.k.a. AL TANZANI, Ahmad; a.k.a. ALI, Ahmed Khalfan; a.k.a. BAKR, Abu; a.k.a. GHAILANI, Abubakary Khalfan Ahmed; a.k.a. GHAILANI, Ahmed; a.k.a. GHILANI, Ahmad Khalafan; a.k.a. KHABAR, Abu; a.k.a. KHALFAN, Ahmed; a.k.a. MOHAMMED, Shariff Omar); DOB 14 Mar 1974; alt. DOB 13 Apr 1974; alt. DOB 14 Apr 1974; alt. DOB 1 Aug 1970; POB Zanzibar, Tanzania; citizen Tanzania (individual) [SDGT]

HUSSEIN, Saddam (a.k.a. AL-TIKRITI, Saddam Hussein; a.k.a. Abu Ali; a.k.a. HUSAYN, Saddam; a.k.a. HUSSAIN, Saddam); DOB 28 Apr 1937, POB al-Awja, near Tikrit, Iraq; President since 1979; named in UNSCR 1483; nationality Iraqi) (individual) [IRAQ][IRAQ2]

HUSSEIN, Udai Saddam (a.k.a. AL-TIKRITI, Uday Saddam Hussein) (DOB 1964 alt. DOB 1967; POB Baghdad, Iraq; Saddam Hussein al-Tikriti's eldest son; leader of paramilitary organization Fedayeen Saddam; nationality Iraqi (individual) [IRAQ][IRAQ2]

HUWAYSH, Abd-al-Tawab Mullah; DOB 1957; alt. DOB 14 Mar 1942; POB Mosul or Baghdad, Iraq; Deputy Prime Minister; Director, Organization of Military; nationality Iraqi (individual) [IRAQ][IRAQ2]

HUYO-GIRALDO, LTD. (n.k.a. ARDILA-MARMOLEJO, LTD.), Nassau, Bahamas; Business Registration No. 88,046 B (Bahamas) [SDNT]

HYSENI, Xhemajl; DOB 15 Aug 1958; POB Lojane, Macedonia (individual) [BALKANS]

I.P.C. INTERNATIONAL LIMITED, England [IRAQ]

I.P.C. MARKETING LIMITED, England [IRAQ]

IANORA, Giovanni, Via A. Costa 17, Milan, Italy; DOB 5 Jun 43 (individual) [LIBYA]

IBANEZ LOPEZ, Raul Alberto, c/o AGROPECUARIA LA ROBLEDA S.A., Cali, Colombia; c/o DISTRIBUIDORA DE ELEMENTOS PARA LA CONSTRUCCION S.A., Cali, Colombia; c/o GANADERIAS DEL VALLE S.A., Cali, Colombia; c/o INCOES LTDA., Cali, Colombia; c/o INMOBILIARIA U.M.V. S.A., Cali, Colombia; Cedula No. 16640123 (Colombia) (individual) [SDNT]

IBN SHATWAN, Fathi, Secretary of Industry of the Government of Libya, Libya; DOB 1950 (individual) [LIBYA]

IBRAHIM, Dawood (a.k.a. EBRAHIM, Dawood; a.k.a. HASSAN, Sheikh Dawood), Karachi, Pakistan; Passport No. G869537 (Pakistan) (individual) [SDGT]

IBRAHIM, Haji (a.k.a. IBRAHIM, Haji Ehai; a.k.a. KHAN, Haji Ibrahim; a.k.a. KHAN AFRIDI, Haji Ibrahim); DOB 28 Sep 1957; POB Pakistan (individual) [SDNTK]

IBRAHIM, Haji Ehai (a.k.a. IBRAHIM, Haji; a.k.a. KHAN, Haji Ibrahim; a.k.a. KHAN AFRIDI, Haji Ibrahim); DOB 28 Sep 1957; POB Pakistan (individual) [SDNTK]

IBRAHIM, Muhammad Ahmad, Secretary of Information, Culture, and Mass Mobilization of the Government of Libya, Libya (individual) [LIBYA]

ICDB (a.k.a. ISLAMIC CO-OPERATIVE DEVELOPMENT BANK), P.O. Box 62, Khartoum, Sudan [SUDAN]

IDARRAGA ESCANDON, Herned (Hernet), Carrera 25A No. 49-73, Cali, Colombia; c/o DISMERCOOP, Cali, Colombia, c/o GRACADAL S.A., Cali, Colombia; Cedula No. 16595668 (Colombia) (individual) [SDNT]

IDARRAGA ORTIZ, Jaime Ivan, c/o BLANCO PHARMA S.A., Bogota, Colombia; c/o DEPOSITO POPULAR DE DROGAS S.A., Cali, Colombia; c/o DISTRIBUIDORA DE DROGAS CONDOR LTDA., Bogota, Colombia; c/o DISTRIBUIDORA DE DROGAS LA REBAJA S.A., Bogota, Colombia; c/o DISTRIBUIDORA MIGIL LTDA., Cali, Colombia; c/o DROGAS LA REBAJA BOGOTA S.A., Bogota, Colombia; c/o FARMATODO S.A., Bogota, Colombia; c/o INTERAMERICANA DE CONSTRUCCIONES S.A., Cali, Colombia; c/o INVERSIONES CAMINO REAL, Cali, Colombia; c/o LABORATORIOS BLAIMAR DE COLOMBIA S.A., Bogota, Colombia; c/o LABORATORIOS KRESSFOR DE COLOMBIA S.A., Bogota, Colombia; Cedula No. 8237011 (Colombia) (individual) [SDNT]

IDARRAGA ORTIZ, Rogelio, c/o CAJA SOLIDARIA, Bogota, Colombia; c/o COPSERVIR LTDA., Bogota, Colombia; DOB 10 Jan 1944; Passport 3417272 (Colombia); Cedula No. 3417272 (Colombia) (individual) [SDNT]

IDARRAGA RIOS, Andres Felipe, c/o 2000-DODGE S.L., Madrid, Spain; c/o 2000 DOSE E.U., Cali, Colombia; c/o C Y S MEDIOS E.U., Cali, Colombia; Passport 16274109 (Colombia); Cedula No. 16274109 (Colombia) (individual) [SDNT]

IDARRAGA RODRIGUEZ, Mauricio, c/o ASPOIR DEL PACIFICO Y CIA. LTDA., Cali, Colombia; c/o FUNDASER, Cali, Colombia; DOB 16 Mar 1970; Passport 94307887 (Colombia); Cedula No. 94307887 (Colombia) (individual) [SDNT]

IDROBO ZAPATA, Edgar Hernando, c/o INMOBILIARIA U.M.V. S.A., Cali, Colombia; c/o INVERSIONES EL PENON S.A., Cali, Colombia; Cedula No. 6078860 (Colombia) (individual) [SDNT]

IG (a.k.a. GI; a.k.a. ISLAMIC GROUP; a.k.a. GAMA'A AL-ISLAMIYYA; a.k.a. AL-GAMA'AT; a.k.a. ISLAMIC GAMA'AT; a.k.a. EGYPTIAN AL-GAMA'AT AL-ISLAMIYYA) [SDT][FTO][SDGT]

IJLTC (a.k.a. IRAQI-JORDANIAN LAND TRANSPORT COMPANY; a.k.a. IRAQI-JORDANIAN OVERLAND TRANSPORT COMPANY; a.k.a. IRAQ-JORDAN LAND TRANSPORT COMPANY), P.O. Box 5134, 4th Circle, Jabal, Amman, Jordan [IRAQ]

IKSIR INTERNATIONAL BANK LIMITED (a.k.a. AKIDA ISLAMIC BANK INTERNATIONAL LIMITED; n.k.a. AKIDA BANK PRIVATE LIMITED), c/o Arthur D. Hanna &Company; 10 Deveaux Street, Nassau, Bahamas; P.O. Box N-4877, Nassau, Bahamas [SDGT]

Imad Mouhamed Abdellah (a.k.a. AL SAADI, Faraj Farj Hassan; a.k.a. Mohamded Abdulla Imad; a.k.a. Muhamad Abdullah Imad; a.k.a. “Hamza Al Libi”), “last known address,” Viale Bligny 42, Milan, Italy; DOB 28 Nov 1980; POB Libya; alt. POB Gaza; alt. POB Jordan; alt. POB Palestine; nationality Libyan; alt. nationality Palestinian; alt. nationality Jordanian; arrested United Kingdom (individual) [SDGT]

IMCOMER (a.k.a. IMPORTADORA Y COMERCIALIZADORA LTDA.), Avenida 6N y Avenida 4 No. 13N-50 of. 1201, Cali, Colombia; NIT # 800152058-0 (Colombia) [SDNT]

IMPERATORI, Julio A., Managing Director, Havana International Bank, 20 Ironmonger Lane, London EC2V 8EY, England (individual) [CUBA]

IMPORT MAPRI LTDA., Carrera 7 No. 17-01 of. 603, Bogota, Colombia; Carrera 16 Bis No. 148-37, Bogota, Colombia; NIT # 830079014-4 (Colombia) [SDNT]

IMPORTADORA Y COMERCIALIZADORA LTDA. (a.k.a. IMCOMER), Avenida 6N y Avenida 4 No. 13N-50 of. 1201, Cali, Colombia; NIT # 800152058-0 (Colombia) [SDNT]

IMPRISA, S.A., Panama [CUBA]

IMPRISA, Spain [CUBA]

IMU (a.k.a. ISLAMIC MOVEMENT OF UZBEKISTAN) [FTO] [SDGT]

INCOES (a.k.a. INTERVENTORIA, CONSULTORIA Y ESTUDIOS LIMITADA INGENIEROS ARQUITECTOS), Avenida 6N No. 13N-50 of. 1209, Cali, Colombia; NIT # 800144790-0 (Colombia) [SDNT]

INCOMMERCE S.A., Calle 13 No. 66-14, Cali, Colombia; NIT # 805023544-4 (Colombia) [SDNT]

INCOVALLE (a.k.a. INVERSIONES Y CONSTRUCCIONES VALLE S.A.), Avenida 2N No. 7N-55 of. 501, Cali, Colombia [SDNT]

INDUSTRIA AGROPECUARIA SANTA ELENA LTDA. (n.k.a. CRIADERO LA LUISA E.U.), Avenida 7 Norte No. 23N-81, Cali, Colombia; Avenida 7 Norte No. 23-77, Cali, Colombia; Calle 15 No. 26-400, Cali, Colombia; Jamundi, Valle, Colombia; NIT # 860503330-5 (Colombia) [SDNT]

INDUSTRIA AVICOLA PALMASECA S.A. (n.k.a. CRIADERO DE POLLOS EL ROSAL S.A.), Carrera 61 No. 11-58, Cali, Colombia; Carretera Central via Aeropuerto Palmaseca, Colombia; NIT # 800146749-7 (Colombia) [SDNT]

INDUSTRIA DE PESCA SOBRE EL PACIFICO S.A. (a.k.a. INPESCA S.A.), Km. 5 El Pinal, Buenaventura, Colombia; Av. Simon Bolivar Km. 5 El Pinal, Buenaventura, Colombia; NIT # 890302172-4 (Colombia) [SDNT]

INDUSTRIA MADERERA ARCA LTDA., Calle 11 No. 32-47 Bodega 41 Arroyohondo, Cali, Colombia; Calle 32 No. 11-41 Bodega 4 Arroyohondo, Cali, Colombia; NIT # 800122866-7 (Colombia) [SDNT]

INDUSTRIAL BANK (a.k.a. INDUSTRIAL BANK OF IRAQ), P.O. Box 5825, Al-Jamhourya St, Baghdad, Iraq (including, but not limited to, branches located in: Mosul, Iraq; Kirkuk, Iraq; Hilla, Iraq; Kerbala, Iraq; Basrah, Iraq; Arbil, Iraq; Najaf, Iraq; Sulaymania, Iraq) [IRAQ]

INDUSTRIAL BANK COMPANY FOR TRADE & DEVELOPMENT LIMITED, Khartoum, Sudan [SUDAN]

INDUSTRIAL BANK OF IRAQ (a.k.a. INDUSTRIAL BANK), P.O. Box 5825, Al-Jamhourya St, Baghdad, Iraq (including, but not limited to, branches located in: Mosul, Iraq; Kirkuk, Iraq; Hilla, Iraq; Kerbala, Iraq; Basrah, Iraq; Arbil, Iraq; Najaf, Iraq; Sulaymania, Iraq) [IRAQ]

INDUSTRIAL BANK OF SUDAN (n.k.a. EL NILEIN INDUSTRIAL DEVELOPMENT BANK GROUP; n.k.a. EL NILEIN INDUSTRIAL DEVELOPMENT BANK {SUDAN☐; n.k.a. NILEIN INDUSTRIAL DEVELOPMENT BANK {SUDAN☐), United Nations Square, P.O. Box 1722, Khartoum, Sudan [SUDAN]

INDUSTRIAL DE GESTION DE NEGOCIOS E.U., Calle 5C No. 41-30, Cali, Colombia; NIT # 805005946-5 (Colombia) [SDNT]

INDUSTRIAL PRODUCTION CORPORATION, P.O. Box 1034, El Gamaa Street, Khartoum, Sudan [SUDAN]

INDUSTRIAL RESEARCH AND CONSULTANCY INSTITUTE, P.O. Box 268, Khartoum, Sudan [SUDAN]

INDUSTRIAS AGROPECUARIAS DEL VALLE LTDA., Carrera 50 No. 9B-20 of. 07, Cali, Colombia; Calle 52 No. 28E-30, Cali, Colombia; NIT # 800068160-5 (Colombia) [SDNT]

INDUSTRIE GENERALE DE FILATURE ET TISSAGE (a.k.a. INDUSTRIE GENERALE DE TEXTILE; a.k.a. NASCOTEX S.A.), KM 7 Route de Rabat, BP 285, Tangiers, Morocco; KM 7 Route de Rabat, Tangiers, Morocco [SDGT]

INDUSTRIE GENERALE DE TEXTILE (a.k.a. INDUSTRIE GENERALE DE FILATURE ET TISSAGE; a.k.a. NASCOTEX S.A.), KM 7 Route de Rabat, BP 285, Tangiers, Morocco; KM 7 Route de Rabat, Tangiers, Morocco [SDGT]

INGASSANA HILLS MINES CORPORATION (a.k.a. INGESSANA HILLS MINES CORPORATION), P.O. Box 2241, Khartoum, Sudan; P.O. Box 1108, Khartoum, Sudan [SUDAN]

INGESSANA HILLS MINES CORPORATION (a.k.a. INGASSANA HILLS MINES CORPORATION), P.O. Box 2241, Khartoum, Sudan; P.O. Box 1108, Khartoum, Sudan [SUDAN]

INHOCAR (a.k.a. INMOBILIARIA HOTELERA DEL CARIBE LTDA.), Calle 74 No. 53-30, Barranquilla, Colombia; NIT # 800012713-7 (Colombia) [SDNT]

INHOTEL (a.k.a. INVERSIONES HOTELERAS DEL LITORAL LTDA.), Calle 74 No. 53-30, Barranquilla, Colombia; NIT # 800011604-8 (Colombia) [SDNT]

INMOBILIARIA AURORA LTDA., Avenida Canasgordas con Avenida Guali Casa 35, Cali, Colombia; Carrera 4 12-41 piso 15, Edificio Seguros Bolivar, Cali, Colombia; Carrera 24F Oeste 3-70, Cali, Colombia; Carrera 38A No. 5E-31, Edificio Conquistadores, Cali, Colombia [SDNT]

INMOBILIARIA BOLIVAR LTDA., Calle 17N No. 6N-28, Cali, Colombia; Calle 24N No. 6N-21, Cali, Colombia; NIT # 890330573-3 (Colombia) [SDNT]

INMOBILIARIA DEL CARIBE LTDA., Calle 74 No. 53-30, Barranquilla, Colombia; NIT # 890108105-1 (Colombia) [SDNT]

INMOBILIARIA EL ESCORIAL LTDA., Carrera 4 No. 12-20 of. 206, Cartago, Valle, Colombia; Carrera 5 No. 18-20 Local 12, Cartago, Valle, Colombia; NIT # 800146869-2 (Colombia) [SDNT]

INMOBILIARIA GALES LTDA., Avenida Caracas No. 59-77 of. 201A, 401B y 405B, Bogota, Colombia; NIT # 800061287-1 (Colombia) [SDNT]

INMOBILIARIA HOTELERA DEL CARIBE LTDA. (a.k.a. INHOCAR), Calle 74 No. 53-30, Barranquilla, Colombia; NIT # 800012713-7 (Colombia) [SDNT]

INMOBILIARIA IMTASA LTDA., Calle 10 No. 4-47 piso 18, Cali, Colombia; Carrera 3 No. 11-32 of. 939, Cali, Colombia; NIT # 805012623-0 (Colombia) [SDNT]

INMOBILIARIA LINARES LTDA., Carrera 4 No. 12-20 of. 206, Cartago, Valle, Colombia; NIT # 800146860-7 (Colombia) [SDNT]

INMOBILIARIA PASADENA LTDA., Carrera 4 No. 12-20 of. 206, Cartago, Valle, Colombia; NIT # 800146861-4 (Colombia) [SDNT]

INMOBILIARIA SAMARIA LTDA. (n.k.a. NEGOCIOS LOS SAUCES LTDA. Y CIA. S.C.S.), Calle 13 No. 3-32 piso 13, Cali, Colombia; Calle 13A No. 64-50 F102, Cali, Colombia; Calle 18 No. 106-96 of. 201/202, Cali, Colombia; Carrera 4 No. 12-41 of. 1501, Edificio Seguros Bolivar, Cali, Colombia; NIT # 890937859-0 (Colombia) [SDNT]

INMOBILIARIA U.M.V. S.A., Carrera 83 No. 6-50, Edificio Alqueria, Torre C, of. 302, Cali, Colombia [SDNT]

INPESCA S.A. (a.k.a. INDUSTRIA DE PESCA SOBRE EL PACIFICO S.A.), Km. 5 El Pinal, Buenaventura, Colombia; Av. Simon Bolivar Km. 5 El Pinal, Buenaventura, Colombia; NIT # 890302172-4 (Colombia) [SDNT]

INSTALACIONES INDUSTRIALES PENINSULARES, Calle 35 No. 498-A, ZP 97, Merida, Mexico [CUBA]

INSTITUTO NACIONAL DE TURISMO DE CUBA, Spain [CUBA]

INTERAMERICANA DE CONSTRUCCIONES S.A. (f.k.a. ANDINA DE CONSTRUCCIONES S.A.), Calle 12 Norte No. 9N-56, Cali, Colombia; NIT # 800237404-2 (Colombia) [SDNT]

INTERCONSULT, Panama [CUBA]

INTERCREDITOS BOGOTA (a.k.a. INTERCREDITOS S.A.), Bogota, Colombia [SDNT]

INTERCREDITOS CALI (a.k.a. INTERCREDITOS S.A.), Avenida Roosevelt No. 38-32, piso 2, Cali, Colombia [SDNT]

INTERCREDITOS S.A. (a.k.a. INTERCREDITOS BOGOTA), Bogota, Colombia; (a.k.a. INTERCREDITOS CALI), Avenida Roosevelt No. 38-32, piso 2, Cali, Colombia [SDNT]

INTERFARMA S.A. (a.k.a. JOMAGA DE COSTA RICA S.A.), 200 Norte y 25 Oeste del Restaurante Tierra Colombiana, San Francisco de Dos Rios, San Jose, Costa Rica; Numero Judicial # 3-101-76327 (Costa Rica) [SDNT]

INTERNACIONAL DE DIVISAS S.A., Calle 10 No. 4-40 of. 312, Cali, Colombia; Centro Comercial Cosmocentro Local 103, Cali, Colombia; Calle 19 No. 5-48 Local 226, Pereira, Colombia; Carrera 22 No. 18-65 Local 28, Manizales, Colombia; Carrera 52 No. 72-65 Local 106, Barranquilla, Colombia; Carrera 28 No. 29-06 Local 104, Palmira, Colombia; Transversal 71D No. 26-94 Sur Local 3504, Bogota, Colombia; NIT # 805013989-5 (Colombia) [SDNT]

INTERNACIONAL DE DIVISAS S.A., LLC, 280 Crandon Blvd., Suite 32-185, Miami, Florida 33149-1540, U.S.A.; Document # L00000003506 (Florida, U.S.A.); U.S. FEIN: 65-0996161 [SDNT]

INTERNATIONAL BATTALION (a.k.a. ISLAMIC PEACEKEEPING INTERNATIONAL BRIGADE; a.k.a. PEACEKEEPING BATTALION; a.k.a. THE INTERNATIONAL BRIGADE; a.k.a. THE ISLAMIC INTERNATIONAL BRIGADE; a.k.a. THE ISLAMIC PEACEKEEPING ARMY; a.k.a. THE ISLAMIC PEACEKEEPING BRIGADE) [SDGT]

INTERNATIONAL COBALT CO. INC., Fort Saskatchewan, AB, Canada [CUBA]

INTERNATIONAL FRONT FOR FIGHTING JEWS AND CRUSADES (a.k.a. AL QA'IDA; a.k.a. AL QAEDA; a.k.a. AL QAIDA; a.k.a. AL-JIHAD; a.k.a. EGYPTIAN AL-JIHAD; a.k.a. EGYPTIAN ISLAMIC JIHAD; a.k.a. ISLAMIC ARMY FOR THE LIBERATION OF HOLY SITES; a.k.a. ISLAMIC ARMY; a.k.a. ISLAMIC SALVATION FOUNDATION; a.k.a. NEW JIHAD; a.k.a. THE GROUP FOR THE PRESERVATION OF THE HOLY SITES; a.k.a. THE ISLAMIC ARMY FOR THE LIBERATION OF THE HOLY PLACES; a.k.a. THE JIHAD GROUP; a.k.a. THE WORLD ISLAMIC FRONT FOR JIHAD AGAINST JEWS AND CRUSADERS; a.k.a. USAMA BIN LADEN NETWORK; a.k.a. USAMA BIN LADEN ORGANIZATION; a.k.a. “THE BASE”) [SDT][FTO][SDGT]

INTERNATIONAL HOLDING COMPANY, Luxembourg Ville, Luxembourg [LIBYA]

INTERNATIONAL PETROLEUM, S.A., (a.k.a. IPESCO), Colon Free Zone, Panama [CUBA]

INTERNATIONAL SIKH YOUTH FEDERATION (ISYF) [SDGT]

INTERNATIONAL TRANSPORT CORPORATION, Colon Free Zone, Panama [CUBA]

INTERPAL (a.k.a. AL-SANDUQ AL-FILISTINI LIL-IGHATHA; a.k.a. AL-SANDUQ AL-FILISTINI LIL-IGHATHA WA AL-TANMIYA; a.k.a. PALESTINE DEVELOPMENT AND RELIEF FUND; a.k.a. PALESTINE RELIEF AND DEVELOPMENT FUND; a.k.a. PALESTINE RELIEF FUND; a.k.a. PALESTINIAN AID AND SUPPORT FUND; a.k.a. PALESTINIAN RELIEF AND DEVELOPMENT FUND; a.k.a. PALESTINIAN RELIEF FUND; a.k.a. PALESTINE AND LEBANON RELIEF FUND; a.k.a. PRDF; a.k.a. RELIEF AND DEVELOPMENT FUND FOR PALESTINE; a.k.a. WELFARE AND DEVELOPMENT FUND FOR PALESTINE; a.k.a. WELFARE AND DEVELOPMENT FUND OF PALESTINE), P.O. Box 3333, London, NW6 1RW, England; Registered Charity No: 1040094 [SDGT]

INTERVENTORIA, CONSULTORIA Y ESTUDIOS LIMITADA INGENIEROS ARQUITECTOS (a.k.a. INCOES), Avenida 6N No. 13N-50 of. 1209, Cali, Colombia; NIT # 800144790-0 (Colombia) [SDNT]

INVERSIETE S.A., Carrera 3 No. 11-32 of. 939, Cali, Colombia; NIT # 800234909-6 (Colombia) [SDNT]

INVERSIONES AGRICOLAS AVICOLAS Y GANADERAS LA CARMELITA LTDA., Carrera 61 Nos. 11-58 y 11-62, Cali, Colombia; NIT # 800052898-1 (Colombia) [SDNT]

INVERSIONES ARA LTDA., Avenida 4N 6N-67 of. 601, Cali, Colombia; Avenida 6AN 18-69 1-128, Cali, Colombia; Avenida 6AN 23DN-16 of. 402, Cali, Colombia; Club El Remanso, Jamundi, Colombia [SDNT]

INVERSIONES ARIO LTDA., Carrera 4 No. 12-41 of. 608 y 701, Cali, Colombia; NIT # 890328888-1 (Colombia) [SDNT]

INVERSIONES BETANIA LTDA. (a.k.a. INVERSIONES BETANIA S.A.; n.k.a. SAN MATEO S.A.), Avenida 2N No. 7N-55 of. 501, Cali, Colombia; Carrera 53 No. 13-55 apt. 102B, Cali, Colombia; Carrera 3 No. 12-40, Cali, Colombia; NIT # 890330910-2 (Colombia) [SDNT]

INVERSIONES BETANIA S.A. (a.k.a. INVERSIONES BETANIA LTDA.; n.k.a. SAN MATEO S.A.), Avenida 2N No. 7N-55 of. 501, Cali, Colombia; Carrera 53 No. 13-55 apt. 102B, Cali, Colombia; Carrera 3 No. 12-40, Cali, Colombia; NIT # 890330910-2 (Colombia) [SDNT]

INVERSIONES BOMBAY S.A. (a.k.a. AGROVETERINARIA EL TORO; a.k.a. AGROVETERINARIA EL TORO #2), Transversal 29 No. 39-92, Bogota, Colombia; Calle 12B No. 28-50, Bogota, Colombia; Avenida 3 Bis Norte No. 23CN-69, Cali, Colombia; Calle 7 No. 25-69, Cali, Colombia; NIT # 830019226-2 (Colombia) [SDNT]

INVERSIONES CAMINO REAL S.A. (n.k.a. INVERSIONES Y CONSTRUCCIONES ABC S.A.), Calle 10 No. 4-47 piso 19, Cali, Colombia; Calle 12 Norte No. 9N-56/58, Cali, Colombia; NIT # 890325389-4 (Colombia) [SDNT]

INVERSIONES CARFENI, S.L., Calle Gran Via 80, 28013 Madrid, Spain [SDNT]

INVERSIONES CLAUPI S.L., Calle Consuegra 3, 28036 Madrid, Madrid, Spain; C.I.F. B81684421 (Spain) [SDNT]

INVERSIONES CULZAT GUEVARA Y CIA. S.C.S., Avenida 4A Oeste No. 5-107 Apt. 401, Cali, Colombia; Avenida 4A Oeste No. 5-187 Apt. 401, Cali, Colombia; Avenida 7N No. 23N-39, Cali, Colombia; NIT # 860065523-1 (Colombia) [SDNT]

INVERSIONES DOBLE CERO E.U., Transversal 29 No. 39-92, Bogota, Colombia; NIT # 830021696-7 (Colombia) [SDNT]

INVERSIONES EL EDEN S.C.S., Calle 5 No. 22-39 of. 205, Cali, Colombia; Calle 52 No. 28E-30, Cali, Colombia; NIT # 800083195-5 (Colombia) [SDNT]

INVERSIONES EL GRAN CRISOL LTDA. (f.k.a. W. HERRERA Y CIA. S. EN C.), Avenida 2N 7N-55 of. 501, Cali, Colombia; Carrera 24D Oeste No. 6-237, Cali, Colombia; NIT # 800001330-2 (Colombia) [SDNT]

INVERSIONES EL PASO LTDA. (n.k.a. MIRALUNA LTDA. Y CIA. S. EN C.S.; f.k.a. INVERSIONES NEGOAGRICOLA S.A.), Carrera 4 No. 12-41 of. 1403, Cali, Colombia; Carrera 4 No. 12-41 of. 1501, Cali, Colombia; NIT # 890937860-9 (Colombia) [SDNT]

INVERSIONES EL PENON S.A., Avenida 2N, Cali, Colombia [SDNT]

INVERSIONES ESPANOLAS FEMCAR S.L., Ronda Manuel Granero 69, piso 4-1, 28043 Madrid, Madrid, Spain; C.I.F. B82290727 (Spain) [SDNT]

INVERSIONES GEELE LTDA., Calle 17A No. 28A-23, Bogota, Colombia [SDNT]

INVERSIONES GEMINIS S.A. (n.k.a. COMPANIA ADMINISTRADORA DE VIVIENDA S.A.), Carrera 40 No. 6-24 of. 402B, Cali, Colombia; Carrera 41 No. 6-15/35, Cali, Colombia; NIT # 800032419-1 (Colombia) [SDNT]

INVERSIONES HERREBE LTDA., Avenida 2N No. 7N-55 of. 501, Cali, Colombia; Carrera 25 No. 4-65, Cali, Colombia [SDNT]

INVERSIONES HOTELERAS DEL LITORAL LTDA. (a.k.a. INHOTEL), Calle 74 No. 53-30, Barranquilla, Colombia; NIT # 800011604-8 (Colombia) [SDNT]

INVERSIONES INMOBILIARIAS VALERIA S.L., Calle Consuegra 3, 28036 Madrid, Madrid, Spain; Calle Zurbano 76, 7, Madrid, Madrid, Spain; C.I.F. B81681454 (Spain) [SDNT]

INVERSIONES INTEGRAL LTDA., Carrera 4 No. 12-41 of. 1403, 1501 Edificio Seguros Bolivar, Cali, Colombia; Apartado Aereo 10077, Cali, Colombia; NIT # 800092770-9 (Colombia) [SDNT]

INVERSIONES INTEGRAL Y CIA., Calle 16B No. 114-80 Casa 2, Cali, Colombia; Carrera 2 Oeste 5-46 apt./of. 503, Cali, Colombia [SDNT]

INVERSIONES INVERVALLE S.A. (a.k.a. INVERVALLE S.A.; n.k.a. SAN VICENTE S.A.), Avenida 2N No. 7N-55 of. 501, Cali, Colombia; Calle 70N No. 14-31, Cali, Colombia; Avenida 4 Norte No. 17N-43 L.1, Cali, Colombia; NIT # 800061212-8 (Colombia) [SDNT]

INVERSIONES JAER LTDA., Carrera 7 No. 34-341 Bodega 7, Cali, Colombia; Apartado Aereo 10454, Cali, Colombia; Calle 6A Norte No. 2N-36 of. 436, Cali, Colombia; Carrera 1H No. 39-42, Cali, Colombia; NIT # 890332242-1 (Colombia) [SDNT]

INVERSIONES KANTON LTDA., Avenida 10A No. 5E-26 La Rivera, Cucuta, Norte de Santander, Colombia; NIT # 807000572-9 (Colombia) [SDNT]

INVERSIONES LA QUINTA Y CIA. LTDA., Diagonal 29 No. 36-10 of. 801, Cali, Colombia; Diagonal 27 No. 27-104, Cali, Colombia; NIT # 800160387-2 (Colombia) [SDNT]

INVERSIONES LA SEXTA LTDA., Calle 10 No. 4-47 piso 19, Cali, Colombia [SDNT]

INVERSIONES LUPAMAR, S.A., (a.k.a. LUPAMAR INVESTMENT COMPANY), Panama [CUBA]

INVERSIONES MIGUEL RODRIGUEZ E HIJO, Avenida 4N 6N-67 of. 601, Cali, Colombia; Avenida 6N 23DN-16 of. 202, 301, 302, 401, 402, Cali, Colombia [SDNT]

INVERSIONES MOMPAX LTDA. (n.k.a. INVERSIONES Y CONSTRUCCIONES ATLAS LTDA.; f.k.a. MOMPAX LTDA.), Calle 10 No. 4-47 piso 19, Cali, Colombia; NIT # 800102408-1 (Colombia) [SDNT]

INVERSIONES MONDRAGON Y CIA. S.C.S. (f.k.a. MARIELA DE RODRIGUEZ Y CIA. S. EN C.), Calle 12 Norte No. 9N-56/58, Cali, Colombia; NIT # 890328152-1 (Colombia) [SDNT]

INVERSIONES NAMOS Y CIA. LTDA., Carrera 54 No. 75-107, Barranquilla, Colombia; NIT # 800182475-7 (Colombia) [SDNT]

INVERSIONES NEGOAGRICOLA S.A. (n.k.a. MIRALUNA LTDA. Y CIA. S. EN C.S.; f.k.a. INVERSIONES EL PASO LTDA.), Carrera 4 No. 12-41 of. 1403, Cali, Colombia; Carrera 4 No. 12-41 of. 1501, Cali, Colombia; NIT # 890937860-9 (Colombia) [SDNT]

INVERSIONES NUEVO DIA E.U., Calle 86 No. 103C-49, Bogota, Colombia; NIT # 830020410-3 (Colombia) [SDNT]

INVERSIONES PRADO TRADE CENTER LTDA. (a.k.a. IPRACARIBE), Calle 74 No. 53-30, Barranquilla, Colombia; NIT # 800236713-9 (Colombia) [SDNT]

INVERSIONES RODRIGUEZ ARBELAEZ Y CIA. S. EN C., Avenida 4N No. 5N-20, Cali, Colombia; Avenida 6N No. 23D-16 of. 402, Cali, Colombia [SDNT]

INVERSIONES RODRIGUEZ MORENO Y CIA. S. EN C., Calle 10 No. 4-47, Cali, Colombia [SDNT]

INVERSIONES RODRIGUEZ RAMIREZ Y CIA. S.C.S.S., Calle 10 No. 4-47 piso 19, Cali, Colombia [SDNT]

INVERSIONES SAMPLA E.U., Calle 86 No. 103C-49, Bogota, Colombia; NIT # 830020409-5 (Colombia) [SDNT]

INVERSIONES SAN JOSE LTDA., Carrera 7 No. 34-341, Cali, Colombia; Apartado Aereo 10454, Cali, Colombia; Calle 44 No. 1E-135, Cali, Colombia; Calle 44 No. 1E-155, Cali, Colombia; NIT # 800079682-5 (Colombia) [SDNT]

INVERSIONES SANTA LTDA. (f.k.a. INVERSIONES Y CONSTRUCCIONES SANTA LIMITADA), Calle 5 66B-49 piso 3, Cali, Colombia; Calle 5 Oeste 3A-26 apt/of 103, 301, 404, 502, 503, Cali, Colombia; Calle 7 Oeste 25-48, Cali, Colombia; Calle 9 No. 46-69 of. 302, Cali, Colombia; Calle 13 3-32 piso 14, Cali, Colombia; Carrera 2 Oeste 5-46 of 502, Cali, Colombia; Carrera 4 12-41 piso 14, Edificio Seguros Bolivar, Cali, Colombia; Carrera 4 12-41 piso 15, Edificio Seguros Bolivar, Cali, Colombia [SDNT]

INVERSIONES VILLA PAZ S.A., Avenida 2CN No. 24N-92, Cali, Colombia; Avenida 2DN No. 24-N76, Cali, Colombia; Calle 70N No. 14-31, Cali, Colombia; Carrera 61 No. 11-58, Cali, Colombia; NIT # 800091083-2 (Colombia) [SDNT]

INVERSIONES Y COMERCIALIZADORA RAMIREZ Y CIA. LTDA., Calle 12N No. 9N-58, Cali, Colombia; Avenida 4 No. 8N-67, Cali, Colombia; NIT # 800075600-3 (Colombia) [SDNT]

INVERSIONES Y CONSTRUCCIONES ABC S.A. (f.k.a. INVERSIONES CAMINO REAL S.A.), Calle 10 No. 4-47 piso 19, Cali, Colombia; Calle 12 Norte No. 9N-56/58, Cali, Colombia; NIT # 890325389-4 (Colombia) [SDNT]

INVERSIONES Y CONSTRUCCIONES ATLAS LTDA. (f.k.a. INVERSIONES MOMPAX LTDA.; f.k.a. MOMPAX LTDA.), Calle 10 No. 4-47 piso 19, Cali, Colombia; NIT # 800102408-1 (Colombia) [SDNT]

INVERSIONES Y CONSTRUCCIONES COSMOVALLE LTDA. (a.k.a. COSMOVALLE; f.k.a. COMPAX LTDA.; f.k.a. INVERSIONES Y DISTRIBUCIONES COMPAX LTDA.), Calle 10 No. 4-47 piso 19, Cali, Colombia; NIT # 800102403-5 (Colombia) [SDNT]

INVERSIONES Y CONSTRUCCIONES SANTA LIMITADA (n.k.a. INVERSIONES SANTA LTDA.), Calle 5 66B-49 piso 3, Cali, Colombia; Calle 5 Oeste 3A-26 apt/of 103, 301, 404, 502, 503, Cali, Colombia; Calle 7 Oeste 25-48, Cali, Colombia; Calle 9 No. 46-69 of. 302, Cali, Colombia; Calle 13 3-32 piso 14, Cali, Colombia; Carrera 2 Oeste 5-46 of 502, Cali, Colombia; Carrera 4 12-41 piso 14, Edificio Seguros Bolivar, Cali, Colombia; Carrera 4 12-41 piso 15, Edificio Seguros Bolivar, Cali, Colombia [SDNT]

INVERSIONES Y CONSTRUCCIONES VALLE S.A. (a.k.a. INCOVALLE), Avenida 2N No. 7N-55 of. 501, Cali, Colombia [SDNT]

INVERSIONES Y DISTRIBUCIONES A M M LTDA., Calle 5 No. 50-103, Cali, Colombia; NIT # 800192791-2 (Colombia) [SDNT]

INVERSIONES Y DISTRIBUCIONES COMPAX LTDA. (n.k.a. COSMOVALLE; n.k.a. INVERSIONES Y CONSTRUCCIONES COSMOVALLE LTDA.; f.k.a. COMPAX LTDA.), Calle 10 No. 4-47 piso 19, Cali, Colombia; NIT # 800102403-5 (Colombia) [SDNT]

INVERVALLE S.A. (a.k.a. INVERSIONES INVERVALLE S.A.; n.k.a. SAN VICENTE S.A.), Avenida 2N No. 7N-55 of. 501, Cali, Colombia; Calle 70N No. 14-31, Cali, Colombia; Avenida 4 Norte No. 17N-43 L.1, Cali, Colombia; NIT # 800061212-8 (Colombia) [SDNT]

INVESTACAST PRECISION CASTINGS, LTD., 112 City Road, London, England [IRAQ]

INVHERESA S.A. (n.k.a. ALKALA ASOCIADOS S.A.), Calle 1A No. 62A-130, Cali, Colombia; Calle 1A No. 62A-120, Cali, Colombia; Avenida 2N No. 7N-55 of. 501, Cali, Colombia; Calle 70N No. 14-31, Cali, Colombia; NIT # 800108121-0 (Colombia) [SDNT]

IPARRAGUIRRE GUENECHEA, Maria Soledad; member ETA; DOB 25 Apr 1961; POB Escoriaza (Guipuzcoa Province), Spain; D.N.I. 16.255.819 (individual) [SDGT]

IPESCO, Panama (a.k.a. INTERNATIONAL PETROLEUM, S.A.), Colon Free Zone, Panama [CUBA]

IPRACARIBE (a.k.a. INVERSIONES PRADO TRADE CENTER LTDA.), Calle 74 No. 53-30, Barranquilla, Colombia; NIT # 800236713-9 (Colombia) [SDNT]

IRAGORI TORRES, Maria Consuelo (a.k.a. IRAGORRI TORRES, Maria Consuelo), c/o INTERNACIONAL DE DIVISAS S.A., Cali, Colombia; c/o INTERNACIONAL DE DIVISAS S.A., LLC, Miami, Florida, USA; c/o OBURSATILES S.A., Cali, Colombia; c/o SEPULVEDA-IRAGORRI, LTD., Nassau, Bahamas; DOB 26 Apr 1964; Passport 31921847 (Colombia); Cedula No. 31921847 (Colombia) (individual) [SDNT]

IRAGORRI TORRES, Maria Consuelo (a.k.a. IRAGORI TORRES, Maria Consuelo), c/o INTERNACIONAL DE DIVISAS S.A., Cali, Colombia; c/o INTERNACIONAL DE DIVISAS S.A., LLC, Miami, Florida, USA; c/o OBURSATILES S.A., Cali, Colombia; c/o SEPULVEDA-IRAGORRI, LTD., Nassau, Bahamas; DOB 26 Apr 1964; Passport 31921847 (Colombia); Cedula No. 31921847 (Colombia) (individual) [SDNT]

IRAQ-JORDAN LAND TRANSPORT COMPANY (a.k.a. IJLTC; a.k.a. IRAQI-JORDANIAN LAND TRANSPORT COMPANY; a.k.a. IRAQI-JORDANIAN OVERLAND TRANSPORT COMPANY), P.O. Box 5134, 4th Circle, Jabal, Amman, Jordan [IRAQ]

IRAQI AIRWAYS, 1211 Avenue of the Americas, New York, New York 10036, U.S.A. [IRAQ]

IRAQI AIRWAYS, 25040 Southfield Road, Southfield, Michigan 48075, U.S.A.[ IRAQ]

IRAQI AIRWAYS, 27, Ulica Grojecka, Central Warsaw, Poland [IRAQ]

IRAQI AIRWAYS, 4 Lower Regent Street, London SW1Y 4P, England [IRAQ]

IRAQI AIRWAYS, 5825 W. Sunset Blvd., #218, Los Angeles, California 90028, U.S.A. [IRAQ]

IRAQI AIRWAYS, Abu Dhabi, U.A.E. [IRAQ]

IRAQI AIRWAYS, Ankara, Turkey [IRAQ]

IRAQI AIRWAYS, Belgrade, Serbia [IRAQ]

IRAQI AIRWAYS, Building 68, J.F.K. International Airport, Jamaica, New York 11430, U.S.A.[ IRAQ]

IRAQI AIRWAYS, Casablanca, Morocco [IRAQ]

IRAQI AIRWAYS, Copenhagen, Denmark [IRAQ]

IRAQI AIRWAYS, General Service Agent, Bangladeshi-Owned Travel Agency, Dhaka, Bangladesh [IRAQ]

IRAQI AIRWAYS, Jianguomenwai Diplomatic Housing Compound, Building 7-1, 5th Floor, Apartment 4, Beijing, People's Republic of China [IRAQ]

IRAQI AIRWAYS, Main Eisenhuttenplatz 26, Frankfurt 6, Germany [IRAQ]

IRAQI AIRWAYS, Moscow, Russia [IRAQ]

IRAQI AIRWAYS, Nekazanka 3, Prague 1, Czech Republic [IRAQ]

IRAQI AIRWAYS, Netherlands [IRAQ]

IRAQI AIRWAYS, Opernring 6, 1010 Wien, Vienna, Austria [IRAQ]

IRAQI AIRWAYS, Prague Airport, Prague, Czech Republic[ IRAQ]

IRAQI AIRWAYS, Rio de Janeiro, Brazil [IRAQ]

IRAQI AIRWAYS, Rome, Italy [IRAQ]

IRAQI AIRWAYS, Saddam International Airport, Baghdad, Iraq [IRAQ]

IRAQI AIRWAYS, Sanaa, Yemen [IRAQ]

IRAQI AIRWAYS, Tokyo, Japan [IRAQ]

IRAQI AIRWAYS, Tunis, Tunisia [IRAQ]

IRAQI ALLIED SERVICES LIMITED, England [IRAQ]

IRAQI FREIGHT SERVICES LIMITED, England [IRAQ]

IRAQI REINSURANCE COMPANY, 31-35 Fenchurch Street, London EC3M 3D, England [IRAQ]

IRAQI STATE ENTERPRISE FOR FOODSTUFFS TRADING, P.O. Box 1308, Colombo 3, Sri Lanka [IRAQ]

IRAQI STATE ENTERPRISE FOR FOODSTUFFS TRADING, P.O. Box 2839, Calcutta 700.001, India [IRAQ]

IRAQI STATE ENTERPRISE FOR MARITIME TRANSPORT, Amman, Jordan [IRAQ]

IRAQI STATE ENTERPRISE FOR MARITIME TRANSPORT, Bremen, Germany [IRAQ]

IRAQI TRADE CENTER, Dubai, U.A.E. [IRAQ]

IRAQI-JORDANIAN LAND TRANSPORT COMPANY (a.k.a. IJLTC; a.k.a. IRAQI-JORDANIAN OVERLAND TRANSPORT COMPANY; a.k.a. IRAQ-JORDAN LAND TRANSPORT COMPANY), P.O. Box 5134, 4th Circle, Jabal, Amman, Jordan [IRAQ]

IRAQI-JORDANIAN OVERLAND TRANSPORT COMPANY (a.k.a. IJLTC; a.k.a. IRAQI-JORDANIAN LAND TRANSPORT COMPANY; a.k.a. IRAQ-JORDAN LAND TRANSPORT COMPANY), P.O. Box 5134, 4th Circle, Jabal, Amman, Jordan [IRAQ]

IRISH REPUBLICAN PRISONERS WELFARE ASSOCIATION (a.k.a. 32 COUNTY SOVEREIGNTY COMMITTEE; a.k.a. 32 COUNTY SOVEREIGNTY MOVEMENT; a.k.a. REAL IRA; a.k.a. REAL IRISH REPUBLICAN ARMY; a.k.a. REAL OGLAIGH NA HEIREANN; a.k.a. RIRA) [FTO][SDGT]

ISAMUDDIN, Nurjaman Riduan (a.k.a. HAMBALI; a.k.a. ISOMUDDIN, Riduan; a.k.a. NURJAMAN; a.k.a. NURJAMAN, Encep); DOB 04 Apr 1964, alt. DOB 01 Apr 1964; POB Cianjur, West Java, Indonesia; nationality Indonesian (individual) [SDGT]

ISAZA ARANGO, Ramon Maria; DOB 30 Sep 1940; POB Sonson, Antioquia, Colombia; Cedula No. 5812993 (Colombia) (individual) [SDNTK]

ISLAMBOULI, Mohammad Shawqi; Military Leader of ISLAMIC GAMA'AT; DOB 15 Jan 1955; POB Egypt; Passport No. 304555 (Egypt) (individual) [SDT]

ISLAMIC ARMY (a.k.a. AL QA'IDA; a.k.a. AL QAEDA; a.k.a. AL QAIDA; a.k.a. AL-JIHAD; a.k.a. EGYPTIAN AL-JIHAD; a.k.a. EGYPTIAN ISLAMIC JIHAD; a.k.a. INTERNATIONAL FRONT FOR FIGHTING JEWS AND CRUSADES; a.k.a. ISLAMIC ARMY FOR THE LIBERATION OF HOLY SITES; a.k.a. ISLAMIC SALVATION FOUNDATION; a.k.a. NEW JIHAD; a.k.a. THE GROUP FOR THE PRESERVATION OF THE HOLY SITES; a.k.a. THE ISLAMIC ARMY FOR THE LIBERATION OF THE HOLY PLACES; a.k.a. THE JIHAD GROUP; a.k.a. THE WORLD ISLAMIC FRONT FOR JIHAD AGAINST JEWS AND CRUSADERS; a.k.a. USAMA BIN LADEN NETWORK; a.k.a. USAMA BIN LADEN ORGANIZATION; a.k.a. “THE BASE”) [SDT][FTO][SDGT]

ISLAMIC ARMY FOR THE LIBERATION OF HOLY SITES (a.k.a. AL QA'IDA; a.k.a. AL QAEDA; a.k.a. AL QAIDA; a.k.a. AL-JIHAD; a.k.a. EGYPTIAN AL-JIHAD; a.k.a. EGYPTIAN ISLAMIC JIHAD; a.k.a. INTERNATIONAL FRONT FOR FIGHTING JEWS AND CRUSADES; a.k.a. ISLAMIC ARMY; a.k.a. ISLAMIC SALVATION FOUNDATION; a.k.a. NEW JIHAD; a.k.a. THE GROUP FOR THE PRESERVATION OF THE HOLY SITES; a.k.a. THE ISLAMIC ARMY FOR THE LIBERATION OF THE HOLY PLACES; a.k.a. THE JIHAD GROUP; a.k.a. THE WORLD ISLAMIC FRONT FOR JIHAD AGAINST JEWS AND CRUSADERS; a.k.a. USAMA BIN LADEN NETWORK; a.k.a. USAMA BIN LADEN ORGANIZATION; a.k.a. “THE BASE”) [SDT][FTO][SDGT]

ISLAMIC ARMY OF ADEN [SDGT]

ISLAMIC CALL COMMITTEE (a.k.a. LAJNA ALDAWA ALISALMIAH; a.k.a. LAJNA ALDAWA ALISLAMIA; a.k.a. LAJNA ALDAWA ALISLAMIYA; a.k.a. LAJNAT AL D'AWA AL ISLAMIAK; a.k.a. LAJNAT AL DAAWA AL ISLAMIYA; a.k.a. LAJNAT AL DAAWA AL ISLAMIYYA; a.k.a. LAJNAT AL DAWA; a.k.a. LAJNAT AL DAWA AL ISLAMIA; a.k.a. LAJNAT ALDAWA AL ISLAMIAH; a.k.a. LAJNAT ALDAWA ALISLAMIA), Kuwait [SDGT]

ISLAMIC CHARITABLE SOCIETY FOR AL-AQSA (a.k.a. AL-AQSA (ASBL); a.k.a. AL-AQSA SPANMAL STIFTELSE; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), BD Leopold II 71, 1080 Brussels, Belgium [SDGT]

ISLAMIC CHARITABLE SOCIETY FOR AL-AQSA (a.k.a. AL-AQSA E.V.; a.k.a. AL-AQSA SPANMAL STIFTELSE; a.k.a. AL-AQSA ASBL; a.k.a. AL-AQSA CHARITABLE FOUNDATION; a.k.a. AL-AQSA CHARITABLE ORGANIZATION; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), Kappellenstrasse 36, D-52066, Aachen, Germany [SDGT]

ISLAMIC CHARITABLE SOCIETY FOR AL-AQSA (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 2364, Islamabad, Pakistan [SDGT]

ISLAMIC CHARITABLE SOCIETY FOR AL-AQSA (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.) [SDGT]

ISLAMIC CHARITABLE SOCIETY FOR AL-AQSA (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), Nobelvagen 79 NB, 21433 Malmo, Sweden; Noblev 79 NB, 21433 Malmo, Sweden [SDGT]

ISLAMIC CHARITABLE SOCIETY FOR AL-AQSA (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 421082, 2nd Floor, Amoco Gardens, 40 Mint Road, Fordsburg 2033, Johannesburg, South Africa; P.O. Box 421083, 2nd Floor, Amoco Gardens, 40 Mint Road, Fordsburg 2033, Johannesburg, South Africa [SDGT]

ISLAMIC CHARITABLE SOCIETY FOR AL-AQSA (a.k.a. AQSSA SOCIETY YEMEN; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 14101, San'a, Yemen [SDGT]

ISLAMIC CHARITABLE SOCIETY FOR AL-AQSA (a.k.a. FORENINGEN AL-AQSA; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 6222200KBKN, Copenhagen, Denmark [SDGT]

ISLAMIC CHARITABLE SOCIETY FOR AL-AQSA (a.k.a. STICHTING AL-AQSA; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. MU'ASA AL-AQSA AL-KHAYRIYYA; a.k.a. MU'ASSA SANABIL AL-AQSA AL-KHAYRIYYA; a.k.a. SANABIL AL-AQSA CHARITABLE FOUNDATION; a.k.a. SWEDISH CHARITABLE AQSA EST.), Gerrit V/D Lindestraat 103 E, 03022 TH, Rotterdam, Holland; Gerrit V/D Lindestraat 103 A, 3022 TH, Rotterdam, Holland [SDGT]

ISLAMIC CO-OPERATIVE DEVELOPMENT BANK (a.k.a. ICDB), P.O. Box 62, Khartoum, Sudan [SUDAN]

ISLAMIC GAMA'AT (a.k.a. GI; a.k.a. ISLAMIC GROUP; a.k.a. IG; a.k.a. AL-GAMA'AT; a.k.a. GAMA'A AL-ISLAMIYYA; a.k.a. EGYPTIAN AL-GAMA'AT AL-ISLAMIYYA) [SDT][FTO][SDGT]

ISLAMIC GROUP (a.k.a. EGYPTIAN AL-GAMA'AT AL-ISLAMIYYA; a.k.a. GI; a.k.a. IG; a.k.a. AL-GAMA'AT; a.k.a. ISLAMIC GAMA'AT; a.k.a. GAMA'A AL-ISLAMIYYA) [SDT][FTO][SDGT]

ISLAMIC JIHAD (a.k.a. PARTY OF GOD; a.k.a. HIZBALLAH; a.k.a. ISLAMIC JIHAD ORGANIZATION; a.k.a. REVOLUTIONARY JUSTICE ORGANIZATION; a.k.a. ORGANIZATION OF THE OPPRESSED ON EARTH; a.k.a. ISLAMIC JIHAD FOR THE LIBERATION OF PALESTINE; a.k.a. ORGANIZATION OF RIGHT AGAINST WRONG; a.k.a. ANSAR ALLAH; a.k.a. FOLLOWERS OF THE PROPHET MUHAMMED) [SDT][FTO][SDGT]

ISLAMIC JIHAD FOR THE LIBERATION OF PALESTINE (a.k.a. PARTY OF GOD; a.k.a. ISLAMIC JIHAD; a.k.a. ISLAMIC JIHAD ORGANIZATION; a.k.a. REVOLUTIONARY JUSTICE ORGANIZATION; a.k.a. ORGANIZATION OF THE OPPRESSED ON EARTH; a.k.a. HIZBALLAH; a.k.a. ORGANIZATION OF RIGHT AGAINST WRONG; a.k.a. ANSAR ALLAH; a.k.a. FOLLOWERS OF THE PROPHET MUHAMMED) [SDT][FTO][SDGT]

ISLAMIC JIHAD IN PALESTINE (a.k.a. PALESTINE ISLAMIC JIHAD -SHAQAQI FACTION; a.k.a. ABU GHUNAYM SQUAD OF THE HIZBALLAH BAYT AL-MAQDIS; a.k.a. AL-AWDAH BRIGADES; a.k.a. AL-QUDS BRIGADES; a.k.a. AL-QUDS SQUADS; a.k.a. ISLAMIC JIHAD OF PALESTINE; a.k.a. PALESTINIAN ISLAMIC JIHAD; a.k.a. PIJ; a.k.a. PIJ-SHALLAH FACTION; a.k.a. PIJ-SHAQAQI FACTION; a.k.a. SAYARA AL-QUDS) [SDT] [FTO][SDGT]

ISLAMIC JIHAD OF PALESTINE (a.k.a. PALESTINE ISLAMIC JIHAD -SHAQAQI FACTION; a.k.a. ABU GHUNAYM SQUAD OF THE HIZBALLAH BAYT AL-MAQDIS; a.k.a. AL-AWDAH BRIGADES; a.k.a. AL-QUDS BRIGADES; a.k.a. AL-QUDS SQUADS; a.k.a. ISLAMIC JIHAD IN PALESTINE; a.k.a. PALESTINIAN ISLAMIC JIHAD; a.k.a. PIJ; a.k.a. PIJ-SHALLAH FACTION; a.k.a. PIJ-SHAQAQI FACTION; a.k.a. SAYARA AL-QUDS) [SDT] [FTO][SDGT]

ISLAMIC JIHAD ORGANIZATION (a.k.a. PARTY OF GOD; a.k.a. HIZBALLAH; a.k.a. ISLAMIC JIHAD; a.k.a. REVOLUTIONARY JUSTICE ORGANIZATION; a.k.a. ORGANIZATION OF THE OPPRESSED ON EARTH; a.k.a. ISLAMIC JIHAD FOR THE LIBERATION OF PALESTINE; a.k.a. ORGANIZATION OF RIGHT AGAINST WRONG; a.k.a. ANSAR ALLAH; a.k.a. FOLLOWERS OF THE PROPHET MUHAMMED) [SDT][FTO][SDGT]

ISLAMIC MOVEMENT OF TALIBAN (a.k.a. TAHRIKE ISLAMI'A TALIBAN; a.k.a. TALEBAN; a.k.a. TALIBAN; a.k.a. TALIBAN ISLAMIC MOVEMENT; a.k.a. TALIBANO ISLAMI TAHRIK), Afghanistan [SDGT]

ISLAMIC MOVEMENT OF UZBEKISTAN (a.k.a. IMU) [FTO] [SDGT]

ISLAMIC PEACEKEEPING INTERNATIONAL BRIGADE (a.k.a. INTERNATIONAL BATTALION; a.k.a. ; a.k.a. PEACEKEEPING BATTALION; a.k.a. THE INTERNATIONAL BRIGADE; a.k.a. THE ISLAMIC INTERNATIONAL BRIGADE; a.k.a. THE ISLAMIC PEACEKEEPING ARMY; a.k.a. THE ISLAMIC PEACEKEEPING BRIGADE) [SDGT]

ISLAMIC REGIMENT OF SPECIAL MEANING (a.k.a. THE AL-JIHAD-FISI-SABILILAH SPECIAL ISLAMIC REGIMENT; a.k.a. THE ISLAMIC SPECIAL PURPOSE REGIMENT; a.k.a. THE SPECIAL PURPOSE ISLAMIC REGIMENT) [SDGT]

ISLAMIC RESISTANCE MOVEMENT (a.k.a. HAMAS; a.k.a. HARAKAT AL-MUQAWAMA AL-ISLAMIYA; a.k.a. STUDENTS OF AYYASH; a.k.a. STUDENTS OF THE ENGINEER; a.k.a. YAHYA AYYASH UNITS; a.k.a. IZZ AL-DIN AL-QASSIM BRIGADES; a.k.a. IZZ AL-DIN AL-QASSIM FORCES; a.k.a. IZZ AL-DIN AL-QASSIM BATTALIONS; a.k.a. IZZ AL-DIN AL QASSAM BRIGADES; a.k.a. IZZ AL-DIN AL QASSAM FORCES; a.k.a. IZZ AL-DIN AL QASSAM BATTALIONS) [SDT][FTO][SDGT]

ISLAMIC SALVATION FOUNDATION (a.k.a. AL QA'IDA; a.k.a. AL QAEDA; a.k.a. AL QAIDA; a.k.a. AL-JIHAD; a.k.a. EGYPTIAN AL-JIHAD; a.k.a. EGYPTIAN ISLAMIC JIHAD; a.k.a. INTERNATIONAL FRONT FOR FIGHTING JEWS AND CRUSADES; a.k.a. ISLAMIC ARMY FOR THE LIBERATION OF HOLY SITES; a.k.a. ISLAMIC ARMY; a.k.a. NEW JIHAD; a.k.a. THE GROUP FOR THE PRESERVATION OF THE HOLY SITES; a.k.a. THE ISLAMIC ARMY FOR THE LIBERATION OF THE HOLY PLACES; a.k.a. THE JIHAD GROUP; a.k.a. THE WORLD ISLAMIC FRONT FOR JIHAD AGAINST JEWS AND CRUSADERS; a.k.a. USAMA BIN LADEN NETWORK; a.k.a. USAMA BIN LADEN ORGANIZATION; a.k.a. “THE BASE”) [SDT][FTO][SDGT]

ISOMUDDIN, Riduan (a.k.a. HAMBALI; a.k.a. ISAMUDDIN, Nurjaman Riduan; a.k.a. NURJAMAN; a.k.a. NURJAMAN, Encep); DOB 04 Apr 1964, alt. DOB 01 Apr 1964; POB Cianjur, West Java, Indonesia; nationality Indonesian (individual) [SDGT]

IVANOVIC, Milan; DOB 5 Feb 1955 (individual) [BALKANS]

IZQUIERDO OREJUELA, Patricia, c/o LABORATORIOS KRESSFOR DE COLOMBIA S.A., Bogota, Colombia; Cedula No. 41594424 (Colombia) (individual) [SDNT]

IZQUIERDO QUINTERO, Rosalino, c/o INVERSIONES INVERVALLE S.A., Cali, Colombia; Cedula No. 70111037 (Colombia) (individual) [SDNT]

IZTUETA BARANDICA, Enrique; member ETA; DOB 30 Jul 1955; POB Santurce (Vizcaya Province), Spain; D.N.I. 14.929.950 (individual) [SDGT]

IZZ AL-DIN AL QASSAM BATTALIONS (a.k.a. ISLAMIC RESISTANCE MOVEMENT; a.k.a. HARAKAT AL-MUQAWAMA AL-ISLAMIYA; a.k.a. STUDENTS OF AYYASH; a.k.a. STUDENTS OF THE ENGINEER; a.k.a. YAHYA AYYASH UNITS; a.k.a. IZZ AL-DIN AL-QASSIM BRIGADES; a.k.a. IZZ AL-DIN AL-QASSIM FORCES; a.k.a. IZZ AL-DIN AL-QASSIM BATTALIONS; a.k.a. IZZ AL-DIN AL QASSAM BRIGADES; a.k.a. IZZ AL-DIN AL QASSAM FORCES; a.k.a. HAMAS) [SDT][FTO][SDGT]

IZZ AL-DIN AL QASSAM BRIGADES (a.k.a. ISLAMIC RESISTANCE MOVEMENT; a.k.a. HARAKAT AL-MUQAWAMA AL-ISLAMIYA; a.k.a. STUDENTS OF AYYASH; a.k.a. STUDENTS OF THE ENGINEER; a.k.a. YAHYA AYYASH UNITS; a.k.a. IZZ AL-DIN AL-QASSIM BRIGADES; a.k.a. IZZ AL-DIN AL-QASSIM FORCES; a.k.a. IZZ AL-DIN AL-QASSIM BATTALIONS; a.k.a. HAMAS; a.k.a. IZZ AL-DIN AL QASSAM FORCES; a.k.a. IZZ AL-DIN AL QASSAM BATTALIONS) [SDT][FTO][SDGT]

IZZ AL-DIN AL QASSAM FORCES (a.k.a. ISLAMIC RESISTANCE MOVEMENT; a.k.a. HARAKAT AL-MUQAWAMA AL-ISLAMIYA; a.k.a. STUDENTS OF AYYASH; a.k.a. STUDENTS OF THE ENGINEER; a.k.a. YAHYA AYYASH UNITS; a.k.a. IZZ AL-DIN AL-QASSIM BRIGADES; a.k.a. IZZ AL-DIN AL-QASSIM FORCES; a.k.a. IZZ AL-DIN AL-QASSIM BATTALIONS; a.k.a. IZZ AL-DIN AL QASSAM BRIGADES; a.k.a. HAMAS; a.k.a. IZZ AL-DIN AL QASSAM BATTALIONS) [SDT][FTO][SDGT]

IZZ AL-DIN AL-QASSIM BATTALIONS (a.k.a. ISLAMIC RESISTANCE MOVEMENT; a.k.a. HARAKAT AL-MUQAWAMA AL-ISLAMIYA; a.k.a. STUDENTS OF AYYASH; a.k.a. STUDENTS OF THE ENGINEER; a.k.a. YAHYA AYYASH UNITS; a.k.a. IZZ AL-DIN AL-QASSIM BRIGADES; a.k.a. IZZ AL-DIN AL-QASSIM FORCES; a.k.a. HAMAS; a.k.a. IZZ AL-DIN AL QASSAM BRIGADES; a.k.a. IZZ AL-DIN AL QASSAM FORCES; a.k.a. IZZ AL-DIN AL QASSAM BATTALIONS) [SDT][FTO][SDGT]

IZZ AL-DIN AL-QASSIM BRIGADES (a.k.a. ISLAMIC RESISTANCE MOVEMENT; a.k.a. HARAKAT AL-MUQAWAMA AL-ISLAMIYA; a.k.a. STUDENTS OF AYYASH; a.k.a. STUDENTS OF THE ENGINEER; a.k.a. YAHYA AYYASH UNITS; a.k.a. HAMAS; a.k.a. IZZ AL-DIN AL-QASSIM FORCES; a.k.a. IZZ AL-DIN AL-QASSIM BATTALIONS; a.k.a. IZZ AL-DIN AL QASSAM BRIGADES; a.k.a. IZZ AL-DIN AL QASSAM FORCES; a.k.a. IZZ AL-DIN AL QASSAM BATTALIONS) [SDT][FTO][SDGT]

IZZ AL-DIN AL-QASSIM FORCES (a.k.a. ISLAMIC RESISTANCE MOVEMENT; a.k.a. HARAKAT AL-MUQAWAMA AL-ISLAMIYA; a.k.a. STUDENTS OF AYYASH; a.k.a. STUDENTS OF THE ENGINEER; a.k.a. YAHYA AYYASH UNITS; a.k.a. IZZ AL-DIN AL-QASSIM BRIGADES; a.k.a. HAMAS; a.k.a. IZZ AL-DIN AL-QASSIM BATTALIONS; a.k.a. IZZ AL-DIN AL QASSAM BRIGADES; a.k.a. IZZ AL-DIN AL QASSAM FORCES; a.k.a. IZZ AL-DIN AL QASSAM BATTALIONS) [SDT][FTO][SDGT]

IZZ-AL-DIN, Hasan (a.k.a. GARBAYA, AHMED; a.k.a. SA-ID; a.k.a. SALWWAN, Samir), Lebanon; DOB 1963; POB Lebanon; citizen Lebanon (individual) [SDGT]

J. FREDDY MAFLA Y CIA. S.C.S., Carrera 4 No. 11-45 Ofc. 503, Cali, Colombia; NIT # 800020482-4 (Colombia) [SDNT]

JA'MIA SANBLE LLAGHATHA WA ALTINMIA (a.k.a. AL SANABIL; a.k.a. AL-SANBAL; a.k.a. ASANABIL; a.k.a. JAMI'A SANABIL; a.k.a. JAMI'A SANABIL LIL IGATHA WA AL-TANMIYZ; a.k.a. SANABAL; a.k.a. SANABEL; a.k.a. SANABIL; a.k.a. SANABIL AL-AQSA; a.k.a. SANABIL ASSOCIATION FOR RELIEF AND DEVELOPMENT; a.k.a. SANABIL FOR AID AND DEVELOPMENT; a.k.a. SANABIL FOR RELIEF AND DEVELOPMENT; a.k.a. SANABIL GROUP FOR RELIEF AND DEVELOPMENT; a.k.a. SANIBAL; a.k.a. SANNABIL; a.k.a. SANNIBIL; a.k.a. SINABUL), Sidon, Lebanon [SDGT]

JABRIL, Ahmad (a.k.a. JIBRIL, Ahmad); Secretary General of POPULAR FRONT FOR THE LIBERATION OF PALESTINE—GENERAL COMMAND; DOB 1938; POB Ramleh, Israel (individual) [SDT]

JAIMES RIVERA, Jose Isidro, c/o ADMINISTRACION INMOBILIARIA BOLIVAR S.A., Cali, Colombia; c/o PROCESADORA DE POLLOS SUPERIOR S.A., Palmira, Colombia; c/o CONCRETOS CALI S.A., Cali, Colombia; c/o CONSTRUCTORA DIMISA LTDA., Cali, Colombia; c/o CONSULTORIA EMPRESARIAL ESPECIALIZA LTDA., Cali, Colombia; c/o GANADERIAS DEL VALLE S.A., Cali, Colombia; c/o INDUSTRIA DE CARNES LTDA., Pereira, Colombia; c/o INMOBILIARIA U.M.V., Cali, Colombia; c/o INVERSIONES EL PENON, Cali, Colombia; c/o INVERSIONES GEMINIS S.A., Cali, Colombia; c/o SOCOVALLE LTDA., Cali, Colombia; Cedula No. 10090006 (Colombia) (individual) [SDNT]

JAISH ANSAR AL-SUNNA (a.k.a. ANSAR AL-ISLAM; a.k.a. ANSAR AL-SUNNA; a.k.a. ANSAR AL-SUNNA ARMY; a.k.a. “DEVOTEES OF ISLAM;” a.k.a. “FOLLOWERS OF ISLAM IN KURDISTAN;” a.k.a. “HELPERS OF ISLAM;” a.k.a. JUND AL-ISLAM; a.k.a. “KURDISTAN SUPPORTERS OF ISLAM;” a.k.a. “KURDISH TALIBAN;” a.k.a. “PARTISANS OF ISLAM;” a.k.a. “SOLDIERS OF GOD;” a.k.a. “SOLDIERS OF ISLAM;” a.k.a. “SUPPORTERS OF ISLAM IN KURDISTAN”), Iraq [SDGT][FTO]

JAISH-E-MOHAMMED (a.k.a. ARMY OF MOHAMMED; a.k.a. JAISH-I-MOHAMMED; a.k.a. KHUDAMUL ISLAM; a.k.a. KHUDDAM-UL-ISLAM; a.k.a. KUDDAM E ISLAMI; a.k.a. MOHAMMED'S ARMY; a.k.a. TEHRIK UL-FURQAAN), Pakistan [FTO] [SDGT]

JAISH-I-MOHAMMED (a.k.a. ARMY OF MOHAMMED; a.k.a. JAISH-E-MOHAMMED; a.k.a. KHUDAMUL ISLAM; a.k.a. KHUDDAM-UL-ISLAM; a.k.a. KUDDAM E ISLAMI; a.k.a. MOHAMMED'S ARMY; a.k.a. TEHRIK UL-FURQAAN), Pakistan [FTO] [SDGT]

JAKSIC, Marko; DOB 1954; POB Mitrovica, Serbia and Montenegro (individual) [BALKANS]

JAKUPI, Avdyl; DOB 20 Apr 1974; POB Stimlje, Kosovo, Serbia (individual) [BALKANS]

JALADIN, Wa'el Hamza (a.k.a. “Abu Al-Hasan al Madani;” a.k.a. JALADIN, Wa'il Hamza; a.k.a. JALAIDAN, Wa'el Hamza; a.k.a. JALAIDAN, Wa'il Hamza; a.k.a. JULAIDAN, Wa'el Hamza; a.k.a. JULAIDAN, Wa'il Hamza; a.k.a. JULAYDAN, Wa'el Hamza; a.k.a. JULAYDAN, Wa'il Hamza); DOB 22 Jan 1958; POB Al-Madinah, Saudi Arabia; Passport No. A-992535 (Saudi Arabia) (individual) [SDGT]

JALADIN, Wa'il Hamza (a.k.a. “Abu Al-Hasan al Madani;” a.k.a. JALADIN, Wa'el Hamza; a.k.a. JALAIDAN, Wa'el Hamza; a.k.a. JALAIDAN, Wa'il Hamza; a.k.a. JULAIDAN, Wa'el Hamza; a.k.a. JULAIDAN, Wa'il Hamza; a.k.a. JULAYDAN, Wa'el Hamza; a.k.a. JULAYDAN, Wa'il Hamza); DOB 22 Jan 1958; POB Al-Madinah, Saudi Arabia; Passport No. A-992535 (Saudi Arabia) (individual) [SDGT]

JALAIDAN, Wa'el Hamza (a.k.a. “Abu Al-Hasan al Madani;” a.k.a. JALADIN, Wa'el Hamza; a.k.a. JALADIN, Wa'il Hamza; a.k.a. JALAIDAN, Wa'il Hamza; a.k.a. JULAIDAN, Wa'el Hamza; a.k.a. JULAIDAN, Wa'il Hamza; a.k.a. JULAYDAN, Wa'el Hamza; a.k.a. JULAYDAN, Wa'il Hamza); DOB 22 Jan 1958; POB Al-Madinah, Saudi Arabia; Passport No. A-992535 (Saudi Arabia) (individual) [SDGT]

JALAIDAN, Wa'il Hamza (a.k.a. “Abu Al-Hasan al Madani;” a.k.a. JALADIN, Wa'el Hamza; a.k.a. JALADIN, Wa'il Hamza; a.k.a. JALAIDAN, Wa'el Hamza; a.k.a. JULAIDAN, Wa'el Hamza; a.k.a. JULAIDAN, Wa'il Hamza; a.k.a. JULAYDAN, Wa'el Hamza; a.k.a. JULAYDAN, Wa'il Hamza); DOB 22 Jan 1958; POB Al-Madinah, Saudi Arabia; Passport No. A-992535 (Saudi Arabia) (individual) [SDGT]

JAM'IYAT AL TA'AWUN AL ISLAMIYYA (a.k.a. JAM'YAH TA'AWUN AL-ISLAMIA; a.k.a. JIT; a.k.a. SOCIETY OF ISLAMIC COOPERATION), Qandahar City, Afghanistan [SDGT]

JAM'YAH TA'AWUN AL-ISLAMIA (a.k.a. JAM'IYAT AL TA'AWUN AL ISLAMIYYA; a.k.a. JIT; a.k.a. SOCIETY OF ISLAMIC COOPERATION), Qandahar City, Afghanistan [SDGT]

JAMA'A COMBATTANTE TUNISIEN (a.k.a. GCT; a.k.a. GROUPE COMBATTANT TUNISIEN; a.k.a. JCT; a.k.a. TUNISIAN COMBAT GROUP; a.k.a. TUNISIAN COMBATANT GROUP) [SDGT]

JAMAHIRIYA BANK (f.k.a. MASRAF AL-GUMHOURIA), (38 local branches in Libya) [LIBYA]

JAMAHIRIYA BANK (f.k.a. MASRAF AL-GUMHOURIA), Emhemed Megrief Street, Tripoli, Libya [LIBYA]

JAMAHIRIYA BANK (f.k.a. MASRAF AL-GUMHOURIA), P.O. Box 1291, Benghazi, Libya [LIBYA]

JAMAHIRIYA BANK (f.k.a. MASRAF AL-GUMHOURIA), P.O. Box 3224, Martyr Street, Megarief, Tripoli, Libya [LIBYA]

JAMI'A SANABIL (a.k.a. AL SANABIL; a.k.a. AL-SANBAL; a.k.a. ASANABIL; a.k.a. JA'MIA SANBLE LLAGHATHA WA ALTINMIA; a.k.a. JAMI'A SANABIL LIL IGATHA WA AL-TANMIYZ; a.k.a. SANABAL; a.k.a. SANABEL; a.k.a. SANABIL; a.k.a. SANABIL AL-AQSA; a.k.a. SANABIL ASSOCIATION FOR RELIEF AND DEVELOPMENT; a.k.a. SANABIL FOR AID AND DEVELOPMENT; a.k.a. SANABIL FOR RELIEF AND DEVELOPMENT; a.k.a. SANABIL GROUP FOR RELIEF AND DEVELOPMENT; a.k.a. SANIBAL; a.k.a. SANNABIL; a.k.a. SANNIBIL; a.k.a. SINABUL), Sidon, Lebanon [SDGT]

JAMI'A SANABIL LIL IGATHA WA AL-TANMIYZ (a.k.a. AL SANABIL; a.k.a. AL-SANBAL; a.k.a. ASANABIL; a.k.a. JA'MIA SANBLE LLAGHATHA WA ALTINMIA; a.k.a. JAMI'A SANABIL; a.k.a. SANABAL; a.k.a. SANABEL; a.k.a. SANABIL; a.k.a. SANABIL AL-AQSA; a.k.a. SANABIL ASSOCIATION FOR RELIEF AND DEVELOPMENT; a.k.a. SANABIL FOR AID AND DEVELOPMENT; a.k.a. SANABIL FOR RELIEF AND DEVELOPMENT; a.k.a. SANABIL GROUP FOR RELIEF AND DEVELOPMENT; a.k.a. SANIBAL; a.k.a. SANNABIL; a.k.a. SANNIBIL; a.k.a. SINABUL), Sidon, Lebanon [SDGT]

JAMIA IHYA UL TURATH (a.k.a. JAMIAT IHIA AL-TURATH AL-ISLAMIYA; a.k.a. REVIVAL OF ISLAMIC HERITAGE SOCIETY (RIHS); a.k.a. REVIVAL OF ISLAMIC SOCIETY HERITAGE ON THE AFRICAN CONTINENT) Pakistan office; Afghanistan office; (office in Kuwait is NOT designated) [SDGT]

JAMIAT AYAT-UR-RHAS AL ISLAMIA (a.k.a. AFGHAN SUPPORT COMMITTEE (ASC); a.k.a. AHYA UL TURAS; a.k.a. JAMIAT IHYA UL TURATH AL ISLAMIA; a.k.a. LAJNAT UL MASA EIDATUL AFGHANIA) Grand Trunk Road, near Pushtoon Garhi Pabbi, Peshawar, Pakistan; Cheprahar Hadda, Mia Omar Sabaqah School, Jalalabad, Afghanistan [SDGT]

JAMIAT IHIA AL-TURATH AL-ISLAMIYA (a.k.a. JAMIA IHYA UL TURATH; a.k.a. REVIVAL OF ISLAMIC HERITAGE SOCIETY (RIHS); a.k.a. REVIVAL OF ISLAMIC SOCIETY HERITAGE ON THE AFRICAN CONTINENT) Pakistan office; Afghanistan office; (office in Kuwait is NOT designated) [SDGT]

JAMIAT IHYA UL TURATH AL ISLAMIA (a.k.a. AFGHAN SUPPORT COMMITTEE (ASC); a.k.a. AHYA UL TURAS; a.k.a. JAMIAT AYAT-UR-RHAS AL ISLAMIA; a.k.a. LAJNAT UL MASA EIDATUL AFGHANIA) Grand Trunk Road, near Pushtoon Garhi Pabbi, Peshawar, Pakistan; Cheprahar Hadda, Mia Omar Sabaqah School, Jalalabad, Afghanistan [SDGT]

JAMIAT UL-ANSAR (a.k.a. AL-FARAN; a.k.a. AL-HADID; a.k.a. AL-HADITH; a.k.a. HARAKAT UL-ANSAR; a.k.a. HARAKAT UL-MUJAHIDEEN; a.k.a. HARAKAT UL-MUJAHIDIN; a.k.a. HUA; a.k.a. HUM) [FTO][SDGT]

JAMIL, Sammy Sali (a.k.a. “Abu Sa'ad;” a.k.a. “Abu Saad;” a.k.a. AL GHOZI, Fathur Rahman; a.k.a. AL GHOZI, Fathur Rohman; a.k.a. AL-GHOZI, Fathur Rahman; a.k.a. AL-GHOZI, Fathur Rohman; a.k.a. AL-GOZHI, Fathur Rahman; a.k.a. AL-GOZHI, Fathur Rohman; a.k.a. AL-GOZI, Fathur Rahman; a.k.a. AL-GOZI, Fathur Rohman; a.k.a. ALGHOZI, Fathur Rahman; a.k.a. ALGHOZI, Fathur Rohman; a.k.a. ALI, Randy; a.k.a. ALIH, Randy; a.k.a. ALIH, Randy Adam; a.k.a. AZAD, Rony; a.k.a. BIN AHAD, Rony Azad; a.k.a. BIN AHMAD, Rony Azad; a.k.a. BIN AMAD, Rony Azad; a.k.a. EDRIS, Anwar Rodin; a.k.a. “Freedom Fighter;” a.k.a. JAMIL, Sammy Salih; a.k.a. RANDY, Alih); DOB 17 Feb 1971; POB Madiun, East Java, Indonesia; Passport No. GG 672613 (Philippines); nationality Indonesian (individual) [SDGT]

JAMIL, Sammy Salih (a.k.a. “Abu Sa'ad;” a.k.a. “Abu Saad;” a.k.a. AL GHOZI, Fathur Rahman; a.k.a. AL GHOZI, Fathur Rohman; a.k.a. AL-GHOZI, Fathur Rahman; a.k.a. AL-GHOZI, Fathur Rohman; a.k.a. AL-GOZHI, Fathur Rahman; a.k.a. AL-GOZHI, Fathur Rohman; a.k.a. AL-GOZI, Fathur Rahman; a.k.a. AL-GOZI, Fathur Rohman; a.k.a. ALGHOZI, Fathur Rahman; a.k.a. ALGHOZI, Fathur Rohman; a.k.a. ALI, Randy; a.k.a. ALIH, Randy; a.k.a. ALIH, Randy Adam; a.k.a. AZAD, Rony; a.k.a. BIN AHAD, Rony Azad; a.k.a. BIN AHMAD, Rony Azad; a.k.a. BIN AMAD, Rony Azad; a.k.a. EDRIS, Anwar Rodin; a.k.a. “Freedom Fighter;” a.k.a. JAMIL, Sammy Sali; a.k.a. RANDY, Alih); DOB 17 Feb 1971; POB Madiun, East Java, Indonesia; Passport No. GG 672613 (Philippines); nationality Indonesian (individual) [SDGT]

JANKOVIC, Gojko; DOB 31 Oct 1954; POB Foca, Bosnia-Herzegovina; ICTY indictee at large; sub-commander of the military police in Foca (individual) [BALKANS]

JANUARY SHUHADA (MARTYRS) PLANT, Libya [LIBYA]

JARACO S.A. (a.k.a. SOKTAR; f.k.a. TRADACO S.A.), 45 Route de Frontenex, CH-1207 Geneva, Switzerland [IRAQ]

JARAMILLO ARIAS, Gustavo Alfonso, c/o FARMATEL E.U., Bogota, Colombia; Passport 16601998 (Colombia); Cedula No. 16601998 (Colombia) (individual) [SDNT]

JARAMILLO ARIAS, Juan Guillermo, c/o PROVIDA E.U., Cali, Colombia; DOB 6 Dec 1959; Passport 16634644 (Colombia); Cedula No. 16634644 (Colombia) (individual) [SDNT]

JARAMILLO F., Harvy, c/o DISMERCOOP, Cali, Colombia; Cedula No. 16711189 (Colombia) (individual) [SDNT]

JARDINE HOUSE, 6 Crutched Friars, London EC3N 2HT, England [LIBYA]

JAROMO INVERSIONES S.L., Calle Florencio Castillo 8, portal 7, piso 2-21, 28043 Madrid, Madrid, Spain; C.I.F. B81784548 (Spain) [SDNT]

JARRAI-HAIKA-SEGI (a.k.a. ASKATASUNA; a.k.a. BASQUE FATHERLAND AND LIBERTY; a.k.a. BATASUNA; a.k.a. EKIN; a.k.a. ETA; a.k.a. EUSKAL HERRITARROK; a.k.a. EUZKADI TA ASKATASUNA; a.k.a. HERRI BATASUNA; a.k.a. K.A.S.; a.k.a. XAKI) [FTO][SDGT]

JARRAYA, Khalil (a.k.a. “Abdel' Aziz Ben Narvan;” a.k.a. “Ben Narvan Abdel Aziz;” a.k.a. “Khalil Yarraya;” a.k.a. “Amro;” a.k.a. “Omar;” a.k.a. “Amrou;” a.k.a. “Amr”), Via Bellaria n.10, Bologna, Italy; Via Lazio n.3, Bologna, Italy; DOB 08 Feb 1969; alt. DOB 15 Aug 1970; POB Sfax, Tunisia; alt. POB Sreka, ex-Yugoslavia (individual) [SDGT]

JARRAYA, Mounir Ben Habib (a.k.a. “Yarraya”), Via Mirasole n.11, Bologna, Italy; Via Ariosto n.8, Casalecchio di Reno (Bologna), Italy; DOB 25 Oct 1963; POB Sfax, Tunisia (individual) [SDGT]

JASIM, Latif Nusayyif (a.k.a. JASSEM Latif Nassif), Minister of Labor and Social Affairs; DOB 1941; Baghdad, Iraq (individual) [IRAQ]

JASSEM Latif Nassif (a.k.a. JASIM, Latif Nusayyif), Minister of Labor and Social Affairs; DOB 1941; Baghdad, Iraq (individual) [IRAQ]

JAWABY TECHNICAL SERVICES LIMITED (a.k.a. TEKXEL LIMITED), London, England [LIBYA]

JAWAD, Dr. Safa Hadi (a.k.a. AL-HABUBI, Dr. Safa Hadi Jawad; a.k.a. HABUBI, Dr. Safa Hadi Jawad; a.k.a. HABUBI, Dr Safa Jawad; or a.k.a. AL-HABOBI, Dr. Safa; a.k.a. AL-HABOBI, Dr. Safa Haji J.), Minister of Oil; DOB 01 Jul 46; Flat 4D Thorney Court, Palace Gate, Kensington, England; Iraq (individual) [IRAQ]

JCT (a.k.a. GCT; a.k.a. GROUPE COMBATTANT TUNISIEN; a.k.a. JAMA'A COMBATTANTE TUNISIEN; a.k.a. TUNISIAN COMBAT GROUP; a.k.a. TUNISIAN COMBATANT GROUP) [SDGT]

JELASSI, Riadh; DOB 15 Dec 1970; POB Tunisia (individual) [SDGT]

JELAVIC, Ante; DOB 21 Oct 1963; POB Potprolog, Croatia (individual) [BALKANS]

JELISIC, Goran; DOB 7 Jun 1968; POB Bijeljina, Bosnia-Herzegovina; ICTY indictee (individual) [BALKANS]

JEMA'A ISLAMIYAH (a.k.a. JEMA'A ISLAMIYYA; a.k.a. JEMA'A ISLAMIYYAH; a.k.a. JEMA'AH ISLAMIYAH; a.k.a. JEMA'AH ISLAMIYYAH; a.k.a. JEMAA ISLAMIYA; a.k.a. JEMAA ISLAMIYAH (JI); a.k.a. JEMAA ISLAMIYYA; a.k.a. JEMAA ISLAMIYYAH; a.k.a. JEMAAH ISLAMIAH; a.k.a. JEMAAH ISLAMIYAH; a.k.a. JEMAAH ISLAMIYYAH); founded by Abdullah Sungkar [FTO][SDGT]

JEMA'A ISLAMIYYA (a.k.a. JEMA'A ISLAMIYAH; a.k.a. JEMA'A ISLAMIYYAH; a.k.a. JEMA'AH ISLAMIYAH; a.k.a. JEMA'AH ISLAMIYYAH; a.k.a. JEMAA ISLAMIYA; a.k.a. JEMAA ISLAMIYAH (JI); a.k.a. JEMAA ISLAMIYYA; a.k.a. JEMAA ISLAMIYYAH; a.k.a. JEMAAH ISLAMIAH; a.k.a. JEMAAH ISLAMIYAH; a.k.a. JEMAAH ISLAMIYYAH); founded by Abdullah Sungkar [FTO][SDGT]

JEMA'A ISLAMIYYAH (a.k.a. JEMA'A ISLAMIYAH; a.k.a. JEMA'A ISLAMIYYA; a.k.a. JEMA'AH ISLAMIYAH; a.k.a. JEMA'AH ISLAMIYYAH; a.k.a. JEMAA ISLAMIYA; a.k.a. JEMAA ISLAMIYAH (JI); a.k.a. JEMAA ISLAMIYYA; a.k.a. JEMAA ISLAMIYYAH; a.k.a. JEMAAH ISLAMIAH; a.k.a. JEMAAH ISLAMIYAH; a.k.a. JEMAAH ISLAMIYYAH); founded by Abdullah Sungkar [FTO][SDGT]

JEMA'AH ISLAMIYAH (a.k.a. JEMA'A ISLAMIYAH; a.k.a. JEMA'A ISLAMIYYA; a.k.a. JEMA'A ISLAMIYYAH; a.k.a. JEMA'AH ISLAMIYYAH; a.k.a. JEMAA ISLAMIYA; a.k.a. JEMAA ISLAMIYAH (JI); a.k.a. JEMAA ISLAMIYYA; a.k.a. JEMAA ISLAMIYYAH; a.k.a. JEMAAH ISLAMIAH; a.k.a. JEMAAH ISLAMIYAH; a.k.a. JEMAAH ISLAMIYYAH); founded by Abdullah Sungkar [FTO][SDGT]

JEMA'AH ISLAMIYYAH (a.k.a. JEMA'A ISLAMIYAH; a.k.a. JEMA'A ISLAMIYYA; a.k.a. JEMA'A ISLAMIYYAH; a.k.a. JEMA'AH ISLAMIYAH; a.k.a. JEMAA ISLAMIYA; a.k.a. JEMAA ISLAMIYAH (JI); a.k.a. JEMAA ISLAMIYYA; a.k.a. JEMAA ISLAMIYYAH; a.k.a. JEMAAH ISLAMIAH; a.k.a. JEMAAH ISLAMIYAH; a.k.a. JEMAAH ISLAMIYYAH); founded by Abdullah Sungkar [FTO][SDGT]

JEMAA ISLAMIYA (a.k.a. JEMA'A ISLAMIYAH; a.k.a. JEMA'A ISLAMIYYA; a.k.a. JEMA'A ISLAMIYYAH; a.k.a. JEMA'AH ISLAMIYAH; a.k.a. JEMA'AH ISLAMIYYAH; a.k.a. JEMAA ISLAMIYAH (JI); a.k.a. JEMAA ISLAMIYYA; a.k.a. JEMAA ISLAMIYYAH; a.k.a. JEMAAH ISLAMIAH; a.k.a. JEMAAH ISLAMIYAH; a.k.a. JEMAAH ISLAMIYYAH); founded by Abdullah Sungkar [FTO][SDGT]

JEMAA ISLAMIYAH (JI) (a.k.a. JEMA'A ISLAMIYAH; a.k.a. JEMA'A ISLAMIYYA; a.k.a. JEMA'A ISLAMIYYAH; a.k.a. JEMA'AH ISLAMIYAH; a.k.a. JEMA'AH ISLAMIYYAH; a.k.a. JEMAA ISLAMIYA; a.k.a. JEMAA ISLAMIYYA; a.k.a. JEMAA ISLAMIYYAH; a.k.a. JEMAAH ISLAMIAH; a.k.a. JEMAAH ISLAMIYAH; a.k.a. JEMAAH ISLAMIYYAH); founded by Abdullah Sungkar [FTO][SDGT]

JEMAA ISLAMIYYA (a.k.a. JEMA'A ISLAMIYAH; a.k.a. JEMA'A ISLAMIYYA; a.k.a. JEMA'A ISLAMIYYAH; a.k.a. JEMA'AH ISLAMIYAH; a.k.a. JEMA'AH ISLAMIYYAH; a.k.a. JEMAA ISLAMIYA; a.k.a. JEMAA ISLAMIYAH (JI); a.k.a. JEMAA ISLAMIYYAH; a.k.a. JEMAAH ISLAMIAH; a.k.a. JEMAAH ISLAMIYAH; a.k.a. JEMAAH ISLAMIYYAH); founded by Abdullah Sungkar [FTO][SDGT]

JEMAA ISLAMIYYAH (a.k.a. JEMA'A ISLAMIYAH; a.k.a. JEMA'A ISLAMIYYA; a.k.a. JEMA'A ISLAMIYYAH; a.k.a. JEMA'AH ISLAMIYAH; a.k.a. JEMA'AH ISLAMIYYAH; a.k.a. JEMAA ISLAMIYA; a.k.a. JEMAA ISLAMIYAH (JI); a.k.a. JEMAA ISLAMIYYA; a.k.a. JEMAAH ISLAMIAH; a.k.a. JEMAAH ISLAMIYAH; a.k.a. JEMAAH ISLAMIYYAH); founded by Abdullah Sungkar [FTO][SDGT]

JEMAAH ISLAMIAH (a.k.a. JEMA'A ISLAMIYAH; a.k.a. JEMA'A ISLAMIYYA; a.k.a. JEMA'A ISLAMIYYAH; a.k.a. JEMA'AH ISLAMIYAH; a.k.a. JEMA'AH ISLAMIYYAH; a.k.a. JEMAA ISLAMIYA; a.k.a. JEMAA ISLAMIYAH (JI); a.k.a. JEMAA ISLAMIYYA; a.k.a. JEMAA ISLAMIYYAH; a.k.a. JEMAAH ISLAMIYAH; a.k.a. JEMAAH ISLAMIYYAH); founded by Abdullah Sungkar [FTO][SDGT]

JEMAAH ISLAMIYAH (a.k.a. JEMA'A ISLAMIYAH; a.k.a. JEMA'A ISLAMIYYA; a.k.a. JEMA'A ISLAMIYYAH; a.k.a. JEMA'AH ISLAMIYAH; a.k.a. JEMA'AH ISLAMIYYAH; a.k.a. JEMAA ISLAMIYA; a.k.a. JEMAA ISLAMIYAH (JI); a.k.a. JEMAA ISLAMIYYA; a.k.a. JEMAA ISLAMIYYAH; a.k.a. JEMAAH ISLAMIAH; a.k.a. JEMAAH ISLAMIYYAH); founded by Abdullah Sungkar [FTO][SDGT]

JEMAAH ISLAMIYYAH (a.k.a. JEMA'A ISLAMIYAH; a.k.a. JEMA'A ISLAMIYYA; a.k.a. JEMA'A ISLAMIYYAH; a.k.a. JEMA'AH ISLAMIYAH; a.k.a. JEMA'AH ISLAMIYYAH; a.k.a. JEMAA ISLAMIYA; a.k.a. JEMAA ISLAMIYAH (JI); a.k.a. JEMAA ISLAMIYYA; a.k.a. JEMAA ISLAMIYYAH; a.k.a. JEMAAH ISLAMIAH; a.k.a. JEMAAH ISLAMIYAH); founded by Abdullah Sungkar [FTO][SDGT]

JENDOUBI, Faouzi (a.k.a. “Said;” a.k.a. “Samir”), Via Agucchi n.250, Bologna, Italy; Via di Saliceto n.51/9, Bologna, Italy; DOB 30 Jan 1966; POB Beja, Tunisia (individual) [SDGT]

JERMA PALACE HOTEL, Maarsancala, Malta [LIBYA]

JEWISH LEGION (a.k.a. AMERICAN FRIENDS OF THE UNITED YESHIVA MOVEMENT; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JUDEA POLICE; a.k.a. JUDEAN CONGRESS; a.k.a. KACH; a.k.a. KAHANE CHAI; a.k.a. KAHANE LIVES; a.k.a. KAHANE TZADAK; a.k.a. KAHANE.NET; a.k.a. KAHANE.ORG; a.k.a. KAHANE; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [SDT][FTO][SDGT]

JIBRIL, Ahmad (a.k.a. JABRIL, Ahmad); Secretary General of POPULAR FRONT FOR THE LIBERATION OF PALESTINE—GENERAL COMMAND; DOB 1938; POB Ramleh, Israel (individual) [SDT]

JIHAD, Abu (a.k.a. FADHIL, Mustafa Mohamed; a.k.a. AL MASRI, Abd Al Wakil; a.k.a. AL-NUBI, Abu; a.k.a. ALI, Hassan; a.k.a. ANIS, Abu; a.k.a. ELBISHY, Moustafa Ali; a.k.a. FADIL, Mustafa Muhamad; a.k.a. FAZUL, Mustafa; a.k.a. HUSSEIN; a.k.a. KHALID; a.k.a. MAN, Nu; a.k.a. MOHAMMED, Mustafa; a.k.a. YUSSRR, Abu); DOB 23 Jun 1976; POB Cairo, Egypt; citizen Egypt; alt. citizen Kenya; Kenyan ID No. 12773667; Serial No. 201735161 (individual) [SDGT]

JIHAD GROUP (a.k.a. AL-JIHAD; a.k.a. EGYPTIAN AL-JIHAD; a.k.a. EGYPTIAN ISLAMIC JIHAD; a.k.a. NEW JIHAD) [SDT] [FTO] [SDGT]

JIM'ALE, Ahmad Nur Ali (a.k.a. JIM'ALE, Ahmed Nur Ali; a.k.a. JIMALE, Ahmad Ali; a.k.a. JUMALE, Ahmed Nur; a.k.a. JUMALI, Ahmed Ali), Mogadishu, Somalia; P.O. Box 3312, Dubai, U.A.E. (individual) [SDGT]

JIM'ALE, Ahmed Nur Ali (a.k.a. JIM'ALE, Ahmad Nur Ali; a.k.a. JIMALE, Ahmad Ali; a.k.a. JUMALE, Ahmed Nur; a.k.a. JUMALI, Ahmed Ali), Mogadishu, Somalia; P.O. Box 3312, Dubai, U.A.E. (individual) [SDGT]

JIMALE, Ahmad Ali (a.k.a. JIM'ALE, Ahmad Nur Ali; a.k.a. JIM'ALE, Ahmed Nur Ali; a.k.a. JUMALE, Ahmed Nur; a.k.a. JUMALI, Ahmed Ali), Mogadishu, Somalia; P.O. Box 3312, Dubai, U.A.E. (individual) [SDGT]

JIMENEZ BEDOYA, Maria Adriana, Carrera 4 No. 12-20 of. 206, Cartago, Valle, Colombia; c/o INMOBILIARIA PASADENA LTDA., Cartago, Valle, Colombia; c/o ORGANIZACION LUIS HERNANDO GOMEZ BUSTAMANTE Y CIA. S.C.S., Cartago, Valle, Colombia; DOB 13 Apr 1971; Passport 31417388 (Colombia); Cedula No. 31417388 (Colombia) (individual) [SDNT]

JIMENEZ CARDENAS, Amparo, c/o COOPERATIVA MERCANTIL DEL SUR LTDA., Pasto, Colombia; Passport 30726230 (Colombia); Cedula No. 30726230 (Colombia) (individual) [SDNT]

JIMENEZ, Isabel Cristina, c/o COMERCIALIZADORA INTERTEL S.A., Cali, Colombia; c/o CONTACTEL COMUNICACIONES S.A., Cali, Colombia; c/o INVERSIONES Y CONSTRUCCIONES ATLAS LTDA., Cali, Colombia; DOB 1 Jan 1973; Passport 66852533 (Colombia); Cedula No. 66852533 (Colombia) (individual) [SDNT]

JIMENEZ MARIN, William Edison, c/o CODISA, Bogota, Colombia; c/o ESPIBENA S.A., Quito, Ecuador; c/o LABORATORIOS KRESSFOR DE COLOMBIA S.A., Bogota, Colombia; Passport 19415821 (Colombia); Cedula No. 19415821 (Colombia) (individual) [SDNT]

JIMINEZ, Gillermo (SOLER), Panama (individual) [CUBA]

JIT (a.k.a. JAM'IYAT AL TA'AWUN AL ISLAMIYYA; a.k.a. JAM'YAH TA'AWUN AL-ISLAMIA; a.k.a. SOCIETY OF ISLAMIC COOPERATION), Qandahar City, Afghanistan [SDGT]

JOINT EXPLORATION, EXPLOITATION AND PETROLEUM SERVICES COMPANY (a.k.a. JOINT OIL; a.k.a. JOINT OIL TUNISIA; a.k.a. LIBYAN-TUNISIAN EXPLORATION COMPANY; a.k.a. SOCIETE DE RECHERCHE ET D'EXPLOITATION COMMUNE ET DE SERVICE PETROLIERE), B.P. 350 Houmt Souk 4180, Djerba Island, Tunisia [LIBYA]

JOINT EXPLORATION, EXPLOITATION AND PETROLEUM SERVICES COMPANY (a.k.a. JOINT OIL; a.k.a. JOINT OIL TUNISIA; a.k.a. LIBYAN-TUNISIAN EXPLORATION COMPANY; a.k.a. SOCIETE DE RECHERCHE ET D'EXPLOITATION COMMUNE ET DE SERVICE PETROLIERE), 7th of November offshore field, Gulf of Gabes [LIBYA]

JOINT EXPLORATION, EXPLOITATION AND PETROLEUM SERVICES COMPANY (a.k.a. JOINT OIL; a.k.a. JOINT OIL TUNISIA; a.k.a. LIBYAN-TUNISIAN EXPLORATION COMPANY; a.k.a. SOCIETE DE RECHERCHE ET D'EXPLOITATION COMMUNE ET DE SERVICE PETROLIERE), Planning & Logistic Group complex, Port of Zarzis, Tunisia [LIBYA]

JOINT OIL (a.k.a. JOINT EXPLORATION, EXPLOITATION AND PETROLEUM SERVICES COMPANY; a.k.a. JOINT OIL TUNISIA; a.k.a. LIBYAN-TUNISIAN EXPLORATION COMPANY; a.k.a. SOCIETE DE RECHERCHE ET D'EXPLOITATION COMMUNE ET DE SERVICE PETROLIERE), 7th of November offshore field, Gulf of Gabes [LIBYA]

JOINT OIL (a.k.a. JOINT EXPLORATION, EXPLOITATION AND PETROLEUM SERVICES COMPANY; a.k.a. JOINT OIL TUNISIA; a.k.a. LIBYAN-TUNISIAN EXPLORATION COMPANY; a.k.a. SOCIETE DE RECHERCHE ET D'EXPLOITATION COMMUNE ET DE SERVICE PETROLIERE), Planning & Logistic Group complex, Port of Zarzis, Tunisia [LIBYA]

JOINT OIL (a.k.a. JOINT EXPLORATION, EXPLOITATION AND PETROLEUM SERVICES COMPANY; a.k.a. JOINT OIL TUNISIA; a.k.a. LIBYAN-TUNISIAN EXPLORATION COMPANY; a.k.a. SOCIETE DE RECHERCHE ET D'EXPLOITATION COMMUNE ET DE SERVICE PETROLIERE), B.P. 350 Houmt Souk 4180, Djerba Island, Tunisia [LIBYA]

JOINT OIL TUNISIA (a.k.a. JOINT EXPLORATION, EXPLOITATION AND PETROLEUM SERVICES COMPANY; a.k.a. JOINT OIL; a.k.a. LIBYAN-TUNISIAN EXPLORATION COMPANY; a.k.a. SOCIETE DE RECHERCHE ET D'EXPLOITATION COMMUNE ET DE SERVICE PETROLIERE), B.P. 350 Houmt Souk 4180, Djerba Island, Tunisia [LIBYA]

JOINT OIL TUNISIA (a.k.a. JOINT EXPLORATION, EXPLOITATION AND PETROLEUM SERVICES COMPANY; a.k.a. JOINT OIL; a.k.a. LIBYAN-TUNISIAN EXPLORATION COMPANY; a.k.a. SOCIETE DE RECHERCHE ET D'EXPLOITATION COMMUNE ET DE SERVICE PETROLIERE), Planning & Logistic Group complex, Port of Zarzis, Tunisia [LIBYA]

JOINT OIL TUNISIA (a.k.a. JOINT EXPLORATION, EXPLOITATION AND PETROLEUM SERVICES COMPANY; a.k.a. JOINT OIL; a.k.a. LIBYAN-TUNISIAN EXPLORATION COMPANY; a.k.a. SOCIETE DE RECHERCHE ET D'EXPLOITATION COMMUNE ET DE SERVICE PETROLIERE), 7th of November offshore field, Gulf of Gabes [LIBYA]

JOINT TURKISH LIBYAN AGRICULTURAL LIVESTOCK COMPANY, Ankara, Turkey [LIBYA]

JOKIC, Dragan; DOB 20 Aug 1957; POB Grbavci, Bosnia-Herzegovina; ICTY indictee (individual) [BALKANS]

JOKIC, Miodrag; DOB 1935; POB Mionica, Serbia and Montenegro; ICTY indictee (individual) [BALKANS]

JOMAGA DE COSTA RICA S.A. (a.k.a. INTERFARMA S.A.), 200 Norte y 25 Oeste del Restaurante Tierra Colombiana, San Francisco de Dos Rios, San Jose, Costa Rica; Numero Judicial # 3-101-76327 (Costa Rica) [SDNT]

JON, Hana Paul, 19 Tudor House, Windsor Way, Brook Green, London, England (individual) [IRAQ]

JOSIPOVIC, Drago; DOB 14 Feb 1955; POB Santici, Bosnia-Herzegovina; ICTY indictee (individual) [BALKANS]

JOWFE (a.k.a. NATIONAL COMPANY DRILLING CHEMICAL & EQUIPMENT), NOC Building, Ashjara Square, Benghazi, Libya [LIBYA]

JUBA DUTY FREE SHOP, Juba, Sudan [SUDAN]

JUDEA POLICE (a.k.a. AMERICAN FRIENDS OF THE UNITED YESHIVA MOVEMENT; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH LEGION; a.k.a. JUDEAN CONGRESS; a.k.a. KACH; a.k.a. KAHANE CHAI; a.k.a. KAHANE LIVES; a.k.a. KAHANE TZADAK; a.k.a. KAHANE.NET; a.k.a. KAHANE.ORG; a.k.a. KAHANE; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [SDT][FTO][SDGT]

JUDEAN CONGRESS (a.k.a. AMERICAN FRIENDS OF THE UNITED YESHIVA MOVEMENT; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH LEGION; a.k.a. JUDEA POLICE; a.k.a. KACH; a.k.a. KAHANE CHAI; a.k.a. KAHANE LIVES; a.k.a. KAHANE TZADAK; a.k.a. KAHANE.NET; a.k.a. KAHANE.ORG; a.k.a. KAHANE; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [SDT][FTO][SDGT]

JULAIDAN, Wa'el Hamza (a.k.a. “Abu Al-Hasan al Madani;” a.k.a. JALADIN, Wa'el Hamza; a.k.a. JALADIN, Wa'il Hamza; a.k.a. JALAIDAN, Wa'el Hamza; a.k.a. JALAIDAN, Wa'il Hamza; a.k.a. JULAIDAN, Wa'il Hamza; a.k.a. JULAYDAN, Wa'el Hamza; a.k.a. JULAYDAN, Wa'il Hamza); DOB 22 Jan 1958; POB Al-Madinah, Saudi Arabia; Passport No. A-992535 (Saudi Arabia) (individual) [SDGT]

JULAIDAN, Wa'il Hamza (a.k.a. “Abu Al-Hasan al Madani;” a.k.a. JALADIN, Wa'el Hamza; a.k.a. JALADIN, Wa'il Hamza; a.k.a. JALAIDAN, Wa'el Hamza; a.k.a. JALAIDAN, Wa'il Hamza; a.k.a. JULAIDAN, Wa'el Hamza; a.k.a. JULAYDAN, Wa'el Hamza; a.k.a. JULAYDAN, Wa'il Hamza); DOB 22 Jan 1958; POB Al-Madinah, Saudi Arabia; Passport No. A-992535 (Saudi Arabia) (individual) [SDGT]

JULAYDAN, Wa'el Hamza (a.k.a. “Abu Al-Hasan al Madani;” a.k.a. JALADIN, Wa'el Hamza; a.k.a. JALADIN, Wa'il Hamza; a.k.a. JALAIDAN, Wa'el Hamza; a.k.a. JALAIDAN, Wa'il Hamza; a.k.a. JULAIDAN, Wa'el Hamza; a.k.a. JULAIDAN, Wa'il Hamza; a.k.a. JULAYDAN, Wa'il Hamza); DOB 22 Jan 1958; POB Al-Madinah, Saudi Arabia; Passport No. A-992535 (Saudi Arabia) (individual) [SDGT]

JULAYDAN, Wa'il Hamza (a.k.a. “Abu Al-Hasan al Madani;” a.k.a. JALADIN, Wa'el Hamza; a.k.a. JALADIN, Wa'il Hamza; a.k.a. JALAIDAN, Wa'el Hamza; a.k.a. JALAIDAN, Wa'il Hamza; a.k.a. JULAIDAN, Wa'el Hamza; a.k.a. JULAIDAN, Wa'il Hamza; a.k.a. JULAYDAN, Wa'el Hamza); DOB 22 Jan 1958; POB Al-Madinah, Saudi Arabia; Passport No. A-992535 (Saudi Arabia) (individual) [SDGT]

JULKIPLI, Salim (a.k.a. JULKIPLI SALIM Y SALAMUDDIN; a.k.a. KIPLI, Sali); DOB 20 Jun 1976; POB Tulay, Jolo Sulu, Philippines (individual) [SDGT]

JULKIPLI SALIM Y SALAMUDDIN (a.k.a. JULKIPLI, Salim; a.k.a. KIPLI, Sali); DOB 20 Jun 1976; POB Tulay, Jolo Sulu, Philippines (individual) [SDGT]

JUMALE, Ahmed Nur (a.k.a. JIM'ALE, Ahmad Nur Ali; a.k.a. JIM'ALE, Ahmed Nur Ali; a.k.a. JIMALE, Ahmad Ali; a.k.a. JUMALI, Ahmed Ali), Mogadishu, Somalia; P.O. Box 3312, Dubai, U.A.E. (individual) [SDGT]

JUMALI, Ahmed Ali (a.k.a. JIM'ALE, Ahmad Nur Ali; a.k.a. JIM'ALE, Ahmed Nur Ali; a.k.a. JIMALE, Ahmad Ali; a.k.a. JUMALE, Ahmed Nur), Mogadishu, Somalia; P.O. Box 3312, Dubai, U.A.E. (individual) [SDGT]

JUME'AN, George, P.O. Box 1318, Amman, Jordan (individual) [IRAQ]

JUND AL-ISLAM (a.k.a. ANSAR AL-ISLAM; a.k.a. ANSAR AL-SUNNA; a.k.a. ANSAR AL-SUNNA ARMY; a.k.a. “DEVOTEES OF ISLAM;” a.k.a. “FOLLOWERS OF ISLAM IN KURDISTAN;” a.k.a. “HELPERS OF ISLAM;” a.k.a. JAISH ANSAR AL-SUNNA; a.k.a. “KURDISTAN SUPPORTERS OF ISLAM;” a.k.a. “KURDISH TALIBAN;” a.k.a. “PARTISANS OF ISLAM;” a.k.a. “SOLDIERS OF GOD;” a.k.a. “SOLDIERS OF ISLAM;” a.k.a. “SUPPORTERS OF ISLAM IN KURDISTAN”), Iraq [SDGT][FTO]

JUNE 78 (a.k.a. ELA; a.k.a. EPANASTATIKOS LAIKOS AGONAS; a.k.a. LIBERATION STRUGGLE; a.k.a. EPANASTATIKI PIRINES; a.k.a. ORGANIZATION OF REVOLUTIONARY INTERNATIONALIST SOLIDARITY; a.k.a. POPULAR REVOLUTIONARY STRUGGLE; a.k.a. REVOLUTIONARY CELLS; a.k.a. REVOLUTIONARY NUCLEI; a.k.a. REVOLUTIONARY PEOPLE'S STRUGGLE; a.k.a. REVOLUTIONARY POPULAR STRUGGLE) [FTO][SDGT]

JURADO CARDONA, Diego Maria, c/o MACROFARMA S.A., Cali, Colombia; Passport 7526942 (Colombia); Cedula No. 7526942 (Colombia) (individual) [SDNT]

K. P. TO JEANS WEAR S. DE H., Calle 78 No. 53-70 Local 218, Barranquilla, Colombia; NIT # 800211718-7 (Colombia) [SDNT]

K.A.S. (a.k.a. ASKATASUNA; a.k.a. BASQUE FATHERLAND AND LIBERTY; a.k.a. BATASUNA; a.k.a. EKIN; a.k.a. ETA; a.k.a. EUSKAL HERRITARROK; a.k.a. EUZKADI TA ASKATASUNA; a.k.a. HERRI BATASUNA; a.k.a. JARRAI-HAIKA-SEGI; a.k.a. XAKI) [FTO][SDGT]

KACH (a.k.a. AMERICAN FRIENDS OF THE UNITED YESHIVA MOVEMENT; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH LEGION; a.k.a. JUDEA POLICE; a.k.a. JUDEAN CONGRESS; a.k.a. KAHANE CHAI; a.k.a. KAHANE LIVES; a.k.a. KAHANE TZADAK; a.k.a. KAHANE.NET; a.k.a. KAHANE.ORG; a.k.a. KAHANE; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [SDT][FTO][SDGT]

KADEK (a.k.a. FREEDOM AND DEMOCRACY CONGRESS OF KURDISTAN; a.k.a. HALU MESRU SAVUNMA KUVVETI (HSK); a.k.a. KONGRA-GEL; a.k.a. KURDISTAN FREEDOM AND DEMOCRACY CONGRESS; a.k.a. KURDISTAN PEOPLE'S CONGRESS (KHK); a.k.a. KURDISTAN WORKERS' PARTY; a.k.a. PARTIYA KARKERAN KURDISTAN; a.k.a. PEOPLE'S CONGRESS OF KURDISTAN; a.k.a. PKK; a.k.a. THE PEOPLE'S DEFENSE FORCE) [FTO][SDGT]

KADHUM, Dr. Fadel Jawad, c/o Alvaney Court, 250 Finchley Road, London, England (individual) [IRAQ]

KADI, Shaykh Yassin Abdullah (a.k.a. AL-QADI, Yasin; a.k.a. KAHDI, Yasin), Jeddah, Saudi Arabia (individual) [SDGT]

KAELBLE & GMEINDER COMPANY (a.k.a. KAELBLE-GMEINDER GMBH), Maubacher Strasse 100, Postfach 13 20, W-7150 Backnang, Germany [LIBYA]

KAELBLE-GMEINDER GMBH (a.k.a. KAELBLE & GMEINDER COMPANY), Maubacher Strasse 100, Postfach 13 20, W-7150 Backnang, Germany [LIBYA]

KAHANE (a.k.a. AMERICAN FRIENDS OF THE UNITED YESHIVA MOVEMENT; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH LEGION; a.k.a. JUDEA POLICE; a.k.a. JUDEAN CONGRESS; a.k.a. KACH; a.k.a. KAHANE CHAI; a.k.a. KAHANE LIVES; a.k.a. KAHANE TZADAK; a.k.a. KAHANE.NET; a.k.a. KAHANE.ORG; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [SDT][FTO][SDGT]

KAHANE CHAI (a.k.a. AMERICAN FRIENDS OF THE UNITED YESHIVA MOVEMENT; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH LEGION; a.k.a. JUDEA POLICE; a.k.a. JUDEAN CONGRESS; a.k.a. KACH; a.k.a. KAHANE LIVES; a.k.a. KAHANE TZADAK; a.k.a. KAHANE.NET; a.k.a. KAHANE.ORG; a.k.a. KAHANE; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [SDT][FTO][SDGT]

KAHANE LIVES (a.k.a. AMERICAN FRIENDS OF THE UNITED YESHIVA MOVEMENT; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH LEGION; a.k.a. JUDEA POLICE; a.k.a. JUDEAN CONGRESS; a.k.a. KACH; a.k.a. KAHANE CHAI; a.k.a. KAHANE TZADAK; a.k.a. KAHANE.NET; a.k.a. KAHANE.ORG; a.k.a. KAHANE; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [SDT][FTO][SDGT]

KAHANE TZADAK (a.k.a. AMERICAN FRIENDS OF THE UNITED YESHIVA MOVEMENT; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH LEGION; a.k.a. JUDEA POLICE; a.k.a. JUDEAN CONGRESS; a.k.a. KACH; a.k.a. KAHANE CHAI; a.k.a. KAHANE LIVES; a.k.a. KAHANE.NET; a.k.a. KAHANE.ORG; a.k.a. KAHANE; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [SDT][FTO][SDGT]

KAHANE.NET (a.k.a. AMERICAN FRIENDS OF THE UNITED YESHIVA MOVEMENT; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH LEGION; a.k.a. JUDEA POLICE; a.k.a. JUDEAN CONGRESS; a.k.a. KACH; a.k.a. KAHANE CHAI; a.k.a. KAHANE LIVES; a.k.a. KAHANE TZADAK; a.k.a. KAHANE.ORG; a.k.a. KAHANE; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [SDT][FTO][SDGT]

KAHANE.ORG (a.k.a. AMERICAN FRIENDS OF THE UNITED YESHIVA MOVEMENT; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH LEGION; a.k.a. JUDEA POLICE; a.k.a. JUDEAN CONGRESS; a.k.a. KACH; a.k.a. KAHANE CHAI; a.k.a. KAHANE LIVES; a.k.a. KAHANE TZADAK; a.k.a. KAHANE.NET; a.k.a. KAHANE; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [SDT][FTO][SDGT]

KAHANETZADAK.COM (a.k.a. AMERICAN FRIENDS OF THE UNITED YESHIVA MOVEMENT; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH LEGION; a.k.a. JUDEA POLICE; a.k.a. JUDEAN CONGRESS; a.k.a. KACH; a.k.a. KAHANE CHAI; a.k.a. KAHANE LIVES; a.k.a. KAHANE TZADAK; a.k.a. KAHANE.NET; a.k.a. KAHANE.ORG; a.k.a. KAHANE; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [SDT][FTO][SDGT]

KAHDI, Yasin (a.k.a. AL-QADI, Yasin; a.k.a. KADI, Shaykh Yassin Abdullah), Jeddah, Saudi Arabia (individual) [SDGT]

KAHIE, Abdullahi Hussein, Bakara Market, Dar Salaam Buildings, Mogadishu, Somalia (individual) [SDGT]

KALED, Belkasam (a.k.a. “Ali Barkani;” a.k.a. “Moustafa;” a.k.a. MOUSTFA, Djamel), “last known address,” c/o Birgit Melani Schroeder, Kuehlungsborner Strasse 30, 22147 Hamburg, Germany; DOB 31 Dec 1979; alt. DOB 28 Sep 1973; alt. DOB 22 Aug. 1973; POB Tiaret, Algeria; alt. POB Morocco; nationality Algerian; arrested 23 Apr 2002; currently in remand at 20355 Hamburg Holstenglacis 3, Germany (individual) [SDGT]

KAMEL, Mohamed (a.k.a. “ALI DI ROMA;” a.k.a. EL HEIT, Ali), Via D. Fringuello, 20, Rome, Italy; Milan; DOB 20 Mar 1970; alt. DOB 30 Jan 1971; POB Rouba, Algeria (individual) [SDGT]

KAMEL, Mustafa (a.k.a. AL-MASRI, Abu Hamza; a.k.a. AL-MISRI, Abu Hamza; a.k.a. EMAN, Adam Ramsey; a.k.a. MUSTAFA, Mustafa Kamel), 9 Albourne Road, Shepherds Bush, London, W12 OLW, England; 8 Adie Road, Hammersmith, London, W6 OPW, England; DOB 15 Apr 1958 (individual) [SDGT]

KAMMOUN, Mehdi, Via Masina n.7, Milan, Italy; DOB 3 Apr 1968; POB Tunis, Tunisia; Italian Fiscal Code: KMMMHD68D03Z352N (individual) [SDGT]

KARADZIC, Aleksandar “Sasa;” DOB 14 May 1973; POB Sarajevo, Bosnia-Herzegovina (individual) [BALKANS]

KARADZIC, Luka; DOB 31 Apr 1951; POB Savnik, Serbia and Montenegro (individual) [BALKANS]

KARADZIC, Radovan; DOB 19 Jun 1945; POB Petnica, Serbia and Montenegro; ICTY indictee at large; former president of the Republika Srpska (individual) [BALKANS]

KARADZIC-JOVICEVIC, Sonja; DOB 22 May 1967; POB Sarajevo, Bosnia-Herzegovina (individual) [BALKANS]

KARAGHULLY, Labeed A., General Manager of REAL ESTATE BANK; Iraq (individual) [IRAQ]

KARIM, Jamil Abdul (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. NAZIM, Abou; a.k.a. NEZAM, Abu; a.k.a. NIZAM, Abou); DOB Sep 1938 (individual) [SDNTK]

KARIMA DATE FACTORY, Karima, Sudan [SUDAN]

KARIMA FRUIT AND VEGETABLE CANNING FACTORY, P.O. Box 54, Karima, Sudan [SUDAN]

KARIMANZIRA, David, Politburo Secretary for Finance of Zimbabwe; DOB 25 May 1947 (individual) [ZIMB]

KASMURI, Abdul Manaf (a.k.a. KASMURI, Lt. Col. (Rtd). Abd Manaf); DOB 29 May 1955; POB Malaysia; nationality Malaysian (individual) [SDGT]

KASMURI, Lt. Col. (Rtd). Abd Manaf (a.k.a. KASMURI, Abdul Manaf); DOB 29 May 1955; POB Malaysia; nationality Malaysian (individual) [SDGT]

KASPAR SHIPPING CO. S.A., c/o EMPRESA DE NAVIGACION CARIBE, Edificio Lonja del Comercio, Lamparilla 2, Caja Postal 1784, Havana 1, Cuba [CUBA]

KASSALA FRUIT PROCESSING COMPANY, Khartoum, Sudan [SUDAN]

KASSALA ONION DEHYDRATION FACTORY, P.O. Box 22, Kassala, Sudan [SUDAN]

KASUKUWERE, Saviour, Deputy Secretary for Youth Affairs of Zimbabwe; DOB 23 Oct 1970 (individual) [ZIMB]

KATIBAT EL AHOUAL (a.k.a. DHAMAT HOUMET DAAWA SALAFIA; a.k.a. DJAMAAT HOUMAT ED DAAWA ES SALAFIYA; a.k.a. DJAMAAT HOUMAT EDDAWA ESSALAFIA; a.k.a. DJAMAATT HOUMAT ED DAAWA ES SALAFIYA; a.k.a. EL-AHOUAL BATTALION; a.k.a. GROUP OF SUPPORTERS OF THE SALAFIST TREND; a.k.a. GROUP OF SUPPORTERS OF THE SALAFISTE TREND; a.k.a. GROUP PROTECTORS OF SALAFIST PREACHING; a.k.a. HOUMAT ED DAAWA ES SALIFIYA; a.k.a. HOUMAT ED-DAAOUA ES-SALAFIA; a.k.a. HOUMATE ED-DAAWA ES-SALAFIA; a.k.a. HOUMATE EL DA'AWAA ES-SALAFIYYA; a.k.a. KATIBAT EL AHOUEL; a.k.a. PROTECTORS OF THE SALAFIST CALL; a.k.a. PROTECTORS OF THE SALAFIST PREDICATION; a.k.a. SALAFIST CALL PROTECTORS; a.k.a. THE HORROR SQUADRON), Algeria [SDGT]

KATIBAT EL AHOUEL (a.k.a. DHAMAT HOUMET DAAWA SALAFIA; a.k.a. DJAMAAT HOUMAT ED DAAWA ES SALAFIYA; a.k.a. DJAMAAT HOUMAT EDDAWA ESSALAFIA; a.k.a. DJAMAATT HOUMAT ED DAAWA ES SALAFIYA; a.k.a. EL-AHOUAL BATTALION; a.k.a. GROUP OF SUPPORTERS OF THE SALAFIST TREND; a.k.a. GROUP OF SUPPORTERS OF THE SALAFISTE TREND; a.k.a. GROUP PROTECTORS OF SALAFIST PREACHING; a.k.a. HOUMAT ED DAAWA ES SALIFIYA; a.k.a. HOUMAT ED-DAAOUA ES-SALAFIA; a.k.a. HOUMATE ED-DAAWA ES-SALAFIA; a.k.a. HOUMATE EL DA'AWAA ES-SALAFIYYA; a.k.a. KATIBAT EL AHOUAL; a.k.a. PROTECTORS OF THE SALAFIST CALL; a.k.a. PROTECTORS OF THE SALAFIST PREDICATION; a.k.a. SALAFIST CALL PROTECTORS; a.k.a. THE HORROR SQUADRON), Algeria [SDGT]

KAVE, S.A., Panama [CUBA]

KAZIM, Rashid Taan (Ba'th Party Regional Command Chairman, al-Anbar; nationality Iraqi (individual) [IRAQ][IRAQ2]

KEENCLOUD LIMITED, 11 Catherine Place, Westminister, London, England [IRAQ]

KENAF SOCKS FACTORY, Abu Naama, Sudan [SUDAN]

KESMAN OVERSEAS, 3rd Floor, Geneva Place, Waterfront Drive, Road Town, Tortola, British Virgin Islands [SDNT]

KFAR TAPUAH FUND (a.k.a. AMERICAN FRIENDS OF THE UNITED YESHIVA MOVEMENT; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH LEGION; a.k.a. JUDEA POLICE; a.k.a. JUDEAN CONGRESS; a.k.a. KACH; a.k.a. KAHANE CHAI; a.k.a. KAHANE LIVES; a.k.a. KAHANE TZADAK; a.k.a. KAHANE.NET; a.k.a. KAHANE.ORG; a.k.a. KAHANE; a.k.a. KAHANETZADAK.COM; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [SDT][FTO][SDGT]

KHABAR, Abu (a.k.a. GHAILANI, Ahmed Khalfan; a.k.a. “AHMED THE TANZANIAN;” a.k.a. “FOOPIE;” a.k.a. “FUPI;” a.k.a. AHMAD, Abu Bakr; a.k.a. AHMED, A.; a.k.a. AHMED, Abubakar; a.k.a. AHMED, Abubakar K.; a.k.a. AHMED, Abubakar Khalfan; a.k.a. AHMED, Abubakary K.; a.k.a. AHMED, Ahmed Khalfan; a.k.a. AL TANZANI, Ahmad; a.k.a. ALI, Ahmed Khalfan; a.k.a. BAKR, Abu; a.k.a. GHAILANI, Abubakary Khalfan Ahmed; a.k.a. GHAILANI, Ahmed; a.k.a. GHILANI, Ahmad Khalafan; a.k.a. HUSSEIN, Mahafudh Abubakar Ahmed Abdallah; a.k.a. KHALFAN, Ahmed; a.k.a. MOHAMMED, Shariff Omar); DOB 14 Mar 1974; alt. DOB 13 Apr 1974; alt. DOB 14 Apr 1974; alt. DOB 1 Aug 1970; POB Zanzibar, Tanzania; citizen Tanzania (individual) [SDGT]

KHALAILAH, Ahmed Fadeel (a.k.a. 'ABD AL-KARIM; a.k.a. ABU AL-MU'TAZ; a.k.a. AL-HABIB; a.k.a. AL-KHALAYLAH, Ahmad Fadil Nazzal; a.k.a. AL-MUHAJIR; a.k.a. AL-ZARQAWI, Abu Mus'Ab; a.k.a. GHARIB; a.k.a. KHALAYLEH, Fedel Nazzel; a.k.a. “MOUHANAD;” a.k.a. “MOUHANNAD;” a.k.a. “MUHANNAD;” a.k.a. “RASHID”); DOB 20 Oct 1966; POB Zarqa, Jordan; Passport No. Z264968 (Jordan); citizen Jordan; National No. 9661031030 (Jordan) (individual) [SDGT]

KHALAYLEH, Fedel Nazzel (a.k.a. 'ABD AL-KARIM; a.k.a. ABU AL-MU'TAZ; a.k.a. AL-HABIB; a.k.a. AL-KHALAYLAH, Ahmad Fadil Nazzal; a.k.a. AL-MUHAJIR; a.k.a. AL-ZARQAWI, Abu Mus'Ab; a.k.a. GHARIB; a.k.a. KHALAILAH, Ahmed Fadeel; a.k.a. “MOUHANAD;” a.k.a. “MOUHANNAD;” a.k.a. “MUHANNAD;” a.k.a. “RASHID”); DOB 20 Oct 1966; POB Zarqa, Jordan; Passport No. Z264968 (Jordan); citizen Jordan; National No. 9661031030 (Jordan) (individual) [SDGT]

KHALFAN, Ahmed (a.k.a. GHAILANI, Ahmed Khalfan; a.k.a. “AHMED THE TANZANIAN;” a.k.a. “FOOPIE;” a.k.a. “FUPI;” a.k.a. AHMAD, Abu Bakr; a.k.a. AHMED, A.; a.k.a. AHMED, Abubakar; a.k.a. AHMED, Abubakar K.; a.k.a. AHMED, Abubakar Khalfan; a.k.a. AHMED, Abubakary K.; a.k.a. AHMED, Ahmed Khalfan; a.k.a. AL TANZANI, Ahmad; a.k.a. ALI, Ahmed Khalfan; a.k.a. BAKR, Abu; a.k.a. GHAILANI, Abubakary Khalfan Ahmed; a.k.a. GHAILANI, Ahmed; a.k.a. GHILANI, Ahmad Khalafan; a.k.a. HUSSEIN, Mahafudh Abubakar Ahmed Abdallah; a.k.a. KHABAR, Abu; a.k.a. MOHAMMED, Shariff Omar); DOB 14 Mar 1974; alt. DOB 13 Apr 1974; alt. DOB 14 Apr 1974; alt. DOB 1 Aug 1970; POB Zanzibar, Tanzania; citizen Tanzania (individual) [SDGT]

KHALID (a.k.a. FADHIL, Mustafa Mohamed; a.k.a. AL MASRI, Abd Al Wakil; a.k.a. AL-NUBI, Abu; a.k.a. ALI, Hassan; a.k.a. ANIS, Abu; a.k.a. ELBISHY, Moustafa Ali; a.k.a. FADIL, Mustafa Muhamad; a.k.a. FAZUL, Mustafa; a.k.a. HUSSEIN; a.k.a. JIHAD, Abu; a.k.a. MAN, Nu; a.k.a. MOHAMMED, Mustafa; a.k.a. YUSSRR, Abu); DOB 23 Jun 1976; POB Cairo, Egypt; citizen Egypt; alt. citizen Kenya; Kenyan ID No. 12773667; Serial No. 201735161 (individual) [SDGT]

KHALID, Abu (a.k.a. HAWATMEH, Nayif; a.k.a. HAWATMA, Nayif; a.k.a. HAWATMAH, Nayif); Secretary General of DEMOCRATIC FRONT FOR THE LIBERATION OF PALESTINE—HAWATMEH FACTION; DOB 1933 (individual) [SDT]

KHALIL, Ahmad Murtadha Ahmad (a.k.a. KHALIL, Dr. Ahmad Murtada Ahmad), Minister of Transport and Communications; Iraq (individual) [IRAQ]

KHALIL, Dr. Ahmad Murtada Ahmad (a.k.a. KHALIL Ahmad Murtadha Ahmad), Minister of Transport and Communications; Iraq (individual) [IRAQ]

KHAN, Abdullah (a.k.a. AFGHAN, Shear; a.k.a. AFGHAN, Sher; a.k.a. AFGHAN, Shir; a.k.a. AZIZ, Mohammad) DOB 1962; alt. DOB 1959; POB Pakistan (individual) [SDNTK]

KHAN AFRIDI, Haji Ibrahim (a.k.a. IBRAHIM, Haji; a.k.a. IBRAHIM, Haji Ehai; a.k.a. KHAN, Haji Ibrahim); DOB 28 Sep 1957; POB Pakistan (individual) [SDNTK]

KHAN, Ali (a.k.a. KHAN, Nafir Ali; a.k.a. KHAN, Nasir Ali; a.k.a. KHAN, Nazir Ali; a.k.a. KHAN, Nisan Ali; a.k.a. KHAN, Nisar Ali; a.k.a. NASIR, Ali Khan; a.k.a. NASIR, Khan Ali); DOB 1 Oct 1955; POB Pakistan (individual) [SDNTK]

KHAN, Haji Ibrahim (a.k.a. IBRAHIM, Haji; a.k.a. IBRAHIM, Haji Ehai; a.k.a. KHAN AFRIDI, Haji Ibrahim); DOB 28 Sep 1957; POB Pakistan (individual) [SDNTK]

KHAN, Nafir Ali (a.k.a. KHAN, Ali; a.k.a. KHAN, Nasir Ali; a.k.a. KHAN, Nazir Ali; a.k.a. KHAN, Nisan Ali; a.k.a. KHAN, Nisar Ali; a.k.a. NASIR, Ali Khan; a.k.a. NASIR, Khan Ali); DOB 1 Oct 1955; POB Pakistan (individual) [SDNTK]

KHAN, Nasir Ali (a.k.a. KHAN, Ali; a.k.a. KHAN, Nafir Ali; a.k.a. KHAN, Nazir Ali; a.k.a. KHAN, Nisan Ali; a.k.a. KHAN, Nisar Ali; a.k.a. NASIR, Ali Khan; a.k.a. NASIR, Khan Ali); DOB 1 Oct 1955; POB Pakistan (individual) [SDNTK]

KHAN, Nazir Ali (a.k.a. KHAN, Ali; a.k.a. KHAN, Nafir Ali; a.k.a. KHAN, Nasir Ali; a.k.a. KHAN, Nisan Ali; a.k.a. KHAN, Nisar Ali; a.k.a. NASIR, Ali Khan; a.k.a. NASIR, Khan Ali); DOB 1 Oct 1955; POB Pakistan (individual) [SDNTK]

KHAN, Nisan Ali (a.k.a. KHAN, Ali; a.k.a. KHAN, Nafir Ali; a.k.a. KHAN, Nasir Ali; a.k.a. KHAN, Nazir Ali; a.k.a. KHAN, Nisar Ali; a.k.a. NASIR, Ali Khan; a.k.a. NASIR, Khan Ali); DOB 1 Oct 1955; POB Pakistan (individual) [SDNTK]

KHAN, Nisar Ali (a.k.a. KHAN, Ali; a.k.a. KHAN, Nafir Ali; a.k.a. KHAN, Nasir Ali; a.k.a. KHAN, Nazir Ali; a.k.a. KHAN, Nisan Ali; a.k.a. NASIR, Ali Khan; a.k.a. NASIR, Khan Ali); DOB 1 Oct 1955; POB Pakistan (individual) [SDNTK]

KHARTOUM CENTRAL FOUNDRY, Khartoum, Sudan [SUDAN]

KHARTOUM COMMERCIAL AND SHIPPING COMPANY LIMITED, Kasr Avenue, P.O. Box 221, Khartoum, Sudan [SUDAN]

KHARTOUM TANNERY, P.O. Box 134, Khartoum South, Sudan [SUDAN]

KHEKMATIYAR, Gulbuddin (a.k.a. HEKHMARTYAR, Gulbuddin; a.k.a. HEKMATIAR, Gulbuddin; a.k.a. HEKMATYAR, Gulabudin; a.k.a. HEKMATYAR, Gulbuddin; a.k.a. HEKMETYAR, Gulbudin; a.k.a. HIKMETYAR, Golboddin), last known address, Iran; DOB 1 Aug 1949; POB Konduz Province, Afghanistan (individual) [SDGT]

KHOMS CEMENT PLANT, Khoms, Libya [LIBYA]

KHOR OMER ENGINEERING COMPANY, P.O. Box 305, Khartoum, Sudan [SUDAN]

KHUDAMUL ISLAM (a.k.a. ARMY OF MOHAMMED; a.k.a. JAISH-I-MOHAMMED; a.k.a. JAISH-E-MOHAMMED; a.k.a. KHUDDAM-UL-ISLAM; a.k.a. KUDDAM E ISLAMI; a.k.a. MOHAMMED'S ARMY; a.k.a. TEHRIK UL-FURQAAN), Pakistan [FTO] [SDGT]

KHUDDAM-UL-ISLAM (a.k.a. ARMY OF MOHAMMED; a.k.a. JAISH-I-MOHAMMED; a.k.a. JAISH-E-MOHAMMED; a.k.a. KHUDAMUL ISLAM; a.k.a. KUDDAM E ISLAMI; a.k.a. MOHAMMED'S ARMY; a.k.a. TEHRIK UL-FURQAAN), Pakistan [FTO] [SDGT]

Khun Sa (a.k.a. CHAN, Changtrakul; a.k.a. CHANG, Chi Fu ; a.k.a. CHANG, Shi-Fu; a.k.a. CHANG, Xifu; a.k.a. CHANGTRAKUL, Chan), DOB 17 Feb 1933; alt. DOB 7 Jan 1932; alt. DOB 12 Feb 1932; POB Burma (individual) [SDNTK]

KHUN, Saeng (a.k.a CHANG, Ping Yun); DOB 7 Jan 1940; POB Burma (individual) [SDNTK]

KIFANE, Abderrahmane, Via S. Biagio, 32, Sant'Anastasia, Naples, Italy; Via S. Biagio, 35, Sant'Anastasia, Naples, Italy; DOB 7 Mar 1963; POB Casablanca, Morocco (individual) [SDGT]

KIPLI, Sali (a.k.a. JULKIPLI, Salim; a.k.a. JULKIPLI SALIM Y SALAMUDDIN); DOB 20 Jun 1976; POB Tulay, Jolo Sulu, Philippines (individual) [SDGT]

KISHK, Samir; DOB 14 May 1955; POB Gharbia, Egypt (individual) [SDGT]

KKCMTSH (a.k.a. NATIONAL COMMITTEE FOR THE LIBERATION AND PROTECTION OF ALBANIAN LANDS) [BALKANS]

KNEZEVIC, Dusan; DOB 23 Jun 1955; POB Orlovci, Bosnia-Herzegovina; ICTY indictee in custody (individual) [BALKANS]

KNOWLES JR., Samuel (a.k.a. KNOWLES, Samuel); DOB 28 May 1959; POB Bahamas (individual) [SDNTK]

KNOWLES, Samuel (a.k.a. KNOWLES JR., Samuel); DOB 28 May 1959; POB Bahamas (individual) [SDNTK]

KOACH (a.k.a. AMERICAN FRIENDS OF THE UNITED YESHIVA MOVEMENT; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH LEGION; a.k.a. JUDEA POLICE; a.k.a. JUDEAN CONGRESS; a.k.a. KACH; a.k.a. KAHANE CHAI; a.k.a. KAHANE LIVES; a.k.a. KAHANE TZADAK; a.k.a. KAHANE.NET; a.k.a. KAHANE.ORG; a.k.a. KAHANE; a.k.a. KAHANETZADAK.COM; a.k.a. KFAR TAPUAH FUND; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [SDT][FTO][SDGT]

KOJIC, Radomir (a.k.a. “Mineur”); DOB 23 Nov 1950; POB Bijela Voda, Sokolac Canton, Bosnia-Herzegovina; Passport No. 3943074 (Bosnia-Herzegovina) issued on 27 Sep 2002 in Sarajevo, Bosnia-Herzegovina (individual) [BALKANS]

KOL INVESTMENTS, INC., Miami, Florida, U.S.A. [CUBA]

KONGRA-GEL (a.k.a. FREEDOM AND DEMOCRACY CONGRESS OF KURDISTAN; a.k.a. HALU MESRU SAVUNMA KUVVETI (HSK); a.k.a. KADEK; a.k.a. KURDISTAN FREEDOM AND DEMOCRACY CONGRESS; a.k.a. KURDISTAN PEOPLE'S CONGRESS (KHK); a.k.a. KURDISTAN WORKERS' PARTY; a.k.a. PARTIYA KARKERAN KURDISTAN; a.k.a. PEOPLE'S CONGRESS OF KURDISTAN; a.k.a. PKK; a.k.a. THE PEOPLE'S DEFENSE FORCE) [FTO][SDGT]

KORDIC, Dario; DOB 14 Dec 1960; POB Sarajevo, Bosnia-Herzegovina; ICTY indictee (individual) [BALKANS]

KORDOFAN AUTOMOBILE COMPANY (n.k.a. COPTRADE ENG AND AUTOMOBILE SERVICES CO LTD.), P.O. Box 97, Khartoum, Sudan [SUDAN]

KORDOFAN COMPANY, Khartoum, Sudan [SUDAN]

KOS, Milojica; DOB 1 April 1963; POB Lamovita, Bosnia-Herzegovina; ICTY indictee (individual) [BALKANS]

KOVAC, Tomislav (a.k.a. “Tomo”); DOB 4 Dec 1959; POB Sarajevo, Bosnia-Herzegovina; Passport No. 412959171315 (Bosnia-Herzegovina) (individual) [BALKANS]

KOVACEVIC, Vladimir; DOB 15 Jan 1961; ICTY indictee (individual) [BALKANS]

KRAJISNIK, Momcilo; DOB 20 Jan 1945; POB Zabrdje, Bosnia-Herzegovina; ICTY indictee (individual) [BALKANS]

KRESSFOR (n.k.a. COOPERATIVA MULTIACTIVA DE COMERCIALIZACION Y SERVICIOS FARMACOOP; n.k.a. FARMACOOP; f.k.a. LABORATORIOS KRESSFOR DE COLOMBIA S.A.), A.A. 18491, Bogota, Colombia; Calle 16 28A 51, Bogota, Colombia; Calle 16 28A 57, Bogota, Colombia; Calle 17A 28A 43, Bogota, Colombia; Calle 17A 28 43, Bogota, Colombia; NIT # 830010878-3 (Colombia) [SDNT]

KRIKAH INDUSTRIES GROUP, P.O. Box 755, Khartoum North, Sudan [SUDAN]

KRNOJELAC, Milorad; DOB 25 Jul 1940; POB Birotici, Bosnia-Herzegovina; ICTY indictee (individual) [BALKANS]

KRSTIC, Radislav; DOB 15 Feb 1948; POB Nedjeljiste, Vlasenica, Bosnia-Herzegovina; ICTY indictee (individual) [BALKANS]

KRYEZIU, Izmet; DOB 3 Oct 1954; POB Pagarusha-Malishev, Serbia and Montenegro (individual) [BALKANS]

KUBURA, Amir; DOB 4 Mar 1964; POB Kakanj, Bosnia-Herzegovina; ICTY indictee (individual) [BALKANS]

KUDDAM E ISLAMI (a.k.a. ARMY OF MOHAMMED; a.k.a. JAISH-I-MOHAMMED; a.k.a. JAISH-E-MOHAMMED; a.k.a. KHUDAMUL ISLAM; a.k.a. KHUDDAM-UL-ISLAM; a.k.a. MOHAMMED'S ARMY; a.k.a. TEHRIK UL-FURQAAN), Pakistan [FTO] [SDGT]

KUFRA AGRICULTURAL CO., P.O. Box 4239, Benghazi, Libya; Tripoli Office, P.O. Box 2306, Damascus Street, Tripoli, Libya [LIBYA]

KUFRA PRODUCTION PROJECT, P.O. Box 6324, Benghazi, Libya; (branch) P.O. Box 2306, Tripoli, Libya [LIBYA]

KUJUNDZIC, Predrag (a.k.a. “Predo”); DOB 30 Jan 1961; POB Suho Polje, Doboj, Bosnia-Herzegovina (individual) [BALKANS]

KUNARAC, Dragoljub; DOB 15 May 1960; POB Foca, Bosnia-Herzegovina; ICTY indictee (individual) [BALKANS]

KURDISTAN FREEDOM AND DEMOCRACY CONGRESS (a.k.a. FREEDOM AND DEMOCRACY CONGRESS OF KURDISTAN; a.k.a. HALU MESRU SAVUNMA KUVVETI (HSK); a.k.a. KADEK; a.k.a. KONGRA-GEL; a.k.a. KURDISTAN PEOPLE'S CONGRESS (KHK); a.k.a. KURDISTAN WORKERS' PARTY; a.k.a. PARTIYA KARKERAN KURDISTAN; a.k.a. PEOPLE'S CONGRESS OF KURDISTAN; a.k.a. PKK; a.k.a. THE PEOPLE'S DEFENSE FORCE) [FTO][SDGT]

KURDISTAN PEOPLE'S CONGRESS (KHK) (a.k.a. FREEDOM AND DEMOCRACY CONGRESS OF KURDISTAN; a.k.a. HALU MESRU SAVUNMA KUVVETI (HSK); a.k.a. KADEK; a.k.a. KONGRA-GEL; a.k.a. KURDISTAN FREEDOM AND DEMOCRACY CONGRESS; a.k.a. KURDISTAN WORKERS' PARTY; a.k.a. PARTIYA KARKERAN KURDISTAN; a.k.a. PEOPLE'S CONGRESS OF KURDISTAN; a.k.a. PKK; a.k.a. THE PEOPLE'S DEFENSE FORCE) [FTO][SDGT]

KURDISTAN WORKERS' PARTY (a.k.a. FREEDOM AND DEMOCRACY CONGRESS OF KURDISTAN; a.k.a. HALU MESRU SAVUNMA KUVVETI (HSK); a.k.a. KADEK; a.k.a. KONGRA-GEL; a.k.a. KURDISTAN FREEDOM AND DEMOCRACY CONGRESS; a.k.a. KURDISTAN PEOPLE'S CONGRESS (KHK); a.k.a. PARTIYA KARKERAN KURDISTAN; a.k.a. PEOPLE'S CONGRESS OF KURDISTAN; a.k.a. PKK; a.k.a. THE PEOPLE'S DEFENSE FORCE) [FTO][SDGT]

KURUNERI, Christopher, Deputy Minister, Finance and Economic Development of Zimbabwe; DOB 4 Apr 1949 (individual) [ZIMB]

KUWAYBAH, Muftah Muhammad, Secretary of Marine Resources of the Government of Libya, Libya (individual) [LIBYA]

KVOCKA, Miroslav; DOB 1 Jan 1957; POB Maricka, Bosnia-Herzegovina; ICTY indictee (individual) [BALKANS]

KYOEI INTERNATIONAL COMPANY, LIMITED, Tokyo, Japan [CUBA]

LA COMPANIA GENERAL DE NIQUEL (a.k.a. GENERAL NICKEL SA), Cuba [CUBA]

LA COMPANIA TIENDAS UNIVERSO S.A. (a.k.a. WWW.CUBA-SHOP.NET) [CUBA]

LA EMPRESA CUBANA DE FLETES (a.k.a. CUFLET; a.k.a. THE CUBAN FREIGHT ENTERPRISE), Syczecin, Poland [CUBA]

LA EMPRESA CUBANA DE FLETES (a.k.a. CUFLET; a.k.a. THE CUBAN FREIGHT ENTERPRISE), Rotterdam, Netherlands [CUBA]

LA EMPRESA CUBANA DE FLETES (a.k.a. CUFLET; a.k.a. THE CUBAN FREIGHT ENTERPRISE), Genoa, Italy [CUBA]

LA EMPRESA CUBANA DE FLETES (a.k.a. CUFLET; a.k.a. THE CUBAN FREIGHT ENTERPRISE), Mexico [CUBA]

LA EMPRESA CUBANA DE FLETES (a.k.a. CUFLET; a.k.a. THE CUBAN FREIGHT ENTERPRISE), Pyongyang, Korea (Peoples Democratic Republic) [CUBA]

LA EMPRESA CUBANA DE FLETES (a.k.a. CUFLET; a.k.a. THE CUBAN FREIGHT ENTERPRISE), Barcelona, Spain [CUBA]

LA EMPRESA CUBANA DE FLETES (a.k.a. CUFLET; a.k.a. THE CUBAN FREIGHT ENTERPRISE), Rostock, Germany [CUBA]

LA EMPRESA CUBANA DE FLETES (a.k.a. CUFLET; a.k.a. THE CUBAN FREIGHT ENTERPRISE), Buenos Aires, Argentina [CUBA]

LA EMPRESA CUBANA DE FLETES (a.k.a. CUFLET; a.k.a. THE CUBAN FREIGHT ENTERPRISE), Varna, Bulgaria [CUBA]

LA EMPRESA CUBANA DE FLETES (a.k.a. CUFLET; a.k.a. THE CUBAN FREIGHT ENTERPRISE), Moscow, Russia [CUBA]

LA EMPRESA CUBANA DE FLETES (a.k.a. CUFLET; a.k.a. THE CUBAN FREIGHT ENTERPRISE), Montreal, Canada [CUBA]

LABORATORIOS BLAIMAR DE COLOMBIA S.A. (n.k.a. COINTERCOS S.A.; n.k.a. CIA. INTERAMERICANA DE COSMETICOS S.A.; f.k.a. BLAIMAR), Calle 12B No. 27-39, Bogota, Colombia; Apartado Aereo 33248, Bogota, Colombia; NIT # 860511578-8 (Colombia) [SDNT]

LABORATORIOS BLAIMAR DE COLOMBIA S.A. (n.k.a. COOPERATIVA DE COSMETICOS Y POPULARES COSMEPOP; n.k.a. COSMEPOP; a.k.a. BLAIMAR; a.k.a. CIA. INTERAMERICANA DE COSMETICOS S.A.; a.k.a. COINTERCOS S.A.; a.k.a. LABORATORIOS BLANCO PHARMA S.A.), Calle 12A No. 27-72, Bogota, Colombia; A.A. 55538, Bogota, Colombia; Calle 12B No. 27-37/39, Bogota, Colombia; Calle 26 Sur No. 7-30 Este, Bogota, Colombia; Carrera 99 y 100 No. 46A-10, Bodega 4, Bogota, Colombia; NIT # 800251322-5 (Colombia) [SDNT]

LABORATORIOS BLANCO PHARMA S.A. (n.k.a. COOPERATIVA DE COSMETICOS Y POPULARES COSMEPOP; n.k.a. COSMEPOP; a.k.a. BLAIMAR; a.k.a. CIA. INTERAMERICANA DE COSMETICOS S.A.; a.k.a. COINTERCOS S.A.; a.k.a. LABORATORIOS BLAIMAR DE COLOMBIA S.A.), Calle 12A No. 27-72, Bogota, Colombia; A.A. 55538, Bogota, Colombia; Calle 12B No. 27-37/39, Bogota, Colombia; Calle 26 Sur No. 7-30 Este, Bogota, Colombia; Carrera 99 y 100 No. 46A-10, Bodega 4, Bogota, Colombia; NIT # 800251322-5 (Colombia) [SDNT]

LABORATORIOS GENERICOS VETERINARIOS DE COLOMBIA S.A, Carrera 71 No. 57-07, Bogota, Colombia [SDNT]

LABORATORIOS KRESSFOR DE COLOMBIA S.A. (n.k.a. COOPERATIVA MULTIACTIVA DE COMERCIALIZACION Y SERVICIOS FARMACOOP; n.k.a. FARMACOOP; f.k.a. KRESSFOR), A.A. 18491, Bogota, Colombia; Calle 16 28A 51, Bogota, Colombia; Calle 16 28A 57, Bogota, Colombia; Calle 17A 28A 43, Bogota, Colombia; Calle 17A 28 43, Bogota, Colombia; NIT # 830010878-3 (Colombia) [SDNT]

LABORATORIOS PROFARMA LTDA., Calle 17 No. 28A-13, Bogota, Colombia; Calle 23 No. 19-75, Bogota, Colombia; Calle 74 No. 15-80 of. 611 Int. 1, Bogota, Colombia; NIT # 800217468-8 (Colombia) [SDNT]

LABORATORIOS Y COMERCIALIZADORA DE MEDICAMENTOS DROBLAM S.A. (a.k.a. DROBLAM S.A.), Carrera 21 No. 13B-33, Cali, Colombia; NIT # 805014078-5 (Colombia) [SDNT]

LADEHYANOY, Mufti Rashid Ahmad (a.k.a. AHMAD, Mufti Rasheed; a.k.a. LUDHIANVI, Mufti Rashid Ahmad; a.k.a. WADEHYANOY, Mufti Rashid Ahmad), Karachi, Pakistan (individual) [SDGT]

LADRILLERA LA CANDELARIA LTDA., Avenida 6 Norte No. 17N-92, of. 514, Cali, Colombia; Correg. Buchitolo, Vereda Tres Esquinas, Candelaria, Colombia; NIT # 800119741-4 (Colombia) [SDNT]

LAFB (a.k.a. LIBYAN ARAB FOREIGN BANK), Dat El Imad Complex Tower No. 2, P.O. Box 2542, Tripoli, Libya [LIBYA]

LAFI TRADE MALTA, 14517 Tower Road, Sliema, Malta [LIBYA]

LAFICO (a.k.a. LIBYAN ARAB FOREIGN INVESTMENT COMPANY), Athens, Greece [LIBYA]

LAFICO (a.k.a. LIBYAN ARAB FOREIGN INVESTMENT COMPANY), Malta [LIBYA]

LAFICO (a.k.a. LIBYAN ARAB FOREIGN INVESTMENT COMPANY), Rome, Italy [LIBYA]

LAFITRADE HOLDINGS BV, De Lairessestraat 133, 1075 HJ Amsterdam, Netherlands; P.O. Box 75265, 1070 AG Amsterdam, Netherlands [LIBYA]

LAHMAR, Mohammed, Dat El Imad Administrative Complex Tower No. 2, P.O. Box 2542, Tripoli, Libya (individual) [LIBYA]

LAJNA AL-IGHATHA AL-FILISTINI (a.k.a. ASP; a.k.a. ASSOCIATION DE SECOURS PALESTINIENS; a.k.a. ASSOCIATION FOR PALESTINIAN AID; a.k.a. ASSOCIATION SECOUR PALESTINIEN; a.k.a. HUMANITARE HILFSORGANISATION FUR PALASTINA; a.k.a. PALESTINE RELIEF COMMITTEE; a.k.a. PALESTINIAN AID COUNCIL; a.k.a. PALESTINIAN AID ORGANIZATION; a.k.a. PALESTINIAN RELIEF SOCIETY; a.k.a. RELIEF ASSOCIATION FOR PALESTINE), c/o Faical Yaakoubi, 7 rue de l'Ancien Port, CH-1201 Geneva, Switzerland; Gartnerstrasse 55, CH-4019 Basel, Switzerland; Postfach 406, CH-4019 Basel, Switzerland [SDGT]

LAJNA ALDAWA ALISALMIAH (a.k.a. ISLAMIC CALL COMMITTEE; a.k.a. LAJNA ALDAWA ALISLAMIA; a.k.a. LAJNA ALDAWA ALISLAMIYA; a.k.a. LAJNAT AL D'AWA AL ISLAMIAK; a.k.a. LAJNAT AL DAAWA AL ISLAMIYA; a.k.a. LAJNAT AL DAAWA AL ISLAMIYYA; a.k.a. LAJNAT AL DAWA; a.k.a. LAJNAT AL DAWA AL ISLAMIA; a.k.a. LAJNAT ALDAWA AL ISLAMIAH; a.k.a. LAJNAT ALDAWA ALISLAMIA), Kuwait [SDGT]

LAJNA ALDAWA ALISLAMIA (a.k.a. ISLAMIC CALL COMMITTEE; a.k.a. LAJNA ALDAWA ALISALMIAH; a.k.a. LAJNA ALDAWA ALISLAMIYA; a.k.a. LAJNAT AL D'AWA AL ISLAMIAK; a.k.a. LAJNAT AL DAAWA AL ISLAMIYA; a.k.a. LAJNAT AL DAAWA AL ISLAMIYYA; a.k.a. LAJNAT AL DAWA; a.k.a. LAJNAT AL DAWA AL ISLAMIA; a.k.a. LAJNAT ALDAWA AL ISLAMIAH; a.k.a. LAJNAT ALDAWA ALISLAMIA), Kuwait [SDGT]

LAJNA ALDAWA ALISLAMIYA (a.k.a. ISLAMIC CALL COMMITTEE; a.k.a. LAJNA ALDAWA ALISALMIAH; a.k.a. LAJNA ALDAWA ALISLAMIA; a.k.a. LAJNAT AL D'AWA AL ISLAMIAK; a.k.a. LAJNAT AL DAAWA AL ISLAMIYA; a.k.a. LAJNAT AL DAAWA AL ISLAMIYYA; a.k.a. LAJNAT AL DAWA; a.k.a. LAJNAT AL DAWA AL ISLAMIA; a.k.a. LAJNAT ALDAWA AL ISLAMIAH; a.k.a. LAJNAT ALDAWA ALISLAMIA), Kuwait [SDGT]

LAJNAT AL D'AWA AL ISLAMIAK (a.k.a. ISLAMIC CALL COMMITTEE; a.k.a. LAJNA ALDAWA ALISALMIAH; a.k.a. LAJNA ALDAWA ALISLAMIA; a.k.a. LAJNA ALDAWA ALISLAMIYA; a.k.a. LAJNAT AL DAAWA AL ISLAMIYA; a.k.a. LAJNAT AL DAAWA AL ISLAMIYYA; a.k.a. LAJNAT AL DAWA; a.k.a. LAJNAT AL DAWA AL ISLAMIA; a.k.a. LAJNAT ALDAWA AL ISLAMIAH; a.k.a. LAJNAT ALDAWA ALISLAMIA), Kuwait [SDGT]

LAJNAT AL DAAWA AL ISLAMIYA (a.k.a. ISLAMIC CALL COMMITTEE; a.k.a. LAJNA ALDAWA ALISALMIAH; a.k.a. LAJNA ALDAWA ALISLAMIA; a.k.a. LAJNA ALDAWA ALISLAMIYA; a.k.a. LAJNAT AL D'AWA AL ISLAMIAK; a.k.a. LAJNAT AL DAAWA AL ISLAMIYYA; a.k.a. LAJNAT AL DAWA; a.k.a. LAJNAT AL DAWA AL ISLAMIA; a.k.a. LAJNAT ALDAWA AL ISLAMIAH; a.k.a. LAJNAT ALDAWA ALISLAMIA), Kuwait [SDGT]

LAJNAT AL DAAWA AL ISLAMIYYA (a.k.a. ISLAMIC CALL COMMITTEE; a.k.a. LAJNA ALDAWA ALISALMIAH; a.k.a. LAJNA ALDAWA ALISLAMIA; a.k.a. LAJNA ALDAWA ALISLAMIYA; a.k.a. LAJNAT AL D'AWA AL ISLAMIAK; a.k.a. LAJNAT AL DAAWA AL ISLAMIYA; a.k.a. LAJNAT AL DAWA; a.k.a. LAJNAT AL DAWA AL ISLAMIA; a.k.a. LAJNAT ALDAWA AL ISLAMIAH; a.k.a. LAJNAT ALDAWA ALISLAMIA), Kuwait [SDGT]

LAJNAT AL DAWA (a.k.a. ISLAMIC CALL COMMITTEE; a.k.a. LAJNA ALDAWA ALISALMIAH; a.k.a. LAJNA ALDAWA ALISLAMIA; a.k.a. LAJNA ALDAWA ALISLAMIYA; a.k.a. LAJNAT AL D'AWA AL ISLAMIAK; a.k.a. LAJNAT AL DAAWA AL ISLAMIYA; a.k.a. LAJNAT AL DAAWA AL ISLAMIYYA; a.k.a. LAJNAT AL DAWA AL ISLAMIA; a.k.a. LAJNAT ALDAWA AL ISLAMIAH; a.k.a. LAJNAT ALDAWA ALISLAMIA), Kuwait [SDGT]

LAJNAT AL DAWA AL ISLAMIA (a.k.a. ISLAMIC CALL COMMITTEE; a.k.a. LAJNA ALDAWA ALISALMIAH; a.k.a. LAJNA ALDAWA ALISLAMIA; a.k.a. LAJNA ALDAWA ALISLAMIYA; a.k.a. LAJNAT AL D'AWA AL ISLAMIAK; a.k.a. LAJNAT AL DAAWA AL ISLAMIYA; a.k.a. LAJNAT AL DAAWA AL ISLAMIYYA; a.k.a. LAJNAT AL DAWA; a.k.a. LAJNAT ALDAWA AL ISLAMIAH; a.k.a. LAJNAT ALDAWA ALISLAMIA), Kuwait [SDGT]

LAJNAT ALDAWA AL ISLAMIAH (a.k.a. ISLAMIC CALL COMMITTEE; a.k.a. LAJNA ALDAWA ALISALMIAH; a.k.a. LAJNA ALDAWA ALISLAMIA; a.k.a. LAJNA ALDAWA ALISLAMIYA; a.k.a. LAJNAT AL D'AWA AL ISLAMIAK; a.k.a. LAJNAT AL DAAWA AL ISLAMIYA; a.k.a. LAJNAT AL DAAWA AL ISLAMIYYA; a.k.a. LAJNAT AL DAWA; a.k.a. LAJNAT AL DAWA AL ISLAMIA; a.k.a. LAJNAT ALDAWA ALISLAMIA), Kuwait [SDGT]

LAJNAT ALDAWA ALISLAMIA (a.k.a. ISLAMIC CALL COMMITTEE; a.k.a. LAJNA ALDAWA ALISALMIAH; a.k.a. LAJNA ALDAWA ALISLAMIA; a.k.a. LAJNA ALDAWA ALISLAMIYA; a.k.a. LAJNAT AL D'AWA AL ISLAMIAK; a.k.a. LAJNAT AL DAAWA AL ISLAMIYA; a.k.a. LAJNAT AL DAAWA AL ISLAMIYYA; a.k.a. LAJNAT AL DAWA; a.k.a. LAJNAT AL DAWA AL ISLAMIA; a.k.a. LAJNAT ALDAWA AL ISLAMIAH), Kuwait [SDGT]

LAJNAT UL MASA EIDATUL AFGHANIA (a.k.a. AFGHAN SUPPORT COMMITTEE (ASC); a.k.a. AHYA UL TURAS; a.k.a. JAMIAT AYAT-UR-RHAS AL ISLAMIA; a.k.a. JAMIAT IHYA UL TURATH AL ISLAMIA) Grand Trunk Road, near Pushtoon Garhi Pabbi, Peshawar, Pakistan; Cheprahar Hadda, Mia Omar Sabaqah School, Jalalabad, Afghanistan [SDGT]

LAKSHMI, Panama [CUBA]

LALOVIC, Dragan “Mate;” DOB 14 Jun 1953; POB Vlaholje, nr. Kalinovik, Bosnia-Herzegovina (individual) [BALKANS]

LAMFONTINE FARM (a.k.a. ZVINAVASHE INVESTMENTS LTD.; a.k.a. ZVINAVASHE TRANSPORT), 730 Cowie Road, Tynwald, Harare, Zimbabwe; P.O. Box 3928, Harare, Zimbabwe [ZIMB]

LAMHCO (a.k.a. LIBYAN ARAB MALTESE HOLDING CO. LTD.), St. Mark House, Cappuchan Street, Floriana, Malta [LIBYA]

LANDZO, Esad; DOB 7 Mar 1973; ICTY indictee (individual) [BALKANS]

LARA SANCHEZ, Giovanni Mauricio, c/o BONOMERCAD S.A., Bogota, Colombia; c/o DECAFARMA S.A., Bogota, Colombia; c/o FARMACOOP, Bogota, Colombia; c/o INTERFARMA S.A., San Jose, Costa Rica; c/o JOMAGA DE COSTA RICA S.A., San Jose, Costa Rica; c/o PATENTES MARCAS Y REGISTROS S.A., Bogota, Colombia; c/o PENTACOOP, Bogota, Colombia; DOB 20 Jan 1971; Passport 79504253 (Colombia); Cedula No. 79504253 (Colombia) (individual) [SDNT]

LARRANAGA CALVACHE, Juan Carlos, c/o ADMINISTRACION INMOBILIARIA BOLIVAR LTDA., Cali, Colombia; c/o PROCESADORA DE POLLOS SUPERIOR S.A., Palmira, Colombia; c/o INMOBILIARIA BOLIVAR LTDA, Cali, Colombia; c/o INVERSIONES EL PENON S.A., Cali, Colombia; Cedula No. 12982064 (Colombia) (individual) [SDNT]

LASHKAR E JHANGVI (a.k.a. LASHKAR-I-JHANGVI; a.k.a. LASHKAR I JHANGVI (LJ)) [FTO] [SDGT]

LASHKAR E-TAYYIBA (a.k.a. AL MANSOOREEN; a.k.a. AL MANSOORIAN; a.k.a. ARMY OF THE PURE; a.k.a. ARMY OF THE PURE AND RIGHTEOUS; a.k.a. ARMY OF THE RIGHTEOUS; a.k.a. LASHKAR E-TOIBA; a.k.a. LASHKAR-I-TAIBA), Pakistan [FTO]

LASHKAR E-TOIBA (a.k.a. AL MANSOOREEN; a.k.a. AL MANSOORIAN; a.k.a. ARMY OF THE PURE; a.k.a. ARMY OF THE PURE AND RIGHTEOUS; a.k.a. ARMY OF THE RIGHTEOUS; a.k.a. LASHKAR E-TAYYIBA; a.k.a. LASHKAR-I-TAIBA), Pakistan [FTO] [SDGT]

LASHKAR I JHANGVI (LJ) (a.k.a. LASHKAR E JHANGVI; a.k.a. LASHKAR-I-JHANGVI) [FTO] [SDGT]

LASHKAR-I-JHANGVI (a.k.a. LASHKAR E JHANGVI; a.k.a. LASHKAR I JHANGVI (LJ)) [FTO] [SDGT]

LASHKAR-I-TAIBA (a.k.a. AL MANSOOREEN; a.k.a. AL MANSOORIAN; a.k.a. ARMY OF THE PURE; a.k.a. ARMY OF THE PURE AND RIGHTEOUS; a.k.a. ARMY OF THE RIGHTEOUS; a.k.a. LASHKAR E-TAYYIBA; a.k.a. LASHKAR E-TOIBA), Pakistan [FTO] [SDGT]

LATINA DE COSMETICOS Y DISTRIBUCIONES S.A., Calle 12B No. 27-39, Bogota, Colombia; Carrera 28 No. 11-65 of. 712, Bogota, Colombia; Carrera 70 No. 54-30, Bogota, Colombia; NIT # 830018857-5 (Colombia) [SDNT]

LATINFARMACOS S.A. (a.k.a. FARMACIA AMAZONAS; a.k.a. FARMACIA DORAL; a.k.a. FARMACIA JARDIN SUR; a.k.a. FARMACIA LA COLINA; a.k.a. FARMACIA PROVIDA; a.k.a. LATINOAMERICANA DE FARMACOS S.A.), Ambato, Ecuador; Av. 10 de Agosto 2753 y Gral. Vicente Aguirre, Edificio Freile Ardiani, Quito, Ecuador; Av. Amazonas 1134 y General Foch, Quito, Ecaudor; Av. Amazonas 244 y Jorge Washington, Quito, Ecuador; Av. Rodrigo de Chavez 387, Quito, Ecaudor; Cayambe, Ecuador; El Carmen, Ecuador; Gualberto Perez 633 y Andres Perez, Quito, Ecuador; Michelena y Mariscal Sucre, Quito, Ecuador; Quito, Ecuador; Tres de Julio y Cuenca, Santo Domingo, Ecuador; Tulcan, Ecuador; RUC # 1791286812001 (Ecuador) [SDNT]

LATINOAMERICANA DE FARMACOS S.A. (a.k.a. FARMACIA AMAZONAS; a.k.a. FARMACIA DORAL; a.k.a. FARMACIA JARDIN SUR; a.k.a. FARMACIA LA COLINA; a.k.a. FARMACIA PROVIDA; a.k.a. LATINFARMACOS S.A.), Ambato, Ecuador; Av. 10 de Agosto 2753 y Gral. Vicente Aguirre, Edificio Freile Ardiani, Quito, Ecuador; Av. Amazonas 1134 y General Foch, Quito, Ecaudor; Av. Amazonas 244 y Jorge Washington, Quito, Ecuador; Av. Rodrigo de Chavez 387, Quito, Ecaudor; Cayambe, Ecuador; El Carmen, Ecuador; Gualberto Perez 633 y Andres Perez, Quito, Ecuador; Michelena y Mariscal Sucre, Quito, Ecuador; Quito, Ecuador; Tres de Julio y Cuenca, Santo Domingo, Ecuador; Tulcan, Ecuador; RUC # 1791286812001 (Ecuador) [SDNT]

LAVERDE GOMEZ, German, c/o CONSTRUCTORA ALTOS DEL RETIRO LTDA., Bogota, Colombia (individual) [SDNT]

LAYAS, Mohammed Hussein, Tripoli, Libya (individual) [LIBYA]

LE GROUPE SALAFISTE POUR LA PREDICATION ET LE COMBAT (a.k.a. SALAFIST GROUP FOR CALL AND COMBAT; a.k.a. SALAFIST GROUP FOR PREACHING AND COMBAT; a.k.a. GSPC) [SDGT] [FTO]

LEAL FLOREZ, Luis Alejandro, c/o COINTERCOS S.A., Bogota, Colombia; c/o COSMEPOP, Bogota, Colombia; c/o DISTRIBUIDORA DE DROGAS CONDOR S.A., Bogota, Colombia; c/o FIDUSER LTDA., Bogota, Colombia; c/o LATINA DE COSMETICOS Y DISTRIBUCIONES S.A., Bogota, Colombia; DOB 12 Sep 1961; Passport 7217432 (Colombia); Cedula No. 7217432 (Colombia) (individual) [SDNT]

LEAL HERNANDEZ, Mauricio, c/o INCOMMERCE S.A., Cali, Colombia; DOB 24 Nov 1974; Passport 94429420 (Colombia); Cedula No. 94429420 (Colombia) (individual) [SDNT]

LEAL RODRIGUEZ, Jose Guillermo, c/o DECAFARMA S.A., Bogota, Colombia; c/o PENTACOOP LTDA., Bogota, Colombia; c/o PENTA PHARMA DE COLOMBIA S.A., Bogota, Colombia; c/o LABORATORIOS KRESSFOR DE COLOMBIA S.A., Bogota, Colombia; Cedula No. 89867 (Colombia) (individual) [SDNT]

LEATHER INDUSTRIES CORPORATION (a.k.a. LEATHER INDUSTRIES TANNERIES), P.O. Box 1639, Khartoum, Sudan [SUDAN]

LEATHER INDUSTRIES TANNERIES (a.k.a. LEATHER INDUSTRIES CORPORATION), P.O. Box 1639, Khartoum, Sudan [SUDAN]

LEBREDO, Jose A., Director, Banco Nacional de Cuba, Zweierstrasse 35, CH-8022 Zurich, Switzerland (individual) [CUBA]

LEMOFAR LTDA. (a.k.a. LMF LTDA.), Calle 39 Bis A No. 27-12, Bogota, Colombia; NIT # 830116405-1 (Colombia) [SDNT]

LEON REYES, German, c/o COLPHAR S.A., Bogota, Colombia; Passport 79273729 (Colombia); Cedula No. 79273729 (Colombia) (individual) [SDNT]

LESABE, Thenjiwe, Politburo Secretary for Women's Affairs of Zimbabwe; DOB 5 Jan 1933 (individual) [ZIMB]

LEVERAGE, S.A., San Martin 323, Piso 14, Buenos Aires, Argentina [CUBA]

LEVERYE, S.A., Corrientes 1386, 5th Floor, Buenos Aires, Argentina [CUBA]

LEYBDA CORPORATION, S.A., Panama [CUBA]

LIBERATION ARMY OF PRESEVO, MEDVEDJA, AND BUJANOVAC (a.k.a. UCPMB) [BALKANS]

LIBERATION STRUGGLE (a.k.a. ELA; a.k.a. EPANASTATIKI PIRINES; a.k.a. EPANASTATIKOS LAIKOS AGONAS; a.k.a. JUNE 78; a.k.a. ORGANIZATION OF REVOLUTIONARY INTERNATIONALIST SOLIDARITY; a.k.a. POPULAR REVOLUTIONARY STRUGGLE; a.k.a. REVOLUTIONARY CELLS; a.k.a. REVOLUTIONARY NUCLEI; a.k.a. REVOLUTIONARY PEOPLE'S STRUGGLE; a.k.a. REVOLUTIONARY POPULAR STRUGGLE) [FTO][SDGT]

LIBERATION TIGERS OF TAMIL EELAM (a.k.a. LTTE; a.k.a. TAMIL TIGERS; a.k.a. ELLALAN FORCE) [FTO][SDGT]

LIBERIAN LIBYAN HOLDING COMPANY, Monrovia, Liberia [LIBYA]

LIBREROS DIEZ, Orlando, c/o CONSTRUCTORA DIMISA LTDA., Cali, Colombia; c/o DISTRIBUIDORA DE ELEMENTOS PARA LA CONSTRUCCION S.A., Cali, Colombia; c/o INDUSTRIA AVICOLA PALMASECA S.A., Cali, Colombia; c/o VALLE COMUNICACIONES LTDA., Cali, Colombia; Cedula No. 16651068 (Colombia) (individual) [SDNT]

LIBYA INSURANCE CO. (CYPRUS OFFICE) LTD., Cyprus [LIBYA]

LIBYA INSURANCE COMPANY, Cyprus Office, Nicosia, Cyprus [LIBYA]

LIBYA INSURANCE COMPANY, P.O. Box 2438, Usama Bldg., 1st September Street, Tripoli, Libya, (7 main branches and 58 sub-branches in Libya) [LIBYA]

LIBYAN AGRICULTURAL BANK (a.k.a. THE AGRICULTURAL BANK; a.k.a. NATIONAL AGRICULTURAL BANK OF LIBYA), (1 city branch and 27 branches in Libya) [LIBYA]

LIBYAN AGRICULTURAL BANK (a.k.a. THE AGRICULTURAL BANK; a.k.a. NATIONAL AGRICULTURAL BANK OF LIBYA), 52, Omar El Mokhtar Street, P.O. Box 1100, Tripoli, Libya [LIBYA]

LIBYAN ARAB AIRLINES (Numerous branch offices and facilities abroad) [LIBYA]

LIBYAN ARAB CO. FOR DOMESTIC ELECTRICAL MATERIALS, P.O. Box 12718, Tripoli, Libya; (branch) P.O. Box 453, Benghazi, Libya [LIBYA]

LIBYAN ARAB FOREIGN BANK (a.k.a. LAFB), Dat El Imad Complex Tower No. 2, P.O. Box 2542, Tripoli, Libya [LIBYA]

LIBYAN ARAB FOREIGN INVESTMENT COMPANY (a.k.a. LAFICO), Athens, Greece [LIBYA]

LIBYAN ARAB FOREIGN INVESTMENT COMPANY (a.k.a. LAFICO), Malta [LIBYA]

LIBYAN ARAB FOREIGN INVESTMENT COMPANY (a.k.a. LAFICO), Rome, Italy [LIBYA]

LIBYAN ARAB MALTESE HOLDING CO. LTD. (a.k.a. LAMHCO), St. Mark House, Cappuchan Street, Floriana, Malta [LIBYA]

LIBYAN ARAB UGANDA BANK FOR FOREIGN TRADE AND DEVELOPMENT (n.k.a. TROPICAL AFRICAN BANK LIMITED), P.O. Box 9485, Kampala, Uganda [LIBYA]

LIBYAN ARAB UGANDA HOLDING CO. LTD. (a.k.a. UGANDA LIBYAN HOLDING CO. LTD.), Kampala, Uganda [LIBYA]

LIBYAN BRICK MANUFACTURING CO., P.O. Box 10700, Tripoli, Libya; (branch) P.O. Box 25, Km. 17, Suani Road, Suani, Libya [LIBYA]

LIBYAN CEMENT CO., P.O. Box 2108, Benghazi, Libya [LIBYA]

LIBYAN CINEMA CORPORATION, P.O. Box 878, Tripoli, Libya; (branch) P.O. Box 2076, Benghazi, Libya [LIBYA]

LIBYAN ETERNIT COMPANY, P.O. Box 6103, Zanzour Km. 17, Tripoli, Libya [LIBYA]

LIBYAN FISHING COMPANY, P.O. Box 3749, Tripoli, Libya [LIBYA]

LIBYAN HOTELS AND TOURISM CO., P.O. Box 2977, Tripoli, Libya [LIBYA]

LIBYAN INSURANCE COMPANY, Ousama Bldg, 1st September Street, P.O. Box 2438, Tripoli, Libya; (branch) Benghazi, Libya; (branch) Derna, Libya; (branch) Sebha, Libya; (branch) Gharian, Libya; (branch) Misurata, Libya; (branch) Zawiya, Libya; (branch) Homs, Libya [LIBYA]

LIBYAN ISLAMIC FIGHTING GROUP [SDGT]

LIBYAN MILLS COMPANY, Sharia 1st September, P.O. Box 310, Tripoli, Libya [LIBYA]

LIBYAN NATIONAL OIL CORPORATION (a.k.a. LNOC; a.k.a. NATIONAL OIL CORPORATION; a.k.a. NOC), P.O. Box 2978, Benghazi, Libya [LIBYA]

LIBYAN NATIONAL OIL CORPORATION (a.k.a. LNOC; a.k.a. NATIONAL OIL CORPORATION; a.k.a. NOC), Bashir Saadawi Street, P.O. Box 2655, Tripoli, Libya [LIBYA]

LIBYAN NATIONAL OIL CORPORATION (a.k.a. LNOC; a.k.a. NATIONAL OIL CORPORATION; a.k.a. NOC), Petroleum Research Centre, Al Nasser Street, P.O. Box 6431, Tripoli, Libya [LIBYA]

LIBYAN NATIONAL OIL CORPORATION (a.k.a. LNOC; a.k.a. NATIONAL OIL CORPORATION; a.k.a. NOC), (Subsidiaries and joint ventures in Libya and worldwide) [LIBYA]

LIBYAN NATIONAL OIL CORPORATION (a.k.a. LNOC; a.k.a. NATIONAL OIL CORPORATION; a.k.a. NOC), Petroleum Training and Qualifying Institute, Zawia Road, Km. 9, P.O. Box 6184, Tripoli, Libya [LIBYA]

LIBYAN NATIONAL OIL CORPORATION (a.k.a. LNOC; a.k.a. NATIONAL OIL CORPORATION; a.k.a. NOC), Dahra Gas Projects Office, Dahra Street, P.O. Box 12221, Dahra, Tripoli, Libya [LIBYA]

LIBYAN OIL INVESTMENTS INTERNATIONAL COMPANY (a.k.a. FOREIGN PETROLEUM INVESTMENT CORPORATION; a.k.a. OIIC; a.k.a. OILINVEST; a.k.a. OILINVEST INTERNATIONAL N.V.), Tripoli, Libya [LIBYA]

LIBYAN OIL INVESTMENTS INTERNATIONAL COMPANY (a.k.a. FOREIGN PETROLEUM INVESTMENT CORPORATION; a.k.a. OIIC; a.k.a. OILINVEST; a.k.a. OILINVEST INTERNATIONAL N.V.), Netherlands Antilles [LIBYA]

LIBYAN TRACTOR ESTABLISHMENT, P.O. Box 12507, Dahra, Libya [LIBYA]

LIBYAN-GREEK INVESTMENT COMPANY, Athens, Greece [LIBYA]

LIBYAN-TUNISIAN EXPLORATION COMPANY (a.k.a. JOINT EXPLORATION, EXPLOITATION AND PETROLEUM SERVICES COMPANY; a.k.a. JOINT OIL; a.k.a. JOINT OIL TUNISIA; a.k.a. SOCIETE DE RECHERCHE ET D'EXPLOITATION COMMUNE ET DE SERVICE PETROLIERE), 7th of November offshore field, Gulf of Gabes [LIBYA]

LIBYAN-TUNISIAN EXPLORATION COMPANY (a.k.a. JOINT EXPLORATION, EXPLOITATION AND PETROLEUM SERVICES COMPANY; a.k.a. JOINT OIL; a.k.a. JOINT OIL TUNISIA; a.k.a. SOCIETE DE RECHERCHE ET D'EXPLOITATION COMMUNE ET DE SERVICE PETROLIERE), B.P. 350 Houmt Souk 4180, Djerba Island, Tunisia [LIBYA]

LIBYAN-TUNISIAN EXPLORATION COMPANY (a.k.a. JOINT EXPLORATION, EXPLOITATION AND PETROLEUM SERVICES COMPANY; a.k.a. JOINT OIL; a.k.a. JOINT OIL TUNISIA; a.k.a. SOCIETE DE RECHERCHE ET D'EXPLOITATION COMMUNE ET DE SERVICE PETROLIERE), Planning & Logistic Group complex, Port of Zarzis, Tunisia [LIBYA]

LICOREXPORT S.A., Quito, Ecuador [CUBA]

LIMAJ, Fatmir; DOB 4 Feb 1971; POB Banja, Serbia and Montenegro; ICTY indictee (individual) [BALKANS]

LINARES REYES, Jose Ricardo, (a.k.a. LLENARES REYES, Ricardo Jose), c/o ADMINISTRACION INMOBILIARIA BOLIVAR S.A., Cali, Colombia; c/o CONCRETOS CALI S.A., Cali, Colombia; c/o CONSTRUEXITO, S.A., Cali, Colombia; c/o INCOVALLE, Cali, Colombia; c/o INVERSIONES BETANIA LTDA., Cali, Colombia; c/o INVERSIONES EL PENON S.A., Cali, Colombia; c/o INVERSIONES HERREBE LTDA., Cali, Colombia; c/o INVERSIONES INVERVALLE S.A., Cali, Colombia; c/o INVHERESA S.A., Cali, Colombia; c/o VIAJES MERCURIO LTDA., Cali, Colombia; c/o W. HERRERA Y CIA S. EN C., Cali, Colombia; DOB 8 Mar 1955; Passport PO 466638 (Colombia); Cedula No. 14440139 (Colombia) (individual) [SDNT]

LINDO HURTADO, Edgar, c/o INMOBILIARIA U.M.V. S.A., Cali, Colombia (individual) [SDNT]

LITRACO IMPEX LTD., P.O. Box 5686, Benghazi, Libya; (branch of) National Soft Drinks EST., P.O. Box 559, Benghazi, Libya [LIBYA]

LITTLE CONNEMARA 1 FARM, Nyanga, Zimbabwe [ZIMB]

LIWINAG, Armando (a.k.a. SISON, Jose Maria), The Netherlands; DOB 8 Feb 1938; POB Llocos Sur, Northern Luzon, Philippines (individual) [SDGT]

LJUBICIC, Pasko; DOB 15 Nov 1965; POB Nezirovic, Bosnia-Herzegovina; ICTY indictee (individual) [BALKANS]

LKCK (a.k.a. NATIONAL MOVEMENT FOR THE LIBERATION OF KOSOVO) [BALKANS]

LLADROVICI, Ramiz; DOB 3 Jan 1966 (individual) [BALKANS]

LLENARES REYES, Ricardo Jose (a.k.a. LINARES REYES, Jose Ricardo), c/o ADMINISTRACION INMOBILIARIA BOLIVAR S.A., Cali, Colombia; c/o CONCRETOS CALI S.A., Cali, Colombia; c/o INCOVALLE, Cali, Colombia; c/o INVERSIONES BETANIA LTDA., Cali, Colombia; c/o INVERSIONES EL PENON S.A., Cali, Colombia; c/o INVERSIONES HERREBE LTDA., Cali, Colombia; c/o INVHERESA S.A., Cali, Colombia; c/o VIAJES MERCURIO LTDA., Cali, Colombia; c/o W. HERRERA Y CIA S. EN C., Cali, Colombia; Cedula No. 14440139 (Colombia) (individual) [SDNT]

LMF LTDA. (a.k.a. LEMOFAR LTDA.), Calle 39 Bis A No. 27-12, Bogota, Colombia; NIT # 830116405-1 (Colombia) [SDNT]

LNOC (a.k.a. LIBYAN NATIONAL OIL CORPORATION; a.k.a. NATIONAL OIL CORPORATION; a.k.a. NOC), Petroleum Research Centre, Al Nasser Street, P.O. Box 6431, Tripoli, Libya [LIBYA]

LNOC (a.k.a. LIBYAN NATIONAL OIL CORPORATION; a.k.a. NATIONAL OIL CORPORATION; a.k.a. NOC), (Subsidiaries and joint ventures in Libya and worldwide) [LIBYA]

LNOC (a.k.a. LIBYAN NATIONAL OIL CORPORATION; a.k.a. NATIONAL OIL CORPORATION; a.k.a. NOC), Dahra Gas Projects Office, Dahra Street, P.O. Box 12221, Dahra, Tripoli, Libya [LIBYA]

LNOC (a.k.a. LIBYAN NATIONAL OIL CORPORATION; a.k.a. NATIONAL OIL CORPORATION; a.k.a. NOC), P.O. Box 2978, Benghazi, Libya [LIBYA]

LNOC (a.k.a. LIBYAN NATIONAL OIL CORPORATION; a.k.a. NATIONAL OIL CORPORATION; a.k.a. NOC), Petroleum Training and Qualifying Institute, Zawia Road, Km. 9, P.O. Box 6184, Tripoli, Libya [LIBYA]

LNOC (a.k.a. LIBYAN NATIONAL OIL CORPORATION; a.k.a. NATIONAL OIL CORPORATION; a.k.a. NOC), Bashir Saadawi Street, P.O. Box 2655, Tripoli, Libya [LIBYA]

LOAIZA AVENDANO, Jesus (a.k.a. GARCIA HERNANDEZ, Javier; a.k.a. HIGUERA RENTERIA, Ismael; a.k.a. ZAMBADA, El Mayo; a.k.a. ZAMBADA GARCIA, Ismael; a.k.a. ZAMBADA GARCIA, Ismael Mario); DOB 1 Jan 1948; POB Sinaloa, Mexico (individual) [SDNTK]

LOBATO, Julio (a.k.a. PRADO, Julio), Panama (individual) [CUBA]

LONDONO DE UPEGUI, Maria del Carmen, c/o INVERSIONES VILLA PAZ S.A., Cali, Colombia (individual) [SDNT]

LONDONO ECHEVERRY, Rodrigo (a.k.a. “Timochenko;” a.k.a. “Timoleon Jimenez”); DOB 22 Jan 1959; alt. DOB 1 Jan 1949; POB Calarca, Quindio, Colombia; Cedula No. 79149126 (Colombia) (individual) [SDNTK]

LOPERA LONDONO, Vicente de Jesus, c/o INVERSIONES Y CONSTRUCCIONES VALLE S.A., Cali, Colombia; Cedula No. 1393107 (Colombia) (individual) [SDNT]

LOPEZ ARANGO, Gloria Ines (a.k.a. LOPEZ DE OSPINA, Gloria Ines), Carrera 1K No. 60-71, Cali, Colombia; c/o DISTRIBUIDORA MIGIL CALI S.A., Cali, Colombia; c/o INMOBILIARIA IMTASA LTDA., Cali, Colombia; c/o GENERAL DE NEGOCIOS Y ADMINISTRACION LTDA., Cali, Colombia; DOB 18 Mar 1952; Cedula No. 31237563 (Colombia) (individual) [SDNT]

LOPEZ, Cesar (a.k.a. ARROYAVE RUIZ, Elkin Alberto), Carrera 9 No. 71D-10, Cali, Colombia; DOB 3 Sep 1968; POB Caucasia, Antioquia, Colombia; Cedula No. 4652820 (Colombia) (individual) [SDNTK]

LOPEZ DE OSPINA, Gloria Ines (a.k.a. LOPEZ ARANGO, Gloria Ines), Carrera 1K No. 60-71, Cali, Colombia; c/o DISTRIBUIDORA MIGIL CALI S.A., Cali, Colombia; c/o INMOBILIARIA IMTASA LTDA., Cali, Colombia; c/o GENERAL DE NEGOCIOS Y ADMINISTRACION LTDA., Cali, Colombia; DOB 18 Mar 1952; Cedula No. 31237563 (Colombia) (individual) [SDNT]

LOPEZ, Luis (a.k.a. AMEZCUA CONTRERAS, Luis Ignacio; a.k.a. AMEZCUA, Luis; a.k.a. CONTRERAS, Luis C.; a.k.a. LOZANO, Eduardo; a.k.a. OCHOA, Salvador; a.k.a. RODRIGUEZ LOPEZ, Sergio), DOB 22 Feb 1964; alt. DOB 21 Feb 1964; alt. DOB 21 Feb 1974; POB Mexico (individual) [SDNTK]

LOPEZ, Miguel, A., Deputy Chairman, Havana International Bank, 20 Ironmonger Lane, London EC2V 8EY, England (individual) [CUBA]

LOPEZ, Quirino Gutierrez, c/o ANGLO CARIBBEAN SHIPPING CO., LTD., 7th Floor, Ibex House, the Minories, London, EC3N 1DY, England (individual) [CUBA]

LOPEZ RODRIGUEZ, Cecilia, c/o PROCESADORA DE POLLOS SUPERIOR S.A., Palmira, Colombia (individual) [SDNT]

LOPEZ SANDOVAL, Fernando Alberto, c/o DISTRIBUIDORA SANAR DE COLOMBIA S.A., Cali, Colombia; c/o DISTRIEXPORT S.A., Bogota, Colombia; c/o FARMACOOP, Bogota, Colombia; c/o INCOMMERCE S.A., Cali, Colombia; DOB 12 Oct 1975; Passport 94450287 (Colombia); Cedula No. 94450287 (Colombia) (individual) [SDNT]

LOPEZ URREA, Adriana Patricia, c/o COLPHAR S.A., Bogota, Colombia; DOB 29 Feb 1968; Passport 36378461 (Colombia); Cedula No. 36378461 (Colombia) (individual) [SDNT]

LOPEZ VALENCIA, Oscar, Carrera 6A No. 11-43 501-2, Cali, Colombia; c/o FLEXOEMPAQUES LTDA., Cali, Colombia; c/o PLASTICOS CONDOR LTDA., Cali, Colombia; Cedula No. 10537943 (Colombia) (individual) [SDNT]

LOPEZ ZAPATA, Hernan de Jesus, c/o AGROPECUARIA LA ROBLEDA S.A., Cali, Colombia, c/o INDUSTRIA MADERERA ARCA LTDA., Cali, Colombia; Cedula No. 16344058 (Colombia) (individual) [SDNT]

LOPRETTO DURAN, Jorge Enrique, Carrera 4 No. 12-20 of. 206, Cartago, Valle, Colombia; c/o INMOBILIARIA EL ESCORIAL LTDA., Cartago, Valle, Colombia; c/o INMOBILIARIA LINARES LTDA., Cartago, Valle, Colombia; c/o INMOBILIARIA PASADENA LTDA., Cartago, Valle, Colombia; c/o VISCAYA LTDA., Cartago, Valle, Colombia; DOB 8 Aug 1962; Passport 16215409 (Colombia); Cedula No. 16215409 (Colombia) (individual) [SDNT]

LOS GNOMOS LTDA., Calle 5 No. 61-82, Apt. 412B, Cali, Valle, Colombia; NIT # 800165614-2 (Colombia) [SDNTK]

LOT 3A OF DETE VALLEY FARM, Lupane, Zimbabwe [ZIMB]

LOUNICI, Djamel; DOB 1 Feb 1962; POB Algiers, Algeria (individual) [SDGT]

LOUTH HOLDINGS, S.A., Panama [CUBA]

LOYALIST VOLUNTEER FORCE (LVF); United Kingdom [SDGT]

LOZADA, Santander (a.k.a. MANCUSO GOMEZ, Salvatore), Calle 64 No. 8A-56, Monteria, Cordoba, Colombia; DOB 17 Aug 1964; POB Monteria, Cordoba, Colombia; Cedula No. 6892624 (Colombia) (individual) [SDNTK]

LOZANO CANCINO DE GUTIERREZ, Maria Gladys, (a.k.a. LOZANO DE GUTIERREZ, Gladys), c/o INVERSIONES GEELE LTDA., Bogota, Colombia; c/o LABORATORIOS GENERICOS VETERINARIOS DE COLOMBIA S.A., Bogota, Colombia; c/o LABORATORIOS KRESSFOR DE COLOMBIA S.A., Bogota, Colombia; c/o PENTA PHARMA DE COLOMBIA S.A., Bogota, Colombia; c/o SERVICIOS SOCIALES LTDA., Bogota, Colombia; DOB 19 Oct 1948; Cedula No. 41444092 (Colombia) (individual) [SDNT]

LOZANO DE GOMEZ, Zilia, c/o BLANCO PHARMA S.A., Bogota, Colombia; c/o LABORATORIOS GENERICOS VETERINARIOS DE COLOMBIA S.A., Bogota, Colombia; c/o LABORATORIOS KRESSFOR DE COLOMBIA S.A., Bogota, Colombia; Cedula No. 41577886 (Colombia) (individual) [SDNT]

LOZANO DE GUTIERREZ, Gladys (a.k.a. LOZANO CANCINO DE GUTIERREZ, Maria Gladys), c/o INVERSIONES GEELE LTDA., Bogota, Colombia; c/o LABORATORIOS GENERICOS VETERINARIOS DE COLOMBIA S.A., Bogota, Colombia; c/o LABORATORIOS KRESSFOR DE COLOMBIA S.A., Bogota, Colombia; c/o PENTA PHARMA DE COLOMBIA S.A., Bogota, Colombia; c/o SERVICIOS SOCIALES LTDA., Bogota, Colombia; DOB 19 Oct 1948; Cedula No. 41444092 (Colombia) (individual) [SDNT]

LOZANO, Eduardo (a.k.a. AMEZCUA CONTRERAS, Luis Ignacio; a.k.a. AMEZCUA, Luis; a.k.a. CONTRERAS, Luis C.; a.k.a. LOPEZ, Luis; a.k.a. OCHOA, Salvador; a.k.a. RODRIGUEZ LOPEZ, Sergio), DOB 22 Feb 1964; alt. DOB 21 Feb 1964; alt. DOB 21 Feb 1974; POB Mexico (individual) [SDNTK]

LOZANO ESCOBAR, Enrique Alejandro, c/o GRANJA LA SIERRA LTDA., Cali, Colombia; DOB 04 August 1961; POB Cali, Valle, Colombia; Passport 16657902 (Colombia); Cedula No. 16657902 (Colombia) (individual) [SDNT]

LPK (a.k.a. POPULAR MOVEMENT OF KOSOVO) [BALKANS]

LTTE (a.k.a. LIBERATION TIGERS OF TAMIL EELAM; a.k.a. TAMIL TIGERS; a.k.a. ELLALAN FORCE) [FTO][SDGT]

LUDHIANVI, Mufti Rashid Ahmad (a.k.a. AHMAD, Mufti Rasheed; a.k.a. LADEHYANOY, Mufti Rashid Ahmad; a.k.a. WADEHYANOY, Mufti Rashid Ahmad), Karachi, Pakistan (individual) [SDGT]

LUGO PALACIOS, Julian Alberto, c/o COOPERATIVA MERCANTIL COLOMBIANA COOMERCOL, Cali, Colombia; c/o COPSERVIR LTDA., Bogota, Colombia; DOB 8 Aug 1972; Passport 94381586 (Colombia); Cedula No. 94381586 (Colombia) (individual) [SDNT]

LUGO VILLAFANE, Jesus Alberto, Calle 70N No. 14-31, Cali, Colombia; c/o CONCRETOS CALI S.A., Cali, Colombia; c/o INVERSIONES Y CONSTRUCCIONES VALLE S.A., Cali, Colombia; c/o INVHERESA S.A., Cali, Colombia; Cedula No. 14977685 (Colombia) (individual) [SDNT]

LUKIC, Milan; DOB 6 Sep 1967; POB Foca, Bosnia-Herzegovina; ICTY indictee at large (individual) [BALKANS]

LUKIC, Sredoje; DOB 5 Apr 1961; POB Visegrad, Bosnia-Herzegovina; ICTY indictee at large (individual) [BALKANS]

LUKOVIC, Milorad Ulemek “Legija;” DOB 15 Mar 1968; POB Belgrade, Serbia and Montenegro (individual) [BALKANS]

LUNA CATANO, Monica, c/o COOPDISAN, Bucaramanga, Colombia; c/o COPSERVIR LTDA., Bucaramanga, Colombia; c/o DROGAS LA REBAJA BUCARAMANGA S.A., Bucaramanga, Colombia; DOB 9 Sep 1968; Passport 63456704 (Colombia); Cedula No. 63456704 (Colombia) (individual) [SDNT]

LUPAMAR INVESTMENT COMPANY (a.k.a. INVERSIONES LUPAMAR, S.A.), Panama [CUBA]

LUQMAN, Abu (a.k.a. MOHAMMED, Fazul Abdullah; a.k.a. ABDALLA, Fazul; a.k.a. ADBALLAH, Fazul; a.k.a. AISHA, Abu; a.k.a. AL SUDANI, Abu Seif; a.k.a. ALI, Fadel Abdallah Mohammed; a.k.a. FAZUL, Abdalla; a.k.a. FAZUL, Abdallah; a.k.a. FAZUL, Abdallah Mohammed; a.k.a. FAZUL, Haroon; a.k.a. FAZUL, Harun; a.k.a. HAROON; a.k.a. HAROUN, Fadhil; a.k.a. HARUN; a.k.a. MOHAMMED, Fazul; a.k.a. MOHAMMED, Fazul Abdilahi; a.k.a. MOHAMMED, Fouad; a.k.a. MUHAMAD, Fadil Abdallah); DOB 25 Aug 1972; alt. DOB 25 Dec 1974; alt. DOB 25 Feb 1974; POB Moroni, Comoros Islands; citizen Comoros; alt. citizen Kenya (individual) [SDGT]

LUSHTAKU, Sami; DOB 20 Feb 1961; POB Srbica, Serbia and Montenegro (individual) [BALKANS]

LUZ MERY TRISTAN E.U. (a.k.a. CLUB DEPORTIVO LUZ MERY TRISTAN WORLD CLASS; a.k.a. LUZ MERY TRISTAN WORLD CLASS), Carrera 125 No. 19-275, Cali, Colombia; Diagonal 32 No. 37-125, Cali, Colombia; Holguines Trade Center L-239, Cali, Colombia; Calle 5B 4 No. 37-125, Cali, Colombia; Avenida 6 Norte No. 17-92 Apt. 508, Cali, Colombia; NIT # 805449310-7 (Colombia); NIT # 805012268-9 (Colombia) [SDNT]

LUZ MERY TRISTAN WORLD CLASS (a.k.a. CLUB DEPORTIVO LUZ MERY TRISTAN WORLD CLASS; a.k.a. LUZ MERY TRISTAN E.U.), Carrera 125 No. 19-275, Cali, Colombia; Diagonal 32 No. 37-125, Cali, Colombia; Holguines Trade Center L-239, Cali, Colombia; Calle 5B 4 No. 37-125, Cali, Colombia; Avenida 6 Norte No. 17-92 Apt. 508, Cali, Colombia; NIT # 805449310-7 (Colombia); NIT # 805012268-9 (Colombia) [SDNT]

M & S SYNDICATE (PVT) LTD., First Floor, Victory House, 88 Robert Mugabe Road, Harare, Zimbabwe; P.O. Box 1275, Harare, Zimbabwe [ZIMB]

M C M Y CIA. LTDA. (a.k.a. HAPPY DAYS), Calle 25 Norte No. 3AN-39, Cali, Colombia; Calle 22 Norte No. 5A-75, Cali, Colombia; NIT # 800204288-2 (Colombia) [SDNT]

M. RODRIGUEZ O. Y CIA. S. EN C.S., Cali, Colombia [SDNT]

M.O.C. ECHEVERRY HERMANOS LTDA., Calle 23AN No. 5AN-21, Cali, Colombia; NIT # 800038241-5 (Colombia) [SDNT]

M.T.T. LTDA. (a.k.a. MAQUINARIA TECNICA Y TIERRAS LTDA.), Carrera 4A No. 16-04, Cartago, Colombia; Carrera 42 No. 5B-81, Cali, Colombia; NIT # 800084233-1 (Colombia) [SDNT]

MA'RUF, Taha Muhyi-al-Din (a.k.a. MARUF, Taha, Muhyi al-Din); DOB 1924; POB Sulaymaniyah, Iraq; Vice President; member of Revolutionary Command Council; nationality Iraqi (individual) [IRAQ][IRAQ2]

MAAROUFI, Tarek Ben Habib; DOB 23 Nov 1965; POB Ghardimaou, Tunisia (individual) [SDGT]

MACHAYA, Jaison, Deputy Minister for Mines and Mining Development of Zimbabwe; DOB 13 Jun 1952 (individual) [ZIMB]

MACHERBE, Oscar (a.k.a. BECERRA, Martin; a.k.a. BECERRA MIRELES, Martin; a.k.a. MAHERBE, Oscar; a.k.a. MAHLERBE, Oscar; a.k.a. MAHLERBE, Polo; a.k.a. MALARBE, Oscar; a.k.a. MALERBE, Oscar; a.k.a. MALERHBE DE LEON, Oscar; a.k.a. MALERVA, Oscar; a.k.a. MALHARBE DE LEON, Oscar; a.k.a. MALHERBE DE LEON, Oscar; a.k.a. MALHERBE DELEON, Oscar; a.k.a. MALMERBE, Oscar; a.k.a. MELARBE, Oscar; a.k.a. NALHERBE, Oscar; a.k.a. QALHARBE DE LEON, Oscar; a.k.a. VARGAS, Jorge); DOB 10 Jan 1964; POB Mexico (individual) [SDNTK]

MACROFARMA S.A., Calle 17 Norte No. 3N-16, Cali, Colombia; NIT # 816005709-6 (Colombia) [SDNT]

MADAN, Jorge (RIVAS), Frankfurt, Germany (individual) [CUBA]

MADE, Joseph, Minister of Agriculture of Zimbabwe; DOB 21 Nov 1954 (individual) [ZIMB]

MADI, Ragiab Saad, P.O. Box 2297, Shoman Street, Fashioum, Tripoli, Libya (individual) [LIBYA]

MADZONGWE, Edna, Deputy-Secretary for Production and Labor of Zimbabwe; DOB 11 Jul 1943 (individual) [ZIMB]

MAFLA POLO, Jose Freddy, Carrera 4 No. 11-45 Ofc. 503, Cali, Colombia; Calle 52N No. 5B-111, Cali, Colombia; Carrera 11 No. 46-24 Apt. 201, Cali, Colombia; Carrera 11 No. 46-26, Cali, Colombia; c/o COMPANIA DE FOMENTO MERCANTIL S.A., Cali, Colombia; c/o CONSTRUCCIONES PROGRESO DEL PUERTO S.A., Puerto Tejada, Colombia; c/o GEOPLASTICOS S.A., Cali, Colombia; c/o J. FREDDY MAFLA Y CIA. S.C.S., Cali, Colombia; c/o PARQUE INDUSTRIAL PROGRESO S.A., Yumbo, Colombia; POB Cali, Valle, Colombia; Passport 16689935 (Colombia); Cedula No. 16689935 (Colombia) (individual) [SDNT]

MAGANA ALCIDES, Ramon (a.k.a. ALCIDES MAGANA, Ramon; a.k.a. ALCIDES MAGANE, Ramon; a.k.a. ALCIDES MAYENA, Ramon; a.k.a. ALCIDEZ MAGANA, Ramon; a.k.a. GONZALEZ QUIONES, Jorge; a.k.a. MAGANA, Jorge; a.k.a. MAGNA ALCIDEDES, Ramon; a.k.a. MATA, Alcides; a.k.a. RAMON MAGANA, Alcedis; a.k.a. RAMON MAGANA, Alcides; a.k.a. ROMERO, Antonio); DOB 4 Sep 1957 (individual) [SDNTK]

MAGANA, Jorge (a.k.a. ALCIDES MAGANA, Ramon; a.k.a. ALCIDES MAGANE, Ramon; a.k.a. ALCIDES MAYENA, Ramon; a.k.a. ALCIDEZ MAGANA, Ramon; a.k.a. GONZALEZ QUIONES, Jorge; a.k.a. MAGANA ALCIDES, Ramon; a.k.a. MAGNA ALCIDEDES, Ramon; a.k.a. MATA, Alcides; a.k.a. RAMON MAGANA, Alcedis; a.k.a. RAMON MAGANA, Alcides; a.k.a. ROMERO, Antonio); DOB 4 Sep 1957 (individual) [SDNTK]

MAGCOBAR (LIBYA) LTD., P.O. Box 867, Tripoli, Libya; (branch) Benghazi, Libya [LIBYA]

MAGEN LTDA., Calle 23 No. 19-75, Bogota, Colombia; Carrera 7 No. 17-01 of. 602, Bogota, Colombia; NIT # 830070365-3 (Colombia) [SDNT]

MAGHREBAN INTERNATIONAL TRADE COMPANY (a.k.a. MITCO), 47, Avenue Kheireddine Pacha, 1002 Tunis, Tunisia [LIBYA]

MAGNA ALCIDEDES, Ramon (a.k.a. ALCIDES MAGANA, Ramon; a.k.a. ALCIDES MAGANE, Ramon; a.k.a. ALCIDES MAYENA, Ramon; a.k.a. ALCIDEZ MAGANA, Ramon; a.k.a. GONZALEZ QUIONES, Jorge; a.k.a. MAGANA ALCIDES, Ramon; a.k.a. MAGANA, Jorge; a.k.a. MATA, Alcides; a.k.a. RAMON MAGANA, Alcedis; a.k.a. RAMON MAGANA, Alcides; a.k.a. ROMERO, Antonio); DOB 4 Sep 1957 (individual) [SDNTK]

MAHARI GENERAL AUTOMOBILE CO., Libya [LIBYA]

MAHDI, Adil Abdallah; DOB 1945; POB al-Dur, Iraq; Ba'th party Regional Command Chairman, Dhi-Qar; nationality Iraqi (individual) [IRAQ][IRAQ2]

MAHECHA JARAMILLO, Cesar Javier, c/o OBURSATILES S.A., Cali, Colombia; Passport 16746488 (Colombia); Cedula No. 16746488 (Colombia) (individual) [SDNT]

MAHERBE, Oscar (a.k.a. BECERRA, Martin; a.k.a. BECERRA MIRELES, Martin; a.k.a. MACHERBE, Oscar; a.k.a. MAHLERBE, Oscar; a.k.a. MAHLERBE, Polo; a.k.a. MALARBE, Oscar; a.k.a. MALERBE, Oscar; a.k.a. MALERHBE DE LEON, Oscar; a.k.a. MALERVA, Oscar; a.k.a. MALHARBE DE LEON, Oscar; a.k.a. MALHERBE DE LEON, Oscar; a.k.a. MALHERBE DELEON, Oscar; a.k.a. MALMERBE, Oscar; a.k.a. MELARBE, Oscar; a.k.a. NALHERBE, Oscar; a.k.a. QALHARBE DE LEON, Oscar; a.k.a. VARGAS, Jorge); DOB 10 Jan 1964; POB Mexico (individual) [SDNTK]

MAHLERBE, Oscar (a.k.a. BECERRA, Martin; a.k.a. BECERRA MIRELES, Martin; a.k.a. MACHERBE, Oscar; a.k.a. MAHERBE, Oscar; a.k.a. MAHLERBE, Polo; a.k.a. MALARBE, Oscar; a.k.a. MALERBE, Oscar; a.k.a. MALERHBE DE LEON, Oscar; a.k.a. MALERVA, Oscar; a.k.a. MALHARBE DE LEON, Oscar; a.k.a. MALHERBE DE LEON, Oscar; a.k.a. MALHERBE DELEON, Oscar; a.k.a. MALMERBE, Oscar; a.k.a. MELARBE, Oscar; a.k.a. NALHERBE, Oscar; a.k.a. QALHARBE DE LEON, Oscar; a.k.a. VARGAS, Jorge); DOB 10 Jan 1964; POB Mexico (individual) [SDNTK]

MAHLERBE, Polo (a.k.a. BECERRA, Martin; a.k.a. BECERRA MIRELES, Martin; a.k.a. MACHERBE, Oscar; a.k.a. MAHERBE, Oscar; a.k.a. MAHLERBE, Oscar; a.k.a. MALARBE, Oscar; a.k.a. MALERBE, Oscar; a.k.a. MALERHBE DE LEON, Oscar; a.k.a. MALERVA, Oscar; a.k.a. MALHARBE DE LEON, Oscar; a.k.a. MALHERBE DE LEON, Oscar; a.k.a. MALHERBE DELEON, Oscar; a.k.a. MALMERBE, Oscar; a.k.a. MELARBE, Oscar; a.k.a. NALHERBE, Oscar; a.k.a. QALHARBE DE LEON, Oscar; a.k.a. VARGAS, Jorge); DOB 10 Jan 1964; POB Mexico (individual) [SDNTK]

MAHMOOD, Sultan Bashir-Ud-Din (a.k.a. MAHMOOD, Sultan Bashiruddin; a.k.a. MEHMOOD, Dr. Bashir Uddin; a.k.a. MEKMUD, Sultan Baishiruddin), Street 13, Wazir Akbar Khan, Kabul, Afghanistan; alt. DOB 1937; alt. DOB 1938; alt. DOB 1939; alt. DOB 1940; alt. DOB 1941; alt. DOB 1942; alt. DOB 1943; alt. DOB 1944; alt. DOB 1945; nationality Pakistani (individual) [SDGT]

MAHMOOD, Sultan Bashiruddin (a.k.a. MAHMOOD, Sultan Bashir-Ud-Din; a.k.a. MEHMOOD, Dr. Bashir Uddin; a.k.a. MEKMUD, Sultan Baishiruddin), Street 13, Wazir Akbar Khan, Kabul, Afghanistan; alt. DOB 1937; alt. DOB 1938; alt. DOB 1939; alt. DOB 1940; alt. DOB 1941; alt. DOB 1942; alt. DOB 1943; alt. DOB 1944; alt. DOB 1945; nationality Pakistani (individual) [SDGT]

MAHMOUD, Col. Abdel Hamid (a.k.a. AL-TIKRITI, Abid Hamid Mahmud; a.k.a. HAMMUD, Abed Mahmoud; a.k.a. MAHMUD, Abid Hamid bid Hamid); DOB circa 1957; POB al-Awja, near Tikrit, Iraq; Saddam Hussein al-Tikriti's Presidential Secretary and key advisor; nationality Iraqi (individual) [IRAQ][IRAQ2]

MAHMUD, Abid Hamid bid Hamid (a.k.a. AL-TIKRITI, Abid Hamid Mahmud; a.k.a. HAMMUD, Abed Mahmoud; a.k.a. MAHMOUD, Col. Abdel Hamid); DOB circa 1957; POB al-Awja, near Tikrit, Iraq; Saddam Hussein al-Tikriti's Presidential Secretary and key advisor; nationality Iraqi (individual) [IRAQ][IRAQ2]

MAHOFA, Shuvai, Deputy Minister for Youth Development, Gender and Employment Creation of Zimbabwe; DOB 4 Apr 1941 (individual) [ZIMB]

MAJEED, Abdul (a.k.a. MAJEED, Chaudhry Abdul; a.k.a. MAJID, Abdul); DOB 15 Apr 1939; alt. DOB 1938; nationality Pakistani (individual) [SDGT]

MAJEED, Chaudhry Abdul (a.k.a. MAJEED, Abdul; a.k.a. MAJID, Abdul); DOB 15 Apr 1939; alt. DOB 1938; nationality Pakistani (individual) [SDGT]

MAJID, Abdul (a.k.a. MAJEED, Abdul; a.k.a. MAJEED Chaudhry Abdul); DOB 15 Apr 1939; alt. DOB 1938; nationality Pakistani (individual) [SDGT]

MAKHTAB AL-KHIDAMAT/AL KIFAH, House no. 125, Street 54, Phase II, Hayatabad, Peshawar, Pakistan [SDGT]

MALARBE, Oscar (a.k.a. BECERRA, Martin; a.k.a. BECERRA MIRELES, Martin; a.k.a. MACHERBE, Oscar; a.k.a. MAHERBE, Oscar; a.k.a. MAHLERBE, Oscar; a.k.a. MAHLERBE, Polo; a.k.a. MALERBE, Oscar; a.k.a. MALERHBE DE LEON, Oscar; a.k.a. MALERVA, Oscar; a.k.a. MALHARBE DE LEON, Oscar; a.k.a. MALHERBE DE LEON, Oscar; a.k.a. MALHERBE DELEON, Oscar; a.k.a. MALMERBE, Oscar; a.k.a. MELARBE, Oscar; a.k.a. NALHERBE, Oscar; a.k.a. QALHARBE DE LEON, Oscar; a.k.a. VARGAS, Jorge); DOB 10 Jan 1964; POB Mexico (individual) [SDNTK]

MALERBE, Oscar (a.k.a. BECERRA, Martin; a.k.a. BECERRA MIRELES, Martin; a.k.a. MACHERBE, Oscar; a.k.a. MAHERBE, Oscar; a.k.a. MAHLERBE, Oscar; a.k.a. MAHLERBE, Polo; a.k.a. MALARBE, Oscar; a.k.a. MALERHBE DE LEON, Oscar; a.k.a. MALERVA, Oscar; a.k.a. MALHARBE DE LEON, Oscar; a.k.a. MALHERBE DE LEON, Oscar; a.k.a. MALHERBE DELEON, Oscar; a.k.a. MALMERBE, Oscar; a.k.a. MELARBE, Oscar; a.k.a. NALHERBE, Oscar; a.k.a. QALHARBE DE LEON, Oscar; a.k.a. VARGAS, Jorge); DOB 10 Jan 1964; POB Mexico (individual) [SDNTK]

MALERHBE DE LEON, Oscar (a.k.a. BECERRA, Martin; a.k.a. BECERRA MIRELES, Martin; a.k.a. MACHERBE, Oscar; a.k.a. MAHERBE, Oscar; a.k.a. MAHLERBE, Oscar; a.k.a. MAHLERBE, Polo; a.k.a. MALARBE, Oscar; a.k.a. MALERBE, Oscar; a.k.a. MALERVA, Oscar; a.k.a. MALHARBE DE LEON, Oscar; a.k.a. MALHERBE DE LEON, Oscar; a.k.a. MALHERBE DELEON, Oscar; a.k.a. MALMERBE, Oscar; a.k.a. MELARBE, Oscar; a.k.a. NALHERBE, Oscar; a.k.a. QALHARBE DE LEON, Oscar; a.k.a. VARGAS, Jorge); DOB 10 Jan 1964; POB Mexico (individual) [SDNTK]

MALERVA, Oscar (a.k.a. BECERRA, Martin; a.k.a. BECERRA MIRELES, Martin; a.k.a. MACHERBE, Oscar; a.k.a. MAHERBE, Oscar; a.k.a. MAHLERBE, Oscar; a.k.a. MAHLERBE, Polo; a.k.a. MALARBE, Oscar; a.k.a. MALERBE, Oscar; a.k.a. MALERHBE DE LEON, Oscar; a.k.a. MALHARBE DE LEON, Oscar; a.k.a. MALHERBE DE LEON, Oscar; a.k.a. MALHERBE DELEON, Oscar; a.k.a. MALMERBE, Oscar; a.k.a. MELARBE, Oscar; a.k.a. NALHERBE, Oscar; a.k.a. QALHARBE DE LEON, Oscar; a.k.a. VARGAS, Jorge); DOB 10 Jan 1964; POB Mexico (individual) [SDNTK]

MALHARBE DE LEON, Oscar (a.k.a. BECERRA, Martin; a.k.a. BECERRA MIRELES, Martin; a.k.a. MACHERBE, Oscar; a.k.a. MAHERBE, Oscar; a.k.a. MAHLERBE, Oscar; a.k.a. MAHLERBE, Polo; a.k.a. MALARBE, Oscar; a.k.a. MALERBE, Oscar; a.k.a. MALERHBE DE LEON, Oscar; a.k.a. MALERVA, Oscar; a.k.a. MALHERBE DE LEON, Oscar; a.k.a. MALHERBE DELEON, Oscar; a.k.a. MALMERBE, Oscar; a.k.a. MELARBE, Oscar; a.k.a. NALHERBE, Oscar; a.k.a. QALHARBE DE LEON, Oscar; a.k.a. VARGAS, Jorge); DOB 10 Jan 1964; POB Mexico (individual) [SDNTK]

MALHERBE DE LEON, Oscar (a.k.a. BECERRA, Martin; a.k.a. BECERRA MIRELES, Martin; a.k.a. MACHERBE, Oscar; a.k.a. MAHERBE, Oscar; a.k.a. MAHLERBE, Oscar; a.k.a. MAHLERBE, Polo; a.k.a. MALARBE, Oscar; a.k.a. MALERBE, Oscar; a.k.a. MALERHBE DE LEON, Oscar; a.k.a. MALERVA, Oscar; a.k.a. MALHARBE DE LEON, Oscar; a.k.a. MALHERBE DELEON, Oscar; a.k.a. MALMERBE, Oscar; a.k.a. MELARBE, Oscar; a.k.a. NALHERBE, Oscar; a.k.a. QALHARBE DE LEON, Oscar; a.k.a. VARGAS, Jorge); DOB 10 Jan 1964; POB Mexico (individual) [SDNTK]

MALHERBE DELEON, Oscar (a.k.a. BECERRA, Martin; a.k.a. BECERRA MIRELES, Martin; a.k.a. MACHERBE, Oscar; a.k.a. MAHERBE, Oscar; a.k.a. MAHLERBE, Oscar; a.k.a. MAHLERBE, Polo; a.k.a. MALARBE, Oscar; a.k.a. MALERBE, Oscar; a.k.a. MALERHBE DE LEON, Oscar; a.k.a. MALERVA, Oscar; a.k.a. MALHARBE DE LEON, Oscar; a.k.a. MALHERBE DE LEON, Oscar; a.k.a. MALMERBE, Oscar; a.k.a. MELARBE, Oscar; a.k.a. NALHERBE, Oscar; a.k.a. QALHARBE DE LEON, Oscar; a.k.a. VARGAS, Jorge); DOB 10 Jan 1964; POB Mexico (individual) [SDNTK]

MALIK, Anas (a.k.a. AL-HASSAN, Anas; a.k.a. AL-HASSAN, Anas Malik Dohan; a.k.a. DOHAN, Anas; a.k.a. DOHAN, Anas Malik), Jordan (individual) [IRAQ]

MALIK, Anas (a.k.a. AL-HASSAN, Anas; a.k.a. AL-HASSAN, Anas Malik Dohan; a.k.a. DOHAN, Anas; a.k.a. DOHAN, Anas Malik), Baghdad, Iraq (individual) [IRAQ]

MALIK, Assim Mohammed Rafiq Abdul (a.k.a. ABDULMALIK, Abdul Hameed; a.k.a. RAFIQ, Assem), 14 Almotaz Sad Al Deen Street, Al Nozha, Cairo, Egypt (individual) [IRAQ]

MALINGA, Joshua, Deputy Secretary for Disabled and Disadvantaged of Zimbabwe; DOB 28 Apr 1944 (individual) [ZIMB]

MALMERBE, Oscar (a.k.a. BECERRA, Martin; a.k.a. BECERRA MIRELES, Martin; a.k.a. MACHERBE, Oscar; a.k.a. MAHERBE, Oscar; a.k.a. MAHLERBE, Oscar; a.k.a. MAHLERBE, Polo; a.k.a. MALARBE, Oscar; a.k.a. MALERBE, Oscar; a.k.a. MALERHBE DE LEON, Oscar; a.k.a. MALERVA, Oscar; a.k.a. MALHARBE DE LEON, Oscar; a.k.a. MALHERBE DE LEON, Oscar; a.k.a. MALHERBE DELEON, Oscar; a.k.a. MELARBE, Oscar; a.k.a. NALHERBE, Oscar; a.k.a. QALHARBE DE LEON, Oscar; a.k.a. VARGAS, Jorge); DOB 10 Jan 1964; POB Mexico (individual) [SDNTK]

MALUT SUGAR FACTORY, Malut, Sudan [SUDAN]

MAMO, Eliyahu (a.k.a. REVIVO, Simon; a.k.a. TUITO, Daniel; a.k.a. TUITO, David; a.k.a. TUITO, Oded; a.k.a. TVITO, Daniel; a.k.a. TVITO, Oded); DOB 27 Dec 1959; alt. DOB 29 Nov 1959; alt. DOB 27 Feb 1959; alt. DOB 12 Dec 1959; alt. DOB 25 Jul 1961; POB Israel (individual) [SDNTK]

MAMOUN DARKAZANLI IMPORT-EXPORT COMPANY (a.k.a. DARKAZANLI COMPANY; a.k.a. DARKAZANLI EXPORT-IMPORT SONDERPOSTEN), Uhlenhorsterweg 34 11, Hamburg, Germany [SDGT]

MAN, Nu (a.k.a. FADHIL, Mustafa Mohamed; a.k.a. AL MASRI, Abd Al Wakil; a.k.a. AL-NUBI, Abu; a.k.a. ALI, Hassan; a.k.a. ANIS, Abu; a.k.a. ELBISHY, Moustafa Ali; a.k.a. FADIL, Mustafa Muhamad; a.k.a. FAZUL, Mustafa; a.k.a. HUSSEIN; a.k.a. JIHAD, Abu; a.k.a. KHALID; a.k.a. MOHAMMED, Mustafa; a.k.a. YUSSRR, Abu); DOB 23 Jun 1976; POB Cairo, Egypt; citizen Egypt; alt. citizen Kenya; Kenyan ID No. 12773667; Serial No. 201735161 (individual) [SDGT]

MANA, Salem, Frankfurt, Germany (individual) [LIBYA]

MANA, Salem, Libya (individual) [LIBYA]

MANAURE S.A. (f.k.a. AGROPECUARIA LA ROBLEDA S.A.), Avenida 2D Norte No. 24N-76, Cali, Colombia; Carrera 61 No. 11-58, Cali, Colombia; NIT # 800160353-2 (Colombia) [SDNT]

MANCO OIL COMPANY [BALKANS]

MANCUSO GOMEZ, Salvatore (a.k.a. LOZADA, Santander), Calle 64 No. 8A-56, Monteria, Cordoba, Colombia; DOB 17 Aug 1964; POB Monteria, Cordoba, Colombia; Cedula No. 6892624 (Colombia) (individual) [SDNTK]

MANDIC, Momcilo “Momo;” DOB 1 May 1954; POB Kalinovik, Bosnia-Herzegovina; National ID No. JMB 0105954171511 (individual) [BALKANS]

MANGALA SUGAR FACTORY, Mangala, Sudan [SUDAN]

MANGWANA, Paul, Minister of State for State Enterprises and Parastatals of Zimbabwe; DOB 10 Aug 1961 (individual) [ZIMB]

MANGWENDE, Witness, Minister of Transport and Communications of Zimbabwe; DOB 15 Aug 1946 (individual) [ZIMB]

MANJARRES FORERO, Baudelino, c/o CAJA SOLIDARIA, Bogota, Colombia; c/o CREDISOL, Bogota, Colombia; c/o FOMENTAMOS, Bogota, Colombia; DOB 24 May 1949; Passport 19073383 (Colombia); Cedula No. 19073383 (Colombia) (individual) [SDNT]

MANJARRES GRANDE, Jorge (a.k.a. MANJARREZ GRANDE, Jorge), c/o ADMINISTRADORA DE SERVICIOS VARIOS CALIMA S.A., Cali, Colombia; c/o ASESORIAS DE INGENIERIA EMPRESA UNIPERSONAL, Cali, Colombia; c/o GENERAL DE NEGOCIOS Y ADMINISTRACION LTDA., Cali, Colombia; c/o GRACADAL S.A., Cali, Colombia; c/o INTERAMERICANA DE CONSTRUCCIONES S.A., Cali, Colombia; c/o INVERSIETE S.A., Cali, Colombia; c/o INVERSIONES Y CONSTRUCCIONES COSMOVALLE LTDA., Cali, Colombia; c/o SERVIFAR S.A., Cali, Colombia; c/o RADIO UNIDAS F.M. S.A., Cali, Colombia; c/o SONAR F.M. S.A., Cali, Colombia; DOB 5 Jul 1959; Passport 16632969 (Colombia); Cedula No. 16632969 (Colombia) (individual) [SDNT]

MANJARREZ GRANDE, Jorge (a.k.a. MANJARRES GRANDE, Jorge), c/o ADMINISTRADORA DE SERVICIOS VARIOS CALIMA S.A., Cali, Colombia; c/o ASESORIAS DE INGENIERIA EMPRESA UNIPERSONAL, Cali, Colombia; c/o GENERAL DE NEGOCIOS Y ADMINISTRACION LTDA., Cali, Colombia; c/o GRACADAL S.A., Cali, Colombia; c/o INTERAMERICANA DE CONSTRUCCIONES S.A., Cali, Colombia; c/o INVERSIETE S.A., Cali, Colombia; c/o INVERSIONES Y CONSTRUCCIONES COSMOVALLE LTDA., Cali, Colombia; c/o SERVIFAR S.A., Cali, Colombia; c/o RADIO UNIDAS F.M. S.A., Cali, Colombia; c/o SONAR F.M. S.A., Cali, Colombia; DOB 5 Jul 1959; Passport 16632969 (Colombia); Cedula No. 16632969 (Colombia) (individual) [SDNT]

MANSOR, Amran (a.k.a. BIN MANSOR, Amran; a.k.a. BIN MANSOR, Henry; a.k.a. BIN MANSOUR, Amran); DOB 25 May 1965; POB Malaysia (individual) [SDGT]

MANSOUR, Mohamed (a.k.a. AL-MANSOUR, Dr. Mohamed), Ob. Heslibachstr. 20, Kusnacht, Switzerland; Zurich, Switzerland; DOB 1928; POB U.A.E.; alt. POB Egypt (individual) [SDGT]

MANSOUR-FATTOUH, Zeinab, Zurich, Switzerland (individual) [SDGT]

MANYIKA, Elliot, Minister of Youth Development of Zimbabwe; DOB 30 Jul 1955 (individual) [ZIMB]

MANYONDA, Kenneth, Deputy Minister for Industry and International Trade of Zimbabwe; DOB 10 Aug 1934 (individual) [ZIMB]

MANZPER CORP., Panama [CUBA]

MAPRI DE COLOMBIA LTDA., Calle 12B No. 27-40 Int. 4, Bogota, Colombia; Carrera 129 No. 29-57 Int. 137, Bogota, Colombia; NIT # 830103959-1 (Colombia) [SDNT]

MAQUINARIA TECNICA Y TIERRAS LTDA. (a.k.a. M.T.T. LTDA.), Carrera 4A No. 16-04, Cartago, Colombia; Carrera 42 No. 5B-81, Cali, Colombia; NIT # 800084233-1 (Colombia) [SDNT]

MARIELA DE RODRIGUEZ Y CIA. S. EN C. (n.k.a. INVERSIONES MONDRAGON Y CIA. S.C.S.), Calle 12 Norte No. 9N-56/58, Cali, Colombia; NIT # 890328152-1 (Colombia) [SDNT]

MARIELA MONDRAGON DE R. Y CIA. S. EN C., Calle 12 Norte No. 9N-56/58, Cali, Colombia; Avenida 4 Norte No. 8N-67, Cali, Colombia; NIT # 800122032-1 (Colombia) [SDNT]

MARIJANOVIC, Milovan; DOB 14 Mar 1944; POB Kraljevo, Serbia (individual) [BALKANS]

MARIN ARANGO, Luciano (a.k.a. “Ivan Marques;” a.k.a. “Ivan Marquez”); DOB 16 Jun 1955; POB Florencia, Caqueta, Colombia; Cedula No. 19304877 (Colombia) (individual) [SDNTK]

MARIN ESTRADA Y CIA. S. EN C.S., Carrera 8 No. 32-16, Cali, Colombia; Apartado Aereo 1175, Cali, Colombia; Calle 44 No. 1E-155, Cali, Colombia; Calle 45 No. 1E-86, Cali, Colombia; NIT # 800083114-9 (Colombia) [SDNT]

MARIN GOMEZ, Mallerly Alejandra, c/o LEMOFAR LTDA., Bogota, Colombia; DOB 2 Jul 1982; Passport 52719053 (Colombia); Cedula No. 52719053 (Colombia) (individual) [SDNT]

MARIN MARIN, Pedro Antonio (a.k.a. “Manuel Marulanda;” a.k.a. “Manuel Marulanda Velez;” a.k.a. MARIN, Pedro Antonio; a.k.a. “Tirofijo”); DOB 13 May 1930; POB Genova, Quindio, Colombia; Cedula No. 4870142 (Colombia) (individual) [SDNTK]

MARIN, Pedro Antonio (a.k.a. “Manuel Marulanda;” a.k.a. “Manuel Marulanda Velez;” a.k.a. MARIN MARIN, Pedro Antonio; a.k.a. “Tirofijo”); DOB 13 May 1930; POB Genova, Quindio, Colombia; Cedula No. 4870142 (Colombia) (individual) [SDNTK]

MARINA SAN GORG CO. LTD. (a.k.a. MARINA SAN GORG HOLIDAY COMPLEX), Malta [LIBYA]

MARINA SAN GORG HOLIDAY COMPLEX (a.k.a. MARINA SAN GORG CO. LTD.), Malta [LIBYA]

MARINE REGISTRATION COMPANY, Panama [CUBA]

MARINIC, Zoran; DOB 6 Jun 1963; POB Busovaca, Bosnia-Herzegovina; ICTY indictee at large (individual) [BALKANS]

MARISCO (or MARISCOS) DE FARALLON, S.A., Panama [CUBA]

MARKETING ASSOCIATES CORPORATION, Calle 52 E, Campo Alegre, Panama City, Panama [CUBA]

MARKOVIC, Mirjana; DOB 10 Jul 1942; wife of Slobodan Milosevic (individual) [BALKANS]

MARKOVIC, Radovac; DOB 1946 or 1947; Ex-FRY Deputy Minister of Interior (individual) [BALKANS]

MARKU, Ton; DOB 13 Jun 1964 (individual) [BALKANS]

MARMOLEJO LOAIZA, Carlos Julio, c/o AGROPECUARIA BETANIA LTDA., Cali, Colombia; c/o PROCESADORA DE POLLOS SUPERIOR S.A., Palmira, Colombia; c/o INDUSTRIA AVICOLA PALMASECA S.A., Cali, Colombia; c/o INVERSIONES AGRICOLAS AVICOLAS Y GANADERAS LA CARMELITA LTDA., Cali, Colombia; Cedula No. 16601783 (Colombia) (individual) [SDNT]

MARMOLEJO VACA, Hernan Rodrigo, c/o INVERSIONES INVERVALLE S.A., Cali, Colombia; Cedula No. 14972401 (Colombia) (individual) [SDNT]

MARQUEZ CANOVAS, Alberto, c/o INMOBILIARIA U.M.V. S.A., Cali, Colombia; c/o SERVICIOS INMOBILIARIOS LTDA., Cali, Colombia; Cedula No. 14993019 (Colombia) (individual) [SDNT]

MARTIC, Milan; DOB 18 Nov 1954; POB Zagrovic, Croatia; ICTY indictee in custody (individual) [BALKANS]

MARTIN DIAZ, John Edward, c/o AGRO MASCOTAS S.A., Bogota, Colombia; DOB 20 Jun 1974; Passport 79668278 (Colombia); Cedula No. 79668278 (Colombia) (individual) [SDNT]

MARTINEZ, Richard (a.k.a. ROMERO VARELA, Carlos Ali), c/o LOS GNOMOS LTDA., Cali, Colombia; c/o SOCIEDAD DE COMERCIALIZACION INTERNACIONAL POSEIDON S.A., Sabaneta, Antioquia, Colombia; DOB 19 Mar 1959; alt. DOB 19 Feb 1959; Passport B0088212 (Venezuela); Cedula No. 13447909 (Colombia) (individual) [SDNTK]

MARTINEZ VARGAS, Nhora Isabel, c/o COOPDISAN, Bucaramanga, Colombia; c/o COPSERVIR LTDA., Bucaramanga, Colombia; c/o DROGAS LA REBAJA BUCARAMANGA S.A., Bucaramanga, Colombia; Passport 63312197 (Colombia); Cedula No. 63312197 (Colombia) (individual) [SDNT]

MARTINOVIC, Vinko; DOB 21 Sep 1963; POB Mostar, Bosnia-Herzegovina; ICTY indictee (individual) [BALKANS]

MARTYR ABU-ALI MUSTAFA BATTALION (a.k.a. HALHUL GANG; a.k.a. HALHUL SQUAD; a.k.a. PALESTINIAN POPULAR RESISTANCE FORCES; a.k.a. PFLP; a.k.a. POPULAR FRONT FOR THE LIBERATION OF PALESTINE; a.k.a. PPRF; a.k.a. RED EAGLE GANG; a.k.a. RED EAGLE GROUP; a.k.a. RED EAGLES) [SDT][FTO][SDGT]

MARUF, Taha, Muhyi al-Din (a.k.a. MA'RUF, Taha Muhyi-al-Din); DOB 1924; POB Sulaymaniyah, Iraq; Vice President; member of Revolutionary Command Council; nationality Iraqi (individual) [IRAQ][IRAQ2]

MARUMAHOKO, Reuben, Deputy Minister for Energy and Power Development of Zimbabwe; DOB 4 Apr 1948 (individual) [ZIMB]

MARYOL ENTERPRISES INC., c/o EMPRESA DE NAVEGACION MAMBISA, Apartado 543, San Ignacio 104, Havana, Cuba [CUBA]

MARZOOK, Mousa Mohamed Abou (a.k.a. ABU MARZOOK, Mousa Mohammed; a.k.a. ABU-MARZUQ, Dr. Musa; a.k.a. ABU-MARZUQ, Sa'id; a.k.a. ABU-'UMAR; a.k.a. MARZOUK, Musa Abu; a.k.a. MARZUK, Musa Abu), Leader in Amman, Jordan and Damascus, Syria for HAMAS; DOB 09 Feb 1951; POB Gaza, Egypt; SSN 523-33-8386 (U.S.A.); Passport No. 92/664 (Egypt) (individual) [SDT][SDGT]

MARZOUK, Musa Abu (a.k.a. ABU MARZOOK, Mousa Mohammed; a.k.a. ABU-MARZUQ, Dr. Musa; a.k.a. ABU-MARZUQ, Sa'id; a.k.a. ABU-'UMAR; a.k.a. MARZOOK, Mousa Mohamed Abou; a.k.a. MARZUK, Musa Abu), Leader in Amman, Jordan and Damascus, Syria for HAMAS; DOB 09 Feb 1951; POB Gaza, Egypt; SSN 523-33-8386 (U.S.A.); Passport No. 92/664 (Egypt) (individual) [SDT][SDGT]

MARZUK, Musa Abu (a.k.a. ABU MARZOOK, Mousa Mohammed; a.k.a. ABU-MARZUQ, Dr. Musa; a.k.a. ABU-MARZUQ, Sa'id; a.k.a. ABU-'UMAR; a.k.a. MARZOOK, Mousa Mohamed Abou; a.k.a. MARZOUK, Musa Abu), Leader in Amman, Jordan and Damascus, Syria for HAMAS; DOB 09 Feb 1951; POB Gaza, Egypt; SSN 523-33-8386 (U.S.A.); Passport No. 92/664 (Egypt) (individual) [SDT][SDGT]

MARZUKI, Zulkepli (a.k.a. BIN MARZUKI, Zulkifli; a.k.a. BIN ZUKEPLI, Marzuki; a.k.a. MARZUKI, Zulkifli; a.k.a. ZUKIPLI; a.k.a. ZULKIFLI); DOB 3 Jul 1968; POB Malaysia; nationality Malaysian (individual) [SDGT]

MARZUKI, Zulkifli (a.k.a. BIN MARZUKI, Zulkifli; a.k.a. BIN ZUKEPLI, Marzuki; a.k.a. MARZUKI, Zulkepli; a.k.a. ZUKIPLI; a.k.a. ZULKIFLI); DOB 3 Jul 1968; POB Malaysia; nationality Malaysian (individual) [SDGT]

MASPIO CEMENT CORPORATION, P.O. Box 96, Atbara, Sudan [SUDAN]

MASRAF AL-GUMHOURIA (n.k.a. JAMAHIRIYA BANK), see listings (38 local branches in Libya) [LIBYA]

MASUKU, Angeline, Politburo Secretary for Disabled and Disadvantaged Persons Welfare of Zimbabwe; DOB 14 Oct 1936 (individual) [ZIMB]

MAT TOP, Noordin (a.k.a. THOB, Noordin Mohammad; a.k.a. TOP, Noor Din bin Mohamed; a.k.a. TOP, Noordin Mohamed; a.k.a. TOP, Nordin Mohd); DOB 11 Aug 1968; POB Malaysia; nationality Malaysian (individual) [SDGT]

MATA, Alcides (a.k.a. ALCIDES MAGANA, Ramon; a.k.a. ALCIDES MAGANE, Ramon; a.k.a. ALCIDES MAYENA, Ramon; a.k.a. ALCIDEZ MAGANA, Ramon; a.k.a. GONZALEZ QUIONES, Jorge; a.k.a. MAGANA ALCIDES, Ramon; a.k.a. MAGANA, Jorge; a.k.a. MAGNA ALCIDEDES, Ramon; a.k.a. RAMON MAGANA, Alcedis; a.k.a. RAMON MAGANA, Alcides; a.k.a. ROMERO, Antonio); DOB 4 Sep 1957 (individual) [SDNTK]

MATA MATA, Noel (a.k.a. “Efrain Guzman;” a.k.a. “El Chucho;” a.k.a. MATTA MATTA, Noel); DOB 31 Jan 1935; alt. DOB 30 Jan 1935; POB Chaparral, Tolima, Colombia; Cedula No. 4870352 (Colombia) (individual) [SDNTK]

MATADERO METROPOLITANO LTDA., Km. 3 Via Marsella Parque Industrial, Pereira, Colombia; Carrera 10 No. 34-21 Dosq., Pereira, Colombia; Apartado Aereo 3786, Pereira, Colombia; NIT # 891412986-8 (Colombia) [SDNT]

MATERIAS PRIMAS Y SUMINISTROS LTDA. (a.k.a. MATERIAS PRIMAS Y SUMINISTROS S.A.; a.k.a. MATSUM S.A.), Calle 12B No. 28-58, Bogota, Colombia; Calle 39 Bis A No. 27-20, Bogota, Colombia; Calle 39 Bis A No. 27-16, Bogota, Colombia; NIT # 830031863-3 (Colombia) [SDNT]

MATERIAS PRIMAS Y SUMINISTROS S.A. (a.k.a. MATERIAS PRIMAS Y SUMINISTROS LTDA.; a.k.a. MATSUM S.A.), Calle 12B No. 28-58, Bogota, Colombia; Calle 39 Bis A No. 27-20, Bogota, Colombia; Calle 39 Bis A No. 27-16, Bogota, Colombia; NIT # 830031863-3 (Colombia) [SDNT]

MATHEW, Glenroy (a.k.a. MATTHEW, Glenroy Wingrove; a.k.a. MATTHEWS, Glen Roy; a.k.a. MATTHEWS, Glenroy Vingrove), Frigate Bay, St. Kitts; DOB 26 Jul 1958; POB St. Kitts and Nevis; Passport 047815 (St. Kitts) (individual) [SDNTK]

MATHUTHU, Sithokozile, Deputy-Secretary for Transport and Social Welfare of Zimbabwe (individual) [ZIMB]

MATRIX CHURCHILL CORPORATION, 5903 Harper Road, Cleveland, Ohio 44139, U.S.A. [IRAQ]

MATSUM S.A. (a.k.a. MATERIAS PRIMAS Y SUMINISTROS LTDA.; a.k.a. MATERIAS PRIMAS Y SUMINISTROS S.A.), Calle 12B No. 28-58, Bogota, Colombia; Calle 39 Bis A No. 27-20, Bogota, Colombia; Calle 39 Bis A No. 27-16, Bogota, Colombia; NIT # 830031863-3 (Colombia) [SDNT]

MATTA MATTA, Noel (a.k.a. “Efrain Guzman;” a.k.a. “El Chucho;” a.k.a. MATA MATA, Noel); DOB 31 Jan 1935; alt. DOB 30 Jan 1935; POB Chaparral, Tolima, Colombia; Cedula No. 4870352 (Colombia) (individual) [SDNTK]

MATTHEW, Glenroy Wingrove (a.k.a. MATHEW, Glenroy; a.k.a. MATTHEWS, Glen Roy; a.k.a. MATTHEWS, Glenroy Vingrove), Frigate Bay, St. Kitts; DOB 26 Jul 1958; POB St. Kitts and Nevis; Passport 047815 (St. Kitts) (individual) [SDNTK]

MATTHEW, Karen, c/o FREIGHT MOVERS INTERNATIONAL, Basseterre, St. Kitts & Nevis, West Indies; DOB 27 Jan 1964; POB St. Vincent & Grenadines (individual) [SDNTK]

MATTHEWS, Glen Roy (a.k.a. MATHEW, Glenroy; a.k.a. MATTHEW, Glenroy Wingrove; a.k.a. MATTHEWS, Glenroy Vingrove), Frigate Bay, St. Kitts; DOB 26 Jul 1958; POB St. Kitts and Nevis; Passport 047815 (St. Kitts) (individual) [SDNTK]

MATTHEWS, Glenroy Vingrove (a.k.a. MATHEW, Glenroy; a.k.a. MATTHEW, Glenroy Wingrove; a.k.a. MATTHEWS, Glen Roy), Frigate Bay, St. Kitts; DOB 26 Jul 1958; St. Kitts and Nevis; Passport 047815 (St. Kitts) (individual) [SDNTK]

MATUQ, Matuq Muhammad, Seretary of Education, Youth, Scientific Research, and Vocational Education of the Government of Libya, Libya; DOB 1956 (individual) [LIBYA]

MAXITIENDAS TODO EN UNO, Avenida Guadalupe con Avenida Simon Bolivar, Cali, Colombia [SDNT]

MAY ENGINEERING COMPANY, c/o ENGINEERING EQUIPMENT CORPORATION, P.O. Box 97, Khartoum, Sudan [SUDAN]

MAZUERO ERAZO, Hugo, c/o GRUPO SANTA LTDA., Cali, Colombia; c/o INVERSIONES SANTA LTDA., Cali, Colombia; c/o SOCIEDAD CONSTRUCTORA LA CASCADA S.A., Cali, Colombia; DOB 17 Jul 1936; alt. DOB 1945; Cedula No. 2445590 (Colombia) (individual) [SDNT]

MAZUTI, Abdelghani (a.k.a. MAZWATI, Abdelghani; a.k.a. MZOUDI, Abdelghani), Op de Wisch 15, 21149 Hamburg, Germany; Marienstrasse 54, Hamburg, Germany; DOB 6 DEC 1972; POB Marrakech, Morocco; Moroccan Personal ID No. E 427689 issued 20 Mar 2001; Passport No. M271392 (Moroccan) issued 04 Dec 2000; Passport No. F 879567 (Moroccan) issued 29 Apr 1992; citizen: Morocco (individual) [SDGT]

MAZWATI, Abdelghani (a.k.a. MAZUTI, Abdelghani; a.k.a. MZOUDI, Abdelghani), Op de Wisch 15, 21149 Hamburg, Germany; Marienstrasse 54, Hamburg, Germany; DOB 6 DEC 1972; POB Marrakech, Morocco; Moroccan Personal ID No. E 427689 issued 20 Mar 2001; Passport No. M271392 (Moroccan) issued 04 Dec 2000; Passport No. F 879567 (Moroccan) issued 29 Apr 1992; citizen: Morocco (individual) [SDGT]

MEDAVIA (a.k.a. MEDITERRANEAN AVIATION COMPANY, LTD.), Malta [LIBYA]

MEDIA MARKETING E.U., Avenida 4N No. 6-67 of. 610, Cali, Colombia; NIT # 805019234-0 (Colombia) [SDNT]

MEDICAL EQUIPMENT COMPANY, P.O. Box 12419, Tripoli, Libya; (branch) P.O. Box 750, Benghazi, Libya; (branch) P.O. Box 464, Sebha, Libya [LIBYA]

MEDINA, Anita (a.k.a. Ana Maria MEDINA), Panama (individual) [CUBA]

MEDINA FAJARDO, Yovani (a.k.a. MEDINA FAJARDO, Yovany), c/o CODISA, Bogota, Colombia; c/o FARMACOOP, Bogota, Colombia; DOB 21 Nov 1969; Passport 11317493 (Colombia); Cedula No. 11317493 (Colombia) (individual) [SDNT]

MEDINA FAJARDO, Yovany (a.k.a. MEDINA FAJARDO, Yovani), c/o CODISA, Bogota, Colombia; c/o FARMACOOP, Bogota, Colombia; DOB 21 Nov 1969; Passport 11317493 (Colombia); Cedula No. 11317493 (Colombia) (individual) [SDNT]

MEDISAN LIMITED, R1 6A, Qasam Industrial, Limiti tai Ricasch, Kalkara, Malta [LIBYA]

MEDITERRANEAN AVIATION COMPANY, LTD. (a.k.a. MEDAVIA), Malta [LIBYA]

MEDITERRANEAN FEED SERVICES S.A., Schutzengasse 25, Zurich CH-8001, Switzerland [LIBYA]

MEDITERRANEAN OIL SERVICES GMBH (a.k.a. MEDITERRANEAN SEA OIL SERVICES GMBH; a.k.a. MEDOIL), P.O. Box 5601, Immermannstrasse 40, Dusseldorf 1, Germany [LIBYA]

MEDITERRANEAN POWER ELECTRIC COMPANY LIMITED, A 18B, Industrial Estate, Marsa, Malta [LIBYA]

MEDITERRANEAN SEA OIL SERVICES GMBH (a.k.a. MEDITERRANEAN OIL SERVICES GMBH; a.k.a. MEDOIL), P.O. Box 5601, Immermannstrasse 40, Dusseldorf 1, Germany [LIBYA]

MEDOIL (a.k.a. MEDITERRANEAN OIL SERVICES GMBH; a.k.a. MEDITERRANEAN SEA OIL SERVICES GMBH), P.O. Box 5601, Immermannstrasse 40, Dusseldorf 1, Germany [LIBYA]

MEED INTERNATIONAL LIMITED, 3 Mandeville Place, London, England [IRAQ]

MEHMOOD, Dr. Bashir Uddin (a.k.a. MAHMOOD, Sultan Bashir-Ud-Din; a.k.a. MAHMOOD, Sultan Bashiruddin; a.k.a. MEKMUD, Sultan Baishiruddin), Street 13, Wazir Akbar Khan, Kabul, Afghanistan; alt. DOB 1937; alt. DOB 1938; alt. DOB 1939; alt. DOB 1940; alt. DOB 1941; alt. DOB 1942; alt. DOB 1943; alt. DOB 1944; alt. DOB 1945; nationality Pakistani (individual) [SDGT]

MEIR'S YOUTH (a.k.a. AMERICAN FRIENDS OF THE UNITED YESHIVA MOVEMENT; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH LEGION; a.k.a. JUDEA POLICE; a.k.a. JUDEAN CONGRESS; a.k.a. KACH; a.k.a. KAHANE CHAI; a.k.a. KAHANE LIVES; a.k.a. KAHANE TZADAK; a.k.a. KAHANE.NET; a.k.a. KAHANE.ORG; a.k.a. KAHANE; a.k.a. KAHANETZADAK.COM; a.k.a. KFAR TAPUAH FUND; a.k.a. KOACH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [SDT][FTO][SDGT]

MEJAKIC, Zeljko; DOB 2 Aug 1964; POB Petrov Gaj, Bosnia-Herzegovina; ICTY indictee at large (individual) [BALKANS]

MEJIA ARISTIZABAL, Carlos Alberto, c/o ADMACOOP, Bogota, Colombia; c/o CODISA, Bogota, Colombia; c/o DROCARD S.A., Bogota, Colombia; DOB 17 Jun 1957; Passport 10162459 (Colombia); Cedula No. 10162459 (Colombia) (individual) [SDNT]

MEK (a.k.a. MKO; a.k.a. MUJAHEDIN-E KHALQ ORGANIZATION; a.k.a. MUJAHEDIN-E KHALQ; a.k.a. MUSLIM IRANIAN STUDENT'S SOCIETY; a.k.a. NATIONAL COUNCIL OF RESISTANCE (NCR); a.k.a. NATIONAL COUNCIL OF RESISTANCE OF IRAN; a.k.a. NATIONAL COUNCIL OF RESISTANCE; a.k.a. NCRI; a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN), including its U.S. representative offices and all other offices worldwide [FTO][SDGT]

MEKMUD, Sultan Baishiruddin (a.k.a. MAHMOOD, Sultan Bashir-Ud-Din; a.k.a. MAHMOOD, Sultan Bashiruddin; a.k.a. MEHMOOD, Dr. Bashir Uddin), Street 13, Wazir Akbar Khan, Kabul, Afghanistan; alt. DOB 1937; alt. DOB 1938; alt. DOB 1939; alt. DOB 1940; alt. DOB 1941; alt. DOB 1942; alt. DOB 1943; alt. DOB 1944; alt. DOB 1945; nationality Pakistani (individual) [SDGT]

MELARBE, Oscar (a.k.a. BECERRA, Martin; a.k.a. BECERRA MIRELES, Martin; a.k.a. MACHERBE, Oscar; a.k.a. MAHERBE, Oscar; a.k.a. MAHLERBE, Oscar; a.k.a. MAHLERBE, Polo; a.k.a. MALARBE, Oscar; a.k.a. MALERBE, Oscar; a.k.a. MALERHBE DE LEON, Oscar; a.k.a. MALERVA, Oscar; a.k.a. MALHARBE DE LEON, Oscar; a.k.a. MALHERBE DE LEON, Oscar; a.k.a. MALHERBE DELEON, Oscar; a.k.a. MALMERBE, Oscar; a.k.a. NALHERBE, Oscar; a.k.a. QALHARBE DE LEON, Oscar; a.k.a. VARGAS, Jorge); DOB 10 Jan 1964; POB Mexico (individual) [SDNTK]

MENDEZ DIAZ, Marlen, c/o COOPDISAN, Bucaramanga, Colombia; c/o DROGAS LA REBAJA BUCARAMANGA S.A., Bucaramanga, Colombia; Passport 37813841 (Colombia); Cedula No. 37813841 (Colombia) (individual) [SDNT]

MENDEZ SALAZAR, John Jairo, Calle 1 No. 56-109 Casa 32, Cali, Colombia; Carrera 42 No. 5B-81, Cali, Colombia; c/o MAQUINARIA TECNICA Y TIERRAS LTDA., Cali, Colombia; Passport 98515360 (Colombia); Cedula No. 98515360 (Colombia) (individual) [SDNT]

MENDOZA RODRIGUEZ, Ana Janeth, c/o ADMACOOP, Bogota, Colombia; c/o CREDISOL, Bogota, Colombia; DOB 6 Jul 1963; Passport 51721267 (Colombia); Cedula No. 51721267 (Colombia) (individual) [SDNT]

MENIL ENSTALT COMPANY, Vaduz, Liechtenstein [LIBYA]

MERCAVICOLA LTDA., Calle 34 No. 5A-25, Cali, Colombia; Calle 47AN, Cali, Colombia; NIT # 800086338-5 (Colombia) [SDNT]

MERCURIUS IMPORT/EXPORT COMPANY, PANAMA, S.A., Calle C, Edificio 18, Box 4048, Colon Free Zone, Panama [CUBA]

METROVIA, Switzerland [LIBYA]

MEZHDUNARODNYJ BLAGOTVORITEL'NYJ FOND (a.k.a. AL BIR AL DAWALIA; a.k.a. BENEVOLENCE INTERNATIONAL FOUNDATION; a.k.a. BIF; a.k.a. BIF-USA), 8820 Mobile Avenue, 1A, Oak Lawn, IL 60453, U.S.A.; P.O. Box 548, Worth, IL 60482, U.S.A.; formerly at 9838 S. Roberts Road, Suite 1W, Palos Hills, IL 60465, U.S.A.; formerly at 20-24 Branford Place, Suite 705, Newark, NJ 07102, U.S.A.; Bashir Safar Ugli 69, Baku, Azerbaijan; 69 Boshir Safaroglu St., Baku, Azerbaijan; Sarajevo, Bosnia-Herzegovina; Zenica, Bosnia-Herzegovina; “last known address,” 3 King Street, South Waterloo, Ontario, N2J 3Z6 Canada; “last known address,” P.O. Box 1508 Station B, Mississauga, Ontario, L4Y 4G2 Canada; “last known address,” 2465 Cawthra Rd., #203, Mississauga, Ontario, L5A 3P2 Canada; Ottawa, Canada; Grozny, Chechnya; 91 Paihonggou, Lanzhou, Gansu, China 730000; Hrvatov 30, 41000, Zagreb, Croatia; Makhachkala, Daghestan; Duisi, Georgia; Tbilisi, Georgia; Nazran, Ingushetia; Burgemeester Kessensingel 40, Maastricht, Netherlands; House 111, First Floor, Street 64, F-10/3, Islamabad, Pakistan; P.O. Box 1055, Peshawar, Pakistan; Azovskaya 6, km. 3, off. 401, Moscow, Russia 113149; Ulitsa Oktyabr'skaya, dom. 89, Moscow, Russia 127521; P.O. Box 1937, Khartoum, Sudan; P.O. Box 7600, Jeddah 21472, Saudi Arabia; P.O. Box 10845, Riyadh 11442, Saudi Arabia; Dushanbe, Tajikistan; United Kingdom; Afghanistan; Bangladesh; Bosnia-Herzegovina; Gaza Strip; Yemen; U.S. FEIN: 36-3823186 [SDGT]

MICB (a.k.a. MYANMA INVESTMENT AND COMMERCIAL BANK; a.k.a. MYANMAR INVESTMENT AND COMMERCIAL BANK), 170/176 Bo Aung Kyaw Street, Botataung Township, Yangon, Myanmar; SWIFT/BIC: MYANMMM1 [BURMA]

MIDCO FINANCE S.A. (a.k.a. MIDCO FINANCIAL S.A.; a.k.a. MONTANA MANAGEMENT INC.), 57 Rue du Rhone, CH-1204 Geneva, Switzerland [IRAQ]

MIDCO FINANCIAL S.A. (a.k.a. MIDCO FINANCE S.A.; a.k.a. MONTANA MANAGEMENT INC.), 57 Rue du Rhone, CH-1204 Geneva, Switzerland [IRAQ]

MIDZI, Amos Bernard Muvenga, Minister for Energy and Development of Zimbabwe; DOB 4 July 1952 (individual) [ZIMB]

MIGA-MALAYSIAN SWISS, GULF AND AFRICAN CHAMBER (f.k.a. GULF OFFICE ASSOC. PER LO SVILUPPO COMM. IND. E TURIS. FRA GLI STATI ARABI DEL GOLFO E LA SVIZZERA), Via Maggio 21, 6900 Lugano TI, Switzerland [SDGT]

MIGIL (n.k.a. DISMERCOOP; n.k.a. COOPERATIVA MULTIACTIVA DE EMPLEADOS DE SUPERMERCADOS Y AFINES; f.k.a. DISTRIBUIDORA MIGIL LTDA.; f.k.a. DISTRIBUIDORA MIGIL BOGOTA LTDA.; f.k.a. DISTRIBUIDORA MIGIL CALI S.A.; f.k.a. GRACADAL S.A.), Calle 5C No. 41-30, Cali, Colombia; Carrera 26 No. 5B-65, Cali, Colombia; Carrera 30 No. 5-12, Cali, Colombia; NIT # 805003637-5 (Colombia) [SDNT]

MIJARES TRANCOSO, Gilberto, Calle Luis Echeverria 6329-B, Infonavit Presidentes, Tijuana, Baja California, Mexico; P.O. Box 43440, San Ysidro, California 92173, U.S.A.; c/o DISTRIBUIDORA IMPERIAL DE BAJA CALIFORNIA, S.A. de C.V., Tijuana, Baja California, Mexico; c/o ADP, S.C., Tijuana, Baja California, Mexico; DOB 4 Feb 1951; POB Vicente Guerrero, Durango, Mexico; Driver's License No. 210082884 (Mexico); Passport No. ASDI1418 (Mexico) (individual) [SDNTK]

MILITARY COMMERCIAL CORPORATION, P.O. Box 221, Khartoum, Sudan [SUDAN]

MILLAN BONILLA, German, c/o CONSTRUVIDA S.A., Cali, Colombia; Cedula No. 14995885 (Colombia) (individual) [SDNT]

MILOSEVIC, Borislav; DOB 1936; brother of Slobodan Milosevic (individual) [BALKANS]

MILOSEVIC, Dragomir; DOB 4 Feb 1942; POB Murgas, Bosnia-Herzegovina; ICTY indictee (individual) [BALKANS]

MILOSEVIC, Marija; DOB 1965; daughter of Slobodan Milosevic (individual) [BALKANS]

MILOSEVIC, Marko; DOB 2 Jul 1974; son of Slobodan Milosevic (individual) [BALKANS]

MILOSEVIC, Milanka; sister-in-law of Slobodan Milosevic (individual) [BALKANS]

MILOSEVIC, Slobodan; DOB 20 Aug 1941; POB Pozarevac, Serbia and Montenegro; ex-FRY President; ICTY indictee in custody (individual) [BALKANS]

MILUTINOVIC, Milan; DOB 19 Dec 1942; POB Belgrade, Serbia and Montenegro; ex-President of Republika Srpska; ICTY indictee in custody (individual) [BALKANS]

MIRA E.U., Avenida 8 Norte No. 10-91 Ofc. 301, Cali, Colombia; NIT # 805009267-0 (Colombia) [SDNT]

MIRA VALENCIA, Adriana Patricia, Carrera 4 No. 11-45 Ofc. 503, Cali, Colombia; Avenida Piedra Grande, Casa 45, Cali, Colombia; c/o CONSTRUCCIONES PROGRESO DEL PUERTO S.A., Puerto Tejada, Colombia; c/o MIRA E.U., Cali, Colombia; c/o UNIDAS S.A., Cali, Colombia; DOB 07 May 1970; POB Cali, Valle, Colombia; Passport 66810589 (Colombia); Cedula No. 66810589 (Colombia) (individual) [SDNT]

MIRALUNA LTDA. (f.k.a. EL PASO LTDA.), Carrera 4 No. 12-41 of. 1403, 1501, Cali, Colombia; NIT # 890328836-9 (Colombia) [SDNT]

MIRALUNA LTDA. Y CIA. S. EN C.S. (f.k.a. INVERSIONES EL PASO LTDA.; f.k.a. INVERSIONES NEGOAGRICOLA S.A.), Carrera 4 No. 12-41 of. 1403, Cali, Colombia; Carrera 4 No. 12-41 of. 1501, Cali, Colombia; NIT # 890937860-9 (Colombia) [SDNT]

MISHAAL, Khalid, Damascus, Syria; DOB 1956; POB Silwad, Ramallah, West Bank (Palestinian Authority) (individual) [SDGT]

MISTRA VILLAGE LTD., 22 Europa Centre, Floriana, Malta (registered address); Xemija Hill, St. Paul's Bay, Malta (operating address) [LIBYA]

MISURATA GENERAL ROADS CO., P.O. Box 200, Misurata, Libya; (branch) P.O. Box 958, Tripoli, Libya [LIBYA]

MITCO (a.k.a. MAGHREBAN INTERNATIONAL TRADE COMPANY), 47, Avenue Kheireddine Pacha, 1002 Tunis, Tunisia [LIBYA]

MITSUKURA BOEKI K.K. (a.k.a. MITSUKURA BOEKI-KAISHA, LTD.; a.k.a. MITSUKURA CORPORATION; a.k.a. MITSUKURA TRADING COMPANY LIMITED), 2-26 Isobe-dori, 4-chome, Chuo-Ku Kobe, Japan [CUBA]

MITSUKURA BOEKI K.K. (a.k.a. MITSUKURA BOEKI-KAISHA, LTD.; a.k.a. MITSUKURA CORPORATION; a.k.a. MITSUKURA TRADING COMPANY LIMITED), 4-1-13 Hachiman-dori, Chuo-Ku Kobe, Japan [CUBA]

MITSUKURA BOEKI-KAISHA, LTD. (a.k.a. MITSUKURA BOEKI K.K.; a.k.a. MITSUKURA CORPORATION; a.k.a. MITSUKURA TRADING COMPANY LIMITED), 2-26 Isobe-dori, 4-chome, Chuo-Ku Kobe, Japan [CUBA]

MITSUKURA BOEKI-KAISHA, LTD. (a.k.a. MITSUKURA BOEKI K.K.; a.k.a. MITSUKURA CORPORATION; a.k.a. MITSUKURA TRADING COMPANY LIMITED), 4-1-13 Hachiman-dori, Chuo-Ku Kobe, Japan [CUBA]

MITSUKURA CORPORATION (a.k.a. MITSUKURA BOEKI-KAISHA, LTD.; a.k.a. MITSUKURA BOEKI K.K.; a.k.a. MITSUKURA TRADING COMPANY LIMITED), 2-26 Isobe-dori, 4-chome, Chuo-Ku Kobe, Japan [CUBA]

MITSUKURA CORPORATION (a.k.a. MITSUKURA BOEKI-KAISHA, LTD.; a.k.a. MITSUKURA BOEKI K.K.; a.k.a. MITSUKURA TRADING COMPANY LIMITED), 4-1-13 Hachiman-dori, Chuo-Ku Kobe, Japan [CUBA]

MITSUKURA TRADING COMPANY LIMITED (a.k.a. MITSUKURA BOEKI-KAISHA, LTD.; a.k.a. MITSUKURA BOEKI K.K.; a.k.a. MITSUKURA CORPORATION), 2-26 Isobe-dori, 4-chome, Chuo-Ku Kobe, Japan [CUBA]

MITSUKURA TRADING COMPANY LIMITED (a.k.a. MITSUKURA BOEKI-KAISHA, LTD.; a.k.a. MITSUKURA BOEKI K.K.; a.k.a. MITSUKURA CORPORATION), 4-1-13 Hachiman-dori, Chuo-Ku Kobe, Japan [CUBA]

MKO (a.k.a. MEK; a.k.a. MUJAHEDIN-E KHALQ ORGANIZATION; a.k.a. MUJAHEDIN-E KHALQ; a.k.a. MUSLIM IRANIAN STUDENT'S SOCIETY; a.k.a. NATIONAL COUNCIL OF RESISTANCE (NCR); a.k.a. NATIONAL COUNCIL OF RESISTANCE OF IRAN; a.k.a. NATIONAL COUNCIL OF RESISTANCE; a.k.a. NCRI; a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN), including its U.S. representative offices and all other offices worldwide [FTO][SDGT]

MLADIC, Ratko; DOB 12 Mar 1943; POB Bozinovici, Bosnia-Herzegovina; ICTY indictee at large (individual) [BALKANS]

MNANGAGWA, Emmerson, Parliamentary Speaker of Zimbabwe; DOB 15 Sep 1946 (individual) [ZIMB]

MNASRI, Fethi Ben Rebai (a.k.a FETHI, Alic; a.k.a. “Amor;” a.k.a. “Abu Omar”), Via Toscana n.46, Bologna, Italy; Via di Saliceto n.51/9, Bologna, Italy; DOB 06 Mar 1969; POB Nefza, Tunisia (individual) [SDGT]

MOA NICKEL SA, Cuba [CUBA]

MOBIL OIL LIBYA, LTD. (n.k.a. VEBA OIL LIBYA GMBH; n.k.a. VEBA OIL LIBYAN BRANCH; n.k.a. VEBA OIL OPERATIONS B.V.), see listings (Designation applies only to joint venture located in Libya and office located in the Netherlands) [LIBYA]

MOCHTAR, Yasin Mahmud (a.k.a. “Abu Seta;” a.k.a. ABU MUAMAR; a.k.a. “Mahmud;” a.k.a. MUBAROK, Muhamad; a.k.a. SYAWAL, Muhammad; a.k.a. SYAWAL, Yassin; a.k.a. YASIN, Abdul Hadi; a.k.a. YASIN, Salim); DOB c. 1972; nationality Indonesian (individual) [SDGT]

MODERN ELECTRONIC COMPANY, Khartoum, Sudan [SUDAN]

MODERN FASHION CO. FOR TRADING AND MANUFACTURING OF CLOTHING, THE, Libya [LIBYA]

MODERN LAUNDRY BLUE FACTORY (a.k.a. THE MODERN LAUNDRY BLUE FACTORY), P.O. Box 2241, Khartoum, Sudan [SUDAN]

MODERN PLASTIC & CERAMICS INDUSTRIES COMPANY, Khartoum, Sudan [SUDAN]

MOGOLLON RUEDA, Eduardo, c/o ALFA PHARMA S.A., Bogota, Colombia; c/o DEPOSITO POPULAR DE DROGAS S.A., Cali, Colombia; c/o DISTRIBUIDORA DE DROGAS CONDOR LTDA., Bogota, Colombia; c/o INVERSIONES RODRIGUEZ MORENO Y CIA. S. EN C., Cali, Colombia; DOB 5 Feb 1953; Cedula No. 19194691 (Colombia) (individual) [SDNT]

MOHADI, Kembo, Minister of Home Affairs of Zimbabwe; DOB 15 Nov 1949 (individual) [ZIMB]

Mohamded Abdulla Imad (a.k.a. AL SAADI, Faraj Farj Hassan; a.k.a. Imad Mouhamed Abdellah; a.k.a. Muhamad Abdullah Imad; a.k.a. “Hamza Al Libi”), “last known address,” Viale Bligny 42, Milan, Italy; DOB 28 Nov 1980; POB Libya; alt. POB Gaza; alt. POB Jordan; alt. POB Palestine; nationality Libyan; alt. nationality Palestinian; alt. nationality Jordanian; arrested United Kingdom (individual) [SDGT]

MOHAMED, Abdul Kader Ibrahim, Jianguomenwai Diplomatic Housing Compound, Building 7-1, 5th Floor, Apartment 4, Beijing, People's Republic of China (individual) [IRAQ]

MOHAMED, Daki, “last known address,” Via Melato 11, Reggio Emilia, Italy; DOB March 29, 1965; POB Casablanca, Morocco; nationality Moroccan; arrested 4 Apr 2003 (individual) [SDGT]

MOHAMMED, Fazul (a.k.a. MOHAMMED, Fazul Abdullah; a.k.a. ABDALLA, Fazul; a.k.a. ADBALLAH, Fazul; a.k.a. AISHA, Abu; a.k.a. AL SUDANI, Abu Seif; a.k.a. ALI, Fadel Abdallah Mohammed; a.k.a. FAZUL, Abdalla; a.k.a. FAZUL, Abdallah; a.k.a. FAZUL, Abdallah Mohammed; a.k.a. FAZUL, Haroon; a.k.a. FAZUL, Harun; a.k.a. HAROON; a.k.a. HAROUN, Fadhil; a.k.a. HARUN; a.k.a. LUQMAN, Abu; a.k.a. MOHAMMED, Fazul Abdilahi; a.k.a. MOHAMMED, Fouad; a.k.a. MUHAMAD, Fadil Abdallah); DOB 25 Aug 1972; alt. DOB 25 Dec 1974; alt. DOB 25 Feb 1974; POB Moroni, Comoros Islands; citizen Comoros; alt. citizen Kenya (individual) [SDGT]

MOHAMMED, Fazul Abdilahi (a.k.a. MOHAMMED, Fazul Abdullah; a.k.a. ABDALLA, Fazul; a.k.a. ADBALLAH, Fazul; a.k.a. AISHA, Abu; a.k.a. AL SUDANI, Abu Seif; a.k.a. ALI, Fadel Abdallah Mohammed; a.k.a. FAZUL, Abdalla; a.k.a. FAZUL, Abdallah; a.k.a. FAZUL, Abdallah Mohammed; a.k.a. FAZUL, Haroon; a.k.a. FAZUL, Harun; a.k.a. HAROON; a.k.a. HAROUN, Fadhil; a.k.a. HARUN; a.k.a. LUQMAN, Abu; a.k.a. MOHAMMED, Fazul; a.k.a. MOHAMMED, Fouad; a.k.a. MUHAMAD, Fadil Abdallah); DOB 25 Aug 1972; alt. DOB 25 Dec 1974; alt. DOB 25 Feb 1974; POB Moroni, Comoros Islands; citizen Comoros; alt. citizen Kenya (individual) [SDGT]

MOHAMMED, Fazul Abdullah (a.k.a. ABDALLA, Fazul; a.k.a. ADBALLAH, Fazul; a.k.a. AISHA, Abu; a.k.a. AL SUDANI, Abu Seif; a.k.a. ALI, Fadel Abdallah Mohammed; a.k.a. FAZUL, Abdalla; a.k.a. FAZUL, Abdallah; a.k.a. FAZUL, Abdallah Mohammed; a.k.a. FAZUL, Haroon; a.k.a. FAZUL, Harun; a.k.a. HAROON; a.k.a. HAROUN, Fadhil; a.k.a. HARUN; a.k.a. LUQMAN, Abu; a.k.a. MOHAMMED, Fazul; a.k.a. MOHAMMED, Fazul Abdilahi; a.k.a. MOHAMMED, Fouad; a.k.a. MUHAMAD, Fadil Abdallah); DOB 25 Aug 1972; alt. DOB 25 Dec 1974; alt. DOB 25 Feb 1974; POB Moroni, Comoros Islands; citizen Comoros; alt. citizen Kenya (individual) [SDGT]

MOHAMMED, Fouad (a.k.a. MOHAMMED, Fazul Abdullah; a.k.a. ABDALLA, Fazul; a.k.a. ADBALLAH, Fazul; a.k.a. AISHA, Abu; a.k.a. AL SUDANI, Abu Seif; a.k.a. ALI, Fadel Abdallah Mohammed; a.k.a. FAZUL, Abdalla; a.k.a. FAZUL, Abdallah; a.k.a. FAZUL, Abdallah Mohammed; a.k.a. FAZUL, Haroon; a.k.a. FAZUL, Harun; a.k.a. HAROON; a.k.a. HAROUN, Fadhil; a.k.a. HARUN; a.k.a. LUQMAN, Abu; a.k.a. MOHAMMED, Fazul; a.k.a. MOHAMMED, Fazul Abdilahi; a.k.a. MUHAMAD, Fadil Abdallah); DOB 25 Aug 1972; alt. DOB 25 Dec 1974; alt. DOB 25 Feb 1974; POB Moroni, Comoros Islands; citizen Comoros; alt. citizen Kenya (individual) [SDGT]

MOHAMMED, Khalid Shaikh (a.k.a. ALI, Salem; a.k.a. BIN KHALID, Fahd Bin Adballah; a.k.a. HENIN, Ashraf Refaat Nabith; a.k.a. WADOOD, Khalid Adbul); DOB 14 Apr 1965; alt. DOB 1 Mar 1964; POB Kuwait; citizen Kuwait (individual) [SDGT]

MOHAMMED, Mustafa (a.k.a. FADHIL, Mustafa Mohamed; a.k.a. AL MASRI, Abd Al Wakil; a.k.a. AL-NUBI, Abu; a.k.a. ALI, Hassan; a.k.a. ANIS, Abu; a.k.a. ELBISHY, Moustafa Ali; a.k.a. FADIL, Mustafa Muhamad; a.k.a. FAZUL, Mustafa; a.k.a. HUSSEIN; a.k.a. JIHAD, Abu; a.k.a. KHALID; a.k.a. MAN, Nu; a.k.a. YUSSRR, Abu); DOB 23 Jun 1976; POB Cairo, Egypt; citizen Egypt; alt. citizen Kenya; Kenyan ID No. 12773667; Serial No. 201735161 (individual) [SDGT]

MOHAMMED, Shariff Omar (a.k.a. GHAILANI, Ahmed Khalfan; a.k.a. “AHMED THE TANZANIAN;” a.k.a. “FOOPIE;” a.k.a. “FUPI;” a.k.a. AHMAD, Abu Bakr; a.k.a. AHMED, A.; a.k.a. AHMED, Abubakar; a.k.a. AHMED, Abubakar K.; a.k.a. AHMED, Abubakar Khalfan; a.k.a. AHMED, Abubakary K.; a.k.a. AHMED, Ahmed Khalfan; a.k.a. AL TANZANI, Ahmad; a.k.a. ALI, Ahmed Khalfan; a.k.a. BAKR, Abu; a.k.a. GHAILANI, Abubakary Khalfan Ahmed; a.k.a. GHAILANI, Ahmed; a.k.a. GHILANI, Ahmad Khalafan; a.k.a. HUSSEIN, Mahafudh Abubakar Ahmed Abdallah; a.k.a. KHABAR, Abu; a.k.a. KHALFAN, Ahmed); DOB 14 Mar 1974; alt. DOB 13 Apr 1974; alt. DOB 14 Apr 1974; alt. DOB 1 Aug 1970; POB Zanzibar, Tanzania; citizen Tanzania (individual) [SDGT]

MOHAMMED'S ARMY (a.k.a. ARMY OF MOHAMMED; a.k.a. JAISH-I-MOHAMMED; a.k.a. JAISH-E-MOHAMMED; a.k.a. KHUDAMUL ISLAM; a.k.a. KHUDDAM-UL-ISLAM; a.k.a. KUDDAM E ISLAMI; a.k.a. TEHRIK UL-FURQAAN), Pakistan [FTO] [SDGT]

MOLINA CARACAS, Tomas (a.k.a. “Arturo Guevara;” a.k.a. CASTILLO CORTES, Miguel Angel; a.k.a. “El Patron;” a.k.a. “Jorge Medina;” a.k.a. MEDINA CARACAS, Tomas; a.k.a. “Negro Acacio”); DOB 15 Mar 1965; POB Lopez De Micay, Cauca, Colombia (individual) [SDNTK]

MOLINA CARACAS, Tomas (a.k.a. “Arturo Guevara;” a.k.a. CASTILLO CORTES, Miguel Angel; a.k.a. “El Patron;” a.k.a. “Jorge Medina;” a.k.a. MEDINA CARACAS, Tomas; a.k.a. “Negro Acacio”); DOB 15 Mar 1965; POB Lopez De Micay, Cauca, Colombia (individual) [SDNTK]

MOMBESHORA, Swithun, Minister of Higher Education of Zimbabwe; DOB 20 Aug 1945 (individual) [ZIMB]

MOMPAX LTDA. (n.k.a. INVERSIONES Y CONSTRUCCIONES ATLAS LTDA.; f.k.a. INVERSIONES MOMPAX LTDA.), Calle 10 No. 4-47 piso 19, Cali, Colombia; NIT # 800102408-1 (Colombia) [SDNT]

MONDRAGON AVILA, Alicia, c/o INVERSIETE S.A., Cali, Colombia; c/o INVERSIONES Y CONSTRUCCIONES COSMOVALLE LTDA., Cali, Colombia; c/o INVERSIONES Y DISTRIBUCIONES A M M LTDA., Cali, Colombia; DOB 26 Oct 1936; Cedula No. 29086016 (Colombia) (individual) [SDNT]

MONDRAGON DE RODRIGUEZ, Mariela, c/o COMPAX LTDA., Cali, Colombia; c/o CORPORACION DEPORTIVA AMERICA, Cali, Colombia; c/o CREDIREBAJA S.A., Cali, Colombia; c/o INVERSIONES MONDRAGON Y CIA. S.C.S., Cali, Colombia; c/o INVERSIONES Y CONSTRUCCIONES COSMOVALLE LTDA., Cali, Colombia; c/o INVERSIONES Y DISTRIBUCIONES A M M LTDA., Cali, Colombia; c/o LABORATORIOS KRESSFOR DE COLOMBIA S.A., Bogota, Colombia; c/o MARIELA DE RODRIGUEZ Y CIA. S. EN C., Cali, Colombia; c/o MARIELA MONDRAGON DE R. Y CIA. S. EN C., Cali, Colombia; DOB 12 Apr 1935; Passport 4436059 (Colombia); Cedula No. 29072613 (Colombia) (individual) [SDNT]

MONET TRADING COMPANY, Panama [CUBA]

MONROY ARCILA, Francisco Jose, c/o COMPANIA ADMINISTRADORA DE VIVIENDA S.A., Cali, Colombia; c/o CONSTRUCTORA DIMISA LTDA., Cali, Colombia; c/o INVERSIONES EL PENON, Cali, Colombia; c/o INVERSIONES GEMINIS S.A., Cali, Colombia; Cedula No. 79153691 (Colombia) (individual) [SDNT]

MONSALVE HERNANDEZ, Laris, c/o COMERCIALIZADORA DE PRODUCTOS FARMACEUTICOS LTDA., Ibague, Colombia; c/o MATERIAS PRIMAS Y SUMINISTROS S.A., Bogota, Colombia; DOB 10 Apr 1953; Passport 41590169 (Colombia); Cedula No. 41590169 (Colombia) (individual) [SDNT]

MONTANA MANAGEMENT INC. (a.k.a. MIDCO FINANCIAL S.A.; a.k.a. MIDCO FINANCE S.A.), 57 Rue du Rhone, CH-1204 Geneva, Switzerland [IRAQ]

MONTANEZ, Michael, Panama (individual) [CUBA]

MONTANO ALVAREZ, Luis Hernando, Carrera 16A No. 33D-20, Cali, Colombia; c/o GRANJA LA SIERRA LTDA., Cali, Colombia; Passport 16671124 (Colombia); Cedula No. 16671124 (Colombia) (individual) [SDNT]

MONTANO BERMUDEZ, Libardo, c/o LABORATORIOS GENERICOS VETERINARIOS, Bogota, Colombia; Cedula No. 17083296 (Colombia) (individual) [SDNT]

MONTES OCAMPO, Jose Alberto, Carrera 4 No. 12-20 of. 206, Cartago, Valle, Colombia; c/o AGRICOLA DOIMA DEL NORTE DEL VALLE LTDA., Cartago, Valle, Colombia; c/o GANADERIA EL VERGEL LTDA., Cartago, Valle, Colombia; c/o GANADERIAS BILBAO LTDA., Cartago, Valle, Colombia; DOB 24 Feb 1965; Passport 79339330 (Colombia); Cedula No. 79339330 (Colombia) (individual) [SDNT]

MONTOYA LUNA E HIJOS Y CIA. S.C.S., Carrera 85B No. 13A-136, Cali, Colombia; NIT # 800077316-5 (Colombia) [SDNT]

MONTOYA MARTINEZ, Juan Carlos, c/o AGROPECUARIA BETANIA LTDA., Cali, Colombia; c/o AGROPECUARIA LA ROBLEDA S.A., Cali, Colombia; c/o INDUSTRIA AVICOLA PALMASECA S.A., Cali, Colombia; c/o INVERSIONES VILLA PAZ S.A., Cali, Colombia; Cedula No. 16801475 (Colombia) (individual) [SDNT]

MONTOYA SANCHEZ, Diego Leon, Diagonal 27 No. 27-104, Cali, Colombia; c/o INVERSIONES LA QUINTA Y CIA. LTDA., Cali, Colombia; c/o LADRILLERA LA CANDELARIA LTDA., Cali, Colombia; c/o MONTOYA LUNA E HIJOS Y CIA. S.C.S., Cali, Colombia; DOB 11 Jan 1958; POB Trujillo, Valle, Colombia; Passport 16348515 (Colombia); Cedula No. 16348515 (Colombia) (individual) [SDNT]

MONTOYA SANCHEZ, Eugenio (a.k.a. CARVAJAL TAFURT, Hector Fabio), Diagonal 27 No. 27-104, Cali, Colombia; Calle 7 No. 45-25, Cali, Colombia; c/o LADRILLERA LA CANDELARIA LTDA., Cali, Colombia; DOB 17 Apr 1970, alt. DOB 15 Apr 1972; POB Trujillo, Valle, Colombia; Passports AC814028 (Colombia), 94307307 (Colombia) 16836750 (Colombia); Cedula No. 94307307 (Colombia), 16836750 (Colombia) (individual) [SDNT]

MONTOYA SANCHEZ, Juan Carlos, Carrera 85B No. 13A-136, Cali, Colombia; c/o MONTOYA LUNA E HIJOS Y CIA. S.C.S., Cali, Colombia; DOB 3 Sep 1962; POB Riofrio, Valle, Colombia; Passport 16357049 (Colombia); Cedula No. 16357049 (Colombia) (individual) [SDNT]

MOONEX INTERNATIONAL, S.A., Kingston, Jamaica [CUBA]

MOONEX INTERNATIONAL, S.A., Panama [CUBA]

MORALES CASTRILLON, Victor Hugo, c/o TAURA S.A., Cali, Colombia; Cedula No. 16620349 (Colombia) (individual) [SDNT]

MORALES LUYO, Luis Jaime, c/o COLFARMA PERU S.A., Lima, Peru; LE 08195408 (Peru)(individual) [SDNT]

MORALES ROBLEDO, Nicolas Abdul, c/o AGRO MASCOTAS S.A., Bogota, Colombia; Passport 16686544 (Colombia); Cedula No. 16686544 (Colombia) (individual) [SDNT]

MORAN GUERRERO, Mario Fernando, c/o COINTERCOS S.A., Bogota, Colombia; c/o LABORATORIOS KRESSFOR, Bogota, Colombia; c/o PENTACOOP LTDA., Bogota, Colombia; c/o PENTA PHARMA DE COLOMBIA S.A., Bogota, Colombia; Cedula No. 12983857 (Colombia) (individual) [SDNT]

MORCILLO TORRES, Gracia; member ETA; DOB 15 Mar 1967; POB San Sebastian (Guipuzcoa Province), Spain; D.N.I. 72.439.052 (individual) [SDGT]

MORENO, Carlos Arturo, c/o INVERSIONES EL PENON S.A., Cali, Colombia; Cedula No. 14264233 (Colombia) (individual) [SDNT]

MORENO DAZA, Ricardo Alfredo, Carrera 38D No. 4B-57, Cali, Colombia; c/o GALAPAGOS S.A., Cali, Colombia; c/o TAURA S.A., Cali, Colombia; Cedula No. 16631400 (Colombia) (individual) [SDNT]

MORENO MEDINA, Luis Ignacio, Calle Guadalupe Victoria 6, Colonia Lomas Hipodromo, Tijuana, Baja California, Mexico; Calle Guadalupe Victoria 9, Colonia Lomas Hipodromo, Tijuana, Baja California, Mexico; Avenida David Alfaro Siqueiros 2789-102, Colonia Zona Rio, Tijuana, Baja California, Mexico; Avenida de las Americas 3048, Fraccionamiento El Paraiso, Tijuana, Baja California, Mexico; c/o FARMACIA VIDA SUPREMA, S.A. DE C.V., Tijuana Baja California, Mexico; c/o DISTRIBUIDORA IMPERIAL DE BAJA CALIFORNIA, S.A. de C.V., Tijuana, Baja California, Mexico; c/o ADMINISTRADORA DE INMUEBLES VIDA, S.A. de C.V., Tijuana, Baja California, Mexico; c/o ADP, S.C., Tijuana, Baja California, Mexico; c/o FORPRES, S.C., Tijuana, Baja California, Mexico; c/o ACCESOS ELECTRONICOS, S.A. de C.V., Tijuana, Baja California, Mexico; c/o OPERADORA VALPARK, S.A. de C.V., Tijuana, Baja California, Mexico; c/o VALPARK, S.A. de C.V., Tijuana, Baja California, Mexico; c/o GEX EXPLORE, S. de R.L. de C.V., Tijuana, Baja California, Mexico; DOB 26 May 1953; POB Distrito Federal, Mexico; Passport No. 96020025125 (Mexico), Passport No. ATIJ07154 (Mexico); R.F.C.# MOML-530526-ED4 (Mexico) (individual) [SDNTK]

MORINA, Xhavit; DOB 13 Sep 1963; POB Drenovc (individual) [BALKANS]

MOROCCAN ISLAMIC COMBATANT GROUP (a.k.a. GICM; a.k.a. GROUPE ISLAMIQUE COMBATTANT MAROCAIN) [SDGT]

MOSCOSO MONTES, Nelly Fabiola, c/o ADMACOOP, Bogota, Colombia; c/o CODISA, Bogota, Colombia; c/o FARMACOOP, Bogota, Colombia; DOB 5 May 1964; Passport 51740771 (Colombia); Cedula No. 51740771 (Colombia) (individual) [SDNT]

MOSQUERA, Juan Carlos, Calle 24N No. 6-17, Cali, Colombia; c/o INMOBILIARIA U.M.V. S.A., Cali, Colombia (individual) [SDNT]

MOSQUERA MAYA, Maria Alejandra (a.k.a. SANTACOLOMA, Maria Alejandra), 14420 NW 16th St., Pembroke Pines, FL 33028; c/o ASH TRADING, INC., Pembroke Pines, Florida, U.S.A.; DOB 22 Sep 1973; Passport 34564670 (Colombia); Cedula No. 34564670 (Colombia) (individual) [SDNT]

MOSTAFA, Mohamed Amin, “last known address,” Via della Martinella 132, Parma, Italy; DOB 11 Oct 1975; POB Karkuk, Iraq; nationality Iraqi (Kurdish); arrested 31 Mar 2003 (individual) [SDGT]

MOUSTFA, Djamel (a.k.a. “Ali Barkani;” a.k.a. a.k.a. KALED, Belkasam; a.k.a. “Moustafa”); “last known address,” c/o Birgit Melani Schroeder, Kuehlungsborner Strasse 30, 22147 Hamburg, Germany; DOB 28 Sep 1973; alt. DOB 31 Dec 1979; alt. DOB 22 Aug 1973; POB Tiaret, Algeria; alt. POB Morocco; nationality Algerian; arrested 23 Apr 2002; currently in remand at 20355 Hamburg Holstenglacis 3, Germany (individual) [SDGT]

MOYO, Jonathan, Minister of Information of Zimbabwe; DOB 12 Jan 1957 (individual) [ZIMB]

MOYO, July, Minister of Public Service, Labor and Social Welfare of Zimbabwe; DOB 7 May 1950 (individual) [ZIMB]

MOYO, Simon Khaya, Deputy-Secretary for Legal Affairs of Zimbabwe; DOB 1945 (individual) [ZIMB]

MPOFU, Obert, Deputy-Secretary for National Security of Zimbabwe; DOB 12 Oct 1951 (individual) [ZIMB]

MRDJA, Darko; DOB 28 Jun 1967; POB Zagreb, Croatia; ICTY indictee (individual) [BALKANS]

MRKSIC, Milan; DOB 20 Jul 1947; POB Vrginmost, Croatia; ICTY indictee in custody (individual) [BALKANS]

MSALAM, Fahad Ally (a.k.a. MSALAM, Fahid Mohammed Ally; a.k.a. AL-KINI, Usama; a.k.a. ALLY, Fahid Mohammed; a.k.a. MSALAM, Fahid Mohammed Ali; a.k.a. MSALAM, Mohammed Ally; a.k.a. MUSALAAM, Fahid Mohammed Ali; a.k.a. SALEM, Fahid Muhamad Ali); DOB 19 Feb 1976; POB Mombasa, Kenya; citizen Kenya (individual) [SDGT]

MSALAM, Fahid Mohammed Ali (a.k.a. MSALAM, Fahid Mohammed Ally; a.k.a. AL-KINI, Usama; a.k.a. ALLY, Fahid Mohammed; a.k.a. MSALAM, Fahad Ally; a.k.a. MSALAM, Mohammed Ally; a.k.a. MUSALAAM, Fahid Mohammed Ali; a.k.a. SALEM, Fahid Muhamad Ali); DOB 19 Feb 1976; POB Mombasa, Kenya; citizen Kenya (individual) [SDGT]

MSALAM, Fahid Mohammed Ally (a.k.a. AL-KINI, Usama; a.k.a. ALLY, Fahid Mohammed; a.k.a. MSALAM, Fahad Ally; a.k.a. MSALAM, Fahid Mohammed Ali; a.k.a. MSALAM, Mohammed Ally; a.k.a. MUSALAAM, Fahid Mohammed Ali; a.k.a. SALEM, Fahid Muhamad Ali); DOB 19 Feb 1976; POB Mombasa, Kenya; citizen Kenya (individual) [SDGT]

MSALAM, Mohammed Ally (a.k.a. MSALAM, Fahid Mohammed Ally; a.k.a. AL-KINI, Usama; a.k.a. ALLY, Fahid Mohammed; a.k.a. MSALAM, Fahad Ally; a.k.a. MSALAM, Fahid Mohammed Ali; a.k.a. MUSALAAM, Fahid Mohammed Ali; a.k.a. SALEM, Fahid Muhamad Ali); DOB 19 Feb 1976; POB Mombasa, Kenya; citizen Kenya (individual) [SDGT]

MSIKA, Joseph, Vice President of Zimbabwe; DOB 6 Dec 1923 (individual) [ZIMB]

MU'ASA AL-AQSA AL-KHAYRIYYA (a.k.a. AL-AQSA (ASBL); a.k.a. AL-AQSA SPANMAL STIFTELSE; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASSA SANABIL AL-AQSA AL-KHAYRIYYA; a.k.a. SANABIL AL-AQSA CHARITABLE FOUNDATION; a.k.a. STICHTING AL-AQSA; a.k.a. SWEDISH CHARITABLE AQSA EST.), BD Leopold II 71, 1080 Brussels, Belgium [SDGT]

MU'ASA AL-AQSA AL-KHAYRIYYA (a.k.a. AL-AQSA E.V.; a.k.a. AL-AQSA SPANMAL STIFTELSE; a.k.a. AL-AQSA ASBL; a.k.a. AL-AQSA CHARITABLE FOUNDATION; a.k.a. AL-AQSA CHARITABLE ORGANIZATION; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASSA SANABIL AL-AQSA AL-KHAYRIYYA; a.k.a. SANABIL AL-AQSA CHARITABLE FOUNDATION; a.k.a. STICHTING AL-AQSA; a.k.a. SWEDISH CHARITABLE AQSA EST.), Kappellenstrasse 36, D-52066, Aachen, Germany [SDGT]

MU'ASA AL-AQSA AL-KHAYRIYYA (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 2364, Islamabad, Pakistan [SDGT]

MU'ASA AL-AQSA AL-KHAYRIYYA (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 421082, 2nd Floor, Amoco Gardens, 40 Mint Road, Fordsburg 2033, Johannesburg, South Africa; P.O. Box 421083, 2nd Floor, Amoco Gardens, 40 Mint Road, Fordsburg 2033, Johannesburg, South Africa [SDGT]

MU'ASA AL-AQSA AL-KHAYRIYYA (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASSA SANABIL AL-AQSA AL-KHAYRIYYA; a.k.a. SANABIL AL-AQSA CHARITABLE FOUNDATION; a.k.a. STICHTING AL-AQSA; a.k.a. SWEDISH CHARITABLE AQSA EST.) [SDGT]

MU'ASA AL-AQSA AL-KHAYRIYYA (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASSA SANABIL AL-AQSA AL-KHAYRIYYA; a.k.a. SANABIL AL-AQSA CHARITABLE FOUNDATION; a.k.a. STICHTING AL-AQSA; a.k.a. SWEDISH CHARITABLE AQSA EST.), Nobelvagen 79 NB, 21433 Malmo, Sweden; Noblev 79 NB, 21433 Malmo, Sweden [SDGT]

MU'ASA AL-AQSA AL-KHAYRIYYA (a.k.a. AQSSA SOCIETY YEMEN; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 14101, San'a, Yemen [SDGT]

MU'ASA AL-AQSA AL-KHAYRIYYA (a.k.a. FORENINGEN AL-AQSA; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. ISLAMIC CHARITABLE SOCIETY FOR AL-AQSA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 6222200KBKN, Copenhagen, Denmark [SDGT]

MU'ASA AL-AQSA AL-KHAYRIYYA (a.k.a. STICHTING AL-AQSA; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASSA SANABIL AL-AQSA AL-KHAYRIYYA; a.k.a. SANABIL AL-AQSA CHARITABLE FOUNDATION; a.k.a. SWEDISH CHARITABLE AQSA EST.), Gerrit V/D Lindestraat 103 E, 03022 TH, Rotterdam, Holland; Gerrit V/D Lindestraat 103 A, 3022 TH, Rotterdam, Holland [SDGT]

MU'ASSA SANABIL AL-AQSA AL-KHAYRIYYA (a.k.a. AL-AQSA (ASBL); a.k.a. AL-AQSA SPANMAL STIFTELSE; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. SANABIL AL-AQSA CHARITABLE FOUNDATION; a.k.a. STICHTING AL-AQSA; a.k.a. SWEDISH CHARITABLE AQSA EST.), BD Leopold II 71, 1080 Brussels, Belgium [SDGT]

MU'ASSA SANABIL AL-AQSA AL-KHAYRIYYA (a.k.a. AL-AQSA E.V.; a.k.a. AL-AQSA SPANMAL STIFTELSE; a.k.a. AL-AQSA ASBL; a.k.a. AL-AQSA CHARITABLE FOUNDATION; a.k.a. AL-AQSA CHARITABLE ORGANIZATION; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. SANABIL AL-AQSA CHARITABLE FOUNDATION; a.k.a. STICHTING AL-AQSA; a.k.a. SWEDISH CHARITABLE AQSA EST.), Kappellenstrasse 36, D-52066, Aachen, Germany [SDGT]

MU'ASSA SANABIL AL-AQSA AL-KHAYRIYYA (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. SANABIL AL-AQSA CHARITABLE FOUNDATION; a.k.a. STICHTING AL-AQSA; a.k.a. SWEDISH CHARITABLE AQSA EST.), P.O. Box 421082, 2nd Floor, Amoco Gardens, 40 Mint Road, Fordsburg 2033, Johannesburg, South Africa; P.O. Box 421083, 2nd Floor, Amoco Gardens, 40 Mint Road, Fordsburg 2033, Johannesburg, South Africa [SDGT]

MU'ASSA SANABIL AL-AQSA AL-KHAYRIYYA (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. SANABIL AL-AQSA CHARITABLE FOUNDATION; a.k.a. STICHTING AL-AQSA; a.k.a. SWEDISH CHARITABLE AQSA EST.), P.O. Box 2364, Islamabad, Pakistan [SDGT]

MU'ASSA SANABIL AL-AQSA AL-KHAYRIYYA (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. SANABIL AL-AQSA CHARITABLE FOUNDATION; a.k.a. STICHTING AL-AQSA; a.k.a. SWEDISH CHARITABLE AQSA EST.) [SDGT]

MU'ASSA SANABIL AL-AQSA AL-KHAYRIYYA (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. SANABIL AL-AQSA CHARITABLE FOUNDATION; a.k.a. STICHTING AL-AQSA; a.k.a. SWEDISH CHARITABLE AQSA EST.), Nobelvagen 79 NB, 21433 Malmo, Sweden; Noblev 79 NB, 21433 Malmo, Sweden [SDGT]

MU'ASSA SANABIL AL-AQSA AL-KHAYRIYYA (a.k.a. AQSSA SOCIETY YEMEN; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. SANABIL AL-AQSA CHARITABLE FOUNDATION; a.k.a. STICHTING AL-AQSA; a.k.a. SWEDISH CHARITABLE AQSA EST.), P.O. Box 14101, San'a, Yemen [SDGT]

MU'ASSA SANABIL AL-AQSA AL-KHAYRIYYA (a.k.a. FORENINGEN AL-AQSA; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. ISLAMIC CHARITABLE SOCIETY FOR AL-AQSA; a.k.a. MU'ASA AL-AQSA AL-KHAYRIYYA; a.k.a. SANABIL AL-AQSA CHARITABLE FOUNDATION; a.k.a. STICHTING AL-AQSA; a.k.a. SWEDISH CHARITABLE AQSA EST.), P.O. Box 6222200KBKN, Copenhagen, Denmark [SDGT]

MU'ASSA SANABIL AL-AQSA AL-KHAYRIYYA (a.k.a. STICHTING AL-AQSA; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. SANABIL AL-AQSA CHARITABLE FOUNDATION; a.k.a. SWEDISH CHARITABLE AQSA EST.), Gerrit V/D Lindestraat 103 E, 03022 TH, Rotterdam, Holland; Gerrit V/D Lindestraat 103 A, 3022 TH, Rotterdam, Holland [SDGT]

MU'ASSASAT AL-HARAMAIN AL-KHAYRIYYA (a.k.a. AL-HARAMAIN: Kenya Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAYN AL-KHAYRIYYA; a.k.a. MU'ASSASAT AL-HARAMEIN AL-KHAYRIYYA; a.k.a. VAZIR; a.k.a. VEZIR), Daddb, Kenya; Garissa, Kenya; Nairobi, Kenya [SDGT]

MU'ASSASAT AL-HARAMAIN AL-KHAYRIYYA (a.k.a. AL-HARAMAIN: Pakistan Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAYN AL-KHAYRIYYA; a.k.a. MU'ASSASAT AL-HARAMEIN AL-KHAYRIYYA; a.k.a. VAZIR; a.k.a. VEZIR), House #279, Nazimuddin Road, F-10/1, Islamabad, Pakistan [SDGT]

MU'ASSASAT AL-HARAMAIN AL-KHAYRIYYA (a.k.a. AL-HARAMAIN: Tanzania Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAYN AL-KHAYRIYYA; a.k.a. MU'ASSASAT AL-HARAMEIN AL-KHAYRIYYA; a.k.a. VAZIR; a.k.a. VEZIR), P.O. Box 3616, Dar es Salaam, Tanzania; Singida, Tanzania; Tanga, Tanzania [SDGT]

MU'ASSASAT AL-HARAMAIN AL-KHAYRIYYA (a.k.a. AL-HARAMAIN: United States Branch; a.k.a. AL HARAMAIN FOUNDATION, INC.; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAYN AL-KHAYRIYYA; a.k.a. MU'ASSASAT AL-HARAMEIN AL-KHAYRIYYA; a.k.a. VAZIR; a.k.a. VEZIR), 1257 Siskiyou Boulevard, Ashland, OR 97520, U.S.A.; 3800 Highway 99S., Ashland, OR 97520-8718, U.S.A.; 2151 E. Division Street, Springfield, MO 65803, U.S.A. [BPI-PA]

MU'ASSASAT AL-HARAMAIN AL-KHAYRIYYA (a.k.a. AL-HARAMAIN; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAYN AL-KHAYRIYYA; a.k.a. MU'ASSASAT AL-HARAMEIN AL-KHAYRIYYA; a.k.a. VAZIR; a.k.a. VEZIR), 64 Poturmahala, Travnik, Bosnia-Herzegovina [SDGT]

MU'ASSASAT AL-HARAMAYN AL-KHAYRIYYA (a.k.a. AL-HARAMAIN: Kenya Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMEIN AL-KHAYRIYYA; a.k.a. VAZIR; a.k.a. VEZIR), Daddb, Kenya; Garissa, Kenya; Nairobi, Kenya [SDGT]

MU'ASSASAT AL-HARAMAYN AL-KHAYRIYYA (a.k.a. AL-HARAMAIN: Pakistan Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMEIN AL-KHAYRIYYA; a.k.a. VAZIR; a.k.a. VEZIR), House #279, Nazimuddin Road, F-10/1, Islamabad, Pakistan [SDGT]

MU'ASSASAT AL-HARAMAYN AL-KHAYRIYYA (a.k.a. AL-HARAMAIN: Tanzania Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMEIN AL-KHAYRIYYA; a.k.a. VAZIR; a.k.a. VEZIR), P.O. Box 3616, Dar es Salaam, Tanzania; Singida, Tanzania; Tanga, Tanzania [SDGT]

MU'ASSASAT AL-HARAMAYN AL-KHAYRIYYA (a.k.a. AL-HARAMAIN: United States Branch; a.k.a. AL HARAMAIN FOUNDATION, INC.; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMEIN AL-KHAYRIYYA; a.k.a. VAZIR; a.k.a. VEZIR), 1257 Siskiyou Boulevard, Ashland, OR 97520, U.S.A.; 3800 Highway 99S., Ashland, OR 97520-8718, U.S.A.; 2151 E. Division Street, Springfield, MO 65803, U.S.A. [BPI-PA]

MU'ASSASAT AL-HARAMAYN AL-KHAYRIYYA (a.k.a. AL-HARAMAIN; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMEIN AL-KHAYRIYYA; a.k.a. VAZIR; a.k.a. VEZIR), 64 Poturmahala, Travnik, Bosnia-Herzegovina [SDGT]

MU'ASSASAT AL-HARAMEIN AL-KHAYRIYYA (a.k.a. AL-HARAMAIN: Kenya Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. VAZIR; a.k.a. VEZIR), Daddb, Kenya; Garissa, Kenya; Nairobi, Kenya [SDGT]

MU'ASSASAT AL-HARAMEIN AL-KHAYRIYYA (a.k.a. AL-HARAMAIN: Pakistan Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. VAZIR; a.k.a. VEZIR), House #279, Nazimuddin Road, F-10/1, Islamabad, Pakistan [SDGT]

MU'ASSASAT AL-HARAMEIN AL-KHAYRIYYA (a.k.a. AL-HARAMAIN: Tanzania Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. VAZIR; a.k.a. VEZIR), P.O. Box 3616, Dar es Salaam, Tanzania; Singida, Tanzania; Tanga, Tanzania [SDGT]

MU'ASSASAT AL-HARAMEIN AL-KHAYRIYYA (a.k.a. AL-HARAMAIN: United States Branch; a.k.a. AL HARAMAIN FOUNDATION, INC.; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. VAZIR; a.k.a. VEZIR), 1257 Siskiyou Boulevard, Ashland, OR 97520, U.S.A.; 3800 Highway 99S., Ashland, OR 97520-8718, U.S.A.; 2151 E. Division Street, Springfield, MO 65803, U.S.A. [BPI-PA]

MU'ASSASAT AL-HARAMEIN AL-KHAYRIYYA (a.k.a. AL-HARAMAIN; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. VAZIR; a.k.a. VEZIR), 64 Poturmahala, Travnik, Bosnia-Herzegovina [SDGT]

MUBARAK, Umid Medhat (a.k.a. MUBARAK Umid Midhat), Minister of Health; DOB ca. 1940; Iraq (individual) [IRAQ]

MUBARAK, Umid Midhat (a.k.a. MUBARAK Umid Medhat), Minister of Health; DOB ca. 1940; Iraq (individual) [IRAQ]

MUBAROK, Muhamad (a.k.a. “Abu Seta;” a.k.a. ABU MUAMAR; a.k.a. “Mahmud;” a.k.a. MOCHTAR, Yasin Mahmud; a.k.a. SYAWAL, Muhammad; a.k.a. SYAWAL, Yassin; a.k.a. YASIN, Abdul Hadi; a.k.a. YASIN, Salim); DOB c. 1972; nationality Indonesian (individual) [SDGT]

MUCHENA, Olivia, Minister of State for Science and Technology Development of Zimbabwe; DOB 18 Aug 1946 (individual) [ZIMB]

MUCHINGURI, Opah, Politburo Secretary for Gender and Culture of Zimbabwe; DOB 14 Dec 1958 (individual) [ZIMB]

Muchlas (a.k.a. “Sofwan;” a.k.a. AL MUKHLAS, Ali Gufron; a.k.a. GHUFRON, Ali; a.k.a. GUFRON, Ali; a.k.a. HAQ, Huda bin Abdul; a.k.a. Mukhlas; a.k.a. Muklas); DOB 9 Feb 1960; alt. DOB 2 Feb 1960; POB Solokuro subdistrict, Lamongan district, East Java province, Indonesia; nationality Indonesian (individual) [SDGT]

MUCIC, Zdravko; DOB 31 Aug 1955; ICTY indictee (individual) [BALKANS]

MUDENGE, Stan, Minister of Foreign Affairs of Zimbabwe; DOB 17 Dec 1948 (individual) [ZIMB]

MUGABE, Grace, President of Zimbabwe's “First Lady;” DOB 23 Jul 1965 (individual) [ZIMB]

MUGABE, Robert Gabriel, President of Zimbabwe; DOB 21 Feb 1924 (individual) [ZIMB]

MUGABE, Sabina, Politburo Senior Committee Member of Zimbabwe; DOB 14 Oct 1934 (individual) [ZIMB]

MUGHNIYAH, Imad Fa'iz (a.k.a. MUGHNIYAH, Imad Fayiz); Senior Intelligence Officer of HIZBALLAH; DOB 07 Dec 1962; POB Tayr Dibba, Lebanon; Passport No. 432298 (Lebanon) (individual) [SDT] [SDGT]

MUGHNIYAH, Imad Fayiz (a.k.a. MUGHNIYAH, Imad Fa'iz); Senior Intelligence Officer of HIZBALLAH; DOB 07 Dec 1962; POB Tayr Dibba, Lebanon; Passport No. 432298 (Lebanon) (individual) [SDT] [SDGT]

MUGICA GONI, Ainhoa; member ETA; DOB 27 Jun 1970; POB San Sebastian (Guipuzcoa Province), Spain; D.N.I. 34.101.243 (individual) [SDGT]

Muhamad Abdullah Imad (a.k.a. AL SAADI, Faraj Farj Hassan; a.k.a. Imad Mouhamed Abdellah; a.k.a. Mohamded Abdulla Imad; a.k.a. “Hamza Al Libi”), “last known address,” Viale Bligny 42, Milan, Italy; DOB 28 Nov 1980; POB Libya; alt. POB Gaza; alt. POB Jordan; alt. POB Palestine; nationality Libyan; alt. nationality Palestinian; alt. nationality Jordanian; arrested United Kingdom (individual) [SDGT]

MUHAMAD, Fadil Abdallah (a.k.a. MOHAMMED, Fazul Abdullah; a.k.a. ABDALLA, Fazul; a.k.a. ADBALLAH, Fazul; a.k.a. AISHA, Abu; a.k.a. AL SUDANI, Abu Seif; a.k.a. ALI, Fadel Abdallah Mohammed; a.k.a. FAZUL, Abdalla; a.k.a. FAZUL, Abdallah; a.k.a. FAZUL, Abdallah Mohammed; a.k.a. FAZUL, Haroon; a.k.a. FAZUL, Harun; a.k.a. HAROON; a.k.a. HAROUN, Fadhil; a.k.a. HARUN; a.k.a. LUQMAN, Abu; a.k.a. MOHAMMED, Fazul; a.k.a. MOHAMMED, Fazul Abdilahi; a.k.a. MOHAMMED, Fouad); DOB 25 Aug 1972; alt. DOB 25 Dec 1974; alt. DOB 25 Feb 1974; POB Moroni, Comoros Islands; citizen Comoros; alt. citizen Kenya (individual) [SDGT]

MUHARIKAAT GENERAL AUTOMOBILE CO., P.O. Box 259, Tripoli, Libya; (branch) P.O. Box 203, Benghazi, Libya [LIBYA]

MUJAHEDIN-E KHALQ (a.k.a. MEK; a.k.a. MKO; a.k.a. MUJAHEDIN-E KHALQ ORGANIZATION; a.k.a. MUSLIM IRANIAN STUDENT'S SOCIETY; a.k.a. NATIONAL COUNCIL OF RESISTANCE (NCR); a.k.a. NATIONAL COUNCIL OF RESISTANCE OF IRAN; a.k.a. NATIONAL COUNCIL OF RESISTANCE; a.k.a. NCRI; a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN), including its U.S. representative offices and all other offices worldwide [FTO][SDGT]

MUJAHEDIN-E KHALQ ORGANIZATION (a.k.a. MEK; a.k.a. MKO; a.k.a. MUJAHEDIN-E KHALQ; a.k.a. MUSLIM IRANIAN STUDENT'S SOCIETY; a.k.a. NATIONAL COUNCIL OF RESISTANCE (NCR); a.k.a. NATIONAL COUNCIL OF RESISTANCE OF IRAN; a.k.a. NATIONAL COUNCIL OF RESISTANCE; a.k.a. NCRI; a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN), including its U.S. representative offices and all other offices worldwide [FTO][SDGT]

MUJAHEDIN-E KHALQ ORGANIZATION (a.k.a. MEK; a.k.a. MKO; a.k.a. MUJAHEDIN-E KHALQ; a.k.a. MUSLIM IRANIAN STUDENT'S SOCIETY; a.k.a. NATIONAL COUNCIL OF RESISTANCE (NCR); a.k.a. NATIONAL COUNCIL OF RESISTANCE OF IRAN; a.k.a. NATIONAL COUNCIL OF RESISTANCE; a.k.a. NCRI; a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN), including its U.S. representative offices and all other offices worldwide [FTO][SDGT]

MUJURU, Joyce, Minister of Rural Resources and Water of Zimbabwe; DOB 15 Apr 1955 (individual) [ZIMB]

MUJURU, Solomon, Politburo Senior Committee Member of Zimbabwe; DOB 1 May 1949 (individual) [ZIMB]

Mukhlas (a.k.a. “Sofwan;” a.k.a. AL MUKHLAS, Ali Gufron; a.k.a. GHUFRON, Ali; a.k.a. GUFRON, Ali; a.k.a. HAQ, Huda bin Abdul; a.k.a. Muchlas; a.k.a. Muklas); DOB 9 Feb 1960; alt. DOB 2 Feb 1960; POB Solokuro subdistrict, Lamongan district, East Java province, Indonesia; nationality Indonesian (individual) [SDGT]

Muklas (a.k.a. “Sofwan;” a.k.a. AL MUKHLAS, Ali Gufron; a.k.a. GHUFRON, Ali; a.k.a. GUFRON, Ali; a.k.a. HAQ, Huda bin Abdul; a.k.a. Muchlas; a.k.a. Mukhlas); DOB 9 Feb 1960; alt. DOB 2 Feb 1960; POB Solokuro subdistrict, Lamongan district, East Java province, Indonesia; nationality Indonesian (individual) [SDGT]

MUMBENGEGWI, Samuel, Minister of Industry and International Trade of Zimbabwe; DOB 20 July 1945 (individual) [ZIMB]

MUNANDAR, Aris; DOB 1962; alt. DOB 1963; alt. DOB 1964; alt. DOB 1965; alt. DOB 1966; alt. DOB 1967; alt. DOB 1968; POB Sambi, Boyolali, Java, Indonesia (individual) [SDGT]

MUNOA ORDOZGOITI, Alona; member ETA; DOB 6 Jul 1976; POB Segura (Guipuzcoa Province), Spain; D.N.I. 35.771.259 (individual) [SDGT]

MUNOZ CORTES (CORTEZ), Julio Cesar, c/o BLANCO PHARMA S.A., Bogota, Colombia; c/o COPSERVIR LTDA., Bogota, Colombia; c/o DISTRIBUIDORA DE DROGAS CONDOR LTDA., Bogota, Colombia; c/o DROGAS LA REBAJA BARRANQUILLA S.A., Barranquilla, Colombia; c/o DROGAS LA REBAJA CALI S.A., Cali, Colombia; c/o DROGAS LA REBAJA PRINCIPAL S.A., Bogota, Colombia; Cedula No. 14938700 (Colombia) (individual) [SDNT]

MUNOZ NARVAEZ, Yamileth, c/o COMERCIALIZADORA INTERTEL S.A., Cali, Colombia; c/o COOPERATIVA MULTIACTIVA DE COLOMBIA FOMENTAMOS, Bogota, Colombia; c/o DISTRIBUIDORA SANAR DE COLOMBIA S.A., Cali, Colombia; DOB 30 Dec 1970; Passport 66825769 (Colombia); Cedula No. 66825769 (Colombia) (individual) [SDNT]

MUNOZ PAZ, Adriana del Socorro, c/o INVERSIONES Y CONSTRUCCIONES VALLE S.A., Cali, Colombia; Cedula No. 31950689 (Colombia) (individual) [SDNT]

MUNOZ PAZ, Joaquin Emilio, Avenida 4AN No. 47-89, Cali, Colombia; c/o CONSTRUCTORA DIMISA LTDA., Cali, Colombia; c/o INMOBILIARIA U.M.V. S.A., Cali, Colombia; c/o INVERSIONES Y CONSTRUCCIONES VALLE S.A., Cali, Colombia; DOB 18 Jan 1971; Cedula No. 16789012 (Colombia) (individual) [SDNT]

MUNOZ RODRIGUEZ, Juan Carlos, c/o ASESORIAS ECONOMICAS MUNOZ SANTACOLOMA E.U., Cali, Colombia; c/o ASPOIR DEL PACIFICO Y CIA. LTDA., Cali, Colombia; c/o BLANCO PHARMA S.A., Bogota, Colombia; c/o COMERCIALIZADORA INTERTEL S.A., Cali, Colombia; c/o CONTACTEL COMUNICACIONES S.A., Cali, Colombia; c/o CREDIREBAJA S.A., Cali, Colombia; c/o DEPOSITO POPULAR DE DROGAS S.A., Cali, Colombia; c/o DISTRIBUIDORA DE DROGAS CONDOR LTDA., Bogota, Colombia; c/o DISTRIBUIDORA DE DROGAS LA REBAJA S.A., Bogota, Colombia; c/o DISTRIBUIDORA MIGIL LTDA., Cali, Colombia; c/o DISTRIBUIDORA SANAR DE COLOMBIA S.A., Cali, Colombia; c/o FUNDASER, Cali, Colombia; c/o GRACADAL S.A., Cali, Colombia; c/o INVERSIONES Y CONSTRUCCIONES ABC S.A., Cali, Colombia; c/o LABORATORIOS BLAIMAR DE COLOMBIA S.A., Bogota, Colombia; c/o LABORATORIOS KRESSFOR DE COLOMBIA S.A., Bogota, Colombia; c/o LATINFARMACOS S.A., Quito, Ecuador; c/o REPRESENTACIONES Y DISTRIBUCIONES HUERTAS Y ASOCIADOS S.A., Bogota, Colombia; DOB 25 Sep 1964; Passport 16703148 (Colombia); Cedula No. 16703148 (Colombia) (individual) [SDNT]

MUNOZ RODRIGUEZ, Soraya, c/o 2000-DODGE S.L., Madrid, Spain; c/o BLANCO PHARMA S.A., Bogota, Colombia; c/o DEPOSITO POPULAR DE DROGAS S.A., Cali, Colombia; c/o DISTRIBUIDORA DE DROGAS CONDOR LTDA., Bogota, Colombia; c/o DISTRIBUIDORA DE DROGAS LA REBAJA S.A., Bogota, Colombia; c/o DISTRIBUIDORA MIGIL LTDA., Cali, Colombia; c/o FUNDASER, Cali, Colombia; c/o INVERSIONES Y CONSTRUCCIONES ABC S.A., Cali, Colombia; c/o LABORATORIOS BLAIMAR DE COLOMBIA S.A., Bogota, Colombia; c/o LABORATORIOS KRESSFOR DE COLOMBIA S.A., Bogota, Colombia; c/o LATINFARMACOS S.A., Quito, Ecuador; c/o RADIO UNIDAS FM S.A., Cali, Colombia; c/o SORAYA Y HAYDEE LTDA., Cali, Colombia; DOB 26 Jul 1967; Passport AC569012 (Colombia); Cedula 31976822 (Colombia) (individual) [SDNT]

MUNOZ Y RODRIGUEZ Y CIA. LTDA., Avenida 6N No. 23DN-26, Cali, Colombia [SDNT]

MUQTI, Fihiruddin (a.k.a. A RAHMAN, Mohamad Iqbal; a.k.a. ABDURRAHMAN, Abu Jibril; a.k.a. ABDURRAHMAN, Mohamad Iqbal; a.k.a. ABU JIBRIL; a.k.a. RAHMAN, Mohamad Iqbal; a.k.a. MUQTI, Fikiruddin); POB Tirpas-Selong Village, East Lombok, Indonesia; nationality Indonesian (individual) [SDGT]

MUQTI, Fikiruddin (a.k.a. A RAHMAN, Mohamad Iqbal; a.k.a. ABDURRAHMAN, Abu Jibril; a.k.a. ABDURRAHMAN, Mohamad Iqbal; a.k.a. ABU JIBRIL; a.k.a. RAHMAN, Mohamad Iqbal; a.k.a. MUQTI, Fihiruddin); POB Tirpas-Selong Village, East Lombok, Indonesia; nationality Indonesian (individual) [SDGT]

MURAD, Abdul Hakim (a.k.a. AHMED, Saeed; a.k.a. AKMAN, Saeed; a.k.a. MURAD, Abdul Hakim Al Hashim; a.k.a. MURAD, Adbul Hakim Ali Hashim; a.k.a. MURAD, Abdul Hakim Hasim), currently incarcerated in the U.S.; DOB 4 Jan 1968; POB Kuwait; nationality Pakistani (individual) [SDGT]

MURAD, Abdul Hakim Al Hashim (a.k.a. AHMED, Saeed; a.k.a. AKMAN, Saeed; a.k.a. MURAD, Abdul Hakim; a.k.a. MURAD, Adbul Hakim Ali Hashim; a.k.a. MURAD, Abdul Hakim Hasim), currently incarcerated in the U.S.; DOB 4 Jan 1968; POB Kuwait; nationality Pakistani (individual) [SDGT]

MURAD, Abdul Hakim Hasim (a.k.a. AHMED, Saeed; a.k.a. AKMAN, Saeed; a.k.a. MURAD, Abdul Hakim; a.k.a. MURAD, Abdul Hakim Al Hashim; a.k.a. MURAD, Adbul Hakim Ali Hashim), currently incarcerated in the U.S.; DOB 4 Jan 1968; POB Kuwait; nationality Pakistani (individual) [SDGT]

MURAD, Adbul Hakim Ali Hashim (a.k.a. AHMED, Saeed; a.k.a. AKMAN, Saeed; a.k.a. MURAD, Abdul Hakim; a.k.a. MURAD, Abdul Hakim Al Hashim; a.k.a. MURAD, Abdul Hakim Hasim), currently incarcerated in the U.S.; DOB 4 Jan 1968; POB Kuwait; nationality Pakistani (individual) [SDGT]

MURALLA, S.A. (a.k.a. COMERCIAL MURALLA, S.A.), Panama City, Panama [CUBA]

MURERWA, Herbert, Minister of Finance of Zimbabwe; DOB 31 July 1941 (individual) [ZIMB]

MURILLO BEJARANO, Diego Fernando (a.k.a. “Adolfo Paz;” a.k.a. “Don Berna”); DOB 23 Feb 1961; Cedula No. 16357144 (Colombia) (individual) [SDNTK]

MURILLO MURILLO, Jose Tolentino, c/o AGROPECUARIA LA ROBLEDA S.A., Cali, Colombia; Cedula No. 2240779 (Colombia) (individual) [SDNT]

MUSA, Rifa'i Ahmad Taha (a.k.a. 'ABD-AL-'IZ; a.k.a. ABD-AL-WAHAB, Abd-al-Hai Ahmad; a.k.a. ABU YASIR; a.k.a. 'ABD ALLAH, 'Issam 'Ali Muhammad; a.k.a. AL-KAMEL, Salah 'Ali; a.k.a. TAHA, Rifa'i Ahmad; a.k.a. TAHA MUSA, Rifa'i Ahmad; a.k.a. THABIT 'IZ); DOB 24 Jun 1954; POB Egypt; Passport No. 83860 (Sudan), 30455 (Egypt), 1046403 (Egypt) (individual) [SDT]

MUSALAAM, Fahid Mohammed Ali (a.k.a. MSALAM, Fahid Mohammed Ally; a.k.a. AL-KINI, Usama; a.k.a. ALLY, Fahid Mohammed; a.k.a. MSALAM, Fahad Ally; a.k.a. MSALAM, Fahid Mohammed Ali; a.k.a. MSALAM, Mohammed Ally; a.k.a. SALEM, Fahid Muhamad Ali); DOB 19 Feb 1976; POB Mombasa, Kenya; citizen Kenya (individual) [SDGT]

MUSHOHWE, Christopher, Deputy Minister, Transport and Communications of Zimbabwe; DOB 6 Feb 1954 (individual) [ZIMB]

MUSLIM IRANIAN STUDENT'S SOCIETY (a.k.a. MEK; a.k.a. MKO; a.k.a. MUJAHEDIN-E KHALQ; a.k.a. MUJAHEDIN-E KHALQ ORGANIZATION; a.k.a. NATIONAL COUNCIL OF RESISTANCE (NCR); a.k.a. NATIONAL COUNCIL OF RESISTANCE OF IRAN; a.k.a. NATIONAL COUNCIL OF RESISTANCE; a.k.a. NCRI; a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN), including its U.S. representative offices and all other offices worldwide [FTO][SDGT]

MUSLIU, Isak; DOB 31 Oct 1970; POB Racak, Serbia and Montenegro (individual) [BALKANS]

MUSLIU, Jonuz; DOB 5 Jan 1959; POB Konculj, Serbia and Montenegro (individual) [BALKANS]

MUSLIU, Shefqet; DOB 12 Feb 1963; POB Konculj, Serbia and Montenegro (individual) [BALKANS]

MUSTAFA, Mustafa Kamel (a.k.a. AL-MASRI, Abu Hamza; a.k.a. AL-MISRI, Abu Hamza; a.k.a. EMAN, Adam Ramsey; a.k.a. KAMEL, Mustafa), 9 Albourne Road, Shepherds Bush, London, W12 OLW, England; 8 Adie Road, Hammersmith, London, W6 OPW, England; DOB 15 Apr 1958 (individual) [SDGT]

MUSTAFA, Rrustem; DOB 27 Feb 1971; POB Podujevo, Serbia and Montenegro (individual) [BALKANS]

MUTASA, Didymus, Politburo Secretary for External Relations of Zimbabwe; DOB 27 July 1935 (individual) [ZIMB]

MUTIWEKUZIVA, Kenneth, Deputy Minister for Small and Medium Enterprise Development of Zimbabwe; DOB 27 May 1948 (individual) [ZIMB]

MUVDY BERBESY, Salua Teresa, Avenida Las Americas No. 21N-50 Ofc. 702, Cali, Colombia; c/o CIA. MINERA DAPA S.A., Bogota, Colombia; c/o CONSTRUCTORA PYNZAR LTDA., Cali, Colombia; c/o PARQUE INDUSTRIAL PROGRESO S.A., Yumbo, Colombia; DOB 30 Jan 1959; POB Barranquilla, Atlantico, Colombia; Passport 32639757 (Colombia); Cedula No. 32639757 (Colombia) (individual) [SDNT]

MUZENDA, Simon Vengesai, Vice President of Zimbabwe; DOB 28 Oct 1922 (individual) [ZIMB]

MUZENDA, Tsitsi, Politburo Senior Committee Member of Zimbabwe (individual) [ZIMB]

MUZONZINI, Elisha, Director of the Central Intelligence Organization of Zimbabwe, DOB 24 Jun 1957 (individual) [ZIMB]

MYANMA ECONOMIC BANK (a.k.a. MYANMAR ECONOMIC BANK), 1-19 Sule Pagoda Road, Pabedan T/S, Yangon, Myanmar [BURMA]

MYANMA ECONOMIC BANK (a.k.a. MYANMAR ECONOMIC BANK), 1-19 Sule Pagoda Road, Pabedan T/S, Yangon, Myanmar [BURMA]

MYANMA FOREIGN TRADE BANK (a.k.a. MYANMAR FOREIGN TRADE BANK), P.O. Box 203, 80-86 Maha Bandoola Garden Street, Kyauktada T/S, Yangon, Myanmar; SWIFT/BIC: FOTMMMM1 [BURMA]

MYANMA FOREIGN TRADE BANK (a.k.a. MYANMAR FOREIGN TRADE BANK), P.O. Box 203, 80-86 Maha Bandoola Garden Street, Kyauktada T/S, Yangon, Myanmar; SWIFT/BIC: FOTMMMM1 [BURMA]

MYANMA INVESTMENT AND COMMERCIAL BANK (a.k.a. MICB; a.k.a. MYANMAR INVESTMENT AND COMMERCIAL BANK), 170/176 Bo Aung Kyaw Street, Botataung Township, Yangon, Myanmar; SWIFT/BIC: MYANMMM1 [BURMA]

MYANMA INVESTMENT AND COMMERCIAL BANK (a.k.a. MICB; a.k.a. MYANMAR INVESTMENT AND COMMERCIAL BANK), 170/176 Bo Aung Kyaw Street, Botataung Township, Yangon, Myanmar; SWIFT/BIC: MYANMMM1 [BURMA]

MYANMAR ECONOMIC BANK (a.k.a. MYANMA ECONOMIC BANK), 1-19 Sule Pagoda Road, Pabedan T/S, Yangon, Myanmar [BURMA]

MYANMAR FOREIGN TRADE BANK (a.k.a. MYANMA FOREIGN TRADE BANK), P.O. Box 203, 80-86 Maha Bandoola Garden Street, Kyauktada T/S, Yangon, Myanmar; SWIFT/BIC: FOTMMMM1 [BURMA]

MYANMAR INVESTMENT AND COMMERCIAL BANK (a.k.a. MICB; a.k.a. MYANMA INVESTMENT AND COMMERCIAL BANK), 170/176 Bo Aung Kyaw Street, Botataung Township, Yangon, Myanmar; SWIFT/BIC: MYANMMM1 [BURMA]

MZOUDI, Abdelghani (a.k.a. MAZUTI, Abdelghani; a.k.a. MAZWATI, Abdelghani), Op de Wisch 15, 21149 Hamburg, Germany; Marienstrasse 54, Hamburg, Germany; DOB 6 DEC 1972; POB Marrakech, Morocco; Moroccan Personal ID No. E 427689 issued 20 Mar 2001; Passport No. M271392 (Moroccan) issued 04 Dec 2000; Passport No. F 879567 (Moroccan) issued 29 Apr 1992; citizen: Morocco (individual) [SDGT]

N.A.I.B. (a.k.a. BANQUE ARABE D'AFRIQUE DU NORD [BAAN]; a.k.a. BANQUE ARABE DU NORD-BAAN; a.k.a. NORTH AFRICA INTERNATIONAL BANK; a.k.a. NORTH AFRICAN INTERNATIONAL BANK), 25 Avenue Khereddine Pacha, Tunis, Tunisia [LIBYA]

N.A.I.B. (a.k.a. BANQUE ARABE D'AFRIQUE DU NORD [BAAN]; a.k.a. BANQUE ARABE DU NORD-BAAN; a.k.a. NORTH AFRICA INTERNATIONAL BANK; a.k.a. NORTH AFRICAN INTERNATIONAL BANK), P.O. Box 485, 1080 Tunis Cedex, Tunisia [LIBYA]

N.A.I.B. (a.k.a. BANQUE ARABE D'AFRIQUE DU NORD [BAAN]; a.k.a. BANQUE ARABE DU NORD-BAAN; a.k.a. NORTH AFRICA INTERNATIONAL BANK; a.k.a. NORTH AFRICAN INTERNATIONAL BANK), Avenue Kheireddine Pacha 25, Tunis, Tunisia [LIBYA]

N.A.I.B. (a.k.a. BANQUE ARABE D'AFRIQUE DU NORD [BAAN]; a.k.a. BANQUE ARABE DU NORD-BAAN; a.k.a. NORTH AFRICA INTERNATIONAL BANK; a.k.a. NORTH AFRICAN INTERNATIONAL BANK), P.O. Box 102, Le Belvedere, 1002 Tunis, Tunisia [LIBYA]

NAAS, Mahmoud, Libya (individual) [LIBYA]

NADA INTERNATIONAL ANSTALT, Vaduz, Liechtenstein; formerly c/o Asat Trust reg., Vaduz, Liechtenstein [SDGT]

NADA MANAGEMENT ORGANIZATION SA (f.k.a. AL TAQWA MANAGEMENT ORGANIZATION SA), Viale Stefano Franscini 22, Lugano CH-6900 TI, Switzerland [SDGT]

NADA, Youssef (a.k.a. NADA, Youssef M.; a.k.a. NADA, Youssef Mustafa), Via Arogno 32, Campione d'Italia 6911, Italy; Via Riasc 4, Campione d'Italia 6911, Switzerland; Via Per Arogno 32, Campione d'Italia CH-6911, Switzerland; DOB 17 May 1931; alt. DOB 17 May 1937; POB Alexandria, Egypt; citizen Tunisia (individual) [SDGT]

NADA, Youssef M. (a.k.a. NADA, Youssef; a.k.a. NADA, Youssef Mustafa), Via Arogno 32, Campione d'Italia 6911, Italy; Via Riasc 4, Campione d'Italia 6911, Switzerland; Via Per Arogno 32, Campione d'Italia CH-6911, Switzerland; DOB 17 May 1931; alt. DOB 17 May 1937; POB Alexandria, Egypt; citizen Tunisia (individual) [SDGT]

NADA, Youssef Mustafa (a.k.a. NADA, Youssef; a.k.a. NADA, Youssef M.), Via Arogno 32, Campione d'Italia 6911, Italy; Via Riasc 4, Campione d'Italia 6911, Switzerland; Via Per Arogno 32, Campione d'Italia CH-6911, Switzerland; DOB 17 May 1931; alt. DOB 17 May 1937; POB Alexandria, Egypt; citizen Tunisia (individual) [SDGT]

NAIZAQUE PUENTES, Jose de Jesus, Calle 58A S 80C-31, Bogota, Colombia; c/o COINTERCOS, Bogota, Colombia; c/o COSMEPOP, Bogota, Colombia; c/o LABORATORIOS BLAIMAR DE COLOMBIA S.A., Bogota, Colombia; Cedula No. 19348370 (Colombia) (individual) [SDNT]

NAJAH, Tahor, Manama, Bahrain (individual) [LIBYA]

NAJAH, Tahor, Tripoli, Libya (individual) [LIBYA]

NAJI, Talal Muhammad Rashid; Principal Deputy of POPULAR FRONT FOR THE LIBERATION OF PALESTINE—GENERAL COMMAND; DOB 1930; POB Al Nasiria, Palestine (individual) [SDT]

NALETILIC, Mladen; DOB 1 Dec 1946; POB Listica, Bosnia-Herzegovina; ICTY indictee (individual) [BALKANS]

NALHERBE, Oscar (a.k.a. BECERRA, Martin; a.k.a. BECERRA MIRELES, Martin; a.k.a. MACHERBE, Oscar; a.k.a. MAHERBE, Oscar; a.k.a. MAHLERBE, Oscar; a.k.a. MAHLERBE, Polo; a.k.a. MALARBE, Oscar; a.k.a. MALERBE, Oscar; a.k.a. MALERHBE DE LEON, Oscar; a.k.a. MALERVA, Oscar; a.k.a. MALHARBE DE LEON, Oscar; a.k.a. MALHERBE DE LEON, Oscar; a.k.a. MALHERBE DELEON, Oscar; a.k.a. MALMERBE, Oscar; a.k.a. MELARBE, Oscar; a.k.a. QALHARBE DE LEON, Oscar; a.k.a. VARGAS, Jorge); DOB 10 Jan 1964; POB Mexico (individual) [SDNTK]

NAMAN, Saalim (a.k.a. NAMAN, Sam), 3343 Woodview Lake Road, West Bloomfield, MI 48323 U.S.A. (individual) [IRAQ]

NAMAN, Saalim (a.k.a. NAMAN, Sam), 5903 Harper Road, Solon, OH 44139, U.S.A. (individual) [IRAQ]

NAMAN, Saalim (a.k.a. NAMAN, Sam), Amman, Jordan (individual) [IRAQ]

NAMAN, Saalim (a.k.a. NAMAN, Sam), Iraq (individual) [IRAQ]

NAMAN, Saalim (a.k.a. NAMAN, Sam), P.O. Box 39, Fletchamstead Highway, Coventry, England (individual) [IRAQ]

NAPETCO (a.k.a. NATIONAL PETROCHEMICALS COMPANY; f.k.a. NATIONAL METHANOL COMPANY), P.O. Box 20812, Marsa Brega, Libya [LIBYA]

NAPETCO (a.k.a. NATIONAL PETROCHEMICALS COMPANY; f.k.a. NATIONAL METHANOL COMPANY), P.O. Box 5324, Garden City, Benghazi, Libya [LIBYA]

NAPETCO (a.k.a. NATIONAL PETROCHEMICALS COMPANY; f.k.a. NATIONAL METHANOL COMPANY), Dusseldorf, Germany (Office Closed) [LIBYA]

NARVAEZ GONI, Juan Jesus; member ETA; DOB 23 Feb 1961; POB Pamplona (Navarra Province), Spain; D.N.I. 15.841.101 (individual) [SDGT]

NASCO (a.k.a. NATIONAL SUPPLIES CORPORATION), P.O. Box 3402, Sharia Omar Mukhtar, Tripoli, Libya; (branch) P.O. Box 2071, Benghazi, Libya [LIBYA]

NASCO BUSINESS RESIDENCE CENTER SAS DI NASREDDIN AHMED IDRIS EC, Corso Sempione 69, 20149 Milan, Italy; Italian Fiscal Code: 01406430155; V.A.T. Number: IT 01406430155 [SDGT]

NASCO NASREDDIN HOLDING A.S., Zemin Kat, 219 Demirhane Caddesi, Zeytinburnu, Istanbul, Turkey [SDGT]

NASCOSERVICE S.R.L., Corso Sempione 69, 20149 Milan, Italy; Italian Fiscal Code: 08557650150; V.A.T. Number: IT 08557650150 [SDGT]

NASCOTEX S.A. (a.k.a. INDUSTRIE GENERALE DE FILATURE ET TISSAGE; a.k.a. INDUSTRIE GENERALE DE TEXTILE), KM 7 Route de Rabat, BP 285, Tangiers, Morocco; KM 7 Route de Rabat, Tangiers, Morocco [SDGT]

NASIR, Ali Khan (a.k.a. KHAN, Ali; a.k.a. KHAN, Nafir Ali; a.k.a. KHAN, Nasir Ali; a.k.a. KHAN, Nazir Ali; a.k.a. KHAN, Nisan Ali; a.k.a. KHAN, Nisar Ali; a.k.a. NASIR, Khan Ali); DOB 1 Oct 1955; POB Pakistan (individual) [SDNTK]

NASIR, Khan Ali (a.k.a. KHAN, Ali; a.k.a. KHAN, Nafir Ali; a.k.a. KHAN, Nasir Ali; a.k.a. KHAN, Nazir Ali; a.k.a. KHAN, Nisan Ali; a.k.a. KHAN, Nisar Ali; a.k.a. NASIR, Ali Khan); DOB 1 Oct 1955; POB Pakistan (individual) [SDNTK]

NASRALLAH, Hasan; Secretary General of HIZBALLAH; DOB 31 Aug 1960 or 1953 or 1955 or 1958; POB Al Basuriyah, Lebanon; Passport No. 042833 (Lebanon) (individual) [SDT]

NASREDDIN, Ahmad I. (a.k.a. NASREDDIN, Ahmed Idris; a.k.a. NASREDDIN, Hadj Ahmed; a.k.a. NASREDDINE, Ahmed Idriss), Corso Sempione 69, 20149 Milan, Italy; 1 via delle Scuole, 6900 Lugano, Switzerland; Piazzale Biancamano, Milan, Italy; Rue de Cap Spartel, Tangiers, Morocco; DOB 22 Nov 1929; POB Adi Ugri, Ethiopia; Italian Fiscal Code: NSRDRS29S22Z315Y (individual) [SDGT]

NASREDDIN, Ahmed Idris (a.k.a. NASREDDIN, Ahmad I.; a.k.a. NASREDDIN, Hadj Ahmed; a.k.a. NASREDDINE, Ahmed Idriss), Corso Sempione 69, 20149 Milan, Italy; 1 via delle Scuole, 6900 Lugano, Switzerland; Piazzale Biancamano, Milan, Italy; Rue de Cap Spartel, Tangiers, Morocco; DOB 22 Nov 1929; POB Adi Ugri, Ethiopia; Italian Fiscal Code: NSRDRS29S22Z315Y (individual) [SDGT]

NASREDDIN COMPANY NASCO SAS DI AHMED IDRIS NASREDDIN EC, Corso Sempione 69, 20149 Milan, Italy; Italian Fiscal Code: 03464040157; V.A.T. Number: IT 03464040157 [SDGT]

NASREDDIN FOUNDATION (a.k.a. NASREDDIN STIFTUNG), c/o Rechta Treuhand-Anstalt, Vaduz, Liechtenstein [SDGT]

NASREDDIN GROUP INTERNATIONAL HOLDING LIMITED (a.k.a. NASREDDIN GROUP INTERNATIONAL HOLDINGS LIMITED), c/o Arthur D. Hanna &Company; 10 Deveaux Street, Nassau, Bahamas; P.O. Box N-4877, Nassau, Bahamas [SDGT]

NASREDDIN GROUP INTERNATIONAL HOLDINGS LIMITED (a.k.a. NASREDDIN GROUP INTERNATIONAL HOLDING LIMITED), c/o Arthur D. Hanna &Company; 10 Deveaux Street, Nassau, Bahamas; P.O. Box N-4877, Nassau, Bahamas [SDGT]

NASREDDIN, Hadj Ahmed (a.k.a. NASREDDIN, Ahmed Idris; a.k.a. NASREDDIN, Ahmad I.; a.k.a. NASREDDINE, Ahmed Idriss), Corso Sempione 69, 20149 Milan, Italy; 1 via delle Scuole, 6900 Lugano, Switzerland; Piazzale Biancamano, Milan, Italy; Rue de Cap Spartel, Tangiers, Morocco; DOB 22 Nov 1929; POB Adi Ugri, Ethiopia; Italian Fiscal Code: NSRDRS29S22Z315Y (individual) [SDGT]

NASREDDIN INTERNATIONAL GROUP LIMITED HOLDING (a.k.a. NASREDDIN INTERNATIONAL GROUP LTD. HOLDING), c/o Rechta Treuhand-Anstalt, Vaduz, Liechtenstein; Corso Sempione 69, 20149, Milan, Italy [SDGT]

NASREDDIN INTERNATIONAL GROUP LTD. HOLDING (a.k.a. NASREDDIN INTERNATIONAL GROUP LIMITED HOLDING), c/o Rechta Treuhand-Anstalt, Vaduz, Liechtenstein; Corso Sempione 69, 20149, Milan, Italy [SDGT]

NASREDDIN STIFTUNG (a.k.a. NASREDDIN FOUNDATION), c/o Rechta Treuhand-Anstalt, Vaduz, Liechtenstein [SDGT]

NASREDDINE, Ahmed Idriss (a.k.a. NASREDDIN, Ahmed Idris; a.k.a. NASREDDIN, Ahmad I.; a.k.a. NASREDDIN, Hadj Ahmed), Corso Sempione 69, 20149 Milan, Italy; 1 via delle Scuole, 6900 Lugano, Switzerland; Piazzale Biancamano, Milan, Italy; Rue de Cap Spartel, Tangiers, Morocco; DOB 22 Nov 1929; POB Adi Ugri, Ethiopia; Italian Fiscal Code: NSRDRS29S22Z315Y (individual) [SDGT]

NASSER ARANA, Carlos Alberto, Calle 74 No. 53-30, Barranquilla, Colombia; c/o AGRICOLA SONGO LTDA., Barranquilla, Colombia; c/o DESARROLLOS URBANOS “DESARROLLAR” LTDA., Barranquilla, Colombia; c/o EDIFICACIONES DEL CARIBE LTDA., Barranquilla, Colombia; c/o GRAN COMPANIA DE HOTELES LTDA., Barranquilla, Colombia; c/o HOTELES E INMUEBLES DE COLOMBIA LTDA., Barranquilla, Colombia; c/o INMOBILIARIA DEL CARIBE LTDA., Barranquilla, Colombia; c/o INMOBILIARIA HOTELERA DEL CARIBE LTDA., Barranquilla, Colombia; c/o INVERSIONES HOTELERAS DEL LITORAL LTDA., Barranquilla, Colombia; c/o INVERSIONES NAMOS Y CIA. LTDA., Barranquilla, Colombia; c/o INVERSIONES PRADO TRADE CENTER LTDA., Barranquilla, Colombia; c/o K. P. TO JEANS WEAR S. DE H., Barranquilla, Colombia; c/o NEGOCIOS Y PROPIEDADES DEL CARIBE LTDA., Barranquilla, Colombia; c/o PROMOCIONES Y CONSTRUCCIONES DEL CARIBE LTDA., Barranquilla, Colombia; c/o PROMOCIONES Y CONSTRUCCIONES DEL CARIBE LTDA. Y CIA. S.C.A., Barranquilla, Colombia; c/o PROMOTORA HOTEL BARRANQUILLA LTDA., Barranquilla, Colombia; c/o SURAMERICANA DE HOTELES LTDA., Barranquilla, Colombia; DOB 21 Nov 1964; Passport T707770 (Colombia); Passport PE008808 (Colombia); Cedula No. 8745045 (Colombia) (individual) [SDNT]

NASSER ARANA, Claudia Patricia (a.k.a. NASSER DE HASBUN, Claudia Patricia; a.k.a. NASSER DE HAZBUN, Claudia Patricia), Calle 74 No. 53-30, Barranquilla, Colombia; Carrera 54 No. 74-79, Barranquilla, Colombia; Carrera 54 No. 75-97 piso 2, Barranquilla, Colombia; c/o AGRICOLA SONGO LTDA., Barranquilla, Colombia; c/o CAMPO VERDE LTDA., Barranquilla, Colombia; c/o COMPANIA HOTEL DEL PRADO S.A., Barranquilla, Colombia; c/o DESARROLLOS URBANOS “DESARROLLAR” LTDA., Barranquilla, Colombia; c/o EDIFICACIONES DEL CARIBE LTDA., Barranquilla, Colombia; c/o GRAN COMPANIA DE HOTELES LTDA., Barranquilla, Colombia; c/o HOTELES E INMUEBLES DE COLOMBIA LTDA., Barranquilla, Colombia; c/o INMOBILIARIA DEL CARIBE LTDA., Barranquilla, Colombia; c/o INMOBILIARIA HOTELERA DEL CARIBE LTDA., Barranquilla, Colombia; c/o INVERSIONES HOTELERAS DEL LITORAL LTDA., Barranquilla, Colombia; c/o INVERSIONES PRADO TRADE CENTER LTDA., Barranquilla, Colombia; c/o NEGOCIOS Y PROPIEDADES DEL CARIBE LTDA., Barranquilla, Colombia; c/o PROMOCIONES Y CONSTRUCCIONES DEL CARIBE LTDA., Barranquilla, Colombia; c/o PROMOCIONES Y CONSTRUCCIONES DEL CARIBE LTDA. Y CIA. S.C.A., Barranquilla, Colombia; c/o PROMOTORA HOTEL BARRANQUILLA LTDA., Barranquilla, Colombia; c/o SURAMERICANA DE HOTELES LTDA., Barranquilla, Colombia; c/o VILLA DE ARTE S. DE H., Barranquilla, Colombia; DOB 23 Jan 1966; alt. DOB 23 Jan 1963; Passport AC751227 (Colombia); Cedula No. 32665137 (Colombia) (individual) [SDNT]

NASSER ARANA, Jorge, Calle 74 No. 53-30, Barranquilla, Colombia; c/o AGRICOLA SONGO LTDA., Barranquilla, Colombia; c/o DESARROLLOS URBANOS “DESARROLLAR” LTDA., Barranquilla, Colombia; c/o EDIFICACIONES DEL CARIBE LTDA., Barranquilla, Colombia; c/o GRAN COMPANIA DE HOTELES LTDA., Barranquilla, Colombia; c/o HAPPY DAYS S. de H., Barranquilla, Colombia; c/o HOTELES E INMUEBLES DE COLOMBIA LTDA., Barranquilla, Colombia; c/o INMOBILIARIA DEL CARIBE LTDA., Barranquilla, Colombia; c/o INMOBILIARIA HOTELERA DEL CARIBE LTDA., Barranquilla, Colombia; c/o INVERSIONES HOTELERAS DEL LITORAL LTDA., Barranquilla, Colombia; c/o INVERSIONES PRADO TRADE CENTER LTDA., Barranquilla, Colombia; c/o NEGOCIOS Y PROPIEDADES DEL CARIBE LTDA., Barranquilla, Colombia; c/o PROMOCIONES Y CONSTRUCCIONES DEL CARIBE LTDA., Barranquilla, Colombia; c/o PROMOCIONES Y CONSTRUCCIONES DEL CARIBE LTDA. Y CIA. S.C.A., Barranquilla, Colombia; c/o PROMOTORA HOTEL BARRANQUILLA LTDA., Barranquilla, Colombia; c/o SURAMERICANA DE HOTELES LTDA., Barranquilla, Colombia; c/o VESTIMENTA J Y J S. de H., Barranquilla, Colombia; DOB 6 Nov 1966; Passport T705915 (Colombia); Passport AC143719 (Colombia); Cedula No. 72139939 (Colombia) (individual) [SDNT]

NASSER DAVID, Julio Cesar (a.k.a. “Jaime Perez Pena”), Calle 74 No. 53-30, Barranquilla, Colombia; Carrera 38B No. 76-40, Barranquilla, Colombia; c/o AGRICOLA SONGO LTDA., Barranquilla, Colombia; c/o DESARROLLOS URBANOS “DESARROLLAR” LTDA., Barranquilla, Colombia; c/o EDIFICACIONES DEL CARIBE LTDA., Barranquilla, Colombia; c/o GRAN COMPANIA DE HOTELES LTDA., Barranquilla, Colombia; c/o HOTELES E INMUEBLES DE COLOMBIA LTDA., Barranquilla, Colombia; c/o INMOBILIARIA DEL CARIBE LTDA., Barranquilla, Colombia; c/o INMOBILIARIA HOTELERA DEL CARIBE LTDA., Barranquilla, Colombia; c/o INVERSIONES HOTELERAS DEL LITORAL LTDA., Barranquilla, Colombia; c/o INVERSIONES PRADO TRADE CENTER LTDA., Barranquilla, Colombia; c/o NEGOCIOS Y PROPIEDADES DEL CARIBE LTDA., Barranquilla, Colombia; c/o PROMOCIONES Y CONSTRUCCIONES DEL CARIBE LTDA., Barranquilla, Colombia; c/o PROMOCIONES Y CONSTRUCCIONES DEL CARIBE LTDA. Y CIA. S.C.A., Barranquilla, Colombia; c/o PROMOTORA HOTEL BARRANQUILLA LTDA., Barranquilla, Colombia; c/o SURAMERICANA DE HOTELES LTDA., Barranquilla, Colombia; DOB 1 Nov 1940; alt. DOB 1 Oct 1940; Passport H130865 (Colombia); Cedula No. 3710619 (Colombia) (individual) [SDNT]

NASSER DE HASBUN, Claudia Patricia (a.k.a. NASSER ARANA, Claudia Patricia; a.k.a. NASSER DE HAZBUN, Claudia Patricia), Calle 74 No. 53-30, Barranquilla, Colombia; Carrera 54 No. 74-79, Barranquilla, Colombia; Carrera 54 No. 75-97 piso 2, Barranquilla, Colombia; c/o AGRICOLA SONGO LTDA., Barranquilla, Colombia; c/o CAMPO VERDE LTDA., Barranquilla, Colombia; c/o COMPANIA HOTEL DEL PRADO S.A., Barranquilla, Colombia; c/o DESARROLLOS URBANOS “DESARROLLAR” LTDA., Barranquilla, Colombia; c/o EDIFICACIONES DEL CARIBE LTDA., Barranquilla, Colombia; c/o GRAN COMPANIA DE HOTELES LTDA., Barranquilla, Colombia; c/o HOTELES E INMUEBLES DE COLOMBIA LTDA., Barranquilla, Colombia; c/o INMOBILIARIA DEL CARIBE LTDA., Barranquilla, Colombia; c/o INMOBILIARIA HOTELERA DEL CARIBE LTDA., Barranquilla, Colombia; c/o INVERSIONES HOTELERAS DEL LITORAL LTDA., Barranquilla, Colombia; c/o INVERSIONES PRADO TRADE CENTER LTDA., Barranquilla, Colombia; c/o NEGOCIOS Y PROPIEDADES DEL CARIBE LTDA., Barranquilla, Colombia; c/o PROMOCIONES Y CONSTRUCCIONES DEL CARIBE LTDA., Barranquilla, Colombia; c/o PROMOCIONES Y CONSTRUCCIONES DEL CARIBE LTDA. Y CIA. S.C.A., Barranquilla, Colombia; c/o PROMOTORA HOTEL BARRANQUILLA LTDA., Barranquilla, Colombia; c/o SURAMERICANA DE HOTELES LTDA., Barranquilla, Colombia; c/o VILLA DE ARTE S. DE H., Barranquilla, Colombia; DOB 23 Jan 1966; alt. DOB 23 Jan 1963; Passport AC751227 (Colombia); Cedula No. 32665137 (Colombia) (individual) [SDNT]

NASSER DE HAZBUN, Claudia Patricia (a.k.a. NASSER ARANA, Claudia Patricia; a.k.a. NASSER DE HASBUN, Claudia Patricia), Calle 74 No. 53-30, Barranquilla, Colombia; Carrera 54 No. 74-79, Barranquilla, Colombia; Carrera 54 No. 75-97 piso 2, Barranquilla, Colombia; c/o AGRICOLA SONGO LTDA., Barranquilla, Colombia; c/o CAMPO VERDE LTDA., Barranquilla, Colombia; c/o COMPANIA HOTEL DEL PRADO S.A., Barranquilla, Colombia; c/o DESARROLLOS URBANOS “DESARROLLAR” LTDA., Barranquilla, Colombia; c/o EDIFICACIONES DEL CARIBE LTDA., Barranquilla, Colombia; c/o GRAN COMPANIA DE HOTELES LTDA., Barranquilla, Colombia; c/o HOTELES E INMUEBLES DE COLOMBIA LTDA., Barranquilla, Colombia; c/o INMOBILIARIA DEL CARIBE LTDA., Barranquilla, Colombia; c/o INMOBILIARIA HOTELERA DEL CARIBE LTDA., Barranquilla, Colombia; c/o INVERSIONES HOTELERAS DEL LITORAL LTDA., Barranquilla, Colombia; c/o INVERSIONES PRADO TRADE CENTER LTDA., Barranquilla, Colombia; c/o NEGOCIOS Y PROPIEDADES DEL CARIBE LTDA., Barranquilla, Colombia; c/o PROMOCIONES Y CONSTRUCCIONES DEL CARIBE LTDA., Barranquilla, Colombia; c/o PROMOCIONES Y CONSTRUCCIONES DEL CARIBE LTDA. Y CIA. S.C.A., Barranquilla, Colombia; c/o PROMOTORA HOTEL BARRANQUILLA LTDA., Barranquilla, Colombia; c/o SURAMERICANA DE HOTELES LTDA., Barranquilla, Colombia; c/o VILLA DE ARTE S. DE H., Barranquilla, Colombia; DOB 23 Jan 1966; Passport AC751227 (Colombia); Cedula No. 32665137 (Colombia) (individual) [SDNT]

NATION BUILDING (a.k.a. UMMAH TAMEER E-NAU (UTN); a.k.a. FOUNDATION FOR CONSTRUCTION; a.k.a. RECONSTRUCTION FOUNDATION; a.k.a. RECONSTRUCTION OF THE ISLAMIC COMMUNITY; a.k.a. RECONSTRUCTION OF THE MUSLIM UMMAH; a.k.a. UMMAH TAMEER I-NAU; a.k.a. UMMAH TAMIR E-NAU; a.k.a. UMMAH TAMIR I-NAU; a.k.a. UMMAT TAMIR E-NAU; a.k.a. UMMAT TAMIR-I-PAU), Street 13, Wazir Akbar Khan, Kabul, Afghanistan; 60-C, Nazim Ud Din Road, Islamabad F 8/4, Pakistan [SDGT]

NATIONAL AGRICULTURAL BANK OF LIBYA (a.k.a. THE AGRICULTURAL BANK; a.k.a. LIBYAN AGRICULTURAL BANK), (1 city branch and 27 branches in Libya) [LIBYA]

NATIONAL AGRICULTURAL BANK OF LIBYA (a.k.a. THE AGRICULTURAL BANK; a.k.a. LIBYAN AGRICULTURAL BANK), 52, Omar El Mokhtar Street, P.O. Box 1100, Tripoli, Libya [LIBYA]

NATIONAL BANK OF CUBA (a.k.a. BANCO NACIONAL DE CUBA, a.k.a. BNC), Avenida de Concha Espina 8, E-28036 Madrid, Spain [CUBA]

NATIONAL BANK OF CUBA (a.k.a. BANCO NACIONAL DE CUBA, a.k.a. BNC), Dai-Ichi Bldg. 6th Floor, 10-2 Nihombashi, 2-chome, Chuo-ku, Tokyo 103, Japan [CUBA]

NATIONAL BANK OF CUBA (a.k.a. BANCO NACIONAL DE CUBA, a.k.a. BNC), Zweierstrasse 35, CH-8022 Zurich, Switzerland) [CUBA]

NATIONAL BANK OF CUBA (a.k.a. BANCO NACIONAL DE CUBA, a.k.a. BNC), Federico Boyd Avenue & 51 Street, Panama City, Panama [CUBA]

NATIONAL CEMENT AND BUILDING MATERIALS EST., P.O. Box 628, Sharia Hayati 21, Tripoli, Libya [LIBYA]

NATIONAL CIGARETTES CO. LTD., P.O. Box 2083, Khartoum, Sudan, and all other branches in Sudan [SUDAN]

NATIONAL CO. FOR CHEMICAL PREPARATION AND COSMETIC PRODUCTS, P.O. Box 2442, Tripoli, Libya; Benghazi Office, Benghazi, Libya [LIBYA]

NATIONAL CO. FOR CONSTRUCTION AND MAINTENANCE OF MUNICIPAL WORKS, P.O. Box 12908, Zavia Street, Tripoli, Libya; (branch) P.O. Box 441, Benghazi, Libya [LIBYA]

NATIONAL CO. FOR LIGHT EQUIPMENT, P.O. Box 8707, Tripoli, Libya; (branch) P.O. Box 540, Benghazi, Libya [LIBYA]

NATIONAL CO. FOR METAL WORKS, P.O. Box 2913, Tripoli, Libya; (branch) P.O. Box 4093, Benghazi, Libya; Lift Department, P.O. Box 1000, Tripoli, Libya [LIBYA]

NATIONAL CO. FOR ROAD EQUIPMENT, P.O. Box 12392, Tripoli, Libya; (branch) P.O. Box 700, Benghazi, Libya [LIBYA]

NATIONAL CO. FOR ROADS AND AIRPORTS, P.O. Box 4050, Benghazi, Libya; (branch) P.O. Box 8634, Sharia Al Jaraba, Tripoli, Libya [LIBYA]

NATIONAL CO. FOR TRADING AND MANUFACTURING OF CLOTHING, Libya [LIBYA]

NATIONAL CO. OF SOAP AND CLEANING MATERIALS, P.O. Box 12025, Tripoli, Libya; (branch) P.O. Box 246, Benghazi, Libya [LIBYA]

NATIONAL COMMERCIAL BANK S.A.L., (22 branches in Libya) [LIBYA]

NATIONAL COMMERCIAL BANK S.A.L., P.O. Box 166, Benghazi, Libya [LIBYA]

NATIONAL COMMERCIAL BANK S.A.L., P.O. Box 4647, Shuhada Square, Tripoli, Libya [LIBYA]

NATIONAL COMMITTEE FOR THE LIBERATION AND PROTECTION OF ALBANIAN LANDS (a.k.a. KKCMTSH) [BALKANS]

NATIONAL COMPANY DRILLING CHEMICAL & EQUIPMENT (a.k.a. JOWFE), NOC Building, Ashjara Square, Benghazi, Libya [LIBYA]

NATIONAL COMPANY FOR FIELD AND TERMINALS CATERING, Airport Road, Km. 3, P.O. Box 491, Tripoli, Libya [LIBYA]

NATIONAL COMPANY FOR OILFIELD EQUIPMENT, P.O. Box 8707, Tripoli, Libya [LIBYA]

NATIONAL CONSTRUCTION AND ENGINEERING CO., P.O. Box 1060, Sharia Sidi Issa, Tripoli, Libya; (branch) P.O. Box 259, Benghazi, Libya [LIBYA]

NATIONAL CONSULTING BUREAU, P.O. Box 12795, Tripoli, Libya; Sirte City Branch Office, Sirte City, Libya [LIBYA]

NATIONAL CORPORATION FOR HOUSING, P.O. Box 4829, Sharia el Jumhuriya, Tripoli, Libya [LIBYA]

NATIONAL COTTON AND TRADE COMPANY, P.O. Box 1552, Khartoum, Sudan [SUDAN]

NATIONAL COUNCIL OF RESISTANCE (a.k.a. MEK; a.k.a. MKO; a.k.a. MUJAHEDIN-E KHALQ; a.k.a. MUJAHEDIN-E KHALQ ORGANIZATION; a.k.a. MUSLIM IRANIAN STUDENT'S SOCIETY; a.k.a. NATIONAL COUNCIL OF RESISTANCE (NCR); a.k.a. NATIONAL COUNCIL OF RESISTANCE OF IRAN; a.k.a. NCRI; a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN), including its U.S. representative offices and all other offices worldwide [FTO][SDGT]

NATIONAL COUNCIL OF RESISTANCE (NCR) (a.k.a. MEK; a.k.a. MKO; a.k.a. MUJAHEDIN-E KHALQ ORGANIZATION; a.k.a. MUJAHEDIN-E KHALQ; a.k.a. MUSLIM IRANIAN STUDENT'S SOCIETY; a.k.a. NATIONAL COUNCIL OF RESISTANCE OF IRAN; a.k.a. NATIONAL COUNCIL OF RESISTANCE; a.k.a. NCRI; a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN), including its U.S. representative offices and all other offices worldwide [FTO][SDGT]

NATIONAL COUNCIL OF RESISTANCE OF IRAN (a.k.a. MEK; a.k.a. MKO; a.k.a. MUJAHEDIN-E KHALQ ORGANIZATION; a.k.a. MUJAHEDIN-E KHALQ; a.k.a. MUSLIM IRANIAN STUDENT'S SOCIETY; a.k.a. NATIONAL COUNCIL OF RESISTANCE (NCR); a.k.a. NATIONAL COUNCIL OF RESISTANCE OF IRAN; a.k.a. NATIONAL COUNCIL OF RESISTANCE; a.k.a. NCRI; a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN), including its U.S. representative offices and all other offices worldwide [FTO][SDGT]

NATIONAL DEPARTMENT STORES CO., P.O. Box 5327, Sharia el Jumhuriya, Tripoli, Libya [LIBYA]

NATIONAL DRILLING COMPANY (a.k.a. NATIONAL DRILLING COMPANY (LIBYA); a.k.a. NATIONAL DRILLING WORKOVER COMPANY), 208 Omar El Mokhtar Street, P.O. Box 1454, Tripoli, Libya [LIBYA]

NATIONAL DRILLING COMPANY (LIBYA) (a.k.a. NATIONAL DRILLING COMPANY; a.k.a. NATIONAL DRILLING WORKOVER COMPANY), 208 Omar El Mokhtar Street, P.O. Box 1454, Tripoli, Libya [LIBYA]

NATIONAL DRILLING WORKOVER COMPANY (a.k.a. NATIONAL DRILLING COMPANY; a.k.a. NATIONAL DRILLING COMPANY (LIBYA)), 208 Omar El Mokhtar Street, P.O. Box 1454, Tripoli, Libya [LIBYA]

NATIONAL ELECTRICITY CORPORATION, P.O. Box 1380, Khartoum, Sudan [SUDAN]

NATIONAL EXPORT-IMPORT BANK (n.k.a. BANK OF KHARTOUM GROUP), Sudanese Kuwait Commercial Centre, Nile Street, P.O. Box 2732, Khartoum, Sudan [SUDAN]

NATIONAL FOODSTUFFS IMPORTS, EXPORTS AND MANUFACTURING CO. SAL, P.O. Box 11114, Tripoli, Libya; (branch) P.O. Box 2439, Benghazi, Libya [LIBYA]

NATIONAL GENERAL INDUSTRIAL CONTRACTING CO., Sharia el Jumhouria, P.O. Box 295, Tripoli, Libya [LIBYA]

NATIONAL LIBERATION ARMY (a.k.a. ELN; a.k.a. EJERCITO DE LIBERACION NACIONAL) [FTO][SDGT]

NATIONAL LIBERATION ARMY (a.k.a. NLA; a.k.a. UCK) [BALKANS]

NATIONAL LINE OF LIBYA, THE (a.k.a. GENERAL NATIONAL MARITIME TRANSPORT CO.), P.O. Box 80173, 2 Ahmed Sharif Street, Tripoli, Libya (and at all Libyan ports); (branch) P.O. Box 2450, Benghazi, Libya [LIBYA]

NATIONAL LIVESTOCK AND MEAT CO., P.O. Box 389, Sharia Zawiet Dahmani, Tripoli, Libya; (branch) P.O. Box 4153, Sharia Jamal Adulnasser, Benghazi, Libya [LIBYA]

NATIONAL METHANOL COMPANY (n.k.a. NAPETCO; n.k.a. NATIONAL PETROCHEMICALS COMPANY), see listings [LIBYA]

NATIONAL MOVEMENT FOR THE LIBERATION OF KOSOVO (a.k.a. LKCK) [BALKANS]

NATIONAL OIL CORPORATION (a.k.a. LIBYAN NATIONAL OIL CORPORATION; a.k.a. LNOC; a.k.a. NOC), (Subsidiaries and joint ventures in Libya and worldwide) [LIBYA]

NATIONAL OIL CORPORATION (a.k.a. LIBYAN NATIONAL OIL CORPORATION; a.k.a. LNOC; a.k.a. NOC), Bashir Saadawi Street, P.O. Box 2655, Tripoli, Libya [LIBYA]

NATIONAL OIL CORPORATION (a.k.a. LIBYAN NATIONAL OIL CORPORATION; a.k.a. LNOC; a.k.a. NOC), P.O. Box 2978, Benghazi, Libya [LIBYA]

NATIONAL OIL CORPORATION (a.k.a. LIBYAN NATIONAL OIL CORPORATION; a.k.a. LNOC; a.k.a. NOC), Petroleum Training and Qualifying Institute, Zawia Road, Km. 9, P.O. Box 6184, Tripoli, Libya [LIBYA]

NATIONAL OIL CORPORATION (a.k.a. LIBYAN NATIONAL OIL CORPORATION; a.k.a. LNOC; a.k.a. NOC), Petroleum Research Centre, Al Nasser Street, P.O. Box 6431, Tripoli, Libya [LIBYA]

NATIONAL OIL CORPORATION (a.k.a. LIBYAN NATIONAL OIL CORPORATION; a.k.a. LNOC; a.k.a. NOC), Dahra Gas Projects Office, Dahra Street, P.O. Box 12221, Dahra, Tripoli, Libya [LIBYA]

NATIONAL PETROCHEMICALS COMPANY (a.k.a. NAPETCO; f.k.a. NATIONAL METHANOL COMPANY), Dusseldorf, Germany (Office Closed) [LIBYA]

NATIONAL PETROCHEMICALS COMPANY (a.k.a. NAPETCO; f.k.a. NATIONAL METHANOL COMPANY), P.O. Box 20812, Marsa Brega, Libya [LIBYA]

NATIONAL PETROCHEMICALS COMPANY (a.k.a. NAPETCO; f.k.a. NATIONAL METHANOL COMPANY), P.O. Box 5324, Garden City, Benghazi, Libya [LIBYA]

NATIONAL PHARMACEUTICAL CO. SAL, 20 Jalal Bayer Street, P.O. Box 2296, Tripoli, Libya; (branch) Jamahiriya Street, P.O. Box 10225, Tripoli, Libya; (branch) P.O. Box 2620, Benghazi, Libya [LIBYA]

NATIONAL REINSURANCE COMPANY (SUDAN) LIMITED, P.O. Box 443, Khartoum, Sudan [SUDAN]

NATIONAL SOFT DRINKS EST., P.O. Box 559, Benghazi, Libya; (branch) Litraco Impex Ltd, P.O. Box 5686, Benghazi, Libya [LIBYA]

NATIONAL STORES AND COLD STORES CO., P.O. Box 8454, Tripoli, Libya; (branch), P.O. Box 9250, Benghazi, Libya [LIBYA]

NATIONAL SUPPLIES CORPORATION (a.k.a. NASCO), P.O. Box 3402, Sharia Omar Mukhtar, Tripoli, Libya; (branch) P.O. Box 2071, Benghazi, Libya [LIBYA]

NATIONAL TELECOMMUNICATIONS CO., P.O. Box 886, Shara Zawia, Tripoli, Libya; (branch) P.O. Box 4139, Benghazi, Libya [LIBYA]

NAVARRO REYES, Fernando, c/o DEPOSITO POPULAR DE DROGAS S.A., Cali, Colombia; c/o DISTRIBUIDORA DEL VALLE E.U., Cali, Colombia; c/o DROGAS LA REBAJA BARRANQUILLA S.A., Bogota, Colombia; c/o DROGAS LA REBAJA BOGOTA S.A., Bogota, Colombia; c/o DROGAS LA REBAJA CALI S.A., Cali, Colombia; c/o DROGAS LA REBAJA NEIVA S.A., Neiva, Colombia; c/o DROGAS LA REBAJA PEREIRA S.A., Pereira, Colombia; c/o DROGAS LA REBAJA PRINCIPAL S.A., Cali, Colombia; c/o SERVICIOS FARMACEUTICOS SERVIFAR S.A., Cali, Colombia; Passport 16616177 (Colombia); Cedula No. 16616177 (Colombia) (individual) [SDNT]

NAVARRO, Samuel (MARTINEZ), Frankfurt, Germany (individual) [CUBA]

NAVIA DIAZ, Ricardo Alberto, c/o INTERNACIONAL DE DIVISAS S.A., Cali, Colombia; c/o INTERNACIONAL DE DIVISAS S.A., LLC, Miami, Florida, U.S.A.; c/o OBURSATILES S.A., Cali, Colombia; DOB 11 Nov 1961; Passport 16662355 (Colombia); Cedula No. 16662355 (Colombia) (individual) [SDNT]

NAVIERA MARITIMA DE AROSA, S.A., Paseo de Pereda 36, Apartado 141, 39004 Santander, Spain [CUBA]

NAVIGABLE WATER CORPORATION, c/o EMPRESA DE NAVEGACION CARIBE, Edificio Lonja del Comercio, Lamparilla 2, Caja Postal 1784, Havana 1, Cuba [CUBA]

NAZIM, Abou (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NEZAM, Abu; a.k.a. NIZAM, Abou); DOB Sep 1938 (individual) [SDNTK]

NCRI (a.k.a. MEK; a.k.a. MKO; a.k.a. MUJAHEDIN-E KHALQ ORGANIZATION; a.k.a. MUJAHEDIN-E KHALQ; a.k.a. MUSLIM IRANIAN STUDENT'S SOCIETY; a.k.a. NATIONAL COUNCIL OF RESISTANCE (NCR); a.k.a. NATIONAL COUNCIL OF RESISTANCE OF IRAN; a.k.a. NATIONAL COUNCIL OF RESISTANCE OF IRAN; a.k.a. NATIONAL COUNCIL OF RESISTANCE; a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN), including its U.S. representative offices and all other offices worldwide [FTO][SDGT]

NCUBE, Abedinico, Deputy Minister, Foreign Affairs of Zimbabwe; DOB 13 Mar 1954 (individual) [ZIMB]

NDLOVU, Naison, Politburo Secretary for Production and Labor of Zimbabwe; DOB 22 Oct 1930 (individual) [ZIMB]

NDLOVU, Sikhanyiso, Deputy-Secretary for Commissariat of Zimbabwe; DOB 20 Sept 1949 (individual) [ZIMB]

NDO (a.k.a. NORDDEUTSCHE OELLEITUNGSGESELLSCHAFT MBH; a.k.a. NORTH GERMAN OIL PIPELINE), Wilhelmshaven to Hamburg pipeline, Germany [LIBYA]

NDO (a.k.a. NORDDEUTSCHE OELLEITUNGSGESELLSCHAFT MBH; a.k.a. NORTH GERMAN OIL PIPELINE), Moorburger Strasse 16, D2000 Hamburg-Harburg 90, Germany [LIBYA]

NDRECAJ, Maliq; DOB 22 Apr 1969; POB Maciteve, Serbia and Montenegro (individual) [BALKANS]

NEGOCIAR LTDA. (n.k.a. NEGOCIOS Y PROPIEDADES DEL CARIBE LTDA.), Calle 74 No. 53-30, Barranquilla, Colombia; NIT # 890108102-8 (Colombia) [SDNT]

NEGOCIOS LOS SAUCES LTDA. (f.k.a. SAMARIA LTDA.), Apartado Aereo 10077, Cali, Colombia; Carrera 4 No. 4-21 of. 1501, Edificios Seguros Bolivar, Cali, Colombia; NIT # 890328835-1 (Colombia) [SDNT]

NEGOCIOS LOS SAUCES LTDA. Y CIA. S.C.S. (f.k.a. INMOBILIARIA SAMARIA LTDA.), Calle 13 No. 3-32 piso 13, Cali, Colombia; Calle 13A No. 64-50 F102, Cali, Colombia; Calle 18 No. 106-96 of. 201/202, Cali, Colombia; Carrera 4 No. 12-41 of. 1501, Edificio Seguros Bolivar, Cali, Colombia; NIT # 890937859-0 (Colombia) [SDNT]

NEGOCIOS Y PROPIEDADES DEL CARIBE LTDA. (f.k.a. NEGOCIAR LTDA.), Calle 74 No. 53-30, Barranquilla, Colombia; NIT # 890108102-8 (Colombia) [SDNT]

NEGRETE AYALA, Nubis del Carmen, c/o FARMA 3.000 LIMITADA, Barranquilla, Colombia; DOB 15 Jan 1966; Passport 26174837 (Colombia); Cedula No. 26174837 (Colombia) (individual) [SDNT]

NESSI, Ferruccio, Piazza Grande 26, 6600 Locarno, Switzerland (individual) [IRAQ]

NEUTRON INTERNATIONAL, Tripoli, Libya [LIBYA]

NEW HAIFA SUGAR FACTORY, Kashm el Girba, Sudan [SUDAN]

NEW JIHAD (a.k.a. AL QAEDA; a.k.a. AL QA'IDA; a.k.a. AL QAIDA; a.k.a. AL-JIHAD; a.k.a. EGYPTIAN AL-JIHAD; a.k.a. EGYPTIAN ISLAMIC JIHAD; a.k.a. INTERNATIONAL FRONT FOR FIGHTING JEWS AND CRUSADES; a.k.a. ISLAMIC ARMY FOR THE LIBERATION OF HOLY SITES; a.k.a. ISLAMIC ARMY; a.k.a. ISLAMIC SALVATION FOUNDATION; a.k.a. THE GROUP FOR THE PRESERVATION OF THE HOLY SITES; a.k.a. THE ISLAMIC ARMY FOR THE LIBERATION OF THE HOLY PLACES; a.k.a. THE JIHAD GROUP; a.k.a. THE WORLD ISLAMIC FRONT FOR JIHAD AGAINST JEWS AND CRUSADERS; a.k.a. USAMA BIN LADEN NETWORK; a.k.a. USAMA BIN LADEN ORGANIZATION; a.k.a. “THE BASE”) [SDT][FTO][SDGT]

NEW JIHAD (a.k.a. AL-JIHAD; a.k.a. EGYPTIAN AL-JIHAD; a.k.a. EGYPTIAN ISLAMIC JIHAD; a.k.a. JIHAD GROUP) [SDT] [FTO] [SDGT]

NEW KACH MOVEMENT (a.k.a. AMERICAN FRIENDS OF THE UNITED YESHIVA MOVEMENT; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH LEGION; a.k.a. JUDEA POLICE; a.k.a. JUDEAN CONGRESS; a.k.a. KACH; a.k.a. KAHANE CHAI; a.k.a. KAHANE LIVES; a.k.a. KAHANE TZADAK; a.k.a. KAHANE.NET; a.k.a. KAHANE.ORG; a.k.a. KAHANE; a.k.a. KAHANETZADAK.COM; a.k.a. KFAR TAPUAH FUND; a.k.a. KOACH; a.k.a. MEIR'S YOUTH; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [SDT][FTO][SDGT]

NEW KHARTOUM TANNERY, P.O. Box 17, Khartoum, Sudan [SUDAN]

NEW PEOPLE'S ARMY (a.k.a. COMMUNIST PARTY OF THE PHILIPPINES; a.k.a. CPP; a.k.a. NEW PEOPLE'S ARMY/COMMUNIST PARTY OF THE PHILIPPINES; a.k.a. NPA; a.k.a. NPA/CPP) [FTO] [SDGT]

NEW PEOPLE'S ARMY/COMMUNIST PARTY OF THE PHILIPPINES (a.k.a. COMMUNIST PARTY OF THE PHILIPPINES; a.k.a. CPP; a.k.a. NEW PEOPLE'S ARMY; a.k.a. NPA; a.k.a. NPA/CPP) [FTO] [SDGT]

NEWKACH.ORG (a.k.a. AMERICAN FRIENDS OF THE UNITED YESHIVA MOVEMENT; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH LEGION; a.k.a. JUDEA POLICE; a.k.a. JUDEAN CONGRESS; a.k.a. KACH; a.k.a. KAHANE CHAI; a.k.a. KAHANE LIVES; a.k.a. KAHANE TZADAK; a.k.a. KAHANE.NET; a.k.a. KAHANE.ORG; a.k.a. KAHANE; a.k.a. KAHANETZADAK.COM; a.k.a. KFAR TAPUAH FUND; a.k.a. KOACH; a.k.a. MEIR'S YOUTH; a.k.a. NEW KACH MOVEMENT; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [SDT][FTO][SDGT]

NEZAM, Abu (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NIZAM, Abou); DOB Sep 1938 (individual) [SDNTK]

NHEMA, Francis, Minister of Environment and Tourism of Zimbabwe; DOB 17 Apr 1959 (individual) [ZIMB]

NIDAL, Abu (a.k.a. AL BANNA, Sabri Khalil Abd Al Qadir); Founder and Secretary General of ABU NIDAL ORGANIZATION; DOB May 1937 or 1940; POB Jaffa, Israel (individual) [SDT]

NIKOLIC, Dragan; DOB 26 Apr 1957; POB Vlasenica, Bosnia-Herzegovina; ICTY indictee (individual) [BALKANS]

NIKOLIC, Drago; DOB 9 Nov 1957; POB Vlasenica, Bosnia-Herzegovina; ICTY indictee (individual) [BALKANS]

NIKOLIC, Momir; DOB 20 Feb 1955; POB Bratunac, Bosnia-Herzegovina; ICTY indictee (individual) [BALKANS]

NIKOLIC, Zarko; DOB 7 May 1938; POB Sovljak, Serbia and Montenegro (individual) [BALKANS]

NILE CEMENT COMPANY LIMITED, P.O. Box 1502, Khartoum, Sudan; Factories at Rabak, St. 45-47, Khartoum Extension, Sudan [SUDAN]

NILEIN INDUSTRIAL DEVELOPMENT BANK (SUDAN) (a.k.a. EL NILEIN INDUSTRIAL DEVELOPMENT BANK {SUDAN☐; a.k.a. EL NILEIN INDUSTRIAL DEVELOPMENT BANK GROUP; f.k.a. EL NILEIN BANK; f.k.a. INDUSTRIAL BANK OF SUDAN), P.O. Box 466/1722, United Nations Square, Khartoum, Sudan; Parliament Street, P.O. Box 466, Khartoum, Sudan; P.O. Box 6013, Abu Dhabi City, U.A.E. [SUDAN]

NINO VALBUENA, Luis German, c/o COLPHAR S.A., Bogota, Colombia; Passport 19423011 (Colombia); Cedula No. 19423011 (Colombia) (individual) [SDNT]

NIPPON-CARIBBEAN CO., LTD. Chuo-Ku, Akasaki-Chuo 1-1 Akasaki Bldg., Tokyo, Japan [CUBA]

NIREF, Boezembolcht 23, Rotterdam, Netherlands [CUBA]

NIZAM, Abou (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu); DOB Sep 1938 (individual) [SDNTK]

NKOMO, John, Minister of State for Special Affairs of Zimbabwe; DOB 22 Aug 1934 (individual) [ZIMB]

NKOMO, Stephen, Politburo Senior Committee Member of Zimbabwe; DOB 3 Oct 1926 (individual) [ZIMB]

NLA (a.k.a. MEK; a.k.a. MKO; a.k.a. MUJAHEDIN-E KHALQ ORGANIZATION; a.k.a. MUJAHEDIN-E KHALQ; a.k.a. MUSLIM IRANIAN STUDENT'S SOCIETY; a.k.a. NATIONAL COUNCIL OF RESISTANCE (NCR); a.k.a. NATIONAL COUNCIL OF RESISTANCE OF IRAN; a.k.a. NATIONAL COUNCIL OF RESISTANCE; a.k.a. NCRI; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN; a.k.a. THE NATIONAL LIBERATION ARMY OF IRAN) [FTO][SDGT], including its U.S. representative offices and all other offices worldwide [FTO][SDGT]

NLA (a.k.a. NATIONAL LIBERATION ARMY; a.k.a. UCK) [BALKANS]

NO'AR MEIR (a.k.a. AMERICAN FRIENDS OF THE UNITED YESHIVA MOVEMENT; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH LEGION; a.k.a. JUDEA POLICE; a.k.a. JUDEAN CONGRESS; a.k.a. KACH; a.k.a. KAHANE CHAI; a.k.a. KAHANE LIVES; a.k.a. KAHANE TZADAK; a.k.a. KAHANE.NET; a.k.a. KAHANE.ORG; a.k.a. KAHANE; a.k.a. KAHANETZADAK.COM; a.k.a. KFAR TAPUAH FUND; a.k.a. KOACH; a.k.a. MEIR'S YOUTH; a.k.a. NEW KACH MOVEMENT; a.k.a. NEWKACH.ORG; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [SDT][FTO][SDGT]

NOC (a.k.a. LIBYAN NATIONAL OIL CORPORATION; a.k.a. LNOC; a.k.a. NATIONAL OIL CORPORATION), Petroleum Research Centre, Al Nasser Street, P.O. Box 6431, Tripoli, Libya [LIBYA]

NOC (a.k.a. LIBYAN NATIONAL OIL CORPORATION; a.k.a. LNOC; a.k.a. NATIONAL OIL CORPORATION), Petroleum Training and Qualifying Institute, Zawia Road, Km. 9, P.O. Box 6184, Tripoli, Libya [LIBYA]

NOC (a.k.a. LIBYAN NATIONAL OIL CORPORATION; a.k.a. LNOC; a.k.a. NATIONAL OIL CORPORATION), Dahra Gas Projects Office, Dahra Street, P.O. Box 12221, Dahra, Tripoli, Libya [LIBYA]

NOC (a.k.a. LIBYAN NATIONAL OIL CORPORATION; a.k.a. LNOC; a.k.a. NATIONAL OIL CORPORATION), (Subsidiaries and joint ventures in Libya and worldwide) [LIBYA]

NOC (a.k.a. LIBYAN NATIONAL OIL CORPORATION; a.k.a. LNOC; a.k.a. NATIONAL OIL CORPORATION), P.O. Box 2978, Benghazi, Libya [LIBYA]

NOC (a.k.a. LIBYAN NATIONAL OIL CORPORATION; a.k.a. LNOC; a.k.a. NATIONAL OIL CORPORATION), Bashir Saadawi Street, P.O. Box 2655, Tripoli, Libya [LIBYA]

NORDDEUTSCHE OELLEITUNGSGESELLSCHAFT MBH (a.k.a. NDO; a.k.a. NORTH GERMAN OIL PIPELINE), Moorburger Strasse 16, D2000 Hamburg-Harburg 90, Germany [LIBYA]

NORDDEUTSCHE OELLEITUNGSGESELLSCHAFT MBH (a.k.a. NDO; a.k.a. NORTH GERMAN OIL PIPELINE), Wilhelmshaven to Hamburg pipeline, Germany [LIBYA]

NORDSTRAND LTD., Liechtenstein [CUBA]

NORDSTRAND MARITIME AND TRADING COMPANY, 33 Akti Maouli, 185-35 Pireas (Piraeus), Greece [CUBA]

NORIEGA, Manuel Antonio, Panama (individual) [CUBA]

NORTH AFRICA COMMERCIAL BANK S.A.L. (f.k.a. ARAB LIBYAN TUNISIAN BANK S.A.L.), P.O. Box 9575/11, 1st Floor, Piccadily Centre, Hamra Street, Beirut, Lebanon [LIBYA]

NORTH AFRICA INDUSTRIAL TRADING AND CONTRACTING CO., P.O. Box 245, Tripoli, Libya [LIBYA]

NORTH AFRICA INTERNATIONAL BANK (a.k.a. BANQUE ARABE D'AFRIQUE DU NORD [BAAN]; a.k.a. BANQUE ARABE DU NORD-BAAN; a.k.a. N.A.I.B.; a.k.a. NORTH AFRICAN INTERNATIONAL BANK), 25 Avenue Khereddine Pacha, Tunis, Tunisia [LIBYA]

NORTH AFRICA INTERNATIONAL BANK (a.k.a. BANQUE ARABE D'AFRIQUE DU NORD [BAAN]; a.k.a. BANQUE ARABE DU NORD-BAAN; a.k.a. N.A.I.B.; a.k.a. NORTH AFRICAN INTERNATIONAL BANK), P.O. Box 102, Le Belvedere, 1002 Tunis, Tunisia [LIBYA]

NORTH AFRICA INTERNATIONAL BANK (a.k.a. BANQUE ARABE D'AFRIQUE DU NORD [BAAN]; a.k.a. BANQUE ARABE DU NORD-BAAN; a.k.a. N.A.I.B.; a.k.a. NORTH AFRICAN INTERNATIONAL BANK), Avenue Kheireddine Pacha 25, Tunis, Tunisia [LIBYA]

NORTH AFRICA INTERNATIONAL BANK (a.k.a. BANQUE ARABE D'AFRIQUE DU NORD [BAAN]; a.k.a. BANQUE ARABE DU NORD-BAAN; a.k.a. N.A.I.B.; a.k.a. NORTH AFRICAN INTERNATIONAL BANK), P.O. Box 485, 1080 Tunis Cedex, Tunisia [LIBYA]

NORTH AFRICAN INTERNATIONAL BANK (a.k.a. BANQUE ARABE D'AFRIQUE DU NORD [BAAN]; a.k.a. BANQUE ARABE DU NORD-BAAN; a.k.a. N.A.I.B.; a.k.a. NORTH AFRICA INTERNATIONAL BANK), P.O. Box 102, Le Belvedere, 1002 Tunis, Tunisia [LIBYA]

NORTH AFRICAN INTERNATIONAL BANK (a.k.a. BANQUE ARABE D'AFRIQUE DU NORD [BAAN]; a.k.a. BANQUE ARABE DU NORD-BAAN; a.k.a. N.A.I.B.; a.k.a. NORTH AFRICA INTERNATIONAL BANK), 25 Avenue Khereddine Pacha, Tunis, Tunisia [LIBYA]

NORTH AFRICAN INTERNATIONAL BANK (a.k.a. BANQUE ARABE D'AFRIQUE DU NORD [BAAN]; a.k.a. BANQUE ARABE DU NORD-BAAN; a.k.a. N.A.I.B.; a.k.a. NORTH AFRICA INTERNATIONAL BANK), Avenue Kheireddine Pacha 25, Tunis, Tunisia [LIBYA]

NORTH AFRICAN INTERNATIONAL BANK (a.k.a. BANQUE ARABE D'AFRIQUE DU NORD [BAAN]; a.k.a. BANQUE ARABE DU NORD-BAAN; a.k.a. N.A.I.B.; a.k.a. NORTH AFRICA INTERNATIONAL BANK), P.O. Box 485, 1080 Tunis Cedex, Tunisia [LIBYA]

NORTH GERMAN OIL PIPELINE (a.k.a. NDO; a.k.a. NORDDEUTSCHE OELLEITUNGSGESELLSCHAFT MBH), Wilhelmshaven to Hamburg pipeline, Germany [LIBYA]

NORTH GERMAN OIL PIPELINE (a.k.a. NDO; a.k.a. NORDDEUTSCHE OELLEITUNGSGESELLSCHAFT MBH), Moorburger Strasse 16, D2000 Hamburg-Harburg 90, Germany [LIBYA]

NORTH ISLAND SHIPPING CO. LTD., c/o UNION MARITIMA PORTUARIA, 9 Piso, Apartado B, Esquina Cuarteles y Pena Pobre 60, Havana Vieja, Havana, Cuba [CUBA]

NORTHWEST SENNAR SUGAR FACTORY, Northwest Sennar, Sudan [SUDAN]

NOVAPINSKI LTDA., Avenida 3 No. 21-50, Cali, Colombia; NIT # 800246936-7 (Colombia) [SDNT]

NOVILLERA (a.k.a. HACIENDA LA NOVILLERA; a.k.a. NOVILLERA GANADERA), Carrera 4 12-41 piso 15, Edificio Seguros Bolivar, Cali, Colombia; Paso de la Bolsa, Jamundi, Valle del Cauca, Colombia [SDNT]

NOVILLERA GANADERA (a.k.a. HACIENDA LA NOVILLERA; a.k.a. NOVILLERA), Carrera 4 12-41 piso 15, Edificio Seguros Bolivar, Cali, Colombia; Paso de la Bolsa, Jamundi, Valle del Cauca, Colombia [SDNT]

NPA (a.k.a. COMMUNIST PARTY OF THE PHILIPPINES; a.k.a. CPP; a.k.a. NEW PEOPLE'S ARMY; a.k.a. NEW PEOPLE'S ARMY/COMMUNIST PARTY OF THE PHILIPPINES; a.k.a. NPA/CPP) [FTO] [SDGT]

NPA/CPP (a.k.a. COMMUNIST PARTY OF THE PHILIPPINES; a.k.a. CPP; a.k.a. NEW PEOPLE'S ARMY; a.k.a. NEW PEOPLE'S ARMY/COMMUNIST PARTY OF THE PHILIPPINES; a.k.a. NPA) [FTO] [SDGT]

NUNEZ TOLBANOS, Vicente Antonio, c/o COLIMEX LTDA., Cali, Colombia; c/o CPV SISTEMAS GRAFICOS S.L., Madrid, Spain; c/o JAROMO INVERSIONES S.L., Madrid, Spain; c/o RODRIGUEZ Y TOLBANOS S.A., Alcala de Henares, Madrid, Spain; N.I.E. 8966981-V (Spain) (individual) [SDNT]

NURJAMAN (a.k.a. HAMBALI; a.k.a. ISAMUDDIN, Nurjaman Riduan; a.k.a. ISOMUDDIN, Riduan; a.k.a. NURJAMAN, Encep); DOB 04 Apr 1964, alt. DOB 01 Apr 1964; POB Cianjur, West Java, Indonesia; nationality Indonesian (individual) [SDGT]

NURJAMAN, Encep (a.k.a. HAMBALI; a.k.a. ISAMUDDIN, Nurjaman Riduan; a.k.a. ISOMUDDIN, Riduan; a.k.a. NURJAMAN); DOB 04 Apr 1964, alt. DOB 01 Apr 1964; POB Cianjur, West Java, Indonesia; nationality Indonesian (individual) [SDGT]

NUSRAT AL-AQSA AL-SHARIF (a.k.a. AL-AQSA (ASBL); a.k.a. AL-AQSA APANMAL STIFTELSE; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), BD Leopold II 71, 1080 Brussels, Belgium [SDGT]

NUSRAT AL-AQSA AL-SHARIF (a.k.a. AL-AQSA E.V.; a.k.a. AL-AQSA APANMAL STIFTELSE; a.k.a. AL-AQSA ASBL; a.k.a. AL-AQSA CHARITABLE FOUNDATION; a.k.a. AL-AQSA CHARITABLE ORGANIZATION; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), Kappellenstrasse 36, D-52066, Aachen, Germany ((Head Office)) [SDGT]

NUSRAT AL-AQSA AL-SHARIF (a.k.a. AL-AQSA FOUNDATION; a.k.a. AL-AQSA APANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 2364, Islamabad, Pakistan [SDGT]

NUSRAT AL-AQSA AL-SHARIF (a.k.a. AL-AQSA FOUNDATION; a.k.a. AL-AQSA APANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), Nobelvagen 79 NB, 21433 Malmo, Sweden; Noblev 79 NB, 21433 Malmo, Sweden [SDGT]

NUSRAT AL-AQSA AL-SHARIF (a.k.a. AL-AQSA FOUNDATION; a.k.a. AL-AQSA APANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 421082, 2nd Floor, Amoco Gardens, 40 Mint Road, Fordsburg 2033, Johannesburg, South Africa; P.O. Box 421083, 2nd Floor, Amoco Gardens, 40 Mint Road, Fordsburg 2033, Johannesburg, South Africa [SDGT]

NUSRAT AL-AQSA AL-SHARIF (a.k.a. AL-AQSA FOUNDATION; a.k.a. AL-AQSA APANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.) [SDGT]

NUSRAT AL-AQSA AL-SHARIF (a.k.a. AQSSA SOCIETY YEMEN; a.k.a. AL-AQSA APANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 14101, San'a, Yemen [SDGT]

NUSRAT AL-AQSA AL-SHARIF (a.k.a. FORENINGEN AL-AQSA; a.k.a. AL-AQSA APANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA; a.k.a. SWEDISH CHARITABLE AQSA EST.), P.O. Box 6222200KBKN, Copenhagen, Denmark [SDGT]

NUSRAT AL-AQSA AL-SHARIF (a.k.a. STICHTING AL-AQSA; a.k.a. AL-AQSA APANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. SWEDISH CHARITABLE AQSA EST.), Gerrit V/D Lindestraat 103 E, 03022 TH, Rotterdam, Holland; Gerrit V/D Lindestraat 103 A, 3022 TH, Rotterdam, Holland [SDGT]

NYONI, Sithembiso, Minister of Small and Medium Enterprises Development of Zimbabwe; DOB 20 Sept 1949 (individual) [ZIMB]

OASIS BEACH RESORT & CONVENTION CENTER (a.k.a. COMPLEJO TURISTICO OASIS, S.A. de C.V.), Km 25 Carr. Tijuana-Ensenada, Colonia Leyes de Reforma, CP 22710, Playas de Rosarito, Baja California Norte, Mexico; R.F.C.# CTO-880909-R38 (Mexico) [SDNTK]

OBEYMAR MAFLA, Carlos, c/o MERCAVICOLA LTDA., Cali, Colombia; Cedula No. 6226643 (Colombia) (individual) [SDNT]

OBRENOVIC, Dragan; DOB 12 Apr 1963; POB Matino Brdo, Bosnia-Herzegovina; ICTY indictee (individual) [BALKANS]

OBURSATILES S.A. (a.k.a. OPERACIONES BURSATILES S.A. COMISIONISTA DE BOLSA), Avenida 4N No. 4N-30, Cali Colombia; Avenida 68 No. 75A-50 Local 230, Bogota, Colombia; Calle 10 No. 4-40 of. 312, Cali, Colombia; Calle 19 No. 5-48 Local 226, Pereira, Colombia; Carrera 7 No. 74-56 of. 909, Bogota, Colombia; Carrera 15 No. 87-32, Bogota, Colombia; Carrera 22 No. 18-65 Local 28, Manizales, Colombia; Carrera 28 No. 29-06 Local 104, Palmira, Colombia; Carrera 49 No. 52-81 L-9923, Medellin, Colombia; Carrera 52 No. 72-65 Local 106, Barranquilla, Colombia; Carrera 66B No. 34A-76 Local 227, Medellin, Colombia; Centro Comercial Cosmocentro Local 103, Cali, Colombia; Transversal 71D No. 26-94 Sur Local 3504, Bogota, Colombia; NIT # 800012425-0 (Colombia) [SDNT]

OCAMPO, Carlos, c/o CONSTRUCCIONES ASTRO S.A., Cali, Colombia; Cedula No. 6401478 (Colombia) (individual) [SDNT]

OCCIDENTAL COMUNICACIONES LTDA., Calle 44N No. 2BN-10, Cali, Colombia; Calle 19N No. 2N-29 piso 10 Sur, Cali, Colombia; NIT # 800146996-1 (Colombia) [SDNT]

OCCIDENTAL DE PAPELES LTDA. (a.k.a. OCCIPAPEL LTDA.), Avenida 2D No. 24N-06, Cali, Colombia; NIT # 805017535-3 (Colombia) [SDNT]

OCCIPAPEL LTDA. (a.k.a. OCCIDENTAL DE PAPELES LTDA.), Avenida 2D No. 24N-06, Cali, Colombia; NIT # 805017535-3 (Colombia) [SDNT]

OCCUPIED LAND FUND (n.k.a. HOLY LAND FOUNDATION FOR RELIEF AND DEVELOPMENT), 525 International Parkway, Suite 509, Richardson, Texas 75081, U.S.A.; P.O. Box 832390, Richardson, Texas 75083, U.S.A.; 9250 S. Harlem Avenue, Bridgeview, Illinois, U.S.A.; 345 E. Railway Avenue, Paterson, New Jersey 07503, U.S.A.; 12798 Rancho Penasquitos Blvd., Suite F, San Diego, California 92128 U.S.A.; Hebron, West Bank; Jenin, West Bank; Shurta Street, 'Amira al-Ramuna, 4th Floor, Ramallah, West Bank; Shaykh Radwan, Gaza Strip; and other locations within the United States; U.S. FEIN: 95-4227517 [SDT] [SDGT]

OCHOA, Salvador (a.k.a. AMEZCUA CONTRERAS, Luis Ignacio; a.k.a. AMEZCUA, Luis; a.k.a. CONTRERAS, Luis C.; a.k.a. LOPEZ, Luis; a.k.a. LOZANO, Eduardo; a.k.a. RODRIGUEZ LOPEZ, Sergio), DOB 22 Feb 1964; alt. DOB 21 Feb 1964; alt. DOB 21 Feb 1974; POB Mexico (individual) [SDNTK]

OCTOBER HOLDING COMPANY (a.k.a. OCTUBRE HOLDING SOCIETE ANONIME) Vaduz, Liechtenstein [CUBA]

OCTUBRE HOLDING SOCIETE ANONIME (a.k.a. OCTOBER HOLDING COMPANY), Vaduz, Liechtenstein [CUBA]

OEA DRINKS CO., P.O. Box 101, Ibn El Jarrah Street, Tripoli, Libya [LIBYA]

OGUNGBUYI, Abeni O. (a.k.a. BABESTAN, Abeni O.; a.k.a. SHOFESO, Olatutu Temitope), DOB 30 Jun 1952; POB Nigeria (individual) [SDNTK]

OGUNGBUYI, Oluwole A. (a.k.a. ADEMULERO, Babestan Oluwole; a.k.a. BABESTAN, Wole A.; a.k.a. OGUNGBUYI, Wally; a.k.a. OGUNGBUYI, Wole A.; a.k.a. SHOFESO, Olatude I.; a.k.a. SHOFESO, Olatunde Irewole), DOB 4 Mar 1953; POB Nigeria (individual) [SDNTK]

OGUNGBUYI, Wally (a.k.a. ADEMULERO, Babestan Oluwole; a.k.a. BABESTAN, Wole A.; a.k.a. OGUNGBUYI, Oluwole A.; a.k.a. OGUNGBUYI, Wole A.; a.k.a. SHOFESO, Olatude I.; a.k.a. SHOFESO, Olatunde Irewole), DOB 4 Mar 1953; POB Nigeria (individual) [SDNTK]

OGUNGBUYI, Wole A. (a.k.a. ADEMULERO, Babestan Oluwole; a.k.a. BABESTAN, Wole A.; a.k.a. OGUNGBUYI, Oluwole A.; a.k.a. OGUNGBUYI, Wally; a.k.a. SHOFESO, Olatude I.; a.k.a. SHOFESO, Olatunde Irewole), DOB 4 Mar 1953; POB Nigeria (individual) [SDNTK]

OIIC (a.k.a. FOREIGN PETROLEUM INVESTMENT CORPORATION; a.k.a. LIBYAN OIL INVESTMENTS INTERNATIONAL COMPANY; a.k.a. OILINVEST; a.k.a. OILINVEST INTERNATIONAL N.V.), Tripoli, Libya [LIBYA]

OIIC (a.k.a. FOREIGN PETROLEUM INVESTMENT CORPORATION; a.k.a. LIBYAN OIL INVESTMENTS INTERNATIONAL COMPANY; a.k.a. OILINVEST; a.k.a. OILINVEST INTERNATIONAL N.V.), Netherlands Antilles [LIBYA]

OIL CORPORATION, P.O. Box 64, Khartoum, Sudan [SUDAN]

OIL ENERGY FRANCE, France [LIBYA]

OIL ENERGY SPAIN (a.k.a. OILINVEST SPAIN; a.k.a. OILINVEST ESPANOLA), Spain [LIBYA]

OILINVEST (a.k.a. FOREIGN PETROLEUM INVESTMENT CORPORATION; a.k.a. LIBYAN OIL INVESTMENTS INTERNATIONAL COMPANY; a.k.a. OIIC; a.k.a. OILINVEST INTERNATIONAL N.V.), Netherlands Antilles [LIBYA]

OILINVEST (a.k.a. FOREIGN PETROLEUM INVESTMENT CORPORATION; a.k.a. LIBYAN OIL INVESTMENTS INTERNATIONAL COMPANY; a.k.a. OIIC; a.k.a. OILINVEST INTERNATIONAL N.V.), Tripoli, Libya [LIBYA]

OILINVEST (NETHERLANDS) B.V. (a.k.a. OILINVEST HOLLAND B.V.) Museumpln 11, 1071 DJ Amsterdam, Netherlands [LIBYA]

OILINVEST ESPANOLA (a.k.a. OILINVEST SPAIN; a.k.a. OIL ENERGY SPAIN), Spain [LIBYA]

OILINVEST HOLLAND B.V. (a.k.a. OILINVEST NETHERLANDS B.V.), Museumpln 11, 1071 DJ Amsterdam, Netherlands [LIBYA]

OILINVEST INTERNATIONAL N.V. (a.k.a. OILINVEST, a.k.a. FOREIGN PETROLEUM INVESTMENT CORPORATION, a.k.a. LIBYAN OIL INVESTMENTS INTERNATIONAL COMPANY, a.k.a. OIIC), Tripoli, Libya [LIBYA]

OILINVEST INTERNATIONAL N.V. (a.k.a. OILINVEST, a.k.a. FOREIGN PETROLEUM INVESTMENT CORPORATION, a.k.a. LIBYAN OIL INVESTMENTS INTERNATIONAL COMPANY, a.k.a. OIIC), Netherlands Antilles [LIBYA]

OILINVEST SPAIN (a.k.a. OIL ENERGY SPAIN; a.k.a. OILINVEST ESPANOLA), Spain [LIBYA]

OJDANIC, Dragoljub; DOB 1 Jun 1941; POB Ravni-Cajetina, Serbia and Montenegro; Ex-Fry Minister of Defense; ICTY indictee in custody (individual) [BALKANS]

OKBA FOOTWEAR PLANT, Tajoura, Libya [LIBYA]

OLARRA GURIDI, Juan Antonio; member ETA; DOB 11 Sep 1967; POB San Sebastian (Guipuzcoa Province), Spain; D.N.I. 30.084.504 (individual) [SDGT]

OLAYA ROSCIASCO, Patricia Esperanza, c/o LABORATORIOS PROFARMA LTDA., Bogota, Colombia; DOB 30 Mar 1963; Passport 51698439 (Colombia); Cedula No. 51698439 (Colombia) (individual) [SDNT]

OMAR, Mohammed, Commander of the Faithful (“Amir al-Munineen”), Kandahar, Afghanistan; DOB 1950; POB Hotak, Kandahar Province, Afghanistan (individual) [SDGT]

OMAR, Ramzi Mohammed Abdellah (a.k.a. BIN AL SHIBH, Ramzi; a.k.a. BINALSHEIDAH, Ramzi Mohamed Abdullah; a.k.a. BINALSHIBH, Ramzi Mohammed Abdullah), Billstedter Hauptstr Apt 14, 22111 Hamburg, Germany; Emil Anderson Strasse 5, 22073 Hamburg, Germany; Letzte Heller #109 Hamburg University, 22111 Hamburg, Germany; Marienstr #54, 21073 Hamburg, Germany; Schleemer Ring 2, 22117 Hamburg, Germany; DOB 16 Sep 1973; alt. DOB 1 May 1972; POB Khartoum, Sudan; alt. POB Hadramawt, Yemen; Passport Nos. A755350 (Saudi Arabia), R85243 (Yemen), 00085243 (Yemen); nationality Yemeni (individual) [SDGT]

OMDURMAN SHOE FACTORY, Omdurman, Sudan [SUDAN]

OMEISH, Ramadan M., Tripoli, Libya; Abu Dhabi, U.A.E. (individual) [LIBYA]

OMRAN, Karim Dhaidas, Iraq (individual) [IRAQ]

OMRANI, Abuzeid Ramadan, Administrative Manager of Libyan Arab Foreign Investment Company, Libya (individual) [LIBYA]

OPERACIONES BURSATILES S.A. COMISIONISTA DE BOLSA (a.k.a. OBURSATILES S.A.), Avenida 4N No. 4N-30, Cali Colombia; Avenida 68 No. 75A-50 Local 230, Bogota, Colombia; Calle 10 No. 4-40 of. 312, Cali, Colombia; Calle 19 No. 5-48 Local 226, Pereira, Colombia; Carrera 7 No. 74-56 of. 909, Bogota, Colombia; Carrera 15 No. 87-32, Bogota, Colombia; Carrera 22 No. 18-65 Local 28, Manizales, Colombia; Carrera 28 No. 29-06 Local 104, Palmira, Colombia; Carrera 49 No. 52-81 L-9923, Medellin, Colombia; Carrera 52 No. 72-65 Local 106, Barranquilla, Colombia; Carrera 66B No. 34A-76 Local 227, Medellin, Colombia; Centro Comercial Cosmocentro Local 103, Cali, Colombia; Transversal 71D No. 26-94 Sur Local 3504, Bogota, Colombia; NIT # 800012425-0 (Colombia) [SDNT]

OPERADORA VALPARK, S.A. de C.V., Avenida Cuauhtemoc 1711, Ofc. 305A, Zona Rio, Tijuana, Baja California, Mexico; Calle Netzahuacoyotl y Paseo Centenario, Tijuana, Baja California, Mexico [SDNTK]

ORANGE VOLUNTEERS; United Kingdom [SDGT]

ORBE SEVILLANO, Zigor; member ETA; DOB 22 Sep 1975; POB Basauri (Vizcaya Province), Spain; D.N.I. 45.622.851 (individual) [SDGT]

ORELLANA ERAZO, Hector Manuel (a.k.a. GOMEZ CHAVEZ, Gabriel; a.k.a. GONZALEZ LOPEZ, Gregorio; a.k.a. GONZALEZ QUIRARTE, Eduardo; a.k.a. GONZALES QUIRARTE, Jose; a.k.a. GONZALEZ QUIRARTE, Lalo); DOB 28 Aug 1962; alt. DOB 20 Aug 1962; POB Jalisco, Mexico; Passport No. 96140045817 (Mexico), Passport No. 97380018185 (Mexico); SSN 550-63-9593 (U.S.A.) (individual) [SDNTK]

ORGANIZACION EMPRESARIAL A DE J HENAO M E HIJOS Y CIA. S.C.S., Carrera 4A No. 16-04 apt. 303, Cartago, Colombia; Km. 5 Via Aeropuerto, Hacienda Coque, Cartago, Colombia; NIT # 800157331-1 (Colombia) [SDNT]

ORGANIZACION LUIS HERNANDO GOMEZ BUSTAMANTE Y CIA S.C.S., Carrera 4 No. 12-20 of. 206, Cartago, Valle, Colombia; NIT # 800140477-1 (Colombia) [SDNT]

ORGANIZATION OF REVOLUTIONARY INTERNATIONALIST SOLIDARITY (a.k.a. ELA; a.k.a. EPANASTATIKI PIRINES; a.k.a. EPANASTATIKOS LAIKOS AGONAS; a.k.a. JUNE 78; a.k.a. LIBERATION STRUGGLE; a.k.a. POPULAR REVOLUTIONARY STRUGGLE; a.k.a. REVOLUTIONARY CELLS; a.k.a. REVOLUTIONARY NUCLEI; a.k.a. REVOLUTIONARY PEOPLE'S STRUGGLE; a.k.a. REVOLUTIONARY POPULAR STRUGGLE) [FTO][SDGT]

ORGANIZATION OF RIGHT AGAINST WRONG (a.k.a. PARTY OF GOD; a.k.a. ISLAMIC JIHAD; a.k.a. ISLAMIC JIHAD ORGANIZATION; a.k.a. ISLAMIC JIHAD FOR THE LIBERATION OF PALESTINE; a.k.a. REVOLUTIONARY JUSTICE ORGANIZATION; a.k.a. HIZBALLAH; a.k.a. ORGANIZATION OF THE OPPRESSED ON EARTH ; a.k.a. ANSAR ALLAH; a.k.a. FOLLOWERS OF THE PROPHET MUHAMMED) [SDT][FTO][SDGT]

ORGANIZATION OF THE OPPRESSED ON EARTH (a.k.a. PARTY OF GOD; a.k.a. ISLAMIC JIHAD; a.k.a. ISLAMIC JIHAD ORGANIZATION; a.k.a. ISLAMIC JIHAD FOR THE LIBERATION OF PALESTINE; a.k.a. REVOLUTIONARY JUSTICE ORGANIZATION; a.k.a. HIZBALLAH; a.k.a. ORGANIZATION OF RIGHT AGAINST WRONG; a.k.a. ANSAR ALLAH; a.k.a. FOLLOWERS OF THE PROPHET MUHAMMED) [SDT][FTO][SDGT]

ORGANIZATION OF THE PEOPLE'S HOLY WARRIORS OF IRAN (a.k.a. MEK; a.k.a. MKO; a.k.a. MUJAHEDIN-E KHALQ ORGANIZATION; a.k.a. MUJAHEDIN-E KHALQ; a.k.a. MUSLIM IRANIAN STUDENT'S SOCIETY; a.k.a. NATIONAL COUNCIL OF RESISTANCE (NCR); a.k.a. NATIONAL COUNCIL OF RESISTANCE OF IRAN; a.k.a. NATIONAL COUNCIL OF RESISTANCE; a.k.a. NCRI; a.k.a. NLA; a.k.a. PEOPLE'S MUJAHEDIN ORGANIZATION OF IRAN; a.k.a. PMOI; a.k.a. SAZEMAN-E MUJAHEDIN-E KHALQ-E IRAN; a.k.a. THE NATIONAL LIBERATION ARMY OF IRAN), including its U.S. representative offices and all other offices worldwide [FTO][SDGT]

ORIC, Naser; DOB 3 March 1967; POB Potocari, Bosnia-Herzegovina; ICTY indictee in custody (individual) [BALKANS]

ORIENT SHIPPING LIMITED, Lot 18, Bay Street, Kingstowne, St. Vincent and the Grenadines [IRAQ]

OROPEZA MEDRANO, Francisco Javier, Avenida Los Reyes 18108-D, Fraccionamiento Villa de Baja California 22684, Tijuana, Baja California, Mexico; c/o FARMACIA VIDA SUPREMA, S.A. DE C.V., Tijuana, Baja California, Mexico; DOB 23 Feb 1968; POB Coahuila, Mexico (individual) [SDNTK]

OROZCO CARDENAS, Adrian, Privada Colonia del Valle 7001, Fraccionamiento Residencial Agua Caliente, Tijuana, Baja California, Mexico; Calle Circunvalacion Sur 273-5, Colonia Las Fuentes 45070, Zapopan, Jalisco, Mexico; c/o FARMACIA VIDA SUPREMA, S.A. DE C.V., Tijuana, Baja California, Mexico; c/o DISTRIBUIDORA IMPERIAL DE BAJA CALIFORNIA, S.A. de C.V., Tijuana, Baja California, Mexico; c/o ADMINISTRADORA DE INMUEBLES VIDA, S.A. de C.V., Tijuana, Baja California, Mexico; c/o ADP, S.C., Tijuana, Baja California, Mexico; c/o FORPRES, S.C., Tijuana, Baja California, Mexico; DOB 14 Sept 1953, POB Distrito Federal, Mexico (individual) [SDNTK]

OROZCO LOPEZ, Orlando, c/o ASESORIAS ECONOMICAS MUNOZ SANTACOLOMA E.U., Cali, Colombia; c/o CHAMARTIN S.A., Cali, Colombia; Passport 16736406 (Colombia); Cedula No. 16736406 (Colombia) (individual) [SDNT]

OROZCO NINO, Adriana, c/o COLIMEX LTDA., Cali, Colombia; c/o PROSALUD Y BIENESTAR S.A., Cali, Colombia; DOB 1 Nov 1966; Passport 31972596 (Colombia); N.I.E. X2302530-T (Spain); Cedula No. 31972596 (Colombia) (individual) [SDNT]

OROZCO NINO, Carlos Alberto, c/o COMERCIALIZADORA INTERTEL S.A., Cali, Colombia; c/o PROSALUD S.A. Y BIENESTAR S.A., Cali, Colombia; c/o RENTAR INMOBILIARIA S.A., Cali, Colombia; DOB 16 Oct 1967; Passport 16745992 (Colombia); Cedula No. 16745992 (Colombia) (individual) [SDNT]

ORS, Jose Antonio Rego, Tokyo, Japan (individual) [CUBA]

ORTEGA, Dario (PINA) Edificio Saldivar, Panama City, Panama (individual) [CUBA]

ORTEGA, Miguel (a.k.a. AREGON, Max; a.k.a. CARO RODRIGUEZ, Gilberto; a.k.a. GUIERREZ LOERA, Jose Luis; a.k.a. GUMAN LOERAL, Joaquin; a.k.a. GUZMAN, Achivaldo; a.k.a. GUZMAN, Archibaldo; a.k.a. GUZMAN, Aureliano; a.k.a. GUZMAN, Chapo; a.k.a. GUZMAN FERNANDEZ, Joaquin; a.k.a. GUZMAN, Joaquin Chapo; a.k.a. GUZMAN LOEIA, Joaguin; a.k.a. GUZMAN LOERA, Joaquin; a.k.a. GUZMAN LOESA, Joaquin; a.k.a. GUZMAN LOREA, Chapo; a.k.a. GUZMAN PADILLA, Joaquin; a.k.a. OSUNA, Gilberto; a.k.a. RAMIREZ, Joise Luis; a.k.a. RAMOX PEREZ, Jorge) DOB 25 Dec 1954; POB Mexico (individual) [SDNTK]

ORTIZ CARDONA, Gloria, c/o MACROFARMA S.A., Cali, Colombia; Passport 34056678 (Colombia); Cedula No. 34056678 (Colombia) (individual) [SDNT]

ORTIZ, Guadalupe, Cubanatur, Baja California 255, Edificio B, Oficina 103, Condesa 06500, Mexico, D.F. (individual) [CUBA]

ORTIZ PALACIOS, Willington A., Avenida 5AN No. 23D-68 piso 2, Cali, Colombia; Carrera 62 Bis No. 6A, Cali, Colombia; c/o CREACIONES DEPORTIVAS WILLINGTON LTDA., Cali, Colombia (individual) [SDNT]

OS OILINVEST SERVICES A.G., Loewenstrasse 60, Zurich, Switzerland [LIBYA]

OSORIO CADAVID, Maria Victoria, c/o COLOR 89.5 FM STEREO, Cali, Colombia; c/o DERECHO INTEGRAL Y CIA. LTDA., Cali, Colombia; Cedula No. 31932294 (Colombia) (individual) [SDNT]

OSPINA GOMEZ, Jose Fernando c/o CAJA SOLIDARIA, Bogota, Colombia; c/o COPSERVIR LTDA., Bogota, Colombia; DOB 9 Sep 1962; Passport 16674357 (Colombia); Cedula No. 16674357 (Colombia) (individual) [SDNT]

OSPINA LIZALDA, Marina, c/o ADMINISTRADORA DE SERVICIOS VARIOS CALIMA S.A., Cali, Colombia; c/o CHAMARTIN S.A., Cali, Colombia; Passport 31838118 (Colombia); Cedula No. 31838118 (Colombia) (individual) [SDNT]

OSUNA, Gilberto (a.k.a. AREGON, Max; a.k.a. CARO RODRIGUEZ, Gilberto; a.k.a. GUIERREZ LOERA, Jose Luis; a.k.a. GUMAN LOERAL, Joaquin; a.k.a. GUZMAN, Achivaldo; a.k.a. GUZMAN, Archibaldo; a.k.a. GUZMAN, Aureliano; a.k.a. GUZMAN, Chapo; a.k.a. GUZMAN FERNANDEZ, Joaquin; a.k.a. GUZMAN, Joaquin Chapo; a.k.a. GUZMAN LOEIA, Joaguin; a.k.a. GUZMAN LOERA, Joaquin; a.k.a. GUZMAN LOESA, Joaquin; a.k.a. GUZMAN LOREA, Chapo; a.k.a. GUZMAN PADILLA, Joaquin; a.k.a. ORTEGA, Miguel; a.k.a. RAMIREZ, Joise Luis; a.k.a. RAMOX PEREZ, Jorge) DOB 25 Dec 1954; POB Mexico (individual) [SDNTK]

OTEGUI UNANUE, Mikel; member ETA; DOB 8 Oct 1972; POB Itsasondo (Guipuzcoa Province), Spain; D.N.I. 44.132.976 (individual) [SDGT]

OUAZ, Najib, Vicolo dei Prati n.2/2, Bologna, Italy; DOB 12 Apr 1960; POB Hekaima, Tunisia (individual) [SDGT]

PABON JAIMES, Alicia, c/o COOPDISAN, Bucaramanga, Colombia; c/o COPSERVIR LTDA., Bucaramanga, Colombia; c/o DROGAS LA REBAJA BUCARAMANGA S.A., Bucaramanga, Colombia; Passport 63346404 (Colombia); Cedula No. 63346404 (Colombia) (individual) [SDNT]

PACHECO, Rosa Elena, c/o LEMOFAR LTDA., Bogota, Colombia; DOB 2 Jan 1958; Passport 36162233 (Colombia); Cedula No. 36162233 (Colombia) (individual) [SDNT]

PADILLA MEZA, Tulio Roberto, c/o SISTEMAS INTEGRALES DEL VALLE LTDA., Cali, Colombia; Passport 16737603 (Colombia); Cedula No. 16737603 (Colombia) (individual) [SDNT]

PADRON, Amado (TRUJILLO), Panama (individual) [CUBA]

PAK-LIBYAN HOLDING COMPANY LTD., Karachi, Pakistan [LIBYA]

PALACIOS ALDAY, Gorka; member ETA; DOB 17 Oct 1974; POB Baracaldo (Vizcaya Province), Spain; D.N.I. 30.654.356 (individual) [SDGT]

PALAESTINAENSER VEREIN (a.k.a. PALAESTINAENSERVEREIN OESTERREICH; a.k.a. PALAESTINENSISCH VERBAND OESTERREICH; a.k.a. PALAESTINENSISCHE VEREINIGUNG; a.k.a. PALAESTININIENSISCHE BEREINIGUNG; a.k.a. PALESTINE LEAGUE; a.k.a. PALESTINE UNION; a.k.a. PALESTINENSISCHE VER IN STERREICH; a.k.a. PALESTINIAN ASSOCIATION; n.k.a. PALESTINIAN ASSOCIATION IN AUSTRIA; f.k.a. PALESTINIAN ISLAMIC ASSOCIATION IN AUSTRIA; f.k.a. PALESTINIAN ISLAMIC LEAGUE IN AUSTRIA; a.k.a. PALESTINIAN LEAGUE IN AUSTRIA; a.k.a. PALESTINIAN ORGANIZATION; a.k.a. PALESTINIAN UNION; a.k.a. PALESTINIAN UNION IN AUSTRIA; a.k.a. PALESTINISCHE VEREINIGUNG; a.k.a. PVOE), Novara g 36a/11, 1020 Wien, Austria [SDGT]

PALAESTINAENSERVEREIN OESTERREICH (a.k.a. PALAESTINAENSER VEREIN; a.k.a. PALAESTINENSISCH VERBAND OESTERREICH; a.k.a. PALAESTINENSISCHE VEREINIGUNG; a.k.a. PALAESTININIENSISCHE BEREINIGUNG; a.k.a. PALESTINE LEAGUE; a.k.a. PALESTINE UNION; a.k.a. PALESTINENSISCHE VER IN STERREICH; a.k.a. PALESTINIAN ASSOCIATION; n.k.a. PALESTINIAN ASSOCIATION IN AUSTRIA; f.k.a. PALESTINIAN ISLAMIC ASSOCIATION IN AUSTRIA; f.k.a. PALESTINIAN ISLAMIC LEAGUE IN AUSTRIA; a.k.a. PALESTINIAN LEAGUE IN AUSTRIA; a.k.a. PALESTINIAN ORGANIZATION; a.k.a. PALESTINIAN UNION; a.k.a. PALESTINIAN UNION IN AUSTRIA; a.k.a. PALESTINISCHE VEREINIGUNG; a.k.a. PVOE), Novara g 36a/11, 1020 Wien, Austria [SDGT]

PALAESTINENSISCH VERBAND OESTERREICH (a.k.a. PALAESTINAENSER VEREIN; a.k.a. PALAESTINAENSERVEREIN OESTERREICH; a.k.a. PALAESTINENSISCHE VEREINIGUNG; a.k.a. PALAESTININIENSISCHE BEREINIGUNG; a.k.a. PALESTINE LEAGUE; a.k.a. PALESTINE UNION; a.k.a. PALESTINENSISCHE VER IN STERREICH; a.k.a. PALESTINIAN ASSOCIATION; n.k.a. PALESTINIAN ASSOCIATION IN AUSTRIA; f.k.a. PALESTINIAN ISLAMIC ASSOCIATION IN AUSTRIA; f.k.a. PALESTINIAN ISLAMIC LEAGUE IN AUSTRIA; a.k.a. PALESTINIAN LEAGUE IN AUSTRIA; a.k.a. PALESTINIAN ORGANIZATION; a.k.a. PALESTINIAN UNION; a.k.a. PALESTINIAN UNION IN AUSTRIA; a.k.a. PALESTINISCHE VEREINIGUNG; a.k.a. PVOE), Novara g 36a/11, 1020 Wien, Austria [SDGT]

PALAESTINENSISCHE VEREINIGUNG (a.k.a. PALAESTINAENSER VEREIN; a.k.a. PALAESTINAENSERVEREIN OESTERREICH; a.k.a. PALAESTINENSISCH VERBAND OESTERREICH; a.k.a. PALAESTININIENSISCHE BEREINIGUNG; a.k.a. PALESTINE LEAGUE; a.k.a. PALESTINE UNION; a.k.a. PALESTINENSISCHE VER IN STERREICH; a.k.a. PALESTINIAN ASSOCIATION; n.k.a. PALESTINIAN ASSOCIATION IN AUSTRIA; f.k.a. PALESTINIAN ISLAMIC ASSOCIATION IN AUSTRIA; f.k.a. PALESTINIAN ISLAMIC LEAGUE IN AUSTRIA; a.k.a. PALESTINIAN LEAGUE IN AUSTRIA; a.k.a. PALESTINIAN ORGANIZATION; a.k.a. PALESTINIAN UNION; a.k.a. PALESTINIAN UNION IN AUSTRIA; a.k.a. PALESTINISCHE VEREINIGUNG; a.k.a. PVOE), Novara g 36a/11, 1020 Wien, Austria [SDGT]

PALAESTININIENSISCHE BEREINIGUNG (a.k.a. PALAESTINAENSER VEREIN; a.k.a. PALAESTINAENSERVEREIN OESTERREICH; a.k.a. PALAESTINENSISCH VERBAND OESTERREICH; a.k.a. PALAESTINENSISCHE VEREINIGUNG; a.k.a. PALESTINE LEAGUE; a.k.a. PALESTINE UNION; a.k.a. PALESTINENSISCHE VER IN STERREICH; a.k.a. PALESTINIAN ASSOCIATION; n.k.a. PALESTINIAN ASSOCIATION IN AUSTRIA; f.k.a. PALESTINIAN ISLAMIC ASSOCIATION IN AUSTRIA; f.k.a. PALESTINIAN ISLAMIC LEAGUE IN AUSTRIA; a.k.a. PALESTINIAN LEAGUE IN AUSTRIA; a.k.a. PALESTINIAN ORGANIZATION; a.k.a. PALESTINIAN UNION; a.k.a. PALESTINIAN UNION IN AUSTRIA; a.k.a. PALESTINISCHE VEREINIGUNG; a.k.a. PVOE), Novara g 36a/11, 1020 Wien, Austria [SDGT]

PALESTINE AND LEBANON RELIEF FUND (a.k.a. AL-SANDUQ AL-FILISTINI LIL-IGHATHA; a.k.a. AL-SANDUQ AL-FILISTINI LIL-IGHATHA WA AL-TANMIYA; a.k.a. INTERPAL; a.k.a. PALESTINE DEVELOPMENT AND RELIEF FUND; a.k.a. PALESTINE RELIEF AND DEVELOPMENT FUND; a.k.a. PALESTINE RELIEF FUND; a.k.a. PALESTINIAN AID AND SUPPORT FUND; a.k.a. PALESTINIAN RELIEF AND DEVELOPMENT FUND; a.k.a. PALESTINIAN RELIEF FUND; a.k.a. PRDF; a.k.a. RELIEF AND DEVELOPMENT FUND FOR PALESTINE; a.k.a. WELFARE AND DEVELOPMENT FUND FOR PALESTINE; a.k.a. WELFARE AND DEVELOPMENT FUND OF PALESTINE), P.O. Box 3333, London, NW6 1RW, England; Registered Charity No: 1040094 [SDGT]

PALESTINE DEVELOPMENT AND RELIEF FUND (a.k.a. AL-SANDUQ AL-FILISTINI LIL-IGHATHA; a.k.a. AL-SANDUQ AL-FILISTINI LIL-IGHATHA WA AL-TANMIYA; a.k.a. INTERPAL; a.k.a. PALESTINE AND LEBANON RELIEF FUND; a.k.a. PALESTINE RELIEF AND DEVELOPMENT FUND; a.k.a. PALESTINE RELIEF FUND; a.k.a. PALESTINIAN AID AND SUPPORT FUND; a.k.a. PALESTINIAN RELIEF AND DEVELOPMENT FUND; a.k.a. PALESTINIAN RELIEF FUND; a.k.a. PRDF; a.k.a. RELIEF AND DEVELOPMENT FUND FOR PALESTINE; a.k.a. WELFARE AND DEVELOPMENT FUND FOR PALESTINE; a.k.a. WELFARE AND DEVELOPMENT FUND OF PALESTINE), P.O. Box 3333, London, NW6 1RW, England; Registered Charity No: 1040094 [SDGT]

PALESTINE ISLAMIC JIHAD—SHAQAQI FACTION (a.k.a. ABU GHUNAYM SQUAD OF THE HIZBALLAH BAYT AL-MAQDIS; a.k.a. AL-AWDAH BRIGADES; a.k.a. AL-QUDS BRIGADES; a.k.a. AL-QUDS SQUADS; a.k.a. ISLAMIC JIHAD IN PALESTINE; a.k.a. ISLAMIC JIHAD OF PALESTINE; a.k.a. PALESTINIAN ISLAMIC JIHAD; a.k.a. PIJ; a.k.a. PIJ-SHALLAH FACTION; a.k.a. PIJ-SHAQAQI FACTION; a.k.a. SAYARA AL-QUDS) [SDT] [FTO][SDGT]

PALESTINE LEAGUE (a.k.a. PALAESTINAENSER VEREIN; a.k.a. PALAESTINAENSERVEREIN OESTERREICH; a.k.a. PALAESTINENSISCH VERBAND OESTERREICH; a.k.a. PALAESTINENSISCHE VEREINIGUNG; a.k.a. PALAESTININIENSISCHE BEREINIGUNG; a.k.a. PALESTINE UNION; a.k.a. PALESTINENSISCHE VER IN STERREICH; a.k.a. PALESTINIAN ASSOCIATION; n.k.a. PALESTINIAN ASSOCIATION IN AUSTRIA; f.k.a. PALESTINIAN ISLAMIC ASSOCIATION IN AUSTRIA; f.k.a. PALESTINIAN ISLAMIC LEAGUE IN AUSTRIA; a.k.a. PALESTINIAN LEAGUE IN AUSTRIA; a.k.a. PALESTINIAN ORGANIZATION; a.k.a. PALESTINIAN UNION; a.k.a. PALESTINIAN UNION IN AUSTRIA; a.k.a. PALESTINISCHE VEREINIGUNG; a.k.a. PVOE), Novara g 36a/11, 1020 Wien, Austria [SDGT]

PALESTINE LIBERATION FRONT (a.k.a. PALESTINE LIBERATION FRONT—ABU ABBAS FACTION; a.k.a. PLF; a.k.a. PLF-ABU ABBAS) [SDT][FTO][SDGT]

PALESTINE LIBERATION FRONT—ABU ABBAS FACTION (a.k.a. PALESTINE LIBERATION FRONT; a.k.a. PLF; a.k.a. PLF-ABU ABBAS) [SDT][FTO][SDGT]

PALESTINE RELIEF AND DEVELOPMENT FUND (a.k.a. AL-SANDUQ AL-FILISTINI LIL-IGHATHA; a.k.a. AL-SANDUQ AL-FILISTINI LIL-IGHATHA WA AL-TANMIYA; a.k.a. INTERPAL; a.k.a. PALESTINE AND LEBANON RELIEF FUND; a.k.a. PALESTINE DEVELOPMENT AND RELIEF FUND; a.k.a. PALESTINE RELIEF FUND; a.k.a. PALESTINIAN AID AND SUPPORT FUND; a.k.a. PALESTINIAN RELIEF AND DEVELOPMENT FUND; a.k.a. PALESTINIAN RELIEF FUND; a.k.a. PRDF; a.k.a. RELIEF AND DEVELOPMENT FUND FOR PALESTINE; a.k.a. WELFARE AND DEVELOPMENT FUND FOR PALESTINE; a.k.a. WELFARE AND DEVELOPMENT FUND OF PALESTINE), P.O. Box 3333, London, NW6 1RW, England; Registered Charity No: 1040094 [SDGT]

PALESTINE RELIEF COMMITTEE (a.k.a. ASP; a.k.a. ASSOCIATION DE SECOURS PALESTINIENS; a.k.a. ASSOCIATION FOR PALESTINIAN AID; a.k.a. ASSOCIATION SECOUR PALESTINIEN; a.k.a. HUMANITARE HILFSORGANISATION FUR PALASTINA; a.k.a. LAJNA AL-IGHATHA AL-FILISTINI; a.k.a. PALESTINIAN AID COUNCIL; a.k.a. PALESTINIAN AID ORGANIZATION; a.k.a. PALESTINIAN RELIEF SOCIETY; a.k.a. RELIEF ASSOCIATION FOR PALESTINE), c/o Faical Yaakoubi, 7 rue de l'Ancien Port, CH-1201 Geneva, Switzerland; Gartnerstrasse 55, CH-4019 Basel, Switzerland; Postfach 406, CH-4019 Basel, Switzerland [SDGT]

PALESTINE RELIEF FUND (a.k.a. AL-SANDUQ AL-FILISTINI LIL-IGHATHA; a.k.a. AL-SANDUQ AL-FILISTINI LIL-IGHATHA WA AL-TANMIYA; a.k.a. INTERPAL; a.k.a. PALESTINE AND LEBANON RELIEF FUND; a.k.a. PALESTINE DEVELOPMENT AND RELIEF FUND; a.k.a. PALESTINE RELIEF AND DEVELOPMENT FUND; a.k.a. PALESTINIAN AID AND SUPPORT FUND; a.k.a. PALESTINIAN RELIEF AND DEVELOPMENT FUND; a.k.a. PALESTINIAN RELIEF FUND; a.k.a. PRDF; a.k.a. RELIEF AND DEVELOPMENT FUND FOR PALESTINE; a.k.a. WELFARE AND DEVELOPMENT FUND FOR PALESTINE; a.k.a. WELFARE AND DEVELOPMENT FUND OF PALESTINE), P.O. Box 3333, London, NW6 1RW, England; Registered Charity No: 1040094 [SDGT]

PALESTINE UNION (a.k.a. PALAESTINAENSER VEREIN; a.k.a. PALAESTINAENSERVEREIN OESTERREICH; a.k.a. PALAESTINENSISCH VERBAND OESTERREICH; a.k.a. PALAESTINENSISCHE VEREINIGUNG; a.k.a. PALAESTININIENSISCHE BEREINIGUNG; a.k.a. PALESTINE LEAGUE; a.k.a. PALESTINENSISCHE VER IN STERREICH; a.k.a. PALESTINIAN ASSOCIATION; n.k.a. PALESTINIAN ASSOCIATION IN AUSTRIA; f.k.a. PALESTINIAN ISLAMIC ASSOCIATION IN AUSTRIA; f.k.a. PALESTINIAN ISLAMIC LEAGUE IN AUSTRIA; a.k.a. PALESTINIAN LEAGUE IN AUSTRIA; a.k.a. PALESTINIAN ORGANIZATION; a.k.a. PALESTINIAN UNION; a.k.a. PALESTINIAN UNION IN AUSTRIA; a.k.a. PALESTINISCHE VEREINIGUNG; a.k.a. PVOE), Novara g 36a/11, 1020 Wien, Austria [SDGT]

PALESTINENSISCHE VER IN STERREICH (a.k.a. PALAESTINAENSER VEREIN; a.k.a. PALAESTINAENSERVEREIN OESTERREICH; a.k.a. PALAESTINENSISCH VERBAND OESTERREICH; a.k.a. PALAESTINENSISCHE VEREINIGUNG; a.k.a. PALAESTININIENSISCHE BEREINIGUNG; a.k.a. PALESTINE LEAGUE; a.k.a. PALESTINE UNION; a.k.a. PALESTINIAN ASSOCIATION; n.k.a. PALESTINIAN ASSOCIATION IN AUSTRIA; f.k.a. PALESTINIAN ISLAMIC ASSOCIATION IN AUSTRIA; f.k.a. PALESTINIAN ISLAMIC LEAGUE IN AUSTRIA; a.k.a. PALESTINIAN LEAGUE IN AUSTRIA; a.k.a. PALESTINIAN ORGANIZATION; a.k.a. PALESTINIAN UNION; a.k.a. PALESTINIAN UNION IN AUSTRIA; a.k.a. PALESTINISCHE VEREINIGUNG; a.k.a. PVOE), Novara g 36a/11, 1020 Wien, Austria [SDGT]

PALESTINIAN AID AND SUPPORT FUND (a.k.a. AL-SANDUQ AL-FILISTINI LIL-IGHATHA; a.k.a. AL-SANDUQ AL-FILISTINI LIL-IGHATHA WA AL-TANMIYA; a.k.a. INTERPAL; a.k.a. PALESTINE AND LEBANON RELIEF FUND; a.k.a. PALESTINE DEVELOPMENT AND RELIEF FUND; a.k.a. PALESTINE RELIEF AND DEVELOPMENT FUND; a.k.a. PALESTINE RELIEF FUND; a.k.a. PALESTINIAN RELIEF AND DEVELOPMENT FUND; a.k.a. PALESTINIAN RELIEF FUND; a.k.a. PRDF; a.k.a. RELIEF AND DEVELOPMENT FUND FOR PALESTINE; a.k.a. WELFARE AND DEVELOPMENT FUND FOR PALESTINE; a.k.a. WELFARE AND DEVELOPMENT FUND OF PALESTINE), P.O. Box 3333, London, NW6 1RW, England; Registered Charity No: 1040094 [SDGT]

PALESTINIAN AID COUNCIL (a.k.a. ASP; a.k.a. ASSOCIATION DE SECOURS PALESTINIENS; a.k.a. ASSOCIATION FOR PALESTINIAN AID; a.k.a. ASSOCIATION SECOUR PALESTINIEN; a.k.a. HUMANITARE HILFSORGANISATION FUR PALASTINA; a.k.a. LAJNA AL-IGHATHA AL-FILISTINI; a.k.a. PALESTINE RELIEF COMMITTEE; a.k.a. PALESTINIAN AID ORGANIZATION; a.k.a. PALESTINIAN RELIEF SOCIETY; a.k.a. RELIEF ASSOCIATION FOR PALESTINE), c/o Faical Yaakoubi, 7 rue de l'Ancien Port, CH-1201 Geneva, Switzerland; Gartnerstrasse 55, CH-4019 Basel, Switzerland; Postfach 406, CH-4019 Basel, Switzerland [SDGT]

PALESTINIAN AID ORGANIZATION (a.k.a. ASP; a.k.a. ASSOCIATION DE SECOURS PALESTINIENS; a.k.a. ASSOCIATION FOR PALESTINIAN AID; a.k.a. ASSOCIATION SECOUR PALESTINIEN; a.k.a. HUMANITARE HILFSORGANISATION FUR PALASTINA; a.k.a. LAJNA AL-IGHATHA AL-FILISTINI; a.k.a. PALESTINE RELIEF COMMITTEE; a.k.a. PALESTINIAN AID COUNCIL; a.k.a. PALESTINIAN RELIEF SOCIETY; a.k.a. RELIEF ASSOCIATION FOR PALESTINE), c/o Faical Yaakoubi, 7 rue de l'Ancien Port, CH-1201 Geneva, Switzerland; Gartnerstrasse 55, CH-4019 Basel, Switzerland; Postfach 406, CH-4019 Basel, Switzerland [SDGT]

PALESTINIAN ARAB BEIT EL MAL CORPORATION, LTD. (a.k.a. ARAB PALESTINIAN BEIT EL-MAL COMPANY; a.k.a. BEIT AL MAL HOLDINGS; a.k.a. BEIT EL MAL AL-PHALASTINI AL-ARABI AL-MUSHIMA AL-AAMA AL-MAHADUDA LTD.; a.k.a. BEIT EL-MAL HOLDINGS), P.O. Box 662, Ramallah, West Bank [SDT] [SDGT]

PALESTINIAN ASSOCIATION (a.k.a. PALAESTINAENSER VEREIN; a.k.a. PALAESTINAENSERVEREIN OESTERREICH; a.k.a. PALAESTINENSISCH VERBAND OESTERREICH; a.k.a. PALAESTINENSISCHE VEREINIGUNG; a.k.a. PALAESTININIENSISCHE BEREINIGUNG; a.k.a. PALESTINE LEAGUE; a.k.a. PALESTINE UNION; a.k.a. PALESTINENSISCHE VER IN STERREICH; n.k.a. PALESTINIAN ASSOCIATION IN AUSTRIA; f.k.a. PALESTINIAN ISLAMIC ASSOCIATION IN AUSTRIA; f.k.a. PALESTINIAN ISLAMIC LEAGUE IN AUSTRIA; a.k.a. PALESTINIAN LEAGUE IN AUSTRIA; a.k.a. PALESTINIAN ORGANIZATION; a.k.a. PALESTINIAN UNION; a.k.a. PALESTINIAN UNION IN AUSTRIA; a.k.a. PALESTINISCHE VEREINIGUNG; a.k.a. PVOE), Novara g 36a/11, 1020 Wien, Austria [SDGT]

PALESTINIAN ASSOCIATION IN AUSTRIA (a.k.a. PALAESTINAENSER VEREIN; a.k.a. PALAESTINAENSERVEREIN OESTERREICH; a.k.a. PALAESTINENSISCH VERBAND OESTERREICH; a.k.a. PALAESTINENSISCHE VEREINIGUNG; a.k.a. PALAESTININIENSISCHE BEREINIGUNG; a.k.a. PALESTINE LEAGUE; a.k.a. PALESTINE UNION; a.k.a. PALESTINENSISCHE VER IN STERREICH; a.k.a. PALESTINIAN ASSOCIATION; f.k.a. PALESTINIAN ISLAMIC ASSOCIATION IN AUSTRIA; f.k.a. PALESTINIAN ISLAMIC LEAGUE IN AUSTRIA; a.k.a. PALESTINIAN LEAGUE IN AUSTRIA; a.k.a. PALESTINIAN ORGANIZATION; a.k.a. PALESTINIAN UNION; a.k.a. PALESTINIAN UNION IN AUSTRIA; a.k.a. PALESTINISCHE VEREINIGUNG; a.k.a. PVOE), Novara g 36a/11, 1020 Wien, Austria [SDGT]

PALESTINIAN ISLAMIC ASSOCIATION IN AUSTRIA (n.k.a. PALAESTINAENSER VEREIN; n.k.a. PALAESTINAENSERVEREIN OESTERREICH; n.k.a. PALAESTINENSISCH VERBAND OESTERREICH; n.k.a. PALAESTINENSISCHE VEREINIGUNG; n.k.a. PALAESTININIENSISCHE BEREINIGUNG; n.k.a. PALESTINE LEAGUE; n.k.a. PALESTINE UNION; n.k.a. PALESTINENSISCHE VER IN STERREICH; n.k.a. PALESTINIAN ASSOCIATION; n.k.a. PALESTINIAN ASSOCIATION IN AUSTRIA; a.k.a. PALESTINIAN ISLAMIC LEAGUE IN AUSTRIA; n.k.a. PALESTINIAN LEAGUE IN AUSTRIA; n.k.a. PALESTINIAN ORGANIZATION; n.k.a. PALESTINIAN UNION; n.k.a. PALESTINIAN UNION IN AUSTRIA; n.k.a. PALESTINISCHE VEREINIGUNG; n.k.a. PVOE), Novara g 36a/11, 1020 Wien, Austria [SDGT]

PALESTINIAN ISLAMIC JIHAD (a.k.a. PALESTINE ISLAMIC JIHAD—SHAQAQI FACTION; a.k.a. ABU GHUNAYM SQUAD OF THE HIZBALLAH BAYT AL-MAQDIS; a.k.a. AL-AWDAH BRIGADES; a.k.a. AL-QUDS BRIGADES; a.k.a. AL-QUDS SQUADS; a.k.a. ISLAMIC JIHAD IN PALESTINE; a.k.a. ISLAMIC JIHAD OF PALESTINE; a.k.a. PIJ; a.k.a. PIJ-SHALLAH FACTION; a.k.a. PIJ-SHAQAQI FACTION; a.k.a. SAYARA AL-QUDS) [SDT] [FTO][SDGT]

PALESTINIAN ISLAMIC LEAGUE IN AUSTRIA (n.k.a. PALAESTINAENSER VEREIN; n.k.a. PALAESTINAENSERVEREIN OESTERREICH; n.k.a. PALAESTINENSISCH VERBAND OESTERREICH; n.k.a. PALAESTINENSISCHE VEREINIGUNG; n.k.a. PALAESTININIENSISCHE BEREINIGUNG; n.k.a. PALESTINE LEAGUE; n.k.a. PALESTINE UNION; n.k.a. PALESTINENSISCHE VER IN STERREICH; n.k.a. PALESTINIAN ASSOCIATION; n.k.a. PALESTINIAN ASSOCIATION IN AUSTRIA; a.k.a. PALESTINIAN ISLAMIC ASSOCIATION IN AUSTRIA; n.k.a. PALESTINIAN LEAGUE IN AUSTRIA; n.k.a. PALESTINIAN ORGANIZATION; n.k.a. PALESTINIAN UNION; n.k.a. PALESTINIAN UNION IN AUSTRIA; n.k.a. PALESTINISCHE VEREINIGUNG; n.k.a. PVOE), Novara g 36a/11, 1020 Wien, Austria [SDGT]

PALESTINIAN LEAGUE IN AUSTRIA (a.k.a. PALAESTINAENSER VEREIN; a.k.a. PALAESTINAENSERVEREIN OESTERREICH; a.k.a. PALAESTINENSISCH VERBAND OESTERREICH; a.k.a. PALAESTINENSISCHE VEREINIGUNG; a.k.a. PALAESTININIENSISCHE BEREINIGUNG; a.k.a. PALESTINE LEAGUE; a.k.a. PALESTINE UNION; a.k.a. PALESTINENSISCHE VER IN STERREICH; a.k.a. PALESTINIAN ASSOCIATION; n.k.a. PALESTINIAN ASSOCIATION IN AUSTRIA; f.k.a. PALESTINIAN ISLAMIC ASSOCIATION IN AUSTRIA; f.k.a. PALESTINIAN ISLAMIC LEAGUE IN AUSTRIA; a.k.a. PALESTINIAN ORGANIZATION; a.k.a. PALESTINIAN UNION; a.k.a. PALESTINIAN UNION IN AUSTRIA; a.k.a. PALESTINISCHE VEREINIGUNG; a.k.a. PVOE), Novara g 36a/11, 1020 Wien, Austria [SDGT]

PALESTINIAN ORGANIZATION (a.k.a. PALAESTINAENSER VEREIN; a.k.a. PALAESTINAENSERVEREIN OESTERREICH; a.k.a. PALAESTINENSISCH VERBAND OESTERREICH; a.k.a. PALAESTINENSISCHE VEREINIGUNG; a.k.a. PALAESTININIENSISCHE BEREINIGUNG; a.k.a. PALESTINE LEAGUE; a.k.a. PALESTINE UNION; a.k.a. PALESTINENSISCHE VER IN STERREICH; a.k.a. PALESTINIAN ASSOCIATION; n.k.a. PALESTINIAN ASSOCIATION IN AUSTRIA; f.k.a. PALESTINIAN ISLAMIC ASSOCIATION IN AUSTRIA; f.k.a. PALESTINIAN ISLAMIC LEAGUE IN AUSTRIA; a.k.a. PALESTINIAN LEAGUE IN AUSTRIA; a.k.a. PALESTINIAN UNION; a.k.a. PALESTINIAN UNION IN AUSTRIA; a.k.a. PALESTINISCHE VEREINIGUNG; a.k.a. PVOE), Novara g 36a/11, 1020 Wien, Austria [SDGT]

PALESTINIAN POPULAR RESISTANCE FORCES (a.k.a. POPULAR FRONT FOR THE LIBERATION OF PALESTINE; a.k.a. HALHUL GANG; a.k.a. HALHUL SQUAD; a.k.a. MARTYR ABU-ALI MUSTAFA BATTALION; a.k.a. PFLP; a.k.a. PPRF; a.k.a. RED EAGLE GANG; a.k.a. RED EAGLE GROUP; a.k.a. RED EAGLES) [SDT][FTO][SDGT]

PALESTINIAN RELIEF AND DEVELOPMENT FUND (a.k.a. AL-SANDUQ AL-FILISTINI LIL-IGHATHA; a.k.a. AL-SANDUQ AL-FILISTINI LIL-IGHATHA WA AL-TANMIYA; a.k.a. INTERPAL; a.k.a. PALESTINE AND LEBANON RELIEF FUND; a.k.a. PALESTINE DEVELOPMENT AND RELIEF FUND; a.k.a. PALESTINE RELIEF AND DEVELOPMENT FUND; a.k.a. PALESTINE RELIEF FUND; a.k.a. PALESTINIAN AID AND SUPPORT FUND; a.k.a. PALESTINIAN RELIEF FUND; a.k.a. PRDF; a.k.a. RELIEF AND DEVELOPMENT FUND FOR PALESTINE; a.k.a. WELFARE AND DEVELOPMENT FUND FOR PALESTINE; a.k.a. WELFARE AND DEVELOPMENT FUND OF PALESTINE), P.O. Box 3333, London, NW6 1RW, England; Registered Charity No: 1040094 [SDGT]

PALESTINIAN RELIEF FUND (a.k.a. AL-SANDUQ AL-FILISTINI LIL-IGHATHA; a.k.a. AL-SANDUQ AL-FILISTINI LIL-IGHATHA WA AL-TANMIYA; a.k.a. INTERPAL; a.k.a. PALESTINE AND LEBANON RELIEF FUND; a.k.a. PALESTINE DEVELOPMENT AND RELIEF FUND; a.k.a. PALESTINE RELIEF AND DEVELOPMENT FUND; a.k.a. PALESTINE RELIEF FUND; a.k.a. PALESTINIAN AID AND SUPPORT FUND; a.k.a. PALESTINIAN RELIEF AND DEVELOPMENT FUND; a.k.a. PRDF; a.k.a. RELIEF AND DEVELOPMENT FUND FOR PALESTINE; a.k.a. WELFARE AND DEVELOPMENT FUND FOR PALESTINE; a.k.a. WELFARE AND DEVELOPMENT FUND OF PALESTINE), P.O. Box 3333, London, NW6 1RW, England; Registered Charity No: 1040094 [SDGT]

PALESTINIAN RELIEF SOCIETY (a.k.a. ASP; a.k.a. ASSOCIATION DE SECOURS PALESTINIENS; a.k.a. ASSOCIATION FOR PALESTINIAN AID; a.k.a. ASSOCIATION SECOUR PALESTINIEN; a.k.a. HUMANITARE HILFSORGANISATION FUR PALASTINA; a.k.a. LAJNA AL-IGHATHA AL-FILISTINI; a.k.a. PALESTINE RELIEF COMMITTEE; a.k.a. PALESTINIAN AID COUNCIL; a.k.a. PALESTINIAN AID ORGANIZATION; a.k.a. RELIEF ASSOCIATION FOR PALESTINE), c/o Faical Yaakoubi, 7 rue de l'Ancien Port, CH-1201 Geneva, Switzerland; Gartnerstrasse 55, CH-4019 Basel, Switzerland; Postfach 406, CH-4019 Basel, Switzerland [SDGT]

PALESTINIAN UNION (a.k.a. PALAESTINAENSER VEREIN; a.k.a. PALAESTINAENSERVEREIN OESTERREICH; a.k.a. PALAESTINENSISCH VERBAND OESTERREICH; a.k.a. PALAESTINENSISCHE VEREINIGUNG; a.k.a. PALAESTININIENSISCHE BEREINIGUNG; a.k.a. PALESTINE LEAGUE; a.k.a. PALESTINE UNION; a.k.a. PALESTINENSISCHE VER IN STERREICH; a.k.a. PALESTINIAN ASSOCIATION; n.k.a. PALESTINIAN ASSOCIATION IN AUSTRIA; f.k.a. PALESTINIAN ISLAMIC ASSOCIATION IN AUSTRIA; f.k.a. PALESTINIAN ISLAMIC LEAGUE IN AUSTRIA; a.k.a. PALESTINIAN LEAGUE IN AUSTRIA; a.k.a. PALESTINIAN ORGANIZATION; a.k.a. PALESTINIAN UNION IN AUSTRIA; a.k.a. PALESTINISCHE VEREINIGUNG; a.k.a. PVOE), Novara g 36a/11, 1020 Wien, Austria [SDGT]

PALESTINIAN UNION IN AUSTRIA (a.k.a. PALAESTINAENSER VEREIN; a.k.a. PALAESTINAENSERVEREIN OESTERREICH; a.k.a. PALAESTINENSISCH VERBAND OESTERREICH; a.k.a. PALAESTINENSISCHE VEREINIGUNG; a.k.a. PALAESTININIENSISCHE BEREINIGUNG; a.k.a. PALESTINE LEAGUE; a.k.a. PALESTINE UNION; a.k.a. PALESTINENSISCHE VER IN STERREICH; a.k.a. PALESTINIAN ASSOCIATION; n.k.a. PALESTINIAN ASSOCIATION IN AUSTRIA; f.k.a. PALESTINIAN ISLAMIC ASSOCIATION IN AUSTRIA; f.k.a. PALESTINIAN ISLAMIC LEAGUE IN AUSTRIA; a.k.a. PALESTINIAN LEAGUE IN AUSTRIA; a.k.a. PALESTINIAN ORGANIZATION; a.k.a. PALESTINIAN UNION; a.k.a. PALESTINISCHE VEREINIGUNG; a.k.a. PVOE), Novara g 36a/11, 1020 Wien, Austria [SDGT]

PALESTINISCHE VEREINIGUNG (a.k.a. PALAESTINAENSER VEREIN; a.k.a. PALAESTINAENSERVEREIN OESTERREICH; a.k.a. PALAESTINENSISCH VERBAND OESTERREICH; a.k.a. PALAESTINENSISCHE VEREINIGUNG; a.k.a. PALAESTININIENSISCHE BEREINIGUNG; a.k.a. PALESTINE LEAGUE; a.k.a. PALESTINE UNION; a.k.a. PALESTINENSISCHE VER IN STERREICH; a.k.a. PALESTINIAN ASSOCIATION; n.k.a. PALESTINIAN ASSOCIATION IN AUSTRIA; f.k.a. PALESTINIAN ISLAMIC ASSOCIATION IN AUSTRIA; f.k.a. PALESTINIAN ISLAMIC LEAGUE IN AUSTRIA; a.k.a. PALESTINIAN LEAGUE IN AUSTRIA; a.k.a. PALESTINIAN ORGANIZATION; a.k.a. PALESTINIAN UNION; a.k.a. PALESTINIAN UNION IN AUSTRIA; a.k.a. PVOE), Novara g 36a/11, 1020 Wien, Austria [SDGT]

PALMA SAADE, Jessica Maria, Calle 78 No. 53-70, Local 202, Barranquilla, Colombia; c/o VESTIMENTA J y J S. de H., Barranquilla, Colombia; Cedula No. 32758645 (Colombia) (individual) [SDNT]

PALMA SALAZAR, Hector Luis (a.k.a PALMA SALAZAR, Jesus Hector); DOB 29 Apr 1960; alt DOB 25 Aug 1962; alt DOB 26 Aug 1962; POB Sinaloa, Mexico (individual) [SDNTK]

PALMA SALAZAR, Jesus Hector (a.k.a PALMA SALAZAR, Hector Luis); DOB 29 Apr 1960; alt DOB 25 Aug 1962; alt DOB 26 Aug 1962; POB Sinaloa, Mexico (individual) [SDNTK]

PALMERA PINEDA, Juvenal Ovidio Ricardo (a.k.a. PINEDA PALMERA, Juvenal Ovidio; a.k.a. “Simon Trinidad”); DOB 30 Jul 1950; POB Bogota, Cundinamarca, Colombia; Passports T757205 (Colombia), AC204175 (Colombia), AH182002 (Colombia); Cedula No. 12715418 (Colombia); alt. Cedula No. 12751418 (Colombia); alt. Cedula No. 12715416 (Colombia) (individual) [SDNTK]

PALOMINO QUINTERO, Edgar Arnulfo, c/o COOPDISAN, Bucaramanga, Colombia; c/o COPSERVIR LTDA., Bogota, Colombia; c/o DROGAS LA REBAJA BUCARAMANGA S.A., Bucaramanga, Colombia; Passport 91250721 (Colombia); Cedula No. 91250721 (Colombia) (individual) [SDNT]

PAMIT C. SHIPPING CO., LTD., Limassol, Cyprus [CUBA]

PANAMERICAN IMPORT AND EXPORT COMMERCIAL CORPORATION, Panama [CUBA]

PANDORA SHIPPING CO. S.A., Honduras [IRAQ]

PANDUREVIC, Vinko; DOB 1959; POB Sokolac, Bosnia-Herzegovina; ICTY indictee (individual) [BALKANS]

PANOAMERICANA, Panama [CUBA]

PARADISSIOTIS, Christoforos Pavlou, 34 Grosvenor Street, London W1X 9FG, England (individual) [LIBYA]

PARADISSIOTIS, Christoforos Pavlou, Larnaca, Cyprus (individual) [LIBYA]

PAREDES GONZALEZ, Nohora, c/o COPSERVIR LTDA., Bogota, Colombia; Cedula No. 36376456 (Colombia) (individual) [SDNT]

PARIRENYATWA, David, Minister of Health and Child Welfare of Zimbabwe; DOB 2 Aug 1950 (individual) [ZIMB]

PARKA TRADING COMPANY, P.O. Box 3313, Deira, Dubai, U.A.E. [SDGT]

PARQUE INDUSTRIAL LAS DELICIAS LTDA.,Carrera 7 No. 34-341, Cali, Colombia; Carrera 7 No. 34-341 L-6, Cali, Colombia [SDNT]

PARQUE INDUSTRIAL PROGRESO S.A., Autopista Cali Yumbo, Km. 4 No. 26-400, Yumbo, Colombia; NIT # 805002419-1 (Colombia) [SDNT]

PARRA QUINTERO, Hector Alonso, Carrera 80A No. 13A-29 Apt. 601, Cali, Colombia; c/o PARQUE INDUSTRIAL PROGRESO S.A., Yumbo, Colombia; Passport 14878105 (Colombia); Cedula No. 14878105 (Colombia) (individual) [SDNT]

PARRA RESTREPO, Diego, c/o AGRO MASCOTAS S.A., Bogota, Colombia; Passport 6089400 (Colombia); Cedula No. 6089400 (Colombia) (individual) [SDNT]

PARRA RESTREPO, Pedro Nel, c/o AGRO MASCOTAS S.A., Bogota, Colombia; Passport 1211206 (Colombia); Cedula No. 1211206 (Colombia) (individual) [SDNT]

PARRA VELASCO, Edwin Hiulder, Calle 55BN No. 2FN-77, Cali, Colombia; c/o PARQUE INDUSTRIAL PROGRESO S.A., Yumbo, Colombia; DOB 18 Apr 1961; POB Cali, Valle, Colombia; Passport 16672814 (Colombia); Cedula No. 16672814 (Colombia) (individual) [SDNT]

PARTIDO COMUNISTA DEL PERU (COMMUNIST PARTY OF PERU) (a.k.a. SENDERO LUMINOSO; a.k.a. SL; a.k.a. PARTIDO COMUNISTA DEL PERU EN EL SENDERO LUMINOSO DE JOSE CARLOS MARIATEGUI (COMMUNIST PARTY OF PERU ON THE SHINING PATH OF JOSE CARLOS MARIATEGUI); a.k.a. SHINING PATH; a.k.a. PCP; a.k.a. SOCORRO POPULAR DEL PERU (PEOPLE'S AID OF PERU); a.k.a. SPP; a.k.a EJERCITO GUERRILLERO POPULAR (PEOPLE'S GUERRILLA ARMY); a.k.a. EGP; a.k.a. EJERCITO POPULAR DE LIBERACION (PEOPLE'S LIBERATION ARMY); a.k.a. EPL) [FTO][SDGT]

PARTIDO COMUNISTA DEL PERU EN EL SENDERO LUMINOSO DE JOSE CARLOS MARIATEGUI (COMMUNIST PARTY OF PERU ON THE SHINING PATH OF JOSE CARLOS MARIATEGUI) (a.k.a. SENDERO LUMINOSO; a.k.a. SL; a.k.a. SHINING PATH; a.k.a. PARTIDO COMUNISTA DEL PERU (COMMUNIST PARTY OF PERU); a.k.a. PCP; a.k.a. SOCORRO POPULAR DEL PERU (PEOPLE'S AID OF PERU); a.k.a. SPP; a.k.a EJERCITO GUERRILLERO POPULAR (PEOPLE'S GUERRILLA ARMY); a.k.a. EGP; a.k.a. EJERCITO POPULAR DE LIBERACION (PEOPLE'S LIBERATION ARMY); a.k.a. EPL) [FTO][SDGT]

PARTIYA KARKERAN KURDISTAN (a.k.a. FREEDOM AND DEMOCRACY CONGRESS OF KURDISTAN; a.k.a. HALU MESRU SAVUNMA KUVVETI (HSK); a.k.a. KADEK; a.k.a. KONGRA-GEL; a.k.a. KURDISTAN FREEDOM AND DEMOCRACY CONGRESS; a.k.a. KURDISTAN PEOPLE'S CONGRESS (KHK); a.k.a. KURDISTAN WORKERS' PARTY; a.k.a. PEOPLE'S CONGRESS OF KURDISTAN; a.k.a. PKK; a.k.a. THE PEOPLE'S DEFENSE FORCE) [FTO][SDGT]

PARTY OF GOD (a.k.a. HIZBALLAH; a.k.a. ISLAMIC JIHAD; a.k.a. ISLAMIC JIHAD ORGANIZATION; a.k.a. REVOLUTIONARY JUSTICE ORGANIZATION; a.k.a. ORGANIZATION OF THE OPPRESSED ON EARTH; a.k.a. ISLAMIC JIHAD FOR THE LIBERATION OF PALESTINE; a.k.a. ORGANIZATION OF RIGHT AGAINST WRONG; a.k.a. ANSAR ALLAH; a.k.a. FOLLOWERS OF THE PROPHET MUHAMMED) [SDT][FTO][SDGT]

PATENTES MARCAS Y REGISTROS S.A. (a.k.a. PATMAR S.A.), Transversal 29 No. 39-92, Bogota, Colombia; NIT # 830016913-0 (Colombia) [SDNT]

PATINO FOMEQUE, Sonia Daicy, (a.k.a. PATINO FOMEQUE, Sonia Daysi), Calle 9 Oeste No. 25-106, Cali, Colombia; c/o INDUSTRIA DE PESCA SOBRE EL PACIFICO S.A., Buenaventura, Colombia; Cedula No. 66920533 (Colombia) (individual) [SDNT]

PATINO FOMEQUE, Sonia Daysi, (a.k.a. PATINO FOMEQUE, Sonia Daicy), Calle 9 Oeste No. 25-106, Cali, Colombia; c/o INDUSTRIA DE PESCA SOBRE EL PACIFICO S.A., Buenaventura, Colombia; Cedula No. 66920533 (Colombia) (individual) [SDNT]

PATINO FOMEQUE, Victor Hugo (a.k.a. PATINO FOMEQUE, Victor Julio), Avenida 4N No. 10N-100, Cali, Colombia; c/o INDUSTRIA DE PESCA SOBRE EL PACIFICO S.A., Buenaventura, Colombia; c/o TAURA S.A., Cali, Colombia; c/o GALAPAGOS S.A., Cali, Colombia; DOB 31 Jan 1959; Cedula No. 16473543 (Colombia) (individual) [SDNT]

PATINO FOMEQUE, Victor Julio (a.k.a. PATINO FOMEQUE, Victor Hugo), Avenida 4N No. 10N-100, Cali, Colombia; c/o INDUSTRIA DE PESCA SOBRE EL PACIFICO S.A., Buenaventura, Colombia; c/o TAURA S.A., Cali, Colombia; c/o GALAPAGOS S.A., Cali, Colombia; DOB 31 Jan 1959; Cedula No. 16473543 (Colombia) (individual) [SDNT]

PATINO NARANJO, Joaquin Gustavo, Avenida 4N No. 10N-100, Cali, Colombia; c/o INDUSTRIA DE PESCA SOBRE EL PACIFICO S.A., Buenaventura, Colombia; Cedula No. 2730245 (Colombia) (individual) [SDNT]

PATINO RINCON, Octavio, c/o INVERSIONES VILLA PAZ S.A., Cali, Colombia; Cedula No. 2438955 (Colombia) (individual) [SDNT]

PATMAR S.A. (a.k.a. PATENTES MARCAS Y REGISTROS S.A.), Transversal 29 No. 39-92, Bogota, Colombia; NIT # 830016913-0 (Colombia) [SDNT]

PATTERSON FARM, Mazowe, Zimbabwe [ZIMB]

PAVKOVIC, Nebojsa; DOB 10 Apr 1946, alt. DOB 16 Apr 1946; POB Senjski Rudnik, Serbia and Montenegro; Ex-VJ Chief of Staff (individual) [BALKANS]

PAZ MAHECHA, Gonzalo Rodrigo, Calle 102 No. 48A-08, Bogota, Colombia; Calle 13 No. 4-25 piso 6, Cali, Colombia; Calle 13A No. 66B-60 apt. 101A, Cali, Colombia; Calle 13A No. 66B-60 apt. 102A, Cali, Colombia; Calle 13A No. 66B-60 apt. 902A, Cali, Colombia; Carrera 4 No. 11-45 apt. 621, Cali, Colombia; Carrera 4 No. 11-45 apt. 624, Cali, Colombia; Carrera 4 No. 11-45 of. 802, Cali, Colombia; Carrera 4 No. 11-45 of. 809, Cali, Colombia; Transversal 98 No. 28A-46, Cali, Colombia; c/o COLOR 89.5 FM STEREO, Cali, Colombia; Cedula No. 16590653 (Colombia) (individual) [SDNT]

PCP (a.k.a. SENDERO LUMINOSO; a.k.a. SL; a.k.a. PARTIDO COMUNISTA DEL PERU EN EL SENDERO LUMINOSO DE JOSE CARLOS MARIATEGUI (COMMUNIST PARTY OF PERU ON THE SHINING PATH OF JOSE CARLOS MARIATEGUI); a.k.a. PARTIDO COMUNISTA DEL PERU (COMMUNIST PARTY OF PERU); a.k.a. SHINING PATH; a.k.a. SOCORRO POPULAR DEL PERU (PEOPLE'S AID OF PERU); a.k.a. SPP; a.k.a EJERCITO GUERRILLERO POPULAR (PEOPLE'S GUERRILLA ARMY); a.k.a. EGP; a.k.a. EJERCITO POPULAR DE LIBERACION (PEOPLE'S LIBERATION ARMY); a.k.a. EPL) [FTO][SDGT]

PCPMB (a.k.a. POLITICAL COUNCIL OF PRESEVO, MEDVEDJA, AND BUJANOVAC) [BALKANS]

PEACEKEEPING BATTALION (a.k.a. INTERNATIONAL BATTALION; a.k.a. ISLAMIC PEACEKEEPING INTERNATIONAL BRIGADE; a.k.a. THE INTERNATIONAL BRIGADE; a.k.a. THE ISLAMIC INTERNATIONAL BRIGADE; a.k.a. THE ISLAMIC PEACEKEEPING ARMY; a.k.a. THE ISLAMIC PEACEKEEPING BRIGADE) [SDGT]

PEDRAZA GARZON, Fernando, c/o COOPERATIVA MULTIACTIVA DE COLOMBIA FOMENTAMOS, Bogota, Colombia; DOB 9 Nov 1962; Passport 79283141 (Colombia); Cedula No. 79283141 (Colombia) (individual) [SDNT]

PELAEZ DE HENAO, Teresa, c/o ALFA PHARMA S.A., Bogota, Colombia; Cedula No. 29013555 (Colombia) (individual) [SDNT]

PENA, Jose (TORRES), Panama (individual) [CUBA]

PENA OJEDA, Wilton Orlando, c/o COOPCREAR, Bogota, Colombia; c/o COOPERATIVA MULTIACTIVA DE COLOMBIA FOMENTAMOS, Bogota, Colombia; DOB 1 Apr 1975; Passport 79688099 (Colombia); Cedula No. 79688099 (Colombia) (individual) [SDNT]

PENA, Victor, Panama (individual) [CUBA]

PENALOSA CAMARGO, Diego Hernando, c/o FUNDACION VIVIR MEJOR, Cali, Colombia; Passport 118391 (Colombia); Cedula No. 118391 (Colombia) (individual) [SDNT]

PENTA PHARMA DE COLOMBIA S.A. (n.k.a. PENTACOOP LTDA.), Calle 17A No. 28A-23; Calle 17A No. 28A-43, Bogota, Colombia; NIT # 830016989-1 (Colombia) [SDNT]

PENTACOOP LTDA. (f.k.a. PENTA PHARMA DE COLOMBIA S.A.), Calle 17A No. 28A-23; Calle 17A No. 28A-43, Bogota, Colombia; NIT # 830016989-1 (Colombia) [SDNT]

PEONY SHIPPING CO. LTD., c/o NORDSTRAND MARITIME & TRADING CO. LTD., 26 Skouze Street, Piraeus, Greece [CUBA]

PEOPLE'S CO-OPERATIVE BANK, P.O. Box 922, Khartoum, Sudan [SUDAN]

PEOPLE'S CONGRESS OF KURDISTAN (a.k.a. FREEDOM AND DEMOCRACY CONGRESS OF KURDISTAN; a.k.a. HALU MESRU SAVUNMA KUVVETI (HSK); a.k.a. KADEK; a.k.a. KONGRA-GEL; a.k.a. KURDISTAN FREEDOM AND DEMOCRACY CONGRESS; a.k.a. KURDISTAN PEOPLE'S CONGRESS (KHK); a.k.a. KURDISTAN WORKERS' PARTY; a.k.a. PARTIYA KARKERAN KURDISTAN; a.k.a. PKK; a.k.a. THE PEOPLE'S DEFENSE FORCE) [FTO][SDGT]

PEOPLE'S MUJAHEDIN ORGANIZATION OF IRAN (a.k.a. MEK; a.k.a. MKO; a.k.a. MUJAHEDIN-E KHALQ ORGANIZATION; a.k.a. MUJAHEDIN-E KHALQ; a.k.a. MUSLIM IRANIAN STUDENT'S SOCIETY; a.k.a. NATIONAL COUNCIL OF RESISTANCE (NCR); a.k.a. NATIONAL COUNCIL OF RESISTANCE OF IRAN; a.k.a. NATIONAL COUNCIL OF RESISTANCE; a.k.a. NCRI; a.k.a. NLA; a.k.a. ORGANIZATION OF THE PEOPLE'S HOLY WARRIORS OF IRAN; a.k.a. PMOI; a.k.a. SAZEMAN-E MUJAHEDIN-E KHALQ-E IRAN; a.k.a. THE NATIONAL LIBERATION ARMY OF IRAN), including its U.S. press office and all other offices worldwide [FTO][SDGT]

PERDOMO ZUNIGA, Hugo Ivan, c/o CONSTRUVIDA S.A., Cali, Colombia; Cedula No. 16669843 (Colombia) (individual) [SDNT]

PEREZ, Alfonso, Panama (individual) [CUBA]

PEREZ ALZATE, Guillermo (a.k.a. “Pablo Sevillano”), Diagonal 50 No. 49-14 of. 601, Medellin, Colombia; Calle 26A No. 70-35 Medellin, Colombia; Calle 30 No. 9-51, Monteria, Cordoba, Colombia; Calle 24 No. 1-52, B. Cta de Oro, Colombia; Calle 37 No. 2-40, Almacen Dulcino, Tumaco, Narino, Colombia; Passport AF891052 (Colombia); Cedula No. 71646827 (Colombia) (individual) [SDNTK]

PEREZ ARAMBURU, Jon Inaki; member ETA; DOB 18 Sep 1964; POB San Sebastian (Guipuzcoa Province), Spain; D.N.I. 15.976.521 (individual) [SDGT]

PEREZ GARCIA, Carlos, c/o ASESORIAS COSMOS LTDA., Cali, Colombia; Cedula No. 14920419 (Colombia) (individual) [SDNT]

PEREZ GOMEZ, Stella, c/o ASESORIAS ECONOMICAS MUNOZ SANTACOLOMA E.U., Cali, Colombia; c/o CONTACTEL COMUNICACIONES S.A., Cali, Colombia; c/o COPSERVIR LTDA., Bogota, Colombia; c/o DISTRIBUIDORA SANAR DE COLOMBIA S.A., Cali, Colombia; c/o PROVIDA E.U., Cali, Colombia; DOB 26 Jun 1960; Passport 31848468 (Colombia); Cedula No. 31848468 (Colombia) (individual) [SDNT]

PEREZ, Manuel Martin, Panama (individual) [CUBA]

PEREZ ORTEGA, Publio Eliecer, c/o INVERSIONES VILLA PAZ S.A., Cali, Colombia; Cedula No. 16597479 (Colombia) (individual) [SDNT]

PEREZ, Osvaldo (CRUZ), Panama (individual) [CUBA]

PEREZ SERNA, Wilmar Armando, c/o INVHERESA S.A., Cali, Colombia (individual) [SDNT]

PEREZ VARELA, Jaime Diego, c/o CONSTRUCTORA GOPEVA LTDA., Cali, Colombia; Cedula No. 2895666 (Colombia) (individual) [SDNT]

PERIC, Jozo “Tukesa;” DOB 31 Jan 1959; POB Pjesevac Kula, Bosnia-Herzegovina (individual) [BALKANS]

PESCABRAVA, S.A., France [CUBA]

PESCABRAVA, S.A., Italy [CUBA]

PESCABRAVA, S.A., Spain [CUBA]

PESCADOS Y MARISCOS DE PANAMA, S.A. (a.k.a. PESMAR; a.k.a. PEZMAR, S.A.), Panama City, Panama [CUBA]

PESMAR (or PEZMAR), S.A. (a.k.a. PESCADOS Y MARISCOS DE PANAMA, S.A.), Panama City, Panama [CUBA]

PETRA NAVIGATION & INTERNATIONAL TRADING CO. LTD., (a.k.a. AL PETRA COMPANY FOR GOODS TRANSPORT LTD.), Hai Al Wahda Mahalat 906, 906 Zulak 50, House 14, Baghdad, Iraq [IRAQ]

PETROLEUM GENERAL ADMINISTRATION, P.O. Box 2649, Khartoum, Sudan [SUDAN]

PFLP (a.k.a. POPULAR FRONT FOR THE LIBERATION OF PALESTINE; a.k.a. HALHUL GANG; a.k.a. HALHUL SQUAD; a.k.a. MARTYR ABU-ALI MUSTAFA BATTALION; a.k.a. PALESTINIAN POPULAR RESISTANCE FORCES; a.k.a. PPRF; a.k.a. RED EAGLE GANG; a.k.a. RED EAGLE GROUP; a.k.a. RED EAGLES) [SDT][FTO][SDGT]

PFLP-GC (a.k.a. POPULAR FRONT FOR THE LIBERATION OF PALESTINE—GENERAL COMMAND) [SDT][FTO][SDGT]

PIEDRAHITA, Gustavo Adolfo, c/o AGROPECUARIA LA ROBLEDA S.A., Cali, Colombia; Cedula No. 16764002 (Colombia) (individual) [SDNT]

PIJ (a.k.a. PALESTINE ISLAMIC JIHAD—SHAQAQI FACTION; a.k.a. ABU GHUNAYM SQUAD OF THE HIZBALLAH BAYT AL-MAQDIS; a.k.a. AL-AWDAH BRIGADES; a.k.a. AL-QUDS BRIGADES; a.k.a. AL-QUDS SQUADS; a.k.a. ISLAMIC JIHAD IN PALESTINE; a.k.a. ISLAMIC JIHAD OF PALESTINE; a.k.a. PALESTINIAN ISLAMIC JIHAD; a.k.a. PIJ-SHALLAH FACTION; a.k.a. PIJ-SHAQAQI FACTION; a.k.a. SAYARA AL-QUDS) [SDT] [FTO][SDGT]

PIJ-SHALLAH FACTION (a.k.a. PALESTINE ISLAMIC JIHAD—SHAQAQI FACTION; a.k.a. ABU GHUNAYM SQUAD OF THE HIZBALLAH BAYT AL-MAQDIS; a.k.a. AL-AWDAH BRIGADES; a.k.a. AL-QUDS BRIGADES; a.k.a. AL-QUDS SQUADS; a.k.a. ISLAMIC JIHAD IN PALESTINE; a.k.a. ISLAMIC JIHAD OF PALESTINE; a.k.a. PALESTINIAN ISLAMIC JIHAD; a.k.a. PIJ; a.k.a. PIJ-SHAQAQI FACTION; a.k.a. SAYARA AL-QUDS) [SDT] [FTO][SDGT]

PIJ-SHAQAQI FACTION (a.k.a. PALESTINE ISLAMIC JIHAD—SHAQAQI FACTION; a.k.a. ABU GHUNAYM SQUAD OF THE HIZBALLAH BAYT AL-MAQDIS; a.k.a. AL-AWDAH BRIGADES; a.k.a. AL-QUDS BRIGADES; a.k.a. AL-QUDS SQUADS; a.k.a. ISLAMIC JIHAD IN PALESTINE; a.k.a. ISLAMIC JIHAD OF PALESTINE; a.k.a. PALESTINIAN ISLAMIC JIHAD; a.k.a. PIJ; a.k.a. PIJ-SHALLAH FACTION; a.k.a. SAYARA AL-QUDS) [SDT] [FTO][SDGT]

PINEDA BASALLO, Jenny, c/o COOPCREAR, Bogota, Colombia; c/o COOPERATIVA MULTIACTIVA DE COLOMBIA FOMENTAMOS, Bogota, Colombia; c/o COSMEPOP, Bogota, Colombia; DOB 6 Jul 1974; Passport 52204760 (Colombia); Cedula No. 52204760 (Colombia) (individual) [SDNT]

PINEDA PALMERA, Juvenal Ovidio (a.k.a. PALMERA PINEDA, Juvenal Ovidio Ricardo; a.k.a. “Simon Trinidad”); DOB 30 Jul 1950; POB Bogota, Cundinamarca, Colombia; Passports T757205 (Colombia), AC204175 (Colombia), AH182002 (Colombia); Cedula No. 12715418 (Colombia); alt. Cedula No. 12751418 (Colombia); alt. Cedula No. 12715416 (Colombia) (individual) [SDNTK]

PINEROS LEON, Miguel E., c/o COPSERVIR LTDA., Bogota, Colombia; Cedula No. 468712 (Colombia) (individual) [SDNT]

PINSKY SARAGOVIA, Ezequiel, Avenida Las Americas No. 21N-50, Cali, Colombia; c/o CIA. MINERA DAPA S.A., Bogota, Colombia; c/o CONSTRUCTORA PYNZAR LTDA., Cali, Colombia; c/o NOVAPINSKI LTDA., Cali, Colombia; c/o PARQUE INDUSTRIAL PROGRESO S.A., Yumbo, Colombia; c/o PYZA E.U., Cali, Colombia; Passport 14932390 (Colombia); Cedula No. 14932390 (Colombia) (individual) [SDNT]

PINZON CEDIEL, John Jairo, c/o TAURA S.A., Cali, Colombia; Cedula No. 13542103 (Colombia) (individual) [SDNT]

PINZON, Marco Antonio, c/o DEPOSITO POPULAR DE DROGAS S.A., Cali, Colombia; c/o DISTRIBUIDORA DE DROGAS CONDOR LTDA., Bogota, Colombia; Cedula No. 17801803 (Colombia) (individual) [SDNT]

PIONEER SHIPPING LTD., 171 Old Bakery Street, Valletta, Malta (c/o Anglo Caribbean Shipping Co., Ltd., 4th Floor, South Phase 2, South Quay Plaza 2, 183 Marsh Wall, London E14 9SH, England) [CUBA]

PIRAMIDE INTERNATIONAL, Panama [CUBA]

PIRANHA NAVIGATION CO. LTD., c/o NORDSTRAND MARITIME & TRADING CO. LTD., 26 Skouze Street, Piraeus, Greece [CUBA]

PKK (a.k.a. FREEDOM AND DEMOCRACY CONGRESS OF KURDISTAN; a.k.a. HALU MESRU SAVUNMA KUVVETI (HSK); a.k.a. KADEK; a.k.a. KONGRA-GEL; a.k.a. KURDISTAN FREEDOM AND DEMOCRACY CONGRESS; a.k.a. KURDISTAN PEOPLE'S CONGRESS (KHK); a.k.a. KURDISTAN WORKERS' PARTY; a.k.a. PARTIYA KARKERAN KURDISTAN; a.k.a. PEOPLE'S CONGRESS OF KURDISTAN; a.k.a. THE PEOPLE'S DEFENSE FORCE) [FTO][SDGT]

PLASTIC SACKS FACTORY (a.k.a. SACKS FACTORY), P.O. Box 2328, Khartoum, Sudan [SUDAN]

PLASTICOS CONDOR LTDA. (n.k.a. FLEXOEMPAQUES LTDA.), Carrera 13 No. 16-62, Cali, Colombia; NIT # 800044167-2 (Colombia) [SDNT]

PLAVSIC, Biljana; DOB 7 Jul 1930; POB Tuzla, Bosnia-Herzegovina; ICTY indictee (individual) [BALKANS]

PLF (a.k.a. PALESTINE LIBERATION FRONT—ABU ABBAS FACTION; a.k.a. PALESTINE LIBERATION FRONT; a.k.a. PLF-ABU ABBAS) [SDT][FTO][SDGT]

PLF-ABU ABBAS (a.k.a. PALESTINE LIBERATION FRONT—ABU ABBAS FACTION; a.k.a. PALESTINE LIBERATION FRONT; a.k.a. PLF) [SDT][FTO][SDGT]

PMOI (a.k.a. MEK; a.k.a. MKO; a.k.a. MUJAHEDIN-E KHALQ ORGANIZATION; a.k.a. MUJAHEDIN-E KHALQ; a.k.a. MUSLIM IRANIAN STUDENT'S SOCIETY; a.k.a. NATIONAL COUNCIL OF RESISTANCE (NCR); a.k.a. NATIONAL COUNCIL OF RESISTANCE OF IRAN; a.k.a. NATIONAL COUNCIL OF RESISTANCE; a.k.a. NCRI; a.k.a. NLA; a.k.a. ORGANIZATION OF THE PEOPLE'S HOLY WARRIORS OF IRAN; a.k.a. PEOPLE'S MUJAHEDIN ORGANIZATION OF IRAN; a.k.a. SAZEMAN-E MUJAHEDIN-E KHALQ-E IRAN; a.k.a. THE NATIONAL LIBERATION ARMY OF IRAN), including its U.S. press office and all other offices worldwide [FTO][SDGT]

POCHO NAVIGATION CO. LTD., c/o EMPRESA DE NAVEGACION MAMBISA, Apartado 543, San Ignacio 104, Havana, Cuba [CUBA]

POLIEMPAQUES LTDA., Carrera 13A No. 16-49, Cali, Colombia; Carrera 13A No. 16-55, Cali, Colombia; Carrera 13 No. 16-62, Cali, Colombia; NIT # 805003763-5 (Colombia) [SDNT]

POLITICAL COUNCIL OF PRESEVO, MEDVEDJA, AND BUJANOVAC (a.k.a. PCPMB) [BALKANS]

PONCE DE LEON, Lazaro (GOMEZ), Medira, Mexico (individual) [CUBA]

POPOVIC, Vujadin; DOB 14 Mar 1957; ICTY indictee (individual) [BALKANS]

POPULAR FRONT FOR THE LIBERATION OF PALESTINE (a.k.a. HALHUL GANG; a.k.a. HALHUL SQUAD; a.k.a. MARTYR ABU-ALI MUSTAFA BATTALION; a.k.a. PALESTINIAN POPULAR RESISTANCE FORCES; a.k.a. PFLP; a.k.a. PPRF; a.k.a. RED EAGLE GANG; a.k.a. RED EAGLE GROUP; a.k.a. RED EAGLES) [SDT][FTO][SDGT]

POPULAR FRONT FOR THE LIBERATION OF PALESTINE—GENERAL COMMAND (a.k.a. PFLP-GC) [SDT][FTO][SDGT]

POPULAR MOVEMENT OF KOSOVO (a.k.a. LPK) [BALKANS]

POPULAR REVOLUTIONARY STRUGGLE (a.k.a. ELA; a.k.a. EPANASTATIKI PIRINES; a.k.a. EPANASTATIKOS LAIKOS AGONAS; a.k.a. JUNE 78; a.k.a. LIBERATION STRUGGLE; a.k.a. ORGANIZATION OF REVOLUTIONARY INTERNATIONALIST SOLIDARITY; a.k.a. REVOLUTIONARY CELLS; a.k.a. REVOLUTIONARY NUCLEI; a.k.a. REVOLUTIONARY PEOPLE'S STRUGGLE; a.k.a. REVOLUTIONARY POPULAR STRUGGLE) [FTO][SDGT]

PORT SUDAN COTTON AND TRADE COMPANY (a.k.a. PORT SUDAN COTTON COMPANY), P.O. Box 590, Khartoum, Sudan; P.O. Box 261, Port Sudan, Sudan [SUDAN]

PORT SUDAN COTTON COMPANY (a.k.a. PORT SUDAN COTTON AND TRADE COMPANY), P.O. Box 590, Khartoum, Sudan; P.O. Box 261, Port Sudan, Sudan [SUDAN]

PORT SUDAN DUTY FREE SHOP, Port Sudan, Sudan [SUDAN]

PORT SUDAN EDIBLE OILS STORAGE CORPORATION, P.O. Box 429, Port Sudan, Sudan [SUDAN]

PORT SUDAN REFINERY LIMITED, P.O. Box 354, Port Sudan, Sudan [SUDAN]

PORT SUDAN SPINNING FACTORY, Port Sudan, Sudan [SUDAN]

POSSO DE LONDONO, Maria del Carmen, c/o INVERSIONES VILLA PAZ S.A., Cali, Colombia; Cedula No. 29664243 (Colombia) (individual) [SDNT]

POSTS AND TELEGRAPHS PUBLIC CORPORATION, Khartoum, Sudan [SUDAN]

POTE, Selina, Deputy-Secretary for Gender and Culture of Zimbabwe (individual) [ZIMB]

PPRF (a.k.a. POPULAR FRONT FOR THE LIBERATION OF PALESTINE; a.k.a. HALHUL GANG; a.k.a. HALHUL SQUAD; a.k.a. MARTYR ABU-ALI MUSTAFA BATTALION; a.k.a. PALESTINIAN POPULAR RESISTANCE FORCES; a.k.a. PFLP; a.k.a. RED EAGLE GANG; a.k.a. RED EAGLE GROUP; a.k.a. RED EAGLES) [SDT][FTO][SDGT]

PRADO CUERO, Salomon (a.k.a. CHALO), Avenida 26 No. 42B-89 Bogota, Colombia; Carrera 101B No. 11B-50 Cali, Colombia; c/o COLOR 89.5 FM STEREO, Cali, Colombia; DOB 1 Aug 1948 (individual) [SDNT]

PRADO, Julio (a.k.a. Julio LOBATO), Panama (individual) [CUBA]

PRASIT, Cheewinnittipanya (a.k.a. CHARNCHAI, Chiwinnitipanya; a.k.a. CHEEWINNITTIPANYA, Prasit; a.k.a. CHIVINNITIPANYA, Prasit; a.k.a. CHIWINNITIPANYA, Charnchai; a.k.a. PRASIT, Chivinnitipanya; a.k.a. WEI, Hsueh Kang; a.k.a. WEI, Shao-Kang; a.k.a. WEI, Sia-Kang; a.k.a. WEI, Xuekang), DOB 29 Jun 1952; alt. DOB 29 May 1952; Passports Q081061, E091929 (Thailand) (individual) [SDNTK]

PRASIT, Chivinnitipanya (a.k.a. CHARNCHAI, Chiwinnitipanya; a.k.a. CHEEWINNITTIPANYA, Prasit; a.k.a. CHIVINNITIPANYA, Prasit; a.k.a. CHIWINNITIPANYA, Charnchai; a.k.a. PRASIT, Cheewinnittipanya; a.k.a. WEI, Hsueh Kang; a.k.a. WEI, Shao-Kang; a.k.a. WEI, Sia-Kang; a.k.a. WEI, Xuekang), DOB 29 Jun 1952; alt. DOB 29 May 1952; Passports Q081061, E091929 (Thailand) (individual) [SDNTK]

PRCAC, Dragoljub; DOB 18 Jul 1937; POB Omarska, Bosnia-Herzegovina; ICTY indictee (individual) [BALKANS]

PRDF (a.k.a. AL-SANDUQ AL-FILISTINI LIL-IGHATHA; a.k.a. AL-SANDUQ AL-FILISTINI LIL-IGHATHA WA AL-TANMIYA; a.k.a. INTERPAL; a.k.a. PALESTINE AND LEBANON RELIEF FUND; a.k.a. PALESTINE DEVELOPMENT AND RELIEF FUND; a.k.a. PALESTINE RELIEF AND DEVELOPMENT FUND; a.k.a. PALESTINE RELIEF FUND; a.k.a. PALESTINIAN AID AND SUPPORT FUND; a.k.a. PALESTINIAN RELIEF AND DEVELOPMENT FUND; a.k.a. PALESTINIAN RELIEF FUND; a.k.a. RELIEF AND DEVELOPMENT FUND FOR PALESTINE; a.k.a. RELIEF; a.k.a. WELFARE AND DEVELOPMENT FUND FOR PALESTINE; a.k.a. WELFARE AND DEVELOPMENT FUND OF PALESTINE), P.O. Box 3333, London, NW6 1RW, England; Registered Charity No: 1040094 [SDGT]

PRELASA, Mexico [CUBA]

PREMIER SALES S.A., Avenida Ernesto T. Lefevre, Planta Baja, Panama; P.O. Box 4064, Zona 5 Panama [SDNT]

PRENSA LATINA CANADA LTD., 1010 O Rue Ste. Catherine, Montreal PQ H303 IGI, Canada [CUBA]

PRENSA LATINA, Spain [CUBA]

PRESA, S.A., Panama [CUBA]

PREVENCION Y ANALISIS DE RIESGOS (a.k.a. PREVIA S.A.), Carrera 3 No. 10-20 of. 202, Cali, Colombia; Carrera 3 No. 12-40 of. 504, Cali, Colombia [SDNT]

PREVIA S.A. (a.k.a. PREVENCION Y ANALISIS DE RIESGOS), Carrera 3 No. 10-20 of. 202, Cali, Colombia; Carrera 3 No. 12-40 of. 504, Cali, Colombia [SDNT]

PRIETO, Diocelina, (a.k.a. PRIETO, Dioselina), Carrera 12 No. 2-81, Bogota, Colombia; c/o COMEDICAMENTOS S.A., Bogota, Colombia; c/o DISTRIBUIDORA AGROPECUARIA COLOMBIANA S.A., Cali, Colombia; c/o FOGENSA S.A., Bogota, Colombia; c/o GLAJAN S.A., Bogota, Colombia; c/o INVERSIONES BOMBAY S.A., Bogota, Colombia; c/o SHARVET, S.A., Bogota, Colombia; DOB 3 Dec 1956; Passport 41760201 (Colombia); Cedula No. 41760201 (Colombia) (individual) [SDNT]

PRIETO, Dioselina, (a.k.a. PRIETO, Diocelina), Carrera 12 No. 2-81, Bogota, Colombia; c/o COMEDICAMENTOS S.A., Bogota, Colombia; c/o DISTRIBUIDORA AGROPECUARIA COLOMBIANA S.A., Cali, Colombia; c/o FOGENSA S.A., Bogota, Colombia; c/o GLAJAN S.A., Bogota, Colombia; c/o INVERSIONES BOMBAY S.A., Bogota, Colombia; c/o SHARVET, S.A., Bogota, Colombia; DOB 3 Dec 1956; Passport 41760201 (Colombia); Cedula No. 41760201 (Colombia) (individual) [SDNT]

PRIMA EXPORT/IMPORT, Jamaica [CUBA]

PRISMA STEREO 89.5 F.M. (a.k.a. FIESTA STEREO 91.5 F.M.; a.k.a. SONAR F.M. E.U. DIETER MURRLE), Calle 15 Norte No. 6N-34 of. 1003, Cali, Colombia; Calle 43A No. 1-29 Urb. Sta. Maria del Palmar, Palmira, Colombia; NIT # 805006273-1 (Colombia) [SDNT]

PRIVREDNA BANKA AD SRPSKO SARAJEVO (a.k.a. PRIVREDNA BANKA SARAJEVO AD), Str Srpskih Ratnika br 14, 71420 Pale, Republika Srpska, Bosnia-Herzegovina; Dobroslava Jedevica 14, 71000 Pale, Republika Srpska, Bosnia-Herzegovina; Kralja Nikole Str 65, Srbinje/Foca, Republika Srpska, Bosnia-Herzegovina; Ljube Milanovica Str 12, Trebinje, Republika Srpska, Bosnia-Herzegovina; Filipa Kljajica Str 6, Zvornik, Republika Srpska, Bosnia-Herzegovina; 9/11 Str Zagrebacka, Belgrade 11000, Serbia; SWIFT/BIC PRSS BA 22 [BALKANS]

PRIVREDNA BANKA SARAJEVO AD (a.k.a. PRIVREDNA BANKA AD SRPSKO SARAJEVO), Str Srpskih Ratnika br 14, 71420 Pale, Republika Srpska, Bosnia-Herzegovina; Dobroslava Jedevica 14, 71000 Pale, Republika Srpska, Bosnia-Herzegovina; Kralja Nikole Str 65, Srbinje/Foca, Republika Srpska, Bosnia-Herzegovina; Ljube Milanovica Str 12, Trebinje, Republika Srpska, Bosnia-Herzegovina; Filipa Kljajica Str 6, Zvornik, Republika Srpska, Bosnia-Herzegovina; 9/11 Str Zagrebacka, Belgrade 11000, Serbia; SWIFT/BIC PRSS BA 22 [BALKANS]

PROARTE (a.k.a. PROMOCIONES ARTISTICAS), Mexico [CUBA]

PROCESADORA DE POLLOS SUPERIOR S.A. (a.k.a. COMERCIALIZADORA INTERNACIONAL VALLE DE ORO S.A.), A.A. 1689, Cali, Colombia; Avenida 2N No. 7N-55, of. 521, Cali, Colombia; Carrera 3 No. 12-40, Cali, Colombia; Km 17 Recta Cali-Palmira, Palmira, Colombia; NIT # 800074991-3 (Colombia) [SDNT]

PRODUCCIONES CARNAVAL DEL NORTE Y COMPANIA LIMITADA, Calle 22N No. 5A-75 05, Cali, Colombia; NIT # 800250531-3 (Colombia) [SDNT]

PRODUCTOS GALO Y CIA. LTDA., Avenida 42 No. 20-47, Bogota, Colombia; Apartado Aereo 58263, Bogota, Colombia; NIT # 800102729-0 (Colombia) [SDNT]

PROHUEVO DE COLOMBIA LTDA., 1 Km Antes de Cavasa Palmira-Cali, Colombia; Calle 34 No. 5A-25, Cali, Colombia; Granja Pio Pio Carretera Cali-Candelaria Km 12, Cali, Colombia; NIT # 800089683-5 (Colombia) [SDNT]

PROMOCIONES ARTISTICAS (a.k.a. PROARTE), Avenida Insurgentes Sur No. 421, Bloque B Despacho 404, C.P. 06l00, Mexico, D.F. [CUBA]

PROMOCIONES Y CONSTRUCCIONES DEL CARIBE LTDA., Calle 74 No. 53-30, Barranquilla, Colombia; Calle 78 No. 53-70 Centro Comercial Villa Country, Barranquilla, Colombia; Carrera 54 No. 72-80 Ejecutivo I, Barranquilla, Colombia; Carrera 54 No. 72-147, Barranquilla, Colombia; Carrera 55 No. 72-109 Piso 1, Barranquilla, Colombia; Carrera 56 No. 70-60, Barranquilla, Colombia; Carrera 57 No. 79-149, Barranquilla, Colombia; NIT # 890108115-3 (Colombia) [SDNT]

PROMOCIONES Y CONSTRUCCIONES DEL CARIBE LTDA. Y CIA. S.C.A. (a.k.a. PROMOCON), Calle 74 No. 53-30, Barranquilla, Colombia; Calle 78 No. 53-70 Centro Comercial Villa Country, Barranquilla, Colombia; Carrera 54 No. 72-80 L-21 Ejecutivo I, Barranquilla, Colombia; Carrera 54 No. 72-147 L-115, Barranquilla, Colombia; Carrera 55 No. 80-192, Barranquilla, Colombia; Carrera 55 No. 80-192 Ap. 6, Barranquilla, Colombia; Apartado Aereo 50183, Barranquilla, Colombia; Apartado Aereo 51110, Barranquilla, Colombia; NIT # 890108148-6 (Colombia) [SDNT]

PROMOCON (a.k.a. PROMOCIONES Y CONSTRUCCIONES DEL CARIBE LTDA. Y CIA. S.C.A.), Calle 74 No. 53-30, Barranquilla, Colombia; Calle 78 No. 53-70 Centro Comercial Villa Country, Barranquilla, Colombia; Carrera 54 No. 72-80 L-21 Ejecutivo I, Barranquilla, Colombia; Carrera 54 No. 72-147 L-115, Barranquilla, Colombia; Carrera 55 No. 80-192, Barranquilla, Colombia; Carrera 55 No. 80-192 Ap. 6, Barranquilla, Colombia; Apartado Aereo 50183, Barranquilla, Colombia; Apartado Aereo 51110, Barranquilla, Colombia; NIT # 890108148-6 (Colombia) [SDNT]

PROMOTORA ANDINA, S.A., Quito, Ecuador [CUBA]

PROMOTORA HOTEL BARRANQUILLA LTDA., Calle 74 No. 53-30, Barranquilla, Colombia; Apartado Aereo 51110, Barranquilla, Colombia; NIT # 890111684-3 (Colombia) [SDNT]

PROSALUD CENTROS MEDICOS Y DROGUERIA (a.k.a. PROSALUD Y BIENESTAR S.A.), Carrera 2 No. 20-47, Cali, Colombia; Calle 23 No. 28-11, Cali, Colombia; Carrera 2 No. 52-27, Cali, Colombia; Carrera 46 No. 37-03, Cali, Colombia; Calle 22A No. 10-54, Cali, Colombia; Carrera 15 No. 34-102, Cali, Colombia; Calle 44 No. 4N-74, Cali, Colombia; Calle 2 No. 4-70/72, Cali, Colombia; Carrera 7P No. 76-04, Cali, Colombia; Calle 19 No. 6-31, Cali, Colombia; Carrera 94 No. 4-76, Cali, Colombia; Carrera 4N No. 81-04 esq., Cali, Colombia; Calle 71A No. 1D-07, Cali, Colombia; Carrera 29 No. 45-84, Cali, Colombia; NIT # 890311169-1 (Colombia) [SDNT]

PROSALUD Y BIENESTAR S.A. (a.k.a. PROSALUD CENTROS MEDICOS Y DROGUERIA), Carrera 2 No. 20-47, Cali, Colombia; Calle 23 No. 28-11, Cali, Colombia; Carrera 2 No. 52-27, Cali, Colombia; Carrera 46 No. 37-03, Cali, Colombia; Calle 22A No. 10-54, Cali, Colombia; Carrera 15 No. 34-102, Cali, Colombia; Calle 44 No. 4N-74, Cali, Colombia; Calle 2 No. 4-70/72, Cali, Colombia; Carrera 7P No. 76-04, Cali, Colombia; Calle 19 No. 6-31, Cali, Colombia; Carrera 94 No. 4-76, Cali, Colombia; Carrera 4N No. 81-04 esq., Cali, Colombia; Calle 71A No. 1D-07, Cali, Colombia; Carrera 29 No. 45-84, Cali, Colombia; NIT # 890311169-1 (Colombia) [SDNT]

PROSPECTIVA E.U. (a.k.a. PROSPECTIVA EMPRESA UNIPERSONAL), Calle 29 Norte No. 6N-43, Cali, Colombia; Calle 18 No. 106-98, of. 302 and 303, Cali, Colombia; NIT # 805006189-0 (Colombia) [SDNT]

PROSPECTIVA EMPRESA UNIPERSONAL (a.k.a. PROSPECTIVA E.U.), Calle 29 Norte No. 6N-43, Cali, Colombia; Calle 18 No. 106-98, of. 302 and 303, Cali, Colombia; NIT # 805006189-0 (Colombia) [SDNT]

PROTECTORS OF THE SALAFIST CALL (a.k.a. DHAMAT HOUMET DAAWA SALAFIA; a.k.a. DJAMAAT HOUMAT ED DAAWA ES SALAFIYA; a.k.a. DJAMAAT HOUMAT EDDAWA ESSALAFIA; a.k.a. DJAMAATT HOUMAT ED DAAWA ES SALAFIYA; a.k.a. EL-AHOUAL BATTALION; a.k.a. GROUP OF SUPPORTERS OF THE SALAFIST TREND; a.k.a. GROUP OF SUPPORTERS OF THE SALAFISTE TREND; a.k.a. GROUP PROTECTORS OF SALAFIST PREACHING; a.k.a. HOUMAT ED DAAWA ES SALIFIYA; a.k.a. HOUMAT ED-DAAOUA ES-SALAFIA; a.k.a. HOUMATE ED-DAAWA ES-SALAFIA; a.k.a. HOUMATE EL DA'AWAA ES-SALAFIYYA; a.k.a. KATIBAT EL AHOUAL; a.k.a. KATIBAT EL AHOUEL; a.k.a. PROTECTORS OF THE SALAFIST PREDICATION; a.k.a. SALAFIST CALL PROTECTORS; a.k.a. THE HORROR SQUADRON), Algeria [SDGT]

PROTECTORS OF THE SALAFIST PREDICATION (a.k.a. DHAMAT HOUMET DAAWA SALAFIA; a.k.a. DJAMAAT HOUMAT ED DAAWA ES SALAFIYA; a.k.a. DJAMAAT HOUMAT EDDAWA ESSALAFIA; a.k.a. DJAMAATT HOUMAT ED DAAWA ES SALAFIYA; a.k.a. EL-AHOUAL BATTALION; a.k.a. GROUP OF SUPPORTERS OF THE SALAFIST TREND; a.k.a. GROUP OF SUPPORTERS OF THE SALAFISTE TREND; a.k.a. GROUP PROTECTORS OF SALAFIST PREACHING; a.k.a. HOUMAT ED DAAWA ES SALIFIYA; a.k.a. HOUMAT ED-DAAOUA ES-SALAFIA; a.k.a. HOUMATE ED-DAAWA ES-SALAFIA; a.k.a. HOUMATE EL DA'AWAA ES-SALAFIYYA; a.k.a. KATIBAT EL AHOUAL; a.k.a. KATIBAT EL AHOUEL; a.k.a. PROTECTORS OF THE SALAFIST CALL; a.k.a. SALAFIST CALL PROTECTORS; a.k.a. THE HORROR SQUADRON), Algeria [SDGT]

PROVIDA E.U. (a.k.a. PROVIDA LABORATORIO CLINICO Y PATALOGIA; a.k.a. PROVIDA Y DISENO), Calle 19 No. 6-31, Cali, Colombia; Calle 22A No. 10-54, Cali, Colombia; Calle 23 No. 28-11, Cali, Colombia; Calle 44 No. 4N-74, Cali, Colombia; Calle 71A No. 1D-07, Cali, Colombia; Carrera 15 No. 34-102, Cali, Colombia; Carrera 2 No. 52-27, Cali, Colombia; Carrera 29 No. 45-84, Cali, Colombia; Carrera 44 No. 5B-27, Cali, Colombia; Carrera 46 No. 37-03, Cali, Colombia; Carrera 4N No. 81-04, Cali, Colombia; Carrera 7P No. 76-04, Cali, Colombia; Carrera 94 No. 4-76, Cali, Colombia; Quito, Ecuador; NIT # 805016716-5 (Colombia) [SDNT]

PROVIDA LABORATORIO CLINICO Y PATALOGIA (a.k.a. PROVIDA E.U.; a.k.a. PROVIDA Y DISENO), Calle 19 No. 6-31, Cali, Colombia; Calle 22A No. 10-54, Cali, Colombia; Calle 23 No. 28-11, Cali, Colombia; Calle 44 No. 4N-74, Cali, Colombia; Calle 71A No. 1D-07, Cali, Colombia; Carrera 15 No. 34-102, Cali, Colombia; Carrera 2 No. 52-27, Cali, Colombia; Carrera 29 No. 45-84, Cali, Colombia; Carrera 44 No. 5B-27, Cali, Colombia; Carrera 46 No. 37-03, Cali, Colombia; Carrera 4N No. 81-04, Cali, Colombia; Carrera 7P No. 76-04, Cali, Colombia; Carrera 94 No. 4-76, Cali, Colombia; Quito, Ecuador; NIT # 805016716-5 (Colombia) [SDNT]

PROVIDA Y DISENO (a.k.a. PROVIDA E.U.; a.k.a. PROVIDA LABORATORIO CLINICO Y PATALOGIA), Calle 19 No. 6-31, Cali, Colombia; Calle 22A No. 10-54, Cali, Colombia; Calle 23 No. 28-11, Cali, Colombia; Calle 44 No. 4N-74, Cali, Colombia; Calle 71A No. 1D-07, Cali, Colombia; Carrera 15 No. 34-102, Cali, Colombia; Carrera 2 No. 52-27, Cali, Colombia; Carrera 29 No. 45-84, Cali, Colombia; Carrera 44 No. 5B-27, Cali, Colombia; Carrera 46 No. 37-03, Cali, Colombia; Carrera 4N No. 81-04, Cali, Colombia; Carrera 7P No. 76-04, Cali, Colombia; Carrera 94 No. 4-76, Cali, Colombia; Quito, Ecuador; NIT # 805016716-5 (Colombia) [SDNT]

PROYECTO CARS & CARS (a.k.a. CARS & CARS LTDA.; a.k.a. CENTRO COMERCIAL DEL AUTOMOVIL; a.k.a. COMERCIALIZADORA INTEGRAL LTDA.), Avenida Roosevelt entre carreras 38 y 38A esquinas, Cali, Colombia [SDNT]

PROYECTOS J.A.M. LTDA., Carrera 53 No. 74-16, Barranquilla, Colombia; Carrera 54 No. 72-147, Barranquilla, Colombia; Calle 77 No. 65-37 L-6, Barranquilla, Colombia; NIT # 800234529-0 (Colombia) [SDNT]

PROYECTOS J.A.M. LTDA. Y CIA. S. EN C., Calle 74 No. 53-23 of. 401, Barranquilla, Colombia; Calle 74 No. 53-23 L-503, Barranquilla, Colombia; Carrera 53 No. 74-16 of. 401, Barranquilla, Colombia; Carrera 53 No. 74-16, Barranquilla, Colombia; NIT # 800243483-9 (Colombia) [SDNT]

PUBLIC COMPANY FOR GARMENTS, P.O. Box 4152, Benghazi, Libya [LIBYA]

PUBLIC CORPORATION FOR BUILDING AND CONSTRUCTION, P.O. Box 2110, Khartoum, Sudan [SUDAN]

PUBLIC CORPORATION FOR IRRIGATION AND EXCAVATION, P.O. Box 619, Khartoum, Sudan; P.O. Box 123, Wad Medani, Sudan [SUDAN]

PUBLIC CORPORATION FOR OIL PRODUCTS AND PIPELINES, Khartoum, Sudan [SUDAN]

PUBLIC ELECTRICAL WORKS CO., P.O. Box 8539, Sharia Halab, Tripoli, Libya; (branch) P.O. Box 32811, Benghazi, Libya [LIBYA]

PUBLIC ELECTRICITY AND WATER CORPORATION (a.k.a. CENTRAL ELECTRICITY AND WATER CORPORATION), P.O. Box 1380, Khartoum, Sudan [SUDAN]

PUBLIC SAFETY COMMODITY IMPORTING CO., (a.k.a. SILAMNIA), P.O. Box 12942, Tripoli, Libya [LIBYA]

PUENTE GONZALEZ, Carlos Alberto, c/o CORPORACION DEPORTIVA AMERICA, Cali, Colombia; DOB 28 Nov 1937; Passport 2449885 (Colombia); Cedula No. 2449885 (Colombia) (individual) [SDNT]

PUERTO, Luis Alfredo, c/o ADMACOOP, Bogota, Colombia; c/o CODISA, Bogota, Colombia; DOB 17 Dec 1955; Passport 79113154 (Colombia); Cedula No. 79113154 (Colombia) (individual) [SDNT]

PUMA SECURITY AGENCY (a.k.a. PUMA SECURITY COMPANY; a.k.a. PUMA SECURITY SERVICE), Mostar, Bosnia-Herzegovina; Capljina, Bosnia-Herzegovina; Stolac, Bosnia-Herzegovina; Siroki Brijeg, Bosnia-Herzegovina [BALKANS]

PUMA SECURITY COMPANY (a.k.a. PUMA SECURITY AGENCY; a.k.a. PUMA SECURITY SERVICE), Mostar, Bosnia-Herzegovina; Capljina, Bosnia-Herzegovina; Stolac, Bosnia-Herzegovina; Siroki Brijeg, Bosnia-Herzegovina [BALKANS]

PUMA SECURITY SERVICE (a.k.a. PUMA SECURITY AGENCY; a.k.a. PUMA SECURITY COMPANY), Mostar, Bosnia-Herzegovina; Capljina, Bosnia-Herzegovina; Stolac, Bosnia-Herzegovina; Siroki Brijeg, Bosnia-Herzegovina [BALKANS]

PVOE (a.k.a. PALAESTINAENSER VEREIN; a.k.a. PALAESTINAENSERVEREIN OESTERREICH; a.k.a. PALAESTINENSISCH VERBAND OESTERREICH; a.k.a. PALAESTINENSISCHE VEREINIGUNG; a.k.a. PALAESTININIENSISCHE BEREINIGUNG; a.k.a. PALESTINE LEAGUE; a.k.a. PALESTINE UNION; a.k.a. PALESTINENSISCHE VER IN STERREICH; a.k.a. PALESTINIAN ASSOCIATION; n.k.a. PALESTINIAN ASSOCIATION IN AUSTRIA; f.k.a. PALESTINIAN ISLAMIC ASSOCIATION IN AUSTRIA; f.k.a. PALESTINIAN ISLAMIC LEAGUE IN AUSTRIA; a.k.a. PALESTINIAN LEAGUE IN AUSTRIA; a.k.a. PALESTINIAN ORGANIZATION; a.k.a. PALESTINIAN UNION; a.k.a. PALESTINIAN UNION IN AUSTRIA; a.k.a. PALESTINISCHE VEREINIGUNG), Novara g 36a/11, 1020 Wien, Austria [SDGT]

PYZA E.U., Avenida 3 No. 21-50, Cali, Colombia; NIT # 805015054-3 (Colombia) [SDNT]

QAFALA GENERAL AUTOMOBILE CO., Libya [LIBYA]

QALHARBE DE LEON, Oscar (a.k.a. BECERRA, Martin; a.k.a. BECERRA MIRELES, Martin; a.k.a. MACHERBE, Oscar; a.k.a. MAHERBE, Oscar; a.k.a. MAHLERBE, Oscar; a.k.a. MAHLERBE, Polo; a.k.a. MALARBE, Oscar; a.k.a. MALERBE, Oscar; a.k.a. MALERHBE DE LEON, Oscar; a.k.a. MALERVA, Oscar; a.k.a. MALHARBE DE LEON, Oscar; a.k.a. MALHERBE DE LEON, Oscar; a.k.a. MALHERBE DELEON, Oscar; a.k.a. MALMERBE, Oscar; a.k.a. MELARBE, Oscar; a.k.a. NALHERBE, Oscar; a.k.a. VARGAS, Jorge); DOB 10 Jan 1964; POB Mexico (individual) [SDNTK]

QASEM, Talat Fouad; Propaganda Leader of ISLAMIC GAMA'AT; DOB 02 Jun 1957 or 03 Jun 1957; POB Al Mina, Egypt (individual) [SDT]

QUALITY SHOES COMPANY, UB33, Industrial Estate, San Gwann, Malta [LIBYA]

QUIAZUA ESPINEL, Maria Teresa, c/o CAJA SOLIDARIA, Bogota, Colombia; c/o CREDISOL, Bogota, Colombia; c/o REPRESENTACIONES Y DISTRIBUCIONES HUERTAS Y ASOCIADOS S.A., Bogota, Colombia; DOB 14 Oct 1966; Passport 51837790 (Colombia); Cedula No. 51837790 (Colombia) (individual) [SDNT]

QUIGUA ARIAS, Omar, c/o IMCOMER, Cali, Colombia; c/o INCOES, Cali, Colombia (individual) [SDNT]

QUIMINTER GMBH, Vienna, Austria [CUBA]

QUINONEZ TORRES, Sergio Plinio, c/o ADMINISTRADORA DE SERVICIOS VARIOS CALIMA S.A., Cali, Colombia; c/o CHAMARTIN S.A., Cali, Colombia; Passport 16723852 (Colombia); Cedula No. 16723852 (Colombia) (individual) [SDNT]

QUINTANA HERNANDEZ, Gonzalo, c/o DISTRIBUIDORA DE DROGAS LA REBAJA BOGOTA S.A., Bogota, Colombia; c/o GRACADAL S.A., Cali, Colombia; c/o POLIEMPAQUES LTDA., Bogota, Colombia; Cedula No. 16603939 (Colombia) (individual) [SDNT]

QUINTANA ZORROZUA, Asier; member ETA; DOB 27 Feb 1968; POB Bilbao (Vizcaya Province), Spain; D.N.I. 30.609.430 (individual) [SDGT]

QUINTERO MERAZ, Jose Albino; DOB 15 Sep 1959; POB Sinaloa, Mexico (individual) [SDNTK]

QUINTERO SALAMANDO, Gabriela Elvira, c/o CONTACTEL COMUNICACIONES S.A., Cali, Colombia; c/o PROSPECTIVA E.U., Cali, Colombia; DOB 10 Sep 1963; Passport 31406077 (Colombia); Cedula No. 31406077 (Colombia) (individual) [SDNT]

QUINTERO SALAZAR, Lisimaco, c/o INMOBILIARIA U.M.V. S.A., Cali, Colombia (individual) [SDNT]

RABAK OIL MILL, P.O. Box 2105, Khartoum, Sudan [SUDAN]

RABITA TRUST, Room 9A, 2nd Floor, Wahdat Road, Education Town, Lahore, Pakistan; Wares Colony, Lahore, Pakistan [SDGT]

RADIC, Miroslav; DOB 1 Jan 1961; POB; ICTY indictee in custody (individual) [BALKANS]

RADIC, Mlado; DOB 15 May 1952; POB Lamovita, Bosnia-Herzegovina; ICTY indictee (individual) [BALKANS]

RADIO SERVICE, S.A., Panama [CUBA]

RADIO UNIDAS FM S.A. (a.k.a. COLOR STEREO S.A.; a.k.a. COLOR'S S.A.; n.k.a. SONAR F.M. S.A.), Calle 15 Norte No. 6N-34 piso 15 Edificio Alcazar, Cali, Colombia; Calle 19N No. 2N-29 piso 10 Sur, Cali, Colombia; NIT # 800163602-5 (Colombia) [SDNT]

RAFFINERIE DU SUD-OUEST (a.k.a. RSO; a.k.a. COLLOMBEY REFINERY), Collombey, Valais, Switzerland [LIBYA]

RAFIDAIN BANK, 114 Tahreer Str. Eldukki, P.O.Box 239, Omran Giza, Cairo, Egypt [IRAQ]

RAFIDAIN BANK, 2nd Floor Sadat Tower, P.O. Box 1891, Beirut, Lebanon (2 branches in Lebanon) [IRAQ]

RAFIDAIN BANK, Mafraq, Jordan [IRAQ]

RAFIDAIN BANK, New Banks' Street, P.O. Box 11360, Massarif, Baghdad, Iraq (227 branches in Iraq) [IRAQ]

RAFIDAIN BANK, P.O. Box 10023, Sanaa, Yemen Arab Republic [IRAQ]

RAFIDAIN BANK, P.O. Box 1194, Cinema al-Hussein Street, Amman, Jordan [IRAQ]

RAFIDAIN BANK, P.O. Box 607, Manama, Bahrain (2 branches in Bahrain) [IRAQ]

RAFIDAIN BANK, P.O. Box 685, Aqaba, Jordan [IRAQ]

RAFIDAIN BANK, P.O.Box 815401, Jabal Amman, Jordan [IRAQ]

RAFIDAIN BANK, Rafidain Bank Building, 7-10 Leadenhall Street, London EC3V 1NL, England [IRAQ]

RAFIDAIN BANK, Sheikh Khalifa Street, P.O. Box 2727, Abu Dhabi, United Arab Emirates [IRAQ]

RAFIQ, Assem (a.k.a. ABDULMALIK, Abdul Hameed; a.k.a. MALIK, Assim Mohammed Rafiq Abdul), 14 Almotaz Sad Al Deen Street, Al Nozha, Cairo, Egypt (individual) [IRAQ]

RAHMAN, Mohamad Iqbal (a.k.a. A RAHMAN, Mohamad Iqbal; a.k.a. ABDURRAHMAN, Abu Jibril; a.k.a. ABDURRAHMAN, Mohamad Iqbal; a.k.a. ABU JIBRIL; a.k.a. MUQTI, Fihiruddin; a.k.a. MUQTI, Fikiruddin); POB Tirpas-Selong Village, East Lombok, Indonesia; nationality Indonesian (individual) [SDGT]

RAINBOW FACTORIES, P.O. Box 1768, Khartoum, Sudan [SUDAN]

RAJBROOK LIMITED, England [IRAQ]

RAJIC, Ivica; DOB 5 May 1958; POB Johovac, Bosnia-Herzegovina; ICTY indictee at large (individual) [BALKANS]

RAMADAN, Taha Yasin (a.k.a. AL-JIZRAWI,Taha Yassin Ramadan; a.k.a. RAMADAN, Taha Yassin); DOB circa 1938; Vice President since 1991; nationality Iraqi (individual) [IRAQ][IRAQ2]

RAMADAN, Taha Yassin (a.k.a. AL-JIZRAWI,Taha Yassin Ramadan; a.k.a. RAMADAN, Taha Yasin); DOB circa 1938; Vice President since 1991; nationality Iraqi (individual) [IRAQ][IRAQ2]

RAMIREZ ABADIA, Juan Carlos, Calle 6A No. 34-65, Cali, Colombia; DOB 16 Feb 1963; Passport AD127327 (Colombia); Cedula 16684736 (Colombia) (individual) [SDNT]

RAMIREZ AGUIRRE, Sergio Humberto, c/o FARMACIA VIDA SUPREMA, S.A. DE C.V., Tijuana, Baja California, Mexico; c/o DISTRIBUIDORA IMPERIAL DE BAJA CALIFORNIA, S.A. de C.V., Tijuana, Baja California, Mexico; c/o ADMINISTRADORA DE INMUEBLES VIDA, S.A. de C.V., Tijuana, Baja California, Mexico; DOB 22 Nov 1951 (individual) [SDNTK]

RAMIREZ AZA, Hernan, c/o IMPORT MAPRI LTDA., Bogota, Colombia; Passport 17083264 (Colombia); Cedula No. 17083264 (Colombia) (individual) [SDNT]

RAMIREZ AZA, Jose Manuel, c/o IMPORT MAPRI LTDA., Bogota, Colombia; c/o WORLD TRADE LTDA., Ibague, Colombia; DOB 14 Aug 1939; Passport 2889531 (Colombia); Cedula No. 2889531 (Colombia) (individual) [SDNT]

RAMIREZ BUITRAGO, Luis Eduardo, c/o INCOES, Cali, Colombia (individual) [SDNT]

RAMIREZ BUITRAGO, Placido, c/o PROCESADORA DE POLLOS SUPERIOR S.A., Palmira, Colombia (individual) [SDNT]

RAMIREZ CARDONA, Gerardo de Jesus, c/o COOPERATIVA MERCANTIL DEL SUR LTDA., Pasto, Colombia; c/o COPSERVIR LTDA., Bogota, Colombia; Passport 14645156 (Colombia); Cedula No. 14645156 (Colombia) (individual) [SDNT]

RAMIREZ CORTES, Delia Nhora (Nora), c/o ADMINISTRACION INMOBILIARIA BOLIVAR S.A., Cali, Colombia; c/o AGROPECUARIA Y REFORESTADORA HERREBE LTDA., Cali, Colombia; c/o COMPANIA ADMINISTRADORA DE VIVIENDA S.A., Cali, Colombia; c/o CONSTRUCTORA ALTOS DEL RETIRO LTDA., Bogota, Colombia; c/o CONSTRUEXITO S.A., Cali, Colombia; c/o INDUSTRIA AVICOLA PALMASECA S.A., Cali, Colombia; c/o INMOBILIARIA BOLIVAR LTDA., Cali, Colombia; c/o INVERSIONES GEMINIS S.A., Cali, Colombia; c/o INVERSIONES HERREBE LTDA., Cali, Colombia; c/o INVERSIONES INVERVALLE S.A., Cali, Colombia; c/o SOCOVALLE LTDA., Cali, Colombia; c/o VIAJES MERCURIO LTDA., Cali, Colombia; DOB 20 Jan 1959; Cedula No. 38943729 (Colombia) (individual) [SDNT]

RAMIREZ de CASTANEDA, Maria (a.k.a. RAMIREZ RAMIREZ, Maria), c/o DECAFARMA S.A., Bogota, Colombia; c/o PENTACOOP LTDA., Bogota, Colombia; c/o PENTA PHARMA DE COLOMBIA S.A., Bogota, Colombia; DOB 8 Dec 1943; Cedula No. 31226330 (Colombia) (individual) [SDNT]

RAMIREZ DE RAMOS, Amparo, c/o INVERSIETE S.A., Cali, Colombia; c/o INVERSIONES Y CONSTRUCCIONES ATLAS LTDA., Cali, Colombia; DOB 1 Feb 1947; Cedula No. 38997548 (Colombia) (individual) [SDNT]

RAMIREZ ESCUDERO, Pedro Emilio, Calle 6A No. 48-36, Cali, Colombia; c/o GALAPAGOS S.A., Cali, Colombia; Cedula No. 16280602 (Colombia) (individual) [SDNT]

RAMIREZ GACHA, Ivan, c/o MATERIAS PRIMAS Y SUMINISTROS S.A., Bogota, Colombia; DOB 30 Sep 1963; Passport 79310808 (Colombia); Cedula No. 79310808 (Colombia) (individual) [SDNT]

RAMIREZ, James Alberto, c/o ANDINA DE CONSTRUCCIONES S.A., Cali, Colombia; c/o DISMERCOOP, Cali, Colombia; c/o GRACADAL S.A., Cali, Colombia; c/o INTERAMERICANA DE CONSTRUCCIONES S.A., Cali, Colombia; c/o INVERSIONES MONDRAGON Y CIA. S.C.S., Cali, Colombia; c/o INVERSIONES Y CONSTRUCCIONES COSMOVALLE LTDA., Cali, Colombia; c/o SERVICIOS FARMACEUTICOS SERVIFAR S.A., Cali, Colombia; Cedula No. 16691796 (Colombia) (individual) [SDNT]

RAMIREZ, Joise Luis (a.k.a. AREGON, Max; a.k.a. CARO RODRIGUEZ, Gilberto; a.k.a. GUIERREZ LOERA, Jose Luis; a.k.a. GUMAN LOERAL, Joaquin; a.k.a. GUZMAN, Achivaldo; a.k.a. GUZMAN, Archibaldo; a.k.a. GUZMAN, Aureliano; a.k.a. GUZMAN, Chapo; a.k.a. GUZMAN FERNANDEZ, Joaquin; a.k.a. GUZMAN, Joaquin Chapo; a.k.a. GUZMAN LOEIA, Joaguin; a.k.a. GUZMAN LOERA, Joaquin; a.k.a. GUZMAN LOESA, Joaquin; a.k.a. GUZMAN LOREA, Chapo; a.k.a. GUZMAN PADILLA, Joaquin; a.k.a. ORTEGA, Miguel; a.k.a. OSUNA, Gilberto; a.k.a. RAMOX PEREZ, Jorge) DOB 25 Dec 1954; POB Mexico (individual) [SDNTK]

RAMIREZ, Julio Cesar, c/o RADIO UNIDAS FM S.A., Cali, Colombia; Cedula No. 16685808 (Colombia) (individual) [SDNT]

RAMIREZ LIBREROS, Gladys Miriam (a.k.a. RAMIREZ LIBREROS, Gladys Myriam), c/o DISTRIBUIDORA DE DROGAS LA REBAJA S.A., Bogota, Colombia; c/o INVERSIONES MOMPAX LTDA., Cali, Colombia; c/o LABORATORIOS BLAIMAR DE COLOMBIA S.A., Bogota, Colombia; c/o SERVICIOS MYRAL E.U., Cali, Colombia; DOB 20 Nov 1945; Passport 38974109 (Colombia); Cedula No. 38974109 (Colombia) (individual) [SDNT]

RAMIREZ LIBREROS, Gladys Myriam (a.k.a. RAMIREZ LIBREROS, Gladys Miriam), c/o DISTRIBUIDORA DE DROGAS LA REBAJA S.A., Bogota, Colombia; c/o INVERSIONES MOMPAX LTDA., Cali, Colombia; c/o LABORATORIOS BLAIMAR DE COLOMBIA S.A., Bogota, Colombia; c/o SERVICIOS MYRAL E.U., Cali, Colombia; DOB 20 Nov 1945; Passport 38974109 (Colombia); Cedula No. 38974109 (Colombia) (individual) [SDNT]

RAMIREZ M., Oscar, c/o INVERSIONES ARA LTDA., Cali, Colombia; c/o VALORES MOBILIARIOS DE OCCIDENTE S.A., Bogota, Colombia; c/o RIONAP COMERCIO Y REPRESENTACIONES S.A., Quito, Ecuador (individual) [SDNT]

RAMIREZ PAZ, Jaime, Carrera 24F No. 3-204, Cali, Colombia; c/o GEOPLASTICOS S.A., Cali, Colombia; DOB 05 Nov 1946; POB Cali, Valle, Colombia; Passport 14936260 (Colombia); Cedula No. 14936260 (Colombia) (individual) [SDNT]

RAMIREZ RAMIREZ, Maria (a.k.a. RAMIREZ de CASTANEDA, Maria), c/o DECAFARMA S.A., Bogota, Colombia; c/o PENTACOOP LTDA., Bogota, Colombia; c/o PENTA PHARMA DE COLOMBIA S.A., Bogota, Colombia; DOB 8 Dec 1943; Cedula No. 31226330 (Colombia) (individual) [SDNT]

RAMIREZ SANCHEZ, Alben, c/o INCOES, Cali, Colombia (individual) [SDNT]

RAMIREZ SUAREZ (SUARES), Luis Carlos, c/o COPSERVIR LTDA., Bogota, Colombia; c/o DROGAS LA REBAJA BUCARAMANGA S.A., Bucaramanga, Colombia; Cedula No. 19164938 (Colombia) (individual) [SDNT]

RAMIREZ VALENCIANO, William, Calle 3C No. 72-64 10, Cali, Colombia; c/o ADMINISTRACION INMOBILIARIA BOLIVAR S.A., Cali, Colombia; c/o CONCRETOS CALI S.A., Cali, Colombia; c/o CONSTRUCTORA DIMISA LTDA., Cali, Colombia; c/o IMCOMER LTDA., Cali, Colombia; c/o INVERSIONES EL PENON S.A., Cali, Colombia; c/o INVERSIONES GEMINIS S.A., Cali, Colombia; Cedula No. 16694719 (Colombia) [SDNT]

RAMON MAGANA, Alcedis (a.k.a. ALCIDES MAGANA, Ramon; a.k.a. ALCIDES MAGANE, Ramon; a.k.a. ALCIDES MAYENA, Ramon; a.k.a. ALCIDEZ MAGANA, Ramon; a.k.a. GONZALEZ QUIONES, Jorge; a.k.a. MAGANA ALCIDES, Ramon; a.k.a. MAGANA, Jorge; a.k.a. MAGNA ALCIDEDES, Ramon; a.k.a. MATA, Alcides; a.k.a. RAMON MAGANA, Alcides; a.k.a. ROMERO, Antonio); DOB 4 Sep 1957 (individual) [SDNTK]

RAMON MAGANA, Alcides (a.k.a. ALCIDES MAGANA, Ramon; a.k.a. ALCIDES MAGANE, Ramon; a.k.a. ALCIDES MAYENA, Ramon; a.k.a. ALCIDEZ MAGANA, Ramon; a.k.a. GONZALEZ QUIONES, Jorge; a.k.a. MAGANA ALCIDES, Ramon; a.k.a. MAGANA, Jorge; a.k.a. MAGNA ALCIDEDES, Ramon; a.k.a. MATA, Alcides; a.k.a. RAMON MAGANA, Alcedis; a.k.a. ROMERO, Antonio); DOB 4 Sep 1957 (individual) [SDNTK]

RAMOS BONILLA, Blanca Clemencia, c/o COSMEPOP, Bogota, Colombia; c/o LABORATORIOS BLAIMAR DE COLOMBIA S.A., Bogota, Colombia; c/o LATINA DE COSMETICOS Y DISTRIBUCIONES S.A., Bogota, Colombia; DOB 19 Mar 1959; Passport 41767311 (Colombia); Cedula No. 41767311 (Colombia) (individual) [SDNT]

RAMOS GARBIRAS, Gerardo Alfonso, Carrera 29 No. 9-64, Cali, Colombia; c/o DISTRIBUIDORA AGROPECUARIA COLOMBIANA S.A., Cali, Colombia; c/o INVERSIONES BOMBAY S.A., Bogota, Colombia; Cedula No. 6457125 (Colombia) (individual) [SDNT]

RAMOS RAYO, Heriberto, c/o INVERSIONES VILLA PAZ S.A., Cali, Colombia; Cedula No. 6186403 (Colombia) (individual) [SDNT]

RAMOX PEREZ, Jorge (a.k.a. AREGON, Max; a.k.a. CARO RODRIGUEZ, Gilberto; a.k.a. GUIERREZ LOERA, Jose Luis; a.k.a. GUMAN LOERAL, Joaquin; a.k.a. GUZMAN, Achivaldo; a.k.a. GUZMAN, Archibaldo; a.k.a. GUZMAN, Aureliano; a.k.a. GUZMAN, Chapo; a.k.a. GUZMAN FERNANDEZ, Joaquin; a.k.a. GUZMAN, Joaquin Chapo; a.k.a. GUZMAN LOEIA, Joaguin; a.k.a. GUZMAN LOERA, Joaquin; a.k.a. GUZMAN LOESA, Joaquin; a.k.a. GUZMAN LOREA, Chapo; a.k.a. GUZMAN PADILLA, Joaquin; a.k.a. ORTEGA, Miguel; a.k.a. OSUNA, Gilberto; a.k.a. RAMIREZ, Joise Luis) DOB 25 Dec 1954; POB Mexico (individual) [SDNTK]

RANDY, Alih (a.k.a. “Abu Sa'ad;” a.k.a. “Abu Saad;” a.k.a. AL GHOZI, Fathur Rahman; a.k.a. AL GHOZI, Fathur Rohman; a.k.a. AL-GHOZI, Fathur Rahman; a.k.a. AL-GHOZI, Fathur Rohman; a.k.a. AL-GOZHI, Fathur Rahman; a.k.a. AL-GOZHI, Fathur Rohman; a.k.a. AL-GOZI, Fathur Rahman; a.k.a. AL-GOZI, Fathur Rohman; a.k.a. ALGHOZI, Fathur Rahman; a.k.a. ALGHOZI, Fathur Rohman; a.k.a. ALI, Randy; a.k.a. ALIH, Randy; a.k.a. ALIH, Randy Adam; a.k.a. AZAD, Rony; a.k.a. BIN AHAD, Rony Azad; a.k.a. BIN AHMAD, Rony Azad; a.k.a. BIN AMAD, Rony Azad; a.k.a. EDRIS, Anwar Rodin; a.k.a. “Freedom Fighter;” a.k.a. JAMIL, Sammy Sali; a.k.a. JAMIL, Sammy Salih); DOB 17 Feb 1971; POB Madiun, East Java, Indonesia; Passport No. GG 672613 (Philippines); nationality Indonesian (individual) [SDGT]

RANTISI, Abdel Aziz, Gaza (Palestinian Authority); DOB 23 Oct 1947; POB Yubna, Gaza (Palestinian Authority) (individual) [SDGT]

RAOUF, Khalid Mohammed, Praca Pio X, 54-10o Andar, CEP 20091, Rio de Janeiro, Brazil (individual) [IRAQ]

RARRBO, Ahmed Hosni (a.k.a. “Abdallah o Abdullah”); DOB 12 Sep 1974; POB Bologhine, Algeria (individual) [SDGT]

RAS HILAL MARITIME CO., P.O. Box 1496, Benghazi, Libya [LIBYA]

RAS LANUF OIL AND GAS PROCESSING COMPANY, LTD. (a.k.a. RASCO), Benghazi Complex, P.O. Box 1971, Gamel Abdul Nasser Street, Benghazi, Libya [LIBYA]

RAS LANUF OIL AND GAS PROCESSING COMPANY, LTD. (a.k.a. RASCO), P.O. Box 75071, Tripoli, Libya [LIBYA]

RAS LANUF OIL AND GAS PROCESSING COMPANY, LTD. (a.k.a. RASCO), Ras Lanuf Complex and Terminal, Ghout El Shaal, Libya [LIBYA]

RASCO (a.k.a. RAS LANUF OIL AND GAS PROCESSING COMPANY, LTD.), Benghazi Complex, P.O. Box 1971, Gamel Abdul Nasser Street, Benghazi, Libya [LIBYA]

RASCO (a.k.a. RAS LANUF OIL AND GAS PROCESSING COMPANY, LTD.), P.O. Box 75071, Tripoli, Libya [LIBYA]

RASCO (a.k.a. RAS LANUF OIL AND GAS PROCESSING COMPANY, LTD.), Ras Lanuf Complex and Terminal, Ghout El Shaal, Libya [LIBYA]

RASEVIC, Mitar; DOB 1940; POB Cagust, Bosnia-Herzegovina; ICTY indictee (individual) [BALKANS]

RASHEED BANK (a.k.a. AL-RASHID BANK; a.k.a. AL-RASHEED BANK), P.O. Box 7177, Haifa Street, Baghdad, Iraq (including, but not limited to, branches located in: Al-Rusafi Branch, No. 505, Al-Masarif Street, Baghdad, Iraq; Credit Commercial Branch, No. 506, Khalid bin Alwaleed Street, Baghdad, Iraq; Basrah Branch, Al Thawrah Street, No. 88, P.O. Box 116, Basrah, Iraq; Mosul Branch, No. 3, P.O. Box 183, Mosul, Iraq) [IRAQ]

RASHID, Humam 'abd al-Khaliq (a.k.a. ABD-AL-GHAFUR, Humam abd-al-Khaliq; a.k.a. 'ABD AL-RAHMAN, Humam 'abd al-Khaliq; a.k.a. ABD AL-GHAFUR, Humam Abd al-Khaliq; a.k.a. GHAFUR, Humam Abdel Khaleq Abdel); DOB 1945; POB ar-Ramadi, Iraq; Minister of Higher Education and Research; Passport No. M0018061/104 (Iraq) issued 12 Sep 1993; nationality Iraqi (individual) [IRAQ][IRAQ2]

REA SWEET FACTORY, P.O. Box 1027, Khartoum, Sudan [SUDAN]

READY-MADE SUITS PLANT, Derna, Libya [LIBYA]

REAL ESTATE BANK, Hassan Bin Thabit St, Baghdad, Iraq [IRAQ]

REAL IRA (a.k.a. 32 COUNTY SOVEREIGNTY COMMITTEE; a.k.a. 32 COUNTY SOVEREIGNTY MOVEMENT; a.k.a. IRISH REPUBLICAN PRISONERS WELFARE ASSOCIATION; a.k.a. REAL IRISH REPUBLICAN ARMY; a.k.a. REAL OGLAIGH NA HEIREANN; a.k.a. RIRA) [FTO][SDGT]

REAL IRISH REPUBLICAN ARMY (a.k.a. 32 COUNTY SOVEREIGNTY COMMITTEE; a.k.a. 32 COUNTY SOVEREIGNTY MOVEMENT; a.k.a. IRISH REPUBLICAN PRISONERS WELFARE ASSOCIATION; a.k.a. REAL IRA; a.k.a. REAL OGLAIGH NA HEIREANN; a.k.a. RIRA) [FTO][SDGT]

REAL OGLAIGH NA HEIREANN (a.k.a. 32 COUNTY SOVEREIGNTY COMMITTEE; a.k.a. 32 COUNTY SOVEREIGNTY MOVEMENT; a.k.a. IRISH REPUBLICAN PRISONERS WELFARE ASSOCIATION; a.k.a. REAL IRA; a.k.a. REAL IRISH REPUBLICAN ARMY; a.k.a. RIRA) [FTO][SDGT]

RECICLAJE INDUSTRIAL, S.A., Panama [CUBA]

RECITEC LTDA., Calle 16 No. 12-49, Cali, Colombia; NIT # 800037780-9 (Colombia) [SDNT]

RECONSTRUCTION FOUNDATION (a.k.a. UMMAH TAMEER E-NAU (UTN); a.k.a. FOUNDATION FOR CONSTRUCTION; a.k.a. NATION BUILDING; a.k.a. RECONSTRUCTION OF THE ISLAMIC COMMUNITY; a.k.a. RECONSTRUCTION OF THE MUSLIM UMMAH; a.k.a. UMMAH TAMEER I-NAU; a.k.a. UMMAH TAMIR E-NAU; a.k.a. UMMAH TAMIR I-NAU; a.k.a. UMMAT TAMIR E-NAU; a.k.a. UMMAT TAMIR-I-PAU), Street 13, Wazir Akbar Khan, Kabul, Afghanistan; 60-C, Nazim Ud Din Road, Islamabad F 8/4, Pakistan [SDGT]

RECONSTRUCTION OF THE ISLAMIC COMMUNITY (a.k.a. UMMAH TAMEER E-NAU (UTN); a.k.a. FOUNDATION FOR CONSTRUCTION; a.k.a. NATION BUILDING; a.k.a. RECONSTRUCTION FOUNDATION; a.k.a. RECONSTRUCTION OF THE MUSLIM UMMAH; a.k.a. UMMAH TAMEER I-NAU; a.k.a. UMMAH TAMIR E-NAU; a.k.a. UMMAH TAMIR I-NAU; a.k.a. UMMAT TAMIR E-NAU; a.k.a. UMMAT TAMIR-I-PAU), Street 13, Wazir Akbar Khan, Kabul, Afghanistan; 60-C, Nazim Ud Din Road, Islamabad F 8/4, Pakistan [SDGT]

RECONSTRUCTION OF THE MUSLIM UMMAH (a.k.a. UMMAH TAMEER E-NAU (UTN); a.k.a. FOUNDATION FOR CONSTRUCTION; a.k.a. NATION BUILDING; a.k.a. RECONSTRUCTION FOUNDATION; a.k.a. RECONSTRUCTION OF THE ISLAMIC COMMUNITY; a.k.a. UMMAH TAMEER I-NAU; a.k.a. UMMAH TAMIR E-NAU; a.k.a. UMMAH TAMIR I-NAU; a.k.a. UMMAT TAMIR E-NAU; a.k.a. UMMAT TAMIR-I-PAU), Street 13, Wazir Akbar Khan, Kabul, Afghanistan; 60-C, Nazim Ud Din Road, Islamabad F 8/4, Pakistan [SDGT]

RECONSTRUYE LTDA. (a.k.a. REPARACIONES Y CONSTRUCCIONES LTDA.), Avenida 6N No. 23DN-16 of. 402, Cali, Colombia; NIT # 800053838-4 (Colombia) [SDNT]

RED EAGLE GANG (a.k.a. POPULAR FRONT FOR THE LIBERATION OF PALESTINE; a.k.a. HALHUL GANG; a.k.a. HALHUL SQUAD; a.k.a. MARTYR ABU-ALI MUSTAFA BATTALION; a.k.a. PALESTINIAN POPULAR RESISTANCE FORCES; a.k.a. PFLP; a.k.a. PPRF; a.k.a. RED EAGLE GROUP; a.k.a. RED EAGLES) [SDT][FTO][SDGT]

RED EAGLE GROUP (a.k.a. POPULAR FRONT FOR THE LIBERATION OF PALESTINE; a.k.a. HALHUL GANG; a.k.a. HALHUL SQUAD; a.k.a. MARTYR ABU-ALI MUSTAFA BATTALION; a.k.a. PALESTINIAN POPULAR RESISTANCE FORCES; a.k.a. PFLP; a.k.a. PPRF; a.k.a. RED EAGLE GANG; a.k.a. RED EAGLES) [SDT][FTO][SDGT]

RED EAGLES (a.k.a. POPULAR FRONT FOR THE LIBERATION OF PALESTINE; a.k.a. HALHUL GANG; a.k.a. HALHUL SQUAD; a.k.a. MARTYR ABU-ALI MUSTAFA BATTALION; a.k.a. PALESTINIAN POPULAR RESISTANCE FORCES; a.k.a. PFLP; a.k.a. PPRF; a.k.a. RED EAGLE GANG; a.k.a. RED EAGLE GROUP) [SDT][FTO][SDGT]

RED HAND DEFENDERS (RHD); United Kingdom [SDGT]

RED SEA BARAKAT COMPANY LIMITED, Mogadishu, Somalia; Dubai, U.A.E. [SDGT]

RED SEA HILLS MINERALS COMPANY, c/o SUDANESE MINING CORPORATION, P.O. Box 1034, Khartoum, Sudan [SUDAN]

RED SEA STEVEDORING, P.O. Box 215, Khartoum, Sudan; P.O. Box 17, Port Sudan, Sudan [SUDAN]

RED STAR BATTALIONS (a.k.a. DEMOCRATIC FRONT FOR THE LIBERATION OF PALESTINE; a.k.a. DFLP; a.k.a. RED STAR FORCES; a.k.a. DEMOCRATIC FRONT FOR THE LIBERATION OF PALESTINE—HAWATMEH FACTION) [SDT]

RED STAR FORCES (a.k.a. DEMOCRATIC FRONT FOR THE LIBERATION OF PALESTINE; a.k.a. DFLP; a.k.a. DEMOCRATIC FRONT FOR THE LIBERATION OF PALESTINE—HAWATMEH FACTION; a.k.a. RED STAR BATTALIONS) [SDT]

REDESTOS SHIPPING CO. LTD., c/o EMPRESA DE NAVEGACION MAMBISA, Apartado 543, San Ignacio 104, Havana, Cuba [CUBA]

REFRIGERATION AND ENGINEERING IMPORT COMPANY, P.O. Box 1092, Khartoum, Sudan [SUDAN]

REINA MOLINA, Miguel Sigifredo, c/o DISTRIBUIDORA DEL VALLE E.U., Bogota, Colombia; Passport 8401802 (Colombia); Cedula No. 8401802 (Colombia) (individual) [SDNT]

RELIEF AND DEVELOPMENT FUND FOR PALESTINE (a.k.a. AL-SANDUQ AL-FILISTINI LIL-IGHATHA; a.k.a. AL-SANDUQ AL-FILISTINI LIL-IGHATHA WA AL-TANMIYA; a.k.a. INTERPAL; a.k.a. PALESTINE AND LEBANON RELIEF FUND; a.k.a. PALESTINE DEVELOPMENT AND RELIEF FUND; a.k.a. PALESTINE RELIEF AND DEVELOPMENT FUND; a.k.a. PALESTINE RELIEF FUND; a.k.a. PALESTINIAN AID AND SUPPORT FUND; a.k.a. PALESTINIAN RELIEF AND DEVELOPMENT FUND; a.k.a. PALESTINIAN RELIEF FUND; a.k.a. PRDF; a.k.a. WELFARE AND DEVELOPMENT FUND FOR PALESTINE; a.k.a. WELFARE AND DEVELOPMENT FUND OF PALESTINE), P.O. Box 3333, London, NW6 1RW, England; Registered Charity No: 1040094 [SDGT]

RELIEF ASSOCIATION FOR PALESTINE (a.k.a. ASP; a.k.a. ASSOCIATION DE SECOURS PALESTINIENS; a.k.a. ASSOCIATION FOR PALESTINIAN AID; a.k.a. ASSOCIATION SECOUR PALESTINIEN; a.k.a. HUMANITARE HILFSORGANISATION FUR PALASTINA; a.k.a. LAJNA AL-IGHATHA AL-FILISTINI; a.k.a. PALESTINE RELIEF COMMITTEE; a.k.a. PALESTINIAN AID COUNCIL; a.k.a. PALESTINIAN AID ORGANIZATION; a.k.a. PALESTINIAN RELIEF SOCIETY), c/o Faical Yaakoubi, 7 rue de l'Ancien Port, CH-1201 Geneva, Switzerland; Gartnerstrasse 55, CH-4019 Basel, Switzerland; Postfach 406, CH-4019 Basel, Switzerland [SDGT]

RELIEF COMMITTEE FOR SOLIDARITY WITH PALESTINE (a.k.a. AL AQSA ASSISTANCE CHARITABLE COUNCIL; a.k.a. AL-LAJNA AL-KHAYRIYYA LIL MUNASARA AL-AQSA; a.k.a. BENEVOLENCE COMMITTEE FOR SOLDARITY WITH PALESTINE; a.k.a. BENEVOLENT COMMITTEE FOR SUPPORT OF PALESTINE; a.k.a. CBSP; a.k.a. CHARITABLE COMMITTEE FOR PALESTINE; a.k.a. CHARITABLE COMMITTEE FOR SOLIDARITY WITH PALESTINE; a.k.a. CHARITABLE COMMITTEE FOR SUPPORTING PALESTINE; a.k.a. CHARITABLE ORGANIZATION IN SUPPORT OF PALESTINE; n.k.a. COMITE' DE BIENFAISANCE ET DE SECOURS AUX PALESTINIENS; f.k.a. COMITE' DE BIENFAISANCE POUR LA SOLIDARITE' AVEC LA PALESTINE; a.k.a. COMMITTEE FOR AID AND SOLIDARITY WITH PALESTINE; a.k.a. COMMITTEE FOR ASSISTANCE AND SOLIDARITY WITH PALESTINE; a.k.a. COMMITTEE FOR CHARITY AND SOLIDARITY WITH PALESTINE; a.k.a. COMPANIE BENIFICENT DE SOLIDARITE AVEC PALESTINE; a.k.a. COUNCIL OF CHARITY AND SOLIDARITY; a.k.a. DE BIENFAISANCE ET DE COMMITE LE SOLIDARITE AVEC LA PALESTINE), 68 Rue Jules Guesde, 59000 Lille, France; 10 Rue Notre Dame, 69006 Lyon, France; 37 Rue de la Chapelle, 75018 Paris, France [SDGT]

REMADNA, Abdelhalim; DOB 2 Apr 1966; POB Bistra, Algeria (individual) [SDGT]

RENDON, Maria Fernanda c/o DISMERCOOP, Cali, Colombia; Cedula No. 38864017 (Colombia) (individual) [SDNT]

RENT-A-CAR, S.A., Panama [CUBA]

RENTAR INMOBILIARIA S.A., Calle 10 No. 4-47 piso 18, Cali, Colombia; NIT # 805012015-2 (Colombia) [SDNT]

REPARACIONES Y CONSTRUCCIONES LTDA. (a.k.a. RECONSTRUYE LTDA.), Avenida 6N No. 23DN-16 of. 402, Cali, Colombia; NIT # 800053838-4 (Colombia) [SDNT]

REPRESENTACIONES Y DISTRIBUCIONES HUERTAS Y ASOCIADOS LTDA. (a.k.a. REPRESENTACIONES Y DISTRIBUCIONES HUERTAS Y ASOCIADOS S.A.; a.k.a. TELEFARMA), Calle 124 No. 6-60, Bogota, Colombia; Avenida 42 No. 20-47, Bogota, Colombia; NIT # 860527387-8 (Colombia) [SDNT]

REPRESENTACIONES Y DISTRIBUCIONES HUERTAS Y ASOCIADOS S.A. (a.k.a. REPRESENTACIONES Y DISTRIBUCIONES HUERTAS Y ASOCIADOS LTDA.; a.k.a. TELEFARMA), Calle 124 No. 6-60, Bogota, Colombia; Avenida 42 No. 20-47, Bogota, Colombia; NIT # 860527387-8 (Colombia) [SDNT]

REPRESSION OF TRAITORS (a.k.a. AMERICAN FRIENDS OF THE UNITED YESHIVA MOVEMENT; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH LEGION; a.k.a. JUDEA POLICE; a.k.a. JUDEAN CONGRESS; a.k.a. KACH; a.k.a. KAHANE CHAI; a.k.a. KAHANE LIVES; a.k.a. KAHANE TZADAK; a.k.a. KAHANE.NET; a.k.a. KAHANE.ORG; a.k.a. KAHANE; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [SDT][FTO][SDGT]

RESTREPO CANO, Maria Del Pilar, c/o CHAMARTIN S.A., Cali, Colombia; c/o COPSERVIR LTDA., Bogota, Colombia; c/o DISTRIBUIDORA SANAR DE COLOMBIA S.A., Cali, Colombia; DOB 26 Jun 1965; Passport 31948671 (Colombia); Cedula No. 31948671 (Colombia) (individual) [SDNT]

RESTREPO HERNANDEZ, Ruben Dario, c/o DISMERCOOP, Cali, Colombia; c/o LATINFARMACOS S.A., Quito, Ecuador; c/o RIONAP COMERCIO Y REPRESENTACIONES S.A., Quito, Ecuador; DOB 28 Sep 1958; Passport 10094108 (Colombia); Cedula No. 10094108 (Colombia) (individual) [SDNT]

RESTREPO VILLEGAS, Camilo, Calle 116 No. 12-49, Bogota, Colombia; c/o FLEXOEMPAQUES LTDA., Cali, Colombia; c/o PLASTICOS CONDOR LTDA., Cali, Colombia; Cedula No. 6051150 (Colombia) (individual) [SDNT]

REVISTA DEL AMERICA LTDA., Calle 23AN No. 5AN-19, Cali, Colombia [SDNT]

REVIVAL OF ISLAMIC HERITAGE SOCIETY (RIHS) (a.k.a. JAMIA IHYA UL TURATH; a.k.a. JAMIAT IHIA AL-TURATH AL-ISLAMIYA; a.k.a. REVIVAL OF ISLAMIC SOCIETY HERITAGE ON THE AFRICAN CONTINENT) Pakistan office; Afghanistan office; (office in Kuwait is NOT designated) [SDGT]

REVIVAL OF ISLAMIC SOCIETY HERITAGE ON THE AFRICAN CONTINENT (a.k.a. JAMIA IHYA UL TURATH; a.k.a. JAMIAT IHIA AL-TURATH AL-ISLAMIYA; a.k.a. REVIVAL OF ISLAMIC HERITAGE SOCIETY (RIHS)) Pakistan office; Afghanistan office; (office in Kuwait is NOT designated) [SDGT]

REVIVO, Simon (a.k.a. MAMO, Eliyahu; a.k.a. TUITO, Daniel; a.k.a. TUITO, David; a.k.a. TUITO, Oded; a.k.a. TVITO, Daniel; a.k.a. TVITO, Oded); DOB 27 Dec 1959; alt. DOB 29 Nov 1959; alt. DOB 27 Feb 1959; alt. DOB 12 Dec 1959; alt. DOB 25 Jul 1961; POB Israel (individual) [SDNTK]

REVOLUTIONARY ARMED FORCES OF COLOMBIA (a.k.a. FARC; a.k.a. FUERZAS ARMADAS REVOLUCIONARIAS DE COLOMBIA) [FTO][SDGT][SDNTK]

REVOLUTIONARY CELLS (a.k.a. ELA; a.k.a. EPANASTATIKI PIRINES; a.k.a. EPANASTATIKOS LAIKOS AGONAS; a.k.a. JUNE 78; a.k.a. LIBERATION STRUGGLE; a.k.a. ORGANIZATION OF REVOLUTIONARY INTERNATIONALIST SOLIDARITY; a.k.a. POPULAR REVOLUTIONARY STRUGGLE; a.k.a. REVOLUTIONARY NUCLEI; a.k.a. REVOLUTIONARY PEOPLE'S STRUGGLE; a.k.a. REVOLUTIONARY POPULAR STRUGGLE) [FTO][SDGT]

REVOLUTIONARY JUSTICE ORGANIZATION (a.k.a. PARTY OF GOD; a.k.a. ISLAMIC JIHAD; a.k.a. ISLAMIC JIHAD ORGANIZATION; a.k.a. ISLAMIC JIHAD FOR THE LIBERATION OF PALESTINE; a.k.a. ORGANIZATION OF THE OPPRESSED ON EARTH; a.k.a. HIZBALLAH; a.k.a. ORGANIZATION OF RIGHT AGAINST WRONG; a.k.a. ANSAR ALLAH; a.k.a. FOLLOWERS OF THE PROPHET MUHAMMED) [SDT][FTO][SDGT]

REVOLUTIONARY LEFT (a.k.a. DEVRIMCI HALK KURTULUS PARTISI-CEPHESI; a.k.a. DHKP/C; a.k.a. DEVRIMCI SOL; a.k.a. REVOLUTIONARY PEOPLE'S LIBERATION PARTY/FRONT; a.k.a. DEV SOL; a.k.a. DEV SOL SILAHLI DEVRIMCI BIRLIKLERI; a.k.a. DEV SOL SDB; a.k.a. DEV SOL ARMED REVOLUTIONARY UNITS) [FTO][SDGT]

REVOLUTIONARY NUCLEI (a.k.a. ELA; a.k.a. EPANASTATIKI PIRINES; a.k.a. EPANASTATIKOS LAIKOS AGONAS; a.k.a. JUNE 78; a.k.a. LIBERATION STRUGGLE; a.k.a. ORGANIZATION OF REVOLUTIONARY INTERNATIONALIST SOLIDARITY; a.k.a. POPULAR REVOLUTIONARY STRUGGLE; a.k.a. REVOLUTIONARY CELLS; a.k.a. REVOLUTIONARY PEOPLE'S STRUGGLE; a.k.a. REVOLUTIONARY POPULAR STRUGGLE) [FTO][SDGT]

REVOLUTIONARY ORGANIZATION 17 NOVEMBER (a.k.a. 17 NOVEMBER; a.k.a. EPANASTATIKI ORGANOSI 17 NOEMVRI) [FTO][SDGT]

REVOLUTIONARY ORGANIZATION OF SOCIALIST MUSLIMS (a.k.a. ANO; a.k.a. BLACK SEPTEMBER; a.k.a. FATAH REVOLUTIONARY COUNCIL; a.k.a. ARAB REVOLUTIONARY COUNCIL; a.k.a. ABU NIDAL ORGANIZATION; a.k.a. ARAB REVOLUTIONARY BRIGADES) [SDT][FTO][SDGT]

REVOLUTIONARY PEOPLE'S LIBERATION PARTY/FRONT (a.k.a. DEVRIMCI HALK KURTULUS PARTISI-CEPHESI; a.k.a. DHKP/C; a.k.a. DEVRIMCI SOL; a.k.a. REVOLUTIONARY LEFT; a.k.a. DEV SOL; a.k.a. DEV SOL SILAHLI DEVRIMCI BIRLIKLERI; a.k.a. DEV SOL SDB; a.k.a. DEV SOL ARMED REVOLUTIONARY UNITS) [FTO][SDGT]

REVOLUTIONARY PEOPLE'S STRUGGLE (a.k.a. ELA; a.k.a. EPANASTATIKI PIRINES; a.k.a. EPANASTATIKOS LAIKOS AGONAS; a.k.a. JUNE 78; a.k.a. LIBERATION STRUGGLE; a.k.a. ORGANIZATION OF REVOLUTIONARY INTERNATIONALIST SOLIDARITY; a.k.a. POPULAR REVOLUTIONARY STRUGGLE; a.k.a. REVOLUTIONARY CELLS; a.k.a. REVOLUTIONARY NUCLEI; a.k.a. REVOLUTIONARY POPULAR STRUGGLE) [FTO][SDGT]

REVOLUTIONARY POPULAR STRUGGLE (a.k.a. ELA; a.k.a. EPANASTATIKI PIRINES; a.k.a. EPANASTATIKOS LAIKOS AGONAS; a.k.a. JUNE 78; a.k.a. LIBERATION STRUGGLE; a.k.a. ORGANIZATION OF REVOLUTIONARY INTERNATIONALIST SOLIDARITY; a.k.a. POPULAR REVOLUTIONARY STRUGGLE; a.k.a. REVOLUTIONARY CELLS; a.k.a. REVOLUTIONARY NUCLEI; a.k.a. REVOLUTIONARY PEOPLE'S STRUGGLE) [FTO][SDGT]

REXHEPI, Daut; DOB 1962; POB Poroj, Macedonia (individual) [BALKANS]

REYES, Guillermo (VERGARA), Panama City, Panama (individual) [CUBA]

REYES MURCIA, Edgar, c/o CONSTRUVIDA S.A., Cali, Colombia; Cedula No. 17181081 (Colombia) (individual) [SDNT]

REYNOLDS AND WILSON, LTD., 21 Victoria Road, Surbiton, Surrey KT6 4LK, England [IRAQ]

RICKS, Roy, 87 St. Mary's Frice, Benfleet, Essex, England (individual) [IRAQ]

RICUARTE FLOREZ, Gilma Leonor, c/o LABORATORIOS GENERICOS VETERINARIOS, Bogota, Colombia; Cedula No. 51640309 (Colombia) (individual) [SDNT]

RIDA, Karim Hassan (a.k.a. AL-RIDA Karim Hasan), Minister of Agriculture; DOB 1944; Iraq (individual) [IRAQ]

RIECKE, Dr. Hans Guenter, Hamburg, Germany (individual) [LIBYA]

RIHANI, Lotfi (a.k.a. “Abderrahmane”), “last known address,” Via Bolgeri 4, Barni (Como), Italy; DOB 1 Jul 1977; POB Tunisi, Tunisia; nationality Tunisian (individual) [SDGT]

RIONAP COMERCIO Y REPRESENTACIONES S.A., Quito, Ecuador [SDNT]

RIOS LOZANO, Alexander, Carrera 42 No. 5B-81, Cali, Colombia; Carrera 8N No. 17A-12, Cartago, Colombia; c/o AGROPECUARIA MIRALINDO S.A., Cartago, Colombia; c/o ARIZONA S.A., Cartago, Colombia; c/o MAQUINARIA TECNICA Y TIERRAS LTDA., Cali, Colombia; DOB 15 Jan 1974; Passport 94402123 (Colombia); Cedula No. 94402123 (Colombia) (individual) [SDNT]

RIRA (a.k.a. 32 COUNTY SOVEREIGNTY COMMITTEE; a.k.a. 32 COUNTY SOVEREIGNTY MOVEMENT; a.k.a. IRISH REPUBLICAN PRISONERS WELFARE ASSOCIATION; a.k.a. REAL IRA; a.k.a. REAL IRISH REPUBLICAN ARMY; a.k.a. REAL OGLAIGH NA HEIREANN) [FTO][SDGT]

RIVERA LEDESMA, Ruben Manuel, c/o ADMINISTRADORA DE SERVICIOS VARIOS CALIMA S.A., Cali Colombia; c/o ASISTENCIA PROFESIONAL ESPECIALIZADA EN COLOMBIA LIMITADA, Cali, Colombia; c/o CHAMARTIN S.A., Cali, Colombia; Passport 14886120 (Colombia); Cedula No. 14886120 (Colombia) (individual) [SDNT]

RIVERA ZAPATA, Freddy, c/o COMPANIA DE FOMENTO MERCANTIL S.A., Cali, Colombia; c/o CREDISA S.A., Cali, Colombia; c/o FINVE S.A., Bogota, Colombia; c/o UNIPAPEL S.A., Yumbo, Colombia; POB Cali, Valle, Colombia; Passport 16602963 (Colombia); Cedula No. 16602963 (Colombia) (individual) [SDNT]

RIVEROS TRIANA, Raul, c/o BONOMERCAD S.A., Bogota, Colombia; c/o COMEDICAMENTOS S.A., Bogota, Colombia; c/o DECAFARMA S.A., Bogota, Colombia; c/o FARMACOOP, Bogota, Colombia; c/o FOGENSA S.A., Bogota, Colombia; c/o GENERICOS ESPECIALES S.A., Bogota, Colombia; c/o INVERSIONES BOMBAY S.A., Bogota, Colombia; c/o PATENTES MARCAS Y REGISTROS S.A., Bogota, Colombia; c/o SHARPER S.A., Bogota, Colombia; c/o SHARVET S.A., Bogota, Colombia; DOB 13 May 1951; Passport 3252672 (Colombia); Cedula No. 3252672 (Colombia) (individual) [SDNT]

RIYADH-AS-SALIHEEN (a.k.a. RIYADUS-SALIKHIN RECONNAISSANCE AND SABOTAGE BATTALION OF SHAHIDS (MARTYRS); a.k.a. RIYADUS-SALIKHIN RECONNAISSANCE AND SABOTAGE BATTALION; a.k.a. THE RIYADUS-SALIKHIN RECONNAISSANCE AND SABOTAGE BATTALION OF CHECHEN MARTYRS; a.k.a. THE SABOTAGE AND MILITARY SURVEILLANCE GROUP OF THE RIYADH AL-SALIHIN MARTYRS) [SDGT]

RIYADUS-SALIKHIN RECONNAISSANCE AND SABOTAGE BATTALION (a.k.a. RIYADH-AS-SALIHEEN; a.k.a. RIYADUS-SALIKHIN RECONNAISSANCE AND SABOTAGE BATTALION OF SHAHIDS (MARTYRS); a.k.a. THE RIYADUS-SALIKHIN RECONNAISSANCE AND SABOTAGE BATTALION OF CHECHEN MARTYRS; a.k.a. THE SABOTAGE AND MILITARY SURVEILLANCE GROUP OF THE RIYADH AL-SALIHIN MARTYRS) [SDGT]

RIYADUS-SALIKHIN RECONNAISSANCE AND SABOTAGE BATTALION OF SHAHIDS (MARTYRS) (a.k.a. RIYADH-AS-SALIHEEN; a.k.a. RIYADUS-SALIKHIN RECONNAISSANCE AND SABOTAGE BATTALION; a.k.a. THE RIYADUS-SALIKHIN RECONNAISSANCE AND SABOTAGE BATTALION OF CHECHEN MARTYRS; a.k.a. THE SABOTAGE AND MILITARY SURVEILLANCE GROUP OF THE RIYADH AL-SALIHIN MARTYRS) [SDGT]

RIZO MORENO, Jorge Luis, Transversal 11, Diagonal 23-30, apt. 304A, Cali, Colombia; c/o CONSTRUCTORA DIMISA LTDA., Cali, Colombia; c/o CONSTRUVIDA S.A., Cali, Colombia; c/o IMPORTADORA Y COMERCIALIZADORA LTDA., Cali, Colombia; c/o INDUSTRIA AVICOLA PALMASECA S.A., Cali, Colombia; c/o INTERVENTORIA, CONSULTORIA Y ESTUDIOS LIMITADA INGENIEROS ARQUITECTOS, Cali, Colombia; c/o INVERSIONES EL PENON S.A., Cali, Colombia; c/o PROCESADORA DE POLLOS SUPERIOR S.A., Palmira, Colombia; c/o SERVIAUTOS UNO A 1A LIMITADA, Cali, Colombia; c/o SERVICIOS INMOBILIARIOS LTDA., Cali, Colombia; Cedula No. 16646582 (Colombia) (individual) [SDNT]

ROA GUTIERREZ, Andres Felipe, c/o COLIMEX LTDA., Cali, Colombia; c/o DISTRIBUIDORA SANAR DE COLOMBIA S.A., Cali, Colombia; c/o MEDIA MARKETING E.U., Cali, Colombia; c/o SERVICIOS MYRAL E.U., Cali, Colombia; c/o SISTEMAS INTEGRALES DEL VALLE, LTDA., Cali, Columbia; DOB 14 Mar 1968; Passport 16752582 (Colombia); Cedula No. 16752582 (Colombia) (individual) [SDNT]

ROA MEJIA, Alfredo, c/o SISTEMAS INTEGRALES DEL VALLE LTDA., Cali, Colombia; Passport 2439912 (Colombia); Cedula No. 2439912 (Colombia) (individual) [SDNT]

ROADS AND BRIDGES PUBLIC CORPORATION, P.O. Box 756, Khartoum, Sudan [SUDAN]

ROCHA, Antonio, Panama City, Panama (individual) [CUBA]

RODAS, Luis Alberto, c/o COMERCIALIZACION Y FINANCIACION DE AUTOMOTORES S.A., Cali, Colombia; c/o CONSTRUCCIONES ASTRO S.A., Cali, Colombia; Cedula No. 16630332 (Colombia) (individual) [SDNT]

RODRIGUEZ ABADIA, William, c/o ANDINA DE CONSTRUCCIONES S.A., Cali, Colombia; c/o ASISTENCIA PROFESIONAL ESPECIALIZADA EN COLOMBIA LIMITADA, Cali, Colombia; c/o ASPOIR DEL PACIFICO Y CIA. LTDA., Cali, Colombia; c/o BLANCO PHARMA S.A., Bogota, Colombia; c/o BONOMERCAD S.A., Bogota, Colombia; c/o CLAUDIA PILAR RODRIGUEZ Y CIA. S.C.S., Bogota, Colombia; c/o CREDIREBAJA S.A., Cali, Colombia; c/o DECAFARMA S.A., Bogota, Colombia; c/o DEPOSITO POPULAR DE DROGAS S.A., Cali, Colombia; c/o DERECHO INTEGRAL Y CIA. LTDA., Cali, Colombia; c/o DISTRIBUIDORA DE DROGAS CONDOR LTDA., Bogota, Colombia; c/o DISTRIBUIDORA DE DROGAS LA REBAJA S.A., Bogota, Colombia; c/o DISTRIBUIDORA MIGIL LTDA., Cali, Colombia; c/o DROCARD S.A., Bogota, Colombia; c/o INTERAMERICANA DE CONSTRUCCIONES S.A., Cali, Colombia; c/o INVERSIONES ARA LTDA., Cali, Colombia; c/o INVERSIONES MIGUEL RODRIGUEZ E HIJO, Cali, Colombia; c/o LABORATORIOS BLAIMAR DE COLOMBIA S.A., Bogota, Colombia; c/o LABORATORIOS KRESSFOR DE COLOMBIA S.A., Bogota, Colombia; c/o M. RODRIGUEZ O. Y CIA. S. EN C., Cali, Colombia; c/o MUNOZ Y RODRIGUEZ Y CIA. LTDA., Cali, Colombia; c/o PRODUCCIONES CARNAVAL DEL NORTE Y COMPANIA LIMITADA, Cali, Colombia; c/o RADIO UNIDAS FM S.A., Cali, Colombia; c/o REVISTA DEL AMERICA LTDA., Cali, Colombia; c/o RIONAP COMERCIO Y REPRESENTACIONES S.A., Quito, Ecuador; c/o SEGUWRA DEL VALLE E.U., Cali, Colombia; c/o VALORES MOBILIARIOS DE OCCIDENTE S.A., Bogota, Colombia; DOB 31 Jul 1965; Cedula No. 16716259 (Colombia) (individual) [SDNT]

RODRIGUEZ ARBELAEZ, Carolina, c/o ASISTENCIA PROFESIONAL ESPECIALIZADA EN COLOMBIA LIMITADA, Cali, Colombia; c/o BONOMERCAD S.A., Bogota, Colombia; c/o CRASESORIAS E.U., Cali, Colombia; c/o CREDIREBAJA S.A., Cali, Colombia; c/o DECAFARMA S.A., Bogota, Colombia; c/o DROCARD S.A., Bogota, Colombia; c/o FUNDASER, Cali, Colombia; c/o INVERSIONES ARA LTDA., Cali, Colombia; c/o INVERSIONES CARFENI S.L., Madrid, Spain; c/o PRODUCCIONES CARNAVAL DEL NORTE Y COMPANIA LIMITADA, Cali, Colombia; DOB 17 May 1979; Cedula No. 29117505 (Colombia) (individual) [SDNT]

RODRIGUEZ ARBELAEZ, Juan Miguel, Avenida del Lago Calle Cocli Casa 19 Ciudad Jardin, Cali, Colombia; c/o ASISTENCIA PROFESIONAL ESPECIALIZADA EN COLOMBIA LIMITADA, Cali, Colombia; c/o BONOMERCAD S.A., Bogota, Colombia; c/o CREDIREBAJA S.A., Cali, Colombia; c/o DECAFARMA S.A., Bogota, Colombia; c/o DROCARD S.A., Bogota, Colombia; c/o FUNDASER, Cali, Colombia; c/o INCOMMERCE S.A., Cali, Colombia; c/o INVERSIONES ARA LTDA., Cali, Colombia; c/o INVERSIONES RODRIGUEZ ARBELAEZ Y CIA. S.C.S., Cali, Colombia; c/o M. RODRIGUEZ O. Y CIA. S.C.S., Cali, Colombia; c/o VALORES MOBILIARIOS DE OCCIDENTE S.A., Cali, Colombia; DOB 19 Nov 1976; Cedula No. 94491335 (Colombia) (individual) [SDNT]

RODRIGUEZ ARBELAEZ, Maria Fernanda, c/o ASISTENCIA PROFESIONAL ESPECIALIZADA EN COLOMBIA LIMITADA, Cali, Colombia; c/o BONOMERCAD S.A., Bogota, Colombia; c/o CREDIREBAJA S.A., Cali, Colombia; c/o CUSTOMER NETWORKS S.L., Madrid, Spain; c/o D'CACHE S.A., Cali,Colombia; c/o DECAFARMA S.A., Bogota, Colombia; c/o DEPOSITO POPULAR DE DROGAS S.A., Cali, Colombia; c/o DISTRIBUIDORA DE DROGAS LA REBAJA S.A., Bogota, Colombia; c/o DROCARD S.A., Bogota, Colombia; c/o DROGAS LA REBAJA BOGOTA S.A., Bogota, Colombia; c/o FUNDASER, Cali, Colombia; c/o INTERAMERICANA DE CONSTRUCCIONES S.A., Cali, Colombia; c/o INVERSIONES ESPANOLES FEMCAR S.L., Madrid, Spain; c/o INVERSIONES ARA LTDA., Cali, Colombia; c/o PRODUCCIONES CARNAVAL DEL NORTE Y COMPANIA LIMITADA, Cali, Colombia; c/o RIONAP COMERCIO Y REPRESENTACIONES S.A., Quito, Ecuador; c/o VALORES MOBILIARIOS DE OCCIDENTE S.A., Cali, Colombia; DOB 28 November 1973; alt. DOB 28 August 1973; Passports AC568974 (Colombia), 66860965 (Colombia); N.I.E. X2566947-D (Spain); Cedula No. 66860965 (Colombia) (individual) [SDNT]

RODRIGUEZ BALANTA, Jorge Enrique, c/o DISTRIBUCIONES GLOMIL LTDA., Cali, Colombia; c/o DISTRIBUIDORA MIGIL CALI S.A., Cali, Colombia; DOB 24 Jun 1956; Passport 16602232 (Colombia); Cedula No. 16602232 (Colombia) (individual) [SDNT]

RODRIGUEZ CARRENO LTDA. TODO BOLSAS Y COLSOBRES (n.k.a. TODOBOLSAS Y COLSOBRES), Carrera 20 No. 66-34, Bogota, Colombia; NIT # 860053774-1 (Colombia) [SDNT]

RODRIGUEZ DE MUNOZ, Haydee (a.k.a. RODRIGUEZ DE ROJAS, Haydee; a.k.a. RODRIGUEZ OREJUELA, Haydee), c/o BLANCO PHARMA S.A., Bogota, Colombia; c/o CORPORACION DEPORTIVA AMERICA, Cali, Colombia; c/o CREACIONES DEPORTIVAS WILLINGTON LTDA., Cali, Colombia; c/o DISTRIBUIDORA DE DROGAS CONDOR LTDA., Bogota, Colombia; c/o DISTRIBUIDORA MIGIL LTDA., Cali, Colombia; c/o HAYDEE DE MUNOZ Y CIA. S. EN C., Cali, Colombia; c/o RADIO UNIDAS FM S.A., Cali, Colombia; c/o SORAYA Y HAYDEE LTDA., Cali, Colombia; DOB 22 Sep 1940; Cedula No. 38953333 (Colombia) (individual) [SDNT]

RODRIGUEZ DE ROJAS, Haydee (a.k.a. RODRIGUEZ DE MUNOZ, Haydee; a.k.a. RODRIGUEZ OREJUELA, Haydee), c/o BLANCO PHARMA S.A., Bogota, Colombia; c/o CORPORACION DEPORTIVA AMERICA, Cali, Colombia; c/o CREACIONES DEPORTIVAS WILLINGTON LTDA., Cali, Colombia; c/o DISTRIBUIDORA DE DROGAS CONDOR LTDA., Bogota, Colombia; c/o DISTRIBUIDORA MIGIL LTDA., Cali, Colombia; c/o HAYDEE DE MUNOZ Y CIA. S. EN C., Cali, Colombia; c/o RADIO UNIDAS FM S.A., Cali, Colombia; c/o SORAYA Y HAYDEE LTDA., Cali, Colombia; DOB 22 Sep 1940; Cedula No. 38953333 (Colombia) (individual) [SDNT]

RODRIGUEZ HERRERA, Jorge Alberto, c/o FUNDASER, Cali, Colombia; DOB 8 Dec 1962; Passport 79290554 (Colombia); Cedula No. 79290554 (Colombia) (individual) [SDNT]

RODRIGUEZ, Jorge Enrique, c/o DISMERCOOP, Cali, Colombia; Cedula No. 16202232 (Colombia) (individual) [SDNT]

RODRIGUEZ LINARES, Oswaldo, c/o DROFARCO, Barranquilla, Colombia; DOB 13 Nov 1969; Passport 76310365 (Colombia); Cedula No. 76310365 (Colombia) (individual) [SDNT]

RODRIGUEZ LOPEZ, Sergio (a.k.a. AMEZCUA CONTRERAS, Luis Ignacio; a.k.a. AMEZCUA, Luis; a.k.a. CONTRERAS, Luis C.; a.k.a. LOPEZ, Luis; a.k.a. LOZANO, Eduardo; a.k.a. OCHOA, Salvador), DOB 22 Feb 1964; alt. DOB 21 Feb 1964; alt. DOB 21 Feb 1974; POB Mexico (individual) [SDNTK]

RODRIGUEZ, Manuel, c/o ALFA PHARMA S.A., Cali, Colombia; c/o LABORATORIOS KRESSFOR, Bogota, Colombia; Cedula No. 17171485 (Colombia) (individual) [SDNT]

RODRIGUEZ MONDRAGON, Alexandra (a.k.a. RODRIGUEZ MONDRAGON, Maria Alexandra), c/o BLANCO PHARMA S.A., Bogota, Colombia; c/o CORPORACION DEPORTIVA AMERICA, Cali, Colombia; c/o CREDIREBAJA S.A., Cali, Colombia; c/o CUSTOMER NETWORKS S.L., Madrid, Spain; c/o D'CACHE S.A., Cali, Colombia; c/o DEPOSITO POPULAR DE DROGAS S.A., Cali, Colombia; c/o DISTRIBUIDORA DE DROGAS CONDOR LTDA., Bogota, Colombia; c/o DISTRIBUIDORA DE DROGAS LA REBAJA S.A., Bogota, Colombia; c/o DISTRIBUIDORA MIGIL LTDA., Cali, Colombia; c/o DROCARD S.A., Bogota, Colombia; c/o FUNDASER, Cali, Colombia; c/o GRACADAL S.A., Cali, Colombia; c/o INTERAMERICANA DE CONSTRUCCIONES S.A., Cali, Colombia; c/o INVERSIONES MONDRAGON Y CIA. S.C.S., Cali, Colombia; c/o INVERSIONES INMOBILIARIAS VALERIA S.L., Madrid, Spain; c/o INVERSIONES Y CONSTUCCIONES COSMOVALLE LTDA., Cali, Colombia; c/o LABORATORIOS BLAIMAR DE COLOMBIA S.A., Bogota, Colombia; c/o MARIELA DE RODRIGUEZ Y CIA. S. EN C., Cali, Colombia; c/o MARIELA MONDRAGON DE R. Y CIA. S. EN C., Cali, Colombia; c/o PENTA PHARMA DE COLOMBIA S.A., Bogota, Colombia; c/o SISTEMAS Y SERVICIOS TECNICOS EMPRESA UNIPERSONAL, Cali, Colombia; c/o TOBOGON, Cali, Colombia; DOB 30 May 1969; alt. DOB 05 May 1969; Passports AD359106 (Colombia), 66810048 (Colombia); N.I.E. X2561613-B (Spain); Cedula No. 66810048 (Colombia) (individual) [SDNT]

RODRIGUEZ MONDRAGON, Humberto, c/o ADMINISTRADORA DE SERVICIOS VARIOS CALIMA S.A., Cali, Colombia; c/o ANDINA DE CONSTRUCCIONES S.A., Cali, Colombia; c/o ASESORIAS PROFESIONALES ESPECIALIZADAS EN NEGOCIOS E.U., Cali, Colombia; c/o BLANCO PHARMA S.A., Bogota, Colombia; c/o BONOMERCAD S.A., Bogota, Colombia; c/o CLAUDIA PILAR RODRIGUEZ Y CIA. S.C.S., Bogota, Colombia; c/o CODISA, Bogota, Colombia; c/o COMERCIALIZADORA INTERTEL S.A., Cali, Colombia; c/o COPSERVIR LTDA., Bogota, Colombia; c/o COSMEPOP, Bogota, Colombia; c/o CREDIREBAJA S.A., Cali, Colombia; c/o D'CACHE S.A., Cali, Colombia; c/o DECAFARMA S.A., Bogota, Colombia; c/o DEPOSITO POPULAR DE DROGAS S.A., Cali, Colombia; c/o DISTRIBUIDORA DE DROGAS CONDOR LTDA., Bogota, Colombia; c/o DISTRIBUIDORA DE DROGAS LA REBAJA S.A., Bogota, Colombia; c/o DISTRIBUIDORA MIGIL LTDA., Cali, Colombia; c/o DISTRIBUIDORA SANAR DE COLOMBIA S.A., Cali, Colombia; c/o DROCARD S.A., Bogota, Colombia; c/o FARMACOOP, Bogota, Colombia; c/o FARAMATODO S.A., Bogota, Colombia; c/o FOGENSA S.A., Bogota, Colombia; c/o FUNDASER, Cali, Colombia; c/o GRACADAL S.A., Cali, Colombia; c/o INDUSTRIAL DE GESTION DE NEGOCIOS E.U., Cali, Colombia; c/o INTERAMERICANA DE CONSTRUCCIONES S.A., Cali, Colombia; c/o INVERSIONES MONDRAGON Y CIA. S.C.S., Cali, Colombia; c/o LABORATORIOS BLAIMAR DE COLOMBIA S.A., Bogota, Colombia; c/o LABORATORIOS KRESSFOR DE COLOMBIA S.A., Bogota, Colombia; c/o LATINFARMACOS S.A., Quito, Ecuador; c/o MARIELA DE RODRIGUEZ Y CIA. S. EN C., Cali, Colombia; c/o MAXITIENDAS TODO EN UNO, Cali, Colombia; c/o PENTA PHARMA DE COLOMBIA S.A., Bogota, Colombia; c/o PROSALUD Y BIENESTAR S.A., Cali, Colombia; c/o RADIO UNIDAS FM S.A., Cali, Colombia; c/o REPRESENTACIONES Y DISTRIBUCIONES HUERTAS Y ASOCIADOS S.A., Bogota, Colombia; c/o RIONAP COMERCIO Y REPRESENTACIONES S.A., Quito, Ecuador; c/o VALORES CORPORATIVOS ESPANOLES S.L., Madrid, Spain; DOB 21 Jun 1963; Passports AD387757 (Colombia), 16688683 (Colombia); Cedula No. 16688683 (Colombia) (individual) [SDNT]

RODRIGUEZ MONDRAGON, Jaime, c/o ASESORIAS DE INGENIERIA EMPRESA UNIPERSONAL, Cali, Colombia; c/o BLANCO PHARMA S.A., Bogota, Colombia; c/o BONOMERCAD, S.A., Bogota, Colombia; c/o CORPORACION DEPORTIVA AMERICA, Cali, Colombia; c/o CREDIREBAJA S.A., Cali, Colombia; c/o D'CACHE S.A., Cali, Colombia; c/o DECAFARMA S.A., Bogota, Colombia; c/o DEPOSITO POPULAR DE DROGAS S.A., Cali, Colombia; c/o DISTRIBUIDORA DE DROGAS CONDOR LTDA., Bogota, Colombia; c/o DISTRIBUIDORA DE DROGAS LA REBAJA S.A., Bogota, Colombia; c/o DISTRIBUIDORA MIGIL LTDA., Cali, Colombia; c/o DROCARD S.A., Bogota, Colombia; c/o FARMATODO S.A., Bogota, Colombia; c/o FLEXOEMPAQUES LTDA., Cali, Colombia; c/o FUNDASER, Cali, Colombia; c/o GRACADAL S.A., Cali, Colombia; c/o INVERSIONES Y CONSTRUCCIONES COSMOVALLE LTDA., Cali, Colombia; c/o INVERSIONES MONDRAGON Y CIA. S.C.S., Cali, Colombia; c/o JAROMO INVERSIONES S.L., Madrid, Spain; c/o LABORATORIOS BLAIMAR DE COLOMBIA S.A., Bogota, Colombia; c/o LABORATORIOS KRESSFOR DE COLOMBIA S.A., Bogota, Colombia; c/o LATINFARMACOS S.A., Quito, Ecuador; c/o MARIELA DE RODRIGUEZ Y CIA. S. EN C., Cali, Colombia; c/o PENTA PHARMA DE COLOMBIA S.A., Bogota, Colombia; c/o PLASTICOS CONDOR LTDA., Cali, Colombia; c/o PROSPECTIVA EMPRESA UNIPERSONAL, Cali, Colombia; c/o REPRESENTACIONES Y DISTRIBUCIONES HUERTAS Y ASOCIADOS S.A., Bogota, Colombia; c/o RIONAP COMERCIO Y REPRESENTACIONES S.A., Quito, Ecuador; c/o SERVICIOS DE LA SABANA E.U., Bogota, Colombia; DOB 30 Mar 1960; Passports AE426347 (Colombia), 16637592 (Colombia); N.I.E. X2641093-A (Spain); Cedula No. 16637592 (Colombia) (individual) [SDNT]

RODRIGUEZ MONDRAGON, Maria Alexandra (a.k.a. RODRIGUEZ MONDRAGON, Alexandra), c/o BLANCO PHARMA S.A., Bogota, Colombia; c/o CORPORACION DEPORTIVA AMERICA, Cali, Colombia; c/o CREDIREBAJA S.A., Cali, Colombia; c/o CUSTOMER NETWORKS S.L., Madrid, Spain; c/o D'CACHE S.A., Cali, Colombia; c/o DEPOSITO POPULAR DE DROGAS S.A., Cali, Colombia; c/o DISTRIBUIDORA DE DROGAS CONDOR LTDA., Bogota, Colombia; c/o DISTRIBUIDORA DE DROGAS LA REBAJA S.A., Bogota, Colombia; c/o DISTRIBUIDORA MIGIL LTDA., Cali, Colombia; c/o DROCARD S.A., Bogota, Colombia; c/o FUNDASER, Cali, Colombia; c/o GRACADAL S.A., Cali, Colombia; c/o INTERAMERICANA DE CONSTRUCCIONES S.A., Cali, Colombia; c/o INVERSIONES MONDRAGON Y CIA. S.C.S., Cali, Colombia; c/o INVERSIONES INMOBILIARIAS VALERIA S.L., Madrid, Spain; c/o INVERSIONES Y CONSTUCCIONES COSMOVALLE LTDA., Cali, Colombia; c/o LABORATORIOS BLAIMAR DE COLOMBIA S.A., Bogota, Colombia; c/o MARIELA DE RODRIGUEZ Y CIA. S. EN C., Cali, Colombia; c/o MARIELA MONDRAGON DE R. Y CIA. S. EN C., Cali, Colombia; c/o PENTA PHARMA DE COLOMBIA S.A., Bogota, Colombia; c/o SISTEMAS Y SERVICIOS TECNICOS EMPRESA UNIPERSONAL, Cali, Colombia; c/o TOBOGON, Cali, Colombia; DOB 30 May 1969; alt. DOB 05 May 1969; Passports AD359106 (Colombia), 66810048 (Colombia); N.I.E. X2561613-B (Spain); Cedula No. 66810048 (Colombia) (individual) [SDNT]

RODRIGUEZ MORENO, Juan Pablo, Carrera 65 647, Cali, Colombia; c/o INVERSIONES RODRIGUEZ MORENO, Cali, Colombia; DOB 30 Jul 1980 (individual) [SDNT]

RODRIGUEZ MORENO, Miguel Andres, Carrera 65 No. 6-47, Cali, Colombia; Carrera 66 No. 6-47, Cali, Colombia; c/o ASISTENCIA PROFESIONAL ESPECIALIZADA EN COLOMBIA LIMITADA, Cali, Colombia; c/o INVERSIONES RODRIGUEZ MORENO, Cali, Colombia; DOB 14 Jul 1977; Passport No. AD253939 (Colombia); Cedula No. 94328841 (Colombia) (individual) [SDNT]

RODRIGUEZ OREJUELA DE GIL, Amparo, c/o BLANCO PHARMA S.A., Bogota, Colombia; c/o CORPORACION DEPORTIVA AMERICA, Cali, Colombia; c/o CREACIONES DEPORTIVAS WILLINGTON LTDA., Cali, Colombia; c/o D'CACHE S.A., Cali, Colombia; c/o DEPOSITO POPULAR DE DROGAS S.A., Cali, Colombia; c/o DISTRIBUIDORA DE DROGAS CONDOR LTDA., Bogota, Colombia; c/o DISTRIBUIDORA MIGIL LTDA., Cali, Colombia; c/o DROBLAM S.A., Cali, Colombia; c/o LABORATORIOS BLAIMAR DE COLOMBIA S.A., Bogota, Colombia; c/o LABORATORIOS KRESSFOR DE COLOMBIA S.A., Bogota, Colombia; c/o RADIO UNIDAS FM S.A., Cali, Colombia; DOB 13 Mar 1949; Passport AC342062 (Colombia); Cedula No. 31218703 (Colombia) (individual) [SDNT]

RODRIGUEZ OREJUELA, Gilberto Jose (a.k.a. “Lucas;” a.k.a. “The Chess Player”), Cali, Colombia; DOB 31 Jan 1939; Passports 6067015 (Colombia), T321642 (Colombia), 77588 (Argentina), 10545599 (Venezuela); Cedula No. 6067015; alt. Cedula No. 6068015 (Colombia) (individual) [SDNT]

RODRIGUEZ OREJUELA, Haydee (a.k.a. RODRIGUEZ DE ROJAS, Haydee; a.k.a. RODRIGUEZ DE MUNOZ, Haydee), c/o BLANCO PHARMA S.A., Bogota, Colombia; c/o CORPORACION DEPORTIVA AMERICA, Cali, Colombia; c/o CREACIONES DEPORTIVAS WILLINGTON LTDA., Cali, Colombia; c/o DISTRIBUIDORA DE DROGAS CONDOR LTDA., Bogota, Colombia; c/o DISTRIBUIDORA MIGIL LTDA., Cali, Colombia; c/o HAYDEE DE MUNOZ Y CIA. S. EN C., Cali, Colombia; c/o RADIO UNIDAS FM S.A., Cali, Colombia; c/o SORAYA Y HAYDEE LTDA., Cali, Colombia; DOB 22 Sep 1940; Cedula No. 38953333 (Colombia) (individual) [SDNT]

RODRIGUEZ OREJUELA, Miguel Angel (a.k.a. “El Senor”; a.k.a. “Patricia”; a.k.a. “Patricio”; a.k.a. “Patty”; a.k.a. “Pat”; a.k.a. “Manuel”; a.k.a. “Manolo”; a.k.a. “Mike”; a.k.a. “Mauro”; a.k.a. “Doctor M.R.O.”), Casa No. 19, Avenida Lago, Ciudad Jardin, Cali, Colombia; DOB 23 Nov 1943; alt. DOB 15 Aug 1943; Cedula No. 6095803 (Colombia) (individual) [SDNT]

RODRIGUEZ RAMIREZ, Andre Gilberto, Calle 10 No. 4-47 piso 18, Cali, Colombia; c/o ANDINA DE CONSTRUCCIONES S.A., Cali, Colombia; c/o BONOMERCAD S.A., Bogota, Colombia; c/o CAFE ANDINO S.L., Madrid, Spain; c/o CONSULTORIA SANTAFE E.U., Bogota, Colombia; c/o CREDIREBAJA S.A., Cali, Colombia; c/o DECAFARMA S.A., Bogota, Colombia; c/o DISTRIBUIDORA SANAR DE COLOMBIA S.A., Cali, Colombia; c/o DROCARD S.A., Bogota, Colombia; c/o FOGENSA S.A., Bogota, Colombia; c/o INVERSIONES RODRIGUEZ RAMIREZ Y CIA. S.C.S., Cali, Colombia; c/o INVERSIONES Y CONSTRUCCIONES ABC S.A., Cali, Colombia; DOB 22 Mar 1972; Passport 16798937 (Colombia); Cedula No. 16798937 (Colombia) (individual) [SDNT]

RODRIGUEZ RAMIREZ, Claudia Pilar (Patricia), c/o BONOMERCAD S.A., Bogota, Colombia; c/o CLAUDIA PILAR RODRIGUEZ Y CIA. S.C.S., Bogota, Colombia; c/o CREDIREBAJA, S.A., Cali, Colombia; c/o D'CACHE S.A., Cali, Colombia; c/o DECAFARMA S.A., Bogota, Colombia; c/o DEPOSITO POPULAR DE DROGAS S.A., Cali, Colombia; c/o DIRECCION COMERCIAL Y MARKETING CONSULTORIA EMPRESA UNIPERSONAL, Bogota, Colombia; c/o DISTRIBUIDORA DE DROGAS CONDOR LTDA., Bogota, Colombia; c/o DISTRIBUIDORA DE DROGAS LA REBAJA S.A., Bogota, Colombia; c/o DISTRIBUIDORA MIGIL LTDA., Cali, Colombia; c/o DROCARD S.A., Bogota, Colombia; c/o FARAMATODO S.A., Bogota, Colombia; c/o GRACADAL S.A., Cali, Colombia; c/o INTERAMERICANA DE CONSTRUCCIONES S.A., Cali, Colombia; c/o INVERSIONES CLAUPI S.L., Madrid, Spain; c/o LABORATORIOS BLAIMAR DE COLOMBIA S.A., Bogota, Colombia; c/o LABORATORIOS KRESSFOR DE COLOMBIA S.A., Bogota, Colombia; DOB 30 Jun 1963; alt. DOB 30 Aug 1963; alt. DOB 1966; Passports 007281 (Colombia), P0555266 (Colombia); 51741013 (Colombia); Cedula No. 51741013 (Colombia) (individual) [SDNT]

RODRIGUEZ TELLEZ, Luz Jazmin (a.k.a. RODRIGUEZ TELLEZ, Luz Yazmin), c/o LABORATORIOS PROFARMA LTDA., Bogota, Colombia; c/o MATERIAS PRIMAS Y SUMINISTROS S.A., Bogota, Colombia; DOB 30 Apr 1972; Passport 52030300 (Colombia); Cedula No. 52030300 (Colombia) (individual) [SDNT]

RODRIGUEZ TELLEZ, Luz Yazmin (a.k.a. RODRIGUEZ TELLEZ, Luz Jazmin), c/o LABORATORIOS PROFARMA LTDA., Bogota, Colombia; c/o MATERIAS PRIMAS Y SUMINISTROS S.A., Bogota, Colombia; DOB 30 Apr 1972; Passport 52030300 (Colombia); Cedula No. 52030300 (Colombia) (individual) [SDNT]

RODRIGUEZ Y TOLBANOS S.A., Plaza de Espana 2, 1-C, Alcala de Henares, Madrid, Spain; Pgno. Ind. Camporrosso, C/Buenos Aires, 1 nave 15, 28806 Alcala de Henares, Madrid, Spain; C.I.F. A82467887 (Spain) [SDNT]

RODRIQUEZ, Jesus (BORGES or BORJES), Panama (individual) [CUBA]

RODRIQUEZ, Jose Julio, Chairman, Havana International Bank, 20 Ironmonger Lane, London EC2V 8EY, England (individual) [CUBA]

ROGULJIC, Slavko; DOB 1952 (individual) [BALKANS]

ROJAS BECERRA, Andres Felipe, c/o COMERCIALIZADORA INTERTEL S.A., Cali, Colombia; c/o CONTACTEL COMUNICACIONES S.A., Cali, Colombia; DOB 18 Feb 1978; Passport 94520044 (Colombia); Cedula No. 94520044 (Colombia) (individual) [SDNT]

ROJAS GALARZA, Carmen Amparo, Carrera 35 No. 10-130, Cali, Colombia; c/o CREDIREBAJA S.A., Cali, Colombia; Cedula No. 34511289 (Colombia) (individual) [SDNT]

ROJAS MEJIA, Hernan, Calle 2A Oeste No. 24B-45 apt. 503A, Cali, Colombia; Calle 6A No. 9N-34, Cali, Colombia; c/o COLOR 89.5 FM STEREO, Cali, Colombia; c/o CONSTRUCCIONES COLOMBO-ANDINAS LTDA., Bogota, Colombia; c/o INVERSIONES Y CONSTRUCCIONES ABC S.A., Cali, Colombia; c/o OCCIDENTAL COMUNICACIONES LTDA., Cali, Colombia; DOB 28 Aug 1948; Cedula No. 16242661 (Colombia) (individual) [SDNT]

ROJAS ORTIS, Rosa, c/o ALFA PHARMA S.A., Cali, Colombia; Cedula No. 26577444 (Colombia) (individual) [SDNT]

ROJAS SALAMANCA, Myriam, c/o GENERICOS ESPECIALES S.A., Bogota, Colombia; c/o LABORATORIOS KRESSFOR DE COLOMBIA S.A., Bogota, Colombia; c/o LEMOFAR LTDA., Bogota, Colombia; DOB 3 Apr 1959; Passport 35324270 (Colombia); Cedula No. 35324270 (Colombia) (individual) [SDNT]

ROMAN DOMINGUEZ, Erika, c/o TAURA S.A., Cali, Colombia; Cedula No. 66955540 (Colombia) (individual) [SDNT]

ROMEO, Charles (a.k.a. Charles Henri Robert ROMEO), Panama (individual) [CUBA]

ROMERO, Antonio (a.k.a. ALCIDES MAGANA, Ramon; a.k.a. ALCIDES MAGANE, Ramon; a.k.a. ALCIDES MAYENA, Ramon; a.k.a. ALCIDEZ MAGANA, Ramon; a.k.a. GONZALEZ QUIONES, Jorge; a.k.a. MAGANA ALCIDES, Ramon; a.k.a. MAGANA, Jorge; a.k.a. MAGNA ALCIDEDES, Ramon; a.k.a. MATA, Alcides; a.k.a. RAMON MAGANA, Alcedis; a.k.a. RAMON MAGANA, Alcides); DOB 4 Sep 1957 (individual) [SDNTK]

ROMERO PENAGOS, Cesar Augusto, c/o CODISA, Bogota, Colombia; c/o FARMACOOP, Bogota, Colombia; DOB 20 Jan 1972; Passport 791384496 (Colombia); Cedula No. 791384496 (Colombia) (individual) [SDNT]

ROMERO VARELA, Carlos Ali (a.k.a. MARTINEZ, Richard), c/o LOS GNOMOS LTDA., Cali, Colombia; c/o SOCIEDAD DE COMERCIALIZACION INTERNACIONAL POSEIDON S.A., Sabaneta, Antioquia, Colombia; DOB 19 Mar 1959; alt. DOB 19 Feb 1959; Passport B0088212 (Venezuela); Cedula No. 13447909 (Colombia) (individual) [SDNTK]

ROPERT, Miria Contreras (a.k.a. CONTRERAS, Miria), Paris, France (individual) [CUBA]

ROQUE, Roberto (PEREZ), Panama (individual) [CUBA]

ROSALES DIAZ, Hector Emilio, c/o ADMINISTRACION INMOBILIARIA BOLIVAR S.A., Cali, Colombia; c/o COMPANIA ADMINISTRADORA DE VIVIENDA S.A., Cali, Colombia; c/o CONCRETOS CALI S.A., Cali, Colombia; c/o CONSTRUCTORA DIMISA LTDA., Cali, Colombia; c/o INDUSTRIA AVICOLA PALMASECA S.A., Cali, Colombia; c/o INVERSIONES EL PENON S.A., Cali, Colombia; c/o INVERSIONES GEMINIS S.A., Cali, Colombia; c/o INVERSIONES VILLA PAZ S.A., Cali, Colombia; c/o MERCAVICOLA LTDA., Cali, Colombia; Cedula No. 16588924 (Colombia) (individual) [SDNT]

ROUINE, Lazher Ben Khalifa Ben Ahmed (a.k.a. “Lazhar;” a.k.a. “Salmane”), “last known address,” Vicolo San Giovanni, Rimini, Italy; DOB 20 Nov 1975; POB Sfax, Tunisia; nationality Tunisian; arrested 30 Sep 2002 (individual) [SDGT]

ROZO C., Miguel, c/o CONSTRUCTORA ALTOS DEL RETIRO LTDA., Bogota, Colombia; Cedula No. 17093270 (Colombia) (individual) [SDNT]

ROZO VARON, Luis Carlos, c/o BLANCO PHARMA S.A., Bogota, Colombia; c/o FARMATODO S.A., Bogota, Colombia; c/o LABORATORIOS GENERICOS VETERINARIOS, Bogota, Colombia; c/o LABORATORIOS KRESSFOR, Bogota, Colombia; Cedula No. 5838525 (Colombia) (individual) [SDNT]

RSO (a.k.a. RAFFINERIE DU SUD-OUEST; a.k.a. COLLOMBEY REFINERY), Collombey, Valais, Switzerland [LIBYA]

RUBENACH ROIG, Juan Luis; member ETA; DOB 18 Sep 1964; POB Bilbao (Vizcaya Province), Spain; D.N.I. 18.197.545 (individual) [SDGT]

RUEDA FAJARDO, Herberth Gonzalo, c/o FARMACOOP, Bogota, Colombia; c/o LABORATORIOS GENERICOS VETERINARIOS, Bogota, Colombia; c/o LABORATORIOS KRESSFOR DE COLOMBIA S.A., Bogota, Colombia; Cedula No. 12126395 (Colombia) (individual) [SDNT]

RUIZ CASTANO, Maria Helena, c/o LADRILLERA LA CANDELARIA LTDA., Cali, Colombia; DOB 17 Nov 1970; Passport 66901635 (Colombia); Cedula No. 66901635 (Colombia) (individual) [SDNT]

RUIZ HERNANDEZ, Gregorio Rafael, c/o COMERCIALIZADORA OROBANCA, Cali, Colombia; DOB 20 May 1963; Cedula No. 16823501 (Colombia) (individual) [SDNT]

RUIZ, Ramon Miguel (POO), Panama (individual) [CUBA]

RUSERE, Tinos, Deputy Minister for Rural Resources and Water Development of Zimbabwe; DOB 10 May 1945 (individual) [ZIMB]

RUSHITI, Sait (a.k.a. RUXHETI, Sait); DOB 7 Nov 1966 (individual) [BALKANS]

RUXHETI, Sait (a.k.a. RUSHITI, Sait); DOB 7 Nov 1966 (individual) [BALKANS]

RWR INTERNATIONAL COMMODITIES (a.k.a. A.T.E. INTERNATIONAL LTD.), 3 Mandeville Place, London, England [IRAQ]

RZOOKI, Hanna, Chairman of REAL ESTATE BANK; Iraq (individual) [IRAQ]

S.A.S. E.U. (a.k.a. SERVICIO AEREO DE SANTANDER E.U.), Carrera 66 No. 7-31, Bogota, Colombia; NIT # 800543219-8 (Colombia) [SDNT]

S.M.I. SEWING MACHINES ITALY S.P.A., Italy [IRAQ]

SA-ID (a.k.a. IZZ-AL-DIN, Hasan; a.k.a. GARBAYA, AHMED; a.k.a. SALWWAN, Samir), Lebanon; DOB 1963; POB Lebanon; citizen Lebanon (individual) [SDGT]

SAADI, Nassim (a.k.a. Abou Anis), “last known address,” Via Monte Grappa 15, Arluno (Milan), Italy; DOB 30 Nov 1974; POB Haidra, Tunisia; nationality Tunisian; arrested 30 Sep 2002 (individual) [SDGT]

SAAVEDRA RESTREPO, Jesus Maria, Calle 5 No. 46-83 Local 119, Cali, Colombia; c/o CONCRETOS CALI S.A., Cali, Colombia; c/o CONSTRUCTORA DIMISA LTDA., Cali, Colombia; c/o INMOBILIARIA U.M.V. S.A., Cali, Colombia; DOB 10 Jul 1958; Cedula No. 16603482 (Colombia) (individual) [SDNT]

SABTINA LIMITED, 530-532 Elder House, Elder Gate, Central Milton Keynes MK9 1LR, England [LIBYA]

SACKS FACTORY (a.k.a. PLASTIC SACKS FACTORY), P.O. Box 2328, Khartoum, Sudan [SUDAN]

SAENZ VARGAS, Guillermo Leon (a.k.a. “Alfonso Cano”); DOB 22 Jul 1948; POB Bogota, Cundinamarca, Colombia; Cedula No. 17122751 (Colombia) (individual) [SDNTK]

SAEZ DE EGUILAZ MURGUIONDO, Carlos; member ETA; DOB 9 Dec 1963; POB San Sebastian (Guipuzcoa Province), Spain; D.N.I. 15.962.687 (individual) [SDGT]

SAHABI OIL FIELD PROJECT, P.O. Box 982, Tripoli, Libya [LIBYA]

SAHARA BANK, (22 branches in Libya) [LIBYA]

SAHARA BANK, 10 First September Street, P.O. Box 270, Tripoli, Libya [LIBYA]

SAHINPASIC, Senad; DOB c. 1951; POB Foca, Bosnia-Herzegovina (individual) [BALKANS]

SAI'ID, Shaykh (a.k.a. AHMAD, Mustafa Muhammad) (POB Egypt) (individual) [SDGT]

SAINOVIC, Nikola; DOB 7 Dec 1948; POB Bor, Serbia and Montenegro; Ex-FRY Deputy Prime Minister; ICTY indictee in custody (individual) [BALKANS]

SAIYID, Abd Al-Man'am (a.k.a. AGHA, Haji Abdul Manan), Pakistan (individual) [SDGT]

SAKUPWANYA, Stanley, Deputy-Secretary for Health and Child Welfare of Zimbabwe (individual) [ZIMB]

SALAFIST CALL PROTECTORS (a.k.a. DHAMAT HOUMET DAAWA SALAFIA; a.k.a. DJAMAAT HOUMAT ED DAAWA ES SALAFIYA; a.k.a. DJAMAAT HOUMAT EDDAWA ESSALAFIA; a.k.a. DJAMAATT HOUMAT ED DAAWA ES SALAFIYA; a.k.a. EL-AHOUAL BATTALION; a.k.a. GROUP OF SUPPORTERS OF THE SALAFIST TREND; a.k.a. GROUP OF SUPPORTERS OF THE SALAFISTE TREND; a.k.a. GROUP PROTECTORS OF SALAFIST PREACHING; a.k.a. HOUMAT ED DAAWA ES SALIFIYA; a.k.a. HOUMAT ED-DAAOUA ES-SALAFIA; a.k.a. HOUMATE ED-DAAWA ES-SALAFIA; a.k.a. HOUMATE EL DA'AWAA ES-SALAFIYYA; a.k.a. KATIBAT EL AHOUAL; a.k.a. KATIBAT EL AHOUEL; a.k.a. PROTECTORS OF THE SALAFIST CALL; a.k.a. PROTECTORS OF THE SALAFIST PREDICATION; a.k.a. THE HORROR SQUADRON), Algeria [SDGT]

SALAFIST GROUP FOR CALL AND COMBAT (a.k.a. GSPC; a.k.a. LE GROUPE SALAFISTE POUR LA PREDICATION ET LE COMBAT; a.k.a. SALAFIST GROUP FOR PREACHING AND COMBAT; a.k.a. GSPC) [SDGT] [FTO]

SALAFIST GROUP FOR PREACHING AND COMBAT (a.k.a. GSPC; a.k.a. LE GROUPE SALAFISTE POUR LA PREDICATION ET LE COMBAT; a.k.a. SALAFIST GROUP FOR CALL AND COMBAT; a.k.a. GSPC) [SDGT] [FTO]

SALAH, Mohammad Abd El-Hamid Khalil (a.k.a. AHMAD, Abu; a.k.a. AHMED, Abu; a.k.a. SALAH, Mohammad Abdel Hamid Halil; a.k.a. SALAH, Muhammad A.), 9229 South Thomas, Bridgeview, Illinois 60455, U.S.A.; P.O. Box 2578, Bridgeview, Illinois 60455, U.S.A.; P.O. Box 2616, Bridgeview, Illinois 60455-6616, U.S.A.; Israel; DOB 30 May 1953; SSN 342-52-7612; Passport No. 024296248 (U.S.A.) (individual) [SDT]

SALAH, Mohammad Abdel Hamid Halil (a.k.a. AHMAD, Abu; a.k.a. AHMED, Abu; a.k.a. SALAH, Mohammad Abd El-Hamid Khalil; a.k.a. SALAH, Muhammad A.), 9229 South Thomas, Bridgeview, Illinois 60455, U.S.A.; P.O. Box 2578, Bridgeview, Illinois 60455, U.S.A.; P.O. Box 2616, Bridgeview, Illinois 60455-6616, U.S.A.; Israel; DOB 30 May 1953; SSN 342-52-7612; Passport No. 024296248 (U.S.A.) (individual) [SDT]

SALAH, Muhammad (a.k.a. HASANAYN, Nasr Fahmi Nasr) (individual) [SDGT]

SALAH, Muhammad A. (a.k.a. AHMAD, Abu; a.k.a. AHMED, Abu; a.k.a. SALAH, Mohammad Abd El-Hamid Khalil; a.k.a. SALAH, Mohammad Abdel Hamid Halil), 9229 South Thomas, Bridgeview, Illinois 60455, U.S.A.; P.O. Box 2578, Bridgeview, Illinois 60455, U.S.A.; P.O. Box 2616, Bridgeview, Illinois 60455-6616, U.S.A.; Israel; DOB 30 May 1953; SSN 342-52-7612; Passport No. 024296248 (U.S.A.) (individual) [SDT]

SALAZAR, Jose Leonel, c/o PROCESADORA DE POLLOS SUPERIOR S.A., Palmira, Colombia; c/o INMOBILIARIA U.M.V. S.A., Cali, Colombia (individual) [SDNT]

SALCEDO DE VARGAS, Myriam (a.k.a. SALCEDO MARTINEZ, Myriam), c/o FUNDACION VIVIR MEJOR, Cali, Colombia; c/o FUNDASER, Cali, Colombia; Passport 41572808 (Colombia); Cedula No. 41572808 (Colombia) (individual) [SDNT]

SALCEDO MARTINEZ, Myriam (a.k.a. SALCEDO DE VARGAS, Myriam), c/o FUNDACION VIVIR MEJOR, Cali, Colombia; c/o FUNDASER, Cali, Colombia; Passport 41572808 (Colombia); Cedula No. 41572808 (Colombia) (individual) [SDNT]

SALCEDO RAMIREZ, Jaime, c/o INMOBILIARIA U.M.V. S.A., Cali, Colombia; Cedula No. 16706222 (Colombia) (individual) [SDNT]

SALCEDO RAMIREZ, Nhora Clemencia; c/o ADMINISTRACION INMOBILIARIA BOLIVAR S.A., Cali, Colombia; c/o INMOBILIARIA BOLIVAR LTDA., Cali, Colombia; Cedula No. 31273613 (Colombia) (individual) [SDNT]

SALDARRIAGA ACEVEDO, Carlos Omar, Calle 9B No. 50-100 apt. 102, Cali, Colombia; c/o RADIO UNIDAS FM S.A., Cali, Colombia; DOB 16 Jan 1954; Cedula No. 14998632 (Colombia) (individual) [SDNT]

SALEH (a.k.a. ABDULLAH, Abdullah Ahmed; a.k.a. ABU MARIAM; a.k.a. AL-MASRI, Abu Mohamed), Afghanistan; DOB 1963; POB Egypt; citizen Egypt (individual) [SDGT]

SALEH Abdel Moneim Ahmad (a.k.a. SALIH, Abd al-Munim Ahmad), Minister of Awqaf and Religious Affairs; DOB 1943; Iraq (individual) [IRAQ]

SALEH, Mohammed Mahdi (a.k.a. AL-SALIH, Muhammad Mahdi); DOB 1947 alt. DOB 1949; POB al-Anbar Governorate, Iraq; Minister of Trade; nationality Iraqi (individual) [IRAQ]

SALEH, Mohammed Mahdi (a.k.a. AL-SALIH, Muhammad Mahdi); DOB 1947; alt. DOB 1949; POB al-Anbar Governorate, Iraq; Minister of Trade; nationality Iraqi (individual) [IRAQ] SALEH, Nedal (a.k.a. “Hitem”), Via Milano n.105, Casal di Principe (Caserta), Italy; Via di Saliceto n.51/9, Bologna, Italy; DOB 01 Mar 1970; POB Taiz, Yemen (individual) [SDGT]

SALEM, Fahid Muhamad Ali (a.k.a. MSALAM, Fahid Mohammed Ally; a.k.a. AL-KINI, Usama; a.k.a. ALLY, Fahid Mohammed; a.k.a. MSALAM, Fahad Ally; a.k.a. MSALAM, Fahid Mohammed Ali; a.k.a. MSALAM, Mohammed Ally; a.k.a. MUSALAAM, Fahid Mohammed Ali); DOB 19 Feb 1976; POB Mombasa, Kenya; citizen Kenya (individual) [SDGT]

SALGADO MOSQUERA, Ricardo Ignacio, c/o MACROFARMA S.A., Cali, Colombia; Passport 10216576 (Colombia); Cedula No. 10216576 (Colombia) (individual) [SDNT]

SALGUIDIA (a.k.a. SOCIETE ARABE LIBYO-GUINEENNE POUR LE DEVELOPPEMENT AGRICOLE ET AGRO-INDUSTRIEL), Conakry, Guinea [LIBYA]

SALIH, Abd al-Munim Ahmad (a.k.a. SALEH Abdel Moneim Ahmad), Minister of Awqaf and Religious Affairs; DOB 1943; Iraq (individual) [IRAQ]

SALIM, Ahmad Fuad (a.k.a. AL ZAWAHIRI, Dr. Ayman; a.k.a. AL-ZAWAHIRI, Aiman Muhammad Rabi; a.k.a. AL-ZAWAHIRI, Ayman), Operational and Military Leader of JIHAD GROUP; DOB 19 Jun 1951; POB Giza, Egypt; Passport No. 1084010 (Egypt); Alt No. 19820215 (individual) [SDT] [SDGT]

SALIM, Hassan Rostom (a.k.a. ATWA, Ali; a.k.a. BOUSLIM, Ammar Mansour), Lebanon; DOB 1960; POB Lebanon; citizen Lebanon (individual) [SDGT]

SALIMAUREM (a.k.a. SOCIETE ARABE LIBYENNE MAURITANIENNE DES RESSOURCES MARITIMES), Nouadhibou, Mauritania [LIBYA]

SALINA AGUILAR, Jorge (a.k.a. CARDENAS CASTILLO, Osiel; a.k.a. CARDENAS GILLEN, Osiel; a.k.a. CARDENAS GUILLEN, Ociel; a.k.a. CARDENAS GUILLEN, Oscar; a.k.a. CARDENAS GUILLEN, Osiel; a.k.a. CARDENAS GUILLEN, Oziel; a.k.a. CARDENAS GULLEN, Osiel; a.k.a. CARDENAS TUILLEN, Osiel; a.k.a. SALINAS AGUILAR, Jorge) DOB 18 May 1967; POB Mexico (individual) [SDNTK]

SALINAS AGUILAR, Jorge (a.k.a. CARDENAS CASTILLO, Osiel; a.k.a. CARDENAS GILLEN, Osiel; a.k.a. CARDENAS GUILLEN, Ociel; a.k.a. CARDENAS GUILLEN, Oscar; a.k.a. CARDENAS GUILLEN, Osiel; a.k.a. CARDENAS GUILLEN, Oziel; a.k.a. CARDENAS GULLEN, Osiel; a.k.a. CARDENAS TUILLEN, Osiel; a.k.a. SALINA AGUILAR, Jorge) DOB 18 May 1967; POB Mexico (individual) [SDNTK]

SALWWAN, Samir (a.k.a. IZZ-AL-DIN, Hasan; a.k.a. GARBAYA, AHMED; a.k.a. SA-ID), Lebanon; DOB 1963; POB Lebanon; citizen Lebanon (individual) [SDGT]

SAMARIA ARRENDAMIENTO, Cali, Colombia [SDNT]

SAMARIA CANAS, Cali, Colombia [SDNT]

SAMARIA INTERESES, Cali, Colombia [SDNT]

SAMARIA LTDA. (n.k.a. NEGOCIOS LOS SAUCES LTDA.), Apartado Aereo 10077, Cali, Colombia; Carrera 4 No. 4-21 of. 1501, Edificios Seguros Bolivar, Cali, Colombia; NIT # 890328835-1 (Colombia) [SDNT]

SAMARIA TIERRAS, Cali, Colombia [SDNT]

SAMARRAI, Ahmad Husayn Khudayir (a.k.a. AL-KHODAIR Ahmad Hussein), Minister of Finance; DOB 1941; Iraq (individual) [IRAQ]

SAMIU, Izair; DOB 23 Jul 1963 (individual) [BALKANS]

SAMUDRA, Imam (a.k.a. “Abdul Aziz;” a.k.a. “Abu Omar;” a.k.a. “Fatih;” a.k.a. “Hendri;” a.k.a. “Heri;” a.k.a. “Kudama;” a.k.a. BIN SIHABUDIN, Abdul Aziz; a.k.a. YUNSHAR, Faiz); DOB 14 Jan 1970; POB Serang, Banten, Indonesia (individual) [SDGT]

SAN MATEO S.A. (f.k.a. INVERSIONES BETANIA LTDA.; f.k.a. INVERSIONES BETANIA S.A.), Avenida 2N No. 7N-55 of. 501, Cali, Colombia; Carrera 53 No. 13-55 apt. 102B, Cali, Colombia; Carrera 3 No. 12-40, Cali, Colombia; NIT # 890330910-2 (Colombia) [SDNT]

SAN VICENTE S.A. (f.k.a. INVERSIONES INVERVALLE S.A.; f.k.a. INVERVALLE S.A.), Avenida 2N No. 7N-55 of. 501, Cali, Colombia; Calle 70N No. 14-31, Cali, Colombia; Avenida 4 Norte No. 17N-43 L.1, Cali, Colombia; NIT # 800061212-8 (Colombia) [SDNT]

SANABAL (a.k.a. AL SANABIL; a.k.a. AL-SANBAL; a.k.a. ASANABIL; a.k.a. JA'MIA SANBLE LLAGHATHA WA ALTINMIA; a.k.a. JAMI'A SANABIL; a.k.a. JAMI'A SANABIL LIL IGATHA WA AL-TANMIYZ; a.k.a. SANABEL; a.k.a. SANABIL; a.k.a.SANABIL AL-AQSA; a.k.a. SANABIL ASSOCIATION FOR RELIEF AND DEVELOPMENT; a.k.a. SANABIL FOR AID AND DEVELOPMENT; a.k.a. SANABIL FOR RELIEF AND DEVELOPMENT; a.k.a. SANABIL GROUP FOR RELIEF AND DEVELOPMENT; a.k.a. SANIBAL; a.k.a. SANNABIL; a.k.a. SANNIBIL; a.k.a. SINABUL), Sidon, Lebanon [SDGT]

SANABEL (a.k.a. AL SANABIL; a.k.a. AL-SANBAL; a.k.a. ASANABIL; a.k.a. JA'MIA SANBLE LLAGHATHA WA ALTINMIA; a.k.a. JAMI'A SANABIL; a.k.a. JAMI'A SANABIL LIL IGATHA WA AL-TANMIYZ; a.k.a. SANABAL; a.k.a. SANABIL; a.k.a. SANABIL AL-AQSA; a.k.a. SANABIL ASSOCIATION FOR RELIEF AND DEVELOPMENT; a.k.a. SANABIL FOR AID AND DEVELOPMENT; a.k.a. SANABIL FOR RELIEF AND DEVELOPMENT; a.k.a. SANABIL GROUP FOR RELIEF AND DEVELOPMENT; a.k.a. SANIBAL; a.k.a. SANNABIL; a.k.a. SANNIBIL; a.k.a. SINABUL), Sidon, Lebanon [SDGT]

SANABIL (a.k.a. AL SANABIL; a.k.a. AL-SANBAL; a.k.a. ASANABIL; a.k.a. JA'MIA SANBLE LLAGHATHA WA ALTINMIA; a.k.a. JAMI'A SANABIL; a.k.a. JAMI'A SANABIL LIL IGATHA WA AL-TANMIYZ; a.k.a. SANABAL; a.k.a. SANABEL; a.k.a. SANABIL AL-AQSA; a.k.a. SANABIL ASSOCIATION FOR RELIEF AND DEVELOPMENT; a.k.a. SANABIL FOR AID AND DEVELOPMENT; a.k.a. SANABIL FOR RELIEF AND DEVELOPMENT; a.k.a. SANABIL GROUP FOR RELIEF AND DEVELOPMENT; a.k.a. SANIBAL; a.k.a. SANNABIL; a.k.a. SANNIBIL; a.k.a. SINABUL), Sidon, Lebanon [SDGT]

SANABIL AL-AQSA (a.k.a. AL SANABIL; a.k.a. AL-SANBAL; a.k.a. ASANABIL; a.k.a. JA'MIA SANBLE LLAGHATHA WA ALTINMIA; a.k.a. JAMI'A SANABIL; a.k.a. JAMI'A SANABIL LIL IGATHA WA AL-TANMIYZ; a.k.a. SANABAL; a.k.a. SANABEL; a.k.a. SANABIL; a.k.a. SANABIL ASSOCIATION FOR RELIEF AND DEVELOPMENT; a.k.a. SANABIL FOR AID AND DEVELOPMENT; a.k.a. SANABIL FOR RELIEF AND DEVELOPMENT; a.k.a. SANABIL GROUP FOR RELIEF AND DEVELOPMENT; a.k.a. SANIBAL; a.k.a. SANNABIL; a.k.a. SANNIBIL; a.k.a. SINABUL), Sidon, Lebanon [SDGT]

SANABIL AL-AQSA CHARITABLE FOUNDATION (a.k.a. AL-AQSA (ASBL); a.k.a. AL-AQSA SPANMAL STIFTELSE; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. STICHTING AL-AQSA; a.k.a. SWEDISH CHARITABLE AQSA EST.), BD Leopold II 71, 1080 Brussels, Belgium [SDGT]

SANABIL AL-AQSA CHARITABLE FOUNDATION (a.k.a. AL-AQSA E.V.; a.k.a. AL-AQSA SPANMAL STIFTELSE; a.k.a. AL-AQSA ASBL; a.k.a. AL-AQSA CHARITABLE FOUNDATION; a.k.a. AL-AQSA CHARITABLE ORGANIZATION; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. STICHTING AL-AQSA; a.k.a. SWEDISH CHARITABLE AQSA EST.), Kappellenstrasse 36, D-52066, Aachen, Germany [SDGT]

SANABIL AL-AQSA CHARITABLE FOUNDATION (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. STICHTING AL-AQSA; a.k.a. SWEDISH CHARITABLE AQSA EST.), P.O. Box 421082, 2nd Floor, Amoco Gardens, 40 Mint Road, Fordsburg 2033, Johannesburg, South Africa; P.O. Box 421083, 2nd Floor, Amoco Gardens, 40 Mint Road, Fordsburg 2033, Johannesburg, South Africa [SDGT]

SANABIL AL-AQSA CHARITABLE FOUNDATION (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. STICHTING AL-AQSA; a.k.a. SWEDISH CHARITABLE AQSA EST.), Nobelvagen 79 NB, 21433 Malmo, Sweden; Noblev 79 NB, 21433 Malmo, Sweden [SDGT]

SANABIL AL-AQSA CHARITABLE FOUNDATION (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. STICHTING AL-AQSA; a.k.a. SWEDISH CHARITABLE AQSA EST.) [SDGT]

SANABIL AL-AQSA CHARITABLE FOUNDATION (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. STICHTING AL-AQSA; a.k.a. SWEDISH CHARITABLE AQSA EST.), P.O. Box 2364, Islamabad, Pakistan [SDGT]

SANABIL AL-AQSA CHARITABLE FOUNDATION (a.k.a. AQSSA SOCIETY YEMEN; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. STICHTING AL-AQSA; a.k.a. SWEDISH CHARITABLE AQSA EST.), P.O. Box 14101, San'a, Yemen [SDGT]

SANABIL AL-AQSA CHARITABLE FOUNDATION (a.k.a. FORENINGEN AL-AQSA; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. ISLAMIC CHARITABLE SOCIETY FOR AL-AQSA; a.k.a. MU'ASA AL-AQSA AL-KHAYRIYYA; a.k.a. MU'ASSA SANABIL AL-AQSA AL-KHAYRIYYA; a.k.a. STICHTING AL-AQSA; a.k.a. SWEDISH CHARITABLE AQSA EST.), P.O. Box 6222200KBKN, Copenhagen, Denmark [SDGT]

SANABIL AL-AQSA CHARITABLE FOUNDATION (a.k.a. STICHTING AL-AQSA; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SWEDISH CHARITABLE AQSA EST.), Gerrit V/D Lindestraat 103 E, 03022 TH, Rotterdam, Holland; Gerrit V/D Lindestraat 103 A, 3022 TH, Rotterdam, Holland [SDGT]

SANABIL ASSOCIATION FOR RELIEF AND DEVELOPMENT (a.k.a. AL SANABIL; a.k.a. AL-SANBAL; a.k.a. ASANABIL; a.k.a. JA'MIA SANBLE LLAGHATHA WA ALTINMIA; a.k.a. JAMI'A SANABIL; a.k.a. JAMI'A SANABIL LIL IGATHA WA AL-TANMIYZ; a.k.a. SANABAL; a.k.a. SANABEL; a.k.a. SANABIL; a.k.a. SANABIL AL-AQSA; a.k.a. SANABIL FOR AID AND DEVELOPMENT; a.k.a. SANABIL FOR RELIEF AND DEVELOPMENT; a.k.a. SANABIL GROUP FOR RELIEF AND DEVELOPMENT; a.k.a. SANIBAL; a.k.a. SANNABIL; a.k.a. SANNIBIL; a.k.a. SINABUL), Sidon, Lebanon [SDGT]

SANABIL FOR AID AND DEVELOPMENT (a.k.a. AL SANABIL; a.k.a. AL-SANBAL; a.k.a. ASANABIL; a.k.a. JA'MIA SANBLE LLAGHATHA WA ALTINMIA; a.k.a. JAMI'A SANABIL; a.k.a. JAMI'A SANABIL LIL IGATHA WA AL-TANMIYZ; a.k.a. SANABAL; a.k.a. SANABEL; a.k.a. SANABIL; a.k.a. SANABIL AL-AQSA; a.k.a. SANABIL ASSOCIATION FOR RELIEF AND DEVELOPMENT; a.k.a. SANABIL FOR RELIEF AND DEVELOPMENT; a.k.a. SANABIL GROUP FOR RELIEF AND DEVELOPMENT; a.k.a. SANIBAL; a.k.a. SANNABIL; a.k.a. SANNIBIL; a.k.a. SINABUL), Sidon, Lebanon [SDGT]

SANABIL FOR RELIEF AND DEVELOPMENT (a.k.a. AL SANABIL; a.k.a. AL-SANBAL; a.k.a. ASANABIL; a.k.a. JA'MIA SANBLE LLAGHATHA WA ALTINMIA; a.k.a. JAMI'A SANABIL; a.k.a. JAMI'A SANABIL LIL IGATHA WA AL-TANMIYZ; a.k.a. SANABAL; a.k.a. SANABEL; a.k.a. SANABIL; a.k.a. SANABIL AL-AQSA; a.k.a. SANABIL ASSOCIATION FOR RELIEF AND DEVELOPMENT; a.k.a. SANABIL FOR AID AND DEVELOPMENT; a.k.a. SANABIL GROUP FOR RELIEF AND DEVELOPMENT; a.k.a. SANIBAL; a.k.a. SANNABIL; a.k.a. SANNIBIL; a.k.a. SINABUL), Sidon, Lebanon [SDGT]

SANABIL GROUP FOR RELIEF AND DEVELOPMENT (a.k.a. AL SANABIL; a.k.a. AL-SANBAL; a.k.a. ASANABIL; a.k.a. JA'MIA SANBLE LLAGHATHA WA ALTINMIA; a.k.a. JAMI'A SANABIL; a.k.a. JAMI'A SANABIL LIL IGATHA WA AL-TANMIYZ; a.k.a. SANABAL; a.k.a. SANABEL; a.k.a. SANABIL; a.k.a. SANABIL AL-AQSA; a.k.a. SANABIL ASSOCIATION FOR RELIEF AND DEVELOPMENT; a.k.a. SANABIL FOR AID AND DEVELOPMENT; a.k.a. SANABIL FOR RELIEF AND DEVELOPMENT; a.k.a. SANIBAL; a.k.a. SANNABIL; a.k.a. SANNIBIL; a.k.a. SINABUL), Sidon, Lebanon [SDGT]

SANABRIA NINO, Alexander, c/o CAJA SOLIDARIA, Bogota, Colombia; c/o COSMEPOP, Bogota, Colombia; c/o SERVICIOS FUTURA LIMITADA, Bogota, Colombia; DOB 12 Jul 1967; Passport 79420501 (Colombia); Cedula No. 79420501 (Colombia) (individual) [SDNT]

SANCHEZ DE VALENCIA, Dora Gladys, c/o INMOBILIARIA U.M.V. S.A., Cali, Colombia; DOB 7 Aug 1955; Cedula No. 31273248 (Colombia) (individual) [SDNT]

SANCHEZ MARMOL, Maryurida, c/o COOPDISAN, Bucaramanga, Colombia; c/o DROGAS LA REBAJA BUCARAMANGA S.A., Bucaramanga, Colombia; DOB 23 Feb 1970; Passport 63456242 (Colombia); Cedula No. 63456242 (Colombia) (individual) [SDNT]

SANCHEZ OLAYA, Martha, c/o LABORATORIOS PROFARMA LTDA., Bogota, Colombia; DOB 20 May 1963; Passport 65692953 (Colombia); Cedula No. 65692953 (Colombia) (individual) [SDNT]

SANCHEZ VARILLA, Luis Manuel; DOB 1 Feb 1964; Cedula No. 8174649 (Colombia) (individual) [SDNTK]

SANCLEMENTE BEDOYA, Claudia Patricia, c/o INTERNACIONAL DE DIVISAS S.A., Cali, Colombia; c/o INTERNACIONAL DE DIVISAS S.A., LLC, Miami, Florida, U.S.A.; c/o OBURSATILES S.A., Cali, Colombia; DOB 5 Dec 1968; Passport 31999055 (Colombia); Cedula No. 31999055 (Colombia) (individual) [SDNT]

SANCLEMENTE BEDOYA, Flor de Maria, c/o COLIMEX LTDA., Cali, Colombia; c/o COMERCIALIZADORA INTERTEL S.A., Cali, Colombia; c/o DISTRIBUIDORA SANAR DE COLOMBIA S.A., Cali, Colombia; c/o FUNDACION VIVIR MEJOR, Cali, Colombia; c/o FUNDASER, Cali, Colombia; DOB 4 Sep 1964; Passport 31931887 (Colombia); N.I.E. X2303467-V (Spain); Cedula No. 31931887 (Colombia) (individual) [SDNT]

SANDRANA (a.k.a. HACIENDA SANDRANA; a.k.a. SANDRANA GANADERA), Carrera 4 12-41 piso 15, Edificio Seguros Bolivar, Cali, Colombia; San Pedro, Valle del Cauca, Colombia [SDNT]

SANDRANA CANAS, Cali, Colombia [SDNT]

SANDRANA GANADERA (a.k.a. HACIENDA SANDRANA; a.k.a. SANDRANA), Carrera 4 12-41 piso 15, Edificio Seguros Bolivar, Cali, Colombia; San Pedro, Valle del Cauca, Colombia [SDNT]

SANIBAL (a.k.a. AL SANABIL; a.k.a. AL-SANBAL; a.k.a. ASANABIL; a.k.a. JA'MIA SANBLE LLAGHATHA WA ALTINMIA; a.k.a. JAMI'A SANABIL; a.k.a. JAMI'A SANABIL LIL IGATHA WA AL-TANMIYZ; a.k.a. SANABAL; a.k.a. SANABEL; a.k.a. SANABIL; a.k.a. SANABIL AL-AQSA; a.k.a. SANABIL ASSOCIATION FOR RELIEF AND DEVELOPMENT; a.k.a. SANABIL FOR AID AND DEVELOPMENT; a.k.a. SANABIL FOR RELIEF AND DEVELOPMENT; a.k.a. SANABIL GROUP FOR RELIEF AND DEVELOPMENT; a.k.a. SANNABIL; a.k.a. SANNIBIL; a.k.a. SINABUL), Sidon, Lebanon [SDGT]

SANNABIL (a.k.a. AL SANABIL; a.k.a. AL-SANBAL; a.k.a. ASANABIL; a.k.a. JA'MIA SANBLE LLAGHATHA WA ALTINMIA; a.k.a. JAMI'A SANABIL; a.k.a. JAMI'A SANABIL LIL IGATHA WA AL-TANMIYZ; a.k.a. SANABAL; a.k.a. SANABEL; a.k.a. SANABIL; a.k.a. SANABIL AL-AQSA; a.k.a. SANABIL ASSOCIATION FOR RELIEF AND DEVELOPMENT; a.k.a. SANABIL FOR AID AND DEVELOPMENT; a.k.a. SANABIL FOR RELIEF AND DEVELOPMENT; a.k.a. SANABIL GROUP FOR RELIEF AND DEVELOPMENT; a.k.a. SANIBAL; a.k.a. SANNIBIL; a.k.a. SINABUL), Sidon, Lebanon [SDGT]

SANNIBIL (a.k.a. AL SANABIL; a.k.a. AL-SANBAL; a.k.a. ASANABIL; a.k.a. JA'MIA SANBLE LLAGHATHA WA ALTINMIA; a.k.a. JAMI'A SANABIL; a.k.a. JAMI'A SANABIL LIL IGATHA WA AL-TANMIYZ; a.k.a. SANABAL; a.k.a. SANABEL; a.k.a. SANABIL; a.k.a. SANABIL AL-AQSA; a.k.a. SANABIL ASSOCIATION FOR RELIEF AND DEVELOPMENT; a.k.a. SANABIL FOR AID AND DEVELOPMENT; a.k.a. SANABIL FOR RELIEF AND DEVELOPMENT; a.k.a. SANABIL GROUP FOR RELIEF AND DEVELOPMENT; a.k.a. SANIBAL; a.k.a. SANNABIL; a.k.a. SINABUL), Sidon, Lebanon [SDGT]

SANTACOLOMA DE JARAMILLO, Gloria Maria (a.k.a. SANTACOLOMA HOYOS, Gloria Maria; a.k.a. SANTACOLOMA JARAMILLO, Gloria Maria), c/o FARMATEL E.U., Bogota, Colombia; c/o REPRESENTACIONES Y DISTRIBUCIONES HUERTAS Y ASOCIADOS S.A., Bogota, Colombia; DOB 26 Jul 1962; Passport 31886388 (Colombia); Cedula No. 31886388 (Colombia) (individual) [SDNT]

SANTACOLOMA HOYOS, Adriana, c/o ASH TRADING, INC., Pembroke Pines, Florida, U.S.A.; c/o CREDIREBAJA S.A., Cali, Colombia; c/o CREDIVIDA, Cali, Colombia; DOB 24 Oct 1964; Passport 31919241 (Colombia); Cedula No. 31919241 (Colombia) (individual) [SDNT]

SANTACOLOMA HOYOS, Gloria Maria (a.k.a. SANTACOLOMA DE JARAMILLO, Gloria Maria; a.k.a. SANTACOLOMA JARAMILLO, Gloria Maria), c/o FARMATEL E.U., Bogota, Colombia; c/o REPRESENTACIONES Y DISTRIBUCIONES HUERTAS Y ASOCIADOS S.A., Bogota, Colombia; DOB 26 Jul 1962; Passport 31886388 (Colombia); Cedula No. 31886388 (Colombia) (individual) [SDNT]

SANTACOLOMA JARAMILLO, Gloria Maria (a.k.a. SANTACOLOMA DE JARAMILLO, Gloria Maria; a.k.a. SANTACOLOMA HOYOS, Gloria Maria), c/o FARMATEL E.U., Bogota, Colombia; c/o REPRESENTACIONES Y DISTRIBUCIONES HUERTAS Y ASOCIADOS S.A., Bogota, Colombia; DOB 26 Jul 1962; Passport 31886388 (Colombia); Cedula No. 31886388 (Colombia) (individual) [SDNT]

SANTACOLOMA, Maria Alejandra (a.k.a. MOSQUERA MAYA, Maria Alejandra), 14420 NW 16th St., Pembroke Pines, FL 33028; c/o ASH TRADING, INC., Pembroke Pines, Florida, U.S.A.; DOB 22 Sep 1973; Passport 34564670 (Colombia); Cedula No. 34564670 (Colombia) (individual) [SDNT]

SANTACRUZ CASTRO, Ana Milena, c/o AUREAL INMOBILIARIA LTDA., Bogota, Colombia; c/o COMERCIALIZACION Y FINANCIACION DE AUTOMOTORES S.A., Cali, Colombia; c/o INMOBILIARIA SAMARIA LTDA., Cali, Colombia; c/o INVERSIONES EL PASO LTDA., Cali, Colombia; c/o INVERSIONES INTEGRAL LTDA., Cali, Colombia; c/o INVERSIONES SANTA LTDA., Cali, Colombia; c/o MIRALUNA LTDA., Cali, Colombia; c/o SAMARIA LTDA., Cali, Colombia; c/o SOCIEDAD CONSTRUCTORA LA CASCADA S.A., Cali, Colombia; c/o URBANIZACIONES Y CONSTRUCCIONES LTDA. DE CALI, Cali, Colombia; DOB 31 Mar 1965; Passports 31929808 (Colombia), AB151189 (Colombia); Cedula No. 31929808 (Colombia) (individual) [SDNT]

SANTACRUZ LONDONO, Jose (a.k.a. “Chepe”; a.k.a. “Don Chepe”; a.k.a. “El Gordo Chepe”; a.k.a. “07”), Cali, Colombia; DOB 1 Oct 1943; Passport AB149814 (Colombia); Cedula No. 14432230 (Colombia) (individual) [SDNT]

SANTAMARINA DE LA TORRE, Rafael Garcia (a.k.a. Alfredo Rafael GARCIA SANTAMARINA DE LA TORRE) Panama (individual) [CUBA]

SANTIC, Vladimir; DOB 1 Apr 1958; POB Donja Veceriska, Bosnia-Herzegovina; ICTY indictee (individual) [BALKANS]

SANTO, Anabel, Avenida Insurgentes Sur No. 421, Bloque B Despacho 404, C.P. 06l00, Mexico, D.F. (individual) [CUBA]

SANTOYO ORTIZ, Nelson, c/o COOPDISAN, Bucaramanga, Colombia; c/o COPSERVIR LTDA., Bucaramanga, Colombia; c/o DROGAS LA REBAJA BUCARAMANGA S.A., Bucaramanga, Colombia; Passport 91290248 (Colombia); Cedula No. 91290248 (Colombia) (individual) [SDNT]

Saqr al-Kabisi abd Aqala (a.k.a. AL-KUBAYSI, Ugla Abid Saqar); DOB 1944; POB Kubaisi, al-Anbar Governorate, Iraq; Ba'th Party Regional Command Chairman, Maysan; nationality Iraqi (individual) [IRAQ][IRAQ2]

SARAC, Ivan; DOB 4 Jun 1968; POB Sokolac, Serbia (individual) [BALKANS]

SARASTI GUERRERO, Rodrigo Jose, Avenida 10 Norte No. 18-35, Cali, Colombia; c/o KESMAN OVERSEAS, Road Town, Tortola, British Virgin Islands; c/o OBURSATILES S.A., Cali, Colombia; c/o ZARATAN CORPORATION, Cali, Colombia; c/o ZARATAN CORPORATION, Road Town, Tortola, British Virgin Islands; DOB 25 Aug 1964, Passport 16699921 (Colombia); Cedula No. 16699921 (Colombia) (individual) [SDNT]

SARMIENTO MARTINEZ, Diana, c/o TAURA S.A., Cali, Colombia; Cedula No. 65698369 (Colombia) (individual) [SDNT]

SAROVIC, Mirko; DOB 16 Sep 1956; POB Rogatica, Serbia (individual) [BALKANS]

SARRIA HOLGUIN, Ramiro Hernan (Robert), Avenida 6N No. 23D-16 of. L301,Cali, Colombia; Carrera 100 No. 11-60 of. 603, AA 20903, Cali, Colombia; c/o INVERSIONES ARA LTDA., Cali, Colombia; c/o INVERSIONES MIGUEL RODRIGUEZ E HIJO, Cali, Colombia; c/o INVERSIONES RODRIGUEZ ARBELAEZ, Cali, Colombia; c/o INVERSIONES RODRIGUEZ MORENO, Cali, Colombia; c/o REPARACIONES Y CONSTRUCCIONES LTDA., Cali, Colombia; c/o VALORES MOBILIARIOS DE OCCIDENTE S.A., Cali, Colombia; Cedula No. 6078583 (Colombia) (individual) [SDNT]

SAUDI, Abdullah Ammar, Manama, Bahrain (individual) [LIBYA]

SAVING AND REAL ESTATE INVESTMENT BANK, P.O. Box 2297, Shoman Street, Fashioum, Tripoli, Libya, (24 branches in Libya) [LIBYA]

SAYADI, Nabil Abdul Salam (a.k.a. ABOU ZEINAB), 69 Rue des Bataves, 1040 Etterbeek, Brussels, Belgium; Vaatjesstraat 29, 2580 Putte, Belgium; DOB 01 Jan 1966; POB Tripoli, Lebanon; National No. 660000 73767 (Belgium); Public Security and Immigration No. 98.805; Passport No. 1091875 (Lebanon) (individual) [SDGT]

SAYARA AL-QUDS (a.k.a. PALESTINE ISLAMIC JIHAD—SHAQAQI FACTION; a.k.a. ABU GHUNAYM SQUAD OF THE HIZBALLAH BAYT AL-MAQDIS; a.k.a. AL-AWDAH BRIGADES; a.k.a. AL-QUDS BRIGADES; a.k.a. AL-QUDS SQUADS; a.k.a. ISLAMIC JIHAD IN PALESTINE; a.k.a. ISLAMIC JIHAD OF PALESTINE; a.k.a. PALESTINIAN ISLAMIC JIHAD; a.k.a. PIJ; a.k.a. PIJ-SHALLAH FACTION; a.k.a. PIJ-SHAQAQI FACTION) [SDT] [FTO][SDGT]

SAZEMAN-E MUJAHEDIN-E KHALQ-E IRAN (a.k.a. MEK; a.k.a. MKO; a.k.a. MUJAHEDIN-E KHALQ ORGANIZATION; a.k.a. MUJAHEDIN-E KHALQ; a.k.a. MUSLIM IRANIAN STUDENT'S SOCIETY; a.k.a. NATIONAL COUNCIL OF RESISTANCE (NCR); a.k.a. NATIONAL COUNCIL OF RESISTANCE OF IRAN; a.k.a. NATIONAL COUNCIL OF RESISTANCE; a.k.a. NCRI; a.k.a. NLA; a.k.a. ORGANIZATION OF THE PEOPLE'S HOLY WARRIORS OF IRAN; a.k.a. PEOPLE'S MUJAHEDIN ORGANIZATION OF IRAN; a.k.a. PMOI; a.k.a. THE NATIONAL LIBERATION ARMY OF IRAN), including its U.S. representative offices and all other offices worldwide [FTO][SDGT]

SCHMITT, Rogerio Eduardo, Praca Pio X, 54-10o Andar, CEP 20091, Rio De Janeiro, Brazil (individual) [IRAQ]

SEBHA FODDER PLANT, Libya [LIBYA]

SEBHA GRAIN MILL, Libya [LIBYA]

SEBHA ROADS AND CONSTRUCTION CO., P.O. Box 92, Sebha, Libya; (branch) P.O. Box 8264, Tripoli, Libya [LIBYA]

SECOURS MONDIAL DE FRANCE (a.k.a. FONDATION SECOURS MONDIAL A.S.B.L.; a.k.a. FONDATION SECOURS MONDIAL—BELGIQUE A.S.B.L.; a.k.a. FONDATION SECOURS MONDIAL—KOSOVA; a.k.a. FONDATION SECOURS MONDIAL VZW; a.k.a. FONDATION SECOURS MONDIAL “WORLD RELIEF;” a.k.a. FSM; a.k.a. GLOBAL RELIEF FOUNDATION, INC.; a.k.a. STICHTING WERELDHULP—BELGIE, V.Z.W.), Rruga e Kavajes, Building No. 3, Apartment No. 61, P.O. Box 2892, Tirana, Albania; Vaatjesstraat, 29, 2580 Putte, Belgium; Rue des Bataves 69, 1040 Etterbeek, Brussels, Belgium; P.O. Box 6, 1040 Etterbeek 2, Brussels, Belgium; Mula Mustafe Baseskije Street No. 72, Sarajevo, Bosnia; Put Mladih Muslimana Street 30/A, Sarajevo, Bosnia; 49 rue du Lazaret, 67100 Strasbourg, France; Rr. Skenderbeu 76, Lagjja Sefa, Gjakova, Kosovo; Ylli Morina Road, Djakovica, Kosovo; House 267 Street No. 54, Sector F-11/4, Islamabad, Pakistan; Saray Cad. No. 37 B Blok, Yesilyurt Apt. 2/4, Sirinevler, Turkey; Afghanistan; Azerbaijan; Bangladesh; Chechnya, Russia; China; Eritrea; Ethiopia; Georgia; India; Ingushetia, Russia; Iraq; Jordan; Kashmir; Lebanon; Sierra Leone; Somalia; Syria; West Bank and Gaza; V.A.T. Number: BE 454,419,759 [SDGT]

SEGUWRA DEL VALLE E.U., Avenida 11N No. 7N-201, Cali, Colombia; NIT # 805016035-8 (Colombia) [SDNT]

SEKERAMAYI, Sidney, Minister of Defense of Zimbabwe; DOB 30 Mar 1944 (individual) [ZIMB]

SELIMI, Rexhep; DOB 15 Mar 1971; POB Iglarevo, Serbia and Montenegro (individual) [BALKANS]

SENANQUE SHIPPING CO. LTD., c/o EMPRESA DE NAVEGACION CARIBE, Edificio Lonja del Comercio, Lamparilla 2, Caja Postal 1784, Havana 1, Cuba [CUBA]

SENDERO LUMINOSO (a.k.a. SHINING PATH; a.k.a. SL; a.k.a. PARTIDO COMUNISTA DEL PERU EN EL SENDERO LUMINOSO DE JOSE CARLOS MARIATEGUI (COMMUNIST PARTY OF PERU ON THE SHINING PATH OF JOSE CARLOS MARIATEGUI); a.k.a. PARTIDO COMUNISTA DEL PERU (COMMUNIST PARTY OF PERU); a.k.a. PCP; a.k.a. SOCORRO POPULAR DEL PERU (PEOPLE'S AID OF PERU); a.k.a. SPP; a.k.a EJERCITO GUERRILLERO POPULAR (PEOPLE'S GUERRILLA ARMY); a.k.a. EGP; a.k.a. EJERCITO POPULAR DE LIBERACION (PEOPLE'S LIBERATION ARMY); a.k.a. EPL) [FTO][SDGT]

SEPULVEDA SEPULVEDA, Manuel Salvador, c/o ALKALA ASOCIADOS S.A., Cali, Colombia; c/o INMOBILIARIA U.M.V. S.A., Cali, Colombia; c/o INVHERESA S.A., Cali, Colombia; Cedula No. 16855038 (Colombia) (individual) [SDNT]

SEPULVEDA ZAPATA, Efrain Hernan, c/o INTERNACIONAL DE DIVISAS S.A., Cali, Colombia; c/o INTERNACIONAL DE DIVISAS S.A., LLC, Miami, Florida, USA; c/o OBURSATILES S.A., Cali, Colombia; c/o SEPULVEDA-IRAGORRI, LTD., Nassau, Bahamas; DOB 21 Mar 1960; Passport 16449272 (Colombia); Cedula No. 16449272 (Colombia) (individual) [SDNT]

SEPULVEDA-IRAGORRI, INC., 4382 Fox Ridge Dr., Weston, Florida 33331, U.S.A.; Business Registration Document # P00000115667 (Florida, U.S.A.); U.S. FEIN: 65-1062397 [BPI-SDNT]

SEPULVEDA-IRAGORRI, LTD., Calle 6 Oeste No. 4-200 apt. 202, Cali, Colombia; Nassau, Bahamas [SDNT]

SERBANA E.U. (a.k.a. SERVICIOS DE LA SABANA E.U.), Carrera 13A No. 89-38 of. 713, Bogota, Colombia; NIT # 830050331-8 (Colombia) [SDNT]

SERNA GOMEZ, Adriana Maria, c/o DROBLAM S.A., Cali, Colombia; DOB 22 Jan 1971; Passport 34600630 (Colombia); Cedula No. 34600630 (Colombia) (individual) [SDNT]

SERNA, Maria Norby, c/o ALKALA ASOCIADOS S.A., Cali, Colombia; c/o INVHERESA S.A., Cali, Colombia; Cedula No. 29475049 (Colombia) (individual) [SDNT]

SERRANO, Jose Delio, c/o DISMERCOOP, Cali, Colombia; Cedula No. 16711205 (Colombia) (individual) [SDNT]

SERRANO SILVA, Luz Esperanza, c/o MAGEN LTDA., Bogota, Colombia; Passport 51822684 (Colombia); Cedula No. 51822684 (Colombia) (individual) [SDNT]

SERVIAUTOS UNO A 1A LIMITADA (a.k.a. DIAGNOSTICENTRO LA GARANTIA), Calle 34 No. 5A-25, Cali, Colombia; Carrera 15 No. 44-68, Cali, Colombia; NIT # 800032413-8 (Colombia) [SDNT]

SERVICIO AEREO DE SANTANDER E.U. (a.k.a. S.A.S. E.U.), Carrera 66 No. 7-31, Bogota, Colombia; NIT # 800543219-8 (Colombia) [SDNT]

SERVICIOS DE LA SABANA E.U. (a.k.a. SERBANA E.U.), Carrera 13A No. 89-38 of. 713, Bogota, Colombia; NIT # 830050331-8 (Colombia) [SDNT]

SERVICIOS FARMACEUTICOS SERVIFAR S.A. (a.k.a. SERVIFAR S.A.), Carrera 4 No. 31-96, Cali, Colombia; NIT # 805003968-8 (Colombia) [SDNT]

SERVICIOS FUTURA LIMITADA (a.k.a. SERVIFUTURA LTDA.), Calle 12B No. 27-39, Bogota, Colombia; Carrera 28 No. 11-65 of. 416, Bogota, Colombia; Carrera 28 No. 11-65 of. 712, Bogota, Colombia; Carrera 70 No. 54-30, Bogota, Colombia; NIT # 830044689-4 (Colombia) [SDNT]

SERVICIOS INMOBILIARIOS LTDA., Carrera 65 No. 13-82, Cali, Colombia; Avenida 2N No. 7N-55 of. 605, Cali, Colombia [SDNT]

SERVICIOS MYRAL E.U., Calle 6 Oeste No. 6-38, Cali, Colombia; Calle 29 Norte No. 6N-43, Cali, Colombia; NIT # 805022419-7 (Colombia) [SDNT]

SERVICIOS SOCIALES LTDA., Barranquilla, Colombia [SDNT]

SERVIFAR S.A. (a.k.a. SERVICIOS FARMACEUTICOS SERVIFAR S.A.), Carrera 4 No. 31-96, Cali, Colombia; NIT # 805003968-8 (Colombia) [SDNT]

SERVIFUTURA LTDA. (a.k.a. SERVICIOS FUTURA LIMITADA), Calle 12B No. 27-39, Bogota, Colombia; Carrera 28 No. 11-65 of. 416, Bogota, Colombia; Carrera 28 No. 11-65 of. 712, Bogota, Colombia; Carrera 70 No. 54-30, Bogota, Colombia; NIT # 830044689-4 (Colombia) [SDNT]

SERVIMPEX, S.A., Panama [CUBA]

SERVINAVES, S.A., Panama [CUBA]

SESELJ, Vojislav; DOB 11 Oct 1954; POB Sarajevo, Bosnia-Herzegovina; ICTY indictee (individual) [BALKANS]

SFZ (a.k.a. SUDANESE FREE ZONES AND MARKETS COMPANY), P.O. Box 1789, Khartoum, Sudan; Chad; Saudi Arabia; Turkey; UAE [SUDAN]

SHAHBANDAR, Samira (a.k.a. CHADIAN); DOB 1946; POB Baghdad, Iraq; nationality Iraqi; wife of Saddam Hussein al-Tikriti (individual) [IRAQ2]

SHALABI, Ismail Abdallah Sbaitan, “last known address,” Wilhelm-Strasse 45, 59269, Beckum, Germany; DOB 30 Apr 1973; POB Beckum, Germany; nationality Jordanian; possible alt. nationality Palestinian; arrested 23 Apr 2002 (individual) [SDGT]

SHALLAH, Dr. Ramadan Abdullah (a.k.a. ABDALLAH, Ramadan; a.k.a. ABDULLAH, Dr. Ramadan; a.k.a. SHALLAH, Ramadan Abdalla Mohamed), Damascus, Syria; Secretary General of the PALESTINIAN ISLAMIC JIHAD; DOB 01 Jan 1958; POB Gaza City, Gaza Strip; SSN 589-17-6824 (U.S.A.); Passport No. 265 216 (Egypt) (individual) [SDT]

SHALLAH, Ramadan Abdalla Mohamed (a.k.a. ABDALLAH, Ramadan; a.k.a. ABDULLAH, Dr. Ramadan; a.k.a. SHALLAH, Dr. Ramadan Abdullah), Damascus, Syria; Secretary General of the PALESTINIAN ISLAMIC JIHAD; DOB 01 Jan 1958; POB Gaza City, Gaza Strip; SSN 589-17-6824 (U.S.A.); Passport No. 265 216 (Egypt) (individual) [SDT]

SHALLOUF, Farag Al Amin, P.O. Box 9575/11, 1st Floor, Piccadily Centre, Hamra Street, Beirut, Lebanon; Vali Conagi Cad. No. 10, 80200 Nisantasi, P.O. Box 380, 802323 Sisli, Istanbul, Turkey (individual) [LIBYA]

SHAMUYARIRA, Nathan, Politburo Secretary for Information and Publicity of Zimbabwe; DOB 29 Sept 1928 (individual) [ZIMB]

SHANAB METALS ESTABLISHMENT (a.k.a. AMIN ABU SHANAB & SONS CO (a.k.a. ABU SHANAB METALS ESTABLISHMENT; a.k.a. TARIQ ABU SHANAB EST.; a.k.a. TARIQ ABU SHANAB EST. FOR TRADE &COMMERCE; a.k.a. TARIQ ABU SHANAB METALS ESTABLISHMENT), Musherfeh, P.O. Box 766, Zarka, Jordan [IRAQ]

SHANAB, Tariq Abu, Musherfeh, P.O. Box 766, Zarka, Jordan (individual) [IRAQ]

SHANSHAL, Abd al-Jabbar Khalil, Minister of State for Military Affairs; DOB 1920; Iraq (individual) [IRAQ]

SHAQAQI, Fathi; Secretary General of PALESTINIAN ISLAMIC JIHAD—SHIQAQI (individual) [SDT]

SHAQIRI, Shaqir; DOB 1 Sep 1964; POB Serbia and Montenegro (individual) [BALKANS]

SHAQIRI, Xhezair; DOB 15 May 1965; POB Tanusevci, Macedonia (individual) [BALKANS]

SHARAABI, Tarek (a.k.a. CHARAABI, Tarek), Viale Bligny n.42, Milano, Italy; DOB 31 Mar 1970; POB Tunisia; Italian Fiscal Code: CHRTRK70C31Z352U (individual) [SDGT]

SHARIF, Bashir M., Dat El Imad Administrative Complex Tower No. 2, P.O. Box 2542, Tripoli, Libya (individual) [LIBYA]

SHARIF, Bashir M., Vali Konagi Cad. No. 10, 80200 Nistantas, Istanbul, Turkey (individual) [LIBYA]

SHARPER S.A., Calle 17A No. 28A-43, Bogota, Colombia; Calle 12B No. 28-58, Bogota, Colombia; Calle 12B No. 28-70, Bogota, Colombia; Calle 16 No. 28A-42, Bogota, Colombia; Calle 16 No. 28A-57, Bogota, Colombia; NIT # 830026833-2 (Colombia) [SDNT]

SHARVET S.A., Calle 12B No. 28-70, Bogota, Colombia; NIT # 830050743-9 (Colombia) [SDNT]

SHELL PETROLEUM DEVELOPMENT CO. OF LIBYA, P.O. Box 1420, Benghazi, Libya [LIBYA]

SHEREIK MICA MINES COMPANY (a.k.a. SHEREIK MICA PROJECT), c/o SUDANESE MINING CORPORATION, P.O. Box 1034, Khartoum, Sudan [SUDAN]

SHEREIK MICA PROJECT (a.k.a. SHEREIK MICA MINES COMPANY), c/o SUDANESE MINING CORPORATION, P.O. Box 1034, Khartoum, Sudan [SUDAN]

SHERLALA, Kassem M., P.O. Box 2438, Usama Bldg., 1st September Street, Tripoli, Libya (individual) [LIBYA]

SHIEB, Ahmed (a.k.a. ALI, Ahmed Mohammed Hamed; a.k.a. ABDUREHMAN, Ahmed Mohammed; a.k.a. ABU FATIMA; a.k.a. ABU ISLAM; a.k.a. ABU KHADIIJAH; a.k.a. AHMED HAMED; a.k.a. Ahmed The Egyptian; a.k.a. AHMED, Ahmed; a.k.a. AL-MASRI, Ahmad; a.k.a. AL-SURIR, Abu Islam; a.k.a. ALI, Ahmed Mohammed; a.k.a. ALI, Hamed; a.k.a. HEMED, Ahmed; a.k.a. SHUAIB), Afghanistan; DOB 1965; POB Egypt; citizen Egypt (individual) [SDGT]

SHIHATA, Thirwat Salah (a.k.a. ABDALLAH, Tarwat Salah; a.k.a. THIRWAT, Salah Shihata; a.k.a. THIRWAT, Shahata); DOB 29 Jun 60; POB Egypt (individual) [SDGT]

SHINING PATH (a.k.a. SENDERO LUMINOSO; a.k.a. SL; a.k.a. PARTIDO COMUNISTA DEL PERU EN EL SENDERO LUMINOSO DE JOSE CARLOS MARIATEGUI (COMMUNIST PARTY OF PERU ON THE SHINING PATH OF JOSE CARLOS MARIATEGUI); a.k.a. PARTIDO COMUNISTA DEL PERU (COMMUNIST PARTY OF PERU); a.k.a. PCP; a.k.a. SOCORRO POPULAR DEL PERU (PEOPLE'S AID OF PERU); a.k.a. SPP; a.k.a EJERCITO GUERRILLERO POPULAR (PEOPLE'S GUERRILLA ARMY); a.k.a. EGP; a.k.a. EJERCITO POPULAR DE LIBERACION (PEOPLE'S LIBERATION ARMY); a.k.a. EPL) [FTO][SDGT]

SHIPLEY SHIPPING CORP., Panama [CUBA]

SHIRI, Perence, Zimbabwean Air Marshal (Air Force); DOB 11 Jan 1955 (individual) [ZIMB]

SHOFESO, Olatude I. (a.k.a. ADEMULERO, Babestan Oluwole; a.k.a. BABESTAN, Wole A.; a.k.a. OGUNGBUYI, Oluwole A.; a.k.a. OGUNGBUYI, Wally; a.k.a. OGUNGBUYI, Wole A.; a.k.a. SHOFESO, Olatunde Irewole), DOB 4 Mar 1953; POB Nigeria (individual) [SDNTK]

SHOFESO, Olatunde Irewole (a.k.a. ADEMULERO, Babestan Oluwole; a.k.a. BABESTAN, Wole A.; a.k.a. OGUNGBUYI, Oluwole A.; a.k.a. OGUNGBUYI, Wally; a.k.a. OGUNGBUYI, Wole A.; a.k.a. SHOFESO, Olatude I.), DOB 4 Mar 1953; POB Nigeria (individual) [SDNTK]

SHOFESO, Olatutu Temitope (a.k.a. BABESTAN, Abeni O.; a.k.a. OGUNGBUYI, Abeni O.), DOB 30 Jun 1952; POB Nigeria (individual) [SDNTK]

SHUAIB (a.k.a. ALI, Ahmed Mohammed Hamed; a.k.a. ABDUREHMAN, Ahmed Mohammed; a.k.a. ABU FATIMA; a.k.a. ABU ISLAM; a.k.a. ABU KHADIIJAH; a.k.a. AHMED HAMED; a.k.a. Ahmed The Egyptian; a.k.a. AHMED, Ahmed; a.k.a. AL-MASRI, Ahmad; a.k.a. AL-SURIR, Abu Islam; a.k.a. ALI, Ahmed Mohammed; a.k.a. ALI, Hamed; a.k.a. HEMED, Ahmed; a.k.a. SHIEB, Ahmed), Afghanistan; DOB 1965; POB Egypt; citizen Egypt (individual) [SDGT]

SHUFAAT, Yazid (a.k.a. BIN SUFAAT, Yazud; a.k.a. SUFAAT, Yazid); DOB 20 Jan 1964; POB Johor, Malaysia; nationality Malaysian; Passport No. A10472263 (Malaysia) (individual) [SDGT]

SHUMBA, Isaiah, Deputy Minister, Education, Sports and Culture of Zimbabwe; DOB 3 Jan 1949 (individual) [ZIMB]

SIALA, Mohamed Taher Hammuda, Tripoli, Libya (individual) [LIBYA]

SIBONEY INTERNACIONAL, S.A., Edificio Balmoral, 82 Via Argentina, Panama City, Panama [CUBA]

SIBONEY INTERNACIONAL, S.A., Venezuela [CUBA]

SIEIRO DE NORIEGA, Felicidad, Panama (individual) [CUBA]

SIERRA RAMIREZ, Juan Carlos; DOB 15 Apr 1966; Cedula No. 71680143 (Colombia) (individual) [SDNTK]

SIKIRICA, Dusko; DOB 23 Mar 1964; POB Cirkin Pojle, Bosnia-Herzegovina; ICTY indictee (individual) [BALKANS]

SIKOSANA, Absolom, Politburo Secretary for Youth Affairs of Zimbabwe (individual) [ZIMB]

SILAMNIA (a.k.a. PUBLIC SAFETY COMMODITY IMPORTING CO.), P.O. Box 12942, Tripoli, Libya [LIBYA]

SILOS AND STORAGE CORPORATION, P.O. Box 1183, Khartoum, Sudan [SUDAN]

SIM, Gilberto F., Praca Pio X, 54-10o Andar, CEP 20091, Rio De Janeiro, Brazil (individual) [IRAQ]

SIMATOVIC, Franko “Frenki;” DOB 1 Apr 1950; POB Belgrade, Serbia and Montenegro, ICTY indictee in Serb custody (individual) [BALKANS]

SIMIC, Blagoje; DOB 1 Jul 1960; POB Kruskovo Polje; ICTY indictee in custody (individual) [BALKANS]

SIMIC, Milan; DOB 9 Aug 1960; POB Sarajevo, Bosnia-Herzegovina; ICTY indictee (individual) [BALKANS]

SINABUL (a.k.a. AL SANABIL; a.k.a. AL-SANBAL; a.k.a. ASANABIL; a.k.a. JA'MIA SANBLE LLAGHATHA WA ALTINMIA; a.k.a. JAMI'A SANABIL; a.k.a. JAMI'A SANABIL LIL IGATHA WA AL-TANMIYZ; a.k.a. SANABAL; a.k.a. SANABEL; a.k.a. SANABIL; a.k.a. SANABIL AL-AQSA; a.k.a. SANABIL ASSOCIATION FOR RELIEF AND DEVELOPMENT; a.k.a. SANABIL FOR AID AND DEVELOPMENT; a.k.a. SANABIL FOR RELIEF AND DEVELOPMENT; a.k.a. SANABIL GROUP FOR RELIEF AND DEVELOPMENT; a.k.a. SANIBAL; a.k.a. SANNABIL; a.k.a. SANNIBIL), Sidon, Lebanon [SDGT]

SIREGAR, Parlin (a.k.a. SIREGAR, Parlindungan; a.k.a. SIREGAR, Saleh Parlindungan); DOB 25 Apr 1957; alt. DOB 25 Apr 1967; POB Indonesia; nationality Indonesian (individual) [SDGT]

SIREGAR, Parlindungan (a.k.a. SIREGAR, Parlin; a.k.a. SIREGAR, Saleh Parlindungan); DOB 25 Apr 1957; alt. DOB 25 Apr 1967; POB Indonesia; nationality Indonesian (individual) [SDGT]

SIREGAR, Saleh Parlindungan (a.k.a. SIREGAR, Parlin; a.k.a. SIREGAR, Parlindungan); DOB 25 Apr 1957; alt. DOB 25 Apr 1967; POB Indonesia; nationality Indonesian (individual) [SDGT]

SIRM HOLDING S.R.L., Rome, Italy [LIBYA]

SIRTE OIL CO. FOR PRODUCTION MANUFACTURING OIL & GAS MARSA EL BREGA (a.k.a. SIRTE OIL COMPANY), P.O. Box 2582, Tripoli, Libya [LIBYA]

SIRTE OIL CO. FOR PRODUCTION MANUFACTURING OIL & GAS MARSA EL BREGA (a.k.a. SIRTE OIL COMPANY), P.O. Box 385, Tripoli, Libya [LIBYA]

SIRTE OIL CO. FOR PRODUCTION MANUFACTURING OIL & GAS MARSA EL BREGA (a.k.a. SIRTE OIL COMPANY), Benghazi, Libya [LIBYA]

SIRTE OIL CO. FOR PRODUCTION MANUFACTURING OIL & GAS MARSA EL BREGA (a.k.a. SIRTE OIL COMPANY), Sirte Field, Libya [LIBYA]

SIRTE OIL CO. FOR PRODUCTION MANUFACTURING OIL & GAS MARSA EL BREGA (a.k.a. SIRTE OIL COMPANY), Marsa El Brega, Libya [LIBYA]

SIRTE OIL COMPANY (a.k.a. SIRTE OIL CO. FOR PRODUCTION MANUFACTURING OIL & GAS MARSA EL BREGA), Benghazi, Libya [LIBYA]

SIRTE OIL COMPANY (a.k.a. SIRTE OIL CO. FOR PRODUCTION MANUFACTURING OIL & GAS MARSA EL BREGA), P.O. Box 385, Tripoli, Libya [LIBYA]

SIRTE OIL COMPANY (a.k.a. SIRTE OIL CO. FOR PRODUCTION MANUFACTURING OIL & GAS MARSA EL BREGA), Marsa El Brega, Libya [LIBYA]

SIRTE OIL COMPANY (a.k.a. SIRTE OIL CO. FOR PRODUCTION MANUFACTURING OIL & GAS MARSA EL BREGA), Sirte Field, Libya [LIBYA]

SIRTE OIL COMPANY (a.k.a. SIRTE OIL CO. FOR PRODUCTION MANUFACTURING OIL & GAS MARSA EL BREGA), P.O. Box 2582, Tripoli, Libya [LIBYA]

SISETEC (a.k.a. SISTEMAS Y SERVICIOS TECNICOS EMPRESA UNIPERSONAL), Calle 29 Norte No. 6N-43, Cali, Colombia; NIT # 805013420-7 (Colombia) [SDNT]

SISON, Jose Maria (a.k.a. LIWINAG, Armando), The Netherlands; DOB 8 Feb 1938; POB Llocos Sur, Northern Luzon, Philippines (individual) [SDGT]

SISTEMAS INTEGRALES DEL VALLE LTDA. (a.k.a. SISVA LTDA.), Avenida 4 Norte No. 6N-67 of. 610, Cali, Colombia; NIT # 805006032-3 (Colombia) [SDNT]

SISTEMAS Y SERVICIOS TECNICOS EMPRESA UNIPERSONAL (a.k.a. SISETEC), Calle 29 Norte No. 6N-43, Cali, Colombia; NIT # 805013420-7 (Colombia) [SDNT]

SISVA LTDA. (a.k.a. SISTEMAS INTEGRALES DEL VALLE LTDA.), Avenida 4 Norte No. 6N-67 of. 610, Cali, Colombia; NIT # 805006032-3 (Colombia) [SDNT]

SL (a.k.a. SENDERO LUMINOSO; a.k.a. SHINING PATH; a.k.a. PARTIDO COMUNISTA DEL PERU EN EL SENDERO LUMINOSO DE JOSE CARLOS MARIATEGUI (COMMUNIST PARTY OF PERU ON THE SHINING PATH OF JOSE CARLOS MARIATEGUI); a.k.a. PARTIDO COMUNISTA DEL PERU (COMMUNIST PARTY OF PERU); a.k.a. PCP; a.k.a. SOCORRO POPULAR DEL PERU (PEOPLE'S AID OF PERU); a.k.a. SPP; a.k.a EJERCITO GUERRILLERO POPULAR (PEOPLE'S GUERRILLA ARMY); a.k.a. EGP; a.k.a. EJERCITO POPULAR DE LIBERACION (PEOPLE'S LIBERATION ARMY); a.k.a. EPL) [FTO][SDGT]

SLAHI, Mahamedou Ould (a.k.a. ABU HAFS THE MAURITANIAN; a.k.a. AL-SHANQITI, Khalid; a.k.a. AL-WALID, Mafouz Walad; a.k.a. AL-WALID, Mahfouz Ould); DOB 1 Jan 75 (individual) [SDGT]

SLJIVANCANIN, Veselin; DOB 13 Jun 1953; POB Zabljak, Serbia and Montenegro; ICTY indictee at large (individual) [BALKANS]

SMIP (a.k.a. SOCIETE MAGHREBINE D'INVESTISSEMENT ET DE PARTICIPATION), 47, Avenue Kheireddine Pacha, 1002 Tunis, Tunisia [LIBYA]

SMITH CORTES, Jorge Emilio, c/o MAPRI DE COLOMBIA LTDA., Bogota, Colombia; Passport 19323175 (Colombia); Cedula No. 19323175 (Colombia) (individual) [SDNT]

SOCIALIST EST. FOR SPINNING AND WEAVING, Zanzour Km. 15, P.O. Box 30186, Tripoli, Libya; (branch) P.O. Box 852, Benghazi, Libya [LIBYA]

SOCIEDAD COMERCIAL Y DEPORTIVA LTDA., Carrera 34 Diag. 29-86 Estadio Pascual Guerrero, Cali, Colombia; Carrera 34 Diag. 29-05, Cali, Colombia; Carrera 34 Diagonal 29 Estadio, Cali, Colombia; NIT # 800141329-4 (Colombia) [SDNT]

SOCIEDAD CONSTRUCTORA LA CASCADA S.A. (n.k.a. CONSTRUCCIONES ASTRO S.A.; f.k.a. CONSTRUCTORA CASCADA), Apartado Aereo 10077, Cali, Colombia; Calle 1A 62A-120, Cali, Colombia; Calle 1A 62A-120 B2 108, Cali, Colombia; Calle 1A 62A-120 2305, Cali, Colombia; Calle 1A 62A-120 2418, Cali, Colombia; Calle 1A 62A-120 4114, Cali, Colombia; Calle 1A 62A-120 6245, Cali, Colombia; Calle 13 3-22 piso 12 y piso 14, Cali, Colombia; Carrera 4 No. 12-41 of. 1401, Cali, Colombia; Carrera 4 No. 12-41 of. 1402, Edificio Seguros Bolivar, Cali, Colombia; Carrera 4 No. 12-41 of. 1403, Cali, Colombia; Carrera 64 1C-63, Cali, Colombia; Carrera 64 1B-83, Cali, Colombia; NIT # 890307311-4 (Colombia) [SDNT]

SOCIEDAD CONSTRUCTORA Y ADMINISTRADORA DEL VALLE LTDA. (a.k.a. SOCOVALLE LTDA.), Avenida 2N No. 7N-55 of. 601-602, Cali, Colombia [SDNT]

SOCIEDAD DE COMERCIALIZACION INTERNACIONAL POSEIDON S.A. (a.k.a. C.I. POSEIDON S.A.; f.k.a. C.I. COMERCIALIZADORA INTERNACIONAL POSEIDON S.A.), Calle 79 Sur No. 48B-56, Sabaneta, Antioquia, Colombia; NIT # 800173090-7 (Colombia) [SDNTK]

SOCIEDAD INVERSORA EN PROYECTOS DE INTERNET, S.A., Calle Segre 25, 28002 Madrid, Spain [SDNT]

SOCIETA COMMERCIA MINERALI E METTALLI, SRL (a.k.a. SOCOMET, SPA), Milan, Italy [CUBA]

SOCIETE AGRICOLE TOGOLAISE ARABE LIBYENNE, Lome, Togo [LIBYA]

SOCIETE ARABE LIBYENNE MALIENNE POUR L'AGRICULTURE ET L'ELEVAGE (a.k.a. SOLIMA), Bamako, Mali [LIBYA]

SOCIETE ARABE LIBYENNE MAURITANIENNE DES RESSOURCES MARITIMES (a.k.a. SALIMAUREM), Nouadhibou, Mauritania [LIBYA]

SOCIETE ARABE LIBYENNE-CENTRAFRICAINE D'IMPORT-EXPORT, Bangui, Central African Republic [LIBYA]

SOCIETE ARABE LIBYO-GUINEENNE POUR LE DEVELOPPEMENT AGRICOLE ET AGRO-INDUSTRIEL (a.k.a. SALGUIDIA), Conakry, Guinea [LIBYA]

SOCIETE ARABE LIBYO-NIGERE POUR LE DEVELOPPEMENT ET LA COMMERCIALISATION DES PRODUITS AGRICOLES, Niamey, Niger [LIBYA]

SOCIETE ARABE LIBYO-TUNISIENNE DE TRANSPORT MARITIME, Tunis, Tunisia [LIBYA]

SOCIETE D'ECONOMIE MIXTE CENTRE AFRICAINE LIBYENNE DES PRODUITS AGRICOLES, Bangui, Central African Republic [LIBYA]

SOCIETE DE RECHERCHE ET D'EXPLOITATION COMMUNE ET DE SERVICE PETROLIERE (a.k.a. JOINT EXPLORATION, EXPLOITATION AND PETROLEUM SERVICES COMPANY; a.k.a. JOINT OIL; a.k.a. JOINT OIL TUNISIA; a.k.a. LIBYA-TUNISIAN EXPLORATION COMPANY), Planning & Logistic Group complex, Port of Zarzis, Tunisia [LIBYA]

SOCIETE DE RECHERCHE ET D'EXPLOITATION COMMUNE ET DE SERVICE PETROLIERE (a.k.a. JOINT EXPLORATION, EXPLOITATION AND PETROLEUM SERVICES COMPANY; a.k.a. JOINT OIL; a.k.a. JOINT OIL TUNISIA; a.k.a. LIBYAN-TUNISIAN EXPLORATION COMPANY), 7th of November offshore field, Gulf of Gabes [LIBYA]

SOCIETE DE RECHERCHE ET D'EXPLOITATION COMMUNE ET DE SERVICE PETROLIERE (a.k.a. JOINT EXPLORATION, EXPLOITATION AND PETROLEUM SERVICES COMPANY; a.k.a. JOINT OIL; a.k.a. JOINT OIL TUNISIA; a.k.a. LIBYAN-TUNISIAN EXPLORATION COMPANY), B.P. Houmt Souk 4180, Djerba Island, Tunisia [LIBYA]

SOCIETE INTERAFFRICAINE DU BANQUE (a.k.a. BALTEX; a.k.a. BANQUE ARABE LIBYENNE TOGOLAISE DU COMMERCE EXTERIEUR), P.O. Box 4874, Lome, Togo [LIBYA]

SOCIETE LIBYENNE CENTRE AFRICAINE DES MINES, Bangui, Central African Republic [LIBYA]

SOCIETE MAGHREBINE D'INVESTISSEMENT ET DE PARTICIPATION (a.k.a. SMIP), 47, Avenue Kheireddine Pacha, 1002 Tunis, Tunisia [LIBYA]

SOCIETE MIXTE RWANDO ARABE LIBYENNE POUR LE DEVELOPPEMENT ET LA COMMERCIALISATION DES PRODUTS AGRICOLES ET D'ELEVAGE, Kigali, Rwanda [LIBYA]

SOCIETE MIXTE RWANDO-ARABE LIBYENNE DE PROMOTION HOTELIERE ET TOURISTIQUE AU RWANDA, Kigali, Rwanda [LIBYA]

SOCIETE TOGOLAISE ARABE LIBYENNE DE PECHE, Lome, Togo [LIBYA]

SOCIETY OF ISLAMIC COOPERATION (a.k.a. JAM'IYAT AL TA'AWUN AL ISLAMIYYA; a.k.a. JAM'YAH TA'AWUN AL-ISLAMIA; a.k.a. JIT), Qandahar City, Afghanistan [SDGT]

SOCIR S.A. (a.k.a. COMERCIALIZADORA OROBANCA), Calle 36A No. 3GN-07 of. 302, Edificio El Parque, Cali, Colombia; Calle 22N No. 5A-75 of. 702, Edificio Via Veneto, Cali, Colombia [SDNT]

SOCOMET, SPA (a.k.a. SOCIETA COMMERCIA MINERALI E METALLI, SRL), Milan, Italy [CUBA]

SOCORRO POPULAR DEL PERU (PEOPLE'S AID OF PERU) (a.k.a. SENDERO LUMINOSO; a.k.a. SL; a.k.a. PARTIDO COMUNISTA DEL PERU EN EL SENDERO LUMINOSO DE JOSE CARLOS MARIATEGUI (COMMUNIST PARTY OF PERU ON THE SHINING PATH OF JOSE CARLOS MARIATEGUI); a.k.a. PARTIDO COMUNISTA DEL PERU (COMMUNIST PARTY OF PERU); a.k.a. PCP; a.k.a. SHINING PATH; a.k.a. SPP; a.k.a EJERCITO GUERRILLERO POPULAR (PEOPLE'S GUERRILLA ARMY); a.k.a. EGP; a.k.a. EJERCITO POPULAR DE LIBERACION (PEOPLE'S LIBERATION ARMY); a.k.a. EPL) [FTO][SDGT]

SOCOVALLE LTDA. (a.k.a. SOCIEDAD CONSTRUCTORA Y ADMINISTRADORA DEL VALLE LTDA.), Avenida 2N No. 7N-55 of. 601-602, Cali, Colombia [SDNT]

SOKTAR (a.k.a. JARACO S.A.; f.k.a. TRADACO S.A.), 45 Route de Frontenex, CH-1207 Geneva, Switzerland [IRAQ]

SOLAQUE SANCHEZ, Alfredo Alfonso, c/o ALFA PHARMA S.A., Bogota, Colombia; c/o DISTRIBUIDORA DE DROGAS CONDOR S.A., Bogota, Colombia; c/o LABORATORIOS BLAIMAR DE COLOMBIA S.A., Bogota, Colombia; c/o LABORATORIOS KRESSFOR DE COLOMBIA S.A., Bogota, Colombia; c/o PENTACOOP LTDA., Bogota, Colombia; c/o PENTA PHARMA DE COLOMBIA S.A., Bogota, Colombia; Cedula No. 79261845 (Colombia) (individual) [SDNT]

SOLIMA (a.k.a. SOCIETE ARABE LIBYENNE MALIENNE POUR L'AGRICULTURE ET L'ELEVAGE), Bamako, Mali [LIBYA]

SOM NET AB (a.k.a. SOMALI NETWORK AB), Hallbybacken 15, Spanga 70, Sweden [SDGT]

SOMALI INTERNATIONAL RELIEF ORGANIZATION, 1806 Riverside Ave., 2nd Floor, Minneapolis, Minnesota, U.S.A. [SDGT]

SOMALI INTERNET COMPANY, Mogadishu, Somalia [SDGT]

SOMALI NETWORK AB (a.k.a. SOM NET AB), Hallbybacken 15, Spanga 70, Sweden [SDGT]

SONAR F.M. E.U. DIETER MURRLE (a.k.a. FIESTA STEREO 91.5 F.M.; a.k.a. PRISMA STEREO 89.5 F.M.), Calle 15 Norte No. 6N-34 of. 1003, Cali, Colombia; Calle 43A No. 1-29 Urb. Sta. Maria del Palmar, Palmira, Colombia; NIT # 805006273-1 (Colombia) [SDNT]

SONAR F.M. S.A. (f.k.a. COLOR STEREO S.A.; f.k.a. COLOR'S S.A.; f.k.a. RADIO UNIDAS FM S.A.), Calle 15 Norte No. 6N-34 piso 15 Edificio Alcazar, Cali, Colombia; Calle 19N No. 2N-29 piso 10 Sur, Cali, Colombia; NIT # 800163602-5 (Colombia) [SDNT]

SOPTA, Stanko; DOB 4 Feb 1966; POB Duzice, Bosnia-Herzegovina (individual) [BALKANS]

SORAYA Y HAYDEE LTDA., Calle 15 Norte No. 6N-34, Piso 15, Cali, Colombia; NIT # 805000643-6 (Colombia) [SDNT]

SORMAN FODDER PLANT, Libya [LIBYA]

SOSA RIOS, Diego Alberto (a.k.a. SOSSA RIOS, Diego Alberto), Calle 46 No. 13-56 of. 111, Bogota, Colombia; c/o BONOMERCAD S.A., Bogota, Colombia; c/o COMEDICAMENTOS S.A., Bogota, Colombia; c/o DECAFARMA S.A., Bogota, Colombia; c/o DISTRIBUIDORA AGROPECUARIA COLOMBIANA S.A., Cali, Colombia; c/o FARMACOOP, Bogota, Colombia; c/o GLAJAN S.A., Bogota, Colombia; c/o INVERSIONES BOMBAY S.A., Bogota, Colombia; c/o PENTAPHARMA DE COLOMBIA S.A., Bogota, Colombia; c/o SHARPER S.A., Bogota, Colombia; Cedula No. 71665932 (Colombia) (individual) [SDNT]

SOSSA RIOS, Diego Alberto (a.k.a. SOSA RIOS, Diego Alberto), Calle 46 No. 13-56 of. 111, Bogota, Colombia; c/o BONOMERCAD S.A., Bogota, Colombia; c/o COMEDICAMENTOS S.A., Bogota, Colombia; c/o DECAFARMA S.A., Bogota, Colombia; c/o DISTRIBUIDORA AGROPECUARIA COLOMBIANA S.A., Cali, Colombia; c/o FARMACOOP, Bogota, Colombia; c/o GLAJAN S.A., Bogota, Colombia; c/o INVERSIONES BOMBAY S.A., Bogota, Colombia; c/o PENTAPHARMA DE COLOMBIA S.A., Bogota, Colombia; c/o SHARPER S.A., Bogota, Colombia; Cedula No. 71665932 (Colombia) (individual) [SDNT]

SOTO CELIS, Oscar, c/o COPSERVIR LTDA., Bogota, Colombia; Cedula No. 16546889 (Colombia) (individual) [SDNT]

SOTO GUTIERREZ, Hernan, c/o INVERSIONES ARIO LTDA, Cali, Colombia (individual) [SDNT]

SOTO PACHECO, Armando, c/o FARMA 3.000 LIMITADA, Barranquilla, Colombia; DOB 21 Sep 1966; Passport 10124018 (Colombia); Cedula No. 10124018 (Colombia) (individual) [SDNT]

SOUK EL KHAMIS CEMENT CO., Libya [LIBYA]

SOUK EL KHAMIS GENERAL CEMENT AND BUILDING MATERIALS CORP., Tarhuna, Sharia Bou Harida, P.O. Box 1084, Tripoli, Libya [LIBYA]

SOUK EL KHAMIS LIME FACTORY, Libya [LIBYA]

SOUSA SHIPPING AND STEVEDORING EST., P.O. Box 2973, Benghazi, Libya [LIBYA]

SOUTH ISLAND SHIPPING CO. LTD., c/o EMPRESA DE NAVEGACION MAMBISA, Apartado 543, San Ignacio 104, Havana, Cuba [CUBA]

SOUZA, Francisco Antonio, Praca Pio X, 54-10o Andar, CEP 20091, Rio De Janeiro, Brazil (individual) [IRAQ]

SPASOJEVIC, Dragon, Bosnia-Herzegovina; DOB 5 Jul 1965; National ID No. 050 796 318 3954 (individual) [BALKANS]

SPECKMAN, Jeanine, England (individual) [IRAQ]

SPINNING AND WEAVING CORPORATION, P.O. Box 795, Khartoum, Sudan [SUDAN]

SPP (a.k.a. SENDERO LUMINOSO; a.k.a. SL; a.k.a. PARTIDO COMUNISTA DEL PERU EN EL SENDERO LUMINOSO DE JOSE CARLOS MARIATEGUI (COMMUNIST PARTY OF PERU ON THE SHINING PATH OF JOSE CARLOS MARIATEGUI); a.k.a. PARTIDO COMUNISTA DEL PERU (COMMUNIST PARTY OF PERU); a.k.a. PCP; a.k.a. SOCORRO POPULAR DEL PERU (PEOPLE'S AID OF PERU); a.k.a. SHINING PATH; a.k.a EJERCITO GUERRILLERO POPULAR (PEOPLE'S GUERRILLA ARMY); a.k.a. EGP; a.k.a. EJERCITO POPULAR DE LIBERACION (PEOPLE'S LIBERATION ARMY); a.k.a. EPL) [FTO][SDGT]

SRC (a.k.a. SUDAN RAILWAYS CORPORATION), P.O. Box 43, Bara, Sudan; Babanousa, Sudan; Khartoum, Sudan; Kosti, Sudan; Port Sudan, Sudan [SUDAN]

SRDC (a.k.a. SUDAN RURAL DEVELOPMENT COMPANY LIMITED), P.O. Box 2190, Khartoum, Sudan [SUDAN]

STAKIC, Milomir; DOB 19 Jun 1962; POB Maricka, Bosnia-Herzegovina; ICTY indictee (individual) [BALKANS]

STANDWEAR SHIPPING CO. LTD., c/o EMPRESA DE NAVEGACION MAMBISA, Apartado 543, San Ignacio 104, Havana, Cuba [CUBA]

STANISIC, Jovica; DOB 30 Jul 1950; POB Ratkovo, Serbia and Montenegro, ICTY indictee in Serb custody (individual) [BALKANS]

STANKOVIC, Radovan; DOB 10 Mar 1953; POB Trebica, Bosnia-Herzegovina; ICTY indictee in custody (individual) [BALKANS]

STATE CORPORATION FOR CINEMA, P.O. Box 6028, Khartoum, Sudan [SUDAN]

STATE OF JUDEA (a.k.a. AMERICAN FRIENDS OF THE UNITED YESHIVA MOVEMENT; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH LEGION; a.k.a. JUDEA POLICE; a.k.a. JUDEAN CONGRESS; a.k.a. KACH; a.k.a. KAHANE CHAI; a.k.a. KAHANE LIVES; a.k.a. KAHANE TZADAK; a.k.a. KAHANE.NET; a.k.a. KAHANE.ORG; a.k.a. KAHANE; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [SDT][FTO][SDGT]

STATE PEACE AND DEVELOPMENT COUNCIL OF BURMA [BURMA]

STATE TRADING COMPANY (a.k.a. STATE TRADING CORPORATION), P.O. Box 211, Khartoum, Sudan [SUDAN]

STATE TRADING CORPORATION (a.k.a. STATE TRADING COMPANY), P.O. Box 211, Khartoum, Sudan [SUDAN]

STAVROU, Stavros, Cyprus; DOB 23 Oct 1959 (individual) [LIBYA]

STEPANOVIC, Novak; DOB 25 Apr 1966; POB Srebrenica, Bosnia-Herzegovina (individual) [BALKANS]

STERN, Alfred Kaufman, Prague, Czech Republic (individual) [CUBA]

STG. BENEVOLENCE INTERNATIONAL NEDERLAND (a.k.a. BENEVOLENCE INTERNATIONAL NEDERLAND; a.k.a. STICHTING BENEVOLENCE INTERNATIONAL NEDERLAND), Radeborg 14 B, 6228CV Maastricht, Netherlands; Postbus 1149, 6201BC Maastricht, Netherlands; Registration No. 14063277 [SDGT]

STICHTING AL-AQSA (a.k.a. AL-AQSA (ASBL); a.k.a. AL-AQSA SPANMAL STIFTELSE; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. SWEDISH CHARITABLE AQSA EST.), BD Leopold II 71, 1080 Brussels, Belgium [SDGT]

STICHTING AL-AQSA (a.k.a. AL-AQSA E.V.; a.k.a. AL-AQSA SPANMAL STIFTELSE; a.k.a. AL-AQSA ASBL; a.k.a. AL-AQSA CHARITABLE FOUNDATION; a.k.a. AL-AQSA CHARITABLE ORGANIZATION; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. SWEDISH CHARITABLE AQSA EST.), Kappellenstrasse 36, D-52066, Aachen, Germany [SDGT]

STICHTING AL-AQSA (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. SWEDISH CHARITABLE AQSA EST.), Nobelvagen 79 NB, 21433 Malmo, Sweden; Noblev 79 NB, 21433 Malmo, Sweden [SDGT]

STICHTING AL-AQSA (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. SWEDISH CHARITABLE AQSA EST.), P.O. Box 421082, 2nd Floor, Amoco Gardens, 40 Mint Road, Fordsburg 2033, Johannesburg, South Africa; P.O. Box 421083, 2nd Floor, Amoco Gardens, 40 Mint Road, Fordsburg 2033, Johannesburg, South Africa [SDGT]

STICHTING AL-AQSA (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. SWEDISH CHARITABLE AQSA EST.), P.O. Box 2364, Islamabad, Pakistan [SDGT]

STICHTING AL-AQSA (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. SWEDISH CHARITABLE AQSA EST.) [SDGT]

STICHTING AL-AQSA (a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. SWEDISH CHARITABLE AQSA EST.), Gerrit V/D Lindestraat 103 E, 03022 TH, Rotterdam, Holland; Gerrit V/D Lindestraat 103 A, 3022 TH, Rotterdam, Holland [SDGT]

STICHTING AL-AQSA (a.k.a. AQSSA SOCIETY YEMEN; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. SWEDISH CHARITABLE AQSA EST.), P.O. Box 14101, San'a, Yemen [SDGT]

STICHTING AL-AQSA (a.k.a. FORENINGEN AL-AQSA; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. SWEDISH CHARITABLE AQSA EST.), P.O. Box 6222200KBKN, Copenhagen, Denmark [SDGT]

STICHTING BENEVOLENCE INTERNATIONAL NEDERLAND (a.k.a. BENEVOLENCE INTERNATIONAL NEDERLAND; a.k.a. STG. BENEVOLENCE INTERNATIONAL NEDERLAND), Radeborg 14 B, 6228CV Maastricht, Netherlands; Postbus 1149, 6201BC Maastricht, Netherlands; Registration No. 14063277 [SDGT]

STICHTING WERELDHULP—BELGIE, V.Z.W. (a.k.a. FONDATION SECOURS MONDIAL A.S.B.L.; a.k.a. FONDATION SECOURS MONDIAL—BELGIQUE A.S.B.L.; a.k.a. FONDATION SECOURS MONDIAL—KOSOVA; a.k.a. FONDATION SECOURS MONDIAL VZW; a.k.a. FONDATION SECOURS MONDIAL “WORLD RELIEF;” a.k.a. FSM; a.k.a. GLOBAL RELIEF FOUNDATION, INC.; a.k.a. SECOURS MONDIAL DE FRANCE), Rruga e Kavajes, Building No. 3, Apartment No. 61, P.O. Box 2892, Tirana, Albania; Vaatjesstraat, 29, 2580 Putte, Belgium; Rue des Bataves 69, 1040 Etterbeek, Brussels, Belgium; P.O. Box 6, 1040 Etterbeek 2, Brussels, Belgium; Mula Mustafe Baseskije Street No. 72, Sarajevo, Bosnia; Put Mladih Muslimana Street 30/A, Sarajevo, Bosnia; 49 rue du Lazaret, 67100 Strasbourg, France; Rr. Skenderbeu 76, Lagjja Sefa, Gjakova, Kosovo; Ylli Morina Road, Djakovica, Kosovo; House 267 Street No. 54, Sector F-11/4, Islamabad, Pakistan; Saray Cad. No. 37 B Blok, Yesilyurt Apt. 2/4, Sirinevler, Turkey; Afghanistan; Azerbaijan; Bangladesh; Chechnya, Russia; China; Eritrea; Ethiopia; Georgia; India; Ingushetia, Russia; Iraq; Jordan; Kashmir; Lebanon; Sierra Leone; Somalia; Syria; West Bank and Gaza; V.A.T. Number: BE 454,419,759 [SDGT]

STRUGAR, Pavle; DOB 13 Jul 1933; POB Pec, Serbia and Montenegro; ICTY indictee (individual) [BALKANS]

STUDENTS OF AYYASH (a.k.a. ISLAMIC RESISTANCE MOVEMENT; a.k.a. HARAKAT AL-MUQAWAMA AL-ISLAMIYA; a.k.a. HAMAS; a.k.a. STUDENTS OF THE ENGINEER; a.k.a. YAHYA AYYASH UNITS; a.k.a. IZZ AL-DIN AL-QASSIM BRIGADES; a.k.a. IZZ AL-DIN AL-QASSIM FORCES; a.k.a. IZZ AL-DIN AL-QASSIM BATTALIONS; a.k.a. IZZ AL-DIN AL QASSAM BRIGADES; a.k.a. IZZ AL-DIN AL QASSAM FORCES; a.k.a. IZZ AL-DIN AL QASSAM BATTALIONS) [SDT][FTO][SDGT]

STUDENTS OF THE ENGINEER (a.k.a. ISLAMIC RESISTANCE MOVEMENT; a.k.a. HARAKAT AL-MUQAWAMA AL-ISLAMIYA; a.k.a. STUDENTS OF AYYASH; a.k.a. HAMAS; a.k.a. YAHYA AYYASH UNITS; a.k.a. IZZ AL-DIN AL-QASSIM BRIGADES; a.k.a. IZZ AL-DIN AL-QASSIM FORCES; a.k.a. IZZ AL-DIN AL-QASSIM BATTALIONS; a.k.a. IZZ AL-DIN AL QASSAM BRIGADES; a.k.a. IZZ AL-DIN AL QASSAM FORCES; a.k.a. IZZ AL-DIN AL QASSAM BATTALIONS) [SDT][FTO][SDGT]

SUANI GYPSUM PLANT, Libya [LIBYA]

SUAREZ ANAYA, Miguel Angel, c/o SISTEMAS INTEGRALES DEL VALLE LTDA., Cali, Colombia; Passport 17062485 (Colombia); Cedula No. 17062485 (Colombia) (individual) [SDNT]

SUAREZ BERNAL, Myriam, c/o FARMA XXI LTDA., Neiva, Huila, Colombia; DOB 2 Nov 1970; Passport 35414723 (Colombia); Cedula No. 35414723 (Colombia) (individual) [SDNT]

SUAREZ GARCIA, Dora Angela, c/o G M C GRUPO MAQUILACION COLOMBIANO, Bogota, Colombia; c/o LABORATORIOS PROFARMA LTDA., Bogota, Colombia; Passport 41322501 (Colombia); Cedula No. 41322501 (Colombia) (individual) [SDNT]

SUAREZ, Luis (a.k.a. BRICENO SUAREZ, Jorge; a.k.a. BRICENO SUAREZ, Jorge Enrique; a.k.a. “Mono Jojoy;” a.k.a. “Oscar Riano;” a.k.a. SUAREZ ROJAS, Victor Julio); DOB Jan 1953; alt. DOB 1 Feb 1949; alt. DOB 2 Jan 1951; alt. DOB 5 Feb 1953; POB Santa Marta, Magdalena, Colombia; alt. POB Cabrera, Cundinamarca, Colombia; Cedula No. 12536519 (Colombia); alt. Cedula No. 19208210 (Colombia); alt. Cedula No. 17708695 (Colombia); may also be using Cedula No. 70753211 (Colombia) (individual) [SDNTK]

SUAREZ ROJAS, Noe (a.k.a. BRICENO SUAREZ, German; a.k.a. “Granobles”); DOB 15 Dec 1953; Cedula No. 347943 (Colombia) (individual) [SDNTK]

SUAREZ ROJAS, Victor Julio (a.k.a. BRICENO SUAREZ, Jorge; a.k.a. BRICENO SUAREZ, Jorge Enrique; a.k.a. “Mono Jojoy;” a.k.a. “Oscar Riano;” a.k.a. SUAREZ, Luis); DOB Jan 1953; alt. DOB 1 Feb 1949; alt. DOB 2 Jan 1951; alt. DOB 5 Feb 1953; POB Santa Marta, Magdalena, Colombia; alt. POB Cabrera, Cundinamarca, Colombia; Cedula No. 12536519 (Colombia); alt. Cedula No. 19208210 (Colombia); alt. Cedula No. 17708695 (Colombia); may also be using Cedula No. 70753211 (Colombia) (individual) [SDNTK]

SUBOTIC, Bogdan; DOB 25 April 1941; POB Bosanska Gradiska, Bosnia-Herzegovina (individual) [BALKANS]

SUDAN AIR (a.k.a. SUDAN AIRWAYS), P.O. Box 253, Khartoum, Sudan; Bahrain; Chad; Egypt; Ethiopia; Germany; Greece; Italy; Kenya; Kuwait; Nigeria; Saudi Arabia; Uganda; U.A.E.; England (and perhaps elsewhere in the United Kingdom); 211 East 43rd Street, New York, New York 10017, U.S.A.; 199 Atlantic Avenue, Brooklyn, New York, New York 11201-5606 U.S.A. [SUDAN]

SUDAN AIRWAYS (a.k.a. SUDAN AIR), P.O. Box 253, Khartoum, Sudan; Bahrain; Chad; Egypt; Ethiopia; Germany; Greece; Italy; Kenya; Kuwait; Nigeria; Saudi Arabia; Uganda; U.A.E.; England (and perhaps elsewhere in the United Kingdom); 211 East 43rd Street, New York, New York 10017, U.S.A.; 199 Atlantic Avenue, Brooklyn, New York, New York 11201-5606 U.S.A. [SUDAN]

SUDAN COMMERCIAL BANK, P.O. Box 1116, Al-Qasr Avenue, Khartoum, Sudan; P.O. Box 182, El Gadaref, Sudan; P.O. Box 412, El Obeid, Sudan; P.O. Box 1174, Khartoum, Sudan; P.O. Box 570, Port Sudan, Sudan [SUDAN]

SUDAN COTTON COMPANY, Khartoum, Sudan [SUDAN]

SUDAN COTTON COMPANY LIMITED, P.O. Box 1672, Khartoum, Sudan [SUDAN]

SUDAN DEVELOPMENT CORPORATION, Street 21, P.O. Box 710, Khartoum, Sudan [SUDAN]

SUDAN EXHIBITION AND FAIRS CORPORATION, P.O. Box 2366, Khartoum, Sudan [SUDAN]

SUDAN NATIONAL BROADCASTING CORPORATION (a.k.a. SUDAN RADIO &TV CORP.; a.k.a. SUDAN T.V. CORPORATION), P.O. Box 1094, Omdurman, Sudan [SUDAN]

SUDAN OIL CORPORATION, P.O. Box 2, Khartoum North, Sudan [SUDAN]

SUDAN OIL SEEDS COMPANY LIMITED, P.O. Box 167, Khartoum, Sudan; Nyala, Sudan; Obied, Sudan; Port Sudan, Sudan; Tandalty, Sudan [SUDAN]

SUDAN PETROLEUM COMPANY LIMITED (a.k.a. SUDAPET; a.k.a. SUDAPET, LTD.), El Nil Street, Khartoum, Sudan [SUDAN]

SUDAN RADIO & TV CORP. (a.k.a. SUDAN NATIONAL BROADCASTING CORPORATION; a.k.a. SUDAN T.V. CORPORATION), P.O. Box 1094, Omdurman, Sudan [SUDAN]

SUDAN RAILWAYS CORPORATION (a.k.a. SRC), P.O. Box 43, Bara, Sudan; Babanousa, Sudan; Khartoum, Sudan; Kosti, Sudan; Port Sudan, Sudan [SUDAN]

SUDAN RURAL DEVELOPMENT COMPANY LIMITED (a.k.a. SRDC), P.O. Box 2190, Khartoum, Sudan [SUDAN]

SUDAN SOAP CORPORATION, P.O. Box 23, Khartoum North, Sudan [SUDAN]

SUDAN T.V. CORPORATION (a.k.a. SUDAN NATIONAL BROADCASTING CORPORATION; a.k.a. SUDAN RADIO & TV CORP.), P.O. Box 1094, Omdurman, Sudan [SUDAN]

SUDAN TEA COMPANY, LTD., P.O. Box 1219, Khartoum, Sudan [SUDAN]

SUDAN WAREHOUSING COMPANY, P.O. Box 215, Khartoum, Sudan; P.O. Box 17, Port Sudan, Sudan; El Obeid, Sudan; Gedarit, Sudan; Juba, Sudan; Kosti, Sudan; Sennar, Sudan; Wad Medani, Sudan [SUDAN]

SUDANESE COMPANY FOR BUILDING AND CONSTRUCTION LIMITED, P.O. Box 2110, Khartoum, Sudan [SUDAN]

SUDANESE ESTATES BANK, Al-Baladiya Avenue, P.O. Box 309, Khartoum, Sudan [SUDAN]

SUDANESE FREE ZONES AND MARKETS COMPANY (a.k.a. SFZ), P.O. Box 1789, Khartoum, Sudan; Chad; Saudi Arabia; Turkey; UAE [SUDAN]

SUDANESE INTERNATIONAL TOURISM COMPANY, c/o TOURISM AND HOTELS CORPORATION, P.O. Box 7104, Khartoum, Sudan [SUDAN]

SUDANESE MINING CORPORATION, P.O. Box 1034, Khartoum, Sudan [SUDAN]

SUDANESE PETROLEUM CORPORATION, 7th Floor, Al Kuwaitiah Building, El Nile Street, Khartoum, Sudan [SUDAN]

SUDANESE REAL ESTATE SERVICES COMPANY, Khartoum, Sudan [SUDAN]

SUDANESE SAVINGS BANK, P.O. Box 159, Wad Medani, Sudan [SUDAN]

SUDAPET (a.k.a. SUDAN PETROLEUM COMPANY LIMITED; a.k.a. SUDAPET, LTD.), El Nil Street, Khartoum, Sudan [SUDAN]

SUDAPET LTD. (a.k.a. SUDAN PETROLEUM COMPANY LIMITED; a.k.a. SUDAPET), El Nil Street, Khartoum, Sudan [SUDAN]

SUFAAT, Yazid (a.k.a. BIN SUFAAT, Yazud; a.k.a. SHUFAAT, Yazid); DOB 20 Jan 1964; POB Johor, Malaysia; nationality Malaysian; Passport No. A10472263 (Malaysia) (individual) [SDGT]

SUGAR AND DISTILLING CORPORATION (a.k.a. SUGAR AND DISTILLING INDUSTRY CORPORATION), New Mustafa el Amin Building, Barlaman Avenue, P.O. Box 511, Khartoum, Sudan [SUDAN]

SUGAR AND DISTILLING INDUSTRY CORPORATION (a.k.a. SUGAR AND DISTILLING CORPORATION), New Mustafa El Amin Building, Barlaman Avenue, P.O. Box 511, Khartoum, Sudan [SUDAN]

SUMA, Emrush; DOB 27 May 1974; POB Dimce, Serbia and Montenegro (individual) [BALKANS]

SUPERGEN LTDA. Calle 39 BIS A No. 27-16 and 27-20, Bogota, Colombia; Calle 53 No. 35A-13 of. 302, Bucaramanga, Colombia; NIT # 804009924-8 (Colombia) [SDNT]

SUPERTIENDAS LA REBAJA, Avenida Colombia No. 2-45, Cali, Colombia; Calle 9, No. 26-98, Cali, Colombia [SDNT]

SUPLIDORA LATINO AMERICANA, S.A. (a.k.a. SUPLILAT, S.A.), Panama City, Panama [CUBA]

SUPLILAT, S.A., (a.k.a. SUPLIDORA LATINO AMERICANA, S.A.), Panama City, Panama [CUBA]

SURAMERICANA DE HOTELES LTDA. (a.k.a. SURATEL), Calle 74 No. 53-30, Barranquilla, Colombia; NIT # 800011603-0 (Colombia) [SDNT]

SURATEL (a.k.a. SURAMERICANA DE HOTELES LTDA.), Calle 74 No. 53-30, Barranquilla, Colombia; NIT # 800011603-0 (Colombia) [SDNT]

SUWEIDAN, Sheikh Ahmad Salem (a.k.a. SWEDAN, Sheikh Ahmed Salim; a.k.a. Ahmed the Tall; a.k.a. ALLY, Ahmed; a.k.a. BAHAMAD; a.k.a. BAHAMAD, Sheik; a.k.a. BAHAMADI, Sheikh; a.k.a. SWEDAN, Sheikh; a.k.a. SWEDAN, Sheikh Ahmed Salem); DOB 9 Apr 1969; alt. DOB 9 Apr 1960; POB Mombasa, Kenya; citizen Kenya (individual) [SDGT]

SWAN LAUNDRY AND DRY CLEANING COMPANY, LTD., 55, Racecourse Street, Marsa, Malta [LIBYA]

SWEDAN, Sheikh (a.k.a. SWEDAN, Sheikh Ahmed Salim; a.k.a. Ahmed the Tall; a.k.a. ALLY, Ahmed; a.k.a. BAHAMAD; a.k.a. BAHAMAD, Sheik; a.k.a. BAHAMADI, Sheikh; a.k.a. SUWEIDAN, Sheikh Ahmad Salem; a.k.a. SWEDAN, Sheikh Ahmed Salem); DOB 9 Apr 1969; alt. DOB 9 Apr 1960; POB Mombasa, Kenya; citizen Kenya (individual) [SDGT]

SWEDAN, Sheikh Ahmed Salem (a.k.a. SWEDAN, Sheikh Ahmed Salim; a.k.a. Ahmed the Tall; a.k.a. ALLY, Ahmed; a.k.a. BAHAMAD; a.k.a. BAHAMAD, Sheik; a.k.a. BAHAMADI, Sheikh; a.k.a. SUWEIDAN, Sheikh Ahmad Salem; a.k.a. SWEDAN, Sheikh); DOB 9 Apr 1969; alt. DOB 9 Apr 1960; POB Mombasa, Kenya; citizen Kenya (individual) [SDGT]

SWEDAN, Sheikh Ahmed Salim (a.k.a. Ahmed the Tall; a.k.a. ALLY, Ahmed; a.k.a. BAHAMAD; a.k.a. BAHAMAD, Sheik; a.k.a. BAHAMADI, Sheikh; a.k.a. SUWEIDAN, Sheikh Ahmad Salem; a.k.a. SWEDAN, Sheikh; a.k.a. SWEDAN, Sheikh Ahmed Salem); DOB 9 Apr 1969; alt. DOB 9 Apr 1960; POB Mombasa, Kenya; citizen Kenya (individual) [SDGT]

SWEDISH CHARITABLE AQSA EST. (a.k.a. AL-AQSA (ASBL); a.k.a. AL-AQSA SPANMAL STIFTELSE; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA), BD Leopold II 71, 1080 Brussels, Belgium [SDGT]

SWEDISH CHARITABLE AQSA EST. (a.k.a. AL-AQSA E.V.; a.k.a. AL-AQSA SPANMAL STIFTELSE; a.k.a. AL-AQSA ASBL; a.k.a. AL-AQSA CHARITABLE FOUNDATION; a.k.a. AL-AQSA CHARITABLE ORGANIZATION; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA), Kappellenstrasse 36, D-52066, Aachen, Germany [SDGT]

SWEDISH CHARITABLE AQSA EST. (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA) [SDGT]

SWEDISH CHARITABLE AQSA EST. (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA), Nobelvagen 79 NB, 21433 Malmo, Sweden; Noblev 79 NB, 21433 Malmo, Sweden [SDGT]

SWEDISH CHARITABLE AQSA EST. (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA), P.O. Box 421082, 2nd Floor, Amoco Gardens, 40 Mint Road, Fordsburg 2033, Johannesburg, South Africa; P.O. Box 421083, 2nd Floor, Amoco Gardens, 40 Mint Road, Fordsburg 2033, Johannesburg, South Africa [SDGT]

SWEDISH CHARITABLE AQSA EST. (a.k.a. AL-AQSA FOUNDATION; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA), P.O. Box 2364, Islamabad, Pakistan [SDGT]

SWEDISH CHARITABLE AQSA EST. (a.k.a. AQSSA SOCIETY YEMEN; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA), P.O. Box 14101, San'a, Yemen [SDGT]

SWEDISH CHARITABLE AQSA EST. (a.k.a. FORENINGEN AL-AQSA; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION; a.k.a. STICHTING AL-AQSA), P.O. Box 6222200KBKN, Copenhagen, Denmark [SDGT]

SWEDISH CHARITABLE AQSA EST. (a.k.a. STICHTING AL-AQSA; a.k.a. AL-AQSA SPANMAL STIFTELSE; a.k.a. AL-AQSA ASBL; a.k.a. AL-AQSA CHARITABLE FOUNDATION; a.k.a. AL-AQSA CHARITABLE ORGANIZATION; a.k.a. AL-AQSA E.V.; a.k.a. AL-AQSA FOUNDATION; a.k.a. AL-AQSA INTERNATIONAL FOUNDATION; a.k.a. AL-AQSA ISLAMIC CHARITABLE SOCIETY; a.k.a. AL-AQSA SINABIL ESTABLISHMENT; a.k.a. AL-AQSA SPANM I STIFTELSE; a.k.a. AQSSA SOCIETY; a.k.a. AQSSA SOCIETY YEMEN; a.k.a. CHARITABLE AL-AQSA ESTABLISHMENT; a.k.a. CHARITABLE SOCIETY TO HELP THE NOBLE AL-AQSA; a.k.a. NUSRAT AL-AQSA AL-SHARIF; a.k.a. FORENINGEN AL-AQSA; a.k.a. ISLAMIC CHARITABLE SOCIETY FOR AL-AQSA; a.k.a. MU'ASA AL-AQSA AL-KHAYRIYYA; a.k.a. MU'ASSA SANABIL AL-AQSA AL-KHAYRIYYA; a.k.a. SANABIL AL-AQSA CHARITABLE FOUNDATION), Gerrit V/D Lindestraat 103 E, 03022 TH, Rotterdam, Holland; Gerrit V/D Lindestraat 103 A, 3022 TH, Rotterdam, Holland [SDGT]

SWIFT INVESTMENTS (PVT) LTD., 730 Cowie Road, Tynwald, Harare, Zimbabwe; P.O. Box 3928, Harare, Zimbabwe [ZIMB]

SWORD OF DAVID (a.k.a. AMERICAN FRIENDS OF THE UNITED YESHIVA MOVEMENT; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH LEGION; a.k.a. JUDEA POLICE; a.k.a. JUDEAN CONGRESS; a.k.a. KACH; a.k.a. KAHANE CHAI; a.k.a. KAHANE LIVES; a.k.a. KAHANE TZADAK; a.k.a. KAHANE.NET; a.k.a. KAHANE.ORG; a.k.a. KAHANE; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. THE COMMITTEE AGAINST RACISM AND DISCRIMINATION (CARD); a.k.a. THE HATIKVA JEWISH IDENTITY CENTER; a.k.a. THE INTERNATIONAL KAHANE MOVEMENT; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [SDT][FTO][SDGT]

SYAWAL, Muhammad (a.k.a. “Abu Seta;” a.k.a. ABU MUAMAR; a.k.a. “Mahmud;” a.k.a. MOCHTAR, Yasin Mahmud; a.k.a. MUBAROK, Muhamad; a.k.a. SYAWAL, Yassin; a.k.a. YASIN, Abdul Hadi; a.k.a. YASIN, Salim); DOB c. 1972; nationality Indonesian (individual) [SDGT]

SYAWAL, Yassin (a.k.a. “Abu Seta;” a.k.a. ABU MUAMAR; a.k.a. “Mahmud;” a.k.a. MOCHTAR, Yasin Mahmud; a.k.a. MUBAROK, Muhamad; a.k.a. SYAWAL, Muhammad; a.k.a. YASIN, Abdul Hadi; a.k.a. YASIN, Salim); DOB c. 1972; nationality Indonesian (individual) [SDGT]

SYLA, Azem; DOB 5 Apr 1951; POB Serbia and Montenegro (individual) [BALKANS]

SYLICO (a.k.a. ARAB LIBYAN SYRIAN INDUSTRIAL & AGRICULTURAL INVESTMENT COMPANY; a.k.a. SYRIAN LIBYAN COMPANY—INDUSTRIAL & AGRICULTURAL INVESTMENTS), 9 Mazze, Autostrade, Damascus, Syria [LIBYA]

SYRIAN LIBYAN COMPANY—INDUSTRIAL & AGRICULTURAL INVESTMENTS (a.k.a. ARAB LIBYAN SYRIAN INDUSTRIAL & AGRICULTURAL INVESTMENT COMPANY; a.k.a. SYLICO), 9 Mazze, Autostrade, Damascus, Syria [LIBYA]

T N K FABRICS LIMITED, England [IRAQ]

T.D.G. (a.k.a. TECHNOLOGY AND DEVELOPMENT GROUP LTD.), Centric House 390/391, Strand, London, England [IRAQ]

T.E.G. LIMITED, 3 Mandeville Place, London, England [IRAQ]

T.M.G. ENGINEERING LIMITED, Castle Row, Horticultural Place, Chiswick, London, England [IRAQ]

TABARES BEDOYA, Carlos Eduardo, c/o ADMINISTRADORA DE SERVICIOS VARIOS CALIMA S.A., Cali Colombia; c/o ASISTENCIA PROFESIONAL ESPECIALIZADA EN COLOMBIA LIMITADA Cali, Colombia; c/o CHAMARTIN S.A., Cali, Colombia; DOB 10 Sep 1970; Passport 16791397 (Colombia); Cedula No. 16791397 (Colombia) (individual) [SDNT]

TADIC, Dusan “Dusko” (a.k.a. “Dule”); DOB 1956; POB Cajnice, Bosnia-Herzegovina; ICTY indictee (individual) [BALKANS]

TADIC, Miroslav; DOB 12 May 1937; POB Novi Grad, Bosnia-Herzegovina; ICTY indictee (individual) [BALKANS]

TAHA, Abdul Rahman S. (a.k.a. YASIN, Abdul Rahman; a.k.a. TAHER, Abdul Rahman S.; a.k.a. YASIN, Abdul Rahman Said; a.k.a. YASIN, Aboud); DOB 10 Apr 1960; POB Bloomington, Indiana U.S.A.; SSN 156-92-9858 (U.S.A.); Passport No. 27082171 (U.S.A. [issued 21 Jun 1992 in Amman, Jordan]); alt. Passport No. M0887925 (Iraq); citizen U.S.A. (individual) [SDGT]

TAHA MUSA, Rifa'i Ahmad (a.k.a. 'ABD-AL-'IZ; a.k.a. ABD-AL-WAHAB, Abd-al-Hai Ahmad; a.k.a. ABU YASIR; a.k.a. 'ABD ALLAH, 'Issam 'Ali Muhammad; a.k.a. AL-KAMEL, Salah 'Ali; a.k.a. MUSA, Rifa'i Ahmad Taha; a.k.a. TAHA, Rifa'i Ahmad; a.k.a. THABIT 'IZ); DOB 24 Jun 1954; POB Egypt; Passport No. 83860 (Sudan), 30455 (Egypt), 1046403 (Egypt) (individual) [SDT]

TAHA, Rifa'i Ahmad (a.k.a. 'ABD-AL-'IZ; a.k.a. ABD-AL-WAHAB, Abd-al-Hai Ahmad; a.k.a. ABU YASIR; a.k.a. 'ABD ALLAH, 'Issam 'Ali Muhammad; a.k.a. AL-KAMEL, Salah 'Ali; a.k.a. MUSA, Rifa'i Ahmad Taha; a.k.a. TAHA MUSA, Rifa'i Ahmad; a.k.a. THABIT 'IZ); DOB 24 Jun 1954; POB Egypt; Passport No. 83860 (Sudan), 30455 (Egypt), 1046403 (Egypt) (individual) [SDT]

TAHARAR FOOTWEAR PLANT, Tripoli, Libya [LIBYA]

TAHEER PERFUMERY CORPORATION (a.k.a. EL TAHEER PERFUMERY CORPORATION), P.O. Box 2241, Khartoum, Sudan [SUDAN]

TAHER, Abdul Rahman S. (a.k.a. YASIN, Abdul Rahman; a.k.a. TAHA, Abdul Rahman S.; a.k.a. YASIN, Abdul Rahman Said; a.k.a. YASIN, Aboud); DOB 10 Apr 1960; POB Bloomington, Indiana U.S.A.; SSN 156-92-9858 (U.S.A.); Passport No. 27082171 (U.S.A. [issued 21 Jun 1992 in Amman, Jordan]); alt. Passport No. M0887925 (Iraq); citizen U.S.A. (individual) [SDGT]

TAHREER PERFUMERY CORPORATION (a.k.a. EL TAHREER PERFUMERY CORPORATION), Omdurman, Sudan [SUDAN]

TAHRIKE ISLAMI'A TALIBAN (a.k.a. ISLAMIC MOVEMENT OF TALIBAN; a.k.a. TALEBAN; a.k.a. TALIBAN; a.k.a. TALIBAN ISLAMIC MOVEMENT; a.k.a. TALIBANO ISLAMI TAHRIK), Afghanistan [SDGT]

TAJOURA MODERN TANNERY, Libya [LIBYA]

TAKA AUTOMOBILE COMPANY, EL (a.k.a. EL TAKA AUTOMOBILE COMPANY), P.O. Box 221, Khartoum, Sudan [SUDAN]

TAKFIRI, Abu 'Umr (a.k.a. ABU ISMAIL; a.k.a. ABU UMAR, Abu Omar; a.k.a. AL-FILISTINI, Abu Qatada; a.k.a. UMAR, Abu Umar; a.k.a. UTHMAN, Al-Samman; a.k.a. UTHMAN, Omar Mahmoud; a.k.a. UTHMAN, Umar), London, England; DOB 30 Dec 1960; alt. DOB 13 Dec 1960 (individual) [SDGT]

TALEBAN (a.k.a. ISLAMIC MOVEMENT OF TALIBAN; a.k.a. TAHRIKE ISLAMI'A TALIBAN; a.k.a. TALIBAN; a.k.a. TALIBAN ISLAMIC MOVEMENT; a.k.a. TALIBANO ISLAMI TAHRIK), Afghanistan [SDGT]

TALIBAN (a.k.a. ISLAMIC MOVEMENT OF TALIBAN; a.k.a. TAHRIKE ISLAMI'A TALIBAN; a.k.a. TALEBAN; a.k.a. TALIBAN ISLAMIC MOVEMENT; a.k.a. TALIBANO ISLAMI TAHRIK), Afghanistan [SDGT]

TALIBAN ISLAMIC MOVEMENT (a.k.a. ISLAMIC MOVEMENT OF TALIBAN; a.k.a. TAHRIKE ISLAMI'A TALIBAN; a.k.a. TALEBAN; a.k.a. TALIBAN; a.k.a. TALIBANO ISLAMI TAHRIK), Afghanistan [SDGT]

TALIBANO ISLAMI TAHRIK (a.k.a. ISLAMIC MOVEMENT OF TALIBAN; a.k.a. TAHRIKE ISLAMI'A TALIBAN; a.k.a. TALEBAN; a.k.a. TALIBAN; a.k.a. TALIBAN ISLAMIC MOVEMENT), Afghanistan [SDGT]

TALIC, Momir; DOB 15 Jul 1942; POB Piskavica, Bosnia-Herzegovina; ICTY indictee (individual) [BALKANS]

TALL, Aktham, P.O. Box 1318, Amman, Jordan (individual) [IRAQ]

TALLER DE REPARACIONES NAVALES, S.A. (a.k.a. TARENA), Panama City, Panama [CUBA]

TAMIL TIGERS (a.k.a. LIBERATION TIGERS OF TAMIL EELAM; a.k.a. LTTE; a.k.a. ELLALAN FORCE) [FTO][SDGT]

TAMOIL HUNGARIA, Hungary [LIBYA]

TAMOIL ITALIA S.P.A., Cremona Refinery, Italy [LIBYA]

TAMOIL ITALIA S.P.A., Piazzetta Bossi 3, I-20121 Milan, Italy [LIBYA]

TAMOIL PETROLI ITALIANA S.P.A., (1,977 gasoline retail outlets in Italy) [LIBYA]

TAMOIL PETROLI ITALIANA S.P.A., Milan, Italy [LIBYA]

TAMOIL SUISSE S.A. (a.k.a. TAMOIL SWITZERLAND; f.k.a. GATOIL SUISSE S.A.), Zug, Switzerland [LIBYA]

TAMOIL SUISSE S.A. (a.k.a. TAMOIL SWITZERLAND; f.k.a. GATOIL SUISSE S.A.), (330 gasoline retail outlets in Switzerland) [LIBYA]

TAMOIL SUISSE S.A. (a.k.a. TAMOIL SWITZERLAND; f.k.a. GATOIL SUISSE S.A.), (RSO refinery in Collombey) [LIBYA]

TAMOIL SUISSE S.A. (a.k.a. TAMOIL SWITZERLAND; f.k.a. GATOIL SUISSE S.A.), Geneva, Switzerland [LIBYA]

TAMOIL SWITZERLAND (a.k.a. TAMOIL SUISSE S.A.; f.k.a. GATOIL SUISSE S.A.), (RSO refinery in Collombey) [LIBYA]

TAMOIL SWITZERLAND (a.k.a. TAMOIL SUISSE S.A.; f.k.a. GATOIL SUISSE S.A.), Zug, Switzerland [LIBYA]

TAMOIL SWITZERLAND (a.k.a. TAMOIL SUISSE S.A.; f.k.a. GATOIL SUISSE S.A.), (330 gasoline retail outlets in Switzerland) [LIBYA]

TAMOIL SWITZERLAND (a.k.a. TAMOIL SUISSE S.A.; f.k.a. GATOIL SUISSE S.A.), Geneva, Switzerland [LIBYA]

TAMOIL TRADING LTD. (f.k.a. TAMOIL [UK] LTD.), 1 St. Paul's Churchyard, London EC4M 8SH, England [LIBYA]

TAMOIL TRADING LTD. (f.k.a. TAMOIL [UK] LTD.), 24 Boulevard Princess Charlotte, Monte Carlo, Monaco [LIBYA]

TAMOIL TRADING LTD. (f.k.a. TAMOIL [UK] LTD.), 25 Schutzengasse CH 8001, Zurich, Switzerland [LIBYA]

TAMOIL [UK] LTD. (n.k.a. TAMOIL TRADING LTD.), see listings [LIBYA]

TARENA, S.A. (a.k.a. TALLER DE REPARACIONES NAVALES S.A.), Panama [CUBA]

TARIQ (a.k.a. ABU ZUBAYDAH; a.k.a. ABU ZUBAIDA; a.k.a. AL-WAHAB, Abd Al-Hadi; a.k.a. HUSAIN, Zain Al-Abidin Muhahhad; a.k.a. HUSAYN, Zayn al-Abidin Muhammad); DOB 12 Mar 71; POB Riyadh, Saudi Arabia (individual) [SDGT]

TARIQ ABU SHANAB EST. FOR TRADE & COMMERCE (a.k.a. ABU SHANAB METALS ESTABLISHMENT; a.k.a. AMIN ABU SHANAB &SONS CO.; a.k.a. SHANAB METALS ESTABLISHMENT; a.k.a. TARIQ ABU SHANAB EST.; a.k.a. TARIQ ABU SHANAB METALS ESTABLISHMENT), Musherfeh, P.O. Box 766, Zarka, Jordan [IRAQ]

TARIQ ABU SHANAB EST.TARIQ ABU SHANAB METALS ESTABLISHMENT (a.k.a. ABU SHANAB METALS ESTABLISHMENT; a.k.a. AMIN ABU SHANAB &SONS CO.; a.k.a. SHANAB METALS ESTABLISHMENT; a.k.a. TARIQ ABU SHANAB EST. FOR TRADE &COMMERCE; a.k.a. TARIQ ABU SHANAB METALS ESTABLISHMENT), Musherfeh, P.O. Box 766, Zarka, Jordan [IRAQ]

TARIQ ABU SHANAB METALS ESTABLISHMENT (a.k.a. ABU SHANAB METALS ESTABLISHMENT; a.k.a. AMIN ABU SHANAB & SONS CO.; a.k.a. SHANAB METALS ESTABLISHMENT; a.k.a. TARIQ ABU SHANAB EST.; a.k.a. TARIQ ABU SHANAB EST. FOR TRADE & COMMERCE), Musherfeh, P.O. Box 766, Zarka, Jordan [IRAQ]

TAURA S.A., Calle 13 No. 68-06, Of. 204, Cali, Colombia; Calle 13 No. 68-26, Of. 214, 313 & 314, Cali, Colombia; Carrera 115 No. 16B-121, Cali, Colombia; NIT # 800183713-1 (Colombia) [SDNT]

TAVEIRA, A. Arnaldo G., Praca Pio X, 54-10o Andar, CEP 20091, Rio De Janeiro, Brazil (individual) [IRAQ]

TAWENGWA, Solomon, Deputy-Secretary for Finance of Zimbabwe; DOB 15 Jun 1940 (individual) [ZIMB]

TAYSIR (a.k.a. AL-MASRI, Abu Hafs; a.k.a. ABDULLAH, Sheikh Taysir; a.k.a. ABU HAFS; a.k.a. ABU SITTA, Subhi; a.k.a. ATEF, Muhammad; a.k.a. ATIF, Mohamed; a.k.a. ATIF, Muhammad; a.k.a. EL KHABIR, Abu Hafs el Masry); DOB 1951; Alt. DOB 1956; Alt. DOB 1944; POB Alexandria, Egypt (individual) [SDT] [SDGT]

TEA PACKETING AND TRADING COMPANY, P.O. Box 369, Khartoum, Sudan [SUDAN]

TECHNIC DIGEMEX CORP., Calle 34 No. 4-50, Office 301, Panama City, Panama [CUBA]

TECHNIC HOLDING INC., Calle 34 No. 4-50, Office 301, Panama City, Panama [CUBA]

TECHNICAL CO. FOR AGRICULTURAL PEST CONTROL, New Gourgy Road, P.O. Box 6445, Tripoli, Libya; (branch) Nacer Street, Benghazi, Libya [LIBYA]

TECHNOLOGY AND DEVELOPMENT GROUP LTD. (a.k.a. T.D.G.), Centric House 390/391, Strand, London, England [IRAQ]

TECNICAS CONTABLES Y ADMINISTRATIVAS (a.k.a. TECONTA), Carrera 3 No. 11-32 of. 939, Cali, Colombia; Cedula No. 16242828 (Colombia) [SDNT]

TECONTA (a.k.a. TECNICAS CONTABLES Y ADMINISTRATIVAS), Carrera 3 No. 11-32 of. 939, Cali, Colombia; Cedula No. 16242828 (Colombia) [SDNT]

TEHRIK UL-FURQAAN (a.k.a. ARMY OF MOHAMMED; a.k.a. JAISH-I-MOHAMMED; a.k.a. JAISH-E-MOHAMMED; a.k.a. KHUDAMUL ISLAM; a.k.a. KHUDDAM-UL-ISLAM; a.k.a. KUDDAM E ISLAMI; a.k.a. MOHAMMED'S ARMY), Pakistan [FTO] [SDGT]

TEKNICA (UK) LIMITED (f.k.a. FC9063 LIMITED), Holborn Tower, 137 High Holborn, London WC1V 6PW, England; 15/17 Lodge Road, St. Johns Wood, London NW8 7JA, England; Avon House, 360-366 Oxford Street, London W1N 9HA, England; Tripoli, Libya [LIBYA]

TEKNICA OIL SERVICES (OVERSEAS) LIMITED, Cyprus [LIBYA]

TEKNICA PETROLEUM SERVICES LIMITED, Suite 1100, 736 Sixth Avenue S.W., Calgary, Alberta T2P 3T7, Canada [LIBYA]

TEKXEL LIMITED (a.k.a. JAWABY TECHNICAL SERVICES LIMITED), London, England [LIBYA]

TELEFARMA (a.k.a. REPRESENTACIONES Y DISTRIBUCIONES HUERTAS Y ASOCIADOS LTDA.; a.k.a. REPRESENTACIONES Y DISTRIBUCIONES HUERTAS Y ASOCIADOS S.A.), Calle 124 No. 6-60, Bogota, Colombia; Avenida 42 No. 20-47, Bogota, Colombia; NIT # 860527387-8 (Colombia) [SDNT]

TELEFARMA E.U. (a.k.a. FARMATEL E.U.), Calle 93 No. 16-75, Bogota, Colombia [SDNT]

TEMIS SHIPPING CO., Panama [CUBA]

TERAPIAS VETERINARIA LIMITADA (a.k.a. TERVET LTDA.), Calle 39 BIS A No. 27-16, Bogota, Colombia; NIT # 830068307-1 (Colombia) [SDNT]

TERVET LTDA. (a.k.a. TERAPIAS VETERINARIA LIMITADA), Calle 39 BIS A No. 27-16, Bogota, Colombia; NIT # 830068307-1 (Colombia) [SDNT]

THABIT 'IZ (a.k.a. 'ABD-AL-'IZ; a.k.a. ABD-AL-WAHAB, Abd-al-Hai Ahmad; a.k.a. ABU YASIR; a.k.a. 'ABD ALLAH, 'Issam 'Ali Muhammad; a.k.a. AL-KAMEL, Salah 'Ali; a.k.a. MUSA, Rifa'i Ahmad Taha; a.k.a. TAHA, Rifa'i Ahmad; a.k.a. TAHA MUSA, Rifa'i Ahmad); DOB 24 Jun 1954; POB Egypt; Passport No. 83860 (Sudan), 30455 (Egypt), 1046403 (Egypt) (individual) [SDT]

THACI, Menduh; DOB 3 Mar 1965; POB Tetovo, Macedonia (individual) [BALKANS]

THAER, Mansour; DOB 21 Mar 1974; POB Baghdad, Iraq (individual) [SDGT]

THE AID ORGANIZATION OF THE ULEMA (a.k.a. AL RASHID TRUST; a.k.a. AL RASHEED TRUST; a.k.a. AL-RASHEED TRUST; a.k.a. AL-RASHID TRUST), Kitab Ghar, Darul Ifta Wal Irshad, Nazimabad No. 4, Karachi, Pakistan; Office Dha'rb-i-M'unin, opposite Khyber Bank, Abbottabad Road, Mansehra, Pakistan; Office Dha'rb-i-M'unin, Z.R. Brothers, Katchehry Road, Chowk Yadgaar, Peshawar, Pakistan; Office Dha'rb-i-M'unin, Room no. 3, Third Floor, Moti Plaza, near Liaquat Bagh, Murree Road, Rawalpindi, Pakistan; Office Dha'rb-i-M'unin, Top Floor, Dr. Dawa Khan Dental Clinic Surgeon, Main Baxar, Mingora, Swat, Pakistan <Operations in Afghanistan: Herat, Jalalabad, Kabul, Kandahar, Mazar Sharif. Also operations in: Kosovo, Chechnya>; 302b-40, Good Earth Court, Opposite Pia Planitarium, Block 13a, Gulshan -I Iqbal, Karachi, Pakistan; 617 Clifton Center, Block 5, 6th Floor, Clifton, Karachi, Pakistan; 605 Landmark Plaza, 11 Chundrigar Road, Opposite Jang Building, Karachi, Pakistan; Jamia Masjid, Sulaiman Park, Begum Pura, Lahore, Pakistan [SDGT]

THE AL-JIHAD-FISI-SABILILAH SPECIAL ISLAMIC REGIMENT (a.k.a. ISLAMIC REGIMENT OF SPECIAL MEANING; a.k.a. THE ISLAMIC SPECIAL PURPOSE REGIMENT; a.k.a. THE SPECIAL PURPOSE ISLAMIC REGIMENT) [SDGT]

THE COMMITTEE AGAINST RACISM AND DISCRIMINATION (CARD) (a.k.a. AMERICAN FRIENDS OF THE UNITED YESHIVA MOVEMENT; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH LEGION; a.k.a. JUDEA POLICE; a.k.a. JUDEAN CONGRESS; a.k.a. KACH; a.k.a. KAHANE CHAI; a.k.a. KAHANE LIVES; a.k.a. KAHANE TZADAK; a.k.a. KAHANE.NET; a.k.a. KAHANE.ORG; a.k.a. KAHANE; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE HATIKVA JEWISH IDENTITY CENTER; a.k.a. THE INTERNATIONAL KAHANE MOVEMENT; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [SDT][FTO][SDGT]

THE GROUP FOR THE PRESERVATION OF THE HOLY SITES (a.k.a. AL QA'IDA; a.k.a. AL QAEDA; a.k.a. AL QAIDA; a.k.a. AL-JIHAD; a.k.a. EGYPTIAN AL-JIHAD; a.k.a. EGYPTIAN ISLAMIC JIHAD; a.k.a. INTERNATIONAL FRONT FOR FIGHTING JEWS AND CRUSADES; a.k.a. ISLAMIC ARMY FOR THE LIBERATION OF HOLY SITES; a.k.a. ISLAMIC ARMY; a.k.a. ISLAMIC SALVATION FOUNDATION; a.k.a. NEW JIHAD; a.k.a. THE ISLAMIC ARMY FOR THE LIBERATION OF THE HOLY PLACES; a.k.a. THE JIHAD GROUP; a.k.a. THE WORLD ISLAMIC FRONT FOR JIHAD AGAINST JEWS AND CRUSADERS; a.k.a. USAMA BIN LADEN NETWORK; a.k.a. USAMA BIN LADEN ORGANIZATION; a.k.a. “THE BASE”) [SDT][FTO][SDGT]

THE HATIKVA JEWISH IDENTITY CENTER (a.k.a. AMERICAN FRIENDS OF THE UNITED YESHIVA MOVEMENT; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH LEGION; a.k.a. JUDEA POLICE; a.k.a. JUDEAN CONGRESS; a.k.a. KACH; a.k.a. KAHANE CHAI; a.k.a. KAHANE LIVES; a.k.a. KAHANE TZADAK; a.k.a. KAHANE.NET; a.k.a. KAHANE.ORG; a.k.a. KAHANE; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE INTERNATIONAL KAHANE MOVEMENT; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [SDT][FTO][SDGT]

THE HORROR SQUADRON (a.k.a. DHAMAT HOUMET DAAWA SALAFIA; a.k.a. DJAMAAT HOUMAT ED DAAWA ES SALAFIYA; a.k.a. DJAMAAT HOUMAT EDDAWA ESSALAFIA; a.k.a. DJAMAATT HOUMAT ED DAAWA ES SALAFIYA; a.k.a. EL-AHOUAL BATTALION; a.k.a. GROUP OF SUPPORTERS OF THE SALAFIST TREND; a.k.a. GROUP OF SUPPORTERS OF THE SALAFISTE TREND; a.k.a. GROUP PROTECTORS OF SALAFIST PREACHING; a.k.a. HOUMAT ED DAAWA ES SALIFIYA; a.k.a. HOUMAT ED-DAAOUA ES-SALAFIA; a.k.a. HOUMATE ED-DAAWA ES-SALAFIA; a.k.a. HOUMATE EL DA'AWAA ES-SALAFIYYA; a.k.a. KATIBAT EL AHOUAL; a.k.a. KATIBAT EL AHOUEL; a.k.a. PROTECTORS OF THE SALAFIST CALL; a.k.a. PROTECTORS OF THE SALAFIST PREDICATION; a.k.a. SALAFIST CALL PROTECTORS), Algeria [SDGT]

THE INTERNATIONAL BRIGADE (a.k.a. INTERNATIONAL BATTALION; a.k.a. ISLAMIC PEACEKEEPING INTERNATIONAL BRIGADE; a.k.a. PEACEKEEPING BATTALION; a.k.a. THE ISLAMIC INTERNATIONAL BRIGADE; a.k.a. THE ISLAMIC PEACEKEEPING ARMY; a.k.a. THE ISLAMIC PEACEKEEPING BRIGADE) [SDGT]

THE INTERNATIONAL KAHANE MOVEMENT (a.k.a. AMERICAN FRIENDS OF THE UNITED YESHIVA MOVEMENT; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH LEGION; a.k.a. JUDEA POLICE; a.k.a. JUDEAN CONGRESS; a.k.a. KACH; a.k.a. KAHANE CHAI; a.k.a. KAHANE LIVES; a.k.a. KAHANE TZADAK; a.k.a. KAHANE.NET; a.k.a. KAHANE.ORG; a.k.a. KAHANE; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [SDT][FTO][SDGT]

THE ISLAMIC ARMY FOR THE LIBERATION OF THE HOLY PLACES (a.k.a. AL QA'IDA; a.k.a. AL QAEDA; a.k.a. AL QAIDA; a.k.a. AL-JIHAD; a.k.a. EGYPTIAN AL-JIHAD; a.k.a. EGYPTIAN ISLAMIC JIHAD; a.k.a. INTERNATIONAL FRONT FOR FIGHTING JEWS AND CRUSADES; a.k.a. ISLAMIC ARMY FOR THE LIBERATION OF HOLY SITES; a.k.a. ISLAMIC ARMY; a.k.a. ISLAMIC SALVATION FOUNDATION; a.k.a. NEW JIHAD; a.k.a. THE GROUP FOR THE PRESERVATION OF THE HOLY SITES; a.k.a. THE JIHAD GROUP; a.k.a. THE WORLD ISLAMIC FRONT FOR JIHAD AGAINST JEWS AND CRUSADERS; a.k.a. USAMA BIN LADEN NETWORK; a.k.a. USAMA BIN LADEN ORGANIZATION; a.k.a. “THE BASE”) [SDT][FTO][SDGT]

THE ISLAMIC INTERNATIONAL BRIGADE (a.k.a. INTERNATIONAL BATTALION; a.k.a. ISLAMIC PEACEKEEPING INTERNATIONAL BRIGADE; a.k.a. PEACEKEEPING BATTALION; a.k.a. THE INTERNATIONAL BRIGADE; a.k.a. THE ISLAMIC PEACEKEEPING ARMY; a.k.a. THE ISLAMIC PEACEKEEPING BRIGADE) [SDGT]

THE ISLAMIC PEACEKEEPING ARMY (a.k.a. INTERNATIONAL BATTALION; a.k.a. ISLAMIC PEACEKEEPING INTERNATIONAL BRIGADE; a.k.a. PEACEKEEPING BATTALION; a.k.a. THE INTERNATIONAL BRIGADE; a.k.a. THE ISLAMIC INTERNATIONAL BRIGADE; a.k.a. THE ISLAMIC PEACEKEEPING BRIGADE) [SDGT]

THE ISLAMIC PEACEKEEPING BRIGADE (a.k.a. INTERNATIONAL BATTALION; a.k.a. ISLAMIC PEACEKEEPING INTERNATIONAL BRIGADE; a.k.a. PEACEKEEPING BATTALION; a.k.a. THE INTERNATIONAL BRIGADE; a.k.a. THE ISLAMIC INTERNATIONAL BRIGADE; a.k.a. THE ISLAMIC PEACEKEEPING ARMY) [SDGT]

THE ISLAMIC SPECIAL PURPOSE REGIMENT (a.k.a. ISLAMIC REGIMENT OF SPECIAL MEANING; a.k.a. THE AL-JIHAD-FISI-SABILILAH SPECIAL ISLAMIC REGIMENT; a.k.a. THE SPECIAL PURPOSE ISLAMIC REGIMENT) [SDGT]

THE JIHAD GROUP (a.k.a. AL QAEDA; a.k.a. AL QA'IDA; a.k.a. AL QAIDA; a.k.a. AL-JIHAD; a.k.a. EGYPTIAN AL-JIHAD; a.k.a. EGYPTIAN ISLAMIC JIHAD; a.k.a. INTERNATIONAL FRONT FOR FIGHTING JEWS AND CRUSADES; a.k.a. ISLAMIC ARMY FOR THE LIBERATION OF HOLY SITES; a.k.a. ISLAMIC ARMY; a.k.a. ISLAMIC SALVATION FOUNDATION; a.k.a. NEW JIHAD; a.k.a. THE GROUP FOR THE PRESERVATION OF THE HOLY SITES; a.k.a. THE ISLAMIC ARMY FOR THE LIBERATION OF THE HOLY PLACES; a.k.a. THE WORLD ISLAMIC FRONT FOR JIHAD AGAINST JEWS AND CRUSADERS; a.k.a. USAMA BIN LADEN NETWORK; a.k.a. USAMA BIN LADEN ORGANIZATION; a.k.a. “THE BASE”) [SDT][FTO][SDGT]

THE JUDEAN LEGION (a.k.a. AMERICAN FRIENDS OF THE UNITED YESHIVA MOVEMENT; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH LEGION; a.k.a. JUDEA POLICE; a.k.a. JUDEAN CONGRESS; a.k.a. KACH; a.k.a. KAHANE CHAI; a.k.a. KAHANE LIVES; a.k.a. KAHANE TZADAK; a.k.a. KAHANE.NET; a.k.a. KAHANE.ORG; a.k.a. KAHANE; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [SDT][FTO][SDGT]

THE JUDEAN VOICE (a.k.a. AMERICAN FRIENDS OF THE UNITED YESHIVA MOVEMENT; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH LEGION; a.k.a. JUDEA POLICE; a.k.a. JUDEAN CONGRESS; a.k.a. KACH; a.k.a. KAHANE CHAI; a.k.a. KAHANE LIVES; a.k.a. KAHANE TZADAK; a.k.a. KAHANE.NET; a.k.a. KAHANE.ORG; a.k.a. KAHANE; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JUDEAN LEGION; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [SDT][FTO][SDGT]

THE MODERN LAUNDRY BLUE FACTORY (a.k.a. MODERN LAUNDRY BLUE FACTORY), P.O. Box 2241, Khartoum, Sudan [SUDAN]

THE NATIONAL LIBERATION ARMY OF IRAN (a.k.a. MEK; a.k.a. MKO; a.k.a. MUJAHEDIN-E KHALQ ORGANIZATION; a.k.a. MUJAHEDIN-E KHALQ; a.k.a. MUSLIM IRANIAN STUDENT'S SOCIETY; a.k.a. NATIONAL COUNCIL OF RESISTANCE (NCR); a.k.a. NATIONAL COUNCIL OF RESISTANCE OF IRAN; a.k.a. NATIONAL COUNCIL OF RESISTANCE; a.k.a. NCRI; a.k.a. NLA; a.k.a. ORGANIZATION OF THE PEOPLE'S HOLY WARRIORS OF IRAN; a.k.a. PEOPLE'S MUJAHEDIN ORGANIZATION OF IRAN; a.k.a. PMOI; a.k.a. SAZEMAN-E MUJAHEDIN-E KHALQ-E IRAN), including its U.S. representative offices and all other offices worldwide [FTO][SDGT]

THE PEOPLE'S DEFENSE FORCE (a.k.a. FREEDOM AND DEMOCRACY CONGRESS OF KURDISTAN; a.k.a. HALU MESRU SAVUNMA KUVVETI (HSK); a.k.a. KADEK; a.k.a. KONGRA-GEL; a.k.a. KURDISTAN FREEDOM AND DEMOCRACY CONGRESS; a.k.a. KURDISTAN PEOPLE'S CONGRESS (KHK); a.k.a. KURDISTAN WORKERS' PARTY; a.k.a. PARTIYA KARKERAN KURDISTAN; a.k.a. PEOPLE'S CONGRESS OF KURDISTAN; a.k.a. PKK) [FTO][SDGT]

THE PEOPLE'S LIBERATION ARMY OF NEPAL (a.k.a. COMMUNIST PARTY OF NEPAL (MAOIST); a.k.a. CPN (M); a.k.a. UNITED REVOLUTIONARY PEOPLE'S COUNCIL) [SDGT]

THE QOMEMIYUT MOVEMENT (a.k.a. AMERICAN FRIENDS OF THE UNITED YESHIVA MOVEMENT; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH LEGION; a.k.a. JUDEA POLICE; a.k.a. JUDEAN CONGRESS; a.k.a. KACH; a.k.a. KAHANE CHAI; a.k.a. KAHANE LIVES; a.k.a. KAHANE TZADAK; a.k.a. KAHANE.NET; a.k.a. KAHANE.ORG; a.k.a. KAHANE; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JUDEAN LEGION; a.k.a. THE JUDEAN VOICE; a.k.a. THE RABBI MEIR DAVID KAHANE MEMORIAL FUND; a.k.a. THE VOICE OF JUDEA; a.k.a. THE WAY OF THE TORAH; a.k.a. THE YESHIVA OF THE JEWISH IDEA; a.k.a. YESHIVAT HARAV MEIR) [SDT][FTO][SDGT]

THE RABBI MEIR DAVID KAHANE MEMORIAL FUND (a.k.a. AMERICAN FRIENDS OF THE UNITED YESHIVA MOVEMENT; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH LEGION; a.k.a. JUDEA POLICE; a.k.a. JUDEAN CONGRESS; a.k.a. KACH; a.k.a. KAHANE CHAI; a.k.a. KAHANE LIVES; a.k.a. KAHANE TZADAK; a.k.a. KAHANE.NET; a.k.a. KAHANE.ORG; a.k.a. KAHANE; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JUDEAN LEGION; a.k.a. THE JUDEAN VOICE; a.k.a. THE QOMEMIYUT MOVEMENT; a.k.a. THE VOICE OF JUDEA; a.k.a. THE WAY OF THE TORAH; a.k.a. THE YESHIVA OF THE JEWISH IDEA; a.k.a. YESHIVAT HARAV MEIR) [SDT][FTO][SDGT]

THE RIYADUS-SALIKHIN RECONNAISSANCE AND SABOTAGE BATTALION OF CHECHEN MARTYRS (a.k.a. RIYADH-AS-SALIHEEN; a.k.a. RIYADUS-SALIKHIN RECONNAISSANCE AND SABOTAGE BATTALION OF SHAHIDS (MARTYRS); a.k.a. RIYADUS-SALIKHIN RECONNAISSANCE AND SABOTAGE BATTALION; a.k.a. THE SABOTAGE AND MILITARY SURVEILLANCE GROUP OF THE RIYADH AL-SALIHIN MARTYRS) [SDGT]

THE SABOTAGE AND MILITARY SURVEILLANCE GROUP OF THE RIYADH AL-SALIHIN MARTYRS (a.k.a. RIYADH-AS-SALIHEEN; a.k.a. RIYADUS-SALIKHIN RECONNAISSANCE AND SABOTAGE BATTALION OF SHAHIDS (MARTYRS); a.k.a. RIYADUS-SALIKHIN RECONNAISSANCE AND SABOTAGE BATTALION; a.k.a. THE RIYADUS-SALIKHIN RECONNAISSANCE AND SABOTAGE BATTALION OF CHECHEN MARTYRS) [SDGT]

THE SPECIAL PURPOSE ISLAMIC REGIMENT (a.k.a. ISLAMIC REGIMENT OF SPECIAL MEANING; a.k.a. THE AL-JIHAD-FISI-SABILILAH SPECIAL ISLAMIC REGIMENT; a.k.a. THE ISLAMIC SPECIAL PURPOSE REGIMENT) [SDGT]

THE VOICE OF JUDEA (a.k.a. AMERICAN FRIENDS OF THE UNITED YESHIVA MOVEMENT; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH LEGION; a.k.a. JUDEA POLICE; a.k.a. JUDEAN CONGRESS; a.k.a. KACH; a.k.a. KAHANE CHAI; a.k.a. KAHANE LIVES; a.k.a. KAHANE TZADAK; a.k.a. KAHANE.NET; a.k.a. KAHANE.ORG; a.k.a. KAHANE; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JUDEAN LEGION; a.k.a. THE JUDEAN VOICE; a.k.a. THE QOMEMIYUT MOVEMENT; a.k.a. THE RABBI MEIR DAVID KAHANE MEMORIAL FUND; a.k.a. THE WAY OF THE TORAH; a.k.a. THE YESHIVA OF THE JEWISH IDEA; a.k.a. YESHIVAT HARAV MEIR) [SDT][FTO][SDGT]

THE WAY OF THE TORAH (a.k.a. AMERICAN FRIENDS OF THE UNITED YESHIVA MOVEMENT; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH LEGION; a.k.a. JUDEA POLICE; a.k.a. JUDEAN CONGRESS; a.k.a. KACH; a.k.a. KAHANE CHAI; a.k.a. KAHANE LIVES; a.k.a. KAHANE TZADAK; a.k.a. KAHANE.NET; a.k.a. KAHANE.ORG; a.k.a. KAHANE; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE YESHIVA OF THE JEWISH IDEA; a.k.a. YESHIVAT HARAV MEIR) [SDT][FTO][SDGT]

THE WORLD ISLAMIC FRONT FOR JIHAD AGAINST JEWS AND CRUSADERS (a.k.a. AL QA'IDA; a.k.a. AL QAEDA; a.k.a. AL QAIDA; a.k.a. AL-JIHAD; a.k.a. EGYPTIAN AL-JIHAD; a.k.a. EGYPTIAN ISLAMIC JIHAD; a.k.a. INTERNATIONAL FRONT FOR FIGHTING JEWS AND CRUSADES; a.k.a. ISLAMIC ARMY FOR THE LIBERATION OF HOLY SITES; a.k.a. ISLAMIC ARMY; a.k.a. ISLAMIC SALVATION FOUNDATION; a.k.a. NEW JIHAD; a.k.a. THE GROUP FOR THE PRESERVATION OF THE HOLY SITES; a.k.a. THE ISLAMIC ARMY FOR THE LIBERATION OF THE HOLY PLACES; a.k.a. THE JIHAD GROUP; a.k.a. USAMA BIN LADEN NETWORK; a.k.a. USAMA BIN LADEN ORGANIZATION; a.k.a. “THE BASE”) [SDT][FTO][SDGT]

THE YESHIVA OF THE JEWISH IDEA (a.k.a. AMERICAN FRIENDS OF THE UNITED YESHIVA MOVEMENT; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH LEGION; a.k.a. JUDEA POLICE; a.k.a. JUDEAN CONGRESS; a.k.a. KACH; a.k.a. KAHANE CHAI; a.k.a. KAHANE LIVES; a.k.a. KAHANE TZADAK; a.k.a. KAHANE.NET; a.k.a. KAHANE.ORG; a.k.a. KAHANE; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. YESHIVAT HARAV MEIR) [SDT][FTO][SDGT]

THIRWAT, Salah Shihata (a.k.a. SHIHATA, Thirwat Salah; a.k.a. ABDALLAH, Tarwat Salah; a.k.a. THIRWAT, Shahata); DOB 29 Jun 60; POB Egypt (individual) [SDGT]

THIRWAT, Shahata (a.k.a. SHIHATA, Thirwat Salah; a.k.a. ABDALLAH, Tarwat Salah; a.k.a. THIRWAT, Salah Shihata); DOB 29 Jun 60; POB Egypt (individual) [SDGT]

THOB, Noordin Mohammad (a.k.a. MAT TOP, Noordin; a.k.a. TOP, Noor Din bin Mohamed; a.k.a. TOP, Noordin Mohamed; a.k.a. TOP, Nordin Mohd); DOB 11 Aug 1968; POB Malaysia; nationality Malaysian (individual) [SDGT]

TIBESTI AUTOMOBILE GENERAL CO., P.O. Box 8456, Tripoli, Libya; (branch) P.O. Box 5397, Benghazi, Libya; (branch) Derna, Libya; (branch) Misurata, Libya; (branch) Khums, Libya; (branch) Sebha, Libya; (branch) Gharian, Libya; (branch) Zawia, Libya; (branch) Tripoli, Libya [LIBYA]

TIGRIS TRADING, INC., 2 Stratford Place, London W1N 9AE, England [IRAQ]

TIGRIS TRADING, INC., 5903 Harper Road, Solon, OH 44139 U.S.A. [IRAQ]

TILFAH, Sajida Khayrallah; DOB 1937; POB Al-Awja, near Tikrit, Iraq; nationality Iraqi; wife of Saddam Hussein al-Tikriti (individual) [IRAQ2]

TITOS BOLO CLUB, Carrera 51B No. 94-110, Barranquilla, Colombia; NIT # 890108148-6 (Colombia) [SDNT]

TLILI, Lazhar Ben Mohammed, Via Carlo Porta n.97, Legnano, Italy; DOB 26 Mar 1969; POB Tunis, Tunisia; Italian Fiscal Code: TLLLHR69C26Z352G (individual) [SDGT]

TOBOGON, Avenida Guadalupe con Avenida Simon Bolivar, Cali, Colombia [SDNT]

TODOBOLSAS Y COLSOBRES (f.k.a. RODRIGUEZ CARRENO LTDA. TODO BOLSAS Y COLSOBRES), Carrera 20 No. 66-34, Bogota, Colombia; NIT # 860053774-1 (Colombia) [SDNT]

TODOROVIC, Stevan; DOB 29 Dec 1957; POB Donja Slatina, Bosnia-Herzegovina; ICTY indictee (individual) [BALKANS]

TODOVIC, Savo; DOB 11 Dec 1952; POB Rijeka, Bosnia-Herzegovina; ICTY indictee (individual) [BALKANS]

TOLEDO CARREJO, Luis Raul, Calle De Los Olivos 10549, Colonia Jardines de Chapultepec, Tijuana, Baja California, Mexico; Ave. Xavier Villaurrutia 9950, Colonia Zona Urbana Rio, Tijuana, Baja California, Mexico; Ave. Queretaro 2984, Colonia Francisco I. Madero, Tijuana, Baja California, Mexico; c/o FARMACIA VIDA SUPREMA, S.A. DE C.V., Tijuana, Baja California, Mexico; c/o ADMINISTRADORA DE IMUEBLES VIDA, S.A. DE C.V., Tijuana, Baja California, Mexico; c/o DISTRIBUIDORA IMPERIAL DE BAJA CALIFORNIA, S.A. de C.V., Tijuana, Baja California, Mexico; DOB 30 Jan 1959; POB Guadalajara, Jalisco, Mexico (individual) [SDNTK]

TOLEDO, R.F., Managing Director, Havana International Bank, 20 Ironmonger Lane, London EC2V 8EF, England (individual) [CUBA]

TOLMETHA SHIPPING ESTABLISHMENT, P.O. Box 208, Derna, Libya [LIBYA]

TONCEL REDONDO, Milton De Jesus (a.k.a. “El Negro;” a.k.a. “Joaquin Gomez;” a.k.a. “Oro Churco;” a.k.a. “Usurriaga”); DOB 18 Mar 1947; alt. DOB Feb 1949; POB Barrancas, La Guajira, Colombia; alt. POB Ubita, Boyaca, Colombia; Cedula No. 15237742 (Colombia); may also be using Cedula No. 70753211 (Colombia) (individual) [SDNTK]

TOP, Noor Din bin Mohamed (a.k.a. MAT TOP, Noordin; a.k.a. THOB, Noordin Mohammad; a.k.a. TOP, Noordin Mohamed; a.k.a. TOP, Nordin Mohd); DOB 11 Aug 1968; POB Malaysia; nationality Malaysian (individual) [SDGT]

TOP, Noordin Mohamed (a.k.a. MAT TOP, Noordin; a.k.a. THOB, Noordin Mohammad; a.k.a. TOP, Noor Din bin Mohamed; a.k.a. TOP, Nordin Mohd); DOB 11 Aug 1968; POB Malaysia; nationality Malaysian (individual) [SDGT]

TOP, Nordin Mohd (a.k.a. MAT TOP, Noordin; a.k.a. THOB, Noordin Mohammad; a.k.a. TOP, Noor Din bin Mohamed; a.k.a. TOP, Noordin Mohamed); DOB 11 Aug 1968; POB Malaysia; nationality Malaysian (individual) [SDGT]

TORRES CORTES, Joselin, c/o AUREAL INMOBILIARIA LTDA., Bogota, Colombia; Cedula No. 19482747 (Colombia) (individual) [SDNT]

TORRES LOZANO, Isolina, c/o COSMEPOP, Bogota, Colombia; c/o LABORATORIOS BLAIMAR DE COLOMBIA S.A., Bogota, Colombia; Cedula No. 28796392 (Colombia) (individual) [SDNT]

TORRES, Manuel, Representative, Banco Nacional de Cuba, Federico Boyd Ave & 51 Street, Panama City, Panama (individual) [CUBA]

TORRES MENDEZ, Ramon (a.k.a. ARELLANO FELIX, Ramon Eduardo; a.k.a. COMACHO RODRIGUES, Gilberto), DOB 31 Aug 1964; POB Mexico (individual) [SDNTK]

TORRES MORENO, Marisol, c/o PROVIDA E.U., Cali, Colombia; DOB 10 May 1969; Passport 31992583 (Colombia); Cedula No. 31992583 (Colombia) (individual) [SDNT]

TORRES REINA, Oscar Javier, c/o COOPCREAR, Bogota, Colombia; DOB 2 Jan 1978; Passport 79886044 (Colombia); Cedula No. 79886044 (Colombia) (individual) [SDNT]

TORRES VICTORIA, Jorge (a.k.a. “Pablo Catatumbo”); DOB 19 Mar 1953; POB Cali, Valle, Colombia; Cedula No. 14990220 (Colombia) (individual) [SDNTK]

TOSCO, Arnaldo (GARCIA), Panama (individual) [CUBA]

TOURISM AND HOTELS CORPORATION, P.O. Box 7104, Khartoum, Sudan; Ed Damer, Sudan; El Fasher, Sudan; Khartoum Airport, Sudan; Port Sudan, Sudan [SUDAN]

TRABELSI, Mourad (a.k.a. Abou Djarrah), “last known address,” Via Geromini 15, Cremona, Italy; DOB 20 May 1969; POB Menzel Temine, Tunisia; nationality Tunisian; arrested 1 Apr 2003 (individual) [SDGT]

TRADACO S.A. (n.k.a. JARACO S.A.; n.k.a. SOKTAR), 45 Route de Frontenex, CH-1207 Geneva, Switzerland [IRAQ]

TRADING & MARITIME INVESTMENTS, San Lorenzo, Honduras [IRAQ]

TRAMP PIONEER SHIPPING CO., Panama (c/o Anglo Caribbean Shipping Co., Ltd., 4th Floor, South Phase 2, South Quay Plaza, 183 Marsh Wall, London E14 9SH, England [CUBA]

TRANSIT, S.A., Panama [CUBA]

TRANSOVER, S.A. (a.k.a. HAVINPEX, S.A.), Panama City, Panama [CUBA]

TRANSPORTING, LLC, 6555 NW 36th Street, Suite 304, Virginia Gardens, Florida 33166-6975; 9443 Fontainebleau Boulevard, No. 114, Miami, Florida 33172; Business Registration Document # L00000012836 (Florida, U.S.A.); U.S. FEIN: 65-1048798 [BPI-SDNT]

TRAVEL SERVICES, INC., Hialeah, Florida, U.S.A. [CUBA]

TREJOS AGUILAR, Sonia, Carrera 8 No. 6-37, Zarzal, Valle del Cauca, Colombia; Cali, Colombia; c/o AGROINVERSORA URDINOLA HENAO Y CIA. S.C.S., Cali, Colombia; c/o EXPLOTACIONES AGRICOLAS Y GANADERAS LA LORENA S.C.S., Cali, Colombia; c/o INDUSTRIAS AGROPECUARIAS DEL VALLE LTDA., Cali, Colombia; c/o INVERSIONES EL EDEN S.C.S., Cali, Colombia; Cedula No. 66675927 (Colombia) (individual) [SDNT]

TREJOS MARQUEZ, Arnulfo, Carrera 4 No. 9-17 of. 308, AA 38028, Cali, Colombia; c/o CONSTRUCTORA TREMI LTDA., Cali, Colombia; Cedula No. 6090595 (Colombia) (individual) [SDNT]

TREVISO TRADING CORPORATION, Edificio Banco de Boston, Panama City, Panama [CUBA]

TRIANA TEJADA, Luis Humberto, c/o COMERCIALIZADORA DE CARNES DEL PACIFICO LTDA., Cali, Colombia; Cedula No. 4916206 (Colombia) (individual) [SDNT]

TRINIDAD LTDA. Y CIA. S.C.S., Carrera 43 No. 4-47, Buenaventura, Colombia; NIT # 800009737-2 (Colombia) [SDNT]

TRIPOLI CEMENT SILOS, Libya [LIBYA]

TRIPOLI GRAIN MILL, Libya [LIBYA]

TRISTAN GIL, Luz Maria (a.k.a. TRISTAN GIL, Luz Mery), Carrera 122 No. 20-02, Cali, Colombia; Calle 16 No. 15-30, Cali, Colombia; Calle 5B 4 No. 37-125, Cali, Colombia; c/o CREDISA S.A., Cali, Colombia; c/o LUZ MERY TRISTAN E.U., Cali, Colombia; DOB 01 Apr 1963; POB Cali, Valle, Colombia; Passport 31895852 (Colombia); Cedula No. 31895852 (Colombia) (individual) [SDNT]

TRISTAN GIL, Luz Mery (a.k.a. TRISTAN GIL, Luz Maria), Carrera 122 No. 20-02, Cali, Colombia; Calle 16 No. 15-30, Cali, Colombia; Calle 5B 4 No. 37-125, Cali, Colombia; c/o CREDISA S.A., Cali, Colombia; c/o LUZ MERY TRISTAN E.U., Cali, Colombia; DOB 01 Apr 1963; POB Cali, Valle, Colombia; Passport 31895852 (Colombia); Cedula No. 31895852 (Colombia) (individual) [SDNT]

TROBER, S.A. (a.k.a. TROVER, S.A.), Edificio Saldivar, Panama City, Panama [CUBA]

TROPIC TOURS GMBH (a.k.a. TROPICANA TOURS GMBH), Lietzenburger Strasse 51, Berlin, Germany [CUBA]

TROPICAL AFRICAN BANK LIMITED (f.k.a. LIBYAN ARAB UGANDA BANK FOR FOREIGN TRADE AND DEVELOPMENT), P.O. Box 9485, Kampala, Uganda [LIBYA]

TROPICANA TOURS GMBH (a.k.a. TROPIC TOURS GMBH), Lietzenburger Strasse 51, Berlin, Germany [CUBA]

TROVER, S.A. (a.k.a. TROBER, S.A.), Edificio Saldivar, Panama City, Panama [CUBA]

TRUJILLO CAICEDO, Francisco Javier (Pacho); Calle 8 Oeste No. 24C-75 apt. 1501, Cali, Colombia; Calle 13C No. 75-95 piso 2, Cali, Colombia; Carrera 76A No. 6-34 apt. 107, Cali, Colombia; c/o COLOR 89.5 FM STEREO, Cali, Colombia; DOB 23 Nov 1960; Cedula No. 16264395 (Colombia) (individual) [SDNT]

TRUST IMPORT-EXPORT, S.A., Panama [CUBA]

TUFAIL, Mohammed (a.k.a. TUFAIL, S.M.; a.k.a. TUFAIL, Sheik Mohammed); DOB 5 May 1930; nationality Pakistani (individual) [SDGT]

TUFAIL, S.M. (a.k.a. TUFAIL, Mohammed; a.k.a. TUFAIL, Sheik Mohammed); DOB 5 May 1930; nationality Pakistani (individual) [SDGT]

TUFAIL, Sheik Mohammed (a.k.a. TUFAIL, Mohammed; a.k.a. TUFAIL, S.M.); DOB 5 May 1930; nationality Pakistani (individual) [SDGT]

TUFAYLI, Subhi; Former Secretary General and Current Senior Figure of HIZBALLAH; DOB 1947; POB Biqa Valley, Lebanon (individual) [SDT]

TUITO, Daniel (a.k.a. MAMO, Eliyahu; a.k.a. REVIVO, Simon; a.k.a. TUITO, David; a.k.a. TUITO, Oded; a.k.a. TVITO, Daniel; a.k.a. TVITO, Oded); DOB 27 Dec 1959; alt. DOB 29 Nov 1959; alt. DOB 27 Feb 1959; alt. DOB 12 Dec 1959; alt. DOB 25 Jul 1961; POB Israel (individual) [SDNTK]

TUITO, David (a.k.a. MAMO, Eliyahu; a.k.a. REVIVO, Simon; a.k.a. TUITO, Daniel; a.k.a. TUITO, Oded; a.k.a. TVITO, Daniel; a.k.a. TVITO, Oded); DOB 27 Dec 1959; alt. DOB 29 Nov 1959; alt. DOB 27 Feb 1959; alt. DOB 12 Dec 1959; alt. DOB 25 Jul 1961; POB Israel (individual) [SDNTK]

TUITO, Oded (a.k.a. MAMO, Eliyahu; a.k.a. REVIVO, Simon; a.k.a. TUITO, Daniel; a.k.a. TUITO, David; a.k.a. TVITO, Daniel; a.k.a. TVITO, Oded); DOB 27 Dec 1959; alt. DOB 29 Nov 1959; alt. DOB 27 Feb 1959; alt. DOB 12 Dec 1959; alt. DOB 25 Jul 1961; POB Israel (individual) [SDNTK]

TUNGAMIRAI, Josiah, Politburo Secretary for Empowerment and Indigenization of Zimbabwe; DOB 8 Oct 1948 (individual) [ZIMB]

TUNISIAN COMBAT GROUP (a.k.a. GCT; a.k.a. GROUPE COMBATTANT TUNISIEN; a.k.a. JAMA'A COMBATTANTE TUNISIEN; a.k.a. JCT; a.k.a. TUNISIAN COMBATANT GROUP) [SDGT]

TUNISIAN COMBATANT GROUP (a.k.a. GCT; a.k.a. GROUPE COMBATTANT TUNISIEN; a.k.a. JAMA'A COMBATTANTE TUNISIEN; a.k.a. JCT; a.k.a. TUNISIAN COMBAT GROUP) [SDGT]

TURKISH-LIBYAN JOINT MARITIME TRANSPORT STOCK COMPANY (a.k.a. TURLIB), Kemeralti Caddesi 99, 80020 Karakoy, Istanbul, Turkey [LIBYA]

TURLIB (a.k.a. TURKISH-LIBYAN JOINT MARITIME TRANSPORT STOCK COMPANY), Kemeralti Caddesi 99, 80020 Karakoy, Istanbul, Turkey [LIBYA]

TVITO, Daniel (a.k.a. MAMO, Eliyahu; a.k.a. REVIVO, Simon; a.k.a. TUITO, Daniel; a.k.a. TUITO, David; a.k.a. TUITO, Oded; a.k.a. TVITO, Oded); DOB 27 Dec 1959; alt. DOB 29 Nov 1959; alt. DOB 27 Feb 1959; alt. DOB 12 Dec 1959; alt. DOB 25 Jul 1961; POB Israel (individual) [SDNTK]

TVITO, Oded (a.k.a. MAMO, Eliyahu; a.k.a. REVIVO, Simon; a.k.a. TUITO, Daniel; a.k.a. TUITO, David; a.k.a. TUITO, Oded; a.k.a. TVITO, Daniel); DOB 27 Dec 1959; alt. DOB 29 Nov 1959; alt. DOB 27 Feb 1959; alt. DOB 12 Dec 1959; alt. DOB 25 Jul 1961; POB Israel (individual) [SDNTK]

TYRE PLANT, Libya [LIBYA]

TYRES RETREADING CENTRES, Libya [LIBYA]

U.I. INTERNATIONAL, England [IRAQ]

UCK (a.k.a. NLA; a.k.a. NATIONAL LIBERATION ARMY) [BALKANS]

UCPMB (a.k.a. LIBERATION ARMY OF PRESEVO, MEDVEDJA, AND BUJANOVAC) [BALKANS]

UGANDA LIBYAN HOLDING CO. LTD. (a.k.a. LIBYAN ARAB UGANDA HOLDING CO. LTD.), Kampala, Uganda [LIBYA]

UGUETO, Luis David (MOROS), Cyprus (individual) [LIBYA]

UKSHINI, Sami (a.k.a. UKSINI, Sami); DOB 5 Mar 1963; POB Gjakova, Serbia and Montenegro (individual) [BALKANS]

UKSINI, Sami (a.k.a. UKSHINI, Sami); DOB 5 Mar 1963; POB Gjakova, Serbia and Montenegro (individual) [BALKANS]

UL-HAQ, Dr. Amin (a.k.a. AH HAQ, Dr. Amin; a.k.a. AL-HAQ, Amin; a.k.a. AMIN, Muhammad); DOB 1960; POB Nangahar Province, Afghanistan (individual) [SDGT]

ULSTER DEFENCE ASSOCIATION (a.k.a. ULSTER FREEDOM FIGHTERS); United Kingdom [SDGT]

ULSTER FREEDOM FIGHTERS (a.k.a. ULSTER DEFENCE ASSOCIATION); United Kingdom [SDGT]

UMAR, Abu Umar (a.k.a. ABU ISMAIL; a.k.a. ABU UMAR, Abu Omar; a.k.a. AL-FILISTINI, Abu Qatada; a.k.a. TAKFIRI, Abu 'Umr; a.k.a. UTHMAN, Al-Samman; a.k.a. UTHMAN, Omar Mahmoud; a.k.a. UTHMAN, Umar), London, England; DOB 30 Dec 1960; DOB 13 Dec 1960 (individual) [SDGT]

UMM AL-JAWABY OIL SERVICE COMPANY, LTD., 33 Cavendish Square, London W1M 9HF, England [LIBYA]

UMM AL-JAWABY PETROLEUM CO. S.A.L., Nafoora Field, Libya [LIBYA]

UMM AL-JAWABY PETROLEUM CO. S.A.L., P.O. Box 693, Tripoli, Libya [LIBYA]

UMMA BANK S.A.L., (31 branches throughout Libya) [LIBYA]

UMMA BANK S.A.L., 1 Giaddet Omar Mokhtar, P.O. Box 685, Tripoli, Libya [LIBYA]

UMMAH TAMEER E-NAU (UTN) (a.k.a. FOUNDATION FOR CONSTRUCTION; a.k.a. NATION BUILDING; a.k.a. RECONSTRUCTION FOUNDATION; a.k.a. RECONSTRUCTION OF THE ISLAMIC COMMUNITY; a.k.a. RECONSTRUCTION OF THE MUSLIM UMMAH; a.k.a. UMMAH TAMEER I-NAU; a.k.a. UMMAH TAMIR E-NAU; a.k.a. UMMAH TAMIR I-NAU; a.k.a. UMMAT TAMIR E-NAU; a.k.a. UMMAT TAMIR-I-PAU), Street 13, Wazir Akbar Khan, Kabul, Afghanistan; 60-C, Nazim Ud Din Road, Islamabad F 8/4, Pakistan [SDGT]

UMMAH TAMEER I-NAU (a.k.a. UMMAH TAMEER E-NAU (UTN); a.k.a. FOUNDATION FOR CONSTRUCTION; a.k.a. NATION BUILDING; a.k.a. RECONSTRUCTION FOUNDATION; a.k.a. RECONSTRUCTION OF THE ISLAMIC COMMUNITY; a.k.a. RECONSTRUCTION OF THE MUSLIM UMMAH; a.k.a. UMMAH TAMIR E-NAU; a.k.a. UMMAH TAMIR I-NAU; a.k.a. UMMAT TAMIR E-NAU; a.k.a. UMMAT TAMIR-I-PAU), Street 13, Wazir Akbar Khan, Kabul, Afghanistan; 60-C, Nazim Ud Din Road, Islamabad F 8/4, Pakistan [SDGT]

UMMAH TAMIR E-NAU (a.k.a. UMMAH TAMEER E-NAU (UTN); a.k.a. FOUNDATION FOR CONSTRUCTION; a.k.a. NATION BUILDING; a.k.a. RECONSTRUCTION FOUNDATION; a.k.a. RECONSTRUCTION OF THE ISLAMIC COMMUNITY; a.k.a. RECONSTRUCTION OF THE MUSLIM UMMAH; a.k.a. UMMAH TAMEER I-NAU; a.k.a. UMMAH TAMIR I-NAU; a.k.a. UMMAT TAMIR E-NAU; a.k.a. UMMAT TAMIR-I-PAU), Street 13, Wazir Akbar Khan, Kabul, Afghanistan; 60-C, Nazim Ud Din Road, Islamabad F 8/4, Pakistan [SDGT]

UMMAH TAMIR I-NAU (a.k.a. UMMAH TAMEER E-NAU (UTN); a.k.a. FOUNDATION FOR CONSTRUCTION; a.k.a. NATION BUILDING; a.k.a. RECONSTRUCTION FOUNDATION; a.k.a. RECONSTRUCTION OF THE ISLAMIC COMMUNITY; a.k.a. RECONSTRUCTION OF THE MUSLIM UMMAH; a.k.a. UMMAH TAMEER I-NAU; a.k.a. UMMAH TAMIR E-NAU; a.k.a. UMMAT TAMIR E-NAU; a.k.a. UMMAT TAMIR-I-PAU), Street 13, Wazir Akbar Khan, Kabul, Afghanistan; 60-C, Nazim Ud Din Road, Islamabad F 8/4, Pakistan [SDGT]

UMMAT TAMIR E-NAU (a.k.a. UMMAH TAMEER E-NAU (UTN); a.k.a. FOUNDATION FOR CONSTRUCTION; a.k.a. NATION BUILDING; a.k.a. RECONSTRUCTION FOUNDATION; a.k.a. RECONSTRUCTION OF THE ISLAMIC COMMUNITY; a.k.a. RECONSTRUCTION OF THE MUSLIM UMMAH; a.k.a. UMMAH TAMEER I-NAU; a.k.a. UMMAH TAMIR E-NAU; a.k.a. UMMAH TAMIR I-NAU; a.k.a. UMMAT TAMIR-I-PAU), Street 13, Wazir Akbar Khan, Kabul, Afghanistan; 60-C, Nazim Ud Din Road, Islamabad F 8/4, Pakistan [SDGT]

UMMAT TAMIR-I-PAU (a.k.a. UMMAH TAMEER E-NAU (UTN); a.k.a. FOUNDATION FOR CONSTRUCTION; a.k.a. NATION BUILDING; a.k.a. RECONSTRUCTION FOUNDATION; a.k.a. RECONSTRUCTION OF THE ISLAMIC COMMUNITY; a.k.a. RECONSTRUCTION OF THE MUSLIM UMMAH; a.k.a. UMMAH TAMEER I-NAU; a.k.a. UMMAH TAMIR E-NAU; a.k.a. UMMAH TAMIR I-NAU; a.k.a. UMMAT TAMIR E-NAU), Street 13, Wazir Akbar Khan, Kabul, Afghanistan; 60-C, Nazim Ud Din Road, Islamabad F 8/4, Pakistan [SDGT]

UNIDAS S.A., Avenida 7 Norte No. 23N-81, Cali, Colombia; Avenida 7 Northe No. 23-74, Cali, Colombia; NIT # 800080688-0 (Colombia) [SDNT]

UNIPAPEL S.A. (f.k.a. UNIPAPEL S.A. BOLSAS DE PAPEL PAPELES SOBRES), Calle 15 No. 26-400 Urbanizacion Industrial Acopi, Yumbo, Colombia; Autopista Cali-Yumbo, No. 26-400, Cali, Colombia; Carrera 122 no. 20-02, Cali, Colombia; Carrera 66 No. 7-31, Bogota, Colombia; Carrera 52 No. 35-42, Medellin, Colombia; Carrera 49B No. 75-109 Ofc. 202, Barranquilla, Colombia; NIT # 890301701-6 (Colombia) [SDNT]

UNIPAPEL S.A. BOLSAS DE PAPEL PAPELES SOBRES (n.k.a. UNIPAPEL S.A.), Calle 15 No. 26-400 Urbanizacion Industrial Acopi, Yumbo, Colombia; Autopista Cali-Yumbo, No. 26-400, Cali, Colombia; Carrera 122 no. 20-02, Cali, Colombia; Carrera 66 No. 7-31, Bogota, Colombia; Carrera 52 No. 35-42, Medellin, Colombia; Carrera 49B No. 75-109 Ofc. 202, Barranquilla, Colombia; NIT # 890301701-6 (Colombia) [SDNT]

UNITED FAIR AGENCIES, 1202 Carrian Center, 151 Gloucester Road, Wanchai, Hong Kong [CUBA]

UNITED REVOLUTIONARY PEOPLE'S COUNCIL (a.k.a. COMMUNIST PARTY OF NEPAL (MAOIST); a.k.a. CPN (M); a.k.a. THE PEOPLE'S LIBERATION ARMY OF NEPAL) [SDGT]

UNITED SELF-DEFENSE FORCES OF COLOMBIA (a.k.a. AUC; a.k.a. AUTODEFENSAS UNIDAS DE COLOMBIA) [FTO][SDGT][SDNTK]

UNITED WA STATE ARMY (a.k.a. UNITED WA STATE PARTY; a.k.a. UWSA; a.k.a. UWSP) [SDNTK]

UNITED WA STATE PARTY (a.k.a. UNITED WA STATE ARMY; a.k.a. UWSA; a.k.a. UWSP) [SDNTK]

UNITY BANK (now part of BANK OF KHARTOUM GROUP), Bariman Ave., P.O. Box 408, Khartoum, Sudan [SUDAN]

UNIVERSAL SHIPPING AGENCY, Benghazi, Libya [LIBYA]

UNIVERSAL SHIPPING AGENCY, Mersa El Brega, Libya [LIBYA]

UNIVERSAL SHIPPING AGENCY, Misurata, Libya [LIBYA]

UNIVERSAL SHIPPING AGENCY, Tripoli, Libya [LIBYA]

UNIVERSAL SHIPPING AGENCY, Zuetina, Libya [LIBYA]

URANGA ARTOLA, Kemen; member ETA; DOB 25 May 1969; POB Ondarroa (Vizcaya Province), Spain; D.N.I. 30.627.290 (individual) [SDGT]

URBANIZACIONES Y CONSTRUCCIONES LTDA. (n.k.a. URBANIZACIONES Y CONSTRUCCIONES LTDA. DE CALI), Carrera 4 No. 12-41 of. 1403, Cali, Colombia; NIT # 890306569-2 (Colombia) [SDNT]

URBANIZACIONES Y CONSTRUCCIONES LTDA. DE CALI (f.k.a. URBANIZACIONES Y CONSTRUCCIONES LTDA.), Carrera 4 No. 12-41 of. 1403, Cali, Colombia; NIT # 890306569-2 (Colombia) [SDNT]

URDINOLA BETANCOURT, Maritza, c/o CAJA SOLIDARIA, Bogota, Colombia; c/o COPSERVIR LTDA., Bogota, Colombia; DOB 16 Nov 1962; Passport 31893467 (Colombia); Cedula No. 31893467 (Colombia) (individual) [SDNT]

URDINOLA GRAJALES, Ivan (a.k.a. URDINOLA GRAJALES, Jairo Ivan), Calle 52 No. 28E-30, Cali, Colombia; Hacienda La Lorena, Zarzal, Valle del Cauca, Colombia; c/o AGROINVERSORA URDINOLA HENAO Y CIA. S.C.S., Cali, Colombia; c/o CONSTRUCTORA UNIVERSAL LTDA., Cali, Colombia; c/o EXPLOTACIONES AGRICOLAS Y GANADERAS LA LORENA S.C.S., Cali, Colombia; c/o INDUSTRIAS AGROPECUARIAS DEL VALLE LTDA., Cali, Colombia; c/o INVERSIONES EL EDEN S.C.S., Cali, Colombia; DOB 1 Dec 1960; Passport AD129003 (Colombia); Cedula No. 94190353 (Colombia) (individual) [SDNT]

URDINOLA GRAJALES, Jairo Ivan (a.k.a. URDINOLA GRAJALES, Ivan), Calle 52 No. 28E-30, Cali, Colombia; Hacienda La Lorena, Zarzal, Valle del Cauca, Colombia; c/o AGROINVERSORA URDINOLA HENAO Y CIA. S.C.S., Cali, Colombia; c/o CONSTRUCTORA UNIVERSAL LTDA., Cali, Colombia; c/o EXPLOTACIONES AGRICOLAS Y GANADERAS LA LORENA S.C.S., Cali, Colombia; c/o INDUSTRIAS AGROPECUARIAS DEL VALLE LTDA., Cali, Colombia; c/o INVERSIONES EL EDEN S.C.S., Cali, Colombia; DOB 1 Dec 1960; Passport AD129003 (Colombia); Cedula No. 94190353 (Colombia) (individual) [SDNT]

URDINOLA GRAJALES, Julio Fabio, Carrera 40 No. 5A-40, Cali, Colombia; c/o CONSTRUCTORA E INMOBILIARIA URVALLE CIA. LTDA., Cali, Colombia; Cedula No. 16801454 (Colombia) (individual) [SDNT]

URIBE GONZALEZ, Jose Abelardo, c/o PROCESADORA DE POLLOS SUPERIOR S.A., Palmira, Colombia; PROCESADORA DE POLLOS SUPERIOR S.A., Palmira, Colombia; c/o CONSULTORIA EMPRESARIAL ESPECIALIZADA LTDA., Cali, Colombia; c/o INMOBILIARIA U.M.V. S.A., Cali, Colombia; c/o SERVICIOS INMOBILIARIOS LTDA., Cali, Colombia; Cedula No. 16647906 (Colombia) (individual) [SDNT]

USAMA BIN LADEN NETWORK (a.k.a. AL QA'IDA; a.k.a. AL QAEDA; a.k.a. AL QAIDA; a.k.a. AL-JIHAD; a.k.a. EGYPTIAN AL-JIHAD; a.k.a. EGYPTIAN ISLAMIC JIHAD; a.k.a. INTERNATIONAL FRONT FOR FIGHTING JEWS AND CRUSADES; a.k.a. ISLAMIC ARMY FOR THE LIBERATION OF HOLY SITES; a.k.a. ISLAMIC ARMY; a.k.a. ISLAMIC SALVATION FOUNDATION; a.k.a. NEW JIHAD; a.k.a. THE GROUP FOR THE PRESERVATION OF THE HOLY SITES; a.k.a. THE ISLAMIC ARMY FOR THE LIBERATION OF THE HOLY PLACES; a.k.a. THE JIHAD GROUP; a.k.a. THE WORLD ISLAMIC FRONT FOR JIHAD AGAINST JEWS AND CRUSADERS; a.k.a. USAMA BIN LADEN ORGANIZATION; a.k.a. “THE BASE”) [SDT][FTO][SDGT]

USAMA BIN LADEN ORGANIZATION (a.k.a. AL QA'IDA; a.k.a. AL QAEDA; a.k.a. AL QAIDA; a.k.a. AL-JIHAD; a.k.a. EGYPTIAN AL-JIHAD; a.k.a. EGYPTIAN ISLAMIC JIHAD; a.k.a. INTERNATIONAL FRONT FOR FIGHTING JEWS AND CRUSADES; a.k.a. ISLAMIC ARMY FOR THE LIBERATION OF HOLY SITES; a.k.a. ISLAMIC ARMY; a.k.a. ISLAMIC SALVATION FOUNDATION; a.k.a. NEW JIHAD; a.k.a. THE GROUP FOR THE PRESERVATION OF THE HOLY SITES; a.k.a. THE ISLAMIC ARMY FOR THE LIBERATION OF THE HOLY PLACES; a.k.a. THE JIHAD GROUP; a.k.a. THE WORLD ISLAMIC FRONT FOR JIHAD AGAINST JEWS AND CRUSADERS; a.k.a. USAMA BIN LADEN NETWORK; a.k.a. “THE BASE”) [SDT][FTO][SDGT]

UTETE, Charles, Cabinet Secretary of Zimbabwe; DOB 30 Oct 1938 (individual) [ZIMB]

UTHMAN, Al-Samman (a.k.a. ABU ISMAIL; a.k.a. ABU UMAR, Abu Omar; a.k.a. AL-FILISTINI, Abu Qatada; a.k.a. TAKFIRI, Abu 'Umr; a.k.a. UMAR, Abu Umar; a.k.a. UTHMAN, Omar Mahmoud; a.k.a. UTHMAN, Umar), London, England; DOB 30 Dec 1960; DOB 13 Dec 1960 (individual) [SDGT]

UTHMAN, Omar Mahmoud (a.k.a. ABU ISMAIL; a.k.a. ABU UMAR, Abu Omar; a.k.a. AL-FILISTINI, Abu Qatada; a.k.a. TAKFIRI, Abu 'Umr; a.k.a. UMAR, Abu Umar; a.k.a. UTHMAN, Al-Samman; a.k.a. UTHMAN, Umar), London, England; DOB 30 Dec 1960; DOB 13 Dec 1960 (individual) [SDGT]

UTHMAN, Umar (a.k.a. ABU ISMAIL; a.k.a. ABU UMAR, Abu Omar; a.k.a. AL-FILISTINI, Abu Qatada; a.k.a. TAKFIRI, Abu 'Umr; a.k.a. UMAR, Abu Umar; a.k.a. UTHMAN, Al-Samman; a.k.a. UTHMAN, Omar Mahmoud), London, England; DOB 30 Dec 1960; DOB 13 Dec 1960 (individual) [SDGT]

UWSA (a.k.a. UNITED WA STATE ARMY; a.k.a. UNITED WA STATE PARTY; a.k.a. UWSP) [SDNTK]

UWSP (a.k.a. UNITED WA STATE ARMY; a.k.a. UNITED WA STATE PARTY; a.k.a. UWSA) [SDNTK]

VALDIVIESO FONTAL, Diego, c/o VALLADARES LTDA., Cali, Colombia; Cedula No. 16662362 (Colombia) (individual) [SDNT]

VALENCIA ARIAS, Jhon Gavy (John Gaby), Avenida 7N No. 17A-46, Cali, Colombia; Carrera 76 No. 6-200 102, Cali, Colombia; c/o INVERSIONES BETANIA LTDA., Cali, Colombia; c/o INVERSIONES EL PENON S.A., Cali, Colombia; Cedula No. 16741491 (Colombia) (individual) [SDNT]

VALENCIA ARIAS, Luis Fernando, c/o INVERSIONES BETANIA LTDA., Cali, Colombia; c/o INVERSIONES EL PENON S.A., Cali, Colombia; c/o INVERSIONES GEMINIS S.A., Cali, Colombia; Cedula No. 71626881 (Colombia) (individual) [SDNT]

VALENCIA DE JARAMILLO, Maria Diocelina, c/o AGROPECURIA LA ROBLEDA S.A., Cali, Colombia (individual) [SDNT]

VALENCIA DE MEDINA, Adela (a.k.a. VALENCIA TRUJILLO, Adela), Carrera 4 No. 11-45 Ofc. 503, Cali, Colombia; c/o COMPANIA DE FOMENTO MERCANTIL S.A., Cali, Colombia; c/o CREDISA S.A., Cali, Colombia; c/o UNIDAS S.A., Cali, Colombia; DOB 20 Oct 1954; POB Cali, Valle, Colombia; Passport 31277251 (Colombia); Cedula No. 31277251 (Colombia) (individual) [SDNT]

VALENCIA DE VICTORIA, Carmen Emilia (a.k.a. VALENCIA TRUJILLO, Carmen Emilia), Carrera 37 No. 8-26, Cali, Colombia; c/o CREDISA S.A., Cali, Colombia; c/o UNIDAS S.A., Cali, Colombia; DOB 08 Apr 1952; POB Cali, Valle, Colombia; Passport 31244070 (Colombia); Cedula No. 31244070 (Colombia) (individual) [SDNT]

VALENCIA FRANCO, Manuel, c/o GANADERIAS DEL VALLE S.A., Cali, Colombia (individual) [SDNT]

VALENCIA, Jesus Antonio, c/o DISMERCOOP, Cali, Colombia; Cedula No. 16447249 (Colombia) (individual) [SDNT]

VALENCIA OBANDO, William, c/o GRAN MUELLE S.A., Buenaventura, Colombia; DOB 28 Oct 1969; Passport 79245681 (Colombia); Cedula No. 79245681 (Colombia) (individual) [SDNT]

VALENCIA, Reynel (Reinel), c/o PROCESADORA DE POLLOS SUPERIOR S.A., Palmira, Colombia; c/o GANADERIAS DEL VALLE S.A., Cali, Colombia; c/o INMOBILIARIA U.M.V. S.A., Cali, Colombia; Cedula No. 16258610 (Colombia) (individual) [SDNT]

VALENCIA TRUJILLO, Adela (a.k.a. VALENCIA DE MEDINA, Adela), Carrera 4 No. 11-45 Ofc. 503, Cali, Colombia; c/o COMPANIA DE FOMENTO MERCANTIL S.A., Cali, Colombia; c/o CREDISA S.A., Cali, Colombia; c/o UNIDAS S.A., Cali, Colombia; DOB 20 Oct 1954; POB Cali, Valle, Colombia; Passport 31277251 (Colombia); Cedula No. 31277251 (Colombia) (individual) [SDNT]

VALENCIA TRUJILLO, Agueda, Carrera 4 No. 11-45 Ofc. 506, Cali, Colombia; Carrera 5 No. 17-66, Cali, Colombia; Calle 9N A 3-37 Apt. 701, Cali, Colombia; c/o COMPANIA DE FOMENTO MERCANTIL S.A., Cali, Colombia; c/o CONSTRUCCIONES PROGRESO DEL PUERTO S.A., Puerto Tejada, Colombia; c/o CREDISA S.A., Cali, Colombia; c/o PARQUE INDUSTRIAL PROGRESO S.A., Yumbo, Colombia; c/o UNIDAS S.A., Cali, Colombia; DOB 10 Aug 1959; POB Cali, Valle, Colombia; Passport 38943524 (Colombia); Cedula No. 38943524 (Colombia) (individual) [SDNT]

VALENCIA TRUJILLO, Carmen Emilia (a.k.a. VALENCIA DE VICTORIA, Carmen Emilia), Carrera 37 No. 8-26, Cali, Colombia; c/o CREDISA S.A., Cali, Colombia; c/o UNIDAS S.A., Cali, Colombia; DOB 08 Apr 1952; POB Cali, Valle, Colombia; Passport 31244070 (Colombia); Cedula No. 31244070 (Colombia) (individual) [SDNT]

VALENCIA TRUJILLO, Guillermo, Calle 93A No. 14-17 Ofc. 711, Bogota, Colombia; Calle 93N No. 14-20 Ofc. 601, Bogota, Colombia; Carrera 66 No. 7-31, Bogota, Colombia; Calle 67 Norte No. 8-85, Cali, Colombia; POB Cali, Valle, Colombia; Passport 14942909 (Colombia); Cedula No. 14942909 (Colombia) (individual) [SDNT]

VALENCIA TRUJILLO, Joaquin Mario, Carrera 122 No. 20-02, Cali, Colombia; Avenida 7 Norte No. 23N-81, Cali, Colombia; DOB 21 Aug 1957; POB Cali, Valle, Colombia; Driver License No. 76001000150900 (Colombia); Passports 16626888 (Colombia), AC030971 (Colombia); Cedula No. 16626888 (Colombia) (individual) [SDNT]

VALLADARES LTDA. (f.k.a. AGROPECUARIA BETANIA LTDA.), Calle 70N No. 14-31, Cali, Colombia; Carrera 61 No. 11-58, Cali, Colombia; NIT # 890329123-0 (Colombia) [SDNT]

VALLE COMUNICACIONES LTDA. (a.k.a. VALLECOM), Carrera 60 No. 2A-107, Cali, Colombia [SDNT]

VALLE DE ORO S.A., Cali, Colombia; Pollo Tanrico Km 17 Recta Cali-Palmira, Palmira, Colombia; NIT # 890331067-2 (Colombia) [SDNT]

VALLECOM (a.k.a. VALLE COMUNICACIONES LTDA.), Carrera 60 No. 2A-107, Cali, Colombia [SDNT]

VALLEJO BAYONA, Diego, c/o ADMACOOP, Bogota, Colombia; c/o COMEDICAMENTOS S.A., Bogota, Colombia; c/o LABORATORIOS KRESSFOR DE COLOMBIA S.A., Bogota, Colombia; c/o LABORATORIOS PROFARMA LTDA., Bogota, Colombia; c/o MATERIAS PRIMAS Y SUMINISTROS S.A., Bogota, Colombia; Passport 19285053 (Colombia); Cedula No. 19285053 (Colombia) (individual) [SDNT]

VALLEJO FRANCO, Inigo; member ETA; DOB 21 May 1976; POB Bilbao (Vizcaya Province), Spain; D.N.I. 29.036.694 (individual) [SDGT]

VALLETTA SHIPPING CORPORATION, c/o EMPRESA DE NAVEGACION MAMBISA, Apartado 543, San Ignacio 104, Havana, Cuba [CUBA]

VALOR LTDA. S.C.S., Carrera 4 No. 17-20, Popayan, Colombia; NIT # 800009030-4 (Colombia) [SDNT]

VALORES CORPORATIVOS ESPANOLES S.L., Calle Consuegra 3, 28036 Madrid, Madrid, Spain; Calle Zurbano 76, 7, Madrid, Madrid, Spain; C.I.F. B81681447 (Spain) [SDNT]

VALORES MOBILIARIOS DE OCCIDENTE S.A., Avenida 6 Norte No. 23DN-16, Cali, Colombia; Avenida Colombia No. 2-45, Cali, Colombia; Carrera 1 No. 2-45, Cali, Colombia; Carrera 100 No. 11-90 of. 602, Cali, Colombia; Bogota, Colombia; NIT # 800249439-1 (Colombia) [SDNT]

VALPARK, S.A. de C.V., Avenida David Alfaro Siquieiros 2789, Ofc. 201A, Colonia Zona Rio, Tijuana, Baja California, Mexico; Paseo de los Heroes y Sanchez Taboada, CP 22320, Tijuana, Baja California, Mexico [SDNTK]

VARGAS CANTOR, Horacio, c/o DROCARD S.A., Bogota, Colombia; c/o FARMACOOP, Bogota, Colombia; c/o FOGENSA S.A., Bogota, Colombia; c/o GENERICOS ESPECIALES S.A., Bogota, Colombia; c/o SHARVET S.A., Bogota, Colombia; DOB 30 Dec 1960; Passport 79201297 (Colombia); Cedula No. 79201297 (Colombia) (individual) [SDNT]

VARGAS DUQUE, Adriana, c/o COMERCIALIZADORA INTERTEL S.A., Cali, Colombia; c/o DISTRIBUIDORA SANAR DE COLOMBIA S.A., Cali, Colombia; c/o PROSALUD Y BIENESTAR S.A., Cali, Colombia; c/o PROSPECTIVA E.U., Cali, Colombia; DOB 20 May 1974; Passport 66902221 (Colombia); Cedula No. 66902221 (Colombia) (individual) [SDNT]

VARGAS GARCIA, Carlos Alberto, Quito, Ecuador; c/o DISTRIBUIDORA DE DROGAS CONDOR LTDA., Bogota, Colombia; c/o RIONAP COMERCIO Y REPRESENTACIONES S.A., Quito, Ecuador (individual) [SDNT]

VARGAS, Jorge (a.k.a. BECERRA, Martin; a.k.a. BECERRA MIRELES, Martin; a.k.a. MACHERBE, Oscar; a.k.a. MAHERBE, Oscar; a.k.a. MAHLERBE, Oscar; a.k.a. MAHLERBE, Polo; a.k.a. MALARBE, Oscar; a.k.a. MALERBE, Oscar; a.k.a. MALERHBE DE LEON, Oscar; a.k.a. MALERVA, Oscar; a.k.a. MALHARBE DE LEON, Oscar; a.k.a. MALHERBE DE LEON, Oscar; a.k.a. MALHERBE DELEON, Oscar; a.k.a. MALMERBE, Oscar; a.k.a. MELARBE, Oscar; a.k.a. NALHERBE, Oscar; a.k.a. QALHARBE DE LEON, Oscar); DOB 10 Jan 1964; POB Mexico (individual) [SDNTK]

VARGAS LOPEZ, Gustavo Adolfo, c/o AGROPECUARIA LA ROBLEDA S.A., Cali, Colombia; c/o COLOMBIANA DE CERDOS LTDA., Pereira, Colombia; c/o INDUSTRIA MADERERA ARCA LTDA., Cali, Colombia; c/o INVERSIONES VILLA PAZ S.A., Cali, Colombia; c/o MATADERO METROPOLITANO LTDA., Pereira, Colombia; Cedula No. 6457925 (Colombia) (individual) [SDNT]

VARGAS PERDOMO, Eugenio (a.k.a. “Carlos Bolas;” a.k.a. DORNELES DE MENEZES, Francisco); DOB 19 Nov 1969; POB Puerto Lopez, Meta, Colombia; Cedula No. 17344616 (Colombia) (individual) [SDNTK]

VARGAS RUEDA, Nelson (a.k.a. “Alfredo;” a.k.a. “Hugo”); DOB 27 Apr 1970; Cedula No. 77130763 (Colombia) (individual) [SDNTK]

VARGAS VARGAS, Flor Yadira, c/o ADMACOOP, Bogota, Colombia; c/o CODISA, Bogota, Colombia; DOB 11 Jul 1971; Passport 52584018 (Colombia); Cedula No. 52584018 (Colombia) (individual) [SDNT]

VARGAS VASQUEZ, Jorge Alberto, c/o AMERICANA DE COSMETICOS S.A., Bogota, Colombia; c/o DISTRIEXPORT S.A., Bogota, Colombia; DOB 30 Jun 1960; Passport 19401630 (Colombia); Cedula No. 19401630 (Colombia) (individual) [SDNT]

VASIC, Dragomir, Bosnia-Herzegovina; DOB 1964; POB Brnjica, Bosnia-Herzegovina (individual) [BALKANS]

VASILJEVIC, Mitar; DOB 25 Aug 1954; POB Durevici, Bosnia-Herzegovina; ICTY indictee (individual) [BALKANS]

VASQUES (or VAZQUEZ), Oscar D., Panama (individual) [CUBA]

VAZ, Jose, Managing Director, Havana International Bank, 20 Ironmonger Lane, London EC2V 8EY, England (individual) [CUBA]

VAZIR (a.k.a. AL-HARAMAIN: Kenya Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VEZIR), Daddb, Kenya; Garissa, Kenya; Nairobi, Kenya [SDGT]

VAZIR (a.k.a. AL-HARAMAIN: Pakistan Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VEZIR), House #279, Nazimuddin Road, F-10/1, Islamabad, Pakistan [SDGT]

VAZIR (a.k.a. AL-HARAMAIN: Tanzania Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VEZIR), P.O. Box 3616, Dar es Salaam, Tanzania; Singida, Tanzania; Tanga, Tanzania [SDGT]

VAZIR (a.k.a. AL-HARAMAIN: United States Branch; a.k.a. AL HARAMAIN FOUNDATION, INC.; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VEZIR), 1257 Siskiyou Boulevard, Ashland, OR 97520, U.S.A.; 3800 Highway 99S., Ashland, OR 97520-8718, U.S.A.; 2151 E. Division Street, Springfield, MO 65803, U.S.A. [BPI-PA]

VAZIR (a.k.a. AL-HARAMAIN; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VEZIR), 64 Poturmahala, Travnik, Bosnia-Herzegovina; Somalia [SDGT]

VEBA OIL LIBYA GMBH (a.k.a. VEBA OIL LIBYAN BRANCH; a.k.a. VEBA OIL OPERATIONS B.V.; f.k.a. MOBIL OIL LIBYA, LTD.), Al Magharba Street, P.O. Box 690, Tripoli, Libya [LIBYA]

VEBA OIL LIBYA GMBH (a.k.a. VEBA OIL LIBYAN BRANCH; a.k.a. VEBA OIL OPERATIONS B.V.; f.k.a. MOBIL OIL LIBYA, LTD.), P.O. Box 2537, Tripoli, Libya [LIBYA]

VEBA OIL LIBYA GMBH (a.k.a. VEBA OIL LIBYAN BRANCH; a.k.a. VEBA OIL OPERATIONS B.V.; f.k.a. MOBIL OIL LIBYA, LTD.), The Hague, Netherlands (Designation applies only to joint venture located in Libya and office located in the Netherlands) [LIBYA]

VEBA OIL LIBYAN BRANCH (a.k.a. VEBA OIL LIBYA GMBH; a.k.a. VEBA OIL OPERATIONS B.V.; f.k.a. MOBIL OIL LIBYA, LTD.), Al Magharba Street, P.O. Box 690, Tripoli, Libya (Designation applies only to joint venture located in Libya and office located in the Netherlands) [LIBYA]

VEBA OIL LIBYAN BRANCH (a.k.a. VEBA OIL LIBYA GMBH; a.k.a. VEBA OIL OPERATIONS B.V.; f.k.a. MOBIL OIL LIBYA, LTD.), P.O. Box 2537, Tripoli, Libya (Designation applies only to joint venture located in Libya and office located in the Neterlands) [LIBYA]

VEBA OIL LIBYAN BRANCH (a.k.a. VEBA OIL LIBYA GMBH; a.k.a. VEBA OIL OPERATIONS B.V.; f.k.a. MOBIL OIL LIBYA, LTD.), The Hague, Netherlands (Designation applies only to joint venture located in Libya and office located in the Netherlands) [LIBYA]

VEBA OIL OPERATIONS B.V. (a.k.a. VEBA OIL LIBYAN BRANCH; a.k.a. VEBA OIL LIBYA GMBH; f.k.a. MOBIL OIL LIBYA, LTD.), The Hague, Netherlands (Designation applies only to joint venture located in Libya and office located in the Netherlands) [LIBYA]

VEBA OIL OPERATIONS B.V. (a.k.a. VEBA OIL LIBYAN BRANCH; a.k.a. VEBA OIL LIBYA GMBH; f.k.a. MOBIL OIL LIBYA, LTD.), P.O. Box 2537, Tripoli, Libya (designation applies only to joint venture located in Libya and office located in the Netherlands) [LIBYA]

VEBA OIL OPERATIONS B.V. (a.k.a. VEBA OIL LIBYAN BRANCH; a.k.a. VEBA OIL LIBYA GMBH; f.k.a. MOBIL OIL LIBYA, LTD.), Al Magharba Street, P.O. Box 690, Tripoli, Libya (Designation applies only to joint venture located in Libya and office located in the Netherlands) [LIBYA]

VEGA, Rosalba, c/o BONOMERCAD S.A., Bogota, Colombia; c/o DECAFARMA S.A., Bogota, Colombia; c/o GENERICOS ESPECIALES S.A., Bogota, Colombia; c/o GLAJAN S.A., Bogota, Colombia; c/o PATENTES MARCAS Y REGISTROS S.A., Bogota, Colombia; c/o SHARPER S.A., Bogota, Colombia; DOB 22 Sep 1955; Passport 21132758 (Colombia); Cedula No. 21132758 (Colombia) (individual) [SDNT]

VELASQUEZ, Miguel Angel, c/o ADMINISTRADORA DE SERVICIOS VARIOS CALIMA S.A., Cali, Colombia; c/o ASESORIAS ECONOMICAS MUNOZ SANTACOLOMA E.U., Cali, Colombia; c/o CHAMARTIN S.A., Cali, Colombia; Passport 16305012 (Colombia); Cedula No. 16305012 (Colombia) (individual) [SDNT]

VERA ROSAS, Gonzalo, c/o FARMA 3.000 LIMITADA, Barranquilla, Colombia; DOB 19 Sep 1968; Passport 79136661 (Colombia); Cedula No. 79136661 (Colombia) (individual) [SDNT]

VESTIMENTA J Y J S. de H., Calle 78 No. 53-70, Local 112, Barranquilla, Colombia; NIT # 802001338-8 (Colombia) [SDNT]

VEZIR (a.k.a. AL-HARAMAIN: Kenya Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR), Daddb, Kenya; Garissa, Kenya; Nairobi, Kenya [SDGT]

VEZIR (a.k.a. AL-HARAMAIN: Pakistan Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR), House #279, Nazimuddin Road, F-10/1, Islamabad, Pakistan [SDGT]

VEZIR (a.k.a. AL-HARAMAIN: Tanzania Branch; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR), P.O. Box 3616, Dar es Salaam, Tanzania; Singida, Tanzania; Tanga, Tanzania [SDGT]

VEZIR (a.k.a. AL-HARAMAIN: United States Branch; a.k.a. AL HARAMAIN FOUNDATION, INC.; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR), 1257 Siskiyou Boulevard, Ashland, OR 97520, U.S.A.; 3800 Highway 99S., Ashland, OR 97520-8718, U.S.A.; 2151 E. Division Street, Springfield, MO 65803, U.S.A. [BPI-PA]

VEZIR (a.k.a. AL-HARAMAIN; a.k.a. AL-HARAMAIN FOUNDATION; a.k.a. AL-HARAMAIN HUMANITARIAN FOUNDATION; a.k.a. AL-HARAMAIN ISLAMIC FOUNDATION; a.k.a. AL-HARAMAYN; a.k.a. AL-HARAMAYN FOUNDATION; a.k.a. AL-HARAMAYN HUMANITARIAN FOUNDATION; a.k.a. AL-HARAMAYN ISLAMIC FOUNDATION; a.k.a. AL-HARAMEIN; a.k.a. AL-HARAMEIN FOUNDATION; a.k.a. AL-HARAMEIN HUMANITARIAN FOUNDATION; a.k.a. AL-HARAMEIN ISLAMIC FOUNDATION; a.k.a. ALHARAMAIN; a.k.a. ALHARAMAIN FOUNDATION; a.k.a. ALHARAMAIN HUMANITARIAN FOUNDATION; a.k.a. ALHARAMAIN ISLAMIC FOUNDATION; a.k.a. ALHARAMAYN; a.k.a. ALHARAMAYN FOUNDATION; a.k.a. ALHARAMAYN HUMANITARIAN FOUNDATION; a.k.a. ALHARAMAYN ISLAMIC FOUNDATION; a.k.a. ALHARAMEIN; a.k.a. ALHARAMEIN FOUNDATION; a.k.a. ALHARAMEIN HUMANITARIAN FOUNDATION; a.k.a. ALHARAMEIN ISLAMIC FOUNDATION; a.k.a. MU'ASSASAT AL-HARAMAIN AL-KHAYRIYYA; a.k.a. MU'ASSASAT AL-HARAMAYN AL-KHAYRIYYA; a.k.a. MU'ASSASAT AL-HARAMEIN AL-KHAYRIYYA; a.k.a. VAZIR), 64 Poturmahala, Travnik, Bosnia-Herzegovina; Somalia [SDGT]

VIACON INTERNATIONAL, INC., Apartment 7B Torre Mar Building, Punta Paitilla Area, Panama City, Panama [CUBA]

VIACON INTERNATIONAL, INC., France Field, Colon Free Zone, Panama [CUBA]

VIAJES GUAMA, S.A., Spain [CUBA]

VIAJES GUAMA TOURS (a.k.a. AGENCIA DE VIAJES GUAMA; a.k.a. GUAMA TOUR; a.k.a. GUAMATUR, S.A.), Bal Harbour Shopping Center, Via Italia, Panama City, Panama [CUBA]

VIAJES MERCURIO LTDA., Carrera 3 No. 10-02 Local 113, Cali, Colombia [SDNT]

VICTORIA CASTANO, Alvaro, Carrera 3A Norte No. 42A-43, Cali, Colombia; c/o CREDISA S.A., Cali, Colombia; Passport 14933828 (Colombia); Cedula No. 14933828 (Colombia) (individual) [SDNT]

VICTORIA, Mercedes, c/o COLOR 89.5 FM STEREO, Cali, Colombia; c/o COMPAX LTDA., Cali, Colombia; c/o INVERSIONES GEELE LTDA., Bogota, Colombia; c/o LABORATORIOS KRESSFOR, Bogota, Colombia (individual) [SDNT]

VICTORIA POTES, Nestor Raul, Calle 70N No. 14-31, AA 26397, Cali, Colombia; c/o ADMINISTRACION INMOBILIARIA BOLIVAR S.A., Cali, Colombia; c/o AGROPECUARIA BETANIA LTDA., Cali, Colombia; c/o AGROPECUARIA LA ROBLEDA S.A., Cali, Colombia; c/o GANADERIAS DEL VALLE S.A., Cali, Colombia; c/o INDUSTRIA AVICOLA PALMASECA S.A., Cali, Colombia; c/o INVERSIONES VILLA PAZ S.A., Cali, Colombia; c/o PROHUEVO DE COLOMBIA LTDA., Cali, Colombia; Cedula No. 16247701 (Colombia) (individual) [SDNT]

VIDAL CAGGIGAS, Rolando, 10720 NW 66th Street, No. 502, Miami, Florida 33178, U.S.A.; 9443 Fontainebleau Boulevard, No. 114, Miami, Florida 33172, U.S.A.; DOB 01 Aug 1961; Passport No. 16822748 (Colombia); Cedula No. 16822748 (Colombia) (individual) [BPI-SDNT]

VILA MICHELENA, Fermin; member ETA; DOB 12 Mar 1970; POB Irun (Guipuzcoa Province), Spain; D.N.I. 15.254.214 (individual) [SDGT]

VILLA D'ARTE (a.k.a. VILLA DE ARTE S. DE H.), Carrera 54 No. 74-79, Barranquilla, Colombia; Aereo Apartado 51881, Barranquilla, Colombia; NIT # 800125346-2 (Colombia) [SDNT]

VILLA DE ARTE S. DE H. (a.k.a. VILLA D'ARTE), Carrera 54 No. 74-79, Barranquilla, Colombia; Aereo Apartado 51881, Barranquilla, Colombia; NIT # 800125346-2 (Colombia) [SDNT]

VILLA OSPINA, Mauricio, c/o ADMINISTRADORA DE SERVICIOS VARIOS CALIMA S.A., Cali, Colombia; c/o CHAMARTIN S.A., Cali, Colombia; Passport 16365834 (Colombia); Cedula No. 16365834 (Colombia) (individual) [SDNT]

VILLADA ZUNIGA, Elmer, Calle 15 No. 20-10, Cali, Colombia; c/o TAURA S.A., Cali, Colombia; Cedula No. 14988902 (Colombia) (individual) [SDNT]

VILLANUEVA MADRID, Mario Ernesto; DOB 2 Jul 1949; POB Quintana Roo, Mexico (individual) [SDNTK]

VILLEGAS ARIAS, Maria Deisy (Deicy), Calle 66 No. 1A-6 51, Cali, Colombia; c/o CONCRETOS CALI S.A., Cali, Colombia; c/o CONSTRUEXITO S.A., Cali, Colombia; c/o GANADERIAS DEL VALLE S.A., Cali, Colombia; c/o INDUSTRIA MADERERA ARCA LTDA, Cali, Colombia; c/o SOCOVALLE LTDA., Cali, Colombia; Cedula No. 31200871 (Colombia) [SDNT]

VILLEGAS BOLANOS, Silver Amido, c/o ADMINISTRACION INMOBILIARIA BOLIVAR S.A., Cali, Colombia; c/o CONCRETOS CALI S.A., Cali, Colombia; c/o CONSULTORIA EMPRESARIAL ESPECIALIZADA LTDA., Cali, Colombia; c/o GANADERIAS DEL VALLE S.A., Cali, Colombia; Cedula No. 10480869 (Colombia) (individual) [SDNT]

VILLOTA GALVIS, Eliseo Fernando, c/o CODISA, Bogota, Colombia; c/o FARMACOOP, Bogota, Colombia; c/o INTERFARMA S.A., San Jose, Costa Rica; c/o JOMAGA DE COSTA RICA S.A., San Jose, Costa Rica; c/o LABORATORIOS KRESSFOR DE COLOMBIA S.A., Bogota, Colombia; c/o MATSUM S.A., Bogota, Colombia; DOB 13 May 1945; Passport 17118703 (Colombia); Cedula No. 17118703 (Colombia) (individual) [SDNT]

VINALES TOURS, Cancun, Mexico [CUBA]

VINALES TOURS, Guadalajara, Mexico [CUBA]

VINALES TOURS, Mexico City, Mexico [CUBA]

VINALES TOURS, Monterey, Mexico [CUBA]

VINALES TOURS, Roma, Mexico [CUBA]

VINCK, Patricia (a.k.a. VINCK, Souraya P.), 69 Rue des Bataves, 1040 Etterbeek, Brussels, Belgium; Vaatjesstraat, 29, 2580 Putte, Belgium; DOB 04 Jan 1965; POB Antwerp, Belgium (individual) [SDGT]

VINCK, Souraya P. (a.k.a. VINCK, Patricia), 69 Rue des Bataves, 1040 Etterbeek, Brussels, Belgium; Vaatjesstraat, 29, 2580 Putte, Belgium; DOB 04 Jan 1965; POB Antwerp, Belgium (individual) [SDGT]

VIOLET NAVIGATION CO. LTD., c/o EMPRESA DE NAVEGACION MAMBISA, Apartado 543, San Ignacio 104, Havana, Cuba [CUBA]

VISCAYA LTDA. (a.k.a. VIZCAYA LTDA.), Carrera 3 No. 11-99, Cartago, Valle, Colombia; Carrera 4 No. 12-20 of. 206, Cartago, Valle, Colombia; Km 7 Via Cartago-Obando, Hacienda El Vergel, Cartago, Colombia; NIT # 800054357-8 (Colombia) [SDNT]

VIZCAYA LTDA. (a.k.a. VISCAYA LTDA.), Carrera 3 No. 11-99, Cartago, Valle, Colombia; Carrera 4 No. 12-20 of. 206, Cartago, Valle, Colombia; Km 7 Via Cartago-Obando, Hacienda El Vergel, Cartago, Colombia; NIT # 800054357-8 (Colombia) [SDNT]

VOL PHARMACIA LTDA. (a.k.a. VOL PHARMACYA LTDA.), Calle 12 No. 8-34/36, Cucuta, Colombia; NIT # 807005617-4 (Colombia) [SDNT]

VOL PHARMACYA LTDA. (a.k.a. VOL PHARMACIA LTDA.), Calle 12 No. 8-34/36, Cucuta, Colombia; NIT # 807005617-4 (Colombia) [SDNT]

VRACAR, Milenko, Bosnia-Herzegovina; DOB 15 May 1956; POB Nisavici, Prijedor, Bosnia-Herzegovina (individual) [BALKANS]

VUKOVIC, Zoran; DOB 6 Sep 1955; POB Brusna, Bosnia-Herzegovina; ICTY indictee (individual) [BALKANS]

VULCAN OIL S.P.A., Delta Energy/ERG bunkering service, Genoa, Italy [LIBYA]

VULCAN OIL S.P.A., Milano 2, Centro Direz. Pal. Canova, 20090 Segrate, Milan, Italy [LIBYA]

VULCAN OIL S.P.A., United Kingdom (offshore) [LIBYA]

W. HERRERA Y CIA. S. EN C. (n.k.a. INVERSIONES EL GRAN CRISOL LTDA.), Avenida 2N 7N-55 of. 501, Cali, Colombia; Carrera 24D Oeste No. 6-237, Cali, Colombia; NIT # 800001330-2 (Colombia) [SDNT]

WAD MADANI DUTY FREE SHOP, Wad Madani, Sudan [SUDAN]

WADDANI, Habib, Via unica Borighero n.1, San Donato M.se (MI), Italy; DOB 10 Jun 1970; POB Tunis, Tunisia; Italian Fiscal Code: WDDHBB70H10Z352O (individual) [SDGT]

WADEHYANOY, Mufti Rashid Ahmad (a.k.a. AHMAD, Mufti Rasheed; a.k.a. LADEHYANOY, Mufti Rashid Ahmad; a.k.a. LUDHIANVI, Mufti Rashid Ahmad), Karachi, Pakistan (individual) [SDGT]

WADENA SHIPPING CORPORATION, c/o EMPRESA DE NAVEGACION MAMBISA, Apartado 543, San Ignacio 104, Havana, Cuba [CUBA]

WADOOD, Khalid Adbul (a.k.a. MOHAMMED, Khalid Shaikh; a.k.a. ALI, Salem; a.k.a. BIN KHALID, Fahd Bin Adballah; a.k.a. HENIN, Ashraf Refaat Nabith); DOB 14 Apr 1965; alt. DOB 1 Mar 1964; POB Kuwait; citizen Kuwait (individual) [SDGT]

WAFA AL-IGATHA AL-ISLAMIA (a.k.a. WAFA HUMANITARIAN ORGANIZATION; a.k.a. AL WAFA; a.k.a. AL WAFA ORGANIZATION) [SDGT]

WAFA HUMANITARIAN ORGANIZATION (a.k.a. AL WAFA; a.k.a. AL WAFA ORGANIZATION; a.k.a. WAFA AL-IGATHA AL-ISLAMIA) [SDGT]

WAFRA CHEMICALS & TECHNO-MEDICAL SERVICES LIMITED, Khartoum, Sudan [SUDAN]

WAHA OIL COMPANY, Inas Building, Omar El Mokhtar Street, Box 395, Tripoli, Libya [LIBYA]

WAHA OIL COMPANY, P.O. Box 1075, Tripoli, Libya [LIBYA]

WAHA OIL COMPANY, P.O. Box 221, Benghazi, Libya [LIBYA]

WAHA OIL COMPANY, Sidi Issa Street, P.O. Box 915, Tripoli, Libya [LIBYA]

WAHDA BANK, (37 branches throughout Libya) [LIBYA]

WAHDA BANK, Jamel Abdul Nasser Street, P.O. Box 452, Fadiel Abu Omar Square, El-Berhka, Benghazi, Libya [LIBYA]

WAHDA BANK, P.O. Box 1320, Benghazi, Libya [LIBYA]

WAHDA BANK, P.O. Box 3427, Tripoli, Libya [LIBYA]

WALDENBERG, AG (f.k.a. AL TAQWA TRADE, PROPERTY AND INDUSTRY; f.k.a. AL TAQWA TRADE, PROPERTY AND INDUSTRY COMPANY LIMITED; f.k.a. AL TAQWA TRADE, PROPERTY AND INDUSTRY ESTABLISHMENT; f.k.a. HIMMAT ESTABLISHMENT), c/o Asat Trust Reg., Altenbach 8, Vaduz 9490, Liechtenstein; Via Posero, 2, 22060 Campione d'Italia, Italy [SDGT]

WAN MIN, bin Wan Mat (a.k.a. WAN MIN, Wan Mat); DOB 23 Sept 1960; POB Malaysia; nationality Malaysian (individual) [SDGT]

WAN MIN, Wan Mat (a.k.a. WAN MIN, bin Wan Mat); DOB 23 Sept 1960; POB Malaysia; nationality Malaysian (individual) [SDGT]

WAU FRUIT & VEGETABLE CANNING FACTORY, P.O. Box 110, Wau, Sudan [SUDAN]

WEAVING, DYEING AND FINISHING PLANT, Libya [LIBYA]

WEI, Hsueh Kang (a.k.a. CHARNCHAI, Chiwinnitipanya; a.k.a. CHEEWINNITTIPANYA, Prasit; a.k.a. CHIVINNITIPANYA, Prasit; a.k.a. CHIWINNITIPANYA, Charnchai; a.k.a. PRASIT, Cheewinnittipanya; a.k.a. PRASIT, Chivinnitipanya; a.k.a. WEI, Shao-Kang; a.k.a. WEI, Sia-Kang; a.k.a. WEI, Xuekang), DOB 29 Jun 1952; alt. DOB 29 May 1952; Passports Q081061, E091929 (Thailand) (individual) [SDNTK]

WEI, Shao-Kang (a.k.a. CHARNCHAI, Chiwinnitipanya; a.k.a. CHEEWINNITTIPANYA, Prasit; a.k.a. CHIVINNITIPANYA, Prasit; a.k.a. CHIWINNITIPANYA, Charnchai; a.k.a. PRASIT, Cheewinnittipanya; a.k.a. PRASIT, Chivinnitipanya; a.k.a. WEI, Hsueh Kang; a.k.a. WEI, Sia-Kang; a.k.a. WEI, Xuekang), DOB 29 Jun 1952; alt. DOB 29 May 1952; Passports Q081061, E091929 (Thailand) (individual) [SDNTK]

WEI, Sia-Kang (a.k.a. CHARNCHAI, Chiwinnitipanya; a.k.a. CHEEWINNITTIPANYA, Prasit; a.k.a. CHIVINNITIPANYA, Prasit; a.k.a. CHIWINNITIPANYA, Charnchai; a.k.a. PRASIT, Cheewinnittipanya; a.k.a. PRASIT, Chivinnitipanya; a.k.a. WEI, Hsueh Kang; a.k.a. WEI, Shao-Kang; a.k.a. WEI, Xuekang), DOB 29 Jun 1952; alt. DOB 29 May 1952; Passports Q081061, E091929 (Thailand) (individual) [SDNTK]

WEI, Xuekang (a.k.a. CHARNCHAI, Chiwinnitipanya; a.k.a. CHEEWINNITTIPANYA, Prasit; a.k.a. CHIVINNITIPANYA, Prasit; a.k.a. CHIWINNITIPANYA, Charnchai; a.k.a. PRASIT, Cheewinnittipanya; a.k.a. PRASIT, Chivinnitipanya; a.k.a. WEI, Hsueh Kang; a.k.a. WEI, Shao-Kang; a.k.a. WEI, Sia-Kang), DOB 29 Jun 1952; alt. DOB 29 May 1952; Passports Q081061, E091929 (Thailand) (individual) [SDNTK]

WELFARE AND DEVELOPMENT FUND FOR PALESTINE (a.k.a. AL-SANDUQ AL-FILISTINI LIL-IGHATHA; a.k.a. AL-SANDUQ AL-FILISTINI LIL-IGHATHA WA AL-TANMIYA; a.k.a. INTERPAL; a.k.a. PALESTINE AND LEBANON RELIEF FUND; a.k.a. PALESTINE DEVELOPMENT AND RELIEF FUND; a.k.a. PALESTINE RELIEF AND DEVELOPMENT FUND; a.k.a. PALESTINE RELIEF FUND; a.k.a. PALESTINIAN AID AND SUPPORT FUND; a.k.a. PALESTINIAN RELIEF AND DEVELOPMENT FUND; a.k.a. PALESTINIAN RELIEF FUND; a.k.a. PRDF; a.k.a. RELIEF AND DEVELOPMENT FUND FOR PALESTINE; a.k.a. WELFARE AND DEVELOPMENT FUND OF PALESTINE), P.O. Box 3333, London, NW6 1RW, England; Registered Charity No: 1040094 [SDGT]

WELFARE AND DEVELOPMENT FUND OF PALESTINE (a.k.a. AL-SANDUQ AL-FILISTINI LIL-IGHATHA; a.k.a. AL-SANDUQ AL-FILISTINI LIL-IGHATHA WA AL-TANMIYA; a.k.a. INTERPAL; a.k.a. PALESTINE AND LEBANON RELIEF FUND; a.k.a. PALESTINE DEVELOPMENT AND RELIEF FUND; a.k.a. PALESTINE RELIEF AND DEVELOPMENT FUND; a.k.a. PALESTINE RELIEF FUND; a.k.a. PALESTINIAN AID AND SUPPORT FUND; a.k.a. PALESTINIAN RELIEF AND DEVELOPMENT FUND; a.k.a. PALESTINIAN RELIEF FUND; a.k.a. PRDF; a.k.a. RELIEF AND DEVELOPMENT FUND FOR PALESTINE; a.k.a. WELFARE AND DEVELOPMENT FUND FOR PALESTINE), P.O. Box 3333, London, NW6 1RW, England; Registered Charity No: 1040094 [SDGT]

WEST ISLAND SHIPPING CO. LTD., c/o UNION MARITIMA PORTUARIA, 9 Piso, Apartado B, Esquina Cuarteles y Pena Pobre 60, Havana Vieja, Havana, Cuba [CUBA]

WHALE SHIPPING LTD., c/o Government of Iraq, State Organization of Ports, Maqal, Basrah, Iraq [IRAQ]

WHITE NILE BATTERY COMPANY, Khartoum, Sudan [SUDAN]

WHITE NILE BREWERY, P.O. Box 1378, Khartoum, Sudan [SUDAN]

WHITE NILE TANNERY, P.O. Box 4078, Khartoum, Sudan [SUDAN]

WHITE SWAN SHIPPING CO. LTD., c/o EMPRESA DE NAVEGACION CARIBE, Edificio Lonja del Comercio, Lamparilla 2, Caja Postal 1784, Havana 1, Cuba [CUBA]

WOOL WASHING AND SPINNING PLANT, Marj, Libya [LIBYA]

WORLD TRADE LTDA., Carrera 8 No. 16-77, Ibague, Colombia; NIT # 809008109-5 (Colombia) [SDNT]

WWW.CUBA-SHOP.NET (a.k.a. LA COMPANIA TIENDAS UNIVERSO S.A.) [CUBA]

XAKI (a.k.a. ASKATASUNA; a.k.a. BASQUE FATHERLAND AND LIBERTY; a.k.a. BATASUNA; a.k.a. EKIN; a.k.a. ETA; a.k.a. EUSKAL HERRITARROK; a.k.a. EUZKADI TA ASKATASUNA; a.k.a. HERRI BATASUNA; a.k.a. JARRAI-HAIKA-SEGI; a.k.a. K.A.S.) [FTO][SDGT]

XHAFERI, Shefit; DOB 1960 (individual) [BALKANS]

XHEMAJLI, Emrush; DOB 5 May 1959; POB Urosevac, Serbia and Montenegro (individual) [BALKANS]

XHEMAJLI, Muhamet; DOB 8 Feb 1958; POB Muhovac, Serbia and Montenegro (individual) [BALKANS]

YACINE DI ANNABA (a.k.a. AHMED NACER, Yacine), Rue Mohamed Khemisti, 6, Annaba, Algeria; Via Genova, 121, Naples, Italy; Vicolo Duchessa, 16, Naples, Italy; DOB 2 Dec 1967; POB Annaba, Algeria (individual) [SDGT]

YAHYA AYYASH UNITS (a.k.a. ISLAMIC RESISTANCE MOVEMENT; a.k.a. HARAKAT AL-MUQAWAMA AL-ISLAMIYA; a.k.a. STUDENTS OF AYYASH; a.k.a. STUDENTS OF THE ENGINEER; a.k.a. HAMAS; a.k.a. IZZ AL-DIN AL-QASSIM BRIGADES; a.k.a. IZZ AL-DIN AL-QASSIM FORCES; a.k.a. IZZ AL-DIN AL-QASSIM BATTALIONS; a.k.a. IZZ AL-DIN AL QASSAM BRIGADES; a.k.a. IZZ AL-DIN AL QASSAM FORCES; a.k.a. IZZ AL-DIN AL QASSAM BATTALIONS) [SDT][FTO][SDGT]

YAM, Melvia Isabel Gallegos, Merida, Mexico (individual) [CUBA]

YAMARU TRADING CO., LTD., Tokyo, Japan [CUBA]

YANDARBIEV, Zelimkhan Ahmedovich Abdul Muslimovich, formerly at Derzhavina Street 281-59, Grozny, Chechen Republic, Russian Federation; DOB 12 Sep 1952; POB Vydriba, Eastern Kazakhstan; Passport 43 No. 1600453 (Russia); citizen Russian Republic (individual) [SDGT]

YASIN, Abdul Hadi (a.k.a. “Abu Seta;” a.k.a. ABU MUAMAR; a.k.a. “Mahmud;” a.k.a. MOCHTAR, Yasin Mahmud; a.k.a. MUBAROK, Muhamad; a.k.a. SYAWAL, Muhammad; a.k.a. SYAWAL, Yassin; a.k.a. YASIN, Salim); DOB c. 1972; nationality Indonesian (individual) [SDGT]

YASIN, Abdul Rahman (a.k.a. TAHA, Abdul Rahman S.; a.k.a. TAHER, Abdul Rahman S.; a.k.a. YASIN, Abdul Rahman Said; a.k.a. YASIN, Aboud); DOB 10 Apr 1960; POB Bloomington, Indiana U.S.A.; SSN 156-92-9858 (U.S.A.); Passport No. 27082171 (U.S.A. [issued 21 Jun 1992 in Amman, Jordan]); alt. Passport No. M0887925 (Iraq); citizen U.S.A. (individual) [SDGT]

YASIN, Abdul Rahman Said (a.k.a. YASIN, Abdul Rahman; a.k.a. TAHA, Abdul Rahman S.; a.k.a. TAHER, Abdul Rahman S.; a.k.a. YASIN, Aboud); DOB 10 Apr 1960; POB Bloomington, Indiana U.S.A.; SSN 156-92-9858 (U.S.A.); Passport No. 27082171 (U.S.A. [issued 21 Jun 1992 in Amman, Jordan]); alt. Passport No. M0887925 (Iraq); citizen U.S.A. (individual) [SDGT]

YASIN, Aboud (a.k.a. YASIN, Abdul Rahman; a.k.a. TAHA, Abdul Rahman S.; a.k.a. TAHER, Abdul Rahman S.; a.k.a. YASIN, Abdul Rahman Said); DOB 10 Apr 1960; POB Bloomington, Indiana U.S.A.; SSN 156-92-9858 (U.S.A.); Passport No. 27082171 (U.S.A. [issued 21 Jun 1992 in Amman, Jordan]); alt. Passport No. M0887925 (Iraq); citizen U.S.A. (individual) [SDGT]

YASIN, Salim (a.k.a. “Abu Seta;” a.k.a. ABU MUAMAR; a.k.a. “Mahmud;” a.k.a. MOCHTAR, Yasin Mahmud; a.k.a. MUBAROK, Muhamad; a.k.a. SYAWAL, Muhammad; a.k.a. SYAWAL, Yassin; a.k.a. YASIN, Abdul Hadi); DOB c. 1972; nationality Indonesian (individual) [SDGT]

YASSIN, Sheik Ahmed Ismail, Gaza (Palestinian Authority); DOB 1938; POB al-Jawrah, al-Majdal District, Gaza (individual) [SDT][SDGT]

YAYASAN AL HARAMAIN (a.k.a. AL HARAMAIN; a.k.a. AL-HARAMAIN: Indonesia Branch; a.k.a. AL-HARAMAIN FOUNDATION; a.k.a. YAYASAN AL HARAMAINI; a.k.a. YAYASAN AL-MANAHIL-INDONESIA), Jalan Laut Sulawesi Blok DII/4, Kavling Angkatan Laut Duren Sawit, Jakarta Timur 13440 Indonesia [SDGT]

YAYASAN AL HARAMAINI (a.k.a. AL HARAMAIN; a.k.a. AL-HARAMAIN: Indonesia Branch; a.k.a. AL-HARAMAIN FOUNDATION; a.k.a. YAYASAN AL HARAMAIN; a.k.a. YAYASAN AL-MANAHIL-INDONESIA), Jalan Laut Sulawesi Blok DII/4, Kavling Angkatan Laut Duren Sawit, Jakarta Timur 13440 Indonesia [SDGT]

YAYASAN AL-MANAHIL-INDONESIA (a.k.a. AL HARAMAIN; a.k.a. AL-HARAMAIN: Indonesia Branch; a.k.a. AL-HARAMAIN FOUNDATION; a.k.a. YAYASAN AL HARAMAIN; a.k.a. YAYASAN AL HARAMAINI), Jalan Laut Sulawesi Blok DII/4, Kavling Angkatan Laut Duren Sawit, Jakarta Timur 13440 Indonesia [SDGT]

YEPES ALZATE, Milady, c/o OBURSATILES S.A., Cali, Colombia; DOB 9 Jan 1968, Passport 31971236 (Colombia); Cedula No. 31971236 (Colombia); (individual) [SDNT]

YEPES LOPEZ, Maria Emma, c/o MAPRI DE COLOMBIA LTDA., Bogota, Colombia; Passport 25015128 (Colombia); Cedula No. 25015128 (Colombia) (individual) [SDNT]

YESHIVAT HARAV MEIR (a.k.a. AMERICAN FRIENDS OF THE UNITED YESHIVA MOVEMENT; a.k.a. AMERICAN FRIENDS OF YESHIVAT RAV MEIR; a.k.a. COMMITTEE FOR THE SAFETY OF THE ROADS; a.k.a. DIKUY BOGDIM; a.k.a. DOV; a.k.a. FOREFRONT OF THE IDEA; a.k.a. FRIENDS OF THE JEWISH IDEA YESHIVA; a.k.a. JEWISH LEGION; a.k.a. JUDEA POLICE; a.k.a. JUDEAN CONGRESS; a.k.a. KACH; a.k.a. KAHANE CHAI; a.k.a. KAHANE LIVES; a.k.a. KAHANE TZADAK; a.k.a. KAHANE.NET; a.k.a. KAHANE.ORG; a.k.a. KAHANE; a.k.a. KAHANETZADAK.COM; a.k.a. KFAR TAPUAH FUND; a.k.a. KOACH; a.k.a. MEIR'S YOUTH; a.k.a. NEW KACH MOVEMENT; a.k.a. NEWKACH.ORG; a.k.a. NO'AR MEIR; a.k.a. REPRESSION OF TRAITORS; a.k.a. STATE OF JUDEA; a.k.a. SWORD OF DAVID; a.k.a. THE COMMITTEE AGAINST RACISM AND DISCRIMINATION (CARD); a.k.a. THE HATIKVA JEWISH IDENTITY CENTER; a.k.a. THE INTERNATIONAL KAHANE MOVEMENT; a.k.a. THE JUDEAN LEGION; a.k.a. THE JUDEAN VOICE; a.k.a. THE QOMEMIYUT MOVEMENT; a.k.a. THE RABBI MEIR DAVID KAHANE MEMORIAL FUND; a.k.a. THE VOICE OF JUDEA; a.k.a. THE WAY OF THE TORAH; a.k.a. THE YESHIVA OF THE JEWISH IDEA) [SDT][FTO][SDGT]

YOUSEF, Mohamed T., Libya (individual) [LIBYA]

YOUSSEF, Abou (a.k.a. DERAMCHI, Othman), Via Milanese, 5, 20099 Sesto San Giovanni, Milan, Italy; Piazza Trieste, 11, Mortara, Italy; DOB 7 Jun 1954; POB Tighennif, Algeria; Italian Fiscal Code: DRMTMN54H07Z301T (individual) [SDGT]

YOUSSEF M. NADA & CO. GESELLSCHAFT M.B.H., Kaernter Ring 2/2/5/22, Vienna 1010, Austria [SDGT]

YOUSSEF M. NADA, Via Riasc 4, Campione d'Italia I, CH-6911, Switzerland [SDGT]

YULDASHEV, Takhir (a.k.a. YULDASHEV, Tohir), Uzbekistan (individual) [SDGT]

YULDASHEV, Tohir (a.k.a. YULDASHEV, Takhir), Uzbekistan (individual) [SDGT]

YUNOS, Mukhlis (a.k.a. YUNOS, Muklis; a.k.a. YUNOS, Saifullah Mukhlis); DOB c. 7 Jul 1966; POB Lanao del Sur, Philippines (individual) [SDGT]

YUNOS, Muklis (a.k.a. YUNOS, Mukhlis; a.k.a. YUNOS, Saifullah Mukhlis); DOB c. 7 Jul 1966; POB Lanao del Sur, Philippines (individual) [SDGT]

YUNOS, Saifullah Mukhlis (a.k.a. YUNOS, Mukhlis; a.k.a. YUNOS, Muklis); DOB c. 7 Jul 1966; POB Lanao del Sur, Philippines (individual) [SDGT]

YUNSHAR, Faiz (a.k.a. “Abdul Aziz;” a.k.a. “Abu Omar;” a.k.a. “Fatih;” a.k.a. “Hendri;” a.k.a. “Heri;” a.k.a. “Kudama;” a.k.a. BIN SIHABUDIN, Abdul Aziz; a.k.a. SAMUDRA, Imam); DOB 14 Jan 1970; POB Serang, Banten, Indonesia (individual) [SDGT] ABAS, Mohamad Nasir (a.k.a. “Khairuddin;” a.k.a. “Soliman;” a.k.a. ABAS, Nasir; a.k.a. BIN ABAS, Mohammed Nasir; a.k.a. BIN ABAS, Sulaiman); DOB 6 May 1969; nationality Malaysian (individual) [SDGT]

YUSSRR, Abu (a.k.a. FADHIL, Mustafa Mohamed; a.k.a. AL MASRI, Abd Al Wakil; a.k.a. AL-NUBI, Abu; a.k.a. ALI, Hassan; a.k.a. ANIS, Abu; a.k.a. ELBISHY, Moustafa Ali; a.k.a. FADIL, Mustafa Muhamad; a.k.a. FAZUL, Mustafa; a.k.a. HUSSEIN; a.k.a. JIHAD, Abu; a.k.a. KHALID; a.k.a. MAN, Nu; a.k.a. MOHAMMED, Mustafa); DOB 23 Jun 1976; POB Cairo, Egypt; citizen Egypt; alt. citizen Kenya; Kenyan ID No. 12773667; Serial No. 201735161 (individual) [SDGT]

ZAHRAN, Yousuf, P.O. Box 1318, Amman, Jordan (individual) [IRAQ]

ZAINAL, Akram, Chairman and General Manager of AGRICULTURAL CO-OPERATIVE BANK; Iraq (individual) [IRAQ]

ZAKARIA, Zaini, A-1-8 Pangsapuri Sri Tanjung, Jalan Sky BS2, Bukit Sentosa Rawang, Selangor 48300 West Malaysia; DOB 16 Jun 1967; alt. DOB 16 May 1967; POB Kelantan, Malaysia; Passport No. A11457974 (Malaysia) (individual) [SDGT]

ZAMBA, Noel Heath (a.k.a. HEATH, Noel Timothy; a.k.a. ZAMBO, Noel Heath), Cardin Avenue, St. Kitts; DOB 16 Dec 1949; POB St. Kitts and Nevis; Passport 03574 (Great Britain) (individual) [SDNTK]

ZAMBADA, El Mayo (a.k.a. GARCIA HERNANDEZ, Javier; a.k.a. HIGUERA RENTERIA, Ismael; a.k.a. LOAIZA AVENDANO, Jesus; a.k.a. ZAMBADA GARCIA, Ismael; a.k.a. ZAMBADA GARCIA, Ismael Mario); DOB 1 Jan 1948; POB Sinaloa, Mexico (individual) [SDNTK]

ZAMBADA GARCIA, Ismael (a.k.a. GARCIA HERNANDEZ, Javier; a.k.a. HIGUERA RENTERIA, Ismael; a.k.a. LOAIZA AVENDANO, Jesus; a.k.a. ZAMBADA, El Mayo; a.k.a. ZAMBADA GARCIA, Ismael Mario); DOB 1 Jan 1948; POB Sinaloa, Mexico (individual) [SDNTK]

ZAMBADA GARCIA, Ismael Mario (a.k.a. GARCIA HERNANDEZ, Javier; a.k.a. HIGUERA RENTERIA, Ismael; a.k.a. LOAIZA AVENDANO, Jesus; a.k.a. ZAMBADA, El Mayo; a.k.a. ZAMBADA GARCIA, Ismael); DOB 1 Jan 1948; POB Sinaloa, Mexico (individual) [SDNTK]

ZAMBO, Noel Heath (a.k.a. HEATH, Noel Timothy; a.k.a. ZAMBA, Noel Heath), Cardin Avenue, St. Kitts; DOB 16 Dec 1949; POB St. Kitts and Nevis; Passport 03574 (Great Britain) (individual) [SDNTK]

ZAMBRANO CERON, Maria Concepcion, c/o AGROPECUARIA LA ROBLEDA S.A., Cali, Colombia (individual) [SDNT]

ZAMBRANO MADRONERO, Carmen Alicia, c/o COPSERVIR LTDA., Bogota, Colombia; c/o COSMEPOP, Bogota, Colombia; c/o CREDISOL, Bogota, Colombia; c/o DROMARCA Y CIA. S.C.S., Bogota, Colombia; c/o FARMACOOP, Bogota, Colombia; c/o GLAJAN S.A., Bogota, Colombia; c/o PATENTES MARCAS Y REGISTROS S.A., Bogota, Colombia; c/o SHARPER S.A., Bogota, Colombia; DOB 18 Nov 1967; Passport 30738265 (Colombia); Cedula No. 30738265 (Colombia) (individual) [SDNT]

ZAMORA, Jose Hernan, c/o GANADERIAS DEL VALLE S.A., Cali, Colombia (individual) [SDNT]

ZAMORA RUIZ, Alexander, c/o INPESCA S.A., Buenaventura, Colombia; Cedula No. 16498805 (Colombia) (individual) [SDNT]

ZARATAN CORPORATION, Avenida 4 Norte No. 4N-30, Cali, Colombia; Calle 7 Oeste No. 1-13, Cali, Colombia; Vanterpool Plaza, P.O. Box 873, Wickhams Cay I, Road Town, Tortola, British Virgin Islands [SDNT]

ZARIC, Simo; DOB 25 Jul 1948; POB Trnjak, Bosnia-Herzegovina; ICTY indictee (individual) [BALKANS]

ZARKAOUI, Imed Ben Mekki (a.k.a. “Nadra;” a.k.a. “Zarga”), “last known address,” Via Col. Aprosio 588, Vallecrosia (IM), Italy; DOB 15 Jan 1973; POB Tunisi (Tunisia); nationality Tunisian; arrested 30 Sep 2002 (individual) [SDGT]

ZAYDAN, Muhammad (a.k.a. ABBAS, Abu); Director of PALESTINE LIBERATION FRONT—ABU ABBAS FACTION; DOB 10 Dec 1948 (individual) [SDT]

ZELEN-KARADZIC, Ljiljana; DOB 27 Nov 1945; POB Sarajevo Bosnia-Herzegovina (individual) [BALKANS]

ZELENOVIC, Dragan; DOB 12 Feb 1961; POB; ICTY indictee at large (individual) [BALKANS]

ZIA, Ahmad (a.k.a. ZIA, Mohammad), c/o Ahmed Shah s/o Painda Mohammad al-Karim Set, Peshawar, Pakistan; c/o Alam General Store Shop 17, Awami Market, Peshawar, Pakistan; c/o Zahir Shah s/o Murad Khan Ander Sher, Peshawar, Pakistan (individual) [SDGT]

ZIA, Mohammad (a.k.a. ZIA, Ahmad), c/o Ahmed Shah s/o Painda Mohammad al-Karim Set, Peshawar, Pakistan; c/o Alam General Store Shop 17, Awami Market, Peshawar, Pakistan; c/o Zahir Shah s/o Murad Khan Ander Sher, Peshawar, Pakistan (individual) [SDGT]

ZIGIC, Zoran; DOB 20 Sep 1958; POB Balte, Bosnia-Herzegovina; ICTY indictee (individual) [BALKANS]

ZIMBABWE DEFENCE INDUSTRIES (PVT) LTD., 10th Floor, Trustee House, 55 Samora Machel Avenue, Harare, Zimbabwe; P.O. Box 6597, Harare, Zimbabwe [ZIMB]

ZIMONDI, Paradzai, Zimbabwean Prisons chief; DOB 4 Mar 1947 (individual) [ZIMB]

ZLITEN FODDER PLANT, Libya [LIBYA]

ZLITEN GRAIN MILL, Libya [LIBYA]

ZLITNI, Dr. Abdul Hafid Mahmoud, Abu Dhabi, U.A.E. (individual) [LIBYA]

ZLITNI, Dr. Abdul Hafid Mahmoud, Tripoli, Libya (individual) [LIBYA]

ZUBAIDI, Muhammad Hamza (a.k.a. AL-ZUBAIDI, Mohammed Hamza; a.k.a. AL-ZUBAYDI, Muhammad Hamsa); DOB 1938; POB Babylon, Babil Governorate, Iraq; former Prime Minister; nationality Iraqi (individual) [IRAQ][IRAQ2]

ZUBIAGA BRAVO, Manex; member ETA; DOB 14 Aug 1979; POB Getxo (Vizcaya Province), Spain; D.N.I. 16.064.664 (individual) [SDGT]

ZUEITINA OIL COMPANY, Gas Processing Plants, Tripoli, Libya [LIBYA]

ZUEITINA OIL COMPANY, Mitchell Cotts Building, P.O. Box 2134, Tripoli, Libya [LIBYA]

ZUEITINA OIL COMPANY, Plant at Intisar Field A, Tripoli, Libya [LIBYA]

ZUEITINA OIL COMPANY, Zueitina Building “A,” Sidi Issa, Dahra, P.O. Box 2134, Tripoli, Libya [LIBYA]

ZUGHAID, Hassan Senoussi, 15/17 Lodge Road, St. Johns Wood, London NW8 7JA, England (individual) [LIBYA]

ZUKIPLI (a.k.a. BIN MARZUKI, Zulkifli; a.k.a. BIN ZUKEPLI, Marzuki; a.k.a. MARZUKI, Zulkepli; a.k.a. MARZUKI, Zulkifli; a.k.a. ZULKIFLI); DOB 3 Jul 1968; POB Malaysia; nationality Malaysian (individual) [SDGT]

ZULKIFLI (a.k.a. BIN MARZUKI, Zulkifli; a.k.a. BIN ZUKEPLI, Marzuki; a.k.a. MARZUKI, Zulkepli; a.k.a. MARZUKI, Zulkifli; a.k.a. ZUKIPLI); DOB 3 Jul 1968; POB Malaysia; nationality Malaysian (individual) [SDGT]

ZULKIFLI, Abdul Hir bin (a.k.a. “Musa Abdul;” a.k.a. HIR, Musa Abdul; a.k.a. HIR, Zulkifli Abdul; a.k.a. HIR, Zulkifli Bin Abdul; a.k.a. ZULKIFLI, Bin Abdul Hir); DOB 5 Jan 1966; alt. DOB 5 Oct 1966; POB Malaysia (individual) [SDGT]

ZULKIFLI, Bin Abdul Hir (a.k.a. “Musa Abdul;” a.k.a. HIR, Musa Abdul; a.k.a. HIR, Zulkifli Abdul; a.k.a. HIR, Zulkifli Bin Abdul; a.k.a. ZULKIFLI, Abdul Hir bin); DOB 5 Jan 1966; alt. DOB 5 Oct 1966; POB Malaysia (individual) [SDGT]

ZUMAR, Colonel Abbud (a.k.a. AL-ZUMAR, Abbud); Factional Leader of JIHAD GROUP; Egypt; POB Egypt (individual) [SDT]

ZUNIGA OSORIO, Marco Fidel, c/o FARMATODO S.A., Bogota, Colombia; c/o LABORATORIOS BLANCO PHARMA, Bogota, Colombia (individual) [SDNT]

ZUPLJANIN, Stojan; DOB 1951; POB Maslovare, Bosnia-Herzegovina; ICTY indictee (individual) [BALKANS]

ZVINAVASHE INVESTMENTS LTD. (a.k.a. LAMFONTINE FARM; a.k.a. ZVINAVASHE TRANSPORT), 730 Cowie Road, Tynwald, Harare, Zimbabwe; P.O. Box 3928, Harare, Zimbabwe [ZIMB]

ZVINAVASHE TRANSPORT (a.k.a. LAMFONTINE FARM; a.k.a. ZVINAVASHE INVESTMENTS LTD.), 730 Cowie Road, Tynwald, Harare, Zimbabwe; P.O. Box 3928, Harare, Zimbabwe [ZIMB] B.T.L. (a.k.a. BANQUE ARABE TUNISO-LIBYENNE DE DEVELOPPEMENT ET DE COMMERCE EXTERIEUR), 25 Avenue Kheireddine Pacha, P.O. Box 102, 1002 Le Belvedere, Tunis, Tunisia [LIBYA]

ZVINAVASHE, Vitalis, General, Commander of Zimbabwe Defense Forces; DOB 27 Sep 1943 (individual) [ZIMB]

Dated: April 21, 2004.
R. Richard Newcomb,
Director, Office of Foreign Assets Control.
Approved: April 25, 2004
Juan C. Zarate,
Deputy Assistant Secretary (Terrorist Financing and Financial Crimes), Department of the Treasury.

[FR Doc. 04-11710 Filed 5-20-04; 11:12 am]

BILLING CODE 4810-25-P